DEPARTMENT OF HEALTH AND HUMAN SERVICES

Health Care Financing Administration

42 CFR Parts 409, 410, 411, 412, 413, 419, 424, 489, 498, and 1003

[HCFA-1005-FC]

RIN 0938-AI56

Office of Inspector General; Medicare Program; Prospective Payment System for Hospital Outpatient Services

AGENCY: Health Care Financing Administration (HCFA), HHS, and Office of Inspector General (OIG), HHS.

ACTION: Final rule with comment period.

SUMMARY: This final rule with comment period implements a prospective payment system for hospital outpatient services furnished to Medicare beneficiaries, as set forth in section 1833(t) of the Social Security Act. It also establishes requirements for provider departments and provider-based entities, and it implements section 9343(c) of the Omnibus Budget Reconciliation Act of 1986, which prohibits Medicare payment for nonphysician services furnished to a hospital outpatient by a provider or supplier other than a hospital, unless the services are furnished under an arrangement with the hospital. In addition, this rule establishes in regulations the extension of reductions in payment for costs of hospital outpatient services required by section 4522 of the Balanced Budget Act of 1997, as amended by section 201(k) of the Balanced Budget Refinement Act of 1999.

DATES: Effective date: July 1, 2000, except that the changes to § 412.24(d)(6), new § 413.65, and the changes to § 489.24(h), § 498.2, and § 498.3 are effective October 10, 2000.

Applicability date: For Medicare services furnished by all hospitals, including hospitals excluded from the inpatient prospective payment system, and by community mental health centers, the applicability date for implementation of the hospital outpatient prospective payment system is July 1, 2000.

Comment date: Comments on the provisions of this rule resulting from the Balanced Budget Refinement Act of 1999 will be considered if we receive them at the appropriate address, as provided below, no later than 5 p.m. on June 6, 2000. We will not consider comments concerning provisions that remain unchanged from the September 8, 1998 proposed rule or that were revised based on public comment.

See section VIII for a more detailed discussion of the provisions subject to comment.

ADDRESSES: Mail written comments (one original and three copies) to the following address ONLY: Health Care Financing Administration, Department of Health and Human Services, Attention: HCFA-1005-FC, P.O. Box 8013, Baltimore, MD 21244-8013.

If you prefer, you may deliver, by courier, your written comments (one original and three copies) to one of the following addresses:

Room 443-G, Hubert H. Humphrey Building, 200 Independence Avenue, SW., Washington, DC 20201, or

C5-14-03, Central Building, 7500 Security Boulevard, Baltimore, MD 21244-1850.

Comments mailed to those addresses may be delayed and could be considered late.

Because of staffing and resource limitations, we cannot accept comments by facsimile (FAX) transmission. In commenting, please refer to file code HCFA-1005-FC.

Comments received timely will be available for public inspection as they are received, generally beginning approximately 3 weeks after publication of a document, in Room 443-G of the Department's offices at 200 Independence Avenue, SW., Washington, DC, on Monday through Friday of each week from 8:30 a.m. to 5 p.m. (Phone (202) 690-7890).

For comments that relate to information collection requirements, mail a copy of comments to:

Health Care Financing Administration, Office of Information Services, Security and Standards Group, Division of HCFA Enterprise Standards, Room N2-14-26, 7500 Security Boulevard, Baltimore, MD 21244-1850, Attn: John Burke, HCFA-1005-FC; and

Lauren Oliven, HCFA Desk Officer, Office of Information and Regulatory Affairs, Room 3001, New Executive Office Building, Washington, DC 20503.

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 or by faxing to (202) 512-2250. The cost for each copy is $8. As an alternative, you can view and photocopy the Federal Register document at most libraries designated as Federal Depository Libraries and at many other public and academic libraries throughout the country that receive the Federal Register.

FOR FURTHER INFORMATION CONTACT:

Janet Wellham, (410) 786-4510 or Chuck Braver, (410) 786-6719 (for general information)

Joel Schaer (OIG), (202) 619-0089 (for information concerning civil money penalties)

Kitty Ahern, (410) 786-4515 (for information related to the classification of services into ambulatory payment classification (APC) groups)

George Morey (410) 786-4653 (for information related to the determination of provider-based status)

Janet Samen (410) 786-9161 (for information on the application of APCs to community mental health centers)

SUPPLEMENTARY INFORMATION: To assist readers in referencing sections contained in this document, we are providing the following table of contents. Within each section, we summarize pertinent material from our proposed rule of September 8, 1998 (63 FR 47552) followed by public comments and our responses.

Table of Contents

I. Background

A. General and Legislative History

B. Summary of Provisions of the Balanced Budget Act of 1997 (the BBA 1997)

1. Prospective Payment System (PPS)

2. Elimination of Formula-Driven Overpayment

3. Extension of Cost Reductions

C. The September 8, 1998 Proposed Rule

D. Overview of Public Comments

E. Summary of Relevant Provisions in the Balanced Budget Refinement Act of 1999 (the BBRA 1999)

1. Outlier Adjustment

2. Transitional Pass-Through for Additional Costs of Innovative Medical Devices, Drugs, and Biologicals

3. Budget Neutrality Applied to New Adjustments

4. Limitation on Judicial Review

5. Inclusion in the Hospital Outpatient PPS of Certain Implantable Items

6. Payment Weights Based on Mean Hospital Costs

7. Limitation on Variation of Costs of Services Classified Within a Group

8. Annual Review of the Hospital Outpatient PPS Components

9. Coinsurance Not Affected by Pass-Throughs

10. Extension of Cost Reductions

11. Clarification of Congressional Intent Regarding Base Amounts Used in Determining the Hospital Outpatient PPS

12. Transitional Corridors For Application of Outpatient PPS

13. Limitation on Coinsurance for a Procedure

14. Reclassification of Certain Hospitals

II. Prohibition Against Unbundling of Hospital Outpatient Services

A. Background

B. Office of Inspector General (OIG) Civil Money Penalty Authority and Civil Money Penalties for Unbundling Hospital Outpatient Services

C. Summary of Final Regulations on Bundling of Hospital Outpatient Services

D. Comments and Responses

III. Hospital Outpatient Prospective Payment System (PPS)

A. Hospitals Included In or Excluded From the Outpatient PPS

B. Scope of Facility Services

1. Services Excluded from the Scope of Services Paid Under the Hospital Outpatient PPS

a. Background

b. Comments and Responses

c. Payment for Certain Implantable Items Under the BBRA 1999

d. Summary of Final Action

2. Services Included Within the Scope of the Hospital Outpatient PPS

a. Services for Patients Who Have Exhausted Their Part A Benefits

b. Partial Hospitalization Services

c. Services Designated by the Secretary

d. Summary of Final Action

3. Hospital Outpatient PPS Payment Indicators

C. Description of the Ambulatory Payment Classification (APC) Groups

1. Setting Payment Rates Based on Groups of Services Rather than on Individual Services

2. Packaging Under the APC System

a. Summary of Proposal

b. General Comments and Responses (Supporting or Objecting to Packaging)

c. Packaging of Casts and Splints

d. Packaging of Observation Services

e. Packaging Costs of Procuring Corneal Tissue

f. Packaging Costs of Blood and Blood Products

g. Packaging Costs for Drugs, Pharmaceuticals, and Biologicals

h. Summary of Final Action

3. Treatment of Clinic and Emergency Department Visits

a. Provisions of the Proposed Rule

b. Comments and Responses

4. Treatment of Partial Hospitalization Services

5. Inpatient Only Procedures

6. Modification of APC Groups

a. How the Groups Were Constructed

b. Comments on Classification of Procedures and Services Within APC Groups

c. Effect of the BBRA 1999 on Final APC Groups

d. Summary of APC Modifications

e. Exceptions to the BBRA 1999 Limit on Variation of Costs Within APC Groups

7. Discounting of Surgical Procedures

8. Payment for New Technology Services

a. Background

b. Comments and Responses

D. Transitional Pass-Through for Innovative Medical Devices, Drugs, and Biologicals

1. Statutory Basis

2. Identifying Eligible Pass-Through Items

a. Drugs and Biologicals

b. Medical Devices

3. Criteria to Define New or Innovative Medical Devices Eligible for Pass-through Payments

4. Determination of “Not Insignificant” Cost of New Items

5. Calculating the Additional Payment

6. Process to Identify Items and to Obtain Codes for Items Subject to Transitional Pass-Throughs

E. Calculation of Group Weights and Conversion Factor

1. Group Weights (Includes Table 1, Packaged Services by Revenue Center)

2. Conversion Factor

a. Calculating Aggregate Calendar Year 1996 Medicare and Beneficiary Payments for Hospital Outpatient Services (Pre-PPS)

b. Sum of the Relative Weights

F. Calculation of Coinsurance Payments and Medicare Payments Under the PPS

1. Background

2. Determining the Unadjusted Coinsurance Amount and Program Payment Percentage

a. Calculating the Unadjusted Coinsurance Amount for Each APC Group

b. Calculating the Program Payment Percentage (Pre-deductible Payment Percentage)

3. Calculating the Medicare Payment Amount and Beneficiary Coinsurance Amount

a. Calculating the Medicare Payment Amount

b. Calculating the Coinsurance Amount

4. Hospital Election to Offer Reduced Coinsurance

G. Adjustment for Area Wage Differences

1. Proposed Wage Index

2. Labor-Related Portion of Hospital Outpatient Department PPS Payment Rates

3. Adjustment of Hospital Outpatient Department PPS Payment and Coinsurance Amounts for Geographic Wage Variations

4. Special Rules Under the BBRA 1999

H. Other Adjustments

1. Outlier Payments

2. Transitional Corridors/Interim Payments

3. Cancer Centers and Small Rural Hospitals

I. Annual Updates

1. Revisions to APC Groups, Weights and the Wage and Other Adjustments

2. Annual Update to the Conversion Factor

3. Advisory Panel for APC Updates

J. Volume Control Measures

K. Claims Submission and Processing and Medical Review

L. Prohibition Against Administrative or Judicial Review

IV. Provider-Based Status

A. Background

B. Provisions of the Proposed Rule

C. Comments and Responses

D. Requirements for Payment

V. Summary of and Response to MedPAC Recommendations

VI. Provisions of the Final Rule

VII. Collection of Information Requirements

VIII. Response to Comments

IX. Regulatory Impact Analysis

A. Introduction

B. Estimated Impact on the Medicare Program

C. Objectives

D. Limitations of Our Analysis

E. Hospitals Included In and Excluded From the Prospective Payment System

F. Quantitative Analysis of the Impact of Policy Changes on Payment Under the Hospital Outpatient PPS: Basis and Methodology of Estimates

G. Estimated Impact of the New APC System (Includes Table 2, Annual Impact of Hospital Outpatient Prospective Payment System in CY2000-CY2001)

X. Federalism

XI. Waiver of Proposed Rulemaking Regulations Text

Addenda

Addendum A—List of Hospital Outpatient Ambulatory Payment Classification Groups with Status Indicators, Relative Weights, Payment Rates, and Coinsurance Amounts

Addendum B—Hospital Outpatient Department (HOPD) Payment Rates and Payment Status by HCPCS, and Related Information

Addendum C—Hospital Outpatient Payment for Procedures by APC

Addendum D—1996 HCPCS Codes Used to Calculate Payment Rates That Are Not Active CY 2000 Codes

Addendum E—CPT Codes Which Will Be Paid Only As Inpatient Procedures

Addendum F—Status Indicators

Addendum G—Service Mix Indices by Hospital

Addendum H—Wage Index for Urban Areas

Addendum I—Wage Index for Rural Areas

Addendum J—Wage Index for Hospitals That Are Reclassified

Addendum K—Drugs, Biologicals, and Medical Devices Subject to Transitional Pass-Through Payment

Alphabetical List of Acronyms Appearing in the Final Rule

APC Ambulatory payment classification

APG Ambulatory patient group

ASC Ambulatory surgical center

AWP Average wholesale price

BBA 1997 Balanced Budget Act of 1997

BBRA 1999 Balanced Budget Refinement Act of 1999

CAH Critical access hospital

CAT Computerized axial tomography

CCI [HCFA's] Correct Coding Initiative

CCR Cost center specific cost-to-charge ratio

CCU Coronary care unit

CMHC Community mental health center

CMP Civil money penalty

CORF Comprehensive outpatient rehabilitation facility

CPI Consumer Price Index

CPT [Physicians'] Current Procedural Terminology, 4th Edition, 2000, copyrighted by the American Medical Association

DME Durable medical equipment

DMEPOS DME, orthotics, prosthetics, prosthetic devices, prosthetic implants and supplies

DRG Diagnosis-related group

DSH Disproportionate share hospital

EACH Essential access community hospital

EBAA Eye Bank Association of America

ED Emergency department

EMS Emergency medical services

EMTALA Emergency Medical Treatment and Active Labor Act

ENT Ear/Nose/Throat

ESRD End-stage renal disease

FDA Food and Drug Administration

FDO Formula-driven overpayment

FQHC Federally qualified health center

HCPCS HCFA Common Procedure Coding System

HHA Home health agency

HRSA Health Resources and Services Administration

ICD-9-CM International Classification of Diseases, Ninth Edition, Clinical Modification

ICU Intensive care unit

IHS Indian Health Service

IME Indirect medical education

IOL Intraocular lens

JCAHO Joint Commission on Accreditation of Healthcare Organizations

LTH Long-term hospital

MDH Medicare-dependent hospital

MedPAC Medicare Payment Advisory Commission

MRI Magnetic resonance imaging

MSA Metropolitan statistical area

NECMA New England County Metropolitan Area

OBRA Omnibus Budget Reconciliation Act

OT Occupational therapy

PPO Preferred provider organization

PPS Prospective payment system

RFA Regulatory Flexibility Act

RHC Rural health clinic

RPCH Rural primary care hospital

RRC Rural referral center

SCH Sole community hospital

SGR Sustainable growth rate

SNF Skilled nursing facility

TEFRA Tax Equity and Fiscal Responsibility Act of 1982

TPA Tissue Plasminogen Activator

Y2K Year 2000

I. Background

A. General and Legislative History

When the Medicare program was first implemented, it paid for hospital services (inpatient and outpatient) based on hospital-specific reasonable costs attributable to serving Medicare beneficiaries. Later, the law was amended to limit payment to the lesser of a hospital's reasonable costs or its customary charges. In 1983, section 601 of the Social Security Amendments of 1983 (Pub. L. 98-21) completely revised the cost-based payment system for most hospital inpatient services by enacting section 1886(d) of the Social Security Act (the Act). This section provided for a prospective payment system (PPS) for acute hospital inpatient stays, effective with hospital cost reporting periods beginning on or after October 1, 1983.

Although payment for most inpatient services became subject to the PPS, Medicare hospital outpatient services continued to be paid based on hospital-specific costs, which provided little incentive for hospitals to furnish outpatient services efficiently. At the same time, advances in medical technology and changes in practice patterns were bringing about a shift in the site of medical care from the inpatient to the outpatient setting. During the 1980s, the Congress took steps to control the escalating costs of providing outpatient care. The Congress amended the statute to implement across-the-board reductions of 5.8 percent and 10 percent to the amounts otherwise payable by Medicare for hospital operating costs and capital costs, respectively, and enacted a number of different payment methods for specific types of hospital outpatient services. These methods included fee schedules for clinical diagnostic laboratory tests, orthotics, prosthetics, and durable medical equipment (DME); composite rate payment for dialysis for persons with end-stage renal disease (ESRD); and payments based on blends of hospital costs and the rates paid in other ambulatory settings such as separately certified ambulatory surgical centers (ASCs) or physician offices for certain surgery, radiology, and other diagnostic procedures. However, Medicare payment for services performed in the hospital outpatient setting remains largely cost-based.

In the Omnibus Budget Reconciliation Act of 1986 (OBRA 1986) (Pub. L. 99-509), the Congress paved the way for development of a PPS for hospital outpatient services. Section 9343(g) of OBRA 1986 mandated that fiscal intermediaries require hospitals to report claims for services under the HCFA Common Procedure Coding System (HCPCS). Section 9343(c) of OBRA 1986 extended the prohibition against unbundling of hospital services under section 1862(a)(14) of the Act to include outpatient services as well as inpatient services. The HCPCS coding enabled us to determine which specific procedures and services were being billed, while the extension of the prohibition against unbundling ensured that all nonphysician services provided to hospital outpatients would be billed only by the hospital, not by an outside supplier, and, therefore, would be reported on hospital bills and captured in the hospital outpatient data that could be used to develop an outpatient PPS.

A proposed rule to implement section 9343(c) was published in the Federal Register on August 5, 1988. However, those regulations were never published as a final rule, so we included them in the hospital outpatient PPS proposed rule published in the Federal Register on September 8, 1998 (63 FR 47552) and will implement them as part of this final rule.

Section 1866(g) of the Act, as added by section 9343(c) of OBRA 1986, and amended by section 4085(i)(17) of the Omnibus Budget Reconciliation Act of 1987 (OBRA 1987) (Pub. L. 100-203), authorizes the Department of Health and Human Services' Office of Inspector General to impose a civil money penalty (CMP), not to exceed $2,000, against any individual or entity who knowingly and willfully presents a bill in violation of an arrangement (as defined in section 1861(w)(1) of the Act).

In section 9343(f) of the OBRA 1986 and section 4151(b)(2) of the Omnibus Budget Reconciliation Act of 1990 (Pub. L. 101-508), the Congress required that we develop a proposal to replace the current hospital outpatient payment system with a PPS and submit a report to the Congress on the proposed system.

The Secretary submitted a report to the Congress on March 17, 1995, summarizing the research we conducted searching for a way to classify outpatient services for purposes of developing an outpatient PPS. The report cited ambulatory patient groups (APGs), developed by 3M-Health Information Systems (3M-HIS) under a cooperative grant with HCFA, as the most promising classification system for grouping outpatient services and recommended that APG-like groups be used in designing a hospital outpatient PPS.

The report also presented a number of options that could be used, once a PPS was in place, for addressing the issue of rapidly growing beneficiary coinsurance. As a separate issue, we recommended that the Congress amend the provisions of the law pertaining to the blended payment methods for ASC surgery, radiology, and other diagnostic services to correct an anomaly that resulted in a less than full recognition of the amount paid by the beneficiary in calculating program payment (referred to as the formula-driven overpayment).

Three sections of the Balanced Budget Act of 1997 (the BBA 1997) (Pub. L. 105-33), enacted on August 5, 1997, affect Medicare payment for hospital outpatient services. Section 4521 of the BBA 1997 eliminates the formula-driven overpayment for ambulatory surgical center procedures, radiology services, and diagnostic procedures furnished on or after October 1, 1997. In November 1998, we issued cost report instructions (Provider Reimbursement Manual, Part II, Chapter 36, Transmittal 4) that implemented this provision for services furnished on or after October 1, 1997. Section 4522 of the BBA 1997 amends section 1861(v)(1)(S)(ii) of the Act by extending cost reductions in payment for hospital outpatient operating costs and hospital capital costs, 5.8 percent and 10 percent respectively, before January 1, 2000. Section 4523 of the BBA 1997 amends section 1833 of the Act by adding subsection (t), which provides for implementation of a PPS for outpatient services. (Under Section 4523 of the BBA 1997 the outpatient PPS does not apply to cancer hospitals before January 1, 2000.) Set forth below in section I.B is a detailed description of the changes made by the BBA 1997.

On November 29, 1999, the Balanced Budget Refinement Act of 1999 (the BBRA 1999), Pub. L. 106-113, was enacted. This Act made major changes that affect the proposed hospital outpatient PPS. The legislative changes are summarized in section I.E, below. More specific details on individual provisions that we are implementing in this final rule with comment period are included under the various sections of this preamble.

B. Summary of Provisions in the Balanced Budget Act of 1997 (the BBA 1997)

1. Prospective Payment System (PPS)

Section 4523 of the BBA 1997 amended section 1833 of the Act by adding subsection (t), which provides for a PPS for hospital outpatient department services. (The following citations reflect the statute as enacted by the BBA 1997.) Section 1833(t)(1)(B) of the Act authorizes the Secretary to designate the hospital outpatient services that would be paid under the PPS. That section also requires that the hospital outpatient PPS include hospital inpatient services designated by the Secretary that are covered under Part B for beneficiaries who are entitled to Part A benefits but who have exhausted them or otherwise are not entitled to them. Section 1833(t)(1)(B)(iii) of the Act specifically excludes ambulance, physical and occupational therapy, and speech-language pathology services, for which payment is made under a fee schedule.

Section 1833(t)(2) of the Act sets forth certain requirements for the hospital outpatient PPS. The Secretary is required to develop a classification system for covered outpatient services that may consist of groups arranged so that the services within each group are comparable clinically and with respect to the use of resources.

Section 1833(t)(2)(C) of the Act specifies data requirements for establishing relative payment weights. The weights are to be based on the median hospital costs determined by 1996 claims data and data from the most recent available cost reports. Section 1833(t)(2)(D) of the Act requires that the portion of the Medicare payment and the beneficiary coinsurance that are attributable to labor and labor-related costs be adjusted for geographic wage differences in a budget neutral manner.

The Secretary is authorized under section 1833(t)(2)(E) of the Act to establish, in a budget neutral manner, other adjustments, such as outlier adjustments or adjustments for certain classes of hospitals, that are necessary to ensure equitable payments. Section 1833(t)(2)(F) of the Act requires the Secretary to develop a method for controlling unnecessary increases in the volume of covered outpatient services.

Section 1833(t)(3) of the Act specifies how beneficiary deductibles are to be treated in calculating the Medicare payment and beneficiary coinsurance amounts and requires that rules be established regarding determination of coinsurance amounts for covered services that were not furnished in 1996. The statute freezes beneficiary coinsurance at 20 percent of the national median charges for covered services (or group of covered services) furnished during 1996 and updated to 1999 using the Secretary's estimated charge growth from 1996 to 1999.

Section 1833(t)(3) of the Act also prescribes the formula for calculating the initial conversion factor used to determine Medicare payment amounts for 1999 and the method for updating the conversion factor in subsequent years.

Sections 1833(t)(4) and (t)(5) of the Act describe the method for determining the Medicare payment amount and the beneficiary coinsurance amount for services covered under the outpatient PPS. Section 1833(t)(5)(B) of the Act requires the Secretary to establish a procedure whereby hospitals may voluntarily elect to reduce beneficiary coinsurance for some or all covered services to an amount not less than 20 percent of the Medicare payment amount. Hospitals are further allowed to disseminate information on any such reductions of coinsurance amounts. Section 4451 of the BBA 1997 added section 1861(v)(1)(T) to the Act, which provides that any reduction in coinsurance must not be treated as a bad debt.

Section 1833(t)(6) authorizes periodic review and revision of the payment groups, relative payment weights, wage index, and conversion factor.

Section 1833(t)(7) of the Act describes how payment is to be made for ambulance services, which are specifically excluded from the outpatient PPS under section 1833(t)(1)(B) of the Act.

Section 1833(t)(8) of the Act provides that the Secretary may establish a separate conversion factor for services furnished by cancer hospitals that are excluded from hospital inpatient PPS.

Section 1833(t)(9) of the Act prohibits administrative or judicial review of the hospital outpatient PPS classification system, the groups, relative payment weights, wage adjustment factors, other adjustments, calculation of base amounts, periodic adjustments, and the establishment of a separate conversion factor for those cancer hospitals excluded from hospital inpatient PPS.

Section 4523(d) of the BBA 1997 made a conforming

amendment to section 1833(a)(2)(B) of the Act to provide for payment under the hospital outpatient PPS for some services described in section 1832(a)(2) that are currently paid on a cost basis and furnished by providers of services, such as comprehensive outpatient rehabilitation facilities (CORFs), home health agencies (HHAs), hospices, and community mental health centers (CMHCs). This amendment provides that partial hospitalization services furnished by CMHCs be paid under the PPS.

2. Elimination of Formula-Driven Overpayment

Before enactment of section 4521(b) of the BBA 1997, using the blended payment formulas for ASC procedures, radiology, and other diagnostic services, the ASC or physician fee schedule portion was calculated as if the beneficiary paid 20 percent of the ASC rate or physician fee schedule amount instead of the actual amount paid, which was 20 percent of the hospital's billed charges. Section 4521(b), which amended sections 1833(i)(3)(B)(i)(II) and 1833(n)(1)(B)(i) of the Act, corrects this anomaly by changing the blended calculations so that all amounts paid by the beneficiary are subtracted from the total payment in the calculation to determine the amount due from the program. Effective for services furnished on or after October 1, 1997, payment for surgery, radiology, and other diagnostic services calculated by blended payment methods is now calculated by subtracting the full amount of coinsurance due from the beneficiary (based on 20 percent of the hospital's billed charges).

3. Extension of Cost Reductions

Section 1861(v)(1)(S)(ii) of the Act was amended by section 4522 of the BBA 1997 to require that the amounts otherwise payable for hospital outpatient operating costs and capital costs be reduced by 5.8 percent and 10 percent, respectively, through December 31, 1999.

C. The September 8, 1998 Proposed Rule

We published a proposed rule in the Federal Register on September 8, 1998 (63 FR 47552) setting forth the proposed PPS for hospital outpatient services. In that proposed rule, we explained that, due to Year 2000 (Y2K) systems concerns, implementation of the new payment system would be delayed until after January 1, 1999. (The statement in the rule that the statute requires implementation “effective January 1, 1999,” and other similar statements in other rules, were not intended to mean that the statute requires retroactive implementation of the hospital outpatient PPS. As noted elsewhere in this rule, the statute does not impose such a requirement.) As noted in that document, the scope of systems changes required to implement the hospital outpatient PPS is so enormous as to be impossible to accomplish concurrently with the critical work that we, our contractors, and our provider-partners had to perform to ensure that all of our respective systems were Y2K compliant. Section XI of the proposed rule (63 FR 47605) explains in greater detail the reasons for delaying implementation.

The proposed rule originally provided for a 60-day comment period. However, the comment period was extended four times, ultimately ending on July 30, 1999. (See 63 FR 63429, November 13, 1998; 64 FR 1784, January 12, 1999; 64 FR 12277, March 12, 1999; and 64 FR 36320; July 6, 1999.)

On June 30, 1999, we published a correction notice (64 FR 35258) to correct a number of technical and typographical errors contained in the September 8, 1998 proposed rule. The numerical values in the proposed rule reflected incorrect data and data programming. Among other corrections, the notice set forth revised numerical values for the current payment, total services (total units), relative weights, proposed payment rates, national unadjusted coinsurance, minimum unadjusted coinsurance, and service-mix index.

D. Overview of Public Comments

We received approximately 10,500 comments in response to our September 8, 1998 proposed rule. That count includes the numerous requests from hospital and other interested groups and organizations that we extend the public comment period to allow additional time for analysis of the impact of our proposals. As we explain above, we extended the comment period four times, to end finally on July 30, 1999.

In addition to receiving comments from a number of organizations representing the full spectrum of the hospital industry, we received comments from beneficiaries and their families, physicians, health care workers, individual hospitals, professional associations and societies, legal and nonlegal representatives and spokespersons for beneficiaries and hospitals, members of the Congress, and other interested citizens. The majority of comments addressed our proposals regarding payment for: Corneal tissue; payment for high-cost technologies, both existing and future; payment for blood and blood products; and payment for high cost drugs, including chemotherapy agents. We also received numerous comments addressing: Our approach to ratesetting using the ambulatory payment classification (APC) system; our method of calculating the payment conversion factor; and the potentially negative impact of the proposed hospital outpatient PPS on hospital revenues. In addition, we received many comments concerning the proposed regulations for provider-based entities.

We carefully reviewed and considered all comments received timely. The many modifications that we made to our proposed regulations in response to commenters' suggestions and recommendations are reflected in the provisions of this final rule. Comments and our responses are addressed by topic in the sections that follow.

E. Summary of Relevant Provisions in the Balanced Budget Refinement Act of 1999 (the BBRA 1999)

As noted above, subsequent to publication of the proposed rule, the BBRA 1999 was enacted on November 29, 1999. The BBRA 1999 made major changes that affect the proposed hospital outpatient PPS. Because these changes are effective with the implementation of the PPS, we have had to make some revisions from the September 8, 1998 proposed rule. The provisions of the BBRA 1999 that we are implementing in this final rule with comment period follow.

1. Outlier Adjustment

Section 201(a) of the BBRA 1999 amends section 1833(t) by redesignating paragraphs (5) through (9) as paragraphs (7) through (11) and adding a new paragraph (5). New section 1833(t)(5) of the Act provides that the Secretary will make payment adjustments for covered services whose costs exceed a given threshold (that is, an outlier payment). This section describes how the additional payments are to be calculated and caps the projected outlier payments at no more than 2.5 percent of the total projected payments (sum of both Medicare and beneficiary payments to the hospital) made under hospital outpatient PPS for years before 2004 and 3.0 percent of the total projected payments for 2004 and subsequent years.

2. Transitional Pass-Through for Additional Costs of Innovative Medical Devices, Drugs, and Biologicals

Section 201(b) of the BBRA 1999 adds new section 1833(t)(6) to the Act, establishing transitional pass-through payments for certain medical devices, drugs, and biologicals. This provision does the following: Specifies the types of items for which additional payments must be made; describes the amount of the additional payment; limits these payments to at least 2 years but not more than 3 years; and caps the projected payment adjustments annually at 2.5 percent of the total projected payments for hospital outpatient services each year before 2004 and no more than 2.0 percent in subsequent years. Under this provision, the Secretary has the authority to reduce pro rata the amount of the additional payments if, before the beginning of a year, she estimates that these payments would otherwise exceed the caps.

3. Budget Neutrality Applied to New Adjustments

Section 201(c) of the BBRA 1999 amends section 1833(t)(2)(E) of the Act to require that the establishment of outlier and transitional pass-through payment adjustments is to be made in a budget neutral manner.

4. Limitation on Judicial Review

Section 201(d) of the BBRA 1999 amends redesignated section 1833(t)(11) of the Act by extending the prohibition of administrative or judicial review to include the factors for determining outlier payments (that is, the fixed multiple, or a fixed dollar cutoff amount, the marginal cost of care, or applicable total payment percentage), and the determination of additional payments for certain medical devices, drugs, and biologicals, the insignificant cost determination for these items, the duration of the additional payment or portion of the PPS payment amount associated with particular devices, drugs, or biologicals, and any pro rata reduction.

5. Inclusion in the Hospital Outpatient PPS of Certain Implantable Items

Section 201(e) of the BBRA 1999 amends section 1833(t)(1)(B) of the Act to include as covered outpatient services implantable prosthetics and DME and diagnostic x-ray, laboratory, and other tests associated with those implantable items.

6. Payment Weights Based on Mean Hospital Costs

Section 201(f) of the BBRA 1999 amends section 1833(t)(2)(C) of the Act, which specifies data requirements for establishing relative payment weights, to allow the Secretary the discretion to base the weights on either the median or mean hospital costs determined by data from the most recent available cost reports.

7. Limitation on Variation of Costs of Services Classified Within a Group

Section 201(g) of the BBRA 1999 amends section 1833(t)(2) of the Act to limit the variation of costs of services within each payment classification group by providing that the highest median (or mean cost, if elected by the Secretary) for an item or service within the group cannot be more than 2 times greater than the lowest median (or mean) cost for an item or service within the group. The provision allows the Secretary to make exceptions in unusual cases, such as for low volume items and services.

8. Annual Review of the Hospital Outpatient PPS Components

Section 201(h) of the BBRA 1999 amends redesignated section 1833(t)(8) of the Act to require at least annual review of the groups, relative payment weights, and the wage and other adjustments made by the Secretary to take into account changes in medical practice, the addition of new services, new cost data, and other relevant information and factors. That section of the Act is further amended to require the Secretary to consult with an expert outside advisory panel composed of an appropriate selection of provider representatives who will review the clinical integrity of the groups and weights and advise the Secretary accordingly. The panel may use data other than those collected or developed by the Department of HHS for the review and advisory purposes.

9. Coinsurance Not Affected by Pass-Throughs

Section 201(i) of the BBRA 1999 amends redesignated section 1833(t)(7) of the Act to provide that the beneficiary coinsurance amount will be calculated as if the outlier and transitional pass-throughs had not occurred; that is, there will be no coinsurance collected from beneficiaries for the additional payments made to hospitals by Medicare for these adjustments.

10. Extension of Cost Reductions

Section 201(k) of the BBRA 1999 amends section 1861(v)(1)(S)(ii) of the Act to extend until the first date that the hospital outpatient PPS is implemented, the 5.8 and 10 percent reductions for hospital operating and capital costs, respectively.

11. Clarification of Congressional Intent Regarding Base Amounts Used in Determining the Hospital Outpatient PPS

Section 201(l) of the BBRA 1999 provides that, “With respect to determining the amount of copayments described in paragraph (3)(A)(ii) of section 1833(t) of the Social Security Act, as added by section 4523(a) of the BBA, Congress finds that such amount should be determined without regard to such section, in a budget neutral manner with respect to aggregate payments to hospitals, and that the Secretary of Health and Human Services has the authority to determine such amount without regard to such section.” Pursuant to this provision, we are calculating the aggregate PPS payment to hospitals in a budget neutral manner.

12. Transitional Corridors for Application of Outpatient PPS

Section 202 of the BBRA 1999 amends section 1833(t) of the Act by redesignating paragraphs (7) through (11) as paragraphs (8) through (12), and adding a new paragraph (7), which provides for a transitional adjustment to limit payment reductions under the hospital outpatient PPS. More specifically, for the years 2000 through 2003, a provider, including a CMHC, will receive an adjustment if its payment-to-cost ratio for outpatient services furnished during the year is less than a set percentage of its payment-to-cost ratio for those services in its cost reporting period ending in 1996 (the base year). Two categories of hospitals, rural hospitals with 100 or fewer beds and cancer hospitals, will be held harmless under this provision. Small rural hospitals, for services furnished before January 1, 2004, will be maintained at the same payment-to-cost ratio as their base year cost report if their PPS payment-to-cost ratio is less. The hold-harmless provision applies permanently to cancer centers. Section 202 also requires the Secretary to make interim payments to affected hospitals subject to retrospective adjustments and requires that the provisions of this section do not affect beneficiary coinsurance. Finally, this provision is not subject to budget neutrality.

13. Limitation on Coinsurance for a Procedure

Section 204 of the BBRA 1999 amends redesignated section 1833(t)(8) of the Act to provide that the coinsurance amount for a procedure performed in a year cannot exceed the hospital inpatient deductible for that year.

14. Reclassification of Certain Hospitals

Section 401 of the BBRA 1999 adds section 1886(d)(8)(E) to the Act to permit reclassification of certain urban hospitals as rural hospitals. Section 401 adds section 1833(t)(13) to the Act to provide that a hospital being treated as a rural hospital under section 1886(d)(8)(E) also be treated as a rural hospital under the hospital outpatient PPS.

II. Prohibition Against Unbundling of Hospital Outpatient Services

A. Background

Sections 9343(c)(1) and (c)(2) of OBRA 1986 amended sections 1862(a)(14) and 1866(a)(1)(H) of the Act, respectively. As revised, section 1862(a)(14) of the Act prohibits payment for nonphysician services furnished to hospital patients (inpatients and outpatients), unless the services are furnished by the hospital, either directly or under an arrangement (as defined in section 1861(w)(1) of the Act). As revised, section 1866(a)(1)(H) of the Act requires each Medicare-participating hospital to agree to furnish directly all covered nonphysician services required by its patients (inpatients and outpatients) or to have the services furnished under an arrangement (as defined in section 1861(w)(1) of the Act). Section 9338(a)(3) of OBRA 1986 affected implementation of the bundling mandate by amending section 1861(s)(2)(K) of the Act to permit services of physician assistants to be covered and billed separately. Sections 4511(a)(2)(C) and (D) of the BBA 1997 further revised sections 1862(a)(14) and 1866(a)(1)(H) of the Act, respectively, to exclude services of nurse practitioners and clinical nurse specialists, described in section 1861(s)(2)(K)(ii) of the Act, from the bundling requirement.

B. Office of Inspector General (OIG) Civil Money Penalty Authority and Civil Money Penalties for Unbundling Hospital Outpatient Services

In order to deter the unbundling of nonphysician hospital services, section 9343(c)(3) of OBRA 1986 added section 1866(g) to the Act to provide for the imposition of civil money penalties (CMPs), not to exceed $2,000, against any person who knowingly and willfully presents, or causes to be presented, a bill or request for payment for a hospital outpatient service under Part B of Medicare that violates the requirement for billing under arrangements specified in section 1866(a)(1)(H) of the Act. In addition, section 1866(g) includes authorization to impose a CMP, in the same manner as other CMPs are imposed under section 1128A of the Act when arrangements should have been made but were not. Section 4085(i)(17) of OBRA 1987 amended section 1866(g) of the Act by deleting all references to hospital outpatient services under Part B of Medicare. The result of this amendment is that the CMP is now applicable for services furnished to hospital patients, whether paid for under Medicare Part A or B.

In order to implement section 1866(g) of the Act, we proposed in our August 5, 1988 proposed rule that the OIG would impose a CMP against any person who knowingly and willfully presents, or causes to be presented, a bill or request for payment for a hospital outpatient service under Part B of Medicare that violates the billing arrangement under section 1866(a)(1)(H) of the Act or the requirement for an arrangement. The amount of the CMP is to be limited to $2,000 for each improper bill or request, even if the bill or request included more than one item or service.

C. Summary of Final Regulations on Bundling of Hospital Outpatient Services

In our September 8, 1998 proposed rule, we proposed to make final most of the provisions of the August 5, 1988 proposed rule but with a number of revisions that we describe in detail in the proposed rule (63 FR 47558 through 47559). We are adopting as final regulations what we proposed in the September 8, 1998 rule with the following additional changes:

• We are adding a new paragraph (b)(7) to § 410.42 (Limitations on coverage of certain services furnished to hospital outpatients) to provide an exception to the hospital bundling requirements for services hospitals furnish to SNF residents as defined in § 411.15(p). (Section 410.42 has been redesignated from § 410.39 in the proposed rule.)

• We are making a minor change to newly redesignated paragraph (m)(2) (this language was formerly included in paragraph (m)(1)) in § 411.15 (Particular services excluded from coverage) to make it clearer that the exclusion discussed in this section is referring to excluding certain services from coverage.

• Except for minor wording changes in introductory paragraph (b) of § 1003.102 (Basis for civil money penalties and assessments), that section remains as it appeared in the August 5, 1988 proposed rule. Paragraph (b)(15) is redesignated from proposed paragraph (b)(4) in the August 5, 1988 proposed rule and (b)(14) in the September 8, 1998 proposed rule. Paragraphs (b)(12) through (b)(14) of § 1003.102 are reserved.

• We are adding a new paragraph (k) to § 1003.103 (Amount of penalty) to indicate that the OIG may impose a penalty of not more than $2,000 for each bill or request for items and services furnished to hospital patients in violation of the bundling requirements.

• We are also amending § 1003.105 (Exclusion from participation in Medicare, Medicaid and other Federal health care programs) by revising paragraph (a)(1)(i) to reflect that the basis for imposition of a CMP is also a basis for exclusion from participation in Medicare, Medicaid and other Federal health care programs.

D. Comments and Responses

Comment: One association requested that we clarify whether lab tests are subject to the bundling requirement or whether those services are included in the definition of diagnostic tests that are not required to be bundled. If lab tests are bundled, the association asked that we seek a legislative change to permit a provider, other than the lab that performs the test, to bill for the test.

Response: Laboratory tests, like all other services furnished to hospital patients, must be provided directly or under arrangements by the hospital and only the hospital may bill the program. Section 1833(h)(5)(A)(iii) of the Act provides an exception to the requirement that payment for a clinical diagnostic lab may be made only to the person or entity that performed or supervised the performance of the test. This section provides that in the case of a clinical diagnostic laboratory test provided under arrangement made by a hospital or CAH, payment is made to the hospital.

All diagnostic tests that are furnished by a hospital, directly or under arrangements, to a registered hospital outpatient during an encounter at a hospital are subject to the bundling requirements. The hospital is not responsible for billing for the diagnostic test if a hospital patient leaves the hospital and goes elsewhere to obtain the diagnostic test.

Comment: The same association asked us to clarify that services billed to skilled nursing facilities (SNFs) under the consolidated billing requirement would be exempt from the bundling requirement for hospital outpatient services.

Response: We agree that in situations where a beneficiary receives outpatient services from a Medicare participating hospital or CAH while temporarily absent from the SNF, the beneficiary continues to be considered a SNF resident specifically with regard to the comprehensive care plan required under § 483.20(b). Such services are, therefore, subject to the SNF consolidated billing provision and should be exempt from the hospital outpatient bundling requirements. The final regulations at § 410.42(b)(7) reflect this exception.

We note that the SNF consolidated billing requirements, under § 411.15(p)(3)(iii), do not apply to a limited number of exceptionally intensive hospital outpatient services that lie well beyond the scope of care that SNFs would ordinarily furnish, and thus beyond the ordinary scope of SNF care plans. The hospital outpatient services that are currently included in this policy are: Cardiac catheterization; computerized axial tomography (CAT) scans; MRIs; ambulatory surgery involving the use of an operating room; emergency room services; radiation therapy; angiography; and lymphatic and venous procedures. When a hospital or CAH provides these services to a beneficiary, the beneficiary's status as a SNF resident ends, but only with respect to these services. The beneficiary is now considered to be a hospital outpatient and the services are subject to hospital outpatient bundling requirements. In November 1998, we issued Program Memorandum transmittal number A-98-37, which provides additional clarification on this exclusion as well as a list of specific HCPCS codes that identify the services that are excluded from SNF consolidated billing but subject to hospital outpatient bundling.

Comment: One commenter understood that the proposed rule would permit payment for all diagnostic tests that are furnished by a hospital or other entity if the patient leaves the hospital and obtains the service elsewhere; however, the commenter requested clarification as to the treatment of “outsourced” hospital departments. The commenter stated that hospitals are increasingly outsourcing departments to providers that can furnish services efficiently. Often these providers do not operate as “under arrangements” providers to the hospital, but as free-standing providers offering outpatient services on hospital grounds. The commenter specifically asked whether a free-standing entity providing outpatient services on hospital grounds, but operated independently of the hospital is able to bill separately for services furnished or is the entity considered to be part of the hospital and required to furnish services “under arrangement.”

Response: A free-standing entity, that is, one that is not provider-based, may bill for services furnished to beneficiaries who do not meet the definition of a hospital outpatient at the time the service is furnished. Our bundling requirements apply to services furnished to a “hospital outpatient,” as defined in § 410.2, during an “encounter,” also defined in § 410.2.

Comment: One commenter indicated that while the proposed revision to § 1003.102(b) accurately reflected the statutory directive that the basis for imposing a CMP is a “bill or request for payment,” the proposed amendment to § 1003.103(a) regarding the appropriate penalty amount to be imposed for bundling violations was in error. The commenter indicated that the OIG lacks the authority to impose a CMP in the amount of $10,000 for these violations, and that such a penalty should be not more than $2,000 for each violation.

Response: The commenter is correct. While section 231(c) of the Health Insurance Portability and Accountability Act of 1996, Pub. L. 104-191, increased the CMP maximum amount from $2,000 to $10,000, the statute sets forth “items or services” as the basis upon which a higher CMP amount may be assessed. However, with regard to bundling violations, the Secretary may impose a CMP only on the basis of a “bill or request for payment” rather than “for each item and service” as stated in the proposed revision to § 1003.103. We are correcting this error by adding a new § 1003.103(k) to indicate that the OIG may impose a penalty of not more than $2,000 for each bill or request for items and services furnished to hospital patients in violation of the bundling requirements.

III. Hospital Outpatient Prospective Payment System (PPS)

In this section, we designate the services for which Medicare will make payment under the hospital outpatient PPS, the payment rates set for those services, and the method by which we determined the outpatient PPS payment and coinsurance amounts.

We explain the structure of the hospital outpatient PPS, respond to comments that we received about the proposed PPS, and describe modifications that we made to the proposed PPS in response to comments, such as provisions we are making to expedite appropriate payment for new technologies and provisions to pay for blood and blood products.

In this section, we also discuss how we will implement requirements enacted by the BBRA 1999, including transitional payment corridors and other payment adjustments such as outliers and transitional pass-throughs.

A. Hospitals Included In or Excluded From the Outpatient PPS

This PPS applies to covered hospital outpatient services furnished by all hospitals participating in the Medicare program, except as noted below. Partial hospitalization services in community mental health centers (CMHCs) are also paid under this PPS. Exclusions from outpatient PPS are different and more limited than exclusions from inpatient PPS. Thus, hospitals or distinct parts of hospitals that are excluded from the inpatient PPS are included in the outpatient PPS, to the extent that the hospital or distinct part furnishes outpatient services. For example, we will make payment under the outpatient PPS for outpatient psychiatric services. The outpatient services provided by hospitals of the Indian Health Service (IHS) will continue to be paid under separately established rates which are published annually in the Federal Register. We intend to develop a plan that will help these facilities transition to the PPS and will consult with the IHS to develop this plan.

The following hospitals are excluded from the outpatient PPS:

• Certain hospitals in Maryland qualify under section 1814(b)(3) of the Act for payment under the State's payment system. The excluded services are limited to those paid under the State's payment system as described in section 1814(b)(3) of the Act. Any other outpatient services furnished by the hospital are paid under the outpatient PPS.

• Critical access hospitals that are paid under a reasonable cost based system, as required under section 1834(g) of the Act.

Comment: National and State associations representing children's hospitals and a number of individual children's hospitals located across the country strongly recommended that their hospitals be excluded from the hospital outpatient PPS just as they have been excluded from the hospital inpatient PPS. These commenters argued that the exclusion should apply to outpatient services furnished by children's hospitals because these hospitals treat a unique patient group whose health needs are different from those of adult beneficiaries entitled to Medicare benefits. The commenters further argued that services to Medicare patients are, on average, only 1 percent of the total inpatient and outpatient services that children's hospitals furnish and that these services are largely ESRD services that are already excluded from the hospital outpatient PPS. The commenters were concerned that the resources required to implement and comply with the new system would be disproportionately high relative to the small number of patients who would be affected by the new system. In addition, the impact analysis that accompanied the proposed rule estimated that children's hospitals would lose more than 20 percent of their Medicare revenues under the new system. Commenters expressed great concern about this loss of revenue.

Response: Our most recent analysis of the impact on hospitals of the PPS shows a negative effect for children's hospitals of 11.9 percent, which is significantly less than what we estimated in the proposed rule. However, the transitional corridor payments provided by the BBRA 1999 will protect these hospitals from even this level of loss through 2004. The estimated loss for CY 2000-2001 for children's hospitals is only 3.2 percent. (See Table 2 in section IX of this preamble.) As we discuss in section III.H.2 below, we will conduct extensive analyses during the first years of implementation of the PPS to determine whether we should propose adjustments for certain types of hospitals, including children's hospitals, when the transitional corridor provision expires. In the meantime, we are not excluding any special class of hospital from the PPS.

B. Scope of Facility Services

Section 1833(t)(1)(B)(i) of the Act gives us the authority to designate the services to be covered under the hospital outpatient PPS. In this section of the final rule, we designate the types of services included or excluded under the hospital outpatient PPS.

1. Services Excluded From the Scope of Services Paid Under the Hospital Outpatient PPS

a. Background

In developing a hospital outpatient PPS, we want to ensure that all services furnished in a hospital outpatient setting will be paid on a prospective basis. We have already been paying, in part, for some hospital outpatient services such as clinical diagnostic laboratory services, orthotics, and end-stage renal disease (ESRD) dialysis services based on fee schedules or other prospectively determined rates that also apply across other sites of ambulatory care. Rather than duplicate existing payment systems that are effectively achieving consistency of payments across different service delivery sites, we proposed to exclude from the outpatient PPS those services furnished in a hospital outpatient setting that were already subject to an existing fee schedule or other prospectively determined payment rate. The similar payments across various settings create a more level playing field in which Medicare makes virtually the same payment for the same service, without regard to where the service is furnished.

We therefore proposed to exclude from the scope of services paid under the hospital outpatient PPS the following:

• Services already paid under fee schedules or other payment systems including, but not limited to: screening mammographies, services for patients with ESRD that are paid for under the ESRD composite rate; the professional services of physicians and non-physician practitioners paid under the Medicare physician fee schedule; laboratory services paid under the clinical diagnostic laboratory fee schedule; and DME, orthotics, prosthetics, and prosthetics devices, prosthetic implants, and supplies (DMEPOS) paid under the DMEPOS fee schedule when the hospital is acting as a supplier of these items. An item such as crutches or a walker that is given to the patient to take home, but that may also be used while the patient is at the hospital, would be billed to the DME regional carrier rather than paid for under the hospital outpatient PPS.

• Hospital outpatient services furnished to SNF inpatients as part of his or her resident assessment or comprehensive care plan (and thus included under the SNF PPS) that are furnished by the hospital “under arrangements” but billable only by the SNF, regardless of whether or not the patient is in a Part A SNF stay.

• Services and procedures that require inpatient care.

The statute excludes from the definition of “covered OPD services” ambulance services, physical and occupational therapy, and speech-language pathology services, specified in section 1833(t)(1)(B)(iii) of the Act (redesignated as section 1833(t)(1)(B)(iv) by section 201(e) of the BBRA 1999). These services are to be paid under fee schedules in all settings.

b. Comments and Responses

Comment: One commenter urged that we exclude services furnished to ESRD patients from the scope of the hospital outpatient PPS.

Response: Services furnished to ESRD patients include dialysis, Epoietin (EPO), drugs, and supplies provided outside the composite rate, surgery specific to access grafts, and many other medical services related to renal disease or to other coexisting conditions. We will continue to base payment for dialysis services on the composite rate, and we will continue to pay for EPO based on the current rate established for that service. The drugs and supplies that are used within a dialysis session, but for which payment is not included in the composite rate, are paid outside that rate. We have to conduct further analyses in order to develop appropriate APC groups upon which to base payment. In the meantime, we will continue to pay on a reasonable cost basis for dialysis related drugs and supplies that are paid outside the composite rate.

Comment: A hospital industry association took exception to the requirement that hospitals obtain a separate supplier number, post a bond, and bill separately to the DME regional carrier for DME supplies such as crutches. They believe that this is an unnecessary requirement that results in additional costs for small rural hospitals. The commenter recommended that we include within the PPS rate supplies such as crutches that are directly related to the provison of the hospital outpatient services or that we permit hospitals to bill under the DME fee schedule without having to obtain a DME supplier number or post a bond.

Response: Section 1834(j)(1)(A) of the Act provides that no payment may be made for items furnished by a supplier of medical equipment and supplies unless the supplier obtains a supplier number. Section 1834(a)(1)(C) of the Act provides that payment for DME can be made only under the DME fee schedule. Therefore, to receive payment for DME under Medicare, a hospital must obtain a supplier number and must meet the other requirements set by applicable Medicare rules and regulations.

Comment: Several major hospital associations and a number of other commenters opposed our proposal to exclude from payment certain procedures that we designate as “inpatient only.” Other commenters, including a physician professional society, agree that many of the procedures that we designated in the proposed rule as “inpatient only” are currently performed appropriately and safely only in the inpatient setting. However, these commenters believe that our explicit exclusion of individual procedures, besides being unnecessary, could have an adverse effect on advances in surgical care. Some commenters alleged that we provided no concrete support for designating procedures as “inpatient only.” A number of commenters argued that medicine is not practiced uniformly across the nation and that some services listed among the exclusions are currently being performed on an outpatient basis in various parts of the country with positive outcomes.

An industry association stated that we failed to consider surgical judgment and patient choice in determining the appropriate treatment setting for certain services that we proposed to exclude from coverage. Other commenters believe that the appropriate site for performing a medical service is best determined by physicians and their patients. One professional society stated that case law including medical malpractice case law is sufficient to ensure that medical services are delivered in the appropriate treatment setting and in conformance with prevailing medical standards.

Response: We recognize and acknowledge that our assigning “inpatient only” status to certain services and procedures raises numerous questions and concerns, and that some individual determinations can be reasonably debated. However, section 1833(t)(1)(B) of the Act explicitly authorizes the Secretary to designate which hospital outpatient services are to be “covered OPD services” subject to payment under the hospital outpatient PPS. Therefore, we have had to select from the universe of possible services those that we determine are reasonable, necessary, and appropriate for Medicare payment under the hospital outpatient PPS. We note that our designation of a service as “inpatient only” does not necessarily preclude the service from being furnished in a hospital outpatient setting, but means only that Medicare will not make payment for the service were it to be furnished to a Medicare beneficiary in that setting. This unfortunately leaves the beneficiary liable for payment if the procedure is in fact performed in the outpatient setting. We hope that hospitals will advise beneficiaries of the consequences if procedures on the inpatient list are provided as outpatient services (that is, denial of Medicare payment with concomitant beneficiary liability). In section III.C.5 of this preamble, we discuss in greater detail our rationale for designating specific procedures as “inpatient only.” In response to comments, we have removed the “inpatient only” status from a number of services, which will allow them to be paid under the hospital outpatient PPS. We emphasize our intention to review annually, in consultation with hospital and professional societies and associations and the expert outside advisory panel mandated by the BBRA 1999, those procedures classified as “inpatient only” to ensure that the designation remains consistent with current standards of practice.

Comment: One industry association contends that the statutory and regulatory authorities that we cite in the proposed rule (section 1862(a)(1)(A) of the Act and 42 CFR 411.15(k)(1), respectively) do not support the proposed medical services exclusions. The commenter argues that those provisions are the basis for prohibiting coverage for services that are not reasonable and necessary for the diagnosis or treatment of an illness or injury or to improve the functioning of a malformed body member. The commenter states that these provisions are not the basis upon which we identified services for the “inpatient only” list. The commenter further states that use of these provisions as a basis for denying coverage of the services would be confusing to beneficiaries.

Response: The commenter is correct that the proper citations are not section 1862(a)(1) of the Act and 42 CFR 411.15(k)(1). In fact, the basis for our designating certain procedures as “inpatient only” is dependent on medical judgment regarding the proper site of service, and the proper citation for such designation is section 1833(t)(1)(B) of the Act. In some instances, the identification of services to be included or excluded from this PPS was perfectly clear. For example, emergency departments (EDs) are outpatient departments of hospitals. Thus emergency services rendered in EDs qualify as outpatient services. On the other hand, coronary artery bypass graft surgery (CABG) requires many hours in surgery, part of the time with the patient's life being sustained by artificial means; a period of hours, if not days, in the surgical intensive care unit (ICU); and further care in an inpatient unit with frequent nursing attention. It clearly cannot be an outpatient procedure, and it would not be reasonable to consider it for inclusion in this PPS. There are many procedures which require similar intensity of care, including periods in specialty ICUs and several days of intense nursing attention.

Some procedures formerly performed only in the inpatient setting, however, have moved to the outpatient site of service. This movement has taken place due to new, less-invasive surgical techniques, such as laparoscopy, or new anesthesia agents that clear from the body more rapidly, allowing some patients to have general anesthesia in the morning and return home that afternoon. Thus we have had to decide which procedures may reasonably be performed in the outpatient setting, and which cannot. We have been guided in this decision by our medical advisors' clinical judgment regarding what is reasonable in various settings, comments we received in response to the proposed rule, and bill data which shows movement from one site to another. In section III.C.5, we discuss the criteria we considered in defining “inpatient only” procedures.

Comment: One hospital asked how we would pay a hospital that routinely performs on an outpatient basis a procedure that we proposed to designate as “inpatient only.” The commenter recommended that a specific billing mechanism be used to guarantee payment in these situations.

Response: Services designated as “inpatient only” will be excluded from Medicare payment under the hospital outpatient PPS. If the service is performed on an outpatient basis and a claim is submitted, the claim will be denied, and the beneficiary may be billed for the service. We would consider this a very poor policy on the hospital's part, and would hope that hospitals decide to abide by the constraints of the inpatient list.

Comment: One commenter noted that hospital outpatient departments have never been limited to a list of approved procedures as are Medicare participating ASCs. The commenter stated that the “inpatient only” policy would exclude payment for a significant number of procedures that have traditionally been performed in the hospital outpatient setting. The commenter stated that some of the excluded procedures incorporate an observation stay in a recovery care center. The commenter contended that many of the excluded procedures could be safely performed in the outpatient setting particularly if a 24 to 72 hour recovery care center is part of the outpatient surgical care provided.

Response: Routinely billing an observation stay for patients recovering from outpatient surgery is not allowed under current Medicare rules nor will it be allowed under the hospital outpatient PPS. As we state in section III.C.5 of this preamble, one of the primary factors we considered as an indicator for the “inpatient only” designation is the need for at least 24 hours of postoperative care.

Comment: One commenter asked what option a hospital has if a beneficiary's secondary insurer requires that a procedure included on the Medicare inpatient only list be performed on an outpatient basis.

Response: Upon implementation, the provisions of this final rule will govern payment for Medicare covered outpatient services furnished by hospitals to Medicare beneficiaries. Medicare payment policy and rules are not binding on employer-provided retiree coverage that may supplement Medicare coverage. Medigap insurers, however, must follow Medicare's coverage determinations.

c. Payment for Certain Implantable Items Under the BBRA 1999

In the course of identifying items and services whose costs we proposed to designate for payment under the hospital outpatient PPS, we gave considerable thought to including implantable items and services because these items and services are such an integral part of the procedure by which they are inserted or implanted. However, a number of the more common implants such as aqueous shunts, hallux valgus implants, infusion pumps, and neurostimulators, are classified as implantable prosthetics or DME. The statutory language governing payment for DMEPOS provides that, notwithstanding any other provision of the Medicare statute, DMEPOS must be paid for using the DMEPOS fee schedule. Therefore, under the proposed rule, the scope of services paid under the hospital outpatient PPS did not include implantable prosthetics and DME paid under the DMEPOS fee schedule. However, we did propose to package payment for implanted items such as stents, vascular catheters, and venous ports within the APC payment rate for the procedure related to the insertion of these items because we define these items as supplies rather than as prosthetic implants or implantable DME.

Section 201(e) of the BBRA 1999 amends section 1833(t)(1)(B) of the Act to provide that “covered OPD services” include implantable items described in paragraph (3), (6), or (8) of section 1861(s) of the Act. The conference report accompanying the BBRA 1999, H. R. Rep. No. 436 (Part I), 106th Cong., 1st Sess. (1999), expresses the belief of the conferees that the current DMEPOS fee schedule is not appropriate for certain implantable medical items such as pacemakers, defibrillators, cardiac sensors, venous grafts, drug pumps, stents, neurostimulators, and orthopedic implants as well as items that come into contact with internal human tissue during invasive medical procedures, but are not permanently implanted. In the conference report agreement, the conferees state their intention that payment for these items be made through the outpatient PPS, regardless of how these products might be classified on current HCFA fee schedules. The implantable items affected by this BBRA 1999 requirement include prosthetic implants (other than dental) that replace all or part of an internal body organ (including colostomy bags and supplies directly related to colostomy care and including replacement of these devices); implantable DME; and implantable items used in performing diagnostic x-rays, diagnostic laboratory tests, and other diagnostic tests.

Comment: A number of commenters disagreed with our proposal to pay under the DMEPOS fee schedule for implantable items and devices that require surgical insertion. We received comments on specific implantable items, including Vitrasert (a drug delivery system that is implanted in the eye); cochlear devices, which allow the profoundly deaf to hear sound and in some cases recognize speech; nerve stimulators that treat intractable epilepsy and other diseases; new technology intraocular lenses implanted following cataract surgery; and access devices for dialysis treatment. Commenters were also concerned that the costs of some implantable devices not paid under the DMEPOS fee schedule, which we packaged in our proposed rule, were not properly recognized in the APC payment.

Response: As we explain above, the amendments made to the statute by section 201(e) of the BBRA 1999 provide for payment to be made under the hospital outpatient PPS for implantable items that are part of diagnostic x-rays, diagnostic laboratory tests, and other diagnostic tests; implantable durable medical equipment; and implantable prosthetic devices (other than dental). This BBRA 1999 provision requires that an implantable item be classified to the group that includes the service to which the item relates. Thus, under this final rule with comment period, we are including within the scope of the hospital outpatient PPS items such as aqueous shunts that would, absent the BBRA 1999 provision, have been paid under the DMEPOS fee schedule. Because implantable items are now packaged into the APC payment rate for the service or procedure with which they are associated, certain items may be candidates for the transitional pass-through payment, which is discussed in detail in section III.D of this preamble. The APC rates may not in every case perfectly recognize the cost of implantable items. We will continue to review the impact of packaging implantables in future updates.

d. Summary of Final Action

We are modifying proposed § 419.22 to remove prosthetic implants from the list of services excluded from payment under the hospital outpatient PPS. We are adding subparagraphs (9), (10), and (11) to proposed § 419.2(b), to include the following in the list of items and services whose costs are included in hospital outpatient PPS payment rates: prosthetic implants (other than dental) that replace all or part of an internal body organ (including colostomy bags and supplies directly related to colostomy care), and including replacement of these devices; implantable DME; and implantable items used in performing diagnostic x-rays, diagnostic laboratory tests, and other diagnostic tests.

2. Services Included Within the Scope of the Hospital Outpatient PPS

We proposed to include three categories of services within the scope of the outpatient PPS, as follows:

a. Services for Patients Who Have Exhausted Their Part A Benefits

Section 1833(t)(1)(B)(ii) of the Act provides for Medicare payment under the hospital outpatient PPS for certain services designated by the Secretary that are furnished to inpatients who have exhausted their Part A benefits or who are otherwise not in a covered Part A stay. Examples of services covered under this provision include diagnostic x-rays and certain other diagnostic services and radiation therapy covered under section 1832 of the Act.

b. Partial Hospitalization Services

Section 1833(a)(2)(B) of the Act provides that partial hospitalization services furnished in CMHCs be paid under the hospital outpatient PPS. Partial hospitalization is a distinct and organized intensive psychiatric outpatient day treatment program, designed to provide patients who have profound and disabling mental health conditions with an individualized, coordinated, comprehensive, and multidisciplinary treatment program.

c. Services Designated by the Secretary

We proposed to designate the following services to be paid under the hospital outpatient PPS:

• All hospital outpatient services, except those that are identified as excluded, above, in section III.B.1 of this final rule. The types of services subject to payment under the hospital outpatient PPS include the following: surgical procedures; radiology, including radiation therapy; clinic visits; emergency department visits; diagnostic services and other diagnostic tests; partial hospitalization for the mentally ill; surgical pathology; and cancer chemotherapy.

• Specific hospital outpatient services furnished to a beneficiary who is admitted to a Medicare-participating SNF but who is not considered to be a SNF resident, for purposes of SNF consolidated billing, with respect to those services that are beyond the scope of SNF comprehensive care plans. The specific hospital outpatient services that are excluded from SNF consolidated billing are cardiac catheterization, computerized axial tomography (CAT) scans, MRIs, ambulatory surgery involving the use of an operating room, emergency room services, radiation therapy, angiography, and lymphatic and venous procedures.

• Supplies such as surgical dressings used during surgery or other treatments in the hospital outpatient setting that are also paid under the DMEPOS fee schedule. Payment for these supplies, when they are furnished in a hospital outpatient setting, is packaged into the APC payment rate for the procedure or service with which the items are associated.

• Certain preventive services furnished to healthy persons, such as colorectal cancer screening.

Section 4523(d)(3) of the BBA 1997 amended section 1833(a)(2)(B) of the Act to provide that we discontinue reasonable cost based payment and instead make Part B payment under the hospital outpatient PPS for certain medical and other health services when they are furnished by other providers such as hospices, SNFs, and HHAs. Specifically, we proposed to pay under the hospital outpatient PPS for the following medical and other health services when they are furnished by a provider of services:

• Antigens (as defined in 1861(s)(2)(G) of the Act);

• Splints and casts (1861(s)(5) of the Act);

• Pneumococcal vaccine, influenza vaccine, hepatitis B vaccine (1861(s)(10) of the Act).

Upon implementation of the hospital outpatient PPS, we would make Part B payment for the above services under the outpatient PPS when they are furnished by an HHA or hospice program. We would also make payment for antigens and the vaccines under the PPS when they are furnished by CORFs. (Splints and casts furnished by CORFs are paid under the rehabilitation fee schedule.) However, this provision would not apply to services furnished by a CORF that fall within the definition of CORF services at section 1861(cc)(1) of the Act. It also would not apply to services furnished by a hospice within the scope of the hospice benefit. Nor would it apply to services furnished by HHAs to individuals under an HHA plan of treatment within the scope of the home health benefit.

d. Summary of Final Action

We received no comments about the services we proposed to include within the scope of the hospital outpatient PPS. As noted in the preceding section III.B.1, we added certain implantable items to § 419.2(b) to implement section 201(e) of the BBRA 1999.

3. Hospital Outpatient PPS Payment Indicators

In the September 8, 1998 proposed rule in the Federal Register, we proposed a payment status indicator for every code in the HCPCS to identify how the service or procedure described by the code would be paid under the hospital outpatient PPS. We received no comments on our proposal to assign a payment status indicator to every HCPCS code. (In section III.C.6, below, we respond to commenters who disagreed with the payment status indicator that we proposed for individual codes.) Therefore, we are implementing payment status indicators as part of the hospital outpatient PPS. Addendum B displays the final payment status indicator for each HCPCS code, including codes for incidental services that are packaged into APC payment rates. Addendum E identifies the HCPCS codes to which we have assigned payment status indicator “C” to identify inpatient services that are not payable under outpatient PPS as implemented by this final rule. We respond below, in section III.C.5, to public comments about the specific codes we classified as inpatient services in the proposed rule and our final determination regarding the payment status of those codes.

The following are the payment status indicators and description of the particular services each indicator identifies:

• We use “A” to indicate services that are paid under some other method such as the DMEPOS fee schedule or the physician fee schedule.

• We use “C” to indicate inpatient services that are not paid under the outpatient PPS.

• We use “E” to indicate services for which payment is not allowed under the hospital outpatient PPS. In some instances, the service is not covered by Medicare. In other instances, Medicare does not use the code in question, but does use another code to describe the service.

• We use “F” to indicate corneal tissue acquisition costs, which are paid separately.

• We use “G” to indicate a current drug or biological for which payment is made under the transitional pass-through.

• We use “H” to indicate a device for which payment is made under the transitional pass-through.

• We use “J” to indicate a new drug or biological for which payment is made under the transitional pass-through.

• We use “N” to indicate services that are incidental, with payment packaged into another service or APC group.

• We use “P” to indicate services that are paid only in partial hospitalization programs.

• We use “S” to indicate significant procedures for which payment is allowed under the hospital outpatient PPS but to which the multiple procedure reduction does not apply.

• We use “T” to indicate surgical services for which payment is allowed under the hospital outpatient PPS. Services with this payment indicator are the only services to which the multiple procedure payment reduction applies.

• We use “V” to indicate medical visits for which payment is allowed under the hospital outpatient PPS.

• We use “X” to indicate ancillary services for which payment is allowed under the hospital outpatient PPS.

The table below lists types of services, the hospital outpatient PPS payment status indicator assigned to each type of service, and the basis for Medicare payment for the service.

Medicare Hospital Outpatient PPS Payment Status Indicators: How Medicare Pays for Various Services When They Are Billed for Hospital Outpatients
Indicator | Service | Status
A | Pulmonary Rehabilitation; Clinical Trial | Not paid.
C | Inpatient Procedures | Not paid.
A | Orthotics, and Non-implantable Durable Medical Equipment and Prosthetics | DMEPOS Fee Schedule.
E | Nonallowed Items and Services | Not paid.
A | Physical, Occupational and Speech Therapy | Rehab Fee Schedule.
A | Ambulance | Reasonable cost or charge or, when implemented, Ambulance Fee Schedule.
A | EPO for ESRD Patients | National Rate.
A | Clinical Diagnostic Laboratory Services | Lab Fee Schedule.
A | Physician Services for ESRD Patients | Bill to Carrier.
A | Screening Mammography | Lower of Charge or National Rate.
N | Incidental Services, Packaged into APC Rate | Packaged; No Additional Payment Allowed.
P | Partial Hospitalization Services | Paid Per Diem.
S | Significant Procedure, Not Reduced When Multiple Procedures Performed | Paid Under Hospital Outpatient PPS (APC Rate).
T | Significant Procedure, Multiple Procedure Reduction Applies | Hospital Paid Under Outpatient PPS (APC Rate).
V | Visit to Clinic or Emergency Department | Paid Under Hospital Outpatient PPS (APC Rate).
X | Ancillary Service | Paid Under Hospital Outpatient PPS (APC Rate).
F | Acquisition of Corneal Tissue | Paid at reasonable cost.
G | Current Drug/Biological Pass-Through | Additional payment.
H | Device Pass-Through | Additional payment.
J | New Drug/Biological Pass-Through | Additional payment.

C. Description of the Ambulatory Payment Classification (APC) Groups

1. Setting Payment Rates Based on Groups of Services Rather Than on Individual Services

In our March 17, 1995 report to Congress, we recommended that groups similar to the ambulatory patient groups (APGs) developed by 3M Health Information Systems (3M) be used as the basis for the hospital outpatient PPS. We made this recommendation after examining a number of other payment systems that were already in place or under development, including DRGs that are the basis for Medicare payment for hospital inpatient services, the Medicare physician fee schedule that was implemented in 1992, and the payment groups that have been the basis for Medicare payments for ambulatory surgical center (ASC) facility services since 1982.

As provided by the BBA 1997, section 1833(t)(2)(A) of the Act requires the Secretary to develop a classification system for covered outpatient services. Section 1833(t)(2)(B) provides that this classification system may be composed of groups, so that services within each group are comparable clinically and with respect to the use of resources. The statute refers to “each such service (or group of services),” confirming that the Secretary may choose or not choose to group services.

We explain in our proposed rule that we revised the APGs, based on more recent Medicare data than that used by 3M, to create the ambulatory payment classification (APC) system. We proposed to group services identified by HCPCS codes and descriptors within APC groups as the basis for setting payment rates under the hospital outpatient PPS. We indicated that we organized the APC groups so that the services within each group would be homogeneous both clinically and in terms of resource utilization. We invited comments on our proposal to set rates on the basis of groups of services rather than on individual codes.

Comments: Some commenters claimed that basing payment on APC groups rather than on individual services would result in underpayment for services that are more resource intensive, causing hospitals with a more resource intensive case mix to lose money. An organization representing physicians strongly opposed the use of APCs, because it believes that it is not possible to achieve an incentive-neutral, “level playing field” payment system using groups of codes or services. This organization favored replacing the APC system with a fee schedule based on individual services, similar to the Medicare physician fee schedule, as MedPAC recommends in its 1999 report to Congress. (We address the MedPAC recommendation later in this section.) The same physician organization is concerned that the broad range of services included in each APC will create an incentive for hospitals to provide lower cost services, even though a patient might require higher cost services. This organization expressed concern about the negative impact on physicians if a payment methodology similar to the APC system were applied to payment for physician services. To facilitate pricing new codes using individual services rather than APC groups, the same organization suggested that we establish a “relative value relationship in direct costs” between the new code and a comparable code, or that we consult AMA's Specialty Society RVS Updating Committee (RUC) for advice on relative cost relationships.

One major hospital association expressed its preference for a service-specific fee schedule because of the wide variation in costs represented by groups of codes. Another hospital association advocated using individual services rather than groups of services as the basis for ratesetting, but recommended, if we were to use some form of grouping, that we apply tight limits on the variations of costs for services within a group.

Response: We understand the concerns of commenters that setting payment weights using groups of services rather than individual services could result in payment for particular services that might not fully offset the costs that hospitals incur when they furnish expensive, resource-intensive services. However, we believe these concerns are in large measure addressed by the provisions of this final rule. As we explain in section III.C.6, we significantly restructured the proposed APC groups, first in response to comments and, second, to comply with section 1833(t)(2) of the Act, as amended by the BBRA 1999, which limits the variation of costs of services classified within a group. The result is more APC groups with fewer codes and a narrower range of costs in each group. In addition, other provisions of the BBRA 1999, such as the transitional pass-throughs (see section III.D, below), and outlier payments and transitional corridors (see section III.H, below) protect hospital revenues while hospitals gain experience with the PPS.

Medicare Payment Advisory Commission (MedPAC) Recommendation

In both its March 1998 and March 1999 reports to the Congress on Medicare payment policy, MedPAC recommends that payment rates under the hospital outpatient PPS be based upon costs of individual services rather than groups of similar services to help ensure consistent payments across ambulatory settings. In its March 1999 report, MedPAC asserts its belief that the burden imposed by our proposed APC system outweighs its benefits in ambulatory settings. MedPAC gives several reasons to support its position.

• The use of groups to calculate weights masks questionable cost data for low volume and new procedures.

• Different classes of hospitals face disproportionate impacts, suggesting APC groups may not be as homogeneous as we believe.

• Grouping services will likely create additional administrative burdens for hospitals, because hospitals may have to purchase or develop new software and will experience additional education and training costs.

Response: We carefully reviewed the concerns about using groups of services expressed by MedPAC in its March 1998 report, and we responded to those concerns in our proposed rule (63 FR 47562). Even though MedPAC concedes in its March 1999 report that using groups to set rates has certain potential advantages, MedPAC continues to oppose using groups because, according to MedPAC, they entail considerable costs and drawbacks and necessitate “a much more complicated design logic” than would be required using a service-level fee schedule.

We do not share MedPAC's concerns. We have a high level of confidence in the ratesetting method using APC groups that we implement in this final rule with comment period. As we explain below, in section III.C.6, we have extensively restructured the APC groups to respond to comments on the proposed rule, to incorporate specific provisions of the BBRA 1999, and to correct some errors that had come to our attention. We believe that by using median costs in the calculation of group weights, we limit the extent to which infrequently performed services with suspect costs can affect the payment rate of an APC group.

As discussed below in the impact analysis (section IX of this preamble), the provisions of this final rule with comment period, which include setting rates using APC groups, alleviate to a large extent the disproportionate impacts on different classes of hospitals estimated in our proposed rule. In addition, as we explain in section III.C.6, when we restructured the APC groups, we were particularly attentive to the degree of provider concentration associated with the individual services within a group in order to avoid biasing the payment system against any subset of hospitals.

Finally, none of the commenters cited increased administrative burden as an argument against using groups. Even though we are using APC groups to set rates under the hospital outpatient PPS, hospitals will bill for services using HCPCS codes (not APCs) using the same claims forms that they use currently. Although to receive payment under the new system, hospitals will have to more fully code the services they furnish, they will not have to know to which APC the service is assigned in order to determine the payment amount. We are publishing the payment rate applicable to each HCPCS code in Addendum B of this final rule. Any burdens on hospitals necessitating additional technical assistance, training, or systems changes are more a function of implementing an entirely new payment system than of our setting rates on the basis of groups of services.

Final Action: The payment rates implemented by this final rule with comment period are determined based on APC groups that use HCPCS codes to describe individual services. The codes assigned to an APC group are comparable clinically and in terms of resource use.

2. Packaging Under the APC System

a. Summary of Proposal

In our proposed rule, we described packaged services as those items or services that we recognized as contributing to the cost of the procedures or services in an APC group, and for which we would not make separate payment. We proposed to include as packaged services use of the operating room and recovery room, anesthesia, medical/surgical supplies, pharmaceuticals, observation, blood, intraocular lenses, casts and splints, the costs of acquiring tissue such as corneal tissue for surgical insertion and various incidental services such as venipuncture. We packaged the services (and their costs) within the APC group of procedures with which they were delivered in the base year. For a list of proposed packaged services grouped by hospital revenue centers, refer to the June 30, 1999 correction notice (64 FR 35258).

b. General Comments and Responses (Supporting or Objecting to Packaging)

Comment: Few commenters disagreed with our proposal to aggregate into one payment the costs for a “package” of services variously related to a procedure or to the principal service being furnished. However, many commenters did object to our packaging costs for certain specific items such as expensive drugs and pharmaceuticals, observation services in the emergency department, blood and blood products, corneal tissue acquisition costs, and chemotherapy and supportive drugs. Commenters, fearful that packaging items and services will result in lower payments that do not offset the high costs of particularly expensive items, raised the prospect of dire consequences such as forcing hospitals to use only the cheapest drugs, being unable to employ oncology nurses, eliminating otherwise clinically necessary ancillary services, or not being able to hold emergency room patients for observation.

Response: We are persuaded by commenters' arguments that packaging payment for certain expensive items and services into an APC group rate could have such a potentially negative impact as to jeopardize beneficiary access to these items and services in the hospital outpatient setting. Therefore, in response to comments, we are not packaging within an APC payment rate the costs associated with certain specified items and services. Instead, we will make a separate APC payment for these particular items and services under the outpatient PPS. However, as we explain in section III.C.2.d, we do not concur with commenters who urge separate payment for observation services; rather, we are packaging the costs in the APC for each service with which observation services were billed in our 1996 database. We discuss in further detail below, in section III.C.2.d through section III.C.2.g, and in section III.C.6, the changes that we are making to the packaging we originally proposed. We address in section III.B.1, above, the BBRA 1999 provision that requires us to package into APC group rates payment for certain implantable items and devices. In section III.D, below, we describe additional payments for certain packaged medical devices, drugs, and biologicals that are provided as transitional pass-throughs under section 201(b) of the BBRA 1999.

As we gain experience with and collect additional cost data under the hospital outpatient PPS, we will review our policy to pay separately for certain items and services that would otherwise be packaged into the APC payment. Should we decide to modify this policy, we will do so through the rulemaking process as part of our annual hospital outpatient PPS update.

MedPAC Recommendation: In its March 1999 report to the Congress, MedPAC cites two models that Medicare uses to define a unit of payment: the DRG-based payment model for hospital inpatient services, and the Medicare physician fee schedule. MedPAC contends that services provided in the hospital outpatient setting more closely parallel those furnished in an office-based setting than those furnished as part of a hospital inpatient admission. Therefore, MedPAC recommends that, in establishing ambulatory care prospective payment systems in general, we define the unit of payment for ambulatory care facilities as an individually coded service, consisting of the primary service that is the reason for the encounter, and the necessary and essential ancillary services and supplies integral to it, including limited follow-up care if it is integral to the primary service, but not including physicians' services. MedPAC further recommends that the unit of payment be defined consistently across all ambulatory care settings.

Response: The packaging that we proposed as the basis for determining APC payment rates and that we will implement under the hospital outpatient PPS is generally consistent with MedPAC's recommendation. However, we did not propose to include “limited follow-up services” in our packaged groups under the hospital outpatient PPS because of the difficulty of matching in our database the costs of these services with their associated primary encounter. For now, hospitals are to bill follow-up care, such as suture removal, using an appropriate medical visit code. We did not propose, nor have we included in this final rule with comment period, provision for a global period for hospital outpatient services analogous to the global period affecting payments for professional services made under the Medicare physician fee schedule.

c. Packaging of Casts and Splints

Comment: One commenter stated that we should not package costs for casts and splints with other procedures.

Response: We proposed to assign payment status indicator “N” to CPT codes for strapping and casting services (CPT codes 29000-29750) to designate that these are incidental services for which payment is packaged into the APC rate for another service or procedure, in this case, the repair or reduction of a fracture or dislocation. After further review, we determined that strapping and casting services can be performed independently, for example, when a cast placed as a part of a procedure must later be replaced with another cast. Therefore, we have decided that strapping and casting services will not be packaged and we are creating two APCs (0058 and 0059) to pay for these services. The BBA 1997 required that we pay under the outpatient PPS for casting and strapping services furnished in HHAs and hospices, to the extent that these services are provided and are not within the patient's plan of care.

d. Packaging of Observation Services

We received many comments urging us to pay separately for observation services, particularly when patients are seen in the emergency department. Observation service is placing a patient in an inpatient area, adjacent to the emergency department, or, according to some comments, in the intensive care unit (ICU) or coronary care unit (CCU), in order to monitor the patient while determining whether he or she needs to be admitted, have further outpatient treatment, or be discharged. After 1983, many hospitals began to rely heavily on the use of observation services when peer review organizations questioned admissions under the hospital inpatient prospective payment system. However, in some cases, patients were kept in “outpatient” observation for days or even weeks at a time. This resulted in excess payments both from the Medicare program and from beneficiaries who generally paid a higher coinsurance. In response to this practice, in November 1996, we issued instructions limiting covered observation services to no more than 48 hours except in the most extreme circumstances. However, the cost data upon which the APC system is based contain all costs for observation in 1996, including those that exceeded the 48-hour limit imposed at the end of that year. We have packaged those costs into the service with which they were furnished in the base year. Thus, APC payments for emergency room visits include the costs of observation within the payment.

Comment: Some commenters acknowledged that being paid separately for observation following a surgical procedure was not necessary; the packaged recovery room and observation services were sufficient. However, a major concern of commenters was observation of patients with chest pain who had equivocal results on initial diagnostic testing. Commenters were concerned that the APC payment for these cases would not be adequate.

Response: We assume that chest pain patients, such as those described by the commenters, are sent to the CCU or ICU for observation. We believe that, in general, if a patient needs to be monitored in the ICU or CCU for any length of time, then that patient should be admitted as an inpatient. Furthermore, we have never considered care furnished in an ICU or CCU to be outpatient services. Existing cost reporting instructions allow for the use of these specialty beds during a shortage of regular inpatient beds, but charges are to reflect routine care, not intensive care.

Although, as noted above, we received many comments urging that observation services be covered as a separate APC, we continue to believe that these services have been used so inappropriately in the past that we will have to gather data under the PPS before considering constructing a separate APC. We have packaged observation wherever it was billed. Roughly $139 million was identified by revenue code 762 as representing observation services. An additional $253 million was identified in revenue codes 760, 761, and 769, which could be used for either observation or treatment room use. That $253 million is also packaged. (Both figures are in 1996 dollars.)

Further analyses will be necessary on the use of observation as an adjunct to emergency treatment, as in the case of chest pain. In order to ensure that we will have sufficient data for our future analyses, hospitals must continue to bill for observation using revenue center 762 and showing hours in the units field. Observation that is billed must represent some level of active monitoring by medical personnel. It must not be billed as a way to capture room and board for outpatients. During our first review of the APC groups, we will assess whether patients with certain conditions use observation services that should be separately recognized. Thus, correct diagnosis coding is required.

e. Packaging Costs of Procuring Corneal Tissue

Comment: We received about 2,000 comments from physicians, eye banks, and health care associations opposing our proposal to package corneal tissue acquisition costs into the APC payment for corneal transplant procedures. Most commenters argued that the payment for the procedures in proposed APC group 670, Corneal transplant, is grossly inadequate and that we have failed to recognize the high costs associated with tissue screening and testing procedures required by the Food and Drug Administration that are reflected in the fees charged by eye banks. In addition, commenters contended that we failed to recognize the wide variation in tissue acquisition costs resulting from the level of philanthropic contributions in different areas of the country and in different years. Commenters asserted that by packaging corneal tissue acquisition costs with the payment for corneal transplant surgery, we would limit beneficiary access to quality care, force eye banks that are nonprofit, low-cost operations to close, provide disincentives for philanthropic contributions, and impede our goal to increase tissue availability.

As part of their comments, the Eye Bank Association of America (EBAA) submitted a report of a study the EBAA commissioned on corneal tissue acquisition costs. The study was conducted by the Lewin Group which collected and analyzed data on corneal tissue acquisition costs incurred by 74 of EBAA's 100 members that are charitable nonprofit organizations. The report states that these 74 eye banks supplied approximately 82 percent of the corneal tissue distributed throughout the United States in 1997. Based on the data that they collected, the Lewin Group found that the median gross acquisition cost per transplant is $1,689 in 1999 dollars. Of this amount, approximately $233 represents the national median value of donated in-kind services such as volunteer staff. The Lewin Group concluded that the proposed hospital outpatient PPS payment of $1,583 did not adequately reflect the cost of procuring corneal tissue.

Additionally, the report states that “fund raising and in-kind service values are not as well centered on their median values as the underlying cost data. Variability in fund raising and in-kind contributions not only exists between eye banks, but from year to year, within the same eye bank.” According to the study, charitable contributions in the form of cash and in-kind services represented 28 percent of the eye banks' total gross cost for tissues furnished in 1997. The Lewin Group finds that “If HCFA were to move to fee schedule or other fixed-payment rate, and pays the adjusted median Gross cost Per Transplant * * * payment of $1689, HCFA would overpay some banks and underpay others, depending on philanthropy and in-kind services which varies from community to community and from year to year. The variation is too extreme to determine a fair rate-based system, without destroying the philanthropy the community is built upon.”

Response: Based on the concerns raised by the commenters and the data presented in the Lewin Group study, we have decided not to package payment for corneal tissue acquisition costs with the APC payment for corneal transplant surgical procedures at this time. Instead, we will make separate payment, based on the hospital's reasonable costs incurred to acquire corneal tissue. Final payment will be subject to cost report settlement. To receive payment for corneal acquisition costs, hospitals must submit a bill using HCPCS code V2785, Processing, preserving and transporting corneal tissue, and indicate the acquisition cost rather than the hospital's charge on the bill. We intend to review this policy after we have acquired updated data on corneal procedures.

f. Packaging Costs of Blood and Blood Products

Comment: Many commenters, including the American Red Cross, a major medical association, teaching hospitals, and community oncology centers, believe that the payments we proposed for blood and blood-related products and for APCs that required the use of blood and blood-related products, were too low. Commenters claimed that the proposed payments are so much lower than actual costs that hospitals might be forced to stop providing a range of blood services, especially those more complex than a simple transfusion. The commenters were concerned that our proposed payment would not allow hospitals to furnish the most clinically appropriate blood products and services. The commenters also stated that blood and blood product exchange were not assigned to appropriate APCs, thus skewing payment rates and not recognizing the true costs of services with which blood and blood product exchange are associated. Commenters attributed this deficiency to the fact that certain blood-related products were incorrectly billed in the 1996 data we used as the basis for pricing APCs. Commenters were also concerned that we excluded procedures whose costs fell outside 3 standard deviations of the mean cost. One major organization recommended that we separate payment for blood and blood products from the service with which it is associated. This commenter also recommended separate payment for infusible blood-derived drugs, and that we base payment for transfusable blood products on costs. Some commenters recommended a transition period prior to full implementation of the proposed PPS.

Response: Based on the recommendations of commenters, we have created separate APC groups to pay for blood and blood products. We agree with the commenters that blood use varies enough that packaging blood units with their administration could lead to inequities. Because we were not able to capture enough claims data in the base year to accurately price the blood and blood-product APCs, we have based payment rates for these APCs on data provided by commenters, including suppliers of blood and blood products. We have based payment on current costs rather than 1996 costs so that we recognize the costs of recently developed blood safety tests. The safety of the nation's blood supply is a major concern of the Department of Health and Human Services, and we want to encourage appropriate testing and follow-up care.

g. Packaging Costs for Drugs, Pharmaceuticals, and Biologicals

We proposed to package the cost of drugs, pharmaceuticals, and biologicals with APC groups because we believe drugs are usually provided in connection with some other treatment or procedure. We collected aggregate cost data on all drugs that were billed with HCPCS codes and those billed with revenue center codes, whether or not a HCPCS was entered. By so doing, we captured historical patterns of drug use within the APC groups with which the drugs were billed during the base year. However, because we did not require HCPCS coding of drugs, we could not isolate costs associated with individual drugs, some of which are very expensive even though they are rarely used and may be used by only a few hospitals. As a result, we acknowledge that our proposed APC payment rates may not fully reflect costs of very expensive drugs or biologicals.

We also proposed to create separate drug groups for chemotherapeutic agents because those were separately identified in the APG system designed by 3M. However, because we did not have bills that were coded to identify drugs individually, we were concerned that the APC groups for chemotherapeutic groups may not have completely reflected the costs of these drugs.

Comment: Many commenters criticized the proposed APC payment rates because they were developed using cost data from 1996 that do not reflect the cost of many new drugs, pharmaceuticals, and biologicals. Some commenters expressed particular concern about oncology drugs such as paclitaxil (Taxol) and topotecan. Some advised that Taxol and carboplatin chemotherapy have become the standard treatment for ovarian carcinoma. A number of commenters believe that our proposal did not provide sufficient financial incentives to dissuade hospitals from using the older less effective chemotherapy regimens even though there is significantly greater toxicity and reduced chances of favorable outcomes associated with their use. Many commenters strongly suggested that we carve out new drugs and biologicals and those introduced after 1996 from the PPS and pay for them on a reasonable cost basis. Several commenters asserted that packaging drugs and pharmaceuticals within the APC groups understates their cost to hospitals and their value to patients.

Response: We believe the commenters' concerns have, to a great extent, been addressed by implementation of the BBRA 1999 pass-through provisions for drugs and biologicals. Addendum K includes a complete list of all drugs, biologicals, and medical devices that are eligible for pass-through payments. We encourage interested parties to follow the process outlined below in section III.I.4 of this preamble to submit requests for consideration of drugs, biologicals, and medical devices that may be eligible for additional payment under the transitional pass-through provision but that are not listed in Addendum K.

h. Summary of Final Action

After consideration of comments received about packaging of services and of the requirements set forth in the amendments made to section 1833(t) of the Act by section 201(b) and section 201(e) of the BBRA 1999, we have revised the package of services directly related and integral to performing a procedure or furnishing a service on an outpatient basis whose costs will determine the national payment rate for that procedure or service under the hospital outpatient PPS.

• We will package into the APC payment rate for a given procedure or service any costs incurred to furnish the following items and services: Use of an operating suite, procedure room or treatment room; use of the recovery room or area; use of an observation bed; anesthesia; medical and surgical supplies and equipment; surgical dressings; supplies and equipment for administering and monitoring anesthesia or sedation; intraocular lenses; capital-related costs; costs incurred to procure donor tissue other than corneal tissue; and, various incidental services such as venipuncture.

• In general, we will package the cost of drugs, pharmaceuticals and biologicals into the APC payment rate for the primary procedure or treatment with which they are used. Additional payment for some drugs, pharmaceuticals, and biologics may be allowed under the transitional pass-through provisions, which we explain below, in section III.D.

• We will not package payment for corneal tissue acquisition costs into the payment rate for corneal transplant surgical procedures at this time. We will make separate payment for these acquisition costs based on the hospital's reasonable costs incurred to acquire corneal tissue.

• We will not package into the APC payment rate for another procedure or service costs incurred to furnish the following items and services: blood and blood products, including anti-hemophilic agents; casting, splinting, and strapping services; immunosuppressive drugs for patients following organ transplant; and certain other high cost drugs that are infrequently administered. We have created new APC groups for these items and services, which allows separate payment to be made for them.

3. Treatment of Clinic and Emergency Department Visits

a. Provisions of the Proposed Rule

As we discussed in our proposed rule, determining payment for hospital clinic and emergency department (ED) visits requires a variety of considerations such as the following:

• The impact of packaging on setting payment rates.

• How to code visits in a manner that recognizes variations in service intensity and levels of resource consumption.

• How to keep the system administratively manageable.

• How to define critical care in terms of facility as opposed to physician input.

• Data problems associated with identifying costs from claims that list multiple services.

• How to move toward greater uniformity of payments across ambulatory settings so as to remove payment as an incentive for determining site of service.

The major issue we faced in determining payment for hospital clinic and ED visits is whether to include diagnosis as well as Physicians' Current Procedural Terminology (CPT) codes in setting payment rates.

In our proposed rule, we considered several approaches to setting prospective payment rates for hospital clinic and ED visits. Potential options included: (1) Using diagnosis codes only; (2) using CPT codes only; and (3) using a CPT-diagnosis code hybrid. We solicited comments on these approaches to setting payment rates for clinic and ED visits as well as comments on alternative approaches that we did not set forth in the proposed rule. In the proposed rule, we discussed in detail our assessment of the advantages and disadvantages of each approach.

In addition, we proposed to create a HCPCS code that would be used to bill when a patient presents to an ED, requests a screening, and is screened in accordance with section 1867(a) of the Act. Payment for this new code would be minimal because we included no treatment costs in the screening service. Payment for the screening APC would be made only when no additional services were furnished by the emergency department. If nonemergency treatment was furnished, the appropriate emergency department visit would be billed, and not the screening. Similarly, if the screening reveals that an emergency does exist and treatment is instituted immediately, the screening would not be billed because we would consider payment to be subsumed into the payment for further treatment.

We proposed paying for critical care as the highest level of “visit.” In our proposed rule, we stated that hospitals would use CPT code 99291 to bill for outpatient encounters in which critical care services are furnished.

We used the CPT definition of “critical care” which is the evaluation and management of the critically ill or injured patient. Under the outpatient PPS, we would allow the hospital to use CPT code 99291 in place of, but not in addition to, a code for a medical visit or for an emergency department service. Although the CPT system allows the physician to bill in 30-minute increments following the first 74-minute period of providing critical care, we proposed to pay separately for only the initial period (CPT code 99291), packaging the few instances in which the 30-minute increments (CPT code 99292) were billed. If other services, such as surgery, x-rays, or cardiopulmonary resuscitation, were furnished on the same day as the critical care services, we would allow the hospital to bill for them separately.

b. Comments and Responses

Comment: The major hospital associations argued that none of our three proposed approaches fully explains facility resource use in connection with clinic and emergency visits. Hospitals did not see a clear benefit in the payment ranges created by using the CPT and diagnosis hybrid approach. A major medical association adamantly opposed the use of diagnosis codes. One major HMO that does not currently use CPT codes was opposed to the use of CPT codes to describe clinic and emergency visits.

Response: In this final rule, we are not using patient diagnosis codes to compute payment rates for medical visits to clinics and emergency departments under the outpatient PPS because a number of concerns were raised about basing payment for medical visits on both HCPCS codes and ICD-9 diagnosis codes. The final payment groups for medical visits are constructed using CPT procedure codes only, which is consistent with our overall PPS grouping strategy and with the approach we have followed to establish payment groups for surgical and diagnostic services. However, we will continue to require hospitals to provide accurate diagnosis coding on claims for payment. We will continue to assess the value of using patient diagnosis for application to our payment system for possible use in the future.

In developing medical visit APCs based on CPT procedure codes only (a change from the proposed rule), we are collapsing 31 CPT codes that define clinic and emergency visits into six groups, three each for the clinics and the emergency department. The final APC groups for clinic and emergency visits are as follows: APC 0600, Low Level Clinic Visits; APC 0601, Mid-Level Clinic Visits; APC 0602, High Level Clinic Visits; APC 0603, Interdisciplinary Team Conference; APC 0610, Low Level Emergency Visits; APC 0611, Mid-Level Emergency Visits; APC 0612, High Level Emergency Visits; and APC 0620, Critical Care.

When basing payment on CPT codes alone, the range of costs reflects hospitals' billing patterns in increasing level of intensity. However, those increasing increments are due largely to hospitals' use of “chargemaster” systems, which generate bills using predetermined charges for codes. Thus, billing patterns reflect standard bills, not the resources used in any particular case.

We had been concerned that certain hospitals' use of the lowest level code, CPT code 99201, to bill for all clinic visits would distort the data, causing inflation in both the volume and cost of low-level clinic visits, and a corresponding underreporting of mid- and high-level visits. (Costs for mid- and high-level visits would presumably have been correct, because individual hospitals would have reported appropriate charges with these codes; there simply would have been fewer reported visits at those levels.)

We have developed the weights for clinic visits by using claims data only from a subset of hospitals that billed a wider range of visits rather than relying solely on claims with CPT code 99201. We chose to use this subset of hospitals (for this purpose only) because we do not know what CPT code 99201 indicates when hospitals use it exclusively to bill all visits.

We emphasize the importance of hospitals assessing from the outset the intensity of their clinic visits and reporting codes properly based on internal assessment of the charges for those codes, rather than failing to distinguish between low-and mid-level visits “because the payment is the same.” The billing information that hospitals report during the first years of implementation of the hospital outpatient PPS will be vitally important to our revision of weights and other adjustments that affect payment in future years. We realize that while these HCPCS codes appropriately represent different levels of physician effort, they do not adequately describe nonphysician resources. However, in the same way that each HCPCS code represents a different degree of physician effort, the same concept can be applied to each code in terms of the differences in resource utilization. Therefore, each facility should develop a system for mapping the provided services or combination of services furnished to the different levels of effort represented by the codes. (The meaning of “new” and “established” pertain to whether or not the patient already has a hospital medical record number.)

We will hold each facility accountable for following its own system for assigning the different levels of HCPCS codes. As long as the services furnished are documented and medically necessary and the facility is following its own system, which reasonably relates the intensity of hospital resources to the different levels of HCPCS codes, we will assume that it is in compliance with these reporting requirements as they relate to the clinic/emergency department visit code reported on the bill. Therefore, we would not expect to see a high degree of correlation between the code reported by the physician and that reported by the facility.

Hospitals are required to use HCPCS code 99291 to report outpatient encounters in which critical care services are furnished. (See the American Medical Association's CPT 2000 coding manual for the definition of this code.) The hospital is required to use HCPCS code 99291 in place of, but not in addition to, a code for a medical visit or for an emergency department service.

We will work with the American Hospital Association and the American Medical Association to propose the establishment of appropriate facility-based patient visit codes in time for the next proposed rule.

Comment: Several commenters expressed concern that resources expended in the emergency department are not fully explained by the codes at their disposal. One commenter pointed out that some hospitals use internal coding systems to capture differing charges based on whether or not a case requires one-on-one nursing care.

Response: While we share commenters' concerns on this point, we remind hospitals that they can receive additional payment under the outpatient PPS for services such as diagnostic testing and administration of infused drugs, and for therapeutic procedures including resuscitation that are furnished during the course of an emergency visit. We will also pay separately for certain high cost drugs, such as the expensive “clotbuster” drugs that must be given within a short period of time following a heart attack or stroke, if these drugs are furnished during an emergency visit. Even though some ED patients will be transferred to another hospital for inpatient treatment, the hospital that administers the drugs will be paid for them. Cases that fall far outside the normal range of costs will be eligible for an outlier adjustment established by section 201(a) of the BBRA 1999. (See section III.H, below.) In addition, one of the first topics of review to be addressed by the expert outside advisory panel, required by section 201(h)(1)(B) of the BBRA 1999, will be to determine if emergency department visits can be categorized in a way that better recognizes the underlying resources, especially nursing resources, involved in the visit.

Comment: Several commenters expressed concern about the appropriate level of payment for patients who die in the ED. One commenter believes that services furnished to these patients are resource-intensive and recommends that we continue to pay for the services on a reasonable cost basis.

Response: We are directing fiscal intermediaries to use the following guidelines in determining how to make payment when a patient dies in the ED or is sent directly to surgery and dies there.

• If the patient dies in the ED, make payment under the outpatient PPS for services furnished.

• If the ED or other physician orders the patient to the operating room for a surgical procedure, and the patient dies in surgery, payment will be made based on the status of the patient. If the patient had been admitted as an inpatient, pay under the hospital inpatient PPS (a DRG-based payment). If the patient was not admitted as an inpatient, pay under the outpatient PPS (an APC-based payment). If the patient was not admitted as an inpatient and the procedure is designated as an inpatient-only procedure (payment status indicator “C”), no Medicare payment will be made for the procedure, but payment will be made for ED services.

Comment: Some commenters objected to our proposal to restrict payment for critical care services to CPT code 99291 and not allow payment for CPT code 99292. One commenter recommended that we create an APC group for the additional increments of time a physician spends in critical care for which the physician may bill.

Response: We do not believe that paying hospitals for incremental time as critical care would better reflect facility resources. The most resource-intensive period for the hospital is generally the first hour of critical care. In addition, we believe it would be burdensome for hospitals to keep track of minutes for billing purposes. Therefore, we will pay for critical care as the most resource-intensive visit possible as defined by CPT code 99291. Critical care services will be assigned to APC 0620.

Comment: Several commenters advised that a screening code was not necessary because an emergency visit code could be billed for ED screening services.

Response: We agree with the commenters, and we will instead use the appropriate emergency department codes for screening services (as defined in section 1867(a) of the Act). If no treatment is furnished, we would expect screening to be billed with a low-level emergency department code.

Comment: Some commenters expressed concern about our proposal to allow hospitals to create a separate claim for each visit when two or more medical visits occur on the same day for different diagnoses. Commenters feared that this would result in our paying under the outpatient PPS for clinic care furnished at sites other than hospital outpatient departments, and that we are promoting fragmented care. One commenter was concerned that, to the extent that patients see multiple specialists, tests will be repeated unnecessarily, hospitalizations will rise, and beneficiaries and the Medicare program will be burdened with additional, unnecessary costs.

Response: Our decision not to use diagnosis codes as a factor in determining payment for clinic visits largely negates these concerns because the need to prepare different claims for visits for different diagnoses has been eliminated. When patients are seen in different clinics on the same day, hospitals should bill using the proper codes for the level of the visits, using the units field if appropriate to reflect more than one visit at the same level.

However, we note that the comment did prompt us to develop a code for billing those visits during which numerous physicians see a patient concurrently, for example, a surgeon, medical oncologist, and radiation oncologist for a cancer patient, to discuss treatment options and to ensure that the patient is fully informed. In this instance, each physician is addressing the patient's care from a unique perspective. If several physicians see a patient concurrently in the same clinic for the same reason, the hospital would bill for one clinic visit using an appropriate visit code even though each physician would bill individually for his or her professional services. We have established a code for hospitals to use in reporting a scheduled medical conference with the patient involving a combination of at least three health care professionals, at least one of whom is a physician. That code is G0175, Scheduled interdisciplinary team conference (minimum of three, exclusive of patient care nursing staff) with patient present.

4. Treatment of Partial Hospitalization Services

As we explained in the proposed rule, partial hospitalization is an intensive outpatient program of psychiatric services provided to patients in lieu of inpatient psychiatric care. Partial hospitalization may be provided by a hospital to its outpatients or by a Medicare-certified community mental health center (CMHC). It is important to note that the services of physicians, clinical psychologists, clinical nurse specialists (CNSs), nurse practitioners (NPs), and physician assistants (PAs) furnished to partial hospitalization patients would continue to be billed separately to the carrier as professional services and are not considered to be partial hospitalization services. Thus, payment for partial hospitalization services represents the provider's overhead costs, support staff, and the services of clinical social workers (CSWs) and occupational therapists (OTs), whose professional services are considered to be partial hospitalization services for which payment is made to the provider. Including CSW and OT services reflects historical patterns of treatment billed during the base year.

Because a day of care is the unit that defines the structure and scheduling of partial hospitalization services, we proposed a per diem payment methodology for the partial hospitalization APC. We analyzed the service components billed by hospitals over the course of a billing period and determined the median hospital cost of furnishing a day of partial hospitalization. As noted in the June 30, 1999 correction notice, this analysis resulted in a proposed APC payment rate of $206.71 per day, of which $46.78 is the beneficiary's coinsurance.

We also solicited comments on a number of issues related to partial hospitalization. We asked for information on the mix of services that constitute a typical partial hospitalization day and average duration of a partial hospitalization episode, whether we should impose a minimum number of services for each covered partial hospitalization day, and whether we should establish a limit on routine outpatient mental health services furnished on a given day to equal the partial hospitalization per diem amount. Finally, we indicated that we are considering specifying a timeframe for physician recertification of need for partial hospitalization services as a method of ensuring that a patient's condition continues to require the intensity of a partial hospitalization program.

We did not receive a significant number of public comments on this issue. A summary of the comments we received and our responses follow.

Comment: We received many similar comments from rural hospitals that operate partial hospitalization programs. The hospitals indicated that the proposed per diem amount does not cover their direct cost of providing services. Each commenter included an estimate of their partial hospitalization program cost (without depreciation or allocation of overhead costs). The estimates range from $270 to $325 per patient per day. The commenters indicated that approximately 65 to 70 percent of the costs are personnel-related.

Response: The commenters did not indicate why their costs were higher than the per diem amount, but only that a significant proportion of their costs are related to personnel. In the future, we are committed to assessing the extent to which the per diem reflects special needs of rural hospitals. In the meantime, the BBRA 1999 includes provisions that offer relief to rural hospitals during the early years of the outpatient PPS. (See section III.H of this preamble.)

Comment: We received several other comments regarding the proposed per diem amount. One commenter stated that the proposed per diem rate is equivalent to 3.3 psychotherapy units. The commenter believed this is an inadequate level of therapy for partial hospitalization patients and suggested that a per diem rate equal to 4 psychotherapy units would provide payment for a more appropriate level of service intensity. Several other commenters suggested that we set a single rate using a therapeutic hour of treatment (for example, the group psychotherapy APC rate) as the unit of service coupled with an overall aggregate limit for a course of treatment. These commenters estimated that a typical partial hospitalization day costs $275. Another commenter, a national association, conducted a survey of its member hospitals which showed that the median cost per day of treatment was approximately $210. Other commenters urged us to establish separate per diem amounts for partial hospitalization programs serving geriatric beneficiaries and those serving disabled beneficiaries under age 65. They indicated that programs designed to serve geriatric beneficiaries consist of different treatment modalities that are costlier than programs that serve younger beneficiaries. One commenter stated that programs serving younger beneficiaries typically average high patient volume and therefore have much lower costs per patient day than do the programs that serve geriatric patients. Other commenters urged us to establish a half day rate, although some stated that a half-day benefit does not reduce administrative costs appreciably.

Response: In accordance with section 1833(t)(2)(C) of the Act, the proposed per diem amount represents the national median cost of providing partial hospitalization services. We used all the data from hospital bills that included the condition code 41, which identifies the claim as partial hospitalization. Because providers do not report on the claim the specific services provided each day, we do not currently have data that would permit us to establish an aggregate limit for a course of treatment or to analyze differences in the mix of services provided to various populations. As discussed in the preamble to the proposed rule and in Transmittal 7 of the CMHC Manual (issued November 1999) and Transmittal 747 of the Hospital Manual (issued December 1999), beginning April 1, 2000, hospitals and CMHCs will be required to indicate line item dates of service on claims. Once we have accumulated these data, we will be better able to determine if refinements to the per diem methodology are warranted, including the extent to which half-days are utilized.

Comment: Several commenters expressed concern that no CMHC data were used to establish the partial hospitalization per diem payment rate. The commenters stated that CMHC costs are significantly different from hospital-based programs and urged us to collect CMHC cost data and base payments to CMHCs on CMHC-specific information. Another commenter stated that implementing PPS for partial hospitalization services provided by CMHCs is intended to contain costs and urged us to track the impact of the PPS on CMHCs. Still another commenter expressed concern that the per diem amount is insufficient for CMHCs to provide quality services. The commenter admitted, however, that historically their service area has had limited resources to provide minimum support for the persistent and chronically mentally ill. Two commenters expressed concern about certification requirements for CMHCs. One urged us to require accreditation by a national accrediting body and another commenter noted that reliance on the statutory definition established for CMHCs under the Public Health Service Act in 1963 is no longer appropriate and urged us to redefine a CMHC for Medicare certification purposes.

Response: Partial hospitalization services are covered services under the hospital outpatient PPS. Section 1833(a)(2)(B) of the Act provides that partial hospitalization services furnished by CMHCs are to be paid under the hospital outpatient PPS. And, section 1833(t)(2)(C) of the Act requires that we establish relative payment weights based on median (or mean, at the election of the Secretary) hospital costs determined by 1996 claims data and data from the most recent available cost reports. As stated above, we are committed to analyzing future data from hospitals and CMHCs to determine if refinements to the per diem are warranted. As we noted in the proposed rule, the Medicare partial hospitalization benefit is designed to furnish services to patients who have been discharged from inpatient psychiatric care, and partial hospitalization services are provided in lieu of continued inpatient treatment, and for patients who exhibit disabling psychiatric/psychological symptoms or experience an acute exacerbation of a severe and persistent mental disorder. Because the statute requires a physician to certify that the patient would otherwise require inpatient psychiatric care in the absence of the partial hospitalization services, we do not believe the Medicare partial hospitalization benefit was intended to provide support for the persistent and chronically mentally ill except when they are in an acute phase of their mental illness. With regard to accreditation requirements for CMHCs and substantively revising the definition of a CMHC, this final rule is not the appropriate vehicle in which to address these issues. We are, however, amending § 410.2 to remove an obsolete provision from the definition of a CMHC.

Comment: Several commenters questioned whether the proposed per diem approach meets the definition of an APC, that is, a group of services that are comparable clinically and in resource use. They believed that partial hospitalizations vary widely in their treatment approach and cost. Therefore, creating one payment amount for all partial hospitalization days is not consistent with our proposed classification system.

Response: We continue to believe that the structure of the average partial hospitalization day is more similar than the commenters believe. We followed the basic analytical methodology used to establish all the APC payment amounts, except that we determined that, for partial hospitalization services, the unit of service is a day. Nonetheless, requiring providers to submit claims by date of service and by service provided will allow for future analysis to determine if the APC grouping for partial hospitalization can be improved.

Comment: One commenter expressed concern about the use of 1996 data as the basis for the per diem amount. They referenced testimony by the Inspector General that indicated a significant improvement in the accuracy of provider billing in 1998 audits. They urged us to use 1997 or 1998 cost reports by region to develop the APC rate.

Response: Section 1833(t)(2)(C) of the Act requires that we use 1996 claims data and the most recent cost reports as the basis for ratesetting under the hospital outpatient PPS. For purposes of the final rule, we primarily used cost reports for periods beginning in FY 1997.

Comment: Several commenters, including national industry associations, expressed concern that partial hospitalization programs are required by their individual fiscal intermediaries to meet different medical necessity and programmatic requirements. For this reason, programs vary widely in program content and resultant cost. The commenters urged us to establish national coverage criteria before implementing a PPS for partial hospitalization services. Another commenter urged us to rely on more recent claims data that identify all services provided on each date of service in order to determine the relative resource cost of various outpatient mental health treatment programs.

Response: Section 1833(a)(2)(B) of the Act provides that partial hospitalization services are paid under section 1833(t). We will refine the system, as needed, based on our review of more specific bill data. Movement to a per diem payment methodology will necessitate changes in the medical review approach used by fiscal intermediaries. It will become necessary to ensure that all patients receive the level of service their individual condition requires. Some patients will require days of service that cost the provider more than the per diem payment amount. Other patients may require less intensive days of service during an acute episode of partial hospitalization care or as they transition out of the partial hospitalization program. We will be developing medical review guidance for fiscal intermediaries, which we believe will lead to more consistency in medical review.

Comment: One commenter noted that, in the past, a daily or partial-day payment approach was commonly used and was abandoned in favor of component billing for each partial hospitalization service. The commenter now believes that component billing provides a more accurate indication of the services provided to individual patients.

Response: We believe that a per diem payment approach is a more appropriate methodology than billing for each program component. This approach is supported by the major industry groups involved with partial hospitalization and is used by other governmental and private insurers to pay for partial hospitalization program services. A per diem approach also incorporates and recognizes the cost of services that are not separately billable as outpatient psychiatric services, such as nursing services, training and education services, activity therapy, and support staff costs.

Comment: Several commenters requested additional information on the HCPCS codes to which the partial hospitalization indicator applies and questioned how codes will group to APC 20 rather than grouping to psychotherapy APCs 91 through 94. They also asked whether substance abuse day programs will group to APC 20.

Response: We issued revised billing instructions for partial hospitalization services provided by CMHCs in November 1999 and for hospital programs in December 1999. We instructed CMHCs to use HCPCS codes to bill for their partial hospitalization services; we required hospitals and CMHCs to report line item dates of service; and we established new HCPCS codes for occupational therapy and training and educational services furnished as a component of a partial hospitalization treatment program. We included in the instructions a complete listing of the revenue codes and HCPCS codes that may be billed as partial hospitalization services as follows:

Revenue codes | Description | HCPCS code
43X | Occupational Therapy (Partial Hospitalization) | G0129.
904 | Activity Therapy (Partial Hospitalization) | Q0082.
910 | Psychiatric General Services | 90801, 90802, 90875, 90876, 90899, or 97770.
914 | Individual Psychotherapy | 90816, 90818, 90821, 90823, 90826, or 90828.
915 | Group Psychotherapy | 90849, 90853, or 90857.
916 | Family Psychotherapy | 90846, 90847, or 90849.
918 | Psychiatric Testing | 96100, 96115, or 96117.
942 | Education Training (Partial Hospitalization) | G0172.

To bill for partial hospitalization services under the hospital outpatient PPS, hospitals are to use these HCPCS and revenue codes and are to specify condition code 41 on the HCFA-1450 claim form. Before assigning a claim for payment to APC 0033 (the final APC for partial hospitalization services), the outpatient code editor (OCE) will check for errors; for example, the OCE will verify that the claim includes a mental health diagnosis, and at least three partial hospitalization HCPCS codes for each day of service, one of which must be a psychotherapy HCPCS code (other than brief). Claims that do not pass the OCE edits will undergo further prepayment review.

With regard to the comments regarding substance abuse day programs, the Medicare benefit category is partial hospitalization services. Because there is no separate benefit category for substance abuse programs, any such program would have to meet requirements established for partial hospitalization programs in order for claims to group to APC 0033, including the requirements that a physician certify that the patient would otherwise require inpatient psychiatric care in the absence of the partial hospitalization services and that the program provides active treatment.

Comment: In regard to physician recertification, we received several comments expressing support for establishing a specific timeframe and recommending a range from 7 to 31 days.

Response: We agree that physicians should initially certify a patient's need for partial hospitalization services and recertify continued need for this intensive level of treatment. Because partial hospitalization is the outpatient substitute for inpatient psychiatric care, we believe it is appropriate to adopt the standard currently used for inpatient psychiatric care. Therefore, in this final rule, we are amending § 424.24(e) to establish physician recertification requirements for partial hospitalization services. The initial physician certification establishing the need for partial hospitalization must be received by the partial hospitalization program upon admission. Thus, services provided to establish a patient's need for partial hospitalization services would continue to be billed to the carrier as professional services. The first recertification is required as of the 18th day of services and subsequent recertifications are required no less frequently than every 30 days. Each recertification must address the patient's response to the intensive, therapeutic interventions provided by the active treatment program which make up partial hospitalization services, changes in functioning and status of the serious psychiatric symptoms that place the patient at risk of hospitalization, and treatment plan and goals for coordination of services such as community supports and less intensive treatment options to facilitate discharge from the partial hospitalization program.

Comment: We received several comments regarding our proposal to limit payment for less intensive outpatient mental health treatment at the partial hospitalization per diem rate. One commenter did not believe the law supports establishment of a payment ceiling and that any such action is arbitrary. Other commenters believe that treatment should be determined by the clinical needs of each patient. However, the commenters conceded that additional requirements may have to be added to the final rule to prevent duplication or overlap of partial hospitalization and routine outpatient mental health services.

Response: Our rationale for this proposal was that the costs associated with administering a partial hospitalization program represent the most resource intensive of all outpatient mental health treatment and, therefore, we should not pay more for a day of individual services. We are also concerned that a provider may disregard a patient's need for the intensive active treatment offered by a partial hospitalization program and opt to bill for individual services. In addition, the per diem amount represents the cost of an average day of partial hospitalization because the data used to calculate the per diem were derived from all the partial hospitalization data and include the most and the least intensive days. It would not be appropriate for a provider to obtain more payment through component billing.

Comment: Several commenters expressed concern about staffing services that are bundled in the per diem payment and other staffing issues. One commenter stated that due to increased medical review by the fiscal intermediary, no partial hospitalization services may be furnished by unlicensed personnel. The commenter urged that the necessity for upgrades in staffing be taken into consideration in establishing a per diem rate. One commenter believes that all services, except for physician services, should be bundled into the per diem rate.

Response: The list of covered partial hospitalization services is located in section 1861(ff) of the Act. The list includes several services such as patient education and training and activity therapy that may be provided by unlicensed but qualified staff who are specifically trained to work with the mentally ill. We note that the billing instructions issued in November 1999 (for CMHCs) and in December 1999 (for hospitals) announced a new HCPCS code for patient training and education services as a component of a partial hospitalization program. (A HCPCS code for activity therapy as part of a partial hospitalization program has been in place for several years.) Although the list also specifically references the services of social workers, trained psychiatric nurses, and other staff trained to work with psychiatric patients, there are no specific HCPCS codes for these services. Certain other partial hospitalization services, for example, individual and group psychotherapy, family counseling, occupational therapy (OT), and diagnostic services, must be provided by licensed staff, authorized by the State to provide these services.

With regard to the content and staffing of partial hospitalization programs, we believe that all the covered services listed in section 1861(ff) of the Act and the disciplines of the staff who provide the services, that is, the multidisciplinary team, are an important element in creating the therapeutic milieu that distinguishes partial hospitalization programs from other outpatient mental health treatment. We believe it would be inappropriate if providers no longer offered the full range of partial hospitalization services, especially services such as OT that continue to be bundled in the per diem amount. We plan to monitor the extent to which providers change their programming in response to implementation of the PPS. Because the data on which the per diem was based included the full range of services and the use of certain bundled professionals, we will monitor changes in services or increased use of unbundled practitioners to evaluate and update the per diem rate. In response to the comment recommending that we bundle more professional services into the per diem rate, we captured historical patterns of treatment and staffing during the base year. Thus, the partial hospitalization per diem amount is limited to the provider's overhead costs, support staff, and the services of clinical social workers and occupational therapists, whose professional services are defined as partial hospitalization services. We have amended § 410.43(b) to update the list of services that are not paid as partial hospitalization services.

Comment: One commenter took issue with our characterizing partial hospitalization to be the result of an acute exacerbation of a beneficiary's severe and persistent mental illness for which partial hospitalization services are provided in lieu of an inpatient psychiatric admission. They urged us to clarify that admission to a partial hospitalization is based on a physician certification that the patient would otherwise require inpatient psychiatric care, but continued stay in a partial hospitalization program would serve as a maintenance program for the chronically mentally ill. The commenter raised many other concerns about how we described partial hospitalization in the proposed rule, noting specific concern with regard to active treatment, community-based support, and frequency and duration of services.

Response: It was not our intention in the proposed rule to generate public comment on the nature and coverage of partial hospitalization under the Medicare program. Rather, the information presented has appeared in various program memoranda and was included to describe the benefit and explain the per diem payment methodology. We continue to believe that partial hospitalization is a covered Medicare benefit category only when provided as an alternative to inpatient psychiatric care for acutely mentally ill beneficiaries.

Result of Evaluation of Comments

We are adopting as final our proposal to—

• Establish a per diem payment of $202.19 for the partial hospitalization APC (APC 0033); and

• Limit the payment for outpatient mental health treatment furnished on a day of services to the partial hospitalization APC payment amount.

In addition, we are amending § 424.24(e) to establish requirements for physician recertification for partial hospitalization services.

5. Inpatient Only Procedures

In our proposed rule, we assigned payment status indicator “C” to 1,803 codes that represent procedures that our medical advisors and staff determined require inpatient care because of the invasive nature of the procedure, the need for postoperative care, or the underlying physical condition of the patient who would require the surgery. We did not assign these procedures to an APC group, and we proposed to make no payment for these services under the hospital outpatient PPS. Above, in section III.B.1.b of this preamble, we respond to the numerous general comments we received challenging both our classification of various procedures as inpatient procedures and our exclusion of these procedures from the scope of services paid under the hospital outpatient PPS.

Comment: Commenters objected on the grounds that medical practice and new technology have allowed many procedures that formerly were performed only in the inpatient setting to be safely and effectively performed on an outpatient basis. In addition, they believe we are making decisions that should be left to the discretion of surgeons and their patients. Finally, the commenters believe that it is better for the patient if procedures are performed on an outpatient basis whenever possible. Commenters requested that we remove the payment status indicator of “inpatient only” from 195 codes and include them in an appropriate APC.

Response: Under section 1833(t)(1)(B)(i) of the Act, the Secretary has broad authority to designate which services fall within the definition of “covered OPD [outpatient department] services” that will be subject to payment under the prospective payment system. We believe that certain surgically invasive procedures on the brain, heart, and abdomen, such as craniotomies, coronary-artery bypass grafting, and laparotomies, indisputably require inpatient care, and therefore are outside the scope of outpatient services. Certain other procedures that we proposed as “inpatient only” may not be so clearly classified as such, but they are performed virtually always on an inpatient basis for the Medicare population. We acknowledge that emerging new technologies and innovative medical practice are blurring the difference between the need for inpatient care and the sufficiency of outpatient care for many procedures, although we are concerned that some of the procedures that commenters claim to be performing on an outpatient basis may actually have been performed with overnight postoperative care furnished in observation units. And, regardless of how a procedure is classified for purposes of payment, we expect, as we stated in our proposed rule, that in every case the surgeon and the hospital will assess the risk of a procedure or service to the individual patient, taking site of service into account, and will act in that patient's best interests.

After a careful review of comments by our medical advisors and staff, we have assigned to APC groups certain procedures that we had proposed as inpatient only. We made some changes because we were convinced by commenters' arguments that certain procedures are often performed safely in the outpatient setting; others because we believe that the simplest procedure described by the code may be performed safely in the outpatient setting; and yet others because they were related to codes we moved (for example, the radiologic part of an interventional cardiology procedure). The procedures we moved to the outpatient APCs include codes from within the following families: Explorations of penetrating wounds; repairs of some cranial and facial fractures; planned tracheostomies; diagnostic thoracoscopies; some insertion/removal/replacement of pacemakers, pulse generators, electrodes and cardioverter-defibrillators; embolectomies and thrombectomies; transluminal balloon angioplasty and peripheral atherectomy; transcatheter therapies; bone marrow transplantation; gastrostomies; percutaneous nephrostolithotomy; surgical laparoscopies, including cholecystectomies; ovarian biopsies; and surgeries on the orbit. Although we are moving these procedures into APC groups and they can receive outpatient payment, we emphasize that we expect only the simplest and least resource intensive procedures of each type to be performed in the outpatient setting. For example, several codes could be used to describe initial insertion of a pacemaker or replacement of the pacemaker or its electrodes. We believe most initial pacemaker insertions are performed on an inpatient basis, so codes billed in this range are most likely to be for replacement of a pacemaker, which requires fewer facility resources.

Because of the risk involved with invasive cardiovascular procedures, including angioplasty and atherectomy, we are placing an additional requirement on their performance that we do not think is necessary with other procedures. That is, Medicare will pay for these procedures only in those settings in which the patient can immediately be placed on cardiopulmonary bypass in the event of a complication such as perforation of a coronary artery, which would require an immediate thoracotomy.

When our medical advisors and staff disagreed with the recommendation of commenters to reclassify a particular procedure, they based their decision to retain a procedure as “inpatient only” on several considerations. In general terms, as stated above, we define inpatient procedures as those that require inpatient care because of the invasive nature of the procedure, the need for at least 24 hours of postoperative recovery time or monitoring before the patient can be safely discharged, or the underlying physical condition of the patient who would require the surgery. In other words, inpatient procedures are those that, in the judgment of our medical advisors and staff, would not be safe, appropriate, or considered to fall within the boundaries of acceptable medical practice if they were performed on other than a hospital inpatient basis.

Among the procedures cited by commenters that we believe should remain as “inpatient only” are: Breast reconstruction using myocutaneous flaps; radical resections of tumors of the mandible; open treatment of certain craniofacial fractures; osteotomies of the femur and tibia; sinus endoscopy with repair of cerebrospinal fluid leaks; carinal reconstruction; surgical thoracoscopies; pacemaker procedures by thoracotomy; certain thromboendarterectomies; excision of mediastinal cysts and tumors; excisions of stomach tumors; enterostomies; hepatotomies; ureterotomies and ureteral endoscopies through ureterotomies; transcranial approaches to the orbit; and laminectomies. Our medical advisors and staff, as well as consulting physicians, believe these procedures are too invasive (for example, thoracotomies), too extensive (for example, breast reconstruction with myocutaneous flaps), or too risky by virtue of proximity to major organs (for example, repairs of spinal fluid leaks and carinal reconstruction) to be performed on an outpatient basis. The procedures that we exclude from outpatient payment because we believe they should be performed on an inpatient basis are listed in Addendum E. This list represents national Medicare policy and is binding on fiscal intermediaries and peer review organizations as well as on hospitals and Medicare participating ASCs. Note, however, that services included in outpatient PPS and assigned to an APC may be performed on an inpatient basis when the patient's condition warrants inpatient admission.

In the future, as part of our annual update process, we will be working with professional societies and hospital associations, as well as with the expert outside advisory panel that we will be convening as required by new section 1833(t)(9)(A) of the Act, to reevaluate procedures on the “inpatient only” list and we will propose to move procedures to the outpatient setting whenever we determine it to be appropriate. For example, a decreasing length of inpatient stay for a procedure may signal that it is appropriate for consideration for payment under the outpatient PPS. If hospitals find that surgeons are discharging patients successfully on the day of surgery, they should bring this to our attention as well, because hospitals may become aware of this trend before our payment data disclose it. Thus, assignment of a “C” payment status indicator in this final rule should not be considered as a permanent or irrevocable designation.

Comment: One professional society recommended that we assign payment status indicator “C” to CPT codes 21343, open treatment of depressed frontal sinus fracture, 42842, radical resection of tonsil, tonsillar pillars, and/or retromolar trigone—without closure, and 69150, radical excision external auditory canal lesion—without neck dissection, because these procedures require inpatient care.

Response: We accepted the commenters' recommendation that these CPT codes should not be performed in an outpatient setting. We also reclassified as an inpatient procedure CPT code 94762, noninvasive ear or pulse oximetry for oxygen saturation; by continuous overnight monitoring (separate procedure), because it requires an overnight stay.

Comment: One commenter noted that, to the extent that we require that certain surgical procedures be performed in an inpatient setting in order to receive Medicare payment, the beneficiary will incur the higher deductible associated with a hospital inpatient service.

Response: The commenter is correct that the Part A hospital inpatient deductible amount that a beneficiary will have to pay may be higher than coinsurance and deductibles the beneficiary would have paid as an outpatient for a surgical procedure. However, our decisions concerning whether to pay for certain surgical procedures under the PPS are based on patient safety concerns and the medical appropriateness of performing the procedures in the hospital inpatient versus outpatient setting.

Final Action

Under the hospital outpatient PPS, we will not make payment for procedures that are designated as “inpatient only.” We have, however, revised the list of procedures that are designated as “inpatient only” based on comments. (See Addendum E.)

6. Modification of APC Groups

a. How the Groups Were Constructed

Section 1833(t)(2)(A) of the Act requires the Secretary to develop a classification system for covered outpatient services. Within that classification system, the Secretary is given the authority under section 1833(t)(2)(B) of the Act to establish groups of covered services so that the services within each group are comparable clinically and with respect to the use of resources. In the proposed rule, we explain how we constructed the APC groups that are the basis for ratesetting under the hospital outpatient PPS.

Our medical advisors and staff used the ambulatory patient groups (APGs) developed by 3M-Health Information Systems as a starting point for the APC groups, but we modified the APGs to take into account 1996 outpatient claims data, data collected in a 1994 survey of ambulatory surgical center (ASC) costs and charges, data collected in 1995 and 1996 to establish resource-based practice expense relative values under the Medicare physician fee schedule, and comments offered by a broad range of professional and trade societies and associations. For a more detailed discussion of this process, see section V.B of the proposed rule (63 FR 47561).

b. Comments on Classification of Procedures and Services Within APC Groups

In the proposed rule, we invited comments on the composition of the APC groups, and we requested that commenters support their recommendations for changes with resource cost data and clinical arguments. We received a large number of comments on our proposed grouping of individual procedures and services. The most common comment was that the APC groups generally lacked consistency in terms of clinical characteristics and resource utilization. Below, in section III.C.6.d of this preamble, we address recommendations from commenters that specific HCPCS codes be assigned to a group other than the one we proposed. In addition to reviewing the APC groups that were the subject of comments, our medical advisors and staff reviewed every APC group to take into account the effect across all related groups of commenters' recommended changes.

Criteria for Evaluating Changes Recommended by Commenters

In determining whether or not to accept a recommended change, we focused on five criteria that are fundamental to the definition of a group within the APC system. The decision to accept or decline a modification to an APC group was measured by whether the change enhanced, detracted from, or had no effect on the integrity of an APC group within the context of these five criteria. The five criteria are as follows:

• Resource Homogeneity

The amount and type of facility resources, for example, operating room time, medical surgical supplies, and equipment, that are used to furnish or perform the individual procedures or services within each APC should be homogeneous. That is, the resources used are relatively constant across all procedures or services even though resource use may vary somewhat among individual patients. If the procedures within an APC require widely varying resources, it would be difficult to develop equitable payment rates. Aggregated payments to a facility that performed a disproportionate share of either the expensive or inexpensive procedures within an APC would be distorted. Further, the facility might be encouraged to furnish only the less costly procedures within the APC, resulting in a potential access problem for the more costly services.

It is important to note that procedures within an individual HCPCS code can vary widely in resource use. The coefficient of variation of cost for the procedures within one HCPCS code can be as high as the overall coefficient of variation across all the HCPCS codes that comprise an APC group. Thus, a significant amount of the variability in resource use within some APC groups can be attributed to the variability of resources within individual HCPCS codes. Nevertheless, if resource use is reasonably homogeneous among the HCPCS codes within an APC group, the average pattern of resource use among a group of cases in an APC can be accurately predicted. In section III.C.6.c, below, we discuss the BBRA 1999 provision that sets limits on the variation in resource cost within an APC.

• Clinical Homogeneity

The definition of each APC group should be “clinically meaningful,” that is, the procedures or services included within the APC group relate generally to a common organ system or etiology, have the same degree of extensiveness, and utilize the same method of treatment, for example, surgical, endoscopic, etc. The definition of clinical meaningfulness is, of course, dependent on the goal of the classification system. For APCs, the definition of clinical meaningfulness relates to the medical rationale for differences in resource use. If, on the other hand, classifying patient prognosis were the goal, the definition of patient characteristics that were clinically meaningful might be different.

• Provider Concentration

We considered the degree of provider concentration associated with the individual services that comprise the APC. If a particular service is offered only in a limited number of hospitals, then the impact of payment for the service is concentrated in a subset of hospitals. Therefore, it is particularly important to have an accurate payment level for services with a high degree of provider concentration. Conversely, the accuracy of payment levels for services that are routinely offered by most hospitals does not bias the payment system against any subset of hospitals. Thus, differences in the resource requirements for individual services within an APC are of less significance if all the services within the APC are routinely offered by most hospitals because the impact of the difference should average out at the hospital level.

• Frequency of Service

Unless we found a high degree of provider concentration, we avoided creating separate APC groups for services that are infrequently performed. It is difficult to establish reliable payment rates for low volume APC groups. Therefore, we assigned the HCPCS codes to the APC that was the most similar in terms of resource use and clinical coherence.

Some procedures, such as craniotomies, are clearly inpatient procedures, and are rarely performed in an outpatient setting. However, there are some procedures that, while they are normally performed on an inpatient basis, can also be safely performed on an outpatient basis. The performance of those procedures on an outpatient basis is infrequent and is limited to the simplest cases. Therefore, when we included these procedures in APC groups, we assumed a level of resource use that would apply only to the simplest cases rather than that typical of more complex cases that would be performed on an inpatient basis.

• Minimal Opportunities for Upcoding and Code Fragmentation

The APC system is intended to discourage using a code in a higher paying group to define a case. That is, putting two related codes, such as the codes for excising a lesion of 1.1 cm and one of 1.0 cm, in different APC groups may create an incentive to exaggerate the size of the lesions in order to justify the incrementally higher payment. APC groups based on subtle distinctions would be susceptible to this kind of upcoding. Therefore, we kept the APC groups as broad and inclusive as possible without sacrificing resource or clinical homogeneity.

In general, HCPCS codes that are nonspecific (such as 20999, “unlisted procedure, musculoskeletal system, general”) were assigned to the lowest paying APC that was consistent with the clinical characteristics of the service. In the case of 20999, the codes to which it is related are in the range 20000-20979. The APCs to which they group range from 0004, with a payment rate of $89.22, to 0050, with a payment rate of $1,024.53. We placed 20999 in the lowest paying, related group, 0004.

c. Effect of the BBRA 1999 on Final APC Groups

Section 201(g) of the BBRA 1999 amends section 1833(t)(2) of the Act to limit the variation in resource use among the procedures or services within an APC group. Specifically, section 1833(t)(2) of the Act now provides that the items and services within a group cannot be considered comparable with respect to the use of resources if the highest cost item or service within a group is more than 2 times greater than the lowest cost item or service within the same group. The Secretary is to use either the mean or median cost of the item or service. We are using the median cost because we have continued to set the relative payment weights for each APC based on median hospital costs in this final rule. (See the discussion in section III.E of this preamble.)

Section 1833(t)(2) of the Act as amended also allows the Secretary to make exceptions to this limit on the variation of costs within each group in unusual cases such as low volume items and services, although we may not make such an exception in the case of a drug or biological that has been designated as an orphan drug under section 526 of the Federal Food, Drug, and Cosmetic Act. See the discussion of the classification of orphan drugs in section II.D of this preamble and the discussion of APC groups that we excepted from the “2 times” limit in section III.C.6.e.

We applied the limit on variation on median costs required by section 201(g) to the revised APC groups. (See section C.6.d, below.) As a result of our analysis of the array of median costs within the revised APC groups, we had to split some otherwise clinically homogeneous APC groups into smaller groups. We are concerned that this further subdivision of groups may create vulnerabilities for upcoding, which conflicts with one of the five criteria described above that we used to evaluate the construction of the APC groups. We will be examining the extent to which the APC reorganization due to the “2 times” rule results in upcoding.

d. Summary of APC Modifications

In this section, we summarize and explain our response to comments on individual or serial APCs. We use the APC number that appeared in the proposed rule to identify a group that was changed. In most instances, we moved a HCPCS code from its proposed APC group to a different APC group either in response to comments or to comply with section 1833(t)(2)(C) of the Act. In some cases, we moved codes when a change in response to a comment or the cost variation limit resulted in a grouping that seriously compromised one of the criteria we used to evaluate changes recommended by commenters. Because we made so many changes in the APC groups, we renumbered all the groups and, in many cases, renamed groups. In our response to comments in connection with an APC, the final designation for a HCPCS code corresponds to the renumbered APC group found in the addenda.

APC 121: Level I Needle Biopsy/Aspiration

Comment: One specialty society commented that there was significant variation in resource consumption for the procedures performed in this APC and that the proposed payment rate of $33.95 for APC 121 does not accurately reflect the preparation, examination, and consultation expenses for a pathologist to thoroughly perform these procedures. The commenter recommended including CPT codes 85095, 85102, 88170, and 88171 in proposed APC 122.

Response: The procedures we proposed to classify in APC 121 were considered sufficiently similar from a clinical perspective. We found no provider concentration associated with the procedures proposed for this APC. Therefore, any variation in cost across the procedures in this APC should average out at the hospital level. However, to be consistent with the BBRA 1999 “two times” provision concerning comparable resources, we have moved CPT codes 85095 and 85102 to final APC 0003, and CPT codes 88170 and 88171 remain in final APC 0002.

APC 122: Level II Needle Biopsy/Aspiration

Comment: A number of commenters indicated that there was significant variation in resource consumption for the procedures proposed in this APC group. For example, one commenter stated that although all the codes within this group are needle biopsies, they range dramatically in complexity, they are quite dissimilar in terms of resource use, they are not clinically similar, and the proposed grouping results in inappropriate payment for the more complex procedures.

Response: We decided that CPT code 67415, Fine needle aspiration of orbital contents, was more appropriately grouped from a clinical perspective with ophthalmic procedures in final APC 0239. We further divided the codes in proposed APC groups 121 and 122 for needle biopsy/aspiration into final APC groups 0002, 0003, 0004, and 0005 to be consistent with the BBRA 1999 “two times” requirement.

APC 131: Level I incision & drainage

Although we received no comments on proposed APC group 131, based on internal review of this APC, we moved CPT code 11976, Removal, implantable contraceptive capsules, to final APC 019 because this procedure represents an excision rather than an incision. We divided proposed APC 131 into final APC groups 0006, 0007, and 0008 to be consistent with the BBRA 1999 “two times” requirement.

APC 141: Level I Destruction of lesion

APC 142: Level II Destruction of lesion

Comment: One commenter questioned our proposed assignment of CPT codes 17106 through 17108, which describe destruction of cutaneous vascular proliferative lesions, to APC groups 141 and 142.

Response: We moved CPT code 17106 to final APC 0011 because its median cost is significantly higher than the other codes in 0010. However, the median cost for that code is greater than we would have expected it to be. We will review the appropriateness of this placement in the course of future updates of the APC groups.

APC 151: Level I debridement/destruction

APC 152: Level II debridement/destruction

Comment: We received general comments questioning the resource homogeneity of the proposed skin APC groups. One commenter recommended including removal of skin lesion with laser on other body parts in proposed APC 152 rather than restricting the APC to vulva, anus, and penis procedures. The commenter believes that removal of these benign lesions, including papillomas, should include other areas of the body.

Response: We agree with commenters' general concerns about resource homogeneity. We reclassified the codes in proposed APCs 151 and 152 into final APC groups 00012 through 00017 to better differentiate resource use and clinical characteristics and to be consistent with the “two times” BBRA 1999 requirement. We also moved CPT code 42809, Removal of foreign body from pharynx, to final APC 251 because it is an otorhinolaryngology (Ear/Nose/Throat (ENT)) procedure.

APC 161: Level I excision/biopsy

APC 162: Level II excision/biopsy

APC 163: Level III excision/biopsy

Comment: Numerous commenters were concerned about the variation of resource use among the procedures in proposed APC groups 161, 162, and 163. Commenters requested that we consider classifying procedures in these groups based on anatomic location where functionality is of high importance in combination with the size of excision.

Response: We made a number of modifications to the excision APC groups to satisfy the BBRA 1999 “two times” requirement, resulting in final APC groups 0018 through 0022. We reclassified CPT codes 11043 and 11044 to APC groups 0016 and 0017 because these codes describe debridement of skin, subcutaneous tissue, muscle, and bone.

In the final excision/biopsy APC groups, we endeavored to make distinctions based on the location and size of the excision. For example, excisions of malignant lesions from the face, ears, eyelids, nose, lips greater than 4 cm were placed in an APC requiring more resource use than excisions of malignant lesions from the trunk, arms or legs greater than 4 cm because “functionality” is of greater importance when the site is the face, ears, eyelids, nose, or lips. We moved excisions involving the eye to ophthalmic procedure APCs. We did not make grouping distinctions between benign and malignant lesions of the same size and location because resource use for both types is similar.

We moved benign and malignant excisions larger than 2 cm to final APC group 0020 because these excisions require more resources than, for example, excisions smaller than 1 cm.

We moved CPT code 20220, superficial biopsy of bone (e.g., ilium, sternum, spinous process, ribs) with trocar or needle, to final APC 0019, because the resources used in connection with this procedure are similar to those required for excisions of small benign or malignant lesions.

As noted above, we classified two debridement procedures (CPT codes 11043 and 11044) to final APC groups 0016 and 0017, respectively.

We also moved seven codes from proposed APC 162 to the ophthalmic APC groups.

APC 181: Level I skin repair

APC 182: Level II skin repair

APC 183: Level III skin repair

APC 184: Level IV skin repair

Comment: We received numerous comments expressing concern about the consistency of resource use and clinical homogeneity of the procedures in the four proposed skin repair APC groups. Many commenters recommended moving more complex procedures, such as large layer closures, to an APC with a higher payment rate because the procedures require more operating room and recovery time. Some commenters recommended moving some of the skin repair codes to other body systems.

Response: Our review of proposed APC groups 181, 182, 183, and 184 resulted in our regrouping the skin repair codes based more on cost than on clinical considerations. The volume of claims in most of the codes, however, is quite low. In addition, we moved CPT code 33222, Revision or relocation of skin pocket for pacemaker, from proposed APC 360 to final APC 0026, because this procedure is so similar to the other skin repair procedures in terms of clinical content and resource consumption. We will review these groups carefully as data become available.

APC 197: Incision/excision breast

APC 198: Breast reconstruction/mastectomy

Comment: One commenter observed that the procedures in proposed APC group 198 are related both to the definitive treatment of breast cancer and to plastic and reconstructive operations of the breast. The commenter recommended moving CPT code 19162, Mastectomy, partial with axillary lymphadenectomy, and CPT code 19182, Mastectomy, subcutaneous, into an APC group with a higher payment rate because both procedures are more complex and involve more time and resources than the other procedures in proposed APC group 198. Another commenter stated that CPT code 19162, and CPT code 19318, Reduction mammoplasty, require significantly longer operating times than the other procedures in proposed APC group 198. The same commenter further observed that CPT code 19162 essentially involves performing two procedures.

Response: Our medical advisors and staff carefully reviewed the comments submitted in connection with the procedures in proposed APC group 198 within the context of the criteria that we discuss at the beginning of this section. They concluded that, although reduction mammoplasty (CPT code 19318) could require slightly more resources, a reduction mammoplasty is still fundamentally similar to other procedures in proposed APC 198 such as CPT code 19162, Partial mastectomy with axillary lymphadenectomy. Our medical advisors and staff concluded that the procedures in proposed APC groups 197 and 198 were sufficiently similar clinically and in terms of resource use to retain the proposed groupings. Therefore, we are retaining our proposed grouping in final APC groups 0029 and 0030.

APC 207: Closed treatment fracture finger/toe/trunk

Although we did not receive comments about this APC group, our medical advisors and staff determined that treatment of closed fractures pertaining to the larynx should be moved to the ENT APC groups because they are more similar from a clinical and resource use perspective to ENT procedures. The larynx procedures do not involve casts and, more importantly, they require completely different resources and ancillary personnel than, for example, the setting of a finger fracture. Proposed APC 207 is renumbered final APC 0043.

APC 209: Closed treatment fracture/dislocation except finger/toe/trunk

Comment: One commenter objected to including multiple procedures for dislocation and fractures in proposed APC group 209, when the cost of drugs and supplies alone for these procedures probably exceeds $100. The commenter believed that the proposed payment rate for APC 209 was $71.00.

Response: We note that the proposed payment for APC 209 was $98.75, rather than $71.00, as the commenter quoted. Although we included in proposed APC 209 some procedures that could involve considerable time and resources, only the simplest cases of these potentially more complex procedures would be performed on an outpatient basis, with proportionally lower costs than would be incurred when the procedures are performed in an inpatient setting. Therefore, we retained in final APC 0044 the codes in proposed APC 209, except we moved CPT code 31586, Treatment of closed laryngeal fracture, to final APC 0256, because this is primarily an ENT procedure.

APC 216: Open/percutaneous treatment fracture or dislocation

Comment: Numerous commenters took issue with the variation in resource use among the procedures that include the open treatment of almost all bone fractures, ranging from relatively simple finger and toe fractures to major long bone fractures.

Response: We expect that only the simplest of the procedures proposed in APC group 216 would be performed on an outpatient basis. Therefore, we kept open/percutaneous treatment of fractures in one APC rather than splitting these procedures into multiple APCs. We find it unlikely that one provider would specialize in, for example, only open fractures of fingers or only open fractures of long bones. Because the CPT code descriptors for so many procedures in this APC group indicate “with and/or without internal fixation,” it is impossible to make distinctions based on whether or not internal fixation is applied. Proposed APC 216 is renumbered final APC 0046.

APC 226: Maxillofacial prostheses

APC 231: Level I skull and facial bone procedures

APC 232: Level II skull and facial bone procedures

Although we did not receive specific recommendations for these APCs, our medical advisors and staff determined that the procedures in these groups are more similar to ENT procedures from a clinical and resource use perspective. Therefore, we moved all of the procedures in these proposed APC groups to the final APCs 0251 through 0256, the ENT APCs.

APC 251: Level I Musculoskeletal Procedures

APC 252: Level II Musculoskeletal Procedures

Comment: One commenter expressed concerns about the clinical homogeneity of the codes in these two groups. The commenter stated that proposed APC 251 contains 77 widely disparate procedures, including CPT code 23100 and CPT code 24100, which describe arthrotomies with biopsies, CPT code 25248, Exploration with removal of deep foreign body, forearm or wrist, and CPT code 27704, Removal of ankle implant. The commenter further stated that proposed APC 252 contains equally diverse procedures ranging from: CPT code 20900, Bone graft, any donor area; minor or small, to CPT code 25251, Removal of wrist prosthesis; complicated, including “total wrist,” to CPT codes 27396, 27580, and 27665, which are different types of tendon procedures. The commenter recommended that procedures that require specialized equipment and more operating room time be moved into a group with a higher payment rate.

Response: Our medical advisors and staff, after careful consideration of the commenter's concerns and after reviewing alternative groupings of the numerous codes in these two proposed musculoskeletal APC groups, concluded that splitting these groups to address the disparities cited by the commenter would result in too many small, low-volume groups for which we would be unable to establish reliable payment rates. The broad inclusiveness of these two APC groups is in part a reflection of the magnitude of the musculoskeletal system. Given the homogeneity of resource use across the many procedures within each group, we concluded that the factors supporting retention of the two groups outweighed the concerns raised by the commenter. We did, however, move CPT code 27086, Removal of foreign body, pelvis or hip; subcutaneous tissue, to final APC 0019.

APC 280: Diagnostic Arthroscopy

APC 281: Level I Surgical Arthroscopy

APC 282: Level II Surgical Arthroscopy

Comment: A number of commenters expressed concerns about the homogeneity of codes in the proposed surgical arthroscopy APC groups. In particular, commenters stated that while an arthroscope is needed for all the procedures assigned to proposed APC group 281, the nature of the repair may mandate different additional equipment and differing times to complete. Commenters did not find the procedures in proposed APC 281 to be homogeneous with respect to the time required to perform the procedures nor their associated costs. Commenters specifically recommended transferring complex elbow and wrist procedures represented by CPT codes 29826, 29838, 29839, 29846, 29847, 29848, 29861, 29862, and 29863 into an APC group with a higher payment rate.

Response: Upon revisiting the assignment of codes to proposed APC groups 280, 281, and 282, and considering the concerns expressed by commenters, our medical advisors and staff concluded that collapsing the three proposed APC groups into a single group would result in a more homogeneous grouping in terms of resource use. Hence, final APC 0041 contains the codes proposed as APC groups 280, 281, and 282. The relatively low volume of many of the procedures in the proposed APCs supports combining them into a single group. Further, we found that, from a facility perspective, the resource use for all the codes in final APC 0041 is similar. For example, we had proposed to place CPT code 29881, Arthroscopy, knee, surgical; with meniscectomy (medial or lateral, including any meniscal shaving), and CPT code 29882, Arthroscopy, knee, surgical; with meniscus repair (medial or lateral), in two different APC groups. However, the resources required for these two procedures is sufficiently comparable to warrant placing both into the same APC.

APC 286: Arthroscopically-Aided Procedures

We considered including the procedures in proposed APC group 286 with the other arthroscopic procedures in final APC 0041 because they are so infrequently performed in an outpatient setting for Medicare beneficiaries. However, the resources required to perform the procedures in proposed APC 286 are so strikingly distinct from those used in connection with the procedures in final APC group 0041 as to warrant being retained in a separate group. Further, it is unlikely that an individual provider specializes in the particular type of arthroscopic procedure contained in this APC, so separating all of the codes in final APC 042 from those in APC 041 should not disadvantage any one hospital.

APC 311: Level I ENT Procedures

APC 312: Level II ENT Procedures

APC 313: Level III ENT Procedures

APC 314: Level IV ENT Procedures

We received numerous comments about the composition of the four proposed ENT APC groups. After careful review of the comments, our medical advisors and staff recognized the need for a major reorganization of the groups we proposed for ENT procedures. The outcome of our review was the creation of five final APC groups for ENT procedures: APC groups 0251, 0252, 0253, 0254, and 0256. We moved a large number of bone procedures involving the facial and ENT areas from musculoskeletal groups to ENT groups. We transferred some codes out of the ENT groups altogether, and we shifted codes among the five final ENT groups to comply with the BBRA 1999 “two times” requirement. We respond to recommendations regarding specific codes below.

Comment: One commenter observed that CPT codes 31603 and 31605, emergency tracheostomy procedures, are risky and life-threatening no matter how quickly they are performed, and, as such, they should not be grouped with procedures for removing a foreign body from the ear canal or removing cerumen (proposed APC 311).

Response: We agree. We created new APC group 0340 to which we assigned CPT code 69200, removal of foreign body from external auditory canal; without general anesthesia, and CPT code 69210, Removal impacted cerumen (separate procedure), one or both ears. We shifted these two procedures to the Minor Ancillary Procedures APC group because of their relative high frequency, their low cost in terms of resource use with low disposable equipment cost, and because these procedures generally do not require scheduling. Removing CPT code 69210 from the final ENT groups also corrects any pricing distortions that may have resulted from the disproportionately high volume of that procedure.

We also moved the tracheostomy emergency procedures to final APC 0254.

We moved several other procedures such as CPT code 41870, Periodontal mucosal grafting, to final APC 0253, a group with higher cost procedures.

We moved several abscess drainage procedures such as CPT code 41800, Drainage of abscess, cyst, hematoma from dentoalveolar structures, to final APC group 0251 because of their relatively low cost.

Comment: One commenter stated that all the procedures in proposed APC 312 appear to be reasonably priced with the exception of CPT code 69436, Tympanostomy (requiring insertion of ventilating tube), general anesthesia. In the view of the commenter, the extra supplies and time required for this procedure necessitate a higher payment.

Response: We moved CPT code 69433, Tympanostomy (requiring insertion of ventilating tube, local or topical anesthesia), to final APC 0252 because of its lower resource use relative to CPT code 69436. CPT code 69436 is assigned to final APC 0253.

We moved a large number of procedures such as CPT code 42335, Sialolithotomy; submandibular (submaxillary), complicated, intraoral from original APC 313 to final APC 0253 to reflect a similarity of resource use. In terms of resource use, CPT code 30115, Excision, nasal polyp(s), extensive, is more similar to CPT code 42300, Drainage of abscess, parotid, simple, than it is to CPT 42410, Excision of parotid tumor or parotid gland; lateral lobe without nerve dissection.

We shifted CPT code 21040, Excision of benign cyst or tumor of mandible, from the musculoskeletal group to final APC 0253 with other ENT procedures.

Comment: One commenter stated that procedures directed towards cancer treatment were inappropriately assigned to proposed APC 313. As examples, the commenter cited CPT codes 30150 and 30160, rhinectomy procedures; CPT code 41120, Glossectomy; less than one-half tongue; and CPT code 69210, Excision external ear, complete amputation. The commenter also indicated concern that proposed APC group 313 includes a disproportionately large percentage of resource-consuming ENT procedures and commonly performed sinus procedures. Other commenters recommended that more complex otorhinolaryngology procedures in the group that have longer operating and recovery room times be moved to a group with a higher payment rate.

Response: We moved CPT code 69210 to final APC group 0340, and we assigned CPT codes 30150, 30160, and 41120 to final APC group 0256. We also moved CPT code 42215, Palatoplasty for cleft palate; major revision to final APC group 0256.

Comment: One commenter suggested placing certain thyroid procedures in the ENT groups.

Response: While we agree that CPT code 60280, Thyroglossal cyst excisions, is somewhat similar to CPT code 42440, Excision of submandibular, submaxillary gland, we nonetheless believe that the former type of excision is more appropriately placed from a clinical perspective with other thyroid procedures.

APC 318: Nasal Cauterization/Packing

Comment: A number of commenters addressed generally the range of resource use among the procedures within this proposed APC. One commenter observed that CPT code 30901 is almost always a simple office procedure within the context of an otolaryngology practice. The same commenter indicated that CPT codes 30903, 30905, and 30906 frequently require several hours of direct physician contact and monitoring and recommended that we consider reclassifying CPT codes 30903, 30905, and 30906 to proposed APC group 332, Level II Endoscopy Upper Airway. Another commenter was concerned that CPT codes 30905 and 30906 stand out as inappropriate for this APC level because they require much more time and expertise and are used in more life-threatening situations than the other codes in the group.

Response: While there is a range of procedures in this APC pertaining to control of nasal hemorrhage, hospitals normally treat the entire range of these procedures, and there is no concentration of certain of these procedures in a subset of hospitals. Our medical advisors and staff also found that there can be a range of resource consumption within many of the procedures themselves as well as across procedures in this APC. We therefore are not reassigning the codes.

We did, however, move CPT codes 30999 and 42999 for unlisted procedures to final APC 0251 and 0252, respectively, to be consistent with our policy of placing unlisted codes in the lowest paid related group.

APC 331: Level I Endoscopy Upper Airway

Comment: One commenter noted that the relative weight and payment rate proposed for APC group 331 approximated the relative weight and payment rate proposed for APC groups 997 or 987. The commenter stated that CPT codes 31575 and 31579 should have a higher relative weight and payment rate than that proposed for APC 331 because both procedures require more time, higher skill levels, and more equipment than the procedures in APC 997 or 987. A professional association, echoing the first commenter, noted that CPT codes 31575 and 31579 are the most complex of all noninvasive laryngeal diagnostic procedures performed by otolaryngologists and speech language pathologists, further justifying a higher relative weight and payment rate for these procedures.

Response: Proposed APC groups 997 and 987, Manipulation therapy and Subcutaneous chemotherapy, respectively, are clinically very different from proposed APC group 331. The professional skill and expertise of the physician performing the laryngoscopy are recognized separately and are not costs that are packaged with the payment rate for services furnished by the hospital in connection with the procedure. Further, it is very unlikely that there will be systematic differences among facilities with some only doing the most difficult of the basic laryngoscopies that are contained in this group and others only specializing in the simplest variety. However, we have reorganized the proposed endoscopy, upper airway groups into final APC groups 0071 through 0075 to be consistent with the BBRA 1999 “two times” requirement.

APC 341: Level I Needle and Catheter Placement

APC 342: Level II Needle and Catheter Placement

APC 343: Level III Needle and Catheter Placement

APC 347: Injection Procedures for Interventional Radiology

Based on our cost data, our medical advisors and staff determined that the codes in these proposed APC groups should be assigned status indicator “N,” which designates incidental services whose costs are packaged into the APC payment rate. Injection procedures themselves are low cost but, more importantly, they are an integral portion of another procedure. The needle and catheter placement are typically an integral portion of interventional radiology procedures. An exception was made for CPT code 36420, cutdown on a child under age one, which was placed in final APC 0032, to recognize its infrequent use but high median cost.

APC 360: Removal/Revision, Pacemaker/Vascular Device

Comment: Most commenters recommended changing a number of pacemaker codes from “inpatient only” payment status to allow payment under the hospital outpatient PPS. One commenter noted that whereas we proposed to exclude most pacemaker and implantable cardioverter defibrillator (ICD) replacement procedures from the outpatient PPS, we did include pacemaker revision/removal procedures in proposed APC 360 even though both types of procedures require very similar steps to perform. The commenter is concerned that by not paying for pacemaker replacement procedures under the outpatient PPS, we are forcing physicians to perform these replacement procedures on an inpatient basis. By so doing, the commenter suggested that we are adding costs to the entire system that could be saved, because the pacemaker replacement procedures can be safely performed in the outpatient setting, with less inconvenience to the patient.

Response: After careful consideration of commenters' recommendations, our medical advisors and staff agreed that paying for pacemaker insertion or replacement codes under the outpatient PPS is appropriate if the outpatient setting is determined to be reasonable and medically necessary for the individual beneficiary. We assigned procedures for revising or removing implanted infusion pumps and venous access ports in proposed APC 360 and pacemaker insertion or replacement codes payable under the outpatient PPS to final APCs 0089 and 0090. Also, we moved CPT code 33222, Revision or relocation of skin pocket for pacemaker, and CPT code 33223, Revision or relocation of skin pocket for implantable cardioverter-defibrillator, to final APC 0026 because the resource use for these two procedures is similar to that of the skin repair procedures in APC 0027.

APC 367: Vascular Ligation

Comment: One commenter wrote that the procedures in proposed APC 367 include ligation of major arteries and veins, which are usually performed as emergencies in the inpatient setting, and elective ligation and stripping of lower extremity varicose veins of variable complexity. The commenter contended that costs for these procedures vary dramatically, with simple ligation and division of the saphenous vein at the low end of the cost scale, and the stripping of long and saphenous veins at the high end.

Response: We split proposed APC 367 into two groups, final APCs 0091 and 0092, to conform with the BBRA 1999 “two times” requirement. Although we are not sure to which codes the comment refers, codes 37780 and 37730 are now in different groups. These represent ligation and division of the short saphenous vein, and ligation, division and stripping of long and short saphenous veins, respectively.

APC 368: Vascular Repair/Fistula Construction

Comment: Commenters disagreed with the codes assigned to proposed APC 368, especially services related to insertion of implantable hemodialysis access ports. Commenters did not find the services in APC 368 to be comparable clinically. In particular, they recommended moving cannula insertion and declotting procedures to proposed APC groups 341, 342, and 343, which consist of needle and catheter placement procedures.

Response: We split the codes in proposed APC 368 into APC groups 0088, 0090, 0092, and 0093. The resulting classifications are more clinically homogeneous, and they meet the BBRA 1999 “two times” requirement. We also moved CPT code 35875, Thrombectomy of arterial or venous graft (other than hemodialysis graft or fistula), into final APC 0088.

APC 369: Blood and Blood Product Exchange

Comments: As we noted in section III.C.2.f, above, many commenters disagreed with both our proposed payment rates and our proposed classification for blood and blood-related products. Most commenters disagreed with our classifying in one APC group therapeutic apheresis, stem cell procedures, and blood transfusion services. The commenters stated that therapeutic apheresis and stem cell procedures are very costly and resource intensive procedures which cost more than 3 times the proposed payment rate for APC 369, yet we are proposing to pay a median amount for these services that is appropriate for blood transfusions only. Commenters questioned whether we had taken into account the costs associated with the specialized equipment, supplies and personnel that are required to perform therapeutic apheresis and stem cell procedures. Commenters stated that the payment rate proposed for APC 369 would not offset the costs hospitals incur to furnish therapeutic apheresis services because outpatient apheresis procedures often combine dissimilar kinds and combinations of plasma replacement products, causing widely differing costs per service.

A major association representing community cancer centers stated that our data for stem cell harvesting claims (CPT 38231) include a range of costs so large as to suggest that there are errors in the data. The commenter believes that the very small sample of claims (reduced by HCFA's exclusion of multiple procedure claims and claims without codes) further renders the data unreliable. The same commenter cited bone marrow harvesting (CPT 38230) as an example to argue that our data, which indicates a median cost of $18.00 for what is normally a lengthy procedure performed under general anesthesia, are problematic.

Some commenters stated that the proposed payment rate was not sufficient for transfusion services if the rate was supposed to pay for both the blood product and the transfusion procedure, because even though outpatient transfusion services are relatively simple and low-cost, they are associated with a costly blood product that is far more variable.

Commenters expressed concern that the proposed payment rate for APC 369 was insufficient to pay for extracorporeal photopheresis (CPT 36522), whose actual cost is approximately $1,000, and would have an especially negative impact for patients with cutaneous T-cell lymphoma.

A major organization recommended that we separate payment for a service from payment for the blood product associated with that service. The same commenter also recommends separate payment for infusible blood-derived drugs, and that payment for transfusable blood products be based on costs. This organization recommends that APC 369 be split into several APCs because payment for services such as transfusion services, therapeutic apheresis, stem cell collection, Staph column pheresis, and others are distinct, and deserve separate APC payments. The same commenter also recommended that we accelerate the HCPCS coding process for blood-related products.

Response: In response to commenters' recommendations, we are creating different APC groups for blood-related procedures and transfusions, and we are paying for blood and blood products separately, instead of packaging them with the procedures or services with which they are associated. We were convinced by commenters' illustrations of the variability in the use of blood and blood products in various procedures, and by our desire to recognize the costs of tests now being performed on donated blood that were not captured in our 1996 data. The procedures we proposed in APC 369 are split among final APC groups 0109, 0110, 0111, and 0112. We have also created individual APC groups for blood and blood related products. The final APC 0109 that we created to capture bone marrow harvesting and bone marrow/stem cell transplant had a median cost of only $15.00. This is due to the few, highly variable claims in our database. Based on the information available to us at this time, we have assigned a rate of $200.00, and will adjust the rate to reflect actual claims as we collect data under PPS.

APC 407: Esophagoscopy

APC 417: Diagnostic Upper GI Endoscopy

APC 418: Therapeutic Upper GI Endoscopy

Comment: Commenters were concerned about low payment rates set for these three proposed APC groups.

Response: Our medical advisors reviewed the proposed groups and determined that combining the codes into a single APC group for upper gastrointestinal endoscopic procedures conformed with the criteria we used to define APC coherence and resulted in a reasonable payment rate supported by cost data. Resource use for all procedures in final APC 0141 is similar because each procedure involves an endoscopic examination. In addition, most of the procedures involve diagnostic and therapeutic tests such as brushings or fulgurations.

APC 426: Diagnostic Lower GI Endoscopy

APC 427: Therapeutic Lower GI Endoscopy

Comment: Commenters were concerned that the payment rates proposed for APC groups 426 and 427 were too low to offset costs incurred to perform these procedures. One commenter indicated that a diagnostic colonoscopy (CPT code 45379), without any mark up or consideration of room time and equipment use, costs $350, with additional costs if a polyp has to be removed ($155 just for a bicap). The commenter indicated that the current cost of a hot biopsy forceps is $45. Given these costs, the provider would necessarily incur a loss when performing these procedures.

Response: Our medical advisors and staff, after reviewing the cost data for these two proposed groups, combined the diagnostic and therapeutic APCs into a single group, final APC 0143. Resource use for the procedures in this APC is similar because they all involve an endoscopic examination. More importantly, even though resource use may vary relative to the clinical requirements of individual cases, facilities are not likely to specialize in just therapeutic or diagnostic endoscopic services. Therefore, costs should even out across all cases.

Comment: One commenter found the low rate proposed for CPT code 45378, Diagnostic colonoscopy, to be inconsistent with our major policy initiative to screen persons at high risk for colorectal cancer.

Response: We moved HCPCS code G0105, Colorectal Cancer Screening: Colonoscopy,to its own group, final APC 0158, because it is preventive rather than diagnostic or therapeutic in nature.

APC 446: Diagnostic Sigmoidoscopy

APC 447: Therapeutic Proctosigmoidoscopy

APC 448: Therapeutic Flexible Sigmoidoscopy

We reassigned the different types of sigmoidoscopy procedures into two groups, final APC 0146 and final APC 0147. The procedures within each group are similar both clinically and in terms of resource use. We moved HCPCS code G0104, CA screening; flexible sigmoidoscopy, to its own group, final APC 0159, because it is preventive rather than diagnostic or therapeutic in nature.

APC 451: Level I Anal/Rectal Procedures

APC 452: Level II Anal/Rectal Procedures

To conform with the BBRA 1999 “two times” requirement, our medical advisors and staff reclassified procedures in the proposed APC groups resulting in final APC groups 0148 and 0149. We believe the final APC groups are more consistent both clinically and in terms of resource use.

APC 470: Tube Procedures

Comments: We split the codes in proposed APC group 470 into final APC groups 0121, 0122, and 0123 to conform with the BBRA 1999 “two times” requirement. Also, we moved CPT code 50398, Change of nephrostomy or pyelostomy tube, from proposed APC 521 to final APC 0122.

APC 523: Level III Cystourethroscopy and Other Genitourinary Procedures

Comment: A number of commenters recommended moving CPT code 52240, Cystourethroscopy, with fulguration (including cryosurgery or laser surgery) and/or resection of; large bladder tumor(s), to the APC for Level IV Cystourethroscopy and other Genitourinary Procedures because the magnitude of the procedure most closely resembles that of the codes in the higher payment group.

Response: We agree with commenters' recommendations; we moved CPT code 52240 to final APC group 0163 because of the extensive time and equipment required to perform the procedure.

Comment: One commenter recommended placing CPT codes 52335 through 52338 in their own group, given the complexity and technical demands of these ureteroscopic procedures. The same commenter suggested as an acceptable alternative placing these codes in the APC group for Level IV Cystourethroscopy and other Genitourinary Procedures, to reflect more accurately their cost, complexity, and need for expensive single use items such as dilation balloons, baskets and stents. Other commenters recommended moving CPT codes 51020 through 51880 (cystotomy procedures) to the APC group for Level IV Cystourethroscopy and other Genitourinary Procedures.

Response: After a careful review of comments and our cost data, our medical advisors and staff concluded that the cystotomy codes are similar enough in terms of equipment and the time required to perform the procedures to justify keeping them together in final APC 162. Our medical advisors and staff also concluded that the facility equipment and time duration for CPT code 52335, Cystourethroscopy, with ureteroscopy and/or pyeloscopy (includes dilation of the ureter and/or pyeloureteral junction by any method), was sufficiently similar to be retained with the other procedures in final APC 0162.

APC 524: Level IV Cystourethroscopy and other Genitourinary Procedures

Comment: Numerous commenters were concerned that the payment rate proposed for APC 524 was insufficient to offset the costs associated with CPT code 53850, Transurethral destruction of prostate tissue, by microwave thermotherapy (TUMT). The commenters argue that TUMT is a very expensive procedure due to its high capital equipment costs and the need to construct a special microwave area, the high cost of disposable probes and other disposable supplies required for the procedure, and the need for specially trained nursing staff. The commenters urged us to establish a unique APC group for this procedure and to provide a payment rate that is consistent with its anticipated costs, which they predict would total approximately $2,200.

Response: After careful consideration of comments and available cost data, our medical advisors and staff determined that CPT code 53850 satisfies the criteria discussed below, in section III.C.8, as a new technology service. Payment for this procedure will be made under new technology APC 0980.

APC 529: Simple Urinary Studies and Procedures

Comment: A number of commenters proposed that we classify CPT code 51726, Complex cystometrogram, to its own unique APC and keep the other urinary study procedures together in proposed APC 529.

Response: After a careful review of comments and our data, our medical advisors and staff agreed with commenters' concerns and subdivided proposed APC group 529. The resulting final APC groups 0164 and 0165 are more homogeneous both in terms of clinical coherence and resource use. We also added simple anal procedures such as CPT code 91122, Anorectal manometry, to final APC 0165 because of the similarity of resource use.

APC 546: Testes/Epididymis Procedures

Comment: A number of commenters disagreed with our classification of scrotal procedures with inguinal procedures in proposed APC group 546. The commenters observed that the scrotal procedures vary considerably from the inguinal procedures in terms of resource usage. The commenters recommended that we move CPT codes 54530, 54550, 54640, 55520, 55530, 55535 and 55540 to proposed APC 466, Hernia/Hydrocele Procedures, because they all involve operating on vessels at the internal ring, and are therefore similar to a hernia repair.

Response: We agree with comments that these procedures are similar to hernia repairs. We moved CPT codes 54530, 54550, 54640, 55535, and 55540 to final APC group 0154.

APC 551: Level I Laparoscopy

APC 552: Level II Laparoscopy

Comment: We received two categories of comments pertaining to laparoscopic procedures: Numerous commenters disagreed with our proposal to define certain laparoscopic procedures as inpatient only, and numerous commenters claimed that the resource costs among the procedures within proposed APC groups 551 and 552 varied too greatly for the groups to be considered homogeneous. Most commenters stated that the costs associated with the procedures in proposed APC groups 551 and 552 exceed their respective proposed payment rates because of the expensive equipment and disposable supplies and the length of time required to perform laparoscopic procedures.

Response: Our medical advisors and staff, after a thorough review and consideration of comments, agreed with commenters who claimed that most laparoscopic procedures can and are being safely and appropriately performed in an outpatient setting. We therefore moved most of the laparoscopic codes to which we proposed to assign a payment status indicator “C,” indicating that the procedures would not be covered under the hospital outpatient PPS, into an APC group with a payment status indicator “T” (significant procedure, multiple procedure reduction applies, payable under the outpatient PPS). In order to absorb these additional procedures within the APC system, we created a third laparoscopic APC group in order to accommodate the wide range of resource use and time that is required to perform the expanded list of laparoscopic procedures.

Although the AMA revised the coding of laparoscopic procedures in CPT 2000, in order to set rates for the laparoscopy APC groups, we used the codes that were in our database of 1996 claims. That is, we moved CPT codes 56362 and 56363 to the Level I laparoscopic group, final APC group 0130, because the resources used in connection with these procedures are less compared to the Level II procedures generally. For example, CPT code 56362, Laparoscopy with guided transhepatic cholangiography, primarily involves the laparoscopy without any associated removal of tissue. Conversely, we shifted CPT codes 56303 and 56304 from Level I to Level II (final APC 0131). CPT code 56303, Laparoscopy, surgical, with fulguration or excision of lesions of the ovary, pelvic viscera, or peritoneal surface, requires more resources than, for example, CPT code 56300, Diagnostic laparoscopy, the most common laparoscopic procedure within Level I, final APC group 0130.

The new Level III laparoscopy group, final APC group 0132, consists largely of laparoscopic procedures that we had proposed to classify as inpatient. In addition, we moved CPT code 56312, Laparoscopy, surgical; with bilateral total pelvic lymphadenectomy, and CPT code 56313, Laparoscopy, surgical; with bilateral total pelvic lymphadenectomy and peri-aortic lymph node sampling (biopsy), single or multiple, to final APC group 0132 because of the extensive resources and time involved in performing these procedures. Refer to Current Procedural Terminology 2000, published by the American Medical Association, for a summary of coding changes and crosswalks for laparoscopic procedures.

APC 561: Level I Female Reproductive Procedures

APC 562: Level II Female Reproductive Procedures

APC 563: Level III Female Reproductive Procedures

Comment: One commenter expressed concern that the payment rate for proposed APC group 563 would have a negative effect on certain treatment options for women suffering with incontinence. The commenter contrasted the proposed payment of $848 with a current median cost calculated at $1,931 for CPT code 57288, Sling operation for stress incontinence (e.g., fascia or synthetic).

Response: After reviewing the procedures in proposed APCs 561, 562, and 563, and to be consistent with the BBRA 1999 “two times” requirement, we split the proposed groups into final APCs 0191 through 0195. The cost of CPT code 57288, to which the commenter refers, is still at the high end of the highest weighted group, but the volume of claims for that service is so low that splitting the group again would be problematic. If these more intense surgeries move to the outpatient setting in greater numbers, we will be able to price them more precisely.

APC 601: Level I Nervous System Injections

APC 602: Level II Nervous System Injections

Comment: Commenters contended that there are no similarities among the procedures in the proposed APC groups for nervous system injections.

Response: We disagree. We find the range of services included within each APC group to be generally consistent from a clinical perspective. And, even though an injection into the subarachnoid space may be a more complex injection than some of the others in the group, no institution is likely to specialize solely in one kind of injection. Because all the services within the APC group are offered by most hospitals, the impact of the variation in resource consumption among the different codes should average out at the hospital level. Therefore, we are keeping intact in final APC groups 0211 and 0212 the two levels of nervous system injections that we proposed, with the exception of CPT codes 62194 and 62225, which we moved to final APC group 0121 because they are catheter replacement procedures.

APC 616: Implantation of Neurostimulator Electrodes

APC 617: Revision/Removal Neurological Device

APC 618: Implantation of Neurological Device

Comment: One commenter was concerned that the payment rate proposed for APC group 616 falls far short of the costs incurred to implant a neurostimulator system that embodies a vagus nerve stimulator for the treatment of patients with refractory epilepsy. The commenter estimated that hospitals incur costs between $2,000 and $5,000 to surgically insert the Neurocybernetic Prosthesis system (NCP), which includes an implantable neurostimulator, pulse generator, and implantable electrodes. The commenter stated that the NCP costs $9,100. The commenter recommended that we create a separate APC group for the procedure to ensure appropriate payment. The commenter also expressed concern that the broad range of procedures in proposed APC 618 results in inappropriate payment rates. The commenter noted that the median cost of the procedures in proposed APC group 618 varies from a low of $269.44 to a high of $3,890.70, with a proposed payment rate of $1,274.

Another commenter stated that vagus nerve stimulation, approved by the FDA in 1997, which can sometimes be performed as an outpatient procedure, would be inappropriately paid under our PPS. The commenter stated that the reported cost for the device is $6,900 for the implantable neurostimulator pulse generator and $2,030 for the implantable vagus nerve stimulator leads. A manufacturer of this new system, which is used in treating intractable epilepsy, also expressed concern that the proposed PPS will underpay hospitals for new technologies such as its system and deny beneficiaries access to them.

Response: In response to these and other comments, we made several changes in proposed APC groups 616, 617, and 618. We moved CPT code 63650, Percutaneous implantation of neurostimulator electrodes, peripheral, to final APC 0224 because the procedure is less time intensive and uses fewer facility resources than the implant procedures in final APC 0225. We also shifted CPT codes 64585 and 64595 to final APC 0225. We will re-evaluate APCs 0223, 0224, and 0225 as we accumulate data and will incorporate our findings in a subsequent hospital outpatient PPS rule. Additionally, we will determine whether the implantable neurostimulator system is eligible for treatment as a “pass-through” device under section 201(b) of the BBRA 1999. The criteria for assessing a medical device's eligibility for additional payment under this provision are discussed in section III.D.4, below.

Ophthalmic Procedures: We received numerous comments concerning the APC groups proposed for eye procedures. Based on their analysis of these comments and recommended changes, a review of our data, and consideration of the limit on variation within a group required by section 201(g) of the BBRA 1999, our medical advisors and staff have significantly restructured the ophthalmic APC groups. Eye procedures and services are assigned to final APC groups 0230 through 0248.

APC 930: Minor Eye Examinations

APC 931: Level I Eye Tests

APC 932: Level II Eye Tests

We assigned to final APC groups 0230 and 0231 the procedures in proposed APC groups 930, 931, and 932 in addition to codes from proposed APC groups 681, 682, and 683 that are either tests or minor ophthalmologic procedures requiring relatively low resource use.

APC 651: Level I Anterior Segment Eye Procedure

APC 652: Level II Anterior Segment Procedure

Comment: We received a number of comments about these proposed APC groups. Commenters were primarily concerned that the payment rates proposed for the two levels of anterior segment eye procedures are significantly less than the costs incurred to perform the procedures assigned to these groups, especially those for glaucoma surgery (CPT codes 66150 through 66170). One commenter indicated that the rate proposed for CPT 66180 is acceptable only if separate payment is made for the aqueous shunt and patch graft.

Response: Based on their review of comments and to be consistent with the BBRA 1999 “two times” requirement, our medical advisors and staff added a third APC group for anterior segment eye procedures. The anterior segment eye procedures are assigned to final APC groups 0232, 0233, and 0234. We made a number of code changes among the three groups. We moved CPT codes 66155, 66160, 66165, and 66170 for glaucoma surgery to final APC group 0234. We shifted CPT code 65800, Paracentesis of anterior chamber of eye (separate procedure) with diagnostic aspiration of aqueous, from proposed APC 683 to final APC 0232 because the instruments used in connection with CPT code 65800 are similar to those used in all procedures that are primarily paracentesis and because operating room time is likewise similar.

APC 667: Cataract Procedures

APC 668: Cataract Procedures With IOL Insert

Based on our data, the median cost for final APC group 0245 (cataract extraction without lens insert) was slightly higher than that for final APC group 0246 (cataract extraction with lens insertion). We attribute the discrepancy to poor coding, and we have increased the payment rate for APC group 0246 to equal the payment rate for APC group 0245. Proper coding in the future should result in better differentiated costs between these two groups.

Comment: One commenter objected to assigning payment status indicator “T,” Significant procedure, multiple procedure reduction applies, to the procedures in proposed APC group 668. The commenter contended that CPT code 66984, Cataract removal with lens insertion, is often performed in conjunction with other procedures such as CPT code 67010, partial removal of eye fluid, CPT code 65875, incise inner eye adhesions, and 66170, Glaucoma surgery, which also have a “T” payment status indicator. The commenter believes that the multiple procedure reduction would undercompensate for these services and that all these procedures should be given an “S” payment status indicator, which would not subject them to the multiple procedure discount.

Response: We disagree. When more than one surgical procedure is performed during a single operative session, full Medicare payment and the full beneficiary coinsurance payment are made for the procedure that has the highest payment rate. The costs associated with anesthesia, operating and recovery room use, and other services for any additional procedures are incremental and are accounted for within the discounted additional payment.

APC 670: Corneal Transplant

Comment: The numerous comments that we received about this proposed APC focused on our proposal to package the cost of procuring corneal tissue as part of the costs associated with corneal transplant surgery. Commenters feared that this fixed payment method would underpay some hospitals while overpaying others because hospitals acquire corneal tissue from eye banks whose charges are dependent upon the amount of philanthropic contributions the bank receives during the course of a year. A national association representing eye banks reported that fee data from different member facilities show that the corneal tissue acquisition fee alone nearly consumes or, in some cases, exceeds, the entire payment rate proposed for APC group 670. Commenters expressed great concern that we would significantly reduce the supply of corneas available for transplant if we were to package corneal tissue acquisition costs within the APC rate.

Response: Given the current basis for pricing corneal tissue, we are accepting commenters' recommendations that corneal tissue acquisition costs be paid separately and in addition to the payment rate for corneal transplant procedures. At least until we gather data regarding costs associated with the acquisition of corneal tissue, this will ensure that individual hospital's reasonable corneal tissue procurement costs are covered under the PPS. Corneal transplant procedures are in final APC group 0244.

APC 676: Posterior Segment Eye Procedures

Comment: Commenters were concerned that the payment rate for proposed APC group 676 was too low given the costs incurred to perform a number of procedures in the group. For example, one commenter noted that CPT code 67005 requires the same draping as a cataract extraction.

Response: In response to commenters' concerns and to be consistent with the BBRA 1999 “two times” requirement, we split the procedures in proposed APC group 676 into final APC groups 0235 through 0237. We also moved procedures such as CPT code 67025, Replace eye fluid, and CPT code 67027, Implant eye drug system, to final APC 0237 because of the similarity of resource use. CPT code 67025 involves injection of a vitreous substitute, usually gas, silicone, or a similar substance, and the procedure may also involve an aspiration.

APC 681: Level I Eye Procedure

APC 682: Level II Eye Procedure

APC 683: Level III Eye Procedure

APC 684: Level IV Eye Procedure

Comment: Commenters were concerned about the wide variation of resource use and clinical characteristics among the procedures within proposed APC groups 681, 682, 683, and 684. Commenters noted that the surgical complexity of individual procedures in proposed APC group 684 ranges from simple suturing (CPT code 67914, Repair of ectropion; suture) to complex eyelid reconstructions with full thickness tarsoconjunctival flap transfer (CPT code 67971). Commenters recommended that these proposed APC groups be revised and that the more complex procedures that require longer operating room time be paid a higher rate.

Response: We agree. Guided by commenters' recommendations as well as the “two times” limit on cost variation required by the BBRA 1999, we created several new groups and we completely reorganized the procedures in proposed APC groups 681, 682, 683, and 684 into the final APC groups 0230 through 0234 and 0238 through 0242.

APC 690: Vitrectomy

Comment: Several commenters were concerned that the cost of an intravitreal implant ($4,000, according to one commenter) would not be adequately recognized if payment for the device were to be packaged with payment for the insertion procedure (CPT code 67027, Implant eye drug system). Commenters were concerned that beneficiary access to this implant would be restricted if we did not make adequate payment. Commenters supported our proposal to make separate payment for the intravitreal implant.

Response: We assigned all of the procedures in proposed APC 690 to final APC group 0237. As we explain in section III.B.1.c, above, section 201(e) of the BBRA 1999 requires us to classify implantable items to the group that includes the service to which the item relates. However, the intravitreal implant that dispenses ganciclovir is an orphan drug that qualifies for a transitional pass-through payment under the BBRA 1999, which is explained in section III.D, below. Thus, we have assigned the entire drug delivery system to its own APC, 0913. We believe that the payment rate set for CPT code 67027 combined with the additional payment for ganciclovir results in an appropriate payment for this service.

APC 700: Plain Film

Comment: We received numerous comments about the structure of proposed APC group 700. Commenters recommended breaking down the proposed APC group into a number of smaller, more congruous groups. For example, one commenter found no justification for the assumption that resource costs are the same for all plain films listed in APC 700, noting that there is a significant difference in capital costs, room costs, and maintenance costs between an x-ray room that is designed to take chest x-rays compared to an x-ray room with a table used to take abdominal x-rays. The commenter pointed out that there is a substantial increase in cost when cineradiography capabilities are added. The same commenter questioned our assumption that therapeutic radiology port films are clinically similar to diagnostic radiology films or that bone density studies are clinically similar to and have the same resource costs as plain film radiography.

Response: We agree with commenters' concerns about the composition of proposed APC group 700. In response to commenters' recommendations and applying the “two times” limit on cost variation required by the BBRA 1999, we split proposed APC group 700 into final APC groups 0260 through 0262. We assigned CPT code 70300, Radiologic examination, teeth; single view; CPT code 70310, Radiologic examination, teeth; partial examination, less than full mouth; and, CPT code 70320, Radiologic examination, teeth; complete, full mouth, to their own group, final APC group 0262, because these procedures require minimal time and relatively little radiographic film and technical equipment. We classified the remaining codes to final APC groups 0260 and 0261. We believe that these two groups are sufficient to distinguish clinical consistency and similar resource use. Facilities perform, relatively, a similar proportion of the different plain film procedures, and hospitals do not systematically use one type of plain film over another type, with the exception of dental films, which we moved to a separate group. The absolute magnitude of the difference in resource use among different plain films is not as significant as the difference between dental and other types of plain film. Additionally, our data indicate minimal differences in the amount of resource use between bone density measurement tests and plain films.

APC 706: Miscellaneous Radiological Procedures

Comment: A number of commenters found the tests grouped in proposed APC group 706 to vary significantly in the amount of time, effort, and costs required to provide the service.

Response: As a result of applying the “two times” limit on cost variation required by the BBRA 1999, we divided proposed APC 706 into two levels: final APC 0263 and final APC 0264. We also moved CPT code 76075, Bone Density Study, one or more sites, to final APC 0261. We explain below, in section III.C.6.e, why we are making an exception to the BBRA 1999 “two times” limit on cost variation in the case of final APC group 264.

APC 710: Computerized Axial Tomography

APC 720: Magnetic Resonance Angiography

APC 726: Magnetic Resonance Imaging

Comment: A number of commenters believe that assigning all computerized axial tomography (CAT) to a single group and all magnetic resonance imaging (MRI) to a single group results in a lack of homogeneity among the procedures within each group. These commenters were concerned that we ignored the cost of contrast materials, labor, and equipment within proposed APC group 710 and proposed APC group 726 and that combining contrast and non-contrast studies represents an inconsistency in resource use because an examination that uses contrast will be more costly than one without contrast. One commenter observed that an MRI examination with the use of contrast material requires approximately 30 percent more time and effort than an examination performed without contrast material and that a bilateral examination requires 50 percent more staff time and effort to complete. The same commenter expressed concern that proposed APC 720 consists of only one procedure, CPT code 70541, Magnetic image, head (MRA). The commenter recommended that we place this code and the other MRA codes that we now cover into two APC groups, one with and the other without contrast. A number of commenters recommended that we pay separately for contrast material, as a cost pass-through. One commenter believes that including diagnostic studies with placement of radiation therapy fields in proposed APC 710 violates the “clinically similar” criterion.

Response: Our medical advisors and staff carefully reviewed our data for the procedures in proposed APC group 710, proposed APC group 720, and proposed APC group 726 in light of commenters' concerns about the extent to which these groups take into account the costs associated with the use of contrast material. We concluded that costs associated with the use of contrast material are reflected in the payment rate in proportion to its frequency of use. We believe it is reasonable to have the CAT scans and MRIs with and without contrast together in their respective APC groups because facilities do not specialize based on whether or not they use contrast material. Further, the cost of contrast material relative to the overall inherent cost of CAT scans and MRI procedures alone is small. Moreover, the use of contrast material with CAT scans and MRI procedures differs significantly when compared to the use of contrast with plain films. Contrast comprises a significant portion of the cost of plain film services, and not all facilities perform plain films with contrast. A plain film can be ordered without being scheduled, but any plain film with contrast has to be scheduled. This scheduling distinction does not apply to a CAT or MRI scan with or without contrast. We did find that applying the “two times” limit on cost variation required by the BBRA 1999 resulted in the creation of two CAT groups, final APC groups 0282, to which we assigned CPT codes 70486, 76370, 76375, and 76380, and final APC 0283, to which the remaining codes in proposed APC group 710 are assigned. We further eliminated proposed APC group 720 and combined CPT code 70541, Magnetic image, head (MRA), with the other MRI procedures in final APC group 0284 because the base procedure, magnetic resonance imaging, is the same.

APC 716: Fluoroscopy

Comment: A number of commenters recommended that we pay separately for the fluoroscopy portion of procedures that include this radiologic service.

Response: We have assigned payment status indicator “X” to the procedures in final APC groups 0272 and 0273 to indicate that these are ancillary services that are paid separately under the hospital outpatient PPS.

Comment: A professional society commented that CPT code 74340, X-ray guide for GI tube, requires approximately 10 times the amount of radiologic technologist and room time, approximately 15 times the amount of film and many more supplies than does CPT code 71023, Chest x-ray and fluoroscopy. The commenter recommended that we divide proposed APC 716 into three separate and distinct levels based on the extent of the procedures and that we recalculate the relative weight and associated payment rate for the resulting groups.

Response: We disagree with the commenter. Our medical advisors and staff, after reviewing the procedures in proposed APC group 716, concluded that the fluoroscopic portion of these procedures is sufficiently similar in terms of clinical characteristics and resource requirements to be grouped together. However, applying the “two times” limit on cost variation required by the BBRA 1999 results in the formation of two groups, final APC groups 0272 and 0273.

APC 728: Myelography

Comment: Commenters objected to assigning the same payment amount to procedures regardless of whether or not a contrast agent is used. One commenter was concerned that this payment policy will dissuade hospitals from utilizing contrast agents even in cases where the use of contrast is medically appropriate.

Response: We agree that median costs vary more among the procedures in proposed APC 728 than their clinical similarities would suggest. However, although we found that final APC group 0274 did not satisfy the “two times” limit on cost variation required by the BBRA 1999, we are making an exception in this case as we explain below, in section III.C.6.e., and we are retaining all myelographic procedures in final APC 0274.

APC 730: Arthrography

Comment: Some commenters suggested reassigning various arthrographic procedures that were assigned to proposed APC 730.

Response: We find the procedures in this group to be sufficiently homogeneous in terms of clinical definition and resource use. The procedures are comparable with respect to the use of resources in that the highest median cost procedure is less than twice the lowest median cost procedure, consistent with the standard set by the BBRA 1999. Therefore, we are retaining the proposed grouping of arthrographic procedures in final APC 0275.

APC 736: Digestive Radiology

To be consistent with the limit on cost variation required by section 201(g) of the BBRA 1999, we divided the procedures in proposed APC 736 into final APC groups 0276 and 0277.

APC 738: Therapeutic Radiologic Procedures

To be consistent with the limit on cost variation required by section 201(g) of the BBRA 1999, we split the procedures in proposed APC 738 into final APC groups 0296 and 0297.

APC 739: Diagnostic Angiography and Venography

Comment: Numerous commenters expressed concern about the lack of homogeneity among procedures in proposed APC 739. One commenter recommended that we divide proposed APC 739 into three groups: one for CPT code 75790, Angiography, arteriovenous shunt; one for all other angiography procedures; and one for venography procedures.

Response: In response to these comments, we created final APC group 0281, Venography of Extremity, to reflect the significant clinical and resource consumption differences between venographic procedures performed on extremities and diagnostic angiography and venography performed on other parts of the body. Venographic procedures on the extremities consume less time and fewer resources than other angiography and venography procedures. To be consistent with the limit on cost variation required by the BBRA 1999, we split the other procedures in proposed APC 739 into final APC groups 0279 and 0280. With respect to final APC group 0279, we explain in section III.C.6.e why we are making an exception to the BBRA 1999 limit on cost variation.

APC 747: Diagnostic Ultrasound Except Vascular

Comment: A number of commenters suggested that we restructure proposed APC group 747 according to body site because the APC criterion of clinical homogeneity is violated by including within one group body sites that range from the eye to the pregnant uterus to the scrotum and contents.

Response: Our medical advisors and staff carefully weighed the suggestion of commenters that clinical homogeneity would be better served if the procedures in proposed APC group 747 were divided into groups according to body site. We concluded that resource costs based on the type of technology used are what primarily dictates the definition of groups for various diagnostic services. Thus, we did not assign plain film of the chest in the same APC group with MRI of the chest. Because ultrasound is the type of technology common to all procedures in proposed APC group 747 and because resource use for the various procedures is similar irrespective of body site, we did not break this group up according to body site. However, to be consistent with the limit on cost variation required by the BBRA 1999, we split the procedures in proposed APC 747 into final APC groups 0265 and 0266.

APC 749: Guidance Under Ultrasound

Although there is a range of sites for the procedures in proposed APC group 749, as we explain above in our response to the comments submitted in connection with proposed APC 747, we are keeping this group intact in final APC group 0268 because the base procedure, ultrasonography, is the same for all procedures. Also, the procedures in final APC group 0268 are comparable with respect to the use of resources in accordance with the “two times” limit on cost variation.

APC 750: Therapeutic Radiation Treatment Planning

Comment: Commenters were concerned that radiation physics services are not appropriately recognized in proposed APC group 750. One commenter observed that proposed APC 750 lacks clinical homogeneity by including HCPCS codes for calculations and computer-based treatment planning with codes for the construction of treatment devices. Another commenter objected to including CPT codes 77261, 77262, 77263, 77431, and 77432 in proposed APC 750 because these codes are for professional services only and do not include a technical or facility component. As such, there are no facility costs associated with the codes. The commenter noted that if these codes were removed from proposed APC group 750, three medical physics consultation codes, CPT codes 77336, 77370, and 77399 would remain in the group. The commenter suggested that the resource requirements for two of the three remaining codes are dramatically different.

Response: We agree with commenters' concerns about proposed APC group 750, and we modified this group accordingly. First, we assigned payment status indicator “E,” which designates certain items and services that are not paid under the hospital outpatient PPS, to five codes that describe professional services, which would not be billed by hospitals: CPT code 77261, Therapeutic radiology treatment planning; simple; CPT code 77262, Therapeutic radiology treatment planning; intermediate; CPT code 77263, Therapeutic radiology treatment planning; complex; CPT code 77431, Radiation therapy management with complete course of therapy consisting of one or two factions only; and CPT code 77432, Stereotactic radiation treatment management of cerebral lesion(s) (complete course of treatment consisting of one session).

We renamed the remaining group of codes as final APC 0311, Radiation Physics Services. The codes specific to radiation physics that we classified in this APC are CPT code 77336, Continuing medical physics consultation, including assessment of treatment parameters, quality assurance of dose delivery, and review of patient treatment documentation in support of the radiation oncologist, reported per week of therapy; CPT code 77370, Special medical radiation physics consultation; and CPT code 77399, Unlisted procedure, medical radiation physics, dosimetry and treatment devices, and special services.

APC 751: Level I Therapeutic Radiation Treatment Preparation

APC 752: Level II Therapeutic Radiation Treatment Preparation

Comment: One commenter objected to including CPT code 77295, Therapeutic radiology simulation-aided field setting; three-dimensional, in proposed APC 752 because this service has dramatically different resource requirements than the other CPT codes in group. Another commenter believes that the resources used in connection with simple intracavitatory applications, which are normally performed with re-usable Cs-137 sources, are totally dissimilar from the resources required for remote afterloading high intensity brachytherapy in proposed APC 751. This commenter noted that the equipment and room costs associated with remote afterloading high intensity brachytherapy may well exceed $500,000.

Response: We agree. In response to commenters' concerns, we made a number of modifications to proposed APC group 751 and proposed APC group 752. First, we assigned payment status indicator “E,” which designates certain items and services that are not paid under the hospital outpatient PPS, to CPT code 77299, Unlisted procedure, therapeutic radiology clinical treatment planning, thereby removing it from an APC group.

We created final APC group 0303, which consists of the following three codes: CPT code 77332, Unlisted procedure, therapeutic radiology clinical treatment planning; CPT code 77333, Treatment devices, design and construction; intermediate (multiple blocks, stents, bite blocks, special bolus); and, CPT code 77334, Treatment devices, design and construction; complex (irregular blocks, special shields, compensators, wedges, molds or casts). We created final APC 0303 because the resources needed for device construction are unique. We decided to put these three codes together in one group rather than assigning each to its own individual group because we could make no clear cost distinctions among the three codes and because we expect that facilities do not specialize in one type of device over another, but rather construct all of the types of devices encompassed within the three codes.

We created final APC group 0310, to which we assigned CPT code 77295, Therapeutic radiology simulation-aided field setting, three-dimensional. We assigned CPT code 77295 to its own individual APC group because it requires significantly greater resource consumption than the procedures in either final APC group 0304 or final APC group 0305.

We assigned the codes remaining in proposed APC groups 751 and 752 to final APC groups 0304 and 0305. Both APC groups 0304 and 0305 are comparable with respect to the use of resources in accordance with the “two times” requirement set by the BBRA 1999.

APC 757: Radiation Therapy

Comment: We received a number of comments about the assignment to proposed APC 757 of CPT code 61793, Stereotactic radiosurgery, particle beam, gamma ray or linear accelerator, one or more sessions. Commenters indicated that CPT code 61793 is clinically distinct from other forms of radiation treatment delivery and that this service generally involves significantly greater treatment time and costs. One commenter stated that if we were to keep CPT code 61793 in proposed APC 757, we would be prejudicing use of this new, proven technology. Another commenter contended that radiation therapy is not the same as a surgical procedure. The commenter urged us to separate stereotactic radiation therapy (SRT) and intensity-modulated radiation therapy (IMRT) services from the conventional radiation therapy procedures in APC 757 and to assign them a higher payment rate due to their higher cost.

Response: We created final APC group 0302, to which we assigned stereotactic radiosurgery, which requires significantly more costly resources than the procedures assigned to final APC groups 0300 and 0301. Note that we have created two codes, G0173 and G0174, to use in place of CPT code 61793. They represent stereotactic radiosurgery completed in one session, and that which requires multiple sessions, respectively. We also assigned CPT code 77470 to APC 0302, since we believe it requires resources similar to those required for radiosurgery. We will continue to track the data for these codes to ensure their proper placement. The procedures in final APC group 300 and in final APC group 301 are comparable with respect to the use of resources in accordance with the “two times” limit on cost variation.

APC 759: Brachytherapy and Complex Radioelement Applications

Comment: One commenter expressed concern because we did not identify a payment amount for the radioactive seeds used in brachytherapy. Another commenter referred to low dose rate interstitial brachytherapy that is used to treat complex gynecologic tumors, prostate cancers, and head and neck cancers, noting that this type of radiation therapy employs single-use radioactive sources (iodine, gold, iridium, and palladium seeds) and various disposable applicators. The commenter pointed out that only a limited number of vendors produce these radioactive sources and that the seeds cost as much as $200 each with the number of implants varying depending on the size, stage, and location of the cancer. The commenter stated that some patients with prostate cancer may require as many as 100 to 150 seeds. The commenter asserted that we have not captured the costs of these radiopharmaceuticals in the APC payment.

Response: We have changed how we pay for brachytherapy and the other services we proposed to classify to APC 759 in response both to comments and to the provisions of section 201(b) of the BBRA 1999, which provide for an additional payment to be made for innovative medical devices, including “a (current) device of brachytherapy.” (See section III.D., below.) Within this framework, we recognize the seeds provided during brachytherapy. For bill processing purposes, we have assigned brachytherapy seeds to APC 0918. We will make payment for brachytherapy seeds under the transitional pass-through rules explained in section III.D., below.

Based on commenters' suggestions, a review of our data, and the BBRA 1999 “two times” requirement, we have classified the procedures in proposed APC 759 in final APC 0312, Radioelement Applications, and final APC 0313, Brachytherapy. APC 0313 consists of CPT code 77781, Remote afterloading high intensity brachytherapy; 1-4 source positions or catheters; CPT code 77782, Remote afterloading high intensity brachytherapy; 5-8 source positions or catheters; CPT code 77783, Remote afterloading high intensity brachytherapy; 9-12 source positions or catheters; CPT code 77784, Remote afterloading high intensity brachytherapy; over 12 source positions or catheters; and, CPT code 77799, Unlisted procedure, clinical brachytherapy. Because these procedures are all different types of brachytherapy, final APC 313 is more coherent clinically than was proposed APC 759.

We moved CPT code 77750, Infusion or instillation of radioelement solution, to final APC 301, Level II Radiation Therapy, and CPT code 77789, Surface application of radioelement, were moved to final APC 300, Level I Radiation Therapy. The remaining procedures from proposed APC 759 constitute final APC 312, Radioelement Applications. The procedures in final APC group 312 and in final APC group 313 are comparable with respect to the use of resources in accordance with the “two times” limit on cost variation.

APC 761: Standard Non-Imaging Nuclear Medicine

APC 762: Complex Non-Imaging Nuclear Medicine

APC 771: Standard Planar Nuclear Medicine

APC 772: Complex Planar Nuclear Medicine

APC 781: Standard SPECT Nuclear Medicine

APC 782: Complex SPECT Nuclear Medicine

APC 791: Standard Therapeutic Nuclear Medicine

APC 792: Complex Therapeutic Nuclear Medicine

Comment: We received numerous comments about the proposed nuclear medicine APC groups. Commenters addressed what they believe to be discrepancies in the payment weights among the proposed groups. Commenters also asserted that the proposed payment levels are inadequate to offset the cost of radiopharmaceuticals. They believe, in part, that our use of single-procedure claims in constructing our database failed to capture the costs associated with the various radiopharmaceuticals that may be used in combination during multiple procedures performed during a single session on various patients. One commenter disagrees with our decision to consider therapeutic radiopharmaceuticals and radionuclides as incidental services, bundling their costs into nuclear medicine and radiation therapy procedures. The commenter recommended that we develop unique APC groups for radiopharmaceuticals and radionuclides. One manufacturer expressed particular concern about our proposed payment for a radiopharmaceutical used to relieve the pain of bone metastasis (CPT code 79400) that we proposed to package into APC 791 for which the proposed payment was $758. The commenter stated that this new radiopharmaceutical, which has generated a very high clinical response rate, costs more than $2,000 per dose.

Response: In response to these and other comments, as well as the changes made by the BBRA 1999 to the outpatient PPS, our medical advisors and staff have reconstructed the nuclear medicine APC groups. First, we have placed radiopharmaceuticals into a separate set of APC groups that are listed in Addendum K. As we state above, new section 1833(t)(6) of the Act provides for additional payment for current and new radiopharmaceuticals. We list in Addendum K those radiopharmaceuticals that are eligible for additional payment effective with services furnished on or after July 1, 2000. In accordance with the process outlined below, in section III.D.4, we invite requests to consider other radiopharmaceuticals as potential candidates for additional pass-through payments.

Next, we reconfigured the nuclear medicine APC groups based on the resources required for the procedures themselves, exclusive of costly radiopharmaceuticals. We took into account the fact that SPECT equipment, which costs significantly more than the non-SPECT equipment that was initially used most frequently for planar medicine, is now commonly used to conduct planar studies. As a final step, we further reorganized the groups to satisfy the requirement set by the BBRA 1999 “two times” requirement, resulting in final APC groups 0286, 0290, 0291, 0292, 0294, and 0295.

Comment: We received a number of comments concerning the clinical efficacy of iodine 131 tositumomab in the treatment of cancer. One commenter stated that iodine 131 tositumomab, which was reported to be pending final FDA approval, has the potential to be the first radioimmunotherapeutic agent to be approved for the treatment of cancer. The commenter expected this pharmaceutical to be the first in its class, and characterized it as neither a chemotherapeutic agent nor a radiopharmaceutical. The commenter stated that the cost of this pharmaceutical will be significantly higher than the payment amount proposed for any of the APC groups containing drugs used for cancer therapies. The commenter believes that we should have proposed an outlier policy to ensure equitable payment for pharmaceuticals such as iodine 131 tositumomab.

Response: If iodine 131 tositumomab receives final FDA approval, we strongly encourage interested parties to submit the appropriate materials to us for determination of this product's eligibility for additional payment under the pass-through provision as described below in section II.D.6.

Comment: One commenter finds our method of paying for new products to be flawed. The commenter sees it as highly probable that a new product will be inserted into an APC procedure category where the payment rate is significantly lower than the actual cost of the newly developed product. The commenter cites our proposed payment for a new product, In-111 Octreo Scan, which is used for tumor imaging. The product costs four times the payment rate for proposed APC 772, Complex Planar Nuclear Medicine. The commenter believes that this enormous discrepancy will discourage hospital outpatient departments from utilizing procedures that require this product and that Medicare beneficiaries may be denied access to the most appropriate care available as a result.

Response: We are firmly committed to ensuring that the provisions of the hospital outpatient PPS do not in any way obstruct or limit Medicare beneficiaries' access to reasonable medically necessary and appropriate care. We further recognize that the development of new technology and products is a highly dynamic enterprise that is constantly evolving and changing the character and cost of current diagnostic and treatment modalities. New section 1833(t)(6) of the Act provides for an additional transitional pass-through payment for certain innovative medical devices, drugs, and biologicals. We are also creating a series of transitional APCs for the express purpose of providing appropriate payment for new technology services when they emerge into the marketplace while we collect data to enable us ultimately to incorporate the new technology service within an APC group, making payment adjustments as needed. We expect to continue working closely with hospitals and their representatives throughout this process to ensure that payment does not inhibit beneficiary access to appropriate care. We discuss the transitional pass-through payment groups in greater detail in section III.D and provisions for payment for new technology in section III.C.8.

APC 881: Level I Pathology

APC 882: Level II Pathology

APC 883: Level III Pathology

Comment: We received numerous comments on the proposed pathology APC groups. One commenter expressed concern that our proposed assignment of tests among the three groups may create an incentive for physicians to order complex and unnecessary tests when simpler, less comprehensive tests may be adequate, because we have grouped together and are paying the same amount for tests that are clinically similar but that are comprehensively more difficult than one another.

Response: Our medical advisors and staff reviewed and completely reorganized the grouping of pathology tests in light of commenters' concerns and the BBRA 1999 “two times” requirement. Pathology tests are in final APC groups 0342, 0343, and 0344.

APC 906: Infusion Therapy Except Chemotherapy

APC 907: Intramuscular Injections

Comment: We received many comments about proposed APC groups 906 and 907. The commenters were generally concerned that packaging payment for nonchemotherapeutic infused and injected drugs in the payment rates for the administration of nonchemotherapy drugs does not take into account the great variation among these products with regard to their indication/application and cost nor the cost of new drugs that have been introduced since 1996. Commenters fear that we will underpay hospitals and inhibit the introduction of new drugs into the system.

Response: In response to the concerns expressed by commenters, we have created additional groups for certain expensive pharmaceuticals. These high-cost, nonchemotherapy, nonorphan drugs are captured in the following APCs: 0886-0891, 0907, 0908, 0911, 0914, 0915, 0917, 7007, 7036, and 7042. We have set the rates for these high-cost drug APCs based on data we obtained from a contracted study of drug costs. In section III.D, below, we discuss the process for pricing new high cost drugs as they are introduced into the marketplace to assure adequate payment until these new drugs can be assigned to an appropriate APC. Final APC 120, Infusion Therapy Except Chemotherapy, and final APC 359, Intramuscular injections, are priced based on the resources used to perform the procedures, including many less expensive drugs that are packaged into the two APCs.

APC 957: Echocardiography

Comment: Numerous commenters remarked on the lack of homogeneity in resource consumption in this APC. One commenter objected to our not distinguishing between procedures performed with or without contrast agents. Another commenter contends that proposed APC 957 does not account for the diversity of services in costs based on type of equipment, use of conscious sedation medication, and use of contrast agents.

Response: Conscious sedation and contrast media were packaged where they were used in the base year. We believe that packaging of items into the payment amount is appropriate because hospitals do not specialize in providing only services with or only services without sedation or contrast. To the extent that different equipment is used for different procedures, and has different costs, those differing costs are captured and recognized in our payment algorithm.

Comment: Several commenters referred to the fact that some of the echocardiograms are part of more comprehensive codes pertaining to echocardiograms that are in the same APC. For example, one commenter noted that CPT code 93880, the basic vascular ultrasound service, is defined as a “duplex scan.” The commenter stated that all duplex vascular ultrasound codes involve three components and that, to the extent all three components are incorporated into this single vascular code, a provider is paid for only one procedure. On the other hand, CPT code 93307, the basic echocardiography service, incorporates only one of the three types of services included in the basic vascular service, CPT code 93880. Other codes, CPT 93320 and 93325 are used to bill for the other services that are a standard part of all vascular ultrasound procedures like CPT code 93880. This approach results in a provider receiving three separate payments for an echocardiogram with Doppler and color flow mapping as compared to a single payment for an equivalent vascular study.

Response: We agree that duplex vascular ultrasound scanning procedures include two dimensional and doppler signal display. However, for the example cited by the commenter, there is no separate code that includes both the two dimensional and the doppler ultrasound spectral analysis. To report a duplex vascular ultrasound of the heart, the only codes available are CPT codes 93307, 93320 and 93325, unlike the duplex vascular ultrasound scan of the extracranial arteries, which is coded with CPT code 93880. We agree that this limitation of the coding system affects the payment system, since the APC system is based on charges associated with each of the codes. We will bring this issue to the attention of the American Medical Association's CPT Editorial Panel.

However, in those instances where there is a code for the comprehensive service and separate codes for services that are inherent components of the comprehensive service, the Correct Coding Initiative (CCI) edits, which we are incorporating into the hospital outpatient PPS claims processing system, will address this concern. The CCI edits have been in place in the Part B claims processing system since January 1996. These edits detect when codes representing component services are reported with the code for the more comprehensive service. For example, there is an edit that prohibits the payment of CPT code 93875, a doppler study of the extracranial arteries when reported with CPT code 93880, the duplex scan of the extracranial arteries.

APC 960: Cardiac Electrophysiologic Tests/Procedures APC

Comment: Many commenters cited extreme variations in resource use among the procedures in proposed APC 960. One commenter noted that the procedures involve the use of one or more catheters, and argued that the proposed payment does not cover the cost of even one catheter. Another commenter claims that, at a minimum, the total cost of the four diagnostic catheters and one ablation catheter used in performing these procedures is $1,955.

Response: In response to these concerns, we moved CPT code 93660, Evaluation of cardiovascular function with tilt table evaluation, with continuous ECG monitoring and intermittent blood pressure monitoring, with or without pharmacological intervention, to final APC 0101, and CPT code 93724, Electronic analysis of antitachycardia pacemaker system, to final APC 0100. We reclassified the remaining procedures in proposed CPT 960 into final APC groups 0084, 0085, 0086, and 0087 to be consistent with the BBRA 1999 “two times” requirement.

APC 966: Electronic Analysis of Pacemakers/Other Devices

Comment: A number of commenters stated that the procedures in proposed APC 966 are not related clinically or in terms of resource cost. One commenter indicated that analyzing a spine infusion pump or neuroreceiver is a very different process from analyzing a pacemaker or cardio/defibrillator and hence uses very different resources.

Response: Although the devices that are the subject of electronic analysis in proposed APC group 966 differ, we believe that the resource use among the services in the group is, on average, relatively similar. We determined that the procedures in proposed APC 966 meet the “two times” test for comparability with respect to the use of resources set by the BBRA 1999. In addition, we find it unlikely that facilities will specialize in one particular type of electronic analysis of pacemakers/other devices to the exclusion of others. Therefore, we did not change the procedures in final APC group 102 from what we had proposed.

APC 968: Vascular Ultrasound

Comment: One commenter recommended removing CPT code 93875, Non-invasive physiologic studies of extracranial arteries, complete bilateral study (for example, periorbital flow direction with arterial compression, ocular pneumoplethysmography, Doppler ultrasound spectral analysis), from proposed APC 968 because this study is a physiologic procedure and should be in the same group with other noninvasive physiologic vascular studies.

Response: We agree. We moved CPT code 93875 to final APC 0096.

Comment: One commenter recommended creating additional APC groups for CAT, MRI, and general ultrasound procedures to distinguish between diagnostic procedures that utilize contrast media and those that do not. The commenter believes that additional APC groups that properly recognize the resources required for contrast agents will encourage hospitals to use the procedures most suitable for the clinical needs of different patients.

Response: As we explained above, in our response to comments about proposed APC groups 710, 720, and 726, our medical advisors and staff carefully reviewed our data and concluded that costs associated with the use of contrast material are reflected in the payment rate for vascular ultrasound procedures in proportion to its frequency of use. We believe it is reasonable to have vascular ultrasound procedures with and without contrast together in one group because facilities do not specialize based on whether or not they use contrast material. Further, the cost of contrast material is small relative to the overall cost of the ultrasound. Moreover, facilities are not likely to schedule ultrasound according to whether or not contrast is used. Therefore, with the exception of moving CPT code 93875, we did not further change the procedures in final APC group 0267. Final APC group 0267 is within the limit on cost variation required by the BBRA 1999.

APC 969: Hyperbaric Oxygen

Comment: Many commenters were concerned that our cost data for hyperbaric oxygen therapy are flawed because of poor coding, and that the proposed payment rate is, as a consequence, inadequate. One commenter suggested that we did not use a common definition of hyperbaric oxygen therapy across all hospitals and that, due to ambiguity in codes, there is wide variation in how hyperbaric oxygen therapy services are defined for billing purposes.

Response: We cannot subdivide final APC 0031 because we have no mechanism for creating clinically distinct groups related to differences in resource consumption among facilities within a single CPT code. However, we explain below, in section III.H, that we intend to make adjustments in future years to APC group weights, once the hospital outpatient PPS is implemented. If commenters believe that current codes are inadequate to describe these services, they should seek new CPT codes from the American Medical Association.

Comment: One commenter was concerned about not only the low payment rate proposed for hyperbaric oxygen therapy, but also the fact that the proposed national unadjusted coinsurance amount exceeds the proposed total payment rate for the service.

Response: We calculated the payment rate and coinsurance amount for APC 0031 using the same method that we followed for the other APC groups. Charges for hyperbaric oxygen are much higher than their costs, which accounts for the unusually high national unadjusted coinsurance rate relative to the total payment rate for CPT code 99183. Note, however, that hospitals may elect to offer a reduced coinsurance rate for the service as described below in section III.F.4.

APC 971: Level 1 Pulmonary Tests

APC 972: Level II Pulmonary Tests

APC 973: Level III Pulmonary Tests

Comment: Commenters generally questioned the clinical consistency of procedures in the proposed pulmonary test APC groups and expressed concern about the variability of resources required to perform the procedures within each group. One commenter disagreed with our combining procedures before and after medication with procedures before rest and after exercise.

Response: After carefully reviewing the assignment of codes among the three proposed pulmonary test groups, our medical advisors and staff made a number of changes. To better recognize their median costs, we moved CPT code 94060, Bronchospasm evaluation before and after bronchodilator, and CPT code 94260, Thoracic gas volume, to final APC group 0368, and classified CPT code 94720, Carbon monoxide diffusing capacity, to final APC group 0367. We made additional changes among the three groups to ensure comparability of resources within each pulmonary test APC group in accordance with the “two times” standard set by the BBRA 1999.

APC 976: Pulmonary Therapy

Comment: Commenters generally questioned the clinical consistency of procedures in the proposed pulmonary therapy APC group and expressed concern about the variability of resources required to perform the procedures within the group. One professional association wrote that the respiratory therapy procedures in proposed APC group 976 are significantly different in complexity and require significantly different equipment and expertise to perform. The same commenter noted that CPT code 94657, Ventilation assist and management, initiation of pressure or volume preset ventilators for assisted or controlled breathing, subsequent days; CPT code 94660, Continuous positive airway pressure ventilation (CPAP), initiation and management; and, CPT code 94662, Continuous negative pressure ventilation (CNP), initiation and management, all require close monitoring, more costly equipment, and, often, more expertise than do other therapies in proposed APC group 976.

Response: We agree with the commenter. We moved the CPT codes describing ventilation initiation and management (CPT codes 94657, 94660, 94662) into their own APC, final APC 0079, Ventilation Initiation and Management, to recognize that these procedures represent a completely different type of clinical service and because they utilize resources that are materially different from those used in connection with other pulmonary therapy procedures. We further divided the procedures in proposed APC 976 to meet the definition of comparable resources required by the BBRA 1999, resulting in final APC groups 0077 and 0078.

APC 979: Extended EEG Studies and Sleep Studies

APC 980: Electroencephalogram

APC 981: Level I Nerve and Muscle Tests

APC 982: Level II Nerve and Muscle Tests

Comment: One commenter expressed concern about our grouping sleep medicine services in proposed APC 979 with EEG and Epilepsy diagnostic services. Another commenter is concerned about the clinical homogeneity of our proposed groups for the numerous different neurologic and neuromuscular diagnostic codes that are encompassed within the range of services described by CPT code 95805 through CPT code 95958. The commenter believes that our proposed groups do not make appropriate distinctions among the many different tests relating to different parts of the body, taking different amounts of time, using different equipment, and measuring different outcomes. One commenter asked that we add two codes created in 1998 for sleep services to the list of procedures in the APC system. The commenter recommended assigning CPT 95811, Polysomnography with CPAPP, to proposed APC group 979. The commenter also recommended that CPT code 95806, Sleep study, unattended by a technologist, not be assigned to proposed APC group 979 to avoid creating an incentive for hospitals to use that procedure, which the commenter asserts is both less costly and less conclusive than other studies in proposed APC 979, in place of more comprehensive tests. One commenter claimed that the variety of neurological and neuromuscular diagnostic tests warrants an expansion of the number of APCs for these procedures to six, because the resources used vary widely. The commenter prefers that payments be made on a per service rather than on a per group basis. However, if we retain groups, the commenter recommended, on the basis of cost-based practice expenses, separate APCs for sleep and polysomnography services, for EEG studies, for EEG monitoring codes, for EMG codes, for nerve conduction and H reflex tests, and for sensory evoked potential and autonomic nerve function tests.

Response: Our medical advisors and staff decided that CPT codes 95806 and 95811 are both most appropriately assigned to final APC 0213. While sleep studies unattended by a technologist may consume less resources than those studies which involve the presence of a technologist, we believe that physicians are likely to order a mix of sleep studies, and that institutions are unlikely to specialize in sleep studies with or without the presence of a technologist. We added CPT code 95951 to APC group 0213. We believe the codes we proposed in APC groups 979 and 980 are sufficiently comparable clinically and in terms of resource use not to require further subdivision into smaller groups. Therefore, we retained our proposed classification in final APC groups 213 and 214.

We created a third APC group for the nerve and muscle test codes, and we split the codes in proposed APCs 981 and 982 among final APC groups 0215, 0216, and 0217 to ensure comparability of resources within each of the three nerve and muscle test APC groups in accordance with the “two times” requirement set by section 201(g) of the BBRA 1999.

APC 987: Subcutaneous or Intramuscular Chemotherapy

APC 988: Chemotherapy except by Extended Infusion

APC 989: Chemotherapy by Extended Infusion

APC 990: Photochemotherapy

Comments: We received numerous comments that criticized our proposed payments for chemotherapy services. The commenters argued that the proposed payment for chemotherapy and radiation therapy would severely reduce payments to hospitals and create perverse incentives for hospitals to substitute the older, less effective therapies for the newer ones. The commenters asserted that the proposed payment would not cover the costs of supportive care such as drugs to control nausea and vomiting. They expected that low payment rates to hospitals would force them to discontinue chemotherapy services, and that patients would be faced with trips to distant facilities to obtain services.

Response: We believe that the concerns raised by the commenters have been addressed through the transitional pass-through provision set forth in section 1833(t)(6) of the Act, as added by section 201(b) of the BBRA 1999. In accordance with that provision, we have separately identified current drugs and biologicals used in the treatment of cancer. These are listed in Addendum K of this final rule, and are eligible for additional payment under this provision. We have obtained codes for any anticancer, supportive, or adjunctive drugs we could identify. Thus, we will pay for chemotherapy by recognizing the mode(s) of administration and each of the covered drugs given, whether they are to treat the cancer, to protect the patient against the toxic effects of the treatment, or to relieve the side effects of treatment. In section III.D.4, below, we discuss how to request codes for new drugs.

Note that we moved CPT-based chemotherapy infusion codes into the “E” (noncovered) category because HCPCS “Q” codes for these services will be used to identify chemotherapy infusions. Hospitals had been instructed in the past not to bill using the CPT codes.

APC 999: Therapeutic Phlebotomy

Comment: One commenter is concerned that facilities will lose money because the proposed payment rate does not cover the cost incurred to provide the nursing care, phlebotomy bag and other supplies, overhead, scheduling time and disposal of hazardous waste that are all required to furnish this service.

Response: We have carefully reviewed the costs associated with APC 999 and believe that the CPT code 99195 was mistakenly used to report simple venipuncture in some cases, thus lowering the cost of proposed APC 999. However, we believe it is appropriate to base payment for this APC on the median amount billed, since CPT code 99195 was billed more than 20,000 times. Hospitals must use this code only when therapeutic phlebotomy is furnished, and charge an appropriate rate for the resources involved. Appropriate reporting will enable us to determine a more precise weight for this APC in future years.

Final APC 081: Non-Coronary Angioplasty or Atherectomy

Final APC 082: Coronary Atherectomy

Final APC 083: Coronary Angioplasty

We created these three new APC groups to accommodate atherectomy and angioplasty procedures that we originally proposed to classify as inpatient only. We discuss in section III.C.5 our response to commenters' concerns about our proposing to designate certain procedures as “inpatient only” and our final decision to change the status of these atherectomy and angioplasty procedures.

Final APC 058: Strapping

Final APC 059: Casting

We proposed to assign the procedures in these new APC groups a payment status indicator “N” as incidental services for which payment is packaged into the APC rate for another service or procedure. However, we determined that the procedures in the final APC groups 0058 and 0059 could be performed independently, that is, the procedures for which a strapping has been previously applied and/or a new cast has previously been placed. We explain in more detail in section III.C.2.c our rationale for not packaging the costs associated with these services. We therefore created APC groups 0058 and 0059 for these codes to which we assigned payment status indicator “S” to indicate that these are significant procedures paid under the hospital outpatient PPS to which the multiple procedure discount does not apply.

e. Exceptions to BBRA 1999 Limit on Variation of Costs Within APC Groups

As we note above, section 201(g) of BBRA 1999 amends section 1833(t)(2) of the Act to define what constitutes comparable use of resources among the procedures or services within an ambulatory payment classification group under the hospital outpatient PPS. The standard set by section 1833(t)(2) of the Act is that the items and services within a group cannot be considered comparable with respect to the use of resources if the highest median (elected by the Secretary, as opposed to the mean) cost item or service within a group is more than 2 times greater than the lowest median cost item or service within the same group (the “two-times” requirement).

Section 1833(t)(2) of the Act allows the Secretary to make exceptions to the “two-times” requirement in unusual cases, such as low volume items and services, although the Secretary may not make such an exception in the case of a drug or biological that has been designated as an orphan drug under section 526 of the Federal Food, Drug, and Cosmetic Act. As we explain in the preceding section of this preamble, after we had modified the composition of the APC groups based on the recommendations of commenters, we made numerous additional changes to the APC groups to conform with the BBRA 1999 “two times” requirement. In the resulting groups, we found certain anomalies that were irreconcilable with the principles underlying formation of the APC groups. After carefully evaluating the various combinations resulting from further subdividing groups or reassigning codes to other groups to resolve the anomalies, and after reviewing our data, we decided to maintain the composition of certain APC groups, as exceptions to the “two times” requirement. We based exceptions on factors such as low procedure volume, suspect or incomplete cost data, concerns about inaccurate or incorrect coding, or compelling clinical arguments. We believe that as hospitals gain experience under the hospital outpatient PPS, and as they refine their coding of services, a number of the apparent anomalies within the groups that we are treating as exceptions to the “two times” will be resolved.

Below we list the APC groups that are exceptions to the “two times” requirement, and our reasons for the exception. We use the final APC number to identify the group.

APC 0016: Level IV Debridement and Destruction

We are retaining CPT code 56501 in final APC group 0016, even though its median cost exceeds the “two times limit.” We believe the higher costs that are reflected in the data are the result of incorrect coding. The descriptor for CPT code 56501 defines the procedure as the simple destruction of skin and superficial subcutaneous tissues. In the judgment of our medical advisors, costs associated with simple destruction of skin and superficial subcutaneous tissues are typically within the range of costs associated with the other procedures in final APC group 0016, and the median cost that our data attribute to CPT code 56501 is higher than the code description warrants.

APC 0030: Breast Reconstruction/Mastectomy

Although the range of costs for procedures in final APC group 0030 exceeds the “two times limit,” we believe that only the simplest breast procedures will be done in the outpatient setting. Most of the procedures with median costs over $1000 used observation services in order to provide an overnight stay. We expect these cases to revert to the more appropriate inpatient setting.

APC 0058: Level I Strapping/Casting

The codes in final APC group 0058 are the simpler casting, splinting, and strapping procedures. Costs associated with the more resource-intensive procedures in final APC group 0059 are fairly uniform, but the median costs of procedures in final APC group 0058 vary widely. We are excepting final APC group 0058 from the “two times limit” until we can review the data for the first year of the outpatient PPS.

APC 0060: Manipulation Therapy

Taken collectively, the codes in final APC group 0060 are low in volume and erratically priced. For example, although the number of areas treated increases within the range of CPT codes 98925 through 98929, suggesting progressively increasing resource utilization, our data show median costs associated with the codes in the range 98925-98929 as $38, $11, $16, $17, and $19, respectively. Although costs associated with treating 9 to 10 body regions might not be 5 to 10 times greater than treating one or two regions, we would still expect costs for the more extensive procedures to be higher than those for the less extensive procedures, and certainly not lower as suggested by our data. Nor do we expect a hospital to specialize in treating more or fewer body areas. Therefore, the median payment set for final APC 0060 should average out, providing adequate payment for any number of body areas treated.

APC 0079: Ventilation Initiation and Management

These codes all represent respiratory treatment and support within the outpatient setting. Their costs should be roughly the same, even though our data suggest otherwise. We are excepting final APC group 0079 from the “two times limit” at this time, pending the collection of more conclusive cost data.

APC 0080: Diagnostic Cardiac Catheterization

The data for CPT code 93524 reflect costs that are lower than we would expect. We can find no apparent explanation for the wide variation in costs among the cardiac catheterization codes, although we suspect that the accuracy of the chargemaster system, when assigning charges in other than the surgical suite, may be problematic. We expect costs to even out once hospitals decide which cases may be handled on an outpatient basis without requiring an overnight stay.

APC 0081: Non-Coronary Angioplasty

We are excepting final APC group 0081 from the “two times limit” because of the low volume of cases for the codes in the group. For some of the codes in this group, the data reflect lower than expected median costs, which we attribute to low volume and to miscoding, which would account for the erratic sequences of costs found in our data.

APC 0093: Vascular Repair/Fistula Construction

We believe the median costs for CPT codes 36530 and 36810 are aberrant. These codes are very similar clinically to the other codes in APC 0093, and we would expect their costs to be similar. We believe low volume may account for the variability in cost.

APC 0094: Resuscitation and Cardioversion

We believe the median costs for CPT codes 92953 and 31500 are aberrant, perhaps due to misuse of the codes. Therefore, we are excepting this APC group from the “two times limit,” until we collect and analyze more accurate data once the hospital outpatient PPS is implemented.

APC 210: Spinal Tap

The two CPT codes that comprise this group are essentially the same procedure, one performed for diagnostic reasons and the other therapeutic. We suspect the disparity in median costs is attributable to the much higher volume of diagnostic spinal taps. Therefore, we are excepting this APC group from the “two times limit,” until we collect and analyze more accurate data once the hospital outpatient PPS is implemented.

APC 0233: Level II Anterior Segment Eye

We are excepting final APC group 233 from the “two times limit” because many of the codes in this APC are low volume and the coding seems erratic. For example, CPT designates a number of codes that are in final APC group 0233 as “relatively small” surgical procedures, which suggests that miscoding may have resulted in inflated cost data.

APC 0251: Level I ENT Procedures

A combination of low volume and unlisted codes obscures the fact that this APC represents the least intense ENT procedures. Because there are so many ENT codes, consistent agreement on what the codes represent may be difficult to achieve. Therefore, we are excepting this APC group from the “two times limit,” until we collect more accurate data under outpatient PPS.

APC 0264: Level II Miscellaneous Radiology Procedures

In the judgment of our medical advisors, the median costs for CPT codes 74740 and 76102 are aberrant. These procedures would be underpaid if they were paid separately and on the basis of what our data show to be their median cost. Therefore, we are excepting this APC group from the “two times limit,” until we collect more accurate cost data under outpatient PPS.

APC 0274: Myelography

In the judgment of our medical advisors, the median costs for CPT codes 70010 and 70015 are aberrant. These codes would be underpaid if they were moved to their own APC and paid on the basis of their median cost. All codes in this APC should cluster around the same cost. Therefore, we are excepting this APC group from the “two times limit,” until we collect more accurate cost data under outpatient PPS.

APC 0279: Level I Diagnostic Angiography

We believe the median costs for the codes at the low end of this APC may be inaccurate, because, clinically, these codes are homogeneous. Therefore, we are excepting this APC group from the “two times limit,” until we collect more accurate cost data under outpatient PPS.

APC 0302: Level III Radiation Therapy

We are retaining CPT code 77470 in final APC group 302, because the median cost seems low for the code description, possibly because this code may have been billed improperly in the past. We are also uncertain of the appropriate median cost of CPT code 61793, because we have been told that CPT code 61793 was used for both single-session gamma knife procedures and for each of multiple sessions of treatment with linear accelerators. Therefore, we have created two codes to be used in place of CPT code 61793, in order to collect more reliable data: G0173 (Stereotactic radiosurgery, complete course of therapy in one session), and G0174 (Stereotactic radiosurgery, requiring more than one session).

We will initially pay both codes at the same rate; however, we expect differences in cost would become apparent during the first year or 18 months of the outpatient PPS.

APC 0311: Radiation Physics Services

We are retaining CPT code 77370 in final APC group 0311, because we believe a special medical radiation physics consultation (outside the weekly management of a patient) is probably more costly than our data indicate.

APC 0341: Immunology Tests

We think the variation in costs among the procedures within final APC group 0341 may be the result of erratic coding. Because these services are so similar clinically, we would expect their individual costs to cluster around the median. Therefore, we are excepting this APC group from the “two times limit,” until we collect more accurate cost data under outpatient PPS.

APC 0371: Allergy Injections

We attribute the variation in median costs among the procedures within final APC group 0371 to erratic coding. Because these services are so similar clinically, we would expect their individual costs to cluster around the median. Therefore, we are excepting this APC group from the “two times limit,” until we collect more accurate cost data under outpatient PPS.

APC 0373: Neuropsychological Testing

With one exception, the codes in final APC group 0373 are billed per hour, so facility costs should all cluster around the median. Therefore, we are excepting this APC group from the “two times limit,” until we collect more accurate cost data under outpatient PPS.

7. Discounting of Surgical Procedures

To be consistent with Medicare policy and regulations governing payment for ambulatory surgical services furnished in a physician's office and in an ASC, we proposed under the hospital outpatient PPS to discount payment amounts when more than one procedure is performed during a single operative session or when a surgical procedure is terminated prior to completion. Specifically, we proposed that when more than one surgical procedure with payment status indicator “T” is performed during a single operative session, we would pay the full Medicare payment and the beneficiary would pay the coinsurance for the procedure having the highest payment rate. Fifty percent of the usual Medicare PPS payment amount and beneficiary coinsurance amount would be paid for all other procedures performed during the same operative session to reflect the savings associated with having to prepare the patient only once and the incremental costs associated with anesthesia, operating and recovery room use, and other services required for the second and subsequent procedures.

We also proposed to require hospitals to use modifiers on bills to indicate procedures that are terminated before completion. Modifier -73 (Discontinued Outpatient Procedure Prior to Anesthesia Administration) would identify a procedure that is terminated after the patient has been prepared for surgery, including sedation when provided, and taken to the room where the procedure is to be performed, but before anesthesia is induced (for example, local, regional block(s), or general anesthesia). Modifier-52 (Reduced Services) would be used to indicate a procedure that did not require anesthesia, but was terminated after the patient has been prepared for the procedure, including sedation when provided and taken to the room where the procedure is to be performed. We proposed to pay 50 percent of the usual Medicare PPS payment amount and beneficiary coinsurance amount for a procedure terminated before anesthesia is induced. Modifier-74 (Discontinued Procedure) would be used to indicate that a surgical procedure was started but discontinued after the induction of anesthesia (for example, local, regional block, or general anesthesia), or after the procedure was started (incision made, intubation begun, scope inserted) due to extenuating circumstances or circumstances that threatened the well-being of the patient. To recognize the costs incurred by the hospital to prepare the patient for surgery and the resources expended in the operating room and recovery room, the hospital will receive full payment for a procedure that was started but discontinued after the induction of anesthesia or after the procedure was started, as indicated by a modifier-74. The elective cancellation of procedures would not be reported. If multiple procedures were planned, only the procedure actually initiated would be billed.

Comment: Some commenters asked us to clarify how the policy would be applied. For example, one commenter asked whether the surgical discounting methodology would apply in the following situation: Contrast x-ray of lower spine (CPT code 72265) is followed by contrast CAT of the spine (CPT code 72132). Both procedures have related surgical codes (CPT codes 62270 and 62284). Other commenters provided examples that were similar in nature but involved other codes.

Response: We proposed to apply the reduced payment for multiple procedures to surgical procedures only, that is, those CPT codes that have a payment status indicator “T.” Therefore, services such as CPT codes 72265 and 72132 that have a payment status indicator of “S” would not be subject to the multiple procedure discount, whereas CPT codes 62270 and 62284, which are surgical procedures and have a payment status indicator of “T,” would be subject to the multiple procedure discount. Hypothetically, if all four codes were provided in a single operative session, as suggested by this commenter, then the reduced payment would apply only to the surgical procedure with the lower payment rate. (For the record, we have responded to the commenter's example in order to clarify how the multiple procedure discount would apply in a hypothetical situation. However, we question whether the suggested combination of codes would be covered if actually performed during the course of a single patient encounter.)

Comment: Commenters asked what factors guided our assignment of payment status indicator “T” to a code.

Response: We generally assigned the payment status indicator “T” to surgical services. Our medical advisors and staff will continue to review the designation of status indicators and we may propose revisions in the future.

Comment: A variety of commenters stated that the reduced payments for multiple procedures would inappropriately reduce payments for a second procedure. Some were concerned that application of the multiple procedure discount could result in hospitals being less likely to offer procedures assigned the payment status indicator “T.” These commenters recommended that we change all “T” payment indicators to a different indicator such as “S,” which we define as a significant procedure not reduced when multiple, until we have had an opportunity to collect reliable cost data upon which to base payment decisions about discounting.

Response: We continue to believe that the proposed reduced payment for multiple surgical procedures is reasonable. We disagree that hospitals would be less likely to provide these services. We believe there clearly are savings achieved when more than one surgical procedure is performed during a single operative session. The patient has to be prepared for surgery only once, and the costs associated with anesthesia, operating and recovery room use, and other services required for the second procedure are incremental.

Comment: Some commenters questioned whether the reduced payment for multiple procedures applied to the beneficiary coinsurance as well as to the Medicare program payment. Others did not understand how this reduced payment was accounted for in determining the conversion factor.

Response: The reduced payment for multiple procedures would apply to both the beneficiary coinsurance and the Medicare payment. In order to do this in a “budget neutral” manner, we increased the conversion factor to account for the reduced payments for multiple procedures. In this way, total payments in the aggregate are not affected.

Comment: One commenter believes we should exclude from the multiple-procedure discount those procedures that were subject to a 50 percent reduction under the previous cost-based system because those procedures were recognized as being an adjunct to a primary procedure. The commenter believes that we had already factored these discounts into our cost determinations and would therefore be inappropriately reducing payment even further for these procedures.

Response: We disagree with the commenter. In determining the weights for the APC groups, we included only single procedure claims. Multiple procedure reductions existing under the previous cost-based system would not have been reflected in these single procedure claims, and, therefore, do not affect the APC payment weights.

Final Action

Under the hospital outpatient PPS, we will discount payment amounts for surgical procedures when more than one procedure is performed during a single operative session or when a surgical procedure is terminated prior to completion. Parallel discounts will apply to beneficiary coinsurance amounts.

8. Payment for New Technology Services

a. Background

We proposed to price a new item or service that was assigned a new HCPCS code by classifying the new code to whichever existing APC group most closely resembled the item or service in terms of its clinical characteristics and estimated resource use. We proposed to use the group weight, payment rate, and coinsurance amount established for the existing APC to price the new code for at least 2 years to give us an opportunity to collect cost data for the new item or service.

After we published our proposed rule, the Congress expressed concern in the conference report accompanying the BBRA 1999, that our proposed PPS does not adequately address “issues pertaining to the treatment of * * * new technology.” (See H. R. Rep. No. 436 (Part I), 106th Cong., 1st Sess. 868 (1999).) Therefore, the Congress enacted “transitional pass-throughs” in section 201(b) of the BBRA 1999 that provide an additional payment for “new medical devices, drugs, and biologicals” that do not otherwise meet the definition of current orphan drugs, or current cancer therapy drugs and biologicals and brachytherapy, or current radiopharmaceutical drugs and biological products. (See section III.D of this preamble for a discussion of how we are implementing the transitional pass-throughs.)

b. Comments and Responses

Comment: The most frequent commenters regarding our treatment of new technology under the proposed hospital outpatient PPS were device manufacturers and pharmaceutical companies and their trade associations. Commenters were concerned because the proposed APC payment rates were developed using 1996 cost data that do not reflect the cost of many new technologies introduced subsequent to 1996. Commenters believe that the proposed method of ratesetting under the APC system lacks the flexibility needed to recognize emergent technologies in a timely manner. In the view of the commenters, assigning new technologies to existing APC groups pending the collection of cost data would result in underpayment, thereby discouraging the adoption of new technologies.

Commenters further stated that the proposed payment rates for current yet relatively new devices were too low and would favor continued use of older, less effective regimens on the basis of financial pressures rather than on the improved clinical outcomes of newer technology. Some commenters, concerned that we will not update codes or payment rates quickly enough to allow hospitals to pay for new technologies, recommended that we assign HCPCS codes as soon as products become available and alter APC group weights to account for a new technology. These commenters believe that the time lapse between coding updates is a barrier to innovation because it can take several years for a code to be issued for a new surgical technique, and until a new code is issued, facilities must bill for new surgical techniques as “unlisted procedures” resulting in the lowest payment rate for the category of surgery.

One commenter urged that we implement a payment carve-out for certain drug and biological therapies and pay for these items on a reasonable cost basis in order to provide timely patient access to many new pharmaceutical and biotechnology products. The same commenter recommended that if we reject a complete carve-out, then, at a minimum, we should pay for new products introduced after 1996 on a reasonable cost basis for 1 year to adequately compensate companies for developing new and more effective products. Another commenter recommended that we increase the number of APC groups to better reflect services with similar cost structures.

One professional association recommended abandoning the APC group system altogether and pricing services individually because assigning new technology and most costly procedures to APC groups with established lower cost procedures creates a strong disincentive for hospitals to provide new or improved items or services and, in the case of newer, higher cost drugs, encourages hospitals to develop formularies and practice patterns based on financial considerations rather than on the medical value of drugs.

Technologies that commenters cited as being inadequately addressed by the proposed outpatient PPS include new technologies based on molecular genetics; gamma knife procedures used in radiation surgery; and prostatic microwave thermotherapy (transurethral microwave thermotherapy (TUMT)) which a commenter said has a direct cost of $1,918 and, factoring in indirect costs, a total cost of $2,623.

Response: The concerns expressed by commenters regarding new technology items and services highlight two issues. The first is specific to the data used to construct APC groups and calculate their prices at the start of the PPS. As required by section 1833(t)(2)(C) of the Act, we are using claims data from 1996 as the basis for determining APC group weights and payment rates under the new system. The 1996 data do not capture items and services that have emerged since that time and that are now in use. The second issue relates to new items and services that will be introduced in the future, after the outpatient PPS is implemented. Postponing the adjustment of APC groups and weights for several years to allow for the collection of cost data would potentially inhibit the dissemination of medically desirable innovations.

We recognize the concerns raised by commenters about our proposed treatment of new codes under the hospital outpatient PPS. We therefore have developed a process that we believe will allow us to recognize new technologies on an ongoing basis as expeditiously as our systems permit. We expect that this process, which we explain below, combined with the transitional pass-throughs established by section 201(b) of the BBRA 1999 (which we describe in section III.D of this preamble), will provide additional payment for a significant share of new technologies.

In this final rule, we have created special APC groups to accommodate payment for new technology services. In contrast to the other APC groups, the new technology APC groups do not take into account clinical aspects of the services they are to contain, but only their costs. We will assign new items and services that we determine cannot appropriately be placed in existing APC groups for established procedures and services to the new technology APC groups.

The new technology APC groups, which are now largely unpopulated, are already defined in our claims processing system for the outpatient PPS, and we have established payment rates for the APC groups based on the midpoint of ranges of possible costs, for example, the payment amount for a new technology APC group reflecting a range of costs from $300 to $500 would be set at $400. The cost range for the groups reflects current cost distributions, and we reserve the right to modify the ranges as we gain experience under the outpatient PPS. The final APC groups for new technology are groups 0970 through 0984 and cover a range of costs from less than $50 to $6,000. Upon implementation of the outpatient PPS, we will make payment for the following new technology services under the new technology APCs:

53850 Transurethral destruction of prostate tissue; by microwave thermotherapy

53852 Transurethral destruction of prostate tissue; by radiofrequency thermotherapy

96570 Photodynamic therapy, first 30 minutes

96751 Photodynamic therapy, each additional 15 minutes

G0125 PET lung imaging of solitary pulmonary nodules, using 2-(Fluorine-18)-Fluoro-2-Deoxy-D-Glucose (FDG), following CT (71250/71260 or 71270)

G0126 PET lung imaging of solitary pulmonary nodules, using 2-(Fluorine-18)-Fluoro-2-Deoxy-D-Glucose (FDG), following CT (71250/71260 or 71270); initial staging of pathologically diagnosed non-small cell lung cancer

G0163 Positron emission tomography (PET), whole body, for recurrence of colorectal metastatic cancer

G0164 Positron emission tomography (PET), whole body, for staging and characterization of lymphoma

G0165 Positron emission tomography (PET), whole body, for recurrence of melanoma or melanoma metastatic cancer

G0166 External counterpulsation, per treatment session

G0168 Wound closure by adhesive

The new technology APC groups give us a mechanism for initiating payment at an appropriate level within a relatively short timeframe, and certainly less than the 2 or 3 years that we contemplated in our proposed rule. As in the case of items qualifying for the transitional pass-through payment, placement in a new technology APC will be temporary. After we gain information about actual hospital costs incurred to furnish a new technology service, we will move it to a clinically-related APC group with comparable resource costs. If we cannot move the new technology service to an existing APC because it is dissimilar clinically and with respect to resource costs from all other APCs, we will create a separate APC for such service. We will retain a service within a new technology APC group for at least 2 years, but no more than 3 years, consistent with the time duration allowed for the transitional pass-through payments. Movement from a new technology APC to a clinically-related APC would occur as part of the annual update of APC groups. Beneficiary coinsurance amounts for items and services in the new technology APC groups are 20 percent of the payment rate set for the new technology APCs.

We ask that interested parties take the following steps to bring to our attention services that they believe merit consideration for pricing using the new technology APC groups. Mail requests for consideration of possible new technology services that have established HCPCS codes to the following address ONLY: PPS New Tech/Pass-Throughs, Division of Practitioner and Ambulatory Care, Mailstop C4-03-06, Health Care Financing Administration, 7500 Security Boulevard, Baltimore, MD 21244-1850.

To be considered, requests MUST include the following information:

• Trade/brand name of item.

• A detailed description of the clinical application of the item, including HCPCS code(s) to identify the procedure(s) with which the item is used.

• Current cost of the item to hospitals (i.e., actual cost paid by hospitals net of all discounts, rebates, and incentives in cash or in-kind). In other words, submit the best and latest information available that provides evidence of the hospital's actual cost for a specific item.

• If the item is a service, itemize the costs required to perform the procedure, e.g., labor, equipment, supplies, overhead, etc.

• If the item requires FDA approval/clearance, submit information that confirms receipt of FDA approval/clearance and the date obtained.

• If the item already has an assigned HCPCS code, include the code and its descriptor in your submission plus a dated copy of the HCPCS code “recommendation application” previously submitted for this item.

• If the item does not have an assigned HCPCS code, follow the procedure discussed, below, for obtaining HCPCS codes and submit a copy of the application with our payment request.

• Name, address, and telephone number of the party making the request.

• Other information as HCFA may require to evaluate specific requests.

We believe some items not yet known to us do not yet have assigned HCPCS codes. We expect to use national HCPCS codes in the hospital outpatient PPS to the greatest extent possible. These codes are established by a well-ordered process that operates on an annual cycle, starting with submission of information by interested parties due by April 1 and leading to announcement of new codes in October of each year. This process is described, and relevant application forms are available, on the following HCFA website: http://www.hcfa.gov/medicare/hcpcs.htm.

Considering the exigencies of implementing a new system, we intend to establish temporary codes in 2000 to permit implementation of additional payments for other eligible items effective beginning October 1, 2000. The process for submitting information will be the same as for national codes.

For new technology services that DO NOT have established HCPCS codes, submit the regular application for a national HCPCS code in accordance with the instructions found on the internet at http://www.hcfa.gov/medicare/hcpcs.htm. Send applications for national HCPCS codes to: C. Kaye Riley, HCPCS Coordinator, Health Care Financing Administration, Mailstop C5-08-27, 7500 Security Boulevard, Baltimore, Maryland 21244-1850. A fuller discussion of the HCPCS process and schedule is in section III.D.6 of this preamble.

Because of staffing and resource limitations, we cannot accept requests by facsimile (FAX) transmission. Because of claims processing systems constraints, a new technology payment rate can only be initiated at the start of a calendar quarter. Since we will update our outpatient PPS quarterly to include new technology additional services, October 1, 2000 is the earliest date that we will implement payment for additional new technology services other than for those items beginning on July 1, 2000. In general, we expect to be able to complete action on requests to assign an item or service to a new technology APC group in about 6 months from the date we receive the request.

In order to be considered for assignment to a new technology APC group, an item or service must meet the following criteria:

• The item or service is one that could not have been billed to the Medicare program in 1996 or, if it was available in 1996, the costs of the item or service could not have been adequately represented in 1996 data.

• The item or service does not qualify for an additional payment under the transitional pass-through provided for by section 1833(t)(6) of the Act, as amended by section 201(b) of the BBRA 1999, and 42 CFR 419.43(e) as a current orphan drug, as a current cancer therapy drug or biological or brachytherapy, as a current radiopharmaceutical drug or biological product, or as a new medical device, drug, or biological.

• The item or service has a HCPCS code. (See section III.D for additional information about obtaining HCPCS codes.)

• The item or service falls within the scope of Medicare benefits under section 1832(a) of the Act.

• The item or service has been determined to be reasonable and necessary in accordance with section 1862(a)(1)(A) of the Act.

Final Action

We are initiating a method to pay for new technology services that are not addressed by the transitional pass-through provisions of the BBRA 1999.

D. Transitional Pass-Through for Innovative Medical Devices, Drugs, and Biologicals

1. Statutory Basis

Section 201(b) of the BBRA 1999 amended section 1833(t) of the Act by adding a new section 1833(t)(6). This provision requires the Secretary to make additional payments to hospitals for a period of 2 to 3 years for specific items. The items designated by the law are the following: current orphan drugs, as designated under section 526 of the Federal Food, Drug, and Cosmetic Act; current drugs, biologic agents, and brachytherapy devices used for treatment of cancer; current radiopharmaceutical drugs and biological products; and new medical devices, drugs, and biologic agents, in instances where the item was not being paid for as a hospital outpatient service as of December 31, 1996, and where the cost of the item is “not insignificant” in relation to the hospital outpatient PPS payment amount. In this context, “current” refers to those items for which hospital outpatient payment is being made on the first date the new PPS is implemented.

Section 1833(t)(6)(C)(i) of the Act sets the additional payment amounts for the drugs and biologicals as the amount by which the amount determined under section 1842(o) of the Act (95 percent of the average wholesale price (AWP)) exceeds the portion of the otherwise applicable hospital outpatient department fee schedule amount that the Secretary determines to be associated with the drug or biological. Section 1833(t)(6)(C)(ii) provides that the additional payment for medical devices be the amount by which the hospital's charges for the device, adjusted to cost, exceed the portion of the otherwise applicable hospital outpatient department fee schedule amount determined by the Secretary to be associated with the device. Under section 1833(t)(6)(D), the total amount of pass-through payments for a given year cannot be projected to exceed an “applicable percentage” of total payments. For a year (or a portion of a year) before 2004, the applicable percentage is 2.5 percent; for 2004 and subsequent years, the applicable percentage is 2.0 percent. If the Secretary estimates that total pass-through payments would exceed the caps, the statute requires the Secretary to reduce the additional payments uniformly to ensure the ceiling is not exceeded.

Section 201(c) of the BBRA amended section 1833(t)(2)(E) of the Act to require that these pass-through payments be made in a budget neutral manner. In accordance with section 1833(t)(7) of the Act, as amended by section 201(i) of the BBRA 1999, these additional payments do not affect the computation of the beneficiary coinsurance amount.

Implementation of this pass-through provision requires us to—

• Identify eligible pass-through items;

• Designate a Billing Code for each;

• Determine the term “not insignificant” in the context of determining whether an additional payment is appropriate;

• Determine an appropriate cost-to-charge ratio to use to adjust the hospital's charges for a new medical device to cost;

• Determine the portion of the applicable APC that would be associated with the drug, biological or device; and

• Determine the additional payment amount.

As with other provisions of this final rule that reflect implementation of the BBRA 1999, we are soliciting comments on our implementation of the transitional pass-through payments, as set forth below.

2. Identifying Eligible Pass-Through Items

a. Drugs and Biologicals

Section 1833(t)(6)(A) of the Act establishes definitions and examples of the drugs and biologicals that are candidates for pass-through payments. As indicated above, these drugs and biologicals are characterized as both current and new. Current refers to those drugs and biologicals for which payment is made on the first date the hospital outpatient PPS is implemented, that is, on July 1, 2000. They include the following:

1. Orphan drugs. These are drugs or biologicals that have been designated as an orphan drug under section 526 of the Federal Food, Drug and Cosmetic Act.

2. Cancer therapy drugs, biologicals, and brachytherapy. These items are those drugs or biologicals that are used in cancer therapy, including (but not limited to) chemotherapeutic agents, antiemetics, hematopoietic growth factors, colony stimulating factors, biological response modifiers, bisphosphonates, and a device of brachytherapy.

3. Radiopharmaceutical drugs and biological products. These are radiopharmaceutical drug or biological products used in nuclear medicine for diagnostic, monitoring, or therapeutic purposes.

A new drug or biological is defined as a product that was not paid as a hospital outpatient service prior to January 1, 1997 and for which the cost is not insignificant in relation to the payment for the APC to which it is assigned. These items are not reflected in the 1996 claims data we are required to use in developing the outpatient PPS. Before payment can be made for these new drugs and biologicals, a determination must be made that these items are reasonable and necessary for the diagnosis or treatment of an illness or injury or to improve the functioning of a malformed body member as required by section 1862(a)(1)(A) of the Act. Drugs that can be self-administered are not covered under Part B of Medicare (with specific exemptions for certain oral chemotherapeutic agents and antiemetics, blood-clotting factors, immunosuppressives, and erythropoietin for dialysis patients).

b. Medical Devices

Under section 201(b) of the BBRA 1999, for purposes of making pass-through payments, a new or innovative medical device is one for which payment as a hospital outpatient service was not being made as of December 31, 1996 and for which the cost of the device “is not insignificant” in relation to the hospital outpatient department fee schedule amount payable for the service involved. For the purpose of identifying “new medical devices” that may be eligible for pass-through payments, we are excluding equipment, instruments, apparatuses, implements or items that are generally used for diagnostic or therapeutic purposes, that are not implanted or incorporated into a body part, and that are used on more than one patient (that is, are reusable). This material is generally considered to be hospital overhead costs and the depreciation expenses associated with them are reflected in the APC payments. The unit of payment for the outpatient PPS is a service or procedure. Equipment or instrumentation is a method or means of delivering that service. We are not establishing separate APC payments for equipment, instruments, apparatuses, implements, or items because payment for these types of devices is packaged in the APC payment for the service or item with which they are used. However, as we discuss above in section III.C.8, we have created new technology APCs to accommodate new technology services that may be performed using equipment or instrumentation that is capitalized and depreciated and used on more than one patient. An example of a new technology service is CPT code 53850, Transurethral destruction of prostate tissue; by microwave thermotherapy. We have assigned this procedure to new technology APC 0980. (See section III.C.8 of this preamble for further discussion of payment for new technology under the hospital outpatient PPS.)

Section 201(e) of the BBRA 1999 amends section 1833(t)(1)(B) of the Act to include as “covered OPD services” implantable items described in paragraphs (3), (6), or (8) of section 1861(s) of the Act. Paragraph (3) refers to diagnostic tests including diagnostic x-rays, mammographies, laboratory tests, and other diagnostic tests. Paragraph (6) refers to implantable durable medical equipment (DME), and paragraph (8) refers to prosthetic devices that replace all or part of an internal body organ (including colostomy bags and supplies directly related to colostomy care). Implantables are not mentioned specifically in these paragraphs, but we consider a prosthetic device that replaces all or part of an internal body organ that is mentioned in section 1861(s)(8) to be an implantable. The BBRA 1999 Conference Report lists pacemakers, defibrillators, cardiac sensors, venous grafts, drug pumps, stents, neurostimulators, and orthopedic implants, as well as items that come in contact with human tissue during invasive procedures as examples of implantable items.

Implantable items covered under section 201(e) of the BBRA 1999 may be considered eligible for the transitional pass-through payments allowed under section 201(b) of the BBRA 1999 to the extent that these implantables meet the statutory requirements set forth in section 201(b) and the criteria established in this final rule for payment of these devices.

Although we are recognizing the implantable items identified in section 201(e) of the BBRA 1999 for possible pass-through payments, we are not applying the pass-through provision to any DME, orthotics, and prosthetic devices that are not covered under section 201(e) of the BBRA 1999. Rather, we will pay for these items under the DMEPOS fee schedule when the hospital is acting as a supplier.

3. Criteria To Define New or Innovative Medical Devices Eligible for Pass-Through Payments

In summary, we will make pass-through payment for new or innovative medical devices that meet the following criteria:

a. They were not recognized for payment as a hospital outpatient service prior to 1997.

b. They have been approved/cleared for use by the FDA.

c. They are determined to be reasonable and necessary for the diagnosis or treatment of an illness or injury or to improve the functioning of a malformed body part, as required by section 1862(a)(1)(A) of the Act. We recognize that some investigational devices are refinements of existing technologies or replications of existing technologies and may be considered reasonable and necessary. We will consider devices for coverage under the outpatient PPS if they have received an FDA investigational device exemption (IDE) and are classified by the FDA as Category B devices. (See §§ 405.203 to 405.215.) However, in accordance with § 405.209, payment for a nonexperimental investigational device “is based on, and may not exceed, the amount that would have been paid for a currently used device serving the same medical purpose that has been approved or cleared for marketing by the FDA.”

d. They are an integral and subordinate part of the procedure performed, are used for one patient only, are surgically implanted or inserted, and remain with that patient after the patient is released from the hospital outpatient department.

e. The associated cost is not insignificant in relation to the APC payment for the service in which the innovative medical equipment is packaged. (See section III.D.4 below for the definition of “not insignificant.”)

f. They are not equipment, instruments, apparatuses, implements, or such items for which depreciation and financing expenses are recovered as depreciable assets as defined in Chapter 1 of the Medicare Provider Reimbursement Manual (HCFA Pub. 15-1). (As indicated above, these costs are considered overhead expenses that have been factored into the APC payment.)

g. They are not materials and supplies such as sutures, clips, or customized surgical kits furnished incident to a service or procedure.

h. They are not materials such as biologicals or synthetics that may be used to replace human skin.

Comment: Some commenters asked how we would pay for new technology intraocular lenses (IOLs) under the hospital outpatient PPS.

Response: We will use the same criteria established in the June 16, 1999 final rule (64 FR 32198) titled “Medicare Program; Adjustment in Payment Amounts for New Technology Intraocular Lenses Furnished by Ambulatory Surgical Centers” to identify IOLs that may be considered new technology and eligible for pass-through payments. In accordance with that rule, IOLs must first be approved by the FDA before they can be considered as a new technology IOL. The rule establishes only one criterion for distinguishing new technology IOLs from other IOLs. Specifically, all claims of the IOL's clinical advantages and superiority over existing IOLs must have been approved by the FDA for labeling and advertising purposes. For further discussion on the reasons for relying on the FDA's determination, we refer the reader to the IOL proposed rule published on September 4, 1997 (62 FR 46700 through 46701). We recognize that this criterion has been developed to define the characteristics that distinguish a new technology IOL from other IOLs in order to comply with section 141(b) of the Social Security Act Amendments of 1994 (Pub. L. 103-432) that is specific to IOLs furnished in ASCs and not hospital outpatient departments. However, we believe that it is appropriate to rely on an established approach to assist us in distinguishing this new technology since more than 1 million IOLs are inserted annually during or subsequent to cataract surgery performed in the outpatient setting. Moreover, we believe that consistent application of the criterion in both the ASC and hospital outpatient prospective payment systems is less burdensome to those requesting recognition of new technology IOLs. Therefore, when IOLs that are recognized as “new technology IOLs” in accordance with the provisions of the June 16, 1999 final rule are furnished in a hospital outpatient setting, we will pay for such new technology IOLs in accordance with the hospital outpatient PPS method for determining additional payments under the pass-through provision set forth in this final rule.

Comment: We received many comments urging that we establish appropriate payments for brachytherapy seeds used in the treatment of prostate cancer.

Response: In accordance with section 1833(t)(6)(A)(ii), as added by section 201(b) of the BBRA 1999, we will provide additional payments for brachytherapy seeds as an implanted device. The brachytherapy device is assigned to APC 0918.

4. Determination of “Not Insignificant” Cost of New Items

Section 1833(t)(6)(A)(iv)(II) of the Act, as added by section 201(b) of the BBRA 1999 provides that the transitional pass-throughs apply to new drugs, biologicals, and devices whose cost is not insignificant in relation to the hospital outpatient PPS payment amount. Section 1833(t)(6)(C) defines the additional payment as the difference between an amount specified by the law and the portion of the applicable fee schedule amount determined to be associated with the item. The objective of this section is to prevent the hospital outpatient PPS from creating disincentives for the diffusion of valuable new technology by initially paying a rate significantly below the costs of these items. We believe that the “not insignificant” criterion was included in recognition that: (1) The costs of some new technologies would not be large enough relative to the fee schedule amount to provide disincentives for their use in the short run; and (2) that an excessive number of pass-through items could place a substantial burden on the claims processing systems of both HCFA and individual hospitals in a way that could hamper the rapid processing of pass-through payments for those items that would be significantly more costly than the applicable fee schedule amount. Therefore, in order to be consistent with the objectives of this section, we are establishing the following criteria for determining whether the costs of drugs, biologicals, and devices are “not insignificant” relative to the hospital outpatient department fee schedule amount:

(1) Its expected reasonable cost exceeds 25 percent of the applicable fee schedule amount for the associated service.

(2) The expected reasonable cost of the new drug, biological, or device must exceed the portion of the fee schedule amount determined to be associated with the drug, biological, or device by 25 percent.

(3) The difference between the expected, reasonable cost of the item and the portion of the hospital outpatient department fee schedule amount determined to be associated with the item exceed 10 percent of the applicable hospital outpatient department fee schedule amount.

The following illustrates the application of these three criteria.

Example: Let us assume that the reasonable cost of the new device ZZ is $32.00. ZZ is associated with HCPCS code 00000 assigned to APC 0001. The fee schedule amount for APC 0001 is $100.00. The portion of the fee schedule amount included in APC 0001 that represents the cost associated with the former device is $25.00.

1. (a) Multiply the fee schedule amount for APC 0001 by 25 percent

$100.00 × .25 = $25.00

(b) Compare the reasonable cost for ZZ to the product derived in Step 1

$32.00 > $25.00

Finding: The first criterion is met.

2. (a) Multiply the portion of the fee schedule amount for APC 0001 that is associated with a device by 25 percent

$25.00 × .25 = $6.25

(b) Subtract the portion of the fee schedule amount for APC 0001 attributable to a device from the reasonable cost for ZZ

$32.00 − $25.00 = $7.00

(c) Compare the remainder in Step 4 to the product in Step 2(a)

$7.00 > $6.25

Finding: The second criterion is met.

3. (a) Multiply the fee schedule amount for APC 0001 by 10 percent

$100.00 × .10 = $10.00

(b) Compare the remainder in Step 3 to the product derived in Step 3(a)

$7.00 < $10.00

Finding: The third criterion is not met. Therefore, new device ZZ is not eligible for transitional pass-through payment.

5. Calculating the Additional Payment

Section 1833(t)(6)(C)(i) of the Act requires that for drugs, biologicals, and radiopharmaceuticals, the additional payment be determined as the difference between the amount determined under section 1842(o) of the Act (95 percent of AWP) and the portion of the hospital outpatient department fee schedule amount determined by the Secretary to be associated with those items. For devices, the additional payment is the difference between the hospital's charges adjusted to costs and the portion of the applicable hospital outpatient department fee schedule amount associated with the device. Under section 1833(t)(7) of the Act, as added by section 201(i) of the BBRA 1999, the coinsurance amounts for beneficiaries are not affected by pass-through payments.

We will determine, on an item-by-item basis, the amount of the applicable fee schedule amount associated with the relevant drug, biological, or device. To the extent possible, hospital outpatient department claims data will be used to make these estimates. When necessary, external data pertaining to the costs of the drugs, biologicals and devices already included in the fee schedule amounts will be used to make these determinations.

Before January 1, 2002, charges for devices eligible for pass-throughs will be adjusted to cost on each claim by applying the individual hospital's average cost-to-charge ratio across all outpatient departments. The 1996 data do not allow for determination of which revenue center-specific ratios might be used for this purpose. We will examine claims for the latter half of 2000 and for 2001 in order to determine if a revenue center-specific set of cost-to-charge ratios should be used for 2002 and beyond.

A one-time exception to the general methodology described above pertains to current drugs and biologicals that will be eligible for transitional pass-throughs when the PPS is implemented. For this final rule, we revised many APC groups by removing, to the extent possible, many of these drugs and radiopharmaceuticals. Therefore, the payment rates for the APC groups with which these drugs are associated exclude the costs of these drugs and the total amount paid to hospitals for the drugs will be 95 percent of the applicable AWP. In order to be able to determine a coinsurance amount for these drugs, we needed to estimate what portion of this payment would have been included as part of the APC payment amount associated with these drugs and what portion would be the pass-through amount. Using an external survey of hospitals' drug acquisition costs, we determined the APC payment amount for many of these drugs as their average acquisition cost adjusted to year 2000 dollars. Where valid cost data were not available for individual drugs, we applied the following average ratios of acquisition cost to AWP calculated from the survey to determine the fee schedule amount: .68 for drugs with one manufacturer, .61 for multi-source drugs, and .43 multi-source drugs with generic competitors. In either case, the coinsurance amounts were determined as 20 percent of these fee schedule amounts. It is important to note that these estimates do not affect the total payment to hospitals for these drugs (95 percent of AWP).

Because claims data are not available for most items that will be eligible for transitional pass-through payments for 2000 and 2001, it is extremely difficult to project expenditures under this provision. For this reason, and because many eligible items will be added after the system's implementation, we cannot estimate if, and to what extent, these payments would exceed 2.5 percent of total payments in 2000 and 2001. Therefore, there will be no uniform reduction factor applied to these payments during this period.

6. Process To Identify Items and To Obtain Codes for Items Subject to Transitional Pass-Throughs

We have identified a large number of items subject to the transitional pass-through payment through our own data-gathering activities or through comments on the proposed rule. Many of them already have HCPCS codes, and we are taking steps to establish temporary codes for the remaining items. We will make additional payments for these items when the hospital outpatient PPS system is implemented on July 1. A list of the items already known to us is set forth in Addendum K.

Other items potentially eligible for additional pass-through payments may not be known to us at this time. Because of systems limitations, if we do not know about an item, we will not be able to make additional payments for those items beginning on July 1, 2000. However, we will update our outpatient PPS on a quarterly basis beginning October 1, 2000 to add other items that are eligible for pass-through payments. Therefore, implementation of additional payment for any such item must wait until a later release of systems instructions, that is, in October 2000, January 2001 (annual update), or later.

A manufacturer or other interested party who wishes to bring items that may be eligible for additional transitional pass-through payments to our attention should mail requests for consideration of items to the following address ONLY: PPS New Tech/Pass-Throughs, Division of Practitioner and Ambulatory Care, Mailstop C4-03-06, Health Care Financing Administration, 7500 Security Boulevard, Baltimore, MD 21244-1850.

To be considered, requests MUST include the following information:

• Trade/brand name of item.

• A detailed description of the clinical application of the item, including HCPCS code(s) to identify the procedure(s) with which the item is used. If the item replaces or improves upon an existing item, identify the predecessor item by trade/brand name and HCPCS code.

• Current cost of the item to hospitals (i.e., actual cost paid by hospitals net of all discounts, rebates, and incentives in cash or in-kind). In other words, submit the best and latest information available that provides evidence of the hospital's actual cost for a specific item.

• Date of sale of first unit.

• For drugs, submit the most recent average wholesale price (AWP) of the drug and the date associated with the AWP quote.

• If the item requires FDA approval/clearance, submit information that confirms receipt of FDA approval/clearance and the date obtained.

• If the item already has an assigned HCPCS code, include the code and its descriptor in your submission plus a dated copy of the HCPCS code “recommendation application” previously submitted for this item.

• If the item does not have an assigned HCPCS code, follow the procedure discussed, below, for obtaining HCPCS codes and submit a copy of the application with your payment request.

• Name, address, and telephone number of the party making the request.

• Other information as HCFA may require to evaluate specific requests.

We believe some items not yet known to us do not yet have assigned HCPCS codes. We expect to use national HCPCS codes in the hospital outpatient PPS to the greatest extent possible. These codes are established by a well-ordered process that operates on an annual cycle, starting with submission of information by interested parties due by April 1 and leading to announcement of new codes in October of each year. This process is described, and relevant application forms are available, on the following HCFA website: http://www.hcfa.gov/medicare/hcpcs. htm.

Considering the exigencies of implementing a new system, we intend to establish temporary codes in 2000 to permit implementation of additional payments for other eligible items effective beginning October 1, 2000. The process for submitting information will be the same as for national codes.

For items that might be candidates for additional transitional pass-through payments but that DO NOT have established HCPCS codes, submit the regular application for a national HCPCS code in accordance with the instructions found on the internet at http://www.hcfa.gov/medicare/hcpcs.htm. Send applications for national HCPCS codes to: C. Kaye Riley, HCPCS Coordinator, Health Care Financing Administration, Mailstop C5-08-27, 7500 Security Boulevard, Baltimore, Maryland 21244-1850.

Because of staffing and resource limitations, we cannot accept requests by facsimile (FAX) transmission.

As indicated in the instructions posted at our website address cited above, the deadline for submission of applications for a national HCPCS code for the CY 2001 cycle is April 1, 2000. The HCPCS process will proceed to assign national codes as warranted, and we expect these codes will be used in the hospital outpatient PPS starting January 1, 2001. Because the coding application will contain information vital to determining a specific item or product's eligibility for pass-through payments, we are requesting that a copy of the application be sent concurrently to ATTN: PPS New Tech/Pass-Throughs at the address shown above.

This year, we plan to implement additional payment for appropriate items on October 1, 2000. Requests submitted to us with appropriate information will be evaluated for payment effective October 1. We will use the same submissions made for national HCPCS codes as the basis for making temporary code assignments. However, a very large volume of requests or systems constraints could affect our ability to achieve this goal.

Any applications for HCPCS codes that are received after April 1 will be retained for the next cycle of the national HCPCS code assignment process starting the following April 1. We will also consider these items for assignment of temporary codes that might take effect in January or later in the next year.

How quickly additional payment for a new item can be implemented will depend on processing and systems constraints; it will in general require at least 6 months and may require as many as 9 or more months. Thus, a submission that we receive in May (which is too late for October implementation) might be assigned a temporary code to be used for implementing additional payments starting the following January.

As previously stated, pass-through payment for each item is temporary. After we obtain information about actual hospital costs incurred to furnish a pass-through item, we will package it into the service with which it is clinically associated.

Comment: A number of commenters expressed concern about the extensive amount of time required to obtain HCPCS codes for new items or services. They argued that the lag-time in coding updates creates a barrier to innovation, claiming that it can be several years before a code is issued for a new surgical technique or product. Some commenters noted that when facilities are forced to code new surgical techniques as “unlisted procedures,” pending issuance of a specific code for the procedure, it would result in the facility receiving payment for the lowest related APC group. Some commenters recommended that we assign HCPCS codes as soon as products become available.

Response: We recognize the urgency expressed by commenters. We believe the process we have outlined above will assist interested parties in obtaining HCPCS codes for new items and services in the most expeditious manner possible within the constraints imposed by our system requirements.

E. Calculation of Group Weights and Conversion Factor

1. Group Weights (Includes Table 1, Packaged Services by Revenue Center)

Section 1833(t)(2)(C) of the Act requires the Secretary to establish relative payment weights for covered hospital outpatient services. That section requires that the weights be developed using data on claims from 1996 and data from the most recent available hospital cost reports. Before enactment of the BBRA 1999, we were required to base the relative payment weights on median hospital costs. Section 201(f) of the BBRA 1999 amended section 1833(t)(2)(ii) of the Act to authorize the Secretary to base the relative payment weights on either the median or mean hospital costs. In constructing the database for the outpatient PPS proposed rule group weights and conversion factor, we used a universe of approximately 98 million calendar year 1996 final action claims for hospital outpatient department services received through June 1997 to match to the most recent hospital cost reports available. We have decided to continue to base the relative payments weights in this final rule on median (as opposed to mean) costs because, among other things, reconstructing our database to evaluate the impact of using mean costs after the BBRA 1999 was enacted would have delayed implementation of the hospital outpatient PPS.

To derive weights based on median hospital costs for services in the hospital outpatient APC groups, we converted billed charges to costs and aggregated them to the procedure or visit level. To accomplish this, we first identified the cost-to-charge ratio that was specific to each hospital's cost centers (“cost center specific cost-to-charge ratios” or CCRs). We then developed a crosswalk to match the hospital's CCRs to revenue centers used on the hospital's 1996 outpatient bills. The CCRs included operating and capital costs but excluded costs associated with direct graduate medical education and allied health education.

To determine the hospital CCRs, the most recent available cost report from each hospital was identified. For the proposed rule, we used cost reports from cost reporting periods beginning on or after October 1, 1994 and before October 1, 1995 (referred to as PPS-12) or earlier. For this final rule, more recent cost reports were available for hospitals. We used cost reports from cost reporting periods beginning on or after October 1, 1996 and before October 1, 1997 (PPS-14) for approximately 94 percent of the hospitals in our database.

If the most recent available cost report for a hospital was one that had been submitted but not settled, we calculated a factor to adjust for the differences that generally exist between settled and “as submitted” cost reports. The adjustment factor was determined by dividing the outpatient department cost-to-charge ratio from the hospital's most recent settled cost report by the outpatient department cost-to-charge ratio from the hospital's “as submitted” cost report for the same period. The resulting ratio was used to adjust each of the CCRs in the hospital's most recent “as submitted” cost report. We repeated this process for every hospital for which the most recent available cost report was a cost report that had not been settled.

The Office of Inspector General (OIG) for DHHS is concerned that the cost reports we are using may reflect some unallowable costs. Therefore, the OIG, in conjunction with HCFA, is proposing to examine the extent to which the cost reports used reflect costs that were inappropriately allowed. If this examination reveals excessive inappropriate costs, we will address this issue in a future proposed rule, or perhaps seek legislation to adjust future payment rates downward.

We next eliminated from the hospital CCR database 258 hospitals that we have identified as having reported charges on their cost reports that were not actual charges (for example, they make uniform charges for all services). These excluded hospitals were Kaiser, New York Health and Hospital Corporation, and all-inclusive rate hospitals. After removing these hospitals, we calculated the geometric mean of the total operating CCRs of hospitals remaining in our CCR database. We identified 58 hospitals whose total operating CCR exceeded the geometric mean by more than 3 standard deviations. These hospitals were also removed from our CCR database.

After assembling and editing our new CCR database, we matched revenue centers from approximately 80 million claims to CCRs of approximately 5,700 hospitals. We excluded from the crosswalk approximately 15 million claims in which the bill type denoted services that would not be covered under the PPS (for example, bill type 72X for dialysis services for patients with ESRD). We also excluded almost 3 million claims from the hospitals that we had removed or trimmed from the hospital CCR database. The table below shows the five cost reporting periods used and the percentage of the cost reports within each PPS period for which we were able to match 1996 claims.

Reporting period | Percentage of cost reports matched
PPS-15 (cost reporting period beginning on or after 10/1/97 and before 10/1/98) | 0.1
PPS-14 (cost reporting period beginning on or after 10/1/96 and before 10/1/97) | 94.2
PPS-13 (cost reporting period beginning on or after 10/1/95 and before 10/1/96) | 3.7
PPS-12 (cost reporting period beginning on or after 10/1/94 and before 10/1/95) | 1.7
PPS-11 (cost reporting period beginning on or after 10/1/93 and before 10/1/94) | 0.3
Total | 100.0

Next, we took the estimated 80 million claims that we had matched with a cost report and separated them into two distinct groups: Single-procedure claims and multiple-procedure claims. Single-procedure claims were those that included only one HCPCS code (other than laboratory and incidentals such as packaged drugs and venipuncture) that could be grouped to an APC. Multiple-procedure claims included more than one HCPCS code that could be mapped to an APC. There were approximately 45.4 million single-procedure claims and 34.6 million multiple-procedure claims.

To calculate median costs for services within an APC, we used only the single-procedure bills. (Of the roughly 45.4 million single-procedure claims, about 24 million were excluded from the conversion process largely because the only HCPCS codes reported on the claims were for laboratory procedures or other outpatient services not paid under the outpatient PPS.) This approach was taken because the information on claims does not enable us to specifically allocate charges or costs for packaged items and services such as anesthesia, recovery room, drugs, or supplies to a particular procedure when more than one significant procedure or medical visit was billed on a claim. Use of the single-procedure bills minimizes the risk of improperly assigning costs to the wrong procedure or visit. Although we used only single-procedure/visit bills to determine APC relative payment weights, we used multiple-procedure bills in the conversion factor and service mix calculations, regressions, and impact analyses.

For each single-procedure claim, we calculated a cost for every billed line item charge by multiplying each revenue center charge by the appropriate hospital-specific CCR. If the appropriate cost center did not exist for a given hospital, we crosswalked the revenue center to a secondary cost center when possible, or to the hospital's overall cost-to-charge ratio for outpatient department services. We excluded from this calculation all charges associated with HCPCS codes previously defined as not paid under this PPS (for example, laboratory, ambulance, and therapy services).

To calculate the per-procedure or per-visit costs, we used the charges shown in the revenue centers that contained items integral to performing the procedure or visit. These included those items that we previously discussed as being subject to our proposed packaging provision. For instance, in calculating the surgical procedure cost, we included charges for the operating room, treatment rooms, recovery, observation, medical and surgical supplies, pharmacy, anesthesia, casts and splints, and donor tissue, bone, and organ. For medical visit cost estimates, we included charges for items such as medical and surgical supplies, drugs, and observation. A complete listing of the revenue centers that we used is shown below in Table 1, Packaged Services by Revenue Center.

Table 1.—Packaged Services by Revenue Center
ASC AND OTHER SURGERY
250 PHARMACY
251 GENERIC
252 NONGENERIC
257 NONPRESCRIPTION DRUGS
258 IV SOLUTIONS
259 OTHER PHARMACY
260 IV THERAPY, GENERAL CLASS
262 IV THERAPY/PHARMACY SERVICES
263 IV THERAPY/DRUG/SUPPLY/DELIVERY
264 IV THERAPY/SUPPLIES
269 OTHER IV THERAPY
270 M&S SUPPLIES
271 NONSTERILE SUPPLIES
272 STERILE SUPPLIES
276 INTRAOCULAR LENS
279 OTHER M&S SUPPLIES
370 ANESTHESIA
379 OTHER ANESTHESIA
390 BLOOD STORAGE AND PROCESSING
399 OTHER BLOOD STORAGE AND PROCESSING
630 DRUGS REQUIRING SPECIFIC IDENTIFICATION, GENERAL CLASS
631 SINGLE SOURCE DRUG
632 MULTIPLE SOURCE DRUG
633 RESTRICTIVE PRESCRIPTION
700 CAST ROOM
709 OTHER CAST ROOM
710 RECOVERY ROOM
719 OTHER RECOVERY ROOM
720 LABOR ROOM
721 LABOR
723 CIRCUMCISION
762 OBSERVATION ROOM
810 ORGAN ACQUISITION
819 OTHER ORGAN ACQUISITION
890 OTHER DONOR BANK
891 BONE
892 ORGAN
893 SKIN
899 OTHER DONOR BANK
MEDICAL VISIT
250 PHARMACY
251 GENERIC
252 NONGENERIC
257 NONPRESCRIPTION DRUGS
258 IV SOLUTIONS
259 OTHER PHARMACY
270 M&S SUPPLIES
271 NONSTERILE SUPPLIES
272 STERILE SUPPLIES
279 OTHER M&S SUPPLIES
630 DRUGS REQUIRING SPECIFIC IDENTIFICATION, GENERAL CLASS
631 SINGLE SOURCE DRUG
632 MULTIPLE SOURCE DRUG
633 RESTRICTIVE PRESCRIPTION
700 CAST ROOM
709 OTHER CAST ROOM
762 OBSERVATION ROOM
OTHER DIAGNOSTIC (BLENDED SERVICES)
254 PHARMACY INCIDENT TO OTHER DIAGNOSTIC
372 ANESTHESIA INCIDENT TO OTHER DIAGNOSTIC
622 SUPPLIES INCIDENT TO OTHER DIAGNOSTIC
710 RECOVERY ROOM
719 OTHER RECOVERY ROOM
762 OBSERVATION ROOM
RADIOLOGY SUBJECT TO THE FEE SCHEDULE AND OTHER RADIOLOGY
255 PHARMACY INCIDENT TO RADIOLOGY
371 ANESTHESIA INCIDENT TO RADIOLOGY
621 SUPPLIES INCIDENT TO RADIOLOGY
710 RECOVERY ROOM
719 OTHER RECOVERY ROOM
762 OBSERVATION ROOM
ALL OTHER APC GROUPS
250 PHARMACY
251 GENERIC
252 NONGENERIC
257 NONPRESCRIPTION DRUGS
258 IV SOLUTIONS
259 OTHER PHARMACY
260 IV THERAPY, GENERAL CLASS
262 IV THERAPY PHARMACY SERVICES
263 IV THERAPY DRUG/SUPPLY/DELIVERY
264 IV THERAPY SUPPLIES
269 OTHER IV THERAPY
270 M&S SUPPLIES
271 NONSTERILE SUPPLIES
272 STERILE SUPPLIES
279 OTHER M&S SUPPLIES
630 DRUGS REQUIRING SPECIFIC IDENTIFICATION, GENERAL CLASS
631 SINGLE SOURCE DRUG
632 MULTIPLE SOURCE DRUG
633 RESTRICTIVE PRESCRIPTION
762 OBSERVATION ROOM

We then applied to these cost estimates an adjustment to calibrate the costs to calendar year 1996 for those services in hospitals whose CCRs were calculated using FY 1997 or later cost reports. On average, hospital charges were rising faster than costs in FY 1997. We therefore made this adjustment for the calculation of the weights, as well as for the hospital costs used in the conversion factor and impact model, to ensure that we did not underestimate costs and payments. We based this hospital specific CCR adjustment on the observed change in each hospital's overall CCR (total operating + total capital) from the proposed rule cost report database to the new final rule database. If applicable, we then calculated a monthly rate of change and applied it based on the number of months past 1996 encompassed in a hospital's cost reporting period; if a hospital's period coincided completely within calendar year 1996, no adjustment was made.

After calibrating the costs to calendar year 1996, we standardized costs for geographic wage variation by dividing the labor-related portion of the operating and capital costs for each billed item by the FY 2000 hospital inpatient prospective payment system wage index published in the Federal Register on July 30, 1999 (64 FR 41585). As in the proposed rule and correction notice, we used 60 percent to represent our estimate of that portion of costs attributable, on average, to labor. A more detailed discussion of wage index adjustments is found below in section III.G of this document.

The standardized labor-related cost and the nonlabor-related cost component were summed for each billed item to derive the total standardized cost for each procedure or medical visit. Extremely unusual costs that appeared to be errors in the data were trimmed from standardized procedure and visit costs. This trimming methodology is analogous to that used in calculating the DRG weights for the inpatient PPS: eliminate any bills with costs outside of 3 standard deviations from the geometric mean. We used the geometric mean and the associated standard deviation because the distribution of costs more closely resembles a lognormal distribution than a normal distribution: There are no negative costs, and the average cost is greater than the median cost. Use of the geometric mean minimizes the impact of the most unusual bills in the determination of the mean. The geometric mean is calculated by taking the mean of the natural logarithm cost. Because the distribution of the natural logarithms of a set of numbers is more compact than the distribution of the numbers themselves, bills with extreme costs do not appear as extreme as they would if non-logged costs were examined. This ensures that only the most aberrant data will be removed from the calculation.

After trimming the procedure and visit level costs, we mapped each procedure or visit cost to its assigned APC and calculated the median cost for each APC weighted by procedure volume. Using the median APC costs, we calculated the relative payment weights for each APC. We scaled all the relative payment weights to APC 601, a mid-level clinic visit, because it is one of the most frequently performed services. This approach is consistent with that used in developing relative value units for the Medicare physician fee schedule. By assigning APC 601 a relative payment weight of 1.0, hospitals can easily compare the relative relationship of one APC to another. Next, we divided the median cost for each APC by the median cost for a mid-level clinic visit, APC 601, to derive the relative payment weight for each APC. The median cost for APC 601 is $47.00. In the proposed rule, we also used a mid-level clinic visit, APC 91336, which had a median cost of $54.00, as the scaler of APC weights. On average, due to the reduced value of the scaler used for this notice, the final weights will be higher than those published in the proposed rule.

Comment: Some commenters believe that the ratesetting methodology does not reflect complex cases because we eliminate statistical “outlier” claims from the calculation of the median costs and the weights.

Response: As noted above, we trimmed claims with estimated costs that were outside of three standard deviations from the geometric mean. Because we removed claims above or below the mean, we corrected for data errors that would have skewed the estimates of median costs and group weights upward or downward. We believe this trim is a valid method of removing extremely unusual costs that are most likely associated with data submission errors and do not represent actual costs. In addition, it is consistent with the method we use to set inpatient hospital diagnosis-related group (DRG) weights.

Comment: Numerous commenters disagreed with our use of single-procedure claims only in the calculation of the relative payment weights. One commenter was concerned that we could be masking differences in resource use attributable to patient characteristics by using only single-procedure claims to calculate relative weights.

Response: We used single-procedure claims to calculate the relative weight for each APC because we could not accurately allocate costs to a particular procedure when the costs were part of a bill for multiple procedures. Bills with a single major procedure provided are, in most cases, the best estimate of relative procedure costs. It is important to note that for all other calculations, including calculation of the conversion factor, we used both single-procedure and multiple-procedure bills.

We do not believe that using single-procedure bills biases the relative cost of any particular procedure. Although patients with more complex healthcare needs might have several procedures performed, hospital charges for an individual procedure would not be greater. Our most significant concern was that distribution of single bill procedures within an APC would not reflect the correct distribution of those procedure on all bills. However, careful statistical analyses demonstrated that the distribution of procedures within an APC group did not differ when single bill procedure frequencies were compared with all bills. It is also important to note that when items or services were to be packaged with a major procedure, we added their costs to that procedure prior to making the single bill determination. Therefore, the costs of contrast media, for example, are included in the relative weights. In some cases, we agreed with the commenters that this approach needed to be modified. For example, for chemotherapy, we are not grouping drugs, but rather paying for each one separately. Moreover, as a result of the transitional pass-through provisions of the BBRA 1999, radiopharmaceuticals will be paid separately from the nuclear medicine APCs.

Comment: Several commenters expressed concern that the 1996 claims data are insufficient or inadequate to develop the PPS model. For example, some commenters asserted that the 1996 data are not recent enough to reflect the current mix of outpatient services. Some commenters also argued that undercoding in the data would lead to underestimates of median costs. Other commenters recommended that we address alleged inadequacies in the data by gathering cost data on new procedures and by basing payment on these data until we can determine whether to place a new procedure in an existing APC or create a new APC.

Response: While we acknowledge limitations of setting payment rates with historical claims data, section 1833(t)(2)(C) of the Act requires us to use 1996 claims in developing the PPS. We discuss how we will price new procedures that are not reflected in our database in section III.C.8 of this preamble.

Comment: Commenters were concerned about the cost-to-charge ratios used to estimate median APC costs and pre-BBA payments. For example, one medical organization recommended that we account for the capital-intensive nature of radiology services by adjusting the cost-to-charge ratios applicable to these services for the step-down methodology that allocates capital expenses by square footage. The belief is that these allocation methods underestimate radiological equipment costs and certain cost-to-charge ratios, leading to underestimates of the median costs for relevant APC groups.

Response: Although capital-related costs may be allocated to routine and ancillary service cost centers using the step-down methodology based on square footage, as an alternative, the “dollar value” method may be used by hospitals. This method is made available to hospitals in Worksheet B-1 of the hospital cost report (HCFA 2552-96). The dollar value method more accurately distributes the capital costs associated with equipment to the revenue-producing cost center to which the equipment is assigned. We are not able to adjust the cost-to-charge ratios of those hospitals that allocate equipment based on square footage because we have no way of knowing which specific equipment costs should be allocated to revenue-producing cost centers in each hospital.

2. Conversion Factor

Section 1833(t)(3)(C)(i) of the Act requires that we establish a conversion factor for 1999 to determine the Medicare payment amounts for each covered group of services. For the proposed rule as corrected, we derived the conversion factor from a base amount of payments described in section 1833(t)(3)(A) of the Act, as enacted in the BBA 1997. Such base amount was calculated for the services included in the outpatient PPS as an estimate of the sum of (1) total payments that would be payable from the Trust Fund under the current (non-PPS) payment system in 1999, plus (2) the beneficiary coinsurance that would have been paid under the new (PPS) system in 1999. For the final rule, however, we derived the conversion factor from a base amount that includes beneficiary coinsurance that would have been made under the current (non-PPS) system rather than the proposed (PPS) system. Section 201(l) of the BBRA 1999 states: “With respect to determining the amount of copayments described in paragraph (3)(A)(ii) of section 1833(t) of the Social Security Act, as added by section 4523(a) of the BBA, Congress finds that such amount should be determined without regard to such section, in a budget neutral manner with respect to aggregate payments to hospitals, and that the Secretary of Health and Human Services has the authority to determine such amount without regard to such section.”

Section 1833(t)(2)(C) of the Act requires us to project utilization for hospital outpatient services. We were unable to make precise projections of increases in the volume and intensity of services because we were not able to quantify some of the factors that affect utilization. For instance, we would anticipate that Medicare beneficiaries who choose to migrate to managed care plans may be healthier than those who choose to stay in fee-for-service plans. Thus, we could assume a decrease in the volume of services coupled with an increase in the intensity of services furnished for Medicare beneficiaries in the fee-for-service program. Another factor that we believe will affect future utilization is the incentive to code billed services more accurately. Currently, hospitals are paid for the majority of the outpatient services they furnish on a cost basis, and inaccurate or improper coding does not necessarily affect the amount of payment. In contrast, under the PPS, hospitals are required to use HCPCS codes in order to receive payment. We expect that the frequency of some services may increase as a result of the coding requirements. We believe each of these assumptions will affect the reporting of volume and intensity of services, although we are not able to quantify them individually to project 1999 utilization. Therefore, we used what we believe to be a more reliable and valid approach to computing the conversion factor under the methodology described below.

Comment: A large national trade association commented that the exclusion of claims for unclassified services (for example, those claims for which we cannot identify the service to be paid) from the PPS model could bias the conversion factor downward if the excluded claims have a disproportionate number of services with high payment to cost ratios, such as clinic and emergency room visits.

Response: In order to set the conversion factor as accurately as possible, we used only claims for which the costs and volume of services could be identified on the bill. As noted by the commenter, this decision resulted in the exclusion of claims with unclassifiable services. Upon examination of these claims, we have determined that services with high payment to cost ratios (those that would gain under the PPS system) were not disproportionately represented. Therefore, we believe the exclusion of unclassifiable services does not bias the conversion factor.

Setting the Rates

In order to convert the relative weights determined for each APC (see section III.E.1) into payment rates, we calculated a conversion factor that would result in total estimated payments to hospitals under the PPS in 1999 equal to the total estimated payments that would have been payable from the Trust Fund in 1999 if PPS had not been enacted plus estimated beneficiary coinsurance for the same services during the same period. The prospective payment rate for each APC is calculated by multiplying the APC's relative weight by the conversion factor. For the calculation of the conversion factor, we have excluded all data from the 58 Maryland providers that qualify under section 1814(b)(3) of the Act for payment under the State's payment system. We computed the conversion factor by first adding together the aggregate Medicare hospital outpatient payments made under the cost-based payment system (referred to in this section as pre-PPS payments) for calendar year 1996, plus the estimated beneficiary coinsurance amounts made under pre-PPS law for the same services. We then divided that amount by a wage-adjusted sum of the relative weights for all APCs under the hospital outpatient PPS. The methodology we used to determine current law Medicare hospital outpatient payments and beneficiary coinsurance is discussed below in section III.E.2.a. A discussion of the sum of the relative weights follows in section III.E.2.b.

a. Calculating Aggregate Calendar Year 1996 Medicare and Beneficiary Payments for Hospital Outpatient Services (Pre-PPS)

To calculate Medicare hospital outpatient payment amounts before implementation of the PPS, we first identified calendar year 1996 single and multiple procedure bills for all the services that we will recognize under the outpatient PPS. As we identified services that will be paid under the outpatient PPS, we eliminated invalid or noncovered HCPCS codes.

Hospital payments include both operating and capital costs for the HCPCS coded services for which payment is to be made under the outpatient PPS. We summed these two types of costs by HCPCS code at the provider level. Consolidating the data in this manner allowed us to simulate provider payment on an aggregate basis. Then (as required by section 1861(v)(1)(S)(ii) of the Act as amended by section 201(k) of the BBRA 1999), we applied the capital cost reductions of 10 percent and operating cost reductions of 5.8 percent.

We determined for each HCPCS code the applicable payment methodology under the current system. Payment before implementation of PPS for procedures in the baseline was calculated using one of the following equations, as appropriate:

• For radiology procedures paid for under the radiology fee schedule, we determined payment in the aggregate for each provider as the lower of the cost, charge, or blended amount. We use the following equation to determine the radiology blended amount: (0.42 × lower of cost or charge minus beneficiary coinsurance) + (0.58 × ((0.62 × global physician fee schedule amount) − beneficiary coinsurance)).

• For surgical procedures for which Medicare pays an ASC facility fee, we determined payment in the aggregate for each provider as the lower of the cost, charge, or blended amount. We used the following equation to determine the ASC blended amount: (0.42 × lower of cost or charge minus beneficiary coinsurance) + (0.58 × (ASC payment rate − beneficiary coinsurance)).

• For diagnostic procedures paid for under the diagnostic fee schedule, we determined payment in the aggregate for each provider as the lower of the cost, charge, or blended amount. We used the following equation to determine the blended amount for diagnostic procedures: (0.50 × lower of cost or charge minus beneficiary coinsurance) + (0.50 × ((0.42 × global physician fee schedule amount) − beneficiary coinsurance)).

For all other covered services not subject to one of the blended payment method categories, we determined payment as the lower of costs or charges less beneficiary coinsurance. Because the formula-driven overpayment (FDO) was corrected beginning October 1, 1997, the blended equations eliminate FDO.

We then determined the Medicare payment amount for each provider by summing the aggregate amounts computed for each of the four types of payment methodologies discussed above. In addition, we determined the amount of the beneficiary coinsurance for each provider using the beneficiary coinsurance amounts that would have been paid before implementation of PPS. The total amount (Medicare and beneficiary payments) reflects the amount hospitals would be paid under the PPS and is the numerator in the equation for calculating the unadjusted conversion factor.

b. Sum of the Relative Weights

Next we summed the discounted relative weights for services that are within the scope of the outpatient PPS. (See discussion of discounting for surgical procedures in section III.C.7.) Specifically, we multiplied (using single and multiple procedure claims in a hospital) the discounted volume of procedures or visits in each APC group by the relative weights for each APC group; we wage-adjusted 60 percent of this total by each hospital's wage index, and we then summed the wage-adjusted and nonadjusted weights across all hospitals. (The wage indices used are included in Addenda H, I, and J.) The resulting sum equals the denominator in the calculation of the conversion factor. We calculated the conversion factor by dividing the sum of the discounted relative weights into the total payment explained in section III.E.2.a, above, including both Medicare payment and beneficiary coinsurance. We then adjusted the conversion factor so that the outlier and pass-through payments are implemented in a budget neutral manner, as described in sections III.H.1 and III.D. The adjusted calendar year 1996 conversion factor is $43.023. To inflate the 1996 conversion factor to 1999, our Office of the Actuary estimated an update factor of 1.106. Therefore, the adjusted 1999 conversion factor is $47.583.

For calendar year 2000, we updated the conversion factor as specified in section 1833(t)(3)(C)(iii) of the Act. The update is the market basket percentage increase applied to hospital discharges occurring during the fiscal year ending in calendar year 2000 minus 1 percentage point. For 2000, the updated conversion factor is $48.487.

Comment: A number of commenters suggested that we remove the behavioral offset that we proposed to apply to the conversion factor. As proposed, the intent of the offset was to adjust for hospital coding changes that take place in response to reductions in beneficiary coinsurance.

Response: We have decided not to include a behavioral offset to the conversion factor in this final rule. Hospital coding changes are expected to occur under the outpatient PPS; however, we believe changes that occur during the first PPS years will result from hospitals billing more accurately under the new system. A behavioral offset implemented in the initial PPS years may distort the incentives to bill accurately. We may reconsider implementation of a behavioral offset in future years as we gather data and gain experience under the new system.

Comment: A large national trade association expressed concern that application of the 5.8 percent and 10.0 percent reduction to costs for all hospital outpatient services included in the PPS model underestimates the conversion factor. They recommended that we exclude the Part B services provided to inpatients who exhaust their Part A benefits from the reductions.

Response: Our analysis shows that fewer than 5,000 of the more than 80 million claims used to set the conversion factor were associated with these types of services. Total costs associated with these claims were less than $1.4 million, which is too small to have a measurable effect on the conversion factor.

Comment: Many commenters strongly argued that we misinterpreted the provisions of section 1833(t)(3) of the Act in calculating beneficiary coinsurance for purposes of setting the base amount of the conversion factor. The commenters noted that this methodology contributed significantly to the estimated 5.7 percent reduction in Medicare outpatient payments to hospitals reflected in the proposed rule. Most commenters further argued that the Congress did not intend for this loss to occur and that we had the authority to interpret the methodology described in the statute so that no net change in payments would result from the conversion factor.

Response: Section 1833(t)(3)(A) of the Act, as added by the BBA 1997, states that, for purposes of calculating the base amount used to determine the conversion factor, the Secretary shall calculate “the total amount of copayments estimated to be paid under this subsection. * * *” (Emphasis added.) For the proposed rule, we estimated the coinsurance that would be paid under PPS. In section 201(l) of the BBRA 1999, the Congress addressed the calculation of the base amount, stating, “With respect to determining the amount of copayments described in paragraph (3)(A)(ii) of section 1833(t) of the Social Security Act, as added by section 4523(a) of the BBA, Congress finds that such amount should be determined without regard to such section, in a budget neutral manner with respect to aggregate payments to hospitals, and the Secretary of Health and Human Services has the authority to determine such amount without regard to such section.” Therefore, for this final rule, we estimated the coinsurance that would have been paid if PPS had not been enacted.

F. Calculation of Coinsurance Payments and Medicare Program Payments Under the PPS

1. Background

In section III.E, above, we explained how we determined APC group weights, calculated an outpatient PPS conversion factor, and determined national prospective payment rates, standardized for area wage variations, for the APC groups. We will now explain how we calculated beneficiary coinsurance amounts for each APC group.

The outpatient PPS established by section 1833(t) of the Act includes a mechanism designed to eventually achieve a beneficiary coinsurance level equal to 20 percent of the prospectively determined payment rate established for the service. As discussed in the proposed rule, for each APC we calculate an amount referred to in section 1833(t)(3)(B) of the Act as the “unadjusted copayment amount.” The unadjusted coinsurance amount is calculated by taking 20 percent of the national median charges billed in 1996 for the services that are in the APC, trended forward to 1999; however, the coinsurance amount cannot be less than 20 percent of the APC payment rate. The unadjusted coinsurance amount for an APC remains frozen, while the payment rate for the APC is increased by adjustments based on the Medicare market basket. As the APC rate increases and the coinsurance amount remains frozen, the unadjusted coinsurance amount will eventually become 20 percent of the payment rate for all APC groups. Once the unadjusted coinsurance amount is 20 percent of the payment amount, both the APC payment rate and the unadjusted coinsurance amount will be updated by the annual market basket adjustment.

In the proposed rule, we proposed to not adopt new APCs for new procedures or services for at least 2 years, but instead assign them to existing groups while accumulating data on their costs. In the final rule we do provide for APCs for new procedures that do not fit well into another APC. When an APC is added that consists of HCPCS codes for which we do not have 1996 charge data upon which to calculate the unadjusted coinsurance amount, coinsurance will be calculated as 20 percent of the APC payment amount.

There is an exception to the coinsurance provisions for screening colonoscopies and screening sigmoidoscopies. Section 4104 of the BBA 1997 provided coverage for colorectal screening. This section, in part, added new sections 1834(d)(2) and (3) to the Act, which provide that for covered screening sigmoidoscopies and colonoscopies performed in hospital outpatient departments and ambulatory surgical centers (ASCs), payment is to be based on the lesser of the hospital or the ASC payment rates and coinsurance for both screening colonoscopies and screening sigmoidoscopies is to be 25 percent of the rate used for payment.

Section 4104 of the BBA 1997 also allows, at the Secretary's discretion, coverage of screening barium enemas as a colorectal cancer screening tool. We are including screening barium enemas as a covered service under the hospital outpatient PPS. The payment rate for screening barium enemas is the same as for diagnostic barium enemas. Coinsurance for a screening barium enema is based on 20 percent of the APC payment rate.

Sections 201(a) and (b) of the BBRA 1999 amend section 1833(t) of the Act to provide for additional payments to hospitals for outlier cases and for certain medical devices, drugs, and biologicals. These additional payments to hospitals will not affect coinsurance amounts. Redesignated section 1833(t)(8)(D) of the Act, as amended by section 201(i) of the BBRA 1999, provides that the coinsurance amount is to be computed as if outlier adjustments, adjustments for certain medical devices, drugs, and biologicals, as well as any other adjustments we may establish under section 1833(t)(2)(E) of the Act, had not occurred. Section 202 of the BBRA 1999 adds a new section 1833(t)(7) to the Act to provide transitional corridor payments to certain hospitals through calendar year 2003 and indefinitely for certain cancer centers.

Section 1833(t)(7)(H) of the Act provides that the transitional corridor payment provisions will have no effect on determining copayment amounts.

Section 204(a) of the BBRA 1999 amended redesignated section 1833(t)(8)(C) of the Act to provide that the coinsurance amount for a hospital outpatient procedure cannot exceed the amount of the inpatient hospital deductible for that year. The inpatient hospital deductible for calendar year 2000 is $776.00. We will apply the limitation to the wage adjusted coinsurance amount (not the unadjusted coinsurance amount) after any Part B deductible amounts are taken into account. Therefore, although the published unadjusted coinsurance amount for any APC may be higher or lower than $776.00 in 2000, the actual coinsurance amount for an APC, determined after any deductible amounts and adjustments for variations in geographic areas are taken into account, will be limited to the Medicare inpatient hospital deductible. Any reductions in copayments that occur in applying the limitation will be paid to hospitals as additional program payments. (See section III.F.3.a, below, for discussion of calculating the Medicare payment amount.)

MedPAC Comment: In its March 1999 report to the Congress, MedPAC expressed concern that the statute's approach to addressing the reduction in coinsurance could mean that it will be decades before coinsurance is 20 percent of all APC payment rates. MedPAC recommended that the Secretary seek and the Congress legislate a more rapid phase-in and that the cost be financed by increases in program spending, rather than through additional reductions in payments to hospitals. MedPAC agrees that the approach to calculating the coinsurance delineated in section 1833(t) of the Act is methodologically sound, but they recommend a shorter period to complete the coinsurance reduction.

Response: The coinsurance reductions enacted by the BBA 1997 already provide significantly higher levels of financial protection for beneficiaries than have existed in the past. While an acceleration of this protection might be desirable, the costs of such a policy must be balanced against other needs for increased Medicare spending and protection of the trust funds. The President's budget for FY 2001 does not contain such a proposal.

Comment: Three commenters discussed the delay in implementing the outpatient PPS until after January 1, 2000. A hospital association stated that it strongly believes that the outpatient PPS should not be implemented until all systems are ready, and suggested that implementation occur at the start of a calendar year so that Medigap insurers did not receive an unearned windfall by reason of a midyear decrease in beneficiary coinsurance amounts. Stating that the delay in implementation was of serious concern to it, an insurance group strongly urged us to implement the outpatient PPS as soon as possible. Finally, a beneficiary advocacy group stated that it is deeply concerned about the delay in implementation. While stating that it understood the magnitude of the Y2K problem, this group urged us to find a way to proceed with the phase-down of beneficiary coinsurance or, failing that, to offer our assurance that the phase-down will not be delayed beyond January 1, 2000.

Response: As noted elsewhere in this final rule, we intend to implement the outpatient PPS effective for services furnished on or after July 1, 2000. As noted in the proposed rule, we concluded that attempting to make the massive computer changes required to implement PPS at the same time we were trying to ensure that Medicare's computers were Y2K compliant would have jeopardized the compliance effort, which was HCFA's highest priority. Now that HCFA's efforts to make its computer systems, and those of its contractors, Y2K compliant are complete, we believe that July 1, 2000 is the earliest date on which we can feasibly implement the PPS. Pursuant to HCFA's contracts with the contractors responsible for maintaining its computer systems, HCFA makes programming changes such as those required to implement the outpatient PPS at the beginning of fiscal quarters. Thus, pursuant to this practice, after January 1, 2000, there are only three dates in 2000 on which the programming changes necessary to implement outpatient PPS can be put into effect—April 1, 2000, July 1, 2000 and October 1, 2000.

The first step in changing HCFA's computer systems to allow for implementation of the outpatient PPS is to expand the claim record of several HCFA and contractor systems to accept and retain specific information related to how a service is being paid or why it is denied. The claim record expansion is an indispensable prerequisite to implementation of outpatient PPS. Once expansion of the claim form is completed, we can then make the remaining programming changes necessary to implement the outpatient PPS. As we noted in the proposed rule, 63 FR 47605, these are massive changes that will require extensive testing. We anticipate that these software coding changes cannot be completed before the end of the second quarter of 2000. Therefore, the earliest possible date on which they can be installed and made operational is July 1, 2000.

We do not believe that it is technically feasible to complete installation of both the claims-form line item expansion and the coding changes needed to implement PPS any sooner than July 1, 2000. Each of these two stages of preparing HCFA's computer system for PPS constitutes major systems changes in and of itself. To attempt to make both changes simultaneously would be to run the risk that the system would not function properly at all, potentially requiring implementation to be delayed beyond July 1, 2000. We believe that the two-stage approach discussed above is the only feasible way to make the systems changes necessary to implement PPS and to be certain that they will work. The soonest date on which PPS can be implemented after the millennium is therefore July 1, 2000.

Despite one commenter's request that we implement the outpatient PPS at the start of a calendar year, we do not believe it would be appropriate to delay implementation beyond July 1, 2000. We see no reason to delay implementation beyond the time necessary for HCFA to have completed its Y2K efforts and make all the systems changes necessary for PPS. As with all of the other aspects of PPS, we believe that the beneficiary coinsurance reform contained in the outpatient PPS should be put into effect as soon as possible, so that beneficiaries can be subject to the lower coinsurance amounts under the new payment methodology at the earliest date. We believe that this consideration outweighs any concern that Medigap insurers might receive a windfall because they set premiums for a given year assuming coinsurance amounts would be at one level only to see those amounts decrease in the middle of the year. In addition, we note that, if insurers received a large enough windfall for the reasons described by the commenter, the insurers might be required to refund premiums to beneficiaries or offer them a credit on premiums pursuant to section 1882(r) of the Act.

While none of the commenters specifically requested that we do so, we have considered the possibility of applying the outpatient PPS payment methodology retroactively to services furnished on or after January 1, 1999. We have decided not to make these retroactive payments for the reasons described below.

The first reason is the practical problem that the information needed to implement PPS retroactively does not exist in a usable form. Under current payment methodologies for many outpatient services, hospitals submit bills for furnished services based on their charges for the services. For these services, HCFA does not require hospitals to submit bills containing the HCPCS code for the furnished service and other data (such as the dates of service of multiple services submitted on the same bill) necessary to process bills under the new prospective payment methodology. Without the HCPCS code for a given service, we would be unable to determine retroactively into which APC group the service should be placed for payment under PPS. In turn, that would mean that we could not determine the appropriate payment amount for the service. Thus, given the information currently available to us, we could not now simply reprocess bills for outpatient services that had been furnished between January 1, 1999 and July 1, 2000 and recompute payment and coinsurance amounts for these services. As a result, the data needed to implement PPS retroactively do not exist in a form that would allow for such implementation.

Nor would it have been feasible to attempt to capture the information necessary for retroactive application during 1999. As noted above, we concluded that it would not have been prudent to make the computer programming changes necessary to implement PPS until our Y2K efforts were complete. Those same changes would have been necessary to allow us to capture the more detailed claims data needed to perform a retroactive application of PPS back to January 1, 1999 once the system was implemented prospectively. Because we delayed those changes out of concern that they would interfere with our Y2K efforts, no automated process existed for the period January 1, 1999 through July 1, 2000 by which we could have captured the more detailed claims data necessary to effect an eventual retroactive implementation of PPS. Publication of a final rule before January 1, 1999 would not have altered this situation. Even if we had published such a rule, it could not have become effective until we could make the computer changes necessary to implement PPS—the functional equivalent of what we have done through publication of the proposed rule and this final rule—and until we could make those changes, we could not compile by computer the data needed to later reprocess claims under PPS.

In theory, we might have been able to implement PPS retroactively despite the lack of an automated method of compiling the data necessary to do so. But it simply would not have been practicable to maintain and later process by hand such data for the period between January 1, 1999 and July 1, 2000, given the millions of claims for outpatient services submitted during that period. (Based on the latest data available, we process approximately 160 million claims for outpatient services over an 18-month period.) Neither HCFA nor its contractors have the staff needed to accomplish such a task.

We might also have conceivably required hospitals to maintain the data required for a later retroactive implementation of PPS, but this approach has practical difficulties. First, during the interim period between January 1, 1999 and implementation of PPS, hospitals themselves were exerting significant efforts to ensure the Y2K compliance of their own automated Medicare billing systems, and it is doubtful that those systems could have accommodated the necessary programming changes any more than Medicare's systems could have. Even if hospitals could have maintained the information (or if HCFA could have maintained it by hand or could obtain it from any source now), the burden associated with attempting to implement the new prospective payment methodology both retroactively and prospectively at the same time would have been prohibitive. As noted in the proposed rule and in this final rule, effecting the transition between the old payment methodologies and the new prospective payment methodology constitutes a massive programmatic undertaking. Any effort to reprocess the huge number of bills for outpatient services that would be involved in any attempt to retroactively implement PPS would compete for the same resources needed to implement PPS prospectively, and would compromise our ability to ensure the smoothest prospective implementation.

This is especially so if paper records of claims from the interim period would have to be manually input into Medicare's automated payment systems in order to make retroactive payments for services furnished on or after January 1, 1999. Undertaking an effort, once PPS is implemented, to review hospital records of every outpatient service furnished between January 1, 1999 and July 1, 2000; translate those records into the data needed to process a Medicare claim for the service under PPS; and issue a retroactive payment reflecting the PPS rate for the service would cause a huge backlog of current bills to be processed (and of other carrier tasks), and thus would not be practicable. Therefore, there was no feasible way to have captured the information necessary to make PPS apply retroactively.

In addition to the practical problems described above, the statute does not require retroactive application of PPS. The statutory requirement to implement the PPS for services furnished on or after January 1, 1999 is ambiguous. While section 1833(t)(1)(A)'s reference to outpatient services “furnished during a year beginning with 1999” might be read as imposing such a requirement, it is also true that section 1833(t)(1)(B)(i) does not expressly set a time limit for HCFA to designate which services are “covered” outpatient services for purposes of payment under PPS. Nor does it set a deadline for HCFA to issue regulations implementing the outpatient PPS. As a result, the statute can also be read to require implementation of PPS for services furnished in a year beginning in 1999 if HCFA has designated in its implementing regulations those services as covered services for purposes of PPS. The better reading is that the system applies prospectively only.

We recognize that, under section 1833(a)(2)(B), Congress arguably made the old payment methodologies for outpatient services inapplicable to services furnished on or after January 1, 1999. Again, though, Congress imposed no corresponding limit on the time within which HCFA must designate the services that would be “covered” services for purposes of PPS. While it is therefore possible to read the statute in such a way that an outpatient service furnished after January 1, 1999 but not yet designated as a covered outpatient service by HCFA for purposes of PPS would have no payment methodology applicable to it, we do not believe that Congress intended such a result. We believe that where HCFA, because of significant Y2K concerns, has not yet designated a given outpatient service as a covered service for purposes of PPS, the most appropriate reading of section 1833(t)(1)(A) is that it authorizes the Secretary to continue to pay for the service under the existing methodology until PPS can be implemented. If the Congress had known about the Y2K problem at the time it enacted the PPS statute, this is the only rational approach it could have adopted.

We believe that a clear expression of Congressional intent not to require retroactive application of PPS can be found in the legislative history of amendments to section 1833(t) of the Act, enacted as sections 201, 202, and 204 of the BBRA 1999. In each instance, the legislation provides that the “amendments made by this section shall be effective as if included in the enactment of the BBA,” that is, the original enactment of PPS in section 1833(t) (sections 201(m), 202(b), and 204(c) of the BBRA 1999). This language was taken from the House version of the bill (H.R. Rep. No. 436 (Part I), 106th Cong., 1st Sess. 14, 16 (1999)). The House Report stated that the outpatient payment reforms contained in the BBRA 1999 (and hence in the BBA 1997) were intended to take effect “upon implementation of the hospital prospective payment system” by HCFA, id. at 52, 55, 56, not on January 1, 1999. The House Conference Committee Report reiterated the understanding that the payment and coinsurance provisions of the BBA and BBRA do not take effect until after implementation by HCFA. H. Conf. Rep. No. 479, 106th Cong., 1st Sess. 866 (1999) (”[c]urrently, beneficiaries pay 20% of charges for outpatient services,” but “[u]nder the outpatient PPS, beneficiary coinsurance will be limited to frozen dollar amounts based on 20% of national median charges for services in 1996, updated to the year of implementation of the PPS”); id. at 867 (“[t]he conferees fully expect that the beneficiary coinsurance phase-down will commence, as scheduled, on July 1, 2000”); 870 (“[h]ospital outpatient PPS is to be implemented simultaneously and in full for all services and hospitals (estimated for July 2000)”).

Both the House Report and the Conference Report expressly acknowledge, without disapproval, HCFA's decision to delay implementation of the outpatient PPS until after January 1, 2000. H.R. Rep. No. 436 (Part I) at 51 (stating that Secretary “delayed implementation of the new system until after the start of CY 2000 in order to ensure that ‘year 2000' data processing problems are fully resolved before the new system is implemented” and that “HCFA currently estimates that the outpatient department prospective payment system will be implemented in July 2000”); 145 Cong. Rec. at H12529 (daily ed. Nov. 17, 1999) (H. Conf. Rep. No. 479) (acknowledging “[t]here has already been a one-year delay in implementation of the BBA 97 provision” and stating that conferees “fully expect” that the outpatient prospective payment system “will commence, as scheduled, on July 1, 2000”). These statements indicate Congressional intent that payments and coinsurance for covered hospital outpatient services would be governed prospectively by PPS only after HCFA promulgated and made effective final implementing regulations.

Finally, there is a serious question as to whether retroactive implementation of PPS might constitute prohibited retroactive rulemaking. In Bowen v. Georgetown University Hospital, 488 U.S. 204, 208 (1988), the Supreme Court stated that a statutory grant of legislative rulemaking authority does not encompass the power to promulgate retroactive rules unless that power is conveyed by Congress in express terms, even where some substantial justification for retroactive rulemaking might exist. The Court then declined to find this express authorization for retroactive rulemaking in the Medicare statute's general grant of rulemaking authority.

We do not find this express authorization in section 1833(t) or any other statutory provision concerning the outpatient PPS. Section 1833(t)(1) requires that payment for outpatient services that are furnished during any calendar year beginning after January 1, 1999 and that are designated by HCFA as “covered” outpatient services shall be made under a prospective payment system. While Congress may have presumed, when it enacted section 1833(t) as part of the BBA, that HCFA would be able to designate covered outpatient services and implement the outpatient PPS by January 1, 1999, Congress did not foresee at that time that Y2K concerns would prevent the agency from doing so. As a result, the statute is silent as to what was to occur if HCFA was unable to designate covered outpatient services and implement PPS by January 1, 1999. We do not believe that this silence constitutes the express authorization of retroactive rulemaking required by the Supreme Court's Georgetown decision.

Comment: Several commenters contended that the proposed rules for beneficiary coinsurance are overly complex and that the phase-in period is too long. One commenter asked HCFA to consider a less involved method and a more aggressive time period for implementation. Another commenter suggested using a 5-year phase-in period. One commenter requested that we recommend a legislative change to the Congress to reduce beneficiary coinsurance to 20 percent by January 1, 2003. Still another commenter expressed concern that calculations of coinsurance amounts for each hospital will be particularly burdensome to Medicare fiscal intermediaries and, as a result of the increased workload, errors may occur. The commenter also recommended a more rapid reduction of coinsurance to 20 percent of the payment amount.

Response: We agree that the rules governing how coinsurance is to be calculated under the PPS are complex, and the phase-in to 20 percent coinsurance is a lengthy one. However, the methods for calculating coinsurance are dictated by the statute. The legislative changes were made in order to put some control on rapidly increasing beneficiary coinsurance payments, to begin to decrease the proportion of beneficiary liability for hospital outpatient services, and to continue to reduce beneficiary liability over time. As we have stated, the impetus to accelerate the reduction of beneficiary coinsurance has to be viewed within the context of other needs for increased Medicare expenditures and long-term protection of the trust funds. The delay in implementing the hospital outpatient PPS past the statutory effective date was unavoidable due to systems constraints imposed by Y2K compliance requirements.

Comment: One commenter noted that the proposed rule set beneficiary coinsurance at 20 percent of median charges, but the commenter believes that coinsurance amounts should be recalculated to equal 20 percent of the average charge for the applicable APC group. The commenter indicates that such a change would provide some financial relief to hospitals.

Response: Section 1833(t)(3)(B)(i) of the Act requires that unadjusted coinsurance amounts be calculated as 20 percent of the national median of the charges for services within the APC group.

Comment: One commenter stated that because coinsurance is based on the median charges of the APC, some beneficiaries would pay a higher coinsurance than they would under the current system. The commenter believes that beneficiaries who require less intensive services in an APC group will essentially subsidize other beneficiaries who receive more intensive services within the group. The commenter asserted that fairness would dictate beneficiaries be charged coinsurance amounts that more appropriately reflect the services received, not an amount based on a median of multiple services they did not receive.

Response: Section 1833(t)(3)(B)(ii) of the Act provides that the unadjusted coinsurance amounts are based on the national median of the charges for the “services within” an APC. Because an APC group consists of services that are both clinically similar and similar with respect to the resources required to perform the service, we would expect that charges for the services should also be fairly homogeneous. We believe that services within a group are homogeneous enough to warrant a single payment amount and a single coinsurance amount.

In the following sections, we describe how we determined the beneficiary coinsurance amount and the Medicare program payment amount for services paid for under the hospital outpatient PPS.

2. Determining the Unadjusted Coinsurance Amount and Program Payment Percentage

To calculate Medicare program payment amounts and beneficiary coinsurance amounts, we first determined for each APC group two base amounts, in accordance with statutory provisions:

• An unadjusted copayment amount, described in section 1833(t)(3)(B) of the Act; and

• The predeductible payment percentage, which we call the program payment percentage, described in section 1833(t)(3)(E) of the Act.

a. Calculating the Unadjusted Coinsurance Amount for Each APC Group

In the proposed rule, we described the specific steps used to calculate the unadjusted coinsurance amounts for each APC group as follows:

(i) We determined the national median of the charges billed in 1996 for the services that constitute an APC group after standardizing charges for geographic variations attributable to labor costs. (To determine the labor adjustment, we divided the portion of each charge that we estimated was attributable to labor costs (60 percent) by the hospital's inpatient wage index value and added the result to the nonlabor portion of the charge (40 percent)).

(ii) We updated charge values to projected 1999 levels by multiplying the 1996 median charge for the APC group by 13.0 percent (increased to 14.7 percent in this final rule), which the HCFA Office of the Actuary estimates to be the rate of growth of charges between 1996 and 1999.

(iii) To obtain the unadjusted coinsurance amount for the APC group, we multiplied the estimated 1999 national median charge for the APC group by 20 percent. The unadjusted coinsurance amount is frozen at the 1999 level until such time as the program payment percentage (as determined below) equals or exceeds 80 percent (section 1833(t)(3)(B)(ii) of the Act).

b. Calculating the Program Payment Percentage (Predeductible Payment Percentage)

In the proposed rule and in this final rule, we use the term “program payment percentage” to replace the term “pre-deductible payment percentage,” which is referred to in section 1833(t)(3)(E) of the Act. The program payment percentage is calculated annually for each APC group, until the value of the program payment percentage equals 80 percent. To determine the program payment percentage for each APC group, we—

(i) Subtract the APC group's unadjusted coinsurance amount from the payment rate set for the APC group; and

(ii) Divide the difference (APC payment rate minus unadjusted coinsurance amount) by the APC payment rate, and multiply by 100.

The program payment percentage will be recalculated each year because APC payment rates will change when APC rates are increased by annual market basket updates and whenever we revise an APC.

Comment: One commenter expressed concern about how the coinsurance amounts are determined. The commenter stated that the calculation is flawed and penalizes beneficiaries in those States where charges for services tend to be lower than in other States. The commenter alleged that if the hospitals in those States where charges for services tend to be lower accept a reduced coinsurance in order to hold beneficiaries harmless, the hospitals will be penalized. The commenter also asserted that Medigap policies and Medicaid programs will also be affected. The commenter further stated that coinsurance should be based on regional, not national, charges. The commenter contended that the provision does not achieve the intended outcome of equalizing payment across the nation.

Response: Sections 1833(t)(3) and (t)(8) of the Act prescribe how coinsurance amounts are to be calculated under the PPS. Our method of calculating unadjusted coinsurance amounts for each APC group based on 20 percent of national median charges follows the requirements of section 1833(t)(3)(B) of the Act.

Comment: A number of commenters believe that the payment system as proposed would create gross anomalies in coinsurance for particular chemotherapy drugs. For example, the proposed $36.61 coinsurance for fluorouracil is 10 times the hospital's cost to purchase that drug. The commenters asserted that this excessive coinsurance represents an abuse of patients and would undermine beneficiary confidence in the new system. They recommended that coinsurance be limited to 20 percent of the payment amount for each drug.

Several other commenters noted that classifying drugs with widely varying costs in the same APC will have a significant negative effect on beneficiary coinsurance, and in some cases beneficiaries could be required to pay a greater percentage of coinsurance for less effective therapies. For example, one commenter alleged that the coinsurance for the drug 5-FU, which the commenter believes has a current coinsurance of approximately $1, would increase to $40 under the proposed system.

Response: The coinsurance anomalies for chemotherapy drugs that appeared in the proposed rule are not an issue under this final rule. Unlike the proposed chemotherapy drug APCs, which grouped all chemotherapy drugs under four APCs, in this final rule, each chemotherapy drug is assigned to a separate APC. As discussed in section III.D.5 of this preamble, the unadjusted coinsurance amounts for these APCs is calculated as 20 percent of the APC payment rate.

Comment: One commenter noted that the proposed national unadjusted coinsurance amounts for cardiovascular stress testing and perfusion imaging result in beneficiaries bearing 85 percent of the total payment for stress testing and 60 percent for perfusion imaging, which many beneficiaries will be unable to afford. Another commenter requested that we either exclude cataract procedures and angioplasty from the hospital outpatient PPS or create an outlier policy that affords special treatment for these procedures in order to protect beneficiaries from excessive coinsurance amounts.

Response: Coinsurance amounts, by law, are based on 20 percent of the median of the charges actually billed in 1996 (updated to 1999) for the services within an APC. The fact that coinsurance is a larger proportion of the total payment for some APCs than for others reflects the differences in hospital charging practices for different services. For example, in examining departmental cost-to-charge ratios reflected on hospital cost reports, we have found that most hospitals have higher mark-ups in charges for radiology and diagnostic services than they do for clinic visits.

3. Calculating the Medicare Payment Amount and Beneficiary Coinsurance Amount

a. Calculating the Medicare Payment Amount

The national APC payment rate that we calculate for each APC group is the basis for determining the total payment (subject to wage-index adjustment) the hospital will receive from the beneficiary and the Medicare program. (A hospital that elects to reduce coinsurance, as described below in section III.F.4, may receive a total payment that is less than the APC payment rate.) The Medicare payment amount takes into account the wage index adjustment and the beneficiary deductible and coinsurance amounts. In addition, the amount calculated for an APC group applies to all the services that are classified within that APC group. The Medicare payment amount for a specific service classified within an APC group under the outpatient PPS is calculated as follows:

(i) Apply the appropriate wage index adjustment to the national payment rate that is set annually for each APC group.

(ii) Subtract from the adjusted APC payment rate the amount of any applicable deductible as provided under § 410.160.

(iii) Multiply the adjusted APC payment rate, from which the applicable deductible has been subtracted, by the program payment percentage determined for the APC group or 80 percent, whichever is lower. This amount is the preliminary Medicare payment amount.

(iv) If the wage-index adjusted coinsurance amount for the APC is reduced because it exceeds the inpatient deductible amount for the calendar year, add the amount of this reduction to the amount determined in (iii) above. The resulting amount is the final Medicare payment amount.

b. Calculating the Coinsurance Amount

A coinsurance amount is calculated annually for each APC group. The coinsurance amount calculated for an APC group applies to all the services that are classified within the APC group. The beneficiary coinsurance amount for an APC is calculated as follows:

Subtract the APC group's Medicare payment amount from the adjusted APC group payment rate less deductible; for example, coinsurance amount = (adjusted APC group payment rate less deductible)—APC group preliminary Medicare payment amount. If the resulting amount does not exceed the annual hospital inpatient deductible amount for the calendar year, the resulting amount is the beneficiary coinsurance amount. If the resulting amount exceeds the annual inpatient hospital deductible amount, the beneficiary coinsurance amount is limited to the inpatient hospital deductible. For example, assume that the wage-adjusted payment rate for an APC is $300; the program payment percentage for the APC group is 70 percent; the wage-adjusted coinsurance amount for the APC group is $90; and the beneficiary has not yet satisfied any portion of his or her $100 annual Part B deductible.

(A) Adjusted APC payment rate: $300.

(B) Subtract the applicable deductible:

$300-$100 = $200

(C) Multiply the remainder by the program payment percentage to determine the preliminary Medicare payment amount:

0.7 × $200 = $140

(D) Subtract the Medicare payment amount from the adjusted APC payment rate less deductible to determine the coinsurance amount, which cannot exceed the inpatient hospital deductible for the calendar year:

$200 − $140 = $60

(E) Calculate the final Medicare payment amount by adding the preliminary Medicare payment amount determined in step (C) to the amount that the coinsurance was reduced as a result of the inpatient hospital deductible limitation.

$140 + $0 = $140

In this case, the beneficiary pays a deductible of $100 and a $60 coinsurance, and the program pays $140, for a total payment to the hospital of $300. Applying the program payment percentage ensures that the program and the beneficiary pay the same proportion of payment that they would have paid if no deductible were taken.

If the annual Part B deductible has already been satisfied, the calculation is:

(A) Adjusted APC payment rate: $300.

(B) Subtract the applicable deductible:

$300 − 0 = $300

(C) Multiply the remainder by the program payment percentage to determine the preliminary Medicare payment amount:

0.7 × $300 = $210

(D) Subtract the Medicare payment amount from the adjusted APC payment rate less deductible to determine the coinsurance amount. The coinsurance amount cannot exceed the amount of the inpatient hospital deductible for the calendar year:

$300 − $210= $90

(E) Calculate the final Medicare payment amount by adding the preliminary Medicare payment amount determined in step (C) to the amount that the coinsurance was reduced as a result of the inpatient hospital deductible limitation.

$210 + $0 = $210

In this case, the beneficiary makes a $90 coinsurance payment, and the program pays $210, for a total payment to the hospital of $300.

The following example illustrates a case in which the inpatient hospital deductible limit on coinsurance amounts applies. Assume that the wage-adjusted payment rate for an APC is $2,000; the wage-adjusted coinsurance amount for the APC is $900; the program payment percentage is 55 percent; the inpatient hospital deductible amount for the calendar year is $776 and the beneficiary has not yet satisfied any portion of his or her $100 Part B deductible.

(A) Adjusted APC payment rate: $2,000.

(B) Subtract the applicable deductible:

$2000 − $100 = $1,900

(C) Multiply the remainder by the program payment percentage to determine the preliminary Medicare payment amount:

0.55 × $1,900 = $1,045

(D) Subtract the preliminary Medicare payment amount from the adjusted APC payment rate less deductible to determine the coinsurance amount. The coinsurance amount cannot exceed the inpatient hospital deductible amount of $776:

$1,900 − $1,045 = $855, but coinsurance limited to $776

(E) Calculate the final Medicare payment amount by adding the preliminary Medicare payment amount determined in step (C) to the amount that the coinsurance was reduced as a result of the inpatient hospital deductible limitation ($855 − $776 = $79).

$1,045 + $79 = $1,124

In this case, the beneficiary pays a deductible of $100 and coinsurance that is limited to $776. The program pays $1,124 (which includes the amount of the reduction in beneficiary coinsurance due to the inpatient hospital deductible limitation) for a total payment to the hospital of $2,000.

4. Hospital Election To Offer Reduced Coinsurance

For most APCs, the transition to the standard Medicare coinsurance rate (20 percent of the APC payment rate) will be gradual. For those APC groups for which coinsurance is currently a relatively high proportion of the total payment, the process will be correspondingly lengthy. The law offers hospitals, but not CMHCs, the option of electing to reduce coinsurance amounts and permits hospitals to disseminate information on their reduced rates. In this section, we discuss the procedure by which hospitals can elect to offer a reduced coinsurance amount, and the effect of the election on calculation of the program payment and beneficiary coinsurance.

Section 1833(t)(5)(B) of the Act, as added by section 4523 of the BBA 1997, requires the Secretary to establish a procedure under which a hospital, before the beginning of a year, may elect to reduce the coinsurance amount otherwise established for some or all hospital outpatient services to an amount that is not less than 20 percent of the hospital outpatient prospective payment amount. The statute further provides that the election of a reduced coinsurance amount will apply without change for the entire year, and that the hospital may disseminate information on its reduced copayments. Section 1833(t)(5)(C) of the Act, as added by the BBA 1997, provides that deductibles cannot be waived. Finally, section 1861(v)(1)(T) of the Act (as added by section 4451 of the BBA 1997) provides that no reduction in coinsurance elected by the hospital under section 1833(t)(5)(B) of the Act may be treated as a bad debt. We note that section 1833(t)(5) of the Act has been redesignated as section 1833(t)(8) of the Act by sections 201(a) and 202(a) of the BBRA 1999.

Elections to reduce coinsurance will not be taken into account in calculating transitional corridor payments to hospitals (discussed in section III.H.2 of this preamble). That is, a hospital's transitional corridor payment will be determined as if the hospital received unreduced coinsurance amounts from beneficiaries.

In the proposed rule, we stated that we would require that hospitals make the election to reduce coinsurance on a calendar year basis. The proposed rule required that the hospital must notify its fiscal intermediary of its election to reduce coinsurance no later than 90 days prior to the date the PPS is implemented or 90 days prior to the start of any subsequent calendar year and that the hospital's notification must be in writing. It must specifically identify the APC groups to which the hospital's election will apply and the coinsurance amount (within the limits identified below) that the hospital has elected for each group. The election of reduced coinsurance must remain in effect and unchanged during the year for which the election is made. Because the law states that hospitals may disseminate information on any reduced coinsurance amounts, we provided in the proposed rule that hospitals would be allowed to publicly advertise this information.

The proposed regulations provided that a hospital may elect to reduce the coinsurance amount for any or all APC groups. A hospital may not elect to reduce the coinsurance amount for some, but not all, services within the same APC group.

As proposed, a hospital may not elect a coinsurance amount for an APC group that is less than 20 percent of the adjusted APC payment rate for that hospital. In determining whether to make such an election, hospitals should note that the national coinsurance amount under this system, based on 20 percent of national median charges for each APC, may yield coinsurance amounts that are significantly higher or lower than the coinsurance that the hospital previously has collected. This is because the median of the national charges for an APC group, from which the coinsurance amount is ultimately derived, may be higher or lower than the hospital's historic charges. Therefore, in determining whether to elect lower coinsurance and the level at which to make the election, we advise that hospitals carefully study the wage-adjusted coinsurance amounts for each APC group in relation to the coinsurance amount that the hospital has previously collected.

As discussed in section III.F.1, under sections 1834(d)(2)(C)(ii) and 1834(d)(3)(C)(ii) of the Act the coinsurance for screening sigmoidoscopies furnished by hospitals and screening colonoscopies furnished by hospital outpatient departments and ASCs is 25 percent of the applicable payment rate. The payment rate for these colorectal cancer screening tests is the lower of the hospital outpatient rate or the ASC payment rate. The payment rate for screening barium enemas is the same as that for diagnostic barium enemas. However, the coinsurance amount for screening barium enemas is 20 percent of the APC payment rate. Hospitals may not elect to reduce coinsurance for screening sigmoidoscopies, screening colonoscopies, or screening barium enemas.

Calculation of coinsurance amounts on the basis of a hospital's election of reduced coinsurance is similar to the formula described in section III.F.3. For example, assume that the adjusted APC payment rate is $300; the program payment percentage for the APC group is 60 percent; the hospital has elected a $60 reduced coinsurance amount for the APC group; and the beneficiary has not satisfied the annual Part B deductible.

(A) Adjusted APC payment rate: $300.

(B) Subtract the applicable deductible:

$300 − $100 = $200

(C) Multiply the remainder by the program payment percentage to determine the Medicare payment amount:

0.6 × $200 = $120

(D) Beneficiary's coinsurance is the difference between the APC payment rate reduced by any deductible amount and the Medicare payment amount, but not to exceed the lesser of the reduced coinsurance amount or the inpatient hospital deductible amount:

$200 − $120 = $80 (limited to $60 because of the hospital-elected reduced coinsurance amount)

(E) Calculate the final Medicare payment amount by adding the preliminary Medicare payment amount determined in step (C) to the amount that the coinsurance was reduced as a result of the inpatient hospital deductible limitation.

$120 + $0 = $120

In this case, Medicare makes its regular payment of $120, and the beneficiary pays a $100 deductible and a reduced coinsurance amount of $60. The hospital receives a total payment of $280 instead of the $300 that it would have received if it had not made its election to reduce coinsurance.

Comment: One commenter stated that it is currently illegal to accept lower coinsurance amounts from beneficiaries and asked for an explanation as to how we could propose to encourage hospitals to lower coinsurance.

Response: Although Medicare, in general, has prohibitions against reducing beneficiary coinsurance, redesignated section 1833(t)(8)(B) of the Act specifically provides the legal authority for hospitals to make elections to reduce coinsurance amounts for purposes of the outpatient PPS. However, those coinsurance amounts cannot be reduced below 20 percent of the adjusted APC payment rate for the hospital.

Comment: One commenter asked whether, in view of our proposal to allow hospitals to elect lower coinsurance, Medigap insurance plans will be permitted to offer a waiver of a participating hospital's coinsurance. That is, can a Medigap plan act as a preferred provider organization (PPO) with a financial incentive to select those hospitals that elect to reduce coinsurance?

Response: There are two kinds of Medigap policies—regular Medigap and Medicare SELECT. While regular Medigap policies must pay full supplemental benefits on all claims that are submitted by all Medicare providers and are approved by Medicare carriers and intermediaries, Medicare SELECT plans, which are a managed care form of Medigap, may restrict payment of supplemental benefits to network providers. Thus, by design, Medicare SELECT plans are permitted to negotiate selectively with hospitals. Ordinarily, Medicare SELECT plans contract with certain hospitals to waive the hospital deductible for inpatient services.

Since the Congress has expressly permitted hospitals to reduce outpatient coinsurance to no less than 20 percent of the PPS payment amount, a Medicare SELECT plan is free to contract selectively with these hospitals. We note that a hospital's election to reduce coinsurance under redesignated section 1833(t)(8)(B) of the Act requires that the reduction be across-the-board for some or all APC groups. Thus, an agreement between a Medicare SELECT plan and a hospital to reduce coinsurance would result in coinsurance reductions for all beneficiaries who receive those APC group services at the hospital, whether or not they are enrolled in the Medicare SELECT plan.

Comment: One commenter requested that we seek a legislative change to offer hospitals more flexibility under the coinsurance reduction provision by permitting them to review and revise coinsurance amounts every 3 months.

Response: We believe that there would be a significant impact on contractors if hospitals were allowed to revise their reduced coinsurance more often than annually. More frequent coinsurance changes may also be confusing to beneficiaries. Because we do not have a good estimate of how many hospitals will make the elections and we do not yet know whether those hospitals that do make elections will elect to reduce coinsurance for just a few or for a significant number of APCs, we do not support allowing hospitals to make or change elections more often than annually. However, we may reconsider our position after we gain more experience under the PPS and can better assess what the impact of more frequent elections would be on hospitals, beneficiaries, and HCFA and its contractors.

Comment: One commenter noted that if we intend to publish a final rule no more than 90 days before implementation of the PPS, hospitals would not have sufficient time to make coinsurance election decisions. The commenter recommended that hospitals be permitted to make the election 60 days before implementation of the system.

Response: This final rule will not be published more than 90 days before the date of implementation of the PPS. Therefore, the final regulations require that hospitals inform their fiscal intermediaries (FIs) of their elections to reduce coinsurance not later than June 1, 2000. Beginning with elections for calendar year 2001, elections are required to be made by December 1 preceding the calendar year. At this time, we do not know how many hospitals will choose to reduce coinsurance or for how many APCs these hospitals will elect reductions. While we want to provide hospitals sufficient time to make their elections, we also must provide fiscal intermediaries with enough time to incorporate the elections into their systems.

Comment: Several commenters disagreed with our proposal to allow hospitals to advertise reduced coinsurance amounts. They noted that, although the BBA 1997 provision with respect to hospitals' election to reduce coinsurance amounts provides that hospitals may “disseminate information” on their reductions, we have interpreted that to mean that hospitals may “advertise” their reductions. Two commenters stated that disseminating information is not synonymous with granting one category of hospitals the unique opportunity to advertise to attract customers. They believe that this interpretation is antithetical to the spirit underlying provisions of the Health Insurance Portability and Accountability Act of 1996 (HIPAA) that prohibit beneficiary inducements and may conflict with State anti-kickback laws. Some commenters were also concerned that under our proposal to allow hospitals to advertise, hospitals may issue a general advertisement of reduced coinsurance when the reduction may apply only to certain services. Other commenters were concerned that hospital advertising may lead Medicare beneficiaries to believe that hospital outpatient care is more economical than other ambulatory settings, even when that is not the case, or beneficiaries may become confused and believe that all ambulatory providers have the ability to reduce coinsurance. These commenters asked us to reconsider our proposal to allow hospitals to advertise rather than to disseminate information. In addition, they asked us to establish additional requirements for hospitals' dissemination of information concerning coinsurance reductions so that beneficiaries are made aware that reduced coinsurance applies only to certain specified services, that it applies only to coinsurance billed by hospitals for those services, and that the law does not permit reduced coinsurance for other Part B services such as physician services.

Several other commenters stated that for the election to reduce coinsurance to be effective, hospitals must have the right to advertise and, therefore, the commenters supported our proposal to permit hospitals to advertise coinsurance reductions.

Response: We believe that hospitals must be able to advertise their coinsurance reductions in order to achieve what we believe to be the intent of the BBA provision, that is, to provide hospitals with some ability to compete with other ambulatory settings (where coinsurance is already 20 percent of the applicable Medicare payment rate) and to reduce beneficiary coinsurance liability.

Hospitals would have less incentive to reduce coinsurance if they could not advertise. In addition, beneficiaries need to be fully informed so that they can make informed decisions. We believe that advertising as a way of disseminating information has merit.

We were persuaded by some commenters' concerns that beneficiaries may not understand that reduced coinsurance applies to specific hospital outpatient services furnished by specific hospitals that choose to elect reductions and that similar reductions cannot be made by other providers of ambulatory services. We, therefore, are amending the regulations to require that all advertisements or other information furnished to beneficiaries must specify that the coinsurance reductions advertised apply only to the specified services of that hospital and that these coinsurance reductions are available only where a hospital elects to reduce coinsurance for hospital outpatient services and reductions are not allowed in other ambulatory settings or physician offices.

Comment: One commenter, noting the complexity of the PPS coinsurance requirements, requested that we provide a phase-in period in the final rule to allow hospitals sufficient time to implement the changes necessary to meet the requirements.

Response: The method required to be used in calculating coinsurance under the PPS results in an overall decrease in the total coinsurance amounts beneficiaries pay for hospital outpatient services. Total coinsurance is somewhat reduced in the first year of implementation and will be reduced even more in future years, until coinsurance for all PPS services equal 20 percent of the applicable APC payment rate. It is only by fully implementing the coinsurance provisions under section 1833(t)(3)(B) of the Act that beneficiaries will realize these reductions. We, therefore, do not support a phase-in period.

Comment: One commenter recommended that we include, as part of the public record, year by year estimates of the total economic burden placed on beneficiaries by the prolonged coinsurance phase-in period, assuming hospitals charge the maximum and minimum coinsurance amounts. The commenter believes these estimates would be useful as a basis for future discussions of how to remedy the coinsurance problem.

Response: As a rule, we develop estimates of impacts for legislative proposals that are under consideration by the Congress and for final legislation as we are developing regulations to implement the law. Although we do not have the resources available to model any number of other data analyses that may have merit, our data are made available to the public, so the commenter and any other interested party may perform the coinsurance analysis.

Comment: One commenter stated that the proposed PPS creates new complexities for Medicare beneficiaries in that they will have to wait for hospitals to do the calculations necessary to determine coinsurance. The beneficiaries will also receive multiple bills and explanations of benefits for multiple hospital visits occurring on the same day. The commenter stated that we will need to have an extensive process in place to explain why, in most cases, beneficiaries are paying 50 to 70 percent of their outpatient services and why they are receiving separate statements when they have multiple visits on the same day.

Response: In the proposed rule, we assigned medical visits, that is, clinic and emergency room visits, to APCs based on both the level of visit as defined by a HCPCS code and the diagnosis of the patient. In order to implement that type of APC assignment, we would have to require hospitals to submit a separate bill for each medical visit that occurred on the same day; however, under the final rule, medical visits are assigned to APCs based solely on the HCPCS code, and it will be possible for hospitals to bill for multiple medical visits on the same bill. We agree that the way coinsurance is determined under the PPS is a significant change. We are developing a brochure for beneficiaries that will explain the new system and the policies under the outpatient PPS that will affect them.

Comment: One commenter recommended that we make information available to beneficiaries that compares the average coinsurance for high volume procedures performed at hospitals in a particular geographic area so that beneficiaries can make informed health care decisions about their care.

Response: We believe that beneficiaries will be informed about the coinsurance reductions elected by hospitals in their area through advertisements and other information made available by hospitals.

Comment: One commenter asked whether the EOMB (Explanation of Medicare Benefits) notice to the beneficiary will clearly explain that a hospital's decision to reduce coinsurance applies to a specific service furnished at that specific hospital.

Response: We are reviewing the EOMB in light of the changes in Medicare payments and coinsurance amounts under the PPS, but we have not yet finalized our work. We will take the commenter's suggestion into consideration as we investigate changes we will make to the EOMB.

G. Adjustment for Area Wage Differences

1. Proposed Wage Index

Under section 1833(t)(2)(D) of the Act, the Secretary is required to determine a wage adjustment factor to adjust, in a budget-neutral manner, the portion of the payment rate and the coinsurance amount that is attributable to labor-related costs for relative differences in labor and labor-related costs across geographic regions. As stated in the proposed rule, we considered several options and we proposed using the hospital inpatient PPS wage index as the source of an adjustment factor for geographic wage differences for the hospital outpatient department PPS. We believe that using the hospital inpatient PPS wage index is both reasonable and logical, given the inseparable, subordinate status of the outpatient department within the hospital overall. Use of a hospital outpatient-specific wage index was not required by the Congress and we did not have either the time or resources necessary to construct one. We explained in our proposed rule that there are several possible versions of the hospital inpatient wage index that can be developed by extracting the basic wage and salary data from hospital cost reports, depending on the methodology that is applied to the data. For the hospital outpatient PPS, we proposed to adopt the same version that is used to determine payments to hospitals under the hospital inpatient PPS to adjust for relative differences in labor and labor-related costs across geographic areas. This version reflects the effect of hospital redesignation under 1886(d)(8)(B) of the Act and hospital reclassification under 1886(d)(10) of the Act.

By statute, we implement the annual updates of the hospital inpatient PPS on a fiscal year basis. However, we proposed to update the hospital outpatient department PPS on a calendar year basis. Therefore, the hospital inpatient PPS wage index values that are updated annually on October 1 would be implemented for the hospital outpatient department PPS on the January 1 immediately following. We proposed this schedule so that wage index changes will be implemented on a calendar year basis concurrently with other revisions and updates, such as the conversion factor update or changes in the APC groups resulting from new or deleted CPT codes. Subsequent to our proposal, section 201(h) of the BBRA 1999 amended section 1833(t)(8)(A) of the Act (as redesignated by section 201(a) of the BBRA 1999) to require the Secretary to review and revise the outpatient PPS wage index adjustment factor at least annually rather than on a periodic basis. (This section of the Act was further redesignated as section 1833(t)(9)(A) by section 202(a) of the BBRA 1999.)

2. Labor-Related Portion of Hospital Outpatient Department PPS Payment Rates

We proposed to recognize 60 percent of the hospital's outpatient department costs as labor-related costs that would be standardized for geographic wage differences. We initially estimated this percentage by comparing the percentage of costs attributed to labor by other systems (that is, hospital inpatient PPS and ASC) and by considering health care market factors such as the shift in more complex services from the inpatient to the outpatient setting, which could influence labor intensity and costs. We stated that 60 percent represented a reasonable estimate of outpatient costs attributable to labor, as it fell between the hospital inpatient PPS operating cost labor factor of 71.1 percent and the ASC labor factor of 34.45 percent, and is close to the labor-related costs under the hospital inpatient operating cost PPS attributed directly to wages, salaries, and employee benefits (61.4 percent) under the rebased 1992 hospital market basket that was used to develop the fiscal year 1997 update factor for inpatient PPS rates (published August 30, 1996 at 61 FR 46187).

We confirmed our estimate through regression analysis. Using this approach, we analyzed the percentage change in hospital costs attributable to a 1 percent increase in the wage index as expressed by the hospital wage index coefficient. The coefficient from a fully specified payment regression of the hospital cost per unit, standardized for the service mix on the wage index, disproportionate share patient percentage, modified teaching, rural, and urban variables, is approximately 0.60, suggesting a labor share of 60 percent. Even though we decided not to propose additional adjustments, we believed that the coefficient from this specification provided the best estimate of the labor share for the proposed PPS. This judgment was based on a policy to use a labor share that reflects the relationship between the wage index and costs, rather than the effects of correlated factors.

After calculating 60 percent of each hospital's total operating and capital costs, we divided that amount by the hospital's FY 1998 hospital inpatient PPS wage index value to standardize costs to remove the differences that are attributable to geographic wage differences. Therefore, as we explained in the proposed rule, the total cost of performing a procedure or visit would include standardized operating and capital costs, as well as related costs (for example, operating room time, medical/surgical supplies, anesthesia, recovery room, observation) and minor ancillary procedures such as venipuncture that we packaged.

Comment: Some commenters urged that we annually update the wage index applied to the outpatient PPS as we do under the hospital inpatient PPS.

Response: We proposed to update the wage index annually, on a calendar year basis. In addition, section 1833(t)(9)(A) of the Act, redesignated and amended by the BBRA 1999, requires us to review and revise the wage adjustment at least annually.

Comment: A professional society recommended eliminating the “regional variation for radiologic technologists working in small and rural practices” and applying the “same wage scale” used for their urban counterparts. The commenter asserted that our wage index methodology is biased against rural hospital radiology departments that must compete with the urban areas to attract and retain radiologic technologists. The commenter stated that hospitals are operating in a very competitive labor market in which rural facilities are forced to match or exceed wages paid in the urban areas for reduced workloads. The commenter further stated that the impact of higher hourly technologist wages does not result in a corresponding increase in a higher wage index for radiologic technologists in rural hospitals because these wages are averaged with those for all other hospital inpatient personnel working in the same area.

Response: The commenter is correct that the wage index is calculated based upon all of the wages paid and hours worked of hospital personnel within areas of the hospital that are paid under the inpatient PPS. The wages and hours are then totaled for a particular labor market area (defined as a Metropolitan Statistical Area [MSA] or all of the counties of a State that are not part of an MSA). We believe the inpatient wage index is an appropriate measure of the relative costs of labor across geographic areas for purposes of outpatient PPS.

Currently, we do not have data available that would allow us to calculate the wage index for the costs of employing staff in particular occupational categories. Collecting these data would require significant recordkeeping and reporting efforts for hospitals, and the impacts of adjusting the wage index using the data are uncertain. Although some analyses have indicated that the wage indices of rural areas could rise as a result of such an adjustment, these findings are limited by the lack of a national database through which to fully assess the impacts.

Comment: Several commenters viewed our proposal to establish a 60 percent labor share as an arbitrary decision for which we provided no rational support. One commenter stated that “Congress did not expect HCFA to invent a number.”

Response: As we explained in the proposed rule (63 FR 47581), we used a statistical tool, that is, regression analysis, to validate the percentage of costs that we had initially estimated could be attributed to labor and, therefore, subject to the wage adjustment. We adopted this approach because we did not have adequate and appropriate data readily available through a reputable source from which we could derive a hospital outpatient labor share within the time allotted to develop our new system. While hospital outpatient costs, including labor costs, are reported annually on the hospital cost report, they are not reported in a manner and format that allow us to capture the statistical and cost data necessary to calculate a precise hospital outpatient labor share. Therefore, we decided to use regression analysis to test our estimate of that labor share. Within the constraints imposed by a lack of accessible, reliable data and the compressed timeframe under which we were working to develop the outpatient PPS, we believe our approach was appropriate and the best available option.

Comment: Several commenters urged us to use more current hospital cost report data to determine the appropriate hospital outpatient labor share.

Response: As stated above, at this time the Medicare hospital cost report is not a feasible data source for determining a hospital outpatient labor share.

Comment: One commenter asserted that setting the labor-related share at 60 percent fails to recognize all labor costs associated with the delivery of hospital outpatient services. The commenter stated that the labor-related percentage for the outpatient PPS should be the same as that used for the hospital inpatient PPS, that is, 71.1 percent. Another commenter supported 60 percent as a “maximum” labor percentage on an interim basis and suggested that we reconsider our decision to use the inpatient PPS hospital wage index to adjust the outpatient PPS payments because of the commenter's concerns about flaws inherent in the system used to derive the inpatient PPS wage index values. A third commenter proposed that the labor-related portion should be closer to the 34.45 percent currently applied to adjust ASC payment for wage variation. The latter commenter contended that apportioning 60 percent of the outpatient PPS payment rate for wage adjustment would adversely affect rural hospitals because the wage index values for these areas are generally below 1.0.

Response: We note that commenters' opinions regarding an appropriate labor percentage are mixed. However, beyond expressing a preference for a percentage other than 60 percent, none of the commenters provided data to assist us in re-evaluating our proposal. We realize that rural hospitals would benefit from using a labor share that is less than 60 percent and that some other hospitals would derive advantages from a labor share greater than 60 percent. However, we believe the approach that we used to determine the labor share that will be applied to all hospitals paid under our new system is reasonable and the best option available at this time. We will re-evaluate our decision as we gain more experience with the new system and as new data become available.

3. Adjustment of Hospital Outpatient Department PPS Payment and Coinsurance Amounts for Geographic Wage Variations

In the proposed rule, we noted our intent to use fiscal year 1999 hospital inpatient PPS wage index values to compute the initial outpatient PPS rates. However, we have decided to use fiscal year 2000 inpatient PPS wage index values in determining the payment rates set forth in this final rule. The rationale for using the fiscal year 2000 wage index includes availability of the more recent wage index, that it is more current than the 1999 wage index would have been, and that it is being used to calculate FY 2000 payments under the hospital inpatient PPS.

We proposed to use the annually updated hospital inpatient PPS wage index values to adjust both program payment and coinsurance amounts under the outpatient PPS for area wage variations. Under our proposal, when intermediaries calculate actual payment amounts, they would multiply the prospectively determined APC payment rate and coinsurance amount by that labor-related percentage to determine the labor-related portion of the base payment rate and coinsurance amount that is to be adjusted using the applicable wage index factor. We proposed that the labor-related portion would then be multiplied by the hospital's inpatient PPS wage index factor, and the resulting wage-adjusted labor-related portion would be added to the nonlabor-related portion, resulting in wage-adjusted payment and coinsurance rates. The wage-adjusted coinsurance amount would then be subtracted from the wage-adjusted APC payment rate, and the remainder would be the Medicare payment amount for the service or procedure. Note that even if a hospital elects to reduce the coinsurance or if the coinsurance is capped at the inpatient deductible, the full coinsurance is assumed for purposes of determining the Medicare payment percentage. (See section III.F.3 for a discussion on how Medicare program payments are calculated when the Part B deductible applies.)

The following is an example of how an intermediary would calculate the Medicare payment for a surgical procedure with a hypothetical APC payment rate of $300 that is performed in the outpatient department of a hospital located in Heartland, USA. The coinsurance amount for the procedure is $120. The hospital inpatient PPS wage index value for hospitals located in Heartland, USA is 1.0234. The labor-related portion of the payment rate is $180 ($300 × 60 percent), and the nonlabor-related portion of the payment rate is $120 ($300 × 40 percent). The labor-related portion of the unadjusted coinsurance amount is $72 ($120 × 60 percent), and the nonlabor-related portion of the unadjusted coinsurance amount is $48 ($120 × 40 percent). It is assumed that the beneficiary deductible has been met.

Wage-Adjusted Payment Rate (rounded to nearest dollar):

= ($180 × 1.0234) + $120

= $184 + $120

= $304

Wage-Adjusted Coinsurance Amount (rounded to nearest dollar):

= ($72 × 1.0234) + $48

= $74 + $48

= $122

Calculate Medicare Program Payment Amount:

$304−$122 = $182

4. Special Rules Under the BBRA 1999

We issued the federal fiscal year (FY) 2000 hospital inpatient PPS wage index values in the Federal Register on July 30, 1999, in a final rule titled “Changes to the Hospital Inpatient Prospective Payment Systems and Fiscal Year 2000 Rates” (64 FR 41490). Subsequent to that publication, section 152 of the BBRA 1999 reclassified certain counties and labor market areas for purposes of payment under the Medicare hospital inpatient PPS; section 153 of the BBRA 1999 enacted a “wage index correction”; and section 154 of the BBRA 1999 provided for the calculation and application of a wage index floor for a specified area. These changes are effective for FY 2000 and will be explained in detail in an interim final rule with comment that we expect to issue in the Federal Register shortly. The wage index values in Addendum H, Addendum I, and Addendum J reflect the changes made by the BBRA 1999.

H. Other Adjustments

1. Outlier Payments

Section 1833(t)(2)(E) of the Act, as enacted by the BBA 1997, authorized, but did not require, an outlier adjustment. In the proposed rule, we discussed our reasons for not implementing an outlier adjustment policy. We explained that we had reached that decision after carefully evaluating several factors. For the following reasons, we believed an outlier policy was not necessary: (a) in the proposed PPS, unlike the hospital inpatient PPS, we would use limited packaging of services and allow payment for multiple services delivered to a given patient on a given day; (b) payment for critical care services would reflect the intensity and higher costs associated with providing this type of medical care; and (c) we would make higher payment for serious medical cases even if critical care were not provided and additional payments would be made for any other laboratory work, x-rays, or surgical interventions resulting from medical visits to the emergency room.

Section 201(a) of the BBRA 1999 amended section 1833(t) of the Act by adding an outlier adjustment provision, section 1833(t)(5). Under this new provision, the statute now requires that we make an additional payment (that is, an outlier adjustment) for outpatient services for which a hospital's charges, adjusted to cost, exceed a fixed multiple of the outpatient PPS payment as adjusted by pass-through payments. The Secretary determines this fixed multiple and the percent of costs above the threshold that is to be paid under this outlier provision. The statute sets a limit on projected aggregate outlier payments. Under the statute, projected outlier payments may not exceed an “applicable percentage” of projected total payments. The applicable percentage means a percentage specified by the Secretary (projected percentage of outlier payments relative to total payments), subject to the following limits: for years before 2004, the projected percentage that we specify cannot exceed 2.5 percent; for 2004 and later, the projected percentage cannot exceed 3.0 percent. Section 201(c) of the BBRA 1999 amended section 1833(t)(2)(E) of the Act to require that these payments be budget neutral.

Section 1833(t)(5)(D) of the Act grants the Secretary authority until 2002 to identify outliers on a bill basis rather than on a specific service basis and to use an overall hospital cost-to-charge ratio (CCR) to calculate costs on the bill rather than using department-specific CCRs for each hospital.

To set the threshold or fixed multiple and the payment percent of costs above that multiple for which an outlier payment would be made, we first had to determine what specified percentage of total program payment, up to 2.5 percent, we should select. We decided to set the outlier target at 2.0 percent. In order to set the fixed multiple outlier threshold and payment percentage, we simulated PPS payments, as described below in section G of the preamble. As explained further below, we calibrated the threshold and the payment percentage applying an iterative process so that the simulated outlier payments were 2.5 percent of simulated total payments. For purposes of the simulation, we set a “target” of 2.5 percent (rather than 2.0 percent), because we believe that a given set of numerical criteria would result in a higher percentage of outlier payments under the simulation using 1996 data than under the PPS. This is because we believe that the 1996 data reflects undercoding of services, which means simulated total payments would likely be understated and it in turn means the percentage of outlier payments would be overstated. In addition, we are unable to fully estimate the amount and distribution of pass-through payments using the 1996 data. Our inability to make these estimates further understates the total payments under the simulation. We believe that a set of numerical criteria that results in simulated outlier payments of 2.5 percent using the 1996 data would result in outlier payments of 2.0 percent under PPS. The difference arises from the effect of undercoding in the historical data and the payment of pass-throughs under PPS. Under the budget neutrality requirement in section 1833(t)(2)(E) of the Act, as amended by section 201(c) of the BBRA 1999, we make a corresponding 2.0 percent reduction to the otherwise applicable conversion factor. We will monitor outlier payment and make any necessary refinements to the outlier methodology when we set outlier policies for CY 2002.

After setting the outlier target percentage and reducing the unadjusted conversion factor to reflect the 2 percent outlier reduction and the 2.5 percent pass-through adjustment (see discussion in section III.D), we identified those claims in our 1996 database with at least one payable service under the PPS system. For these bills, we first calculated the total PPS payment for the bill using the reduced conversion factor. Next, we calculated for each claim the total charges attributed to services being paid under the PPS system. These charges were then adjusted to cost, using a hospital-specific CCR. We used the sum of the hospital's total operating CCR and total capital CCR as the hospital specific CCR. These CCRs were calculated from the most current cost report data available and were adjusted to calendar year 1996.

We also identified all bills for the 1,800-plus hospitals that we had previously identified as having coded only the lowest level clinic visit code (CPT code 99201) for all visits. For these hospitals, we isolated those claims with at least one service with the CPT code 99201 and one or more additional PPS covered service. Due to the undercoding on these bills and the inherent problem in determining a possible outlier condition, we excluded these bills from the calculation process but set aside a proportional amount of outlier payments based on the proportional cost of these bills to the total cost of all bills used in the outlier calculation.

After determining the PPS payment and the cost for all 42 million claims for which there was at least one billable service under the PPS system, we experimented with several combinations of thresholds or fixed multiples and payment percent of costs over these multiples. We found that the combination of using a multiple of 2.5 for the threshold and the use of a payment percent of 75 percent of cost over this threshold achieved our target of a 2.5 percent outlier payment. Approximately 1.6 million claims in our 1996 claims database had calculated bill costs that exceeded the PPS payments on the claim by more than 2.5 times and thus qualified for an outlier payment in our model.

Comment: We received several comments that supported our proposal not to create outlier payments. However, most commenters opposed it and supported including an outlier policy. Several commenters disagreed that multiple payment for multiple services furnished during a given visit would absolve the need for outliers. One commenter stated that outlier payments are necessary because of the limited number of APC groups. Several commenters believe that outlier payments are necessary to recognize variability in APC groups stemming from treatment options and patient complexity. Some argued that our own data demonstrate that an outlier policy is necessary to ensure equitable payments. Several commenters stated that the data trimming algorithm that we used, excluding from our PPS database claims that were greater than three standard deviations from the geometric mean, probably eliminated claims that included high cost items and services that should have been reflected in our data and that may have been associated with the later technologies. A professional association noted that an examination of our PPS data indicated that “20 percent of outpatient services subject to the PPS (excluding clinic and emergency room visits) include maximum costs that are at least 10 times higher than the corresponding rate; 100 services have maximum costs that are at least 40 times higher than the corresponding payment rate.”

One commenter believes that an outlier policy is necessary for a payment system based on averaging to provide additional payments for potentially variable and expensive items such as pharmaceuticals and supplies. Several commenters suggested that outlier payments would be necessary if we did implement their option to carve out all pharmaceuticals and certain supplies from the hospital outpatient PPS and pay them separately based on reasonable costs or average wholesale price (AWP). Most commenters who urged establishing outlier payments advocated them for high cost drugs, supplies, and new technologies. Some commenters advised that a drug such as Activase administered to a cardiac patient in the emergency room prior to inpatient admission or transfer to another hospital for inpatient admission would be costly. One commenter estimated that the cost for two doses of the drug would exceed $4,000. One commenter urged an outlier policy that would adequately pay for iodine I 131 tositomomab. Another commenter recommended that we make an outlier payment for Hemophilia Factor Concentrate that could be packaged in APC 906 (Infusion Therapy, except Chemotherapy) or APC 907 (Intramuscular Injections) and Tissue Plasminogen Activator (TPA) and IV therapy drugs as outliers.

A professional association expressed the need for an outlier policy for tests whose costs exceed a reasonable range of costs for similar procedures. They identified CPT codes 95951 and 95956 as examples of those tests. Another association recommended adoption of an outlier policy to recognize higher costs associated with new technologies. The commenter suggested that the policy remain in effect a full year after the hospital outpatient PPS is implemented to allow us adequate time to collect the appropriate data for use in updating the payment rates. Several other commenters believe that we may need to adopt an outlier policy on an interim basis while data are collected to determine the appropriate assignment of certain services and items to an APC. One commenter advocated outlier payments for hospitals whose aggregate costs exceed total payments under the hospital outpatient PPS in a given year. A number of other commenters stated that the hospital outpatient PPS outlier policy should be similar to that currently used for the inpatient PPS.

Response: As we discussed above, section 201(a) of the BBRA 1999 amended the Act by adding a new section 1833(t)(5). This provision now requires the Secretary to make an additional outlier payment for outpatient services for which a hospital's or a CMHC's charges, adjusted to cost, exceed a fixed multiple of the new PPS payment as adjusted by pass-through payments. The Secretary is required to determine the fixed multiple and the percent of costs above the threshold that is to be paid under the outlier provision. As we explain above, to implement the outlier adjustment, we have determined that an outlier payment will be made when calculated bill costs exceed the PPS payments on a claim by more than 2.5 times. In addition, the provision of transitional pass-throughs under section 201(b) of the BBRA 1999, which requires the Secretary to make an additional payment for certain high cost medical devices, drugs, and biologicals, constitutes a kind of outlier adjustment (see section III.D of this preamble), and our decision to create special transitional payments for new technology items and services (see section III.C.8) will also provide additional payments to hospitals that incur higher costs under the outpatient PPS.

2. Transitional Corridors/Interim Payments

As we developed the proposed rule, we conducted extensive regression analysis of the relationship between outpatient hospital costs and several factors that affect costs, such as teaching intensity and disproportionate share percentage, as part of the analysis to determine whether payment adjustments should be proposed for the outpatient PPS. Ultimately, we did not propose any adjustments other than the wage index used to adjust for local variation in labor costs. One of the main reasons we did not propose any special adjustments was that the estimated effects of measured factors on costs were small and, in most cases, not statistically significant. In addition, we believe that the negative impacts estimated in the proposed rule for certain classes of hospitals were partially attributable to undercoding and coding variations in the data because coding did not affect the payment of many services under the current payment system, especially medical visits.

Since publication of our proposed policy, section 202(a)(3) of the BBRA 1999 added new paragraph (7) to section 1833(t) of the Act to require the Secretary to make payment adjustments during a transition period to limit the decline in payments under PPS for hospitals. These additional payments are to be implemented without regard to budget neutrality and are in effect through 2003.

Under paragraphs (A), (B), and (C) of section 1833(t)(7) of the Act, the amount of the payment adjustment for an individual hospital depends on the difference between the hospital's “PPS amount” and the hospital's “pre-BBA amount.” Section 1833(t)(7)(E) of the Act defines the “PPS amount” as the amount payable under PPS for the hospital's covered outpatient department services, excluding the effects of the transitional corridor and including coinsurance and deductibles. For purposes of calculating the PPS amount, we include the full copayment amounts; if a hospital chooses to reduce the copayment for some or all of the services that it furnishes, we will count the full copayment amounts rather than the reduced copayment amounts. Section 1833(t)(7)(F) of the Act defines the “pre-BBA amount” for a period as the amount equal to the product of (1) the hospital's reasonable cost for covered outpatient department services, and (2) the base outpatient department payment-to-cost ratio for the hospital. The statute defines “base payment-to-cost ratio” as the ratio of (1) the hospital's reimbursement for covered outpatient department services during the cost reporting period ending in 1996, to (2) the reasonable cost of the services for the period. The base payment-to-cost ratio will be calculated as if the amendments to sections 1833(i)(3)(B)(i)(II) and 1833(n)(1)(B)(i) of the Act made by section 4521 of the BBA 1997, to require that the full amount beneficiaries paid as coinsurance under section 1862(a)(2)(A) of the Act are taken into account in determining Medicare Part B Trust Fund payment to the hospital, were in effect in 1996.

For calendar years 2000 and 2001, payment to hospitals whose PPS payment is less than 100 percent, but is at least 90 percent, of the pre-BBA payment, is increased by 80 percent of the difference. Hospitals whose PPS payment is less than 90 percent, but is at least 80 percent, of the pre-BBA payment, will receive additional payment equal to the amount by which 71 percent of the estimated pre-BBA payment exceeds 70 percent of the PPS payment. Hospitals whose PPS payment is less than 80 percent, but is at least 70 percent, of the pre-BBA payment will receive additional payment equal to the amount by which 63 percent of the pre-BBA payment exceeds 60 percent of the PPS payment. Payments to hospitals whose PPS payment is less than 70 percent of the pre-BBA payment will be increased by 21 percent of the pre-BBA payment. For calendar years 2001 through 2003, the number of corridors and the associated percentage increases decline over time. As required by statute, interim payments will be made subject to retrospective adjustments. Section 1833(t)(7) of the Act provides special transition payments for cancer centers and small rural hospitals, which are discussed below in section III.H.3.

Comment: Hundreds of commenters, including associations, hospitals, and entities providing goods and services to hospitals, expressed grave concerns about the estimated impact of our proposed system on certain classes of hospitals. Many commenters noted that the case mix and service mix for specific classes of hospitals such as rehabilitation, cancer, children's, rural, and teaching hospitals are different than for other hospitals. They argued that a number of these hospitals deal with patients who typically require more resources. The commenters noted that we have authority under the statute to make adjustments for specific classes of hospitals. Some reasoned that given our estimates of substantial losses for certain classes of hospitals under the proposed hospital outpatient PPS, we should use our authority to exclude these classes of hospitals from the outpatient PPS for 2 years, require proper coding of bills from those hospitals, and have an opportunity to analyze the results of the improved coding. These commenters urged that we examine reasons other than coding that may contribute to the disparity. Many commenters recommended that a separate conversion factor be developed for the hospitals whose payments are adversely affected by the new system.

Response: As discussed above, section 1833(t)(7) of the Act, as added by section 202(a) of the BBRA 1999, provides that, for several years, additional payments be made to any facility for which the PPS payment is less than an estimate of the hospital's pre-PPS payment and that these payments are in addition to the total payments under the PPS. Our estimate of the impacts of this change in policy along with other payment-related provisions of the BBRA 1999 (discussed in further detail in section IX) show improved payments under PPS relative to pre-BBRA law for nearly all classes of hospitals. Our simulations show that hospitals overall receive an additional 4.6 percent in payments under PPS compared to pre-PPS law. Long-term care and children's hospitals show losses (1.7 percent and 3.2 percent, respectively). Moreover, urban hospitals with no indirect teaching or disproportionate share inpatient adjustments show a loss of 0.3 percent. In addition, we reexamined and reestimated the multivariate regression specifications described in the proposed rule to reflect the changes described in this rule. Based on the results of regression analysis, we believe further adjustments are not warranted at this time. We found, for example, the disproportionate share percentage did not have a statistically significant effect on unit costs standardized by service mix. In addition, positive and significant results did not occur for most teaching variables that we specified. For instance, positive and significant results did not occur for hospitals whose ratio of residents to inpatient and outpatient days was less than .28. Hospitals with a large number of residents to inpatient and outpatient days did demonstrate slightly higher standardized costs, but only when the regression model included independent variables for urban/rural location. Moreover, the parameter estimate was small and payment was not greatly improved when a corresponding adjustment was made to these teaching hospitals. Therefore, we are not making such adjustments for these hospital groups. We do not believe that this action will restrict beneficiary access to care because the projected losses are relatively small and could reflect undercoding on the part of these hospitals before PPS.

We will begin comprehensive analyses of cost and payment differentials between different classes of hospitals as soon as there is a sufficient amount of claims data submitted under the PPS. We will use data from the initial years of the PPS to conduct regression and simulation analyses. In addition, we will carefully track and analyze the additional payment made to hospitals under section 1833(t)(7) of the Act. These analyses will be used to consider and possibly propose adjustments in the system, particularly beginning in 2004 when the BBRA 1999 transition provisions expire.

Comment: Commenters from organizations representing teaching hospitals recommended that we include a budget-neutral payment adjustment for certain classes of hospitals such as teaching hospitals. For example, the concern is that PPS payments are not adequate for academic medical centers because they provide more resource-intensive outpatient services than other hospital types.

Response: As noted above, we are not making adjustments for specific classes of hospitals in this final rule. The primary reason for this decision is that section 1833(t)(7) of the Act requires additional payments through 2003 to all hospitals whose PPS payment falls below estimates of pre-PPS payment. We will conduct analyses and studies of cost and payment differential among different classes of hospitals, including teaching facilities, when sufficient data under the PPS have been submitted. We will carefully consider whether permanent adjustments should be made in the system once the BBRA 1999 transition provisions expire.

3. Cancer Centers and Small Rural Hospitals

Cancer Centers

In the BBA 1997, the Congress did not exclude from the hospital outpatient PPS the 10 cancer centers that are currently excluded from the inpatient PPS, but section 1833(t)(8) of the Act (as enacted in the BBA 1997) provides special consideration for these hospitals under the outpatient PPS. More specifically, that section provides that the outpatient PPS would not apply to the 10 cancer centers before January 1, 2000, and that the Secretary may establish a separate conversion factor for cancer centers to take into account the unique costs they incur due to their patient population and the intensity of their services.

In the proposed rule, we stated that, because we had no choice but to delay implementation of the PPS for all hospitals until sometime after January 1, 2000 due to Y2K concerns, we would begin paying cancer centers under hospital outpatient PPS at the same time. Also, we did not propose a separate conversion factor for cancer centers. Although our proposed impact analysis indicated that, under the PPS, the cancer centers could lose 32 percent of their current outpatient Medicare payments, we proposed to do additional work to try to explain the impact before we provided for a separate conversion factor or other payment adjustment.

Section 1833(t)(7)(D)(ii) of the Act, as added by the BBRA 1999, provides that the 10 cancer centers excluded from the inpatient PPS are permanently held harmless with respect to their pre-BBA 1997 amount.

Comment: The cancer centers commented that they are unlike other hospitals in that they treat the most difficult cases (patients often referred by community hospitals) and they are usually the first hospitals to use the latest technology related to cancer treatments. They also pointed out that their clinic visits often involve consultations with a number of physicians and therefore are longer and require more hospital resources than clinic visits in other hospitals. They believe that our proposed payments for clinic visits would seriously underpay them for their more comprehensive visits. The cancer centers also stated that any delay in recognizing and paying appropriately for new technology would affect them more adversely than it would other hospitals.

During the comment period for the proposed rule, the cancer centers submitted for our consideration an alternative payment methodology. Under their methodology, we would calculate a separate conversion factor for each of the 10 centers based on their individual base year Medicare payments and service mix. Subsequently, the conversion factors would be updated using the Congressionally determined update factor applicable to all hospitals. Hospitals would be paid interim payment amounts during the year, but payment would ultimately be based on the lesser of—

• The PPS payments they would receive using their individual conversion factor; or

• The payments they would receive based on their cost reports by applying the current (that is, pre-PPS) outpatient services payment methodology.

Capital costs would be excluded from this comparison and be paid on a reasonable cost pass-through basis. The proposal also envisioned some payment penalties and incentives similar to the penalties and incentives provided under the reasonable payment cost limit methodology applicable to hospitals excluded from the inpatient PPS.

Response: As noted above, new section 1833(t)(7)(D)(ii) of the Act holds cancer centers harmless on a permanent basis by providing that, in instances where Medicare payment to a cancer center under the hospital outpatient PPS would be lower than a specified pre-BBA Medicare payment for the same services, we are to pay the full pre-BBA amount. Therefore, an alternative approach to paying cancer centers under the hospital outpatient PPS is no longer needed.

Small Rural Hospitals

We noted in the proposed rule that rural hospitals generally receive a relatively high percentage of their Medicare income from outpatient services (greater than the national average), which compounds the impact of the reduction in Medicare payments to rural hospitals that we projected would result upon implementation of the hospital outpatient PPS. We attributed these reduced revenues to undercoding, lack of economies of scale, and reliance on the median instead of the geometric mean in the calculation of APC weights. Because our impact analysis revealed that low-volume rural hospitals that are sole community hospitals or Medicare-dependent hospitals could experience a considerable reduction in revenues under the outpatient PPS, we solicited comments in the proposed rule on two possible approaches to phasing in the outpatient PPS for these types of hospitals.

Section 1833(t)(7)(D)(i) of the Act provides that hospitals located in a rural area with 100 or fewer beds are held harmless with respect to their pre-BBA 1997 amount for outpatient services furnished before January 1, 2004. For purposes of implementing this provision, bed size will be determined in the same way it is for inpatient PPS for the indirect medical education adjustment as defined in § 412.105(b), Determination of number of beds. A hospital's location in a rural area will also be determined as it is in the inpatient PPS; see § 412.63(b), Geographic classifications.

Comment: Many commenters were concerned that the projected negative impact of the proposed outpatient PPS on rural hospitals would be magnified because outpatient revenues make up such a large part of rural hospitals' total revenues. Some commenters believe that our proposed PPS ratesetting method favors high volume, urban hospitals. Some commenters supported phasing in the outpatient PPS for rural disproportionate share hospitals because those facilities may not have the resources to improve their coding in the near future. One association opposed phasing in the PPS because doing so would postpone but not resolve the financial jeopardy imposed on rural hospitals by the hospital outpatient PPS. Some commenters recommended that we provide an “add-on” to the prospective rate for emergency services in low-volume sole community and rural disproportionate share hospitals. One commenter expressed concern about the numerous factors contributing to rural hospitals' negative margins that limit their ability to absorb losses, including a disproportionately high share of Medicare, Medicaid, and indigent patients, significant problems recruiting practitioners, low population density, and limited patient volume. Numerous commenters recommended that we establish a payment floor for low-volume rural hospitals. One association requested that we either revise the payment methodology or put in place a payment floor that guarantees health care services will continue to be available to Medicare beneficiaries served by rural hospitals.

Response: As we discuss above, in order to limit potential reductions in payment to hospitals under the outpatient PPS, section 1833(t)(7) of the Act, as added by section 202(a)(3) of the BBRA 1999, requires us to establish payment adjustments for hospitals whose PPS payments are less than our estimate of the hospital's pre-BBA payments. These additional payments are to be implemented in a non-budget neutral manner and are to be paid through 2003. Section 1833(t)(7)(D)(i) of the Act includes a special “hold harmless” provision, which is to be paid through 2003, for hospitals that are located in a rural area and that have no more than 100 beds. Under section 1833(t)(7)(D)(i) of the Act, as added by the BBRA 1999, small rural hospitals will be paid a predetermined pre-BBA amount for services covered under the outpatient PPS if payment under the PPS would be less than the pre-BBA amount. This hold harmless provision establishes a payment floor until January 1, 2004 for small rural hospitals. During this period, we will collect and analyze data under the PPS in order to assess whether any special adjustments will need to be made for rural hospitals once the hold harmless provision expires.

I. Annual Updates

1. Revisions to APC Groups, Weights and the Wage and Other Adjustments

Prior to enactment of the BBRA 1999, section 1833(t)(6)(A) of the Act required the Secretary to periodically review and revise the APC groups, the relative payment weights, and the wage and other adjustments to take into account changes in medical practice, changes in technology, the addition of new services, new cost data, and other relevant information and factors.

In the proposed rule, we described our plan to update the various components of the outpatient PPS. We proposed to keep the composition of all the APC groups essentially intact from one year to the next, with the exception of the few changes that may be necessary as a consequence of annual revisions to HCPCS and ICD-9-CM (International Classification of Diseases, Ninth Edition, Clinical Modification) codes. We stated that we did not plan to routinely reclassify services and procedures from one APC to another. We proposed to make these changes based on evidence that a reassignment would improve the group(s) either clinically or with respect to resource consumption. However, we specifically solicited comments on how frequently to recalibrate the APC weights and on the method and data that should be used. We defined recalibration as the updating of all the APC group weights based on more recent information.

We proposed to update the wage index values used to calculate program payment and coinsurance amounts on a calendar year basis, adopting, effective for services furnished each January 1, the wage index value established for a hospital under the inpatient PPS the previous October 1. The first update to the wage index values will be effective for calendar year 2001 beginning January 1, 2001.

Section 201(h)(1)(A) of the BBRA 1999 amended section 1833(t)(8)(A) of the Act (as redesignated by section 201(a) of the BBRA 1999) to require the Secretary to review the components of the outpatient PPS not less often than annually and revise the groups, the relative payment weights, and the wage and other adjustments to take into account changes in medical practice, changes in technology, and the addition of new services, new cost data, and other relevant information and factors. (Section 202(a) of the BBRA 1999 further redesignated section 1833(t)(8) as section 1833(t)(9).)

Section 201(h)(1)(B) of the BBRA 1999 further amended this section of the Act to require that the Secretary consult with an expert outside advisory panel composed of an appropriate selection of representatives of providers to review (and advise the Secretary concerning) the clinical integrity of the groups and weights. This provision allows these experts to use data other than those collected or developed by us during our review of the APC groups and weights. Section 201(h)(2) of the BBRA 1999 requires the Secretary to initiate the annual review process beginning in 2001 for the PPS payments that would take effect January 1, 2002.

Comment: A number of commenters urged that we adopt an annual update cycle for APC recalibration. Some commented that the APC update frequency should not be less often than the annual cycles that we have instituted for both the hospital inpatient PPS and physician fee schedule payment system. Many commenters maintained that annual updating is necessary to ensure that the APCs appropriately reflect changes in new technologies, standards of care, and other marketplace patterns. Several commenters stated that an annual update cycle is needed to take into account changes in drug prices and appropriately reflect advancements in nuclear medicine. Some commenters believe that updating the APCs less frequently than annually would adversely impact hospitals that would incur financial losses attributable to inappropriate payment for new technologies. Some commenters contended that infrequent updating would be a disincentive for manufacturers to develop new outpatient therapies.

Response: In accordance with the amendments enacted by the BBRA 1999, we will review and update annually, for implementation effective January 1 of each year, the APC groups, the relative payment weights, and the wage and other adjustments that are components of the outpatient PPS, beginning with the update to be effective January 1, 2002.

2. Annual Update to the Conversion Factor

We stated in the proposed rule that section 1833(t)(3)(C)(ii) of the Act requires us to update annually the conversion factor used to determine APC payment rates. Section 1833(t)(3)(C)(iii) of the Act provides that the update be equal to the hospital inpatient market basket percentage increase applicable to hospital discharges under section 1886(b)(3)(B)(iii) of the Act, reduced by one percentage point for the years 2000, 2001, and 2002. The Secretary also has the option (under section 1833(t)(3)(C)(iii) of the Act) of developing a market basket that is specific to hospital outpatient services. We advised in our proposed rule that we are considering this option, and specifically invited comments on possible sources of data that are suitable for constructing a market basket specific to hospital outpatient services. We did not receive any comments regarding potential data sources for constructing a hospital outpatient-specific market basket. Therefore, we will update the conversion factor annually by the hospital inpatient market basket increase (as specified in section 1886(b)(3)(B) of the Act), reduced by one percentage point for the years 2000, 2001, and 2002.

3. Advisory Panel for APC Updates

As stated above, section 1833(t)(9)(A) of the Act (as redesignated by section 201(a) of the BBRA 1999 and further redesignated by section 202(a) of the BBRA 1999) requires the Secretary, beginning in 2001, to consult with an expert outside advisory panel of appropriately selected provider representatives when annually reviewing and updating the APC groups and the relative group weights. The statute specifies that the expert panel will act in an advisory capacity on matters pertaining to the clinical integrity of the groups and weights and that it may use data other than those developed or collected by us in executing this function. We will initiate this review process in 2001 for the hospital outpatient PPS payments that will take effect for services furnished on or after January 1, 2002. We will adopt a process for identifying and appropriately selecting provider representatives to serve as members of an expert advisory panel. We anticipate informing the hospital community of the formation of an expert advisory panel through timely notice in the Federal Register.

J. Volume Control Measures

Section 1833(t)(2)(F) of the Act requires the Secretary to develop a method for controlling unnecessary increases in the volume of covered outpatient department services. Section 1833(t)(6)(C) of the Act, as added by the BBA 1997, authorizes the Secretary to adjust the update of the conversion factor if we determine that the volume of services paid for under the outpatient PPS increases beyond amounts we establish under section 1833(t)(2)(F) of the Act.

In the proposed rule, we proposed a volume control measure for services furnished in CY 2000 only. We discussed several long-term alternatives to control volume for services furnished in subsequent years, and we solicited comments on those options. We stated that we would propose an appropriate volume control mechanism for services furnished in CY 2001 and beyond after we completed further analysis. Given the complexities of developing an appropriate volume control mechanism for hospital outpatient services, we believed additional study was necessary.

For CY 2000, we proposed to use a modified version of the physician sustainable growth rate system (SGR), which is required under section 1848(d)(3) of the Act, for purposes of the hospital outpatient PPS. As we stated in the proposed rule, this appeared to be the most feasible initial approach. Using this approach, we proposed to update the target amount specified under section 1833(t)(3)(A) for CY 1999 as an expenditure target for services furnished in CY 2000. We stated that we would update the CY 1999 target for inflation (based on the projected change in the hospital market basket minus one percentage point), estimate changes in the volume and intensity of hospital outpatient services, and estimate Part B fee-for-service changes in enrollment. If volume exceeded the target for CY 2000, we proposed to adjust the update to the conversion factor for CY 2002. We further stated that we would compare the CY 2000 target to an estimate of CY 2000 actual payments to hospitals as determined by our Office of the Actuary using the best available data. We proposed that if unnecessary volume increases, as reflected by expenditure levels, caused payment to exceed the target, we would determine the percentage by which the target is exceeded, and adjust the CY 2002 update to the conversion factor by the same percentage.

We indicated that we would respond in the final rule to comments on our proposed volume control measure for services furnished in CY 2000, but not to comments about volume control options for services furnished after CY 2000, which will be addressed in a later proposed rule.

Comment: We received many comments opposing our proposed use of an SGR-like system to control unnecessary volume increases under the hospital outpatient PPS. Most commenters strongly urged us to exercise the discretionary authority allowed under section 1833(t)(9)(C) of the Act (as redesignated) not to adjust the update to the conversion factor. A few commenters endorsed the provision of the “President's Plan to Modernize and Strengthen Medicare for the 21st Century” (issued July 2, 1999) to delay adoption of a volume control measure in order to give hospitals additional time to adjust to the new system. Several commenters, including one national physicians' association, contended that we did not have the statutory authority to establish and use an expenditure target in the manner that we had proposed. The physicians' association stated that the law limits use of the SGR system to physician services. Some commenters believe that we lack the expertise needed to set an accurate target amount. Others argued that an expenditure target is not a reliable way to distinguish the growth of necessary versus unnecessary services and that our proposal would therefore have consequences not intended by the statute (that is, affecting all services rather than only those that would be considered unnecessary). Some commenters stated that expenditure caps only work when they directly affect those who control the volume. These commenters contended that a volume control measure is unfair to hospitals because it is physicians, not hospitals, who order services and therefore control volume. Some commenters were concerned that adopting a volume control measure would penalize hospitals for increases in outpatient volume attributable to technological changes that appropriately shift service delivery from the inpatient to outpatient setting. In addition, numerous organizations recommended that we not implement the volume expenditure targets and control measures because payments would be reduced to inadequate levels and affect beneficiary access to care.

Response: We are delaying implementation of a volume control mechanism as suggested by the “President's Plan to Modernize and Strengthen Medicare for the 21st Century” (the statute does not specify an implementation date). This delay gives hospitals time to adjust to the PPS, and it gives us additional time to study appropriate methods of controlling outpatient volume over the long term. We are currently working with a contractor to study options for volume control measures for outpatient services. In the future, before we make any final decision, we will publish a notice in which we will discuss our proposal and will provide a public comment period.

K. Claims Submission and Processing and Medical Review

Comment: Numerous commenters expressed a variety of concerns related to information exchange processes required by the new PPS. Several commenters stated that the remittance advice documents will need to reflect all of the components used in calculating payment for each claim, as well as possible coinsurance reductions. The commenters also were concerned that, with the complexity of the APC system, hospitals will need the ability to verify payment. One health system that had experience with 3M's APGs offered the experience of their member hospitals to assist us by providing input on the data needed by hospitals to manage APCs. This same commenter stated that hospitals must be given detailed instructions on claims submission, changes to the UB-92, and changes to the Correct Coding Initiative (CCI) in advance to ensure that systems and personnel can comply with Medicare requirements.

Response: We released specific hospital billing instructions that address line item reporting and reporting of service units on December 23, 1999 (Transmittals 1787 and 747). We will be issuing final instructions for implementation of this PPS in a program memorandum to fiscal intermediaries. The program memorandum addresses a range of issues such as appropriate use of revenue center/HCPCS codes for compliance with Medicare requirements and changes to Remittance Advice messages and Medicare Summary Notices/EOMBs.

All current correct coding initiative (CCI) edits with the exception of laboratory and anesthesiology edits have been incorporated in the outpatient code editor (OCE) that fiscal intermediaries use to process claims for hospital outpatient services for payment. We will address OCE changes in a program memorandum to fiscal intermediaries. The effective date of these edits is July 1, 2000.

We have decided not to pursue changes to the UB-92 claim form to allow line item diagnosis because, as we discuss in section III.C.3, we will not be using diagnosis to determine payments for clinic and emergency visits when the PPS is first implemented. Diagnosis codes, however, are still required to be reported on hospital outpatient bills.

Medical Review Under the Hospital Outpatient PPS

We have received inquiries regarding the anticipated medical review process for hospital outpatient PPS claims. The methodology of review for outpatient claims does not change under the PPS. The goal of medical review is to identify inappropriate billing and to ensure that payment is not made for noncovered services. Contractors may review any claim at any time, including requesting medical records, to ensure that payment is appropriate. In accordance with this final rule, Medicare will make payment under the PPS for hospital outpatient services including partial hospitalization services; certain Part B services furnished to inpatients who have no Part A coverage; partial hospitalization services furnished by CMHCs; vaccines, splints, casts and antigens provided by HHAs and CORFs that provide medical and other health services; and splints, casts and antigens provided to hospice patients for the treatment of a nonterminal illness. In addition, we expect focused reviews will include the adjustments we have made to the hospital outpatient PPS as a result of the enactment of the BBRA 1999, especially the transitional pass-through payments for innovative drugs, biologicals, and medical devices that are discussed in section III.D. Fiscal intermediaries will continue focused and random review of services such as ambulance, clinical diagnostic laboratory, orthotics, prosthetics, take home surgical dressings, chronic dialysis, screening mammographies, and outpatient rehabilitation (physical therapy including speech language pathology and occupational therapy) even though these services are excluded from the scope of services paid under the hospital outpatient PPS.

L. Prohibition Against Administrative or Judicial Review

Section 1833(t)(9) of the Act, as added by the BBA 1997, prohibits administrative or judicial review of the development of the PPS classification system, the groups, relative payment weights, wage adjustment factors, other adjustments, volume control methods, calculation of base amounts, periodic control methods, periodic adjustments, and the establishment of a separate conversion factor for cancer hospitals. Section 201(a) of the BBRA 1999 redesignates this section as section 1833(t)(11) of the Act, and section 201(d) of the BBRA 1999 amends the section by adding the following to the list of adjustments subject to the limitation on judicial review: the factors used to determine outlier payments, that is, the fixed multiple, or a fixed dollar cutoff amount; the marginal cost of care, or applicable total payment percentage; and the factors used to determine additional payments for certain medical devices, drugs, and biologicals such as the determination of insignificant cost, the duration of the additional payments, the portion of the outpatient PPS payment amount associated with particular devices, drugs, or biologicals, and any pro rata reduction. Section 202(a) of the BBRA 1999 further redesignates section 1833(t)(11) as section 1833(t)(12).

IV. Provider-Based Status

A. Background

The Medicare law (section 1861(u) of the Act) lists the types of facilities that are regarded as providers of services, but does not use or define the term “provider-based.” However, from the beginning of the Medicare program, some providers, which we refer to in this section as “main providers,” have owned and operated other facilities, such as SNFs or HHAs, that were administered financially and clinically by the main provider. The subordinate facilities may have been located on the main provider campus or may have been located away from the main provider. In order to accommodate the financial integration of the two facilities without creating an administrative burden, we have permitted the subordinate facility to be considered provider-based. The determination of provider-based status allowed the main provider to achieve certain economies of scale. To the extent that overhead costs of the main provider, such as administrative, general, housekeeping, etc., were shared by the subsidiary facility, these costs were allowed to flow to the subordinate facility through the cost allocation process in the cost report. This was considered appropriate because these facilities were also operationally integrated, and the provider-based facility was sharing the overhead costs and revenue producing services controlled by the main provider.

Before implementation of the hospital inpatient PPS in 1983, there was little incentive for providers to affiliate with one another merely to increase Medicare revenues or to misrepresent themselves as being provider-based, because at that time each provider was paid primarily on a retrospective, cost-based system. At that time, it was in the best interest of both the Medicare program and the providers to allow the subordinate facilities to claim provider-based status, because the main providers achieved certain economies, primarily on overhead costs, due to the low incremental nature of the additional costs incurred.

In the proposed rule, we pointed out the increase of provider-based facilities and the financial and organizational incentives for that increase since 1983. A variety of factors such as the emergence of integrated delivery systems and the pressure to enhance revenues have combined to create incentives for providers to affiliate with one another and to acquire control of nonprovider treatment settings, such as physician offices.

We noted in the proposed rule that it is essential that we make decisions regarding provider-based status appropriately, and that we have clear rules for identifying provider-based entities. By failing to distinguish properly between provider-based and free-standing facilities or organizations, we risk increasing program payments and beneficiary coinsurance with no commensurate benefit to the Medicare program or its beneficiaries and we jeopardize the delivery of safe and appropriate health care services to our beneficiaries.

Although there is no direct statutory requirement to maintain explicit criteria for determination of provider-based status, there are statutory references acknowledging the existence of this payment outcome. For example, section 1881(b) of the Act provides for separate payment rates for hospital-based ESRD facilities. There is currently no general definition of “provider-based facility” in the CFR. However, in the proposed rule, we cited issuances that do contain provisions for recognition of specific types of entities as provider-based, including Program Memorandum A-96-7, published on August 27, 1996, which pulled together instructions for specific entity types from previously published documents and consolidated them into a general instruction for the designation of provider-based status for all facilities or organizations. That Program Memorandum was subsequently reissued, without substantive change, as Program Memoranda A-98-15 and A-99-24 and, in October 1999, was manualized by the Provider Reimbursement Manual, Part I, Transmittal 411 (adding new section 2446), and the State Operations Manual, Transmittal 11 (replacing previous section 2003 and adding new section 2004). Our policy will continue to follow the principles we articulated in Program Memorandum A-96-7 and the Provider Reimbursement Manual and State Operations Manual sections cited above until October 10, 2000. After that date, we shall apply the policies set forth in these final regulations.

B. Provisions of the Proposed Rule

We announced our intention to implement §§ 413.24(d)(6)(i) and (ii), 413.65, 489.24(b), and 498.3, as revised based on our consideration of public comments, with respect to services furnished on or after 30 days following publication of a final rule. We describe these sections below and explain that we have now provided a 6-month delay in the effective date of the regulations on provider-based status.

We proposed to add a new § 413.65 on the determination of provider-based status. In paragraph (a), we proposed to define the following terms: department of a provider, free-standing facility, main provider, provider-based entity, and provider-based status. In paragraph (b), we proposed that a facility or organization would not be entitled to be treated as provider-based simply because it or the provider believe it to be provider-based. The facility or organization, or the provider, would have to contact HCFA and obtain an affirmative provider-based determination before billing of the facility's or organization's costs through the main provider, or inclusion of those costs on the main provider's cost report, is initiated. Further, we proposed to presume a facility not located on the campus of a hospital and used as a site of physician services of the kind ordinarily furnished in physician offices to be a free-standing facility unless we determined it to have provider-based status.

We proposed to require, in paragraph (c), that a main provider that acquires a facility or organization for which it wishes to claim provider-based status must report its acquisition of the facility or organization to us if the facility or organization is off the campus of the main provider, or is located on the campus of the main provider and, if acquired, would increase the main provider's costs by 5 percent or more. The main provider must also furnish all information needed for a determination as to whether the facility or organization meets the criteria in this section for provider-based status. A main provider that has had one or more facilities or organizations determined to have provider-based status also must report to us any material change in the relationship between it and any department or provider-based entity, such as a change in ownership of the entity or entry into a new or different management contract, that could affect the provider-based status of the department or entity.

In paragraph (d), we proposed the requirements for a determination of provider-based status. In paragraph (d)(1), we proposed to set forth licensure requirements for facilities or organizations seeking provider-based status.

In paragraph (d)(2), we proposed to require that a facility or organization be under the ownership and control of the main provider.

In paragraph (d)(3), with respect to administration and direct supervision of the main provider, we proposed to require that a facility or organization seeking provider-based status have a reporting relationship to the main provider that is characterized by the same frequency, intensity, and level of accountability that exists in the relationship between the main provider and one of its departments.

In paragraph (d)(4), we proposed that a facility or organization seeking provider-based status and the main provider share integrated clinical services, as evidenced by privileging of the professional staff of the department or entity at the main provider, and the main provider's maintenance of the same monitoring and oversight of the department or entity as of other departments. Also, the medical director of the department or entity would be required to maintain a day-to-day reporting relationship with the chief medical officer (or equivalent) of the main provider, and be under the same supervision as any other director of the main provider.

In paragraph (d)(5), we proposed to require that the department or entity and the main provider be fully financially integrated within the main provider's financial system, as evidenced by the sharing of income and expenses. The department's or entity's costs should be reported in a cost center of the provider, and the department's or entity's financial status should be incorporated into, and readily identifiable in, the main provider's trial balance.

In paragraph (d)(6), we proposed to require that the main provider and the facility seeking status as a department of the provider be held out to the public as a single entity, so that when patients enter the department they are aware that they are entering the provider and will be billed accordingly. (This requirement would not apply to a provider-based entity that is itself a provider, such as a SNF.)

In paragraph (d)(7), we proposed to require that the department of a provider or provider-based entity and the main provider be located on the same campus, except where requirements relating to service to the same patient population are met.

Paragraph (e) would specifically prohibit the approval of provider-based status for any proposed department or entity that is owned by two or more providers engaged in a joint venture.

In proposed paragraph (f), we proposed to state that facilities or organizations operated under management contracts would be considered provider-based only if specific requirements are met related to: Staff employment, administrative functions, day-to-day control of operations, and holding of the management contract by the provider itself rather than by a parent organization.

In proposed paragraph (g), we proposed to specify nine obligations of hospital outpatient departments and hospital-based entities. We explained that these obligations ensure that facilities seeking recognition as hospital outpatient departments or hospital-based entities are in fact what they represent themselves to be, and are not simply the private offices of individual physicians or of physicians in group practices.

We also proposed to preclude any facility or organization that furnishes all services under arrangements from qualifying as provider-based. We believe the provision of services under arrangement was intended to be allowed only to a limited extent, in situations where cost-effectiveness or clinical considerations, or both, necessitate the provision of services by someone other than the provider's own staff. The “under arrangement” provision in section 1861(w)(1) of the Act and § 409.3 is not intended to allow a facility merely to act as a billing agent for another.

Proposed paragraph (h) states that, if we learn of a provider that has inappropriately treated a facility or organization as provider-based, before obtaining our determination of provider-based status, we would reconsider all payments to that main provider for those periods subject to reopening, and we would investigate to determine whether the designation was appropriate.

In proposed paragraph (i), we would apply the principles in paragraph (h) to situations involving inappropriate billing for services furnished in a physician's office or other facility or organization as if they had been furnished in a hospital outpatient or other department of a provider or in a provider-based entity.

We also proposed to add a new paragraph (j) that would allow us to review past determinations. If we find that a designation was in error, and the facility or organization in question does not meet the requirements of this section, we will notify the main provider that the provider-based status will cease as of the first day of the next cost report period following notification of the redetermination.

In addition, we proposed to add to § 413.24(d) new paragraphs (6)(i) and (6)(ii) to clarify that main providers, in completing their Medicare cost reports, may not allocate overhead costs to the provider-based or other cost centers that incur similar costs directly through management contracts or other arrangements. These changes are needed to prevent misallocation of management costs, which would result in excessive payment to those types of providers paid on a reasonable cost basis.

To provide an administrative appeals process for entities that have been denied provider-based status, we proposed to revise the regulations on provider appeals at § 498.3. As revised, these rules would specify that a provider seeking a determination that a facility or an organization is a department of the provider or a provider-based entity under proposed § 413.65 would be included in the definition of “prospective provider” for purposes of part 498, and would be afforded the same appeal rights as a prospective provider, such as a hospital or SNF, that we have found not to qualify for participation as a provider.

C. Comments and Responses

In response to our proposals, we received approximately 120 letters of comment, most of which raised a number of issues. Included among the commenters were hospitals and hospital and other provider associations, physicians, attorneys, and other individuals. Here we respond to comments submitted on the proposed rule.

General Comments

Many comments were not directed to a specific provision or criterion, but concerned the implementation of the regulations or the application of provider-based criteria to specific types of facilities. These are summarized below.

Effective Date

Comment: A commenter requested clarification as to when the parts of the final rule setting forth criteria for provider-based status would be effective, and a number of commenters requested an extended grace period or a delay in effective date of the final rules, with some commenters requesting delays as long as 12 to 18 months. Various reasons were cited, including the pressures on providers to prepare their systems and staff for the outpatient PPS, the need to bring operations into compliance with the provider-based criteria, and the anticipated workloads of HCFA regional offices that may receive a large number of requests for provider-based determinations. Commenters argued that it is unrealistic to expect that a hospital would engage in a full-blown analysis of its provider-based arrangements and modify each arrangement until it knows against which exact criteria it is measuring those arrangements. Any changes in status will require hospitals to implement billing and other operational changes. Thus, commenters argued that it is not reasonable to expect hospitals to complete such steps within a 30-day period.

Response: We agree, and are providing a delay in the effective date until October 10, 2000. Moreover, as stated in our response to comments on proposed § 413.65(j) below, any redetermination of provider-based status that finds the facility or organization not to be provider-based will not take effect for at least 6 months after the date the provider is notified of the redetermination.

Application to Specific Facilities

Comment: One commenter stated that under the Balanced Budget Act of 1997 (the BBA 1997) long-term hospitals established on or before September 30, 1995 are entitled to retain their long-term hospital classification notwithstanding their location in the same building or campus of another hospital. In the commenter's view, these hospitals should not now have this classification revoked by this proposed regulation.

Response: The provision referred to by the commenter, section 4417(a) of the BBA 1997, is codified in section 1886(d)(1)(B) of the Act and is implemented under regulations at § 412.22(f). That provision authorizes certain hospitals to continue being excluded from the Medicare hospital inpatient prospective payment system (PPS) based on their exclusion status and configuration on or before September 30, 1995, even though they would not otherwise qualify for this exclusion. The criteria for provider-based status do not conflict with or even directly relate to the section 4417(a) provision, and we have therefore not made any change in the regulations based on this comment.

Comment: The commenter believes that rural health clinics (RHCs) should be exempted from provider-based designation requirements if they meet the intent of the enabling regulation. The commenter requested that an RHC be granted provider-based status if it meets one of the following criteria: Is the sole source of primary care for the community; has traditionally served the community with an open door policy; or treats a disproportionate share of the community's Medicare and Medicaid population.

Response: We share the commenter's concern, but believe the criteria suggested are overly inclusive and could lead to a proliferation of RHCs in areas where there are no true shortages of care. While we do not believe a blanket exemption from the criteria is warranted, we have developed a special provision for RHCs affiliated with small rural hospitals, as described below in our responses to comments on § 415.65(d)(7), Location in immediate vicinity.

Comment: A commenter stated that there may be instances where the Medicare regulations related to provider-based definitions conflict with the Medicaid provider-based regulations, and asked whether Medicaid will be required to comply with the new Medicare provider-based regulations.

Response: Because hospitals under Medicaid are required to meet the same standards as Medicare facilities, these final rules would affect the Medicaid definition of these facilities as well as the Medicare definitions.

Comment: Commenters stated that the reasons cited for establishing provider-based requirements that are found in the preamble do not apply to clinical laboratories and thus these requirements should not apply. The commenters asked that we explicitly state in the final regulations that the provider-based requirements are not applicable to clinical laboratories. They believe the regulations have little bearing where, as with clinical laboratory services, reimbursement is under a fee schedule amount, and neither the Medicare program nor the beneficiary will pay anyone differently as a result of the treatment of the laboratory in the manner proposed.

Response: As explained more fully in the preamble to the proposed rule, our objective in issuing specific criteria for provider-based status is to ensure that higher levels of Medicare payment and increases in beneficiary liability for deductibles or coinsurance (which can all be associated with provider-based status) are limited to situations where the facility or organization is clearly and unequivocally an integral and subordinate part of a provider. Under this principle, we agree with the commenter's view that it would not be either necessary or appropriate to make provider-based determinations with respect to facilities or organizations if by law their status (that is, provider-based or free-standing) would not affect either Medicare payment levels or beneficiary liability. However, we believe that it is not necessary to specify in the regulations that specific facility types are excluded, since these facilities or organizations are unlikely to seek a provider-based determination. We will be careful to clarify this policy in program operating instructions.

Comment: A commenter stated that the proposed provider-based requirements seem to preclude the possibility of a Comprehensive Outpatient Rehabilitation Facility (CORF) meeting these new requirements. The commenter believes that in the past, CORFs have been permitted to be either provider-based or free-standing and asked whether the final rules will give CORFs the option of being either free-standing or provider-based.

Response: As explained more fully in the preamble to the proposed rule, our objective in issuing specific criteria for provider-based status is to ensure that higher levels of Medicare payment and increases in beneficiary liability for deductibles or coinsurance (which can all be associated with provider-based status) are limited to situations where the facility or organization is clearly and unequivocally an integral and subordinate part of a provider. We are aware that, under the cost-based payment system that applied to CORFs prior to January 1, 1999, approximately 17 percent of participating CORFs claimed provider-based status. However, effective January 1, 1999, in accordance with the BBA 1997, payment for all CORF services is made no longer on the basis of cost reimbursement but on the basis of the physician fee schedule. Beneficiary liability is also determined under the fee schedule, regardless of the organizational structure or affiliations of the CORF. The switch to fee schedule payment from a cost-based system eliminates or removes any payment incentives to be a provider-based rather than a free-standing CORF. Thus, as in the case of the preceding comment, we agree with the commenter's view that it would not be either necessary or appropriate to make provider-based determinations with respect to facilities or organizations if by law their status (that is, provider-based or free-standing) would not affect either Medicare payment levels or beneficiary liability. We also note that existing regulations at § 413.174 specify rules for determining whether ESRD facilities are independent or hospital-based, and we have revised § 413.65(a) to state that determinations with respect to ESRD facilities will continue to be made under § 413.174, not § 413.65. However, we believe that it is not necessary to specify in the regulations that most specific facility types are excluded, since these facilities or organizations are unlikely to seek a provider-based determination. We will be careful to clarify this policy in program operating instructions.

Application to Specific Facilities—Indian Health Service (IHS)

Comment: Several commenters requested an exception or exemption from the rules for IHS and tribal facilities. One commenter was concerned that the implementation of these proposed regulations will have the effect of denying Medicare participation as provider-based entities to a number of IHS facilities that are currently operated by Indian tribes under the auspices of Public Law 93-638. They will also cause a disruption of the coordinated health care delivery system(s) that exist between IHS and numerous tribes, and jeopardize statutorily authorized contracting and compacting relationships between the IHS and these tribes due to the conflict between these proposed regulations and the statutory opportunities for self-determination by the Indian tribes. The IHS strongly recommended that these proposed regulations not apply to IHS and tribal health systems as written. Recommendations were also made to deem satellite facilities within a discrete Indian reservation as meeting the definition of a provider-based entity as well as satellite facilities within a historical service unit. Finally, the IHS recommended that the current system be “grandfathered” to meet the definition of provider-based entity.

Response: We share many of these concerns and have provided special treatment for IHS and tribal facilities as described below.

Comment: A commenter was concerned that the proposed regulations would severely restrict a number of IHS satellite clinics from receiving reimbursement for the provision of Medicare Part B services. The commenter believes that a number of the requirements that must be met before an entity can be designated as provider-based for Medicare payment purposes are unrealistic for IHS satellite clinics, which are often the only Medicare providers on remote tribal lands. The commenter recommended that HCFA provide for an exemption for IHS satellite facilities that are generally located on a main hospital campus or within a short distance of a hospital. Also, the commenter recommended that the final rule clarify that IHS and tribal outpatient departments or satellite clinics are eligible to receive designation as a department of a provider or a provider-based entity and are eligible for Part B reimbursement.

Response: We share many of these concerns and have provided special treatment for IHS and tribal facilities as described below.

Comment: Many tribes have acquired operations of outpatient facilities and are in the process of acquiring the affiliated hospitals. The commenter stated that this trend, coupled with the complexities of the Indian Self-Determination Act (Pub. L. 93-638), the Indian Health Care Improvement Act (Pub. L. 94-437), and a moratorium on tribal compacting and contracting, requires special consideration by HCFA. The commenter requested that facilities be recognized as provider-based if—

(1) The outpatient facility is owned and operated by the tribe that owns the majority of the tribal shares utilized in funding the main hospital;

(2) The tribe has previously compacted programs that were historically administered by the hospital and are now administered through a committee or board comprised of medical staff of both facilities;

(3) The outpatient facility is in the same State as the hospital;

(4) There is coordination and integration of services, to the extent practicable, between the outpatient facility seeking provider-based status and the main provider.

Response: We recognize that the provision of health services to members of Federally recognized Tribes is based on a special and legally recognized relationship between Indian tribes and the United States Government. To address this relationship, the IHS has developed an integrated system to provide care that has its foundation in IHS hospitals. Because of these special circumstances, not present in the case of private, non-Federal facilities and organizations that serve patients generally, we agree that it would not be appropriate to apply the provider-based criteria to IHS facilities or organizations or to most tribal facilities or organizations. Therefore, we have revised the final rule to state that facilities and organizations operated by the IHS or Tribes will be considered to be departments of hospitals operated by the Indian Health Service or Tribes if, on or before April 7, 2000, they furnished only services that were billed as if they had been furnished by a department of a hospital operated by the Indian Health Service or a Tribe and they are: (1) owned and operated by the IHS; (2) owned by the Tribe but leased from the Tribe by the IHS under the Indian Self-Determination Act in accordance with applicable regulations and policies of the Indian Health Service in consultation with Tribes: or (3) owned by the IHS but leased and operated by the Tribe under the Indian Self-Determination Act in accordance with applicable regulations and policies of the Indian Health Service in consultation with Tribes. Facilities or organizations that are neither leased nor owned by the IHS would not be eligible for this special treatment, even if operated on Tribal land by members of the Tribe. These facilities would, of course, be eligible to participate in Medicare as FQHCs if applicable requirements in our regulations at 42 CFR part 405, subpart X are met. We did not adopt the conditions recommended by one commenter because we believe they may not apply to all Tribes.

Application to Specific Facilities—Federally Qualified Health Centers (FQHCs)

Comment: A commenter stated that despite specific acknowledgment of the eligibility of FQHCs to qualify as provider-based entities, certain proposed ownership, governance, and supervision criteria in connection with the determination of provider-based status would effectively prohibit entities from maintaining concurrent provider-based and FQHC designations. The commenter believe the criteria should be modified, or some other special provision created, to allow FQHCs to be departments of a provider.

Response: We understand the commenter's concerns and have provided special treatment for FQHCs as described below.

Comment: The commenter, a hospital that is affiliated with a number of off-site community health centers, believes the criteria in the proposed rule would deny provider-based status to community controlled, urban tax-exempt health centers operated under the license of a “main provider.” Several of the commenter's health centers are FQHCs that must fulfill certain criteria to maintain this status. In the commenter's view, it is not feasible to require the “main provider” to own and control these health centers or to require that the health centers and the “main provider” strictly meet all of the requirements set forth in the proposed rule. The commenter asked that the final rule be revised to take into account these historical relationships and “grandfather” the provider-based status of health centers that have been on the license of a disproportionate share hospital for at least 10 years. The recommended “grandfathering” provisions also could, in the commenter's view, require common Joint Commission on Accreditation of Healthcare Organizations (JCAHO) accreditation, integration of clinical care committees, main provider approval of clinical guidelines and protocols, and financial oversight and review by the main provider.

Response: We share many of these concerns and have provided special treatment for FQHCs as described below.

Comment: A commenter requested that we provide a transition period of at least five years for health centers that have been treated as provider-based entities for a significant period of time (for example, 10 years or more), so that the centers will have adequate time to achieve compliance with the provider-based criteria. In the commenter's view, an extended time period for compliance would permit continuity of care to the populations served by the health centers while granting the affected health centers an opportunity to find alternative funding streams.

Response: We recognize that FQHC qualification criteria effectively require these facilities to be governed by community-based boards independent of hospitals and other providers, while our provider-based criteria require facilities seeking provider-based status to be operated under the ownership and control of the main provider, and to be under the direct supervision of that provider. This does not preclude an FQHC from participating in Medicare as a free-standing entity; on the contrary, this participation is entirely appropriate. However, it does preclude the facility from qualifying as a department of a hospital or other provider under our criteria.

Despite the difference between HRSA and HCFA requirements, we are aware that some FQHCs may have been treated by hospitals as departments for purposes of Medicare and Medicaid billing, and we are concerned that an abrupt change in status for them could force some or all to close, leading to shortages of care in some areas. Therefore, we plan to establish special provisions for FQHCs and FQHC “look-alikes” (facilities that are structured like FQHCs and meet all requirements for grant funding, but have not actually received these grants). Specifically, we have revised the regulations to state that if a facility has since April 7, 1995 furnished only services that were billed as if they had been furnished by a department of a provider and either (1) received a grant before 1995 under section 330 of the Public Health Service Act or, before 1995, received funding from such a grant under a contract with the recipient of such a grant and meets the requirements to receive a grant under section 330 of the Public Health Service Act; or (2) based on the recommendation of the PHS, was determined by HCFA before 1995 to meet the requirements for receiving such a grant, the facility will continue to be treated, for purposes of this section, as a department of the provider without regard to whether it complies with the criteria for provider-based status in § 413.65. We note that both types of facilities would be obligated, for as long as they are treated as a department of a provider, to comply with the applicable requirements for departments of providers as stated in § 413.65(g).

Application of Standards

Comment: One commenter believes that the proposed rule did not make clear how it would apply to existing entities, because some language in the rule could be read to require that existing entities would not receive provider-based status until we have issued a determination letter. Another commenter requested that we clarify whether we expect to review all clinics prospectively or just new clinics. The commenter stated that requirements that only new clinics seek designation does not preclude us from auditing currently designated clinics. Another commenter asked if there will be a set time frame during which current providers with provider-based departments or entities under Program Memorandum A-96-7 must contact us and receive an official designation in order to continue billing as they currently do. More specifically, the commenter asked whether, if there is such a time frame, compliance with the criteria in the Program Memorandum would constitute a good faith effort as referred to in § 413.65(i)(2). Additional guidance was also requested as to what providers should do now to demonstrate that they have made a good faith effort.

Response: We plan to review all new requests for provider-based status. At present, we have no plans to systematically review all providers to determine whether they may be claiming provider-based status for some facilities or organizations inappropriately. However, we will review the status of specific facilities or organizations in response to complaints or any other credible information that indicates that provider-based status requirements are not being met. If the regional office determines that this is the case, it will take action in accordance with the rules in new § 413.65(h) and (i). In response to the comment about possible retroactive application of the new regulations, we note that they will apply only on or after their effective date of October 10, 2000. We will not apply the provider-based criteria in the new regulations to periods prior to that date; on the contrary, decisions for such periods will be reviewed only under the criteria in effect at the time, as stated in Program Memoranda and the Provider Reimbursement Manual and State Operations Manual.

Comment: Two commenters pointed out the proposed rules do not state whether the required approval status is retroactive to when the provider applied or to when we granted approval. These commenters believe it should be retroactive to the date of the provider's application for the determination.

Response: We plan to make provider-based status applicable as of the earliest date on which a request for provider-based status has been made and all requirements for provider-based status are shown to have been met, not on the date of our determination. Thus, if a provider requests provider-based status for a facility on May 1 and demonstrates that applicable criteria were met on that date, but the regional office did not make a formal determination until June 1, the determination would be effective on May 1.

Comment: The commenter stated that we should not have published important provider-based policies in a Federal Register document that some providers, such as skilled nursing facilities and home health agencies, may not have read. The commenter recommended that we re-issue these proposed rules separately from the proposed hospital outpatient prospective payment rules.

Response: We do not agree that the proposed rules were published in an obscure location. On the contrary, the number of written comments received, many of them from providers other than hospitals, indicates that our proposals were widely known among providers that could be affected. Therefore, we do not intend to republish the proposed rules.

Comment: A commenter expressed concern that these provider-based provisions are unnecessarily restrictive and will unreasonably limit practice arrangements. The commenter went on to state that in the current health care environment, physicians and hospitals need flexibility to adapt to local market conditions and participate in a variety of practice arrangements to provide cost effective, high quality care. An unnecessary strict definition of “provider-based entity” could have a chilling effect on the evolution of new care delivery structures that would expand access to care, especially in rural areas.

Response: We share the commenter's concern with preserving Medicare beneficiaries' access to care, but do not agree that the provider-based rules will limit access. We note that the rules do not prohibit hospitals from purchasing physician practices or taking other actions to enhance access to care in remote rural areas; they only set minimum standards for the type of affiliations that will be recognized for provider-based designation.

For example, an institutional provider such as a hospital or SNF may elect to use part of its institutional complex to house physician offices or other facilities that provide services complementing those of the provider. Those facilities'costs will have to be included in the trial balance of the institutional complex, in order to allow costs to be allocated accurately to all parts of the complex, and permit the costs of the provider to be determined. However, inclusion of such facilities' costs on the institutional complex trial balance does not make the facilities provider-based. On the contrary such facilities would have to meet the criteria in § 413.65 to qualify for provider-based status.

Comment: Different views were expressed on how much

discretion regional offices should have in applying the provider-based criteria. One commenter asked that we make the rules as clear and concise as possible. The commenter argued that rules allowing for great latitude in interpretation could be dangerous for the provider community. On the other hand, another commenter stated that we should allow Medicare regional offices greater latitude for determining when sufficient integration exists for a facility to qualify as provider-based, and should avoid adopting regulations that “micro-manage” a hospital's operations. Another commenter suggested that rather than requiring that all criteria must be met to achieve provider-based status, we change the test to substantially all. There may be circumstances where criteria are not fully met, but an overall assessment supports a provider-based determination. This same commenter recommended that a “pending” status be incorporated into the evaluation process, whereby hospitals not meeting the criteria for provider-based status would be afforded an opportunity to make the modifications necessary. Another commenter asked that instead of meeting all criteria, we permit the regional offices to evaluate a facility's status with respect to the main provider with input from local government and the fiscal intermediary. Another commenter also suggested that the standards only be enforced to the extent that they are applicable and relevant, consistent with state laws, and relate to practices that are subject to the control of the particular provider.

Response: We have tried to balance the need to apply standards that can be adapted to fit particular circumstances, and agree that the standards should not be overly prescriptive, but rely on regional judgment to ensure appropriate decision making. Because provider-based status is a matter of extreme importance to many facilities, published standards provide a basis for advance assessment and planning of particular organizational and financial arrangements. Therefore, we have decided that a facility or organization will be found to be provider-based only when it is in compliance with all standards set forth in these final rules.

With respect to the comment regarding situations in which all but a few criteria for provider-based status are met, we note that nothing prohibits the main provider from re-applying for approval of provider-based status for a facility or organization after having made the changes necessary to come into compliance. Regional offices would in such cases only need to verify compliance with whatever criteria had not been previously met, unless the amount of time that elapses between requests, or other factors, make a full re-evaluation necessary. Because facilities have this flexibility under the rules as proposed, we did not make any changes based on this comment.

Comment: One commenter believes that we had not fully addressed the impact of these rules on service delivery. The commenter suggested that changes would affect deemed status, survey and certification requirements, state licensure requirements, physician referral requirements, and a host of related issues. Another commenter stated that the new requirement regarding administration and supervision found in § 413.65(d)(3) could impact more than our estimated 105 providers. The commenter believes that if providers are required to convert management firm employees to hospital employees and then revert back when outpatient PPS becomes effective, this could impact 5,000 inpatient PPS hospitals.

Response: We again reviewed our requirements, but do not believe they will have the far-reaching effects envisioned by these commenters. In particular, to the extent a facility or organization that claims to be a department of a provider must be accredited, surveyed, or licensed as a part of that provider, or must adapt to the physician referral requirements of the main provider, that result does not flow from the existence of criteria for provider-based status, but instead is a direct result of the provider's decision to claim the facility or entity as a department. We also do not think it is reasonable to assume that any significant number of hospitals will restructure themselves repeatedly because of the final rules set forth below. As noted earlier, both the proposed and final rules closely parallel policies that have been stated explicitly on program instructions since 1996, and we are providing a 6-month delay in effective date for the final rule. Thus, hospitals and other providers have had ample time to assess the impact of any changes and to make necessary adjustments in an orderly way.

Comment: A commenter requested clarification as to how the proposed rules would apply to two hospitals seeking consolidation into a single provider. The commenter also asked whether two small PPS hospitals located approximately 15 to 25 miles apart in separate towns within a metropolitan statistical area (MSA) who wish to consolidate would be prohibited from doing so because of patient population or licensure requirements. Furthermore, if these two hospitals are already certified as a single provider, would the proposed rules require them to separate and create separate providers? Another commenter requested that the final regulatory text state that the provider-based requirements do not apply to any facility where there are inpatient beds since such a facility would be viewed as a “main provider.” The provider-based requirements should apply only to facilities or organizations other than main providers.

Response: Although the Program Memorandum and proposed rules were issued in response to situations primarily involving outpatient facilities, we believe the policies set forth in these documents are equally applicable to inpatient facilities, and should be applied in the many cases in which a determination about inpatient facilities must be made. The rules would not prohibit two previously separate hospitals from merging to become a single provider. However, for either facility to be considered provider-based with respect to the main provider, the facility would have to meet the criteria in this final rule. To clarify the scope of application of these regulations, we have added a definition of “remote location of a hospital” and a reference to hospital satellite facilities to § 413.65(a) Definitions, and have clarified the wording of several later sections by including references to remote locations and satellites. We have defined a “remote location of a hospital” as a facility or an organization that is either created by, or acquired by, a hospital that is a main provider for the purpose of furnishing inpatient hospital services under the name, ownership, and financial and administrative control of the main provider, in accordance with the provisions of this section. A remote location of a hospital may not be licensed to provide inpatient hospital services in its own right, and Medicare conditions of participation do not apply to a department as an independent entity. The term “remote location of a hospital” does not include a satellite facility as defined in § 412.22(h)(1) and § 412.25(e)(1). Hospitals may acquire remote locations by various means, but often do so by mergers or acquisitions, in which a single hospital purchases other, previously separate hospitals, and operates them as remote locations that are not separately organized as departments, but instead furnish the same types of services as the original hospital. For example, a long-term care or other specialty hospital might acquire one or more other hospitals, terminate their separate participation in Medicare, but continue to use them as sites of the same type of care as the original hospital. Satellite facilities are currently defined in our regulations at § 412.22(h)(1) (for hospitals) and § 412.25(e)(1) (for units). In general, a satellite facility is a part of a hospital (or of a hospital unit) that provides services in a building also used by another hospital, or in one or more buildings on the same campus as buildings also used by another hospital. Satellite status always involves co-location with another hospital, while remote locations are not co-located with other hospitals' facilities.

Comment: A commenter requested clarification that the provider-based requirements apply only to providers who are paid under the reasonable cost methodology. The preamble language in section VI implies that these requirements would also apply to providers under the outpatient PPS. The commenter believe that if this were the case, the requirements found in §§ 413.24(d)(6) and 413.65 would be appropriately placed in Subchapter E (for example, Part 482, Conditions of Participation for Hospitals).

Response: The rules set forth below are not limited in their scope to providers paid on a reasonable cost basis but, except where specifically stated in the text of the rules, apply to all providers and facilities seeking Medicare payment. While many of the problems associated with inappropriate accordance of provider-based status relate to cost reimbursement, the different payment systems used for various providers may produce some unintended incentives for one type of facility to gain an unfair payment advantage by misrepresenting itself. The specific requirements cited do not, like the Medicare conditions of participation, implement section 1861(e) of the Act, nor do they primarily concern patient health and safety. Therefore, we did not adopt the suggestion that the section be relocated to part 482.

Comment: A commenter would support a provision that prohibits hospitals from acquiring free-standing physician practices and converting them to hospital-based entities.

Response: We understand the commenter's concern, but do not have authority under the Medicare law to prohibit this practice. We do believe that the rules set forth below will keep hospitals from misrepresenting physicians' practices as hospital outpatient departments.

Section 413.24(d)(6) Adequate cost data and cost finding: Management contracts

Comment: The proposed cost reporting requirements state that if an overhead administrative cost center does not perform services for the off-site clinic or department, no costs should be allocated to that function. The commenter pointed out that this contradicts generally established Medicare cost reporting principles that have always required that the administrative costs be allocated to allowed and nonallowed cost centers.

Response: Our position, as expressed in the Provider Reimbursement Manual, Part II, Chapter 36 for hospitals, is to allow the provider to bypass the allocation of overhead through the cost report to avoid inappropriate allocations. An example of this would be lab services under arrangement, where there is obviously no administrative activity by the main provider. Our electronic cost report systems are set up to “skip” that particular cost center and to re-allocate the costs to the remaining cost centers. Likewise, where administrative costs such as billing are performed by the subordinate provider, no billing cost from the main provider should be allocated to that cost center from the main provider.

Comment: Several commenters suggested clarification of “like” costs by adding a definition or providing examples. Also, a commenter stated that since the main concern is costs, this provision should be applied when management costs exceed the hospital's operating costs of the department by 10 percent on a comparable basis. Another commenter stated that: (1) Management services benefit only the specific department to which they are expensed, and provide no direct services to other hospital departments; (2) A department under the management contract receives necessary services from other hospital overhead departments; (3) such overhead departments do not represent duplicate services provided under the management contract. Since management agreements can be drastically diverse, the commenter believes this clarification would assist in avoiding any confusion, as well as allow for consistency with generally accepted cost finding principles. Another commenter stated that most entities that contract to manage an area of a hospital manage just that area. Therefore, if they offer assistance with a particular function, it is only for that area and not for the whole hospital. The commenter believes the same principles of reimbursement should be applied whether the hospital provides the service directly or contracts for the service to be provided.

Response: Examples of similar costs when management contracts provide services also available through the main provider are the following: billing services, computer services, accounting services, and, possibly, general administrative staff. When the same services are included in the administrative and general costs of the main provider, and allocated down to subordinate cost centers or providers incurring and reporting these same costs in the trial balance, the result is a duplication of costs to the subordinate cost center or provider. As long as the main provider has the ability to identify these “like” service costs, these costs should be re-allocated to the remaining reimbursable and non-reimbursable cost centers in proportion to each cost center's total costs as prescribed in the Provider Reimbursement Manual, Part II, Chapter 36. However, if the main provider is not able to identify the costs of these same services to permit the exclusion of allocation to the subordinate providers or cost centers, the cost of the management contract of the subordinate provider or cost center must be reclassified to the main provider's administrative and general cost center, and allocated down to all reimbursable and non-reimbursable cost centers in proportion to each cost center's total cost.

Comment: With regard to the language in paragraph (d)(6)(ii), Medicare principles of reimbursement require that, when two entities are related, and one contracts from the other, reimbursement for these services is at cost due to the “related party principle.” The commenter stated that the cost of a service is both direct and indirect; Medicare reimbursement has a longstanding methodology concerning nonrevenue producing costs and their allocation on a provider's cost report. A separate work paper should not be required. The appropriate methodology for stepping down administrative costs should be based on the cost of the entity utilizing the service. The cost of the free-standing entity must be placed on the main provider's cost report to step down cost appropriately. Additional work papers would allow room for error and would delay any necessary adjustments.

Response: The intent of § 413.24(d)(6)(ii) was to require the main provider to report costs of related party entities that would not be reported through their accounting system on the main provider's books and records, for example, trial balance. Consequently, when there is a sharing of administrative services, for example, managerial staff, the related entity escapes any administrative overhead allocation when that same related entity is not reported on the main provider's trial balance of the cost report. While the commenter is correct regarding the proper reporting of related transactions at cost of the related entity, this regulation section goes further to require the main provider to develop the total cost of the related entity, utilizing and maintaining workpapers to justify the amount to be reported, and to report those costs by the main provider on the cost report trial balance.

Section 413.65(a) Definitions (retitled in this final rule as Section 413.65(a) Scope and definitions)

Comment: Two commenters requested that a definition be provided for “a provider's campus.” A definition would be important since the proposed regulation specifies additional requirements for off-campus locations.

Response: We agree that location on or off a hospital's campus is important. To provide a clear standard, we have revised the final rule to define “campus” as “the physical area immediately adjacent to the provider's main buildings, other areas and structures that are not strictly contiguous to the main buildings but are located within 250 yards of the main buildings, and any other areas determined on an individual case basis, by our regional office, to be part of the provider's campus.” This definition would encompass not only institutions that are located in self-contained, well-defined settings, but other locations, such as in central city areas, where there may be a group of buildings that function as a campus but are not strictly contiguous and may even be crossed by public streets. This would also allow the regional offices to determine, on a case-by-case basis, what comprises a hospital's campus. We believe allowing regional office discretion to make these determinations will allow us to take a flexible and realistic approach to the many physical configurations that hospitals and other providers can adopt.

Comment: The commenter expressed concern regarding the definition of provider-based facilities as many hospital-owned outpatient services are often provided with leased employees with ambulatory care experience. It is not clear that such an arrangement would satisfy the intent of the regulation.

Response: The regulations do not explicitly prohibit the use of leased employees, and each situation will be evaluated relative to the criteria in the regulations set forth below.

Comment: One commenter stated that the difference between “department of a provider” and “provider-based entity” is not clear from the definitions given of those terms. The commenter requested that we clarify in the regulations text whether a provider-based entity must be certified in its own right, and what type of certification this encompasses. The commenter also requested clarification in the regulations text concerning whether the term “provider” in the definition is intended to mean only entities that satisfy the Medicare definition of “provider” contained in § 400.202.

Response: We have clarified § 413.65(a) to state that a “department of a provider” is a facility or organization that could not by itself be qualified to participate in Medicare as a provider under § 489.2, while a “provider-based entity” could be so qualified. For example, a skilled nursing facility (SNF) could be a “provider-based entity,” whereas an entity that furnishes ambulatory surgical services could not be a provider-based entity, and could participate in Medicare (for example, receive Medicare payment for services furnished to beneficiaries), only as a department of a provider, as a physician office, or as an ambulatory surgical center approved by Medicare under part 416, if at all. We have further revised the final rule to clarify that a department of a provider furnishes services of the same type as the main provider (for example, a department of a hospital furnishes hospital services), while a provider-based entity furnishes services of a different type from those of the main provider (for example, a hospital-based RHC furnishes RHC services, not hospital services).

Comment: A commenter believes the proposed rule should be revised for medically underserved populations and health manpower shortage areas to allow the referral of beneficiaries back to their community for treatment of community-based therapy providers. Therapy services provided under such a referral would be included under the provider-based designation.

Response: We do not oppose use of such referrals where they are medically appropriate, but believe that referral arrangements should not be equated to provider-based status.

Comment: A commenter questioned the requirement that services be furnished “under the name” of the main provider entity. The commenter argued that the requirement is inconsistent with the commenter's view that health care in the late 1990s is, and in many markets must be, “marketed” in a highly competitive environment. The commenter's view is that having provider-based status turn on the names used will inevitably invite micro-management of the way the main provider's name is used by the department or other hospital-based entity.

Response: We disagree with any suggestion that health care is merely a generic commodity that can be repackaged under another name for marketing purposes. On the contrary, we believe that operating under the name of the main provider, and holding oneself forward to patients under that name, is an important indicator of status as an integral and subordinate part of that provider. Therefore, we did not make any changes in the regulation based on this comment.

Section 413.65(b) Responsibility for obtaining provider-based determinations

Comment: A commenter stated that the proposed rule does not state clearly enough whether our approval is required in order to permit billing each time a provider sets up a new service, regardless of whether the service is acquired, managed, new, located on the main campus, or off the main campus. Some commenters stated that if approval is required in all instances, it will cause a significant paperwork backlog and will be quite costly to administer.

Response: Section 413.65(b) states explicitly that a determination by us that a facility or organization is provider-based is required before the main provider may treat the facility or organization as provider-based for billing or cost reporting purposes. We recognize that this may generate some administrative cost, but believe the cost will be much less than the amounts that would be spent improperly if payment were made to a free-standing facility as if it were provider-based.

Comment: A commenter urged that the new determination process be applied to all current as well as new hospital-based services.

Response: We have no plans at present to review all hospitals and other providers with respect to provider-based criteria, but will look into any situations that come to our attention in which it appears that a facility does not meet the requirements of the new regulations but is being treated as provider-based. If the facility or organization does not qualify as provider-based, action will be taken as described later in this preamble and in § 413.65(i).

Comment: A commenter stated that there should be some mechanism in place for a long-term hospital (LTH) to seek an advance determination or advisory ruling that a proposed LTH satellite will be granted provider-based status. Because establishing an LTH requires a huge expenditure of time and human resources, an LTH main provider needs to know in advance whether or not its proposed satellite will receive a favorable provider-based determination. It is suggested that we institute a system by which advance rulings or determinations are available before the satellite is established.

Response: We understand the commenter's concern, but do not have the staff or facilities to provide advance approvals of restructuring proposals. We suggest that providers review the new criteria carefully and avoid forms of organization that are not clearly in compliance with them.

Comment: Two commenters suggested that we provide guidance on the application process providers must complete in order to receive a provider-based determination. In addition, time limits for approval of these determinations should be established. Furthermore, existing provider-based entities should not be required to change their billing and accounting procedures. A commenter also asked for clarification as to whether the intermediary and regional office is to be the contact, and who will make the actual determination of provider-based status.

Response: We are developing an application process and intend to have it in place and ready for use before the effective date of the regulation. We expect that determinations of provider-based status will be made by our regional offices. Involvement by other entities, such as fiscal intermediaries or State survey agencies, will be for information-gathering purposes and under the direction of the regional office.

Comment: A commenter suggested that if a determination goes against the provider, the provider should be given the option to come into compliance with the requirements or file an appeal.

Response: As noted earlier, the regulations do not prohibit a provider that meets most but not all criteria from taking action to fully meet the criteria, thus qualifying a facility or organization for provider-based status. In the case of a provider that believes that the determination of the regional office is incorrect, an appeals process is provided under part 498.

Comment: A commenter stated that the requirement in paragraph (b)(3) establishes an adverse presumption against provider status for “off-campus” physician practice sites, and that the focus on “campus” boundaries will prove elusive, and serve no real policy purpose.

Response: As explained later, we believe location in the immediate vicinity is an important indicator of provider-based status, and that location can be a good basis for identifying facilities for further scrutiny.

Section 413.65(c) Reporting

Comment: Several commenters pointed out that the regulatory language does not reflect the preamble language regarding off-campus entities and the five percent increase in a provider's costs.

Response: We have revised the final rule to correct this oversight.

Comment: One commenter asked whether this language applies only to entities that are applying for provider-based status, or also applies to entities that have already achieved provider-based status.

Response: The requirement applies to both types of providers, but providers that have entities with provider-based status are required to report only newly created or acquired facilities or organizations.

Comment: Two commenters stated that the five percent and off-campus criteria with regard to provider-based status do not take into account the characteristics of rural and frontier areas, and could lead to lower payments to some facilities, thus reducing the flow of Federal money into rural areas and possibly creating a shortage of care. In addition, considering the small budget of RHCs and other rural facilities, 5 percent is an inappropriately low and unreasonable growth limit.

Response: We understand the commenter's concern but do not agree that a 5 percent threshold for reporting is too low. Therefore, we made no change based on this comment.

Comment: A commenter asked whether this reporting requirement also applies to all newly developed services (that is, department on the campus of the hospital).

Response: The requirement applies to all newly developed on-campus services that could increase the costs of the provider by 5 percent or more.

Comment: A commenter requested clarification that a main provider that “creates” as well as “acquires” a facility or organization is responsible for reporting to us. The commenter also suggested specific items to be included in the reporting and approval process. These include specific data elements to be reported by the main provider, specifying our component with primary responsibility; specifying our approval process; adding a preliminary conditional approval process; adding a specific time period for our approval; and adding requirements for the effective date that the costs of the provider-based entity can be included on the main provider's cost report.

Response: We have revised the regulation to clarify that it applies to facilities or organizations created by the main provider, as well as those ongoing operations acquired by purchase or other means. We have not included the procedural detail requested by the commenter in regulations, but will consider including it in program instructions.

Comment: A commenter stated that the use of the phrase “any material change” in paragraph (c)(2) of this section is too vague and open to interpretation. It is suggested that the section be revised to clearly designate changes of ownership and new management agreements as the only two material changes that require reporting by provider-based entities.

Response: We do not agree that the range of reportable events should be limited in this way. On the contrary, we intend to require reporting of any change that could have a significant (“material”) effect on compliance with the provider-based criteria.

Comment: A commenter asked if the reporting requirements are coordinated with the notification of change of ownership requirements at § 489.18(b), where notice is to be given in advance, and whether there should be a cross reference or clarification with respect to the change in ownership regulation and this proposed regulation.

Response: We believe this suggestion has merit, and will consider revising our program instructions to specify that a report under § 489.18(b) should be reviewed for its applicability to provider-based determinations.

Section 413.65(d) Requirements

Comment: A commenter suggested that we clarify whether all requirements, or only a majority of the requirements, must be met to obtain provider-based status.

Response: We have revised the first sentence of paragraph (d) to state that all of the stated requirements must be met by a facility or organization that wishes to be classified as provider-based.

Section 413.65(d)(1) Licensure

Comment: Many commenters objected to the requirement that provider-based facilities share a common license with the main provider unless the State requires separate licensure for the subordinate facility. One commenter listed several reasons for this concern. First, in the commenter's opinion, licensure determinations may be made based on factors that are different from those that would be important for provider-based determinations. Another reason cited by the commenter is that State licensure laws may vary from State to State. Some State hospital licensure definitions are building specific, and do not include off-site outpatient facilities, thus giving what the commenter argues is undue weight to physical location in evaluating provider-based status. Finally, the commenter believes that requiring common licensure will create a situation where some States may have a large number of provider-based entities and others will have few or none, thus leading to inconsistent application of our rules. One commenter recommended that the same licensure requirement be waived for States with idiosyncratic licensure requirements. An alternative would be accreditation with the provider as a deemed status for meeting a common license requirement. The commenter suggested that the proposed language could be reworded to clarify that offsite clinics would not have to be licensed or operated under the same license as the provider in those States that do not license them.

Response: We recognize that licensure may not be an appropriate indicator of provider-based status in all States, and have therefore revised the regulations to require common licensure only in States with laws that permit common licensure of the provider and the prospective provider-based department under a single license. This means that in States that do not allow licensure of certain types of facilities, such as those providing ambulatory care or those located off the provider's main campus, the licensure criterion would not be applied. We do not agree that JCAHO or other accreditation should be accepted in lieu of licensure, since such accreditation may not necessarily reflect an on-site evaluation of the prospective provider-based department. In recognition of the fact that some hospitals are not licensed by the State because they are Indian Health Service (Federal) hospitals or are located on Tribal lands, we also will not apply the licensure requirement to departments of those hospitals.

Comment: Under paragraph (d)(1) as proposed, clinics in another State from the main provider could not be under the hospital's license. Several commenters argued that this requirement would arbitrarily affect rural and urban health care delivery, where the main provider is close to a State line. A commenter recommended that close proximity be used instead, where a hospital-based clinic is in another State from the main provider. For urban hospitals in large metropolitan statistical areas that cross State boundaries, the commenter believes that the market area of the main provider should be the primary determinant of the potential for integration with the main provider.

Response: Under the regulations as revised based on the comments summarized above, common licensure would not be required of facilities located across State lines if the law of the State in which the main provider is located does not allow such licensing. However, see the discussion, later in this preamble, of § 413.65(d)(7)(ii).

Comment: A commenter pointed out that the proposed rule appears to limit the licensure requirement to “departments” of the main provider. The commenter asked whether this requirement only applied to “provider-based entities.” The commenter also suggested that where a State has two licensure schemes for the same type of facility, we should not prefer one licensure scheme over the other for purposes of determining the provider-based status of the facility.

Response: The commenter is correct in noting that the common licensure requirement in the proposed rule would have applied only to provider-based departments. We did not propose to apply a common licensure requirement to provider-based entities such as SNFs and HHAs, because they are providers of services in their own right, and typically would be separately licensed without regard to their affiliation with the provider. We disagree with the commenter's view that licensure should not be viewed as an indicator of integration. On the contrary, our view is that if a facility could be licensed as part of a main provider but chooses not to be, the facility cannot reasonably be seen as an integral and subordinate part of that provider.

Comment: With regard to the proposed requirement that states that our determination regarding provider-based status will be based on a State health facilities' review commission, one commenter argued that relying on the commission's criteria for purposes of making provider-based determinations is arbitrary and inappropriate. The commenter believes imposing this criterion could disadvantage providers and discourage expansion to off-site locations, thus indirectly leading to shortages of care. Another commenter requested that there be a delay in implementation during which time changes can be made to the commission's definition of what rates it can regulate.

Response: We continue to believe it would be inappropriate for a facility to claim to be separate from the provider for State rate-setting purposes while also claiming to be an integral and subordinate part of the provider for Medicare purposes. To allow this practice would authorize providers to misrepresent their structures and affiliations in whatever way will yield the highest payment. Thus, we did not make changes to reflect the comment.

Section 413.65(d)(2) Operation under the ownership and control of the main provider

Comment: Regarding § 413.65(d)(2), the commenter suggested that the regulations provide a separate set of criteria that would allow a provider that is operated within one legal entity to be provider-based to a provider that is operated within another legal entity, as long as the two entities are under common control. Another commenter stated that this ownership and control requirement is unnecessarily rigid, since a hospital-based clinic, which was strictly an administrative division of the hospital, might qualify while another similar clinic, wholly owned by the hospital with slightly different governing bodies and documents, would not be eligible.

Response: We do not agree that common control of two separate entities by the same parent organization should be sufficient to meet a requirement for ownership and control by the main provider. While this arrangement may be an appropriate way to manage two separate entities, it does not establish provider-based status for either. With respect to the second comment, we agree that the form of administration of an entity can determine whether or not the entity is found to be provider-based. We believe this would be an appropriate result, since it would help ensure that only facilities that are organized as provider-based entities or departments of a provider are given this status.

Comment: One commenter believes it is unrealistic to require a potential provider-based facility or organization to be owned by the main provider and share bylaws and an identical governing body. The commenter stated that in the present business climate an entity can operate as a provider-based entity without meeting these criteria. It is recommended that we replace the proposed 100 percent ownership standard with a majority standard, require only overlapping governing bodies, and eliminate the requirement for organization under the same organizational documents. Another commenter believes that the key consideration should be whether the provider is in control of the day-to-day operations of that portion of the facility in which the provider seeks provider-based status, and not necessarily whether the building is 100 percent owned by the provider. The commenter believes we should rephrase this provision to require that the operations of that portion of the facility or organization in which the provider is seeking provider-based status be controlled by the provider.

Response: In response to the first comment, we recognize that many organizations enter into business relationships that involve overlapping of ownership, governance, and applicability of bylaws. However, this degree of collaboration does not mean that one facility is an integral and subordinate part of another. Therefore, we made no change based on this comment. Regarding the second comment, we wish to clarify that it is ownership of the business enterprise, not of the buildings or other physical assets of the enterprise, that is required under paragraph (b)(1). We have therefore revised the regulation text to refer to ownership of the business enterprise.

Comment: A commenter stated that the requirements contained in paragraph (d)(2) would preclude entities that are jointly owned through legitimate joint ventures or those separately organized subordinate facilities from qualifying for provider-based status. Additionally, to require the level of integration suggested by our proposed rule would prevent providers from establishing efficient systems of delegation and management, solely to qualify for provider-based status.

Response: We agree that this criterion would have the stated effect. As explained further in our discussion of comments on proposed § 413.65(e), facilities operated jointly by two or more providers cannot appropriately be considered integral and subordinate parts of either provider. With respect to the second comment, we do not oppose systems of operation that stress separate, decentralized operation where this leads to greater efficiency. However, we believe such facilities or organizations should be recognized as the separate enterprises that they are, not considered integral and subordinate parts of another institution.

Comment: A commenter suggested that the requirement under paragraph (d)(2) be modified for medically underserved populations and health manpower shortage areas.

Response: We are also concerned that our criteria not limit access to care for any vulnerable populations and have, to avoid this potential problem, created special provisions for FQHCs and IHS and tribal facilities. As described later in this preamble, we have also created an exception to the location requirements in paragraph (d)(7), which is designed to help avoid restricting access to primary care furnished by RHCs in remote, underserved areas. In view of these provisions, we do not believe it is necessary to also modify our requirement relating to ownership of the facility or organization.

Comment: A commenter stated that the proposed requirements in paragraph (d)(2) are inherently inconsistent with section 330 of the Public Health Service Act statutory and regulatory requirements and the Bureau of Primary Health Care expectations necessary to obtain and maintain section 330 funding (and FQHC status). The commenter believes HCFA should not require FQHCs to be 100 percent owned by the main provider or share a common governing body and common bylaws with the main provider. The commenter also suggested that we accept appropriate reporting relationships and satisfaction of other criteria (for example, licensure, quality assurance, integration of certain administrative and clinical functions, such as billing, purchasing, retention of medical records, quality assurance and utilization review procedures; and public awareness of the relationship between the health center and the main provider) as a sufficient basis for provider-based status.

Response: As described earlier, we have provided a special transition period for FQHCs. We believe this period will be adequate to avoid the problems envisioned in this comment.

Section 413.65(d)(3) Administration and supervision

Comment: A commenter recommended that the daily reporting relationship stated in § 413.65(d)(3) should be replaced with the standard of having the reporting relationships have the same intensity as on-site departments. The commenter stated that in practice at the hospital, there may be very little day-to-day contact between medical directors of various hospital services. Also, the commenter believes it is unlikely that departmental directors report directly to the chief executive officer, but rather to a chief operating officer or other designee. Finally, the commenter argued that under the common governance requirement, while all hospital employees are theoretically accountable to the governing body, the accountability may be directed through the CEO, and multiple executives may not have an independent reporting with the board. Another commenter also believes that the standards for the provider-based entity should mirror those of the main facility; personnel reporting structure needs to be respected within the regulations. Still another commenter found “intensity” to be a subjective standard and asked how it will be measured.

Response: We agree that reporting need not be daily in all cases, and have revised the final rule to state that the reporting relationship between the facility or organization seeking provider-based status and the main provider must have the same frequency, intensity, and level of accountability that exists in the relationship between the main provider and one of its departments. We agree with the commenter that the intensity of supervision will have to be assessed on a case-by-case basis, but do not believe this will lead to imprecise or poorly reasoned decisions.

Comment: Several commenters believe that this requirement limits the flexibility of the entity to operate efficiently and effectively in the current environment, since hospitals frequently turn to many specialized management companies to operate more efficiently and effectively than with hospital resources. Another commenter stated that whether the administrative department utilizes employees at one location and contracts at another location should be irrelevant as long as the function is integrated with the main provider, follows the policies and procedures of the main provider, and is accountable to the governing body of the main provider as is any other department. Still another disagreed, and believes that it may be appropriate to require that the main provider manage such contracts.

Response: We do not agree that the provision unreasonably limits hospital flexibility. Paragraph (3)(iii)(B) explicitly allows different management contracts to be used for the facility or organization and the main provider, as long as the provider manages the contracts. Thus, we did not make any changes in the proposal based on these comments.

Comment: A commenter asked whether the administrative functions listed in paragraph (d)(3)(iii) are the only services that must be integrated between the main provider and the subordinate facility.

Response: The commenter was correct in understanding that the functions listed are the only administrative functions that must be integrated. There are also requirements for integration of certain financial functions, as described below.

Comment: One commenter posed several questions concerning this proposed requirement. First, in a certain situation, the facility fee is billed to the intermediary by the hospital billing department using the provider number, while the professional fee is billed to the Part B carrier by the faculty practice billing organization under its physician group number. The commenter asked if the different provider number and tax identification impact on the provider-based status, and if there is a more appropriate way to obtain billing numbers for hospital-based clinics. Also, the commenter asked if clinic space can be shared by two clinics, when one is provider-based and one is free-standing, without impacting the provider-based status of the first clinic.

Response: In the circumstances described, the use of separate billing and tax identification numbers for provider and physician services would not adversely affect a facility's request for provider-based status, since such billings are required under Medicare to be separate in the case of services in hospitals. The question regarding sharing of space, however, can be answered only in the context of a specific case, and we expect that such decisions will be made by our regional offices.

Comment: With respect to the oversight of contracts under paragraph (3)(B)(iii)(B), several commenters stated that it is common for hospitals to subcontract out the billing for different departments, especially the hospital outpatient department, due to the complexity and number of claims. These commenters stated that while it may be appropriate to require the main provider to manage such contracts, departments other than the billing department should be permitted to perform this management function. One commenter suggested revising the criterion on billing under the integration of administrative functions to state, “common billing or the contract for billing services is held by the provider where it is based.”

Response: We agree that departments other than the main provider's billing department may appropriately manage billing contracts, and have revised the criterion to state that the contract for a provider-based facility or organization must be managed by the main provider.

Section 413.65(d)(4) Clinical services

Comment: A commenter asked for clarification of paragraph (4)(iv) of this section, specifically concerning whether this language would require a Medicare certified HHA's improvement activities to be overseen by hospital medical staff, rather than the advisory committee as is now being done. The commenter believes that having the hospital medical staff overseeing the quality assurance activities of a HHA may not be appropriate or cost effective and may even slow the process of performance changes.

Response: The commenter is correct in understanding that compliance with this criterion would require oversight of a hospital-based HHA's quality improvement activities by the hospital's medical staff. We do not agree with the commenter that the outcome would be to substitute the judgment of the hospital for the HHA's own committee or that it would be inappropriate. The hospital conditions of participation contain a number of separate requirements that must be read together to make complete sense of this provision. Conditions spelled out at § 482.12 (Governing body), § 482.21 (Quality assurance), and § 482.22 (Medical staff) establish a chain of accountability in a hospital for the quality of care it provides. The requirements are clearly applicable to any activity (for example, provider-based entity) that is an integral part of the hospital. Thus, a quality improvement activity of the HHA is likely to be firmly grounded in the hospital's operating and governance fabric even when the group is “established” by the HHA, and staffed by employees and physicians who work primarily in home health. We would expect the linkages to be formal (that is, known to the governing bodies and medical staffs of both providers), and the quality assurance mechanisms interrelated to the extent that shared patients are the subject of the effort.

Comment: Regarding paragraph (d)(4)(v) of this provision, some commenters requested clarification of what is meant by a “unified retrieval system,” or for guidance as to what types of cross referencing are acceptable. Another commenter asked for an explanation of the practical expectations regarding the maintenance of medical records. Finally, a commenter expressed support for the requirement for a unified retrieval system (or cross references), saying the latter system would be used in States that mandate a unified system.

Response: We would like to clarify that what is intended is that a system be maintained under which both the potential provider-based entity or department of a provider and the main provider have access to the beneficiary's record, so that practitioners in either location can obtain relevant medical information about care in the other setting. We did not, however, make any changes in the requirement based on these comments.

Comment: A commenter believes that functions of operations should not be regulated to dissuade cost efficiency, and that laundry and housekeeping would be examples where shared services may not be the most effective manner of operation.

Response: We agree that in some cases it may be less expensive for a facility to obtain services independently, but continue to believe such separateness is an indicator that the facility is not an integral and subordinate part of a provider.

Comment: With regard to paragraph (d)(4)(vi) requiring integration of services of the main and provider-based entity, the commenter expressed concern about the potential impact of this section on a patient's freedom of choice. The commenter believes that the entity's efforts to meet this standard would limit a patient's freedom of choice. The commenter suggested that we clarify our position so that providers acting in good faith will not be sanctioned for attempting to comply with this requirement.

Response: Paragraph (d)(4)(vi) requires only that patients have access to the services of the main provider and that they be referred to it where the referral is appropriate. We wish to clarify that these criteria are not intended to restrict patient freedom of choice or the practitioner's freedom to refer patients to other locations, where doing so will result in better care for the patient.

Section 413.65(d)(5) Financial integration

Comment: A commenter believes that § 413.65(d)(5), which requires full integration of financial operations, is too rigid. An alternative approach is suggested that would allow managers of provider-based entities to retain some control over both the resources and information required to administer these units.

Response: Section 413.65(d)(5) requires that there be financial integration of the potential provider-based facility or organization and the main provider, but does not preclude normal management control of resources. Thus, we made no change in the regulation based on this comment.

Comment: A commenter stated that the criteria for common resource usage of building, equipment, and service personnel is not even relevant for multi-campus systems or even buildings that are across the street from each other, much less off-site hospital outpatient departments.

Response: Although the provider-based program memoranda required that there be significant common resource usage of buildings, equipment, and service personnel on a daily basis, this requirement does not appear in the proposed rule. Thus, we made no change in the regulation based on this comment.

Comment: One commenter stated that the requirement for financial integration seems unnecessary in light of the requirement for 100 percent ownership by the main provider. The commenter stated that some providers may wish to segregate the operations of certain departments in their financial systems, and expressed the view that as long as the costs of a department can be adequately identified on the cost report, the practice should be acceptable.

Response: We do not believe that these two requirements are duplicative. On the contrary, in some cases a provider may own 100 percent of another facility or organization, but not be financially integrated with it, either because the other facility or organization is engaged in a different, non-health care activity, or because it is organized and operated separately from the main provider. In these circumstances, we believe the criteria on financial integration apply appropriately to deny provider-based status to separate facilities or organizations.

Section 413.65(d)(6) Public awareness

Comment: Section 413.65(d)(6) requires that provider-based entities be identified as part of the main provider organization. The commenter did not understand the importance of this criterion, particularly when the provider-based organization is licensed and Medicare certified separately from the main provider.

Response: The proposed rule would not apply this criterion to provider-based entities (which may participate separately as providers), but only to provider-based departments. In the latter case, we think it is not unreasonable for such a department to be expected to identify itself with the provider of which it claims to be a part.

Section 413.65(d)(7) Location in immediate vicinity

Comment: A commenter stated that if off-site RHCs cannot be considered provider-based, it will be much harder to deliver care in rural areas. The commenter asked that RHCs be allowed to continue as provider-based RHCs even though they are off campus.

Response: We continue to believe close physical proximity is an important indicator of provider-based status. We note, however, that paragraph (d)(7) does allow off-campus facilities to be treated as provider-based if they meet the criterion relating to service to the same patient population.

Comment: Many commenters believe that more specific tests of service to the same patient population are needed. One commenter suggested that an appropriate criterion would be that the proposed provider-based facility or organization be located within the same geographic area that accounts for a high percentage of patients in the main provider. The commenter believes this test is consistent with Program Memorandum No. 96-7 and with the qualification requirements for sole community hospitals. Other commenters suggested that the main provider's geographical service area be considered the area from which the main provider drew 80 percent of its Medicare inpatients for the previous three years.

Response: We agree that more precise criteria are needed. Therefore, we have revised the regulations to provide that a prospective provider-based facility or organization will be considered to serve the same patient population as the main provider if, during the 12-month period immediately preceding the first day of the month in which the application for provider-based status is filed with us, at least 75 percent of the patients served by the facility or organization seeking provider-based status reside in the same zip code areas as at least 75 percent of the patients served by the main provider. As an alternative, we would consider a facility or organization to serve the same patient population if, during the same 12-month period described above, at least 75 percent of the patients served by the prospective provider-based facility or organization who required the type of care furnished by the main provider received that care from the main provider. We require this “same patient population” test to be met for the 12-month period used to support an initial determination of provider-based status, and it must continue to be met for each subsequent 12-month period to justify a continuation of provider-based status. Application of population/geographic standards to newly established facilities or organizations is discussed below.

Comment: Commenters suggested we show some flexibility with regard to the definition of patient population for teaching hospitals. The commenter stated that it will not always be the case that the patient populations for the teaching program will be the same as the overall mix or patient population for the main provider.

Response: We recognize that patient populations will not be identical in all cases, and thus have adopted a patient population criterion under which there may be a divergence of up to 25 percent between the main provider and the facility or organization seeking provider-based status. We believe this provides a reasonable allowance for differences in patient population. Moreover, we note that under section 1886 of the Act, Medicare provides much flexibility for teaching hospitals in other ways, for example, under section 1886(h)(4)(E), permitting the counting of residents for purposes of payment to teaching hospitals for the time the residents spend in nonhospital settings.

Comment: Two commenters suggested that the criterion on service to the same patient population be dropped. One commenter believes the criterion is overly vague, could limit access to care as facilities seek to control their service patterns, and, in general, represents a geographically based approach that is out of keeping with modern technology and communications. Another commenter stated that the criterion is unclear, and providers could find it burdensome to assemble the data to show compliance. Other commenters shared the second commenter's concern, but instead of recommending elimination of the criterion, they suggested that a more administrable solution would be to use regional or state standards to define “same geographic area,” such as, health systems area, a specified mileage amount, or our wage area.

Response: As described above, we have developed a more precisely stated test of service to the same patient population. We believe that test will be clear and understandable, not impose unrealistic burdens on providers, and allow provider-based designations that parallel service patterns.

Comment: With respect to paragraph (d)(7)(i), a commenter asserted that many currently operating facilities that are treated as provider-based by us provide types of service that are the same as those of the main provider, but serve patient populations from different geographic areas. The commenter believes these entities provide care under the direction of, and utilize substantial services from, the main provider. An example would be the geographically separate campuses of a single parent hospital that are located at various sites throughout a region. The commenter suggested that such campuses be presumed to be provider-based if they provide substantially the same services as the main provider, do not exceed the size of the main provider, and comply with all other provider-based requirements. Another commenter stated that the “same patient population” requirement should not apply to multi-campus long term care hospital locations. These locations are fundamentally different from other provider-based entities that the regulation addresses, since a long-term care hospital main provider and its remote campus furnish the same services, and offer the same programs of care, but operate in slightly different geographic areas. The commenter suggested that so long as all of the strict financial and administrative integration requirements of the proposed provider-based regulation are satisfied, the “same patient population” requirements should not apply to long-term care hospitals. The result of this criterion would be that satellites will not be established in many underserved areas where long term services are needed. Another commenter believes a specialty facility, such as a long-term care hospital, should be exempt from the geographic proximity requirement if it can demonstrate that it will improve the quality of patient care, and offer services that are not otherwise provided in that area.

Response: We recognize that there may be some cases in which a hospital and another facility seeking provider-based status as a remote location of that hospital may meet most or all other criteria in § 413.65, yet not qualify because the two facilities serve different patient populations. However, we do not agree that this result should lead us to abandon the “same patient population” test. On the contrary, we continue to believe that criterion is a valid indicator of provider-based status. Thus, we did not revise the regulation based on this comment. In this context, we note that there is no Medicare rule that would prohibit a hospital from setting up another hospital in another area. We do not agree with the commenter's assumption that because the program memorandum and proposed rule were issued in response to situations primarily involving outpatient facilities, they can apply only to such facilities. On the contrary, we believe the policies set forth in these documents are equally applicable to inpatient facilities, and should be applied in the many cases in which a determination about inpatient facilities must be made. In particular, the rules apply to remote locations of long-term care and other hospitals that are main providers, as well as to satellite facilities of hospitals and hospital units that are excluded from the hospital inpatient prospective payment system. Remote locations and satellite facilities are discussed more fully earlier in this preamble, and “satellite facilities” are specifically described in our regulations in §§ 412.22(h) and 412.25(e). (As explained in that document, we are concerned that establishment of satellites by hospitals and units excluded from the inpatient PPS could lead to payment abuses, such as circumvention of certain payment caps mandated by section 4414 of the Balanced Budget Act of 1997, and we have therefore established special payment rules for those facilities. Facilities seeking to qualify as “satellites” under the inpatient payment criteria in §§ 412.22(h) and 412.25(e) would first need to comply with the provider-based requirements before being eligible for satellite status.) We have revised the final rule to clarify its application to remote locations of hospitals and satellite facilities.

Comment: The commenter believes that flexibility in the definition of “located in the immediate vicinity” needs to be met with additional considerations when viewing rural and underserved areas; for example, it should not be our intention to eliminate the provider-based designation of a rural health clinic (RHC), when the purpose of the RHC is to be an outreach to geographically isolated areas.

Response: We share the commenter's concern and have developed a special provision for RHCs, as described below.

Comment: A commenter believes that the requirement that provider-based entities serve the same population as the main provider could cause significant problems for RHCs. The unique situations addressed by hospital-based RHCs attempting to satisfy the health care needs of medically underserved areas should be considered as exceptions to the proposed rule.

Response: We continue to believe close physical proximity is an important indicator of provider-based status; however, we recognize that small rural hospitals and their RHCs may not be able to demonstrate that a substantial number of clinic patients receive services from the main provider. Small rural hospitals typically provide limited inpatient care compared to their urban counterparts, which may cause the RHC patients to seek inpatient service from other providers. In light of this, we believe small rural hospitals (less than 50 beds) that own and operate RHCs should not be expected to demonstrate that they serve the same patient population as the main provider. Therefore, we are revising the regulation to allow off-campus RHCs affiliated with small rural hospitals (less than 50 beds) to retain their provider-based status without satisfying that requirement.

Comment: Several commenters opposed the inclusion of paragraph (d)(7)(ii), since they view a State border as an arbitrary boundary inhibiting a hospital's ability to serve patients, which seems counterproductive. They also argued that a regulation that fails to recognize the operation of health care systems that function across State lines is unrealistic. Another commenter suggested that we rely on the proposal concerning serving the same patient population. It was also stated that in one case a provider can be located in a city split by the State border with its related facility located one mile away, but in another state, while in another case, the provider and its subordinate facility can be a mile apart and in the same State. Another commenter believes that, since Medicare beneficiaries often cross borders for health care services, disallowing hospitals in these areas from establishing provider-based entities eliminates choices and prohibits the development of new services. The commenter recommended that we revise or eliminate this criterion. Another commenter suggested that LTHs and their satellites not be subject to this requirement if the main provider and its satellite are located in two contiguous States. Alternatively, the commenter suggested that we consider using the wage index areas as guidelines for the areas to be served by provider-based entities even if that area crosses State lines.

Response: After reviewing these comments, we have decided to revise the regulations to allow providers in one State to have provider-based facilities in an adjacent State, if doing so is not inconsistent with the law of either State, and other criteria are met, including those related to service to the same patient population.

Comment: With regard to paragraph (d)(7)(i), while the proposed rule permits a provider to show that a “high percentage” of patients of the main provider and the facility come from the same geographic region, new facilities would not have any historical data upon which to base this assertion, and therefore would fail to be able to demonstrate the criteria prior to operation. Another commenter believes the requirement may pose an impediment to new facilities being located in underserved or outlying areas. Thus, the commenters believe the same patient population requirement should not apply to new facilities, including new long-term care hospital satellites.

Response: We agree that it would be appropriate to establish a criterion that could be met by new facilities or organizations, and therefore have revised the final rule to include a special provision for new facilities or organizations. Under this revision, a new facility or organization, (one that has not been in operation for all of the 12-month period immediately preceding the first day of the month in which the application for provider-based status is filed with us), may be considered to meet the criterion on service to the same patient population, if it is located in a zip code area included among those that (during the 12-month period described above) accounted for at least 75 percent of the patients served by the main provider. We note that this provision would not be limited to long-term care hospitals' satellites or their remote locations, but would be available to all new facilities or organizations.

Section 413.65(e) Provider-based status not applicable to joint ventures

Comment: Several commenters expressed concern that this criterion would prohibit the use of joint ventures for entities that want to participate as provider-based entities, and argued that such a prohibition would unnecessarily restrict hospital flexibility. One believes this provision should be eliminated. Another commenter suggested modification of paragraph (d)(2) of the rule to establish majority ownership as the standard rather than 100 percent ownership. Still other commenters suggested that provider-based status for facilities or organizations run as joint ventures should be permitted, as long as the hospital at which the facility is located has the equipment or service under its control.

Response: We reviewed these comments carefully, but did not make any changes in the regulations based on them. When a facility or organization is run as a joint venture of two or more providers, it is by definition under their joint control, and therefore cannot be an integral and subordinate part of any individual provider. We have no interest in discouraging such ventures, but continue to believe they do not qualify as provider-based.

Section 413.65(f) Management contracts

Comment: Several commenters expressed the view that the criterion under which the staff of the facility or organization must be employed by the provider or another organization other than a management company is too restrictive, and should be deleted. One commenter argued that, if the written contract maintains the responsibility and control for services in the hands of the main provider, the employer of the staff working at the site is not relevant. Another believes the criterion will discourage economic efficiencies. If a provider is able to demonstrate integration and subordination of the off-site facility based upon other provider-based criteria, the fact that a hospital chooses to provide certain services either directly through its own employees or indirectly through an independent contractor/management arrangements is irrelevant. Another commenter argued that the proposed criterion is inconsistent with: the provision of the Medicare statute that expressly permits coverage of “services under arrangement”; with the hospital conditions of participation that recognize that contractors may be used to furnish patient care services; and with the Provider Reimbursement Manual, which recognizes that providers commonly contract for management services and the costs of the contract services may be allowed under Medicare principles of reimbursement. Still another commenter believes the proposed criterion would negatively impact the therapy profession, and could impact the health and safety of Medicare beneficiaries.

Response: We do not believe the criterion is overly restrictive, nor do we agree that employment of the staff of a facility or organization is irrelevant to the question of whether that facility or organization is an integral and subordinate part of a provider. On the contrary, employment of the staff of such a facility or organization will normally give the provider significant control over it, thus promoting integration. Conversely, if a facility or organization is staffed by personnel who are employed by another entity that has only a contractual relationship with the provider, the facility or organization may well be an integral and subordinate part of the management company, not of the provider.

We also do not agree that the criterion is inconsistent with section 1861(w)(1) of the Act, which permits providers to make arrangements for the provision of specific health services, nor do we believe adopting this criterion will undercut the ability of providers to have selective services provided under arrangements. In this regard, we point out that existing Medicare policy, stated in section 207 of the Medicare Hospital Manual (HCFA Publication 10), emphasizes the need for the hospital to exercise professional responsibility for the arranged-for services, not merely to serve as a billing mechanism for the other party. This is consistent with our view that section 1861(w)(1) was intended to allow specific health care services to be furnished under arrangements, but was never meant to be a vehicle by which a provider could nominally operate a facility or organization, but, in fact, contract out its operation to another entity. Finally, we note that while there are various sections of the hospital conditions of participation and the Provider Reimbursement Manual that recognize the possibility that specialized health care services or management services may be provided under contract, this does not indicate that providers may contract out entire departments or services while claiming them as provider-based. To clarify the scope of the requirement on contracted services, we have revised it to state that management staff of the facility or organization (rather than health care or support staff) need not be employed directly by the provider. We have also revised the rule to clarify that if staff of the facility or organization (other than management staff) are employed by an organization other than the management company or the provider, it must be the same organization that also employs the staff of the main provider.

Section 413.65(g) Obligations of hospital outpatient departments and hospital-based entities

Section 413.65(g)(1)

Because of the direct relationship between the proposed changes in this section and those in § 489.24(b), comments on both proposals are discussed later, under § 489.24(b), “Special responsibilities of Medicare hospitals in emergency cases.”

Comment: A commenter requested clarification as to the application of the anti-dumping requirement in the home health setting.

Response: Section 413.65(g)(1) states that the EMTALA requirements apply to hospital outpatient departments. EMTALA requirements would not apply to off-campus provider-based entities that are not hospital departments, such as home health agencies.

Section 413.65(g)(2)

Comment: While one commenter agreed with the requirement under § 413.65(g)(2) for billing of physician services with the appropriate site-of-service indicator, another commenter also believes there should be clarification that correct billing is the responsibility of the entity performing the billing function. Both commenters suggested that the hospital notify physicians who do their own billing that they must use the correct indicator; they agree that it should not be the responsibility of the hospital.

Response: We agree that physicians (or those to whom they assign their billing privileges) are responsible for appropriate billing, but note that physicians who practice in hospitals, including off-site hospital departments, do so under privileges granted by the hospital. Thus, we believe the hospital has a role in ensuring proper billing.

Section 413.65(g)(5)

Comment: Presently, provider-based clinics bill Medicare for the facility charge on a UB-92 form, and the physician fee is billed separately on a HCFA-1500 form, while other payers may accept a single bill for both charges. A commenter believes it is inappropriate to mandate that two bills be submitted for all patients, as long as charges for similar services are uniform regardless of payer.

Response: As explained further below, we have revised the final rule to eliminate the part of this criterion relating to billing of services to non-Medicare patients. We believe this responds to this commenter's concern.

Comment: Many commenters stated that Medicare should treat a facility that claims a facility fee as being provider-based even when other payers do not do so, reasoning that as long as the hospital claims that the patient is an outpatient for Medicare purposes, the practices of other payers, with respect to similar patients, are not significant, and should be ignored. Another commenter believes this requirement should be eliminated, because, in the commenter's view, it has no bearing on the outpatient services delivered to Medicare beneficiaries, and therefore does not affect Medicare reimbursement. To illustrate, a large commercial insurer does not have the capability to accept certain types of outpatient claims from hospitals; therefore, it requires claims for those services to be billed on a physician claim form, so hospitals will receive the proper reimbursement. If this criteria is retained as proposed, many hospital-based departments would not meet our criteria due to the nuances of other payers' policies, that are often contractual issues with providers. Still another commenter believes that we should reexamine the proposal made in paragraph (g)(5), and at a minimum, clarify what it means by its proposal mandating uniform “treatment of all patients, for billing purposes, as hospital outpatients.” If we are proposing to mandate that all outpatients be billed on the same basis, this would effectively extend Medicare direct billing or rebundling rules to all payers. In addition, this proposed requirement would not only be contrary to past policy and practice, but would affect departments that have differentiated billing practices. Another commenter stated that payers typically determine payments based upon how they define a particular service or their individual market power; Medicare certification of outpatient departments should not be influenced by how unrelated third parties pay for services to the patients they cover at these sites. Moreover, this criterion would be very difficult to implement, because hospitals can have hundreds of contracts with insurance companies and the providers that subcontract for part of the risk for plans.

Response: After review of the comments on this section, we have decided to revise it to restrict the requirement for uniform billing to Medicare patients only, thus allowing hospitals to bill other payers in whatever manner is appropriate under those payers' rules. As revised, § 413.65(g)(6) states that hospital outpatient departments (other than RHCs) must treat all Medicare patients, for billing purposes, as hospital outpatients. The department must not treat some Medicare patients as hospital outpatients and others as physician office patients.

Comment: A commenter stated that there appears to be some confusion as to whether this requirement applies to “departments” or all facilities and organizations seeking provider-based status. Also, the commenter asked if there is a provision of the proposed rule that mandates that a facility fee be charged to patients of facilities and organizations receiving provider-based status.

Response: As noted earlier, the proposed rule would not apply this criterion to provider-based entities (which may participate separately as providers) but only to provider-based departments. Regarding the second issue, we have, as described in response to the preceding comment, revised the final rule to eliminate the criterion regarding billing of payers other than Medicare.

Section 413.65(g)(7)

Comment: A commenter stated that requiring written notice for each patient (presumably signed by the patient), would be an overly burdensome requirement, and requested that the requirement allow for a clear, prominently displayed sign in lieu of individual notice. Another commenter believes that the proposed requirement would apply a standard to hospital outpatient departments that is not applied to any other site of service.

Response: First, we emphasize that notice is required only for Medicare beneficiaries, not for all patients. We recognize that providing notice will generate some burden for the provider, but believe that the protection it affords to patients warrants the requirement. We considered allowing the notice requirement to be satisfied through the posting of signs, as recommended by one commenter, but concluded that use of individual written notices would more effectively ensure that each beneficiary receives the necessary information. In response to the comment concerning settings other than hospital outpatient departments, we note that in other settings, a patient is unlikely to be misled as to what type of facility is the site of treatment, so provision of notice is not required. To avoid confusion as to when the requirement applies, we have revised the final rule to state that notice is required only if the hospital outpatient department or provider-based entity is not located on the campus of the hospital that is the main provider. We have revised this final rule to specify that the notice must be in writing, must be one the beneficiary can read and understand, and must be given to the beneficiary's authorized representative if the beneficiary is unconscious, under great duress, or for any other reason unable to read a written notice and understand and act on his or her own rights.

Section 413.65(g)(9) (redesignated in this final rule as Section 413.65(h), Furnishing all services under arrangement)

Comment: A commenter observed that § 413.65(g)(9) does not preclude an outpatient facility from obtaining a certain type of service from an off-site supplier. If this is correct, if the service is provided on-site in the hospital's outpatient facility, it is not clear how the proposed regulations are intended to be applied. It would appear that if the facility is looked at as a whole, all services are not provided “under arrangements”; therefore, paragraph (g)(9) of this section would not preclude the facility from being recognized as provider-based. However, in this case, the commenter stated that both licensure and ownership requirements would be difficult to satisfy. In most cases, that portion of the facility that is operated “under arrangements” with the hospital will not be on the hospital's license, nor will that portion necessarily be owned by the hospital. Thus, the commenter urged that the “under arrangements” portion of an outpatient facility be excluded from the licensure and ownership analyses.

Response: We agree that where a facility offers a variety of services, provision of a single type of service under arrangement would not prevent the facility from meeting this criterion. The criterion could not, of course, be met by a facility that furnished only a specific type of service (such as physical therapy), and provided that service only under arrangement. In the case envisioned by the second commenter, the facility would be out of compliance with licensure and ownership requirements, as well as the requirement involving services under arrangement, and we would agree that it could not be provider-based.

Comment: A commenter asked for clarification of “under arrangements”, in reference to our other regulations that contain these terms. Also, the commenter requested clarification on the types of services to which this standard applies, that is, direct patient care as opposed to facility related services.

Response: The term “arrangements” is defined in section 1861(w)(1) of the Act and the Medicare regulations § 409.3, in that “arrangements” refers to arrangements that provide that Medicare payment made to the provider that arranged for the services discharges the liability of the beneficiary or any other person to pay for the services. We wish to emphasize that the provision will apply to patient care services, not housekeeping, security, billing, or other services that are not patient care services but are needed to support their provision.

Section 413.65(h) Inappropriate treatment of a facility or organization as provider-based (redesignated in this final rule as paragraph (i))

Comment: This section establishes sanctions that may be used to address a main provider that has treated an entity as provider-based without our review and approval. A commenter believes that the investigation phase should precede the review of payments to the main provider. A commenter was also concerned that the individuals involved in these reviews and investigations are properly trained to make the required determinations.

Response: We believe review of payments will encompass two activities—investigation to determine whether applicable provider-based requirements were met, and a calculation of the amount of overpayment if they were not. Thus, investigation necessarily precedes recovery, but is a part of the overall effort, which is to reconsider payment amounts. To respond more effectively to concerns about how the review and recovery activities will occur, and to clarify the specific actions we will take in cases of inappropriate billing, we have reorganized paragraph (i) to deal separately with the processes of determination and review, recovery of overpayments, and the good faith effort exception. With respect to determination and review, we state that if we learn that a provider has treated a facility or organization as provider-based and the provider had not obtained a determination of provider-based status under this section, we will review current payments and, if necessary, take action in accordance with the rules on inappropriate billing in paragraph (j), investigate and determine whether the requirements for provider-based status in paragraph (d) of § 413.65 (or, for periods prior to October 10, 2000, the requirements in applicable program instructions) were met, and review all previous payments to that provider for all cost reporting periods subject to re-opening in accordance with § 405.1885 and § 405.1889 of this chapter. With respect to recovery of overpayments and the good faith exception, we have clarified that we will recover only the difference between the amount of payments that actually were made and the amount of payments that we estimate should have been made in the absence of a determination of provider-based status, and that recovery will not be made for any period prior to the effective date of these final rules if during all of that period the management of the entity made a good faith effort to operate it as a provider-based facility or organization, as described in paragraph (h)(3) of § 413.65. In response to the comment about the competence of individuals involved in these activities, we wish to emphasize that we will ensure that staff involved in these activities have the necessary expertise.

Comment: A commenter believes that it would be unfair to apply the proposed regulations retroactively, that is, to periods before the effective date of the final rule. Even though paragraphs (h) and (i) provide for a good faith exception, it is still unfair to provide that the conditions for this exception will apply prior to the effective date of the final regulation. The commenter requested that these sections be revised to provide that the period of recovery will not extend to any period prior to the effective date of the final regulations. Another commenter also believes that any payment changes be prospective (unless the hospital did not make a good faith effort to operate the site as provider-based).

Response: We agree that it would be inappropriate to apply the rules in paragraph (h) to any period prior to their effective date, and have revised the final rule to clarify that for such periods, we will make determinations based on the program memoranda or other instructions in effect at the time. However, the criteria in paragraph (i) that form the basis for a good faith exception were in effect prior to the issuance of these regulations. Regarding the last comment, we cannot agree to ignore possible overpayments resulting from noncompliance with published criteria in effect at that time.

Comment: A commenter believes that the term “good faith effort” should be defined to provide more direction and opportunity to comply. Also, entities making “good faith efforts” should be given an opportunity to correct those factors or criteria that render it out of compliance with the provider-based requirements.

Response: The conditions under which a provider will be found to have made a good faith effort were clarified in § 413.65(i)(2), and have been restated in the final rule.

Section 413.65(i) Inappropriate billing (redesignated in this final rule as paragraph (j))

Comment: A commenter believes that suspending all payments for outpatient services to facilities that have billed inappropriately as provider-based entities until the provider can demonstrate that payments are proper is too onerous. Instead, the commenter suggested that we consider suspending the reimbursement differential between a provider-based entity and a nonprovider-based entity until a determination is made or the facility has had a reasonable opportunity to comply.

Response: We understand the commenter's concern and have revised the final rule to authorize partial suspension of payment (that is, a reduction in payment) to the extent needed to prevent creation of an overpayment to the provider. This rule will allow payment to continue at a reduced rate, thus avoiding creation of financial hardship for the provider. To describe more clearly how we will deal with instances of inappropriate billing, we have reorganized paragraph (j) of § 413.65 to spell out more clearly the actions we will take, and the extent to which payment will be adjusted. Specifically, we state that if we find that a facility or organization is being treated as provider-based without having obtained a determination of provider-based status under this section, we will notify the provider, adjust future payments, review previous payments, determine whether the facility or organization qualifies for provider-based status under this paragraph, and continue payments only under specific conditions. The notice to the provider will explain that payments for past cost reporting periods may be reviewed and recovered, that future payments for services in or of the facility or organization will be adjusted, and that a determination of provider-based status will be made.

We further state that we will not stop all payment in such cases, but instead, will adjust future payments to approximate as closely as possible the amounts that would be paid in the absence of a provider-based determination, if all other requirements for billing were met. We also explain that we will review previous payments and, if necessary, take action in accordance with the rules on inappropriate treatment of a facility or organization described above. The regulation states that we will determine whether the facility or organization qualifies for provider-based status under the criteria in this section. If we determine that the facility or organization qualifies for provider-based status, future payment for services at or by the facility or organization will be adjusted to reflect that determination. Even if the facility or organization does not qualify for provider-based status, however, we will continue paying, at an appropriately adjusted level, for a limited time period in order to avoid disruption of services to program beneficiaries at that site and to allow an orderly transition to freestanding status.

The notice of denial of provider-based status sent to the provider will ask the provider to notify us in writing, within 30 days of the date the notice is issued, as to whether the facility or organization (or, where applicable, the practitioners who staff the facility or organization) will be seeking to enroll and meet other requirements to bill for services in a free-standing facility. If the provider indicates that the facility, organization, or practitioners will not be seeking to enroll, or if we do not receive a response within 30 days of the date the notice was issued, all payment will end as of the 30th day after the date of notice. If the provider indicates that the facility or organization, or its practitioners, will be seeking to enroll and meet other requirements for billing for services in a free-standing facility, payment for services of the facility or organization will continue, at the adjusted amounts described in paragraph (j)(2) of this section for as long as is required for all billing requirements to be met (but not longer than 6 months) if—

• The facility or organization, or its practitioners, submit a complete enrollment application and provide all other required information within 90 days after the date of notice, and

• The facility or organization, or its practitioners, furnish all other information we need to process the enrollment application and verify that other billing requirements are met.

If the necessary applications or information are not provided, we will terminate all payment to the provider, facility, or organization as of the date we issue notice that necessary applications or information have not been submitted. We have clarified the final rule to state that these reductions will occur where inappropriate billing is or has been taking place.

Comment: A commenter believes that there are already existing mechanisms for overpayment and recoupment that may be used in the situations described in this section. At the very least, administrative actions of this type should be subject to time frames in order to protect providers from the impact of extended investigations.

Response: We plan to conduct any recovery efforts in accordance with applicable law and regulations on overpayment recovery. However, investigations may be complex and require examination of many records, and we do not agree that they should be limited by additional, self-imposed restrictions.

Comment: A commenter stated that a facility or organization that requests a provider-based determination prior to the effective date of the final rule, and meets the good faith requirements, should not be subject to recovery of overpayment for periods either before or after the effective date of the final rule. This will prevent disruptions to existing arrangements that meet the good faith exception during the time that the request is being processed.

Response: If we were to adopt this proposal, we would be guaranteeing an overpayment to providers who, for a specific time period, knowingly billed for services as those of provider-based entities, even though they met only a few of the provider-based criteria. Thus, we did not adopt this comment.

Comment: A commenter requested that the requirement found at paragraph (i)(2)(iii) be clarified to state that management is only responsible for professional services billed by the hospital.

Response: As explained earlier, we believe hospitals' privileging mechanisms give them adequate leverage to prevent inappropriate billing by practitioners using their facilities. Therefore, we did not adopt this comment.

Comment: As to the good faith criteria found in paragraph (i)(2), a commenter questioned why requirements related to public awareness were chosen for inclusion. An organization can represent itself to the public in any number of inaccurate ways in order to mislead our officials and others. The commenter believes that we should focus our attention on more tangible expressions of good faith efforts to operate a provider based entity.

Response: We believe inclusion of this requirement is needed to help ensure that beneficiaries are protected from unexpected deductible and coinsurance liability. While we agree with the commenter that some providers may misrepresent the status of off-site facilities, we believe such providers cannot reasonably be said to have acted in good faith, and should not receive favorable treatment with respect to past overpayments.

Section 413.65(j) Correction of errors (redesignated in this final rule as paragraph (k))

Comment: A commenter disagreed with the language in this subsection that would allow us to review and rescind, if appropriate, any past determinations. The commenter believes that this subsection should be removed and any previous determinations should be grandfathered in under the new regulations. Other commenters recommended that we grandfather facilities or organizations that had previously been determined by the regional office to be provider-based, or that have not received such a determination but have been billing as provider-based without a determination for a period of at least ten years, so that those facilities or organizations could retain provider-based status even though they do not meet the criteria in the regulations.

Response: We do not agree that it would be appropriate to grandfather existing facilities or organizations, since this would in effect create an ongoing double standard, under which some facilities or organizations are held to higher standards than others. Moreover, the fact that improper billing may have continued undetected for a long period is not a reason to continue to permit such billing. As explained in the response to the following comment, however, any adverse determination regarding provider-based status of facilities or organizations which we previously determined were provider-based will not be effective until the start of the cost reporting period after the period in which the provider is notified of the redetermination, or for at least 6 months, whichever date is later.

Comment: A commenter believes that our proposal that we may review past provider-based determinations inserts needless uncertainty into the process for making provider-based designations. The commenter is concerned that providers may file before the final rule is published in order to avoid a crush of applications and subsequent disruption in payment, if they do not have a determination within 30 days of the rule becoming final. The commenter stated that providers need to be able to receive prompt determinations on which they can rely.

Response: We understand the concern about avoiding the need to process a large number of applications in a short time, and agree that it would not be appropriate to make abrupt changes in provider-based status. To avoid a possible crush of applications within a 30-day period, as envisioned by the commenter, we are providing the delayed effective date described earlier in this document. In addition, under § 413.65(j) of these regulations, when a facility or organization that previously was determined to be provider-based is found to no longer qualify for provider-based status, treatment of the facility or organization as provider-based will not cease until the first day of the first cost reporting period following notification of the redetermination, but not less than 6 months after the date the provider is notified of the redetermination. If there has been no prior determination of provider-based status, and a facility or organization is later found not to meet the criteria, that determination may be effective up to 6 months after the date the provider is notified of the determination, if within 30 days of the determination, the provider indicates that the facility or organization, or its practitioners, will enroll separately and, within 90 days, the facility or organization, or its practitioners, take other necessary action to enroll.

Section 489.24(b) Special responsibilities of Medicare hospitals in emergency cases

Comment: One commenter disagreed strongly with the proposed revisions to the regulation defining “comes to the emergency department,” and in particular expressed the view that patients arriving on the campus, sidewalk, driveway, or parking lot of hospital facilities should not be considered to have come to the emergency department. The commenter stated the view that an obligation under section 1867 of the Act (sometimes referred to as the Emergency Medical Treatment and Active Labor Act (EMTALA), after the original title of the legislation adding section 1867) and our regulations at §§ 489.20(l), (m), (q), and (r), and § 489.24 should be triggered only by a presentation to the emergency department, and that only in exceptional situations should EMTALA apply to someone not technically in the emergency department. The commenter recommended that the regulations be revised to state that in these cases, the hospital may rely on a variety of transport options, consistent with the individual's condition and established policies that are applied in a nondiscriminatory manner. The commenter also recommended that the statute be interpreted as requiring only that hospitals with emergency departments have policies and procedures to assure that a person who presents to the hospital requesting emergency services is provided a medical screening examination and, if needed, stabilization or an appropriate transfer.

Another commenter raised several arguments against the proposed change. The commenter stated that there is a legal and ethical conflict in requiring hospital personnel to leave an area of patient care and furnish assistance to another patient in a remote area of the hospital. The commenter also believes that ED personnel are not well-trained or practiced in immobilization or scene safety, and patients and staff may be put at risk if staff are asked to go into the field and render aid to a victim who needs the expert care and experience for which field emergency medical services (EMS) personnel are trained. Finally, the commenter expressed concern about possible increases in the liability insurance cost to hospitals as a result of the proposed change.

Response: We do not agree that the proposed language inappropriately extends the scope of hospitals' EMTALA responsibilities. On the contrary, existing regulations at § 489.24 make it clear that EMTALA applies to hospitals that offer services for emergency medical conditions, and we believe it would defeat the purpose of EMTALA if we were to allow hospitals to rely on narrow, legalistic definitions of “comes to the emergency department” or of “emergency department” to escape their EMTALA obligations. We would also note, as discussed further below, that there is no requirement that all areas of the hospital be equipped to provide emergency care or that treatment always be provided outside the emergency area or department. Similarly, there is no prohibition of appropriate transfers to other facilities where such a transfer is conducted in accordance with § 489.24. On the contrary, the intent of the revised regulation is to ensure that patients who come to the hospital and request examination or treatment for what may be an emergency medical condition are not denied EMTALA protection simply because they enter the wrong part of the hospital or fail to make their way to the emergency room.

Comment: Two commenters recommended clarification of the applicability of section 1867 of the Act regarding transfer requirements to scheduled patients at an “off-campus” hospital site, to ensure that the movement of scheduled patients unexpectedly requiring a higher level of care to another site of the same hospital is not construed as a “transfer” under the emergency access law, and that only those patients taken from one hospital's off-campus facility to another hospital's emergency department or inpatient unit be considered “transfers” that must be in accordance with the requirements of section 1867.

Response: We agree that movement of a patient from one part of a hospital to another, including movement from a remote location to a main hospital campus, does not constitute a “transfer” for EMTALA purposes, nor does it require compliance with the appropriate transfer requirements in § 489.24(d). The final regulations at § 489.24(i)(3)(i) clarify this policy.

Comment: A commenter expressed the view that the proposed revision to § 489.24 does not recognize the role that EMS personnel play in emergency situations and the true medical benefit provided by EMS personnel to patients in emergency situations. The commenter recommended that language be included in the regulation to authorize hospitals' use of EMS in responding to emergency situations on hospital grounds.

Response: We agree that EMS personnel can play a valuable role in transporting patients to appropriate sources of emergency care. A hospital may not, however, meet its EMTALA obligations merely by summoning EMS personnel. EMS may be used appropriately in conjunction with an appropriate hospital response to treat and move an individual who is already on hospital property. We therefore did not make any change to these regulations to authorize exclusive use of EMS to respond to emergency situations on hospital property.

Comment: A number of commenters stated that the anti-dumping rules implemented under section 1867 of the Act (EMTALA requirements) and our regulations at §§ 489.20(l), (m), (q), and (r), and § 489.24 should apply to the hospital's main campus and to all emergency departments. However, they argued that it is not reasonable to apply these rules to outpatient departments located off-campus that would not be set up to provide emergency services. In the commenters' view, it should suffice that patients in an emergency situation be directed to the hospital's emergency room. Another commenter stated that EMTALA obligations should be limited to those hospital entities that hold themselves out as providing emergency services, and should not be enforceable anywhere outside the emergency department or anywhere on hospital property, including an outpatient department or provider-based entity. Another commenter stated that the enforcement of this requirement would lead to the elimination of service-specific outpatient departments located off a main campus, and asked that we reconsider our policy. One commenter expressed concern that patients identifying a facility as a hospital-based department could mistakenly assume it is equipped to handle emergency cases. Another commenter believes that hospitals should be required to have policies and procedures in place to assure that all parts of the hospital are prepared to deal with getting an individual the appropriate medical screening.

Response: Existing regulations at § 489.24(b) define “hospital with an emergency department” to include all hospitals that offer services for emergency medical conditions, not just those that have organized emergency rooms or departments. To the extent a hospital acquires or creates an off-campus location, identifies it to us and to the public as a part of that hospital, and claims payment for services at that location as hospital services, we believe it is not unreasonable to expect that hospital also to assume the obligations, including compliance with EMTALA requirements, which flow from hospital status. This principle does not mean, of course, that a hospital must have a fully equipped and staffed emergency department at each location. It also does not mean that every appearance by an individual at an off-campus hospital department that does not offer services for emergency medical conditions will necessarily trigger an EMTALA obligation on the part of the hospital. Individuals come to these departments for many medical purposes which may not involve potential emergency medical conditions. Under these circumstances, the hospital would not have an EMTALA obligation with respect to that individual. This principle does mean, however, that if an individual comes to an off-campus department of a hospital and a request is made for examination or treatment for a potential emergency medical condition, the hospital incurs an obligation to provide, within its capability, an appropriate medical screening examination and necessary stabilizing treatment. In some cases, the patient may need to be taken back to the main hospital campus for a full screening and/or stabilizing treatment. Under these circumstances, the hospital is responsible for moving the patient or arranging his or her safe transport, but this movement would not be considered a “transfer” under § 489.24(b), since the patient is merely going from one part of the hospital to another. If it is necessary to transfer the patient to another medical facility, the hospital must provide an appropriate transfer in accordance with § 489.24(d).

After review of the comments on this issue, we have decided to revise the regulations to state more clearly the extent of a hospital's EMTALA obligations with respect to patients who come to a hospital department located off the hospital's main campus. Provider-based entities, such as SNFs or HHAs, located off the hospital campus would not, of course, be subject to EMTALA since a patient coming to such an entity would not have come to the hospital. We will require that each off-campus hospital department, during its regular hours of operation, have in effect procedures for: (1) assessing the possibility that an emergency medical condition exists, and providing such screening (as defined in § 489.24(a) and (b)) and necessary stabilization (as defined in § 489.24(c)) at the off-campus site); (2) transporting the patient to the hospital's emergency room or department for screening and necessary stabilization meeting the requirements of § 489.24; or (3) providing an appropriate transfer to another facility in accordance with the requirements in § 489.24(c). To meet these requirements, the hospital will need to develop procedures that permit staff of the off-campus department to contact emergency physicians or other qualified emergency practitioners at the main hospital campus, to obtain advice and direction regarding the handling of any potential emergencies, and to obtain prompt medical transport, by hospital-owned or other ambulance or other appropriate vehicle, either to the main hospital campus or, where an appropriate transfer is being provided, to another medical facility.

Specifically, we are adding new paragraph (i) to § 489.24 to describe a hospital's obligations. The paragraph states that, if an individual comes to a facility or organization that is located off the main hospital campus as defined in § 413.65(b), but has been determined under § 413.65 of this chapter to be a department of the hospital, and a request is made on the individual's behalf for examination or treatment of a potential emergency medical condition as otherwise described in paragraph (a) of § 489.24, the hospital is obligated to provide the individual with an appropriate medical screening examination and any necessary stabilizing treatment.

The capability of the hospital includes that of the hospital as a whole, not just the capability of the off-campus facility or organization. Except for cases described in paragraph (i)(3)(iii) (those in which the main hospital campus does not have the specialized capability or facilities needed to treat the individual, or the individual's condition is deteriorating so rapidly that transport to the main campus would significantly jeopardize the life or health of the individual), the obligation of a hospital under this section must be discharged within the hospital as a whole. However, the hospital is not required to locate additional personnel or staff to off-site locations to be on standby for possible emergencies.

In § 489.24(i)(2), Protocols for off-campus departments, we further state that the hospital must establish protocols for the handling of potential emergency cases at off-campus departments. These protocols must include provision for direct contact between personnel at the off-campus department and emergency personnel at the main hospital campus, and may provide for dispatch of practitioners, when appropriate, from the main hospital campus to the off-campus department to provide screening or stabilization services. The intent of these requirements is to ensure timely exchange of information between the two sites, and to allow the hospital the flexibility to bring emergency personnel to the patient, rather than the opposite, where doing so is the best medical approach to meeting the patient's needs.

Under the final rule, if the off-campus department is an urgent care center, primary care center, or other facility that is routinely staffed by physicians, RNs, or LPNs, these personnel must be trained, and given appropriate protocols, for the handling of emergency cases. At least one individual on duty at the off-campus department during its regular hours of operation must be designated as a qualified medical person as described in paragraph (d). The qualified medical person must initiate screening of individuals who come to the off-campus department with a potential emergency medical condition, and may be able to complete the screening and provide any necessary stabilizing treatment at the off-campus department, or to arrange an appropriate transfer.

The final rule further states that if the off-campus department is a physical therapy, radiology, or other facility not routinely staffed with physicians, RNs, or LPNs, the department's personnel must be given protocols that direct them to contact emergency personnel at the main hospital campus for direction. Under this direction, and in accordance with protocols established in advance by the hospital, the personnel at the off-campus department must describe patient appearance and reported symptoms and, if appropriate, arrange transportation of the individual to the main hospital campus (if the main hospital campus has the capability required by the individual, and movement to the main campus would not significantly jeopardize the individual's life or health), or assist in an appropriate transfer. Movement of the individual to the main campus of the hospital is not considered a transfer under this section, since the individual is simply being moved from one department of a hospital to another department or facility of the same hospital.

Finally, specific rules apply if the individual's condition warrants movement to a facility other than the main hospital campus, either because the main hospital campus does not have the specialized capability or facilities required by the individual, or because the individual's condition is deteriorating so quickly that taking the time required to move the individual to the main hospital campus could place the life or health of the individual in significant jeopardy. Under these circumstances, personnel at the off-campus department must, in accordance with protocols established in advance by the hospital, assist in arranging an appropriate transfer of the individual to a medical facility other than the main hospital. The hospital must have protocols to ensure that the movement is an appropriate transfer in accordance with paragraph (d)(2) of this section. The protocol must include procedures and agreements established in advance with other hospitals or medical facilities in the area of the off-campus department to facilitate these anticipated transfers. We note that the interpretive guidelines for enforcement of EMTALA requirements will be revised to conform to these new rules.

Section 498.3 Scope and applicability

Comment: A commenter asked for clarification as to whether appeal rights would be available in the event of revocation by us of provider-based status.

Response: We have revised § 489.3(b)(2) to specify that a determination that a facility or organization no longer qualifies for provider-based status is an initial determination, thus providing an administrative appeals mechanism for these decisions.

D. Requirements for Payment

We proposed to revise § 410.27, Outpatient Hospital Services and Supplies Incident to a Physician Service: Conditions, to require that services furnished at a location other than an RHC or an FQHC that we designate as having provider-based status under § 413.65 must be under the direct supervision of a physician as defined in § 410.32(b)(3)(ii).

Comment: Several commenters requested clarification of what we mean by “direct supervision.” One commenter asked that we further define the nature and extent of the supervision needed to comply with our proposal. One commenter asked whether the supervision requirement would be met if a physician is in the hospital or whether the physician must be in the department while the procedure is being performed. The same commenter asked whether the physician billing for the incident to services must be of the same specialty as the procedure being performed. A large trade association stated that we appear to be replacing our current policy in section 3112.4(A) of the Intermediary Manual, which states that we assume the physician supervision requirement to be met when incident to services are furnished on hospital premises, with a policy requiring direct physician supervision at all times, in all outpatient departments, regardless of whether or not they are located on the hospital campus. The commenter recommended that if we retain a direct supervision requirement, it should be limited to outpatient departments located off-site of the main provider. One commenter stated that facilities and organizations accorded provider-based status that are located on the main provider's campus should be subject to the same physician supervision requirements that apply to “incident to” services provided elsewhere on the campus.

Response: We regret that our proposal to define “direct supervision” by referring to the definition of “direct supervision of a physician” given at § 410.32(b)(3)(ii) may have been confusing to some commenters. Section 410.32(b)(3)(ii) defines “direct supervision” within (a physician) office setting as meaning that the physician must be present in the office suite and immediately available to furnish assistance and direction throughout the performance of the procedure. The definition at § 410.32(b)(3)(ii) goes on to state that “direct supervision” does not mean that the physician must be present in the room when the procedure is performed.

Our intention in the proposed rule was to define “direct supervision” of hospital outpatient services incident to physician services when they are furnished at a department of a hospital to mean that a physician must be present on the premises of the entity accorded status as a department of the hospital and, therefore, immediately available to furnish assistance and direction for as long as patients are being treated at the site. By “direct supervision” we do not mean that the physician must physically be in the room where a procedure or service is furnished. Nor does the supervising physician necessarily have to be of the same specialty as the procedure or service that is being performed. We emphasize that our proposed amendment of § 410.27 to require direct supervision of hospital services furnished incident to a physician service to outpatients applies to services furnished at an entity that is located off the campus of a hospital that we designate as having provider-based status as a department of a hospital in accordance with the provisions of § 413.65. Our proposed amendment of § 410.27 to require direct supervision of hospital services furnished incident to a physician service to outpatients does not apply to services furnished in a department of a hospital that is located on the campus of that hospital. For hospital services furnished incident to a physician service to outpatients in a department of a hospital that is located on the campus of the hospital, we assume the direct supervision requirement to be met as we explain in section 3112.4(A) of the Intermediary Manual. The requirement at § 410.27 does not affect the definition of physician supervision in section 3112.4(A) of the Intermediary Manual. In response to these comments, we have revised our definition of “direct supervision by a physician” in the final regulation.

Comment: A major trade association asserted that requiring a physician to be on-site at a provider-based entity throughout the performance of all “incident to” services would be burdensome and costly for hospitals where there are a limited number of physicians available to provide coverage, particularly in rural settings. Another commenter believes that entities with provider-based status should not be subject to physician supervision requirements that are more stringent than those applicable to free-standing facilities. A third commenter believes that this requirement is unnecessary because the requirements for integration with the hospital and other requirements for provider-based status include adequate checks and balances to ensure quality care. The commenter recommended that this proposal be omitted from the final rule with the potential for a separate, better defined, proposal at a later date.

Response: We disagree with commenters who believe the proposed supervision requirement is not necessary or that it would be burdensome to the hospital. First, the supervision requirement is separate from and independent of the provider-based requirements, and hospitals and physicians already have to meet a direct supervision of “incident to” services requirement that is unrelated to provider-based issues. That is, we require that hospital services and supplies furnished to outpatients that are incident to physician services be furnished on a physician's order by hospital personnel and under a physician's supervision (Intermediary Manual, section 3112.4(A)). We assume the physician supervision requirement is met on hospital premises because staff physicians would always be nearby within the hospital. The effect of the regulations in this final rule is to extend this assumption to a department of a provider that is located on the campus of a hospital. However, the regulation does not extend the assumption of supervision to a department of a hospital that is located off the campus of the hospital. We would not extend this assumption to a provider-based entity, regardless of its location, because the “incident to” requirement in § 410.27(a)(1)(iii) applies only to hospitals. Also, as we state above, satisfying the requirements to be designated provider-based is unrelated to our requirement that hospital services furnished incident to a physician service to outpatients at an entity that has provider-based status be under the direct supervision of a physician. Finally, this supervision requirement is entirely consistent with the direct supervision requirements currently set forth in the Medicare Carriers Manual, Part 3, section 2050.1(B).

Comment: One commenter suggested that partial hospitalization services furnished by a hospital to its outpatients be exempt from the outpatient department “incident to” requirements, or that other requirements be drafted that would, in the commenter's opinion, be more appropriate to the nature of this care.

Response: Section 1861(s)(2)(B) restricts coverage of partial hospitalization services furnished by a hospital to its outpatients to services that meet “incident to” requirements. We do not have the discretion to ignore this statutory restriction.

Comment: One commenter asked that we provide an exception to the direct supervision requirement in the case of physical therapy services. The commenter questioned why therapists who furnish the same services in a provider-based entity that they would furnish in an independent practice should be subject to direct physician supervision in one setting and not the other.

Response: The provision on coverage for outpatient physical therapy and occupational therapy services does not require that they be “incident to” physician services (see section 1861(s)(2)(D) of the Act). Therefore, there is no need to exempt them from the supervision requirement for outpatient hospital services incident to a physician service that is furnished at a provider-based entity. We therefore made no change in the final regulation based on this comment.

Comment: One commenter suggested that we modify our proposed regulation to waive the direct supervision requirement in entities with provider-based status for certain procedures for which we already waive the direct supervision requirement when the procedures are performed on homebound patients, as set forth in section 2051 of the Medicare Carriers Manual. The commenter believes that general supervision is sufficient for these waived services, for example, the physician need not be present, but the services must be performed under a physician's overall supervision and control, and ordered by a physician.

Response: Under section 2050.2 of the Medicare Carriers Manual, subject to certain requirements, we waive the direct supervision requirement when the following services are furnished to homebound patients: injections; venipuncture; EKGs; therapeutic exercises; insertion and sterile irrigation of a catheter; changing of catheters and collection of catheterized specimen for urinalysis and culture; dressing changes, for example, the most common chronic conditions that may need dressing changes are decubitus care and gangrene; replacement and/or insertion of nasogastric tubes; removal of fecal impaction, including enemas; sputum collection for gram stain and culture, and possible acid-fast and/or fungal stain and culture; paraffin bath therapy for hands and/or feet in rheumatoid arthritis or osteoarthritis; and, teaching and training the patient for the care of colostomy and ileostomy, the care of permanent tracheostomy, testing urine and care of the feet (diabetic patients only), and blood pressure monitoring. While we believe the commenter's suggestion has merit, we do not believe it would be appropriate to adopt it before we have had time to analyze the issue further. Therefore, we did not revise the final rule based on this comment.

In our proposed rule, we proposed to require that the same supervision levels established for diagnostic x-ray and other diagnostic tests in accordance with § 410.32(b)(3) be required when these tests are furnished at an entity that has been accorded provider-based status by us.

Comment: A large industry federation generally favored our requiring that diagnostic tests be furnished at provider-based entities under levels of physician supervision that we specify, consistent with the definitions of general, direct, and personal supervision established at § 410.32(b)(3). The commenter suggested that we modify the definition of general supervision to make it clear that the training of nonphysician personnel and the maintenance of necessary equipment and supplies are the responsibility of the hospital, not the physicians.

Response: We agree and we will modify our regulation accordingly.

Comment: Numerous commenters, including radiology and imaging specialty groups, neurologists, vascular technologists, and sonographers, questioned the level of supervision required for various specific diagnostic tests and services.

Response: Our model for this proposed requirement was the requirement for physician supervision for diagnostic tests payable under the Medicare physician fee schedule that was issued in the October 31, 1997 physician fee schedule final rule (for CY 1998) (62 FR 59048). There have been issues raised about the appropriate level of supervision for some specific diagnostic services, similar to the comments we received about our proposed regulation. We have not yet resolved these issues, and this final rule is not the place to convey decisions about appropriate supervision levels for specific diagnostic tests and services by individual HCPCS code. In January 1998, we sent a memorandum to all Associate Regional Administrators advising them to instruct carriers to follow their existing policies on physician supervision of diagnostic tests until we provide further instruction. We intend to instruct hospitals and intermediaries to use the October 31, 1997 physician supervision requirements as a guide, pending issuance of updated requirements. In the meantime, fiscal intermediaries, in consultation with their medical directors, will define appropriate supervision levels for services not listed in the October 31, 1997 final rule when those services are furnished at an entity with provider-based status in order to determine whether claims for these services are reasonable and necessary.

V. Summary of and Response to MedPAC Recommendations

The following are additional recommendations contained in the report on Medicare payment policy that the Medicare Payment Advisory Commission submitted to the Congress in March 1999. (MedPAC, Report to the Congress: Medicare Payment Policy, March 1999.) We respond to recommendations that are specifically related to a particular component of the hospital outpatient PPS in the appropriate section of this preamble.

MedPAC Recommendation: MedPAC recommends that the Secretary evaluate payment amounts under the hospital outpatient PPS and the ambulatory surgical center (ASC) PPS along with the practice expense payments under the Medicare physician fee schedule for services furnished in physicians' offices to ensure that the differing payments made under the three payment systems do not create unwarranted financial incentives regarding site of care.

Response: We agree that the three payment systems should avoid creating unnecessary financial incentives to deliver care in particular settings. We will consider this matter further and evaluate differences in payments.

MedPAC Recommendation: MedPAC recommends that the Secretary study means of adjusting base prospective payment rates across ambulatory settings for patient characteristics such as age, frailty, comorbidities and coexisting conditions, and other measurable traits. Under this approach, payment would be less dependent on the type of facility and more dependent on the relative costliness of furnishing specific services to individual patients. MedPAC notes that no viable patient-level adjuster currently exists that could be used in this fashion.

As an interim measure, MedPAC recommends, with reservations, that HCFA evaluate facility-level adjustments in order to preserve access to care for particularly vulnerable segments of the Medicare population.

Response: The underlying premise in this recommendation, as MedPAC states, is that HCFA should move toward development of a more unified and rational payment system for ambulatory care. Many powerful arguments favor such a system, but the challenges of creating and implementing it are substantial. We will give further consideration to the recommendation to study possible adjustments that could be used in various settings.

We agree that we should evaluate the need for facility-level adjustments. We believe the best course is to evaluate the need for these adjustments during the next several years as we gain actual experience with the operation of the hospital outpatient PPS and are able to observe the effects on particular provider groups. In consideration of the transitional protections provided by the BBRA 1999, we have not adopted facility-level adjustments, other than an adjustment for local labor costs, at this time.

MedPAC Recommendation: MedPAC recommends that the Secretary seek legislation to develop and implement a single update mechanism that would link conversion factor updates to volume growth across all ambulatory care settings. These settings include hospital outpatient departments, physicians' offices, and ASCs, as well as other specific settings mentioned.

Response: We believe that this proposal requires further study to determine its feasibility and possible impact. Therefore, we are not prepared to seek legislation at this time.

MedPAC Recommendation: MedPAC recommends that we not use patient diagnosis to calculate relative weights or make payments for medical visits, “given the current state of the available data and the lack of definitive rules for reporting patients' diagnoses under the proposed system.”

Response: As discussed in section III.C.3, we have dropped diagnosis from our characterization of medical visit APCs. We hope to develop procedure codes for medical visits that are more descriptive of hospital outpatient resource use, rather than physician services. Once we revise procedure coding to better reflect hospital services, we will assess whether accurate diagnosis coding further improves recognition of resources.

MedPAC Recommendation: MedPAC recommends that the Secretary closely monitor the use of hospital outpatient services to ensure that beneficiary access to care is not compromised.

Response: We plan to evaluate the operation of the new PPS to address a variety of issues, including beneficiary access to care. We note that the provisions of the BBRA 1999 should mitigate substantially any payment reductions and hence the possibility of reduced access.

MedPAC Recommendation: MedPAC recommends that the Secretary consider making payment adjustments in addition to the proposed adjustment for local area wages under the new system. These adjustments should be tied to patient characteristics. The facility-level adjustments that are made until the time that a patient-level adjuster is available should reflect the population of Medicare patients treated by facilities identified to receive the adjustments.

MedPAC points out that HCFA, in setting Medicare payment rates for hospital inpatient services, adjusts payments based on the costs or provider characteristics of hospitals (for example, sole community hospitals). Rather than continuing this practice in the outpatient setting, MedPAC recommends that HCFA move toward making adjustments based on patient characteristics and the relative costliness of resources required in furnishing care to differing patients. Any differences in the payment of the same ambulatory care service should be based on patient characteristics, rather than on the setting. MedPAC recommends that HCFA evaluate any relationships between immutable patient characteristics and the cost of furnishing care.

Response: Other than those adjustments specified in sections 201 and 202 of the BBRA 1999, we have made no additional adjustments in this final rule. We will consider the possibility of adjustments in the future once we have actual experience with operation of the hospital outpatient PPS and can examine its effects. The extent to which adjustments at the level of patient characteristics will be feasible is unclear and would require further study.

VI. Provisions of the Final Rule

The provisions of this final rule reflect the provisions of the September 8, 1998 proposed rule, except as noted elsewhere in this preamble. Following is a synopsis of the major changes we have made, either in response to comments or in order to implement provisions of the BBRA 1999 that apply to the hospital outpatient prospective payment system.

For our proposal to adjust the CY 2002 update of the conversion factor by the percentage that actual CY 2000 payments exceed the estimated CY 2000 expenditure target, we are delaying implementation of the volume control mechanism for 2 years.

For our proposal to package costs that are directly related and integral to performing a procedure or furnishing a service on an outpatient basis, we are making the following changes:

• We are creating separate APC groups to pay for blood, blood products, and anti-hemophilic factors, for splints and casts, and for certain very costly drugs that are not included in the transitional pass-through payment provision.

• We are paying separately, at cost, for the acquisition of corneal tissue.

• As required by section 201(e) of the BBRA 1999, we are not paying for certain implantable items under the DMEPOS fee schedule, but are including them as covered outpatient services. We are packaging the costs of these items into the APC payment rate for the procedures or services with which they are associated. These include implantable items used in connection with diagnostic tests, implantable DME, and implantable prosthetic devices.

For our proposal to base payment for medical visits to clinics and emergency departments on diagnosis codes as well as HCPCS codes, we are not using diagnosis codes at this time.

For our proposal to classify a new technology procedure or service within the APC group that it most closely resembles in terms of clinical characteristics and resource utilization, pending collection of additional pricing data, we are creating separate APC groups to which we can temporarily classify new technology services while we gather additional data and gain pricing experience. We are also creating a process under which interested parties may submit requests for consideration of services that may be eligible for payment as new technology.

For our proposal to pay for drugs, pharmaceuticals, and biologicals (except for cancer therapy drugs and certain infrequently used but very expensive drugs) as part of the APC payment for the service or procedure with which they are used, we are establishing transitional pass-through payments, as directed by section 201(b) of the BBRA 1999. Under this provision, an additional payment will be made for current orphan drugs, current cancer therapy drugs, biologicals, and brachytherapy, and current radiopharmaceutical drugs and biological products.

For our proposal to classify a new or innovative medical device, drug or biological (for which we were not making payment as of December 31, 1996) within the APC group that it most closely resembles in terms of clinical characteristics and resource utilization, pending collection of additional pricing data, we are establishing transitional pass-through payments. Under this provision, as directed by section 201(b) of the BBRA 1999, an additional payment will be made for new or innovative devices, drugs, and biologicals whose cost is not insignificant in relation to the APC payment for the group of services with which they are used.

For our proposal not to establish an outlier adjustment, as directed by section 201(a) of the BBRA 1999, we will make an outlier payment when calculated bill costs exceed 2.5 times the PPS payment for a service.

For our proposal to determine comparability of resources and clinical characteristics among the codes within an APC group based on our claims data and the analyses and judgment of our medical advisors, supported by comments from medical specialty societies and trade associations, as provided in section 201(g) of the BBRA 1999, we are limiting the variation so that the highest median cost of an item or service in an APC group is no more than two times the lowest median cost of an item or service within that group. We will also consult with an expert outside advisory panel regarding the clinical integrity of the APC groups and weights as part of our update of the PPS.

For our proposal to periodically review and update payment weights, APC groups, and other elements of the hospital outpatient PPS, as required by section 201(h) of the BBRA 1999, we will annually review the groups, relative payment weights, and the wage and other adjustments that are a part of the PPS.

For our proposal to implement the hospital outpatient PPS fully and in its entirety for all hospitals beginning as early as possible in CY 2000, with no phase-in period, as required by section 202(a) of the BBRA 1999, we are establishing transitional corridors for services furnished before January 1, 2004 to limit losses facilities might otherwise face.

For our proposal not to make any adjustments for any specific classes of hospitals, we are holding small rural hospitals harmless through CY 2003 in accordance with the requirements set by section 202(a)(3) of the BBRA 1999, which added section 1833(t)(7)(D)(i) to the Act. Also, we are holding cancer centers permanently harmless in accordance with the requirements set by section 202(a)(3) of the BBRA 1999.

For our proposal on beneficiary coinsurance payment amounts, we are limiting the coinsurance amount for a procedure to be no more than the hospital inpatient deductible, as specified in section 204(a)(3) of the BBRA 1999.

The following is a synopsis of the principal changes that we are making in the provider-based requirements:

For our proposal to require main providers and provider-based entities to share a common license, we will require common licensure only where State law permits it. Where State law prohibits it or is silent, we will not apply the licensure requirement. We will also exempt IHS facilities and facilities located on Tribal lands from this requirement.

For our proposal requiring a main provider and a provider-based entity to serve a common service area indicated largely by overlapping patient populations, we have redefined “common service area” to mean a 75 percent threshold of patients who reside in a zip code area that is common to the main provider and the provider-based entity.

For our proposal to require provider-based entities to be in the same State as the main provider, we will allow providers in one State to have provider-based facilities in an adjacent State, if doing so is consistent both with the law of the affected States and with other criteria, including those related to a common service area.

For our proposal to require that a provider-based outpatient department bill all payers as an outpatient department, we have rescinded this requirement.

For our proposal to require FQHCs that have been billing Medicare as hospital outpatient departments to comply with the provider-based requirements, we are grandfathering both FQHCs and FQHC “look-alikes” (facilities that are organized as FQHCs but do not receive grants) so that these facilities will be considered departments of providers without having to meet § 413.65 requirements.

For our proposal to apply the provider-based requirements to Indian Health Service (including tribally operated) entities, we are creating a permanent exception for those entities that were billing as departments of IHS or Tribal hospitals on or before October 10, 2000.

For our proposal to consider provider-based entities to be part of the hospital for Emergency Medical Treatment and Active Labor Act (EMTALA) (“anti-dumping” purposes), we are maintaining the principle that off-site hospital facilities are subject to EMTALA. We have clarified the obligations of hospitals with respect to these locations to ensure they are consistent with staffing patterns and resources.

For our proposal to apply provider-based criteria to inpatient facilities such as multi-campus hospitals created by mergers and satellites of PPS-excluded hospitals that are created by hospitals leasing space in other hospitals, we have clarified the applicability of provider-based criteria to remote locations of hospitals and hospital satellite facilities.

VII. Collection of Information Requirements

Under the Paperwork Reduction Act (PRA) of 1995, we are required to provide 30-day notice in the Federal Register and solicit public comment before a collection of information requirement is submitted to the Office of Management and Budget (OMB) for review and approval. In order to fairly evaluate whether an information collection should be approved by OMB, section 3506(c)(2)(A) of the PRA requires that we solicit comment on the following issues:

• The need for the information collection and its usefulness in carrying out the proper functions of our agency.

• The accuracy of our estimate of the information collection burden.

• The quality, utility, and clarity of the information to be collected.

• Recommendations to minimize the information collection burden on the affected public, including automated collection techniques.

We are soliciting public comment on each of these issues for the provisions summarized below that contain information collection requirements:

Section 413.24 Adequate cost data and cost finding

Section 413.24(d)(6)(ii) states that a provider must develop detailed work papers showing the exact cost of the services (including overhead) provided to or by the free-standing entity and show those carved out costs as nonreimbursable cost centers in the provider's trial balance. While these information collection requirements are subject to the PRA, the burden associated with these requirements is captured under §§ 413.65(c)(1) and (c)(2) below.

Section 413.65 Requirements for a determination that a facility or an organization is a department of a provider or a provider-based entity

Section 413.65(b)(2) states that a provider or a facility or organization must contact HCFA and the facility or organization must be determined by HCFA to be provider-based before the main provider begins billing for services of the facility or organization as if they were furnished by a department of the provider-based entity, or before it includes costs of those services on its cost report. While these information collection requirements are subject to the PRA, the burden associated with these requirements is captured under §§ 413.65(c)(1) and (c)(2) below.

Sections 413.65(c)(1) and (c)(2) state that a main provider that acquires a facility or organization for which it wishes to claim provider-based status, including any physician offices that a hospital wishes to operate as a hospital outpatient department or clinic, must report its acquisition of the facility or organization to HCFA and must furnish all information needed for a determination as to whether the facility or organization meets the requirements in paragraph (d) of this section for provider-based status, if the facility or organization is located off the campus of the provider or would increase the provider's total costs by at least 5 percent. Furthermore, a main provider that has had one or more entities considered provider-based also must report to HCFA any material change in the relationship between it and any provider-based facility or organization, such as a change in ownership of the facility or organization or entry into a new or different management contract that could affect the provider-based status of the facility or organization.

The burden associated with this requirement is the time for the main provider to report its acquisition to HCFA, furnish all information needed for a determination, report to HCFA any material change in the relationship between it and any provider-based facility or organization, such as a change in ownership of the facility or organization or entry into a new or different management contract that could affect the provider-based status of the facility or organization. It is estimated that 105 main providers will take 10 hours for a total of 1,050 hours.

Section 413.65(d)(4)(v) states that medical records for patients treated in a facility or organization must be integrated and maintained into a unified retrieval system (or cross reference) of the main provider. The burden associated with this requirement is the time required for the main provider to maintain medical records in a unified retrieval system. While this requirement is subject to the PRA, we believe this requirement is a usual and customary business activity and the burden associated with this requirement is exempt from the PRA, as stipulated under 5 CFR 1320.3(b)(2) and (b)(3).

Section 413.65(d)(7)(i) requires that for a facility or organization and the main provider that is not located on the same campus, the facility or organization must demonstrate a high level of integration with the main provider by showing that it meets all of the other provider-based criteria, and demonstrates that it serves the same patient population as the main provider, by submitting records showing that, during the 12-month period immediately preceding the first day of the month in which the application for provider-based status is filed with HCFA, and for each subsequent 12-month period meet the requirements of paragraphs (d)(7)(i)(A), (B), or (C) of this section. While the information collection requirements listed below are subject to the PRA, the burden associated with these requirements is captured under §§ 413.65(c)(1) and (c)(2).

Section 413.65(g)(7) states that when a Medicare beneficiary is treated in a hospital outpatient department or hospital-based entity, the hospital has a duty to notify the beneficiary, prior to the delivery of services, of the beneficiary's potential financial liability (that is, a coinsurance liability for a facility visit as well as for the physician service).

The burden associated with this requirement is the time for the provider to disseminate information to each beneficiary of the beneficiary's potential financial liability (that is, a coinsurance liability for a facility visit as well as for the physician service). It is estimated that 750 providers will make on average 667 disclosures on an annual basis, at 3 minutes per disclosure, for a total annual burden of 25,013 hours.

Section 413.65(j)(5) requires that upon notice of denial of provider-based status sent to the provider by HCFA, the notice will ask the provider to notify HCFA in writing, within 30 days of the date the notice is issued, of whether the facility or organization (or, where applicable, the practitioners who staff the facility or organization) will be seeking to enroll and meet other requirements to bill for services in a free-standing facility. This requirement is exempt from the PRA as stipulated under 5 CFR 1320.4(a)(2).

Further, if the provider indicates that the facility or organization, or its practitioners, will be seeking to meet enrollment and other requirements for billing for services in a free-standing facility, the facility or organization must submit a complete enrollment application and provide all other required information within 90 days after the date of notice; and the facility or organization, or its practitioners, furnish all other information needed by HCFA to process the enrollment application and verify that other billing requirements are met. The requirements and burden associated with the provider enrollment process are currently approved under OMB control number 0938-0685, with a current expiration date of September 30, 2001.

Section 424.24 Requirements for Medical and Other Health Services Furnished by Providers Under Medicare Part B

Section 424.24(e)(3)(i) requires that when a partial hospitalization service occurs the physician recertification must be signed by a physician who is treating the patient and has knowledge of the patient's response to treatment. While this signature requirement is subject to the PRA, the overall requirements associated with physician recertification, as currently referenced in HCFA regulation number HCFA-1006, published in the Federal Register on June 5, 1998, have not yet been approved by OMB under the PRA. Therefore, we continue to solicit comment on all of the requirements and associated burden referenced in § 424.24.

Section 419.42 Hospital Election To Reduce Copayment

Sections 419.42(b) and (c) state that a hospital must notify its fiscal intermediary of its election to reduce copayments no later than June 1, 2000 prior to the date the PPS is implemented or for subsequent calendar years, beginning with elections for calendar year 2001, no later than December 1 of the preceding calendar year. The hospital's election must be properly documented. It must specifically identify the ambulatory payment classification to which it applies and the coinsurance amounts (within the limits identified within this regulation) that the hospital has elected for each group.

The burden associated with these requirements is the time it takes a hospital to compile, review, and analyze data for both revenues and coinsurance; prepare and present the data to the hospital board; make a business decision as to whether the hospital would elect to reduce coinsurance; and then notify its fiscal intermediary of its election. A hospital would notify its fiscal intermediary of its election to reduce coinsurance only if there were other providers, in close proximity, that would attract a majority of the hospital's business if they did not reduce their coinsurance. Since hospitals do not want to lose money by absorbing coinsurance, we anticipate that this requirement will affect 750 hospitals and take them 10 hours each for a total of 7,500 hours.

Section 419.42(e) states that the hospital may advertise and otherwise disseminate information concerning the reduced level(s) of coinsurance that it has elected. All advertisements and information furnished to Medicare beneficiaries must specify that the coinsurance reductions advertised apply only to the specified services of that hospital and that these coinsurance reductions are available only for hospitals that choose to reduce coinsurance for hospital outpatient services and are not applicable in any other ambulatory settings or physician offices.

The burden associated with this requirement is the time for the hospital to disseminate information concerning its coinsurance election. It is estimated that 750 hospitals will each take 10 hours annually to disseminate this information via newsletters and information sessions at senior citizen centers for a total of 7,500 hours.

We have submitted a copy of this final rule to OMB for its review of the information collection requirements. These requirements are not effective until they have been approved by OMB. A notice will be published in the Federal Register when approval is obtained.

If you comment on any of these information collection and record keeping requirements, please mail copies directly to the following:

Health Care Financing Administration, Office of Information Services, Information Technology Investment Management Group, Division of HCFA Enterprise Standards, Room C2-26-17, 7500 Security Boulevard, Baltimore, MD 21244-1850, Attn: John Burke HCFA-1005-FC/R-240,

and

Office of Information and Regulatory Affairs, Office of Management and Budget, Room 10235, New Executive Office Building, Washington, DC 20503, Attn.: Allison Herron Eydt, HCFA-1005-FC.

VIII. Response to Comments

Because of the large number of items of correspondence we normally receive on Federal Register documents published for comment, we are not able to acknowledge or respond to them individually. Comments on the provision of this final rule that implement provisions of the BBRA 1999 will be considered if we receive them by the date and time specified in the DATES section of this preamble. We will not consider comments concerning provisions that remain unchanged from the September 8, 1998 proposed rule or that were changed based on public comments.

IX. Regulatory Impact Analysis

A. Introduction

Section 804(2) of title 5, United States Code (as added by section 251 of Pub. L. 104-121), specifies that a “major rule” is any rule that the Office of Management and Budget finds is likely to result in—

• An annual effect on the economy of $100 million or more;

• A major increase in costs or prices for consumers, individual industries, Federal, State, or local government agencies, or geographic regions; or

• Significant adverse effects on competition, employment, investment productivity, innovation, or on the ability of United States based enterprises to compete with foreign-based enterprises in domestic and export markets.

We estimate, based on a simulation model, that the effect on hospitals participating in the Medicare program associated with this final rule would be to increase Medicare payments by $600 million in calendar year 2000. This figure includes beneficiary copayments. We estimate that the additional expenditures to hospitals from the Part B Trust Fund associated with this final rule will be $490 million in fiscal year 2000. Therefore, this rule is a major rule as defined in Title 5, United States Code, section 804(2).

We have examined the impacts of this final rule as required by Executive Order 12866, the Unfunded Mandates Reform Act of 1995, and the Regulatory Flexibility Act (RFA) (Public Law 96-354). Executive Order 12866 directs agencies to assess all costs and benefits of available regulatory alternatives and, when regulation is necessary, to select regulatory approaches that maximize net benefits (including potential economic, environmental, public health and safety effects, distributive impacts, and equity). A regulatory impact analysis (RIA) must be prepared for major rules with economically significant effects ($100 million or more annually). Because the projected spending resulting from this final rule is expected to exceed $100 million, it is considered a major rule for purposes of the RFA.

The Unfunded Mandates Reform Act of 1995 also requires (in section 202) that agencies prepare an assessment of anticipated costs and benefits for any rule that may result in an expenditure in any 1 year by State, local, or tribal governments, in the aggregate, or by the private sector, of $100 million. This final rule does not mandate any requirements for State, local, or tribal governments.

We generally prepare a regulatory flexibility analysis that is consistent with the RFA (5 U.S.C. 601 through 612), unless we certify that a final rule will not have a significant economic impact on a substantial number of small entities. For purposes of the RFA, we consider all hospitals to be small entities.

Also, section 1102(b) of the Social Security Act requires us to prepare a regulatory impact analysis for any final rule that may have a significant impact on the operations of a substantial number of small rural hospitals. Such an analysis must conform to the provisions of section 604 of the RFA. With the exception of hospitals located in certain New England counties, for purposes of section 1102(b) of the Act, we define a small rural hospital as a hospital with fewer than 100 beds that is located outside of a Metropolitan Statistical Area (MSA) or New England County Metropolitan Area (NECMA). Section 601(g) of the Social Security Amendments of 1983 (Pub. L. 98-21) designated hospitals in certain New England counties as belonging to the adjacent NECMA. Thus, for purposes of the proposed prospective payment system, we classify these hospitals as urban hospitals.

B. Estimated Impact on the Medicare Program

Our Office of the Actuary projects that the additional benefit expenditures from the Part B Trust Fund resulting from implementation of the hospital outpatient PPS for hospital outpatient services furnished on or after July 1, 2000, and the hospital outpatient provisions enacted by the BBRA 1999, are as follows:

Fiscal year | Impact (In millions of dollars)
2000 | 490
2001 | 3,030
2002 | 3,520
2003 | 4,230
2004 | 4,670

C. Objectives

The primary objective of the hospital outpatient prospective payment system is to simplify the payment system and encourage hospital efficiency in providing outpatient services, while at the same time ensuring that payments are sufficient to compensate hospitals adequately for their legitimate costs. Another important goal of the new system is to reduce beneficiaries' share of outpatient payment to hospitals by freezing coinsurance amounts at an absolute level until they equal 20 percent of the total payment amounts.

We believe that implementation of the final PPS will ultimately further each of these goals while maintaining the financial viability of the hospital industry and ensuring access to high quality health care for Medicare beneficiaries. We expect that the provisions of this final rule with comment period will ensure that the outcomes of the PPS are reasonable and equitable while avoiding or minimizing unintended adverse consequences.

D. Limitations of Our Analysis

The following quantitative analysis presents the projected effects of our policy changes resulting from comments, as well as statutory changes enacted by the BBRA 1999, on various hospital groups. We use the best data available. In addition, we do not make adjustments for future changes in such variables as volume and intensity. For this final rule with comment period, we are soliciting comments and information about the anticipated effects of the changes on hospitals resulting from implementation of the hospital outpatient provisions of the BBRA 1999, and our methodology for estimating them.

E. Hospitals Included In and Excluded From the Prospective Payment System

The outpatient prospective payment system encompasses nearly all hospitals that participate in the Medicare program. However, Maryland hospitals that are paid under a cost containment waiver in accordance with section 1814(b)(3) of the Act are excluded from the PPS. Critical access hospitals (CAHs) are also excluded and are paid at cost under section 1834(g) of the Act.

F. Quantitative Analysis of the Impact of Policy Changes on Payment Under the Hospital Outpatient PPS: Basis and Methodology of Estimates

We have analyzed the impact on hospital payment under the outpatient PPS. Our analysis compares the payment impact of PPS compared to current law. The definition and calculation of current law used in the impact analysis is the same used in estimating the conversion factor. That is, current law reflects pre-PPS payment methodologies in effect on January 1, 2000, and prior to July 1, 2000, which include the elimination of the formula-driven overpayment and application of the capital and operating cost reductions. A detailed explanation of the current law calculation can be found in section III.E.2.a.

The data used in developing the quantitative analyses presented below are taken from the CY 1996 cost and charge data and the most current provider-specific file that is used for payment purposes. Our analysis has several qualifications. First, we draw upon various sources for the data used to categorize hospitals in Table 2, below. In some cases, there is a degree of variation in the data from the different sources. We have attempted to construct these variables with the best available source overall. For individual hospitals, however, some miscategorizations are possible.

Using CY 1996 cost and charge data, we simulated payments using the pre-PPS and PPS payment methodologies. Although we used only single-procedure/visit bills to determine APC relative payment weights, we used both single and multiple-procedure bills in the conversion factor and service mix calculations, regressions, and impact analyses. Both pre-PPS and PPS payment estimates include operating and capital costs, adjusted to the calendar year 1996 cost reporting period. We excluded Kaiser, New York Health and Hospital Corporation, and all-inclusive providers because reported charges on their cost reports are not actual charges. Cost-to-charge ratios for these hospitals are not comparable to all other hospitals. The excluded Maryland hospitals were not included in the calculation of the conversion factor and the simulations; however, we did include the 10 cancer hospitals that will be paid under the PPS.

We also trimmed outlier hospitals from the impact analysis because inclusion of hospitals with extremely high and low unit costs would not allow us to assess the impacts among the various classes of hospitals accurately. First, we identified all of the outlier hospitals by using an edit of 3 standard deviations from the mean of the logged unit costs. Trimming the data in this manner ensures that only the hospitals with aberrantly high and low costs are eliminated from the impact analysis. In doing this, we removed 97 hospitals of which 41 hospitals had extremely low unit costs and 56 hospitals had extremely high unit costs. We conducted a thorough analysis of these hospitals to ensure that we did not remove any particular type of hospital (for example, teaching hospitals) that would further harm the integrity of the data. We speculate that many of these hospitals are not coding accurately, and we will continue to perform further analysis in this area following implementation of the PPS.

After we removed the 58 excluded Maryland hospitals, the all-inclusive rate hospitals, the statistical outlier hospitals, and hospitals for which we could not identify payment variables, we used the remaining 5,362 hospitals as the basis for our analysis. Table 2, Annual Impact of Outpatient Prospective Payment System in CY2000-CY2001, below, demonstrates the results of our analysis. The table categorizes hospitals by various geographic and special payment consideration groups to illustrate the varying impacts on different types of hospitals. The first column represents the number of hospitals in each category. The second column shows the hospitals' Medicare outpatient payments under the current (non-PPS) payment system as a percentage of the hospitals' total Medicare payment. The third and fourth columns show the impact of the PPS excluding the transitional corridor payments enacted by the BBRA 1999. Column three shows the percentage change in total Medicare outpatient payments comparing pre-PPS payments with payments under the PPS. The fourth column shows the change in total (outpatient and inpatient) Medicare payments resulting from implementation of the PPS for outpatient services. The fifth and sixth columns show the impact of the PPS including the transitional corridor payments enacted by the BBRA 1999. Column five shows the percentage change in Medicare outpatient payments comparing pre-PPS payments with payments under the PPS. Column six shows the change in total (outpatient and inpatient) Medicare payments resulting from implementation of the PPS for outpatient services.

The first row of Table 2 shows the overall impact on the 5,362 hospitals included in the analysis. We included as much data as possible to the extent that we were able to capture all the provider information necessary to determine payment. Our estimates include the same set of services for both pre-PPS and PPS payments so that we could determine the impact of the PPS as accurately as possible. Because payment under the hospital outpatient PPS can only be determined if bills are accurately coded, the data upon which the impacts were developed do not reflect all CY 1996 hospital outpatient services, but only those that were coded using valid HCPCS codes.

The second row of Table 2 shows the overall impact of the PPS on the 4,828 hospitals that remain when we exclude psychiatric, long-term care, children's, and rehabilitation hospitals.

The next four rows of the table contain hospitals categorized according to their geographic location (all urban, which is subdivided into large urban and other urban, and rural). We include 2,665 hospitals located in urban areas (MSAs or NECMAs) in our analysis. Among these, 1,505 hospitals are located in large urban areas (populations over 1 million), and 1,160 hospitals are located in other urban areas (populations of 1 million or less). In addition, we include 2,160 hospitals located in rural areas in our analysis. The next two groupings are by bed-size categories, shown separately for urban and rural hospitals. The next category groups urban and rural hospitals by volume of outpatient services. We then show the distribution of urban and rural hospitals by regional census divisions.

The next three categories group hospitals according to whether or not they have residency programs (teaching hospitals that receive an indirect medical education (IME) adjustment), receive disproportionate share hospital (DSH) payments, or some combination of these two adjustments. In our analysis we show the impact of the PPS on the 3,738 nonteaching hospitals, the 821 teaching hospitals with fewer than 100 residents, and the 269 teaching hospitals with 100 or more residents.

In the DSH categories, hospitals are grouped according to their DSH payment status. The next category groups hospitals considered urban after geographic reclassification, in terms of whether they receive the IME adjustment, the DSH adjustment, both, or neither. The next five rows examine the impacts of the changes on rural hospitals by special payment groups (rural referral centers (RRCs), sole community hospitals/essential access community hospitals (SCHs/EACHs), Medicare dependent hospitals (MDHs), and hospitals that are both SCHs and RRCs), as well as rural hospitals not receiving a special payment designation. The RRCs (164), SCH/EACHs (634), MDHs (358), and SCH and RRCs (56) shown here were not reclassified for purposes of the standardized amount.

The next grouping is based on type of ownership. These data are taken primarily from the FY 1996 Medicare cost report files, if available; otherwise, earlier cost report data are used.

The final two groups are specialty hospitals. The first set includes eye and ear hospitals, trauma hospitals (hospitals having a level one trauma center), and cancer hospitals, which are TEFRA hospitals. The last group lists all other TEFRA hospitals, specifically, rehabilitation, psychiatric, long-term care, and children's hospitals.

G. Estimated Impact of the New APC System (Includes Table 2, Annual Impact of Hospital Outpatient Prospective Payment System in CY2000-CY2001)

Column 3 compares our estimate of PPS payments without application of the BBRA 1999 transitional corridors, but incorporating policy changes and all other BBRA 1999 provisions contained in this final rule, to our estimate of payments under the current system. The percent differences shown in columns 3 and 4 between current and PPS payment (without the BBRA 1999 transitional corridors) reflect the impact of the BBRA 1999 outlier and pass-through payment adjustments and nonbudget-neutral hold-harmless provisions for cancer hospitals, as well as distributional differences attributable to variation in cost and charge structures among hospitals.

The percent changes in columns 5 and 6 are the result of comparing our estimate of PPS payments with application of the BBRA 1999 transitional corridors, as well as the statutory and policy changes contained in this final rule, to our estimate of payments under the pre-PPS system. Percent differences between the pre-PPS and the PPS payment (with the BBRA 1999 transition) reflect the combined impact of the transitional corridor adjustments, outlier and pass-through payment adjustments and the hold-harmless provision for cancer hospitals, in addition to distributional differences attributable to variation in cost and charge structures among hospitals.

Basing the conversion factor on pre-PPS program and pre-PPS beneficiary payments and on budget-neutral outlier and pass-through adjustments results in no net change in payments to hospitals overall relative to pre-PPS payments. (As noted above, in section III.E.2 of this preamble, pursuant to section 201(l) of the BBRA 1999, we set the conversion factor by estimating pre-PPS rather than PPS copayments.) However, the BBRA hold-harmless provision for cancer hospitals results in a 0.2 percent increase in payments to hospitals overall because this provision is not budget neutral. Including the BBRA 1999 transitional corridor adjustments further increases payment to hospitals overall. We estimate that in calendar year 2000, payment will increase by an annual rate of 4.6 percent under the PPS compared to the pre-PPS payments.

Without the BBRA 1999 transitional corridor payments, the impact on short-term acute care hospitals is negative for a substantial number of hospital classifications. That is, for certain groups of hospitals, payments under the PPS without the transitional corridor payments would be several percentage points below pre-PPS payments. For nearly all of these hospital groups, the BBRA 1999 transitional corridor payments mitigate this negative impact. In addition, hospital groups that experience net gains without the BBRA 1999 transitional corridor payments experience even greater gains with them. The reason is that even though the average impact for hospitals in these groups is positive, some individual hospitals experience net losses in payments and, thus, benefit from the transitional corridor payments. The hospital groups that gain without the transitional corridor payments receive even greater increases in payments with the transitional corridor payments. The following discussion highlights some of the changes in payments among hospital classifications.

Comparing the pre-PPS and PPS payment estimates, payment to low-volume hospitals would decrease substantially without the BBRA 1999 transitional corridor payments (12.2 percent annually for rural and 7.7 percent annually for urban hospitals with fewer than 5,000 units of service). These hospitals experience a net gain with the BBRA 1999 transitional corridor payments (2.5 percent annually and 0.2 percent annually for low-volume rural and urban hospitals, respectively), although these payment increases are relatively small compared to the 4.6 percent annual increase for hospitals overall. We believe several factors contribute to this outcome, including undercoding, lack of economies of scale, and the reliance on the median instead of the geometric mean in the calculation of APC weights. The majority of these hospitals (about 75 percent) are rural. For these small hospitals, some of the higher standardized unit costs could be attributed to economies of scale. These low-volume rural hospitals also receive a greater percentage of their Medicare income (18.5 percent) from outpatient services than the national average (9.9 percent).

Major teaching hospitals, whose payments would decrease annually by 3.7 percentage points without the BBRA 1999 transitional corridor payments, gain 2.6 percent annually with the BBRA 1999 transitional corridor payments relative to pre-PPS payments. Major teaching hospitals receive less of their total Medicare income (9.1 percent) from outpatient services than the national average. This results in a 0.2 percent annual gain in their total Medicare payments. Minor teaching and nonteaching hospitals would experience marginal gains in outpatient payment without the BBRA 1999 transitional corridor payments. Payment to both hospital groups increases by 5.0 percent annually relative to the pre-PPS payment system.

Without the BBRA 1999 transitional corridor payments, hospitals with a high percentage of low-income patients (disproportionate share patient percentage greater than or equal to 0.35) would have a 2.5 percent annual decrease in payment relative to pre-PPS payments. But payments to these hospitals increase annually by 3.5 percent relative to pre-PPS payments with the BBRA 1999 transitional corridor payments. These hospitals have lower than average volume, and, like major teaching hospitals, receive a smaller than average percentage of their Medicare income from outpatient services. Thus, their total Medicare payments increase marginally, by 0.3 percent, with the BBRA 1999 transitional corridor payments.

Without the BBRA 1999 adjustments, payment to rural hospitals would decrease 1.8 percent annually and payment to large urban hospitals would decrease 0.3 percent annually, while payment to other urban hospitals would increase 1.8 percent annually relative to pre-PPS payments. These hospitals all experience net gains in PPS payment with the BBRA 1999 transitional corridor payments, at an annual rate of 4.4 percent, 4.3 percent, and 5.1 percent, respectively. Even though rural hospitals receive a greater percentage of their Medicare income (14.7 percent) from outpatient services compared to the national average, their total Medicare payments increase by only a fraction, 0.6 percent.

Negative impacts for urban hospitals in the Mid-Atlantic and the West North Central regions are also reversed under the BBRA 1999 transitional corridor payments, changing from −3.4 percent to 2.4 percent on an annual basis, and from −3.5 percent to 2.5 percent on an annual basis, respectively. Similarly, rural hospitals in nearly all census regions experience net increases in payment relative to pre-PPS payments with the BBRA 1999 transitional corridor payments.

The impact on TEFRA hospitals is shown separately at the end of the table. The TEFRA hospitals were not included in determining the impact on any of the other categories discussed above (for example, geographic location, bed size, volume, etc.). These hospitals demonstrated a very low service mix, but an average unit cost that approximates the national average. We believe that undercoding or billing an all-inclusive rate could account for their low-volume, low-service mix, and average cost per unit. We expect that once these hospitals begin to code services accurately under the PPS, payments will more closely approximate pre-PPS payments.

If the effect of the BBRA 1999 transition payments were removed, differences between pre-PPS payments and PPS payments among hospitals would still exist. These distributional differences are the result of many factors. First, cost variations among hospitals result in differences between pre-PPS payments and PPS payments, and charge structure variations result in differences between pre-PPS payments and PPS beneficiary copayment amounts. Hospitals whose costs are low relative to payment would gain under the PPS even without the BBRA 1999 transitional corridor payments. Because the transitional corridor payments are not budget neutral, these hospitals continue to gain relative to pre-PPS payments.

Redistributions may also occur as a result of current payment methods. Total Medicare outpatient payments are less than reported total costs because (in addition to the 5.8 and 10 percent reductions for operating and capital costs) the blended payment methods applicable to many surgical and diagnostic services often result in payments that are less than reported costs. Other services such as medical visits, chemotherapy services, and non-ASC approved surgeries are paid based on hospital costs. The new system redistributes the current total Medicare payments, based in part on cost-based payments and in part on blended payment amounts, across all services. Hospitals, in the aggregate, will receive proportionately less for services that are currently paid based on costs, and more for services that had been paid under blended payment methods.

Table 2. Annual Impact Of Hospital Outpatient Prospective Payment System In CY2000-CY2001
| Number of hospitals | Outpatient percent | Excluding BBRA transitional corridors ¹: Percent change in Medicare outpatient payments ³ | Excluding BBRA transitional corridors ¹: Percent change in total Medicare payments | Including BBRA transitional corridors: Percent change in Medicare outpatient payments ³ | Including BBRA transitional corridors: Percent change in total Medicare payments
| (1) | (2) | (3) | (4) | (5) | (6)
ALL HOSPITALS | 5,362 | 9.9 | 0.2 | 0.0 | 4.6 | 0.5
NON-TEFRA HOSPITALS | 4,828 | 10 | 0.1 | 0.0 | 4.6 | 0.5
URBAN HOSPS ² | 2,665 | 9.3 | 0.6 | 0.1 | 4.6 | 0.4
LARGE URBAN ² (GT 1 MILL.) | 1,505 | 9.1 | −0.3 | 0.0 | 4.3 | 0.4
OTHER URBAN ² (LE 1 MILL.) | 1,160 | 9.7 | 1.8 | 0.2 | 5.1 | 0.5
RURAL HOSPS | 2,160 | 14.7 | −1.8 | −0.3 | 4.4 | 0.6
BEDS (URBAN): ²
0—99 BEDS | 672 | 14.9 | 0.6 | 0.1 | 4.6 | 0.7
100-199 BEDS | 924 | 10.5 | 1.3 | 0.1 | 5.2 | 0.5
200-299 BEDS | 533 | 9.2 | 0.8 | 0.1 | 4.4 | 0.4
300-499 BEDS | 399 | 8.5 | 1.8 | 0.2 | 5.2 | 0.4
500 + BEDS | 137 | 8.4 | −2.9 | −0.2 | 2.8 | 0.2
BEDS (RURAL):
0—49 BEDS | 1,170 | 19.5 | −8.5 | −1.7 | 3.3 | 0.6
50-99 BEDS | 615 | 15.5 | −2.7 | −0.4 | 4.4 | 0.7
100-149 BEDS | 223 | 13.3 | −0.2 | 0.0 | 3.8 | 0.5
150-199 BEDS | 81 | 13 | 2.5 | 0.3 | 5.5 | 0.7
200 + BEDS | 71 | 11.6 | 2.7 | 0.3 | 6.1 | 0.7
VOLUME (URBAN):
LT 5,000 | 349 | 12 | −7.7 | −0.9 | 0.2 | 0.0
5,000-10,999 | 504 | 9.8 | 0.0 | 0.0 | 4.2 | 0.4
11,000-20,999 | 596 | 9.1 | 0.1 | 0.0 | 4.4 | 0.4
21,000-42,999 | 773 | 8.8 | 1.3 | 0.1 | 4.9 | 0.4
GT 42,999 | 443 | 9.7 | 0.4 | 0.0 | 4.6 | 0.4
VOLUME (RURAL):
LT 5,000 | 1,049 | 18.5 | −12.2 | −2.3 | 2.5 | 0.5
5,000-10,999 | 595 | 15.2 | −5.2 | −0.8 | 2.9 | 0.4
11,000-20,999 | 322 | 13.8 | 0.1 | 0.0 | 4.7 | 0.6
21,000-42,999 | 173 | 13.6 | 2.4 | 0.3 | 5.7 | 0.8
GT 42,999 | 21 | 13.2 | 3.0 | 0.4 | 6.8 | 0.9
REGION (URBAN): ³
NEW ENGLAND | 146 | 10.7 | 3.8 | 0.4 | 6.7 | 0.7
MIDDLE ATLANTIC | 393 | 8.4 | −3.4 | −0.3 | 2.4 | 0.2
SOUTH ATLANTIC | 401 | 8.6 | 0.3 | 0.0 | 4.2 | 0.4
EAST NORTH CENT. | 465 | 10.7 | 1.0 | 0.1 | 4.5 | 0.5
EAST SOUTH CENT. | 161 | 7.9 | 1.8 | 0.1 | 4.6 | 0.4
WEST NORTH CENT. | 183 | 9.5 | 0.9 | 0.1 | 4.9 | 0.5
WEST SOUTH CENT. | 335 | 9.7 | −2.7 | −0.3 | 2.5 | 0.2
MOUNTAIN | 123 | 10.2 | 3.1 | 0.3 | 6.1 | 0.6
PACIFIC | 423 | 9.4 | 5.6 | 0.5 | 8.6 | 0.8
PUERTO RICO | 35 | 6.6 | 10.8 | 0.7 | 13.2 | 0.9
REGION (RURAL):
NEW ENGLAND | 53 | 17.2 | −3.2 | −0.6 | 3.3 | 0.6
MIDDLE ATLANTIC | 80 | 13.6 | 7.1 | 1.0 | 10.1 | 1.4
SOUTH ATLANTIC | 285 | 11.8 | −1.8 | −0.2 | 3.6 | 0.4
EAST NORTH CENT. | 282 | 15.7 | −1.2 | −0.2 | 4.3 | 0.7
EAST SOUTH CENT. | 260 | 11.1 | 0.1 | 0.0 | 4.9 | 0.5
WEST NORTH CENT. | 508 | 19.8 | −5.2 | −1.0 | 3.0 | 0.6
WEST SOUTH CENT. | 337 | 14.2 | −5.7 | −0.8 | 3.0 | 0.4
MOUNTAIN | 213 | 16.9 | −3.4 | −0.6 | 4.7 | 0.8
PACIFIC | 140 | 15.9 | 0.7 | 0.1 | 6.3 | 1.0
PUERTO RICO | 2 | 6.6 | 32.1 | 2.1 | 32.1 | 2.1
TEACHING STATUS:
NON-TEACHING | 3,738 | 11.3 | 0.5 | 0.1 | 5.0 | 0.6
MINOR | 821 | 9.1 | 1.6 | 0.1 | 5.0 | 0.5
MAJOR | 269 | 9.1 | −3.7 | −0.3 | 2.6 | 0.2
DSH PATIENT PERCENT:
0 | 101 | 10.9 | −5.8 | −0.6 | 0.7 | 0.1
GT 0—0.10 | 1,139 | 10.5 | 0.8 | 0.1 | 4.6 | 0.5
0.10-0.16 | 986 | 11 | 2.0 | 0.2 | 5.6 | 0.6
0.16-0.23 | 880 | 10.1 | 0.8 | 0.1 | 4.9 | 0.5
0.23-0.35 | 855 | 9.5 | −1.5 | −0.1 | 3.7 | 0.4
GE 0.35 | 867 | 9.2 | −2.5 | −0.2 | 3.5 | 0.3
URBAN IME/DSH: ²
IME & DSH | 994 | 9 | −0.4 | 0.0 | 4.1 | 0.4
IME/NO DSH | 17 | 9.2 | −3.6 | −0.3 | 1.1 | 0.1
NO IME/DSH | 1,611 | 9.9 | 1.9 | 0.2 | 5.4 | 0.5
NO IME/NO DSH | 43 | 14.7 | −8.2 | −1.2 | −0.3 | 0.0
RURAL HOSP. TYPES:
NO SPECIAL STATUS | 864 | 15 | −2.2 | −0.3 | 4.4 | 0.7
RRC | 164 | 12.3 | 5.0 | 0.6 | 7.3 | 0.9
SCH/EACH | 634 | 16.5 | −7.7 | −1.3 | 2.2 | 0.4
MDH | 358 | 18.3 | −5.4 | −1.0 | 3.5 | 0.6
SCH AND RRC | 56 | 13.9 | −1.4 | −0.2 | 3.1 | 0.4
TYPE OF OWNERSHIP:
VOLUNTARY | 2,816 | 9.9 | 0.6 | 0.1 | 4.7 | 0.5
PROPRIETARY | 752 | 8.3 | −0.1 | 0.0 | 4.7 | 0.4
GOVERNMENT | 1,260 | 12.2 | −2.3 | −0.3 | 3.6 | 0.4
SPECIALTY HOSPITALS:
EYE AND EAR | 10 | 31.1 | 20.1 | 6.3 | 20.2 | 6.3
TRAUMA | 159 | 9.1 | −1.2 | −0.1 | 4.0 | 0.4
CANCER | 10 | 22 | 0.8 | 0.2 | 0.8 | 0.2
TEFRA HOSPITALS (NOT INCLUDED ON OTHER LINES):
REHAB | 147 | 3.7 | −9.4 | −0.3 | 1.7 | 0.1
PSYCH | 281 | 9 | 21.3 | 1.9 | 27.9 | 2.5
LTC | 65 | 3.7 | −15.3 | −0.6 | −1.7 | −0.1
CHILDREN | 41 | 16.5 | −11.9 | −2.0 | −3.2 | −0.5
Notes:
¹ Includes all BBRA provisions except the transitional corridor provisions that expire 01/01/04.
² Does not include impact of reclassifications as allowed under section 401 of the BBRA 1999.
³ Estimate of change compared to pre-PPS payments, which reflect the payment methodologies in effect as of January 1, 2000, and prior to July 1, 2000.

X. Federalism

We have examined this rule in accordance with Executive Order 13132, Federalism, and have determined that this final rule will not have any negative impact on the rights, roles, and responsibilities of State, local or Tribal governments.

XI. Waiver of Proposed Rulemaking

We ordinarily publish a notice of proposed rulemaking in the Federal Register and invite public comment on the proposed rule. The notice of proposed rulemaking includes a reference to the legal authority under which the rule is proposed, and the terms and substance of the proposed rule or a description of the subjects and issues involved. This procedure can be waived, however, if an agency finds good cause that a notice-and-comment procedure is impracticable, unnecessary, or contrary to the public interest, and incorporates a statement of the finding and its reasons in the rule. We find that the circumstances surrounding this rule make it impracticable to pursue a process of notice-and-comment rulemaking before the provisions of this rule take effect.

The BBRA 1999 was enacted on November 29, 1999. This final rule incorporates the following hospital outpatient PPS provisions in the BBRA 1999: outlier adjustment for high cost cases; transitional pass-through payment adjustments for additional costs (over the payments for APCs otherwise made) for new medical devices, drugs, and biologicals; definition of APCs so that the variation of costs of items within an APC is subject to certain limits; establishment of “transitional corridors” for the first 3½ years of the new system that limit losses hospitals might otherwise face; payment for implantable devices under the hospital outpatient PPS, rather than under the Durable Medical Equipment Fee Schedule; limitation of the copayment on an outpatient procedure to the amount of the inpatient hospital deductible; requirement to review annually the APC groups, relative weights, and wage and other adjustments; and calculation of the conversion factor in a budget-neutral manner, eliminating the 5.7 percent reduction indicated in the proposed rule.

As discussed earlier in this rule, July 1, 2000 is the earliest date on which we can feasibly implement the PPS. The provisions of the BBRA 1999, enacted on November 29, 1999, made numerous refinements to the PPS. With respect to the BBRA 1999 provisions, it would have been impracticable to complete notice and comment procedures by July 1, 2000. Given the limited timeframe, given the nature and scope of the BBRA 1999 refinements, and given the time required to complete notice and comment rulemaking (to develop proposed policies, draft the proposed rule, provide a 60-day public comment period, consider public comments, develop final policies, draft a final rule), it would not have been possible to issue this document as a proposed rule and issue a final rule by July 1.

In addition, it would not be feasible to implement the hospital outpatient PPS without the BBRA 1999 provisions, not only because of the nature of the BBRA 1999 provisions, but also because section 201(m) of the BBRA 1999 states: “Except as provided in this section, the amendments made by this section shall be effective as if included in the enactment of BBA.” Therefore, if we undertook prior notice and comment procedures with respect to the BBRA 1999 provisions, then (because such procedures could not be completed by July 1, 2000) the PPS would not be implemented by July 1, 2000.

Accordingly, we find good cause to waive the procedures for prior notice and comment with respect to the provisions of this document that implement the BBRA 1999 refinements to hospital outpatient PPS. We are providing a 60-day period for public comment with respect to the provisions of this final rule with comment period that implement the BBRA refinements. We are not accepting comments with respect to the other aspects of this document (for which the public has already had an extensive opportunity to comment).

List of Subjects

42 CFR Part 409

Health facilities, Medicare.

42 CFR Part 410

Health facilities, Health professions, Kidney diseases, Laboratories, Medicare, Rural areas, X-rays.

42 CFR Part 411

Kidney diseases, Medicare, Reporting and recordkeeping requirements.

42 CFR Part 412

Administrative practice and procedure, Health facilities, Medicare, Puerto Rico, Reporting and recordkeeping requirements.

42 CFR Part 413

Health facilities, Kidney diseases, Medicare, Puerto Rico, Reporting and recordkeeping requirements.

42 CFR Part 419

Health facilities, Hospitals, Medicare.

42 CFR Part 424

Emergency medical services, Health facilities, Health professions, Medicare.

42 CFR Part 489

Health facilities, Medicare, Reporting and recordkeeping requirements.

42 CFR Part 498

Administrative practice and procedure, Health facilities, Health professions, Medicare, Reporting and recordkeeping requirements.

42 CFR Part 1003

Administrative practice and procedure, Archives and records, Grant program—social programs, Maternal and Child Health, Medicaid, Medicare, Penalties.

For the reasons set forth in the preamble, 42 CFR chapter IV is amended as follows:

PART 409—HOSPITAL INSURANCE BENEFITS

A. Part 409 is amended as set forth below:

1. The authority citation for part 409 continues to read as follows:

Authority: Secs. 1102 and 1871 of the Social Security Act (42 U.S.C. 1302 and 1395hh).

Subpart B—Inpatient Hospital Services and Inpatient Critical Access Hospital Services

2. In § 409.10, paragraph (b) is revised to read as follows:

§ 409.10 Included services.

* * * * *

(b) Inpatient hospital services does not include the following types of services:

(1) Posthospital SNF care, as described in § 409.20, furnished by a hospital or a critical access hospital that has a swing-bed approval.

(2) Nursing facility services, described in § 440.155 of this chapter, that may be furnished as a Medicaid service under title XIX of the Act in a swing-bed hospital that has an approval to furnish nursing facility services.

(3) Physician services that meet the requirements of § 415.102(a) of this chapter for payment on a fee schedule basis.

(4) Physician assistant services, as defined in section 1861(s)(2)(K)(i) of the Act.

(5) Nurse practitioner and clinical nurse specialist services, as defined in section 1861(s)(2)(K)(ii) of the Act.

(6) Certified nurse mid-wife services, as defined in section 1861(gg) of the Act.

(7) Qualified psychologist services, as defined in section 1861(ii) of the Act.

(8) Services of an anesthetist, as defined in § 410.69 of this chapter.

PART 410—SUPPLEMENTARY MEDICAL INSURANCE (SMI) BENEFITS

B. Part 410 is amended as set forth below:

1. The authority citation for part 410 continues to read as follows:

Authority: Secs. 1102 and 1871 of the Social Security Act (42 U.S.C. 1302 and 1395hh).

Subpart A—General Provisions

2. In § 410.2, the introductory text is republished, the definition of “Community mental health center (CMHC)” is revised, and the definitions of “Encounter” and “Outpatient” are added in alphabetical order to read as follows:

§ 410.2 Definitions.

As used in this part—

Community mental health center (CMHC) means an entity that—

(1) Provides outpatient services, including specialized outpatient services for children, the elderly, individuals who are chronically mentally ill, and residents of its mental health service area who have been discharged from inpatient treatment at a mental health facility;

(2) Provides 24-hour-a-day emergency care services;

(3) Provides day treatment or other partial hospitalization services, or psychosocial rehabilitation services;

(4) Provides screening for patients being considered for admission to State mental health facilities to determine the appropriateness of this admission; and

(5) Meets applicable licensing or certification requirements for CMHCs in the State in which it is located.

Encounter means a direct personal contact between a patient and a physician, or other person who is authorized by State licensure law and, if applicable, by hospital or CAH staff bylaws, to order or furnish hospital services for diagnosis or treatment of the patient.

* * * * *

Outpatient means a person who has not been admitted as an inpatient but who is registered on the hospital or CAH records as an outpatient and receives services (rather than supplies alone) directly from the hospital or CAH.

* * * * *

Subpart B—Medical and Other Health Services

3. In § 410.27:

A. The section heading is revised;

B. The introductory text to paragraph (a) is revised;

C. The introductory text to paragraph (a)(1) is republished;

D. The word “and” at the end of paragraph (a)(1)(i) is removed; and

E. New paragraphs (a)(1)(iii), (e), and (f) are added to read as follows:

§ 410.27 Outpatient hospital services and supplies incident to a physician service: Conditions.

(a) Medicare Part B pays for hospital services and supplies furnished incident to a physician service to outpatients, including drugs and biologicals that cannot be self-administered, if—

(1) They are furnished—

* * * * *

(iii) In the hospital or at a location (other than an RHC or an FQHC) that HCFA designates as a department of a provider under § 413.65 of this chapter; and

* * * * *

(e) Services furnished by an entity other than the hospital are subject to the limitations specified in § 410.42(a).

(f) Services furnished at a location (other than an RHC or an FQHC) that HCFA designates as a department of a provider under § 413.65 of this chapter must be under the direct supervision of a physician. “Direct supervision” means the physician must be present and on the premises of the location and immediately available to furnish assistance and direction throughout the performance of the procedure. It does not mean that the physician must be present in the room when the procedure is performed.

4. In § 410.28, paragraph (a)(4) is removed, paragraph (c) is redesignated as paragraph (d), and new paragraphs (c) and (e) are added to read as follows:

§ 410.28 Hospital or CAH diagnostic services furnished to outpatients: Conditions.

* * * * *

(c) Diagnostic services furnished by an entity other than the hospital or CAH are subject to the limitations specified in § 410.42(a).

* * * * *

(e) Medicare Part B makes payment under section 1833(t) of the Act for diagnostic services furnished at a facility (other than an RHC or an FQHC) that HCFA designates as having provider-based status only when the diagnostic services are furnished under the appropriate level of physician supervision specified by HCFA in accordance with the definitions in § 410.32(b)(3)(i), (b)(3)(ii), and (b)(3)(iii). Under general supervision at a facility accorded provider-based status, the training of the nonphysician personnel who actually perform the diagnostic procedure and the maintenance of the necessary equipment and supplies are the continuing responsibility of the facility.

5. A new § 410.42 is added to read as follows:

§ 410.42 Limitations on coverage of certain services furnished to hospital outpatients.

(a) General rule. Except as provided in paragraph (b) of this section, Medicare Part B does not pay for any item or service that is furnished to a hospital outpatient (as defined in § 410.2) during an encounter (as defined in § 410.2) by an entity other than the hospital unless the hospital has an arrangement (as defined in § 409.3 of this chapter) with that entity to furnish that particular service to its patients. As used in this paragraph, the term “hospital” includes a CAH.

(b) Exception. The limitations stated in paragraph (a) of this section do not apply to the following services:

(1) Physician services that meet the requirements of § 415.102(a) of this chapter for payment on a fee schedule basis.

(2) Physician assistant services, as defined in section 1861(s)(2)(K)(i) of the Act.

(3) Nurse practitioner and clinical nurse specialist services, as defined in section 1861(s)(2)(K)(ii) of the Act.

(4) Certified nurse mid-wife services, as defined in section 1861(gg) of the Act.

(5) Qualified psychologist services, as defined in section 1861(ii) of the Act.

(6) Services of an anesthetist, as defined in § 410.69.

(7) Services furnished to SNF residents as defined in § 411.15(p) of this chapter.

6. In § 410.43, paragraph (b) is revised to read as follows:

§ 410.43 Partial hospitalization services: Conditions and exclusions.

* * * * *

(b) The following services are separately covered and not paid as partial hospitalization services:

(1) Physician services that meet the requirements of § 415.102(a) of this chapter for payment on a fee schedule basis.

(2) Physician assistant services, as defined in section 1861(s)(2)(K)(i) of the Act.

(3) Nurse practitioner and clinical nurse specialist services, as defined in section 1861(s)(2)(K)(ii) of the Act.

(4) Qualified psychologist services, as defined in section 1861(ii) of the Act.

(5) Services furnished to SNF residents as defined in § 411.15(p) of this chapter.

PART 411—EXCLUSIONS FROM MEDICARE AND LIMITATIONS ON MEDICARE PAYMENT

C. Part 411 is amended as set forth below:

1. The authority citation for part 411 continues to read as follows:

Authority: Secs. 1102 and 1871 of the Social Security Act (42 U.S.C. 1302 and 1395hh).

Subpart A—General Exclusions and Exclusion of Particular Services

2. In § 411.15:

A. The introductory text is republished;

B. The section heading to paragraph (m) is revised;

C. Paragraph (m)(1) is revised;

D. Paragraph (m)(2) is redesignated as paragraph (m)(3);

E. The introductory text to newly redesignated paragraph (m)(3) is republished;

F. Newly redesignated paragraphs (m)(3)(iii), (m)(3)(iv), and (m)(3)(v) are redesignated as paragraphs (m)(3)(iv), (m)(3)(v), and (m)(3)(vi), respectively; and

G. New paragraphs (m)(2) and (m)(3)(iii) are added to read as follows:

§ 411.15 Particular services excluded from coverage.

The following services are excluded from coverage:

* * * * *

(m) Services to hospital patients—(1) Basic rule. Except as provided in paragraph (m)(3) of this section, any service furnished to an inpatient of a hospital or to a hospital outpatient (as defined in § 410.2 of this chapter) during an encounter (as defined in § 410.2 of this chapter) by an entity other than the hospital unless the hospital has an arrangement (as defined in § 409.3 of this chapter) with that entity to furnish that particular service to the hospital's patients. As used in this paragraph (m)(1), the term “hospital” includes a CAH.

(2) Scope of exclusion. Services subject to exclusion from coverage under the provisions of this paragraph (m) include, but are not limited to, clinical laboratory services; pacemakers and other prostheses and prosthetic devices (other than dental) that replace all or part of an internal body organ (for example, intraocular lenses); artificial limbs, knees, and hips; equipment and supplies covered under the prosthetic device benefits; and services incident to a physician service.

(3) Exceptions. The following services are not excluded from coverage:

* * * * *

(iii) Nurse practitioner and clinical nurse specialist services, as defined in section 1861(s)(2)(K)(ii) of the Act.

* * * * *

PART 412—PROSPECTIVE PAYMENT SYSTEMS FOR INPATIENT HOSPITAL SERVICES

D. Part 412 is amended as set forth below:

1. The authority citation for part 412 continues to read as follows:

Authority: Secs. 1102 and 1871 of the Social Security Act (42 U.S.C. 1302 and 1395hh).

Subpart C—Conditions for Payment Under the Prospective Payment Systems for Inpatient Operating Costs and Inpatient Capital-Related Costs

2. In § 412.50, paragraphs (a) and (b) are revised to read as follows:

§ 412.50 Furnishing of inpatient hospital services directly or under arrangements.

(a) The applicable payments made under the prospective payment systems, as described in subparts H and M of this part, are payment in full for all inpatient hospital services, as defined in § 409.10 of this chapter. Inpatient hospital services do not include the following types of services:

(1) Physician services that meet the requirements of § 415.102(a) of this chapter for payment on a fee schedule basis.

(2) Physician assistant services, as defined in section 1861(s)(2)(K)(i) of the Act.

(3) Nurse practitioner and clinical nurse specialist services, as defined in section 1861(s)(2)(K)(ii) of the Act.

(4) Certified nurse mid-wife services, as defined in section 1861(gg) of the Act.

(5) Qualified psychologist services, as defined in section 1861(ii) of the Act.

(6) Services of an anesthetist, as defined in § 410.69 of this chapter.

(b) HCFA does not pay any provider or supplier other than the hospital for services furnished to a beneficiary who is an inpatient, except for the services described in paragraphs (a)(1) through (a)(6) of this section.

* * * * *

PART 413—PRINCIPLES OF REASONABLE COST REIMBURSEMENT; PAYMENT FOR END-STAGE RENAL DISEASE SERVICES; PROSPECTIVELY DETERMINED PAYMENT RATES FOR SKILLED NURSING FACILITIES

E. Part 413 is amended as set forth below:

1. The authority citation for part 413 continues to read as follows:

Authority: Secs. 1102, 1812(d), 1814(b), 1815, 1833(a), (i), and (n), 1871, 1881, 1883, and 1886 of the Social Security Act (42 U.S.C. 1302, 1395f(b), 1395g, 1395l, 1395l(a), (i), and (n), 1395x(v), 1395hh, 1395rr, 1395tt, and 1395ww).

Subpart A—Introduction and General Rules

§ 413.1 [Amended]

2. In § 413.1, paragraph (a)(2)(viii) is removed.

Subpart B—Accounting Records and Reports

3. In § 413.24, the heading to paragraph (d) is republished, and a new paragraph (d)(6) is added to read as follows:

§ 413.24 Adequate cost data and cost finding.

* * * * *

(d) Cost finding methods. * * *

(6) Management contracts. (i) If the main provider purchases services for a department of the provider or a provider-based entity through a management contract or otherwise directly assigns costs to the department or entity, the like costs of the main provider must be carved out to ensure that they are not allocated to the department of the provider or provider-based entity. However, if the like costs of the main provider cannot be separately identified, the costs of the services purchased through a management contract must be included in the main provider's administrative and general costs and allocated among the provider's overall statistics.

(ii) Costs of free-standing entities may not be shown in the provider's trial balance for purposes of stepping down overhead costs to these entities. The provider must develop detailed work papers showing the exact cost of the services (including overhead) provided to or by the free-standing entity and show those carved out costs as nonreimbursable cost centers in the provider's trial balance.

* * * * *

Subpart E—Payments to Providers

4. A new § 413.65 is added to read as follows:

§ 413.65 Requirements for a determination that a facility or an organization has provider-based status.

(a) Scope and definitions. (1) Scope. This section applies to all facilities or organizations for which provider-based status is sought, including remote locations of hospitals, as defined in paragraph (a)(2) of this section and satellite facilities as defined in § 412.22(h)(1) and § 412.25(e)(1) of this chapter, other than ESRD facilities. Determinations for ESRD facilities are made under § 413.174 of this chapter.

(2) Definitions. In this subpart E, unless the context indicates otherwise—

Campus means the physical area immediately adjacent to the provider's main buildings, other areas and structures that are not strictly contiguous to the main buildings but are located within 250 yards of the main buildings, and any other areas determined on an individual case basis, by the HCFA regional office, to be part of the provider's campus.

Department of a provider means a facility or organization or a physician office that is either created by, or acquired by, a main provider for the purpose of furnishing health care services of the same type as those furnished by the main provider under the name, ownership, and financial and administrative control of the main provider, in accordance with the provisions of this section. A department of a provider may not be licensed to provide health care services in its own right, may not by itself be qualified to participate in Medicare as a provider under § 489.2 of this chapter, and Medicare conditions of participation do not apply to a department as an independent entity. For purposes of this part, the term “department of a provider” does not include an RHC or, except as specified in paragraph (m)(1) of this section, an FQHC.

Free-standing facility means an entity that furnishes health care services to Medicare beneficiaries and that is not integrated with any other entity as a main provider, a department of a provider, remote location of a hospital, satellite facility, or a provider-based entity.

Main provider means a provider that either creates, or acquires ownership of, another entity to deliver additional health care services under its name, ownership, and financial and administrative control.

Provider-based entity means a provider of health care services, or an RHC or an FQHC as defined in § 405.2401(b) of this chapter, that is either created by, or acquired by, a main provider for the purpose of furnishing health care services of a different type from those of the main provider under the name, ownership, and administrative and financial control of the main provider, in accordance with the provisions of this section.

Provider-based status means the relationship between a main provider and a provider-based entity or a department of a provider, remote location of a hospital, or satellite facility, that complies with the provisions of this section.

Remote location of a hospital means a facility or an organization that is either created by, or acquired by, a hospital that is a main provider for the purpose of furnishing inpatient hospital services under the name, ownership, and financial and administrative control of the main provider, in accordance with the provisions of this section. A remote location of a hospital may not be licensed to provide inpatient hospital services in its own right, and Medicare conditions of participation do not apply to a remote location of a hospital as an independent entity. For purposes of this part, the term “remote location of a hospital” does not include a satellite facility as defined in § 412.22(h)(1) and § 412.25(e)(1) of this chapter.

(b) Responsibility for obtaining provider-based determinations. (1) A facility or organization is not entitled to be treated as provider-based simply because it or the main provider believe it is provider-based.

(2) A main provider or a facility or organization must contact HCFA and the facility or organization must be determined by HCFA to be provider-based before the main provider bills for services of the facility or organization as if the facility or organization were provider-based, or before it includes costs of those services on its cost report.

(3) A facility that is not located on the campus of a hospital and is used as a site of physician services of the kind ordinarily furnished in physician offices will be presumed to be a free-standing facility, unless it is determined by HCFA to have provider-based status.

(c) Reporting. (1) A main provider that creates or acquires a facility or organization for which it wishes to claim provider-based status, including any physician offices that a hospital wishes to operate as a hospital outpatient department or clinic, must report its acquisition of the facility or organization to HCFA if the facility or organization is located off the campus of the provider, or inclusion of the costs of the facility or organization in the provider's cost report would increase the total costs on the provider's cost report by at least 5 percent, and must furnish all information needed for a determination as to whether the facility or organization meets the requirements in paragraph (d) of this section for provider-based status.

(2) A main provider that has had one or more facilities or organizations considered provider-based also must report to HCFA any material change in the relationship between it and any provider-based facility or organization, such as a change in ownership of the facility or organization or entry into a new or different management contract that could affect the provider-based status of the facility or organization.

(d) Requirements. An entity must meet all of the following requirements to be determined by HCFA to have provider-based status.

(1) Licensure. The department of the provider, remote location of a hospital, or satellite facility and the main provider are operated under the same license, except in areas where the State requires a separate license for the department of the provider, remote location of a hospital, or satellite facility, or in States where State law does not permit licensure of the provider and the prospective department of the provider, remote location of a hospital, or satellite facility under a single license. If a State health facilities' cost review commission or other agency that has authority to regulate the rates charged by hospitals or other providers in a State finds that a particular facility or organization is not part of a provider, HCFA will determine that the facility or organization does not have provider-based status.

(2) Operation under the ownership and control of the main provider. The facility or organization seeking provider-based status is operated under the ownership and control of the main provider, as evidenced by the following:

(i) The business enterprise that constitutes the facility or organization is 100 percent owned by the provider.

(ii) The main provider and the facility or organization seeking status as a department of the provider, remote location of a hospital, or satellite facility have the same governing body.

(iii) The facility or organization is operated under the same organizational documents as the main provider. For example, the facility or organization seeking provider-based status must be subject to common bylaws and operating decisions of the governing body of the provider where it is based.

(iv) The main provider has final responsibility for administrative decisions, final approval for contracts with outside parties, final approval for personnel actions, final responsibility for personnel policies (such as fringe benefits/code of conduct), and final approval for medical staff appointments in the facility or organization.

(3) Administration and supervision. The reporting relationship between the facility or organization seeking provider-based status and the main provider must have the same frequency, intensity, and level of accountability that exists in the relationship between the main provider and one of its departments, as evidenced by compliance with all of the following requirements:

(i) The facility or organization is under the direct supervision of the main provider.

(ii) The facility or organization is operated under the same monitoring and oversight by the provider as any other department of the provider, and is operated just as any other department of the provider with regard to supervision and accountability. The facility or organization director or individual responsible for daily operations at the entity—

(A) Maintains a reporting relationship with a manager at the main provider that has the same frequency, intensity, and level of accountability that exists in the relationship between the main provider and its departments; and

(B) Is accountable to the governing body of the main provider, in the same manner as any department head of the provider.

(iii) The following administrative functions of the facility or organization are integrated with those of the provider where the facility or organization is based: billing services, records, human resources, payroll, employee benefit package, salary structure, and purchasing services. Either the same employees or group of employees handle these administrative functions for the facility or organization and the main provider, or the administrative functions for both the facility or organization and the entity are—

(A) Contracted out under the same contract agreement; or

(B) Handled under different contract agreements, with the contract of the facility or organization being managed by the main provider.

(4) Clinical services. The clinical services of the facility or organization seeking provider-based status and the main provider are integrated as evidenced by the following:

(i) Professional staff of the facility or organization have clinical privileges at the main provider.

(ii) The main provider maintains the same monitoring and oversight of the facility or organization as it does for any other department of the provider.

(iii) The medical director of the facility or organization seeking provider-based status maintains a reporting relationship with the Chief Medical Officer or other similar official of the main provider that has the same frequency, intensity, and level of accountability that exists in the relationship between the medical director of a department of the main provider and the Chief Medical Officer or other similar official of the main provider, and is under the same type of supervision and accountability as any other director, medical or otherwise, of the main provider.

(iv) Medical staff committees or other professional committees at the main provider are responsible for medical activities in the facility or organization including quality assurance, utilization review, and the coordination and integration of services, to the extent practicable, between the facility or organization seeking provider-based status and the main provider.

(v) Medical records for patients treated in the facility or organization are integrated into a unified retrieval system (or cross reference) of the main provider.

(vi) Inpatient and outpatient services of the facility or organization and the main provider are integrated, and patients treated at the facility or organization who require further care have full access to all services of the main provider and are referred where appropriate to the corresponding inpatient or outpatient department or service of the main provider.

(5) Financial integration. The financial operations of the facility or organization are fully integrated within the financial system of the main provider, as evidenced by shared income and expenses between the main provider and the facility or organization. The costs of the facility or organization are reported in a cost center of the provider, and the financial status of the facility or organization is incorporated and readily identified in the main provider's trial balance.

(6) Public awareness. The facility or organization seeking status as a department of a provider, remote location of a hospital, or satellite facility is held out to the public and other payers as part of the main provider. When patients enter the provider-based facility or organization, they are aware that they are entering the main provider and are billed accordingly.

(7) Location in immediate vicinity. The facility or organization and the main provider are located on the same campus, except where the following requirements are met:

(i) The facility or organization demonstrates a high level of integration with the main provider by showing that it meets all of the other provider-based criteria, and demonstrates that it serves the same patient population as the main provider, by submitting records showing that, during the 12-month period immediately preceding the first day of the month in which the application for provider-based status is filed with HCFA, and for each subsequent 12-month period—

(A) At least 75 percent of the patients served by the facility or organization reside in the same zip code areas as at least 75 percent of the patients served by the main provider;

(B) At least 75 percent of the patients served by the facility or organization who required the type of care furnished by the main provider received that care from that provider (for example, at least 75 percent of the patients of an RHC seeking provider-based status received inpatient hospital services from the hospital that is the main provider); or

(C) If the facility or organization is unable to meet the criteria in paragraph (d)(7)(i)(A) or (d)(7)(i)(B) of this section because it was not in operation during all of the 12-month period described in the previous sentence, the facility or organization is located in a zip code area included among those that, during all of the 12-month period described in the previous sentence, accounted for at least 75 percent of the patients served by the main provider.

(ii) A facility or organization is not considered to be in the “immediate vicinity” of the main provider unless the facility or organization and the main provider are located in the same State or, where consistent with the laws of both States, adjacent States.

(iii) A rural health clinic that is otherwise qualified as a provider-based entity of a hospital that is located in a rural area, as defined in § 412.62(f)(1)(iii) of this chapter, and has fewer than 50 beds, as determined under § 412.105(b) of this chapter, is not subject to the criterion in this paragraph (d)(7).

(e) Provider-based status not applicable to joint ventures. A facility or organization cannot be considered provider-based if the entity is owned by two or more providers engaged in a joint venture. For example, where a hospital has jointly purchased or jointly created free-standing facilities under joint venture arrangements, neither party to the joint venture arrangement can claim the free-standing facility as a provider-based entity.

(f) Management contracts. Facilities and organizations that otherwise meet the requirements of paragraph (d) of this section, but are operated under management contracts, must also meet all of the following criteria:

(1) The staff of the facility or organization, other than management staff, are employed by the provider or by another organization, other than the management company, which also employs the staff of the main provider.

(2) The administrative functions of the facility or organization are integrated with those of the main provider, as determined under criteria in paragraph (d)(3)(iii) of this section.

(3) The main provider has significant control over the operations of the facility or organization as determined under criteria in paragraph (b)(3)(ii) of this section.

(4) The management contract is held by the main provider itself, not by a parent organization that has control over both the main provider and the facility or organization.

(g) Obligations of hospital outpatient departments and hospital-based entities. (1) Hospital outpatient departments located either on or off the campus of the hospital that is the main provider must comply with the anti-dumping rules in §§ 489.20(l), (m), (q), and (r) and § 489.24 of this chapter. If any individual comes to any hospital-based entity (including an RHC) located on the main hospital campus, and a request is made on the individual's behalf for examination or treatment of a medical condition, as described in § 489.24 of this chapter, the hospital must comply with the anti-dumping rules in § 489.24 of this chapter.

(2) Physician services furnished in hospital outpatient departments or hospital-based entities (other than RHCs) must be billed with the correct site-of-service indicator, so that applicable site-of-service reductions to physician and practitioner payment amounts can be applied.

(3) Hospital outpatient departments must comply with all the terms of the hospital's provider agreement.

(4) Physicians who work in hospital outpatient departments or hospital-based entities are obligated to comply with the non-discrimination provisions in § 489.10(b) of this chapter.

(5) Hospital outpatient departments (other than RHCs) must treat all Medicare patients, for billing purposes, as hospital outpatients. The department must not treat some Medicare patients as hospital outpatients and others as physician office patients.

(6) In the case of a patient admitted to the hospital as an inpatient after receiving treatment in the hospital outpatient department or hospital-based entity, payments for services in the hospital outpatient department or hospital-based entity are subject to the payment window provisions applicable to PPS hospitals and to hospitals and units excluded from PPS set forth at § 412.2(c)(5) of this chapter and at § 413.40(c)(2), respectively.

(7) When a Medicare beneficiary is treated in a hospital outpatient department or hospital-based entity (other than an RHC) that is not located on the main provider's campus, the hospital has a duty to provide written notice to the beneficiary, prior to the delivery of services, of the amount of the beneficiary's potential financial liability (that is, of the fact that the beneficiary will incur a coinsurance liability for an outpatient visit to the hospital as well as for the physician service, and of the amount of that liability). The notice must be one that the beneficiary can read and understand. If the beneficiary is unconscious, under great duress, or for any other reason unable to read a written notice and understand and act on his or her own rights, the notice must be provided, prior to the delivery of services, to the beneficiary's authorized representative.

(8) Hospital outpatient departments must meet applicable hospital health and safety rules for Medicare-participating hospitals in part 482 of this chapter.

(h) Furnishing all services under arrangement. A facility or organization may not qualify for provider-based status if all patient care services furnished at the facility are furnished under arrangement.

(i) Inappropriate treatment of a facility or organization as provider-based. (1) Determination and review. If HCFA learns that a provider has treated a facility or organization as provider-based and the provider had not obtained a determination of provider-based status under this section, HCFA will—

(i) Review current payments and, if necessary, take action in accordance with the rules on inappropriate billing in paragraph (j) of this section;

(ii) Investigate and determine whether the requirements in paragraph (d) of this section (or, for periods prior to October 10, 2000, the requirements in applicable program instructions) were met; and

(iii) Review all previous payments to that provider for all cost reporting periods subject to re-opening in accordance with § 405.1885 and § 405.1889 of this chapter.

(2) Recovery of overpayments. If HCFA finds that payments for services at the facility or organization have been made as if the facility or organization were provider-based, even though HCFA had not previously determined that the facility or organization qualified for provider-based status, HCFA will recover the difference between the amount of payments that actually were made and the amount of payments that HCFA estimates should have been made in the absence of a determination of provider-based status, except that recovery will not be made for any period prior to October 10, 2000 if during all of that period the management of the entity made a good faith effort to operate it as a provider-based facility or organization, as described in paragraph (h)(3) of this section.

(3) Exception for good faith effort. HCFA determines that the management of a facility or organization has made a good faith effort to operate it as a provider-based entity if—

(i) The requirements regarding licensure and public awareness in paragraphs (d)(1) and (d)(6) of this section are met;

(ii) All facility services were billed as if they had been furnished by a department of a provider, remote location of a hospital, satellite facility, or a provider-based entity of the main provider; and

(iii) All professional services of physicians and other practitioners were billed with the correct site-of-service indicator, as described in paragraph (g)(2) of this section.

(j) Inappropriate billing. If HCFA finds that a facility or organization is being treated as provider-based without having obtained a determination of provider-based status under this section, HCFA will notify the provider, adjust future payments, review previous payments, determine whether the facility or organization qualifies for provider-based status under this paragraph, and continue payments only under specific conditions, as described in paragraphs (j)(1), (j)(2), (j)(3), and (j)(4) of this section.

(1) Notice to provider. If HCFA finds that inappropriate billing has occurred or is occurring since no provider-based determination has been made by HCFA, HCFA will issue written notice to the provider that payments for past cost reporting periods may be reviewed and recovered as described in paragraph (i) of this section, that future payments for services in or of the facility or organization will be adjusted as described in paragraph (j)(2) of this section, and that a determination of provider-based status will be made.

(2) Adjustment of payments. If HCFA finds that inappropriate billing has occurred or is occurring since no provider-based determination has been made by HCFA, HCFA will adjust future payments to the provider, the facility or organization, or both, to approximate as closely as possible the amounts that would be paid, in the absence of a provider-based determination, if all other requirements for billing were met.

(3) Review of previous payments. If HCFA finds that inappropriate billing has occurred or is occurring since no provider-based determination has been made by HCFA, HCFA will review previous payments and, if necessary, take action in accordance with the rules on inappropriate treatment of a facility or organization as provider-based in paragraph (h) of this section.

(4) Determination regarding provider-based status. If HCFA finds that inappropriate billing has occurred or is occurring since no provider-based determination has been made by HCFA, HCFA will determine whether the facility or organization qualifies for provider-based status under the criteria in this section. If HCFA determines that the facility or organization qualifies for provider-based status, future payment for services at or by the facility or organization will be adjusted to reflect that determination. If HCFA determines that the facility or organization does not qualify for provider-based status, future payment for services at or by the facility or organization will be made only in accordance with the rules in paragraph (i)(5) of this section.

(5) Continuation of payment. The notice of denial of provider-based status sent to the provider will ask the provider to notify HCFA in writing, within 30 days of the date the notice is issued, of whether the facility or organization (or, where applicable, the practitioners who staff the facility or organization) will be seeking to enroll and meet other requirements to bill for services in a free-standing facility. If the provider indicates that the facility, organization, or practitioners will not be seeking to enroll, or if HCFA does not receive a response within 30 days of the date the notice was issued, all payment under this paragraph (i)(5) will end as of the 30th day after the date of notice. If the provider indicates that the facility or organization, or its practitioners, will be seeking to meet enrollment and other requirements for billing for services in a free-standing facility, payment for services of the facility or organization will continue, at the adjusted amounts described in paragraph (j)(2) of this section for as long as is required for all billing requirements to be met (but not longer than 6 months) if the facility or organization, or its practitioners, submit a complete enrollment application and provide all other required information within 90 days after the date of notice; and the facility or organization, or its practitioners, furnish all other information needed by HCFA to process the enrollment application and verify that other billing requirements are met. If the necessary applications or information are not provided, HCFA will terminate all payment to the provider, facility, or organization as of the date HCFA issues notice that necessary applications or information have not been submitted.

(k) Correction of errors. HCFA may review a past determination of provider-based status for a facility or organization or may review the status of a facility or organization (that is, whether the facility or organization is provider-based) if no determination regarding provider-based status has previously been made, if HCFA believes that status may be inappropriate, based on the provisions of this section. If HCFA determines that a previous determination was in error, and the entity should not be considered provider-based, HCFA notifies the main provider. Treatment of the facility or organization as provider-based ceases with the first day of the next cost report period following notification of the redetermination, but not less than 6 months after the date of notification.

(l) Status of Indian Health Service and Tribal facilities and organizations. Facilities and organizations operated by the Indian Health Service or Tribes will be considered to be departments of hospitals operated by the Indian Health Service or Tribes if, on or before April 7, 2000, they furnished only services that were billed as if they had been furnished by a department of a hospital operated by the Indian Health Service or a Tribe and they are:

(1) Owned and operated by the Indian Health Service;

(2) Owned by the Tribe but leased from the Tribe by the IHS under the Indian Self-Determination Act (Pub. L. 93-638) in accordance with applicable regulations and policies of the Indian Health Service in consultation with Tribes: or

(3) Owned by the Indian Health Service but leased and operated by the Tribe under the Indian Self-Determination Act (Pub. L. 93-638) in accordance with applicable regulations and policies of the Indian Health Service in consultation with Tribes.

(m) FQHCs and “look-alikes”. A facility that has, since April 7, 1995, furnished only services that were billed as if they had been furnished by a department of a provider will continue to be treated, for purposes of this section, as a department of the provider without regard to whether it complies with the criteria for provider-based status in this section, if the facility—

(1) Received a grant before 1995 under section 330 of the Public Health Service Act, or is receiving funding from such a grant under a contract with the recipient of such a grant and meets the requirements to receive a grant under section 330 of the Public Health Service Act; or

(2) Based on the recommendation of the Public Health Service, was determined by HCFA before 1995 to meet the requirements for receiving such a grant.

(n) Effective date of provider-based status. Provider-based status for a facility or organization is effective on the earliest date on which a request for provider-based status has been made, and all requirements of this part have been met.

Subpart F—Specific Categories of Costs

5. In § 413.118, the heading to paragraph (d) is republished, and a new paragraph (d)(5) is added to read as follows:

§ 413.118 Payment for facility services related to covered ASC surgical procedures performed in hospitals on an outpatient basis.

* * * * *

(d) Blended payment amount. * * *

(5) For portions of cost reporting periods beginning on or after October 1, 1997, for purposes of calculating the blended payment amount under paragraph (d)(4) of this section, the ASC payment amount is the sum of the standard overhead amounts reduced by deductibles and coinsurance as defined in section 1866(a)(2)(ii) of the Act.

* * * * *

6. In § 413.122:

A. The heading to paragraph (b) is republished

B. A new paragraph (b)(5) is added

C. The heading to paragraph (c) is republished; and

D. A new paragraph (c)(4) is added to read as follows:

§ 413.122 Payment for hospital outpatient radiology services and other diagnostic procedures.

* * * * *

(b) Payment for hospital outpatient radiology services. * * *

(5) For hospital outpatient radiology services furnished on or after October 1, 1997, the blended payment amount is equal to the sum of—

(i) 42 percent of the hospital-specific amount; and

(ii) 58 percent of the fee schedule amount calculated as 62 percent of the sum of the fee schedule amounts payable for the same services when furnished by participating physicians in their offices in the same locality, less deductible and coinsurance as defined in section 1866(a)(2)(A)(ii) of the Act.

(c) Payment for other diagnostic procedures. * * *

(4) For other diagnostic services furnished on or after October 1, 1997, the blended payment amount is equal to the sum of—

(i) 50 percent of the hospital-specific amount; and

(ii) 50 percent of the fee schedule amount calculated as 42 percent of the sum of the fee schedule amounts payable for the same services when furnished by participating physicians in their offices in the same locality less deductible and coinsurance as defined in section 1866(a)(2)(A)(ii) of the Act.

7. In § 413.124, paragraph (a) is revised to read as follows:

§ 413.124 Reduction to hospital outpatient operating costs.

(a) Except for sole community hospitals, as defined in § 412.92 of this chapter, and critical access hospitals, the reasonable costs of outpatient hospital services (other than capital-related costs of these services) are reduced by 5.8 percent for services furnished during portions of cost reporting periods occurring on or after October 1, 1990 and until the first date that the prospective payment system under part 419 of this chapter is implemented.

* * * * *

Subpart G—Capital-Related Costs

8. In § 413.130, the heading to paragraph (j) and the introductory text to paragraph (j)(1) are republished, and paragraph (j)(1)(ii) is revised to read as follows:

§ 413.130 Introduction to capital-related costs.

* * * * *

(j) Reduction to capital-related costs. (1) Except for sole community hospitals and critical access hospitals, the amount of capital-related costs of all hospital outpatient services is reduced by—

* * * * *

(ii) 10 percent for portions of cost reporting periods occurring on or after October 1, 1991 and until the first date that the prospective payment system under part 419 of this chapter is implemented.

* * * * *

F. A new part 419, consisting of §§ 419.1, 419.2, 419.20, 419.21, 419.22, 419.30, 419.31, 419.32, 419.40, 419.41, 419.42, 419.43, 419.44, 419.50, 419.60, and 419.70, is added to read as follows:

PART 419—PROSPECTIVE PAYMENT SYSTEM FOR HOSPITAL OUTPATIENT DEPARTMENT SERVICES

Subpart A—General Provisions

Sec.

419.1 Basis and scope.

419.2 Basis of payment.

Subpart B—Categories of Hospitals and Services Subject to and Excluded From the Hospital Outpatient Prospective Payment System

419.20 Hospitals subject to the hospital outpatient prospective payment system.

419.21 Hospital outpatient services subject to the outpatient prospective payment system.

419.22 Hospital outpatient services excluded from payment under the hospital outpatient prospective payment system.

Subpart C—Basic Methodology for Determining Prospective Payment Rates for Hospital Outpatient Services

419.30 Base expenditure target for calendar year 1999.

419.31 Ambulatory payment classification (APC) system and payment weights.

419.32 Calculation of prospective payment rates for hospital outpatient services.

Subpart D—Payments to Hospitals

419.40 Payment concepts.

419.41 Calculation of national beneficiary copayment amounts and national Medicare program payment amounts.

419.42 Hospital election to reduce copayment.

419.43 Adjustments to national program payment and beneficiary copayment amounts.

419.44 Payment reductions for surgical procedures.

Subpart E—Updates

419.50 Annual updates.

Subpart F—Limitations on Review

419.60 Limitations on administrative and judicial review.

Subpart G—Transitional Corridors

419.70 Transitional adjustment to limit decline in payment.

Authority: Secs. 1102, 1833(t), and 1871 of the Social Security Act (42 U.S.C. 1302, 1395l(t), and 1395hh).

PART 419—PROSPECTIVE PAYMENT SYSTEM FOR HOSPITAL OUTPATIENT DEPARTMENT SERVICES

Subpart A—General Provisions

§ 419.1 Basis and scope.

(a) Basis. This part implements section 1833(t) of the Act by establishing a prospective payment system for services furnished on or after July 1, 2000 by hospital outpatient departments to Medicare beneficiaries who are registered on hospital records as outpatients.

(b) Scope. This subpart describes the basis of payment for outpatient hospital services under the prospective payment system. Subpart B sets forth the categories of hospitals and services that are subject to the outpatient hospital prospective payment system and those categories of hospitals and services that are excluded from the outpatient hospital prospective payment system. Subpart C sets forth the basic methodology by which prospective payment rates for hospital outpatient services are determined. Subpart D describes Medicare payment amounts, beneficiary copayment amounts, and methods of payment to hospitals under the hospital outpatient prospective payment system. Subpart E describes how the hospital outpatient prospective payment system may be updated. Subpart F describes limitations on administrative and judicial review. Subpart G describes the transitional payment adjustments that are made before 2004 to limit declines in payment for outpatient services.

§ 419.2 Basis of payment.

(a) Unit of payment. Under the hospital outpatient prospective payment system, predetermined amounts are paid for designated services furnished to Medicare beneficiaries. These services are identified by codes established under the Health Care Financing Administration Common Procedure Coding System (HCPCS). The prospective payment rate for each service or procedure for which payment is allowed under the hospital outpatient prospective payment system is determined according to the methodology described in subpart C of this part. The manner in which the Medicare payment amount and the beneficiary copayment amount for each service or procedure are determined is described in subpart D of this part.

(b) Determination of hospital outpatient prospective payment rates: Included costs. The prospective payment system establishes a national payment rate, standardized for geographic wage differences, that includes operating and capital-related costs that are directly related and integral to performing a procedure or furnishing a service on an outpatient basis. In general, these costs include, but are not limited to—

(1) Use of an operating suite, procedure room, or treatment room;

(2) Use of recovery room;

(3) Use of an observation bed;

(4) Anesthesia, certain drugs, biologicals, and other pharmaceuticals; medical and surgical supplies and equipment; surgical dressings; and devices used for external reduction of fractures and dislocations;

(5) Supplies and equipment for administering and monitoring anesthesia or sedation;

(6) Intraocular lenses (IOLs);

(7) Incidental services such as venipuncture;

(8) Capital-related costs;

(9) Implantable items used in connection with diagnostic X-ray tests, diagnostic laboratory tests, and other diagnostic tests;

(10) Durable medical equipment that is implantable;

(11) Implantable prosthetic devices (other than dental) which replace all or part of an internal body organ (including colostomy bags and supplies directly related to colostomy care), including replacement of these devices; and

(12) Costs incurred to procure donor tissue other than corneal tissue.

(c) Determination of hospital outpatient prospective payment rates: Excluded costs. The following costs are excluded from the hospital outpatient prospective payment rates:

(1) Medical education costs for approved nursing and allied health education programs.

(2) Corneal tissue acquisition costs incurred by hospitals that are paid for on a reasonable cost basis.

(3) Costs for services listed in § 419.22.

Subpart B—Categories of Hospitals and Services Subject to and Excluded From the Hospital Outpatient Prospective Payment System

§ 419.20 Hospitals subject to the hospital outpatient prospective payment system.

(a) Applicability. The hospital outpatient prospective payment system is applicable to any hospital participating in the Medicare program, except those specified in paragraph (b) of this section, for services furnished on or after July 1, 2000.

(b) Hospitals excluded from the outpatient prospective payment system. (1) Those services furnished by Maryland hospitals that are paid under a cost containment waiver in accordance with section 1814(b)(3) of the Act are excluded from the hospital outpatient prospective payment system.

(2) Critical access hospitals (CAHs) are excluded from the hospital outpatient prospective payment system.

§ 419.21 Hospital outpatient services subject to the outpatient prospective payment system.

Except for services described in § 419.22, effective for services furnished on or after July 1, 2000, payment is made under the hospital outpatient prospective payment system for the following:

(a) Medicare Part B services furnished to hospital outpatients designated by the Secretary under this part.

(b) Services designated by the Secretary that are covered under Medicare Part B when furnished to hospital inpatients who are either not entitled to benefits under Part A or who have exhausted their Part A benefits but are entitled to benefits under Part B of the program.

(c) Partial hospitalization services furnished by community mental health centers (CMHCs).

(d) The following medical and other health services furnished by a comprehensive outpatient rehabilitation facility (CORF) when they are provided outside the patient's plan (of care); or by a home health agency (HHA) to patients who are not under an HHA plan or treatment; or by a hospice program furnishing services to patients outside the hospice benefit:

(1) Antigens.

(2) Splints and casts.

(3) Pneumococcal vaccine, influenza vaccine, and hepatitis B vaccine.

§ 419.22 Hospital outpatient services excluded from payment under the hospital outpatient prospective payment system.

The following services are not paid for under the hospital outpatient prospective payment system:

(a) Physician services that meet the requirements of § 415.102(a) of this chapter for payment on a fee schedule basis.

(b) Nurse practitioner and clinical nurse specialist services, as defined in section 1861(s)(2)(K)(ii) of the Act.

(c) Physician assistant services, as defined in section 1861(s)(2)(K)(i) of the Act.

(d) Certified nurse-midwife services, as defined in section 1861(gg) of the Act.

(e) Services of qualified psychologists, as defined in section 1861(ii) of the Act.

(f) Services of an anesthetist as defined in § 410.69 of this chapter.

(g) Clinical social worker services as defined in section 1861(hh)(2) of the Act.

(h) Outpatient therapy services described in section 1833(a)(8) of the Act.

(i) Ambulance services, as described in section 1861(v)(1)(U) of the Act, or, if applicable, the fee schedule established under section 1834(l).

(j) Except as provided in § 419.22(b)(11), prosthetic devices, prosthetics, prosthetic supplies, and orthotic devices.

(k) Except as provided in § 419.2(b)(10), durable medical equipment supplied by the hospital for the patient to take home.

(l) Clinical diagnostic laboratory services.

(m) Services for patients with ESRD that are paid under the ESRD composite rate and drugs and supplies furnished during dialysis but not included in the composite rate.

(n) Services and procedures that the Secretary designates as requiring inpatient care.

(o) Hospital outpatient services furnished to SNF residents (as defined in § 411.15(p) of this chapter) as part of the patient's resident assessment or comprehensive care plan (and thus included under the SNF PPS) that are furnished by the hospital “under arrangements” but billable only by the SNF, regardless of whether or not the patient is in a Part A SNF stay.

(p) Services that are not covered by Medicare by statute.

(q) Services that are not reasonable or necessary for the diagnosis or treatment of an illness or disease.

Subpart C—Basic Methodology for Determining Prospective Payment Rates for Hospital Outpatient Services

§ 419.30 Base expenditure target for calendar year 1999.

(a) HCFA estimates the aggregate amount that would be payable for hospital outpatient services in calendar year 1999 by summing—

(1) The total amounts that would be payable from the Trust Fund for covered hospital outpatient services without regard to the outpatient prospective payment system described in this part; and

(2) The total amounts of coinsurance that would be payable by beneficiaries to hospitals for covered hospital outpatient services without regard to the outpatient prospective payment system described in this part.

(b) The estimated aggregate amount under paragraph (a) of this section is determined as though the deductible required under section 1833(b) of the Act did not apply.

§ 419.31 Ambulatory payment classification (APC) system and payment weights.

(a) APC groups. (1) HCFA classifies outpatient services and procedures that are comparable clinically and in terms of resource use into APC groups. Except as specified in paragraph (a)(2) of this section, items and services within a group are not comparable with respect to the use of resources if the highest median cost for an item or service within the group is more than 2 times greater than the lowest median cost for an item or service within the group.

(2) HCFA may make exceptions to the requirements set forth in paragraph (a)(1) in unusual cases, such as low volume items and services, but may not make such an exception in the case of a drug or biological that has been designated as an orphan drug under section 526 of the Federal Food, Drug and Cosmetic Act.

(3) The payment rate determined for an APC group in accordance with § 419.32, and the copayment amount and program payment amount determined for an APC group in accordance with subpart D of this part, apply to every HCPCS code classified within an APC group.

(b) APC weighting factors. (1) Using hospital outpatient claims data from calendar year 1996 and data from the most recent available hospital cost reports, HCFA determines the median costs for the services and procedures within each APC group.

(2) HCFA assigns to each APC group an appropriate weighting factor to reflect the relative median costs for the services within the APC group compared to the median costs for the services in all APC groups.

(c) Standardizing amounts. (1) HCFA determines the portion of costs determined in paragraph (b)(1) of this section that is labor-related. This is known as the “labor-related portion” of hospital outpatient costs.

(2) HCFA standardizes the median costs determined in paragraph (b)(1) of this section by adjusting for variations in hospital labor costs across geographic areas.

§ 419.32 Calculation of prospective payment rates for hospital outpatient services.

(a) Conversion factor for 1999. HCFA calculates a conversion factor in such a manner that payment for hospital outpatient services furnished in 1999 would have equaled the base expenditure target calculated in § 419.30, taking into account APC group weights and estimated service frequencies and reduced by the amounts that would be payable in 1999 as outlier payments under § 419.43(d) and transitional pass-through payments under § 419.43(e).

(b) Conversion factor for calendar year 2000 and subsequent years. (1) Subject to paragraph (b)(2) of this section, the conversion factor for a calendar year is equal to the conversion factor calculated for the previous year adjusted as follows:

(i) For calendar years 2000, 2001, and 2002, by the hospital inpatient market basket percentage increase applicable under section 1886(b)(3)(B)(iii) of the Act reduced by one percentage point.

(ii) For calendar years 2003 and subsequent years, by the hospital inpatient market basket percentage increase applicable under section 1886(b)(3)(B)(iii) of the Act.

(2) Beginning in calendar year 2000, HCFA may substitute for the hospital inpatient market basket percentage in paragraph (b) of this section a market basket percentage increase that is determined and applied to hospital outpatient services in the same manner that the hospital inpatient market basket percentage increase is determined and applied to inpatient hospital services.

(c) Payment rates. The payment rate for services and procedures for which payment is made under the hospital outpatient prospective payment system is the product of the conversion factor calculated under paragraph (a) or paragraph (b) of this section and the relative weight determined under § 419.31(b).

(d) Budget neutrality. HCFA adjusts the conversion factor as needed to ensure that updates and adjustments under § 419.50(a) are budget neutral.

Subpart D—Payments to Hospitals

§ 419.40 Payment concepts.

(a) In addition to the payment rate described in § 419.32, for each APC group there is a predetermined beneficiary coinsurance amount as described in § 419.41(a). The Medicare program payment amount for each APC group is calculated by applying the program payment percentage as described in § 419.41(b).

(b) For purposes of this section—

(1) Coinsurance percentage is calculated as the difference between the program payment percentage and 100 percent. The coinsurance percentage in any year is thus defined for each APC group as the greater of the following: the ratio of the APC group unadjusted copayment amount to the annual APC group payment rate, or 20 percent.

(2) Program payment percentage is calculated as the lower of the following: the ratio of the APC group payment rate minus the APC group unadjusted coinsurance amount, to the APC group payment rate, or 80 percent.

(3) Unadjusted coinsurance amount is calculated as 20 percent of the wage-adjusted national median of charges for services within an APC group furnished during 1996, updated to 1999 using an actuarial projection of charge increases for hospital outpatient department services during the period 1996 to 1999.

(c) Limitation of coinsurance amount to inpatient hospital deductible amount. The coinsurance amount for a procedure performed in a year cannot exceed the amount of the inpatient hospital deductible established under section 1813(b) of the Act for that year.

§ 419.41 Calculation of national beneficiary coinsurance amounts and national Medicare program payment amounts.

(a) To calculate the unadjusted coinsurance amount for each APC group, HCFA—

(1) Standardizes 1996 hospital charges for the services within each APC group to offset variations in hospital labor costs across geographic areas;

(2) Identifies the median of the wage-neutralized 1996 charges for each APC group; and

(3) Determines the value equal to 20 percent of the wage-neutralized 1996 median charge for each APC group and multiplies that value by an actuarial projection of increases in charges for hospital outpatient department services during the period 1996 to 1999. The result is the unadjusted beneficiary coinsurance amount for the APC group.

(b) HCFA calculates annually the program payment percentage for every APC group on the basis of each group's unadjusted coinsurance amount and its payment rate after the payment rate is adjusted in accordance with § 419.32.

(c) To determine payment amounts due for a service paid under the hospital outpatient prospective payment system, HCFA makes the following calculations:

(1) Makes the wage index adjustment in accordance with § 419.43.

(2) Subtracts the amount of the applicable Part B deductible provided under § 410.160 of this chapter.

(3) Multiplies the remainder by the program payment percentage for the group to determine the preliminary Medicare program payment amount.

(4) Subtracts the program payment amount from the amount determined in paragraph (c)(2) of this section to determine the coinsurance amount.

(i) The coinsurance amount for an APC cannot exceed the amount of the inpatient hospital deductible established under section 1813(b) of the Act for that year.

(ii) The coinsurance amount is computed as if the adjustments under § 419.43(d) and (e) (and any adjustment made under § 419.43(f) in relation to these adjustments) had not been paid.

(5) Adds the amount by which the coinsurance amount would have exceeded the inpatient hospital deductible for that year to the preliminary Medicare program payment amount determined in paragraph (c)(3) of this section to determine the final Medicare program payment amount.

§ 419.42 Hospital election to reduce coinsurance.

(a) A hospital may elect to reduce coinsurance for any or all APC groups on a calendar year basis. A hospital may not elect to reduce copayment for some, but not all, services within the same group.

(b) A hospital must notify its fiscal intermediary of its election to reduce coinsurance no later than—

(1) June 1, 2000, for coinsurance elections for the period July 1, 2000 through December 31, 2000; or

(2) December 1 preceding the beginning of each subsequent calendar year.

(c) The hospital's election must be properly documented. It must specifically identify the APCs to which it applies and the coinsurance amount (within the limits identified below) that the hospital has selected for each group.

(d) The election of reduced coinsurance remains in effect unchanged during the year for which the election was made.

(e) In electing reduced coinsurance, a hospital may elect a level that is less than that year's wage-adjusted coinsurance amount for the group but not less than 20 percent of the APC payment rate as determined in § 419.32.

(f) The hospital may advertise and otherwise disseminate information concerning the reduced level of coinsurance that it has elected. All advertisements and information furnished to Medicare beneficiaries must specify that the coinsurance reductions advertised apply only to the specified services of that hospital and that coinsurance reductions are available only for hospitals that choose to reduce coinsurance for hospital outpatient services and are not allowed in any other ambulatory settings or physician offices.

§ 419.43 Adjustments to national program payment and beneficiary coinsurance amounts.

(a) General rule. HCFA determines national prospective payment rates for hospital outpatient department services and determines a wage adjustment factor to adjust the portion of the APC payment and national beneficiary coinsurance amount attributable to labor-related costs for relative differences in labor and labor-related costs across geographic regions in a budget neutral manner.

(b) Labor-related portion of payment and copayment rates for hospital outpatient services. HCFA determines the portion of hospital outpatient costs attributable to labor and labor-related costs (known as the “labor-related portion” of hospital outpatient costs) in accordance with § 419.31(c)(1).

(c) Wage index factor. HCFA uses the hospital inpatient prospective payment system wage index established in accordance with part 412 of this chapter to make the adjustment referred to in paragraph (a) of this section.

(d) Outlier adjustment—(1) General rule. Subject to paragraph (d)(4) of this section, HCFA provides for an additional payment for each hospital outpatient service (or group of services) for which a hospital's charges, adjusted to cost, exceed the following:

(i) A fixed multiple of the sum of—

(A) The applicable Medicare hospital outpatient payment amount determined under § 419.32(c), as adjusted under § 419.43 (other than for adjustments under this paragraph (d) or paragraph (e) of this section); and

(B) Any transitional pass-through payment under paragraph (e) of this section.

(ii) At the option of HCFA, a fixed dollar amount.

(2) Amount of adjustment. The amount of the additional payment under paragraph (d)(1) of this section is determined by HCFA and approximates the marginal cost of care beyond the applicable cutoff point under paragraph (d)(1) of this section.

(3) Limit on aggregate outlier adjustments—(i) In general. The total of the additional payments made under this paragraph (d) for covered hospital outpatient department services furnished in a year (as estimated by HCFA before the beginning of the year) may not exceed the applicable percentage specified in paragraph (d)(3)(ii) of this section of the total program payments (sum of both the Medicare and beneficiary payments to the hospital) estimated to be made under this part for all hospital outpatient services furnished in that year. If this paragraph is first applied to less than a full year, the limit applies only to the portion of the year.

(ii) Applicable percentage. For purposes of paragraph (d)(3)(i) of this section, the term “applicable percentage” means a percentage specified by HCFA up to (but not to exceed)—

(A) For a year (or portion of a year) before 2004, 2.5 percent; and

(B) For 2004 and thereafter, 3.0 percent.

(4) Transitional authority. In applying paragraph (d)(1) of this section for hospital outpatient services furnished before January 1, 2002, HCFA may—

(i) Apply paragraph (d)(1) of this section to a bill for these services related to an outpatient encounter (rather than for a specific service or group of services) using hospital outpatient payment amounts and transitional pass-through payments covered under the bill; and

(ii) Use an appropriate cost-to-charge ratio for the hospital or CMHC (as determined by HCFA), rather than for specific departments within the hospital.

(e) Transitional pass-through for additional costs of innovative medical devices, drugs, and biologicals—(1) General rule. HCFA provides for an additional payment under this paragraph for any of the following that are provided as part of a hospital outpatient service (or group of services):

(i) Current orphan drugs. A drug or biological that is used for a rare disease or condition with respect to which the drug or biological has been designated as an orphan drug under section 526 of the Federal Food, Drug and Cosmetic Act if payment for the drug or biological as an outpatient hospital service under this part was being made on the first date that the system under this part is implemented.

(ii) Current cancer therapy drugs and biologicals and brachytherapy. A drug or biological that is used in cancer therapy, including, but not limited to, a chemotherapeutic agent, an antiemetic, a hematopoietic growth factor, a colony stimulating factor, a biological response modifier, a bisphosphonate, and a device of brachytherapy, if payment for the drug, biological, or device as an outpatient hospital service under this part was being made on the first date that the system under this part is implemented.

(iii) Current radiopharmaceutical drugs and biological products. A radiopharmaceutical drug or biological product used in diagnostic, monitoring, and therapeutic nuclear medicine procedures if payment for the drug or biological as an outpatient hospital service under this part was being made on the first date that the system under this part is implemented.

(iv) New medical devices, drugs, and biologicals. A medical device, drug, or biological not described in paragraph (e)(1)(i), (e)(1)(ii), or (e)(1)(iii) of this section if—

(A) Payment for the device, drug, or biological as an outpatient hospital service under this part was not being made as of December 31, 1996; and

(B) The cost of the device, drug, or biological is not insignificant (as defined in paragraph (e)(1)(iv)(C) of this section) in relation to the hospital outpatient fee schedule amount (as calculated under § 419.32(c)) payable for the service (or group of services) involved.

(C) The cost of the device, drug, or biological is considered not insignificant if it meets all of the following thresholds:

(1) Its expected reasonable cost exceeds 25 percent of the applicable fee schedule amount for the associated service.

(2) The expected reasonable cost of the new drug, biological, or device must exceed the current portion of the fee schedule amount determined to be associated with the drug, biological, or device by 25 percent.

(3) The difference between the expected reasonable cost of the item and the portion of the hospital outpatient fee schedule amount determined to be associated with the item exceeds 10 percent of the applicable hospital outpatient fee schedule amount.

(2) Limited period of payment. The payment under this paragraph (e) with respect to a medical device, drug, or biological applies during a period of at least 2 years, but not more than 3 years, that begins—

(i) On the first date this section is implemented in the case of a drug, biological, or device described in paragraphs (e)(2)(i), (e)(2)(ii), or (e)(2)(iii) of this section and in the case of a device, drug, or biological described in paragraph (e)(1)(iv) of this section and for which payment under this part is made as an outpatient hospital service before the first date; or

(ii) In the case of a device, drug, or biological described in paragraph (e)(1)(iv) of this section not described in paragraph (e)(2)(i) of this section, on the first date on which payment is made under this part for the device, drug, or biological as an outpatient hospital service.

(3) Amount of additional payment. Subject to paragraph (e)(4)(iii) of this section, the amount of the payment under this paragraph is—

(i) In the case of a drug or biological, the amount by which the amount determined under section 1842(o) of the Act for the drug or biological exceeds the portion of the otherwise applicable Medicare hospital outpatient fee schedule amount that HCFA determines is associated with the drug or biological; or

(ii) In the case of a medical device, the amount by which the hospital's charges for the device, adjusted to cost, exceeds the portion of the otherwise applicable Medicare hospital outpatient fee schedule amount that HCFA determines is associated with the device.

(4) Limit on aggregate annual adjustment—(i) General rule. The total of the additional payments made under this paragraph for hospital outpatient services furnished in a year, as estimated by HCFA before the beginning of the year, may not exceed the applicable percentage specified in paragraph (e)(4)(ii) of this section of the total program payments estimated to be made under this section for all hospital outpatient services furnished in that year. If this paragraph is first applied to less than a full year, the limit applies only to the portion of the year.

(ii) Applicable percentage. For purposes of paragraph (e)(4)(i) of this section, the term “applicable percentage” means—

(A) For a year (or portion of a year) before 2004, 2.5 percent; and

(B) For 2004 and thereafter, a percentage specified by HCFA up to (but not to exceed) 2.0 percent.

(iii) Uniform prospective reduction if aggregate limit projected to be exceeded. If HCFA estimates before the beginning of a year that the amount of the additional payments under this paragraph (e) for the year (or portion thereof) as determined under paragraph (e)(4)(i) of this section without regard to this paragraph (e)(4)(iii) would exceed the limit established under this paragraph (e)(4)(iii), HCFA reduces pro rata the amount of each of the additional payments under this paragraph for that year (or portion thereof) in order to ensure that the aggregate additional payments under this paragraph (as so estimated) do not exceed the limit.

(f) Budget neutrality. Outlier adjustments under paragraph (d) of this section and transitional pass-through payments under paragraph (e) of this section are established in a budget-neutral manner.

§ 419.44 Payment reductions for surgical procedures.

(a) Multiple surgical procedures. When more than one surgical procedure for which payment is made under the hospital outpatient prospective payment system is performed during a single surgical encounter, the Medicare program payment amount and the beneficiary copayment amount are based on—

(1) The full amounts for the procedure with the highest APC payment rate; and

(2) One-half of the full program and the beneficiary payment amounts for all other covered procedures.

(b) Terminated procedures. When a surgical procedure is terminated prior to completion due to extenuating circumstances or circumstances that threaten the well-being of the patient, the Medicare program payment amount and the beneficiary copayment amount are based on—

(1) The full amounts if the procedure is discontinued after the induction of anesthesia or after the procedure is started; or

(2) One-half of the full program and the beneficiary coinsurance amounts if the procedure is discontinued after the patient is prepared for surgery and taken to the room where the procedure is to be performed but before anesthesia is induced.

Subpart E—Updates

§ 419.50 Annual review.

(a) General rule. Not less often than annually, HCFA reviews and updates groups, relative payment weights, and the wage and other adjustments to take into account changes in medical practice, changes in technology, the addition of new services, new cost data, and other relevant information and factors.

(b) Consultation requirement. HCFA will consult with an expert outside advisory panel composed of an appropriate selection of representatives of providers to review (and advise HCFA concerning) the clinical integrity of the groups and weights. The panel may use data collected or developed by entities and organizations (other than the Department of Health and Human Services) in conducting the review.

(c) Effective dates. HCFA conducts the first annual review under paragraph (a) of this section in 2001 for payments made in 2002.

Subpart F—Limitations on Review

§ 419.60 Limitations on administrative and judicial review.

There can be no administrative or judicial review under sections 1869 and 1878 of the Act or otherwise of the following:

(a) The development of the APC system, including—

(1) Establishment of the groups and relative payment weights;

(2) Wage adjustment factors;

(3) Other adjustments; and

(4) Methods for controlling unnecessary increases in volume.

(b) The calculation of base amounts described in section 1833(t)(3) of the Act.

(c) Periodic adjustments described in section 1833(t)(9) of the Act.

(d) The establishment of a separate conversion factor for hospitals described in section 1886(d)(1)(B)(v) of the Act.

(e) The determination of the fixed multiple, or a fixed dollar cutoff amount, the marginal cost of care, or applicable percentage under § 419.43(d) or the determination of insignificance of cost, the duration of the additional payments (consistent with § 419.43(e)), the portion of the Medicare hospital outpatient fee schedule amount associated with particular devices, drugs, or biologicals, and the application of any pro rata reduction under § 419.43(e).

Subpart G—Transitional Corridors

§ 419.70 Transitional adjustment to limit decline in payment.

(a) Before 2002. Except as provided in paragraph (d) of this section, for covered hospital outpatient services furnished before January 1, 2002, for which the prospective payment system amount (as defined in paragraph (e) of this section) is—

(1) At least 90 percent, but less than 100 percent, of the pre-BBA amount (as defined in paragraph (f) of this section), the amount of payment under this part is increased by 80 percent of the amount of this difference;

(2) At least 80 percent, but less than 90 percent, of the pre-BBA amount, the amount of payment under this part is increased by the amount by which the product of 0.71 and the pre-BBA amount exceeds the product of 0.70 and the prospective payment system amount;

(3) At least 70 percent, but less than 80 percent, of the pre-BBA amount, the amount of payment under this part is increased by the amount by which the product of 0.63 and the pre-BBA amount, exceeds the product of 0.60 and the PPS amount; or

(4) Less than 70 percent of the pre-BBA amount, the amount of payment under this part shall be increased by 21 percent of the pre-BBA amount.

(b) For 2002. Except as provided in paragraph (d) of this section, for covered hospital outpatient services furnished during 2002, for which the prospective payment system amount is—

(1) At least 90 percent, but less than 100 percent, of the pre-BBA amount, the amount of payment under this part is increased by 70 percent of the amount of this difference;

(2) At least 80 percent, but less than 90 percent, of the pre-BBA amount, the amount of payment under this part is increased by the amount by which the product of 0.61 and the pre-BBA amount exceeds the product of 0.60 and the prospective payment system amount; or

(3) Less than 80 percent of the pre-BBA amount, the amount of payment under this part is increased by 13 percent of the pre-BBA amount.

(c) For 2003. Except as provided in paragraph (d) of this section, for covered hospital outpatient services furnished during 2003, for which the prospective payment system amount is—

(1) At least 90 percent, but less than 100 percent, of the pre-BBA amount, the amount of payment under this part is increased by 60 percent of the amount of this difference; or

(2) Less than 90 percent of the pre-BBA amount, the amount of payment under this part is increased by 6 percent of the pre-BBA amount.

(d) Hold harmless provisions—(1) Temporary treatment for small rural hospitals. For covered hospital outpatient services furnished in a calendar year before January 1, 2004 for which the prospective payment system amount is less than the pre-BBA amount, the amount of payment under this part is increased by the amount of that difference if the hospital—

(i) Is located in a rural area as defined in § 412.63(b) of this chapter or is treated as being located in a rural area under section 1886(d)(8)(E) of the Act; and

(ii) Has 100 or fewer beds as defined in § 412.105(b) of this chapter.

(2) Permanent treatment for cancer hospitals. In the case of a hospital described in § 412.23(f) of this chapter for which the prospective payment system amount is less than the pre-BBA amount for covered hospital outpatient services, the amount of payment under this part is increased by the amount of this difference.

(e) Prospective payment system amount defined. In this paragraph, the term “prospective payment system amount” means, with respect to covered hospital outpatient services, the amount payable under this part for these services (determined without regard to this paragraph or any reduction in coinsurance elected under § 419.42), including amounts payable as copayment under § 419.41, coinsurance under section 1866(a)(2)(A)(ii) of the Act, and the deductible under section 1833(b) of the Act.

(f) Pre-BBA amount defined—(1) General rule. In this paragraph, the “pre-BBA amount” means, with respect to covered hospital outpatient services furnished by a hospital or a community mental health center (CMHC) in a year, an amount equal to the product of the reasonable cost of the provider for these services for the portions of the provider's cost reporting period (or periods) occurring in the year and the base provider outpatient payment-to-cost ratio for the provider (as defined in paragraph (f)(2) of this section).

(2) Base payment-to-cost-ratio defined. For purposes of this paragraph, HCFA shall determine these ratios as if the amendments to sections 1833(i)(3)(B)(i)(II) and 1833(n)(1)(B)(i) of the Act made by section 4521 of the BBA, to require that the full amount beneficiaries paid as coinsurance under section 1862(a)(2)(A) of the Act are taken into account in determining Medicare Part B Trust Fund payment to the hospital, were in effect in 1996. The “base payment-to-cost ratio” for a hospital or CMHC means the ratio of—

(i) The provider's payment under this part for covered outpatient services furnished during the cost reporting period ending in 1996, including any payment for these services through cost-sharing described in paragraph (e) of this section; and

(ii) The reasonable cost of these services for this period, without applying the cost reductions under section 1861(v)(1)(S) of the Act.

(g) Interim payments. HCFA makes payments under this paragraph to hospitals and CMHCs on an interim basis, subject to retrospective adjustments based on settled cost reports.

(h) No effect on coinsurance. No payment made under this section affects the unadjusted coinsurance amount or the coinsurance amount described in § 419.41.

(i) Application without regard to budget neutrality. The additional payments made under this paragraph—

(1) Are not considered an adjustment under § 419.43(f); and

(2) Are not implemented in a budget neutral manner.

PART 424—CONDITIONS FOR MEDICARE PAYMENT

G. Part 424 is amended as set forth below:

1. The authority citation for part 424 continues to read as follows:

Authority: Secs. 1102 and 1871 of the Social Security Act (42 U.S.C. 1302 and 1395hh).

2. In § 424.24, the heading to paragraph (e) is republished, and a new paragraph (e)(3) is added to read as follows:

§ 424.24 Requirements for medical and other health services furnished by providers under Medicare Part B.

* * * * *

(e) Partial hospitalization services: Content of certification and plan of treatment requirements—

* * * * *

(3) Recertification requirements.

(i) Signature. The physician recertification must be signed by a physician who is treating the patient and has knowledge of the patient's response to treatment.

(ii) Timing. The first recertification is required as of the 18th day of partial hospitalization services. Subsequent recertifications are required at intervals established by the provider, but no less frequently than every 30 days.

(iii) Content. The recertification must specify that the patient would otherwise require inpatient psychiatric care in the absence of continued stay in the partial hospitalization program and describe the following:

(A) The patient's response to the therapeutic interventions provided by the partial hospitalization program.

(B) The patient's psychiatric symptoms that continue to place the patient at risk of hospitalization.

(C) Treatment goals for coordination of services to facilitate discharge from the partial hospitalization program.

* * * * *

PART 489—PROVIDER AGREEMENTS AND SUPPLIER APPROVAL

H. Part 489 is amended as set forth below:

1. The authority citation to part 489 continues to read as follows:

Authority: Secs. 1102 and 1871 of the Social Security Act (42 U.S.C. 1302 and 1395hh).

Subpart B—Essentials of Provider Agreements

2. In § 489.20, the introductory text to the section is republished; the introductory text to paragraph (d) is revised; paragraphs (d)(3), (d)(4), and (d)(5) are redesignated as paragraphs (d)(4), (d)(5), and (d)(6), respectively; and a new paragraph (d)(3) is added to read as follows:

§ 489.20 Basic commitments.

The provider agrees to the following:

* * * * *

(d) In the case of a hospital or a CAH that furnishes services to Medicare beneficiaries, either to furnish directly or to make arrangements (as defined in § 409.3 of this chapter) for all Medicare-covered services to inpatients and outpatients of a hospital or a CAH except the following:

* * * * *

(3) Nurse practitioner and clinical nurse specialist services, as defined in section 1861(s)(2)(K)(ii) of the Act.

* * * * *

3. In § 489.24, the definition for “Comes to the emergency department” in paragraph (b) is revised, and a new paragraph (i) is added to read as follows:

§ 489.24 Special responsibilities of Medicare hospitals in emergency cases.

* * * * *

(b) * * *

Comes to the emergency department means, with respect to an individual requesting examination or treatment, that the individual is on the hospital property. For purposes of this section, “property” means the entire main hospital campus as defined in § 413.65(b) of this chapter, including the parking lot, sidewalk, and driveway, as well as any facility or organization that is located off the main hospital campus but has been determined under § 413.65 of this chapter to be a department of the hospital. The responsibilities of hospitals with respect to these off-campus facilities or organizations are described in paragraph (i) of this section. Property also includes ambulances owned and operated by the hospital even if the ambulance is not on hospital grounds. An individual in a nonhospital-owned ambulance on hospital property is considered to have come to the hospital's emergency department. An individual in a nonhospital-owned ambulance off hospital property is not considered to have come to the hospital's emergency department even if a member of the ambulance staff contacts the hospital by telephone or telemetry communications and informs the hospital that they want to transport the individual to the hospital for examination and treatment. In these situations, the hospital may deny access if it is in “diversionary status,” that is, it does not have the staff or facilities to accept any additional emergency patients. If, however, the ambulance staff disregards the hospital's instructions and transports the individual on to hospital property, the individual is considered to have come to the emergency department.

* * * * *

(i) Off-campus departments. If an individual comes to a facility or organization that is located off the main hospital campus but has been determined under § 416.35 of this chapter to be a department of the hospital and a request is made on the individual's behalf for examination or treatment of a potential emergency medical condition as otherwise described in paragraph (a) of this section, the hospital is obligated in accordance with the rules in this paragraph to provide the individual with an appropriate medical screening examination and any necessary stabilizing treatment or an appropriate transfer.

(1) Capability of the hospital. The capability of the hospital includes that of the hospital as a whole, not just the capability of the off-campus department. Except for cases described in paragraph (i)(3)(ii) of this section, the obligation of a hospital under this section must be discharged within the hospital as a whole. However, the hospital is not required to locate additional personnel or staff to off-campus departments to be on standby for possible emergencies.

(2) Protocols for off-campus departments. The hospital must establish protocols for the handling of individuals with potential emergency conditions at off-campus departments. These protocols must provide for direct contact between personnel at the off-campus department and emergency personnel at the main hospital campus and may provide for dispatch of practitioners, when appropriate, from the main hospital campus to the off-campus department to provide screening or stabilization services.

(i) If the off-campus department is an urgent care center, primary care center, or other facility that is routinely staffed by physicians, RNs, or LPNs, these department personnel must be trained, and given appropriate protocols, for the handling of emergency cases. At least one individual on duty at the off-campus department during its regular hours of operation must be designated as a qualified medical person as described in paragraph (d) of this section. The qualified medical person must initiate screening of individuals who come to the off-campus department with a potential emergency medical condition, and may be able to complete the screening and provide any necessary stabilizing treatment at the off-campus department, or to arrange an appropriate transfer.

(ii) If the off-campus department is a physical therapy, radiology, or other facility not routinely staffed with physicians, RNs, or LPNs, the department's personnel must be given protocols that direct them to contact emergency personnel at the main hospital campus for direction. Under this direction, and in accordance with protocols established in advance by the hospital, the personnel at the off-campus department must describe patient appearance and report symptoms and, if appropriate, either arrange transportation of the individual to the main hospital campus in accordance with paragraph (i)(3)(i) of this section or assist in an appropriate transfer as described in paragraphs (i)(3)(ii) and (d)(2) of this section.

(3) Movement or appropriate transfer from off-campus departments—(i) If the main hospital campus has the capability required by the individual and movement of the individual to the main campus would not significantly jeopardize the life or health of the individual, the personnel at the off-campus department must assist in arranging this movement. Movement of the individual to the main campus of the hospital is not considered a transfer under this section, since the individual is simply being moved from one department of a hospital to another department or facility of the same hospital.

(ii) If transfer of an individual with a potential emergency condition to a medical facility other than the main hospital campus is warranted, either because the main hospital campus does not have the specialized capability or facilities required by the individual, or because the individual's condition is deteriorating so rapidly that taking the time needed to move the individual to the main hospital campus would significantly jeopardize the life or health of the individual, personnel at the off-campus department must, in accordance with protocols established in advance by the hospital, assist in arranging an appropriate transfer of the individual to a medical facility other than the main hospital. The protocols must include procedures and agreements established in advance with other hospitals or medical facilities in the area of the off-campus department to facilitate these appropriate transfers. Such a transfer would require—

(A) That there be either a request by or on behalf of the individual as described in paragraph (d)(1)(ii)(A) of this section or a certification by a physician or a qualified medical person as described in paragraph (d)(1)(ii)(B) or (d)(1)(ii)(C) of this section; and

(B) That the transfer comply with the requirements described in paragraph (d)(2) of this section.

(iii) If the individual is being appropriately transferred to another medical facility from the off-campus department, the requirement for the provision of medical treatment in paragraph (d)(2)(i) of this section would be met by provision of medical treatment within the capability of the transferring off-campus department.

PART 498—APPEALS PROCEDURES FOR DETERMINATIONS THAT AFFECT PARTICIPATION IN THE MEDICARE PROGRAM AND FOR DETERMINATIONS THAT AFFECT THE PARTICIPATION OF ICFs/MR AND CERTAIN NFs IN THE MEDICAID PROGRAM

I. Part 498 is amended as set forth below:

1. The authority citation for part 498 continues to read as follows:

Authority: Secs. 1102 and 1871 of the Social Security Act (42 U.S.C. 1302 and 1395hh).

2. In § 498.2, the introductory text is republished, and the definition of “Provider” is revised to read as follows:

§ 498.2 Definitions.

As used in this part—

* * * * *

Provider means a hospital, critical access hospital (CAH), skilled nursing facility (SNF), comprehensive outpatient rehabilitation facility (CORF), home health agency (HHA), or hospice, that has in effect an agreement to participate in Medicare, that has in effect an agreement to participate in Medicaid, or a clinic, rehabilitation agency, or public health agency that has a similar agreement but only to furnish outpatient physical therapy or outpatient speech pathology services, and prospective provider means any of the listed entities that seeks to participate in Medicare as a provider or to have any facility or organization determined to be a department of the provider or provider-based entity under § 413.65 of this chapter.

* * * * *

3. In § 498.3, the introductory text to paragraph (b) is republished; paragraphs (b)(2) through (b)(15) are redesignated as paragraphs (b)(3) through (b)(16), respectively; and a new paragraph (b)(2) is added to read as follows:

§ 498.3 Scope and applicability.

* * * * *

(b) Initial determinations by HCFA. HCFA makes initial determinations with respect to the following matters:

* * * * *

(2) Whether a prospective department of a provider, remote location of a hospital, satellite facility, or provider-based entity qualifies for provider-based status under § 413.65 of this chapter, or whether such a facility or entity currently treated as a department of a provider, remote location of a hospital, satellite facility, or a provider-based entity no longer qualifies for that status under § 413.65 of this chapter.

* * * * *

PART 1003—CIVIL MONEY PENALTIES, ASSESSMENTS AND EXCLUSIONS

J. Part 1003 is amended as set forth below:

1. The authority citation for part 1003 is revised to read as follows:

Authority: 42 U.S.C. 1302, 1320-7, 1320a-7a, 1320a-7e, 1320b-10, 1395u(j), 1395u(k), 1395cc(g), 1395dd(d)(1), 1395mm, 1395nn(g), 1395ss(d), 1396(m), 11131(c), and 11137(b)(2).

2. Section 1003.100 is amended by revising paragraph (a), by republishing the introductory text to paragraphs (b) and (b)(1), by revising paragraphs (b)(1)(xi) and (b)(1)(xii), and by adding paragraph (b)(1)(xiii) to read as follows:

§ 1003.100 Basis and purpose.

(a) Basis. This part implements sections 1128(c), 1128A, 1128E, 1140, 1866(g), 1876(i), 1877(g), 1882(d) and 1903(m)(5) of the Social Security Act, and sections 421(c) and 427(b)(2) of Pub. L. 99-660 (42 U.S.C. 1320a-7, 1320a-7a, 1320a-7e, 1320a-7c, 1320b-10, 1395cc(g), 1395mm, 1395ss(d), 1396(m), 11131(c), and 11137(b)(2)).

(b) Purpose. This part—

(1) Provides for the imposition of civil money penalties and, as applicable, assessments against persons who—

* * * * *

(xi) Are physicians or entities that enter into an arrangement or scheme that they know or should know has as a principal purpose the assuring of referrals by the physician to a particular entity that, if made directly, would violate the provisions of § 411.353 of this title;

(xii) Violate the Federal health care programs' anti-kickback statute as set forth in section 1128B of the Act; or

(xiii) Knowingly and willfully present, or cause to be presented, a bill or request for payment for nonphysician services furnished to hospital patients (unless the services are furnished by the hospital, either directly or under an arrangement) in violation of sections 1862(a)(14) and 1866(a)(1)(H) of the Act.

* * * * *

3. Section 1003.102 is amended by republishing the introductory text to paragraph (b), by adding and reserving paragraphs (b)(12) through (b)(14), and by adding a new paragraph (b)(15) to read as follows:

§ 1003.102 Basis for civil money penalties and assessments.

* * * * *

(b) The OIG may impose a penalty, and where authorized, an assessment against any person (including an insurance company in the case of paragraphs (b)(5) and (b)(6) of this section) whom it determines in accordance with this part—

* * * * *

(15) Has knowingly and willfully presented, or caused to be presented, a bill or request for payment for items and services furnished to a hospital patient for which payment may be made under the Medicare or another Federal health care program, if that bill or request is inconsistent with an arrangement under section 1866(a)(1)(H) of the Act, or violates the requirements for such an arrangement.

* * * * *

4. Section 1003.103 is amended by revising paragraph (a), by adding and reserving paragraphs (i) and (j), and by adding a new paragraph (k) to read as follows:

§ 1003.103 Amount of penalty.

(a) Except as provided in paragraphs (b) and (d) through (k) of this section, the OIG may impose a penalty of not more than $10,000 for each item or service that is subject to a determination under § 1003.102.

* * * * *

(k) For violations of section 1862(a)(14) of the Act and § 1003.102(b)(15), the OIG may impose a penalty of not more than $2,000 for each bill or request for payment for items and services furnished to a hospital patient.

5. Section 1003.105 is amended by republishing the introductory text to paragraph (a)(1) and by revising paragraph (a)(1)(i) to read as follows:

§ 1003.105 Exclusion from participation in Medicare, Medicaid and other Federal health care programs.

(a)(1) Except as set forth in paragraph (b) of this section, in lieu of or in addition to any penalty or assessment, the OIG may exclude from participation in Medicare, Medicaid and other Federal health care programs the following persons for a period of time determined under § 1003.107—

(i) Any person who is subject to a penalty or assessment under § 1003.102(a), (b)(1) through (b)(4), or (b)(15).

* * * * *

(Catalog of Federal Domestic Assistance 93.774, Medicare—Supplementary Medical Insurance Program)
Dated: March 3, 2000.
Nancy-Ann Min DeParle,
Administrator, Health Care Financing Administration.
Dated: March 28, 2000.
June G. Brown,
Inspector General, Department of Health and Human Services.
Approved: March 29, 2000.
Donna E. Shalala,
Secretary.

Note: The following addenda will not appear in the Code of Federal Regulations.

Note to Addenda A, B, C, E and F: Addenda A, B, and C have a number of errors in the following columns: APC, status indicator, payment rate, and national unadjusted coinsurance and minimum unadjusted coinsurance. We identified these errors too late in preparing this rule for publication to correct them. Some of the errors are related to the status codes assigned to the HCPCS codes and APCs.

Some errors affect addenda B, C, and E. Several of these errors involve procedures incorrectly identified as inpatient procedures, and one inpatient procedure incorrectly identified as an outpatient procedure. Certain PET scan codes and other codes are shown in incorrect APCs. Screening sigmoidoscopy and colonoscopy APCs have the wrong HCPCS codes and incorrect payment rates and coinsurance amounts. Certain dental codes were inadvertently identified as errors, so their correct APC assignments, payment rate and coinsurance amounts were not shown in the addenda. Two breath tests are subject to the clinical diagnostic lab fee schedule. We have listed below the corrections that have payment implications.

Addendum F does not include status indicators G and H which identify items that are eligible for pass-through payments. (See section III.B.3 of the preamble for a complete description of all status indications used in conjunction with this final rule.)

We also note that the word “proposed” should not appear on any Addenda contained in this final rule such as on Addendum A or C.

The fiscal intermediaries will receive the necessary changes to process outpatient PPS claims correctly. We will post the corrected Addendum B on our Website and publish a correction document in the Federal Register.

Our Website address is http://www.hcfa.gov/medicare/hopsmain.htm.

List Accompanying Note To Addenda A, B, C, E and F
CPT/ HCPCS | HOPD Status Indicator | Description | APC | Relative Weight | Proposed Payment Rate | National Unadjusted Coinsurance | Minimum Unadjusted Coinsurance
20979 | E | US bone stimulation
31375 | C | Partial removal of larynx
35481 | T | Atherectomy, open | 0081 | 19.36 | $938.71 | $434.25 | $187.74
61795 | S | Brain surgery using computer | 0302 | 8.21 | $398.08 | $216.55 | $79.62
61886 | T | Implant neurostim arrays | 0222 | 25.48 | $1,235.45 | $780.07 | $247.09
75945 | S | Intravascular us | 0267 | 2.72 | $131.88 | $80.06 | $26.38
75946 | S | Intravascular us add-on | 0267 | 2.72 | $131.88 | $80.06 | $26.38
78267 | A | Breath test attain/anal, c-14
78268 | A | Breath test analysis, c-14
92978 | S | Intravasc us, heart add-on | 0267 | 2.72 | $131.88 | $80.06 | $26.38
92979 | S | Intravasc us, heart add-on | 0267 | 2.72 | $131.88 | $80.06 | $26.38
96570 | T | Photodynamic Tx, 30 min | 0973 | 5.16 | $250.19 |  | $50.04
96571 | T | Photodynamic Tx, addl 15 min | 0973 | 5.16 | $250.19 |  | $50.04
D0277 | S | Vert bitewings-sev to eight | 0330 | 1.51 | $73.22 | $14.64 | $14.64
D0472 | S | Gross exam, prep & report | 0330 | 1.51 | $73.22 | $14.64 | $14.64
D0473 | S | Micro exam, prep & report | 0330 | 1.51 | $73.22 | $14.64 | $14.64
D0474 | S | Micro w exam of surg margins | 0330 | 1.51 | $73.22 | $14.64 | $14.64
D0480 | S | Cytopath smear prep & report | 0330 | 1.51 | $73.22 | $14.64 | $14.64
D4268 | S | Surgical revision procedure | 0330 | 1.51 | $73.22 | $14.64 | $14.64
G0104 | S | CA screen; flexible sigmoidscope | 0159 | 2.83 | $137.22 |  | $34.31
G0105 | S | Colorectal screen; high risk ind | 0158 | 7.98 | $386.93 |  | $96.73
G0122 | S | Colon ca scrn; barium enema | 0157 | 1.79 | $86.79 |  | $17.36
G0125 | S | Lung Image (PET) | 0981 | 46.40 | $2,249.80 |  | $449.96
G0126 | S | Lung Image (PET) staging | 0981 | 46.40 | $2,249.80 |  | $449.96
G0163 | S | PET for rec of colorectal cancer | 0981 | 46.40 | $2,249.80 |  | $449.96
G0164 | S | PET for lymphoma staging | 0981 | 46.40 | $2,249.80 |  | $449.96
G0165 | S | PET, rec of melanoma/met cancer | 0981 | 46.40 | $2,249.80 |  | $449.96
G0168 | T | Wound closure by adhesive | 0970 | 0.52 | $25.21 |  | $5.04
G0169 | T | Removal tissue; no anesthesia | 0013 | 0.91 | $44.12 | $17.66 | $8.82
G0170 | T | Skin biograft | 0025 | 3.74 | $181.34 | $70.66 | $36.27
G0171 | T | Skin biograft add-on | 0025 | 3.74 | $181.34 | $70.66 | $36.27

——————————

¹ Not subject to national coinsurance. Minimum unadjusted coinsurance is 25% of the payment rate. The Payment rate is the lower of the HOPD payment rate or the Ambulatory Surgical Center payment.

² Not subject to national coinsurance.

³ Eligible for pass-through payments. See Preamble for payment rate determination. See Addendum K for complete list of pass-through codes.

Addendum A.—List of Hospital Outpatient Ambulatory Payment Classes With Status Indicators, Relative Weights, Payment Rates, and Coinsurance Amounts
APC | Group Title | Status Indicator | Relative Weight | Payment Rate | National Unadjusted Coinsurance | Minimum Unadjusted Coinsurance
0001 | Photochemotherapy | S | 0.47 | $22.79 | $8.49 | $4.56
0002 | Fine needle Biopsy/Aspiration | T | 0.62 | $30.06 | $17.66 | $6.01
0003 | Bone Marrow Biopsy/Aspiration | T | 0.98 | $47.52 | $27.99 | $9.50
0004 | Level I Needle Biopsy/Aspiration Except Bone Marrow | T | 1.84 | $89.22 | $32.57 | $17.84
0005 | Level II Needle Biopsy/Aspiration Except Bone Marrow | T | 5.41 | $262.32 | $119.75 | $52.46
0006 | Level I Incision & Drainage | T | 2.00 | $96.97 | $33.95 | $19.39
0007 | Level II Incision & Drainage | T | 3.68 | $178.43 | $72.03 | $35.69
0008 | Level III Incision & Drainage | T | 6.15 | $298.20 | $113.67 | $59.64
0009 | Nail Procedures | T | 0.74 | $35.88 | $9.63 | $7.18
0010 | Level I Destruction of Lesion | T | 0.55 | $26.67 | $9.86 | $5.33
0011 | Level II Destruction of Lesion | T | 2.72 | $131.88 | $50.01 | $26.38
0012 | Level I Debridement & Destruction | T | 0.53 | $25.70 | $9.18 | $5.14
0013 | Level II Debridement & Destruction | T | 0.91 | $44.12 | $17.66 | $8.82
0014 | Level III Debridement & Destruction | T | 1.50 | $72.73 | $24.55 | $14.55
0015 | Level IV Debridement & Destruction | T | 1.77 | $85.82 | $31.20 | $17.16
0016 | Level V Debridement & Destruction | T | 3.53 | $171.16 | $74.67 | $34.23
0017 | Level VI Debridement & Destruction | T | 12.45 | $603.66 | $289.16 | $120.73
0018 | Biopsy Skin, Subcutaneous Tissue or Mucous Membrane | T | 0.94 | $45.58 | $17.66 | $9.12
0019 | Level I Excision/Biopsy | T | 4.00 | $193.95 | $78.91 | $38.79
0020 | Level II Excision/Biopsy | T | 6.51 | $315.65 | $130.53 | $63.13
0021 | Level III Excision/Biopsy | T | 10.49 | $508.63 | $236.51 | $101.73
0022 | Level IV Excision/Biopsy | T | 12.49 | $605.60 | $292.94 | $121.12
0023 | Exploration Penetrating Wound | T | 1.98 | $96.00 | $40.37 | $19.20
0024 | Level I Skin Repair | T | 2.43 | $117.82 | $44.50 | $23.56
0025 | Level II Skin Repair | T | 3.74 | $181.34 | $70.66 | $36.27
0026 | Level III Skin Repair | T | 12.11 | $587.18 | $277.92 | $117.44
0027 | Level IV Skin Repair | T | 15.80 | $766.10 | $383.10 | $153.22
0029 | Incision/Excision Breast | T | 12.85 | $623.06 | $303.50 | $124.61
0030 | Breast Reconstruction/Mastectomy | T | 20.19 | $978.95 | $523.95 | $195.79
0031 | Hyperbaric Oxygen | S | 3.00 | $145.46 | $140.85 | $29.09
0032 | Placement Transvenous Catheters/Arterial Cutdown | T | 5.40 | $261.83 | $119.52 | $52.37
0033 | Partial Hospitalization | P | 4.17 | $202.19 | $48.17 | $40.44
0040 | Arthrocentesis & Ligament/Tendon Injection | T | 2.11 | $102.31 | $40.60 | $20.46
0041 | Arthroscopy | T | 24.57 | $1,191.33 | $592.08 | $238.27
0042 | Arthroscopically-Aided Procedures | T | 29.22 | $1,416.79 | $804.74 | $283.36
0043 | Closed Treatment Fracture Finger/Toe/Trunk | T | 1.64 | $79.52 | $25.46 | $15.90
0044 | Closed Treatment Fracture/Dislocation Except Finger/Toe/Trunk | T | 2.17 | $105.22 | $38.08 | $21.04
0045 | Bone/Joint Manipulation Under Anesthesia | T | 11.02 | $534.33 | $277.12 | $106.87
0046 | Open/Percutaneous Treatment Fracture or Dislocation | T | 22.29 | $1,080.78 | $535.76 | $216.16
0047 | Arthroplasty without Prosthesis | T | 22.09 | $1,071.08 | $537.03 | $214.22
0048 | Arthroplasty with Prosthesis | T | 29.06 | $1,409.03 | $725.94 | $281.81
0049 | Level I Musculoskeletal Procedures Except Hand and Foot | T | 15.04 | $729.25 | $356.95 | $145.85
0050 | Level II Musculoskeletal Procedures Except Hand and Foot | T | 21.13 | $1,024.53 | $513.86 | $204.91
0051 | Level III Musculoskeletal Procedures Except Hand and Foot | T | 27.76 | $1,346.00 | $675.24 | $269.20
0052 | Level IV Musculoskeletal Procedures Except Hand and Foot | T | 36.16 | $1,753.29 | $930.91 | $350.66
0053 | Level I Hand Musculoskeletal Procedures | T | 11.32 | $548.87 | $253.49 | $109.77
0054 | Level II Hand Musculoskeletal Procedures | T | 19.66 | $953.26 | $472.33 | $190.65
0055 | Level I Foot Musculoskeletal Procedures | T | 15.47 | $750.10 | $355.34 | $150.02
0056 | Level II Foot Musculoskeletal Procedures | T | 17.30 | $838.83 | $405.81 | $167.77
0057 | Bunion Procedures | T | 21.00 | $1,018.23 | $496.65 | $203.65
0058 | Level I Strapping and Cast Application | S | 1.09 | $52.85 | $19.27 | $10.57
0059 | Level II Strapping and Cast Application | S | 1.74 | $84.37 | $29.59 | $16.87
0060 | Manipulation Therapy | S | 0.77 | $37.34 | $7.80 | $7.47
0070 | Thoracentesis/Lavage Procedures | T | 3.64 | $176.49 | $79.60 | $35.30
0071 | Level I Endoscopy Upper Airway | T | 0.55 | $26.67 | $14.22 | $5.33
0072 | Level II Endoscopy Upper Airway | T | 1.26 | $61.09 | $41.52 | $12.22
0073 | Level III Endoscopy Upper Airway | T | 4.11 | $199.28 | $91.07 | $39.86
0074 | Level IV Endoscopy Upper Airway | T | 13.61 | $659.91 | $347.54 | $131.98
0075 | Level V Endoscopy Upper Airway | T | 18.55 | $899.44 | $467.29 | $179.89
0076 | Endoscopy Lower Airway | T | 8.06 | $390.81 | $197.05 | $78.16
0077 | Level I Pulmonary Treatment | S | 0.43 | $20.85 | $12.62 | $4.17
0078 | Level II Pulmonary Treatment | S | 1.34 | $64.97 | $29.13 | $12.99
0079 | Ventilation Initiation and Management | S | 3.18 | $154.19 | $107.70 | $30.84
0080 | Diagnostic Cardiac Catheterization | T | 25.77 | $1,249.51 | $713.89 | $249.90
0081 | Non-Coronary Angioplasty or Atherectomy | T | 19.36 | $938.71 | $434.25 | $187.74
0082 | Coronary Atherectomy | T | 40.34 | $1,955.97 | $859.56 | $391.19
0083 | Coronary Angiosplasty | T | 45.79 | $2,220.22 | $1,322.95 | $444.04
0084 | Level I Electrophysiologic Evaluation | S | 10.70 | $518.81 | $177.79 | $103.76
0085 | Level II Electrophysiologic Evaluation | S | 27.06 | $1,312.06 | $654.48 | $262.41
0086 | Ablate Heart Dysrhythm Focus | S | 47.62 | $2,308.95 | $1,265.37 | $461.79
0087 | Cardiac Electrophysiologic Recording/Mapping | S | 9.53 | $462.08 | $214.72 | $92.42
0088 | Thrombectomy | T | 26.49 | $1,284.42 | $678.68 | $256.88
0089 | Level I Implantation/Removal/Revision of Pacemaker, AICD or Vascular Device | T | 6.49 | $314.68 | $130.07 | $62.94
0090 | Level II Implantation/Removal/Revision of Pacemaker, AICD or Vascular Device | T | 20.96 | $1,016.29 | $573.04 | $203.26
0091 | Level I Vascular Ligation | T | 14.79 | $717.12 | $348.23 | $143.42
0092 | Level II Vascular Ligation | T | 20.21 | $979.92 | $505.37 | $195.98
0093 | Vascular Repair/Fistula Construction | T | 17.95 | $870.34 | $422.33 | $174.07
0094 | Resuscitation and Cardioversion | S | 4.51 | $218.68 | $105.29 | $43.74
0095 | Cardiac Rehabilitation | S | 0.64 | $31.03 | $16.98 | $6.21
0096 | Non-Invasive Vascular Studies | S | 2.06 | $99.88 | $61.48 | $19.98
0097 | Cardiovascular Stress Test | S | 1.62 | $78.55 | $62.40 | $15.71
0098 | Injection of Sclerosing Solution | T | 1.19 | $57.70 | $20.88 | $11.54
0099 | Continuous Cardiac Monitoring | S | 0.38 | $18.43 | $14.68 | $3.69
0100 | Continuous ECG | S | 1.70 | $82.43 | $71.57 | $16.49
0101 | Tilt Table Evaluation | S | 4.47 | $216.74 | $128.84 | $43.35
0102 | Electronic Analysis of Pacemakers/other Devices | S | 0.45 | $21.82 | $12.62 | $4.36
0109 | Bone Marrow Harvesting and Bone Marrow/Stem Cell Transplant | S | 4.13 | $200.25 | $40.05 | $40.05
0110 | Transfusion | S | 5.83 | $282.68 | $122.73 | $56.54
0111 | Blood Product Exchange | S | 14.17 | $687.06 | $300.74 | $137.41
0112 | Extracorporeal Photopheresis | S | 39.60 | $1,920.09 | $663.65 | $384.02
0113 | Excision Lymphatic System | T | 13.89 | $673.49 | $326.55 | $134.70
0114 | Thyroid/Lymphadenectomy Procedures | T | 19.56 | $948.41 | $493.78 | $189.68
0116 | Chemotherapy Administration by Other Technique Except Infusion | S | 2.34 | $113.46 | $22.69 | $22.69
0117 | Chemotherapy Administration by Infusion Only | S | 1.84 | $89.22 | $71.80 | $17.84
0118 | Chemotherapy Administration by Both Infusion and Other Technique | S | 2.90 | $140.61 | $72.03 | $28.12
0120 | Infusion Therapy Except Chemotherapy | S | 1.66 | $80.49 | $42.67 | $16.10
0121 | Level I Tube changes and Repositioning | T | 2.36 | $114.43 | $52.53 | $22.89
0122 | Level II Tube changes and Repositioning | T | 5.04 | $244.37 | $114.93 | $48.88
0123 | Level III Tube changes and Repositioning | T | 13.89 | $673.49 | $350.75 | $134.70
0130 | Level I Laparoscopy | T | 25.36 | $1,229.63 | $659.53 | $245.93
0131 | Level II Laparoscopy | T | 41.81 | $2,027.24 | $1,089.88 | $405.45
0132 | Level III Laparoscopy | T | 48.91 | $2,371.50 | $1,239.22 | $474.30
0140 | Esophageal Dilation without Endoscopy | T | 4.74 | $229.83 | $107.24 | $45.97
0141 | Upper GI Procedures | T | 7.15 | $346.68 | $184.67 | $69.34
0142 | Small Intestine Endoscopy | T | 7.45 | $361.23 | $162.42 | $72.25
0143 | Lower GI Endoscopy | T | 7.98 | $386.93 | $199.12 | $77.39
0144 | Diagnostic Anoscopy | T | 2.23 | $108.13 | $49.32 | $21.63
0145 | Therapeutic Anoscopy | T | 7.46 | $361.71 | $179.39 | $72.34
0146 | Level I Sigmoidoscopy | T | 2.83 | $137.22 | $65.15 | $27.44
0147 | Level II Sigmoidoscopy | T | 6.26 | $303.53 | $149.11 | $60.71
0148 | Level I Anal/Rectal Procedure | T | 2.34 | $113.46 | $43.59 | $22.69
0149 | Level II Anal/Rectal Procedure | T | 12.86 | $623.54 | $293.06 | $124.71
0150 | Level III Anal/Rectal Procedure | T | 17.68 | $857.25 | $437.12 | $171.45
0151 | Endoscopic Retrograde Cholangio-Pancreatography (ERCP) | T | 10.53 | $510.57 | $245.46 | $102.11
0152 | Percutaneous Biliary Endoscopic Procedures | T | 8.22 | $398.56 | $207.38 | $79.71
0153 | Peritoneal and Abdominal Procedures | T | 19.62 | $951.32 | $496.31 | $190.26
0154 | Hernia/Hydrocele Procedures | T | 22.43 | $1,087.57 | $556.98 | $217.51
² 0157 | Colorectal Cancer Screening: Barium Enema | S | 1.79 | $86.79 |  | $17.36
¹ 0158 | Colorectal Cancer Screening: Colonoscopy | S | 7.98 | $386.93 |  | $96.73
¹ 0159 | Colorectal Cancer Screening: Flexible Sigmoidoscopy | S | 7.98 | $137.22 |  | $34.31
0160 | Level I Cystourethroscopy and other Genitourinary Procedures | T | 5.43 | $263.28 | $110.11 | $52.66
0161 | Level II Cystourethroscopy and other Genitourinary Procedures | T | 10.94 | $530.45 | $249.36 | $106.09
0162 | Level III Cystourethroscopy and other Genitourinary Procedures | T | 17.49 | $848.04 | $427.49 | $169.61
0163 | Level IV Cystourethroscopy and other Genitourinary Procedures | T | 28.98 | $1,405.16 | $792.58 | $281.03
0164 | Level I Urinary and Anal Procedures | T | 2.17 | $105.23 | $33.03 | $21.05
0165 | Level II Urinary and Anal Procedures | T | 3.89 | $188.61 | $91.76 | $37.72
0166 | Level I Urethral Procedures | T | 10.17 | $493.11 | $218.73 | $98.62
0167 | Level II Urethral Procedures | T | 21.06 | $1,021.14 | $555.84 | $204.23
0168 | Level III Urethral Procedures | T | 24.94 | $1,209.27 | $536.11 | $241.85
0169 | Lithotripsy | T | 46.72 | $2,265.32 | $1,384.20 | $453.06
0170 | Dialysis for Other Than ESRD Patients | S | 6.68 | $323.89 | $72.26 | $64.78
0180 | Circumcision | T | 13.62 | $660.39 | $304.87 | $132.08
0181 | Penile Procedures | T | 32.37 | $1,569.53 | $906.36 | $313.91
0182 | Insertion of Penile Prosthesis | T | 52.11 | $2,526.66 | $1,525.05 | $505.33
0183 | Testes/Epididymis Procedures | T | 18.26 | $885.37 | $448.94 | $177.07
0184 | Prostate Biopsy | T | 4.94 | $239.53 | $122.96 | $47.91
0190 | Surgical Hysteroscopy | T | 17.85 | $865.49 | $443.89 | $173.10
0191 | Level I Female Reproductive Procedures | T | 1.19 | $57.70 | $17.43 | $11.54
0192 | Level II Female Reproductive Procedures | T | 2.38 | $115.40 | $35.33 | $23.08
0193 | Level III Female Reproductive Procedures | T | 8.93 | $432.99 | $171.13 | $86.60
0194 | Level IV Female Reproductive Procedures | T | 16.21 | $785.98 | $395.94 | $157.20
0195 | Level V Female Reproductive Procedures | T | 18.68 | $905.74 | $483.80 | $181.15
0196 | Dilatation & Curettage | T | 14.47 | $701.61 | $357.98 | $140.32
0197 | Infertility Procedures | T | 2.40 | $116.37 | $49.55 | $23.27
0198 | Pregnancy and Neonatal Care Procedures | T | 1.34 | $64.97 | $33.03 | $12.99
0199 | Vaginal Delivery | T | 11.20 | $543.06 | $157.83 | $108.61
0200 | Therapeutic Abortion | T | 13.89 | $673.49 | $373.23 | $134.70
0201 | Spontaneous Abortion | T | 13.00 | $630.33 | $329.65 | $126.07
0210 | Spinal Tap | T | 3.00 | $145.46 | $62.40 | $29.09
0211 | Level I Nervous System Injections | T | 3.32 | $160.98 | $74.78 | $32.20
0212 | Level II Nervous System Injections | T | 3.64 | $176.49 | $88.78 | $35.30
0213 | Extended EEG Studies and Sleep Studies | S | 11.15 | $540.63 | $290.42 | $108.13
0214 | Electroencephalogram | S | 2.32 | $112.49 | $58.50 | $22.50
0215 | Level I Nerve and Muscle Tests | S | 1.15 | $55.76 | $30.05 | $11.15
0216 | Level II Nerve and Muscle Tests | S | 2.87 | $139.16 | $64.69 | $27.83
0217 | Level III Nerve and Muscle Tests | S | 5.87 | $284.62 | $156.68 | $56.92
0220 | Level I Nerve Procedures | T | 13.96 | $676.88 | $326.21 | $135.38
0221 | Level II Nerve Procedures | T | 18.36 | $890.22 | $463.62 | $178.04
0222 | Implantation of Neurological Device | T | 25.48 | $1,235.45 | $780.07 | $247.09
0223 | Level I Revision/Removal Neurological Device | T | 6.34 | $307.41 | $153.24 | $61.48
0224 | Level II Revision/Removal Neurological Device | T | 15.94 | $772.88 | $374.61 | $154.58
0225 | Implantation of Neurostimulator Electrodes | T | 3.43 | $166.31 | $64.46 | $33.26
0230 | Level I Eye Tests | S | 0.98 | $47.52 | $22.48 | $9.50
0231 | Level II Eye Tests | S | 2.64 | $128.01 | $59.87 | $25.60
0232 | Level I Anterior Segment Eye | T | 6.04 | $292.86 | $134.66 | $58.57
0233 | Level II Anterior Segment Eye | T | 13.79 | $668.64 | $331.60 | $133.73
0234 | Level III Anterior Segment Eye Procedures | T | 20.64 | $1,000.77 | $502.16 | $200.15
0235 | Level I Posterior Segment Eye Procedures | T | 2.94 | $142.55 | $78.91 | $28.51
0236 | Level II Posterior Segment Eye Procedures | T | 6.70 | $324.86 | $147.96 | $64.97
0237 | Level III Posterior Segment Eye Procedures | T | 33.96 | $1,646.62 | $852.68 | $329.32
0238 | Level I Repair and Plastic Eye Procedures | T | 2.80 | $135.76 | $58.96 | $27.15
0239 | Level II Repair and Plastic Eye Procedures | T | 6.26 | $303.53 | $123.42 | $60.71
0240 | Level III Repair and Plastic Eye Procedures | T | 13.47 | $653.12 | $315.31 | $130.62
0241 | Level IV Repair and Plastic Eye Procedures | T | 16.60 | $804.89 | $384.47 | $160.98
0242 | Level V Repair and Plastic Eye Procedures | T | 23.70 | $1,149.14 | $597.36 | $229.83
0243 | Strabismus/Muscle Procedures | T | 17.99 | $872.28 | $431.39 | $174.46
0244 | Corneal Transplant | T | 32.88 | $1,594.26 | $851.42 | $318.85
0245 | Cataract Procedures without IOL Insert | T | 26.55 | $1,287.33 | $623.85 | $257.47
0246 | Cataract Procedures with IOL Insert | T | 26.55 | $1,287.33 | $623.85 | $257.47
0247 | Laser Eye Procedures Except Retinal | T | 4.89 | $237.10 | $112.86 | $47.42
0248 | Laser Retinal Procedures | T | 4.19 | $203.16 | $94.05 | $40.63
0250 | Nasal Cauterization/Packing | T | 2.21 | $107.16 | $38.54 | $21.43
0251 | Level I ENT Procedures | T | 1.68 | $81.46 | $27.99 | $16.29
0252 | Level II ENT Procedures | T | 5.18 | $251.16 | $114.24 | $50.23
0253 | Level III ENT Procedures | T | 12.02 | $582.81 | $284.00 | $116.56
0254 | Level IV ENT Procedures | T | 12.45 | $603.66 | $272.41 | $120.73
0256 | Level V ENT Procedures | T | 25.40 | $1,231.57 | $623.05 | $246.31
0257 | Implantation of Cochlear Device | T | 115.31 | $5,591.04 | $3,498.58 | $1,118.21
0258 | Tonsil and Adenoid Procedures | T | 18.62 | $902.83 | $462.81 | $180.57
0260 | Level I Plain Film Except Teeth | X | 0.79 | $38.30 | $22.02 | $7.66
0261 | Level II Plain Film Except Teeth Including Bone Density Measurement | X | 1.38 | $66.91 | $38.77 | $13.38
0262 | Plain Film of Teeth | X | 0.40 | $19.39 | $10.90 | $3.88
0263 | Level I Miscellaneous Radiology Procedures | X | 1.68 | $81.46 | $45.88 | $16.29
0264 | Level II Miscellaneous Radiology Procedures | X | 3.83 | $185.71 | $108.97 | $37.14
0265 | Level I Diagnostic Ultrasound Except Vascular | S | 1.17 | $56.73 | $38.08 | $11.35
0266 | Level II Diagnostic Ultrasound Except Vascular | S | 1.79 | $86.79 | $57.35 | $17.36
0267 | Vascular Ultrasound | S | 2.72 | $131.88 | $80.06 | $26.38
0268 | Guidance Under Ultrasound | X | 2.23 | $108.13 | $69.51 | $21.63
0269 | Echocardiogram Except Transesophageal | S | 4.40 | $213.34 | $114.01 | $42.67
0270 | Transesophageal Echocardiogram | S | 5.55 | $269.10 | $150.26 | $53.82
0271 | Mammography | S | 0.70 | $33.94 | $19.50 | $6.79
0272 | Level I Fluoroscopy | X | 1.40 | $67.88 | $39.00 | $13.58
0273 | Level II Fluoroscopy | X | 2.49 | $120.73 | $61.02 | $24.15
0274 | Myelography | S | 4.83 | $234.19 | $128.12 | $46.84
0275 | Arthrography | S | 2.74 | $132.85 | $72.26 | $26.57
0276 | Level I Digestive Radiology | S | 1.79 | $86.79 | $49.78 | $17.36
0277 | Level II Digestive Radiology | S | 2.47 | $119.76 | $69.28 | $23.95
0278 | Diagnostic Urography | S | 2.85 | $138.19 | $81.67 | $27.64
0279 | Level I Diagnostic Angiography and Venography Except Extremity | S | 6.30 | $305.47 | $174.57 | $61.09
0280 | Level II Diagnostic Angiography and Venography Except Extremity | S | 14.98 | $726.34 | $380.12 | $145.27
0281 | Venography of Extremity | S | 4.40 | $213.34 | $115.16 | $42.67
0282 | Level I Computerized Axial Tomography | S | 2.38 | $115.40 | $94.51 | $23.08
0283 | Level II Computerized Axial Tomography | S | 4.89 | $237.10 | $179.39 | $47.42
0284 | Magnetic Resonance Imaging | S | 8.02 | $388.87 | $257.39 | $77.77
0285 | Positron Emission Tomography (PET) | S | 15.06 | $730.22 | $415.21 | $146.04
0286 | Myocardial Scans | S | 7.28 | $352.99 | $200.04 | $70.60
0290 | Standard Non-Imaging Nuclear Medicine | S | 1.94 | $94.06 | $55.51 | $18.81
0291 | Level I Diagnostic Nuclear Medicine Excluding Myocardial Scans | S | 3.15 | $152.73 | $93.14 | $30.55
0292 | Level II Diagnostic Nuclear Medicine Excluding Myocardial Scans | S | 4.36 | $211.40 | $126.63 | $42.28
0294 | Level I Therapeutic Nuclear Medicine | S | 5.13 | $248.74 | $144.06 | $49.75
0295 | Level II Therapeutic Nuclear Medicine | S | 19.85 | $962.47 | $609.17 | $192.49
0296 | Level I Therapeutic Radiologic Procedures | S | 3.57 | $173.10 | $100.25 | $34.62
0297 | Level II Therapeutic Radiologic Procedures | S | 6.13 | $297.23 | $172.51 | $59.45
0300 | Level I Radiation Therapy | S | 1.98 | $96.00 | $47.72 | $19.20
0301 | Level II Radiation Therapy | S | 2.21 | $107.16 | $52.53 | $21.43
0302 | Level III Radiation Therapy | S | 8.21 | $398.08 | $216.55 | $79.62
0303 | Treatment Device Construction | X | 2.83 | $137.22 | $69.28 | $27.44
0304 | Level I Therapeutic Radiation Treatment Preparation | X | 1.49 | $72.25 | $41.52 | $14.45
0305 | Level II Therapeutic Radiation Treatment Preparation | X | 4.06 | $196.86 | $97.50 | $39.37
0310 | Level III Therapeutic Radiation Treatment Preparation | X | 13.98 | $677.85 | $339.05 | $135.57
0311 | Radiation Physics Services | X | 1.32 | $64.00 | $31.66 | $12.80
0312 | Radioelement Applications | S | 4.09 | $198.31 | $109.65 | $39.66
0313 | Brachytherapy | S | 7.89 | $382.56 | $164.02 | $76.51
0314 | Hyperthermic Therapies | S | 5.88 | $285.10 | $150.95 | $57.02
0320 | Electroconvulsive Therapy | S | 3.68 | $178.43 | $80.06 | $35.69
0321 | Biofeedback and Other Training | S | 1.26 | $61.09 | $29.25 | $12.22
0322 | Brief Individual Psychotherapy | S | 1.32 | $64.00 | $14.22 | $12.80
0323 | Extended Individual Psychotherapy | S | 1.85 | $89.70 | $22.48 | $17.94
0324 | Family Psychotherapy | S | 1.87 | $90.67 | $20.19 | $18.13
0325 | Group Psychotherapy | S | 1.55 | $75.16 | $19.96 | $15.03
0330 | Dental Procedures | S | 1.51 | $73.22 | $14.64 | $14.64
0340 | Minor Ancillary Procedures | X | 1.04 | $50.43 | $12.85 | $10.09
0341 | Immunology Tests | X | 0.13 | $6.30 | $3.67 | $1.26
0342 | Level I Pathology | X | 0.26 | $12.61 | $8.03 | $2.52
0343 | Level II Pathology | X | 0.45 | $21.82 | $12.16 | $4.36
0344 | Level III Pathology | X | 0.79 | $38.30 | $23.63 | $7.66
² 0354 | Administration of Influenza Vaccine | X | 0.13 | $6.19 |  |
0355 | Level I Immunizations | X | 0.19 | $9.21 | $5.05 | $1.84
0356 | Level II Immunizations | X | 0.36 | $17.46 | $4.82 | $3.49
0357 | Level III Immunizations | X | 1.85 | $89.70 | $38.31 | $17.94
0358 | Level IV Immunizations | X | 6.98 | $338.44 | $126.74 | $67.69
0359 | Injections | X | 0.96 | $46.55 | $9.31 | $9.31
0360 | Level I Alimentary Tests | X | 1.38 | $66.91 | $34.75 | $13.38
0361 | Level II Alimentary Tests | X | 3.53 | $171.16 | $88.09 | $34.23
0362 | Fitting of Vision Aids | X | 0.51 | $24.73 | $9.63 | $4.95
0363 | Otorhinolaryngologic Function Tests | X | 2.83 | $137.22 | $53.22 | $27.44
0364 | Level I Audiometry | X | 0.68 | $32.97 | $13.31 | $6.59
0365 | Level II Audiometry | X | 1.47 | $71.28 | $22.48 | $14.26
0366 | Electrocardiogram (ECG) | X | 0.38 | $18.43 | $15.60 | $3.69
0367 | Level I Pulmonary Test | X | 0.83 | $40.24 | $20.65 | $8.05
0368 | Level II Pulmonary Tests | X | 1.66 | $80.49 | $42.44 | $16.10
0369 | Level III Pulmonary Tests | X | 2.34 | $113.46 | $58.50 | $22.69
0370 | Allergy Tests | X | 0.57 | $27.64 | $11.81 | $5.53
0371 | Allergy Injections | X | 0.32 | $15.52 | $3.67 | $3.10
0372 | Therapeutic Phlebotomy | X | 0.43 | $20.85 | $10.09 | $4.17
0373 | Neuropsychological Testing | X | 3.21 | $155.64 | $44.96 | $31.13
0374 | Monitoring Psychiatric Drugs | X | 1.17 | $56.73 | $13.08 | $11.35
0600 | Low Level Clinic Visits | V | 0.98 | $47.52 | $9.50 | $9.50
0601 | Mid Level Clinic Visits | V | 1.00 | $48.49 | $9.70 | $9.70
0602 | High Level Clinic Visits | V | 1.66 | $80.49 | $16.29 | $16.10
0603 | Interdisciplinary Team Conference | V | 1.66 | $80.49 | $16.29 | $16.10
0610 | Low Level Emergency Visits | V | 1.34 | $64.97 | $20.65 | $12.99
0611 | Mid Level Emergency Visits | V | 2.11 | $102.31 | $36.47 | $20.46
0612 | High Level Emergency Visits | V | 3.19 | $154.67 | $54.14 | $30.93
0620 | Critical Care | S | 8.60 | $416.99 | $152.78 | $83.40
³ 0701 | Strontium | X |  |  |  | $84.76
³ 0702 | Samariam | X |  |  |  | $139.06
³ 0704 | Satumomab Pendetide | X |  |  |  | $63.13
³ 0705 | Tc99 Tetrofosmin | X |  |  |  | $71.08
³ 0725 | Leucovorin Calcium | X |  |  |  | $1.07
³ 0726 | Dexrazoxane Hydrochloride | X |  |  |  | $18.81
³ 0727 | Injection, Etidronate Disodium | X |  |  |  | $9.31
³ 0728 | Filgrastim (G-CSF) | X |  |  |  | $25.21
³ 0730 | Pamidronate Disodium | X |  |  |  | $30.93
³ 0731 | Sargramostim (GM-CSF) | X |  |  |  | $16.97
³ 0732 | Mesna | X |  |  |  | $2.42
³ 0733 | Epoetin Alpha | X |  |  |  | $1.75
³ 0750 | Dolasetron Mesylate 10 mg | X |  |  |  | $1.94
³ 0754 | Metoclopramide HCL | X |  |  |  | $.19
³ 0755 | Thiethylperazine Maleate | X |  |  |  | $.68
³ 0761 | Oral Substitute for IV Antiemtic | X |  |  |  | $.10
³ 0762 | Dronabinol | X |  |  |  | $.48
³ 0763 | Dolasetron Mesylate 100 mg Oral | X |  |  |  | $8.53
³ 0764 | Granisetron HCL, 100 mcg | X |  |  |  | $2.33
³ 0765 | Granisetron HCL, 1mg Oral | X |  |  |  | $3.20
³ 0768 | Ondansetron Hydrochloride per 1 mg Injection | X |  |  |  | $.87
³ 0769 | Ondansetron Hydrochloride 8 mg oral | X |  |  |  | $2.62
³ 0800 | Leuprolide Acetate per 3.75 mg | X |  |  |  | $68.56
³ 0801 | Cyclophosphamide | X |  |  |  | $.19
³ 0802 | Etoposide | X |  |  |  | $3.10
³ 0803 | Melphalan | X |  |  |  | $.19
³ 0807 | Aldesleukin single use vial | X |  |  |  | $65.07
³ 0809 | BCG (Intravesical) one vial | X |  |  |  | $19.78
³ 0810 | Goserelin Acetate Implant, per 3.6 mg | X |  |  |  | $59.74
³ 0811 | Carboplatin 50 mg | X |  |  |  | $13.96
³ 0812 | Carmustine 100 mg | X |  |  |  | $10.57
³ 0813 | Cisplatin 10 mg | X |  |  |  | $4.56
³ 0814 | Asparaginase, 10,000 units | X |  |  |  | $8.34
³ 0815 | Cyclophosphamide 100 mg | X |  |  |  | $.48
³ 0816 | Cyclophosphamide, Lyophilized 100 mg | X |  |  |  | $1.16
³ 0817 | Cytrabine 100 mg | X |  |  |  | $.68
³ 0818 | Dactinomycin 0.5 mg | X |  |  |  | $1.75
³ 0819 | Dacarbazine 100 mg | X |  |  |  | $1.26
³ 0820 | Daunorubicin HCI 10 mg | X |  |  |  | $11.64
³ 0821 | Daunorubicin Citrate, Liposomal Formulation, 10 mg | X |  |  |  | $7.76
³ 0822 | Diethylstibestrol Diphosphate 250 mg | X |  |  |  | $2.13
³ 0823 | Docetaxel 20 mg | X |  |  |  | $34.72
³ 0824 | Etoposide 10 mg | X |  |  |  | $.58
³ 0826 | Methotrexate Oral 2.5 mg | X |  |  |  | $.29
³ 0827 | Floxuridine 500 mg | X |  |  |  | $18.81
³ 0828 | Gemcitabine HCL 200 mg | X |  |  |  | $9.31
³ 0830 | Irinotecan 20 mg | X |  |  |  | $14.16
³ 0831 | Ifosfamide per 1 gram | X |  |  |  | $13.58
³ 0832 | Idarubicin Hydrochloride 5 mg | X |  |  |  | $46.45
³ 0833 | Interferon Alfacon-1, Recombinant, 1 mcg | X |  |  |  | $.19
³ 0834 | Interferon, Alfa-2A, Recombinant 3 million units | X |  |  |  | $3.20
³ 0836 | Interferon, Alfa-2B, Recombinant, 1 million units | X |  |  |  | $1.36
³ 0838 | Interferon, Gamma 1-B, 3 million units | X |  |  |  | $22.79
³ 0839 | Mechlorethamine HCI 10 mg | X |  |  |  | $1.65
³ 0840 | Melphalan HCI 50 mg | X |  |  |  | $44.71
³ 0841 | Methotrexate Sodium 5 mg | X |  |  |  | $.10
³ 0842 | Fludarabine Phosphate 50 mg | X |  |  |  | $30.84
³ 0843 | Pegaspargase per single dose vial | X |  |  |  | $178.72
³ 0844 | Pentostatin 10 mg | X |  |  |  | $133.73
³ 0847 | Doxorubicin HCL 10 mg | X |  |  |  | $2.81
³ 0849 | Rituximab, 100 mg | X |  |  |  | $51.40
³ 0850 | Streptozocin 1 gm | X |  |  |  | $14.64
³ 0851 | Thiotepa 15 mg | X |  |  |  | $9.50
³ 0852 | Topotecan 4 mg | X |  |  |  | $73.22
³ 0853 | Vinblastine Sulfate 1 mg | X |  |  |  | $.39
³ 0854 | Vincristine Sulfate 1 mg | X |  |  |  | $2.23
³ 0855 | Vinorelbine Tartrate per 10 mg | X |  |  |  | $9.60
³ 0856 | Porfimer Sodium 75 mg | X |  |  |  | $34.62
³ 0857 | Bleomycin Sulfate 15 units | X |  |  |  | $48.29
³ 0858 | Cladribine, 1mg | X |  |  |  | $8.24
³ 0859 | Fluorouracil | X |  |  |  | $.19
³ 0860 | Plicamycin 2.5 mg | X |  |  |  | $1.36
³ 0861 | Leuprolide Acetate 1 mg | X |  |  |  | $19.39
³ 0862 | Mitomycin, 5mg | X |  |  |  | $19.88
³ 0863 | Paclitaxel, 30mg | X |  |  |  | $30.16
³ 0864 | Mitoxantrone HCl, per 5mg | X |  |  |  | $25.80
³ 0865 | Interferon alfa-N3, 250,000 IU | X |  |  |  | $1.07
³ 0884 | Rho (D) Immune Globulin, Human one dose pack | X |  |  |  | $3.78
² 0886 | Azathioprine, 50 mg oral | X | 0.02 | $.97 |  | $.19
² 0887 | Azathioprine, Parenteral 100 mg, 20 ml each injection | X | 1.40 | $67.88 |  | $13.58
² 0888 | Cyclosporine, Oral 100 mg | X | 0.08 | $3.88 |  | $.78
² 0889 | Cyclosporine, Parenteral | X | 0.36 | $17.46 |  | $3.49
² 0890 | Lymphocyte Immune Globulin 50 mg/ml, 5 ml each | X | 3.79 | $183.77 |  | $36.75
² 0891 | Tacrolimus per 1 mg oral | X | 3.15 | $152.73 |  | $30.55
³ 0892 | Daclizumab, Parenteral, 25 mg | X |  |  |  | $54.11
³ 0900 | Injection, Alglucerase per 10 units | X |  |  |  | $5.14
³ 0901 | Alpha I, Proteinase Inhibitor, Human per 10mg | X |  |  |  | $15.22
³ 0902 | Botulinum Toxin, Type A per unit | X |  |  |  | $56.05
³ 0903 | CMV Immune Globulin | X |  |  |  | $54.11
³ 0905 | Immune Globulin per 500 mg | X |  |  |  | $6.40
³ 0906 | RSV Immune Globulin | X |  |  |  | $85.53
² 0907 | Ganciclovir Sodium 500 mg injection | X | 0.51 | $24.73 |  | $4.95
² 0908 | Tetanus Immune Globulin, Human, up to 250 units | X | 0.90 | $43.64 |  | $8.73
³ 0909 | Interferon Beta—1a 33 mcg | X |  |  |  | $28.70
³ 0910 | Interferon Beta—1b 0.25 mg | X |  |  |  | $8.44
² 0911 | Streptokinase per 250,000 iu | X | 1.64 | $79.69 |  | $15.94
³ 0913 | Ganciclovir 4.5 mg, Implant | X |  |  |  | $701.51
² 0914 | Reteplase, 37.6 mg (Two Single Use Vials) | X | 38.20 | $1,852.21 |  | $370.44
² 0915 | Alteplase recombinant, 10mg | X | 5.85 | $283.70 |  | $56.74
³ 0916 | Imiglucerase per unit | X |  |  |  | $.58
² 0917 | Dipyridamole, 10mg Adenosine 6MG | X | 0.36 | $17.46 |  | $3.49
³ 0918 | Brachytherapy Seeds, Any type, Each | S |  |  |  | $9.99
³ 0925 | Factor VIII (Antihemophilic Factor, Human) per iu | X |  |  |  | $.19
³ 0926 | Factor VIII (Antihemophilic Factor, Porcine) per iu | X |  |  |  | $.19
³ 0927 | Factor VIII (Antihemophilic Factor, Recombinant) per iu | X |  |  |  | $.19
³ 0928 | Factor IX, Complex | X |  |  |  | $.08
³ 0929 | Other Hemophilia Clotting Factors per iu | X |  |  |  | $.27
³ 0930 | Antithrombin III (Human) per iu | X |  |  |  | $.19
³ 0931 | Factor IX (Antihemophilic Factor, Purified, Non-Recombinant) | X |  |  |  | $.04
³ 0932 | Factor IX (Antihemophilic Factor, Recombinant) | X |  |  |  | $.10
² 0949 | Plasma, Pooled Multiple Donor, Solvent/Detergent Treated, Frozen | S | 3.49 | $169.22 |  | $33.84
² 0950 | Blood (Whole) For Transfusion | S | 2.08 | $101.02 |  | $20.20
² 0952 | Cryoprecipitate | S | 0.70 | $33.92 |  | $6.78
² 0953 | Fibrinogen Unit | S | 0.48 | $23.27 |  | $4.65
² 0954 | Leukocyte Poor Blood | S | 2.83 | $137.21 |  | $27.44
² 0955 | Plasma, Fresh Frozen | S | 2.26 | $109.35 |  | $21.87
² 0956 | Plasma Protein Fraction | S | 1.26 | $61.09 |  | $12.22
² 0957 | Platelet Concentrate | S | 0.98 | $47.46 |  | $9.49
² 0958 | Platelet Rich Plasma | S | 1.16 | $56.25 |  | $11.25
² 0959 | Red Blood Cells | S | 2.04 | $99.04 |  | $19.81
² 0960 | Washed Red Blood Cells | S | 3.81 | $184.53 |  | $36.91
² 0961 | Infusion, Albumin (Human) 5%, 500 ml | X | 2.77 | $134.31 |  | $26.86
² 0962 | Infusion, Albumin (Human) 25%, 50 ml | X | 1.38 | $66.91 |  | $13.38
² 0970 | New Technology—Level I ($0-$50) | T | 0.52 | $25.21 |  | $5.04
² 0971 | New Technology—Level II ($50-$100) | S | 1.55 | $75.16 |  | $15.03
² 0972 | New Technology—Level III ($100-$200) | T | 3.09 | $149.83 |  | $29.97
² 0973 | New Technology—Level IV ($200-$300) | T | 5.16 | $250.19 |  | $50.04
² 0974 | New Technology—Level V ($300-$500) | T | 8.25 | $400.02 |  | $80.00
² 0975 | New Technology—Level VI ($500-$750) | T | 12.90 | $625.48 |  | $125.10
² 0976 | New Technology—Level VII ($750-$1000) | T | 18.05 | $875.19 |  | $175.04
² 0977 | New Technology—Level VIII ($1000-$1250) | T | 23.20 | $1,124.90 |  | $224.98
² 0978 | New Technology—Level IX ($1250-$1500) | T | 28.36 | $1,375.09 |  | $275.02
² 0979 | New Technology—Level X ($1500-$1750) | T | 33.51 | $1,624.80 |  | $324.96
² 0980 | New Technology—Level XI ($1750-$2000) | S | 38.67 | $1,875.00 |  | $375.00
² 0981 | New Technology—Level XII ($2000-$2500) | T | 46.40 | $2,249.80 |  | $449.96
² 0982 | New Technology—Level XIII ($2500-$3500) | T | 61.87 | $2,999.90 |  | $599.98
² 0983 | New Technology—Level XIV ($3500-$5000) | T | 87.65 | $4,249.89 |  | $849.98
² 0984 | New Technology—Level XV ($5000-$6000) | T | 113.43 | $5,499.89 |  | $1,099.98
³ 7000 | Amifostine, 500 mg | X |  |  |  | $41.99
³ 7001 | Amphotericin B lipid complex, 50 mg, Inj | X |  |  |  | $12.12
³ 7002 | Clonidine, HCl, 1 MG | X |  |  |  | $4.17
³ 7003 | Epoprostenol, 0.5 MG, inj | X |  |  |  | $2.23
³ 7004 | Immune globulin intravenous human 5g, inj | X |  |  |  | $45.48
³ 7005 | Gonadorelin hcI, 100 mcg | X |  |  |  | $9.12
² 7007 | Milrinone lacetate, per 5 ml, inj | X | 0.47 | $22.79 |  | $4.56
³ 7010 | Morphine sulfate concentrate (preservative free) per 10 mg | X |  |  |  | $.68
³ 7011 | Oprelevekin, inj, 5 mg | X |  |  |  | $30.35
³ 7012 | Pentamidine isethionate, 300 mg | X |  |  |  | $8.73
³ 7014 | Fentanyl citrate, inj, up to 2 ml | X |  |  |  | $.19
³ 7015 | Busulfan, oral 2 mg | X |  |  |  | $.19
³ 7019 | Aprotinin, 10,000 kiu | X |  |  |  | $2.42
³ 7021 | Baclofen, intrathecal, 50 mcg | X |  |  |  | $.10
³ 7022 | Elliotts B Solution, per ml | X |  |  |  | $19.20
³ 7023 | Treatment for bladder calculi, I.e. Renacidin per 500 ml | X |  |  |  | $4.46
³ 7024 | Corticorelin ovine triflutate, 0.1 mg | X |  |  |  | $45.77
³ 7025 | Digoxin immune FAB (Ovine), 10 mg | X |  |  |  | $14.06
³ 7026 | Ethanolamine oleate, 1000 ml | X |  |  |  | $2.13
³ 7027 | Fomepizole, 1.5 G | X |  |  |  | $141.29
³ 7028 | Fosphenytoin, 50 mg | X |  |  |  | $.78
³ 7029 | Glatiramer acetate, 25 mg | X |  |  |  | $3.59
³ 7030 | Hemin, 1 mg | X |  |  |  | $.10
³ 7031 | Octreotide Acetate, 500 mcg | X |  |  |  | $5.43
³ 7032 | Sermorelin acetate, 0.5 mg | X |  |  |  | $53.34
³ 7033 | Somatrem, 5 mg | X |  |  |  | $28.03
³ 7034 | Somatropin, 1 mg | X |  |  |  | $5.04
³ 7035 | Teniposide, 50 mg | X |  |  |  | $20.85
² 7036 | Urokinase, inj, IV, 250,000 I.U. | X | 0.73 | $35.40 |  | $7.08
³ 7037 | Urofollitropin, 75 I.U. | X |  |  |  | $8.24
³ 7038 | Muromonab-CD3, 5 mg | X |  |  |  | $89.60
³ 7039 | Pegademase bovine inj 25 I.U. | X |  |  |  | $1.16
³ 7040 | Pentastarch 10% inj, 100 ml | X |  |  |  | $2.04
² 7041 | Tirofiban HCL, 0.5 mg | X | 0.02 | $.97 |  | $.19
³ 7042 | Capecitabine, oral 150 mg | X |  |  |  | $.19
³ 7043 | Infliximab, 10 MG | X |  |  |  | $6.89
³ 7045 | Trimetrexate Glucoronate | X |  |  |  | $8.15
³ 7046 | Doxorubicin Hcl Liposome | X |  |  |  | $39.18

——————————

CPT codes and descriptions only are copyright American Medical Association. All Rights Reserved. Applicable FARS/DFARS Apply.

Copyright American Dental Association. All rights reserved.

¹ Not subject to national coinsurance. Minimum unadjusted coinsurance is 25% of the payment rate. The payment rate is the lower of the HOPD payment rate or the Ambulatory Surgical Center payment.

² Not subject to national coinsurance.

³ Eligible for pass-through payments. See Preamble for payment rate determination. See Addendum K for complete list of pass-through codes.

Addendum B.—Hospital Outpatient Department (HOPD) Payment Status by HCPCS Code and Related Information
CPT/ HCPCS | HOPD Status Indicator | Description | APC | Relative Weight | Payment Rate | National Unadjusted Coinsurance | Minimum Unadjusted Coinsurance
00100 | N | Anesth, salivary gland |  |  |  |  |
00102 | N | Anesth, repair of cleft lip |  |  |  |  |
00103 | N | Anesth, blepharoplasty |  |  |  |  |
00104 | N | Anesth, electroshock |  |  |  |  |
00120 | N | Anesth, ear surgery |  |  |  |  |
00124 | N | Anesth, ear exam |  |  |  |  |
00126 | N | Anesth, tympanotomy |  |  |  |  |
00140 | N | Anesth, procedures on eye |  |  |  |  |
00142 | N | Anesth, lens surgery |  |  |  |  |
00144 | N | Anesth, corneal transplant |  |  |  |  |
00145 | N | Anesth, vitrectomy |  |  |  |  |
00147 | N | Anesth, iridectomy |  |  |  |  |
00148 | N | Anesth, eye exam |  |  |  |  |
00160 | N | Anesth, nose/sinus surgery |  |  |  |  |
00162 | N | Anesth, nose/sinus surgery |  |  |  |  |
00164 | N | Anesth, biopsy of nose |  |  |  |  |
00170 | N | Anesth, procedure on mouth |  |  |  |  |
00172 | N | Anesth, cleft palate repair |  |  |  |  |
00174 | C | Anesth, pharyngeal surgery |  |  |  |  |
00176 | C | Anesth, pharyngeal surgery |  |  |  |  |
00190 | N | Anesth, facial bone surgery |  |  |  |  |
00192 | C | Anesth, facial bone surgery |  |  |  |  |
00210 | N | Anesth, open head surgery |  |  |  |  |
00212 | N | Anesth, skull drainage |  |  |  |  |
00214 | C | Anesth, skull drainage |  |  |  |  |
00215 | C | Anesth, skull fracture |  |  |  |  |
00216 | N | Anesth, head vessel surgery |  |  |  |  |
00218 | N | Anesth, special head surgery |  |  |  |  |
00220 | N | Anesth, spinal fluid shunt |  |  |  |  |
00222 | N | Anesth, head nerve surgery |  |  |  |  |
00300 | N | Anesth, head/neck/ptrunk |  |  |  |  |
00320 | N | Anesth, neck organ surgery |  |  |  |  |
00322 | N | Anesth, biopsy of thyroid |  |  |  |  |
00350 | N | Anesth, neck vessel surgery |  |  |  |  |
00352 | N | Anesth, neck vessel surgery |  |  |  |  |
00400 | N | Anesth, skin, ext/per/atrunk |  |  |  |  |
00402 | N | Anesth, surgery of breast |  |  |  |  |
00404 | C | Anesth, surgery of breast |  |  |  |  |
00406 | C | Anesth, surgery of breast |  |  |  |  |
00410 | N | Anesth, correct heart rhythm |  |  |  |  |
00450 | N | Anesth, surgery of shoulder |  |  |  |  |
00452 | C | Anesth, surgery of shoulder |  |  |  |  |
00454 | N | Anesth, collar bone biopsy |  |  |  |  |
00470 | N | Anesth, removal of rib |  |  |  |  |
00472 | N | Anesth, chest wall repair |  |  |  |  |
00474 | C | Anesth, surgery of rib(s) |  |  |  |  |
00500 | N | Anesth, esophageal surgery |  |  |  |  |
00520 | N | Anesth, chest procedure |  |  |  |  |
00522 | N | Anesth, chest lining biopsy |  |  |  |  |
00524 | C | Anesth, chest drainage |  |  |  |  |
00528 | N | Anesth, chest partition view |  |  |  |  |
00530 | C | Anesth, pacemaker insertion |  |  |  |  |
00532 | N | Anesth, vascular access |  |  |  |  |
00534 | N | Anesth, cardioverter/defib |  |  |  |  |
00540 | C | Anesth, chest surgery |  |  |  |  |
00542 | C | Anesth, release of lung |  |  |  |  |
00544 | C | Anesth, chest lining removal |  |  |  |  |
00546 | C | Anesth, lung, chest wall surg |  |  |  |  |
00548 | N | Anesth, trachea, bronchi surg |  |  |  |  |
00560 | C | Anesth, open heart surgery |  |  |  |  |
00562 | C | Anesth, open heart surgery |  |  |  |  |
00580 | C | Anesth heart/lung transplant |  |  |  |  |
00600 | N | Anesth, spine, cord surgery |  |  |  |  |
00604 | C | Anesth, surgery of vertebra |  |  |  |  |
00620 | N | Anesth, spine, cord surgery |  |  |  |  |
00622 | C | Anesth, removal of nerves |  |  |  |  |
00630 | N | Anesth, spine, cord surgery |  |  |  |  |
00632 | C | Anesth, removal of nerves |  |  |  |  |
00634 | C | Anesth for chemonucleolysis |  |  |  |  |
00670 | C | Anesth, spine, cord surgery |  |  |  |  |
00700 | N | Anesth, abdominal wall surg |  |  |  |  |
00702 | N | Anesth, for liver biopsy |  |  |  |  |
00730 | N | Anesth, abdominal wall surg |  |  |  |  |
00740 | N | Anesth, upper gi visualize |  |  |  |  |
00750 | N | Anesth, repair of hernia |  |  |  |  |
00752 | N | Anesth, repair of hernia |  |  |  |  |
00754 | N | Anesth, repair of hernia |  |  |  |  |
00756 | N | Anesth, repair of hernia |  |  |  |  |
00770 | N | Anesth, blood vessel repair |  |  |  |  |
00790 | N | Anesth, surg upper abdomen |  |  |  |  |
00792 | C | Anesth, part liver removal |  |  |  |  |
00794 | C | Anesth, pancreas removal |  |  |  |  |
00796 | C | Anesth, for liver transplant |  |  |  |  |
00800 | N | Anesth, abdominal wall surg |  |  |  |  |
00802 | C | Anesth, fat layer removal |  |  |  |  |
00810 | N | Anesth, low intestine scope |  |  |  |  |
00820 | N | Anesth, abdominal wall surg |  |  |  |  |
00830 | N | Anesth, repair of hernia |  |  |  |  |
00832 | N | Anesth, repair of hernia |  |  |  |  |
00840 | N | Anesth, surg lower abdomen |  |  |  |  |
00842 | N | Anesth, amniocentesis |  |  |  |  |
00844 | C | Anesth, pelvis surgery |  |  |  |  |
00846 | C | Anesth, hysterectomy |  |  |  |  |
00848 | C | Anesth, pelvic organ surg |  |  |  |  |
00850 | C | Anesth, cesarean section |  |  |  |  |
00855 | C | Anesth, hysterectomy |  |  |  |  |
00857 | C | Analgesia, labor & c-section |  |  |  |  |
00860 | N | Anesth, surgery of abdomen |  |  |  |  |
00862 | N | Anesth, kidney/ureter surg |  |  |  |  |
00864 | C | Anesth, removal of bladder |  |  |  |  |
00865 | C | Anesth, removal of prostate |  |  |  |  |
00866 | C | Anesth, removal of adrenal |  |  |  |  |
00868 | C | Anesth, kidney transplant |  |  |  |  |
00870 | N | Anesth, bladder stone surg |  |  |  |  |
00872 | N | Anesth kidney stone destruct |  |  |  |  |
00873 | N | Anesth kidney stone destruct |  |  |  |  |
00880 | N | Anesth, abdomen vessel surg |  |  |  |  |
00882 | C | Anesth, major vein ligation |  |  |  |  |
00884 | C | Anesth, major vein revision |  |  |  |  |
00900 | N | Anesth, perineal procedure |  |  |  |  |
00902 | N | Anesth, anorectal surgery |  |  |  |  |
00904 | C | Anesth, perineal surgery |  |  |  |  |
00906 | N | Anesth, removal of vulva |  |  |  |  |
00908 | C | Anesth, removal of prostate |  |  |  |  |
00910 | N | Anesth, bladder surgery |  |  |  |  |
00912 | N | Anesth, bladder tumor surg |  |  |  |  |
00914 | N | Anesth, removal of prostate |  |  |  |  |
00916 | N | Anesth, bleeding control |  |  |  |  |
00918 | N | Anesth, stone removal |  |  |  |  |
00920 | N | Anesth, genitalia surgery |  |  |  |  |
00922 | N | Anesth, sperm duct surgery |  |  |  |  |
00924 | N | Anesth, testis exploration |  |  |  |  |
00926 | N | Anesth, removal of testis |  |  |  |  |
00928 | C | Anesth, removal of testis |  |  |  |  |
00930 | N | Anesth, testis suspension |  |  |  |  |
00932 | C | Anesth, amputation of penis |  |  |  |  |
00934 | C | Anesth, penis, nodes removal |  |  |  |  |
00936 | C | Anesth, penis, nodes removal |  |  |  |  |
00938 | N | Anesth, insert penis device |  |  |  |  |
00940 | N | Anesth, vaginal procedures |  |  |  |  |
00942 | N | Anesth, surgery on vagina |  |  |  |  |
00944 | C | Anesth, vaginal hysterectomy |  |  |  |  |
00946 | N | Anesth, vaginal delivery |  |  |  |  |
00948 | N | Anesth, repair of cervix |  |  |  |  |
00950 | N | Anesth, vaginal endoscopy |  |  |  |  |
00952 | N | Anesth, hysteroscope/graph |  |  |  |  |
00955 | C | Analgesia, vaginal delivery |  |  |  |  |
01120 | N | Anesth, pelvis surgery |  |  |  |  |
01130 | N | Anesth, body cast procedure |  |  |  |  |
01140 | C | Anesth, amputation at pelvis |  |  |  |  |
01150 | C | Anesth, pelvic tumor surgery |  |  |  |  |
01160 | N | Anesth, pelvis procedure |  |  |  |  |
01170 | N | Anesth, pelvis surgery |  |  |  |  |
01180 | N | Anesth, pelvis nerve removal |  |  |  |  |
01190 | C | Anesth, pelvis nerve removal |  |  |  |  |
01200 | N | Anesth, hip joint procedure |  |  |  |  |
01202 | N | Anesth, arthroscopy of hip |  |  |  |  |
01210 | N | Anesth, hip joint surgery |  |  |  |  |
01212 | C | Anesth, hip disarticulation |  |  |  |  |
01214 | C | Anesth, replacement of hip |  |  |  |  |
01220 | N | Anesth, procedure on femur |  |  |  |  |
01230 | N | Anesth, surgery of femur |  |  |  |  |
01232 | C | Anesth, amputation of femur |  |  |  |  |
01234 | C | Anesth, radical femur surg |  |  |  |  |
01250 | N | Anesth, upper leg surgery |  |  |  |  |
01260 | N | Anesth, upper leg veins surg |  |  |  |  |
01270 | N | Anesth, thigh arteries surg |  |  |  |  |
01272 | C | Anesth, femoral artery surg |  |  |  |  |
01274 | C | Anesth, femoral embolectomy |  |  |  |  |
01320 | N | Anesth, knee area surgery |  |  |  |  |
01340 | N | Anesth, knee area procedure |  |  |  |  |
01360 | N | Anesth, knee area surgery |  |  |  |  |
01380 | N | Anesth, knee joint procedure |  |  |  |  |
01382 | N | Anesth, knee arthroscopy |  |  |  |  |
01390 | N | Anesth, knee area procedure |  |  |  |  |
01392 | N | Anesth, knee area surgery |  |  |  |  |
01400 | N | Anesth, knee joint surgery |  |  |  |  |
01402 | C | Anesth, replacement of knee |  |  |  |  |
01404 | C | Anesth, amputation at knee |  |  |  |  |
01420 | N | Anesth, knee joint casting |  |  |  |  |
01430 | N | Anesth, knee veins surgery |  |  |  |  |
01432 | N | Anesth, knee vessel surg |  |  |  |  |
01440 | N | Anesth, knee arteries surg |  |  |  |  |
01442 | C | Anesth, knee artery surg |  |  |  |  |
01444 | C | Anesth, knee artery repair |  |  |  |  |
01462 | N | Anesth, lower leg procedure |  |  |  |  |
01464 | N | Anesth, ankle arthroscopy |  |  |  |  |
01470 | N | Anesth, lower leg surgery |  |  |  |  |
01472 | N | Anesth, achilles tendon surg |  |  |  |  |
01474 | N | Anesth, lower leg surgery |  |  |  |  |
01480 | N | Anesth, lower leg bone surg |  |  |  |  |
01482 | N | Anesth, radical leg surgery |  |  |  |  |
01484 | N | Anesth, lower leg revision |  |  |  |  |
01486 | C | Anesth, ankle replacement |  |  |  |  |
01490 | N | Anesth, lower leg casting |  |  |  |  |
01500 | N | Anesth, leg arteries surg |  |  |  |  |
01502 | C | Anesth, lwr leg embolectomy |  |  |  |  |
01520 | N | Anesth, lower leg vein surg |  |  |  |  |
01522 | N | Anesth, lower leg vein surg |  |  |  |  |
01610 | N | Anesth, surgery of shoulder |  |  |  |  |
01620 | N | Anesth, shoulder procedure |  |  |  |  |
01622 | N | Anesth, shoulder arthroscopy |  |  |  |  |
01630 | N | Anesth, surgery of shoulder |  |  |  |  |
01632 | C | Anesth, surgery of shoulder |  |  |  |  |
01634 | C | Anesth, shoulder joint amput |  |  |  |  |
01636 | C | Anesth, forequarter amput |  |  |  |  |
01638 | C | Anesth, shoulder replacement |  |  |  |  |
01650 | N | Anesth, shoulder artery surg |  |  |  |  |
01652 | C | Anesth, shoulder vessel surg |  |  |  |  |
01654 | C | Anesth, shoulder vessel surg |  |  |  |  |
01656 | C | Anesth, arm-leg vessel surg |  |  |  |  |
01670 | N | Anesth, shoulder vein surg |  |  |  |  |
01680 | N | Anesth, shoulder casting |  |  |  |  |
01682 | N | Anesth, airplane cast |  |  |  |  |
01710 | N | Anesth, elbow area surgery |  |  |  |  |
01712 | N | Anesth, uppr arm tendon surg |  |  |  |  |
01714 | N | Anesth, uppr arm tendon surg |  |  |  |  |
01716 | N | Anesth, biceps tendon repair |  |  |  |  |
01730 | N | Anesth, uppr arm procedure |  |  |  |  |
01732 | N | Anesth, elbow arthroscopy |  |  |  |  |
01740 | N | Anesth, upper arm surgery |  |  |  |  |
01742 | N | Anesth, humerus surgery |  |  |  |  |
01744 | N | Anesth, humerus repair |  |  |  |  |
01756 | C | Anesth, radical humerus surg |  |  |  |  |
01758 | N | Anesth, humeral lesion surg |  |  |  |  |
01760 | N | Anesth, elbow replacement |  |  |  |  |
01770 | N | Anesth, uppr arm artery surg |  |  |  |  |
01772 | C | Anesth, uppr arm embolectomy |  |  |  |  |
01780 | N | Anesth, upper arm vein surg |  |  |  |  |
01782 | C | Anesth, uppr arm vein repair |  |  |  |  |
01784 | N | Anesth, av fistula repair |  |  |  |  |
01810 | N | Anesth, lower arm surgery |  |  |  |  |
01820 | N | Anesth, lower arm procedure |  |  |  |  |
01830 | N | Anesth, lower arm surgery |  |  |  |  |
01832 | N | Anesth, wrist replacement |  |  |  |  |
01840 | N | Anesth, lwr arm artery surg |  |  |  |  |
01842 | C | Anesth, lwr arm embolectomy |  |  |  |  |
01844 | N | Anesth, vascular shunt surg |  |  |  |  |
01850 | N | Anesth, lower arm vein surg |  |  |  |  |
01852 | C | Anesth, lwr arm vein repair |  |  |  |  |
01860 | N | Anesth, lower arm casting |  |  |  |  |
01904 | C | Anesth, skull x-ray inject |  |  |  |  |
01906 | N | Anesth, lumbar myelography |  |  |  |  |
01908 | N | Anesth, cervical myelography |  |  |  |  |
01910 | N | Anesth, skull myelography |  |  |  |  |
01912 | N | Anesth, lumbar diskography |  |  |  |  |
01914 | N | Anesth, cervical diskography |  |  |  |  |
01916 | N | Anesth, head arteriogram |  |  |  |  |
01918 | N | Anesth, limb arteriogram |  |  |  |  |
01920 | N | Anesth, catheterize heart |  |  |  |  |
01921 | N | Anesth, vessel surgery |  |  |  |  |
01922 | N | Anesth, cat or MRI scan |  |  |  |  |
01990 | C | Support for organ donor |  |  |  |  |
01995 | N | Regional anesthesia, limb |  |  |  |  |
01996 | N | Manage daily drug therapy |  |  |  |  |
01999 | N | Unlisted anesth procedure |  |  |  |  |
10040 | T | Acne surgery of skin abscess | 0006 | 2.00 | $96.97 | $33.95 | $19.39
10060 | T | Drainage of skin abscess | 0006 | 2.00 | $96.97 | $33.95 | $19.39
10061 | T | Drainage of skin abscess | 0006 | 2.00 | $96.97 | $33.95 | $19.39
10080 | T | Drainage of pilonidal cyst | 0006 | 2.00 | $96.97 | $33.95 | $19.39
10081 | T | Drainage of pilonidal cyst | 0007 | 3.68 | $178.43 | $72.03 | $35.69
10120 | T | Remove foreign body | 0006 | 2.00 | $96.97 | $33.95 | $19.39
10121 | T | Remove foreign body | 0020 | 6.51 | $315.65 | $130.53 | $63.13
10140 | T | Drainage of hematoma/fluid | 0007 | 3.68 | $178.43 | $72.03 | $35.69
10160 | T | Puncture drainage of lesion | 0006 | 2.00 | $96.97 | $33.95 | $19.39
10180 | T | Complex drainage, wound | 0007 | 3.68 | $178.43 | $72.03 | $35.69
11000 | T | Debride infected skin | 0015 | 1.77 | $85.82 | $31.20 | $17.16
11001 | T | Debride infected skin add-on | 0015 | 1.77 | $85.82 | $31.20 | $17.16
11010 | T | Debride skin, fx | 0022 | 12.49 | $605.60 | $292.94 | $121.12
11011 | T | Debride skin/muscle, fx | 0022 | 12.49 | $605.60 | $292.94 | $121.12
11012 | T | Debride skin/muscle/bone, fx | 0022 | 12.49 | $605.60 | $292.94 | $121.12
11040 | T | Debride skin, partial | 0015 | 1.77 | $85.82 | $31.20 | $17.16
11041 | T | Debride skin, full | 0015 | 1.77 | $85.82 | $31.20 | $17.16
11042 | T | Debride skin/tissue | 0016 | 3.53 | $171.16 | $74.67 | $34.23
11043 | T | Debride tissue/muscle | 0016 | 3.53 | $171.16 | $74.67 | $34.23
11044 | T | Debride tissue/muscle/bone | 0017 | 12.45 | $603.66 | $289.16 | $120.73
11055 | T | Trim skin lesion | 0015 | 1.77 | $85.82 | $31.20 | $17.16
11056 | T | Trim skin lesions, 2 to 4 | 0015 | 1.77 | $85.82 | $31.20 | $17.16
11057 | T | Trim skin lesions, over 4 | 0015 | 1.77 | $85.82 | $31.20 | $17.16
11100 | T | Biopsy of skin lesion | 0018 | 0.94 | $45.58 | $17.66 | $9.12
11101 | T | Biopsy, skin add-on | 0018 | 0.94 | $45.58 | $17.66 | $9.12
11200 | T | Removal of skin tags | 0015 | 1.77 | $85.82 | $31.20 | $17.16
11201 | T | Remove skin tags add-on | 0015 | 1.77 | $85.82 | $31.20 | $17.16
11300 | T | Shave skin lesion | 0013 | 0.91 | $44.12 | $17.66 | $8.82
11301 | T | Shave skin lesion | 0013 | 0.91 | $44.12 | $17.66 | $8.82
11302 | T | Shave skin lesion | 0014 | 1.50 | $72.73 | $24.55 | $14.55
11303 | T | Shave skin lesion | 0015 | 1.77 | $85.82 | $31.20 | $17.16
11305 | T | Shave skin lesion | 0013 | 0.91 | $44.12 | $17.66 | $8.82
11306 | T | Shave skin lesion | 0013 | 0.91 | $44.12 | $17.66 | $8.82
11307 | T | Shave skin lesion | 0014 | 1.50 | $72.73 | $24.55 | $14.55
11308 | T | Shave skin lesion | 0015 | 1.77 | $85.82 | $31.20 | $17.16
11310 | T | Shave skin lesion | 0013 | 0.91 | $44.12 | $17.66 | $8.82
11311 | T | Shave skin lesion | 0013 | 0.91 | $44.12 | $17.66 | $8.82
11312 | T | Shave skin lesion | 0015 | 1.77 | $85.82 | $31.20 | $17.16
11313 | T | Shave skin lesion | 0016 | 3.53 | $171.16 | $74.67 | $34.23
11400 | T | Removal of skin lesion | 0019 | 4.00 | $193.95 | $78.91 | $38.79
11401 | T | Removal of skin lesion | 0019 | 4.00 | $193.95 | $78.91 | $38.79
11402 | T | Removal of skin lesion | 0019 | 4.00 | $193.95 | $78.91 | $38.79
11403 | T | Removal of skin lesion | 0020 | 6.51 | $315.65 | $130.53 | $63.13
11404 | T | Removal of skin lesion | 0020 | 6.51 | $315.65 | $130.53 | $63.13
11406 | T | Removal of skin lesion | 0020 | 6.51 | $315.65 | $130.53 | $63.13
11420 | T | Removal of skin lesion | 0019 | 4.00 | $193.95 | $78.91 | $38.79
11421 | T | Removal of skin lesion | 0019 | 4.00 | $193.95 | $78.91 | $38.79
11422 | T | Removal of skin lesion | 0019 | 4.00 | $193.95 | $78.91 | $38.79
11423 | T | Removal of skin lesion | 0020 | 6.51 | $315.65 | $130.53 | $63.13
11424 | T | Removal of skin lesion | 0020 | 6.51 | $315.65 | $130.53 | $63.13
11426 | T | Removal of skin lesion | 0022 | 12.49 | $605.60 | $292.94 | $121.12
11440 | T | Removal of skin lesion | 0019 | 4.00 | $193.95 | $78.91 | $38.79
11441 | T | Removal of skin lesion | 0019 | 4.00 | $193.95 | $78.91 | $38.79
11442 | T | Removal of skin lesion | 0019 | 4.00 | $193.95 | $78.91 | $38.79
11443 | T | Removal of skin lesion | 0020 | 6.51 | $315.65 | $130.53 | $63.13
11444 | T | Removal of skin lesion | 0020 | 6.51 | $315.65 | $130.53 | $63.13
11446 | T | Removal of skin lesion | 0022 | 12.49 | $605.60 | $292.94 | $121.12
11450 | T | Removal, sweat gland lesion | 0022 | 12.49 | $605.60 | $292.94 | $121.12
11451 | T | Removal, sweat gland lesion | 0022 | 12.49 | $605.60 | $292.94 | $121.12
11462 | T | Removal, sweat gland lesion | 0022 | 12.49 | $605.60 | $292.94 | $121.12
11463 | T | Removal, sweat gland lesion | 0022 | 12.49 | $605.60 | $292.94 | $121.12
11470 | T | Removal, sweat gland lesion | 0022 | 12.49 | $605.60 | $292.94 | $121.12
11471 | T | Removal, sweat gland lesion | 0022 | 12.49 | $605.60 | $292.94 | $121.12
11600 | T | Removal of skin lesion | 0019 | 4.00 | $193.95 | $78.91 | $38.79
11601 | T | Removal of skin lesion | 0019 | 4.00 | $193.95 | $78.91 | $38.79
11602 | T | Removal of skin lesion | 0019 | 4.00 | $193.95 | $78.91 | $38.79
11603 | T | Removal of skin lesion | 0020 | 6.51 | $315.65 | $130.53 | $63.13
11604 | T | Removal of skin lesion | 0020 | 6.51 | $315.65 | $130.53 | $63.13
11606 | T | Removal of skin lesion | 0021 | 10.49 | $508.63 | $236.51 | $101.73
11620 | T | Removal of skin lesion | 0019 | 4.00 | $193.95 | $78.91 | $38.79
11621 | T | Removal of skin lesion | 0019 | 4.00 | $193.95 | $78.91 | $38.79
11622 | T | Removal of skin lesion | 0019 | 4.00 | $193.95 | $78.91 | $38.79
11623 | T | Removal of skin lesion | 0020 | 6.51 | $315.65 | $130.53 | $63.13
11624 | T | Removal of skin lesion | 0020 | 6.51 | $315.65 | $130.53 | $63.13
11626 | T | Removal of skin lesion | 0022 | 12.49 | $605.60 | $292.94 | $121.12
11640 | T | Removal of skin lesion | 0019 | 4.00 | $193.95 | $78.91 | $38.79
11641 | T | Removal of skin lesion | 0019 | 4.00 | $193.95 | $78.91 | $38.79
11642 | T | Removal of skin lesion | 0019 | 4.00 | $193.95 | $78.91 | $38.79
11643 | T | Removal of skin lesion | 0020 | 6.51 | $315.65 | $130.53 | $63.13
11644 | T | Removal of skin lesion | 0020 | 6.51 | $315.65 | $130.53 | $63.13
11646 | T | Removal of skin lesion | 0022 | 12.49 | $605.60 | $292.94 | $121.12
11719 | T | Trim nail(s) | 0009 | 0.74 | $35.88 | $9.63 | $7.18
11720 | T | Debride nail, 1-5 | 0009 | 0.74 | $35.88 | $9.63 | $7.18
11721 | T | Debride nail, 6 or more | 0009 | 0.74 | $35.88 | $9.63 | $7.18
11730 | T | Removal of nail plate | 0013 | 0.91 | $44.12 | $17.66 | $8.82
11732 | T | Remove nail plate, add-on | 0012 | 0.53 | $25.70 | $9.18 | $5.14
11740 | T | Drain blood from under nail | 0009 | 0.74 | $35.88 | $9.63 | $7.18
11750 | T | Removal of nail bed | 0019 | 4.00 | $193.95 | $78.91 | $38.79
11752 | T | Remove nail bed/finger tip | 0022 | 12.49 | $605.60 | $292.94 | $121.12
11755 | T | Biopsy, nail unit | 0019 | 4.00 | $193.95 | $78.91 | $38.79
11760 | T | Repair of nail bed | 0024 | 2.43 | $117.82 | $44.50 | $23.56
11762 | T | Reconstruction of nail bed | 0024 | 2.43 | $117.82 | $44.50 | $23.56
11765 | T | Excision of nail fold, toe | 0015 | 1.77 | $85.82 | $31.20 | $17.16
11770 | T | Removal of pilonidal lesion | 0021 | 10.49 | $508.63 | $236.51 | $101.73
11771 | T | Removal of pilonidal lesion | 0022 | 12.49 | $605.60 | $292.94 | $121.12
11772 | T | Removal of pilonidal lesion | 0022 | 12.49 | $605.60 | $292.94 | $121.12
11900 | T | Injection into skin lesions | 0012 | 0.53 | $25.70 | $9.18 | $5.14
11901 | T | Added skin lesions injection | 0013 | 0.91 | $44.12 | $17.66 | $8.82
11920 | T | Correct skin color defects | 0024 | 2.43 | $117.82 | $44.50 | $23.56
11921 | T | Correct skin color defects | 0024 | 2.43 | $117.82 | $44.50 | $23.56
11922 | T | Correct skin color defects | 0024 | 2.43 | $117.82 | $44.50 | $23.56
11950 | T | Therapy for contour defects | 0024 | 2.43 | $117.82 | $44.50 | $23.56
11951 | T | Therapy for contour defects | 0024 | 2.43 | $117.82 | $44.50 | $23.56
11952 | T | Therapy for contour defects | 0024 | 2.43 | $117.82 | $44.50 | $23.56
11954 | T | Therapy for contour defects | 0024 | 2.43 | $117.82 | $44.50 | $23.56
11960 | T | Insert tissue expander(s) | 0026 | 12.11 | $587.18 | $277.92 | $117.44
11970 | T | Replace tissue expander | 0026 | 12.11 | $587.18 | $277.92 | $117.44
11971 | T | Remove tissue expander(s) | 0022 | 12.49 | $605.60 | $292.94 | $121.12
11975 | E | Insert contraceptive cap |  |  |  |  |
11976 | T | Removal of contraceptive cap | 0019 | 4.00 | $193.95 | $78.91 | $38.79
11977 | E | Removal/reinsert contra cap |  |  |  |  |
11980 | E | Implant hormone pellet(s) |  |  |  |  |
12001 | T | Repair superficial wound(s) | 0024 | 2.43 | $117.82 | $44.50 | $23.56
12002 | T | Repair superficial wound(s) | 0024 | 2.43 | $117.82 | $44.50 | $23.56
12004 | T | Repair superficial wound(s) | 0024 | 2.43 | $117.82 | $44.50 | $23.56
12005 | T | Repair superficial wound(s) | 0024 | 2.43 | $117.82 | $44.50 | $23.56
12006 | T | Repair superficial wound(s) | 0024 | 2.43 | $117.82 | $44.50 | $23.56
12007 | T | Repair superficial wound(s) | 0024 | 2.43 | $117.82 | $44.50 | $23.56
12011 | T | Repair superficial wound(s) | 0024 | 2.43 | $117.82 | $44.50 | $23.56
12013 | T | Repair superficial wound(s) | 0024 | 2.43 | $117.82 | $44.50 | $23.56
12014 | T | Repair superficial wound(s) | 0024 | 2.43 | $117.82 | $44.50 | $23.56
12015 | T | Repair superficial wound(s) | 0024 | 2.43 | $117.82 | $44.50 | $23.56
12016 | T | Repair superficial wound(s) | 0024 | 2.43 | $117.82 | $44.50 | $23.56
12017 | T | Repair superficial wound(s) | 0024 | 2.43 | $117.82 | $44.50 | $23.56
12018 | T | Repair superficial wound(s) | 0024 | 2.43 | $117.82 | $44.50 | $23.56
12020 | T | Closure of split wound | 0024 | 2.43 | $117.82 | $44.50 | $23.56
12021 | T | Closure of split wound | 0024 | 2.43 | $117.82 | $44.50 | $23.56
12031 | T | Layer closure of wound(s) | 0024 | 2.43 | $117.82 | $44.50 | $23.56
12032 | T | Layer closure of wound(s) | 0024 | 2.43 | $117.82 | $44.50 | $23.56
12034 | T | Layer closure of wound(s) | 0024 | 2.43 | $117.82 | $44.50 | $23.56
12035 | T | Layer closure of wound(s) | 0024 | 2.43 | $117.82 | $44.50 | $23.56
12036 | T | Layer closure of wound(s) | 0024 | 2.43 | $117.82 | $44.50 | $23.56
12037 | T | Layer closure of wound(s) | 0026 | 12.11 | $587.18 | $277.92 | $117.44
12041 | T | Layer closure of wound(s) | 0024 | 2.43 | $117.82 | $44.50 | $23.56
12042 | T | Layer closure of wound(s) | 0024 | 2.43 | $117.82 | $44.50 | $23.56
12044 | T | Layer closure of wound(s) | 0024 | 2.43 | $117.82 | $44.50 | $23.56
12045 | T | Layer closure of wound(s) | 0024 | 2.43 | $117.82 | $44.50 | $23.56
12046 | T | Layer closure of wound(s) | 0024 | 2.43 | $117.82 | $44.50 | $23.56
12047 | T | Layer closure of wound(s) | 0026 | 12.11 | $587.18 | $277.92 | $117.44
12051 | T | Layer closure of wound(s) | 0024 | 2.43 | $117.82 | $44.50 | $23.56
12052 | T | Layer closure of wound(s) | 0024 | 2.43 | $117.82 | $44.50 | $23.56
12053 | T | Layer closure of wound(s) | 0024 | 2.43 | $117.82 | $44.50 | $23.56
12054 | T | Layer closure of wound(s) | 0024 | 2.43 | $117.82 | $44.50 | $23.56
12055 | T | Layer closure of wound(s) | 0024 | 2.43 | $117.82 | $44.50 | $23.56
12056 | T | Layer closure of wound(s) | 0024 | 2.43 | $117.82 | $44.50 | $23.56
12057 | T | Layer closure of wound(s) | 0026 | 12.11 | $587.18 | $277.92 | $117.44
13100 | T | Repair of wound or lesion | 0025 | 3.74 | $181.34 | $70.66 | $36.27
13101 | T | Repair of wound or lesion | 0025 | 3.74 | $181.34 | $70.66 | $36.27
13102 | T | Repair wound/lesion add-on | 0025 | 3.74 | $181.34 | $70.66 | $36.27
13120 | T | Repair of wound or lesion | 0025 | 3.74 | $181.34 | $70.66 | $36.27
13121 | T | Repair of wound or lesion | 0025 | 3.74 | $181.34 | $70.66 | $36.27
13122 | T | Repair wound/lesion add-on | 0025 | 3.74 | $181.34 | $70.66 | $36.27
13131 | T | Repair of wound or lesion | 0025 | 3.74 | $181.34 | $70.66 | $36.27
13132 | T | Repair of wound or lesion | 0025 | 3.74 | $181.34 | $70.66 | $36.27
13133 | T | Repair wound/lesion add-on | 0025 | 3.74 | $181.34 | $70.66 | $36.27
13150 | T | Repair of wound or lesion | 0026 | 12.11 | $587.18 | $277.92 | $117.44
13151 | T | Repair of wound or lesion | 0025 | 3.74 | $181.34 | $70.66 | $36.27
13152 | T | Repair of wound or lesion | 0025 | 3.74 | $181.34 | $70.66 | $36.27
13153 | T | Repair wound/lesion add-on | 0025 | 3.74 | $181.34 | $70.66 | $36.27
13160 | T | Late closure of wound | 0026 | 12.11 | $587.18 | $277.92 | $117.44
14000 | T | Skin tissue rearrangement | 0026 | 12.11 | $587.18 | $277.92 | $117.44
14001 | T | Skin tissue rearrangement | 0026 | 12.11 | $587.18 | $277.92 | $117.44
14020 | T | Skin tissue rearrangement | 0026 | 12.11 | $587.18 | $277.92 | $117.44
14021 | T | Skin tissue rearrangement | 0026 | 12.11 | $587.18 | $277.92 | $117.44
14040 | T | Skin tissue rearrangement | 0026 | 12.11 | $587.18 | $277.92 | $117.44
14041 | T | Skin tissue rearrangement | 0026 | 12.11 | $587.18 | $277.92 | $117.44
14060 | T | Skin tissue rearrangement | 0026 | 12.11 | $587.18 | $277.92 | $117.44
14061 | T | Skin tissue rearrangement | 0026 | 12.11 | $587.18 | $277.92 | $117.44
14300 | T | Skin tissue rearrangement | 0026 | 12.11 | $587.18 | $277.92 | $117.44
14350 | T | Skin tissue rearrangement | 0026 | 12.11 | $587.18 | $277.92 | $117.44
15000 | T | Skin graft | 0026 | 12.11 | $587.18 | $277.92 | $117.44
15001 | T | Skin graft add-on | 0026 | 12.11 | $587.18 | $277.92 | $117.44
15050 | T | Skin pinch graft | 0026 | 12.11 | $587.18 | $277.92 | $117.44
15100 | T | Skin split graft | 0026 | 12.11 | $587.18 | $277.92 | $117.44
15101 | T | Skin split graft add-on | 0026 | 12.11 | $587.18 | $277.92 | $117.44
15120 | T | Skin split graft | 0026 | 12.11 | $587.18 | $277.92 | $117.44
15121 | T | Skin split graft add-on | 0026 | 12.11 | $587.18 | $277.92 | $117.44
15200 | T | Skin full graft | 0026 | 12.11 | $587.18 | $277.92 | $117.44
15201 | T | Skin full graft add-on | 0026 | 12.11 | $587.18 | $277.92 | $117.44
15220 | T | Skin full graft | 0026 | 12.11 | $587.18 | $277.92 | $117.44
15221 | T | Skin full graft add-on | 0026 | 12.11 | $587.18 | $277.92 | $117.44
15240 | T | Skin full graft | 0026 | 12.11 | $587.18 | $277.92 | $117.44
15241 | T | Skin full graft add-on | 0026 | 12.11 | $587.18 | $277.92 | $117.44
15260 | T | Skin full graft | 0026 | 12.11 | $587.18 | $277.92 | $117.44
15261 | T | Skin full graft add-on | 0026 | 12.11 | $587.18 | $277.92 | $117.44
15350 | T | Skin homograft | 0026 | 12.11 | $587.18 | $277.92 | $117.44
15351 | T | Skin homograft add-on | 0026 | 12.11 | $587.18 | $277.92 | $117.44
15400 | T | Skin heterograft | 0026 | 12.11 | $587.18 | $277.92 | $117.44
15401 | T | Skin heterograft add-on | 0026 | 12.11 | $587.18 | $277.92 | $117.44
15570 | T | Form skin pedicle flap | 0026 | 12.11 | $587.18 | $277.92 | $117.44
15572 | T | Form skin pedicle flap | 0026 | 12.11 | $587.18 | $277.92 | $117.44
15574 | T | Form skin pedicle flap | 0026 | 12.11 | $587.18 | $277.92 | $117.44
15576 | T | Form skin pedicle flap | 0026 | 12.11 | $587.18 | $277.92 | $117.44
15600 | T | Skin graft | 0026 | 12.11 | $587.18 | $277.92 | $117.44
15610 | T | Skin graft | 0026 | 12.11 | $587.18 | $277.92 | $117.44
15620 | T | Skin graft | 0026 | 12.11 | $587.18 | $277.92 | $117.44
15630 | T | Skin graft | 0026 | 12.11 | $587.18 | $277.92 | $117.44
15650 | T | Transfer skin pedicle flap | 0026 | 12.11 | $587.18 | $277.92 | $117.44
15732 | T | Muscle-skin graft, head/neck | 0027 | 15.80 | $766.10 | $383.10 | $153.22
15734 | T | Muscle-skin graft, trunk | 0027 | 15.80 | $766.10 | $383.10 | $153.22
15736 | T | Muscle-skin graft, arm | 0027 | 15.80 | $766.10 | $383.10 | $153.22
15738 | T | Muscle-skin graft, leg | 0027 | 15.80 | $766.10 | $383.10 | $153.22
15740 | T | Island pedicle flap graft | 0027 | 15.80 | $766.10 | $383.10 | $153.22
15750 | T | Neurovascular pedicle graft | 0027 | 15.80 | $766.10 | $383.10 | $153.22
15756 | C | Free muscle flap, microvasc |  |  |  |  |
15757 | C | Free skin flap, microvasc |  |  |  |  |
15758 | C | Free fascial flap, microvasc |  |  |  |  |
15760 | T | Composite skin graft | 0027 | 15.80 | $766.10 | $383.10 | $153.22
15770 | T | Derma-fat-fascia graft | 0027 | 15.80 | $766.10 | $383.10 | $153.22
15775 | T | Hair transplant punch grafts | 0026 | 12.11 | $587.18 | $277.92 | $117.44
15776 | T | Hair transplant punch grafts | 0026 | 12.11 | $587.18 | $277.92 | $117.44
15780 | T | Abrasion treatment of skin | 0022 | 12.49 | $605.60 | $292.94 | $121.12
15781 | T | Abrasion treatment of skin | 0022 | 12.49 | $605.60 | $292.94 | $121.12
15782 | T | Abrasion treatment of skin | 0022 | 12.49 | $605.60 | $292.94 | $121.12
15783 | T | Abrasion treatment of skin | 0015 | 1.77 | $85.82 | $31.20 | $17.16
15786 | T | Abrasion, lesion, single | 0013 | 0.91 | $44.12 | $17.66 | $8.82
15787 | T | Abrasion, lesions, add-on | 0016 | 3.53 | $171.16 | $74.67 | $34.23
15788 | T | Chemical peel, face, epiderm | 0013 | 0.91 | $44.12 | $17.66 | $8.82
15789 | T | Chemical peel, face, dermal | 0015 | 1.77 | $85.82 | $31.20 | $17.16
15792 | T | Chemical peel, nonfacial | 0016 | 3.53 | $171.16 | $74.67 | $34.23
15793 | T | Chemical peel, nonfacial | 0016 | 3.53 | $171.16 | $74.67 | $34.23
15810 | T | Salabrasion | 0016 | 3.53 | $171.16 | $74.67 | $34.23
15811 | T | Salabrasion | 0022 | 12.49 | $605.60 | $292.94 | $121.12
15819 | T | Plastic surgery, neck | 0026 | 12.11 | $587.18 | $277.92 | $117.44
15820 | T | Revision of lower eyelid | 0026 | 12.11 | $587.18 | $277.92 | $117.44
15821 | T | Revision of lower eyelid | 0026 | 12.11 | $587.18 | $277.92 | $117.44
15822 | T | Revision of upper eyelid | 0026 | 12.11 | $587.18 | $277.92 | $117.44
15823 | T | Revision of upper eyelid | 0026 | 12.11 | $587.18 | $277.92 | $117.44
15824 | T | Removal of forehead wrinkles | 0027 | 15.80 | $766.10 | $383.10 | $153.22
15825 | T | Removal of neck wrinkles | 0026 | 12.11 | $587.18 | $277.92 | $117.44
15826 | T | Removal of brow wrinkles | 0027 | 15.80 | $766.10 | $383.10 | $153.22
15828 | T | Removal of face wrinkles | 0027 | 15.80 | $766.10 | $383.10 | $153.22
15829 | T | Removal of skin wrinkles | 0026 | 12.11 | $587.18 | $277.92 | $117.44
15831 | T | Excise excessive skin tissue | 0027 | 15.80 | $766.10 | $383.10 | $153.22
15832 | T | Excise excessive skin tissue | 0027 | 15.80 | $766.10 | $383.10 | $153.22
15833 | T | Excise excessive skin tissue | 0027 | 15.80 | $766.10 | $383.10 | $153.22
15834 | T | Excise excessive skin tissue | 0027 | 15.80 | $766.10 | $383.10 | $153.22
15835 | T | Excise excessive skin tissue | 0026 | 12.11 | $587.18 | $277.92 | $117.44
15836 | T | Excise excessive skin tissue | 0027 | 15.80 | $766.10 | $383.10 | $153.22
15837 | T | Excise excessive skin tissue | 0027 | 15.80 | $766.10 | $383.10 | $153.22
15838 | T | Excise excessive skin tissue | 0022 | 12.49 | $605.60 | $292.94 | $121.12
15839 | T | Excise excessive skin tissue | 0027 | 15.80 | $766.10 | $383.10 | $153.22
15840 | T | Graft for face nerve palsy | 0027 | 15.80 | $766.10 | $383.10 | $153.22
15841 | T | Graft for face nerve palsy | 0027 | 15.80 | $766.10 | $383.10 | $153.22
15842 | T | Graft for face nerve palsy | 0027 | 15.80 | $766.10 | $383.10 | $153.22
15845 | T | Skin and muscle repair, face | 0027 | 15.80 | $766.10 | $383.10 | $153.22
15850 | T | Removal of sutures | 0013 | 0.91 | $44.12 | $17.66 | $8.82
15851 | T | Removal of sutures | 0013 | 0.91 | $44.12 | $17.66 | $8.82
15852 | T | Dressing change, not for burn | 0012 | 0.53 | $25.70 | $9.18 | $5.14
15860 | N | Test for blood flow in graft |  |  |  |  |
15876 | T | Suction assisted lipectomy | 0027 | 15.80 | $766.10 | $383.10 | $153.22
15877 | T | Suction assisted lipectomy | 0027 | 15.80 | $766.10 | $383.10 | $153.22
15878 | T | Suction assisted lipectomy | 0027 | 15.80 | $766.10 | $383.10 | $153.22
15879 | T | Suction assisted lipectomy | 0027 | 15.80 | $766.10 | $383.10 | $153.22
15920 | T | Removal of tail bone ulcer | 0022 | 12.49 | $605.60 | $292.94 | $121.12
15922 | T | Removal of tail bone ulcer | 0027 | 15.80 | $766.10 | $383.10 | $153.22
15931 | T | Remove sacrum pressure sore | 0022 | 12.49 | $605.60 | $292.94 | $121.12
15933 | T | Remove sacrum pressure sore | 0022 | 12.49 | $605.60 | $292.94 | $121.12
15934 | T | Remove sacrum pressure sore | 0027 | 15.80 | $766.10 | $383.10 | $153.22
15935 | T | Remove sacrum pressure sore | 0027 | 15.80 | $766.10 | $383.10 | $153.22
15936 | T | Remove sacrum pressure sore | 0027 | 15.80 | $766.10 | $383.10 | $153.22
15937 | T | Remove sacrum pressure sore | 0027 | 15.80 | $766.10 | $383.10 | $153.22
15940 | T | Remove hip pressure sore | 0022 | 12.49 | $605.60 | $292.94 | $121.12
15941 | T | Remove hip pressure sore | 0022 | 12.49 | $605.60 | $292.94 | $121.12
15944 | T | Remove hip pressure sore | 0027 | 15.80 | $766.10 | $383.10 | $153.22
15945 | T | Remove hip pressure sore | 0027 | 15.80 | $766.10 | $383.10 | $153.22
15946 | T | Remove hip pressure sore | 0027 | 15.80 | $766.10 | $383.10 | $153.22
15950 | T | Remove thigh pressure sore | 0022 | 12.49 | $605.60 | $292.94 | $121.12
15951 | T | Remove thigh pressure sore | 0022 | 12.49 | $605.60 | $292.94 | $121.12
15952 | T | Remove thigh pressure sore | 0027 | 15.80 | $766.10 | $383.10 | $153.22
15953 | T | Remove thigh pressure sore | 0027 | 15.80 | $766.10 | $383.10 | $153.22
15956 | T | Remove thigh pressure sore | 0027 | 15.80 | $766.10 | $383.10 | $153.22
15958 | T | Remove thigh pressure sore | 0027 | 15.80 | $766.10 | $383.10 | $153.22
15999 | T | Removal of pressure sore | 0022 | 12.49 | $605.60 | $292.94 | $121.12
16000 | T | Initial treatment of burn(s) | 0015 | 1.77 | $85.82 | $31.20 | $17.16
16010 | T | Treatment of burn(s) | 0015 | 1.77 | $85.82 | $31.20 | $17.16
16015 | T | Treatment of burn(s) | 0017 | 12.45 | $603.66 | $289.16 | $120.73
16020 | T | Treatment of burn(s) | 0015 | 1.77 | $85.82 | $31.20 | $17.16
16025 | T | Treatment of burn(s) | 0014 | 1.50 | $72.73 | $24.55 | $14.55
16030 | T | Treatment of burn(s) | 0015 | 1.77 | $85.82 | $31.20 | $17.16
16035 | T | Incision of burn scab | 0020 | 6.51 | $315.65 | $130.53 | $63.13
17000 | T | Destroy benign/premal lesion | 0010 | 0.55 | $26.67 | $9.86 | $5.33
17003 | T | Destroy lesions, 2-14 | 0010 | 0.55 | $26.67 | $9.86 | $5.33
17004 | T | Destroy lesions, 15 or more | 0011 | 2.72 | $131.88 | $50.01 | $26.38
17106 | T | Destruction of skin lesions | 0011 | 2.72 | $131.88 | $50.01 | $26.38
17107 | T | Destruction of skin lesions | 0011 | 2.72 | $131.88 | $50.01 | $26.38
17108 | T | Destruction of skin lesions | 0011 | 2.72 | $131.88 | $50.01 | $26.38
17110 | T | Destruct lesion, 1-14 | 0010 | 0.55 | $26.67 | $9.86 | $5.33
17111 | T | Destruct lesion, 15 or more | 0011 | 2.72 | $131.88 | $50.01 | $26.38
17250 | T | Chemical cautery, tissue | 0014 | 1.50 | $72.73 | $24.55 | $14.55
17260 | T | Destruction of skin lesions | 0013 | 0.91 | $44.12 | $17.66 | $8.82
17261 | T | Destruction of skin lesions | 0013 | 0.91 | $44.12 | $17.66 | $8.82
17262 | T | Destruction of skin lesions | 0013 | 0.91 | $44.12 | $17.66 | $8.82
17263 | T | Destruction of skin lesions | 0013 | 0.91 | $44.12 | $17.66 | $8.82
17264 | T | Destruction of skin lesions | 0015 | 1.77 | $85.82 | $31.20 | $17.16
17266 | T | Destruction of skin lesions | 0016 | 3.53 | $171.16 | $74.67 | $34.23
17270 | T | Destruction of skin lesions | 0015 | 1.77 | $85.82 | $31.20 | $17.16
17271 | T | Destruction of skin lesions | 0013 | 0.91 | $44.12 | $17.66 | $8.82
17272 | T | Destruction of skin lesions | 0013 | 0.91 | $44.12 | $17.66 | $8.82
17273 | T | Destruction of skin lesions | 0015 | 1.77 | $85.82 | $31.20 | $17.16
17274 | T | Destruction of skin lesions | 0015 | 1.77 | $85.82 | $31.20 | $17.16
17276 | T | Destruction of skin lesions | 0015 | 1.77 | $85.82 | $31.20 | $17.16
17280 | T | Destruction of skin lesions | 0015 | 1.77 | $85.82 | $31.20 | $17.16
17281 | T | Destruction of skin lesions | 0015 | 1.77 | $85.82 | $31.20 | $17.16
17282 | T | Destruction of skin lesions | 0015 | 1.77 | $85.82 | $31.20 | $17.16
17283 | T | Destruction of skin lesions | 0015 | 1.77 | $85.82 | $31.20 | $17.16
17284 | T | Destruction of skin lesions | 0016 | 3.53 | $171.16 | $74.67 | $34.23
17286 | T | Destruction of skin lesions | 0016 | 3.53 | $171.16 | $74.67 | $34.23
17304 | T | Chemosurgery of skin lesion | 0020 | 6.51 | $315.65 | $130.53 | $63.13
17305 | T | 2nd stage chemosurgery | 0020 | 6.51 | $315.65 | $130.53 | $63.13
17306 | T | 3rd stage chemosurgery | 0020 | 6.51 | $315.65 | $130.53 | $63.13
17307 | T | Followup skin lesion therapy | 0020 | 6.51 | $315.65 | $130.53 | $63.13
17310 | T | Extensive skin chemosurgery | 0020 | 6.51 | $315.65 | $130.53 | $63.13
17340 | T | Cryotherapy of skin | 0012 | 0.53 | $25.70 | $9.18 | $5.14
17360 | T | Skin peel therapy | 0016 | 3.53 | $171.16 | $74.67 | $34.23
17380 | T | Hair removal by electrolysis | 0016 | 3.53 | $171.16 | $74.67 | $34.23
17999 | T | Skin tissue procedure | 0004 | 1.84 | $89.22 | $32.57 | $17.84
19000 | T | Drainage of breast lesion | 0004 | 1.84 | $89.22 | $32.57 | $17.84
19001 | T | Drain breast lesion add-on | 0004 | 1.84 | $89.22 | $32.57 | $17.84
19020 | T | Incision of breast lesion | 0008 | 6.15 | $298.20 | $113.67 | $59.64
19030 | N | Injection for breast x-ray |  |  |  |  |
19100 | T | Biopsy of breast | 0005 | 5.41 | $262.32 | $119.75 | $52.46
19101 | T | Biopsy of breast | 0029 | 12.85 | $623.06 | $303.50 | $124.61
19110 | T | Nipple exploration | 0029 | 12.85 | $623.06 | $303.50 | $124.61
19112 | T | Excise breast duct fistula | 0029 | 12.85 | $623.06 | $303.50 | $124.61
19120 | T | Removal of breast lesion | 0029 | 12.85 | $623.06 | $303.50 | $124.61
19125 | T | Excision, breast lesion | 0029 | 12.85 | $623.06 | $303.50 | $124.61
19126 | T | Excision, addl breast lesion | 0029 | 12.85 | $623.06 | $303.50 | $124.61
19140 | T | Removal of breast tissue | 0029 | 12.85 | $623.06 | $303.50 | $124.61
19160 | T | Removal of breast tissue | 0030 | 20.19 | $978.95 | $523.95 | $195.79
19162 | T | Remove breast tissue, nodes | 0030 | 20.19 | $978.95 | $523.95 | $195.79
19180 | T | Removal of breast | 0030 | 20.19 | $978.95 | $523.95 | $195.79
19182 | T | Removal of breast | 0030 | 20.19 | $978.95 | $523.95 | $195.79
19200 | C | Removal of breast |  |  |  |  |
19220 | C | Removal of breast |  |  |  |  |
19240 | C | Removal of breast |  |  |  |  |
19260 | C | Removal of chest wall lesion |  |  |  |  |
19271 | C | Revision of chest wall |  |  |  |  |
19272 | C | Extensive chest wall surgery |  |  |  |  |
19290 | T | Place needle wire, breast | 0029 | 12.85 | $623.06 | $303.50 | $124.61
19291 | T | Place needle wire, breast | 0029 | 12.85 | $623.06 | $303.50 | $124.61
19316 | T | Suspension of breast | 0030 | 20.19 | $978.95 | $523.95 | $195.79
19318 | T | Reduction of large breast | 0030 | 20.19 | $978.95 | $523.95 | $195.79
19324 | T | Enlarge breast | 0030 | 20.19 | $978.95 | $523.95 | $195.79
19325 | T | Enlarge breast with implant | 0030 | 20.19 | $978.95 | $523.95 | $195.79
19328 | T | Removal of breast implant | 0030 | 20.19 | $978.95 | $523.95 | $195.79
19330 | T | Removal of implant material | 0030 | 20.19 | $978.95 | $523.95 | $195.79
19340 | T | Immediate breast prosthesis | 0030 | 20.19 | $978.95 | $523.95 | $195.79
19342 | T | Delayed breast prosthesis | 0030 | 20.19 | $978.95 | $523.95 | $195.79
19350 | T | Breast reconstruction | 0030 | 20.19 | $978.95 | $523.95 | $195.79
19355 | T | Correct inverted nipple(s) | 0030 | 20.19 | $978.95 | $523.95 | $195.79
19357 | T | Breast reconstruction | 0030 | 20.19 | $978.95 | $523.95 | $195.79
19361 | C | Breast reconstruction |  |  |  |  |
19364 | C | Breast reconstruction |  |  |  |  |
19366 | T | Breast reconstruction | 0030 | 20.19 | $978.95 | $523.95 | $195.79
19367 | C | Breast reconstruction |  |  |  |  |
19368 | C | Breast reconstruction |  |  |  |  |
19369 | C | Breast reconstruction |  |  |  |  |
19370 | T | Surgery of breast capsule | 0030 | 20.19 | $978.95 | $523.95 | $195.79
19371 | T | Removal of breast capsule | 0030 | 20.19 | $978.95 | $523.95 | $195.79
19380 | T | Revise breast reconstruction | 0030 | 20.19 | $978.95 | $523.95 | $195.79
19396 | T | Design custom breast implant | 0029 | 12.85 | $623.06 | $303.50 | $124.61
19499 | T | Breast surgery procedure | 0029 | 12.85 | $623.06 | $303.50 | $124.61
20000 | T | Incision of abscess | 0006 | 2.00 | $96.97 | $33.95 | $19.39
20005 | T | Incision of deep abscess | 0049 | 15.04 | $729.25 | $356.95 | $145.85
20100 | T | Explore wound, neck | 0023 | 1.98 | $96.00 | $40.37 | $19.20
20101 | T | Explore wound, chest | 0026 | 12.11 | $587.18 | $277.92 | $117.44
20102 | T | Explore wound, abdomen | 0026 | 12.11 | $587.18 | $277.92 | $117.44
20103 | T | Explore wound, extremity | 0023 | 1.98 | $96.00 | $40.37 | $19.20
20150 | T | Excise epiphyseal bar | 0051 | 27.76 | $1,346.00 | $675.24 | $269.20
20200 | T | Muscle biopsy | 0020 | 6.51 | $315.65 | $130.53 | $63.13
20205 | T | Deep muscle biopsy | 0021 | 10.49 | $508.63 | $236.51 | $101.73
20206 | T | Needle biopsy, muscle | 0005 | 5.41 | $262.32 | $119.75 | $52.46
20220 | T | Bone biopsy, trocar/needle | 0019 | 4.00 | $193.95 | $78.91 | $38.79
20225 | T | Bone biopsy, trocar/needle | 0020 | 6.51 | $315.65 | $130.53 | $63.13
20240 | T | Bone biopsy, excisional | 0022 | 12.49 | $605.60 | $292.94 | $121.12
20245 | T | Bone biopsy, excisional | 0022 | 12.49 | $605.60 | $292.94 | $121.12
20250 | T | Open bone biopsy | 0049 | 15.04 | $729.25 | $356.95 | $145.85
20251 | T | Open bone biopsy | 0049 | 15.04 | $729.25 | $356.95 | $145.85
20500 | T | Injection of sinus tract | 0252 | 5.18 | $251.16 | $114.24 | $50.23
20501 | N | Inject sinus tract for x-ray |  |  |  |  |
20520 | T | Removal of foreign body | 0019 | 4.00 | $193.95 | $78.91 | $38.79
20525 | T | Removal of foreign body | 0022 | 12.49 | $605.60 | $292.94 | $121.12
20550 | T | Inject tendon/ligament/cyst | 0040 | 2.11 | $102.31 | $40.60 | $20.46
20600 | T | Drain/inject, joint/bursa | 0040 | 2.11 | $102.31 | $40.60 | $20.46
20605 | T | Drain/inject, joint/bursa | 0040 | 2.11 | $102.31 | $40.60 | $20.46
20610 | T | Drain/inject, joint/bursa | 0040 | 2.11 | $102.31 | $40.60 | $20.46
20615 | T | Treatment of bone cyst | 0004 | 1.84 | $89.22 | $32.57 | $17.84
20650 | T | Insert and remove bone pin | 0049 | 15.04 | $729.25 | $356.95 | $145.85
20660 | C | Apply, remove fixation device |  |  |  |  |
20661 | C | Application of head brace |  |  |  |  |
20662 | C | Application of pelvis brace |  |  |  |  |
20663 | C | Application of thigh brace |  |  |  |  |
20664 | C | Halo brace application |  |  |  |  |
20665 | N | Removal of fixation device |  |  |  |  |
20670 | T | Removal of support implant | 0021 | 10.49 | $508.63 | $236.51 | $101.73
20680 | T | Removal of support implant | 0022 | 12.49 | $605.60 | $292.94 | $121.12
20690 | T | Apply bone fixation device | 0050 | 21.13 | $1,024.53 | $513.86 | $204.91
20692 | T | Apply bone fixation device | 0050 | 21.13 | $1,024.53 | $513.86 | $204.91
20693 | T | Adjust bone fixation device | 0049 | 15.04 | $729.25 | $356.95 | $145.85
20694 | T | Remove bone fixation device | 0049 | 15.04 | $729.25 | $356.95 | $145.85
20802 | C | Replantation, arm, complete |  |  |  |  |
20805 | C | Replant, forearm, complete |  |  |  |  |
20808 | C | Replantation hand, complete |  |  |  |  |
20816 | C | Replantation digit, complete |  |  |  |  |
20822 | C | Replantation digit, complete |  |  |  |  |
20824 | C | Replantation thumb, complete |  |  |  |  |
20827 | C | Replantation thumb, complete |  |  |  |  |
20838 | C | Replantation foot, complete |  |  |  |  |
20900 | T | Removal of bone for graft | 0050 | 21.13 | $1,024.53 | $513.86 | $204.91
20902 | T | Removal of bone for graft | 0050 | 21.13 | $1,024.53 | $513.86 | $204.91
20910 | T | Remove cartilage for graft | 0026 | 12.11 | $587.18 | $277.92 | $117.44
20912 | T | Remove cartilage for graft | 0026 | 12.11 | $587.18 | $277.92 | $117.44
20920 | T | Removal of fascia for graft | 0026 | 12.11 | $587.18 | $277.92 | $117.44
20922 | T | Removal of fascia for graft | 0026 | 12.11 | $587.18 | $277.92 | $117.44
20924 | T | Removal of tendon for graft | 0050 | 21.13 | $1,024.53 | $513.86 | $204.91
20926 | T | Removal of tissue for graft | 0026 | 12.11 | $587.18 | $277.92 | $117.44
20930 | C | Spinal bone allograft |  |  |  |  |
20931 | C | Spinal bone allograft |  |  |  |  |
20936 | C | Spinal bone autograft |  |  |  |  |
20937 | C | Spinal bone autograft |  |  |  |  |
20938 | C | Spinal bone autograft |  |  |  |  |
20950 | T | Fluid pressure, muscle | 0008 | 6.15 | $298.20 | $113.67 | $59.64
20955 | C | Fibula bone graft, microvasc |  |  |  |  |
20956 | C | Iliac bone graft, microvasc |  |  |  |  |
20957 | C | Mt bone graft, microvasc |  |  |  |  |
20962 | C | Other bone graft, microvasc |  |  |  |  |
20969 | C | Bone/skin graft, microvasc |  |  |  |  |
20970 | C | Bone/skin graft, iliac crest |  |  |  |  |
20972 | C | Bone/skin graft, metatarsal |  |  |  |  |
20973 | C | Bone/skin graft, great toe |  |  |  |  |
20974 | A | Electrical bone stimulation |  |  |  |  |
20975 | T | Electrical bone stimulation | 0049 | 15.04 | $729.25 | $356.95 | $145.85
20979 | T | Us bone stimulation | 0049 | 15.04 | $729.25 | $356.95 | $145.85
20999 | N | Musculoskeletal surgery |  |  |  |  |
21010 | T | Incision of jaw joint | 0254 | 12.45 | $603.66 | $272.41 | $120.73
21015 | T | Resection of facial tumor | 0254 | 12.45 | $603.66 | $272.41 | $120.73
21025 | T | Excision of bone, lower jaw | 0256 | 25.40 | $1,231.57 | $623.05 | $246.31
21026 | T | Excision of facial bone(s) | 0256 | 25.40 | $1,231.57 | $623.05 | $246.31
21029 | T | Contour of face bone lesion | 0256 | 25.40 | $1,231.57 | $623.05 | $246.31
21030 | T | Removal of face bone lesion | 0254 | 12.45 | $603.66 | $272.41 | $120.73
21031 | T | Remove exostosis, mandible | 0253 | 12.02 | $582.81 | $284.00 | $116.56
21032 | T | Remove exostosis, maxilla | 0253 | 12.02 | $582.81 | $284.00 | $116.56
21034 | T | Removal of face bone lesion | 0256 | 25.40 | $1,231.57 | $623.05 | $246.31
21040 | T | Removal of jaw bone lesion | 0253 | 12.02 | $582.81 | $284.00 | $116.56
21041 | T | Removal of jaw bone lesion | 0256 | 25.40 | $1,231.57 | $623.05 | $246.31
21044 | T | Removal of jaw bone lesion | 0256 | 25.40 | $1,231.57 | $623.05 | $246.31
21045 | C | Extensive jaw surgery |  |  |  |  |
21050 | T | Removal of jaw joint | 0256 | 25.40 | $1,231.57 | $623.05 | $246.31
21060 | T | Remove jaw joint cartilage | 0256 | 25.40 | $1,231.57 | $623.05 | $246.31
21070 | T | Remove coronoid process | 0256 | 25.40 | $1,231.57 | $623.05 | $246.31
21076 | T | Prepare face/oral prosthesis | 0254 | 12.45 | $603.66 | $272.41 | $120.73
21077 | T | Prepare face/oral prosthesis | 0256 | 25.40 | $1,231.57 | $623.05 | $246.31
21079 | T | Prepare face/oral prosthesis | 0256 | 25.40 | $1,231.57 | $623.05 | $246.31
21080 | T | Prepare face/oral prosthesis | 0256 | 25.40 | $1,231.57 | $623.05 | $246.31
21081 | T | Prepare face/oral prosthesis | 0256 | 25.40 | $1,231.57 | $623.05 | $246.31
21082 | T | Prepare face/oral prosthesis | 0256 | 25.40 | $1,231.57 | $623.05 | $246.31
21083 | T | Prepare face/oral prosthesis | 0256 | 25.40 | $1,231.57 | $623.05 | $246.31
21084 | T | Prepare face/oral prosthesis | 0256 | 25.40 | $1,231.57 | $623.05 | $246.31
21085 | T | Prepare face/oral prosthesis | 0253 | 12.02 | $582.81 | $284.00 | $116.56
21086 | T | Prepare face/oral prosthesis | 0256 | 25.40 | $1,231.57 | $623.05 | $246.31
21087 | T | Prepare face/oral prosthesis | 0256 | 25.40 | $1,231.57 | $623.05 | $246.31
21088 | T | Prepare face/oral prosthesis | 0256 | 25.40 | $1,231.57 | $623.05 | $246.31
21089 | T | Prepare face/oral prosthesis | 0253 | 12.02 | $582.81 | $284.00 | $116.56
21100 | T | Maxillofacial fixation | 0256 | 25.40 | $1,231.57 | $623.05 | $246.31
21110 | T | Interdental fixation | 0254 | 12.45 | $603.66 | $272.41 | $120.73
21116 | N | Injection, jaw joint x-ray |  |  |  |  |
21120 | T | Reconstruction of chin | 0254 | 12.45 | $603.66 | $272.41 | $120.73
21121 | T | Reconstruction of chin | 0254 | 12.45 | $603.66 | $272.41 | $120.73
21122 | T | Reconstruction of chin | 0254 | 12.45 | $603.66 | $272.41 | $120.73
21123 | T | Reconstruction of chin | 0254 | 12.45 | $603.66 | $272.41 | $120.73
21125 | T | Augmentation, lower jaw bone | 0254 | 12.45 | $603.66 | $272.41 | $120.73
21127 | T | Augmentation, lower jaw bone | 0256 | 25.40 | $1,231.57 | $623.05 | $246.31
21137 | T | Reduction of forehead | 0254 | 12.45 | $603.66 | $272.41 | $120.73
21138 | T | Reduction of forehead | 0256 | 25.40 | $1,231.57 | $623.05 | $246.31
21139 | T | Reduction of forehead | 0256 | 25.40 | $1,231.57 | $623.05 | $246.31
21141 | C | Reconstruct midface, lefort |  |  |  |  |
21142 | C | Reconstruct midface, lefort |  |  |  |  |
21143 | C | Reconstruct midface, lefort |  |  |  |  |
21145 | C | Reconstruct midface, lefort |  |  |  |  |
21146 | C | Reconstruct midface, lefort |  |  |  |  |
21147 | C | Reconstruct midface, lefort |  |  |  |  |
21150 | C | Reconstruct midface, lefort |  |  |  |  |
21151 | C | Reconstruct midface, lefort |  |  |  |  |
21154 | C | Reconstruct midface, lefort |  |  |  |  |
21155 | C | Reconstruct midface, lefort |  |  |  |  |
21159 | C | Reconstruct midface, lefort |  |  |  |  |
21160 | C | Reconstruct midface, lefort |  |  |  |  |
21172 | C | Reconstruct orbit/forehead |  |  |  |  |
21175 | C | Reconstruct orbit/forehead |  |  |  |  |
21179 | C | Reconstruct entire forehead |  |  |  |  |
21180 | C | Reconstruct entire forehead |  |  |  |  |
21181 | T | Contour cranial bone lesion | 0254 | 12.45 | $603.66 | $272.41 | $120.73
21182 | C | Reconstruct cranial bone |  |  |  |  |
21183 | C | Reconstruct cranial bone |  |  |  |  |
21184 | C | Reconstruct cranial bone |  |  |  |  |
21188 | C | Reconstruction of midface |  |  |  |  |
21193 | C | Reconstruct lower jaw bone |  |  |  |  |
21194 | C | Reconstruct lower jaw bone |  |  |  |  |
21195 | C | Reconstruct lower jaw bone |  |  |  |  |
21196 | C | Reconstruct lower jaw bone |  |  |  |  |
21198 | T | Reconstruct lower jaw bone | 0256 | 25.40 | $1,231.57 | $623.05 | $246.31
21206 | T | Reconstruct upper jaw bone | 0256 | 25.40 | $1,231.57 | $623.05 | $246.31
21208 | T | Augmentation of facial bones | 0256 | 25.40 | $1,231.57 | $623.05 | $246.31
21209 | T | Reduction of facial bones | 0256 | 25.40 | $1,231.57 | $623.05 | $246.31
21210 | T | Face bone graft | 0256 | 25.40 | $1,231.57 | $623.05 | $246.31
21215 | T | Lower jaw bone graft | 0256 | 25.40 | $1,231.57 | $623.05 | $246.31
21230 | T | Rib cartilage graft | 0256 | 25.40 | $1,231.57 | $623.05 | $246.31
21235 | T | Ear cartilage graft | 0254 | 12.45 | $603.66 | $272.41 | $120.73
21240 | T | Reconstruction of jaw joint | 0256 | 25.40 | $1,231.57 | $623.05 | $246.31
21242 | T | Reconstruction of jaw joint | 0256 | 25.40 | $1,231.57 | $623.05 | $246.31
21243 | T | Reconstruction of jaw joint | 0256 | 25.40 | $1,231.57 | $623.05 | $246.31
21244 | T | Reconstruction of lower jaw | 0256 | 25.40 | $1,231.57 | $623.05 | $246.31
21245 | T | Reconstruction of jaw | 0256 | 25.40 | $1,231.57 | $623.05 | $246.31
21246 | T | Reconstruction of jaw | 0256 | 25.40 | $1,231.57 | $623.05 | $246.31
21247 | C | Reconstruct lower jaw bone |  |  |  |  |
21248 | T | Reconstruction of jaw | 0256 | 25.40 | $1,231.57 | $623.05 | $246.31
21249 | T | Reconstruction of jaw | 0256 | 25.40 | $1,231.57 | $623.05 | $246.31
21255 | C | Reconstruct lower jaw bone |  |  |  |  |
21256 | C | Reconstruction of orbit |  |  |  |  |
21260 | T | Revise eye sockets | 0256 | 25.40 | $1,231.57 | $623.05 | $246.31
21261 | T | Revise eye sockets | 0256 | 25.40 | $1,231.57 | $623.05 | $246.31
21263 | T | Revise eye sockets | 0256 | 25.40 | $1,231.57 | $623.05 | $246.31
21267 | T | Revise eye sockets | 0256 | 25.40 | $1,231.57 | $623.05 | $246.31
21268 | C | Revise eye sockets |  |  |  |  |
21270 | T | Augmentation, cheek bone | 0256 | 25.40 | $1,231.57 | $623.05 | $246.31
21275 | T | Revision, orbitofacial bones | 0256 | 25.40 | $1,231.57 | $623.05 | $246.31
21280 | T | Revision of eyelid | 0256 | 25.40 | $1,231.57 | $623.05 | $246.31
21282 | T | Revision of eyelid | 0253 | 12.02 | $582.81 | $284.00 | $116.56
21295 | T | Revision of jaw muscle/bone | 0253 | 12.02 | $582.81 | $284.00 | $116.56
21296 | T | Revision of jaw muscle/bone | 0254 | 12.45 | $603.66 | $272.41 | $120.73
21299 | T | Cranio/maxillofacial surgery | 0253 | 12.02 | $582.81 | $284.00 | $116.56
21300 | T | Treatment of skull fracture | 0253 | 12.02 | $582.81 | $284.00 | $116.56
21310 | T | Treatment of nose fracture | 0253 | 12.02 | $582.81 | $284.00 | $116.56
21315 | T | Treatment of nose fracture | 0253 | 12.02 | $582.81 | $284.00 | $116.56
21320 | T | Treatment of nose fracture | 0253 | 12.02 | $582.81 | $284.00 | $116.56
21325 | T | Treatment of nose fracture | 0253 | 12.02 | $582.81 | $284.00 | $116.56
21330 | T | Treatment of nose fracture | 0254 | 12.45 | $603.66 | $272.41 | $120.73
21335 | T | Treatment of nose fracture | 0254 | 12.45 | $603.66 | $272.41 | $120.73
21336 | T | Treat nasal septal fracture | 0046 | 22.29 | $1,080.78 | $535.76 | $216.16
21337 | T | Treat nasal septal fracture | 0253 | 12.02 | $582.81 | $284.00 | $116.56
21338 | T | Treat nasoethmoid fracture | 0254 | 12.45 | $603.66 | $272.41 | $120.73
21339 | T | Treat nasoethmoid fracture | 0254 | 12.45 | $603.66 | $272.41 | $120.73
21340 | T | Treatment of nose fracture | 0256 | 25.40 | $1,231.57 | $623.05 | $246.31
21343 | C | Treatment of sinus fracture |  |  |  |  |
21344 | C | Treatment of sinus fracture |  |  |  |  |
21345 | T | Treat nose/jaw fracture | 0254 | 12.45 | $603.66 | $272.41 | $120.73
21346 | C | Treat nose/jaw fracture |  |  |  |  |
21347 | C | Treat nose/jaw fracture |  |  |  |  |
21348 | C | Treat nose/jaw fracture |  |  |  |  |
21355 | T | Treat cheek bone fracture | 0256 | 25.40 | $1,231.57 | $623.05 | $246.31
21356 | C | Treat cheek bone fracture |  |  |  |  |
21360 | C | Treat cheek bone fracture |  |  |  |  |
21365 | C | Treat cheek bone fracture |  |  |  |  |
21366 | C | Treat cheek bone fracture |  |  |  |  |
21385 | C | Treat eye socket fracture |  |  |  |  |
21386 | C | Treat eye socket fracture |  |  |  |  |
21387 | C | Treat eye socket fracture |  |  |  |  |
21390 | C | Treat eye socket fracture |  |  |  |  |
21395 | C | Treat eye socket fracture |  |  |  |  |
21400 | T | Treat eye socket fracture | 0252 | 5.18 | $251.16 | $114.24 | $50.23
21401 | T | Treat eye socket fracture | 0253 | 12.02 | $582.81 | $284.00 | $116.56
21406 | T | Treat eye socket fracture | 0256 | 25.40 | $1,231.57 | $623.05 | $246.31
21407 | T | Treat eye socket fracture | 0256 | 25.40 | $1,231.57 | $623.05 | $246.31
21408 | C | Treat eye socket fracture |  |  |  |  |
21421 | T | Treat mouth roof fracture | 0254 | 12.45 | $603.66 | $272.41 | $120.73
21422 | C | Treat mouth roof fracture |  |  |  |  |
21423 | C | Treat mouth roof fracture |  |  |  |  |
21431 | C | Treat craniofacial fracture |  |  |  |  |
21432 | C | Treat craniofacial fracture |  |  |  |  |
21433 | C | Treat craniofacial fracture |  |  |  |  |
21435 | C | Treat craniofacial fracture |  |  |  |  |
21436 | C | Treat craniofacial fracture |  |  |  |  |
21440 | T | Treat dental ridge fracture | 0253 | 12.02 | $582.81 | $284.00 | $116.56
21445 | T | Treat dental ridge fracture | 0254 | 12.45 | $603.66 | $272.41 | $120.73
21450 | T | Treat lower jaw fracture | 0251 | 1.68 | $81.46 | $27.99 | $16.29
21451 | T | Treat lower jaw fracture | 0254 | 12.45 | $603.66 | $272.41 | $120.73
21452 | T | Treat lower jaw fracture | 0253 | 12.02 | $582.81 | $284.00 | $116.56
21453 | T | Treat lower jaw fracture | 0256 | 25.40 | $1,231.57 | $623.05 | $246.31
21454 | T | Treat lower jaw fracture | 0254 | 12.45 | $603.66 | $272.41 | $120.73
21461 | T | Treat lower jaw fracture | 0256 | 25.40 | $1,231.57 | $623.05 | $246.31
21462 | T | Treat lower jaw fracture | 0256 | 25.40 | $1,231.57 | $623.05 | $246.31
21465 | T | Treat lower jaw fracture | 0256 | 25.40 | $1,231.57 | $623.05 | $246.31
21470 | T | Treat lower jaw fracture | 0256 | 25.40 | $1,231.57 | $623.05 | $246.31
21480 | T | Reset dislocated jaw | 0251 | 1.68 | $81.46 | $27.99 | $16.29
21485 | T | Reset dislocated jaw | 0253 | 12.02 | $582.81 | $284.00 | $116.56
21490 | T | Repair dislocated jaw | 0256 | 25.40 | $1,231.57 | $623.05 | $246.31
21493 | T | Treat hyoid bone fracture | 0252 | 5.18 | $251.16 | $114.24 | $50.23
21494 | T | Treat hyoid bone fracture | 0252 | 5.18 | $251.16 | $114.24 | $50.23
21495 | C | Treat hyoid bone fracture |  |  |  |  |
21497 | T | Interdental wiring | 0253 | 12.02 | $582.81 | $284.00 | $116.56
21499 | T | Head surgery procedure | 0253 | 12.02 | $582.81 | $284.00 | $116.56
21501 | T | Drain neck/chest lesion | 0008 | 6.15 | $298.20 | $113.67 | $59.64
21502 | T | Drain chest lesion | 0050 | 21.13 | $1,024.53 | $513.86 | $204.91
21510 | C | Drainage of bone lesion |  |  |  |  |
21550 | T | Biopsy of neck/chest | 0019 | 4.00 | $193.95 | $78.91 | $38.79
21555 | T | Remove lesion, neck/chest | 0022 | 12.49 | $605.60 | $292.94 | $121.12
21556 | T | Remove lesion, neck/chest | 0022 | 12.49 | $605.60 | $292.94 | $121.12
21557 | C | Remove tumor, neck/chest |  |  |  |  |
21600 | T | Partial removal of rib | 0050 | 21.13 | $1,024.53 | $513.86 | $204.91
21610 | T | Partial removal of rib | 0050 | 21.13 | $1,024.53 | $513.86 | $204.91
21615 | C | Removal of rib |  |  |  |  |
21616 | C | Removal of rib and nerves |  |  |  |  |
21620 | C | Partial removal of sternum |  |  |  |  |
21627 | C | Sternal debridement |  |  |  |  |
21630 | C | Extensive sternum surgery |  |  |  |  |
21632 | C | Extensive sternum surgery |  |  |  |  |
21700 | T | Revision of neck muscle | 0008 | 6.15 | $298.20 | $113.67 | $59.64
21705 | C | Revision of neck muscle/rib |  |  |  |  |
21720 | T | Revision of neck muscle | 0008 | 6.15 | $298.20 | $113.67 | $59.64
21725 | T | Revision of neck muscle | 0008 | 6.15 | $298.20 | $113.67 | $59.64
21740 | C | Reconstruction of sternum |  |  |  |  |
21750 | C | Repair of sternum separation |  |  |  |  |
21800 | T | Treatment of rib fracture | 0043 | 1.64 | $79.52 | $25.46 | $15.90
21805 | T | Treatment of rib fracture | 0046 | 22.29 | $1,080.78 | $535.76 | $216.16
21810 | C | Treatment of rib fracture(s) |  |  |  |  |
21820 | T | Treat sternum fracture | 0043 | 1.64 | $79.52 | $25.46 | $15.90
21825 | C | Treat sternum fracture |  |  |  |  |
21899 | T | Neck/chest surgery procedure | 0252 | 5.18 | $251.16 | $114.24 | $50.23
21920 | T | Biopsy soft tissue of back | 0020 | 6.51 | $315.65 | $130.53 | $63.13
21925 | T | Biopsy soft tissue of back | 0022 | 12.49 | $605.60 | $292.94 | $121.12
21930 | T | Remove lesion, back or flank | 0022 | 12.49 | $605.60 | $292.94 | $121.12
1935 | T | Remove tumor, back | 0022 | 12.49 | $605.60 | $292.94 | $121.12
22100 | C | Remove part of neck vertebra |  |  |  |  |
22101 | C | Remove part, thorax vertebra |  |  |  |  |
22102 | C | Remove part, lumbar vertebra |  |  |  |  |
22103 | C | Remove extra spine segment |  |  |  |  |
22110 | C | Remove part of neck vertebra |  |  |  |  |
22112 | C | Remove part, thorax vertebra |  |  |  |  |
22114 | C | Remove part, lumbar vertebra |  |  |  |  |
22116 | C | Remove extra spine segment |  |  |  |  |
22210 | C | Revision of neck spine |  |  |  |  |
22212 | C | Revision of thorax spine |  |  |  |  |
22214 | C | Revision of lumbar spine |  |  |  |  |
22216 | C | Revise, extra spine segment |  |  |  |  |
22220 | C | Revision of neck spine |  |  |  |  |
22222 | C | Revision of thorax spine |  |  |  |  |
22224 | C | Revision of lumbar spine |  |  |  |  |
22226 | C | Revise, extra spine segment |  |  |  |  |
22305 | T | Treat spine process fracture | 0043 | 1.64 | $79.52 | $25.46 | $15.90
22310 | T | Treat spine fracture | 0043 | 1.64 | $79.52 | $25.46 | $15.90
22315 | T | Treat spine fracture | 0043 | 1.64 | $79.52 | $25.46 | $15.90
22318 | C | Treat odontoid fx w/o graft |  |  |  |  |
22319 | C | Treat odontoid fx w/graft |  |  |  |  |
22325 | C | Treat spine fracture |  |  |  |  |
22326 | C | Treat neck spine fracture |  |  |  |  |
22327 | C | Treat thorax spine fracture |  |  |  |  |
22328 | C | Treat each add spine fx |  |  |  |  |
22505 | T | Manipulation of spine | 0045 | 11.02 | $534.33 | $277.12 | $106.87
22548 | C | Neck spine fusion |  |  |  |  |
22554 | C | Neck spine fusion |  |  |  |  |
22556 | C | Thorax spine fusion |  |  |  |  |
22558 | C | Lumbar spine fusion |  |  |  |  |
22585 | C | Additional spinal fusion |  |  |  |  |
22590 | C | Spine & skull spinal fusion |  |  |  |  |
22595 | C | Neck spinal fusion |  |  |  |  |
22600 | C | Neck spine fusion |  |  |  |  |
22610 | C | Thorax spine fusion |  |  |  |  |
22612 | C | Lumbar spine fusion |  |  |  |  |
22614 | C | Spine fusion, extra segment |  |  |  |  |
22630 | C | Lumbar spine fusion |  |  |  |  |
22632 | C | Spine fusion, extra segment |  |  |  |  |
22800 | C | Fusion of spine |  |  |  |  |
22802 | C | Fusion of spine |  |  |  |  |
22804 | C | Fusion of spine |  |  |  |  |
22808 | C | Fusion of spine |  |  |  |  |
22810 | C | Fusion of spine |  |  |  |  |
22812 | C | Fusion of spine |  |  |  |  |
22818 | C | Kyphectomy, 1-2 segments |  |  |  |  |
22819 | C | Kyphectomy, 3 or more |  |  |  |  |
22830 | C | Exploration of spinal fusion |  |  |  |  |
22840 | C | Insert spine fixation device |  |  |  |  |
22841 | C | Insert spine fixation device |  |  |  |  |
22842 | C | Insert spine fixation device |  |  |  |  |
22843 | C | Insert spine fixation device |  |  |  |  |
22844 | C | Insert spine fixation device |  |  |  |  |
22845 | C | Insert spine fixation device |  |  |  |  |
22846 | C | Insert spine fixation device |  |  |  |  |
22847 | C | Insert spine fixation device |  |  |  |  |
22848 | C | Insert pelv fixation device |  |  |  |  |
22849 | C | Reinsert spinal fixation |  |  |  |  |
22850 | C | Remove spine fixation device |  |  |  |  |
22851 | C | Apply spine prosth device |  |  |  |  |
22852 | C | Remove spine fixation device |  |  |  |  |
22855 | C | Remove spine fixation device |  |  |  |  |
22899 | T | Spine surgery procedure | 0043 | 1.64 | $79.52 | $25.46 | $15.90
22900 | T | Remove abdominal wall lesion | 0022 | 12.49 | $605.60 | $292.94 | $121.12
22999 | T | Abdomen surgery procedure | 0022 | 12.49 | $605.60 | $292.94 | $121.12
23000 | T | Removal of calcium deposits | 0021 | 10.49 | $508.63 | $236.51 | $101.73
23020 | T | Release shoulder joint | 0051 | 27.76 | $1,346.00 | $675.24 | $269.20
23030 | T | Drain shoulder lesion | 0008 | 6.15 | $298.20 | $113.67 | $59.64
23031 | T | Drain shoulder bursa | 0008 | 6.15 | $298.20 | $113.67 | $59.64
23035 | C | Drain shoulder bone lesion |  |  |  |  |
23040 | T | Exploratory shoulder surgery | 0050 | 21.13 | $1,024.53 | $513.86 | $204.91
23044 | T | Exploratory shoulder surgery | 0050 | 21.13 | $1,024.53 | $513.86 | $204.91
23065 | T | Biopsy shoulder tissues | 0021 | 10.49 | $508.63 | $236.51 | $101.73
23066 | T | Biopsy shoulder tissues | 0022 | 12.49 | $605.60 | $292.94 | $121.12
23075 | T | Removal of shoulder lesion | 0021 | 10.49 | $508.63 | $236.51 | $101.73
23076 | T | Removal of shoulder lesion | 0022 | 12.49 | $605.60 | $292.94 | $121.12
23077 | T | Remove tumor of shoulder | 0022 | 12.49 | $605.60 | $292.94 | $121.12
23100 | T | Biopsy of shoulder joint | 0049 | 15.04 | $729.25 | $356.95 | $145.85
23101 | T | Shoulder joint surgery | 0050 | 21.13 | $1,024.53 | $513.86 | $204.91
23105 | T | Remove shoulder joint lining | 0050 | 21.13 | $1,024.53 | $513.86 | $204.91
23106 | T | Incision of collarbone joint | 0050 | 21.13 | $1,024.53 | $513.86 | $204.91
23107 | T | Explore treat shoulder joint | 0050 | 21.13 | $1,024.53 | $513.86 | $204.91
23120 | T | Partial removal, collar bone | 0051 | 27.76 | $1,346.00 | $675.24 | $269.20
23125 | C | Removal of collar bone |  |  |  |  |
23130 | T | Remove shoulder bone, part | 0051 | 27.76 | $1,346.00 | $675.24 | $269.20
23140 | T | Removal of bone lesion | 0049 | 15.04 | $729.25 | $356.95 | $145.85
23145 | T | Removal of bone lesion | 0050 | 21.13 | $1,024.53 | $513.86 | $204.91
23146 | T | Removal of bone lesion | 0050 | 21.13 | $1,024.53 | $513.86 | $204.91
23150 | T | Removal of humerus lesion | 0050 | 21.13 | $1,024.53 | $513.86 | $204.91
23155 | T | Removal of humerus lesion | 0050 | 21.13 | $1,024.53 | $513.86 | $204.91
23156 | T | Removal of humerus lesion | 0050 | 21.13 | $1,024.53 | $513.86 | $204.91
23170 | T | Remove collar bone lesion | 0050 | 21.13 | $1,024.53 | $513.86 | $204.91
23172 | T | Remove shoulder blade lesion | 0050 | 21.13 | $1,024.53 | $513.86 | $204.91
23174 | T | Remove humerus lesion | 0050 | 21.13 | $1,024.53 | $513.86 | $204.91
23180 | T | Remove collar bone lesion | 0050 | 21.13 | $1,024.53 | $513.86 | $204.91
23182 | T | Remove shoulder blade lesion | 0050 | 21.13 | $1,024.53 | $513.86 | $204.91
23184 | T | Remove humerus lesion | 0050 | 21.13 | $1,024.53 | $513.86 | $204.91
23190 | T | Partial removal of scapula | 0050 | 21.13 | $1,024.53 | $513.86 | $204.91
23195 | C | Removal of head of humerus |  |  |  |  |
23200 | C | Removal of collar bone |  |  |  |  |
23210 | C | Removal of shoulder blade |  |  |  |  |
23220 | C | Partial removal of humerus |  |  |  |  |
23221 | C | Partial removal of humerus |  |  |  |  |
23222 | C | Partial removal of humerus |  |  |  |  |
23330 | T | Remove shoulder foreign body | 0019 | 4.00 | $193.95 | $78.91 | $38.79
23331 | T | Remove shoulder foreign body | 0022 | 12.49 | $605.60 | $292.94 | $121.12
23332 | C | Remove shoulder foreign body |  |  |  |  |
23350 | N | Injection for shoulder x-ray |  |  |  |  |
23395 | C | Muscle transfer, shoulder/arm |  |  |  |  |
23397 | C | Muscle transfers |  |  |  |  |
23400 | C | Fixation of shoulder blade |  |  |  |  |
23405 | T | Incision of tendon & muscle | 0050 | 21.13 | $1,024.53 | $513.86 | $204.91
23406 | T | Incise tendon(s) & muscle(s) | 0050 | 21.13 | $1,024.53 | $513.86 | $204.91
23410 | T | Repair of tendon(s) | 0052 | 36.16 | $1,753.29 | $930.91 | $350.66
23412 | T | Repair of tendon(s) | 0052 | 36.16 | $1,753.29 | $930.91 | $350.66
23415 | T | Release of shoulder ligament | 0051 | 27.76 | $1,346.00 | $675.24 | $269.20
23420 | T | Repair of shoulder | 0052 | 36.16 | $1,753.29 | $930.91 | $350.66
23430 | T | Repair biceps tendon | 0052 | 36.16 | $1,753.29 | $930.91 | $350.66
23440 | C | Remove/transplant tendon |  |  |  |  |
23450 | T | Repair shoulder capsule | 0052 | 36.16 | $1,753.29 | $930.91 | $350.66
23455 | T | Repair shoulder capsule | 0052 | 36.16 | $1,753.29 | $930.91 | $350.66
23460 | T | Repair shoulder capsule | 0052 | 36.16 | $1,753.29 | $930.91 | $350.66
23462 | T | Repair shoulder capsule | 0052 | 36.16 | $1,753.29 | $930.91 | $350.66
23465 | T | Repair shoulder capsule | 0052 | 36.16 | $1,753.29 | $930.91 | $350.66
23466 | T | Repair shoulder capsule | 0052 | 36.16 | $1,753.29 | $930.91 | $350.66
23470 | C | Reconstruct shoulder joint |  |  |  |  |
23472 | C | Reconstruct shoulder joint |  |  |  |  |
23480 | T | Revision of collar bone | 0051 | 27.76 | $1,346.00 | $675.24 | $269.20
23485 | T | Revision of collar bone | 0051 | 27.76 | $1,346.00 | $675.24 | $269.20
23490 | T | Reinforce clavicle | 0051 | 27.76 | $1,346.00 | $675.24 | $269.20
23491 | T | Reinforce shoulder bones | 0051 | 27.76 | $1,346.00 | $675.24 | $269.20
23500 | T | Treat clavicle fracture | 0043 | 1.64 | $79.52 | $25.46 | $15.90
23505 | T | Treat clavicle fracture | 0043 | 1.64 | $79.52 | $25.46 | $15.90
23515 | T | Treat clavicle fracture | 0046 | 22.29 | $1,080.78 | $535.76 | $216.16
23520 | T | Treat clavicle dislocation | 0043 | 1.64 | $79.52 | $25.46 | $15.90
23525 | T | Treat clavicle dislocation | 0043 | 1.64 | $79.52 | $25.46 | $15.90
23530 | T | Treat clavicle dislocation | 0046 | 22.29 | $1,080.78 | $535.76 | $216.16
23532 | T | Treat clavicle dislocation | 0046 | 22.29 | $1,080.78 | $535.76 | $216.16
23540 | T | Treat clavicle dislocation | 0043 | 1.64 | $79.52 | $25.46 | $15.90
23545 | T | Treat clavicle dislocation | 0043 | 1.64 | $79.52 | $25.46 | $15.90
23550 | T | Treat clavicle dislocation | 0046 | 22.29 | $1,080.78 | $535.76 | $216.16
23552 | T | Treat clavicle dislocation | 0046 | 22.29 | $1,080.78 | $535.76 | $216.16
23570 | T | Treat shoulder blade fx | 0043 | 1.64 | $79.52 | $25.46 | $15.90
23575 | T | Treat shoulder blade fx | 0043 | 1.64 | $79.52 | $25.46 | $15.90
23585 | T | Treat scapula fracture | 0046 | 22.29 | $1,080.78 | $535.76 | $216.16
23600 | T | Treat humerus fracture | 0044 | 2.17 | $105.22 | $38.08 | $21.04
23605 | T | Treat humerus fracture | 0044 | 2.17 | $105.22 | $38.08 | $21.04
23615 | T | Treat humerus fracture | 0046 | 22.29 | $1,080.78 | $535.76 | $216.16
23616 | T | Treat humerus fracture | 0046 | 22.29 | $1,080.78 | $535.76 | $216.16
23620 | T | Treat humerus fracture | 0044 | 2.17 | $105.22 | $38.08 | $21.04
23625 | T | Treat humerus fracture | 0044 | 2.17 | $105.22 | $38.08 | $21.04
23630 | T | Treat humerus fracture | 0046 | 22.29 | $1,080.78 | $535.76 | $216.16
23650 | T | Treat shoulder dislocation | 0043 | 1.64 | $79.52 | $25.46 | $15.90
23655 | T | Treat shoulder dislocation | 0045 | 11.02 | $534.33 | $277.12 | $106.87
23660 | T | Treat shoulder dislocation | 0046 | 22.29 | $1,080.78 | $535.76 | $216.16
23665 | T | Treat dislocation/fracture | 0044 | 2.17 | $105.22 | $38.08 | $21.04
23670 | T | Treat dislocation/fracture | 0046 | 22.29 | $1,080.78 | $535.76 | $216.16
23675 | T | Treat dislocation/fracture | 0044 | 2.17 | $105.22 | $38.08 | $21.04
23680 | T | Treat dislocation/fracture | 0046 | 22.29 | $1,080.78 | $535.76 | $216.16
23700 | T | Fixation of shoulder | 0045 | 11.02 | $534.33 | $277.12 | $106.87
23800 | T | Fusion of shoulder joint | 0051 | 27.76 | $1,346.00 | $675.24 | $269.20
23802 | T | Fusion of shoulder joint | 0051 | 27.76 | $1,346.00 | $675.24 | $269.20
23900 | C | Amputation of arm & girdle |  |  |  |  |
23920 | C | Amputation at shoulder joint |  |  |  |  |
23921 | T | Amputation follow-up surgery | 0026 | 12.11 | $587.18 | $277.92 | $117.44
23929 | T | Shoulder surgery procedure | 0043 | 1.64 | $79.52 | $25.46 | $15.90
23930 | T | Drainage of arm lesion | 0008 | 6.15 | $298.20 | $113.67 | $59.64
23931 | T | Drainage of arm bursa | 0008 | 6.15 | $298.20 | $113.67 | $59.64
23935 | T | Drain arm/elbow bone lesion | 0049 | 15.04 | $729.25 | $356.95 | $145.85
24000 | T | Exploratory elbow surgery | 0050 | 21.13 | $1,024.53 | $513.86 | $204.91
24006 | T | Release elbow joint | 0050 | 21.13 | $1,024.53 | $513.86 | $204.91
24065 | T | Biopsy arm/elbow soft tissue | 0020 | 6.51 | $315.65 | $130.53 | $63.13
24066 | T | Biopsy arm/elbow soft tissue | 0020 | 6.51 | $315.65 | $130.53 | $63.13
24075 | T | Remove arm/elbow lesion | 0021 | 10.49 | $508.63 | $236.51 | $101.73
24076 | T | Remove arm/elbow lesion | 0022 | 12.49 | $605.60 | $292.94 | $121.12
24077 | T | Remove tumor of arm/elbow | 0022 | 12.49 | $605.60 | $292.94 | $121.12
24100 | T | Biopsy elbow joint lining | 0049 | 15.04 | $729.25 | $356.95 | $145.85
24101 | T | Explore/treat elbow joint | 0050 | 21.13 | $1,024.53 | $513.86 | $204.91
24102 | T | Remove elbow joint lining | 0050 | 21.13 | $1,024.53 | $513.86 | $204.91
24105 | T | Removal of elbow bursa | 0049 | 15.04 | $729.25 | $356.95 | $145.85
24110 | T | Remove humerus lesion | 0049 | 15.04 | $729.25 | $356.95 | $145.85
24115 | T | Remove/graft bone lesion | 0050 | 21.13 | $1,024.53 | $513.86 | $204.91
24116 | T | Remove/graft bone lesion | 0050 | 21.13 | $1,024.53 | $513.86 | $204.91
24120 | T | Remove elbow lesion | 0049 | 15.04 | $729.25 | $356.95 | $145.85
24125 | T | Remove/graft bone lesion | 0050 | 21.13 | $1,024.53 | $513.86 | $204.91
24126 | T | Remove/graft bone lesion | 0050 | 21.13 | $1,024.53 | $513.86 | $204.91
24130 | T | Removal of head of radius | 0050 | 21.13 | $1,024.53 | $513.86 | $204.91
24134 | T | Removal of arm bone lesion | 0050 | 21.13 | $1,024.53 | $513.86 | $204.91
24136 | T | Remove radius bone lesion | 0050 | 21.13 | $1,024.53 | $513.86 | $204.91
24138 | T | Remove elbow bone lesion | 0050 | 21.13 | $1,024.53 | $513.86 | $204.91
24140 | T | Partial removal of arm bone | 0050 | 21.13 | $1,024.53 | $513.86 | $204.91
24145 | T | Partial removal of radius | 0050 | 21.13 | $1,024.53 | $513.86 | $204.91
24147 | T | Partial removal of elbow | 0050 | 21.13 | $1,024.53 | $513.86 | $204.91
24149 | C | Radical resection of elbow |  |  |  |  |
24150 | C | Extensive humerus surgery |  |  |  |  |
24151 | C | Extensive humerus surgery |  |  |  |  |
24152 | C | Extensive radius surgery |  |  |  |  |
24153 | C | Extensive radius surgery |  |  |  |  |
24155 | T | Removal of elbow joint | 0051 | 27.76 | $1,346.00 | $675.24 | $269.20
24160 | T | Remove elbow joint implant | 0050 | 21.13 | $1,024.53 | $513.86 | $204.91
24164 | T | Remove radius head implant | 0050 | 21.13 | $1,024.53 | $513.86 | $204.91
24200 | T | Removal of arm foreign body | 0019 | 4.00 | $193.95 | $78.91 | $38.79
24201 | T | Removal of arm foreign body | 0021 | 10.49 | $508.63 | $236.51 | $101.73
24220 | N | Injection for elbow x-ray |  |  |  |  |
24301 | T | Muscle/tendon transfer | 0050 | 21.13 | $1,024.53 | $513.86 | $204.91
24305 | T | Arm tendon lengthening | 0050 | 21.13 | $1,024.53 | $513.86 | $204.91
24310 | T | Revision of arm tendon | 0049 | 15.04 | $729.25 | $356.95 | $145.85
24320 | T | Repair of arm tendon | 0051 | 27.76 | $1,346.00 | $675.24 | $269.20
24330 | T | Revision of arm muscles | 0051 | 27.76 | $1,346.00 | $675.24 | $269.20
24331 | T | Revision of arm muscles | 0051 | 27.76 | $1,346.00 | $675.24 | $269.20
24340 | T | Repair of biceps tendon | 0051 | 27.76 | $1,346.00 | $675.24 | $269.20
24341 | T | Repair arm tendon/muscle | 0051 | 27.76 | $1,346.00 | $675.24 | $269.20
24342 | T | Repair of ruptured tendon | 0051 | 27.76 | $1,346.00 | $675.24 | $269.20
24350 | T | Repair of tennis elbow | 0050 | 21.13 | $1,024.53 | $513.86 | $204.91
24351 | T | Repair of tennis elbow | 0050 | 21.13 | $1,024.53 | $513.86 | $204.91
24352 | T | Repair of tennis elbow | 0050 | 21.13 | $1,024.53 | $513.86 | $204.91
24354 | T | Repair of tennis elbow | 0050 | 21.13 | $1,024.53 | $513.86 | $204.91
24356 | T | Revision of tennis elbow | 0050 | 21.13 | $1,024.53 | $513.86 | $204.91
24360 | T | Reconstruct elbow joint | 0047 | 22.09 | $1,071.08 | $537.03 | $214.22
24361 | T | Reconstruct elbow joint | 0048 | 29.06 | $1,409.03 | $725.94 | $281.81
24362 | T | Reconstruct elbow joint | 0048 | 29.06 | $1,409.03 | $725.94 | $281.81
24363 | T | Replace elbow joint | 0048 | 29.06 | $1,409.03 | $725.94 | $281.81
24365 | T | Reconstruct head of radius | 0047 | 22.09 | $1,071.08 | $537.03 | $214.22
24366 | T | Reconstruct head of radius | 0048 | 29.06 | $1,409.03 | $725.94 | $281.81
24400 | T | Revision of humerus | 0050 | 21.13 | $1,024.53 | $513.86 | $204.91
24410 | T | Revision of humerus | 0050 | 21.13 | $1,024.53 | $513.86 | $204.91
24420 | T | Revision of humerus | 0051 | 27.76 | $1,346.00 | $675.24 | $269.20
24430 | T | Repair of humerus | 0051 | 27.76 | $1,346.00 | $675.24 | $269.20
24435 | T | Repair humerus with graft | 0051 | 27.76 | $1,346.00 | $675.24 | $269.20
24470 | T | Revision of elbow joint | 0051 | 27.76 | $1,346.00 | $675.24 | $269.20
24495 | T | Decompression of forearm | 0050 | 21.13 | $1,024.53 | $513.86 | $204.91
24498 | T | Reinforce humerus | 0051 | 27.76 | $1,346.00 | $675.24 | $269.20
24500 | T | Treat humerus fracture | 0044 | 2.17 | $105.22 | $38.08 | $21.04
24505 | T | Treat humerus fracture | 0044 | 2.17 | $105.22 | $38.08 | $21.04
24515 | T | Treat humerus fracture | 0046 | 22.29 | $1,080.78 | $535.76 | $216.16
24516 | T | Treat humerus fracture | 0046 | 22.29 | $1,080.78 | $535.76 | $216.16
24530 | T | Treat humerus fracture | 0044 | 2.17 | $105.22 | $38.08 | $21.04
24535 | T | Treat humerus fracture | 0044 | 2.17 | $105.22 | $38.08 | $21.04
24538 | T | Treat humerus fracture | 0046 | 22.29 | $1,080.78 | $535.76 | $216.16
24545 | T | Treat humerus fracture | 0046 | 22.29 | $1,080.78 | $535.76 | $216.16
24546 | T | Treat humerus fracture | 0046 | 22.29 | $1,080.78 | $535.76 | $216.16
24560 | T | Treat humerus fracture | 0044 | 2.17 | $105.22 | $38.08 | $21.04
24565 | T | Treat humerus fracture | 0044 | 2.17 | $105.22 | $38.08 | $21.04
24566 | T | Treat humerus fracture | 0046 | 22.29 | $1,080.78 | $535.76 | $216.16
24575 | T | Treat humerus fracture | 0046 | 22.29 | $1,080.78 | $535.76 | $216.16
24576 | T | Treat humerus fracture | 0044 | 2.17 | $105.22 | $38.08 | $21.04
24577 | T | Treat humerus fracture | 0044 | 2.17 | $105.22 | $38.08 | $21.04
24579 | T | Treat humerus fracture | 0046 | 22.29 | $1,080.78 | $535.76 | $216.16
24582 | T | Treat humerus fracture | 0046 | 22.29 | $1,080.78 | $535.76 | $216.16
24586 | T | Treat elbow fracture | 0046 | 22.29 | $1,080.78 | $535.76 | $216.16
24587 | T | Treat elbow fracture | 0046 | 22.29 | $1,080.78 | $535.76 | $216.16
24600 | T | Treat elbow dislocation | 0044 | 2.17 | $105.22 | $38.08 | $21.04
24605 | T | Treat elbow dislocation | 0045 | 11.02 | $534.33 | $277.12 | $106.87
24615 | T | Treat elbow dislocation | 0046 | 22.29 | $1,080.78 | $535.76 | $216.16
24620 | T | Treat elbow fracture | 0044 | 2.17 | $105.22 | $38.08 | $21.04
24635 | T | Treat elbow fracture | 0046 | 22.29 | $1,080.78 | $535.76 | $216.16
24640 | T | Treat elbow dislocation | 0044 | 2.17 | $105.22 | $38.08 | $21.04
24650 | T | Treat radius fracture | 0044 | 2.17 | $105.22 | $38.08 | $21.04
24655 | T | Treat radius fracture | 0044 | 2.17 | $105.22 | $38.08 | $21.04
24665 | T | Treat radius fracture | 0046 | 22.29 | $1,080.78 | $535.76 | $216.16
24666 | T | Treat radius fracture | 0046 | 22.29 | $1,080.78 | $535.76 | $216.16
24670 | T | Treat ulnar fracture | 0044 | 2.17 | $105.22 | $38.08 | $21.04
24675 | T | Treat ulnar fracture | 0044 | 2.17 | $105.22 | $38.08 | $21.04
24685 | T | Treat ulnar fracture | 0046 | 22.29 | $1,080.78 | $535.76 | $216.16
24800 | T | Fusion of elbow joint | 0051 | 27.76 | $1,346.00 | $675.24 | $269.20
24802 | T | Fusion/graft of elbow joint | 0051 | 27.76 | $1,346.00 | $675.24 | $269.20
24900 | C | Amputation of upper arm |  |  |  |  |
24920 | C | Amputation of upper arm |  |  |  |  |
24925 | T | Amputation follow-up surgery | 0049 | 15.04 | $729.25 | $356.95 | $145.85
24930 | C | Amputation follow-up surgery |  |  |  |  |
24931 | C | Amputate upper arm & implant |  |  |  |  |
24935 | T | Revision of amputation | 0052 | 36.16 | $1,753.29 | $930.91 | $350.66
24940 | C | Revision of upper arm |  |  |  |  |
24999 | T | Upper arm/elbow surgery | 0044 | 2.17 | $105.22 | $38.08 | $21.04
25000 | T | Incision of tendon sheath | 0049 | 15.04 | $729.25 | $356.95 | $145.85
25020 | T | Decompression of forearm | 0049 | 15.04 | $729.25 | $356.95 | $145.85
25023 | T | Decompression of forearm | 0050 | 21.13 | $1,024.53 | $513.86 | $204.91
25028 | T | Drainage of forearm lesion | 0049 | 15.04 | $729.25 | $356.95 | $145.85
25031 | T | Drainage of forearm bursa | 0049 | 15.04 | $729.25 | $356.95 | $145.85
25035 | T | Treat forearm bone lesion | 0049 | 15.04 | $729.25 | $356.95 | $145.85
25040 | T | Explore/treat wrist joint | 0050 | 21.13 | $1,024.53 | $513.86 | $204.91
25065 | T | Biopsy forearm soft tissues | 0020 | 6.51 | $315.65 | $130.53 | $63.13
25066 | T | Biopsy forearm soft tissues | 0022 | 12.49 | $605.60 | $292.94 | $121.12
25075 | T | Removal of forearm lesion | 0020 | 6.51 | $315.65 | $130.53 | $63.13
25076 | T | Removal of forearm lesion | 0022 | 12.49 | $605.60 | $292.94 | $121.12
25077 | T | Remove tumor, forearm/wrist | 0022 | 12.49 | $605.60 | $292.94 | $121.12
25085 | T | Incision of wrist capsule | 0049 | 15.04 | $729.25 | $356.95 | $145.85
25100 | T | Biopsy of wrist joint | 0049 | 15.04 | $729.25 | $356.95 | $145.85
25101 | T | Explore/treat wrist joint | 0050 | 21.13 | $1,024.53 | $513.86 | $204.91
25105 | T | Remove wrist joint lining | 0050 | 21.13 | $1,024.53 | $513.86 | $204.91
25107 | T | Remove wrist joint cartilage | 0050 | 21.13 | $1,024.53 | $513.86 | $204.91
25110 | T | Remove wrist tendon lesion | 0049 | 15.04 | $729.25 | $356.95 | $145.85
25111 | T | Remove wrist tendon lesion | 0053 | 11.32 | $548.87 | $253.49 | $109.77
25112 | T | Reremove wrist tendon lesion | 0053 | 11.32 | $548.87 | $253.49 | $109.77
25115 | T | Remove wrist/forearm lesion | 0049 | 15.04 | $729.25 | $356.95 | $145.85
25116 | T | Remove wrist/forearm lesion | 0049 | 15.04 | $729.25 | $356.95 | $145.85
25118 | T | Excise wrist tendon sheath | 0050 | 21.13 | $1,024.53 | $513.86 | $204.91
25119 | T | Partial removal of ulna | 0050 | 21.13 | $1,024.53 | $513.86 | $204.91
25120 | T | Removal of forearm lesion | 0050 | 21.13 | $1,024.53 | $513.86 | $204.91
25125 | T | Remove/graft forearm lesion | 0050 | 21.13 | $1,024.53 | $513.86 | $204.91
25126 | T | Remove/graft forearm lesion | 0050 | 21.13 | $1,024.53 | $513.86 | $204.91
25130 | T | Removal of wrist lesion | 0050 | 21.13 | $1,024.53 | $513.86 | $204.91
25135 | T | Remove & graft wrist lesion | 0050 | 21.13 | $1,024.53 | $513.86 | $204.91
25136 | T | Remove & graft wrist lesion | 0050 | 21.13 | $1,024.53 | $513.86 | $204.91
25145 | T | Remove forearm bone lesion | 0050 | 21.13 | $1,024.53 | $513.86 | $204.91
25150 | T | Partial removal of ulna | 0050 | 21.13 | $1,024.53 | $513.86 | $204.91
25151 | T | Partial removal of radius | 0050 | 21.13 | $1,024.53 | $513.86 | $204.91
25170 | C | Extensive forearm surgery |  |  |  |  |
25210 | T | Removal of wrist bone | 0054 | 19.66 | $953.26 | $472.33 | $190.65
25215 | T | Removal of wrist bones | 0054 | 19.66 | $953.26 | $472.33 | $190.65
25230 | T | Partial removal of radius | 0050 | 21.13 | $1,024.53 | $513.86 | $204.91
25240 | T | Partial removal of ulna | 0050 | 21.13 | $1,024.53 | $513.86 | $204.91
25246 | N | Injection for wrist x-ray |  |  |  |  |
25248 | T | Remove forearm foreign body | 0049 | 15.04 | $729.25 | $356.95 | $145.85
25250 | T | Removal of wrist prosthesis | 0050 | 21.13 | $1,024.53 | $513.86 | $204.91
25251 | T | Removal of wrist prosthesis | 0050 | 21.13 | $1,024.53 | $513.86 | $204.91
25260 | T | Repair forearm tendon/muscle | 0050 | 21.13 | $1,024.53 | $513.86 | $204.91
25263 | T | Repair forearm tendon/muscle | 0050 | 21.13 | $1,024.53 | $513.86 | $204.91
25265 | T | Repair forearm tendon/muscle | 0050 | 21.13 | $1,024.53 | $513.86 | $204.91
25270 | T | Repair forearm tendon/muscle | 0050 | 21.13 | $1,024.53 | $513.86 | $204.91
25272 | T | Repair forearm tendon/muscle | 0050 | 21.13 | $1,024.53 | $513.86 | $204.91
25274 | T | Repair forearm tendon/muscle | 0050 | 21.13 | $1,024.53 | $513.86 | $204.91
25280 | T | Revise wrist/forearm tendon | 0050 | 21.13 | $1,024.53 | $513.86 | $204.91
25290 | T | Incise wrist/forearm tendon | 0050 | 21.13 | $1,024.53 | $513.86 | $204.91
25295 | T | Release wrist/forearm tendon | 0049 | 15.04 | $729.25 | $356.95 | $145.85
25300 | T | Fusion of tendons at wrist | 0050 | 21.13 | $1,024.53 | $513.86 | $204.91
25301 | T | Fusion of tendons at wrist | 0050 | 21.13 | $1,024.53 | $513.86 | $204.91
25310 | T | Transplant forearm tendon | 0051 | 27.76 | $1,346.00 | $675.24 | $269.20
25312 | T | Transplant forearm tendon | 0051 | 27.76 | $1,346.00 | $675.24 | $269.20
25315 | T | Revise palsy hand tendon(s) | 0051 | 27.76 | $1,346.00 | $675.24 | $269.20
25316 | T | Revise palsy hand tendon(s) | 0051 | 27.76 | $1,346.00 | $675.24 | $269.20
25320 | T | Repair/revise wrist joint | 0051 | 27.76 | $1,346.00 | $675.24 | $269.20
25332 | T | Revise wrist joint | 0047 | 22.09 | $1,071.08 | $537.03 | $214.22
25335 | T | Realignment of hand | 0051 | 27.76 | $1,346.00 | $675.24 | $269.20
25337 | T | Reconstruct ulna/radioulnar | 0051 | 27.76 | $1,346.00 | $675.24 | $269.20
25350 | T | Revision of radius | 0051 | 27.76 | $1,346.00 | $675.24 | $269.20
25355 | T | Revision of radius | 0051 | 27.76 | $1,346.00 | $675.24 | $269.20
25360 | T | Revision of ulna | 0050 | 21.13 | $1,024.53 | $513.86 | $204.91
25365 | T | Revise radius & ulna | 0050 | 21.13 | $1,024.53 | $513.86 | $204.91
25370 | T | Revise radius or ulna | 0051 | 27.76 | $1,346.00 | $675.24 | $269.20
25375 | T | Revise radius & ulna | 0051 | 27.76 | $1,346.00 | $675.24 | $269.20
25390 | C | Shorten radius or ulna |  |  |  |  |
25391 | C | Lengthen radius or ulna |  |  |  |  |
25392 | C | Shorten radius & ulna |  |  |  |  |
25393 | C | Lengthen radius & ulna |  |  |  |  |
25400 | T | Repair radius or ulna | 0050 | 21.13 | $1,024.53 | $513.86 | $204.91
25405 | C | Repair/graft radius or ulna |  |  |  |  |
25415 | T | Repair radius & ulna | 0050 | 21.13 | $1,024.53 | $513.86 | $204.91
25420 | C | Repair/graft radius & ulna |  |  |  |  |
25425 | T | Repair/graft radius or ulna | 0051 | 27.76 | $1,346.00 | $675.24 | $269.20
25426 | T | Repair/graft radius & ulna | 0051 | 27.76 | $1,346.00 | $675.24 | $269.20
25440 | T | Repair/graft wrist bone | 0051 | 27.76 | $1,346.00 | $675.24 | $269.20
25441 | T | Reconstruct wrist joint | 0048 | 29.06 | $1,409.03 | $725.94 | $281.81
25442 | T | Reconstruct wrist joint | 0048 | 29.06 | $1,409.03 | $725.94 | $281.81
25443 | T | Reconstruct wrist joint | 0048 | 29.06 | $1,409.03 | $725.94 | $281.81
25444 | T | Reconstruct wrist joint | 0048 | 29.06 | $1,409.03 | $725.94 | $281.81
25445 | T | Reconstruct wrist joint | 0048 | 29.06 | $1,409.03 | $725.94 | $281.81
25446 | T | Wrist replacement | 0048 | 29.06 | $1,409.03 | $725.94 | $281.81
25447 | T | Repair wrist joint(s) | 0047 | 22.09 | $1,071.08 | $537.03 | $214.22
25449 | T | Remove wrist joint implant | 0047 | 22.09 | $1,071.08 | $537.03 | $214.22
25450 | T | Revision of wrist joint | 0051 | 27.76 | $1,346.00 | $675.24 | $269.20
25455 | T | Revision of wrist joint | 0051 | 27.76 | $1,346.00 | $675.24 | $269.20
25490 | T | Reinforce radius | 0051 | 27.76 | $1,346.00 | $675.24 | $269.20
25491 | T | Reinforce ulna | 0051 | 27.76 | $1,346.00 | $675.24 | $269.20
25492 | T | Reinforce radius and ulna | 0051 | 27.76 | $1,346.00 | $675.24 | $269.20
25500 | T | Treat fracture of radius | 0044 | 2.17 | $105.22 | $38.08 | $21.04
25505 | T | Treat fracture of radius | 0044 | 2.17 | $105.22 | $38.08 | $21.04
25515 | T | Treat fracture of radius | 0046 | 22.29 | $1,080.78 | $535.76 | $216.16
25520 | T | Treat fracture of radius | 0044 | 2.17 | $105.22 | $38.08 | $21.04
25525 | T | Treat fracture of radius | 0046 | 22.29 | $1,080.78 | $535.76 | $216.16
25526 | T | Treat fracture of radius | 0046 | 22.29 | $1,080.78 | $535.76 | $216.16
25530 | T | Treat fracture of ulna | 0044 | 2.17 | $105.22 | $38.08 | $21.04
25535 | T | Treat fracture of ulna | 0044 | 2.17 | $105.22 | $38.08 | $21.04
25545 | T | Treat fracture of ulna | 0046 | 22.29 | $1,080.78 | $535.76 | $216.16
25560 | T | Treat fracture radius & ulna | 0044 | 2.17 | $105.22 | $38.08 | $21.04
25565 | T | Treat fracture radius & ulna | 0044 | 2.17 | $105.22 | $38.08 | $21.04
25574 | T | Treat fracture radius & ulna | 0046 | 22.29 | $1,080.78 | $535.76 | $216.16
25575 | T | Treat fracture radius/ulna | 0046 | 22.29 | $1,080.78 | $535.76 | $216.16
25600 | T | Treat fracture radius/ulna | 0044 | 2.17 | $105.22 | $38.08 | $21.04
25605 | T | Treat fracture radius/ulna | 0044 | 2.17 | $105.22 | $38.08 | $21.04
25611 | T | Treat fracture radius/ulna | 0046 | 22.29 | $1,080.78 | $535.76 | $216.16
25620 | T | Treat fracture radius/ulna | 0046 | 22.29 | $1,080.78 | $535.76 | $216.16
25622 | T | Treat wrist bone fracture | 0044 | 2.17 | $105.22 | $38.08 | $21.04
25624 | T | Treat wrist bone fracture | 0044 | 2.17 | $105.22 | $38.08 | $21.04
25628 | T | Treat wrist bone fracture | 0046 | 22.29 | $1,080.78 | $535.76 | $216.16
25630 | T | Treat wrist bone fracture | 0044 | 2.17 | $105.22 | $38.08 | $21.04
25635 | T | Treat wrist bone fracture | 0044 | 2.17 | $105.22 | $38.08 | $21.04
25645 | T | Treat wrist bone fracture | 0046 | 22.29 | $1,080.78 | $535.76 | $216.16
25650 | T | Treat wrist bone fracture | 0044 | 2.17 | $105.22 | $38.08 | $21.04
25660 | T | Treat wrist dislocation | 0044 | 2.17 | $105.22 | $38.08 | $21.04
25670 | T | Treat wrist dislocation | 0046 | 22.29 | $1,080.78 | $535.76 | $216.16
25675 | T | Treat wrist dislocation | 0044 | 2.17 | $105.22 | $38.08 | $21.04
25676 | T | Treat wrist dislocation | 0046 | 22.29 | $1,080.78 | $535.76 | $216.16
25680 | T | Treat wrist fracture | 0044 | 2.17 | $105.22 | $38.08 | $21.04
25685 | T | Treat wrist fracture | 0046 | 22.29 | $1,080.78 | $535.76 | $216.16
25690 | T | Treat wrist dislocation | 0044 | 2.17 | $105.22 | $38.08 | $21.04
25695 | T | Treat wrist dislocation | 0046 | 22.29 | $1,080.78 | $535.76 | $216.16
25800 | T | Fusion of wrist joint | 0051 | 27.76 | $1,346.00 | $675.24 | $269.20
25805 | T | Fusion/graft of wrist joint | 0051 | 27.76 | $1,346.00 | $675.24 | $269.20
25810 | T | Fusion/graft of wrist joint | 0051 | 27.76 | $1,346.00 | $675.24 | $269.20
25820 | T | Fusion of hand bones | 0053 | 11.32 | $548.87 | $253.49 | $109.77
25825 | T | Fuse hand bones with graft | 0054 | 19.66 | $953.26 | $472.33 | $190.65
25830 | T | Fusion, radioulnar jnt/ulna | 0051 | 27.76 | $1,346.00 | $675.24 | $269.20
25900 | C | Amputation of forearm |  |  |  |  |
25905 | C | Amputation of forearm |  |  |  |  |
25907 | T | Amputation follow-up surgery | 0049 | 15.04 | $729.25 | $356.95 | $145.85
25909 | C | Amputation follow-up surgery |  |  |  |  |
25915 | C | Amputation of forearm |  |  |  |  |
25920 | C | Amputate hand at wrist |  |  |  |  |
25922 | T | Amputate hand at wrist | 0049 | 15.04 | $729.25 | $356.95 | $145.85
25924 | C | Amputation follow-up surgery |  |  |  |  |
25927 | C | Amputation of hand |  |  |  |  |
25929 | T | Amputation follow-up surgery | 0026 | 12.11 | $587.18 | $277.92 | $117.44
25931 | C | Amputation follow-up surgery |  |  |  |  |
25999 | T | Forearm or wrist surgery | 0044 | 2.17 | $105.22 | $38.08 | $21.04
26010 | T | Drainage of finger abscess | 0006 | 2.00 | $96.97 | $33.95 | $19.39
26011 | T | Drainage of finger abscess | 0007 | 3.68 | $178.43 | $72.03 | $35.69
26020 | T | Drain hand tendon sheath | 0053 | 11.32 | $548.87 | $253.49 | $109.77
26025 | T | Drainage of palm bursa | 0053 | 11.32 | $548.87 | $253.49 | $109.77
26030 | T | Drainage of palm bursa(s) | 0053 | 11.32 | $548.87 | $253.49 | $109.77
26034 | T | Treat hand bone lesion | 0053 | 11.32 | $548.87 | $253.49 | $109.77
26035 | T | Decompress fingers/hand | 0053 | 11.32 | $548.87 | $253.49 | $109.77
26037 | T | Decompress fingers/hand | 0053 | 11.32 | $548.87 | $253.49 | $109.77
26040 | T | Release palm contracture | 0054 | 19.66 | $953.26 | $472.33 | $190.65
26045 | T | Release palm contracture | 0054 | 19.66 | $953.26 | $472.33 | $190.65
26055 | T | Incise finger tendon sheath | 0053 | 11.32 | $548.87 | $253.49 | $109.77
26060 | T | Incision of finger tendon | 0053 | 11.32 | $548.87 | $253.49 | $109.77
26070 | T | Explore/treat hand joint | 0053 | 11.32 | $548.87 | $253.49 | $109.77
26075 | T | Explore/treat finger joint | 0053 | 11.32 | $548.87 | $253.49 | $109.77
26080 | T | Explore/treat finger joint | 0053 | 11.32 | $548.87 | $253.49 | $109.77
26100 | T | Biopsy hand joint lining | 0053 | 11.32 | $548.87 | $253.49 | $109.77
26105 | T | Biopsy finger joint lining | 0053 | 11.32 | $548.87 | $253.49 | $109.77
26110 | T | Biopsy finger joint lining | 0053 | 11.32 | $548.87 | $253.49 | $109.77
26115 | T | Removal of hand lesion | 0022 | 12.49 | $605.60 | $292.94 | $121.12
26116 | T | Removal of hand lesion | 0022 | 12.49 | $605.60 | $292.94 | $121.12
26117 | T | Remove tumor, hand/finger | 0022 | 12.49 | $605.60 | $292.94 | $121.12
26121 | T | Release palm contracture | 0054 | 19.66 | $953.26 | $472.33 | $190.65
26123 | T | Release palm contracture | 0054 | 19.66 | $953.26 | $472.33 | $190.65
26125 | T | Release palm contracture | 0054 | 19.66 | $953.26 | $472.33 | $190.65
26130 | T | Remove wrist joint lining | 0053 | 11.32 | $548.87 | $253.49 | $109.77
26135 | T | Revise finger joint, each | 0054 | 19.66 | $953.26 | $472.33 | $190.65
26140 | T | Revise finger joint, each | 0053 | 11.32 | $548.87 | $253.49 | $109.77
26145 | T | Tendon excision, palm/finger | 0053 | 11.32 | $548.87 | $253.49 | $109.77
26160 | T | Remove tendon sheath lesion | 0053 | 11.32 | $548.87 | $253.49 | $109.77
26170 | T | Removal of palm tendon, each | 0053 | 11.32 | $548.87 | $253.49 | $109.77
26180 | T | Removal of finger tendon | 0053 | 11.32 | $548.87 | $253.49 | $109.77
26185 | T | Remove finger bone | 0053 | 11.32 | $548.87 | $253.49 | $109.77
26200 | T | Remove hand bone lesion | 0053 | 11.32 | $548.87 | $253.49 | $109.77
26205 | T | Remove/graft bone lesion | 0054 | 19.66 | $953.26 | $472.33 | $190.65
26210 | T | Removal of finger lesion | 0053 | 11.32 | $548.87 | $253.49 | $109.77
26215 | T | Remove/graft finger lesion | 0053 | 11.32 | $548.87 | $253.49 | $109.77
26230 | T | Partial removal of hand bone | 0053 | 11.32 | $548.87 | $253.49 | $109.77
26235 | T | Partial removal, finger bone | 0053 | 11.32 | $548.87 | $253.49 | $109.77
26236 | T | Partial removal, finger bone | 0053 | 11.32 | $548.87 | $253.49 | $109.77
26250 | T | Extensive hand surgery | 0053 | 11.32 | $548.87 | $253.49 | $109.77
26255 | T | Extensive hand surgery | 0054 | 19.66 | $953.26 | $472.33 | $190.65
26260 | T | Extensive finger surgery | 0053 | 11.32 | $548.87 | $253.49 | $109.77
26261 | T | Extensive finger surgery | 0053 | 11.32 | $548.87 | $253.49 | $109.77
26262 | T | Partial removal of finger | 0053 | 11.32 | $548.87 | $253.49 | $109.77
26320 | T | Removal of implant from hand | 0020 | 6.51 | $315.65 | $130.53 | $63.13
26350 | T | Repair finger/hand tendon | 0054 | 19.66 | $953.26 | $472.33 | $190.65
26352 | T | Repair/graft hand tendon | 0054 | 19.66 | $953.26 | $472.33 | $190.65
26356 | T | Repair finger/hand tendon | 0054 | 19.66 | $953.26 | $472.33 | $190.65
26357 | T | Repair finger/hand tendon | 0054 | 19.66 | $953.26 | $472.33 | $190.65
26358 | T | Repair/graft hand tendon | 0054 | 19.66 | $953.26 | $472.33 | $190.65
26370 | T | Repair finger/hand tendon | 0054 | 19.66 | $953.26 | $472.33 | $190.65
26372 | T | Repair/graft hand tendon | 0054 | 19.66 | $953.26 | $472.33 | $190.65
26373 | T | Repair finger/hand tendon | 0054 | 19.66 | $953.26 | $472.33 | $190.65
26390 | T | Revise hand/finger tendon | 0054 | 19.66 | $953.26 | $472.33 | $190.65
26392 | T | Repair/graft hand tendon | 0054 | 19.66 | $953.26 | $472.33 | $190.65
26410 | T | Repair hand tendon | 0053 | 11.32 | $548.87 | $253.49 | $109.77
26412 | T | Repair/graft hand tendon | 0054 | 19.66 | $953.26 | $472.33 | $190.65
26415 | T | Excision, hand/finger tendon | 0054 | 19.66 | $953.26 | $472.33 | $190.65
26416 | T | Graft hand or finger tendon | 0054 | 19.66 | $953.26 | $472.33 | $190.65
26418 | T | Repair finger tendon | 0053 | 11.32 | $548.87 | $253.49 | $109.77
26420 | T | Repair/graft finger tendon | 0054 | 19.66 | $953.26 | $472.33 | $190.65
26426 | T | Repair finger/hand tendon | 0054 | 19.66 | $953.26 | $472.33 | $190.65
26428 | T | Repair/graft finger tendon | 0054 | 19.66 | $953.26 | $472.33 | $190.65
26432 | T | Repair finger tendon | 0053 | 11.32 | $548.87 | $253.49 | $109.77
26433 | T | Repair finger tendon | 0053 | 11.32 | $548.87 | $253.49 | $109.77
26434 | T | Repair/graft finger tendon | 0054 | 19.66 | $953.26 | $472.33 | $190.65
26437 | T | Realignment of tendons | 0053 | 11.32 | $548.87 | $253.49 | $109.77
26440 | T | Release palm/finger tendon | 0053 | 11.32 | $548.87 | $253.49 | $109.77
26442 | T | Release palm & finger tendon | 0054 | 19.66 | $953.26 | $472.33 | $190.65
26445 | T | Release hand/finger tendon | 0053 | 11.32 | $548.87 | $253.49 | $109.77
26449 | T | Release forearm/hand tendon | 0054 | 19.66 | $953.26 | $472.33 | $190.65
26450 | T | Incision of palm tendon | 0053 | 11.32 | $548.87 | $253.49 | $109.77
26455 | T | Incision of finger tendon | 0053 | 11.32 | $548.87 | $253.49 | $109.77
26460 | T | Incise hand/finger tendon | 0053 | 11.32 | $548.87 | $253.49 | $109.77
26471 | T | Fusion of finger tendons | 0053 | 11.32 | $548.87 | $253.49 | $109.77
26474 | T | Fusion of finger tendons | 0053 | 11.32 | $548.87 | $253.49 | $109.77
26476 | T | Tendon lengthening | 0053 | 11.32 | $548.87 | $253.49 | $109.77
26477 | T | Tendon shortening | 0053 | 11.32 | $548.87 | $253.49 | $109.77
26478 | T | Lengthening of hand tendon | 0053 | 11.32 | $548.87 | $253.49 | $109.77
26479 | T | Shortening of hand tendon | 0053 | 11.32 | $548.87 | $253.49 | $109.77
26480 | T | Transplant hand tendon | 0054 | 19.66 | $953.26 | $472.33 | $190.65
26483 | T | Transplant/graft hand tendon | 0054 | 19.66 | $953.26 | $472.33 | $190.65
26485 | T | Transplant palm tendon | 0054 | 19.66 | $953.26 | $472.33 | $190.65
26489 | T | Transplant/graft palm tendon | 0054 | 19.66 | $953.26 | $472.33 | $190.65
26490 | T | Revise thumb tendon | 0054 | 19.66 | $953.26 | $472.33 | $190.65
26492 | T | Tendon transfer with graft | 0054 | 19.66 | $953.26 | $472.33 | $190.65
26494 | T | Hand tendon/muscle transfer | 0054 | 19.66 | $953.26 | $472.33 | $190.65
26496 | T | Revise thumb tendon | 0054 | 19.66 | $953.26 | $472.33 | $190.65
26497 | T | Finger tendon transfer | 0054 | 19.66 | $953.26 | $472.33 | $190.65
26498 | T | Finger tendon transfer | 0054 | 19.66 | $953.26 | $472.33 | $190.65
26499 | T | Revision of finger | 0054 | 19.66 | $953.26 | $472.33 | $190.65
26500 | T | Hand tendon reconstruction | 0053 | 11.32 | $548.87 | $253.49 | $109.77
26502 | T | Hand tendon reconstruction | 0054 | 19.66 | $953.26 | $472.33 | $190.65
26504 | T | Hand tendon reconstruction | 0054 | 19.66 | $953.26 | $472.33 | $190.65
26508 | T | Release thumb contracture | 0053 | 11.32 | $548.87 | $253.49 | $109.77
26510 | T | Thumb tendon transfer | 0054 | 19.66 | $953.26 | $472.33 | $190.65
26516 | T | Fusion of knuckle joint | 0054 | 19.66 | $953.26 | $472.33 | $190.65
26517 | T | Fusion of knuckle joints | 0054 | 19.66 | $953.26 | $472.33 | $190.65
26518 | T | Fusion of knuckle joints | 0054 | 19.66 | $953.26 | $472.33 | $190.65
26520 | T | Release knuckle contracture | 0053 | 11.32 | $548.87 | $253.49 | $109.77
26525 | T | Release finger contracture | 0053 | 11.32 | $548.87 | $253.49 | $109.77
26530 | T | Revise knuckle joint | 0047 | 22.09 | $1,071.08 | $537.03 | $214.22
26531 | T | Revise knuckle with implant | 0048 | 29.06 | $1,409.03 | $725.94 | $281.81
26535 | T | Revise finger joint | 0047 | 22.09 | $1,071.08 | $537.03 | $214.22
26536 | T | Revise/implant finger joint | 0048 | 29.06 | $1,409.03 | $725.94 | $281.81
26540 | T | Repair hand joint | 0053 | 11.32 | $548.87 | $253.49 | $109.77
26541 | T | Repair hand joint with graft | 0054 | 19.66 | $953.26 | $472.33 | $190.65
26542 | T | Repair hand joint with graft | 0053 | 11.32 | $548.87 | $253.49 | $109.77
26545 | T | Reconstruct finger joint | 0054 | 19.66 | $953.26 | $472.33 | $190.65
26546 | T | Repair nonunion hand | 0054 | 19.66 | $953.26 | $472.33 | $190.65
26548 | T | Reconstruct finger joint | 0054 | 19.66 | $953.26 | $472.33 | $190.65
26550 | T | Construct thumb replacement | 0054 | 19.66 | $953.26 | $472.33 | $190.65
26551 | C | Great toe-hand transfer |  |  |  |  |
26553 | C | Single transfer, toe-hand |  |  |  |  |
26554 | C | Double transfer, toe-hand |  |  |  |  |
26555 | T | Positional change of finger | 0054 | 19.66 | $953.26 | $472.33 | $190.65
26556 | C | Toe joint transfer |  |  |  |  |
26560 | T | Repair of web finger | 0053 | 11.32 | $548.87 | $253.49 | $109.77
26561 | T | Repair of web finger | 0054 | 19.66 | $953.26 | $472.33 | $190.65
26562 | T | Repair of web finger | 0054 | 19.66 | $953.26 | $472.33 | $190.65
26565 | T | Correct metacarpal flaw | 0054 | 19.66 | $953.26 | $472.33 | $190.65
26567 | T | Correct finger deformity | 0054 | 19.66 | $953.26 | $472.33 | $190.65
26568 | T | Lengthen metacarpal/finger | 0054 | 19.66 | $953.26 | $472.33 | $190.65
26580 | T | Repair hand deformity | 0054 | 19.66 | $953.26 | $472.33 | $190.65
26585 | T | Repair finger deformity | 0054 | 19.66 | $953.26 | $472.33 | $190.65
26587 | T | Reconstruct extra finger | 0053 | 11.32 | $548.87 | $253.49 | $109.77
26590 | T | Repair finger deformity | 0054 | 19.66 | $953.26 | $472.33 | $190.65
26591 | T | Repair muscles of hand | 0054 | 19.66 | $953.26 | $472.33 | $190.65
26593 | T | Release muscles of hand | 0053 | 11.32 | $548.87 | $253.49 | $109.77
26596 | T | Excision constricting tissue | 0054 | 19.66 | $953.26 | $472.33 | $190.65
26597 | T | Release of scar contracture | 0054 | 19.66 | $953.26 | $472.33 | $190.65
26600 | T | Treat metacarpal fracture | 0044 | 2.17 | $105.22 | $38.08 | $21.04
26605 | T | Treat metacarpal fracture | 0044 | 2.17 | $105.22 | $38.08 | $21.04
26607 | T | Treat metacarpal fracture | 0044 | 2.17 | $105.22 | $38.08 | $21.04
26608 | T | Treat metacarpal fracture | 0046 | 22.29 | $1,080.78 | $535.76 | $216.16
26615 | T | Treat metacarpal fracture | 0046 | 22.29 | $1,080.78 | $535.76 | $216.16
26641 | T | Treat thumb dislocation | 0044 | 2.17 | $105.22 | $38.08 | $21.04
26645 | T | Treat thumb fracture | 0044 | 2.17 | $105.22 | $38.08 | $21.04
26650 | T | Treat thumb fracture | 0046 | 22.29 | $1,080.78 | $535.76 | $216.16
26665 | T | Treat thumb fracture | 0046 | 22.29 | $1,080.78 | $535.76 | $216.16
26670 | T | Treat hand dislocation | 0044 | 2.17 | $105.22 | $38.08 | $21.04
26675 | T | Treat hand dislocation | 0045 | 11.02 | $534.33 | $277.12 | $106.87
26676 | T | Pin hand dislocation | 0046 | 22.29 | $1,080.78 | $535.76 | $216.16
26685 | T | Treat hand dislocation | 0046 | 22.29 | $1,080.78 | $535.76 | $216.16
26686 | T | Treat hand dislocation | 0046 | 22.29 | $1,080.78 | $535.76 | $216.16
26700 | T | Treat knuckle dislocation | 0043 | 1.64 | $79.52 | $25.46 | $15.90
26705 | T | Treat knuckle dislocation | 0045 | 11.02 | $534.33 | $277.12 | $106.87
26706 | T | Pin knuckle dislocation | 0044 | 2.17 | $105.22 | $38.08 | $21.04
26715 | T | Treat knuckle dislocation | 0046 | 22.29 | $1,080.78 | $535.76 | $216.16
26720 | T | Treat finger fracture, each | 0043 | 1.64 | $79.52 | $25.46 | $15.90
26725 | T | Treat finger fracture, each | 0043 | 1.64 | $79.52 | $25.46 | $15.90
26727 | T | Treat finger fracture, each | 0046 | 22.29 | $1,080.78 | $535.76 | $216.16
26735 | T | Treat finger fracture, each | 0046 | 22.29 | $1,080.78 | $535.76 | $216.16
26740 | T | Treat finger fracture, each | 0043 | 1.64 | $79.52 | $25.46 | $15.90
26742 | T | Treat finger fracture, each | 0044 | 2.17 | $105.22 | $38.08 | $21.04
26746 | T | Treat finger fracture, each | 0046 | 22.29 | $1,080.78 | $535.76 | $216.16
26750 | T | Treat finger fracture, each | 0043 | 1.64 | $79.52 | $25.46 | $15.90
26755 | T | Treat finger fracture, each | 0043 | 1.64 | $79.52 | $25.46 | $15.90
26756 | T | Pin finger fracture, each | 0046 | 22.29 | $1,080.78 | $535.76 | $216.16
26765 | T | Treat finger fracture, each | 0046 | 22.29 | $1,080.78 | $535.76 | $216.16
26770 | T | Treat finger dislocation | 0043 | 1.64 | $79.52 | $25.46 | $15.90
26775 | T | Treat finger dislocation | 0045 | 11.02 | $534.33 | $277.12 | $106.87
26776 | T | Pin finger dislocation | 0046 | 22.29 | $1,080.78 | $535.76 | $216.16
26785 | T | Treat finger dislocation | 0046 | 22.29 | $1,080.78 | $535.76 | $216.16
26820 | T | Thumb fusion with graft | 0054 | 19.66 | $953.26 | $472.33 | $190.65
26841 | T | Fusion of thumb | 0054 | 19.66 | $953.26 | $472.33 | $190.65
26842 | T | Thumb fusion with graft | 0054 | 19.66 | $953.26 | $472.33 | $190.65
26843 | T | Fusion of hand joint | 0054 | 19.66 | $953.26 | $472.33 | $190.65
26844 | T | Fusion/graft of hand joint | 0054 | 19.66 | $953.26 | $472.33 | $190.65
26850 | T | Fusion of knuckle | 0054 | 19.66 | $953.26 | $472.33 | $190.65
26852 | T | Fusion of knuckle with graft | 0054 | 19.66 | $953.26 | $472.33 | $190.65
26860 | T | Fusion of finger joint | 0054 | 19.66 | $953.26 | $472.33 | $190.65
26861 | T | Fusion of finger jnt, add-on | 0054 | 19.66 | $953.26 | $472.33 | $190.65
26862 | T | Fusion/graft of finger joint | 0054 | 19.66 | $953.26 | $472.33 | $190.65
26863 | T | Fuse/graft added joint | 0054 | 19.66 | $953.26 | $472.33 | $190.65
26910 | T | Amputate metacarpal bone | 0054 | 19.66 | $953.26 | $472.33 | $190.65
26951 | T | Amputation of finger/thumb | 0053 | 11.32 | $548.87 | $253.49 | $109.77
26952 | T | Amputation of finger/thumb | 0053 | 11.32 | $548.87 | $253.49 | $109.77
26989 | T | Hand/finger surgery | 0043 | 1.64 | $79.52 | $25.46 | $15.90
26990 | T | Drainage of pelvis lesion | 0049 | 15.04 | $729.25 | $356.95 | $145.85
26991 | T | Drainage of pelvis bursa | 0049 | 15.04 | $729.25 | $356.95 | $145.85
26992 | C | Drainage of bone lesion |  |  |  |  |
27000 | T | Incision of hip tendon | 0049 | 15.04 | $729.25 | $356.95 | $145.85
27001 | T | Incision of hip tendon | 0050 | 21.13 | $1,024.53 | $513.86 | $204.91
27003 | T | Incision of hip tendon | 0050 | 21.13 | $1,024.53 | $513.86 | $204.91
27005 | C | Incision of hip tendon |  |  |  |  |
27006 | C | Incision of hip tendons |  |  |  |  |
27025 | C | Incision of hip/thigh fascia |  |  |  |  |
27030 | C | Drainage of hip joint |  |  |  |  |
27033 | T | Exploration of hip joint | 0051 | 27.76 | $1,346.00 | $675.24 | $269.20
27035 | C | Denervation of hip joint |  |  |  |  |
27036 | C | Excision of hip joint/muscle |  |  |  |  |
27040 | T | Biopsy of soft tissues | 0021 | 10.49 | $508.63 | $236.51 | $101.73
27041 | T | Biopsy of soft tissues | 0022 | 12.49 | $605.60 | $292.94 | $121.12
27047 | T | Remove hip/pelvis lesion | 0022 | 12.49 | $605.60 | $292.94 | $121.12
27048 | T | Remove hip/pelvis lesion | 0022 | 12.49 | $605.60 | $292.94 | $121.12
27049 | T | Remove tumor, hip/pelvis | 0022 | 12.49 | $605.60 | $292.94 | $121.12
27050 | T | Biopsy of sacroiliac joint | 0049 | 15.04 | $729.25 | $356.95 | $145.85
27052 | T | Biopsy of hip joint | 0049 | 15.04 | $729.25 | $356.95 | $145.85
27054 | C | Removal of hip joint lining |  |  |  |  |
27060 | T | Removal of ischial bursa | 0049 | 15.04 | $729.25 | $356.95 | $145.85
27062 | T | Remove femur lesion/bursa | 0049 | 15.04 | $729.25 | $356.95 | $145.85
27065 | T | Removal of hip bone lesion | 0049 | 15.04 | $729.25 | $356.95 | $145.85
27066 | T | Removal of hip bone lesion | 0050 | 21.13 | $1,024.53 | $513.86 | $204.91
27067 | T | Remove/graft hip bone lesion | 0050 | 21.13 | $1,024.53 | $513.86 | $204.91
27070 | C | Partial removal of hip bone |  |  |  |  |
27071 | C | Partial removal of hip bone |  |  |  |  |
27075 | C | Extensive hip surgery |  |  |  |  |
27076 | C | Extensive hip surgery |  |  |  |  |
27077 | C | Extensive hip surgery |  |  |  |  |
27078 | C | Extensive hip surgery |  |  |  |  |
27079 | C | Extensive hip surgery |  |  |  |  |
27080 | T | Removal of tail bone | 0050 | 21.13 | $1,024.53 | $513.86 | $204.91
27086 | T | Remove hip foreign body | 0019 | 4.00 | $193.95 | $78.91 | $38.79
27087 | T | Remove hip foreign body | 0049 | 15.04 | $729.25 | $356.95 | $145.85
27090 | C | Removal of hip prosthesis |  |  |  |  |
27091 | C | Removal of hip prosthesis |  |  |  |  |
27093 | N | Injection for hip x-ray |  |  |  |  |
27095 | N | Injection for hip x-ray |  |  |  |  |
27096 | N | Inject sacroiliac joint |  |  |  |  |
27097 | T | Revision of hip tendon | 0050 | 21.13 | $1,024.53 | $513.86 | $204.91
27098 | T | Transfer tendon to pelvis | 0050 | 21.13 | $1,024.53 | $513.86 | $204.91
27100 | T | Transfer of abdominal muscle | 0051 | 27.76 | $1,346.00 | $675.24 | $269.20
27105 | T | Transfer of spinal muscle | 0051 | 27.76 | $1,346.00 | $675.24 | $269.20
27110 | T | Transfer of iliopsoas muscle | 0051 | 27.76 | $1,346.00 | $675.24 | $269.20
27111 | T | Transfer of iliopsoas muscle | 0051 | 27.76 | $1,346.00 | $675.24 | $269.20
27120 | C | Reconstruction of hip socket |  |  |  |  |
27122 | C | Reconstruction of hip socket |  |  |  |  |
27125 | C | Partial hip replacement |  |  |  |  |
27130 | C | Total hip replacement |  |  |  |  |
27132 | C | Total hip replacement |  |  |  |  |
27134 | C | Revise hip joint replacement |  |  |  |  |
27137 | C | Revise hip joint replacement |  |  |  |  |
27138 | C | Revise hip joint replacement |  |  |  |  |
27140 | C | Transplant femur ridge |  |  |  |  |
27146 | C | Incision of hip bone |  |  |  |  |
27147 | C | Revision of hip bone |  |  |  |  |
27151 | C | Incision of hip bones |  |  |  |  |
27156 | C | Revision of hip bones |  |  |  |  |
27158 | C | Revision of pelvis |  |  |  |  |
27161 | C | Incision of neck of femur |  |  |  |  |
27165 | C | Incision/fixation of femur |  |  |  |  |
27170 | C | Repair/graft femur head/neck |  |  |  |  |
27175 | C | Treat slipped epiphysis |  |  |  |  |
27176 | C | Treat slipped epiphysis |  |  |  |  |
27177 | C | Treat slipped epiphysis |  |  |  |  |
27178 | C | Treat slipped epiphysis |  |  |  |  |
27179 | C | Revise head/neck of femur |  |  |  |  |
27181 | C | Treat slipped epiphysis |  |  |  |  |
27185 | C | Revision of femur epiphysis |  |  |  |  |
27187 | C | Reinforce hip bones |  |  |  |  |
27193 | T | Treat pelvic ring fracture | 0044 | 2.17 | $105.22 | $38.08 | $21.04
27194 | T | Treat pelvic ring fracture | 0045 | 11.02 | $534.33 | $277.12 | $106.87
27200 | T | Treat tail bone fracture | 0043 | 1.64 | $79.52 | $25.46 | $15.90
27202 | T | Treat tail bone fracture | 0046 | 22.29 | $1,080.78 | $535.76 | $216.16
27215 | C | Treat pelvic fracture(s) |  |  |  |  |
27216 | C | Treat pelvic ring fracture |  |  |  |  |
27217 | C | Treat pelvic ring fracture |  |  |  |  |
27218 | C | Treat pelvic ring fracture |  |  |  |  |
27220 | T | Treat hip socket fracture | 0044 | 2.17 | $105.22 | $38.08 | $21.04
27222 | C | Treat hip socket fracture |  |  |  |  |
27226 | C | Treat hip wall fracture |  |  |  |  |
27227 | C | Treat hip fracture(s) |  |  |  |  |
27228 | C | Treat hip fracture(s) |  |  |  |  |
27230 | T | Treat thigh fracture | 0044 | 2.17 | $105.22 | $38.08 | $21.04
27232 | C | Treat thigh fracture |  |  |  |  |
27235 | C | Treat thigh fracture |  |  |  |  |
27236 | C | Treat thigh fracture |  |  |  |  |
27238 | T | Treat thigh fracture | 0044 | 2.17 | $105.22 | $38.08 | $21.04
27240 | C | Treat thigh fracture |  |  |  |  |
27244 | C | Treat thigh fracture |  |  |  |  |
27245 | C | Treat thigh fracture |  |  |  |  |
27246 | T | Treat thigh fracture | 0044 | 2.17 | $105.22 | $38.08 | $21.04
27248 | C | Treat thigh fracture |  |  |  |  |
27250 | T | Treat hip dislocation | 0044 | 2.17 | $105.22 | $38.08 | $21.04
27252 | T | Treat hip dislocation | 0045 | 11.02 | $534.33 | $277.12 | $106.87
27253 | C | Treat hip dislocation |  |  |  |  |
27254 | C | Treat hip dislocation |  |  |  |  |
27256 | T | Treat hip dislocation | 0044 | 2.17 | $105.22 | $38.08 | $21.04
27257 | T | Treat hip dislocation | 0045 | 11.02 | $534.33 | $277.12 | $106.87
27258 | C | Treat hip dislocation |  |  |  |  |
27259 | C | Treat hip dislocation |  |  |  |  |
27265 | T | Treat hip dislocation | 0044 | 2.17 | $105.22 | $38.08 | $21.04
27266 | T | Treat hip dislocation | 0047 | 22.09 | $1,071.08 | $537.03 | $214.22
27275 | T | Manipulation of hip joint | 0045 | 11.02 | $534.33 | $277.12 | $106.87
27280 | C | Fusion of sacroiliac joint |  |  |  |  |
27282 | C | Fusion of pubic bones |  |  |  |  |
27284 | C | Fusion of hip joint |  |  |  |  |
27286 | C | Fusion of hip joint |  |  |  |  |
27290 | C | Amputation of leg at hip |  |  |  |  |
27295 | C | Amputation of leg at hip |  |  |  |  |
27299 | T | Pelvis/hip joint surgery | 0043 | 1.64 | $79.52 | $25.46 | $15.90
27301 | T | Drain thigh/knee lesion | 0008 | 6.15 | $298.20 | $113.67 | $59.64
27303 | C | Drainage of bone lesion |  |  |  |  |
27305 | T | Incise thigh tendon & fascia | 0049 | 15.04 | $729.25 | $356.95 | $145.85
27306 | T | Incision of thigh tendon | 0049 | 15.04 | $729.25 | $356.95 | $145.85
27307 | T | Incision of thigh tendons | 0049 | 15.04 | $729.25 | $356.95 | $145.85
27310 | T | Exploration of knee joint | 0050 | 21.13 | $1,024.53 | $513.86 | $204.91
27315 | T | Partial removal, thigh nerve | 0220 | 13.96 | $676.88 | $326.21 | $135.38
27320 | T | Partial removal, thigh nerve | 0220 | 13.96 | $676.88 | $326.21 | $135.38
27323 | T | Biopsy, thigh soft tissues | 0021 | 10.49 | $508.63 | $236.51 | $101.73
27324 | T | Biopsy, thigh soft tissues | 0022 | 12.49 | $605.60 | $292.94 | $121.12
27327 | T | Removal of thigh lesion | 0022 | 12.49 | $605.60 | $292.94 | $121.12
27328 | T | Removal of thigh lesion | 0022 | 12.49 | $605.60 | $292.94 | $121.12
27329 | T | Remove tumor, thigh/knee | 0022 | 12.49 | $605.60 | $292.94 | $121.12
27330 | T | Biopsy, knee joint lining | 0050 | 21.13 | $1,024.53 | $513.86 | $204.91
27331 | T | Explore/treat knee joint | 0050 | 21.13 | $1,024.53 | $513.86 | $204.91
27332 | T | Removal of knee cartilage | 0050 | 21.13 | $1,024.53 | $513.86 | $204.91
27333 | T | Removal of knee cartilage | 0050 | 21.13 | $1,024.53 | $513.86 | $204.91
27334 | T | Remove knee joint lining | 0050 | 21.13 | $1,024.53 | $513.86 | $204.91
27335 | T | Remove knee joint lining | 0050 | 21.13 | $1,024.53 | $513.86 | $204.91
27340 | T | Removal of kneecap bursa | 0049 | 15.04 | $729.25 | $356.95 | $145.85
27345 | T | Removal of knee cyst | 0049 | 15.04 | $729.25 | $356.95 | $145.85
27347 | T | Remove knee cyst | 0049 | 15.04 | $729.25 | $356.95 | $145.85
27350 | T | Removal of kneecap | 0050 | 21.13 | $1,024.53 | $513.86 | $204.91
27355 | T | Remove femur lesion | 0050 | 21.13 | $1,024.53 | $513.86 | $204.91
27356 | T | Remove femur lesion/graft | 0050 | 21.13 | $1,024.53 | $513.86 | $204.91
27357 | T | Remove femur lesion/graft | 0050 | 21.13 | $1,024.53 | $513.86 | $204.91
27358 | T | Remove femur lesion/fixation | 0050 | 21.13 | $1,024.53 | $513.86 | $204.91
27360 | T | Partial removal, leg bone(s) | 0050 | 21.13 | $1,024.53 | $513.86 | $204.91
27365 | C | Extensive leg surgery |  |  |  |  |
27370 | N | Injection for knee x-ray |  |  |  |  |
27372 | T | Removal of foreign body | 0022 | 12.49 | $605.60 | $292.94 | $121.12
27380 | T | Repair of kneecap tendon | 0049 | 15.04 | $729.25 | $356.95 | $145.85
27381 | T | Repair/graft kneecap tendon | 0049 | 15.04 | $729.25 | $356.95 | $145.85
27385 | T | Repair of thigh muscle | 0049 | 15.04 | $729.25 | $356.95 | $145.85
27386 | T | Repair/graft of thigh muscle | 0049 | 15.04 | $729.25 | $356.95 | $145.85
27390 | T | Incision of thigh tendon | 0049 | 15.04 | $729.25 | $356.95 | $145.85
27391 | T | Incision of thigh tendons | 0049 | 15.04 | $729.25 | $356.95 | $145.85
27392 | T | Incision of thigh tendons | 0049 | 15.04 | $729.25 | $356.95 | $145.85
27393 | T | Lengthening of thigh tendon | 0050 | 21.13 | $1,024.53 | $513.86 | $204.91
27394 | T | Lengthening of thigh tendons | 0050 | 21.13 | $1,024.53 | $513.86 | $204.91
27395 | T | Lengthening of thigh tendons | 0051 | 27.76 | $1,346.00 | $675.24 | $269.20
27396 | T | Transplant of thigh tendon | 0050 | 21.13 | $1,024.53 | $513.86 | $204.91
27397 | T | Transplants of thigh tendons | 0051 | 27.76 | $1,346.00 | $675.24 | $269.20
27400 | T | Revise thigh muscles/tendons | 0051 | 27.76 | $1,346.00 | $675.24 | $269.20
27403 | T | Repair of knee cartilage | 0050 | 21.13 | $1,024.53 | $513.86 | $204.91
27405 | T | Repair of knee ligament | 0051 | 27.76 | $1,346.00 | $675.24 | $269.20
27407 | T | Repair of knee ligament | 0051 | 27.76 | $1,346.00 | $675.24 | $269.20
27409 | T | Repair of knee ligaments | 0051 | 27.76 | $1,346.00 | $675.24 | $269.20
27418 | T | Repair degenerated kneecap | 0051 | 27.76 | $1,346.00 | $675.24 | $269.20
27420 | T | Revision of unstable kneecap | 0051 | 27.76 | $1,346.00 | $675.24 | $269.20
27422 | T | Revision of unstable kneecap | 0051 | 27.76 | $1,346.00 | $675.24 | $269.20
27424 | T | Revision/removal of kneecap | 0051 | 27.76 | $1,346.00 | $675.24 | $269.20
27425 | T | Lateral retinacular release | 0050 | 21.13 | $1,024.53 | $513.86 | $204.91
27427 | T | Reconstruction, knee | 0052 | 36.16 | $1,753.29 | $930.91 | $350.66
27428 | T | Reconstruction, knee | 0052 | 36.16 | $1,753.29 | $930.91 | $350.66
27429 | T | Reconstruction, knee | 0052 | 36.16 | $1,753.29 | $930.91 | $350.66
27430 | T | Revision of thigh muscles | 0051 | 27.76 | $1,346.00 | $675.24 | $269.20
27435 | T | Incision of knee joint | 0051 | 27.76 | $1,346.00 | $675.24 | $269.20
27437 | T | Revise kneecap | 0047 | 22.09 | $1,071.08 | $537.03 | $214.22
27438 | T | Revise kneecap with implant | 0048 | 29.06 | $1,409.03 | $725.94 | $281.81
27440 | T | Revision of knee joint | 0047 | 22.09 | $1,071.08 | $537.03 | $214.22
27441 | T | Revision of knee joint | 0047 | 22.09 | $1,071.08 | $537.03 | $214.22
27442 | T | Revision of knee joint | 0047 | 22.09 | $1,071.08 | $537.03 | $214.22
27443 | T | Revision of knee joint | 0047 | 22.09 | $1,071.08 | $537.03 | $214.22
27445 | C | Revision of knee joint |  |  |  |  |
27446 | C | Revision of knee joint |  |  |  |  |
27447 | C | Total knee replacement |  |  |  |  |
27448 | C | Incision of thigh |  |  |  |  |
27450 | C | Incision of thigh |  |  |  |  |
27454 | C | Realignment of thigh bone |  |  |  |  |
27455 | C | Realignment of knee |  |  |  |  |
27457 | C | Realignment of knee |  |  |  |  |
27465 | C | Shortening of thigh bone |  |  |  |  |
27466 | C | Lengthening of thigh bone |  |  |  |  |
27468 | C | Shorten/lengthen thighs |  |  |  |  |
27470 | C | Repair of thigh |  |  |  |  |
27472 | C | Repair/graft of thigh |  |  |  |  |
27475 | C | Surgery to stop leg growth |  |  |  |  |
27477 | C | Surgery to stop leg growth |  |  |  |  |
27479 | C | Surgery to stop leg growth |  |  |  |  |
27485 | C | Surgery to stop leg growth |  |  |  |  |
27486 | C | Revise/replace knee joint |  |  |  |  |
27487 | C | Revise/replace knee joint |  |  |  |  |
27488 | C | Removal of knee prosthesis |  |  |  |  |
27495 | C | Reinforce thigh |  |  |  |  |
27496 | T | Decompression of thigh/knee | 0049 | 15.04 | $729.25 | $356.95 | $145.85
27497 | T | Decompression of thigh/knee | 0049 | 15.04 | $729.25 | $356.95 | $145.85
27498 | T | Decompression of thigh/knee | 0049 | 15.04 | $729.25 | $356.95 | $145.85
27499 | T | Decompression of thigh/knee | 0049 | 15.04 | $729.25 | $356.95 | $145.85
27500 | T | Treatment of thigh fracture | 0044 | 2.17 | $105.22 | $38.08 | $21.04
27501 | T | Treatment of thigh fracture | 0044 | 2.17 | $105.22 | $38.08 | $21.04
27502 | T | Treatment of thigh fracture | 0044 | 2.17 | $105.22 | $38.08 | $21.04
27503 | T | Treatment of thigh fracture | 0044 | 2.17 | $105.22 | $38.08 | $21.04
27506 | C | Treatment of thigh fracture |  |  |  |  |
27507 | C | Treatment of thigh fracture |  |  |  |  |
27508 | T | Treatment of thigh fracture | 0044 | 2.17 | $105.22 | $38.08 | $21.04
27509 | T | Treatment of thigh fracture | 0046 | 22.29 | $1,080.78 | $535.76 | $216.16
27510 | T | Treatment of thigh fracture | 0044 | 2.17 | $105.22 | $38.08 | $21.04
27511 | C | Treatment of thigh fracture |  |  |  |  |
27513 | C | Treatment of thigh fracture |  |  |  |  |
27514 | C | Treatment of thigh fracture |  |  |  |  |
27516 | T | Treat thigh fx growth plate | 0044 | 2.17 | $105.22 | $38.08 | $21.04
27517 | T | Treat thigh fx growth plate | 0044 | 2.17 | $105.22 | $38.08 | $21.04
27519 | C | Treat thigh fx growth plate |  |  |  |  |
27520 | T | Treat kneecap fracture | 0044 | 2.17 | $105.22 | $38.08 | $21.04
27524 | C | Treat kneecap fracture |  |  |  |  |
27530 | T | Treat knee fracture | 0044 | 2.17 | $105.22 | $38.08 | $21.04
27532 | T | Treat knee fracture | 0044 | 2.17 | $105.22 | $38.08 | $21.04
27535 | C | Treat knee fracture |  |  |  |  |
27536 | C | Treat knee fracture |  |  |  |  |
27538 | T | Treat knee fracture(s) | 0044 | 2.17 | $105.22 | $38.08 | $21.04
27540 | C | Treat knee fracture |  |  |  |  |
27550 | T | Treat knee dislocation | 0044 | 2.17 | $105.22 | $38.08 | $21.04
27552 | T | Treat knee dislocation | 0045 | 11.02 | $534.33 | $277.12 | $106.87
27556 | T | Treat knee dislocation | 0046 | 22.29 | $1,080.78 | $535.76 | $216.16
27557 | C | Treat knee dislocation |  |  |  |  |
27558 | C | Treat knee dislocation |  |  |  |  |
27560 | T | Treat kneecap dislocation | 0044 | 2.17 | $105.22 | $38.08 | $21.04
27562 | T | Treat kneecap dislocation | 0045 | 11.02 | $534.33 | $277.12 | $106.87
27566 | T | Treat kneecap dislocation | 0046 | 22.29 | $1,080.78 | $535.76 | $216.16
27570 | T | Fixation of knee joint | 0045 | 11.02 | $534.33 | $277.12 | $106.87
27580 | C | Fusion of knee |  |  |  |  |
27590 | C | Amputate leg at thigh |  |  |  |  |
27591 | C | Amputate leg at thigh |  |  |  |  |
27592 | C | Amputate leg at thigh |  |  |  |  |
27594 | T | Amputation follow-up surgery | 0049 | 15.04 | $729.25 | $356.95 | $145.85
27596 | C | Amputation follow-up surgery |  |  |  |  |
27598 | C | Amputate lower leg at knee |  |  |  |  |
27599 | T | Leg surgery procedure | 0044 | 2.17 | $105.22 | $38.08 | $21.04
27600 | T | Decompression of lower leg | 0049 | 15.04 | $729.25 | $356.95 | $145.85
27601 | T | Decompression of lower leg | 0049 | 15.04 | $729.25 | $356.95 | $145.85
27602 | T | Decompression of lower leg | 0049 | 15.04 | $729.25 | $356.95 | $145.85
27603 | T | Drain lower leg lesion | 0008 | 6.15 | $298.20 | $113.67 | $59.64
27604 | T | Drain lower leg bursa | 0049 | 15.04 | $729.25 | $356.95 | $145.85
27605 | T | Incision of achilles tendon | 0055 | 15.47 | $750.10 | $355.34 | $150.02
27606 | T | Incision of achilles tendon | 0049 | 15.04 | $729.25 | $356.95 | $145.85
27607 | T | Treat lower leg bone lesion | 0049 | 15.04 | $729.25 | $356.95 | $145.85
27610 | T | Explore/treat ankle joint | 0050 | 21.13 | $1,024.53 | $513.86 | $204.91
27612 | T | Exploration of ankle joint | 0050 | 21.13 | $1,024.53 | $513.86 | $204.91
27613 | T | Biopsy lower leg soft tissue | 0020 | 6.51 | $315.65 | $130.53 | $63.13
27614 | T | Biopsy lower leg soft tissue | 0022 | 12.49 | $605.60 | $292.94 | $121.12
27615 | T | Remove tumor, lower leg | 0046 | 22.29 | $1,080.78 | $535.76 | $216.16
27618 | T | Remove lower leg lesion | 0021 | 10.49 | $508.63 | $236.51 | $101.73
27619 | T | Remove lower leg lesion | 0022 | 12.49 | $605.60 | $292.94 | $121.12
27620 | T | Explore/treat ankle joint | 0050 | 21.13 | $1,024.53 | $513.86 | $204.91
27625 | T | Remove ankle joint lining | 0050 | 21.13 | $1,024.53 | $513.86 | $204.91
27626 | T | Remove ankle joint lining | 0050 | 21.13 | $1,024.53 | $513.86 | $204.91
27630 | T | Removal of tendon lesion | 0049 | 15.04 | $729.25 | $356.95 | $145.85
27635 | T | Remove lower leg bone lesion | 0050 | 21.13 | $1,024.53 | $513.86 | $204.91
27637 | T | Remove/graft leg bone lesion | 0050 | 21.13 | $1,024.53 | $513.86 | $204.91
27638 | T | Remove/graft leg bone lesion | 0050 | 21.13 | $1,024.53 | $513.86 | $204.91
27640 | T | Partial removal of tibia | 0051 | 27.76 | $1,346.00 | $675.24 | $269.20
27641 | T | Partial removal of fibula | 0050 | 21.13 | $1,024.53 | $513.86 | $204.91
27645 | C | Extensive lower leg surgery |  |  |  |  |
27646 | C | Extensive lower leg surgery |  |  |  |  |
27647 | T | Extensive ankle/heel surgery | 0051 | 27.76 | $1,346.00 | $675.24 | $269.20
27648 | N | Injection for ankle x-ray |  |  |  |  |
27650 | T | Repair achilles tendon | 0051 | 27.76 | $1,346.00 | $675.24 | $269.20
27652 | T | Repair/graft achilles tendon | 0051 | 27.76 | $1,346.00 | $675.24 | $269.20
27654 | T | Repair of achilles tendon | 0051 | 27.76 | $1,346.00 | $675.24 | $269.20
27656 | T | Repair leg fascia defect | 0049 | 15.04 | $729.25 | $356.95 | $145.85
27658 | T | Repair of leg tendon, each | 0049 | 15.04 | $729.25 | $356.95 | $145.85
27659 | T | Repair of leg tendon, each | 0049 | 15.04 | $729.25 | $356.95 | $145.85
27664 | T | Repair of leg tendon, each | 0049 | 15.04 | $729.25 | $356.95 | $145.85
27665 | T | Repair of leg tendon, each | 0050 | 21.13 | $1,024.53 | $513.86 | $204.91
27675 | T | Repair lower leg tendons | 0049 | 15.04 | $729.25 | $356.95 | $145.85
27676 | T | Repair lower leg tendons | 0050 | 21.13 | $1,024.53 | $513.86 | $204.91
27680 | T | Release of lower leg tendon | 0050 | 21.13 | $1,024.53 | $513.86 | $204.91
27681 | T | Release of lower leg tendons | 0050 | 21.13 | $1,024.53 | $513.86 | $204.91
27685 | T | Revision of lower leg tendon | 0050 | 21.13 | $1,024.53 | $513.86 | $204.91
27686 | T | Revise lower leg tendons | 0050 | 21.13 | $1,024.53 | $513.86 | $204.91
27687 | T | Revision of calf tendon | 0050 | 21.13 | $1,024.53 | $513.86 | $204.91
27690 | T | Revise lower leg tendon | 0051 | 27.76 | $1,346.00 | $675.24 | $269.20
27691 | T | Revise lower leg tendon | 0051 | 27.76 | $1,346.00 | $675.24 | $269.20
27692 | T | Revise additional leg tendon | 0051 | 27.76 | $1,346.00 | $675.24 | $269.20
27695 | T | Repair of ankle ligament | 0050 | 21.13 | $1,024.53 | $513.86 | $204.91
27696 | T | Repair of ankle ligaments | 0050 | 21.13 | $1,024.53 | $513.86 | $204.91
27698 | T | Repair of ankle ligament | 0050 | 21.13 | $1,024.53 | $513.86 | $204.91
27700 | T | Revision of ankle joint | 0047 | 22.09 | $1,071.08 | $537.03 | $214.22
27702 | C | Reconstruct ankle joint |  |  |  |  |
27703 | C | Reconstruction, ankle joint |  |  |  |  |
27704 | T | Removal of ankle implant | 0049 | 15.04 | $729.25 | $356.95 | $145.85
27705 | T | Incision of tibia | 0051 | 27.76 | $1,346.00 | $675.24 | $269.20
27707 | T | Incision of fibula | 0049 | 15.04 | $729.25 | $356.95 | $145.85
27709 | T | Incision of tibia & fibula | 0050 | 21.13 | $1,024.53 | $513.86 | $204.91
27712 | C | Realignment of lower leg |  |  |  |  |
27715 | C | Revision of lower leg |  |  |  |  |
27720 | C | Repair of tibia |  |  |  |  |
27722 | C | Repair/graft of tibia |  |  |  |  |
27724 | C | Repair/graft of tibia |  |  |  |  |
27725 | C | Repair of lower leg |  |  |  |  |
27727 | C | Repair of lower leg |  |  |  |  |
27730 | T | Repair of tibia epiphysis | 0050 | 21.13 | $1,024.53 | $513.86 | $204.91
27732 | T | Repair of fibula epiphysis | 0050 | 21.13 | $1,024.53 | $513.86 | $204.91
27734 | T | Repair lower leg epiphyses | 0050 | 21.13 | $1,024.53 | $513.86 | $204.91
27740 | T | Repair of leg epiphyses | 0050 | 21.13 | $1,024.53 | $513.86 | $204.91
27742 | T | Repair of leg epiphyses | 0051 | 27.76 | $1,346.00 | $675.24 | $269.20
27745 | T | Reinforce tibia | 0051 | 27.76 | $1,346.00 | $675.24 | $269.20
27750 | T | Treatment of tibia fracture | 0044 | 2.17 | $105.22 | $38.08 | $21.04
27752 | T | Treatment of tibia fracture | 0044 | 2.17 | $105.22 | $38.08 | $21.04
27756 | T | Treatment of tibia fracture | 0046 | 22.29 | $1,080.78 | $535.76 | $216.16
27758 | T | Treatment of tibia fracture | 0046 | 22.29 | $1,080.78 | $535.76 | $216.16
27759 | T | Treatment of tibia fracture | 0046 | 22.29 | $1,080.78 | $535.76 | $216.16
27760 | T | Treatment of ankle fracture | 0044 | 2.17 | $105.22 | $38.08 | $21.04
27762 | T | Treatment of ankle fracture | 0044 | 2.17 | $105.22 | $38.08 | $21.04
27766 | T | Treatment of ankle fracture | 0046 | 22.29 | $1,080.78 | $535.76 | $216.16
27780 | T | Treatment of fibula fracture | 0044 | 2.17 | $105.22 | $38.08 | $21.04
27781 | T | Treatment of fibula fracture | 0044 | 2.17 | $105.22 | $38.08 | $21.04
27784 | T | Treatment of fibula fracture | 0046 | 22.29 | $1,080.78 | $535.76 | $216.16
27786 | T | Treatment of ankle fracture | 0044 | 2.17 | $105.22 | $38.08 | $21.04
27788 | T | Treatment of ankle fracture | 0044 | 2.17 | $105.22 | $38.08 | $21.04
27792 | T | Treatment of ankle fracture | 0046 | 22.29 | $1,080.78 | $535.76 | $216.16
27808 | T | Treatment of ankle fracture | 0044 | 2.17 | $105.22 | $38.08 | $21.04
27810 | T | Treatment of ankle fracture | 0044 | 2.17 | $105.22 | $38.08 | $21.04
27814 | T | Treatment of ankle fracture | 0046 | 22.29 | $1,080.78 | $535.76 | $216.16
27816 | T | Treatment of ankle fracture | 0044 | 2.17 | $105.22 | $38.08 | $21.04
27818 | T | Treatment of ankle fracture | 0044 | 2.17 | $105.22 | $38.08 | $21.04
27822 | T | Treatment of ankle fracture | 0046 | 22.29 | $1,080.78 | $535.76 | $216.16
27823 | T | Treatment of ankle fracture | 0046 | 22.29 | $1,080.78 | $535.76 | $216.16
27824 | T | Treat lower leg fracture | 0044 | 2.17 | $105.22 | $38.08 | $21.04
27825 | T | Treat lower leg fracture | 0044 | 2.17 | $105.22 | $38.08 | $21.04
27826 | T | Treat lower leg fracture | 0046 | 22.29 | $1,080.78 | $535.76 | $216.16
27827 | T | Treat lower leg fracture | 0046 | 22.29 | $1,080.78 | $535.76 | $216.16
27828 | T | Treat lower leg fracture | 0046 | 22.29 | $1,080.78 | $535.76 | $216.16
27829 | T | Treat lower leg joint | 0046 | 22.29 | $1,080.78 | $535.76 | $216.16
27830 | T | Treat lower leg dislocation | 0044 | 2.17 | $105.22 | $38.08 | $21.04
27831 | T | Treat lower leg dislocation | 0045 | 11.02 | $534.33 | $277.12 | $106.87
27832 | T | Treat lower leg dislocation | 0046 | 22.29 | $1,080.78 | $535.76 | $216.16
27840 | T | Treat ankle dislocation | 0044 | 2.17 | $105.22 | $38.08 | $21.04
27842 | T | Treat ankle dislocation | 0045 | 11.02 | $534.33 | $277.12 | $106.87
27846 | T | Treat ankle dislocation | 0046 | 22.29 | $1,080.78 | $535.76 | $216.16
27848 | T | Treat ankle dislocation | 0046 | 22.29 | $1,080.78 | $535.76 | $216.16
27860 | T | Fixation of ankle joint | 0045 | 11.02 | $534.33 | $277.12 | $106.87
27870 | T | Fusion of ankle joint | 0051 | 27.76 | $1,346.00 | $675.24 | $269.20
27871 | T | Fusion of tibiofibular joint | 0051 | 27.76 | $1,346.00 | $675.24 | $269.20
27880 | C | Amputation of lower leg |  |  |  |  |
27881 | C | Amputation of lower leg |  |  |  |  |
27882 | C | Amputation of lower leg |  |  |  |  |
27884 | T | Amputation follow-up surgery | 0049 | 15.04 | $729.25 | $356.95 | $145.85
27886 | C | Amputation follow-up surgery |  |  |  |  |
27888 | C | Amputation of foot at ankle |  |  |  |  |
27889 | T | Amputation of foot at ankle | 0050 | 21.13 | $1,024.53 | $513.86 | $204.91
27892 | T | Decompression of leg | 0049 | 15.04 | $729.25 | $356.95 | $145.85
27893 | T | Decompression of leg | 0049 | 15.04 | $729.25 | $356.95 | $145.85
27894 | T | Decompression of leg | 0049 | 15.04 | $729.25 | $356.95 | $145.85
27899 | T | Leg/ankle surgery procedure | 0044 | 2.17 | $105.22 | $38.08 | $21.04
28001 | T | Drainage of bursa of foot | 0008 | 6.15 | $298.20 | $113.67 | $59.64
28002 | T | Treatment of foot infection | 0049 | 15.04 | $729.25 | $356.95 | $145.85
28003 | T | Treatment of foot infection | 0049 | 15.04 | $729.25 | $356.95 | $145.85
28005 | T | Treat foot bone lesion | 0055 | 15.47 | $750.10 | $355.34 | $150.02
28008 | T | Incision of foot fascia | 0055 | 15.47 | $750.10 | $355.34 | $150.02
28010 | T | Incision of toe tendon | 0055 | 15.47 | $750.10 | $355.34 | $150.02
28011 | T | Incision of toe tendons | 0055 | 15.47 | $750.10 | $355.34 | $150.02
28020 | T | Exploration of foot joint | 0055 | 15.47 | $750.10 | $355.34 | $150.02
28022 | T | Exploration of foot joint | 0055 | 15.47 | $750.10 | $355.34 | $150.02
28024 | T | Exploration of toe joint | 0055 | 15.47 | $750.10 | $355.34 | $150.02
28030 | T | Removal of foot nerve | 0220 | 13.96 | $676.88 | $326.21 | $135.38
28035 | T | Decompression of tibia nerve | 0220 | 13.96 | $676.88 | $326.21 | $135.38
28043 | T | Excision of foot lesion | 0021 | 10.49 | $508.63 | $236.51 | $101.73
28045 | T | Excision of foot lesion | 0055 | 15.47 | $750.10 | $355.34 | $150.02
28046 | T | Resection of tumor, foot | 0055 | 15.47 | $750.10 | $355.34 | $150.02
28050 | T | Biopsy of foot joint lining | 0055 | 15.47 | $750.10 | $355.34 | $150.02
28052 | T | Biopsy of foot joint lining | 0055 | 15.47 | $750.10 | $355.34 | $150.02
28054 | T | Biopsy of toe joint lining | 0055 | 15.47 | $750.10 | $355.34 | $150.02
28060 | T | Partial removal, foot fascia | 0056 | 17.30 | $838.83 | $405.81 | $167.77
28062 | T | Removal of foot fascia | 0056 | 17.30 | $838.83 | $405.81 | $167.77
28070 | T | Removal of foot joint lining | 0056 | 17.30 | $838.83 | $405.81 | $167.77
28072 | T | Removal of foot joint lining | 0056 | 17.30 | $838.83 | $405.81 | $167.77
28080 | T | Removal of foot lesion | 0055 | 15.47 | $750.10 | $355.34 | $150.02
28086 | T | Excise foot tendon sheath | 0055 | 15.47 | $750.10 | $355.34 | $150.02
28088 | T | Excise foot tendon sheath | 0055 | 15.47 | $750.10 | $355.34 | $150.02
28090 | T | Removal of foot lesion | 0055 | 15.47 | $750.10 | $355.34 | $150.02
28092 | T | Removal of toe lesions | 0055 | 15.47 | $750.10 | $355.34 | $150.02
28100 | T | Removal of ankle/heel lesion | 0055 | 15.47 | $750.10 | $355.34 | $150.02
28102 | T | Remove/graft foot lesion | 0056 | 17.30 | $838.83 | $405.81 | $167.77
28103 | T | Remove/graft foot lesion | 0056 | 17.30 | $838.83 | $405.81 | $167.77
28104 | T | Removal of foot lesion | 0055 | 15.47 | $750.10 | $355.34 | $150.02
28106 | T | Remove/graft foot lesion | 0056 | 17.30 | $838.83 | $405.81 | $167.77
28107 | T | Remove/graft foot lesion | 0056 | 17.30 | $838.83 | $405.81 | $167.77
28108 | T | Removal of toe lesions | 0055 | 15.47 | $750.10 | $355.34 | $150.02
28110 | T | Part removal of metatarsal | 0057 | 21.00 | $1,018.23 | $496.65 | $203.65
28111 | T | Part removal of metatarsal | 0055 | 15.47 | $750.10 | $355.34 | $150.02
28112 | T | Part removal of metatarsal | 0055 | 15.47 | $750.10 | $355.34 | $150.02
28113 | T | Part removal of metatarsal | 0055 | 15.47 | $750.10 | $355.34 | $150.02
28114 | T | Removal of metatarsal heads | 0055 | 15.47 | $750.10 | $355.34 | $150.02
28116 | T | Revision of foot | 0055 | 15.47 | $750.10 | $355.34 | $150.02
28118 | T | Removal of heel bone | 0055 | 15.47 | $750.10 | $355.34 | $150.02
28119 | T | Removal of heel spur | 0055 | 15.47 | $750.10 | $355.34 | $150.02
28120 | T | Part removal of ankle/heel | 0055 | 15.47 | $750.10 | $355.34 | $150.02
28122 | T | Partial removal of foot bone | 0055 | 15.47 | $750.10 | $355.34 | $150.02
28124 | T | Partial removal of toe | 0055 | 15.47 | $750.10 | $355.34 | $150.02
28126 | T | Partial removal of toe | 0055 | 15.47 | $750.10 | $355.34 | $150.02
28130 | T | Removal of ankle bone | 0055 | 15.47 | $750.10 | $355.34 | $150.02
28140 | T | Removal of metatarsal | 0055 | 15.47 | $750.10 | $355.34 | $150.02
28150 | T | Removal of toe | 0055 | 15.47 | $750.10 | $355.34 | $150.02
28153 | T | Partial removal of toe | 0055 | 15.47 | $750.10 | $355.34 | $150.02
28160 | T | Partial removal of toe | 0055 | 15.47 | $750.10 | $355.34 | $150.02
28171 | T | Extensive foot surgery | 0055 | 15.47 | $750.10 | $355.34 | $150.02
28173 | T | Extensive foot surgery | 0055 | 15.47 | $750.10 | $355.34 | $150.02
28175 | T | Extensive foot surgery | 0055 | 15.47 | $750.10 | $355.34 | $150.02
28190 | T | Removal of foot foreign body | 0019 | 4.00 | $193.95 | $78.91 | $38.79
28192 | T | Removal of foot foreign body | 0021 | 10.49 | $508.63 | $236.51 | $101.73
28193 | T | Removal of foot foreign body | 0020 | 6.51 | $315.65 | $130.53 | $63.13
28200 | T | Repair of foot tendon | 0055 | 15.47 | $750.10 | $355.34 | $150.02
28202 | T | Repair/graft of foot tendon | 0056 | 17.30 | $838.83 | $405.81 | $167.77
28208 | T | Repair of foot tendon | 0055 | 15.47 | $750.10 | $355.34 | $150.02
28210 | T | Repair/graft of foot tendon | 0055 | 15.47 | $750.10 | $355.34 | $150.02
28220 | T | Release of foot tendon | 0055 | 15.47 | $750.10 | $355.34 | $150.02
28222 | T | Release of foot tendons | 0055 | 15.47 | $750.10 | $355.34 | $150.02
28225 | T | Release of foot tendon | 0055 | 15.47 | $750.10 | $355.34 | $150.02
28226 | T | Release of foot tendons | 0055 | 15.47 | $750.10 | $355.34 | $150.02
28230 | T | Incision of foot tendon(s) | 0055 | 15.47 | $750.10 | $355.34 | $150.02
28232 | T | Incision of toe tendon | 0055 | 15.47 | $750.10 | $355.34 | $150.02
28234 | T | Incision of foot tendon | 0055 | 15.47 | $750.10 | $355.34 | $150.02
28238 | T | Revision of foot tendon | 0056 | 17.30 | $838.83 | $405.81 | $167.77
28240 | T | Release of big toe | 0055 | 15.47 | $750.10 | $355.34 | $150.02
28250 | T | Revision of foot fascia | 0056 | 17.30 | $838.83 | $405.81 | $167.77
28260 | T | Release of midfoot joint | 0056 | 17.30 | $838.83 | $405.81 | $167.77
28261 | T | Revision of foot tendon | 0056 | 17.30 | $838.83 | $405.81 | $167.77
28262 | T | Revision of foot and ankle | 0056 | 17.30 | $838.83 | $405.81 | $167.77
28264 | T | Release of midfoot joint | 0056 | 17.30 | $838.83 | $405.81 | $167.77
28270 | T | Release of foot contracture | 0055 | 15.47 | $750.10 | $355.34 | $150.02
28272 | T | Release of toe joint, each | 0055 | 15.47 | $750.10 | $355.34 | $150.02
28280 | T | Fusion of toes | 0055 | 15.47 | $750.10 | $355.34 | $150.02
28285 | T | Repair of hammertoe | 0055 | 15.47 | $750.10 | $355.34 | $150.02
28286 | T | Repair of hammertoe | 0055 | 15.47 | $750.10 | $355.34 | $150.02
28288 | T | Partial removal of foot bone | 0056 | 17.30 | $838.83 | $405.81 | $167.77
28289 | T | Repair hallux rigidus | 0056 | 17.30 | $838.83 | $405.81 | $167.77
28290 | T | Correction of bunion | 0057 | 21.00 | $1,018.23 | $496.65 | $203.65
28292 | T | Correction of bunion | 0057 | 21.00 | $1,018.23 | $496.65 | $203.65
28293 | T | Correction of bunion | 0057 | 21.00 | $1,018.23 | $496.65 | $203.65
28294 | T | Correction of bunion | 0057 | 21.00 | $1,018.23 | $496.65 | $203.65
28296 | T | Correction of bunion | 0057 | 21.00 | $1,018.23 | $496.65 | $203.65
28297 | T | Correction of bunion | 0057 | 21.00 | $1,018.23 | $496.65 | $203.65
28298 | T | Correction of bunion | 0057 | 21.00 | $1,018.23 | $496.65 | $203.65
28299 | T | Correction of bunion | 0057 | 21.00 | $1,018.23 | $496.65 | $203.65
28300 | T | Incision of heel bone | 0056 | 17.30 | $838.83 | $405.81 | $167.77
28302 | T | Incision of ankle bone | 0056 | 17.30 | $838.83 | $405.81 | $167.77
28304 | T | Incision of midfoot bones | 0056 | 17.30 | $838.83 | $405.81 | $167.77
28305 | T | Incise/graft midfoot bones | 0056 | 17.30 | $838.83 | $405.81 | $167.77
28306 | T | Incision of metatarsal | 0056 | 17.30 | $838.83 | $405.81 | $167.77
28307 | T | Incision of metatarsal | 0056 | 17.30 | $838.83 | $405.81 | $167.77
28308 | T | Incision of metatarsal | 0056 | 17.30 | $838.83 | $405.81 | $167.77
28309 | T | Incision of metatarsals | 0056 | 17.30 | $838.83 | $405.81 | $167.77
28310 | T | Revision of big toe | 0055 | 15.47 | $750.10 | $355.34 | $150.02
28312 | T | Revision of toe | 0055 | 15.47 | $750.10 | $355.34 | $150.02
28313 | T | Repair deformity of toe | 0055 | 15.47 | $750.10 | $355.34 | $150.02
28315 | T | Removal of sesamoid bone | 0055 | 15.47 | $750.10 | $355.34 | $150.02
28320 | T | Repair of foot bones | 0056 | 17.30 | $838.83 | $405.81 | $167.77
28322 | T | Repair of metatarsals | 0056 | 17.30 | $838.83 | $405.81 | $167.77
28340 | T | Resect enlarged toe tissue | 0055 | 15.47 | $750.10 | $355.34 | $150.02
28341 | T | Resect enlarged toe | 0055 | 15.47 | $750.10 | $355.34 | $150.02
28344 | T | Repair extra toe(s) | 0056 | 17.30 | $838.83 | $405.81 | $167.77
28345 | T | Repair webbed toe(s) | 0056 | 17.30 | $838.83 | $405.81 | $167.77
28360 | T | Reconstruct cleft foot | 0056 | 17.30 | $838.83 | $405.81 | $167.77
28400 | T | Treatment of heel fracture | 0044 | 2.17 | $105.22 | $38.08 | $21.04
28405 | T | Treatment of heel fracture | 0044 | 2.17 | $105.22 | $38.08 | $21.04
28406 | T | Treatment of heel fracture | 0046 | 22.29 | $1,080.78 | $535.76 | $216.16
28415 | T | Treat heel fracture | 0046 | 22.29 | $1,080.78 | $535.76 | $216.16
28420 | T | Treat/graft heel fracture | 0046 | 22.29 | $1,080.78 | $535.76 | $216.16
28430 | T | Treatment of ankle fracture | 0044 | 2.17 | $105.22 | $38.08 | $21.04
28435 | T | Treatment of ankle fracture | 0044 | 2.17 | $105.22 | $38.08 | $21.04
28436 | T | Treatment of ankle fracture | 0046 | 22.29 | $1,080.78 | $535.76 | $216.16
28445 | T | Treat ankle fracture | 0046 | 22.29 | $1,080.78 | $535.76 | $216.16
28450 | T | Treat midfoot fracture, each | 0044 | 2.17 | $105.22 | $38.08 | $21.04
28455 | T | Treat midfoot fracture, each | 0044 | 2.17 | $105.22 | $38.08 | $21.04
28456 | T | Treat midfoot fracture | 0046 | 22.29 | $1,080.78 | $535.76 | $216.16
28465 | T | Treat midfoot fracture, each | 0046 | 22.29 | $1,080.78 | $535.76 | $216.16
28470 | T | Treat metatarsal fracture | 0044 | 2.17 | $105.22 | $38.08 | $21.04
28475 | T | Treat metatarsal fracture | 0044 | 2.17 | $105.22 | $38.08 | $21.04
28476 | T | Treat metatarsal fracture | 0046 | 22.29 | $1,080.78 | $535.76 | $216.16
28485 | T | Treat metatarsal fracture | 0046 | 22.29 | $1,080.78 | $535.76 | $216.16
28490 | T | Treat big toe fracture | 0043 | 1.64 | $79.52 | $25.46 | $15.90
28495 | T | Treat big toe fracture | 0043 | 1.64 | $79.52 | $25.46 | $15.90
28496 | T | Treat big toe fracture | 0046 | 22.29 | $1,080.78 | $535.76 | $216.16
28505 | T | Treat big toe fracture | 0046 | 22.29 | $1,080.78 | $535.76 | $216.16
28510 | T | Treatment of toe fracture | 0043 | 1.64 | $79.52 | $25.46 | $15.90
28515 | T | Treatment of toe fracture | 0043 | 1.64 | $79.52 | $25.46 | $15.90
28525 | T | Treat toe fracture | 0046 | 22.29 | $1,080.78 | $535.76 | $216.16
28530 | T | Treat sesamoid bone fracture | 0044 | 2.17 | $105.22 | $38.08 | $21.04
28531 | T | Treat sesamoid bone fracture | 0046 | 22.29 | $1,080.78 | $535.76 | $216.16
28540 | T | Treat foot dislocation | 0044 | 2.17 | $105.22 | $38.08 | $21.04
28545 | T | Treat foot dislocation | 0045 | 11.02 | $534.33 | $277.12 | $106.87
28546 | T | Treat foot dislocation | 0046 | 22.29 | $1,080.78 | $535.76 | $216.16
28555 | T | Repair foot dislocation | 0046 | 22.29 | $1,080.78 | $535.76 | $216.16
28570 | T | Treat foot dislocation | 0044 | 2.17 | $105.22 | $38.08 | $21.04
28575 | T | Treat foot dislocation | 0045 | 11.02 | $534.33 | $277.12 | $106.87
28576 | T | Treat foot dislocation | 0046 | 22.29 | $1,080.78 | $535.76 | $216.16
28585 | T | Repair foot dislocation | 0046 | 22.29 | $1,080.78 | $535.76 | $216.16
28600 | T | Treat foot dislocation | 0044 | 2.17 | $105.22 | $38.08 | $21.04
28605 | T | Treat foot dislocation | 0045 | 11.02 | $534.33 | $277.12 | $106.87
28606 | T | Treat foot dislocation | 0046 | 22.29 | $1,080.78 | $535.76 | $216.16
28615 | T | Repair foot dislocation | 0046 | 22.29 | $1,080.78 | $535.76 | $216.16
28630 | T | Treat toe dislocation | 0043 | 1.64 | $79.52 | $25.46 | $15.90
28635 | T | Treat toe dislocation | 0045 | 11.02 | $534.33 | $277.12 | $106.87
28636 | T | Treat toe dislocation | 0046 | 22.29 | $1,080.78 | $535.76 | $216.16
28645 | T | Repair toe dislocation | 0046 | 22.29 | $1,080.78 | $535.76 | $216.16
28660 | T | Treat toe dislocation | 0043 | 1.64 | $79.52 | $25.46 | $15.90
28665 | T | Treat toe dislocation | 0045 | 11.02 | $534.33 | $277.12 | $106.87
28666 | T | Treat toe dislocation | 0046 | 22.29 | $1,080.78 | $535.76 | $216.16
28675 | T | Repair of toe dislocation | 0046 | 22.29 | $1,080.78 | $535.76 | $216.16
28705 | T | Fusion of foot bones | 0056 | 17.30 | $838.83 | $405.81 | $167.77
28715 | T | Fusion of foot bones | 0056 | 17.30 | $838.83 | $405.81 | $167.77
28725 | T | Fusion of foot bones | 0056 | 17.30 | $838.83 | $405.81 | $167.77
28730 | T | Fusion of foot bones | 0056 | 17.30 | $838.83 | $405.81 | $167.77
28735 | T | Fusion of foot bones | 0056 | 17.30 | $838.83 | $405.81 | $167.77
28737 | T | Revision of foot bones | 0055 | 15.47 | $750.10 | $355.34 | $150.02
28740 | T | Fusion of foot bones | 0056 | 17.30 | $838.83 | $405.81 | $167.77
28750 | T | Fusion of big toe joint | 0055 | 15.47 | $750.10 | $355.34 | $150.02
28755 | T | Fusion of big toe joint | 0055 | 15.47 | $750.10 | $355.34 | $150.02
28760 | T | Fusion of big toe joint | 0056 | 17.30 | $838.83 | $405.81 | $167.77
28800 | C | Amputation of midfoot |  |  |  |  |
28805 | C | Amputation thru metatarsal |  |  |  |  |
28810 | T | Amputation toe & metatarsal | 0055 | 15.47 | $750.10 | $355.34 | $150.02
28820 | T | Amputation of toe | 0055 | 15.47 | $750.10 | $355.34 | $150.02
28825 | T | Partial amputation of toe | 0055 | 15.47 | $750.10 | $355.34 | $150.02
28899 | T | Foot/toes surgery procedure | 0043 | 1.64 | $79.52 | $25.46 | $15.90
29000 | S | Application of body cast | 0059 | 1.74 | $84.37 | $29.59 | $16.87
29010 | S | Application of body cast | 0059 | 1.74 | $84.37 | $29.59 | $16.87
29015 | S | Application of body cast | 0059 | 1.74 | $84.37 | $29.59 | $16.87
29020 | S | Application of body cast | 0059 | 1.74 | $84.37 | $29.59 | $16.87
29025 | S | Application of body cast | 0059 | 1.74 | $84.37 | $29.59 | $16.87
29035 | S | Application of body cast | 0059 | 1.74 | $84.37 | $29.59 | $16.87
29040 | S | Application of body cast | 0059 | 1.74 | $84.37 | $29.59 | $16.87
29044 | S | Application of body cast | 0059 | 1.74 | $84.37 | $29.59 | $16.87
29046 | S | Application of body cast | 0059 | 1.74 | $84.37 | $29.59 | $16.87
29049 | S | Application of figure eight | 0059 | 1.74 | $84.37 | $29.59 | $16.87
29055 | S | Application of shoulder cast | 0059 | 1.74 | $84.37 | $29.59 | $16.87
29058 | S | Application of shoulder cast | 0059 | 1.74 | $84.37 | $29.59 | $16.87
29065 | S | Application of long arm cast | 0059 | 1.74 | $84.37 | $29.59 | $16.87
29075 | S | Application of forearm cast | 0059 | 1.74 | $84.37 | $29.59 | $16.87
29085 | S | Apply hand/wrist cast | 0059 | 1.74 | $84.37 | $29.59 | $16.87
29105 | S | Apply long arm splint | 0059 | 1.74 | $84.37 | $29.59 | $16.87
29125 | S | Apply forearm splint | 0059 | 1.74 | $84.37 | $29.59 | $16.87
29126 | S | Apply forearm splint | 0059 | 1.74 | $84.37 | $29.59 | $16.87
29130 | S | Application of finger splint | 0059 | 1.74 | $84.37 | $29.59 | $16.87
29131 | S | Application of finger splint | 0059 | 1.74 | $84.37 | $29.59 | $16.87
29200 | S | Strapping of chest | 0059 | 1.74 | $84.37 | $29.59 | $16.87
29220 | S | Strapping of low back | 0059 | 1.74 | $84.37 | $29.59 | $16.87
29240 | S | Strapping of shoulder | 0059 | 1.74 | $84.37 | $29.59 | $16.87
29260 | S | Strapping of elbow or wrist | 0059 | 1.74 | $84.37 | $29.59 | $16.87
29280 | S | Strapping of hand or finger | 0059 | 1.74 | $84.37 | $29.59 | $16.87
29305 | S | Application of hip cast | 0059 | 1.74 | $84.37 | $29.59 | $16.87
29325 | S | Application of hip casts | 0059 | 1.74 | $84.37 | $29.59 | $16.87
29345 | S | Application of long leg cast | 0059 | 1.74 | $84.37 | $29.59 | $16.87
29355 | S | Application of long leg cast | 0059 | 1.74 | $84.37 | $29.59 | $16.87
29358 | S | Apply long leg cast brace | 0059 | 1.74 | $84.37 | $29.59 | $16.87
29365 | S | Application of long leg cast | 0059 | 1.74 | $84.37 | $29.59 | $16.87
29405 | S | Apply short leg cast | 0059 | 1.74 | $84.37 | $29.59 | $16.87
29425 | S | Apply short leg cast | 0059 | 1.74 | $84.37 | $29.59 | $16.87
29435 | S | Apply short leg cast | 0059 | 1.74 | $84.37 | $29.59 | $16.87
29440 | S | Addition of walker to cast | 0059 | 1.74 | $84.37 | $29.59 | $16.87
29445 | S | Apply rigid leg cast | 0059 | 1.74 | $84.37 | $29.59 | $16.87
29450 | S | Application of leg cast | 0059 | 1.74 | $84.37 | $29.59 | $16.87
29505 | S | Application, long leg splint | 0058 | 1.09 | $52.85 | $19.27 | $10.57
29515 | S | Application lower leg splint | 0058 | 1.09 | $52.85 | $19.27 | $10.57
29520 | S | Strapping of hip | 0058 | 1.09 | $52.85 | $19.27 | $10.57
29530 | S | Strapping of knee | 0058 | 1.09 | $52.85 | $19.27 | $10.57
29540 | S | Strapping of ankle | 0058 | 1.09 | $52.85 | $19.27 | $10.57
29550 | S | Strapping of toes | 0058 | 1.09 | $52.85 | $19.27 | $10.57
29580 | S | Application of paste boot | 0058 | 1.09 | $52.85 | $19.27 | $10.57
29590 | S | Application of foot splint | 0058 | 1.09 | $52.85 | $19.27 | $10.57
29700 | S | Removal/revision of cast | 0058 | 1.09 | $52.85 | $19.27 | $10.57
29705 | S | Removal/revision of cast | 0058 | 1.09 | $52.85 | $19.27 | $10.57
29710 | S | Removal/revision of cast | 0058 | 1.09 | $52.85 | $19.27 | $10.57
29715 | S | Removal/revision of cast | 0058 | 1.09 | $52.85 | $19.27 | $10.57
29720 | S | Repair of body cast | 0058 | 1.09 | $52.85 | $19.27 | $10.57
29730 | S | Windowing of cast | 0058 | 1.09 | $52.85 | $19.27 | $10.57
29740 | S | Wedging of cast | 0058 | 1.09 | $52.85 | $19.27 | $10.57
29750 | S | Wedging of clubfoot cast | 0058 | 1.09 | $52.85 | $19.27 | $10.57
29799 | S | Casting/strapping procedure | 0058 | 1.09 | $52.85 | $19.27 | $10.57
29800 | T | Jaw arthroscopy/surgery | 0041 | 24.57 | $1,191.33 | $592.08 | $238.27
29804 | T | Jaw arthroscopy/surgery | 0041 | 24.57 | $1,191.33 | $592.08 | $238.27
29815 | T | Shoulder arthroscopy | 0041 | 24.57 | $1,191.33 | $592.08 | $238.27
29819 | T | Shoulder arthroscopy/surgery | 0041 | 24.57 | $1,191.33 | $592.08 | $238.27
29820 | T | Shoulder arthroscopy/surgery | 0041 | 24.57 | $1,191.33 | $592.08 | $238.27
29821 | T | Shoulder arthroscopy/surgery | 0041 | 24.57 | $1,191.33 | $592.08 | $238.27
29822 | T | Shoulder arthroscopy/surgery | 0041 | 24.57 | $1,191.33 | $592.08 | $238.27
29823 | T | Shoulder arthroscopy/surgery | 0041 | 24.57 | $1,191.33 | $592.08 | $238.27
29825 | T | Shoulder arthroscopy/surgery | 0041 | 24.57 | $1,191.33 | $592.08 | $238.27
29826 | T | Shoulder arthroscopy/surgery | 0041 | 24.57 | $1,191.33 | $592.08 | $238.27
29830 | T | Elbow arthroscopy | 0041 | 24.57 | $1,191.33 | $592.08 | $238.27
29834 | T | Elbow arthroscopy/surgery | 0041 | 24.57 | $1,191.33 | $592.08 | $238.27
29835 | T | Elbow arthroscopy/surgery | 0041 | 24.57 | $1,191.33 | $592.08 | $238.27
29836 | T | Elbow arthroscopy/surgery | 0041 | 24.57 | $1,191.33 | $592.08 | $238.27
29837 | T | Elbow arthroscopy/surgery | 0041 | 24.57 | $1,191.33 | $592.08 | $238.27
29838 | T | Elbow arthroscopy/surgery | 0041 | 24.57 | $1,191.33 | $592.08 | $238.27
29840 | T | Wrist arthroscopy | 0041 | 24.57 | $1,191.33 | $592.08 | $238.27
29843 | T | Wrist arthroscopy/surgery | 0041 | 24.57 | $1,191.33 | $592.08 | $238.27
29844 | T | Wrist arthroscopy/surgery | 0041 | 24.57 | $1,191.33 | $592.08 | $238.27
29845 | T | Wrist arthroscopy/surgery | 0041 | 24.57 | $1,191.33 | $592.08 | $238.27
29846 | T | Wrist arthroscopy/surgery | 0041 | 24.57 | $1,191.33 | $592.08 | $238.27
29847 | T | Wrist arthroscopy/surgery | 0041 | 24.57 | $1,191.33 | $592.08 | $238.27
29848 | T | Wrist endoscopy/surgery | 0041 | 24.57 | $1,191.33 | $592.08 | $238.27
29850 | T | Knee arthroscopy/surgery | 0042 | 29.22 | $1,416.79 | $804.74 | $283.36
29851 | T | Knee arthroscopy/surgery | 0042 | 29.22 | $1,416.79 | $804.74 | $283.36
29855 | T | Tibial arthroscopy/surgery | 0042 | 29.22 | $1,416.79 | $804.74 | $283.36
29856 | T | Tibial arthroscopy/surgery | 0042 | 29.22 | $1,416.79 | $804.74 | $283.36
29860 | T | Hip arthroscopy, dx | 0041 | 24.57 | $1,191.33 | $592.08 | $238.27
29861 | T | Hip arthroscopy/surgery | 0041 | 24.57 | $1,191.33 | $592.08 | $238.27
29862 | T | Hip arthroscopy/surgery | 0041 | 24.57 | $1,191.33 | $592.08 | $238.27
29863 | T | Hip arthroscopy/surgery | 0041 | 24.57 | $1,191.33 | $592.08 | $238.27
29870 | T | Knee arthroscopy, dx | 0041 | 24.57 | $1,191.33 | $592.08 | $238.27
29871 | T | Knee arthroscopy/drainage | 0041 | 24.57 | $1,191.33 | $592.08 | $238.27
29874 | T | Knee arthroscopy/surgery | 0041 | 24.57 | $1,191.33 | $592.08 | $238.27
29875 | T | Knee arthroscopy/surgery | 0041 | 24.57 | $1,191.33 | $592.08 | $238.27
29876 | T | Knee arthroscopy/surgery | 0041 | 24.57 | $1,191.33 | $592.08 | $238.27
29877 | T | Knee arthroscopy/surgery | 0041 | 24.57 | $1,191.33 | $592.08 | $238.27
29879 | T | Knee arthroscopy/surgery | 0041 | 24.57 | $1,191.33 | $592.08 | $238.27
29880 | T | Knee arthroscopy/surgery | 0041 | 24.57 | $1,191.33 | $592.08 | $238.27
29881 | T | Knee arthroscopy/surgery | 0041 | 24.57 | $1,191.33 | $592.08 | $238.27
29882 | T | Knee arthroscopy/surgery | 0041 | 24.57 | $1,191.33 | $592.08 | $238.27
29883 | T | Knee arthroscopy/surgery | 0041 | 24.57 | $1,191.33 | $592.08 | $238.27
29884 | T | Knee arthroscopy/surgery | 0041 | 24.57 | $1,191.33 | $592.08 | $238.27
29885 | T | Knee arthroscopy/surgery | 0042 | 29.22 | $1,416.79 | $804.74 | $283.36
29886 | T | Knee arthroscopy/surgery | 0041 | 24.57 | $1,191.33 | $592.08 | $238.27
29887 | T | Knee arthroscopy/surgery | 0041 | 24.57 | $1,191.33 | $592.08 | $238.27
29888 | T | Knee arthroscopy/surgery | 0042 | 29.22 | $1,416.79 | $804.74 | $283.36
29889 | T | Knee arthroscopy/surgery | 0042 | 29.22 | $1,416.79 | $804.74 | $283.36
29891 | T | Ankle arthroscopy/surgery | 0041 | 24.57 | $1,191.33 | $592.08 | $238.27
29892 | T | Ankle arthroscopy/surgery | 0042 | 29.22 | $1,416.79 | $804.74 | $283.36
29893 | T | Scope, plantar fasciotomy | 0055 | 15.47 | $750.10 | $355.34 | $150.02
29894 | T | Ankle arthroscopy/surgery | 0041 | 24.57 | $1,191.33 | $592.08 | $238.27
29895 | T | Ankle arthroscopy/surgery | 0041 | 24.57 | $1,191.33 | $592.08 | $238.27
29897 | T | Ankle arthroscopy/surgery | 0041 | 24.57 | $1,191.33 | $592.08 | $238.27
29898 | T | Ankle arthroscopy/surgery | 0041 | 24.57 | $1,191.33 | $592.08 | $238.27
29909 | T | Arthroscopy of joint | 0041 | 24.57 | $1,191.33 | $592.08 | $238.27
30000 | T | Drainage of nose lesion | 0251 | 1.68 | $81.46 | $27.99 | $16.29
30020 | T | Drainage of nose lesion | 0251 | 1.68 | $81.46 | $27.99 | $16.29
30100 | T | Intranasal biopsy | 0252 | 5.18 | $251.16 | $114.24 | $50.23
30110 | T | Removal of nose polyp(s) | 0253 | 12.02 | $582.81 | $284.00 | $116.56
30115 | T | Removal of nose polyp(s) | 0253 | 12.02 | $582.81 | $284.00 | $116.56
30117 | T | Removal of intranasal lesion | 0253 | 12.02 | $582.81 | $284.00 | $116.56
30118 | T | Removal of intranasal lesion | 0254 | 12.45 | $603.66 | $272.41 | $120.73
30120 | T | Revision of nose | 0253 | 12.02 | $582.81 | $284.00 | $116.56
30124 | T | Removal of nose lesion | 0252 | 5.18 | $251.16 | $114.24 | $50.23
30125 | T | Removal of nose lesion | 0256 | 25.40 | $1,231.57 | $623.05 | $246.31
30130 | T | Removal of turbinate bones | 0253 | 12.02 | $582.81 | $284.00 | $116.56
30140 | T | Removal of turbinate bones | 0253 | 12.02 | $582.81 | $284.00 | $116.56
30150 | T | Partial removal of nose | 0256 | 25.40 | $1,231.57 | $623.05 | $246.31
30160 | T | Removal of nose | 0256 | 25.40 | $1,231.57 | $623.05 | $246.31
30200 | T | Injection treatment of nose | 0253 | 12.02 | $582.81 | $284.00 | $116.56
30210 | T | Nasal sinus therapy | 0252 | 5.18 | $251.16 | $114.24 | $50.23
30220 | T | Insert nasal septal button | 0252 | 5.18 | $251.16 | $114.24 | $50.23
30300 | T | Remove nasal foreign body | 0251 | 1.68 | $81.46 | $27.99 | $16.29
30310 | T | Remove nasal foreign body | 0253 | 12.02 | $582.81 | $284.00 | $116.56
30320 | T | Remove nasal foreign body | 0253 | 12.02 | $582.81 | $284.00 | $116.56
30400 | T | Reconstruction of nose | 0256 | 25.40 | $1,231.57 | $623.05 | $246.31
30410 | T | Reconstruction of nose | 0256 | 25.40 | $1,231.57 | $623.05 | $246.31
30420 | T | Reconstruction of nose | 0256 | 25.40 | $1,231.57 | $623.05 | $246.31
30430 | T | Revision of nose | 0254 | 12.45 | $603.66 | $272.41 | $120.73
30435 | T | Revision of nose | 0256 | 25.40 | $1,231.57 | $623.05 | $246.31
30450 | T | Revision of nose | 0256 | 25.40 | $1,231.57 | $623.05 | $246.31
30460 | T | Revision of nose | 0256 | 25.40 | $1,231.57 | $623.05 | $246.31
30462 | T | Revision of nose | 0256 | 25.40 | $1,231.57 | $623.05 | $246.31
30520 | T | Repair of nasal septum | 0256 | 25.40 | $1,231.57 | $623.05 | $246.31
30540 | T | Repair nasal defect | 0256 | 25.40 | $1,231.57 | $623.05 | $246.31
30545 | T | Repair nasal defect | 0256 | 25.40 | $1,231.57 | $623.05 | $246.31
30560 | T | Release of nasal adhesions | 0251 | 1.68 | $81.46 | $27.99 | $16.29
30580 | T | Repair upper jaw fistula | 0256 | 25.40 | $1,231.57 | $623.05 | $246.31
30600 | T | Repair mouth/nose fistula | 0256 | 25.40 | $1,231.57 | $623.05 | $246.31
30620 | T | Intranasal reconstruction | 0256 | 25.40 | $1,231.57 | $623.05 | $246.31
30630 | T | Repair nasal septum defect | 0254 | 12.45 | $603.66 | $272.41 | $120.73
30801 | T | Cauterization, inner nose | 0252 | 5.18 | $251.16 | $114.24 | $50.23
30802 | T | Cauterization, inner nose | 0253 | 12.02 | $582.81 | $284.00 | $116.56
30901 | T | Control of nosebleed | 0250 | 2.21 | $107.16 | $38.54 | $21.43
30903 | T | Control of nosebleed | 0250 | 2.21 | $107.16 | $38.54 | $21.43
30905 | T | Control of nosebleed | 0250 | 2.21 | $107.16 | $38.54 | $21.43
30906 | T | Repeat control of nosebleed | 0250 | 2.21 | $107.16 | $38.54 | $21.43
30915 | T | Ligation, nasal sinus artery | 0091 | 14.79 | $717.12 | $348.23 | $143.42
30920 | T | Ligation, upper jaw artery | 0092 | 20.21 | $979.92 | $505.37 | $195.98
30930 | T | Therapy, fracture of nose | 0253 | 12.02 | $582.81 | $284.00 | $116.56
30999 | T | Nasal surgery procedure | 0251 | 1.68 | $81.46 | $27.99 | $16.29
31000 | T | Irrigation, maxillary sinus | 0251 | 1.68 | $81.46 | $27.99 | $16.29
31002 | T | Irrigation, sphenoid sinus | 0252 | 5.18 | $251.16 | $114.24 | $50.23
31020 | T | Exploration, maxillary sinus | 0253 | 12.02 | $582.81 | $284.00 | $116.56
31030 | T | Exploration, maxillary sinus | 0256 | 25.40 | $1,231.57 | $623.05 | $246.31
31032 | T | Explore sinus, remove polyps | 0256 | 25.40 | $1,231.57 | $623.05 | $246.31
31040 | T | Exploration behind upper jaw | 0254 | 12.45 | $603.66 | $272.41 | $120.73
31050 | T | Exploration, sphenoid sinus | 0256 | 25.40 | $1,231.57 | $623.05 | $246.31
31051 | T | Sphenoid sinus surgery | 0256 | 25.40 | $1,231.57 | $623.05 | $246.31
31070 | T | Exploration of frontal sinus | 0254 | 12.45 | $603.66 | $272.41 | $120.73
31075 | T | Exploration of frontal sinus | 0256 | 25.40 | $1,231.57 | $623.05 | $246.31
31080 | T | Removal of frontal sinus | 0256 | 25.40 | $1,231.57 | $623.05 | $246.31
31081 | T | Removal of frontal sinus | 0256 | 25.40 | $1,231.57 | $623.05 | $246.31
31084 | T | Removal of frontal sinus | 0256 | 25.40 | $1,231.57 | $623.05 | $246.31
31085 | T | Removal of frontal sinus | 0256 | 25.40 | $1,231.57 | $623.05 | $246.31
31086 | T | Removal of frontal sinus | 0256 | 25.40 | $1,231.57 | $623.05 | $246.31
31087 | T | Removal of frontal sinus | 0256 | 25.40 | $1,231.57 | $623.05 | $246.31
31090 | T | Exploration of sinuses | 0256 | 25.40 | $1,231.57 | $623.05 | $246.31
31200 | T | Removal of ethmoid sinus | 0256 | 25.40 | $1,231.57 | $623.05 | $246.31
31201 | T | Removal of ethmoid sinus | 0256 | 25.40 | $1,231.57 | $623.05 | $246.31
31205 | T | Removal of ethmoid sinus | 0256 | 25.40 | $1,231.57 | $623.05 | $246.31
31225 | C | Removal of upper jaw |  |  |  |  |
31230 | C | Removal of upper jaw |  |  |  |  |
31231 | T | Nasal endoscopy, dx | 0071 | 0.55 | $26.67 | $14.22 | $5.33
31233 | T | Nasal/sinus endoscopy, dx | 0072 | 1.26 | $61.09 | $41.52 | $12.22
31235 | T | Nasal/sinus endoscopy, dx | 0074 | 13.61 | $659.91 | $347.54 | $131.98
31237 | T | Nasal/sinus endoscopy, surg | 0074 | 13.61 | $659.91 | $347.54 | $131.98
31238 | T | Nasal/sinus endoscopy, surg | 0074 | 13.61 | $659.91 | $347.54 | $131.98
31239 | T | Nasal/sinus endoscopy, surg | 0075 | 18.55 | $899.44 | $467.29 | $179.89
31240 | T | Nasal/sinus endoscopy, surg | 0074 | 13.61 | $659.91 | $347.54 | $131.98
31254 | T | Revision of ethmoid sinus | 0075 | 18.55 | $899.44 | $467.29 | $179.89
31255 | T | Removal of ethmoid sinus | 0075 | 18.55 | $899.44 | $467.29 | $179.89
31256 | T | Exploration maxillary sinus | 0075 | 18.55 | $899.44 | $467.29 | $179.89
31267 | T | Endoscopy, maxillary sinus | 0075 | 18.55 | $899.44 | $467.29 | $179.89
31276 | T | Sinus endoscopy, surgical | 0075 | 18.55 | $899.44 | $467.29 | $179.89
31287 | T | Nasal/sinus endoscopy, surg | 0075 | 18.55 | $899.44 | $467.29 | $179.89
31288 | T | Nasal/sinus endoscopy, surg | 0075 | 18.55 | $899.44 | $467.29 | $179.89
31290 | C | Nasal/sinus endoscopy, surg |  |  |  |  |
31291 | C | Nasal/sinus endoscopy, surg |  |  |  |  |
31292 | C | Nasal/sinus endoscopy, surg |  |  |  |  |
31293 | C | Nasal/sinus endoscopy, surg |  |  |  |  |
31294 | C | Nasal/sinus endoscopy, surg |  |  |  |  |
31299 | T | Sinus surgery procedure | 0252 | 5.18 | $251.16 | $114.24 | $50.23
31300 | T | Removal of larynx lesion | 0256 | 25.40 | $1,231.57 | $623.05 | $246.31
31320 | T | Diagnostic incision, larynx | 0256 | 25.40 | $1,231.57 | $623.05 | $246.31
31360 | C | Removal of larynx |  |  |  |  |
31365 | C | Removal of larynx |  |  |  |  |
31367 | C | Partial removal of larynx |  |  |  |  |
31368 | C | Partial removal of larynx |  |  |  |  |
31370 | C | Partial removal of larynx |  |  |  |  |
31375 | T | Partial removal of larynx | 0256 | 25.40 | $1,231.57 | $623.05 | $246.31
31380 | C | Partial removal of larynx |  |  |  |  |
31382 | C | Partial removal of larynx |  |  |  |  |
31390 | C | Removal of larynx & pharynx |  |  |  |  |
31395 | C | Reconstruct larynx & pharynx |  |  |  |  |
31400 | T | Revision of larynx | 0256 | 25.40 | $1,231.57 | $623.05 | $246.31
31420 | T | Removal of epiglottis | 0256 | 25.40 | $1,231.57 | $623.05 | $246.31
31500 | S | Insert emergency airway | 0094 | 4.51 | $218.68 | $105.29 | $43.74
31502 | T | Change of windpipe airway | 0121 | 2.36 | $114.43 | $52.53 | $22.89
31505 | T | Diagnostic laryngoscopy | 0072 | 1.26 | $61.09 | $41.52 | $12.22
31510 | T | Laryngoscopy with biopsy | 0074 | 13.61 | $659.91 | $347.54 | $131.98
31511 | T | Remove foreign body, larynx | 0072 | 1.26 | $61.09 | $41.52 | $12.22
31512 | T | Removal of larynx lesion | 0074 | 13.61 | $659.91 | $347.54 | $131.98
31513 | T | Injection into vocal cord | 0073 | 4.11 | $199.28 | $91.07 | $39.86
31515 | T | Laryngoscopy for aspiration | 0074 | 13.61 | $659.91 | $347.54 | $131.98
31520 | T | Diagnostic laryngoscopy | 0072 | 1.26 | $61.09 | $41.52 | $12.22
31525 | T | Diagnostic laryngoscopy | 0074 | 13.61 | $659.91 | $347.54 | $131.98
31526 | T | Diagnostic laryngoscopy | 0074 | 13.61 | $659.91 | $347.54 | $131.98
31527 | T | Laryngoscopy for treatment | 0075 | 18.55 | $899.44 | $467.29 | $179.89
31528 | T | Laryngoscopy and dilatation | 0074 | 13.61 | $659.91 | $347.54 | $131.98
31529 | T | Laryngoscopy and dilatation | 0074 | 13.61 | $659.91 | $347.54 | $131.98
31530 | T | Operative laryngoscopy | 0075 | 18.55 | $899.44 | $467.29 | $179.89
31531 | T | Operative laryngoscopy | 0075 | 18.55 | $899.44 | $467.29 | $179.89
31535 | T | Operative laryngoscopy | 0075 | 18.55 | $899.44 | $467.29 | $179.89
31536 | T | Operative laryngoscopy | 0075 | 18.55 | $899.44 | $467.29 | $179.89
31540 | T | Operative laryngoscopy | 0075 | 18.55 | $899.44 | $467.29 | $179.89
31541 | T | Operative laryngoscopy | 0075 | 18.55 | $899.44 | $467.29 | $179.89
31560 | T | Operative laryngoscopy | 0075 | 18.55 | $899.44 | $467.29 | $179.89
31561 | T | Operative laryngoscopy | 0075 | 18.55 | $899.44 | $467.29 | $179.89
31570 | T | Laryngoscopy with injection | 0075 | 18.55 | $899.44 | $467.29 | $179.89
31571 | T | Laryngoscopy with injection | 0075 | 18.55 | $899.44 | $467.29 | $179.89
31575 | T | Diagnostic laryngoscopy | 0071 | 0.55 | $26.67 | $14.22 | $5.33
31576 | T | Laryngoscopy with biopsy | 0074 | 13.61 | $659.91 | $347.54 | $131.98
31577 | T | Remove foreign body, larynx | 0073 | 4.11 | $199.28 | $91.07 | $39.86
31578 | T | Removal of larynx lesion | 0074 | 13.61 | $659.91 | $347.54 | $131.98
31579 | T | Diagnostic laryngoscopy | 0073 | 4.11 | $199.28 | $91.07 | $39.86
31580 | T | Revision of larynx | 0256 | 25.40 | $1,231.57 | $623.05 | $246.31
31582 | C | Revision of larynx |  |  |  |  |
31584 | C | Treat larynx fracture |  |  |  |  |
31585 | T | Treat larynx fracture | 0253 | 12.02 | $582.81 | $284.00 | $116.56
31586 | T | Treat larynx fracture | 0256 | 25.40 | $1,231.57 | $623.05 | $246.31
31587 | C | Revision of larynx |  |  |  |  |
31588 | T | Revision of larynx | 0256 | 25.40 | $1,231.57 | $623.05 | $246.31
31590 | T | Reinnervate larynx | 0256 | 25.40 | $1,231.57 | $623.05 | $246.31
31595 | T | Larynx nerve surgery | 0256 | 25.40 | $1,231.57 | $623.05 | $246.31
31599 | T | Larynx surgery procedure | 0253 | 12.02 | $582.81 | $284.00 | $116.56
31600 | T | Incision of windpipe | 0254 | 12.45 | $603.66 | $272.41 | $120.73
31601 | T | Incision of windpipe | 0254 | 12.45 | $603.66 | $272.41 | $120.73
31603 | T | Incision of windpipe | 0254 | 12.45 | $603.66 | $272.41 | $120.73
31605 | T | Incision of windpipe | 0254 | 12.45 | $603.66 | $272.41 | $120.73
31610 | T | Incision of windpipe | 0254 | 12.45 | $603.66 | $272.41 | $120.73
31611 | T | Surgery/speech prosthesis | 0254 | 12.45 | $603.66 | $272.41 | $120.73
31612 | T | Puncture/clear windpipe | 0253 | 12.02 | $582.81 | $284.00 | $116.56
31613 | T | Repair windpipe opening | 0254 | 12.45 | $603.66 | $272.41 | $120.73
31614 | T | Repair windpipe opening | 0256 | 25.40 | $1,231.57 | $623.05 | $246.31
31615 | T | Visualization of windpipe | 0076 | 8.06 | $390.81 | $197.05 | $78.16
31622 | T | Dx bronchoscope/wash | 0076 | 8.06 | $390.81 | $197.05 | $78.16
31623 | T | Dx bronchoscope/brush | 0076 | 8.06 | $390.81 | $197.05 | $78.16
31624 | T | Dx bronchoscope/lavage | 0076 | 8.06 | $390.81 | $197.05 | $78.16
31625 | T | Bronchoscopy with biopsy | 0076 | 8.06 | $390.81 | $197.05 | $78.16
31628 | T | Bronchoscopy with biopsy | 0076 | 8.06 | $390.81 | $197.05 | $78.16
31629 | T | Bronchoscopy with biopsy | 0076 | 8.06 | $390.81 | $197.05 | $78.16
31630 | T | Bronchoscopy with repair | 0076 | 8.06 | $390.81 | $197.05 | $78.16
31631 | T | Bronchoscopy with dilation | 0076 | 8.06 | $390.81 | $197.05 | $78.16
31635 | T | Remove foreign body, airway | 0076 | 8.06 | $390.81 | $197.05 | $78.16
31640 | T | Bronchoscopy & remove lesion | 0076 | 8.06 | $390.81 | $197.05 | $78.16
31641 | T | Bronchoscopy, treat blockage | 0076 | 8.06 | $390.81 | $197.05 | $78.16
31643 | T | Diag bronchoscope/catheter | 0076 | 8.06 | $390.81 | $197.05 | $78.16
31645 | T | Bronchoscopy, clear airways | 0076 | 8.06 | $390.81 | $197.05 | $78.16
31646 | T | Bronchoscopy, reclear airway | 0076 | 8.06 | $390.81 | $197.05 | $78.16
31656 | T | Bronchoscopy, inj for x-ray | 0076 | 8.06 | $390.81 | $197.05 | $78.16
31700 | T | Insertion of airway catheter | 0072 | 1.26 | $61.09 | $41.52 | $12.22
31708 | N | Instill airway contrast dye |  |  |  |  |
31710 | N | Insertion of airway catheter |  |  |  |  |
31715 | N | Injection for bronchus x-ray |  |  |  |  |
31717 | T | Bronchial brush biopsy | 0073 | 4.11 | $199.28 | $91.07 | $39.86
31720 | T | Clearance of airways | 0072 | 1.26 | $61.09 | $41.52 | $12.22
31725 | C | Clearance of airways |  |  |  |  |
31730 | T | Intro, windpipe wire/tube | 0073 | 4.11 | $199.28 | $91.07 | $39.86
31750 | T | Repair of windpipe | 0256 | 25.40 | $1,231.57 | $623.05 | $246.31
31755 | T | Repair of windpipe | 0256 | 25.40 | $1,231.57 | $623.05 | $246.31
31760 | C | Repair of windpipe |  |  |  |  |
31766 | C | Reconstruction of windpipe |  |  |  |  |
31770 | C | Repair/graft of bronchus |  |  |  |  |
31775 | C | Reconstruct bronchus |  |  |  |  |
31780 | C | Reconstruct windpipe |  |  |  |  |
31781 | C | Reconstruct windpipe |  |  |  |  |
31785 | C | Remove windpipe lesion |  |  |  |  |
31786 | C | Remove windpipe lesion |  |  |  |  |
31800 | C | Repair of windpipe injury |  |  |  |  |
31805 | C | Repair of windpipe injury |  |  |  |  |
31820 | T | Closure of windpipe lesion | 0253 | 12.02 | $582.81 | $284.00 | $116.56
31825 | T | Repair of windpipe defect | 0254 | 12.45 | $603.66 | $272.41 | $120.73
31830 | T | Revise windpipe scar | 0254 | 12.45 | $603.66 | $272.41 | $120.73
31899 | T | Airways surgical procedure | 0076 | 8.06 | $390.81 | $197.05 | $78.16
32000 | T | Drainage of chest | 0070 | 3.64 | $176.49 | $79.60 | $35.30
32002 | T | Treatment of collapsed lung | 0070 | 3.64 | $176.49 | $79.60 | $35.30
32005 | T | Treat lung lining chemically | 0070 | 3.64 | $176.49 | $79.60 | $35.30
32020 | T | Insertion of chest tube | 0070 | 3.64 | $176.49 | $79.60 | $35.30
32035 | C | Exploration of chest |  |  |  |  |
32036 | C | Exploration of chest |  |  |  |  |
32095 | C | Biopsy through chest wall |  |  |  |  |
32100 | C | Exploration/biopsy of chest |  |  |  |  |
32110 | C | Explore/repair chest |  |  |  |  |
32120 | C | Re-exploration of chest |  |  |  |  |
32124 | C | Explore chest free adhesions |  |  |  |  |
32140 | C | Removal of lung lesion(s) |  |  |  |  |
32141 | C | Remove/treat lung lesions |  |  |  |  |
32150 | C | Removal of lung lesion(s) |  |  |  |  |
32151 | C | Remove lung foreign body |  |  |  |  |
32160 | C | Open chest heart massage |  |  |  |  |
32200 | C | Drain, open, lung lesion |  |  |  |  |
32201 | C | Drain, percut, lung lesion |  |  |  |  |
32215 | C | Treat chest lining |  |  |  |  |
32220 | C | Release of lung |  |  |  |  |
32225 | C | Partial release of lung |  |  |  |  |
32310 | C | Removal of chest lining |  |  |  |  |
32320 | C | Free/remove chest lining |  |  |  |  |
32400 | T | Needle biopsy chest lining | 0005 | 5.41 | $262.32 | $119.75 | $52.46
32402 | C | Open biopsy chest lining |  |  |  |  |
32405 | T | Biopsy, lung or mediastinum | 0005 | 5.41 | $262.32 | $119.75 | $52.46
32420 | T | Puncture/clear lung | 0070 | 3.64 | $176.49 | $79.60 | $35.30
32440 | C | Removal of lung |  |  |  |  |
32442 | C | Sleeve pneumonectomy |  |  |  |  |
32445 | C | Removal of lung |  |  |  |  |
32480 | C | Partial removal of lung |  |  |  |  |
32482 | C | Bilobectomy |  |  |  |  |
32484 | C | Segmentectomy |  |  |  |  |
32486 | C | Sleeve lobectomy |  |  |  |  |
32488 | C | Completion pneumonectomy |  |  |  |  |
32491 | C | Lung volume reduction |  |  |  |  |
32500 | C | Partial removal of lung |  |  |  |  |
32501 | C | Repair bronchus add-on |  |  |  |  |
32520 | C | Remove lung & revise chest |  |  |  |  |
32522 | C | Remove lung & revise chest |  |  |  |  |
32525 | C | Remove lung & revise chest |  |  |  |  |
32540 | C | Removal of lung lesion |  |  |  |  |
32601 | T | Thoracoscopy, diagnostic | 0076 | 8.06 | $390.81 | $197.05 | $78.16
32602 | T | Thoracoscopy, diagnostic | 0076 | 8.06 | $390.81 | $197.05 | $78.16
32603 | T | Thoracoscopy, diagnostic | 0076 | 8.06 | $390.81 | $197.05 | $78.16
32604 | T | Thoracoscopy, diagnostic | 0076 | 8.06 | $390.81 | $197.05 | $78.16
32605 | T | Thoracoscopy, diagnostic | 0076 | 8.06 | $390.81 | $197.05 | $78.16
32606 | T | Thoracoscopy, diagnostic | 0076 | 8.06 | $390.81 | $197.05 | $78.16
32650 | C | Thoracoscopy, surgical |  |  |  |  |
32651 | C | Thoracoscopy, surgical |  |  |  |  |
32652 | C | Thoracoscopy, surgical |  |  |  |  |
32653 | C | Thoracoscopy, surgical |  |  |  |  |
32654 | C | Thoracoscopy, surgical |  |  |  |  |
32655 | C | Thoracoscopy, surgical |  |  |  |  |
32656 | C | Thoracoscopy, surgical |  |  |  |  |
32657 | C | Thoracoscopy, surgical |  |  |  |  |
32658 | C | Thoracoscopy, surgical |  |  |  |  |
32659 | C | Thoracoscopy, surgical |  |  |  |  |
32660 | C | Thoracoscopy, surgical |  |  |  |  |
32661 | C | Thoracoscopy, surgical |  |  |  |  |
32662 | C | Thoracoscopy, surgical |  |  |  |  |
32663 | C | Thoracoscopy, surgical |  |  |  |  |
32664 | C | Thoracoscopy, surgical |  |  |  |  |
32665 | C | Thoracoscopy, surgical |  |  |  |  |
32800 | C | Repair lung hernia |  |  |  |  |
32810 | C | Close chest after drainage |  |  |  |  |
32815 | C | Close bronchial fistula |  |  |  |  |
32820 | C | Reconstruct injured chest |  |  |  |  |
32850 | C | Donor pneumonectomy |  |  |  |  |
32851 | C | Lung transplant, single |  |  |  |  |
32852 | C | Lung transplant with bypass |  |  |  |  |
32853 | C | Lung transplant, double |  |  |  |  |
32854 | C | Lung transplant with bypass |  |  |  |  |
32900 | C | Removal of rib(s) |  |  |  |  |
32905 | C | Revise & repair chest wall |  |  |  |  |
32906 | C | Revise & repair chest wall |  |  |  |  |
32940 | C | Revision of lung |  |  |  |  |
32960 | T | Therapeutic pneumothorax | 0070 | 3.64 | $176.49 | $79.60 | $35.30
32997 | C | Total lung lavage |  |  |  |  |
32999 | T | Chest surgery procedure | 0070 | 3.64 | $176.49 | $79.60 | $35.30
33010 | T | Drainage of heart sac | 0070 | 3.64 | $176.49 | $79.60 | $35.30
33011 | T | Repeat drainage of heart sac | 0070 | 3.64 | $176.49 | $79.60 | $35.30
33015 | C | Incision of heart sac |  |  |  |  |
33020 | C | Incision of heart sac |  |  |  |  |
33025 | C | Incision of heart sac |  |  |  |  |
33030 | C | Partial removal of heart sac |  |  |  |  |
33031 | C | Partial removal of heart sac |  |  |  |  |
33050 | C | Removal of heart sac lesion |  |  |  |  |
33120 | C | Removal of heart lesion |  |  |  |  |
33130 | C | Removal of heart lesion |  |  |  |  |
33140 | C | Heart revascularize (tmr) |  |  |  |  |
33200 | C | Insertion of heart pacemaker |  |  |  |  |
33201 | C | Insertion of heart pacemaker |  |  |  |  |
33206 | T | Insertion of heart pacemaker | 0090 | 20.96 | $1,016.29 | $573.04 | $203.26
33207 | T | Insertion of heart pacemaker | 0090 | 20.96 | $1,016.29 | $573.04 | $203.26
33208 | T | Insertion of heart pacemaker | 0090 | 20.96 | $1,016.29 | $573.04 | $203.26
33210 | T | Insertion of heart electrode | 0089 | 6.49 | $314.68 | $130.07 | $62.94
33211 | T | Insertion of heart electrode | 0089 | 6.49 | $314.68 | $130.07 | $62.94
33212 | T | Insertion of pulse generator | 0090 | 20.96 | $1,016.29 | $573.04 | $203.26
33213 | T | Insertion of pulse generator | 0090 | 20.96 | $1,016.29 | $573.04 | $203.26
33214 | T | Upgrade of pacemaker system | 0090 | 20.96 | $1,016.29 | $573.04 | $203.26
33216 | T | Revise eltrd pacing-defib | 0090 | 20.96 | $1,016.29 | $573.04 | $203.26
33217 | T | Revise eltrd pacing-defib | 0090 | 20.96 | $1,016.29 | $573.04 | $203.26
33218 | T | Revise eltrd pacing-defib | 0090 | 20.96 | $1,016.29 | $573.04 | $203.26
33220 | T | Revise eltrd pacing-defib | 0089 | 6.49 | $314.68 | $130.07 | $62.94
33222 | T | Revise pocket, pacemaker | 0026 | 12.11 | $587.18 | $277.92 | $117.44
33223 | T | Revise pocket, pacing-defib | 0026 | 12.11 | $587.18 | $277.92 | $117.44
33233 | T | Removal of pacemaker system | 0090 | 20.96 | $1,016.29 | $573.04 | $203.26
33234 | T | Removal of pacemaker system | 0090 | 20.96 | $1,016.29 | $573.04 | $203.26
33235 | T | Removal pacemaker electrode | 0090 | 20.96 | $1,016.29 | $573.04 | $203.26
33236 | C | Remove electrode/thoracotomy |  |  |  |  |
33237 | C | Remove electrode/thoracotomy |  |  |  |  |
33238 | C | Remove electrode/thoracotomy |  |  |  |  |
33240 | T | Insert pulse generator | 0090 | 20.96 | $1,016.29 | $573.04 | $203.26
33241 | T | Remove pulse generator | 0089 | 6.49 | $314.68 | $130.07 | $62.94
33243 | C | Remove eltrd/thoracotomy |  |  |  |  |
33244 | T | Remove eltrd, transven | 0090 | 20.96 | $1,016.29 | $573.04 | $203.26
33245 | C | Insert epic eltrd pace-defib |  |  |  |  |
33246 | C | Insert epic eltrd/generator |  |  |  |  |
33249 | T | Eltrd/insert pace-defib | 0090 | 20.96 | $1,016.29 | $573.04 | $203.26
33250 | C | Ablate heart dysrhythm focus |  |  |  |  |
33251 | C | Ablate heart dysrhythm focus |  |  |  |  |
33253 | C | Reconstruct atria |  |  |  |  |
33261 | C | Ablate heart dysrhythm focus |  |  |  |  |
33282 | C | Implant pat-active ht record |  |  |  |  |
33284 | C | Remove pat-active ht record |  |  |  |  |
33300 | C | Repair of heart wound |  |  |  |  |
33305 | C | Repair of heart wound |  |  |  |  |
33310 | C | Exploratory heart surgery |  |  |  |  |
33315 | C | Exploratory heart surgery |  |  |  |  |
33320 | C | Repair major blood vessel(s) |  |  |  |  |
33321 | C | Repair major vessel |  |  |  |  |
33322 | C | Repair major blood vessel(s) |  |  |  |  |
33330 | C | Insert major vessel graft |  |  |  |  |
33332 | C | Insert major vessel graft |  |  |  |  |
33335 | C | Insert major vessel graft |  |  |  |  |
33400 | C | Repair of aortic valve |  |  |  |  |
33401 | C | Valvuloplasty, open |  |  |  |  |
33403 | C | Valvuloplasty, w/cp bypass |  |  |  |  |
33404 | C | Prepare heart-aorta conduit |  |  |  |  |
33405 | C | Replacement of aortic valve |  |  |  |  |
33406 | C | Replacement of aortic valve |  |  |  |  |
33410 | C | Replacement of aortic valve |  |  |  |  |
33411 | C | Replacement of aortic valve |  |  |  |  |
33412 | C | Replacement of aortic valve |  |  |  |  |
33413 | C | Replacement of aortic valve |  |  |  |  |
33414 | C | Repair of aortic valve |  |  |  |  |
33415 | C | Revision, subvalvular tissue |  |  |  |  |
33416 | C | Revise ventricle muscle |  |  |  |  |
33417 | C | Repair of aortic valve |  |  |  |  |
33420 | C | Revision of mitral valve |  |  |  |  |
33422 | C | Revision of mitral valve |  |  |  |  |
33425 | C | Repair of mitral valve |  |  |  |  |
33426 | C | Repair of mitral valve |  |  |  |  |
33427 | C | Repair of mitral valve |  |  |  |  |
33430 | C | Replacement of mitral valve |  |  |  |  |
33460 | C | Revision of tricuspid valve |  |  |  |  |
33463 | C | Valvuloplasty, tricuspid |  |  |  |  |
33464 | C | Valvuloplasty, tricuspid |  |  |  |  |
33465 | C | Replace tricuspid valve |  |  |  |  |
33468 | C | Revision of tricuspid valve |  |  |  |  |
33470 | C | Revision of pulmonary valve |  |  |  |  |
33471 | C | Valvotomy, pulmonary valve |  |  |  |  |
33472 | C | Revision of pulmonary valve |  |  |  |  |
33474 | C | Revision of pulmonary valve |  |  |  |  |
33475 | C | Replacement, pulmonary valve |  |  |  |  |
33476 | C | Revision of heart chamber |  |  |  |  |
33478 | C | Revision of heart chamber |  |  |  |  |
33496 | C | Repair, prosth valve clot |  |  |  |  |
33500 | C | Repair heart vessel fistula |  |  |  |  |
33501 | C | Repair heart vessel fistula |  |  |  |  |
33502 | C | Coronary artery correction |  |  |  |  |
33503 | C | Coronary artery graft |  |  |  |  |
33504 | C | Coronary artery graft |  |  |  |  |
33505 | C | Repair artery w/tunnel |  |  |  |  |
33506 | C | Repair artery, translocation |  |  |  |  |
33510 | C | CABG, vein, single |  |  |  |  |
33511 | C | CABG, vein, two |  |  |  |  |
33512 | C | CABG, vein, three |  |  |  |  |
33513 | C | CABG, vein, four |  |  |  |  |
33514 | C | CABG, vein, five |  |  |  |  |
33516 | C | Cabg, vein, six or more |  |  |  |  |
33517 | C | CABG, artery-vein, single |  |  |  |  |
33518 | C | CABG, artery-vein, two |  |  |  |  |
33519 | C | CABG, artery-vein, three |  |  |  |  |
33521 | C | CABG, artery-vein, four |  |  |  |  |
33522 | C | CABG, artery-vein, five |  |  |  |  |
33523 | C | Cabg, art-vein, six or more |  |  |  |  |
33530 | C | Coronary artery, bypass/reop |  |  |  |  |
33533 | C | CABG, arterial, single |  |  |  |  |
33534 | C | CABG, arterial, two |  |  |  |  |
33535 | C | CABG, arterial, three |  |  |  |  |
33536 | C | Cabg, arterial, four or more |  |  |  |  |
33542 | C | Removal of heart lesion |  |  |  |  |
33545 | C | Repair of heart damage |  |  |  |  |
33572 | C | Open coronary endarterectomy |  |  |  |  |
33600 | C | Closure of valve |  |  |  |  |
33602 | C | Closure of valve |  |  |  |  |
33606 | C | Anastomosis/artery-aorta |  |  |  |  |
33608 | C | Repair anomaly w/conduit |  |  |  |  |
33610 | C | Repair by enlargement |  |  |  |  |
33611 | C | Repair double ventricle |  |  |  |  |
33612 | C | Repair double ventricle |  |  |  |  |
33615 | C | Repair, simple fontan |  |  |  |  |
33617 | C | Repair, modified fontan |  |  |  |  |
33619 | C | Repair single ventricle |  |  |  |  |
33641 | C | Repair heart septum defect |  |  |  |  |
33645 | C | Revision of heart veins |  |  |  |  |
33647 | C | Repair heart septum defects |  |  |  |  |
33660 | C | Repair of heart defects |  |  |  |  |
33665 | C | Repair of heart defects |  |  |  |  |
33670 | C | Repair of heart chambers |  |  |  |  |
33681 | C | Repair heart septum defect |  |  |  |  |
33684 | C | Repair heart septum defect |  |  |  |  |
33688 | C | Repair heart septum defect |  |  |  |  |
33690 | C | Reinforce pulmonary artery |  |  |  |  |
33692 | C | Repair of heart defects |  |  |  |  |
33694 | C | Repair of heart defects |  |  |  |  |
33697 | C | Repair of heart defects |  |  |  |  |
33702 | C | Repair of heart defects |  |  |  |  |
33710 | C | Repair of heart defects |  |  |  |  |
33720 | C | Repair of heart defect |  |  |  |  |
33722 | C | Repair of heart defect |  |  |  |  |
33730 | C | Repair heart-vein defect(s) |  |  |  |  |
33732 | C | Repair heart-vein defect |  |  |  |  |
33735 | C | Revision of heart chamber |  |  |  |  |
33736 | C | Revision of heart chamber |  |  |  |  |
33737 | C | Revision of heart chamber |  |  |  |  |
33750 | C | Major vessel shunt |  |  |  |  |
33755 | C | Major vessel shunt |  |  |  |  |
33762 | C | Major vessel shunt |  |  |  |  |
33764 | C | Major vessel shunt & graft |  |  |  |  |
33766 | C | Major vessel shunt |  |  |  |  |
33767 | C | Major vessel shunt |  |  |  |  |
33770 | C | Repair great vessels defect |  |  |  |  |
33771 | C | Repair great vessels defect |  |  |  |  |
33774 | C | Repair great vessels defect |  |  |  |  |
33775 | C | Repair great vessels defect |  |  |  |  |
33776 | C | Repair great vessels defect |  |  |  |  |
33777 | C | Repair great vessels defect |  |  |  |  |
33778 | C | Repair great vessels defect |  |  |  |  |
33779 | C | Repair great vessels defect |  |  |  |  |
33780 | C | Repair great vessels defect |  |  |  |  |
33781 | C | Repair great vessels defect |  |  |  |  |
33786 | C | Repair arterial trunk |  |  |  |  |
33788 | C | Revision of pulmonary artery |  |  |  |  |
33800 | C | Aortic suspension |  |  |  |  |
33802 | C | Repair vessel defect |  |  |  |  |
33803 | C | Repair vessel defect |  |  |  |  |
33813 | C | Repair septal defect |  |  |  |  |
33814 | C | Repair septal defect |  |  |  |  |
33820 | C | Revise major vessel |  |  |  |  |
33822 | C | Revise major vessel |  |  |  |  |
33824 | C | Revise major vessel |  |  |  |  |
33840 | C | Remove aorta constriction |  |  |  |  |
33845 | C | Remove aorta constriction |  |  |  |  |
33851 | C | Remove aorta constriction |  |  |  |  |
33852 | C | Repair septal defect |  |  |  |  |
33853 | C | Repair septal defect |  |  |  |  |
33860 | C | Ascending aortic graft |  |  |  |  |
33861 | C | Ascending aortic graft |  |  |  |  |
33863 | C | Ascending aortic graft |  |  |  |  |
33870 | C | Transverse aortic arch graft |  |  |  |  |
33875 | C | Thoracic aortic graft |  |  |  |  |
33877 | C | Thoracoabdominal graft |  |  |  |  |
33910 | C | Remove lung artery emboli |  |  |  |  |
33915 | C | Remove lung artery emboli |  |  |  |  |
33916 | C | Surgery of great vessel |  |  |  |  |
33917 | C | Repair pulmonary artery |  |  |  |  |
33918 | C | Repair pulmonary atresia |  |  |  |  |
33919 | C | Repair pulmonary atresia |  |  |  |  |
33920 | C | Repair pulmonary atresia |  |  |  |  |
33922 | C | Transect pulmonary artery |  |  |  |  |
33924 | C | Remove pulmonary shunt |  |  |  |  |
33930 | C | Removal of donor heart/lung |  |  |  |  |
33935 | C | Transplantation, heart/lung |  |  |  |  |
33940 | C | Removal of donor heart |  |  |  |  |
33945 | C | Transplantation of heart |  |  |  |  |
33960 | C | External circulation assist |  |  |  |  |
33961 | C | External circulation assist |  |  |  |  |
33968 | C | Remove aortic assist device |  |  |  |  |
33970 | C | Aortic circulation assist |  |  |  |  |
33971 | C | Aortic circulation assist |  |  |  |  |
33973 | C | Insert balloon device |  |  |  |  |
33974 | C | Remove intra-aortic balloon |  |  |  |  |
33975 | C | Implant ventricular device |  |  |  |  |
33976 | C | Implant ventricular device |  |  |  |  |
33977 | C | Remove ventricular device |  |  |  |  |
33978 | C | Remove ventricular device |  |  |  |  |
33999 | T | Cardiac surgery procedure | 0070 | 3.64 | $176.49 | $79.60 | $35.30
34001 | C | Removal of artery clot |  |  |  |  |
34051 | C | Removal of artery clot |  |  |  |  |
34101 | T | Removal of artery clot | 0088 | 26.49 | $1,284.42 | $678.68 | $256.88
34111 | T | Removal of arm artery clot | 0088 | 26.49 | $1,284.42 | $678.68 | $256.88
34151 | C | Removal of artery clot |  |  |  |  |
34201 | T | Removal of artery clot | 0088 | 26.49 | $1,284.42 | $678.68 | $256.88
34203 | T | Removal of leg artery clot | 0088 | 26.49 | $1,284.42 | $678.68 | $256.88
34401 | C | Removal of vein clot |  |  |  |  |
34421 | C | Removal of vein clot |  |  |  |  |
34451 | C | Removal of vein clot |  |  |  |  |
34471 | T | Removal of vein clot | 0088 | 26.49 | $1,284.42 | $678.68 | $256.88
34490 | T | Removal of vein clot | 0088 | 26.49 | $1,284.42 | $678.68 | $256.88
34501 | T | Repair valve, femoral vein | 0088 | 26.49 | $1,284.42 | $678.68 | $256.88
34502 | C | Reconstruct vena cava |  |  |  |  |
34510 | T | Transposition of vein valve | 0088 | 26.49 | $1,284.42 | $678.68 | $256.88
34520 | T | Cross-over vein graft | 0088 | 26.49 | $1,284.42 | $678.68 | $256.88
34530 | T | Leg vein fusion | 0088 | 26.49 | $1,284.42 | $678.68 | $256.88
35001 | C | Repair defect of artery |  |  |  |  |
35002 | C | Repair artery rupture, neck |  |  |  |  |
35005 | C | Repair defect of artery |  |  |  |  |
35011 | C | Repair defect of artery |  |  |  |  |
35013 | C | Repair artery rupture, arm |  |  |  |  |
35021 | C | Repair defect of artery |  |  |  |  |
35022 | C | Repair artery rupture, chest |  |  |  |  |
35045 | C | Repair defect of arm artery |  |  |  |  |
35081 | C | Repair defect of artery |  |  |  |  |
35082 | C | Repair artery rupture, aorta |  |  |  |  |
35091 | C | Repair defect of artery |  |  |  |  |
35092 | C | Repair artery rupture, aorta |  |  |  |  |
35102 | C | Repair defect of artery |  |  |  |  |
35103 | C | Repair artery rupture, groin |  |  |  |  |
35111 | C | Repair defect of artery |  |  |  |  |
35112 | C | Repair artery rupture, spleen |  |  |  |  |
35121 | C | Repair defect of artery |  |  |  |  |
35122 | C | Repair artery rupture, belly |  |  |  |  |
35131 | C | Repair defect of artery |  |  |  |  |
35132 | C | Repair artery rupture, groin |  |  |  |  |
35141 | C | Repair defect of artery |  |  |  |  |
35142 | C | Repair artery rupture, thigh |  |  |  |  |
35151 | C | Repair defect of artery |  |  |  |  |
35152 | C | Repair artery rupture, knee |  |  |  |  |
35161 | C | Repair defect of artery |  |  |  |  |
35162 | C | Repair artery rupture |  |  |  |  |
35180 | T | Repair blood vessel lesion | 0081 | 19.36 | $938.71 | $434.25 | $187.74
35182 | C | Repair blood vessel lesion |  |  |  |  |
35184 | T | Repair blood vessel lesion | 0081 | 19.36 | $938.71 | $434.25 | $187.74
35188 | T | Repair blood vessel lesion | 0088 | 26.49 | $1,284.42 | $678.68 | $256.88
35189 | C | Repair blood vessel lesion |  |  |  |  |
35190 | T | Repair blood vessel lesion | 0081 | 19.36 | $938.71 | $434.25 | $187.74
35201 | T | Repair blood vessel lesion | 0081 | 19.36 | $938.71 | $434.25 | $187.74
35206 | T | Repair blood vessel lesion | 0081 | 19.36 | $938.71 | $434.25 | $187.74
35207 | T | Repair blood vessel lesion | 0088 | 26.49 | $1,284.42 | $678.68 | $256.88
35211 | C | Repair blood vessel lesion |  |  |  |  |
35216 | C | Repair blood vessel lesion |  |  |  |  |
35221 | C | Repair blood vessel lesion |  |  |  |  |
35226 | T | Repair blood vessel lesion | 0081 | 19.36 | $938.71 | $434.25 | $187.74
35231 | T | Repair blood vessel lesion | 0081 | 19.36 | $938.71 | $434.25 | $187.74
35236 | T | Repair blood vessel lesion | 0081 | 19.36 | $938.71 | $434.25 | $187.74
35241 | C | Repair blood vessel lesion |  |  |  |  |
35246 | C | Repair blood vessel lesion |  |  |  |  |
35251 | C | Repair blood vessel lesion |  |  |  |  |
35256 | T | Repair blood vessel lesion | 0081 | 19.36 | $938.71 | $434.25 | $187.74
35261 | T | Repair blood vessel lesion | 0081 | 19.36 | $938.71 | $434.25 | $187.74
35266 | T | Repair blood vessel lesion | 0081 | 19.36 | $938.71 | $434.25 | $187.74
35271 | C | Repair blood vessel lesion |  |  |  |  |
35276 | C | Repair blood vessel lesion |  |  |  |  |
35281 | C | Repair blood vessel lesion |  |  |  |  |
35286 | T | Repair blood vessel lesion | 0081 | 19.36 | $938.71 | $434.25 | $187.74
35301 | C | Rechanneling of artery |  |  |  |  |
35311 | C | Rechanneling of artery |  |  |  |  |
35321 | T | Rechanneling of artery | 0081 | 19.36 | $938.71 | $434.25 | $187.74
35331 | C | Rechanneling of artery |  |  |  |  |
35341 | C | Rechanneling of artery |  |  |  |  |
35351 | C | Rechanneling of artery |  |  |  |  |
35355 | C | Rechanneling of artery |  |  |  |  |
35361 | C | Rechanneling of artery |  |  |  |  |
35363 | C | Rechanneling of artery |  |  |  |  |
35371 | C | Rechanneling of artery |  |  |  |  |
35372 | C | Rechanneling of artery |  |  |  |  |
35381 | C | Rechanneling of artery |  |  |  |  |
35390 | C | Reoperation, carotid add-on |  |  |  |  |
35400 | C | Angioscopy |  |  |  |  |
35450 | C | Repair arterial blockage |  |  |  |  |
35452 | C | Repair arterial blockage |  |  |  |  |
35454 | C | Repair arterial blockage |  |  |  |  |
35456 | C | Repair arterial blockage |  |  |  |  |
35458 | C | Repair arterial blockage |  |  |  |  |
35459 | T | Repair arterial blockage | 0081 | 19.36 | $938.71 | $434.25 | $187.74
35460 | T | Repair venous blockage | 0081 | 19.36 | $938.71 | $434.25 | $187.74
35470 | T | Repair arterial blockage | 0081 | 19.36 | $938.71 | $434.25 | $187.74
35471 | T | Repair arterial blockage | 0081 | 19.36 | $938.71 | $434.25 | $187.74
35472 | T | Repair arterial blockage | 0081 | 19.36 | $938.71 | $434.25 | $187.74
35473 | T | Repair arterial blockage | 0081 | 19.36 | $938.71 | $434.25 | $187.74
35474 | T | Repair arterial blockage | 0081 | 19.36 | $938.71 | $434.25 | $187.74
35475 | T | Repair arterial blockage | 0081 | 19.36 | $938.71 | $434.25 | $187.74
35476 | T | Repair venous blockage | 0081 | 19.36 | $938.71 | $434.25 | $187.74
35480 | C | Atherectomy, open |  |  |  |  |
35481 | C | Atherectomy, open |  |  |  |  |
35482 | C | Atherectomy, open |  |  |  |  |
35483 | C | Atherectomy, open |  |  |  |  |
35484 | T | Atherectomy, open | 0081 | 19.36 | $938.71 | $434.25 | $187.74
35485 | T | Atherectomy, open | 0081 | 19.36 | $938.71 | $434.25 | $187.74
35490 | T | Atherectomy, percutaneous | 0081 | 19.36 | $938.71 | $434.25 | $187.74
35491 | T | Atherectomy, percutaneous | 0081 | 19.36 | $938.71 | $434.25 | $187.74
35492 | T | Atherectomy, percutaneous | 0081 | 19.36 | $938.71 | $434.25 | $187.74
35493 | T | Atherectomy, percutaneous | 0081 | 19.36 | $938.71 | $434.25 | $187.74
35494 | T | Atherectomy, percutaneous | 0081 | 19.36 | $938.71 | $434.25 | $187.74
35495 | T | Atherectomy, percutaneous | 0081 | 19.36 | $938.71 | $434.25 | $187.74
35500 | T | Harvest vein for bypass | 0081 | 19.36 | $938.71 | $434.25 | $187.74
35501 | C | Artery bypass graft |  |  |  |  |
35506 | C | Artery bypass graft |  |  |  |  |
35507 | C | Artery bypass graft |  |  |  |  |
35508 | C | Artery bypass graft |  |  |  |  |
35509 | C | Artery bypass graft |  |  |  |  |
35511 | C | Artery bypass graft |  |  |  |  |
35515 | C | Artery bypass graft |  |  |  |  |
35516 | C | Artery bypass graft |  |  |  |  |
35518 | C | Artery bypass graft |  |  |  |  |
35521 | C | Artery bypass graft |  |  |  |  |
35526 | C | Artery bypass graft |  |  |  |  |
35531 | C | Artery bypass graft |  |  |  |  |
35533 | C | Artery bypass graft |  |  |  |  |
35536 | C | Artery bypass graft |  |  |  |  |
35541 | C | Artery bypass graft |  |  |  |  |
35546 | C | Artery bypass graft |  |  |  |  |
35548 | C | Artery bypass graft |  |  |  |  |
35549 | C | Artery bypass graft |  |  |  |  |
35551 | C | Artery bypass graft |  |  |  |  |
35556 | C | Artery bypass graft |  |  |  |  |
35558 | C | Artery bypass graft |  |  |  |  |
35560 | C | Artery bypass graft |  |  |  |  |
35563 | C | Artery bypass graft |  |  |  |  |
35565 | C | Artery bypass graft |  |  |  |  |
35566 | C | Artery bypass graft |  |  |  |  |
35571 | C | Artery bypass graft |  |  |  |  |
35582 | C | Vein bypass graft |  |  |  |  |
35583 | C | Vein bypass graft |  |  |  |  |
35585 | C | Vein bypass graft |  |  |  |  |
35587 | C | Vein bypass graft |  |  |  |  |
35601 | C | Artery bypass graft |  |  |  |  |
35606 | C | Artery bypass graft |  |  |  |  |
35612 | C | Artery bypass graft |  |  |  |  |
35616 | C | Artery bypass graft |  |  |  |  |
35621 | C | Artery bypass graft |  |  |  |  |
35623 | C | Bypass graft, not vein |  |  |  |  |
35626 | C | Artery bypass graft |  |  |  |  |
35631 | C | Artery bypass graft |  |  |  |  |
35636 | C | Artery bypass graft |  |  |  |  |
35641 | C | Artery bypass graft |  |  |  |  |
35642 | C | Artery bypass graft |  |  |  |  |
35645 | C | Artery bypass graft |  |  |  |  |
35646 | C | Artery bypass graft |  |  |  |  |
35650 | C | Artery bypass graft |  |  |  |  |
35651 | C | Artery bypass graft |  |  |  |  |
35654 | C | Artery bypass graft |  |  |  |  |
35656 | C | Artery bypass graft |  |  |  |  |
35661 | C | Artery bypass graft |  |  |  |  |
35663 | C | Artery bypass graft |  |  |  |  |
35665 | C | Artery bypass graft |  |  |  |  |
35666 | C | Artery bypass graft |  |  |  |  |
35671 | C | Artery bypass graft |  |  |  |  |
35681 | C | Composite bypass graft |  |  |  |  |
35682 | C | Composite bypass graft |  |  |  |  |
35683 | C | Composite bypass graft |  |  |  |  |
35691 | C | Arterial transposition |  |  |  |  |
35693 | C | Arterial transposition |  |  |  |  |
35694 | C | Arterial transposition |  |  |  |  |
35695 | C | Arterial transposition |  |  |  |  |
35700 | C | Reoperation, bypass graft |  |  |  |  |
35701 | C | Exploration, carotid artery |  |  |  |  |
35721 | C | Exploration, femoral artery |  |  |  |  |
35741 | C | Exploration popliteal artery |  |  |  |  |
35761 | C | Exploration of artery/vein |  |  |  |  |
35800 | C | Explore neck vessels |  |  |  |  |
35820 | C | Explore chest vessels |  |  |  |  |
35840 | C | Explore abdominal vessels |  |  |  |  |
35860 | C | Explore limb vessels |  |  |  |  |
35870 | C | Repair vessel graft defect |  |  |  |  |
35875 | T | Removal of clot in graft | 0088 | 26.49 | $1,284.42 | $678.68 | $256.88
35876 | T | Removal of clot in graft | 0088 | 26.49 | $1,284.42 | $678.68 | $256.88
35879 | T | Revise graft w/vein | 0088 | 26.49 | $1,284.42 | $678.68 | $256.88
35881 | T | Revise graft w/vein | 0088 | 26.49 | $1,284.42 | $678.68 | $256.88
35901 | C | Excision, graft, neck |  |  |  |  |
35903 | C | Excision, graft, extremity |  |  |  |  |
35905 | C | Excision, graft, thorax |  |  |  |  |
35907 | C | Excision, graft, abdomen |  |  |  |  |
36000 | N | Place needle in vein |  |  |  |  |
36005 | N | Injection, venography |  |  |  |  |
36010 | N | Place catheter in vein |  |  |  |  |
36011 | N | Place catheter in vein |  |  |  |  |
36012 | N | Place catheter in vein |  |  |  |  |
36013 | N | Place catheter in artery |  |  |  |  |
36014 | N | Place catheter in artery |  |  |  |  |
36015 | N | Place catheter in artery |  |  |  |  |
36100 | N | Establish access to artery |  |  |  |  |
36120 | N | Establish access to artery |  |  |  |  |
36140 | N | Establish access to artery |  |  |  |  |
36145 | N | Artery to vein shunt |  |  |  |  |
36160 | N | Establish access to aorta |  |  |  |  |
36200 | N | Place catheter in aorta |  |  |  |  |
36215 | N | Place catheter in artery |  |  |  |  |
36216 | N | Place catheter in artery |  |  |  |  |
36217 | N | Place catheter in artery |  |  |  |  |
36218 | N | Place catheter in artery |  |  |  |  |
36245 | N | Place catheter in artery |  |  |  |  |
36246 | N | Place catheter in artery |  |  |  |  |
36247 | N | Place catheter in artery |  |  |  |  |
36248 | N | Place catheter in artery |  |  |  |  |
36260 | T | Insertion of infusion pump | 0093 | 17.95 | $870.34 | $422.33 | $174.07
36261 | T | Revision of infusion pump | 0089 | 6.49 | $314.68 | $130.07 | $62.94
36262 | T | Removal of infusion pump | 0089 | 6.49 | $314.68 | $130.07 | $62.94
36299 | T | Vessel injection procedure | 0089 | 6.49 | $314.68 | $130.07 | $62.94
36400 | N | Drawing blood |  |  |  |  |
36405 | N | Drawing blood |  |  |  |  |
36406 | N | Drawing blood |  |  |  |  |
36410 | N | Drawing blood |  |  |  |  |
36415 | E | Drawing blood |  |  |  |  |
36420 | T | Establish access to vein | 0032 | 5.40 | $261.83 | $119.52 | $52.37
36425 | T | Establish access to vein | 0032 | 5.40 | $261.83 | $119.52 | $52.37
36430 | S | Blood transfusion service | 0110 | 5.83 | $282.68 | $122.73 | $56.54
36440 | S | Blood transfusion service | 0110 | 5.83 | $282.68 | $122.73 | $56.54
36450 | S | Exchange transfusion service | 0110 | 5.83 | $282.68 | $122.73 | $56.54
36455 | S | Exchange transfusion service | 0110 | 5.83 | $282.68 | $122.73 | $56.54
36460 | S | Transfusion service, fetal | 0110 | 5.83 | $282.68 | $122.73 | $56.54
36468 | T | Injection(s), spider veins | 0098 | 1.19 | $57.70 | $20.88 | $11.54
36469 | T | Injection(s), spider veins | 0098 | 1.19 | $57.70 | $20.88 | $11.54
36470 | T | Injection therapy of vein | 0098 | 1.19 | $57.70 | $20.88 | $11.54
36471 | T | Injection therapy of veins | 0098 | 1.19 | $57.70 | $20.88 | $11.54
36481 | N | Insertion of catheter, vein |  |  |  |  |
36488 | T | Insertion of catheter, vein | 0032 | 5.40 | $261.83 | $119.52 | $52.37
36489 | T | Insertion of catheter, vein | 0032 | 5.40 | $261.83 | $119.52 | $52.37
36490 | T | Insertion of catheter, vein | 0032 | 5.40 | $261.83 | $119.52 | $52.37
36491 | T | Insertion of catheter, vein | 0032 | 5.40 | $261.83 | $119.52 | $52.37
36493 | T | Repositioning of cvc | 0032 | 5.40 | $261.83 | $119.52 | $52.37
36500 | N | Insertion of catheter, vein |  |  |  |  |
36510 | C | Insertion of catheter, vein |  |  |  |  |
36520 | S | Plasma and/or cell exchange | 0111 | 14.17 | $687.06 | $300.74 | $137.41
36521 | S | Apheresis w/adsorp/reinfuse | 0111 | 14.17 | $687.06 | $300.74 | $137.41
36522 | S | Photopheresis | 0112 | 39.60 | $1,920.09 | $663.65 | $384.02
36530 | T | Insertion of infusion pump | 0093 | 17.95 | $870.34 | $422.33 | $174.07
36531 | T | Revision of infusion pump | 0089 | 6.49 | $314.68 | $130.07 | $62.94
36532 | T | Removal of infusion pump | 0089 | 6.49 | $314.68 | $130.07 | $62.94
36533 | T | Insertion of access device | 0093 | 17.95 | $870.34 | $422.33 | $174.07
36534 | T | Revision of access device | 0089 | 6.49 | $314.68 | $130.07 | $62.94
36535 | T | Removal of access device | 0089 | 6.49 | $314.68 | $130.07 | $62.94
36550 | C | Declot vascular device |  |  |  |  |
36600 | N | Withdrawal of arterial blood |  |  |  |  |
36620 | N | Insertion catheter, artery |  |  |  |  |
36625 | N | Insertion catheter, artery |  |  |  |  |
36640 | T | Insertion catheter, artery | 0032 | 5.40 | $261.83 | $119.52 | $52.37
36660 | C | Insertion catheter, artery |  |  |  |  |
36680 | S | Insert needle, bone cavity | 0120 | 1.66 | $80.49 | $42.67 | $16.10
36800 | T | Insertion of cannula | 0093 | 17.95 | $870.34 | $422.33 | $174.07
36810 | T | Insertion of cannula | 0093 | 17.95 | $870.34 | $422.33 | $174.07
36815 | T | Insertion of cannula | 0093 | 17.95 | $870.34 | $422.33 | $174.07
36819 | T | Av fusion by basilic vein | 0093 | 17.95 | $870.34 | $422.33 | $174.07
36821 | T | Av fusion direct any site | 0088 | 26.49 | $1,284.42 | $678.68 | $256.88
36822 | C | Insertion of cannula(s) |  |  |  |  |
36823 | C | Insertion of cannula(s) |  |  |  |  |
36825 | T | Artery-vein graft | 0088 | 26.49 | $1,284.42 | $678.68 | $256.88
36830 | T | Artery-vein graft | 0088 | 26.49 | $1,284.42 | $678.68 | $256.88
36831 | T | Av fistula excision | 0088 | 26.49 | $1,284.42 | $678.68 | $256.88
36832 | T | Av fistula revision | 0088 | 26.49 | $1,284.42 | $678.68 | $256.88
36833 | T | Av fistula revision | 0088 | 26.49 | $1,284.42 | $678.68 | $256.88
36834 | C | Repair A-V aneurysm |  |  |  |  |
36835 | T | Artery to vein shunt | 0093 | 17.95 | $870.34 | $422.33 | $174.07
36860 | T | External cannula declotting | 0090 | 20.96 | $1,016.29 | $573.04 | $203.26
36861 | T | Cannula declotting | 0090 | 20.96 | $1,016.29 | $573.04 | $203.26
37140 | C | Revision of circulation |  |  |  |  |
37145 | C | Revision of circulation |  |  |  |  |
37160 | C | Revision of circulation |  |  |  |  |
37180 | C | Revision of circulation |  |  |  |  |
37181 | C | Splice spleen/kidney veins |  |  |  |  |
37195 | C | Thrombolytic therapy, stroke |  |  |  |  |
37200 | C | Transcatheter biopsy |  |  |  |  |
37201 | C | Transcatheter therapy infuse |  |  |  |  |
37202 | C | Transcatheter therapy infuse |  |  |  |  |
37203 | T | Transcatheter retrieval | 0089 | 6.49 | $314.68 | $130.07 | $62.94
37204 | T | Transcatheter occlusion | 0081 | 19.36 | $938.71 | $434.25 | $187.74
37205 | T | Transcatheter stent | 0081 | 19.36 | $938.71 | $434.25 | $187.74
37206 | T | Transcatheter stent add-on | 0081 | 19.36 | $938.71 | $434.25 | $187.74
37207 | T | Transcatheter stent | 0081 | 19.36 | $938.71 | $434.25 | $187.74
37208 | T | Transcatheter stent add-on | 0081 | 19.36 | $938.71 | $434.25 | $187.74
37209 | T | Exchange arterial catheter | 0081 | 19.36 | $938.71 | $434.25 | $187.74
37250 | T | Iv us first vessel add-on | 0081 | 19.36 | $938.71 | $434.25 | $187.74
37251 | T | Iv us each add vessel add-on | 0081 | 19.36 | $938.71 | $434.25 | $187.74
37565 | T | Ligation of neck vein | 0081 | 19.36 | $938.71 | $434.25 | $187.74
37600 | T | Ligation of neck artery | 0081 | 19.36 | $938.71 | $434.25 | $187.74
37605 | T | Ligation of neck artery | 0091 | 14.79 | $717.12 | $348.23 | $143.42
37606 | T | Ligation of neck artery | 0091 | 14.79 | $717.12 | $348.23 | $143.42
37607 | T | Ligation of a-v fistula | 0092 | 20.21 | $979.92 | $505.37 | $195.98
37609 | T | Temporal artery procedure | 0020 | 6.51 | $315.65 | $130.53 | $63.13
37615 | T | Ligation of neck artery | 0091 | 14.79 | $717.12 | $348.23 | $143.42
37616 | C | Ligation of chest artery |  |  |  |  |
37617 | C | Ligation of abdomen artery |  |  |  |  |
37618 | E | Ligation of extremity artery |  |  |  |  |
37620 | C | Revision of major vein |  |  |  |  |
37650 | T | Revision of major vein | 0091 | 14.79 | $717.12 | $348.23 | $143.42
37660 | C | Revision of major vein |  |  |  |  |
37700 | T | Revise leg vein | 0091 | 14.79 | $717.12 | $348.23 | $143.42
37720 | T | Removal of leg vein | 0092 | 20.21 | $979.92 | $505.37 | $195.98
37730 | T | Removal of leg veins | 0092 | 20.21 | $979.92 | $505.37 | $195.98
37735 | T | Removal of leg veins/lesion | 0092 | 20.21 | $979.92 | $505.37 | $195.98
37760 | T | Revision of leg veins | 0091 | 14.79 | $717.12 | $348.23 | $143.42
37780 | T | Revision of leg vein | 0091 | 14.79 | $717.12 | $348.23 | $143.42
37785 | T | Revise secondary varicosity | 0091 | 14.79 | $717.12 | $348.23 | $143.42
37788 | C | Revascularization, penis |  |  |  |  |
37790 | T | Penile venous occlusion | 0181 | 32.37 | $1,569.53 | $906.36 | $313.91
37799 | T | Vascular surgery procedure | 0020 | 6.51 | $315.65 | $130.53 | $63.13
38100 | C | Removal of spleen, total |  |  |  |  |
38101 | C | Removal of spleen, partial |  |  |  |  |
38102 | C | Removal of spleen, total |  |  |  |  |
38115 | C | Repair of ruptured spleen |  |  |  |  |
38120 | T | Laparoscopy, splenectomy | 0131 | 41.81 | $2,027.24 | $1,089.88 | $405.45
38129 | T | Laparoscope proc, spleen | 0130 | 25.36 | $1,229.63 | $659.53 | $245.93
38200 | N | Injection for spleen x-ray |  |  |  |  |
38230 | S | Bone marrow collection | 0109 | 4.13 | $200.25 | $40.05 | $40.05
38231 | S | Stem cell collection | 0111 | 14.17 | $687.06 | $300.74 | $137.41
38240 | S | Bone marrow/stem transplant | 0109 | 4.13 | $200.25 | $40.05 | $40.05
38241 | S | Bone marrow/stem transplant | 0109 | 4.13 | $200.25 | $40.05 | $40.05
38300 | T | Drainage, lymph node lesion | 0008 | 6.15 | $298.20 | $113.67 | $59.64
38305 | T | Drainage, lymph node lesion | 0008 | 6.15 | $298.20 | $113.67 | $59.64
38308 | T | Incision of lymph channels | 0113 | 13.89 | $673.49 | $326.55 | $134.70
38380 | C | Thoracic duct procedure |  |  |  |  |
38381 | C | Thoracic duct procedure |  |  |  |  |
38382 | C | Thoracic duct procedure |  |  |  |  |
38500 | T | Biopsy/removal, lymph nodes | 0113 | 13.89 | $673.49 | $326.55 | $134.70
38505 | T | Needle biopsy, lymph nodes | 0005 | 5.41 | $262.32 | $119.75 | $52.46
38510 | T | Biopsy/removal, lymph nodes | 0113 | 13.89 | $673.49 | $326.55 | $134.70
38520 | T | Biopsy/removal, lymph nodes | 0113 | 13.89 | $673.49 | $326.55 | $134.70
38525 | T | Biopsy/removal, lymph nodes | 0113 | 13.89 | $673.49 | $326.55 | $134.70
38530 | T | Biopsy/removal, lymph nodes | 0113 | 13.89 | $673.49 | $326.55 | $134.70
38542 | T | Explore deep node(s), neck | 0114 | 19.56 | $948.41 | $493.78 | $189.68
38550 | T | Removal, neck/armpit lesion | 0113 | 13.89 | $673.49 | $326.55 | $134.70
38555 | T | Removal, neck/armpit lesion | 0114 | 19.56 | $948.41 | $493.78 | $189.68
38562 | C | Removal, pelvic lymph nodes |  |  |  |  |
38564 | C | Removal, abdomen lymph nodes |  |  |  |  |
38570 | T | Laparoscopy, lymph node biop | 0131 | 41.81 | $2,027.24 | $1,089.88 | $405.45
38571 | T | Laparoscopy, lymphadenectomy | 0132 | 48.91 | $2,371.50 | $1,239.22 | $474.30
38572 | T | Laparoscopy, lymphadenectomy | 0131 | 41.81 | $2,027.24 | $1,089.88 | $405.45
38589 | T | Laparoscope proc, lymphatic | 0130 | 25.36 | $1,229.63 | $659.53 | $245.93
38700 | C | Removal of lymph nodes, neck |  |  |  |  |
38720 | T | Removal of lymph nodes, neck | 0114 | 19.56 | $948.41 | $493.78 | $189.68
38724 | C | Removal of lymph nodes, neck |  |  |  |  |
38740 | T | Remove armpit lymph nodes | 0114 | 19.56 | $948.41 | $493.78 | $189.68
38745 | T | Remove armpit lymph nodes | 0114 | 19.56 | $948.41 | $493.78 | $189.68
38746 | C | Remove thoracic lymph nodes |  |  |  |  |
38747 | C | Remove abdominal lymph nodes |  |  |  |  |
38760 | T | Remove groin lymph nodes | 0114 | 19.56 | $948.41 | $493.78 | $189.68
38765 | C | Remove groin lymph nodes |  |  |  |  |
38770 | C | Remove pelvis lymph nodes |  |  |  |  |
38780 | C | Remove abdomen lymph nodes |  |  |  |  |
38790 | N | Inject for lymphatic x-ray |  |  |  |  |
38792 | N | Identify sentinel node |  |  |  |  |
38794 | N | Access thoracic lymph duct |  |  |  |  |
38999 | T | Blood/lymph system procedure | 0008 | 6.15 | $298.20 | $113.67 | $59.64
39000 | C | Exploration of chest |  |  |  |  |
39010 | C | Exploration of chest |  |  |  |  |
39200 | C | Removal chest lesion |  |  |  |  |
39220 | C | Removal chest lesion |  |  |  |  |
39400 | T | Visualization of chest | 0076 | 8.06 | $390.81 | $197.05 | $78.16
39499 | C | Chest procedure |  |  |  |  |
39501 | C | Repair diaphragm laceration |  |  |  |  |
39502 | C | Repair paraesophageal hernia |  |  |  |  |
39503 | C | Repair of diaphragm hernia |  |  |  |  |
39520 | C | Repair of diaphragm hernia |  |  |  |  |
39530 | C | Repair of diaphragm hernia |  |  |  |  |
39531 | C | Repair of diaphragm hernia |  |  |  |  |
39540 | C | Repair of diaphragm hernia |  |  |  |  |
39541 | C | Repair of diaphragm hernia |  |  |  |  |
39545 | C | Revision of diaphragm |  |  |  |  |
39560 | C | Resect diaphragm, simple |  |  |  |  |
39561 | C | Resect diaphragm, complex |  |  |  |  |
39599 | C | Diaphragm surgery procedure |  |  |  |  |
40490 | T | Biopsy of lip | 0252 | 5.18 | $251.16 | $114.24 | $50.23
40500 | T | Partial excision of lip | 0253 | 12.02 | $582.81 | $284.00 | $116.56
40510 | T | Partial excision of lip | 0254 | 12.45 | $603.66 | $272.41 | $120.73
40520 | T | Partial excision of lip | 0253 | 12.02 | $582.81 | $284.00 | $116.56
40525 | T | Reconstruct lip with flap | 0254 | 12.45 | $603.66 | $272.41 | $120.73
40527 | T | Reconstruct lip with flap | 0254 | 12.45 | $603.66 | $272.41 | $120.73
40530 | T | Partial removal of lip | 0254 | 12.45 | $603.66 | $272.41 | $120.73
40650 | T | Repair lip | 0253 | 12.02 | $582.81 | $284.00 | $116.56
40652 | T | Repair lip | 0253 | 12.02 | $582.81 | $284.00 | $116.56
40654 | T | Repair lip | 0254 | 12.45 | $603.66 | $272.41 | $120.73
40700 | T | Repair cleft lip/nasal | 0256 | 25.40 | $1,231.57 | $623.05 | $246.31
40701 | T | Repair cleft lip/nasal | 0256 | 25.40 | $1,231.57 | $623.05 | $246.31
40702 | T | Repair cleft lip/nasal | 0256 | 25.40 | $1,231.57 | $623.05 | $246.31
40720 | T | Repair cleft lip/nasal | 0256 | 25.40 | $1,231.57 | $623.05 | $246.31
40761 | T | Repair cleft lip/nasal | 0256 | 25.40 | $1,231.57 | $623.05 | $246.31
40799 | T | Lip surgery procedure | 0253 | 12.02 | $582.81 | $284.00 | $116.56
40800 | T | Drainage of mouth lesion | 0251 | 1.68 | $81.46 | $27.99 | $16.29
40801 | T | Drainage of mouth lesion | 0252 | 5.18 | $251.16 | $114.24 | $50.23
40804 | T | Removal, foreign body, mouth | 0251 | 1.68 | $81.46 | $27.99 | $16.29
40805 | T | Removal, foreign body, mouth | 0252 | 5.18 | $251.16 | $114.24 | $50.23
40806 | T | Incision of lip fold | 0251 | 1.68 | $81.46 | $27.99 | $16.29
40808 | T | Biopsy of mouth lesion | 0251 | 1.68 | $81.46 | $27.99 | $16.29
40810 | T | Excision of mouth lesion | 0253 | 12.02 | $582.81 | $284.00 | $116.56
40812 | T | Excise/repair mouth lesion | 0252 | 5.18 | $251.16 | $114.24 | $50.23
40814 | T | Excise/repair mouth lesion | 0253 | 12.02 | $582.81 | $284.00 | $116.56
40816 | T | Excision of mouth lesion | 0253 | 12.02 | $582.81 | $284.00 | $116.56
40818 | T | Excise oral mucosa for graft | 0251 | 1.68 | $81.46 | $27.99 | $16.29
40819 | T | Excise lip or cheek fold | 0252 | 5.18 | $251.16 | $114.24 | $50.23
40820 | T | Treatment of mouth lesion | 0253 | 12.02 | $582.81 | $284.00 | $116.56
40830 | T | Repair mouth laceration | 0251 | 1.68 | $81.46 | $27.99 | $16.29
40831 | T | Repair mouth laceration | 0253 | 12.02 | $582.81 | $284.00 | $116.56
40840 | T | Reconstruction of mouth | 0254 | 12.45 | $603.66 | $272.41 | $120.73
40842 | T | Reconstruction of mouth | 0254 | 12.45 | $603.66 | $272.41 | $120.73
40843 | T | Reconstruction of mouth | 0254 | 12.45 | $603.66 | $272.41 | $120.73
40844 | T | Reconstruction of mouth | 0256 | 25.40 | $1,231.57 | $623.05 | $246.31
40845 | T | Reconstruction of mouth | 0256 | 25.40 | $1,231.57 | $623.05 | $246.31
40899 | T | Mouth surgery procedure | 0252 | 5.18 | $251.16 | $114.24 | $50.23
41000 | T | Drainage of mouth lesion | 0253 | 12.02 | $582.81 | $284.00 | $116.56
41005 | T | Drainage of mouth lesion | 0251 | 1.68 | $81.46 | $27.99 | $16.29
41006 | T | Drainage of mouth lesion | 0253 | 12.02 | $582.81 | $284.00 | $116.56
41007 | T | Drainage of mouth lesion | 0253 | 12.02 | $582.81 | $284.00 | $116.56
41008 | T | Drainage of mouth lesion | 0253 | 12.02 | $582.81 | $284.00 | $116.56
41009 | T | Drainage of mouth lesion | 0251 | 1.68 | $81.46 | $27.99 | $16.29
41010 | T | Incision of tongue fold | 0253 | 12.02 | $582.81 | $284.00 | $116.56
41015 | T | Drainage of mouth lesion | 0252 | 5.18 | $251.16 | $114.24 | $50.23
41016 | T | Drainage of mouth lesion | 0253 | 12.02 | $582.81 | $284.00 | $116.56
41017 | T | Drainage of mouth lesion | 0253 | 12.02 | $582.81 | $284.00 | $116.56
41018 | T | Drainage of mouth lesion | 0253 | 12.02 | $582.81 | $284.00 | $116.56
41100 | T | Biopsy of tongue | 0252 | 5.18 | $251.16 | $114.24 | $50.23
41105 | T | Biopsy of tongue | 0253 | 12.02 | $582.81 | $284.00 | $116.56
41108 | T | Biopsy of floor of mouth | 0252 | 5.18 | $251.16 | $114.24 | $50.23
41110 | T | Excision of tongue lesion | 0253 | 12.02 | $582.81 | $284.00 | $116.56
41112 | T | Excision of tongue lesion | 0253 | 12.02 | $582.81 | $284.00 | $116.56
41113 | T | Excision of tongue lesion | 0253 | 12.02 | $582.81 | $284.00 | $116.56
41114 | T | Excision of tongue lesion | 0254 | 12.45 | $603.66 | $272.41 | $120.73
41115 | T | Excision of tongue fold | 0253 | 12.02 | $582.81 | $284.00 | $116.56
41116 | T | Excision of mouth lesion | 0253 | 12.02 | $582.81 | $284.00 | $116.56
41120 | T | Partial removal of tongue | 0256 | 25.40 | $1,231.57 | $623.05 | $246.31
41130 | C | Partial removal of tongue |  |  |  |  |
41135 | C | Tongue and neck surgery |  |  |  |  |
41140 | C | Removal of tongue |  |  |  |  |
41145 | C | Tongue removal, neck surgery |  |  |  |  |
41150 | C | Tongue, mouth, jaw surgery |  |  |  |  |
41153 | C | Tongue, mouth, neck surgery |  |  |  |  |
41155 | C | Tongue, jaw, & neck surgery |  |  |  |  |
41250 | T | Repair tongue laceration | 0251 | 1.68 | $81.46 | $27.99 | $16.29
41251 | T | Repair tongue laceration | 0253 | 12.02 | $582.81 | $284.00 | $116.56
41252 | T | Repair tongue laceration | 0253 | 12.02 | $582.81 | $284.00 | $116.56
41500 | T | Fixation of tongue | 0253 | 12.02 | $582.81 | $284.00 | $116.56
41510 | T | Tongue to lip surgery | 0253 | 12.02 | $582.81 | $284.00 | $116.56
41520 | T | Reconstruction, tongue fold | 0253 | 12.02 | $582.81 | $284.00 | $116.56
41599 | T | Tongue and mouth surgery | 0251 | 1.68 | $81.46 | $27.99 | $16.29
41800 | T | Drainage of gum lesion | 0251 | 1.68 | $81.46 | $27.99 | $16.29
41805 | T | Removal foreign body, gum | 0253 | 12.02 | $582.81 | $284.00 | $116.56
41806 | T | Removal foreign body, jawbone | 0253 | 12.02 | $582.81 | $284.00 | $116.56
41820 | T | Excision, gum, each quadrant | 0252 | 5.18 | $251.16 | $114.24 | $50.23
41821 | T | Excision of gum flap | 0252 | 5.18 | $251.16 | $114.24 | $50.23
41822 | T | Excision of gum lesion | 0253 | 12.02 | $582.81 | $284.00 | $116.56
41823 | T | Excision of gum lesion | 0253 | 12.02 | $582.81 | $284.00 | $116.56
41825 | T | Excision of gum lesion | 0253 | 12.02 | $582.81 | $284.00 | $116.56
41826 | T | Excision of gum lesion | 0253 | 12.02 | $582.81 | $284.00 | $116.56
41827 | T | Excision of gum lesion | 0253 | 12.02 | $582.81 | $284.00 | $116.56
41828 | T | Excision of gum lesion | 0253 | 12.02 | $582.81 | $284.00 | $116.56
41830 | T | Removal of gum tissue | 0253 | 12.02 | $582.81 | $284.00 | $116.56
41850 | T | Treatment of gum lesion | 0253 | 12.02 | $582.81 | $284.00 | $116.56
41870 | T | Gum graft | 0253 | 12.02 | $582.81 | $284.00 | $116.56
41872 | T | Repair gum | 0253 | 12.02 | $582.81 | $284.00 | $116.56
41874 | T | Repair tooth socket | 0253 | 12.02 | $582.81 | $284.00 | $116.56
41899 | T | Dental surgery procedure | 0253 | 12.02 | $582.81 | $284.00 | $116.56
42000 | T | Drainage mouth roof lesion | 0251 | 1.68 | $81.46 | $27.99 | $16.29
42100 | T | Biopsy roof of mouth | 0252 | 5.18 | $251.16 | $114.24 | $50.23
42104 | T | Excision lesion, mouth roof | 0253 | 12.02 | $582.81 | $284.00 | $116.56
42106 | T | Excision lesion, mouth roof | 0253 | 12.02 | $582.81 | $284.00 | $116.56
42107 | T | Excision lesion, mouth roof | 0254 | 12.45 | $603.66 | $272.41 | $120.73
42120 | T | Remove palate/lesion | 0256 | 25.40 | $1,231.57 | $623.05 | $246.31
42140 | T | Excision of uvula | 0252 | 5.18 | $251.16 | $114.24 | $50.23
42145 | T | Repair palate, pharynx/uvula | 0254 | 12.45 | $603.66 | $272.41 | $120.73
42160 | T | Treatment mouth roof lesion | 0253 | 12.02 | $582.81 | $284.00 | $116.56
42180 | T | Repair palate | 0251 | 1.68 | $81.46 | $27.99 | $16.29
42182 | T | Repair palate | 0256 | 25.40 | $1,231.57 | $623.05 | $246.31
42200 | T | Reconstruct cleft palate | 0256 | 25.40 | $1,231.57 | $623.05 | $246.31
42205 | T | Reconstruct cleft palate | 0256 | 25.40 | $1,231.57 | $623.05 | $246.31
42210 | T | Reconstruct cleft palate | 0256 | 25.40 | $1,231.57 | $623.05 | $246.31
42215 | T | Reconstruct cleft palate | 0256 | 25.40 | $1,231.57 | $623.05 | $246.31
42220 | T | Reconstruct cleft palate | 0256 | 25.40 | $1,231.57 | $623.05 | $246.31
42225 | T | Reconstruct cleft palate | 0256 | 25.40 | $1,231.57 | $623.05 | $246.31
42226 | T | Lengthening of palate | 0256 | 25.40 | $1,231.57 | $623.05 | $246.31
42227 | T | Lengthening of palate | 0256 | 25.40 | $1,231.57 | $623.05 | $246.31
42235 | T | Repair palate | 0254 | 12.45 | $603.66 | $272.41 | $120.73
42260 | T | Repair nose to lip fistula | 0253 | 12.02 | $582.81 | $284.00 | $116.56
42280 | T | Preparation, palate mold | 0251 | 1.68 | $81.46 | $27.99 | $16.29
42281 | T | Insertion, palate prosthesis | 0253 | 12.02 | $582.81 | $284.00 | $116.56
42299 | T | Palate/uvula surgery | 0251 | 1.68 | $81.46 | $27.99 | $16.29
42300 | T | Drainage of salivary gland | 0253 | 12.02 | $582.81 | $284.00 | $116.56
42305 | T | Drainage of salivary gland | 0253 | 12.02 | $582.81 | $284.00 | $116.56
42310 | T | Drainage of salivary gland | 0251 | 1.68 | $81.46 | $27.99 | $16.29
42320 | T | Drainage of salivary gland | 0251 | 1.68 | $81.46 | $27.99 | $16.29
42325 | T | Create salivary cyst drain | 0252 | 5.18 | $251.16 | $114.24 | $50.23
42326 | T | Create salivary cyst drain | 0252 | 5.18 | $251.16 | $114.24 | $50.23
42330 | T | Removal of salivary stone | 0252 | 5.18 | $251.16 | $114.24 | $50.23
42335 | T | Removal of salivary stone | 0253 | 12.02 | $582.81 | $284.00 | $116.56
42340 | T | Removal of salivary stone | 0253 | 12.02 | $582.81 | $284.00 | $116.56
42400 | T | Biopsy of salivary gland | 0004 | 1.84 | $89.22 | $32.57 | $17.84
42405 | T | Biopsy of salivary gland | 0253 | 12.02 | $582.81 | $284.00 | $116.56
42408 | T | Excision of salivary cyst | 0253 | 12.02 | $582.81 | $284.00 | $116.56
42409 | T | Drainage of salivary cyst | 0253 | 12.02 | $582.81 | $284.00 | $116.56
42410 | T | Excise parotid gland/lesion | 0256 | 25.40 | $1,231.57 | $623.05 | $246.31
42415 | T | Excise parotid gland/lesion | 0256 | 25.40 | $1,231.57 | $623.05 | $246.31
42420 | T | Excise parotid gland/lesion | 0256 | 25.40 | $1,231.57 | $623.05 | $246.31
42425 | T | Excise parotid gland/lesion | 0256 | 25.40 | $1,231.57 | $623.05 | $246.31
42426 | C | Excise parotid gland/lesion |  |  |  |  |
42440 | T | Excise submaxillary gland | 0256 | 25.40 | $1,231.57 | $623.05 | $246.31
42450 | T | Excise sublingual gland | 0253 | 12.02 | $582.81 | $284.00 | $116.56
42500 | T | Repair salivary duct | 0254 | 12.45 | $603.66 | $272.41 | $120.73
42505 | T | Repair salivary duct | 0256 | 25.40 | $1,231.57 | $623.05 | $246.31
42507 | T | Parotid duct diversion | 0256 | 25.40 | $1,231.57 | $623.05 | $246.31
42508 | T | Parotid duct diversion | 0256 | 25.40 | $1,231.57 | $623.05 | $246.31
42509 | T | Parotid duct diversion | 0256 | 25.40 | $1,231.57 | $623.05 | $246.31
42510 | T | Parotid duct diversion | 0256 | 25.40 | $1,231.57 | $623.05 | $246.31
42550 | N | Injection for salivary x-ray |  |  |  |  |
42600 | T | Closure of salivary fistula | 0253 | 12.02 | $582.81 | $284.00 | $116.56
42650 | T | Dilation of salivary duct | 0252 | 5.18 | $251.16 | $114.24 | $50.23
42660 | T | Dilation of salivary duct | 0252 | 5.18 | $251.16 | $114.24 | $50.23
42665 | T | Ligation of salivary duct | 0253 | 12.02 | $582.81 | $284.00 | $116.56
42699 | T | Salivary surgery procedure | 0253 | 12.02 | $582.81 | $284.00 | $116.56
42700 | T | Drainage of tonsil abscess | 0251 | 1.68 | $81.46 | $27.99 | $16.29
42720 | T | Drainage of throat abscess | 0253 | 12.02 | $582.81 | $284.00 | $116.56
42725 | T | Drainage of throat abscess | 0256 | 25.40 | $1,231.57 | $623.05 | $246.31
42800 | T | Biopsy of throat | 0252 | 5.18 | $251.16 | $114.24 | $50.23
42802 | T | Biopsy of throat | 0253 | 12.02 | $582.81 | $284.00 | $116.56
42804 | T | Biopsy of upper nose/throat | 0253 | 12.02 | $582.81 | $284.00 | $116.56
42806 | T | Biopsy of upper nose/throat | 0253 | 12.02 | $582.81 | $284.00 | $116.56
42808 | T | Excise pharynx lesion | 0253 | 12.02 | $582.81 | $284.00 | $116.56
42809 | T | Remove pharynx foreign body | 0251 | 1.68 | $81.46 | $27.99 | $16.29
42810 | T | Excision of neck cyst | 0253 | 12.02 | $582.81 | $284.00 | $116.56
42815 | T | Excision of neck cyst | 0256 | 25.40 | $1,231.57 | $623.05 | $246.31
42820 | T | Remove tonsils and adenoids | 0258 | 18.62 | $902.83 | $462.81 | $180.57
42821 | T | Remove tonsils and adenoids | 0258 | 18.62 | $902.83 | $462.81 | $180.57
42825 | T | Removal of tonsils | 0258 | 18.62 | $902.83 | $462.81 | $180.57
42826 | T | Removal of tonsils | 0258 | 18.62 | $902.83 | $462.81 | $180.57
42830 | T | Removal of adenoids | 0258 | 18.62 | $902.83 | $462.81 | $180.57
42831 | T | Removal of adenoids | 0258 | 18.62 | $902.83 | $462.81 | $180.57
42835 | T | Removal of adenoids | 0258 | 18.62 | $902.83 | $462.81 | $180.57
42836 | T | Removal of adenoids | 0258 | 18.62 | $902.83 | $462.81 | $180.57
42842 | C | Extensive surgery of throat |  |  |  |  |
42844 | T | Extensive surgery of throat | 0256 | 25.40 | $1,231.57 | $623.05 | $246.31
42845 | C | Extensive surgery of throat |  |  |  |  |
42860 | T | Excision of tonsil tags | 0258 | 18.62 | $902.83 | $462.81 | $180.57
42870 | T | Excision of lingual tonsil | 0258 | 18.62 | $902.83 | $462.81 | $180.57
42890 | T | Partial removal of pharynx | 0256 | 25.40 | $1,231.57 | $623.05 | $246.31
42892 | T | Revision of pharyngeal walls | 0256 | 25.40 | $1,231.57 | $623.05 | $246.31
42894 | C | Revision of pharyngeal walls |  |  |  |  |
42900 | T | Repair throat wound | 0253 | 12.02 | $582.81 | $284.00 | $116.56
42950 | T | Reconstruction of throat | 0254 | 12.45 | $603.66 | $272.41 | $120.73
42953 | C | Repair throat, esophagus |  |  |  |  |
42955 | T | Surgical opening of throat | 0254 | 12.45 | $603.66 | $272.41 | $120.73
42960 | T | Control throat bleeding | 0250 | 2.21 | $107.16 | $38.54 | $21.43
42961 | C | Control throat bleeding |  |  |  |  |
42962 | T | Control throat bleeding | 0256 | 25.40 | $1,231.57 | $623.05 | $246.31
42970 | T | Control nose/throat bleeding | 0250 | 2.21 | $107.16 | $38.54 | $21.43
42971 | C | Control nose/throat bleeding |  |  |  |  |
42972 | T | Control nose/throat bleeding | 0253 | 12.02 | $582.81 | $284.00 | $116.56
42999 | T | Throat surgery procedure | 0252 | 5.18 | $251.16 | $114.24 | $50.23
43020 | T | Incision of esophagus | 0254 | 12.45 | $603.66 | $272.41 | $120.73
43030 | C | Throat muscle surgery |  |  |  |  |
43045 | C | Incision of esophagus |  |  |  |  |
43100 | C | Excision of esophagus lesion |  |  |  |  |
43101 | C | Excision of esophagus lesion |  |  |  |  |
43107 | C | Removal of esophagus |  |  |  |  |
43108 | C | Removal of esophagus |  |  |  |  |
43112 | C | Removal of esophagus |  |  |  |  |
43113 | C | Removal of esophagus |  |  |  |  |
43116 | C | Partial removal of esophagus |  |  |  |  |
43117 | C | Partial removal of esophagus |  |  |  |  |
43118 | C | Partial removal of esophagus |  |  |  |  |
43121 | C | Partial removal of esophagus |  |  |  |  |
43122 | C | Parital removal of esophagus |  |  |  |  |
43123 | C | Partial removal of esophagus |  |  |  |  |
43124 | C | Removal of esophagus |  |  |  |  |
43130 | C | Removal of esophagus pouch |  |  |  |  |
43135 | C | Removal of esophagus pouch |  |  |  |  |
43200 | T | Esophagus endoscopy | 0141 | 7.15 | $346.68 | $184.67 | $69.34
43202 | T | Esophagus endoscopy, biopsy | 0141 | 7.15 | $346.68 | $184.67 | $69.34
43204 | T | Esophagus endoscopy & inject | 0141 | 7.15 | $346.68 | $184.67 | $69.34
43205 | T | Esophagus endoscopy/ligation | 0141 | 7.15 | $346.68 | $184.67 | $69.34
43215 | T | Esophagus endoscopy | 0141 | 7.15 | $346.68 | $184.67 | $69.34
43216 | T | Esophagus endoscopy/lesion | 0141 | 7.15 | $346.68 | $184.67 | $69.34
43217 | T | Esophagus endoscopy | 0141 | 7.15 | $346.68 | $184.67 | $69.34
43219 | T | Esophagus endoscopy | 0141 | 7.15 | $346.68 | $184.67 | $69.34
43220 | T | Esoph endoscopy, dilation | 0141 | 7.15 | $346.68 | $184.67 | $69.34
43226 | T | Esoph endoscopy, dilation | 0141 | 7.15 | $346.68 | $184.67 | $69.34
43227 | T | Esoph endoscopy, repair | 0141 | 7.15 | $346.68 | $184.67 | $69.34
43228 | T | Esoph endoscopy, ablation | 0141 | 7.15 | $346.68 | $184.67 | $69.34
43234 | T | Upper GI endoscopy, exam | 0141 | 7.15 | $346.68 | $184.67 | $69.34
43235 | T | Uppr gi endoscopy, diagnosis | 0141 | 7.15 | $346.68 | $184.67 | $69.34
43239 | T | Upper GI endoscopy, biopsy | 0141 | 7.15 | $346.68 | $184.67 | $69.34
43241 | T | Upper GI endoscopy with tube | 0141 | 7.15 | $346.68 | $184.67 | $69.34
43243 | T | Upper gi endoscopy & inject | 0141 | 7.15 | $346.68 | $184.67 | $69.34
43244 | T | Upper GI endoscopy/ligation | 0141 | 7.15 | $346.68 | $184.67 | $69.34
43245 | T | Operative upper GI endoscopy | 0141 | 7.15 | $346.68 | $184.67 | $69.34
43246 | T | Place gastrostomy tube | 0141 | 7.15 | $346.68 | $184.67 | $69.34
43247 | T | Operative upper GI endoscopy | 0141 | 7.15 | $346.68 | $184.67 | $69.34
43248 | T | Uppr gi endoscopy/guide wire | 0141 | 7.15 | $346.68 | $184.67 | $69.34
43249 | T | Esoph endoscopy, dilation | 0141 | 7.15 | $346.68 | $184.67 | $69.34
43250 | T | Upper GI endoscopy/tumor | 0141 | 7.15 | $346.68 | $184.67 | $69.34
43251 | T | Operative upper GI endoscopy | 0141 | 7.15 | $346.68 | $184.67 | $69.34
43255 | T | Operative upper GI endoscopy | 0141 | 7.15 | $346.68 | $184.67 | $69.34
43258 | T | Operative upper GI endoscopy | 0141 | 7.15 | $346.68 | $184.67 | $69.34
43259 | T | Endoscopic ultrasound exam | 0141 | 7.15 | $346.68 | $184.67 | $69.34
43260 | T | Endo cholangiopancreatograph | 0151 | 10.53 | $510.57 | $245.46 | $102.11
43261 | T | Endo cholangiopancreatograph | 0151 | 10.53 | $510.57 | $245.46 | $102.11
43262 | T | Endo cholangiopancreatograph | 0151 | 10.53 | $510.57 | $245.46 | $102.11
43263 | T | Endo cholangiopancreatograph | 0151 | 10.53 | $510.57 | $245.46 | $102.11
43264 | T | Endo cholangiopancreatograph | 0151 | 10.53 | $510.57 | $245.46 | $102.11
43265 | T | Endo cholangiopancreatograph | 0151 | 10.53 | $510.57 | $245.46 | $102.11
43267 | T | Endo cholangiopancreatograph | 0151 | 10.53 | $510.57 | $245.46 | $102.11
43268 | T | Endo cholangiopancreatograph | 0151 | 10.53 | $510.57 | $245.46 | $102.11
43269 | T | Endo cholangiopancreatograph | 0151 | 10.53 | $510.57 | $245.46 | $102.11
43271 | T | Endo cholangiopancreatograph | 0151 | 10.53 | $510.57 | $245.46 | $102.11
43272 | T | Endo cholangiopancreatograph | 0151 | 10.53 | $510.57 | $245.46 | $102.11
43280 | T | Laparoscopy, fundoplasty | 0132 | 48.91 | $2,371.50 | $1,239.22 | $474.30
43289 | T | Laparoscope proc, esoph | 0130 | 25.36 | $1,229.63 | $659.53 | $245.93
43300 | C | Repair of esophagus |  |  |  |  |
43305 | C | Repair esophagus and fistula |  |  |  |  |
43310 | C | Repair of esophagus |  |  |  |  |
43312 | C | Repair esophagus and fistula |  |  |  |  |
43320 | C | Fuse esophagus & stomach |  |  |  |  |
43324 | C | Revise esophagus & stomach |  |  |  |  |
43325 | C | Revise esophagus & stomach |  |  |  |  |
43326 | C | Revise esophagus & stomach |  |  |  |  |
43330 | C | Repair of esophagus |  |  |  |  |
43331 | C | Repair of esophagus |  |  |  |  |
43340 | C | Fuse esophagus & intestine |  |  |  |  |
43341 | C | Fuse esophagus & intestine |  |  |  |  |
43350 | C | Surgical opening, esophagus |  |  |  |  |
43351 | C | Surgical opening, esophagus |  |  |  |  |
43352 | C | Surgical opening, esophagus |  |  |  |  |
43360 | C | Gastrointestinal repair |  |  |  |  |
43361 | C | Gastrointestinal repair |  |  |  |  |
43400 | C | Ligate esophagus veins |  |  |  |  |
43401 | C | Esophagus surgery for veins |  |  |  |  |
43405 | C | Ligate/staple esophagus |  |  |  |  |
43410 | C | Repair esophagus wound |  |  |  |  |
43415 | C | Repair esophagus wound |  |  |  |  |
43420 | C | Repair esophagus opening |  |  |  |  |
43425 | C | Repair esophagus opening |  |  |  |  |
43450 | T | Dilate esophagus | 0140 | 4.74 | $229.83 | $107.24 | $45.97
43453 | T | Dilate esophagus | 0140 | 4.74 | $229.83 | $107.24 | $45.97
43456 | T | Dilate esophagus | 0140 | 4.74 | $229.83 | $107.24 | $45.97
43458 | T | Dilate esophagus | 0140 | 4.74 | $229.83 | $107.24 | $45.97
43460 | C | Pressure treatment esophagus |  |  |  |  |
43496 | C | Free jejunum flap, microvasc |  |  |  |  |
43499 | T | Esophagus surgery procedure | 0140 | 4.74 | $229.83 | $107.24 | $45.97
43500 | C | Surgical opening of stomach |  |  |  |  |
43501 | C | Surgical repair of stomach |  |  |  |  |
43502 | C | Surgical repair of stomach |  |  |  |  |
43510 | C | Surgical opening of stomach |  |  |  |  |
43520 | C | Incision of pyloric muscle |  |  |  |  |
43600 | T | Biopsy of stomach | 0141 | 7.15 | $346.68 | $184.67 | $69.34
43605 | C | Biopsy of stomach |  |  |  |  |
43610 | C | Excision of stomach lesion |  |  |  |  |
43611 | C | Excision of stomach lesion |  |  |  |  |
43620 | C | Removal of stomach |  |  |  |  |
43621 | C | Removal of stomach |  |  |  |  |
43622 | C | Removal of stomach |  |  |  |  |
43631 | C | Removal of stomach, partial |  |  |  |  |
43632 | C | Removal of stomach, partial |  |  |  |  |
43633 | C | Removal of stomach, partial |  |  |  |  |
43634 | C | Removal of stomach, partial |  |  |  |  |
43635 | C | Removal of stomach, partial |  |  |  |  |
43638 | C | Removal of stomach, partial |  |  |  |  |
43639 | C | Removal of stomach, partial |  |  |  |  |
43640 | C | Vagotomy & pylorus repair |  |  |  |  |
43641 | C | Vagotomy & pylorus repair |  |  |  |  |
43651 | T | Laparoscopy, vagus nerve | 0132 | 48.91 | $2,371.50 | $1,239.22 | $474.30
43652 | T | Laparoscopy, vagus nerve | 0132 | 48.91 | $2,371.50 | $1,239.22 | $474.30
43653 | T | Laparoscopy, gastrostomy | 0131 | 41.81 | $2,027.24 | $1,089.88 | $405.45
43659 | T | Laparoscope proc, stom | 0130 | 25.36 | $1,229.63 | $659.53 | $245.93
43750 | T | Place gastrostomy tube | 0141 | 7.15 | $346.68 | $184.67 | $69.34
43760 | T | Change gastrostomy tube | 0121 | 2.36 | $114.43 | $52.53 | $22.89
43761 | T | Reposition gastrostomy tube | 0121 | 2.36 | $114.43 | $52.53 | $22.89
43800 | C | Reconstruction of pylorus |  |  |  |  |
43810 | C | Fusion of stomach and bowel |  |  |  |  |
43820 | C | Fusion of stomach and bowel |  |  |  |  |
43825 | C | Fusion of stomach and bowel |  |  |  |  |
43830 | T | Place gastrostomy tube | 0141 | 7.15 | $346.68 | $184.67 | $69.34
43831 | T | Place gastrostomy tube | 0141 | 7.15 | $346.68 | $184.67 | $69.34
43832 | C | Place gastrostomy tube |  |  |  |  |
43840 | C | Repair of stomach lesion |  |  |  |  |
43842 | C | Gastroplasty for obesity |  |  |  |  |
43843 | C | Gastroplasty for obesity |  |  |  |  |
43846 | C | Gastric bypass for obesity |  |  |  |  |
43847 | C | Gastric bypass for obesity |  |  |  |  |
43848 | C | Revision gastroplasty |  |  |  |  |
43850 | C | Revise stomach-bowel fusion |  |  |  |  |
43855 | C | Revise stomach-bowel fusion |  |  |  |  |
43860 | C | Revise stomach-bowel fusion |  |  |  |  |
43865 | C | Revise stomach-bowel fusion |  |  |  |  |
43870 | T | Repair stomach opening | 0025 | 3.74 | $181.34 | $70.66 | $36.27
43880 | C | Repair stomach-bowel fistula |  |  |  |  |
43999 | T | Stomach surgery procedure | 0121 | 2.36 | $114.43 | $52.53 | $22.89
44005 | C | Freeing of bowel adhesion |  |  |  |  |
44010 | C | Incision of small bowel |  |  |  |  |
44015 | C | Insert needle cath bowel |  |  |  |  |
44020 | C | Exploration of small bowel |  |  |  |  |
44021 | C | Decompress small bowel |  |  |  |  |
44025 | C | Incision of large bowel |  |  |  |  |
44050 | C | Reduce bowel obstruction |  |  |  |  |
44055 | C | Correct malrotation of bowel |  |  |  |  |
44100 | T | Biopsy of bowel | 0141 | 7.15 | $346.68 | $184.67 | $69.34
44110 | C | Excision of bowel lesion(s) |  |  |  |  |
44111 | C | Excision of bowel lesion(s) |  |  |  |  |
44120 | C | Removal of small intestine |  |  |  |  |
44121 | C | Removal of small intestine |  |  |  |  |
44125 | C | Removal of small intestine |  |  |  |  |
44130 | C | Bowel to bowel fusion |  |  |  |  |
44139 | C | Mobilization of colon |  |  |  |  |
44140 | C | Partial removal of colon |  |  |  |  |
44141 | C | Partial removal of colon |  |  |  |  |
44143 | C | Partial removal of colon |  |  |  |  |
44144 | C | Partial removal of colon |  |  |  |  |
44145 | C | Partial removal of colon |  |  |  |  |
44146 | C | Partial removal of colon |  |  |  |  |
44147 | C | Partial removal of colon |  |  |  |  |
44150 | C | Removal of colon |  |  |  |  |
44151 | C | Removal of colon/ileostomy |  |  |  |  |
44152 | C | Removal of colon/ileostomy |  |  |  |  |
44153 | C | Removal of colon/ileostomy |  |  |  |  |
44155 | C | Removal of colon/ileostomy |  |  |  |  |
44156 | C | Removal of colon/ileostomy |  |  |  |  |
44160 | C | Removal of colon |  |  |  |  |
44200 | T | Laparoscopy, enterolysis | 0131 | 41.81 | $2,027.24 | $1,089.88 | $405.45
44201 | T | Laparoscopy, jejunostomy | 0131 | 41.81 | $2,027.24 | $1,089.88 | $405.45
44202 | C | Laparo, resect intestine |  |  |  |  |
44209 | T | Laparoscope proc, intestine | 0130 | 25.36 | $1,229.63 | $659.53 | $245.93
44300 | C | Open bowel to skin |  |  |  |  |
44310 | C | Ileostomy/jejunostomy |  |  |  |  |
44312 | T | Revision of ileostomy | 0026 | 12.11 | $587.18 | $277.92 | $117.44
44314 | C | Revision of ileostomy |  |  |  |  |
44316 | C | Devise bowel pouch |  |  |  |  |
44320 | C | Colostomy |  |  |  |  |
44322 | C | Colostomy with biopsies |  |  |  |  |
44340 | T | Revision of colostomy | 0026 | 12.11 | $587.18 | $277.92 | $117.44
44345 | C | Revision of colostomy |  |  |  |  |
44346 | C | Revision of colostomy |  |  |  |  |
44360 | T | Small bowel endoscopy | 0142 | 7.45 | $361.23 | $162.42 | $72.25
44361 | T | Small bowel endoscopy/biopsy | 0142 | 7.45 | $361.23 | $162.42 | $72.25
44363 | T | Small bowel endoscopy | 0142 | 7.45 | $361.23 | $162.42 | $72.25
44364 | T | Small bowel endoscopy | 0142 | 7.45 | $361.23 | $162.42 | $72.25
44365 | T | Small bowel endoscopy | 0142 | 7.45 | $361.23 | $162.42 | $72.25
44366 | T | Small bowel endoscopy | 0142 | 7.45 | $361.23 | $162.42 | $72.25
44369 | T | Small bowel endoscopy | 0142 | 7.45 | $361.23 | $162.42 | $72.25
44372 | T | Small bowel endoscopy | 0142 | 7.45 | $361.23 | $162.42 | $72.25
44373 | T | Small bowel endoscopy | 0142 | 7.45 | $361.23 | $162.42 | $72.25
44376 | T | Small bowel endoscopy | 0142 | 7.45 | $361.23 | $162.42 | $72.25
44377 | T | Small bowel endoscopy/biopsy | 0142 | 7.45 | $361.23 | $162.42 | $72.25
44378 | T | Small bowel endoscopy | 0142 | 7.45 | $361.23 | $162.42 | $72.25
44380 | T | Small bowel endoscopy | 0142 | 7.45 | $361.23 | $162.42 | $72.25
44382 | T | Small bowel endoscopy | 0142 | 7.45 | $361.23 | $162.42 | $72.25
44385 | T | Endoscopy of bowel pouch | 0143 | 7.98 | $386.93 | $199.12 | $77.39
44386 | T | Endoscopy, bowel pouch/biop | 0143 | 7.98 | $386.93 | $199.12 | $77.39
44388 | T | Colon endoscopy | 0143 | 7.98 | $386.93 | $199.12 | $77.39
44389 | T | Colonoscopy with biopsy | 0143 | 7.98 | $386.93 | $199.12 | $77.39
44390 | T | Colonoscopy for foreign body | 0143 | 7.98 | $386.93 | $199.12 | $77.39
44391 | T | Colonoscopy for bleeding | 0143 | 7.98 | $386.93 | $199.12 | $77.39
44392 | T | Colonoscopy & polypectomy | 0143 | 7.98 | $386.93 | $199.12 | $77.39
44393 | T | Colonoscopy, lesion removal | 0143 | 7.98 | $386.93 | $199.12 | $77.39
44394 | T | Colonoscopy w/snare | 0143 | 7.98 | $386.93 | $199.12 | $77.39
44500 | C | Intro, gastrointestinal tube |  |  |  |  |
44602 | C | Suture, small intestine |  |  |  |  |
44603 | C | Suture, small intestine |  |  |  |  |
44604 | C | Suture, large intestine |  |  |  |  |
44605 | C | Repair of bowel lesion |  |  |  |  |
44615 | C | Intestinal stricturoplasty |  |  |  |  |
44620 | C | Repair bowel opening |  |  |  |  |
44625 | C | Repair bowel opening |  |  |  |  |
44626 | C | Repair bowel opening |  |  |  |  |
44640 | C | Repair bowel-skin fistula |  |  |  |  |
44650 | C | Repair bowel fistula |  |  |  |  |
44660 | C | Repair bowel-bladder fistula |  |  |  |  |
44661 | C | Repair bowel-bladder fistula |  |  |  |  |
44680 | C | Surgical revision, intestine |  |  |  |  |
44700 | C | Suspend bowel w/prosthesis |  |  |  |  |
44799 | T | Intestine surgery procedure | 0142 | 7.45 | $361.23 | $162.42 | $72.25
44800 | C | Excision of bowel pouch |  |  |  |  |
44820 | C | Excision of mesentery lesion |  |  |  |  |
44850 | C | Repair of mesentery |  |  |  |  |
44899 | C | Bowel surgery procedure |  |  |  |  |
44900 | C | Drain app abscess, open |  |  |  |  |
44901 | C | Drain app abscess, percut |  |  |  |  |
44950 | C | Appendectomy |  |  |  |  |
44955 | C | Appendectomy add-on |  |  |  |  |
44960 | C | Appendectomy |  |  |  |  |
44970 | T | Laparoscopy, appendectomy | 0130 | 25.36 | $1,229.63 | $659.53 | $245.93
44979 | T | Laparoscope proc, app | 0130 | 25.36 | $1,229.63 | $659.53 | $245.93
45000 | T | Drainage of pelvic abscess | 0149 | 12.86 | $623.54 | $293.06 | $124.71
45005 | T | Drainage of rectal abscess | 0148 | 2.34 | $113.46 | $43.59 | $22.69
45020 | T | Drainage of rectal abscess | 0149 | 12.86 | $623.54 | $293.06 | $124.71
45100 | T | Biopsy of rectum | 0149 | 12.86 | $623.54 | $293.06 | $124.71
45108 | T | Removal of anorectal lesion | 0150 | 17.68 | $857.25 | $437.12 | $171.45
45110 | C | Removal of rectum |  |  |  |  |
45111 | C | Partial removal of rectum |  |  |  |  |
45112 | C | Removal of rectum |  |  |  |  |
45113 | C | Partial proctectomy |  |  |  |  |
45114 | C | Partial removal of rectum |  |  |  |  |
45116 | C | Partial removal of rectum |  |  |  |  |
45119 | C | Remove rectum w/reservoir |  |  |  |  |
45120 | C | Removal of rectum |  |  |  |  |
45121 | C | Removal of rectum and colon |  |  |  |  |
45123 | C | Partial proctectomy |  |  |  |  |
45126 | C | Pelvic exenteration |  |  |  |  |
45130 | C | Excision of rectal prolapse |  |  |  |  |
45135 | C | Excision of rectal prolapse |  |  |  |  |
45150 | T | Excision of rectal stricture | 0150 | 17.68 | $857.25 | $437.12 | $171.45
45160 | T | Excision of rectal lesion | 0150 | 17.68 | $857.25 | $437.12 | $171.45
45170 | T | Excision of rectal lesion | 0150 | 17.68 | $857.25 | $437.12 | $171.45
45190 | T | Destruction, rectal tumor | 0150 | 17.68 | $857.25 | $437.12 | $171.45
45300 | T | Proctosigmoidoscopy | 0146 | 2.83 | $137.22 | $65.15 | $27.44
45303 | T | Proctosigmoidoscopy | 0146 | 2.83 | $137.22 | $65.15 | $27.44
45305 | T | Proctosigmoidoscopy & biopsy | 0146 | 2.83 | $137.22 | $65.15 | $27.44
45307 | T | Proctosigmoidoscopy | 0146 | 2.83 | $137.22 | $65.15 | $27.44
45308 | T | Proctosigmoidoscopy | 0147 | 6.26 | $303.53 | $149.11 | $60.71
45309 | T | Proctosigmoidoscopy | 0147 | 6.26 | $303.53 | $149.11 | $60.71
45315 | T | Proctosigmoidoscopy | 0147 | 6.26 | $303.53 | $149.11 | $60.71
45317 | T | Proctosigmoidoscopy | 0146 | 2.83 | $137.22 | $65.15 | $27.44
45320 | T | Proctosigmoidoscopy | 0147 | 6.26 | $303.53 | $149.11 | $60.71
45321 | T | Proctosigmoidoscopy | 0147 | 6.26 | $303.53 | $149.11 | $60.71
45330 | T | Diagnostic sigmoidoscopy | 0146 | 2.83 | $137.22 | $65.15 | $27.44
45331 | T | Sigmoidoscopy and biopsy | 0146 | 2.83 | $137.22 | $65.15 | $27.44
45332 | T | Sigmoidoscopy | 0146 | 2.83 | $137.22 | $65.15 | $27.44
45333 | T | Sigmoidoscopy & polypectomy | 0147 | 6.26 | $303.53 | $149.11 | $60.71
45334 | T | Sigmoidoscopy for bleeding | 0147 | 6.26 | $303.53 | $149.11 | $60.71
45337 | T | Sigmoidoscopy & decompress | 0147 | 6.26 | $303.53 | $149.11 | $60.71
45338 | T | Sigmoidoscopy | 0147 | 6.26 | $303.53 | $149.11 | $60.71
45339 | T | Sigmoidoscopy | 0147 | 6.26 | $303.53 | $149.11 | $60.71
45355 | T | Surgical colonoscopy | 0143 | 7.98 | $386.93 | $199.12 | $77.39
45378 | T | Diagnostic colonoscopy | 0143 | 7.98 | $386.93 | $199.12 | $77.39
45379 | T | Colonoscopy | 0143 | 7.98 | $386.93 | $199.12 | $77.39
45380 | T | Colonoscopy and biopsy | 0143 | 7.98 | $386.93 | $199.12 | $77.39
45382 | T | Colonoscopy/control bleeding | 0143 | 7.98 | $386.93 | $199.12 | $77.39
45383 | T | Lesion removal colonoscopy | 0143 | 7.98 | $386.93 | $199.12 | $77.39
45384 | T | Colonoscopy | 0143 | 7.98 | $386.93 | $199.12 | $77.39
45385 | T | Lesion removal colonoscopy | 0143 | 7.98 | $386.93 | $199.12 | $77.39
45500 | T | Repair of rectum | 0150 | 17.68 | $857.25 | $437.12 | $171.45
45505 | T | Repair of rectum | 0150 | 17.68 | $857.25 | $437.12 | $171.45
45520 | T | Treatment of rectal prolapse | 0098 | 1.19 | $57.70 | $20.88 | $11.54
45540 | C | Correct rectal prolapse |  |  |  |  |
45541 | C | Correct rectal prolapse |  |  |  |  |
45550 | C | Repair rectum/remove sigmoid |  |  |  |  |
45560 | T | Repair of rectocele | 0150 | 17.68 | $857.25 | $437.12 | $171.45
45562 | C | Exploration/repair of rectum |  |  |  |  |
45563 | C | Exploration/repair of rectum |  |  |  |  |
45800 | C | Repair rect/bladder fistula |  |  |  |  |
45805 | C | Repair fistula w/colostomy |  |  |  |  |
45820 | C | Repair rectourethral fistula |  |  |  |  |
45825 | C | Repair fistula w/colostomy |  |  |  |  |
45900 | T | Reduction of rectal prolapse | 0148 | 2.34 | $113.46 | $43.59 | $22.69
45905 | T | Dilation of anal sphincter | 0149 | 12.86 | $623.54 | $293.06 | $124.71
45910 | T | Dilation of rectal narrowing | 0149 | 12.86 | $623.54 | $293.06 | $124.71
45915 | T | Remove rectal obstruction | 0148 | 2.34 | $113.46 | $43.59 | $22.69
45999 | T | Rectum surgery procedure | 0148 | 2.34 | $113.46 | $43.59 | $22.69
46030 | T | Removal of rectal marker | 0149 | 12.86 | $623.54 | $293.06 | $124.71
46040 | T | Incision of rectal abscess | 0148 | 2.34 | $113.46 | $43.59 | $22.69
46045 | T | Incision of rectal abscess | 0150 | 17.68 | $857.25 | $437.12 | $171.45
46050 | T | Incision of anal abscess | 0148 | 2.34 | $113.46 | $43.59 | $22.69
46060 | T | Incision of rectal abscess | 0150 | 17.68 | $857.25 | $437.12 | $171.45
46070 | T | Incision of anal septum | 0148 | 2.34 | $113.46 | $43.59 | $22.69
46080 | T | Incision of anal sphincter | 0149 | 12.86 | $623.54 | $293.06 | $124.71
46083 | T | Incise external hemorrhoid | 0148 | 2.34 | $113.46 | $43.59 | $22.69
46200 | T | Removal of anal fissure | 0150 | 17.68 | $857.25 | $437.12 | $171.45
46210 | T | Removal of anal crypt | 0149 | 12.86 | $623.54 | $293.06 | $124.71
46211 | T | Removal of anal crypts | 0150 | 17.68 | $857.25 | $437.12 | $171.45
46220 | T | Removal of anal tab | 0149 | 12.86 | $623.54 | $293.06 | $124.71
46221 | T | Ligation of hemorrhoid(s) | 0148 | 2.34 | $113.46 | $43.59 | $22.69
46230 | T | Removal of anal tabs | 0149 | 12.86 | $623.54 | $293.06 | $124.71
46250 | T | Hemorrhoidectomy | 0150 | 17.68 | $857.25 | $437.12 | $171.45
46255 | T | Hemorrhoidectomy | 0150 | 17.68 | $857.25 | $437.12 | $171.45
46257 | T | Remove hemorrhoids & fissure | 0150 | 17.68 | $857.25 | $437.12 | $171.45
46258 | T | Remove hemorrhoids & fistula | 0150 | 17.68 | $857.25 | $437.12 | $171.45
46260 | T | Hemorrhoidectomy | 0150 | 17.68 | $857.25 | $437.12 | $171.45
46261 | T | Remove hemorrhoids & fissure | 0150 | 17.68 | $857.25 | $437.12 | $171.45
46262 | T | Remove hemorrhoids & fistula | 0150 | 17.68 | $857.25 | $437.12 | $171.45
46270 | T | Removal of anal fistula | 0150 | 17.68 | $857.25 | $437.12 | $171.45
46275 | T | Removal of anal fistula | 0150 | 17.68 | $857.25 | $437.12 | $171.45
46280 | T | Removal of anal fistula | 0150 | 17.68 | $857.25 | $437.12 | $171.45
46285 | T | Removal of anal fistula | 0150 | 17.68 | $857.25 | $437.12 | $171.45
46288 | T | Repair anal fistula | 0150 | 17.68 | $857.25 | $437.12 | $171.45
46320 | T | Removal of hemorrhoid clot | 0148 | 2.34 | $113.46 | $43.59 | $22.69
46500 | T | Injection into hemorrhoids | 0148 | 2.34 | $113.46 | $43.59 | $22.69
46600 | N | Diagnostic anoscopy |  |  |  |  |
46604 | T | Anoscopy and dilation | 0144 | 2.23 | $108.13 | $49.32 | $21.63
46606 | T | Anoscopy and biopsy | 0145 | 7.46 | $361.71 | $179.39 | $72.34
46608 | T | Anoscopy/remove for body | 0144 | 2.23 | $108.13 | $49.32 | $21.63
46610 | T | Anoscopy/remove lesion | 0145 | 7.46 | $361.71 | $179.39 | $72.34
46611 | T | Anoscopy | 0145 | 7.46 | $361.71 | $179.39 | $72.34
46612 | T | Anoscopy/remove lesions | 0145 | 7.46 | $361.71 | $179.39 | $72.34
46614 | T | Anoscopy/control bleeding | 0145 | 7.46 | $361.71 | $179.39 | $72.34
46615 | T | Anoscopy | 0145 | 7.46 | $361.71 | $179.39 | $72.34
46700 | T | Repair of anal stricture | 0150 | 17.68 | $857.25 | $437.12 | $171.45
46705 | C | Repair of anal stricture |  |  |  |  |
46715 | C | Repair of anovaginal fistula |  |  |  |  |
46716 | C | Repair of anovaginal fistula |  |  |  |  |
46730 | C | Construction of absent anus |  |  |  |  |
46735 | C | Construction of absent anus |  |  |  |  |
46740 | C | Construction of absent anus |  |  |  |  |
46742 | C | Repair of imperforated anus |  |  |  |  |
46744 | C | Repair of cloacal anomaly |  |  |  |  |
46746 | C | Repair of cloacal anomaly |  |  |  |  |
46748 | C | Repair of cloacal anomaly |  |  |  |  |
46750 | T | Repair of anal sphincter | 0150 | 17.68 | $857.25 | $437.12 | $171.45
46751 | C | Repair of anal sphincter |  |  |  |  |
46753 | T | Reconstruction of anus | 0150 | 17.68 | $857.25 | $437.12 | $171.45
46754 | T | Removal of suture from anus | 0149 | 12.86 | $623.54 | $293.06 | $124.71
46760 | T | Repair of anal sphincter | 0150 | 17.68 | $857.25 | $437.12 | $171.45
46761 | T | Repair of anal sphincter | 0150 | 17.68 | $857.25 | $437.12 | $171.45
46762 | T | Implant artificial sphincter | 0150 | 17.68 | $857.25 | $437.12 | $171.45
46900 | T | Destruction, anal lesion(s) | 0016 | 3.53 | $171.16 | $74.67 | $34.23
46910 | T | Destruction, anal lesion(s) | 0016 | 3.53 | $171.16 | $74.67 | $34.23
46916 | T | Cryosurgery, anal lesion(s) | 0016 | 3.53 | $171.16 | $74.67 | $34.23
46917 | T | Laser surgery, anal lesions | 0014 | 1.50 | $72.73 | $24.55 | $14.55
46922 | T | Excision of anal lesion(s) | 0017 | 12.45 | $603.66 | $289.16 | $120.73
46924 | T | Destruction, anal lesion(s) | 0017 | 12.45 | $603.66 | $289.16 | $120.73
46934 | T | Destruction of hemorrhoids | 0148 | 2.34 | $113.46 | $43.59 | $22.69
46935 | T | Destruction of hemorrhoids | 0148 | 2.34 | $113.46 | $43.59 | $22.69
46936 | T | Destruction of hemorrhoids | 0149 | 12.86 | $623.54 | $293.06 | $124.71
46937 | T | Cryotherapy of rectal lesion | 0150 | 17.68 | $857.25 | $437.12 | $171.45
46938 | T | Cryotherapy of rectal lesion | 0150 | 17.68 | $857.25 | $437.12 | $171.45
46940 | T | Treatment of anal fissure | 0149 | 12.86 | $623.54 | $293.06 | $124.71
46942 | T | Treatment of anal fissure | 0149 | 12.86 | $623.54 | $293.06 | $124.71
46945 | T | Ligation of hemorrhoids | 0148 | 2.34 | $113.46 | $43.59 | $22.69
46946 | T | Ligation of hemorrhoids | 0148 | 2.34 | $113.46 | $43.59 | $22.69
46999 | T | Anus surgery procedure | 0149 | 12.86 | $623.54 | $293.06 | $124.71
47000 | T | Needle biopsy of liver | 0005 | 5.41 | $262.32 | $119.75 | $52.46
47001 | C | Needle biopsy, liver add-on |  |  |  |  |
47010 | C | Open drainage, liver lesion |  |  |  |  |
47011 | C | Percut drain, liver lesion |  |  |  |  |
47015 | C | Inject/aspirate liver cyst |  |  |  |  |
47100 | C | Wedge biopsy of liver |  |  |  |  |
47120 | C | Partial removal of liver |  |  |  |  |
47122 | C | Extensive removal of liver |  |  |  |  |
47125 | C | Partial removal of liver |  |  |  |  |
47130 | C | Partial removal of liver |  |  |  |  |
47133 | C | Removal of donor liver |  |  |  |  |
47134 | C | Partial removal, donor liver |  |  |  |  |
47135 | C | Transplantation of liver |  |  |  |  |
47136 | C | Transplantation of liver |  |  |  |  |
47300 | C | Surgery for liver lesion |  |  |  |  |
47350 | C | Repair liver wound |  |  |  |  |
47360 | C | Repair liver wound |  |  |  |  |
47361 | C | Repair liver wound |  |  |  |  |
47362 | C | Repair liver wound |  |  |  |  |
47399 | T | Liver surgery procedure | 0005 | 5.41 | $262.32 | $119.75 | $52.46
47400 | C | Incision of liver duct |  |  |  |  |
47420 | C | Incision of bile duct |  |  |  |  |
47425 | C | Incision of bile duct |  |  |  |  |
47460 | C | Incise bile duct sphincter |  |  |  |  |
47480 | C | Incision of gallbladder |  |  |  |  |
47490 | C | Incision of gallbladder |  |  |  |  |
47500 | N | Injection for liver x-rays |  |  |  |  |
47505 | N | Injection for liver x-rays |  |  |  |  |
47510 | T | Insert catheter, bile duct | 0152 | 8.22 | $398.56 | $207.38 | $79.71
47511 | T | Insert bile duct drain | 0152 | 8.22 | $398.56 | $207.38 | $79.71
47525 | T | Change bile duct catheter | 0122 | 5.04 | $244.37 | $114.93 | $48.88
47530 | T | Revise/reinsert bile tube | 0121 | 2.36 | $114.43 | $52.53 | $22.89
47550 | C | Bile duct endoscopy add-on |  |  |  |  |
47552 | T | Biliary endoscopy thru skin | 0152 | 8.22 | $398.56 | $207.38 | $79.71
47553 | T | Biliary endoscopy thru skin | 0152 | 8.22 | $398.56 | $207.38 | $79.71
47554 | T | Biliary endoscopy thru skin | 0152 | 8.22 | $398.56 | $207.38 | $79.71
47555 | T | Biliary endoscopy thru skin | 0152 | 8.22 | $398.56 | $207.38 | $79.71
47556 | T | Biliary endoscopy thru skin | 0152 | 8.22 | $398.56 | $207.38 | $79.71
47560 | T | Laparoscopy w/cholangio | 0130 | 25.36 | $1,229.63 | $659.53 | $245.93
47561 | T | Laparo w/cholangio/biopsy | 0130 | 25.36 | $1,229.63 | $659.53 | $245.93
47562 | T | Laparoscopic cholecystectomy | 0131 | 41.81 | $2,027.24 | $1,089.88 | $405.45
47563 | T | Laparo cholecystectomy/graph | 0131 | 41.81 | $2,027.24 | $1,089.88 | $405.45
47564 | T | Laparo cholecystectomy/explr | 0131 | 41.81 | $2,027.24 | $1,089.88 | $405.45
47570 | T | Laparo cholecystoenterostomy | 0131 | 41.81 | $2,027.24 | $1,089.88 | $405.45
47579 | T | Laparoscope proc, biliary | 0130 | 25.36 | $1,229.63 | $659.53 | $245.93
47600 | C | Removal of gallbladder |  |  |  |  |
47605 | C | Removal of gallbladder |  |  |  |  |
47610 | C | Removal of gallbladder |  |  |  |  |
47612 | C | Removal of gallbladder |  |  |  |  |
47620 | C | Removal of gallbladder |  |  |  |  |
47630 | T | Remove bile duct stone | 0152 | 8.22 | $398.56 | $207.38 | $79.71
47700 | C | Exploration of bile ducts |  |  |  |  |
47701 | C | Bile duct revision |  |  |  |  |
47711 | C | Excision of bile duct tumor |  |  |  |  |
47712 | C | Excision of bile duct tumor |  |  |  |  |
47715 | C | Excision of bile duct cyst |  |  |  |  |
47716 | C | Fusion of bile duct cyst |  |  |  |  |
47720 | C | Fuse gallbladder & bowel |  |  |  |  |
47721 | C | Fuse upper gi structures |  |  |  |  |
47740 | C | Fuse gallbladder & bowel |  |  |  |  |
47741 | C | Fuse gallbladder & bowel |  |  |  |  |
47760 | C | Fuse bile ducts and bowel |  |  |  |  |
47765 | C | Fuse liver ducts & bowel |  |  |  |  |
47780 | C | Fuse bile ducts and bowel |  |  |  |  |
47785 | C | Fuse bile ducts and bowel |  |  |  |  |
47800 | C | Reconstruction of bile ducts |  |  |  |  |
47801 | C | Placement, bile duct support |  |  |  |  |
47802 | C | Fuse liver duct & intestine |  |  |  |  |
47900 | C | Suture bile duct injury |  |  |  |  |
47999 | T | Bile tract surgery procedure | 0121 | 2.36 | $114.43 | $52.53 | $22.89
48000 | C | Drainage of abdomen |  |  |  |  |
48001 | C | Placement of drain, pancreas |  |  |  |  |
48005 | C | Resect/debride pancreas |  |  |  |  |
48020 | C | Removal of pancreatic stone |  |  |  |  |
48100 | C | Biopsy of pancreas |  |  |  |  |
48102 | T | Needle biopsy, pancreas | 0005 | 5.41 | $262.32 | $119.75 | $52.46
48120 | C | Removal of pancreas lesion |  |  |  |  |
48140 | C | Partial removal of pancreas |  |  |  |  |
48145 | C | Partial removal of pancreas |  |  |  |  |
48146 | C | Pancreatectomy |  |  |  |  |
48148 | C | Removal of pancreatic duct |  |  |  |  |
48150 | C | Partial removal of pancreas |  |  |  |  |
48152 | C | Pancreatectomy |  |  |  |  |
48153 | C | Pancreatectomy |  |  |  |  |
48154 | C | Pancreatectomy |  |  |  |  |
48155 | C | Removal of pancreas |  |  |  |  |
48160 | E | Pancreas removal/transplant |  |  |  |  |
48180 | C | Fuse pancreas and bowel |  |  |  |  |
48400 | C | Injection, intraop add-on |  |  |  |  |
48500 | C | Surgery of pancreas cyst |  |  |  |  |
48510 | C | Drain pancreatic pseudocyst |  |  |  |  |
48511 | C | Drain pancreatic pseudocyst |  |  |  |  |
48520 | C | Fuse pancreas cyst and bowel |  |  |  |  |
48540 | C | Fuse pancreas cyst and bowel |  |  |  |  |
48545 | C | Pancreatorrhaphy |  |  |  |  |
48547 | C | Duodenal exclusion |  |  |  |  |
48550 | E | Donor pancreatectomy |  |  |  |  |
48554 | E | Transpl allograft pancreas |  |  |  |  |
48556 | C | Removal, allograft pancreas |  |  |  |  |
48999 | T | Pancreas surgery procedure | 0005 | 5.41 | $262.32 | $119.75 | $52.46
49000 | C | Exploration of abdomen |  |  |  |  |
49002 | C | Reopening of abdomen |  |  |  |  |
49010 | C | Exploration behind abdomen |  |  |  |  |
49020 | C | Drain abdominal abscess |  |  |  |  |
49021 | C | Drain abdominal abscess |  |  |  |  |
49040 | C | Drain, open, abdom abscess |  |  |  |  |
49041 | C | Drain, percut, abdom abscess |  |  |  |  |
49060 | C | Drain, open, retrop abscess |  |  |  |  |
49061 | C | Drain, percut, retroper absc |  |  |  |  |
49062 | C | Drain to peritoneal cavity |  |  |  |  |
49080 | T | Puncture, peritoneal cavity | 0070 | 3.64 | $176.49 | $79.60 | $35.30
49081 | T | Removal of abdominal fluid | 0070 | 3.64 | $176.49 | $79.60 | $35.30
49085 | T | Remove abdomen foreign body | 0153 | 19.62 | $951.32 | $496.31 | $190.26
49180 | T | Biopsy, abdominal mass | 0005 | 5.41 | $262.32 | $119.75 | $52.46
49200 | C | Removal of abdominal lesion |  |  |  |  |
49201 | C | Removal of abdominal lesion |  |  |  |  |
49215 | C | Excise sacral spine tumor |  |  |  |  |
49220 | C | Multiple surgery, abdomen |  |  |  |  |
49250 | T | Excision of umbilicus | 0153 | 19.62 | $951.32 | $496.31 | $190.26
49255 | C | Removal of omentum |  |  |  |  |
49320 | T | Diag laparo separate proc | 0130 | 25.36 | $1,229.63 | $659.53 | $245.93
49321 | T | Laparoscopy, biopsy | 0130 | 25.36 | $1,229.63 | $659.53 | $245.93
49322 | T | Laparoscopy, aspiration | 0130 | 25.36 | $1,229.63 | $659.53 | $245.93
49323 | T | Laparo drain lymphocele | 0130 | 25.36 | $1,229.63 | $659.53 | $245.93
49329 | T | Laparo proc, abdm/per/oment | 0130 | 25.36 | $1,229.63 | $659.53 | $245.93
49400 | N | Air injection into abdomen |  |  |  |  |
49420 | T | Insert abdominal drain | 0153 | 19.62 | $951.32 | $496.31 | $190.26
49421 | T | Insert abdominal drain | 0153 | 19.62 | $951.32 | $496.31 | $190.26
49422 | T | Remove perm cannula/catheter | 0123 | 13.89 | $673.49 | $350.75 | $134.70
49423 | T | Exchange drainage catheter | 0153 | 19.62 | $951.32 | $496.31 | $190.26
49424 | N | Assess cyst, contrast inject |  |  |  |  |
49425 | C | Insert abdomen-venous drain |  |  |  |  |
49426 | T | Revise abdomen-venous shunt | 0153 | 19.62 | $951.32 | $496.31 | $190.26
49427 | N | Injection, abdominal shunt |  |  |  |  |
49428 | C | Ligation of shunt |  |  |  |  |
49429 | T | Removal of shunt | 0123 | 13.89 | $673.49 | $350.75 | $134.70
49495 | T | Repair inguinal hernia, init | 0154 | 22.43 | $1,087.57 | $556.98 | $217.51
49496 | T | Repair inguinal hernia, init | 0154 | 22.43 | $1,087.57 | $556.98 | $217.51
49500 | T | Repair inguinal hernia | 0154 | 22.43 | $1,087.57 | $556.98 | $217.51
49501 | T | Repair inguinal hernia, init | 0154 | 22.43 | $1,087.57 | $556.98 | $217.51
49505 | T | Repair inguinal hernia | 0154 | 22.43 | $1,087.57 | $556.98 | $217.51
49507 | T | Repair inguinal hernia | 0154 | 22.43 | $1,087.57 | $556.98 | $217.51
49520 | T | Rerepair inguinal hernia | 0154 | 22.43 | $1,087.57 | $556.98 | $217.51
49521 | T | Repair inguinal hernia, rec | 0154 | 22.43 | $1,087.57 | $556.98 | $217.51
49525 | T | Repair inguinal hernia | 0154 | 22.43 | $1,087.57 | $556.98 | $217.51
49540 | T | Repair lumbar hernia | 0154 | 22.43 | $1,087.57 | $556.98 | $217.51
49550 | T | Repair femoral hernia | 0154 | 22.43 | $1,087.57 | $556.98 | $217.51
49553 | T | Repair femoral hernia, init | 0154 | 22.43 | $1,087.57 | $556.98 | $217.51
49555 | T | Repair femoral hernia | 0154 | 22.43 | $1,087.57 | $556.98 | $217.51
49557 | T | Repair femoral hernia, recur | 0154 | 22.43 | $1,087.57 | $556.98 | $217.51
49560 | T | Repair abdominal hernia | 0154 | 22.43 | $1,087.57 | $556.98 | $217.51
49561 | T | Repair incisional hernia | 0154 | 22.43 | $1,087.57 | $556.98 | $217.51
49565 | T | Rerepair abdominal hernia | 0154 | 22.43 | $1,087.57 | $556.98 | $217.51
49566 | T | Repair incisional hernia | 0154 | 22.43 | $1,087.57 | $556.98 | $217.51
49568 | T | Hernia repair w/mesh | 0154 | 22.43 | $1,087.57 | $556.98 | $217.51
49570 | T | Repair epigastric hernia | 0154 | 22.43 | $1,087.57 | $556.98 | $217.51
49572 | T | Repair epigastric hernia | 0154 | 22.43 | $1,087.57 | $556.98 | $217.51
49580 | T | Repair umbilical hernia | 0154 | 22.43 | $1,087.57 | $556.98 | $217.51
49582 | T | Repair umbilical hernia | 0154 | 22.43 | $1,087.57 | $556.98 | $217.51
49585 | T | Repair umbilical hernia | 0154 | 22.43 | $1,087.57 | $556.98 | $217.51
49587 | T | Repair umbilical hernia | 0154 | 22.43 | $1,087.57 | $556.98 | $217.51
49590 | T | Repair abdominal hernia | 0154 | 22.43 | $1,087.57 | $556.98 | $217.51
49600 | T | Repair umbilical lesion | 0154 | 22.43 | $1,087.57 | $556.98 | $217.51
49605 | C | Repair umbilical lesion |  |  |  |  |
49606 | C | Repair umbilical lesion |  |  |  |  |
49610 | C | Repair umbilical lesion |  |  |  |  |
49611 | C | Repair umbilical lesion |  |  |  |  |
49650 | T | Laparo hernia repair initial | 0131 | 41.81 | $2,027.24 | $1,089.88 | $405.45
49651 | T | Laparo hernia repair recur | 0131 | 41.81 | $2,027.24 | $1,089.88 | $405.45
49659 | T | Laparo proc, hernia repair | 0131 | 41.81 | $2,027.24 | $1,089.88 | $405.45
49900 | C | Repair of abdominal wall |  |  |  |  |
49905 | C | Omental flap |  |  |  |  |
49906 | C | Free omental flap, microvasc |  |  |  |  |
49999 | T | Abdomen surgery procedure | 0121 | 2.36 | $114.43 | $52.53 | $22.89
50010 | C | Exploration of kidney |  |  |  |  |
50020 | C | Renal abscess, open drain |  |  |  |  |
50021 | C | Renal abscess, percut drain |  |  |  |  |
50040 | C | Drainage of kidney |  |  |  |  |
50045 | C | Exploration of kidney |  |  |  |  |
50060 | C | Removal of kidney stone |  |  |  |  |
50065 | C | Incision of kidney |  |  |  |  |
50070 | C | Incision of kidney |  |  |  |  |
50075 | C | Removal of kidney stone |  |  |  |  |
50080 | T | Removal of kidney stone | 0163 | 28.98 | $1,405.16 | $792.58 | $281.03
50081 | T | Removal of kidney stone | 0163 | 28.98 | $1,405.16 | $792.58 | $281.03
50100 | C | Revise kidney blood vessels |  |  |  |  |
50120 | C | Exploration of kidney |  |  |  |  |
50125 | C | Explore and drain kidney |  |  |  |  |
50130 | C | Removal of kidney stone |  |  |  |  |
50135 | C | Exploration of kidney |  |  |  |  |
50200 | T | Biopsy of kidney | 0005 | 5.41 | $262.32 | $119.75 | $52.46
50205 | C | Biopsy of kidney |  |  |  |  |
50220 | C | Removal of kidney |  |  |  |  |
50225 | C | Removal of kidney |  |  |  |  |
50230 | C | Removal of kidney |  |  |  |  |
50234 | C | Removal of kidney & ureter |  |  |  |  |
50236 | C | Removal of kidney & ureter |  |  |  |  |
50240 | C | Partial removal of kidney |  |  |  |  |
50280 | C | Removal of kidney lesion |  |  |  |  |
50290 | C | Removal of kidney lesion |  |  |  |  |
50300 | C | Removal of donor kidney |  |  |  |  |
50320 | C | Removal of donor kidney |  |  |  |  |
50340 | C | Removal of kidney |  |  |  |  |
50360 | C | Transplantation of kidney |  |  |  |  |
50365 | C | Transplantation of kidney |  |  |  |  |
50370 | C | Remove transplanted kidney |  |  |  |  |
50380 | C | Reimplantation of kidney |  |  |  |  |
50390 | T | Drainage of kidney lesion | 0005 | 5.41 | $262.32 | $119.75 | $52.46
50392 | T | Insert kidney drain | 0160 | 5.43 | $263.28 | $110.11 | $52.66
50393 | T | Insert ureteral tube | 0160 | 5.43 | $263.28 | $110.11 | $52.66
50394 | N | Injection for kidney x-ray |  |  |  |  |
50395 | T | Create passage to kidney | 0160 | 5.43 | $263.28 | $110.11 | $52.66
50396 | T | Measure kidney pressure | 0165 | 3.89 | $188.61 | $91.76 | $37.72
50398 | T | Change kidney tube | 0122 | 5.04 | $244.37 | $114.93 | $48.88
50400 | C | Revision of kidney/ureter |  |  |  |  |
50405 | C | Revision of kidney/ureter |  |  |  |  |
50500 | C | Repair of kidney wound |  |  |  |  |
50520 | C | Close kidney-skin fistula |  |  |  |  |
50525 | C | Repair renal-abdomen fistula |  |  |  |  |
50526 | C | Repair renal-abdomen fistula |  |  |  |  |
50540 | C | Revision of horseshoe kidney |  |  |  |  |
50541 | T | Laparo ablate renal cyst | 0131 | 41.81 | $2,027.24 | $1,089.88 | $405.45
50544 | T | Laparoscopy, pyeloplasty | 0131 | 41.81 | $2,027.24 | $1,089.88 | $405.45
50546 | C | Laparoscopic nephrectomy |  |  |  |  |
50547 | C | Laparo removal donor kidney |  |  |  |  |
50548 | T | Laparo-asst remove k/ureter | 0132 | 48.91 | $2,371.50 | $1,239.22 | $474.30
50549 | T | Laparoscope proc, renal | 0130 | 25.36 | $1,229.63 | $659.53 | $245.93
50551 | T | Kidney endoscopy | 0161 | 10.94 | $530.45 | $249.36 | $106.09
50553 | T | Kidney endoscopy | 0161 | 10.94 | $530.45 | $249.36 | $106.09
50555 | T | Kidney endoscopy & biopsy | 0161 | 10.94 | $530.45 | $249.36 | $106.09
50557 | T | Kidney endoscopy & treatment | 0161 | 10.94 | $530.45 | $249.36 | $106.09
50559 | T | Renal endoscopy/radiotracer | 0161 | 10.94 | $530.45 | $249.36 | $106.09
50561 | T | Kidney endoscopy & treatment | 0161 | 10.94 | $530.45 | $249.36 | $106.09
50570 | C | Kidney endoscopy |  |  |  |  |
50572 | C | Kidney endoscopy |  |  |  |  |
50574 | C | Kidney endoscopy & biopsy |  |  |  |  |
50575 | C | Kidney endoscopy |  |  |  |  |
50576 | C | Kidney endoscopy & treatment |  |  |  |  |
50578 | C | Renal endoscopy/radiotracer |  |  |  |  |
50580 | C | Kidney endoscopy & treatment |  |  |  |  |
50590 | T | Fragmenting of kidney stone | 0169 | 46.72 | $2,265.32 | $1,384.20 | $453.06
50600 | C | Exploration of ureter |  |  |  |  |
50605 | C | Insert ureteral support |  |  |  |  |
50610 | C | Removal of ureter stone |  |  |  |  |
50620 | C | Removal of ureter stone |  |  |  |  |
50630 | C | Removal of ureter stone |  |  |  |  |
50650 | C | Removal of ureter |  |  |  |  |
50660 | C | Removal of ureter |  |  |  |  |
50684 | N | Injection for ureter x-ray |  |  |  |  |
50686 | T | Measure ureter pressure | 0165 | 3.89 | $188.61 | $91.76 | $37.72
50688 | T | Change of ureter tube | 0121 | 2.36 | $114.43 | $52.53 | $22.89
50690 | N | Injection for ureter x-ray |  |  |  |  |
50700 | C | Revision of ureter |  |  |  |  |
50715 | C | Release of ureter |  |  |  |  |
50722 | C | Release of ureter |  |  |  |  |
50725 | C | Release/revise ureter |  |  |  |  |
50727 | C | Revise ureter |  |  |  |  |
50728 | C | Revise ureter |  |  |  |  |
50740 | C | Fusion of ureter & kidney |  |  |  |  |
50750 | C | Fusion of ureter & kidney |  |  |  |  |
50760 | C | Fusion of ureters |  |  |  |  |
50770 | C | Splicing of ureters |  |  |  |  |
50780 | C | Reimplant ureter in bladder |  |  |  |  |
50782 | C | Reimplant ureter in bladder |  |  |  |  |
50783 | C | Reimplant ureter in bladder |  |  |  |  |
50785 | C | Reimplant ureter in bladder |  |  |  |  |
50800 | C | Implant ureter in bowel |  |  |  |  |
50810 | C | Fusion of ureter & bowel |  |  |  |  |
50815 | C | Urine shunt to bowel |  |  |  |  |
50820 | C | Construct bowel bladder |  |  |  |  |
50825 | C | Construct bowel bladder |  |  |  |  |
50830 | C | Revise urine flow |  |  |  |  |
50840 | C | Replace ureter by bowel |  |  |  |  |
50845 | C | Appendico-vesicostomy |  |  |  |  |
50860 | C | Transplant ureter to skin |  |  |  |  |
50900 | C | Repair of ureter |  |  |  |  |
50920 | C | Closure ureter/skin fistula |  |  |  |  |
50930 | C | Closure ureter/bowel fistula |  |  |  |  |
50940 | C | Release of ureter |  |  |  |  |
50945 | T | Laparoscopy ureterolithotomy | 0131 | 41.81 | $2,027.24 | $1,089.88 | $405.45
50951 | T | Endoscopy of ureter | 0162 | 17.49 | $848.04 | $427.49 | $169.61
50953 | T | Endoscopy of ureter | 0162 | 17.49 | $848.04 | $427.49 | $169.61
50955 | T | Ureter endoscopy & biopsy | 0162 | 17.49 | $848.04 | $427.49 | $169.61
50957 | T | Ureter endoscopy & treatment | 0162 | 17.49 | $848.04 | $427.49 | $169.61
50959 | T | Ureter endoscopy & tracer | 0162 | 17.49 | $848.04 | $427.49 | $169.61
50961 | T | Ureter endoscopy & treatment | 0162 | 17.49 | $848.04 | $427.49 | $169.61
50970 | C | Ureter endoscopy |  |  |  |  |
50972 | C | Ureter endoscopy & catheter |  |  |  |  |
50974 | C | Ureter endoscopy & biopsy |  |  |  |  |
50976 | C | Ureter endoscopy & treatment |  |  |  |  |
50978 | C | Ureter endoscopy & tracer |  |  |  |  |
50980 | C | Ureter endoscopy & treatment |  |  |  |  |
51000 | T | Drainage of bladder | 0165 | 3.89 | $188.61 | $91.76 | $37.72
51005 | T | Drainage of bladder | 0164 | 2.17 | $105.23 | $33.03 | $21.05
51010 | T | Drainage of bladder | 0165 | 3.89 | $188.61 | $91.76 | $37.72
51020 | T | Incise & treat bladder | 0162 | 17.49 | $848.04 | $427.49 | $169.61
51030 | T | Incise & treat bladder | 0162 | 17.49 | $848.04 | $427.49 | $169.61
51040 | T | Incise & drain bladder | 0162 | 17.49 | $848.04 | $427.49 | $169.61
51045 | T | Incise bladder/drain ureter | 0162 | 17.49 | $848.04 | $427.49 | $169.61
51050 | T | Removal of bladder stone | 0162 | 17.49 | $848.04 | $427.49 | $169.61
51060 | C | Removal of ureter stone |  |  |  |  |
51065 | T | Removal of ureter stone | 0162 | 17.49 | $848.04 | $427.49 | $169.61
51080 | T | Drainage of bladder abscess | 0008 | 6.15 | $298.20 | $113.67 | $59.64
51500 | T | Removal of bladder cyst | 0154 | 22.43 | $1,087.57 | $556.98 | $217.51
51520 | T | Removal of bladder lesion | 0162 | 17.49 | $848.04 | $427.49 | $169.61
51525 | C | Removal of bladder lesion |  |  |  |  |
51530 | C | Removal of bladder lesion |  |  |  |  |
51535 | C | Repair of ureter lesion |  |  |  |  |
51550 | C | Partial removal of bladder |  |  |  |  |
51555 | C | Partial removal of bladder |  |  |  |  |
51565 | C | Revise bladder & ureter(s) |  |  |  |  |
51570 | C | Removal of bladder |  |  |  |  |
51575 | C | Removal of bladder & nodes |  |  |  |  |
51580 | C | Remove bladder/revise tract |  |  |  |  |
51585 | C | Removal of bladder & nodes |  |  |  |  |
51590 | C | Remove bladder/revise tract |  |  |  |  |
51595 | C | Remove bladder/revise tract |  |  |  |  |
51596 | C | Remove bladder/create pouch |  |  |  |  |
51597 | C | Removal of pelvic structures |  |  |  |  |
51600 | N | Injection for bladder x-ray |  |  |  |  |
51605 | N | Preparation for bladder x-ray |  |  |  |  |
51610 | N | Injection for bladder x-ray |  |  |  |  |
51700 | T | Irrigation of bladder | 0164 | 2.17 | $105.23 | $33.03 | $21.05
51705 | T | Change of bladder tube | 0121 | 2.36 | $114.43 | $52.53 | $22.89
51710 | T | Change of bladder tube | 0121 | 2.36 | $114.43 | $52.53 | $22.89
51715 | T | Endoscopic injection/implant | 0167 | 21.06 | $1,021.14 | $555.84 | $204.23
51720 | T | Treatment of bladder lesion | 0165 | 3.89 | $188.61 | $91.76 | $37.72
51725 | T | Simple cystometrogram | 0165 | 3.89 | $188.61 | $91.76 | $37.72
51726 | T | Complex cystometrogram | 0165 | 3.89 | $188.61 | $91.76 | $37.72
51736 | T | Urine flow measurement | 0164 | 2.17 | $105.23 | $33.03 | $21.05
51741 | T | Electro-uroflowmetry, first | 0164 | 2.17 | $105.23 | $33.03 | $21.05
51772 | T | Urethra pressure profile | 0165 | 3.89 | $188.61 | $91.76 | $37.72
51784 | T | Anal/urinary muscle study | 0164 | 2.17 | $105.23 | $33.03 | $21.05
51785 | T | Anal/urinary muscle study | 0164 | 2.17 | $105.23 | $33.03 | $21.05
51792 | T | Urinary reflex study | 0165 | 3.89 | $188.61 | $91.76 | $37.72
51795 | T | Urine voiding pressure study | 0164 | 2.17 | $105.23 | $33.03 | $21.05
51797 | T | Intraabdominal pressure test | 0164 | 2.17 | $105.23 | $33.03 | $21.05
51800 | C | Revision of bladder/urethra |  |  |  |  |
51820 | C | Revision of urinary tract |  |  |  |  |
51840 | C | Attach bladder/urethra |  |  |  |  |
51841 | C | Attach bladder/urethra |  |  |  |  |
51845 | C | Repair bladder neck |  |  |  |  |
51860 | C | Repair of bladder wound |  |  |  |  |
51865 | C | Repair of bladder wound |  |  |  |  |
51880 | T | Repair of bladder opening | 0162 | 17.49 | $848.04 | $427.49 | $169.61
51900 | C | Repair bladder/vagina lesion |  |  |  |  |
51920 | C | Close bladder-uterus fistula |  |  |  |  |
51925 | C | Hysterectomy/bladder repair |  |  |  |  |
51940 | C | Correction of bladder defect |  |  |  |  |
51960 | C | Revision of bladder & bowel |  |  |  |  |
51980 | C | Construct bladder opening |  |  |  |  |
51990 | T | Laparo urethral suspension | 0131 | 41.81 | $2,027.24 | $1,089.88 | $405.45
51992 | T | Laparo sling operation | 0132 | 48.91 | $2,371.50 | $1,239.22 | $474.30
52000 | T | Cystoscopy | 0160 | 5.43 | $263.28 | $110.11 | $52.66
52005 | T | Cystoscopy & ureter catheter | 0161 | 10.94 | $530.45 | $249.36 | $106.09
52007 | T | Cystoscopy and biopsy | 0161 | 10.94 | $530.45 | $249.36 | $106.09
52010 | T | Cystoscopy & duct catheter | 0161 | 10.94 | $530.45 | $249.36 | $106.09
52204 | T | Cystoscopy | 0161 | 10.94 | $530.45 | $249.36 | $106.09
52214 | T | Cystoscopy and treatment | 0161 | 10.94 | $530.45 | $249.36 | $106.09
52224 | T | Cystoscopy and treatment | 0161 | 10.94 | $530.45 | $249.36 | $106.09
52234 | T | Cystoscopy and treatment | 0162 | 17.49 | $848.04 | $427.49 | $169.61
52235 | T | Cystoscopy and treatment | 0162 | 17.49 | $848.04 | $427.49 | $169.61
52240 | T | Cystoscopy and treatment | 0163 | 28.98 | $1,405.16 | $792.58 | $281.03
52250 | T | Cystoscopy and radiotracer | 0162 | 17.49 | $848.04 | $427.49 | $169.61
52260 | T | Cystoscopy and treatment | 0161 | 10.94 | $530.45 | $249.36 | $106.09
52265 | T | Cystoscopy and treatment | 0160 | 5.43 | $263.28 | $110.11 | $52.66
52270 | T | Cystoscopy & revise urethra | 0161 | 10.94 | $530.45 | $249.36 | $106.09
52275 | T | Cystoscopy & revise urethra | 0161 | 10.94 | $530.45 | $249.36 | $106.09
52276 | T | Cystoscopy and treatment | 0161 | 10.94 | $530.45 | $249.36 | $106.09
52277 | T | Cystoscopy and treatment | 0162 | 17.49 | $848.04 | $427.49 | $169.61
52281 | T | Cystoscopy and treatment | 0161 | 10.94 | $530.45 | $249.36 | $106.09
52282 | T | Cystoscopy, implant stent | 0162 | 17.49 | $848.04 | $427.49 | $169.61
52283 | T | Cystoscopy and treatment | 0161 | 10.94 | $530.45 | $249.36 | $106.09
52285 | T | Cystoscopy and treatment | 0161 | 10.94 | $530.45 | $249.36 | $106.09
52290 | T | Cystoscopy and treatment | 0161 | 10.94 | $530.45 | $249.36 | $106.09
52300 | T | Cystoscopy and treatment | 0161 | 10.94 | $530.45 | $249.36 | $106.09
52301 | T | Cystoscopy and treatment | 0161 | 10.94 | $530.45 | $249.36 | $106.09
52305 | T | Cystoscopy and treatment | 0161 | 10.94 | $530.45 | $249.36 | $106.09
52310 | T | Cystoscopy and treatment | 0161 | 10.94 | $530.45 | $249.36 | $106.09
52315 | T | Cystoscopy and treatment | 0161 | 10.94 | $530.45 | $249.36 | $106.09
52317 | T | Remove bladder stone | 0162 | 17.49 | $848.04 | $427.49 | $169.61
52318 | T | Remove bladder stone | 0162 | 17.49 | $848.04 | $427.49 | $169.61
52320 | T | Cystoscopy and treatment | 0162 | 17.49 | $848.04 | $427.49 | $169.61
52325 | T | Cystoscopy, stone removal | 0162 | 17.49 | $848.04 | $427.49 | $169.61
52327 | T | Cystoscopy, inject material | 0161 | 10.94 | $530.45 | $249.36 | $106.09
52330 | T | Cystoscopy and treatment | 0162 | 17.49 | $848.04 | $427.49 | $169.61
52332 | T | Cystoscopy and treatment | 0162 | 17.49 | $848.04 | $427.49 | $169.61
52334 | T | Create passage to kidney | 0162 | 17.49 | $848.04 | $427.49 | $169.61
52335 | T | Endoscopy of urinary tract | 0162 | 17.49 | $848.04 | $427.49 | $169.61
52336 | T | Cystoscopy, stone removal | 0162 | 17.49 | $848.04 | $427.49 | $169.61
52337 | T | Cystoscopy, stone removal | 0162 | 17.49 | $848.04 | $427.49 | $169.61
52338 | T | Cystoscopy and treatment | 0162 | 17.49 | $848.04 | $427.49 | $169.61
52339 | T | Cystoscopy and treatment | 0162 | 17.49 | $848.04 | $427.49 | $169.61
52340 | T | Cystoscopy and treatment | 0162 | 17.49 | $848.04 | $427.49 | $169.61
52450 | T | Incision of prostate | 0162 | 17.49 | $848.04 | $427.49 | $169.61
52500 | T | Revision of bladder neck | 0162 | 17.49 | $848.04 | $427.49 | $169.61
52510 | T | Dilation prostatic urethra | 0161 | 10.94 | $530.45 | $249.36 | $106.09
52601 | T | Prostatectomy (TURP) | 0163 | 28.98 | $1,405.16 | $792.58 | $281.03
52606 | T | Control postop bleeding | 0162 | 17.49 | $848.04 | $427.49 | $169.61
52612 | T | Prostatectomy, first stage | 0163 | 28.98 | $1,405.16 | $792.58 | $281.03
52614 | T | Prostatectomy, second stage | 0163 | 28.98 | $1,405.16 | $792.58 | $281.03
52620 | T | Remove residual prostate | 0163 | 28.98 | $1,405.16 | $792.58 | $281.03
52630 | T | Remove prostate regrowth | 0163 | 28.98 | $1,405.16 | $792.58 | $281.03
52640 | T | Relieve bladder contracture | 0162 | 17.49 | $848.04 | $427.49 | $169.61
52647 | T | Laser surgery of prostate | 0163 | 28.98 | $1,405.16 | $792.58 | $281.03
52648 | T | Laser surgery of prostate | 0163 | 28.98 | $1,405.16 | $792.58 | $281.03
52700 | T | Drainage of prostate abscess | 0162 | 17.49 | $848.04 | $427.49 | $169.61
53000 | T | Incision of urethra | 0166 | 10.17 | $493.11 | $218.73 | $98.62
53010 | T | Incision of urethra | 0166 | 10.17 | $493.11 | $218.73 | $98.62
53020 | T | Incision of urethra | 0166 | 10.17 | $493.11 | $218.73 | $98.62
53025 | T | Incision of urethra | 0166 | 10.17 | $493.11 | $218.73 | $98.62
53040 | T | Drainage of urethra abscess | 0166 | 10.17 | $493.11 | $218.73 | $98.62
53060 | T | Drainage of urethra abscess | 0166 | 10.17 | $493.11 | $218.73 | $98.62
53080 | T | Drainage of urinary leakage | 0166 | 10.17 | $493.11 | $218.73 | $98.62
53085 | C | Drainage of urinary leakage |  |  |  |  |
53200 | T | Biopsy of urethra | 0166 | 10.17 | $493.11 | $218.73 | $98.62
53210 | T | Removal of urethra | 0168 | 24.94 | $1,209.27 | $536.11 | $241.85
53215 | T | Removal of urethra | 0168 | 24.94 | $1,209.27 | $536.11 | $241.85
53220 | T | Treatment of urethra lesion | 0168 | 24.94 | $1,209.27 | $536.11 | $241.85
53230 | T | Removal of urethra lesion | 0168 | 24.94 | $1,209.27 | $536.11 | $241.85
53235 | T | Removal of urethra lesion | 0168 | 24.94 | $1,209.27 | $536.11 | $241.85
53240 | T | Surgery for urethra pouch | 0168 | 24.94 | $1,209.27 | $536.11 | $241.85
53250 | T | Removal of urethra gland | 0166 | 10.17 | $493.11 | $218.73 | $98.62
53260 | T | Treatment of urethra lesion | 0166 | 10.17 | $493.11 | $218.73 | $98.62
53265 | T | Treatment of urethra lesion | 0166 | 10.17 | $493.11 | $218.73 | $98.62
53270 | T | Removal of urethra gland | 0167 | 21.06 | $1,021.14 | $555.84 | $204.23
53275 | T | Repair of urethra defect | 0166 | 10.17 | $493.11 | $218.73 | $98.62
53400 | T | Revise urethra, stage 1 | 0168 | 24.94 | $1,209.27 | $536.11 | $241.85
53405 | T | Revise urethra, stage 2 | 0168 | 24.94 | $1,209.27 | $536.11 | $241.85
53410 | T | Reconstruction of urethra | 0168 | 24.94 | $1,209.27 | $536.11 | $241.85
53415 | C | Reconstruction of urethra |  |  |  |  |
53420 | T | Reconstruct urethra, stage 1 | 0168 | 24.94 | $1,209.27 | $536.11 | $241.85
53425 | T | Reconstruct urethra, stage 2 | 0168 | 24.94 | $1,209.27 | $536.11 | $241.85
53430 | T | Reconstruction of urethra | 0168 | 24.94 | $1,209.27 | $536.11 | $241.85
53440 | T | Correct bladder function | 0182 | 52.11 | $2,526.66 | $1,525.05 | $505.33
53442 | T | Remove perineal prosthesis | 0166 | 10.17 | $493.11 | $218.73 | $98.62
53443 | C | Reconstruction of urethra |  |  |  |  |
53445 | T | Correct urine flow control | 0182 | 52.11 | $2,526.66 | $1,525.05 | $505.33
53447 | T | Remove artificial sphincter | 0168 | 24.94 | $1,209.27 | $536.11 | $241.85
53449 | T | Correct artificial sphincter | 0168 | 24.94 | $1,209.27 | $536.11 | $241.85
53450 | T | Revision of urethra | 0168 | 24.94 | $1,209.27 | $536.11 | $241.85
53460 | T | Revision of urethra | 0168 | 24.94 | $1,209.27 | $536.11 | $241.85
53502 | T | Repair of urethra injury | 0166 | 10.17 | $493.11 | $218.73 | $98.62
53505 | T | Repair of urethra injury | 0167 | 21.06 | $1,021.14 | $555.84 | $204.23
53510 | T | Repair of urethra injury | 0166 | 10.17 | $493.11 | $218.73 | $98.62
53515 | T | Repair of urethra injury | 0168 | 24.94 | $1,209.27 | $536.11 | $241.85
53520 | T | Repair of urethra defect | 0168 | 24.94 | $1,209.27 | $536.11 | $241.85
53600 | T | Dilate urethra stricture | 0164 | 2.17 | $105.23 | $33.03 | $21.05
53601 | T | Dilate urethra stricture | 0164 | 2.17 | $105.23 | $33.03 | $21.05
53605 | T | Dilate urethra stricture | 0161 | 10.94 | $530.45 | $249.36 | $106.09
53620 | T | Dilate urethra stricture | 0165 | 3.89 | $188.61 | $91.76 | $37.72
53621 | T | Dilate urethra stricture | 0164 | 2.17 | $105.23 | $33.03 | $21.05
53660 | T | Dilation of urethra | 0164 | 2.17 | $105.23 | $33.03 | $21.05
53661 | T | Dilation of urethra | 0164 | 2.17 | $105.23 | $33.03 | $21.05
53665 | T | Dilation of urethra | 0166 | 10.17 | $493.11 | $218.73 | $98.62
53670 | N | Insert urinary catheter |  |  |  |  |
53675 | T | Insert urinary catheter | 0164 | 2.17 | $105.23 | $33.03 | $21.05
² 53850 | T | Prostatic microwave thermotx | 0980 | 38.67 | $1,875.00 |  | $375.00
² 53852 | T | Prostatic rf thermotx | 0980 | 38.67 | $1,875.00 |  | $375.00
53899 | T | Urology surgery procedure | 0165 | 3.89 | $188.61 | $91.76 | $37.72
54000 | T | Slitting of prepuce | 0166 | 10.17 | $493.11 | $218.73 | $98.62
54001 | T | Slitting of prepuce | 0166 | 10.17 | $493.11 | $218.73 | $98.62
54015 | T | Drain penis lesion | 0008 | 6.15 | $298.20 | $113.67 | $59.64
54050 | T | Destruction, penis lesion(s) | 0013 | 0.91 | $44.12 | $17.66 | $8.82
54055 | T | Destruction, penis lesion(s) | 0016 | 3.53 | $171.16 | $74.67 | $34.23
54056 | T | Cryosurgery, penis lesion(s) | 0013 | 0.91 | $44.12 | $17.66 | $8.82
54057 | T | Laser surg, penis lesion(s) | 0017 | 12.45 | $603.66 | $289.16 | $120.73
54060 | T | Excision of penis lesion(s) | 0017 | 12.45 | $603.66 | $289.16 | $120.73
54065 | T | Destruction, penis lesion(s) | 0017 | 12.45 | $603.66 | $289.16 | $120.73
54100 | T | Biopsy of penis | 0020 | 6.51 | $315.65 | $130.53 | $63.13
54105 | T | Biopsy of penis | 0021 | 10.49 | $508.63 | $236.51 | $101.73
54110 | T | Treatment of penis lesion | 0181 | 32.37 | $1,569.53 | $906.36 | $313.91
54111 | T | Treat penis lesion, graft | 0181 | 32.37 | $1,569.53 | $906.36 | $313.91
54112 | T | Treat penis lesion, graft | 0181 | 32.37 | $1,569.53 | $906.36 | $313.91
54115 | T | Treatment of penis lesion | 0008 | 6.15 | $298.20 | $113.67 | $59.64
54120 | T | Partial removal of penis | 0181 | 32.37 | $1,569.53 | $906.36 | $313.91
54125 | C | Removal of penis |  |  |  |  |
54130 | C | Remove penis & nodes |  |  |  |  |
54135 | C | Remove penis & nodes |  |  |  |  |
54150 | T | Circumcision | 0180 | 13.62 | $660.39 | $304.87 | $132.08
54152 | T | Circumcision | 0180 | 13.62 | $660.39 | $304.87 | $132.08
54160 | T | Circumcision | 0180 | 13.62 | $660.39 | $304.87 | $132.08
54161 | T | Circumcision | 0180 | 13.62 | $660.39 | $304.87 | $132.08
54200 | T | Treatment of penis lesion | 0165 | 3.89 | $188.61 | $91.76 | $37.72
54205 | T | Treatment of penis lesion | 0181 | 32.37 | $1,569.53 | $906.36 | $313.91
54220 | T | Treatment of penis lesion | 0165 | 3.89 | $188.61 | $91.76 | $37.72
54230 | N | Prepare penis study |  |  |  |  |
54231 | T | Dynamic cavernosometry | 0165 | 3.89 | $188.61 | $91.76 | $37.72
54235 | T | Penile injection | 0164 | 2.17 | $105.23 | $33.03 | $21.05
54240 | T | Penis study | 0164 | 2.17 | $105.23 | $33.03 | $21.05
54250 | T | Penis study | 0165 | 3.89 | $188.61 | $91.76 | $37.72
54300 | T | Revision of penis | 0181 | 32.37 | $1,569.53 | $906.36 | $313.91
54304 | T | Revision of penis | 0181 | 32.37 | $1,569.53 | $906.36 | $313.91
54308 | T | Reconstruction of urethra | 0181 | 32.37 | $1,569.53 | $906.36 | $313.91
54312 | T | Reconstruction of urethra | 0181 | 32.37 | $1,569.53 | $906.36 | $313.91
54316 | T | Reconstruction of urethra | 0181 | 32.37 | $1,569.53 | $906.36 | $313.91
54318 | T | Reconstruction of urethra | 0181 | 32.37 | $1,569.53 | $906.36 | $313.91
54322 | T | Reconstruction of urethra | 0181 | 32.37 | $1,569.53 | $906.36 | $313.91
54324 | T | Reconstruction of urethra | 0181 | 32.37 | $1,569.53 | $906.36 | $313.91
54326 | T | Reconstruction of urethra | 0181 | 32.37 | $1,569.53 | $906.36 | $313.91
54328 | T | Revise penis/urethra | 0181 | 32.37 | $1,569.53 | $906.36 | $313.91
54332 | C | Revise penis/urethra |  |  |  |  |
54336 | C | Revise penis/urethra |  |  |  |  |
54340 | T | Secondary urethral surgery | 0181 | 32.37 | $1,569.53 | $906.36 | $313.91
54344 | T | Secondary urethral surgery | 0181 | 32.37 | $1,569.53 | $906.36 | $313.91
54348 | T | Secondary urethral surgery | 0181 | 32.37 | $1,569.53 | $906.36 | $313.91
54352 | T | Reconstruct urethra/penis | 0181 | 32.37 | $1,569.53 | $906.36 | $313.91
54360 | T | Penis plastic surgery | 0181 | 32.37 | $1,569.53 | $906.36 | $313.91
54380 | T | Repair penis | 0181 | 32.37 | $1,569.53 | $906.36 | $313.91
54385 | T | Repair penis | 0181 | 32.37 | $1,569.53 | $906.36 | $313.91
54390 | C | Repair penis and bladder |  |  |  |  |
54400 | T | Insert semi-rigid prosthesis | 0182 | 52.11 | $2,526.66 | $1,525.05 | $505.33
54401 | T | Insert self-contd prosthesis | 0182 | 52.11 | $2,526.66 | $1,525.05 | $505.33
54402 | T | Remove penis prosthesis | 0181 | 32.37 | $1,569.53 | $906.36 | $313.91
54405 | T | Insert multi-comp prosthesis | 0182 | 52.11 | $2,526.66 | $1,525.05 | $505.33
54407 | T | Remove multi-comp prosthesis | 0181 | 32.37 | $1,569.53 | $906.36 | $313.91
54409 | T | Revise penis prosthesis | 0181 | 32.37 | $1,569.53 | $906.36 | $313.91
54420 | T | Revision of penis | 0181 | 32.37 | $1,569.53 | $906.36 | $313.91
54430 | C | Revision of penis |  |  |  |  |
54435 | T | Revision of penis | 0181 | 32.37 | $1,569.53 | $906.36 | $313.91
54440 | T | Repair of penis | 0181 | 32.37 | $1,569.53 | $906.36 | $313.91
54450 | T | Preputial stretching | 0165 | 3.89 | $188.61 | $91.76 | $37.72
54500 | T | Biopsy of testis | 0005 | 5.41 | $262.32 | $119.75 | $52.46
54505 | T | Biopsy of testis | 0183 | 18.26 | $885.37 | $448.94 | $177.07
54510 | T | Removal of testis lesion | 0183 | 18.26 | $885.37 | $448.94 | $177.07
54520 | T | Removal of testis | 0183 | 18.26 | $885.37 | $448.94 | $177.07
54530 | T | Removal of testis | 0154 | 22.43 | $1,087.57 | $556.98 | $217.51
54535 | C | Extensive testis surgery |  |  |  |  |
54550 | T | Exploration for testis | 0154 | 22.43 | $1,087.57 | $556.98 | $217.51
54560 | C | Exploration for testis |  |  |  |  |
54600 | T | Reduce testis torsion | 0183 | 18.26 | $885.37 | $448.94 | $177.07
54620 | T | Suspension of testis | 0183 | 18.26 | $885.37 | $448.94 | $177.07
54640 | T | Suspension of testis | 0154 | 22.43 | $1,087.57 | $556.98 | $217.51
54650 | C | Orchiopexy (Fowler-Stephens) |  |  |  |  |
54660 | T | Revision of testis | 0183 | 18.26 | $885.37 | $448.94 | $177.07
54670 | T | Repair testis injury | 0183 | 18.26 | $885.37 | $448.94 | $177.07
54680 | T | Relocation of testis(es) | 0183 | 18.26 | $885.37 | $448.94 | $177.07
54690 | T | Laparoscopy, orchiectomy | 0131 | 41.81 | $2,027.24 | $1,089.88 | $405.45
54692 | T | Laparoscopy, orchiopexy | 0132 | 48.91 | $2,371.50 | $1,239.22 | $474.30
54699 | T | Laparoscope proc, testis | 0130 | 25.36 | $1,229.63 | $659.53 | $245.93
54700 | T | Drainage of scrotum | 0183 | 18.26 | $885.37 | $448.94 | $177.07
54800 | T | Biopsy of epididymis | 0004 | 1.84 | $89.22 | $32.57 | $17.84
54820 | T | Exploration of epididymis | 0183 | 18.26 | $885.37 | $448.94 | $177.07
54830 | T | Remove epididymis lesion | 0183 | 18.26 | $885.37 | $448.94 | $177.07
54840 | T | Remove epididymis lesion | 0183 | 18.26 | $885.37 | $448.94 | $177.07
54860 | T | Removal of epididymis | 0183 | 18.26 | $885.37 | $448.94 | $177.07
54861 | T | Removal of epididymis | 0183 | 18.26 | $885.37 | $448.94 | $177.07
54900 | T | Fusion of spermatic ducts | 0183 | 18.26 | $885.37 | $448.94 | $177.07
54901 | T | Fusion of spermatic ducts | 0183 | 18.26 | $885.37 | $448.94 | $177.07
55000 | T | Drainage of hydrocele | 0004 | 1.84 | $89.22 | $32.57 | $17.84
55040 | T | Removal of hydrocele | 0154 | 22.43 | $1,087.57 | $556.98 | $217.51
55041 | T | Removal of hydroceles | 0154 | 22.43 | $1,087.57 | $556.98 | $217.51
55060 | T | Repair of hydrocele | 0183 | 18.26 | $885.37 | $448.94 | $177.07
55100 | T | Drainage of scrotum abscess | 0008 | 6.15 | $298.20 | $113.67 | $59.64
55110 | T | Explore scrotum | 0183 | 18.26 | $885.37 | $448.94 | $177.07
55120 | T | Removal of scrotum lesion | 0183 | 18.26 | $885.37 | $448.94 | $177.07
55150 | T | Removal of scrotum | 0183 | 18.26 | $885.37 | $448.94 | $177.07
55175 | T | Revision of scrotum | 0183 | 18.26 | $885.37 | $448.94 | $177.07
55180 | T | Revision of scrotum | 0183 | 18.26 | $885.37 | $448.94 | $177.07
55200 | T | Incision of sperm duct | 0183 | 18.26 | $885.37 | $448.94 | $177.07
55250 | T | Removal of sperm duct(s) | 0183 | 18.26 | $885.37 | $448.94 | $177.07
55300 | N | Prepare, sperm duct x-ray |  |  |  |  |
55400 | T | Repair of sperm duct | 0183 | 18.26 | $885.37 | $448.94 | $177.07
55450 | T | Ligation of sperm duct | 0183 | 18.26 | $885.37 | $448.94 | $177.07
55500 | T | Removal of hydrocele | 0183 | 18.26 | $885.37 | $448.94 | $177.07
55520 | T | Removal of sperm cord lesion | 0183 | 18.26 | $885.37 | $448.94 | $177.07
55530 | T | Revise spermatic cord veins | 0183 | 18.26 | $885.37 | $448.94 | $177.07
55535 | T | Revise spermatic cord veins | 0154 | 22.43 | $1,087.57 | $556.98 | $217.51
55540 | T | Revise hernia & sperm veins | 0154 | 22.43 | $1,087.57 | $556.98 | $217.51
55550 | T | Laparo ligate spermatic vein | 0131 | 41.81 | $2,027.24 | $1,089.88 | $405.45
55559 | T | Laparo proc, spermatic cord | 0130 | 25.36 | $1,229.63 | $659.53 | $245.93
55600 | C | Incise sperm duct pouch |  |  |  |  |
55605 | C | Incise sperm duct pouch |  |  |  |  |
55650 | C | Remove sperm duct pouch |  |  |  |  |
55680 | T | Remove sperm pouch lesion | 0183 | 18.26 | $885.37 | $448.94 | $177.07
55700 | T | Biopsy of prostate | 0184 | 4.94 | $239.53 | $122.96 | $47.91
55705 | T | Biopsy of prostate | 0184 | 4.94 | $239.53 | $122.96 | $47.91
55720 | T | Drainage of prostate abscess | 0162 | 17.49 | $848.04 | $427.49 | $169.61
55725 | T | Drainage of prostate abscess | 0162 | 17.49 | $848.04 | $427.49 | $169.61
55801 | C | Removal of prostate |  |  |  |  |
55810 | C | Extensive prostate surgery |  |  |  |  |
55812 | C | Extensive prostate surgery |  |  |  |  |
55815 | C | Extensive prostate surgery |  |  |  |  |
55821 | C | Removal of prostate |  |  |  |  |
55831 | C | Removal of prostate |  |  |  |  |
55840 | C | Extensive prostate surgery |  |  |  |  |
55842 | C | Extensive prostate surgery |  |  |  |  |
55845 | C | Extensive prostate surgery |  |  |  |  |
55859 | T | Percut/needle insert, pros | 0162 | 17.49 | $848.04 | $427.49 | $169.61
55860 | C | Surgical exposure, prostate |  |  |  |  |
55862 | C | Extensive prostate surgery |  |  |  |  |
55865 | C | Extensive prostate surgery |  |  |  |  |
55870 | T | Electroejaculation | 0197 | 2.40 | $116.37 | $49.55 | $23.27
55899 | T | Genital surgery procedure | 0164 | 2.17 | $105.23 | $33.03 | $21.05
55970 | E | Sex transformation, M to F |  |  |  |  |
55980 | E | Sex transformation, F to M |  |  |  |  |
56405 | T | I & D of vulva/perineum | 0192 | 2.38 | $115.40 | $35.33 | $23.08
56420 | T | Drainage of gland abscess | 0192 | 2.38 | $115.40 | $35.33 | $23.08
56440 | T | Surgery for vulva lesion | 0194 | 16.21 | $785.98 | $395.94 | $157.20
56441 | T | Lysis of labial lesion(s) | 0193 | 8.93 | $432.99 | $171.13 | $86.60
56501 | T | Destruction, vulva lesion(s) | 0016 | 3.53 | $171.16 | $74.67 | $34.23
56515 | T | Destruction, vulva lesion(s) | 0017 | 12.45 | $603.66 | $289.16 | $120.73
56605 | T | Biopsy of vulva/perineum | 0019 | 4.00 | $193.95 | $78.91 | $38.79
56606 | T | Biopsy of vulva/perineum | 0019 | 4.00 | $193.95 | $78.91 | $38.79
56620 | T | Partial removal of vulva | 0195 | 18.68 | $905.74 | $483.80 | $181.15
56625 | T | Complete removal of vulva | 0195 | 18.68 | $905.74 | $483.80 | $181.15
56630 | C | Extensive vulva surgery |  |  |  |  |
56631 | C | Extensive vulva surgery |  |  |  |  |
56632 | C | Extensive vulva surgery |  |  |  |  |
56633 | C | Extensive vulva surgery |  |  |  |  |
56634 | C | Extensive vulva surgery |  |  |  |  |
56637 | C | Extensive vulva surgery |  |  |  |  |
56640 | C | Extensive vulva surgery |  |  |  |  |
56700 | T | Partial removal of hymen | 0194 | 16.21 | $785.98 | $395.94 | $157.20
56720 | T | Incision of hymen | 0193 | 8.93 | $432.99 | $171.13 | $86.60
56740 | T | Remove vagina gland lesion | 0194 | 16.21 | $785.98 | $395.94 | $157.20
56800 | T | Repair of vagina | 0194 | 16.21 | $785.98 | $395.94 | $157.20
56805 | C | Repair clitoris |  |  |  |  |
56810 | T | Repair of perineum | 0194 | 16.21 | $785.98 | $395.94 | $157.20
57000 | T | Exploration of vagina | 0194 | 16.21 | $785.98 | $395.94 | $157.20
57010 | T | Drainage of pelvic abscess | 0194 | 16.21 | $785.98 | $395.94 | $157.20
57020 | T | Drainage of pelvic fluid | 0193 | 8.93 | $432.99 | $171.13 | $86.60
57061 | T | Destruction vagina lesion(s) | 0194 | 16.21 | $785.98 | $395.94 | $157.20
57065 | T | Destruction vagina lesion(s) | 0194 | 16.21 | $785.98 | $395.94 | $157.20
57100 | T | Biopsy of vagina | 0192 | 2.38 | $115.40 | $35.33 | $23.08
57105 | T | Biopsy of vagina | 0194 | 16.21 | $785.98 | $395.94 | $157.20
57106 | T | Remove vagina wall, partial | 0194 | 16.21 | $785.98 | $395.94 | $157.20
57107 | T | Remove vagina tissue, part | 0194 | 16.21 | $785.98 | $395.94 | $157.20
57109 | T | Vaginectomy partial w/nodes | 0194 | 16.21 | $785.98 | $395.94 | $157.20
57110 | C | Remove vagina wall, complete |  |  |  |  |
57111 | C | Remove vagina tissue, compl |  |  |  |  |
57112 | C | Vaginectomy w/nodes, compl |  |  |  |  |
57120 | C | Closure of vagina |  |  |  |  |
57130 | T | Remove vagina lesion | 0194 | 16.21 | $785.98 | $395.94 | $157.20
57135 | T | Remove vagina lesion | 0194 | 16.21 | $785.98 | $395.94 | $157.20
57150 | T | Treat vagina infection | 0192 | 2.38 | $115.40 | $35.33 | $23.08
57160 | T | Insert pessary/other device | 0191 | 1.19 | $57.70 | $17.43 | $11.54
57170 | T | Fitting of diaphragm/cap | 0191 | 1.19 | $57.70 | $17.43 | $11.54
57180 | T | Treat vaginal bleeding | 0192 | 2.38 | $115.40 | $35.33 | $23.08
57200 | T | Repair of vagina | 0194 | 16.21 | $785.98 | $395.94 | $157.20
57210 | T | Repair vagina/perineum | 0194 | 16.21 | $785.98 | $395.94 | $157.20
57220 | T | Revision of urethra | 0195 | 18.68 | $905.74 | $483.80 | $181.15
57230 | T | Repair of urethral lesion | 0194 | 16.21 | $785.98 | $395.94 | $157.20
57240 | T | Repair bladder & vagina | 0195 | 18.68 | $905.74 | $483.80 | $181.15
57250 | T | Repair rectum & vagina | 0195 | 18.68 | $905.74 | $483.80 | $181.15
57260 | T | Repair of vagina | 0195 | 18.68 | $905.74 | $483.80 | $181.15
57265 | T | Extensive repair of vagina | 0195 | 18.68 | $905.74 | $483.80 | $181.15
57268 | T | Repair of bowel bulge | 0195 | 18.68 | $905.74 | $483.80 | $181.15
57270 | C | Repair of bowel pouch |  |  |  |  |
57280 | C | Suspension of vagina |  |  |  |  |
57282 | C | Repair of vaginal prolapse |  |  |  |  |
57284 | T | Repair paravaginal defect | 0195 | 18.68 | $905.74 | $483.80 | $181.15
57288 | T | Repair bladder defect | 0195 | 18.68 | $905.74 | $483.80 | $181.15
57289 | T | Repair bladder & vagina | 0195 | 18.68 | $905.74 | $483.80 | $181.15
57291 | T | Construction of vagina | 0195 | 18.68 | $905.74 | $483.80 | $181.15
57292 | C | Construct vagina with graft |  |  |  |  |
57300 | T | Repair rectum-vagina fistula | 0195 | 18.68 | $905.74 | $483.80 | $181.15
57305 | C | Repair rectum-vagina fistula |  |  |  |  |
57307 | C | Fistula repair & colostomy |  |  |  |  |
57308 | C | Fistula repair, transperine |  |  |  |  |
57310 | C | Repair urethrovaginal lesion |  |  |  |  |
57311 | C | Repair urethrovaginal lesion |  |  |  |  |
57320 | C | Repair bladder-vagina lesion |  |  |  |  |
57330 | C | Repair bladder-vagina lesion |  |  |  |  |
57335 | C | Repair vagina |  |  |  |  |
57400 | T | Dilation of vagina | 0194 | 16.21 | $785.98 | $395.94 | $157.20
57410 | T | Pelvic examination | 0194 | 16.21 | $785.98 | $395.94 | $157.20
57415 | T | Remove vaginal foreign body | 0194 | 16.21 | $785.98 | $395.94 | $157.20
57452 | T | Examination of vagina | 0191 | 1.19 | $57.70 | $17.43 | $11.54
57454 | T | Vagina examination & biopsy | 0192 | 2.38 | $115.40 | $35.33 | $23.08
57460 | T | Cervix excision | 0193 | 8.93 | $432.99 | $171.13 | $86.60
57500 | T | Biopsy of cervix | 0193 | 8.93 | $432.99 | $171.13 | $86.60
57505 | T | Endocervical curettage | 0192 | 2.38 | $115.40 | $35.33 | $23.08
57510 | T | Cauterization of cervix | 0193 | 8.93 | $432.99 | $171.13 | $86.60
57511 | T | Cryocautery of cervix | 0192 | 2.38 | $115.40 | $35.33 | $23.08
57513 | T | Laser surgery of cervix | 0193 | 8.93 | $432.99 | $171.13 | $86.60
57520 | T | Conization of cervix | 0194 | 16.21 | $785.98 | $395.94 | $157.20
57522 | T | Conization of cervix | 0195 | 18.68 | $905.74 | $483.80 | $181.15
57530 | T | Removal of cervix | 0195 | 18.68 | $905.74 | $483.80 | $181.15
57531 | C | Removal of cervix, radical |  |  |  |  |
57540 | C | Removal of residual cervix |  |  |  |  |
57545 | C | Remove cervix/repair pelvis |  |  |  |  |
57550 | T | Removal of residual cervix | 0195 | 18.68 | $905.74 | $483.80 | $181.15
57555 | T | Remove cervix/repair vagina | 0195 | 18.68 | $905.74 | $483.80 | $181.15
57556 | T | Remove cervix, repair bowel | 0195 | 18.68 | $905.74 | $483.80 | $181.15
57700 | T | Revision of cervix | 0194 | 16.21 | $785.98 | $395.94 | $157.20
57720 | T | Revision of cervix | 0194 | 16.21 | $785.98 | $395.94 | $157.20
57800 | T | Dilation of cervical canal | 0193 | 8.93 | $432.99 | $171.13 | $86.60
57820 | T | D & c of residual cervix | 0196 | 14.47 | $701.61 | $357.98 | $140.32
58100 | T | Biopsy of uterus lining | 0191 | 1.19 | $57.70 | $17.43 | $11.54
58120 | T | Dilation and curettage | 0196 | 14.47 | $701.61 | $357.98 | $140.32
58140 | C | Removal of uterus lesion |  |  |  |  |
58145 | T | Removal of uterus lesion | 0195 | 18.68 | $905.74 | $483.80 | $181.15
58150 | C | Total hysterectomy |  |  |  |  |
58152 | C | Total hysterectomy |  |  |  |  |
58180 | C | Partial hysterectomy |  |  |  |  |
58200 | C | Extensive hysterectomy |  |  |  |  |
58210 | C | Extensive hysterectomy |  |  |  |  |
58240 | C | Removal of pelvis contents |  |  |  |  |
58260 | C | Vaginal hysterectomy |  |  |  |  |
58262 | C | Vaginal hysterectomy |  |  |  |  |
58263 | C | Vaginal hysterectomy |  |  |  |  |
58267 | C | Hysterectomy & vagina repair |  |  |  |  |
58270 | C | Hysterectomy & vagina repair |  |  |  |  |
58275 | C | Hysterectomy/revise vagina |  |  |  |  |
58280 | C | Hysterectomy/revise vagina |  |  |  |  |
58285 | C | Extensive hysterectomy |  |  |  |  |
58300 | E | Insert intrauterine device |  |  |  |  |
58301 | T | Remove intrauterine device | 0191 | 1.19 | $57.70 | $17.43 | $11.54
58321 | T | Artificial insemination | 0197 | 2.40 | $116.37 | $49.55 | $23.27
58322 | T | Artificial insemination | 0197 | 2.40 | $116.37 | $49.55 | $23.27
58323 | T | Sperm washing | 0197 | 2.40 | $116.37 | $49.55 | $23.27
58340 | N | Catheter for hysterography |  |  |  |  |
58345 | T | Reopen fallopian tube | 0194 | 16.21 | $785.98 | $395.94 | $157.20
58350 | T | Reopen fallopian tube | 0194 | 16.21 | $785.98 | $395.94 | $157.20
58400 | C | Suspension of uterus |  |  |  |  |
58410 | C | Suspension of uterus |  |  |  |  |
58520 | C | Repair of ruptured uterus |  |  |  |  |
58540 | C | Revision of uterus |  |  |  |  |
58550 | T | Laparo-asst vag hysterectomy | 0132 | 48.91 | $2,371.50 | $1,239.22 | $474.30
58551 | T | Laparoscopy, remove myoma | 0131 | 41.81 | $2,027.24 | $1,089.88 | $405.45
58555 | T | Hysteroscopy, dx, sep proc | 0191 | 1.19 | $57.70 | $17.43 | $11.54
58558 | T | Hysteroscopy, biopsy | 0190 | 17.85 | $865.49 | $443.89 | $173.10
58559 | T | Hysteroscopy, lysis | 0190 | 17.85 | $865.49 | $443.89 | $173.10
58560 | T | Hysteroscopy, resect septum | 0190 | 17.85 | $865.49 | $443.89 | $173.10
58561 | T | Hysteroscopy, remove myoma | 0190 | 17.85 | $865.49 | $443.89 | $173.10
58562 | T | Hysteroscopy, remove fb | 0190 | 17.85 | $865.49 | $443.89 | $173.10
58563 | T | Hysteroscopy, ablation | 0190 | 17.85 | $865.49 | $443.89 | $173.10
58578 | T | Laparo proc, uterus | 0190 | 17.85 | $865.49 | $443.89 | $173.10
58579 | T | Hysteroscope procedure | 0190 | 17.85 | $865.49 | $443.89 | $173.10
58600 | C | Division of fallopian tube |  |  |  |  |
58605 | C | Division of fallopian tube |  |  |  |  |
58611 | C | Ligate oviduct(s) add-on |  |  |  |  |
58615 | C | Occlude fallopian tube(s) |  |  |  |  |
58660 | T | Laparoscopy, lysis | 0131 | 41.81 | $2,027.24 | $1,089.88 | $405.45
58661 | T | Laparoscopy, remove adnexa | 0131 | 41.81 | $2,027.24 | $1,089.88 | $405.45
58662 | T | Laparoscopy, excise lesions | 0131 | 41.81 | $2,027.24 | $1,089.88 | $405.45
58670 | T | Laparoscopy, tubal cautery | 0131 | 41.81 | $2,027.24 | $1,089.88 | $405.45
58671 | T | Laparoscopy, tubal block | 0131 | 41.81 | $2,027.24 | $1,089.88 | $405.45
58672 | T | Laparoscopy, fimbrioplasty | 0131 | 41.81 | $2,027.24 | $1,089.88 | $405.45
58673 | T | Laparoscopy, salpingostomy | 0131 | 41.81 | $2,027.24 | $1,089.88 | $405.45
58679 | T | Laparo proc, oviduct-ovary | 0130 | 25.36 | $1,229.63 | $659.53 | $245.93
58700 | C | Removal of fallopian tube |  |  |  |  |
58720 | C | Removal of ovary/tube(s) |  |  |  |  |
58740 | C | Revise fallopian tube(s) |  |  |  |  |
58750 | C | Repair oviduct |  |  |  |  |
58752 | C | Revise ovarian tube(s) |  |  |  |  |
58760 | C | Remove tubal obstruction |  |  |  |  |
58770 | C | Create new tubal opening |  |  |  |  |
58800 | T | Drainage of ovarian cyst(s) | 0195 | 18.68 | $905.74 | $483.80 | $181.15
58805 | C | Drainage of ovarian cyst(s) |  |  |  |  |
58820 | T | Drain ovary abscess, open | 0195 | 18.68 | $905.74 | $483.80 | $181.15
58822 | C | Drain ovary abscess, percut |  |  |  |  |
58823 | C | Drain pelvic abscess, percut |  |  |  |  |
58825 | C | Transposition, ovary(s) |  |  |  |  |
58900 | T | Biopsy of ovary(s) | 0195 | 18.68 | $905.74 | $483.80 | $181.15
58920 | T | Partial removal of ovary(s) | 0195 | 18.68 | $905.74 | $483.80 | $181.15
58925 | T | Removal of ovarian cyst(s) | 0195 | 18.68 | $905.74 | $483.80 | $181.15
58940 | C | Removal of ovary(s) |  |  |  |  |
58943 | C | Removal of ovary(s) |  |  |  |  |
58950 | C | Resect ovarian malignancy |  |  |  |  |
58951 | C | Resect ovarian malignancy |  |  |  |  |
58952 | C | Resect ovarian malignancy |  |  |  |  |
58960 | C | Exploration of abdomen |  |  |  |  |
58970 | T | Retrieval of oocyte | 0194 | 16.21 | $785.98 | $395.94 | $157.20
58974 | T | Transfer of embryo | 0197 | 2.40 | $116.37 | $49.55 | $23.27
58976 | T | Transfer of embryo | 0197 | 2.40 | $116.37 | $49.55 | $23.27
58999 | T | Genital surgery procedure | 0019 | 4.00 | $193.95 | $78.91 | $38.79
59000 | T | Amniocentesis | 0198 | 1.34 | $64.97 | $33.03 | $12.99
59012 | T | Fetal cord puncture, prenatal | 0198 | 1.34 | $64.97 | $33.03 | $12.99
59015 | T | Chorion biopsy | 0198 | 1.34 | $64.97 | $33.03 | $12.99
59020 | T | Fetal contract stress test | 0198 | 1.34 | $64.97 | $33.03 | $12.99
59025 | T | Fetal non-stress test | 0198 | 1.34 | $64.97 | $33.03 | $12.99
59030 | T | Fetal scalp blood sample | 0198 | 1.34 | $64.97 | $33.03 | $12.99
59050 | T | Fetal monitor w/report | 0198 | 1.34 | $64.97 | $33.03 | $12.99
59051 | E | Fetal monitor/interpret only |  |  |  |  |
59100 | C | Remove uterus lesion |  |  |  |  |
59120 | C | Treat ectopic pregnancy |  |  |  |  |
59121 | C | Treat ectopic pregnancy |  |  |  |  |
59130 | C | Treat ectopic pregnancy |  |  |  |  |
59135 | C | Treat ectopic pregnancy |  |  |  |  |
59136 | C | Treat ectopic pregnancy |  |  |  |  |
59140 | C | Treat ectopic pregnancy |  |  |  |  |
59150 | T | Treat ectopic pregnancy | 0131 | 41.81 | $2,027.24 | $1,089.88 | $405.45
59151 | T | Treat ectopic pregnancy | 0131 | 41.81 | $2,027.24 | $1,089.88 | $405.45
59160 | T | D & c after delivery | 0196 | 14.47 | $701.61 | $357.98 | $140.32
59200 | T | Insert cervical dilator | 0191 | 1.19 | $57.70 | $17.43 | $11.54
59300 | T | Episiotomy or vaginal repair | 0194 | 16.21 | $785.98 | $395.94 | $157.20
59320 | T | Revision of cervix | 0194 | 16.21 | $785.98 | $395.94 | $157.20
59325 | C | Revision of cervix |  |  |  |  |
59350 | C | Repair of uterus |  |  |  |  |
59400 | E | Obstetrical care |  |  |  |  |
59409 | T | Obstetrical care | 0199 | 11.20 | $543.06 | $157.83 | $108.61
59410 | E | Obstetrical care |  |  |  |  |
59412 | T | Antepartum manipulation | 0199 | 11.20 | $543.06 | $157.83 | $108.61
59414 | T | Deliver placenta | 0199 | 11.20 | $543.06 | $157.83 | $108.61
59425 | E | Antepartum care only |  |  |  |  |
59426 | E | Antepartum care only |  |  |  |  |
59430 | E | Care after delivery |  |  |  |  |
59510 | E | Cesarean delivery |  |  |  |  |
59514 | C | Cesarean delivery only |  |  |  |  |
59515 | E | Cesarean delivery |  |  |  |  |
59525 | C | Remove uterus after cesarean |  |  |  |  |
59610 | E | Vbac delivery |  |  |  |  |
59612 | T | Vbac delivery only | 0199 | 11.20 | $543.06 | $157.83 | $108.61
59614 | E | Vbac care after delivery |  |  |  |  |
59618 | E | Attempted vbac delivery |  |  |  |  |
59620 | C | Attempted vbac delivery only |  |  |  |  |
59622 | E | Attempted vbac after care |  |  |  |  |
59812 | T | Treatment of miscarriage | 0201 | 13.00 | $630.33 | $329.65 | $126.07
59820 | T | Care of miscarriage | 0201 | 13.00 | $630.33 | $329.65 | $126.07
59821 | T | Treatment of miscarriage | 0201 | 13.00 | $630.33 | $329.65 | $126.07
59830 | C | Treat uterus infection |  |  |  |  |
59840 | T | Abortion | 0200 | 13.89 | $673.49 | $373.23 | $134.70
59841 | T | Abortion | 0200 | 13.89 | $673.49 | $373.23 | $134.70
59850 | C | Abortion |  |  |  |  |
59851 | C | Abortion |  |  |  |  |
59852 | C | Abortion |  |  |  |  |
59855 | C | Abortion |  |  |  |  |
59856 | C | Abortion |  |  |  |  |
59857 | C | Abortion |  |  |  |  |
59866 | C | Abortion (mpr) |  |  |  |  |
59870 | T | Evacuate mole of uterus | 0201 | 13.00 | $630.33 | $329.65 | $126.07
59871 | T | Remove cerclage suture | 0194 | 16.21 | $785.98 | $395.94 | $157.20
59898 | T | Laparo proc, ob care/deliver | 0130 | 25.36 | $1,229.63 | $659.53 | $245.93
59899 | T | Maternity care procedure | 0198 | 1.34 | $64.97 | $33.03 | $12.99
60000 | T | Drain thyroid/tongue cyst | 0253 | 12.02 | $582.81 | $284.00 | $116.56
60001 | T | Aspirate/inject thyriod cyst | 0002 | 0.62 | $30.06 | $17.66 | $6.01
60100 | T | Biopsy of thyroid | 0004 | 1.84 | $89.22 | $32.57 | $17.84
60200 | T | Remove thyroid lesion | 0114 | 19.56 | $948.41 | $493.78 | $189.68
60210 | T | Partial thyroid excision | 0114 | 19.56 | $948.41 | $493.78 | $189.68
60212 | C | Parital thyroid excision |  |  |  |  |
60220 | T | Partial removal of thyroid | 0114 | 19.56 | $948.41 | $493.78 | $189.68
60225 | T | Partial removal of thyroid | 0114 | 19.56 | $948.41 | $493.78 | $189.68
60240 | T | Removal of thyroid | 0114 | 19.56 | $948.41 | $493.78 | $189.68
60252 | C | Removal of thyroid |  |  |  |  |
60254 | C | Extensive thyroid surgery |  |  |  |  |
60260 | C | Repeat thyroid surgery |  |  |  |  |
60270 | C | Removal of thyroid |  |  |  |  |
60271 | C | Removal of thyroid |  |  |  |  |
60280 | T | Remove thyroid duct lesion | 0114 | 19.56 | $948.41 | $493.78 | $189.68
60281 | T | Remove thyroid duct lesion | 0114 | 19.56 | $948.41 | $493.78 | $189.68
60500 | T | Explore parathyroid glands | 0256 | 25.40 | $1,231.57 | $623.05 | $246.31
60502 | C | Re-explore parathyroids |  |  |  |  |
60505 | C | Explore parathyroid glands |  |  |  |  |
60512 | C | Autotransplant parathyroid |  |  |  |  |
60520 | C | Removal of thymus gland |  |  |  |  |
60521 | C | Removal of thymus gland |  |  |  |  |
60522 | C | Removal of thymus gland |  |  |  |  |
60540 | C | Explore adrenal gland |  |  |  |  |
60545 | C | Explore adrenal gland |  |  |  |  |
60600 | C | Remove carotid body lesion |  |  |  |  |
60605 | C | Remove carotid body lesion |  |  |  |  |
60650 | C | Laparoscopy adrenalectomy |  |  |  |  |
60659 | T | Laparo proc, endocrine | 0130 | 25.36 | $1,229.63 | $659.53 | $245.93
60699 | T | Endocrine surgery procedure | 0004 | 1.84 | $89.22 | $32.57 | $17.84
61000 | T | Remove cranial cavity fluid | 0212 | 3.64 | $176.49 | $88.78 | $35.30
61001 | T | Remove cranial cavity fluid | 0212 | 3.64 | $176.49 | $88.78 | $35.30
61020 | T | Remove brain cavity fluid | 0212 | 3.64 | $176.49 | $88.78 | $35.30
61026 | T | Injection into brain canal | 0212 | 3.64 | $176.49 | $88.78 | $35.30
61050 | T | Remove brain canal fluid | 0212 | 3.64 | $176.49 | $88.78 | $35.30
61055 | T | Injection into brain canal | 0212 | 3.64 | $176.49 | $88.78 | $35.30
61070 | T | Brain canal shunt procedure | 0212 | 3.64 | $176.49 | $88.78 | $35.30
61105 | C | Twist drill hole |  |  |  |  |
61107 | C | Drill skull for implantation |  |  |  |  |
61108 | C | Drill skull for drainage |  |  |  |  |
61120 | C | Burr hole for puncture |  |  |  |  |
61140 | C | Pierce skull for biopsy |  |  |  |  |
61150 | C | Pierce skull for drainage |  |  |  |  |
61151 | C | Pierce skull for drainage |  |  |  |  |
61154 | C | Pierce skull & remove clot |  |  |  |  |
61156 | C | Pierce skull for drainage |  |  |  |  |
61210 | C | Pierce skull, implant device |  |  |  |  |
61215 | T | Insert brain-fluid device | 0222 | 25.48 | $1,235.45 | $780.07 | $247.09
61250 | C | Pierce skull & explore |  |  |  |  |
61253 | C | Pierce skull & explore |  |  |  |  |
61304 | C | Open skull for exploration |  |  |  |  |
61305 | C | Open skull for exploration |  |  |  |  |
61312 | C | Open skull for drainage |  |  |  |  |
61313 | C | Open skull for drainage |  |  |  |  |
61314 | C | Open skull for drainage |  |  |  |  |
61315 | C | Open skull for drainage |  |  |  |  |
61320 | C | Open skull for drainage |  |  |  |  |
61321 | C | Open skull for drainage |  |  |  |  |
61330 | T | Decompress eye socket | 0256 | 25.40 | $1,231.57 | $623.05 | $246.31
61332 | C | Explore/biopsy eye socket |  |  |  |  |
61333 | C | Explore orbit/remove lesion |  |  |  |  |
61334 | C | Explore orbit/remove object |  |  |  |  |
61340 | C | Relieve cranial pressure |  |  |  |  |
61343 | C | Incise skull (press relief) |  |  |  |  |
61345 | C | Relieve cranial pressure |  |  |  |  |
61440 | C | Incise skull for surgery |  |  |  |  |
61450 | C | Incise skull for surgery |  |  |  |  |
61458 | C | Incise skull for brain wound |  |  |  |  |
61460 | C | Incise skull for surgery |  |  |  |  |
61470 | C | Incise skull for surgery |  |  |  |  |
61480 | C | Incise skull for surgery |  |  |  |  |
61490 | C | Incise skull for surgery |  |  |  |  |
61500 | C | Removal of skull lesion |  |  |  |  |
61501 | C | Remove infected skull bone |  |  |  |  |
61510 | C | Removal of brain lesion |  |  |  |  |
61512 | C | Remove brain lining lesion |  |  |  |  |
61514 | C | Removal of brain abscess |  |  |  |  |
61516 | C | Removal of brain lesion |  |  |  |  |
61518 | C | Removal of brain lesion |  |  |  |  |
61519 | C | Remove brain lining lesion |  |  |  |  |
61520 | C | Removal of brain lesion |  |  |  |  |
61521 | C | Removal of brain lesion |  |  |  |  |
61522 | C | Removal of brain abscess |  |  |  |  |
61524 | C | Removal of brain lesion |  |  |  |  |
61526 | C | Removal of brain lesion |  |  |  |  |
61530 | C | Removal of brain lesion |  |  |  |  |
61531 | C | Implant brain electrodes |  |  |  |  |
61533 | C | Implant brain electrodes |  |  |  |  |
61534 | C | Removal of brain lesion |  |  |  |  |
61535 | C | Remove brain electrodes |  |  |  |  |
61536 | C | Removal of brain lesion |  |  |  |  |
61538 | C | Removal of brain tissue |  |  |  |  |
61539 | C | Removal of brain tissue |  |  |  |  |
61541 | C | Incision of brain tissue |  |  |  |  |
61542 | C | Removal of brain tissue |  |  |  |  |
61543 | C | Removal of brain tissue |  |  |  |  |
61544 | C | Remove & treat brain lesion |  |  |  |  |
61545 | C | Excision of brain tumor |  |  |  |  |
61546 | C | Removal of pituitary gland |  |  |  |  |
61548 | C | Removal of pituitary gland |  |  |  |  |
61550 | C | Release of skull seams |  |  |  |  |
61552 | C | Release of skull seams |  |  |  |  |
61556 | C | Incise skull/sutures |  |  |  |  |
61557 | C | Incise skull/sutures |  |  |  |  |
61558 | C | Excision of skull/sutures |  |  |  |  |
61559 | C | Excision of skull/sutures |  |  |  |  |
61563 | C | Excision of skull tumor |  |  |  |  |
61564 | C | Excision of skull tumor |  |  |  |  |
61570 | C | Remove foreign body, brain |  |  |  |  |
61571 | C | Incise skull for brain wound |  |  |  |  |
61575 | C | Skull base/brainstem surgery |  |  |  |  |
61576 | C | Skull base/brainstem surgery |  |  |  |  |
61580 | C | Craniofacial approach, skull |  |  |  |  |
61581 | C | Craniofacial approach, skull |  |  |  |  |
61582 | C | Craniofacial approach, skull |  |  |  |  |
61583 | C | Craniofacial approach, skull |  |  |  |  |
61584 | C | Orbitocranial approach/skull |  |  |  |  |
61585 | C | Orbitocranial approach/skull |  |  |  |  |
61586 | C | Resect nasopharynx, skull |  |  |  |  |
61590 | C | Infratemporal approach/skull |  |  |  |  |
61591 | C | Infratemporal approach/skull |  |  |  |  |
61592 | C | Orbitocranial approach/skull |  |  |  |  |
61595 | C | Transtemporal approach/skull |  |  |  |  |
61596 | C | Transcochlear approach/skull |  |  |  |  |
61597 | C | Transcondylar approach/skull |  |  |  |  |
61598 | C | Transpetrosal approach/skull |  |  |  |  |
61600 | C | Resect/excise cranial lesion |  |  |  |  |
61601 | C | Resect/excise cranial lesion |  |  |  |  |
61605 | C | Resect/excise cranial lesion |  |  |  |  |
61606 | C | Resect/excise cranial lesion |  |  |  |  |
61607 | C | Resect/excise cranial lesion |  |  |  |  |
61608 | C | Resect/excise cranial lesion |  |  |  |  |
61609 | C | Transect artery, sinus |  |  |  |  |
61610 | C | Transect artery, sinus |  |  |  |  |
61611 | C | Transect artery, sinus |  |  |  |  |
61612 | C | Transect artery, sinus |  |  |  |  |
61613 | C | Remove aneurysm, sinus |  |  |  |  |
61615 | C | Resect/excise lesion, skull |  |  |  |  |
61616 | C | Resect/excise lesion, skull |  |  |  |  |
61618 | C | Repair dura |  |  |  |  |
61619 | C | Repair dura |  |  |  |  |
61624 | C | Occlusion/embolization cath |  |  |  |  |
61626 | C | Occlusion/embolization cath |  |  |  |  |
61680 | C | Intracranial vessel surgery |  |  |  |  |
61682 | C | Intracranial vessel surgery |  |  |  |  |
61684 | C | Intracranial vessel surgery |  |  |  |  |
61686 | C | Intracranial vessel surgery |  |  |  |  |
61690 | C | Intracranial vessel surgery |  |  |  |  |
61692 | C | Intracranial vessel surgery |  |  |  |  |
61700 | C | Inner skull vessel surgery |  |  |  |  |
61702 | C | Inner skull vessel surgery |  |  |  |  |
61703 | C | Clamp neck artery |  |  |  |  |
61705 | C | Revise circulation to head |  |  |  |  |
61708 | C | Revise circulation to head |  |  |  |  |
61710 | C | Revise circulation to head |  |  |  |  |
61711 | C | Fusion of skull arteries |  |  |  |  |
61720 | C | Incise skull/brain surgery |  |  |  |  |
61735 | C | Incise skull/brain surgery |  |  |  |  |
61750 | C | Incise skull/brain biopsy |  |  |  |  |
61751 | C | Brain biopsy w/ct/mr guide |  |  |  |  |
61760 | C | Implant brain electrodes |  |  |  |  |
61770 | C | Incise skull for treatment |  |  |  |  |
61790 | T | Treat trigeminal nerve | 0220 | 13.96 | $676.88 | $326.21 | $135.38
61791 | C | Treat trigeminal tract |  |  |  |  |
61793 | E | Focus radiation beam |  |  |  |  |
61795 | C | Brain surgery using computer |  |  |  |  |
61850 | C | Implant neuroelectrodes |  |  |  |  |
61860 | C | Implant neuroelectrodes |  |  |  |  |
61862 | C | Implant neurostimul, subcort |  |  |  |  |
61870 | C | Implant neuroelectrodes |  |  |  |  |
61875 | C | Implant neuroelectrodes |  |  |  |  |
61880 | C | Revise/remove neuroelectrode |  |  |  |  |
61885 | T | Implant neurostim one array | 0222 | 25.48 | $1,235.45 | $780.07 | $247.09
61886 | C | Implant neurostim arrays |  |  |  |  |
61888 | C | Revise/remove neuroreceiver |  |  |  |  |
62000 | C | Treat skull fracture |  |  |  |  |
62005 | C | Treat skull fracture |  |  |  |  |
62010 | C | Treatment of head injury |  |  |  |  |
62100 | C | Repair brain fluid leakage |  |  |  |  |
62115 | C | Reduction of skull defect |  |  |  |  |
62116 | C | Reduction of skull defect |  |  |  |  |
62117 | C | Reduction of skull defect |  |  |  |  |
62120 | C | Repair skull cavity lesion |  |  |  |  |
62121 | C | Incise skull repair |  |  |  |  |
62140 | C | Repair of skull defect |  |  |  |  |
62141 | C | Repair of skull defect |  |  |  |  |
62142 | C | Remove skull plate/flap |  |  |  |  |
62143 | C | Replace skull plate/flap |  |  |  |  |
62145 | C | Repair of skull & brain |  |  |  |  |
62146 | C | Repair of skull with graft |  |  |  |  |
62147 | C | Repair of skull with graft |  |  |  |  |
62180 | C | Establish brain cavity shunt |  |  |  |  |
62190 | C | Establish brain cavity shunt |  |  |  |  |
62192 | C | Establish brain cavity shunt |  |  |  |  |
62194 | T | Replace/irrigate catheter | 0121 | 2.36 | $114.43 | $52.53 | $22.89
62200 | C | Establish brain cavity shunt |  |  |  |  |
62201 | C | Establish brain cavity shunt |  |  |  |  |
62220 | C | Establish brain cavity shunt |  |  |  |  |
62223 | C | Establish brain cavity shunt |  |  |  |  |
62225 | T | Replace/irrigate catheter | 0121 | 2.36 | $114.43 | $52.53 | $22.89
62230 | T | Replace/revise brain shunt | 0224 | 15.94 | $772.88 | $374.61 | $154.58
62256 | C | Remove brain cavity shunt |  |  |  |  |
62258 | C | Replace brain cavity shunt |  |  |  |  |
62263 | T | Lysis epidural adhesions | 0212 | 3.64 | $176.49 | $88.78 | $35.30
62268 | T | Drain spinal cord cyst | 0212 | 3.64 | $176.49 | $88.78 | $35.30
62269 | T | Needle biopsy, spinal cord | 0005 | 5.41 | $262.32 | $119.75 | $52.46
62270 | T | Spinal fluid tap, diagnostic | 0210 | 3.00 | $145.46 | $62.40 | $29.09
62272 | T | Drain spinal fluid | 0210 | 3.00 | $145.46 | $62.40 | $29.09
62273 | T | Treat epidural spine lesion | 0212 | 3.64 | $176.49 | $88.78 | $35.30
62280 | T | Treat spinal cord lesion | 0212 | 3.64 | $176.49 | $88.78 | $35.30
62281 | T | Treat spinal cord lesion | 0212 | 3.64 | $176.49 | $88.78 | $35.30
62282 | T | Treat spinal canal lesion | 0212 | 3.64 | $176.49 | $88.78 | $35.30
62284 | N | Injection for myelogram |  |  |  |  |
62287 | T | Percutaneous diskectomy | 0220 | 13.96 | $676.88 | $326.21 | $135.38
62290 | N | Inject for spine disk x-ray |  |  |  |  |
62291 | N | Inject for spine disk x-ray |  |  |  |  |
62292 | T | Injection into disk lesion | 0212 | 3.64 | $176.49 | $88.78 | $35.30
62294 | T | Injection into spinal artery | 0212 | 3.64 | $176.49 | $88.78 | $35.30
62310 | T | Inject spine c/t | 0212 | 3.64 | $176.49 | $88.78 | $35.30
62311 | T | Inject spine l/s (cd) | 0212 | 3.64 | $176.49 | $88.78 | $35.30
62318 | T | Inject spine w/cath, c/t | 0212 | 3.64 | $176.49 | $88.78 | $35.30
62319 | T | Inject spine w/cath l/s (cd) | 0212 | 3.64 | $176.49 | $88.78 | $35.30
62350 | T | Implant spinal canal cath | 0223 | 6.34 | $307.41 | $153.24 | $61.48
62351 | C | Implant spinal canal cath |  |  |  |  |
62355 | T | Remove spinal canal catheter | 0223 | 6.34 | $307.41 | $153.24 | $61.48
62360 | T | Insert spine infusion device | 0222 | 25.48 | $1,235.45 | $780.07 | $247.09
62361 | T | Implant spine infusion pump | 0222 | 25.48 | $1,235.45 | $780.07 | $247.09
62362 | T | Implant spine infusion pump | 0222 | 25.48 | $1,235.45 | $780.07 | $247.09
62365 | T | Remove spine infusion device | 0224 | 15.94 | $772.88 | $374.61 | $154.58
62367 | S | Analyze spine infusion pump | 0102 | 0.45 | $21.82 | $12.62 | $4.36
62368 | S | Analyze spine infusion pump | 0102 | 0.45 | $21.82 | $12.62 | $4.36
63001 | C | Removal of spinal lamina |  |  |  |  |
63003 | C | Removal of spinal lamina |  |  |  |  |
63005 | C | Removal of spinal lamina |  |  |  |  |
63011 | C | Removal of spinal lamina |  |  |  |  |
63012 | C | Removal of spinal lamina |  |  |  |  |
63015 | C | Removal of spinal lamina |  |  |  |  |
63016 | C | Removal of spinal lamina |  |  |  |  |
63017 | C | Removal of spinal lamina |  |  |  |  |
63020 | C | Neck spine disk surgery |  |  |  |  |
63030 | C | Low back disk surgery |  |  |  |  |
63035 | C | Spinal disk surgery add-on |  |  |  |  |
63040 | C | Neck spine disk surgery |  |  |  |  |
63042 | C | Low back disk surgery |  |  |  |  |
63045 | C | Removal of spinal lamina |  |  |  |  |
63046 | C | Removal of spinal lamina |  |  |  |  |
63047 | C | Removal of spinal lamina |  |  |  |  |
63048 | C | Remove spinal lamina add-on |  |  |  |  |
63055 | C | Decompress spinal cord |  |  |  |  |
63056 | C | Decompress spinal cord |  |  |  |  |
63057 | C | Decompress spine cord add-on |  |  |  |  |
63064 | C | Decompress spinal cord |  |  |  |  |
63066 | C | Decompress spine cord add-on |  |  |  |  |
63075 | C | Neck spine disk surgery |  |  |  |  |
63076 | C | Neck spine disk surgery |  |  |  |  |
63077 | C | Spine disk surgery, thorax |  |  |  |  |
63078 | C | Spine disk surgery, thorax |  |  |  |  |
63081 | C | Removal of vertebral body |  |  |  |  |
63082 | C | Remove vertebral body add-on |  |  |  |  |
63085 | C | Removal of vertebral body |  |  |  |  |
63086 | C | Remove vertebral body add-on |  |  |  |  |
63087 | C | Removal of vertebral body |  |  |  |  |
63088 | C | Remove vertebral body add-on |  |  |  |  |
63090 | C | Removal of vertebral body |  |  |  |  |
63091 | C | Remove vertebral body add-on |  |  |  |  |
63170 | C | Incise spinal cord tract(s) |  |  |  |  |
63172 | C | Drainage of spinal cyst |  |  |  |  |
63173 | C | Drainage of spinal cyst |  |  |  |  |
63180 | C | Revise spinal cord ligaments |  |  |  |  |
63182 | C | Revise spinal cord ligaments |  |  |  |  |
63185 | C | Incise spinal column/nerves |  |  |  |  |
63190 | C | Incise spinal column/nerves |  |  |  |  |
63191 | C | Incise spinal column/nerves |  |  |  |  |
63194 | C | Incise spinal column & cord |  |  |  |  |
63195 | C | Incise spinal column & cord |  |  |  |  |
63196 | C | Incise spinal column & cord |  |  |  |  |
63197 | C | Incise spinal column & cord |  |  |  |  |
63198 | C | Incise spinal column & cord |  |  |  |  |
63199 | C | Incise spinal column & cord |  |  |  |  |
63200 | C | Release of spinal cord |  |  |  |  |
63250 | C | Revise spinal cord vessels |  |  |  |  |
63251 | C | Revise spinal cord vessels |  |  |  |  |
63252 | C | Revise spinal cord vessels |  |  |  |  |
63265 | C | Excise intraspinal lesion |  |  |  |  |
63266 | C | Excise intraspinal lesion |  |  |  |  |
63267 | C | Excise intraspinal lesion |  |  |  |  |
63268 | C | Excise intraspinal lesion |  |  |  |  |
63270 | C | Excise intraspinal lesion |  |  |  |  |
63271 | C | Excise intraspinal lesion |  |  |  |  |
63272 | C | Excise intraspinal lesion |  |  |  |  |
63273 | C | Excise intraspinal lesion |  |  |  |  |
63275 | C | Biopsy/excise spinal tumor |  |  |  |  |
63276 | C | Biopsy/excise spinal tumor |  |  |  |  |
63277 | C | Biopsy/excise spinal tumor |  |  |  |  |
63278 | C | Biopsy/excise spinal tumor |  |  |  |  |
63280 | C | Biopsy/excise spinal tumor |  |  |  |  |
63281 | C | Biopsy/excise spinal tumor |  |  |  |  |
63282 | C | Biopsy/excise spinal tumor |  |  |  |  |
63283 | C | Biopsy/excise spinal tumor |  |  |  |  |
63285 | C | Biopsy/excise spinal tumor |  |  |  |  |
63286 | C | Biopsy/excise spinal tumor |  |  |  |  |
63287 | C | Biopsy/excise spinal tumor |  |  |  |  |
63290 | C | Biopsy/excise spinal tumor |  |  |  |  |
63300 | C | Removal of vertebral body |  |  |  |  |
63301 | C | Removal of vertebral body |  |  |  |  |
63302 | C | Removal of vertebral body |  |  |  |  |
63303 | C | Removal of vertebral body |  |  |  |  |
63304 | C | Removal of vertebral body |  |  |  |  |
63305 | C | Removal of vertebral body |  |  |  |  |
63306 | C | Removal of vertebral body |  |  |  |  |
63307 | C | Removal of vertebral body |  |  |  |  |
63308 | C | Remove vertebral body add-on |  |  |  |  |
63600 | T | Remove spinal cord lesion | 0220 | 13.96 | $676.88 | $326.21 | $135.38
63610 | T | Stimulation of spinal cord | 0220 | 13.96 | $676.88 | $326.21 | $135.38
63615 | T | Remove lesion of spinal cord | 0220 | 13.96 | $676.88 | $326.21 | $135.38
63650 | T | Implant neuroelectrodes | 0224 | 15.94 | $772.88 | $374.61 | $154.58
63655 | C | Implant neuroelectrodes |  |  |  |  |
63660 | T | Revise/remove neuroelectrode | 0224 | 15.94 | $772.88 | $374.61 | $154.58
63685 | T | Implant neuroreceiver | 0222 | 25.48 | $1,235.45 | $780.07 | $247.09
63688 | T | Revise/remove neuroreceiver | 0224 | 15.94 | $772.88 | $374.61 | $154.58
63700 | C | Repair of spinal herniation |  |  |  |  |
63702 | C | Repair of spinal herniation |  |  |  |  |
63704 | C | Repair of spinal herniation |  |  |  |  |
63706 | C | Repair of spinal herniation |  |  |  |  |
63707 | C | Repair spinal fluid leakage |  |  |  |  |
63709 | C | Repair spinal fluid leakage |  |  |  |  |
63710 | C | Graft repair of spine defect |  |  |  |  |
63740 | C | Install spinal shunt |  |  |  |  |
63741 | C | Install spinal shunt |  |  |  |  |
63744 | T | Revision of spinal shunt | 0224 | 15.94 | $772.88 | $374.61 | $154.58
63746 | T | Removal of spinal shunt | 0223 | 6.34 | $307.41 | $153.24 | $61.48
64400 | T | Injection for nerve block | 0211 | 3.32 | $160.98 | $74.78 | $32.20
64402 | T | Injection for nerve block | 0211 | 3.32 | $160.98 | $74.78 | $32.20
64405 | T | Injection for nerve block | 0211 | 3.32 | $160.98 | $74.78 | $32.20
64408 | T | Injection for nerve block | 0211 | 3.32 | $160.98 | $74.78 | $32.20
64410 | T | Injection for nerve block | 0211 | 3.32 | $160.98 | $74.78 | $32.20
64412 | T | Injection for nerve block | 0211 | 3.32 | $160.98 | $74.78 | $32.20
64413 | T | Injection for nerve block | 0211 | 3.32 | $160.98 | $74.78 | $32.20
64415 | T | Injection for nerve block | 0211 | 3.32 | $160.98 | $74.78 | $32.20
64417 | T | Injection for nerve block | 0211 | 3.32 | $160.98 | $74.78 | $32.20
64418 | T | Injection for nerve block | 0211 | 3.32 | $160.98 | $74.78 | $32.20
64420 | T | Injection for nerve block | 0211 | 3.32 | $160.98 | $74.78 | $32.20
64421 | T | Injection for nerve block | 0211 | 3.32 | $160.98 | $74.78 | $32.20
64425 | T | Injection for nerve block | 0211 | 3.32 | $160.98 | $74.78 | $32.20
64430 | T | Injection for nerve block | 0211 | 3.32 | $160.98 | $74.78 | $32.20
64435 | T | Injection for nerve block | 0211 | 3.32 | $160.98 | $74.78 | $32.20
64445 | T | Injection for nerve block | 0211 | 3.32 | $160.98 | $74.78 | $32.20
64450 | T | Injection for nerve block | 0211 | 3.32 | $160.98 | $74.78 | $32.20
64470 | T | Inj paravertebral c/t | 0211 | 3.32 | $160.98 | $74.78 | $32.20
64472 | T | Inj paravertebral c/t add-on | 0211 | 3.32 | $160.98 | $74.78 | $32.20
64475 | T | Inj paravertebral l/s | 0211 | 3.32 | $160.98 | $74.78 | $32.20
64476 | T | Inj paravertebral l/s add-on | 0211 | 3.32 | $160.98 | $74.78 | $32.20
64479 | T | Inj foramen epidural c/t | 0211 | 3.32 | $160.98 | $74.78 | $32.20
64480 | T | Inj foramen epidural add-on | 0211 | 3.32 | $160.98 | $74.78 | $32.20
64483 | T | Inj foramen epidural l/s | 0211 | 3.32 | $160.98 | $74.78 | $32.20
64484 | T | Inj foramen epidural add-on | 0211 | 3.32 | $160.98 | $74.78 | $32.20
64505 | T | Injection for nerve block | 0211 | 3.32 | $160.98 | $74.78 | $32.20
64508 | T | Injection for nerve block | 0211 | 3.32 | $160.98 | $74.78 | $32.20
64510 | T | Injection for nerve block | 0211 | 3.32 | $160.98 | $74.78 | $32.20
64520 | T | Injection for nerve block | 0211 | 3.32 | $160.98 | $74.78 | $32.20
64530 | T | Injection for nerve block | 0211 | 3.32 | $160.98 | $74.78 | $32.20
64550 | A | Apply neurostimulator |  |  |  |  |
64553 | T | Implant neuroelectrodes | 0225 | 3.43 | $166.31 | $64.46 | $33.26
64555 | T | Implant neuroelectrodes | 0225 | 3.43 | $166.31 | $64.46 | $33.26
64560 | T | Implant neuroelectrodes | 0225 | 3.43 | $166.31 | $64.46 | $33.26
64565 | T | Implant neuroelectrodes | 0225 | 3.43 | $166.31 | $64.46 | $33.26
64573 | T | Implant neuroelectrodes | 0225 | 3.43 | $166.31 | $64.46 | $33.26
64575 | T | Implant neuroelectrodes | 0225 | 3.43 | $166.31 | $64.46 | $33.26
64577 | T | Implant neuroelectrodes | 0225 | 3.43 | $166.31 | $64.46 | $33.26
64580 | T | Implant neuroelectrodes | 0225 | 3.43 | $166.31 | $64.46 | $33.26
64585 | T | Revise/remove neuroelectrode | 0225 | 3.43 | $166.31 | $64.46 | $33.26
64590 | T | Implant neuroreceiver | 0222 | 25.48 | $1,235.45 | $780.07 | $247.09
64595 | T | Revise/remove neuroreceiver | 0225 | 3.43 | $166.31 | $64.46 | $33.26
64600 | T | Injection treatment of nerve | 0211 | 3.32 | $160.98 | $74.78 | $32.20
64605 | T | Injection treatment of nerve | 0211 | 3.32 | $160.98 | $74.78 | $32.20
64610 | T | Injection treatment of nerve | 0211 | 3.32 | $160.98 | $74.78 | $32.20
64612 | T | Destroy nerve, face muscle | 0211 | 3.32 | $160.98 | $74.78 | $32.20
64613 | T | Destroy nerve, spine muscle | 0211 | 3.32 | $160.98 | $74.78 | $32.20
64620 | T | Injection treatment of nerve | 0211 | 3.32 | $160.98 | $74.78 | $32.20
64622 | T | Destr paravertebrl nerve l/s | 0211 | 3.32 | $160.98 | $74.78 | $32.20
64623 | T | Destr paravertebral n add-on | 0211 | 3.32 | $160.98 | $74.78 | $32.20
64626 | T | Destr paravertebrl nerve c/t | 0211 | 3.32 | $160.98 | $74.78 | $32.20
64627 | T | Destr paravertebral n add-on | 0211 | 3.32 | $160.98 | $74.78 | $32.20
64630 | T | Injection treatment of nerve | 0211 | 3.32 | $160.98 | $74.78 | $32.20
64640 | T | Injection treatment of nerve | 0211 | 3.32 | $160.98 | $74.78 | $32.20
64680 | T | Injection treatment of nerve | 0211 | 3.32 | $160.98 | $74.78 | $32.20
64702 | T | Revise finger/toe nerve | 0220 | 13.96 | $676.88 | $326.21 | $135.38
64704 | T | Revise hand/foot nerve | 0220 | 13.96 | $676.88 | $326.21 | $135.38
64708 | T | Revise arm/leg nerve | 0220 | 13.96 | $676.88 | $326.21 | $135.38
64712 | T | Revision of sciatic nerve | 0220 | 13.96 | $676.88 | $326.21 | $135.38
64713 | T | Revision of arm nerve(s) | 0220 | 13.96 | $676.88 | $326.21 | $135.38
64714 | T | Revise low back nerve(s) | 0220 | 13.96 | $676.88 | $326.21 | $135.38
64716 | T | Revision of cranial nerve | 0220 | 13.96 | $676.88 | $326.21 | $135.38
64718 | T | Revise ulnar nerve at elbow | 0220 | 13.96 | $676.88 | $326.21 | $135.38
64719 | T | Revise ulnar nerve at wrist | 0220 | 13.96 | $676.88 | $326.21 | $135.38
64721 | T | Carpal tunnel surgery | 0220 | 13.96 | $676.88 | $326.21 | $135.38
64722 | T | Relieve pressure on nerve(s) | 0220 | 13.96 | $676.88 | $326.21 | $135.38
64726 | T | Release foot/toe nerve | 0220 | 13.96 | $676.88 | $326.21 | $135.38
64727 | T | Internal nerve revision | 0220 | 13.96 | $676.88 | $326.21 | $135.38
64732 | T | Incision of brow nerve | 0220 | 13.96 | $676.88 | $326.21 | $135.38
64734 | T | Incision of cheek nerve | 0220 | 13.96 | $676.88 | $326.21 | $135.38
64736 | T | Incision of chin nerve | 0220 | 13.96 | $676.88 | $326.21 | $135.38
64738 | T | Incision of jaw nerve | 0220 | 13.96 | $676.88 | $326.21 | $135.38
64740 | T | Incision of tongue nerve | 0220 | 13.96 | $676.88 | $326.21 | $135.38
64742 | T | Incision of facial nerve | 0220 | 13.96 | $676.88 | $326.21 | $135.38
64744 | T | Incise nerve, back of head | 0220 | 13.96 | $676.88 | $326.21 | $135.38
64746 | T | Incise diaphragm nerve | 0220 | 13.96 | $676.88 | $326.21 | $135.38
64752 | C | Incision of vagus nerve |  |  |  |  |
64755 | C | Incision of stomach nerves |  |  |  |  |
64760 | C | Incision of vagus nerve |  |  |  |  |
64761 | T | Incision of pelvis nerve | 0220 | 13.96 | $676.88 | $326.21 | $135.38
64763 | C | Incise hip/thigh nerve |  |  |  |  |
64766 | C | Incise hip/thigh nerve |  |  |  |  |
64771 | T | Sever cranial nerve | 0220 | 13.96 | $676.88 | $326.21 | $135.38
64772 | T | Incision of spinal nerve | 0220 | 13.96 | $676.88 | $326.21 | $135.38
64774 | T | Remove skin nerve lesion | 0220 | 13.96 | $676.88 | $326.21 | $135.38
64776 | T | Remove digit nerve lesion | 0220 | 13.96 | $676.88 | $326.21 | $135.38
64778 | T | Digit nerve surgery add-on | 0220 | 13.96 | $676.88 | $326.21 | $135.38
64782 | T | Remove limb nerve lesion | 0220 | 13.96 | $676.88 | $326.21 | $135.38
64783 | T | Limb nerve surgery add-on | 0220 | 13.96 | $676.88 | $326.21 | $135.38
64784 | T | Remove nerve lesion | 0220 | 13.96 | $676.88 | $326.21 | $135.38
64786 | T | Remove sciatic nerve lesion | 0221 | 18.36 | $890.22 | $463.62 | $178.04
64787 | T | Implant nerve end | 0220 | 13.96 | $676.88 | $326.21 | $135.38
64788 | T | Remove skin nerve lesion | 0220 | 13.96 | $676.88 | $326.21 | $135.38
64790 | T | Removal of nerve lesion | 0220 | 13.96 | $676.88 | $326.21 | $135.38
64792 | T | Removal of nerve lesion | 0221 | 18.36 | $890.22 | $463.62 | $178.04
64795 | T | Biopsy of nerve | 0220 | 13.96 | $676.88 | $326.21 | $135.38
64802 | C | Remove sympathetic nerves |  |  |  |  |
64804 | C | Remove sympathetic nerves |  |  |  |  |
64809 | C | Remove sympathetic nerves |  |  |  |  |
64818 | C | Remove sympathetic nerves |  |  |  |  |
64820 | C | Remove sympathetic nerves |  |  |  |  |
64831 | T | Repair of digit nerve | 0221 | 18.36 | $890.22 | $463.62 | $178.04
64832 | T | Repair nerve add-on | 0221 | 18.36 | $890.22 | $463.62 | $178.04
64834 | T | Repair of hand or foot nerve | 0221 | 18.36 | $890.22 | $463.62 | $178.04
64835 | T | Repair of hand or foot nerve | 0221 | 18.36 | $890.22 | $463.62 | $178.04
64836 | T | Repair of hand or foot nerve | 0221 | 18.36 | $890.22 | $463.62 | $178.04
64837 | T | Repair nerve add-on | 0221 | 18.36 | $890.22 | $463.62 | $178.04
64840 | T | Repair of leg nerve | 0221 | 18.36 | $890.22 | $463.62 | $178.04
64856 | T | Repair/transpose nerve | 0221 | 18.36 | $890.22 | $463.62 | $178.04
64857 | T | Repair arm/leg nerve | 0221 | 18.36 | $890.22 | $463.62 | $178.04
64858 | T | Repair sciatic nerve | 0221 | 18.36 | $890.22 | $463.62 | $178.04
64859 | T | Nerve surgery | 0221 | 18.36 | $890.22 | $463.62 | $178.04
64861 | T | Repair of arm nerves | 0221 | 18.36 | $890.22 | $463.62 | $178.04
64862 | T | Repair of low back nerves | 0221 | 18.36 | $890.22 | $463.62 | $178.04
64864 | T | Repair of facial nerve | 0221 | 18.36 | $890.22 | $463.62 | $178.04
64865 | T | Repair of facial nerve | 0221 | 18.36 | $890.22 | $463.62 | $178.04
64866 | C | Fusion of facial/other nerve |  |  |  |  |
64868 | C | Fusion of facial/other nerve |  |  |  |  |
64870 | T | Fusion of facial/other nerve | 0221 | 18.36 | $890.22 | $463.62 | $178.04
64872 | T | Subsequent repair of nerve | 0221 | 18.36 | $890.22 | $463.62 | $178.04
64874 | T | Repair & revise nerve add-on | 0221 | 18.36 | $890.22 | $463.62 | $178.04
64876 | T | Repair nerve/shorten bone | 0221 | 18.36 | $890.22 | $463.62 | $178.04
64885 | T | Nerve graft, head or neck | 0221 | 18.36 | $890.22 | $463.62 | $178.04
64886 | T | Nerve graft, head or neck | 0221 | 18.36 | $890.22 | $463.62 | $178.04
64890 | T | Nerve graft, hand or foot | 0221 | 18.36 | $890.22 | $463.62 | $178.04
64891 | T | Nerve graft, hand or foot | 0221 | 18.36 | $890.22 | $463.62 | $178.04
64892 | T | Nerve graft, arm or leg | 0221 | 18.36 | $890.22 | $463.62 | $178.04
64893 | T | Nerve graft, arm or leg | 0221 | 18.36 | $890.22 | $463.62 | $178.04
64895 | T | Nerve graft, hand or foot | 0221 | 18.36 | $890.22 | $463.62 | $178.04
64896 | T | Nerve graft, hand or foot | 0221 | 18.36 | $890.22 | $463.62 | $178.04
64897 | T | Nerve graft, arm or leg | 0221 | 18.36 | $890.22 | $463.62 | $178.04
64898 | T | Nerve graft, arm or leg | 0221 | 18.36 | $890.22 | $463.62 | $178.04
64901 | T | Nerve graft add-on | 0221 | 18.36 | $890.22 | $463.62 | $178.04
64902 | T | Nerve graft add-on | 0221 | 18.36 | $890.22 | $463.62 | $178.04
64905 | T | Nerve pedicle transfer | 0221 | 18.36 | $890.22 | $463.62 | $178.04
64907 | T | Nerve pedicle transfer | 0221 | 18.36 | $890.22 | $463.62 | $178.04
64999 | T | Nervous system surgery | 0211 | 3.32 | $160.98 | $74.78 | $32.20
65091 | T | Revise eye | 0242 | 23.70 | $1,149.14 | $597.36 | $229.83
65093 | T | Revise eye with implant | 0241 | 16.60 | $804.89 | $384.47 | $160.98
65101 | T | Removal of eye | 0242 | 23.70 | $1,149.14 | $597.36 | $229.83
65103 | T | Remove eye/insert implant | 0242 | 23.70 | $1,149.14 | $597.36 | $229.83
65105 | T | Remove eye/attach implant | 0242 | 23.70 | $1,149.14 | $597.36 | $229.83
65110 | T | Removal of eye | 0242 | 23.70 | $1,149.14 | $597.36 | $229.83
65112 | T | Remove eye/revise socket | 0242 | 23.70 | $1,149.14 | $597.36 | $229.83
65114 | T | Remove eye/revise socket | 0242 | 23.70 | $1,149.14 | $597.36 | $229.83
65125 | T | Revise ocular implant | 0240 | 13.47 | $653.12 | $315.31 | $130.62
65130 | T | Insert ocular implant | 0241 | 16.60 | $804.89 | $384.47 | $160.98
65135 | T | Insert ocular implant | 0241 | 16.60 | $804.89 | $384.47 | $160.98
65140 | T | Attach ocular implant | 0242 | 23.70 | $1,149.14 | $597.36 | $229.83
65150 | T | Revise ocular implant | 0241 | 16.60 | $804.89 | $384.47 | $160.98
65155 | T | Reinsert ocular implant | 0242 | 23.70 | $1,149.14 | $597.36 | $229.83
65175 | T | Removal of ocular implant | 0240 | 13.47 | $653.12 | $315.31 | $130.62
65205 | S | Remove foreign body from eye | 0231 | 2.64 | $128.01 | $59.87 | $25.60
65210 | S | Remove foreign body from eye | 0231 | 2.64 | $128.01 | $59.87 | $25.60
65220 | S | Remove foreign body from eye | 0231 | 2.64 | $128.01 | $59.87 | $25.60
65222 | S | Remove foreign body from eye | 0231 | 2.64 | $128.01 | $59.87 | $25.60
65235 | T | Remove foreign body from eye | 0232 | 6.04 | $292.86 | $134.66 | $58.57
65260 | T | Remove foreign body from eye | 0237 | 33.96 | $1,646.62 | $852.68 | $329.32
65265 | T | Remove foreign body from eye | 0237 | 33.96 | $1,646.62 | $852.68 | $329.32
65270 | T | Repair of eye wound | 0240 | 13.47 | $653.12 | $315.31 | $130.62
65272 | T | Repair of eye wound | 0232 | 6.04 | $292.86 | $134.66 | $58.57
65273 | C | Repair of eye wound |  |  |  |  |
65275 | T | Repair of eye wound | 0233 | 13.79 | $668.64 | $331.60 | $133.73
65280 | T | Repair of eye wound | 0233 | 13.79 | $668.64 | $331.60 | $133.73
65285 | T | Repair of eye wound | 0234 | 20.64 | $1,000.77 | $502.16 | $200.15
65286 | T | Repair of eye wound | 0232 | 6.04 | $292.86 | $134.66 | $58.57
65290 | T | Repair of eye socket wound | 0243 | 17.99 | $872.28 | $431.39 | $174.46
65400 | T | Removal of eye lesion | 0232 | 6.04 | $292.86 | $134.66 | $58.57
65410 | T | Biopsy of cornea | 0233 | 13.79 | $668.64 | $331.60 | $133.73
65420 | T | Removal of eye lesion | 0233 | 13.79 | $668.64 | $331.60 | $133.73
65426 | T | Removal of eye lesion | 0233 | 13.79 | $668.64 | $331.60 | $133.73
65430 | S | Corneal smear | 0231 | 2.64 | $128.01 | $59.87 | $25.60
65435 | T | Curette/treat cornea | 0239 | 6.26 | $303.53 | $123.42 | $60.71
65436 | T | Curette/treat cornea | 0232 | 6.04 | $292.86 | $134.66 | $58.57
65450 | T | Treatment of corneal lesion | 0232 | 6.04 | $292.86 | $134.66 | $58.57
65600 | T | Revision of cornea | 0240 | 13.47 | $653.12 | $315.31 | $130.62
65710 | T | Corneal transplant | 0244 | 32.88 | $1,594.26 | $851.42 | $318.85
65730 | T | Corneal transplant | 0244 | 32.88 | $1,594.26 | $851.42 | $318.85
65750 | T | Corneal transplant | 0244 | 32.88 | $1,594.26 | $851.42 | $318.85
65755 | T | Corneal transplant | 0244 | 32.88 | $1,594.26 | $851.42 | $318.85
65760 | E | Revision of cornea |  |  |  |  |
65765 | E | Revision of cornea |  |  |  |  |
65767 | E | Corneal tissue transplant |  |  |  |  |
65770 | T | Revise cornea with implant | 0244 | 32.88 | $1,594.26 | $851.42 | $318.85
65771 | E | Radial keratotomy |  |  |  |  |
65772 | T | Correction of astigmatism | 0232 | 6.04 | $292.86 | $134.66 | $58.57
65775 | T | Correction of astigmatism | 0233 | 13.79 | $668.64 | $331.60 | $133.73
65800 | T | Drainage of eye | 0232 | 6.04 | $292.86 | $134.66 | $58.57
65805 | T | Drainage of eye | 0233 | 13.79 | $668.64 | $331.60 | $133.73
65810 | T | Drainage of eye | 0233 | 13.79 | $668.64 | $331.60 | $133.73
65815 | T | Drainage of eye | 0233 | 13.79 | $668.64 | $331.60 | $133.73
65820 | T | Relieve inner eye pressure | 0232 | 6.04 | $292.86 | $134.66 | $58.57
65850 | T | Incision of eye | 0234 | 20.64 | $1,000.77 | $502.16 | $200.15
65855 | T | Laser surgery of eye | 0247 | 4.89 | $237.10 | $112.86 | $47.42
65860 | T | Incise inner eye adhesions | 0247 | 4.89 | $237.10 | $112.86 | $47.42
65865 | T | Incise inner eye adhesions | 0233 | 13.79 | $668.64 | $331.60 | $133.73
65870 | T | Incise inner eye adhesions | 0233 | 13.79 | $668.64 | $331.60 | $133.73
65875 | T | Incise inner eye adhesions | 0233 | 13.79 | $668.64 | $331.60 | $133.73
65880 | T | Incise inner eye adhesions | 0232 | 6.04 | $292.86 | $134.66 | $58.57
65900 | T | Remove eye lesion | 0232 | 6.04 | $292.86 | $134.66 | $58.57
65920 | T | Remove implant from eye | 0233 | 13.79 | $668.64 | $331.60 | $133.73
65930 | T | Remove blood clot from eye | 0233 | 13.79 | $668.64 | $331.60 | $133.73
66020 | T | Injection treatment of eye | 0232 | 6.04 | $292.86 | $134.66 | $58.57
66030 | T | Injection treatment of eye | 0232 | 6.04 | $292.86 | $134.66 | $58.57
66130 | T | Remove eye lesion | 0233 | 13.79 | $668.64 | $331.60 | $133.73
66150 | T | Glaucoma surgery | 0233 | 13.79 | $668.64 | $331.60 | $133.73
66155 | T | Glaucoma surgery | 0234 | 20.64 | $1,000.77 | $502.16 | $200.15
66160 | T | Glaucoma surgery | 0234 | 20.64 | $1,000.77 | $502.16 | $200.15
66165 | T | Glaucoma surgery | 0234 | 20.64 | $1,000.77 | $502.16 | $200.15
66170 | T | Glaucoma surgery | 0234 | 20.64 | $1,000.77 | $502.16 | $200.15
66172 | T | Incision of eye | 0234 | 20.64 | $1,000.77 | $502.16 | $200.15
66180 | T | Implant eye shunt | 0234 | 20.64 | $1,000.77 | $502.16 | $200.15
66185 | T | Revise eye shunt | 0234 | 20.64 | $1,000.77 | $502.16 | $200.15
66220 | T | Repair eye lesion | 0236 | 6.70 | $324.86 | $147.96 | $64.97
66225 | T | Repair/graft eye lesion | 0234 | 20.64 | $1,000.77 | $502.16 | $200.15
66250 | T | Follow-up surgery of eye | 0233 | 13.79 | $668.64 | $331.60 | $133.73
66500 | T | Incision of iris | 0232 | 6.04 | $292.86 | $134.66 | $58.57
66505 | T | Incision of iris | 0232 | 6.04 | $292.86 | $134.66 | $58.57
66600 | T | Remove iris and lesion | 0233 | 13.79 | $668.64 | $331.60 | $133.73
66605 | T | Removal of iris | 0233 | 13.79 | $668.64 | $331.60 | $133.73
66625 | T | Removal of iris | 0232 | 6.04 | $292.86 | $134.66 | $58.57
66630 | T | Removal of iris | 0233 | 13.79 | $668.64 | $331.60 | $133.73
66635 | T | Removal of iris | 0233 | 13.79 | $668.64 | $331.60 | $133.73
66680 | T | Repair iris & ciliary body | 0233 | 13.79 | $668.64 | $331.60 | $133.73
66682 | T | Repair iris & ciliary body | 0233 | 13.79 | $668.64 | $331.60 | $133.73
66700 | T | Destruction, ciliary body | 0232 | 6.04 | $292.86 | $134.66 | $58.57
66710 | T | Destruction, ciliary body | 0232 | 6.04 | $292.86 | $134.66 | $58.57
66720 | T | Destruction, ciliary body | 0232 | 6.04 | $292.86 | $134.66 | $58.57
66740 | T | Destruction, ciliary body | 0233 | 13.79 | $668.64 | $331.60 | $133.73
66761 | T | Revision of iris | 0247 | 4.89 | $237.10 | $112.86 | $47.42
66762 | T | Revision of iris | 0247 | 4.89 | $237.10 | $112.86 | $47.42
66770 | T | Removal of inner eye lesion | 0247 | 4.89 | $237.10 | $112.86 | $47.42
66820 | T | Incision, secondary cataract | 0232 | 6.04 | $292.86 | $134.66 | $58.57
66821 | T | After cataract laser surgery | 0247 | 4.89 | $237.10 | $112.86 | $47.42
66825 | T | Reposition intraocular lens | 0233 | 13.79 | $668.64 | $331.60 | $133.73
66830 | T | Removal of lens lesion | 0232 | 6.04 | $292.86 | $134.66 | $58.57
66840 | T | Removal of lens material | 0245 | 26.55 | $1,287.33 | $623.85 | $257.47
66850 | T | Removal of lens material | 0245 | 26.55 | $1,287.33 | $623.85 | $257.47
66852 | T | Removal of lens material | 0245 | 26.55 | $1,287.33 | $623.85 | $257.47
66920 | T | Extraction of lens | 0245 | 26.55 | $1,287.33 | $623.85 | $257.47
66930 | T | Extraction of lens | 0245 | 26.55 | $1,287.33 | $623.85 | $257.47
66940 | T | Extraction of lens | 0245 | 26.55 | $1,287.33 | $623.85 | $257.47
66983 | T | Remove cataract/insert lens | 0246 | 26.55 | $1,287.33 | $623.85 | $257.47
66984 | T | Remove cataract/insert lens | 0246 | 26.55 | $1,287.33 | $623.85 | $257.47
66985 | T | Insert lens prosthesis | 0246 | 26.55 | $1,287.33 | $623.85 | $257.47
66986 | T | Exchange lens prosthesis | 0246 | 26.55 | $1,287.33 | $623.85 | $257.47
66999 | T | Eye surgery procedure | 0247 | 4.89 | $237.10 | $112.86 | $47.42
67005 | T | Partial removal of eye fluid | 0237 | 33.96 | $1,646.62 | $852.68 | $329.32
67010 | T | Partial removal of eye fluid | 0237 | 33.96 | $1,646.62 | $852.68 | $329.32
67015 | T | Release of eye fluid | 0237 | 33.96 | $1,646.62 | $852.68 | $329.32
67025 | T | Replace eye fluid | 0237 | 33.96 | $1,646.62 | $852.68 | $329.32
67027 | T | Implant eye drug system | 0237 | 33.96 | $1,646.62 | $852.68 | $329.32
67028 | T | Injection eye drug | 0236 | 6.70 | $324.86 | $147.96 | $64.97
67030 | T | Incise inner eye strands | 0236 | 6.70 | $324.86 | $147.96 | $64.97
67031 | T | Laser surgery, eye strands | 0247 | 4.89 | $237.10 | $112.86 | $47.42
67036 | T | Removal of inner eye fluid | 0237 | 33.96 | $1,646.62 | $852.68 | $329.32
67038 | T | Strip retinal membrane | 0237 | 33.96 | $1,646.62 | $852.68 | $329.32
67039 | T | Laser treatment of retina | 0237 | 33.96 | $1,646.62 | $852.68 | $329.32
67040 | T | Laser treatment of retina | 0237 | 33.96 | $1,646.62 | $852.68 | $329.32
67101 | T | Repair detached retina | 0236 | 6.70 | $324.86 | $147.96 | $64.97
67105 | T | Repair detached retina | 0248 | 4.19 | $203.16 | $94.05 | $40.63
67107 | T | Repair detached retina | 0237 | 33.96 | $1,646.62 | $852.68 | $329.32
67108 | T | Repair detached retina | 0237 | 33.96 | $1,646.62 | $852.68 | $329.32
67110 | T | Repair detached retina | 0236 | 6.70 | $324.86 | $147.96 | $64.97
67112 | T | Rerepair detached retina | 0237 | 33.96 | $1,646.62 | $852.68 | $329.32
67115 | T | Release encircling material | 0236 | 6.70 | $324.86 | $147.96 | $64.97
67120 | T | Remove eye implant material | 0236 | 6.70 | $324.86 | $147.96 | $64.97
67121 | T | Remove eye implant material | 0237 | 33.96 | $1,646.62 | $852.68 | $329.32
67141 | T | Treatment of retina | 0235 | 2.94 | $142.55 | $78.91 | $28.51
67145 | T | Treatment of retina | 0248 | 4.19 | $203.16 | $94.05 | $40.63
67208 | T | Treatment of retinal lesion | 0235 | 2.94 | $142.55 | $78.91 | $28.51
67210 | T | Treatment of retinal lesion | 0248 | 4.19 | $203.16 | $94.05 | $40.63
67218 | T | Treatment of retinal lesion | 0237 | 33.96 | $1,646.62 | $852.68 | $329.32
67220 | T | Treatment of choroid lesion | 0237 | 33.96 | $1,646.62 | $852.68 | $329.32
67227 | T | Treatment of retinal lesion | 0235 | 2.94 | $142.55 | $78.91 | $28.51
67228 | T | Treatment of retinal lesion | 0248 | 4.19 | $203.16 | $94.05 | $40.63
67250 | T | Reinforce eye wall | 0240 | 13.47 | $653.12 | $315.31 | $130.62
67255 | T | Reinforce/graft eye wall | 0237 | 33.96 | $1,646.62 | $852.68 | $329.32
67299 | T | Eye surgery procedure | 0248 | 4.19 | $203.16 | $94.05 | $40.63
67311 | T | Revise eye muscle | 0243 | 17.99 | $872.28 | $431.39 | $174.46
67312 | T | Revise two eye muscles | 0243 | 17.99 | $872.28 | $431.39 | $174.46
67314 | T | Revise eye muscle | 0243 | 17.99 | $872.28 | $431.39 | $174.46
67316 | T | Revise two eye muscles | 0243 | 17.99 | $872.28 | $431.39 | $174.46
67318 | T | Revise eye muscle(s) | 0243 | 17.99 | $872.28 | $431.39 | $174.46
67320 | T | Revise eye muscle(s) add-on | 0243 | 17.99 | $872.28 | $431.39 | $174.46
67331 | T | Eye surgery follow-up add-on | 0243 | 17.99 | $872.28 | $431.39 | $174.46
67332 | T | Rerevise eye muscles add-on | 0243 | 17.99 | $872.28 | $431.39 | $174.46
67334 | T | Revise eye muscle w/suture | 0243 | 17.99 | $872.28 | $431.39 | $174.46
67335 | T | Eye suture during surgery | 0243 | 17.99 | $872.28 | $431.39 | $174.46
67340 | T | Revise eye muscle add-on | 0243 | 17.99 | $872.28 | $431.39 | $174.46
67343 | T | Release eye tissue | 0243 | 17.99 | $872.28 | $431.39 | $174.46
67345 | T | Destroy nerve of eye muscle | 0238 | 2.80 | $135.76 | $58.96 | $27.15
67350 | S | Biopsy eye muscle | 0231 | 2.64 | $128.01 | $59.87 | $25.60
67399 | T | Eye muscle surgery procedure | 0243 | 17.99 | $872.28 | $431.39 | $174.46
67400 | T | Explore/biopsy eye socket | 0241 | 16.60 | $804.89 | $384.47 | $160.98
67405 | T | Explore/drain eye socket | 0241 | 16.60 | $804.89 | $384.47 | $160.98
67412 | T | Explore/treat eye socket | 0241 | 16.60 | $804.89 | $384.47 | $160.98
67413 | T | Explore/treat eye socket | 0241 | 16.60 | $804.89 | $384.47 | $160.98
67414 | T | Explr/decompress eye socket | 0242 | 23.70 | $1,149.14 | $597.36 | $229.83
67415 | T | Aspiration, orbital contents | 0239 | 6.26 | $303.53 | $123.42 | $60.71
67420 | T | Explore/treat eye socket | 0242 | 23.70 | $1,149.14 | $597.36 | $229.83
67430 | T | Explore/treat eye socket | 0242 | 23.70 | $1,149.14 | $597.36 | $229.83
67440 | T | Explore/drain eye socket | 0242 | 23.70 | $1,149.14 | $597.36 | $229.83
67445 | T | Explr/decompress eye socket | 0242 | 23.70 | $1,149.14 | $597.36 | $229.83
67450 | T | Explore/biopsy eye socket | 0242 | 23.70 | $1,149.14 | $597.36 | $229.83
67500 | S | Inject/treat eye socket | 0231 | 2.64 | $128.01 | $59.87 | $25.60
67505 | T | Inject/treat eye socket | 0238 | 2.80 | $135.76 | $58.96 | $27.15
67515 | T | Inject/treat eye socket | 0239 | 6.26 | $303.53 | $123.42 | $60.71
67550 | T | Insert eye socket implant | 0242 | 23.70 | $1,149.14 | $597.36 | $229.83
67560 | T | Revise eye socket implant | 0241 | 16.60 | $804.89 | $384.47 | $160.98
67570 | T | Decompress optic nerve | 0242 | 23.70 | $1,149.14 | $597.36 | $229.83
67599 | T | Orbit surgery procedure | 0239 | 6.26 | $303.53 | $123.42 | $60.71
67700 | T | Drainage of eyelid abscess | 0238 | 2.80 | $135.76 | $58.96 | $27.15
67710 | T | Incision of eyelid | 0239 | 6.26 | $303.53 | $123.42 | $60.71
67715 | T | Incision of eyelid fold | 0240 | 13.47 | $653.12 | $315.31 | $130.62
67800 | T | Remove eyelid lesion | 0238 | 2.80 | $135.76 | $58.96 | $27.15
67801 | T | Remove eyelid lesions | 0239 | 6.26 | $303.53 | $123.42 | $60.71
67805 | T | Remove eyelid lesions | 0238 | 2.80 | $135.76 | $58.96 | $27.15
67808 | T | Remove eyelid lesion(s) | 0240 | 13.47 | $653.12 | $315.31 | $130.62
67810 | T | Biopsy of eyelid | 0238 | 2.80 | $135.76 | $58.96 | $27.15
67820 | T | Revise eyelashes | 0238 | 2.80 | $135.76 | $58.96 | $27.15
67825 | T | Revise eyelashes | 0238 | 2.80 | $135.76 | $58.96 | $27.15
67830 | T | Revise eyelashes | 0239 | 6.26 | $303.53 | $123.42 | $60.71
67835 | T | Revise eyelashes | 0240 | 13.47 | $653.12 | $315.31 | $130.62
67840 | T | Remove eyelid lesion | 0239 | 6.26 | $303.53 | $123.42 | $60.71
67850 | T | Treat eyelid lesion | 0239 | 6.26 | $303.53 | $123.42 | $60.71
67875 | T | Closure of eyelid by suture | 0239 | 6.26 | $303.53 | $123.42 | $60.71
67880 | T | Revision of eyelid | 0232 | 6.04 | $292.86 | $134.66 | $58.57
67882 | T | Revision of eyelid | 0240 | 13.47 | $653.12 | $315.31 | $130.62
67900 | T | Repair brow defect | 0240 | 13.47 | $653.12 | $315.31 | $130.62
67901 | T | Repair eyelid defect | 0240 | 13.47 | $653.12 | $315.31 | $130.62
67902 | T | Repair eyelid defect | 0240 | 13.47 | $653.12 | $315.31 | $130.62
67903 | T | Repair eyelid defect | 0240 | 13.47 | $653.12 | $315.31 | $130.62
67904 | T | Repair eyelid defect | 0240 | 13.47 | $653.12 | $315.31 | $130.62
67906 | T | Repair eyelid defect | 0240 | 13.47 | $653.12 | $315.31 | $130.62
67908 | T | Repair eyelid defect | 0240 | 13.47 | $653.12 | $315.31 | $130.62
67909 | T | Revise eyelid defect | 0240 | 13.47 | $653.12 | $315.31 | $130.62
67911 | T | Revise eyelid defect | 0240 | 13.47 | $653.12 | $315.31 | $130.62
67914 | T | Repair eyelid defect | 0240 | 13.47 | $653.12 | $315.31 | $130.62
67915 | T | Repair eyelid defect | 0239 | 6.26 | $303.53 | $123.42 | $60.71
67916 | T | Repair eyelid defect | 0240 | 13.47 | $653.12 | $315.31 | $130.62
67917 | T | Repair eyelid defect | 0240 | 13.47 | $653.12 | $315.31 | $130.62
67921 | T | Repair eyelid defect | 0240 | 13.47 | $653.12 | $315.31 | $130.62
67922 | T | Repair eyelid defect | 0239 | 6.26 | $303.53 | $123.42 | $60.71
67923 | T | Repair eyelid defect | 0240 | 13.47 | $653.12 | $315.31 | $130.62
67924 | T | Repair eyelid defect | 0240 | 13.47 | $653.12 | $315.31 | $130.62
67930 | T | Repair eyelid wound | 0240 | 13.47 | $653.12 | $315.31 | $130.62
67935 | T | Repair eyelid wound | 0240 | 13.47 | $653.12 | $315.31 | $130.62
67938 | T | Remove eyelid foreign body | 0238 | 2.80 | $135.76 | $58.96 | $27.15
67950 | T | Revision of eyelid | 0240 | 13.47 | $653.12 | $315.31 | $130.62
67961 | T | Revision of eyelid | 0240 | 13.47 | $653.12 | $315.31 | $130.62
67966 | T | Revision of eyelid | 0240 | 13.47 | $653.12 | $315.31 | $130.62
67971 | T | Reconstruction of eyelid | 0241 | 16.60 | $804.89 | $384.47 | $160.98
67973 | T | Reconstruction of eyelid | 0241 | 16.60 | $804.89 | $384.47 | $160.98
67974 | T | Reconstruction of eyelid | 0241 | 16.60 | $804.89 | $384.47 | $160.98
67975 | T | Reconstruction of eyelid | 0240 | 13.47 | $653.12 | $315.31 | $130.62
67999 | T | Revision of eyelid | 0240 | 13.47 | $653.12 | $315.31 | $130.62
68020 | T | Incise/drain eyelid lining | 0240 | 13.47 | $653.12 | $315.31 | $130.62
68040 | T | Treatment of eyelid lesions | 0239 | 6.26 | $303.53 | $123.42 | $60.71
68100 | T | Biopsy of eyelid lining | 0232 | 6.04 | $292.86 | $134.66 | $58.57
68110 | S | Remove eyelid lining lesion | 0231 | 2.64 | $128.01 | $59.87 | $25.60
68115 | T | Remove eyelid lining lesion | 0239 | 6.26 | $303.53 | $123.42 | $60.71
68130 | T | Remove eyelid lining lesion | 0233 | 13.79 | $668.64 | $331.60 | $133.73
68135 | T | Remove eyelid lining lesion | 0239 | 6.26 | $303.53 | $123.42 | $60.71
68200 | S | Treat eyelid by injection | 0230 | 0.98 | $47.52 | $22.48 | $9.50
68320 | T | Revise/graft eyelid lining | 0240 | 13.47 | $653.12 | $315.31 | $130.62
68325 | T | Revise/graft eyelid lining | 0242 | 23.70 | $1,149.14 | $597.36 | $229.83
68326 | T | Revise/graft eyelid lining | 0241 | 16.60 | $804.89 | $384.47 | $160.98
68328 | T | Revise/graft eyelid lining | 0241 | 16.60 | $804.89 | $384.47 | $160.98
68330 | T | Revise eyelid lining | 0233 | 13.79 | $668.64 | $331.60 | $133.73
68335 | T | Revise/graft eyelid lining | 0241 | 16.60 | $804.89 | $384.47 | $160.98
68340 | T | Separate eyelid adhesions | 0240 | 13.47 | $653.12 | $315.31 | $130.62
68360 | T | Revise eyelid lining | 0234 | 20.64 | $1,000.77 | $502.16 | $200.15
68362 | T | Revise eyelid lining | 0234 | 20.64 | $1,000.77 | $502.16 | $200.15
68399 | T | Eyelid lining surgery | 0239 | 6.26 | $303.53 | $123.42 | $60.71
68400 | T | Incise/drain tear gland | 0238 | 2.80 | $135.76 | $58.96 | $27.15
68420 | T | Incise/drain tear sac | 0240 | 13.47 | $653.12 | $315.31 | $130.62
68440 | T | Incise tear duct opening | 0238 | 2.80 | $135.76 | $58.96 | $27.15
68500 | T | Removal of tear gland | 0241 | 16.60 | $804.89 | $384.47 | $160.98
68505 | T | Partial removal, tear gland | 0241 | 16.60 | $804.89 | $384.47 | $160.98
68510 | T | Biopsy of tear gland | 0240 | 13.47 | $653.12 | $315.31 | $130.62
68520 | T | Removal of tear sac | 0241 | 16.60 | $804.89 | $384.47 | $160.98
68525 | T | Biopsy of tear sac | 0240 | 13.47 | $653.12 | $315.31 | $130.62
68530 | T | Clearance of tear duct | 0240 | 13.47 | $653.12 | $315.31 | $130.62
68540 | T | Remove tear gland lesion | 0241 | 16.60 | $804.89 | $384.47 | $160.98
68550 | T | Remove tear gland lesion | 0242 | 23.70 | $1,149.14 | $597.36 | $229.83
68700 | T | Repair tear ducts | 0241 | 16.60 | $804.89 | $384.47 | $160.98
68705 | T | Revise tear duct opening | 0238 | 2.80 | $135.76 | $58.96 | $27.15
68720 | T | Create tear sac drain | 0242 | 23.70 | $1,149.14 | $597.36 | $229.83
68745 | T | Create tear duct drain | 0241 | 16.60 | $804.89 | $384.47 | $160.98
68750 | T | Create tear duct drain | 0242 | 23.70 | $1,149.14 | $597.36 | $229.83
68760 | T | Close tear duct opening | 0238 | 2.80 | $135.76 | $58.96 | $27.15
68761 | S | Close tear duct opening | 0231 | 2.64 | $128.01 | $59.87 | $25.60
68770 | T | Close tear system fistula | 0240 | 13.47 | $653.12 | $315.31 | $130.62
68801 | S | Dilate tear duct opening | 0231 | 2.64 | $128.01 | $59.87 | $25.60
68810 | S | Probe nasolacrimal duct | 0231 | 2.64 | $128.01 | $59.87 | $25.60
68811 | T | Probe nasolacrimal duct | 0240 | 13.47 | $653.12 | $315.31 | $130.62
68815 | T | Probe nasolacrimal duct | 0240 | 13.47 | $653.12 | $315.31 | $130.62
68840 | S | Explore/irrigate tear ducts | 0231 | 2.64 | $128.01 | $59.87 | $25.60
68850 | N | Injection for tear sac x-ray |  |  |  |  |
68899 | S | Tear duct system surgery | 0231 | 2.64 | $128.01 | $59.87 | $25.60
69000 | T | Drain external ear lesion | 0006 | 2.00 | $96.97 | $33.95 | $19.39
69005 | T | Drain external ear lesion | 0007 | 3.68 | $178.43 | $72.03 | $35.69
69020 | T | Drain outer ear canal lesion | 0006 | 2.00 | $96.97 | $33.95 | $19.39
69090 | E | Pierce earlobes |  |  |  |  |
69100 | T | Biopsy of external ear | 0019 | 4.00 | $193.95 | $78.91 | $38.79
69105 | T | Biopsy of external ear canal | 0253 | 12.02 | $582.81 | $284.00 | $116.56
69110 | T | Remove external ear, partial | 0020 | 6.51 | $315.65 | $130.53 | $63.13
69120 | T | Removal of external ear | 0253 | 12.02 | $582.81 | $284.00 | $116.56
69140 | T | Remove ear canal lesion(s) | 0254 | 12.45 | $603.66 | $272.41 | $120.73
69145 | T | Remove ear canal lesion(s) | 0020 | 6.51 | $315.65 | $130.53 | $63.13
69150 | C | Extensive ear canal surgery |  |  |  |  |
69155 | C | Extensive ear/neck surgery |  |  |  |  |
69200 | X | Clear outer ear canal | 0340 | 1.04 | $50.43 | $12.85 | $10.09
69205 | T | Clear outer ear canal | 0022 | 12.49 | $605.60 | $292.94 | $121.12
69210 | X | Remove impacted ear wax | 0340 | 1.04 | $50.43 | $12.85 | $10.09
69220 | T | Clean out mastoid cavity | 0012 | 0.53 | $25.70 | $9.18 | $5.14
69222 | T | Clean out mastoid cavity | 0253 | 12.02 | $582.81 | $284.00 | $116.56
69300 | T | Revise external ear | 0254 | 12.45 | $603.66 | $272.41 | $120.73
69310 | T | Rebuild outer ear canal | 0256 | 25.40 | $1,231.57 | $623.05 | $246.31
69320 | T | Rebuild outer ear canal | 0256 | 25.40 | $1,231.57 | $623.05 | $246.31
69399 | T | Outer ear surgery procedure | 0252 | 5.18 | $251.16 | $114.24 | $50.23
69400 | T | Inflate middle ear canal | 0251 | 1.68 | $81.46 | $27.99 | $16.29
69401 | N | Inflate middle ear canal |  |  |  |  |
69405 | T | Catheterize middle ear canal | 0252 | 5.18 | $251.16 | $114.24 | $50.23
69410 | T | Inset middle ear (baffle) | 0252 | 5.18 | $251.16 | $114.24 | $50.23
69420 | T | Incision of eardrum | 0252 | 5.18 | $251.16 | $114.24 | $50.23
69421 | T | Incision of eardrum | 0253 | 12.02 | $582.81 | $284.00 | $116.56
69424 | T | Remove ventilating tube | 0252 | 5.18 | $251.16 | $114.24 | $50.23
69433 | T | Create eardrum opening | 0252 | 5.18 | $251.16 | $114.24 | $50.23
69436 | T | Create eardrum opening | 0253 | 12.02 | $582.81 | $284.00 | $116.56
69440 | T | Exploration of middle ear | 0253 | 12.02 | $582.81 | $284.00 | $116.56
69450 | T | Eardrum revision | 0256 | 25.40 | $1,231.57 | $623.05 | $246.31
69501 | T | Mastoidectomy | 0256 | 25.40 | $1,231.57 | $623.05 | $246.31
69502 | C | Mastoidectomy |  |  |  |  |
69505 | T | Remove mastoid structures | 0256 | 25.40 | $1,231.57 | $623.05 | $246.31
69511 | T | Extensive mastoid surgery | 0256 | 25.40 | $1,231.57 | $623.05 | $246.31
69530 | T | Extensive mastoid surgery | 0256 | 25.40 | $1,231.57 | $623.05 | $246.31
69535 | C | Remove part of temporal bone |  |  |  |  |
69540 | T | Remove ear lesion | 0253 | 12.02 | $582.81 | $284.00 | $116.56
69550 | T | Remove ear lesion | 0256 | 25.40 | $1,231.57 | $623.05 | $246.31
69552 | T | Remove ear lesion | 0256 | 25.40 | $1,231.57 | $623.05 | $246.31
69554 | C | Remove ear lesion |  |  |  |  |
69601 | T | Mastoid surgery revision | 0256 | 25.40 | $1,231.57 | $623.05 | $246.31
69602 | T | Mastoid surgery revision | 0256 | 25.40 | $1,231.57 | $623.05 | $246.31
69603 | T | Mastoid surgery revision | 0256 | 25.40 | $1,231.57 | $623.05 | $246.31
69604 | T | Mastoid surgery revision | 0256 | 25.40 | $1,231.57 | $623.05 | $246.31
69605 | T | Mastoid surgery revision | 0256 | 25.40 | $1,231.57 | $623.05 | $246.31
69610 | T | Repair of eardrum | 0253 | 12.02 | $582.81 | $284.00 | $116.56
69620 | T | Repair of eardrum | 0253 | 12.02 | $582.81 | $284.00 | $116.56
69631 | T | Repair eardrum structures | 0256 | 25.40 | $1,231.57 | $623.05 | $246.31
69632 | T | Rebuild eardrum structures | 0256 | 25.40 | $1,231.57 | $623.05 | $246.31
69633 | T | Rebuild eardrum structures | 0256 | 25.40 | $1,231.57 | $623.05 | $246.31
69635 | T | Repair eardrum structures | 0256 | 25.40 | $1,231.57 | $623.05 | $246.31
69636 | T | Rebuild eardrum structures | 0256 | 25.40 | $1,231.57 | $623.05 | $246.31
69637 | T | Rebuild eardrum structures | 0256 | 25.40 | $1,231.57 | $623.05 | $246.31
69641 | T | Revise middle ear & mastoid | 0256 | 25.40 | $1,231.57 | $623.05 | $246.31
69642 | T | Revise middle ear & mastoid | 0256 | 25.40 | $1,231.57 | $623.05 | $246.31
69643 | T | Revise middle ear & mastoid | 0256 | 25.40 | $1,231.57 | $623.05 | $246.31
69644 | T | Revise middle ear & mastoid | 0256 | 25.40 | $1,231.57 | $623.05 | $246.31
69645 | T | Revise middle ear & mastoid | 0256 | 25.40 | $1,231.57 | $623.05 | $246.31
69646 | T | Revise middle ear & mastoid | 0256 | 25.40 | $1,231.57 | $623.05 | $246.31
69650 | T | Release middle ear bone | 0254 | 12.45 | $603.66 | $272.41 | $120.73
69660 | T | Revise middle ear bone | 0256 | 25.40 | $1,231.57 | $623.05 | $246.31
69661 | T | Revise middle ear bone | 0256 | 25.40 | $1,231.57 | $623.05 | $246.31
69662 | T | Revise middle ear bone | 0256 | 25.40 | $1,231.57 | $623.05 | $246.31
69666 | T | Repair middle ear structures | 0256 | 25.40 | $1,231.57 | $623.05 | $246.31
69667 | T | Repair middle ear structures | 0256 | 25.40 | $1,231.57 | $623.05 | $246.31
69670 | T | Remove mastoid air cells | 0256 | 25.40 | $1,231.57 | $623.05 | $246.31
69676 | T | Remove middle ear nerve | 0256 | 25.40 | $1,231.57 | $623.05 | $246.31
69700 | T | Close mastoid fistula | 0256 | 25.40 | $1,231.57 | $623.05 | $246.31
69710 | E | Implant/replace hearing aid |  |  |  |  |
69711 | T | Remove/repair hearing aid | 0256 | 25.40 | $1,231.57 | $623.05 | $246.31
69720 | T | Release facial nerve | 0256 | 25.40 | $1,231.57 | $623.05 | $246.31
69725 | T | Release facial nerve | 0256 | 25.40 | $1,231.57 | $623.05 | $246.31
69740 | T | Repair facial nerve | 0256 | 25.40 | $1,231.57 | $623.05 | $246.31
69745 | T | Repair facial nerve | 0256 | 25.40 | $1,231.57 | $623.05 | $246.31
69799 | T | Middle ear surgery procedure | 0253 | 12.02 | $582.81 | $284.00 | $116.56
69801 | T | Incise inner ear | 0256 | 25.40 | $1,231.57 | $623.05 | $246.31
69802 | T | Incise inner ear | 0256 | 25.40 | $1,231.57 | $623.05 | $246.31
69805 | T | Explore inner ear | 0256 | 25.40 | $1,231.57 | $623.05 | $246.31
69806 | T | Explore inner ear | 0256 | 25.40 | $1,231.57 | $623.05 | $246.31
69820 | T | Establish inner ear window | 0256 | 25.40 | $1,231.57 | $623.05 | $246.31
69840 | T | Revise inner ear window | 0256 | 25.40 | $1,231.57 | $623.05 | $246.31
69905 | T | Remove inner ear | 0256 | 25.40 | $1,231.57 | $623.05 | $246.31
69910 | T | Remove inner ear & mastoid | 0256 | 25.40 | $1,231.57 | $623.05 | $246.31
69915 | T | Incise inner ear nerve | 0256 | 25.40 | $1,231.57 | $623.05 | $246.31
69930 | T | Implant cochlear device | 0257 | 115.31 | $5,591.04 | $3,498.58 | $1,118.21
69949 | T | Inner ear surgery procedure | 0253 | 12.02 | $582.81 | $284.00 | $116.56
69950 | C | Incise inner ear nerve |  |  |  |  |
69955 | T | Release facial nerve | 0256 | 25.40 | $1,231.57 | $623.05 | $246.31
69960 | T | Release inner ear canal | 0256 | 25.40 | $1,231.57 | $623.05 | $246.31
69970 | C | Remove inner ear lesion |  |  |  |  |
69979 | T | Temporal bone surgery | 0252 | 5.18 | $251.16 | $114.24 | $50.23
69990 | N | Microsurgery add-on |  |  |  |  |
70010 | S | Contrast x-ray of brain | 0274 | 4.83 | $234.19 | $128.12 | $46.84
70015 | S | Contrast x-ray of brain | 0274 | 4.83 | $234.19 | $128.12 | $46.84
70030 | X | X-ray eye for foreign body | 0260 | 0.79 | $38.30 | $22.02 | $7.66
70100 | X | X-ray exam of jaw | 0260 | 0.79 | $38.30 | $22.02 | $7.66
70110 | X | X-ray exam of jaw | 0260 | 0.79 | $38.30 | $22.02 | $7.66
70120 | X | X-ray exam of mastoids | 0260 | 0.79 | $38.30 | $22.02 | $7.66
70130 | X | X-ray exam of mastoids | 0260 | 0.79 | $38.30 | $22.02 | $7.66
70134 | X | X-ray exam of middle ear | 0261 | 1.38 | $66.91 | $38.77 | $13.38
70140 | X | X-ray exam of facial bones | 0260 | 0.79 | $38.30 | $22.02 | $7.66
70150 | X | X-ray exam of facial bones | 0260 | 0.79 | $38.30 | $22.02 | $7.66
70160 | X | X-ray exam of nasal bones | 0260 | 0.79 | $38.30 | $22.02 | $7.66
70170 | X | X-ray exam of tear duct | 0263 | 1.68 | $81.46 | $45.88 | $16.29
70190 | X | X-ray exam of eye sockets | 0260 | 0.79 | $38.30 | $22.02 | $7.66
70200 | X | X-ray exam of eye sockets | 0260 | 0.79 | $38.30 | $22.02 | $7.66
70210 | X | X-ray exam of sinuses | 0260 | 0.79 | $38.30 | $22.02 | $7.66
70220 | X | X-ray exam of sinuses | 0260 | 0.79 | $38.30 | $22.02 | $7.66
70240 | X | X-ray exam, pituitary saddle | 0260 | 0.79 | $38.30 | $22.02 | $7.66
70250 | X | X-ray exam of skull | 0260 | 0.79 | $38.30 | $22.02 | $7.66
70260 | X | X-ray exam of skull | 0261 | 1.38 | $66.91 | $38.77 | $13.38
70300 | X | X-ray exam of teeth | 0262 | 0.40 | $19.39 | $10.90 | $3.88
70310 | X | X-ray exam of teeth | 0262 | 0.40 | $19.39 | $10.90 | $3.88
70320 | X | Full mouth x-ray of teeth | 0262 | 0.40 | $19.39 | $10.90 | $3.88
70328 | X | X-ray exam of jaw joint | 0260 | 0.79 | $38.30 | $22.02 | $7.66
70330 | X | X-ray exam of jaw joints | 0260 | 0.79 | $38.30 | $22.02 | $7.66
70332 | S | X-ray exam of jaw joint | 0275 | 2.74 | $132.85 | $72.26 | $26.57
70336 | S | Magnetic image, jaw joint | 0284 | 8.02 | $388.87 | $257.39 | $77.77
70350 | X | X-ray head for orthodontia | 0260 | 0.79 | $38.30 | $22.02 | $7.66
70355 | X | Panoramic x-ray of jaws | 0260 | 0.79 | $38.30 | $22.02 | $7.66
70360 | X | X-ray exam of neck | 0260 | 0.79 | $38.30 | $22.02 | $7.66
70370 | X | Throat x-ray & fluoroscopy | 0273 | 2.49 | $120.73 | $61.02 | $24.15
70371 | X | Speech evaluation, complex | 0272 | 1.40 | $67.88 | $39.00 | $13.58
70373 | X | Contrast x-ray of larynx | 0263 | 1.68 | $81.46 | $45.88 | $16.29
70380 | X | X-ray exam of salivary gland | 0260 | 0.79 | $38.30 | $22.02 | $7.66
70390 | X | X-ray exam of salivary duct | 0263 | 1.68 | $81.46 | $45.88 | $16.29
70450 | S | CAT scan of head or brain | 0283 | 4.89 | $237.10 | $179.39 | $47.42
70460 | S | Contrast CAT scan of head | 0283 | 4.89 | $237.10 | $179.39 | $47.42
70470 | S | Contrast CAT scans of head | 0283 | 4.89 | $237.10 | $179.39 | $47.42
70480 | S | CAT scan of skull | 0283 | 4.89 | $237.10 | $179.39 | $47.42
70481 | S | Contrast CAT scan of skull | 0283 | 4.89 | $237.10 | $179.39 | $47.42
70482 | S | Contrast CAT scans of skull | 0283 | 4.89 | $237.10 | $179.39 | $47.42
70486 | S | Cat scan of face/jaw | 0282 | 2.38 | $115.40 | $94.51 | $23.08
70487 | S | Contrast CAT scan, face/jaw | 0283 | 4.89 | $237.10 | $179.39 | $47.42
70488 | S | Contrast cat scans, face/jaw | 0283 | 4.89 | $237.10 | $179.39 | $47.42
70490 | S | CAT scan of neck tissue | 0283 | 4.89 | $237.10 | $179.39 | $47.42
70491 | S | Contrast CAT of neck tissue | 0283 | 4.89 | $237.10 | $179.39 | $47.42
70492 | S | Contrast CAT of neck tissue | 0283 | 4.89 | $237.10 | $179.39 | $47.42
70540 | S | Magnetic image, face/neck | 0284 | 8.02 | $388.87 | $257.39 | $77.77
70541 | S | Magnetic image, head (MRA) | 0284 | 8.02 | $388.87 | $257.39 | $77.77
70551 | S | Magnetic image, brain (MRI) | 0284 | 8.02 | $388.87 | $257.39 | $77.77
70552 | S | Magnetic image, brain (MRI) | 0284 | 8.02 | $388.87 | $257.39 | $77.77
70553 | S | Magnetic image, brain (mri) | 0284 | 8.02 | $388.87 | $257.39 | $77.77
71010 | X | Chest x-ray | 0260 | 0.79 | $38.30 | $22.02 | $7.66
71015 | X | Chest x-ray | 0260 | 0.79 | $38.30 | $22.02 | $7.66
71020 | X | Chest x-ray | 0260 | 0.79 | $38.30 | $22.02 | $7.66
71021 | X | Chest x-ray | 0260 | 0.79 | $38.30 | $22.02 | $7.66
71022 | X | Chest x-ray | 0260 | 0.79 | $38.30 | $22.02 | $7.66
71023 | X | Chest x-ray and fluoroscopy | 0272 | 1.40 | $67.88 | $39.00 | $13.58
71030 | X | Chest x-ray | 0260 | 0.79 | $38.30 | $22.02 | $7.66
71034 | X | Chest x-ray and fluoroscopy | 0272 | 1.40 | $67.88 | $39.00 | $13.58
71035 | X | Chest x-ray | 0260 | 0.79 | $38.30 | $22.02 | $7.66
71036 | X | X-ray guidance for biopsy | 0273 | 2.49 | $120.73 | $61.02 | $24.15
71040 | X | Contrast x-ray of bronchi | 0263 | 1.68 | $81.46 | $45.88 | $16.29
71060 | X | Contrast x-ray of bronchi | 0263 | 1.68 | $81.46 | $45.88 | $16.29
71090 | X | X-ray & pacemaker insertion | 0273 | 2.49 | $120.73 | $61.02 | $24.15
71100 | X | X-ray exam of ribs | 0260 | 0.79 | $38.30 | $22.02 | $7.66
71101 | X | X-ray exam of ribs/chest | 0260 | 0.79 | $38.30 | $22.02 | $7.66
71110 | X | X-ray exam of ribs | 0260 | 0.79 | $38.30 | $22.02 | $7.66
71111 | X | X-ray exam of ribs/chest | 0261 | 1.38 | $66.91 | $38.77 | $13.38
71120 | X | X-ray exam of breastbone | 0260 | 0.79 | $38.30 | $22.02 | $7.66
71130 | X | X-ray exam of breastbone | 0260 | 0.79 | $38.30 | $22.02 | $7.66
71250 | S | Cat scan of chest | 0283 | 4.89 | $237.10 | $179.39 | $47.42
71260 | S | Contrast CAT scan of chest | 0283 | 4.89 | $237.10 | $179.39 | $47.42
71270 | S | Contrast CAT scans of chest | 0283 | 4.89 | $237.10 | $179.39 | $47.42
71550 | S | Magnetic image, chest (mri) | 0284 | 8.02 | $388.87 | $257.39 | $77.77
71555 | E | Magnetic image, chest (mra) |  |  |  |  |
72010 | X | X-ray exam of spine | 0261 | 1.38 | $66.91 | $38.77 | $13.38
72020 | X | X-ray exam of spine | 0260 | 0.79 | $38.30 | $22.02 | $7.66
72040 | X | X-ray exam of neck spine | 0260 | 0.79 | $38.30 | $22.02 | $7.66
72050 | X | X-ray exam of neck spine | 0261 | 1.38 | $66.91 | $38.77 | $13.38
72052 | X | X-ray exam of neck spine | 0261 | 1.38 | $66.91 | $38.77 | $13.38
72069 | X | X-ray exam of trunk spine | 0260 | 0.79 | $38.30 | $22.02 | $7.66
72070 | X | X-ray exam of thoracic spine | 0260 | 0.79 | $38.30 | $22.02 | $7.66
72072 | X | X-ray exam of thoracic spine | 0260 | 0.79 | $38.30 | $22.02 | $7.66
72074 | X | X-ray exam of thoracic spine | 0260 | 0.79 | $38.30 | $22.02 | $7.66
72080 | X | X-ray exam of trunk spine | 0260 | 0.79 | $38.30 | $22.02 | $7.66
72090 | X | X-ray exam of trunk spine | 0260 | 0.79 | $38.30 | $22.02 | $7.66
72100 | X | X-ray exam of lower spine | 0260 | 0.79 | $38.30 | $22.02 | $7.66
72110 | X | X-ray exam of lower spine | 0261 | 1.38 | $66.91 | $38.77 | $13.38
72114 | X | X-ray exam of lower spine | 0261 | 1.38 | $66.91 | $38.77 | $13.38
72120 | X | X-ray exam of lower spine | 0260 | 0.79 | $38.30 | $22.02 | $7.66
72125 | S | CAT scan of neck spine | 0283 | 4.89 | $237.10 | $179.39 | $47.42
72126 | S | Contrast CAT scan of neck | 0283 | 4.89 | $237.10 | $179.39 | $47.42
72127 | S | Contrast CAT scans of neck | 0283 | 4.89 | $237.10 | $179.39 | $47.42
72128 | S | CAT scan of thorax spine | 0283 | 4.89 | $237.10 | $179.39 | $47.42
72129 | S | Contrast CAT scan of thorax | 0283 | 4.89 | $237.10 | $179.39 | $47.42
72130 | S | Contrast CAT scans of thorax | 0283 | 4.89 | $237.10 | $179.39 | $47.42
72131 | S | CAT scan of lower spine | 0283 | 4.89 | $237.10 | $179.39 | $47.42
72132 | S | Contrast CAT of lower spine | 0283 | 4.89 | $237.10 | $179.39 | $47.42
72133 | S | Contrast cat scans, low spine | 0283 | 4.89 | $237.10 | $179.39 | $47.42
72141 | S | Magnetic image, neck spine | 0284 | 8.02 | $388.87 | $257.39 | $77.77
72142 | S | Magnetic image, neck spine | 0284 | 8.02 | $388.87 | $257.39 | $77.77
72146 | S | Magnetic image, chest spine | 0284 | 8.02 | $388.87 | $257.39 | $77.77
72147 | S | Magnetic image, chest spine | 0284 | 8.02 | $388.87 | $257.39 | $77.77
72148 | S | Magnetic image, lumbar spine | 0284 | 8.02 | $388.87 | $257.39 | $77.77
72149 | S | Magnetic image, lumbar spine | 0284 | 8.02 | $388.87 | $257.39 | $77.77
72156 | S | Magnetic image, neck spine | 0284 | 8.02 | $388.87 | $257.39 | $77.77
72157 | S | Magnetic image, chest spine | 0284 | 8.02 | $388.87 | $257.39 | $77.77
72158 | S | Magnetic image, lumbar spine | 0284 | 8.02 | $388.87 | $257.39 | $77.77
72159 | E | Magnetic image, spine (mra) |  |  |  |  |
72170 | X | X-ray exam of pelvis | 0260 | 0.79 | $38.30 | $22.02 | $7.66
72190 | X | X-ray exam of pelvis | 0260 | 0.79 | $38.30 | $22.02 | $7.66
72192 | S | CAT scan of pelvis | 0283 | 4.89 | $237.10 | $179.39 | $47.42
72193 | S | Contrast CAT scan of pelvis | 0283 | 4.89 | $237.10 | $179.39 | $47.42
72194 | S | Contrast CAT scans of pelvis | 0283 | 4.89 | $237.10 | $179.39 | $47.42
72196 | S | Magnetic image, pelvis | 0284 | 8.02 | $388.87 | $257.39 | $77.77
72198 | E | Magnetic image, pelvis (mra) |  |  |  |  |
72200 | X | X-ray exam sacroiliac joints | 0260 | 0.79 | $38.30 | $22.02 | $7.66
72202 | X | X-ray exam sacroiliac joints | 0260 | 0.79 | $38.30 | $22.02 | $7.66
72220 | X | X-ray exam of tailbone | 0260 | 0.79 | $38.30 | $22.02 | $7.66
72240 | S | Contrast x-ray of neck spine | 0274 | 4.83 | $234.19 | $128.12 | $46.84
72255 | S | Contrast x-ray, thorax spine | 0274 | 4.83 | $234.19 | $128.12 | $46.84
72265 | S | Contrast x-ray, lower spine | 0274 | 4.83 | $234.19 | $128.12 | $46.84
72270 | S | Contrast x-ray of spine | 0274 | 4.83 | $234.19 | $128.12 | $46.84
72275 | S | Epidurography | 0274 | 4.83 | $234.19 | $128.12 | $46.84
72285 | S | X-ray c/t spine disk | 0274 | 4.83 | $234.19 | $128.12 | $46.84
72295 | S | X-ray of lower spine disk | 0274 | 4.83 | $234.19 | $128.12 | $46.84
73000 | X | X-ray exam of collar bone | 0260 | 0.79 | $38.30 | $22.02 | $7.66
73010 | X | X-ray exam of shoulder blade | 0260 | 0.79 | $38.30 | $22.02 | $7.66
73020 | X | X-ray exam of shoulder | 0260 | 0.79 | $38.30 | $22.02 | $7.66
73030 | X | X-ray exam of shoulder | 0260 | 0.79 | $38.30 | $22.02 | $7.66
73040 | S | Contrast x-ray of shoulder | 0275 | 2.74 | $132.85 | $72.26 | $26.57
73050 | X | X-ray exam of shoulders | 0260 | 0.79 | $38.30 | $22.02 | $7.66
73060 | X | X-ray exam of humerus | 0260 | 0.79 | $38.30 | $22.02 | $7.66
73070 | X | X-ray exam of elbow | 0260 | 0.79 | $38.30 | $22.02 | $7.66
73080 | X | X-ray exam of elbow | 0260 | 0.79 | $38.30 | $22.02 | $7.66
73085 | S | Contrast x-ray of elbow | 0275 | 2.74 | $132.85 | $72.26 | $26.57
73090 | X | X-ray exam of forearm | 0260 | 0.79 | $38.30 | $22.02 | $7.66
73092 | X | X-ray exam of arm, infant | 0260 | 0.79 | $38.30 | $22.02 | $7.66
73100 | X | X-ray exam of wrist | 0260 | 0.79 | $38.30 | $22.02 | $7.66
73110 | X | X-ray exam of wrist | 0260 | 0.79 | $38.30 | $22.02 | $7.66
73115 | S | Contrast x-ray of wrist | 0275 | 2.74 | $132.85 | $72.26 | $26.57
73120 | X | X-ray exam of hand | 0260 | 0.79 | $38.30 | $22.02 | $7.66
73130 | X | X-ray exam of hand | 0260 | 0.79 | $38.30 | $22.02 | $7.66
73140 | X | X-ray exam of finger(s) | 0260 | 0.79 | $38.30 | $22.02 | $7.66
73200 | S | CAT scan of arm | 0283 | 4.89 | $237.10 | $179.39 | $47.42
73201 | S | Contrast CAT scan of arm | 0283 | 4.89 | $237.10 | $179.39 | $47.42
73202 | S | Contrast CAT scans of arm | 0283 | 4.89 | $237.10 | $179.39 | $47.42
73220 | S | Magnetic image, arm/hand | 0284 | 8.02 | $388.87 | $257.39 | $77.77
73221 | S | Magnetic image, joint of arm | 0284 | 8.02 | $388.87 | $257.39 | $77.77
73225 | E | Magnetic image, upper (mra) |  |  |  |  |
73500 | X | X-ray exam of hip | 0260 | 0.79 | $38.30 | $22.02 | $7.66
73510 | X | X-ray exam of hip | 0260 | 0.79 | $38.30 | $22.02 | $7.66
73520 | X | X-ray exam of hips | 0260 | 0.79 | $38.30 | $22.02 | $7.66
73525 | S | Contrast x-ray of hip | 0275 | 2.74 | $132.85 | $72.26 | $26.57
73530 | X | X-ray exam of hip | 0261 | 1.38 | $66.91 | $38.77 | $13.38
73540 | X | X-ray exam of pelvis & hips | 0260 | 0.79 | $38.30 | $22.02 | $7.66
73542 | S | X-ray exam, sacroiliac joint | 0275 | 2.74 | $132.85 | $72.26 | $26.57
73550 | X | X-ray exam of thigh | 0260 | 0.79 | $38.30 | $22.02 | $7.66
73560 | X | X-ray exam of knee, 1 or 2 | 0260 | 0.79 | $38.30 | $22.02 | $7.66
73562 | X | X-ray exam of knee, 3 | 0260 | 0.79 | $38.30 | $22.02 | $7.66
73564 | X | X-ray exam, knee, 4 or more | 0260 | 0.79 | $38.30 | $22.02 | $7.66
73565 | X | X-ray exam of knees | 0260 | 0.79 | $38.30 | $22.02 | $7.66
73580 | S | Contrast x-ray of knee joint | 0275 | 2.74 | $132.85 | $72.26 | $26.57
73590 | X | X-ray exam of lower leg | 0260 | 0.79 | $38.30 | $22.02 | $7.66
73592 | X | X-ray exam of leg, infant | 0261 | 1.38 | $66.91 | $38.77 | $13.38
73600 | X | X-ray exam of ankle | 0260 | 0.79 | $38.30 | $22.02 | $7.66
73610 | X | X-ray exam of ankle | 0260 | 0.79 | $38.30 | $22.02 | $7.66
73615 | S | Contrast x-ray of ankle | 0275 | 2.74 | $132.85 | $72.26 | $26.57
73620 | X | X-ray exam of foot | 0260 | 0.79 | $38.30 | $22.02 | $7.66
73630 | X | X-ray exam of foot | 0260 | 0.79 | $38.30 | $22.02 | $7.66
73650 | X | X-ray exam of heel | 0260 | 0.79 | $38.30 | $22.02 | $7.66
73660 | X | X-ray exam of toe(s) | 0260 | 0.79 | $38.30 | $22.02 | $7.66
73700 | S | CAT scan of leg | 0283 | 4.89 | $237.10 | $179.39 | $47.42
73701 | S | Contrast CAT scan of leg | 0283 | 4.89 | $237.10 | $179.39 | $47.42
73702 | S | Contrast CAT scans of leg | 0283 | 4.89 | $237.10 | $179.39 | $47.42
73720 | S | Magnetic image, leg/foot | 0284 | 8.02 | $388.87 | $257.39 | $77.77
73721 | S | Magnetic image, joint of leg | 0284 | 8.02 | $388.87 | $257.39 | $77.77
73725 | E | Magnetic image/lower (mra) |  |  |  |  |
74000 | X | X-ray exam of abdomen | 0260 | 0.79 | $38.30 | $22.02 | $7.66
74010 | X | X-ray exam of abdomen | 0260 | 0.79 | $38.30 | $22.02 | $7.66
74020 | X | X-ray exam of abdomen | 0260 | 0.79 | $38.30 | $22.02 | $7.66
74022 | X | X-ray exam series, abdomen | 0261 | 1.38 | $66.91 | $38.77 | $13.38
74150 | S | CAT scan of abdomen | 0283 | 4.89 | $237.10 | $179.39 | $47.42
74160 | S | Contrast CAT scan of abdomen | 0283 | 4.89 | $237.10 | $179.39 | $47.42
74170 | S | Contrast CAT scans, abdomen | 0283 | 4.89 | $237.10 | $179.39 | $47.42
74181 | S | Magnetic image/abdomen (mri) | 0284 | 8.02 | $388.87 | $257.39 | $77.77
74185 | E | Magnetic image/abdomen (MRA) |  |  |  |  |
74190 | X | X-ray exam of peritoneum | 0263 | 1.68 | $81.46 | $45.88 | $16.29
74210 | S | Contrast x-ray exam of throat | 0276 | 1.79 | $86.79 | $49.78 | $17.36
74220 | S | Contrast x-ray, esophagus | 0276 | 1.79 | $86.79 | $49.78 | $17.36
74230 | S | Cinema x-ray, throat/esoph | 0276 | 1.79 | $86.79 | $49.78 | $17.36
74235 | S | Remove esophagus obstruction | 0296 | 3.57 | $173.10 | $100.25 | $34.62
74240 | S | X-ray exam, upper gi tract | 0276 | 1.79 | $86.79 | $49.78 | $17.36
74241 | S | X-ray exam, upper gi tract | 0276 | 1.79 | $86.79 | $49.78 | $17.36
74245 | S | X-ray exam, upper gi tract | 0277 | 2.47 | $119.76 | $69.28 | $23.95
74246 | S | Contrast x-ray uppr gi tract | 0276 | 1.79 | $86.79 | $49.78 | $17.36
74247 | S | Contrast x-ray uppr gi tract | 0276 | 1.79 | $86.79 | $49.78 | $17.36
74249 | S | Contrast x-ray uppr gi tract | 0277 | 2.47 | $119.76 | $69.28 | $23.95
74250 | S | X-ray exam of small bowel | 0276 | 1.79 | $86.79 | $49.78 | $17.36
74251 | S | X-ray exam of small bowel | 0277 | 2.47 | $119.76 | $69.28 | $23.95
74260 | S | X-ray exam of small bowel | 0277 | 2.47 | $119.76 | $69.28 | $23.95
74270 | S | Contrast x-ray exam of colon | 0276 | 1.79 | $86.79 | $49.78 | $17.36
74280 | S | Contrast x-ray exam of colon | 0277 | 2.47 | $119.76 | $69.28 | $23.95
74283 | S | Contrast x-ray exam of colon | 0276 | 1.79 | $86.79 | $49.78 | $17.36
74290 | S | Contrast x-ray, gallbladder | 0276 | 1.79 | $86.79 | $49.78 | $17.36
74291 | S | Contrast x-rays, gallbladder | 0276 | 1.79 | $86.79 | $49.78 | $17.36
74300 | C | X-ray bile ducts/pancreas |  |  |  |  |
74301 | C | X-rays at surgery add-on |  |  |  |  |
74305 | X | X-ray bile ducts/pancreas | 0263 | 1.68 | $81.46 | $45.88 | $16.29
74320 | X | Contrast x-ray of bile ducts | 0264 | 3.83 | $185.71 | $108.97 | $37.14
74327 | S | X-ray bile stone removal | 0296 | 3.57 | $173.10 | $100.25 | $34.62
74328 | X | X-ray bile duct endoscopy | 0264 | 3.83 | $185.71 | $108.97 | $37.14
74329 | X | X-ray for pancreas endoscopy | 0264 | 3.83 | $185.71 | $108.97 | $37.14
74330 | X | X-ray bile/panc endoscopy | 0264 | 3.83 | $185.71 | $108.97 | $37.14
74340 | X | X-ray guide for GI tube | 0272 | 1.40 | $67.88 | $39.00 | $13.58
74350 | X | X-ray guide, stomach tube | 0264 | 3.83 | $185.71 | $108.97 | $37.14
74355 | X | X-ray guide, intestinal tube | 0264 | 3.83 | $185.71 | $108.97 | $37.14
74360 | S | X-ray guide, GI dilation | 0296 | 3.57 | $173.10 | $100.25 | $34.62
74363 | S | X-ray, bile duct dilation | 0297 | 6.13 | $297.23 | $172.51 | $59.45
74400 | S | Contrast x-ray, urinary tract | 0278 | 2.85 | $138.19 | $81.67 | $27.64
74410 | S | Contrast x-ray, urinary tract | 0278 | 2.85 | $138.19 | $81.67 | $27.64
74415 | S | Contrast x-ray, urinary tract | 0278 | 2.85 | $138.19 | $81.67 | $27.64
74420 | S | Contrast x-ray, urinary tract | 0278 | 2.85 | $138.19 | $81.67 | $27.64
74425 | S | Contrast x-ray, urinary tract | 0278 | 2.85 | $138.19 | $81.67 | $27.64
74430 | S | Contrast x-ray, bladder | 0278 | 2.85 | $138.19 | $81.67 | $27.64
74440 | S | X-ray, male genital tract | 0278 | 2.85 | $138.19 | $81.67 | $27.64
74445 | S | X-ray exam of penis | 0278 | 2.85 | $138.19 | $81.67 | $27.64
74450 | S | X-ray, urethra/bladder | 0278 | 2.85 | $138.19 | $81.67 | $27.64
74455 | S | X-ray, urethra/bladder | 0278 | 2.85 | $138.19 | $81.67 | $27.64
74470 | X | X-ray exam of kidney lesion | 0264 | 3.83 | $185.71 | $108.97 | $37.14
74475 | S | X-ray control, cath insert | 0297 | 6.13 | $297.23 | $172.51 | $59.45
74480 | S | X-ray control, cath insert | 0297 | 6.13 | $297.23 | $172.51 | $59.45
74485 | S | X-ray guide, GU dilation | 0296 | 3.57 | $173.10 | $100.25 | $34.62
74710 | X | X-ray measurement of pelvis | 0260 | 0.79 | $38.30 | $22.02 | $7.66
74740 | X | X-ray, female genital tract | 0264 | 3.83 | $185.71 | $108.97 | $37.14
74742 | X | X-ray, fallopian tube | 0264 | 3.83 | $185.71 | $108.97 | $37.14
74775 | S | X-ray exam of perineum | 0278 | 2.85 | $138.19 | $81.67 | $27.64
75552 | S | Magnetic image, myocardium | 0284 | 8.02 | $388.87 | $257.39 | $77.77
75553 | S | Magnetic image, myocardium | 0284 | 8.02 | $388.87 | $257.39 | $77.77
75554 | S | Cardiac MRI/function | 0284 | 8.02 | $388.87 | $257.39 | $77.77
75555 | S | Cardiac MRI/limited study | 0284 | 8.02 | $388.87 | $257.39 | $77.77
75556 | E | Cardiac MRI/flow mapping |  |  |  |  |
75600 | S | Contrast x-ray exam of aorta | 0280 | 14.98 | $726.34 | $380.12 | $145.27
75605 | S | Contrast x-ray exam of aorta | 0280 | 14.98 | $726.34 | $380.12 | $145.27
75625 | S | Contrast x-ray exam of aorta | 0280 | 14.98 | $726.34 | $380.12 | $145.27
75630 | S | X-ray aorta, leg arteries | 0280 | 14.98 | $726.34 | $380.12 | $145.27
75650 | S | Artery x-rays, head & neck | 0280 | 14.98 | $726.34 | $380.12 | $145.27
75658 | S | Artery x-rays, arm | 0280 | 14.98 | $726.34 | $380.12 | $145.27
75660 | S | Artery x-rays, head & neck | 0279 | 6.30 | $305.47 | $174.57 | $61.09
75662 | S | Artery x-rays, head & neck | 0279 | 6.30 | $305.47 | $174.57 | $61.09
75665 | S | Artery x-rays, head & neck | 0280 | 14.98 | $726.34 | $380.12 | $145.27
75671 | S | Artery x-rays, head & neck | 0280 | 14.98 | $726.34 | $380.12 | $145.27
75676 | S | Artery x-rays, neck | 0280 | 14.98 | $726.34 | $380.12 | $145.27
75680 | S | Artery x-rays, neck | 0280 | 14.98 | $726.34 | $380.12 | $145.27
75685 | S | Artery x-rays, spine | 0279 | 6.30 | $305.47 | $174.57 | $61.09
75705 | S | Artery x-rays, spine | 0279 | 6.30 | $305.47 | $174.57 | $61.09
75710 | S | Artery x-rays, arm/leg | 0280 | 14.98 | $726.34 | $380.12 | $145.27
75716 | S | Artery x-rays, arms/legs | 0280 | 14.98 | $726.34 | $380.12 | $145.27
75722 | S | Artery x-rays, kidney | 0280 | 14.98 | $726.34 | $380.12 | $145.27
75724 | S | Artery x-rays, kidneys | 0280 | 14.98 | $726.34 | $380.12 | $145.27
75726 | S | Artery x-rays, abdomen | 0280 | 14.98 | $726.34 | $380.12 | $145.27
75731 | S | Artery x-rays, adrenal gland | 0280 | 14.98 | $726.34 | $380.12 | $145.27
75733 | S | Artery x-rays, adrenals | 0280 | 14.98 | $726.34 | $380.12 | $145.27
75736 | S | Artery x-rays, pelvis | 0280 | 14.98 | $726.34 | $380.12 | $145.27
75741 | S | Artery x-rays, lung | 0279 | 6.30 | $305.47 | $174.57 | $61.09
75743 | S | Artery x-rays, lungs | 0280 | 14.98 | $726.34 | $380.12 | $145.27
75746 | S | Artery x-rays, lung | 0279 | 6.30 | $305.47 | $174.57 | $61.09
75756 | S | Artery x-rays, chest | 0279 | 6.30 | $305.47 | $174.57 | $61.09
75774 | S | Artery x-ray, each vessel | 0280 | 14.98 | $726.34 | $380.12 | $145.27
75790 | S | Visualize A-V shunt | 0281 | 4.40 | $213.34 | $115.16 | $42.67
75801 | X | Lymph vessel x-ray, arm/leg | 0264 | 3.83 | $185.71 | $108.97 | $37.14
75803 | X | Lymph vessel x-ray, arms/legs | 0264 | 3.83 | $185.71 | $108.97 | $37.14
75805 | X | Lymph vessel x-ray, trunk | 0264 | 3.83 | $185.71 | $108.97 | $37.14
75807 | X | Lymph vessel x-ray, trunk | 0264 | 3.83 | $185.71 | $108.97 | $37.14
75809 | X | Nonvascular shunt, x-ray | 0264 | 3.83 | $185.71 | $108.97 | $37.14
75810 | S | Vein x-ray, spleen/liver | 0279 | 6.30 | $305.47 | $174.57 | $61.09
75820 | S | Vein x-ray, arm/leg | 0281 | 4.40 | $213.34 | $115.16 | $42.67
75822 | S | Vein x-ray, arms/legs | 0281 | 4.40 | $213.34 | $115.16 | $42.67
75825 | S | Vein x-ray, trunk | 0279 | 6.30 | $305.47 | $174.57 | $61.09
75827 | S | Vein x-ray, chest | 0279 | 6.30 | $305.47 | $174.57 | $61.09
75831 | S | Vein x-ray, kidney | 0279 | 6.30 | $305.47 | $174.57 | $61.09
75833 | S | Vein x-ray, kidneys | 0279 | 6.30 | $305.47 | $174.57 | $61.09
75840 | S | Vein x-ray, adrenal gland | 0279 | 6.30 | $305.47 | $174.57 | $61.09
75842 | S | Vein x-ray, adrenal glands | 0279 | 6.30 | $305.47 | $174.57 | $61.09
75860 | S | Vein x-ray, neck | 0279 | 6.30 | $305.47 | $174.57 | $61.09
75870 | S | Vein x-ray, skull | 0279 | 6.30 | $305.47 | $174.57 | $61.09
75872 | S | Vein x-ray, skull | 0279 | 6.30 | $305.47 | $174.57 | $61.09
75880 | S | Vein x-ray, eye socket | 0279 | 6.30 | $305.47 | $174.57 | $61.09
75885 | S | Vein x-ray, liver | 0279 | 6.30 | $305.47 | $174.57 | $61.09
75887 | S | Vein x-ray, liver | 0280 | 14.98 | $726.34 | $380.12 | $145.27
75889 | S | Vein x-ray, liver | 0279 | 6.30 | $305.47 | $174.57 | $61.09
75891 | S | Vein x-ray, liver | 0279 | 6.30 | $305.47 | $174.57 | $61.09
75893 | N | Venous sampling by catheter |  |  |  |  |
75894 | S | X-rays, transcath therapy | 0297 | 6.13 | $297.23 | $172.51 | $59.45
75896 | S | X-rays, transcath therapy | 0297 | 6.13 | $297.23 | $172.51 | $59.45
75898 | X | Follow-up angiogram | 0264 | 3.83 | $185.71 | $108.97 | $37.14
75900 | C | Arterial catheter exchange |  |  |  |  |
75940 | C | X-ray placement, vein filter |  |  |  |  |
75945 | C | Intravascular us |  |  |  |  |
75946 | C | Intravascular us add-on |  |  |  |  |
75960 | C | Transcatheter intro, stent |  |  |  |  |
75961 | C | Retrieval, broken catheter |  |  |  |  |
75962 | C | Repair arterial blockage |  |  |  |  |
75964 | C | Repair artery blockage, each |  |  |  |  |
75966 | C | Repair arterial blockage |  |  |  |  |
75968 | C | Repair artery blockage, each |  |  |  |  |
75970 | C | Vascular biopsy |  |  |  |  |
75978 | C | Repair venous blockage |  |  |  |  |
75980 | S | Contrast x-ray exam bile duct | 0297 | 6.13 | $297.23 | $172.51 | $59.45
75982 | S | Contrast x-ray exam bile duct | 0297 | 6.13 | $297.23 | $172.51 | $59.45
75984 | S | X-ray control catheter change | 0296 | 3.57 | $173.10 | $100.25 | $34.62
75989 | X | Abscess drainage under x-ray | 0273 | 2.49 | $120.73 | $61.02 | $24.15
75992 | C | Atherectomy, x-ray exam |  |  |  |  |
75993 | C | Atherectomy, x-ray exam |  |  |  |  |
75994 | C | Atherectomy, x-ray exam |  |  |  |  |
75995 | C | Atherectomy, x-ray exam |  |  |  |  |
75996 | C | Atherectomy, x-ray exam |  |  |  |  |
76000 | X | Fluoroscope examination | 0272 | 1.40 | $67.88 | $39.00 | $13.58
76001 | X | Fluoroscope exam, extensive | 0273 | 2.49 | $120.73 | $61.02 | $24.15
76003 | X | Needle localization by x-ray | 0272 | 1.40 | $67.88 | $39.00 | $13.58
76005 | X | Fluoroguide for spine inject | 0273 | 2.49 | $120.73 | $61.02 | $24.15
76006 | X | X-ray stress view | 0261 | 1.38 | $66.91 | $38.77 | $13.38
76010 | X | X-ray, nose to rectum | 0260 | 0.79 | $38.30 | $22.02 | $7.66
76020 | X | X-rays for bone age | 0261 | 1.38 | $66.91 | $38.77 | $13.38
76040 | X | X-rays, bone evaluation | 0260 | 0.79 | $38.30 | $22.02 | $7.66
76061 | X | X-rays, bone survey | 0261 | 1.38 | $66.91 | $38.77 | $13.38
76062 | X | X-rays, bone survey | 0261 | 1.38 | $66.91 | $38.77 | $13.38
76065 | X | X-rays, bone evaluation | 0261 | 1.38 | $66.91 | $38.77 | $13.38
76066 | X | Joint(s) survey, single film | 0260 | 0.79 | $38.30 | $22.02 | $7.66
76070 | E | CT scan, bone density study |  |  |  |  |
76075 | X | Dual energy x-ray study | 0261 | 1.38 | $66.91 | $38.77 | $13.38
76076 | X | Dual energy x-ray study | 0261 | 1.38 | $66.91 | $38.77 | $13.38
76078 | X | Photodensitometry | 0261 | 1.38 | $66.91 | $38.77 | $13.38
76080 | X | X-ray exam of fistula | 0263 | 1.68 | $81.46 | $45.88 | $16.29
76086 | X | X-ray of mammary duct | 0263 | 1.68 | $81.46 | $45.88 | $16.29
76088 | X | X-ray of mammary ducts | 0263 | 1.68 | $81.46 | $45.88 | $16.29
76090 | S | Mammogram, one breast | 0271 | 0.70 | $33.94 | $19.50 | $6.79
76091 | S | Mammogram, both breasts | 0271 | 0.70 | $33.94 | $19.50 | $6.79
76092 | A | Mammogram, screening |  |  |  |  |
76093 | S | Magnetic image, breast | 0284 | 8.02 | $388.87 | $257.39 | $77.77
76094 | S | Magnetic image, both breasts | 0284 | 8.02 | $388.87 | $257.39 | $77.77
76095 | X | Stereotactic breast biopsy | 0264 | 3.83 | $185.71 | $108.97 | $37.14
76096 | X | X-ray of needle wire, breast | 0263 | 1.68 | $81.46 | $45.88 | $16.29
76098 | X | X-ray exam, breast specimen | 0260 | 0.79 | $38.30 | $22.02 | $7.66
76100 | X | X-ray exam of body section | 0261 | 1.38 | $66.91 | $38.77 | $13.38
76101 | X | Complex body section x-ray | 0263 | 1.68 | $81.46 | $45.88 | $16.29
76102 | X | Complex body section x-rays | 0264 | 3.83 | $185.71 | $108.97 | $37.14
76120 | X | Cinematic x-rays | 0261 | 1.38 | $66.91 | $38.77 | $13.38
76125 | X | Cinematic x-rays add-on | 0261 | 1.38 | $66.91 | $38.77 | $13.38
76140 | E | X-ray consultation |  |  |  |  |
76150 | X | X-ray exam, dry process | 0260 | 0.79 | $38.30 | $22.02 | $7.66
76350 | N | Special x-ray contrast study |  |  |  |  |
76355 | S | CAT scan for localization | 0283 | 4.89 | $237.10 | $179.39 | $47.42
76360 | S | CAT scan for needle biopsy | 0283 | 4.89 | $237.10 | $179.39 | $47.42
76365 | S | CAT scan for cyst aspiration | 0283 | 4.89 | $237.10 | $179.39 | $47.42
76370 | S | CAT scan for therapy guide | 0282 | 2.38 | $115.40 | $94.51 | $23.08
76375 | S | 3D/holograph reconstr add-on | 0282 | 2.38 | $115.40 | $94.51 | $23.08
76380 | S | CAT scan follow-up study | 0282 | 2.38 | $115.40 | $94.51 | $23.08
76390 | S | Mr spectroscopy | 0284 | 8.02 | $388.87 | $257.39 | $77.77
76400 | S | Magnetic image, bone marrow | 0284 | 8.02 | $388.87 | $257.39 | $77.77
76499 | X | Radiographic procedure | 0260 | 0.79 | $38.30 | $22.02 | $7.66
76506 | S | Echo exam of head | 0266 | 1.79 | $86.79 | $57.35 | $17.36
76511 | S | Echo exam of eye | 0266 | 1.79 | $86.79 | $57.35 | $17.36
76512 | S | Echo exam of eye | 0266 | 1.79 | $86.79 | $57.35 | $17.36
76513 | S | Echo exam of eye, water bath | 0265 | 1.17 | $56.73 | $38.08 | $11.35
76516 | S | Echo exam of eye | 0266 | 1.79 | $86.79 | $57.35 | $17.36
76519 | S | Echo exam of eye | 0266 | 1.79 | $86.79 | $57.35 | $17.36
76529 | S | Echo exam of eye | 0265 | 1.17 | $56.73 | $38.08 | $11.35
76536 | S | Echo exam of head and neck | 0265 | 1.17 | $56.73 | $38.08 | $11.35
76604 | S | Echo exam of chest | 0266 | 1.79 | $86.79 | $57.35 | $17.36
76645 | S | Echo exam of breast(s) | 0265 | 1.17 | $56.73 | $38.08 | $11.35
76700 | S | Echo exam of abdomen | 0266 | 1.79 | $86.79 | $57.35 | $17.36
76705 | S | Echo exam of abdomen | 0266 | 1.79 | $86.79 | $57.35 | $17.36
76770 | S | Echo exam abdomen back wall | 0266 | 1.79 | $86.79 | $57.35 | $17.36
76775 | S | Echo exam abdomen back wall | 0266 | 1.79 | $86.79 | $57.35 | $17.36
76778 | S | Echo exam kidney transplant | 0266 | 1.79 | $86.79 | $57.35 | $17.36
76800 | S | Echo exam spinal canal | 0266 | 1.79 | $86.79 | $57.35 | $17.36
76805 | S | Echo exam of pregnant uterus | 0266 | 1.79 | $86.79 | $57.35 | $17.36
76810 | S | Echo exam of pregnant uterus | 0265 | 1.17 | $56.73 | $38.08 | $11.35
76815 | S | Echo exam of pregnant uterus | 0265 | 1.17 | $56.73 | $38.08 | $11.35
76816 | S | Echo exam follow-up/repeat | 0265 | 1.17 | $56.73 | $38.08 | $11.35
76818 | S | Fetal biophysical profile | 0266 | 1.79 | $86.79 | $57.35 | $17.36
76825 | S | Echo exam of fetal heart | 0269 | 4.40 | $213.34 | $114.01 | $42.67
76826 | S | Echo exam of fetal heart | 0269 | 4.40 | $213.34 | $114.01 | $42.67
76827 | S | Echo exam of fetal heart | 0269 | 4.40 | $213.34 | $114.01 | $42.67
76828 | S | Echo exam of fetal heart | 0269 | 4.40 | $213.34 | $114.01 | $42.67
76830 | S | Echo exam, transvaginal | 0266 | 1.79 | $86.79 | $57.35 | $17.36
76831 | S | Echo exam, uterus | 0266 | 1.79 | $86.79 | $57.35 | $17.36
76856 | S | Echo exam of pelvis | 0266 | 1.79 | $86.79 | $57.35 | $17.36
76857 | S | Echo exam of pelvis | 0265 | 1.17 | $56.73 | $38.08 | $11.35
76870 | S | Echo exam of scrotum | 0266 | 1.79 | $86.79 | $57.35 | $17.36
76872 | S | Echo exam, transrectal | 0266 | 1.79 | $86.79 | $57.35 | $17.36
76873 | S | Echograp trans r, pros study | 0266 | 1.79 | $86.79 | $57.35 | $17.36
76880 | S | Echo exam of extremity | 0266 | 1.79 | $86.79 | $57.35 | $17.36
76885 | S | Echo exam, infant hips | 0266 | 1.79 | $86.79 | $57.35 | $17.36
76886 | S | Echo exam, infant hips | 0266 | 1.79 | $86.79 | $57.35 | $17.36
76930 | X | Echo guide for heart sac tap | 0268 | 2.23 | $108.13 | $69.51 | $21.63
76932 | X | Echo guide for heart biopsy | 0268 | 2.23 | $108.13 | $69.51 | $21.63
76934 | X | Echo guide for chest tap | 0268 | 2.23 | $108.13 | $69.51 | $21.63
76936 | X | Echo guide for artery repair | 0268 | 2.23 | $108.13 | $69.51 | $21.63
76938 | X | Echo exam for drainage | 0268 | 2.23 | $108.13 | $69.51 | $21.63
76941 | X | Echo guide for transfusion | 0268 | 2.23 | $108.13 | $69.51 | $21.63
76942 | X | Echo guide for biopsy | 0268 | 2.23 | $108.13 | $69.51 | $21.63
76945 | X | Echo guide, villus sampling | 0268 | 2.23 | $108.13 | $69.51 | $21.63
76946 | X | Echo guide for amniocentesis | 0268 | 2.23 | $108.13 | $69.51 | $21.63
76948 | X | Echo guide, ova aspiration | 0268 | 2.23 | $108.13 | $69.51 | $21.63
76950 | X | Echo guidance radiotherapy | 0268 | 2.23 | $108.13 | $69.51 | $21.63
76960 | X | Echo guidance radiotherapy | 0268 | 2.23 | $108.13 | $69.51 | $21.63
76965 | X | Echo guidance radiotherapy | 0268 | 2.23 | $108.13 | $69.51 | $21.63
76970 | S | Ultrasound exam follow-up | 0265 | 1.17 | $56.73 | $38.08 | $11.35
76975 | S | GI endoscopic ultrasound | 0266 | 1.79 | $86.79 | $57.35 | $17.36
76977 | S | Us bone density measure | 0265 | 1.17 | $56.73 | $38.08 | $11.35
76986 | S | Echo exam at surgery | 0266 | 1.79 | $86.79 | $57.35 | $17.36
76999 | S | Echo examination procedure | 0266 | 1.79 | $86.79 | $57.35 | $17.36
77261 | E | Radiation therapy planning |  |  |  |  |
77262 | E | Radiation therapy planning |  |  |  |  |
77263 | E | Radiation therapy planning |  |  |  |  |
77280 | X | Set radiation therapy field | 0304 | 1.49 | $72.25 | $41.52 | $14.45
77285 | X | Set radiation therapy field | 0305 | 4.06 | $196.86 | $97.50 | $39.37
77290 | X | Set radiation therapy field | 0305 | 4.06 | $196.86 | $97.50 | $39.37
77295 | X | Set radiation therapy field | 0310 | 13.98 | $677.85 | $339.05 | $135.57
77299 | E | Radiation therapy planning |  |  |  |  |
77300 | X | Radiation therapy dose plan | 0304 | 1.49 | $72.25 | $41.52 | $14.45
77305 | X | Radiation therapy dose plan | 0304 | 1.49 | $72.25 | $41.52 | $14.45
77310 | X | Radiation therapy dose plan | 0304 | 1.49 | $72.25 | $41.52 | $14.45
77315 | X | Radiation therapy dose plan | 0305 | 4.06 | $196.86 | $97.50 | $39.37
77321 | X | Radiation therapy port plan | 0305 | 4.06 | $196.86 | $97.50 | $39.37
77326 | X | Radiation therapy dose plan | 0305 | 4.06 | $196.86 | $97.50 | $39.37
77327 | X | Radiation therapy dose plan | 0305 | 4.06 | $196.86 | $97.50 | $39.37
77328 | X | Radiation therapy dose plan | 0305 | 4.06 | $196.86 | $97.50 | $39.37
77331 | X | Special radiation dosimetry | 0304 | 1.49 | $72.25 | $41.52 | $14.45
77332 | X | Radiation treatment aid(s) | 0303 | 2.83 | $137.22 | $69.28 | $27.44
77333 | X | Radiation treatment aid(s) | 0303 | 2.83 | $137.22 | $69.28 | $27.44
77334 | X | Radiation treatment aid(s) | 0303 | 2.83 | $137.22 | $69.28 | $27.44
77336 | X | Radiation physics consult | 0311 | 1.32 | $64.00 | $31.66 | $12.80
77370 | X | Radiation physics consult | 0311 | 1.32 | $64.00 | $31.66 | $12.80
77399 | X | External radiation dosimetry | 0311 | 1.32 | $64.00 | $31.66 | $12.80
77401 | S | Radiation treatment delivery | 0300 | 1.98 | $96.00 | $47.72 | $19.20
77402 | S | Radiation treatment delivery | 0300 | 1.98 | $96.00 | $47.72 | $19.20
77403 | S | Radiation treatment delivery | 0300 | 1.98 | $96.00 | $47.72 | $19.20
77404 | S | Radiation treatment delivery | 0300 | 1.98 | $96.00 | $47.72 | $19.20
77406 | S | Radiation treatment delivery | 0300 | 1.98 | $96.00 | $47.72 | $19.20
77407 | S | Radiation treatment delivery | 0300 | 1.98 | $96.00 | $47.72 | $19.20
77408 | S | Radiation treatment delivery | 0300 | 1.98 | $96.00 | $47.72 | $19.20
77409 | S | Radiation treatment delivery | 0300 | 1.98 | $96.00 | $47.72 | $19.20
77411 | S | Radiation treatment delivery | 0301 | 2.21 | $107.16 | $52.53 | $21.43
77412 | S | Radiation treatment delivery | 0301 | 2.21 | $107.16 | $52.53 | $21.43
77413 | S | Radiation treatment delivery | 0301 | 2.21 | $107.16 | $52.53 | $21.43
77414 | S | Radiation treatment delivery | 0300 | 1.98 | $96.00 | $47.72 | $19.20
77416 | S | Radiation treatment delivery | 0301 | 2.21 | $107.16 | $52.53 | $21.43
77417 | X | Radiology port film(s) | 0260 | 0.79 | $38.30 | $22.02 | $7.66
77427 | E | Radiation tx management, x5 |  |  |  |  |
77431 | E | Radiation therapy management |  |  |  |  |
77432 | E | Stereotactic radiation trmt |  |  |  |  |
77470 | S | Special radiation treatment | 0302 | 8.21 | $398.08 | $216.55 | $79.62
77499 | E | Radiation therapy management |  |  |  |  |
77520 | S | Proton beam delivery | 0301 | 2.21 | $107.16 | $52.53 | $21.43
77523 | S | Proton beam delivery | 0301 | 2.21 | $107.16 | $52.53 | $21.43
77600 | S | Hyperthermia treatment | 0314 | 5.88 | $285.10 | $150.95 | $57.02
77605 | S | Hyperthermia treatment | 0314 | 5.88 | $285.10 | $150.95 | $57.02
77610 | S | Hyperthermia treatment | 0314 | 5.88 | $285.10 | $150.95 | $57.02
77615 | S | Hyperthermia treatment | 0314 | 5.88 | $285.10 | $150.95 | $57.02
77620 | S | Hyperthermia treatment | 0314 | 5.88 | $285.10 | $150.95 | $57.02
77750 | S | Infuse radioactive materials | 0301 | 2.21 | $107.16 | $52.53 | $21.43
77761 | S | Radioelement application | 0312 | 4.09 | $198.31 | $109.65 | $39.66
77762 | S | Radioelement application | 0312 | 4.09 | $198.31 | $109.65 | $39.66
77763 | S | Radioelement application | 0312 | 4.09 | $198.31 | $109.65 | $39.66
77776 | S | Radioelement application | 0312 | 4.09 | $198.31 | $109.65 | $39.66
77777 | S | Radioelement application | 0312 | 4.09 | $198.31 | $109.65 | $39.66
77778 | S | Radioelement application | 0312 | 4.09 | $198.31 | $109.65 | $39.66
77781 | S | High intensity brachytherapy | 0313 | 7.89 | $382.56 | $164.02 | $76.51
77782 | S | High intensity brachytherapy | 0313 | 7.89 | $382.56 | $164.02 | $76.51
77783 | S | High intensity brachytherapy | 0313 | 7.89 | $382.56 | $164.02 | $76.51
77784 | S | High intensity brachytherapy | 0313 | 7.89 | $382.56 | $164.02 | $76.51
77789 | S | Radioelement application | 0300 | 1.98 | $96.00 | $47.72 | $19.20
77790 | N | Radioelement handling |  |  |  |  |
77799 | S | Radium/radioisotope therapy | 0313 | 7.89 | $382.56 | $164.02 | $76.51
78000 | S | Thyroid, single uptake | 0290 | 1.94 | $94.06 | $55.51 | $18.81
78001 | S | Thyroid, multiple uptakes | 0290 | 1.94 | $94.06 | $55.51 | $18.81
78003 | S | Thyroid suppress/stimul | 0290 | 1.94 | $94.06 | $55.51 | $18.81
78006 | S | Thyroid imaging with uptake | 0291 | 3.15 | $152.73 | $93.14 | $30.55
78007 | S | Thyroid image, mult uptakes | 0291 | 3.15 | $152.73 | $93.14 | $30.55
78010 | S | Thyroid imaging | 0290 | 1.94 | $94.06 | $55.51 | $18.81
78011 | S | Thyroid imaging with flow | 0290 | 1.94 | $94.06 | $55.51 | $18.81
78015 | S | Thyroid met imaging | 0291 | 3.15 | $152.73 | $93.14 | $30.55
78016 | S | Thyroid met imaging/studies | 0292 | 4.36 | $211.40 | $126.63 | $42.28
78018 | S | Thyroid met imaging, body | 0292 | 4.36 | $211.40 | $126.63 | $42.28
78020 | S | Thyroid met uptake | 0292 | 4.36 | $211.40 | $126.63 | $42.28
78070 | S | Parathyroid nuclear imaging | 0292 | 4.36 | $211.40 | $126.63 | $42.28
78075 | S | Adrenal nuclear imaging | 0292 | 4.36 | $211.40 | $126.63 | $42.28
78099 | S | Endocrine nuclear procedure | 0290 | 1.94 | $94.06 | $55.51 | $18.81
78102 | S | Bone marrow imaging, ltd | 0291 | 3.15 | $152.73 | $93.14 | $30.55
78103 | S | Bone marrow imaging, mult | 0292 | 4.36 | $211.40 | $126.63 | $42.28
78104 | S | Bone marrow imaging, body | 0292 | 4.36 | $211.40 | $126.63 | $42.28
78110 | S | Plasma volume, single | 0291 | 3.15 | $152.73 | $93.14 | $30.55
78111 | S | Plasma volume, multiple | 0291 | 3.15 | $152.73 | $93.14 | $30.55
78120 | S | Red cell mass, single | 0291 | 3.15 | $152.73 | $93.14 | $30.55
78121 | S | Red cell mass, multiple | 0291 | 3.15 | $152.73 | $93.14 | $30.55
78122 | S | Blood volume | 0292 | 4.36 | $211.40 | $126.63 | $42.28
78130 | S | Red cell survival study | 0292 | 4.36 | $211.40 | $126.63 | $42.28
78135 | S | Red cell survival kinetics | 0292 | 4.36 | $211.40 | $126.63 | $42.28
78140 | S | Red cell sequestration | 0292 | 4.36 | $211.40 | $126.63 | $42.28
78160 | S | Plasma iron turnover | 0292 | 4.36 | $211.40 | $126.63 | $42.28
78162 | S | Iron absorption exam | 0292 | 4.36 | $211.40 | $126.63 | $42.28
78170 | S | Red cell iron utilization | 0292 | 4.36 | $211.40 | $126.63 | $42.28
78172 | S | Total body iron estimation | 0292 | 4.36 | $211.40 | $126.63 | $42.28
78185 | S | Spleen imaging | 0291 | 3.15 | $152.73 | $93.14 | $30.55
78190 | S | Platelet survival, kinetics | 0291 | 3.15 | $152.73 | $93.14 | $30.55
78191 | S | Platelet survival | 0291 | 3.15 | $152.73 | $93.14 | $30.55
78195 | S | Lymph system imaging | 0292 | 4.36 | $211.40 | $126.63 | $42.28
78199 | S | Blood/lymph nuclear exam | 0290 | 1.94 | $94.06 | $55.51 | $18.81
78201 | S | Liver imaging | 0291 | 3.15 | $152.73 | $93.14 | $30.55
78202 | S | Liver imaging with flow | 0291 | 3.15 | $152.73 | $93.14 | $30.55
78205 | S | Liver imaging (3D) | 0292 | 4.36 | $211.40 | $126.63 | $42.28
78206 | S | Liver image (3D) w/flow | 0292 | 4.36 | $211.40 | $126.63 | $42.28
78215 | S | Liver and spleen imaging | 0291 | 3.15 | $152.73 | $93.14 | $30.55
78216 | S | Liver & spleen image/flow | 0291 | 3.15 | $152.73 | $93.14 | $30.55
78220 | S | Liver function study | 0292 | 4.36 | $211.40 | $126.63 | $42.28
78223 | S | Hepatobiliary imaging | 0292 | 4.36 | $211.40 | $126.63 | $42.28
78230 | S | Salivary gland imaging | 0291 | 3.15 | $152.73 | $93.14 | $30.55
78231 | S | Serial salivary imaging | 0291 | 3.15 | $152.73 | $93.14 | $30.55
78232 | S | Salivary gland function exam | 0291 | 3.15 | $152.73 | $93.14 | $30.55
78258 | S | Esophageal motility study | 0291 | 3.15 | $152.73 | $93.14 | $30.55
78261 | S | Gastric mucosa imaging | 0291 | 3.15 | $152.73 | $93.14 | $30.55
78262 | S | Gastroesophageal reflux exam | 0291 | 3.15 | $152.73 | $93.14 | $30.55
78264 | S | Gastric emptying study | 0292 | 4.36 | $211.40 | $126.63 | $42.28
² 78267 | T | Breath tst attain/anal c-14 | 0971 | 1.55 | $75.16 |  | $15.03
² 78268 | T | Breath test analysis, c-14 | 0970 | 0.52 | $25.21 |  | $5.04
78270 | S | Vit B-12 absorption exam | 0290 | 1.94 | $94.06 | $55.51 | $18.81
78271 | S | Vit B-12 absorp exam, IF | 0290 | 1.94 | $94.06 | $55.51 | $18.81
78272 | S | Vit B-12 absorp, combined | 0291 | 3.15 | $152.73 | $93.14 | $30.55
78278 | S | Acute GI blood loss imaging | 0292 | 4.36 | $211.40 | $126.63 | $42.28
78282 | S | GI protein loss exam | 0290 | 1.94 | $94.06 | $55.51 | $18.81
78290 | S | Meckel's divert exam | 0291 | 3.15 | $152.73 | $93.14 | $30.55
78291 | S | Leveen/shunt patency exam | 0292 | 4.36 | $211.40 | $126.63 | $42.28
78299 | S | GI nuclear procedure | 0290 | 1.94 | $94.06 | $55.51 | $18.81
78300 | S | Bone imaging, limited area | 0291 | 3.15 | $152.73 | $93.14 | $30.55
78305 | S | Bone imaging, multiple areas | 0292 | 4.36 | $211.40 | $126.63 | $42.28
78306 | S | Bone imaging, whole body | 0292 | 4.36 | $211.40 | $126.63 | $42.28
78315 | S | Bone imaging, 3 phase | 0292 | 4.36 | $211.40 | $126.63 | $42.28
78320 | S | Bone imaging (3D) | 0292 | 4.36 | $211.40 | $126.63 | $42.28
78350 | X | Bone mineral, single photon | 0261 | 1.38 | $66.91 | $38.77 | $13.38
78351 | E | Bone mineral, dual photon |  |  |  |  |
78399 | S | Musculoskeletal nuclear exam | 0290 | 1.94 | $94.06 | $55.51 | $18.81
78414 | S | Non-imaging heart function | 0292 | 4.36 | $211.40 | $126.63 | $42.28
78428 | S | Cardiac shunt imaging | 0292 | 4.36 | $211.40 | $126.63 | $42.28
78445 | S | Vascular flow imaging | 0291 | 3.15 | $152.73 | $93.14 | $30.55
78455 | S | Venous thrombosis study | 0291 | 3.15 | $152.73 | $93.14 | $30.55
78456 | S | Acute venous thrombus image | 0291 | 3.15 | $152.73 | $93.14 | $30.55
78457 | S | Venous thrombosis imaging | 0291 | 3.15 | $152.73 | $93.14 | $30.55
78458 | S | Ven thrombosis images, bilat | 0291 | 3.15 | $152.73 | $93.14 | $30.55
78459 | E | Heart muscle imaging (PET) |  |  |  |  |
78460 | S | Heart muscle blood, single | 0286 | 7.28 | $352.99 | $200.04 | $70.60
78461 | S | Heart muscle blood, multiple | 0286 | 7.28 | $352.99 | $200.04 | $70.60
78464 | S | Heart image (3D), single | 0286 | 7.28 | $352.99 | $200.04 | $70.60
78465 | S | Heart image (3D), multiple | 0286 | 7.28 | $352.99 | $200.04 | $70.60
78466 | S | Heart infarct image | 0292 | 4.36 | $211.40 | $126.63 | $42.28
78468 | S | Heart infarct image (ef) | 0292 | 4.36 | $211.40 | $126.63 | $42.28
78469 | S | Heart infarct image (3D) | 0292 | 4.36 | $211.40 | $126.63 | $42.28
78472 | S | Gated heart, planar, single | 0286 | 7.28 | $352.99 | $200.04 | $70.60
78473 | S | Gated heart, multiple | 0286 | 7.28 | $352.99 | $200.04 | $70.60
78478 | S | Heart wall motion add-on | 0286 | 7.28 | $352.99 | $200.04 | $70.60
78480 | S | Heart function add-on | 0286 | 7.28 | $352.99 | $200.04 | $70.60
78481 | S | Heart first pass, single | 0286 | 7.28 | $352.99 | $200.04 | $70.60
78483 | S | Heart first pass, multiple | 0286 | 7.28 | $352.99 | $200.04 | $70.60
78491 | E | Heart image (pet), single |  |  |  |  |
78492 | E | Heart image (pet), multiple |  |  |  |  |
78494 | S | Heart image, spect | 0296 | 3.57 | $173.10 | $100.25 | $34.62
78496 | S | Heart first pass add-on | 0296 | 3.57 | $173.10 | $100.25 | $34.62
78499 | S | Cardiovascular nuclear exam | 0292 | 4.36 | $211.40 | $126.63 | $42.28
78580 | S | Lung perfusion imaging | 0291 | 3.15 | $152.73 | $93.14 | $30.55
78584 | S | Lung V/Q image single breath | 0292 | 4.36 | $211.40 | $126.63 | $42.28
78585 | S | Lung V/Q imaging | 0292 | 4.36 | $211.40 | $126.63 | $42.28
78586 | S | Aerosol lung image, single | 0292 | 4.36 | $211.40 | $126.63 | $42.28
78587 | S | Aerosol lung image, multiple | 0292 | 4.36 | $211.40 | $126.63 | $42.28
78588 | S | Perfusion lung image | 0292 | 4.36 | $211.40 | $126.63 | $42.28
78591 | S | Vent image, 1 breath, 1 proj | 0291 | 3.15 | $152.73 | $93.14 | $30.55
78593 | S | Vent image, 1 proj, gas | 0292 | 4.36 | $211.40 | $126.63 | $42.28
78594 | S | Vent image, mult proj, gas | 0292 | 4.36 | $211.40 | $126.63 | $42.28
78596 | S | Lung differential function | 0292 | 4.36 | $211.40 | $126.63 | $42.28
78599 | S | Respiratory nuclear exam | 0291 | 3.15 | $152.73 | $93.14 | $30.55
78600 | S | Brain imaging, ltd static | 0292 | 4.36 | $211.40 | $126.63 | $42.28
78601 | S | Brain imaging, ltd w/flow | 0292 | 4.36 | $211.40 | $126.63 | $42.28
78605 | S | Brain imaging, complete | 0291 | 3.15 | $152.73 | $93.14 | $30.55
78606 | S | Brain imaging, compl w/flow | 0292 | 4.36 | $211.40 | $126.63 | $42.28
78607 | S | Brain imaging (3D) | 0292 | 4.36 | $211.40 | $126.63 | $42.28
78608 | E | Brain imaging (PET) |  |  |  |  |
78609 | E | Brain imaging (PET) |  |  |  |  |
78610 | S | Brain flow imaging only | 0291 | 3.15 | $152.73 | $93.14 | $30.55
78615 | S | Cerebral blood flow imaging | 0292 | 4.36 | $211.40 | $126.63 | $42.28
78630 | S | Cerebrospinal fluid scan | 0292 | 4.36 | $211.40 | $126.63 | $42.28
78635 | S | CSF ventriculography | 0292 | 4.36 | $211.40 | $126.63 | $42.28
78645 | S | CSF shunt evaluation | 0292 | 4.36 | $211.40 | $126.63 | $42.28
78647 | S | Cerebrospinal fluid scan | 0292 | 4.36 | $211.40 | $126.63 | $42.28
78650 | S | CSF leakage imaging | 0292 | 4.36 | $211.40 | $126.63 | $42.28
78655 | S |  | 0292 | 4.36 | $211.40 | $126.63 | $42.28
78660 | S | Nuclear exam of tear flow | 0291 | 3.15 | $152.73 | $93.14 | $30.55
78699 | S | Nervous system nuclear exam | 0292 | 4.36 | $211.40 | $126.63 | $42.28
78700 | S | Kidney imaging, static | 0291 | 3.15 | $152.73 | $93.14 | $30.55
78701 | S | Kidney imaging with flow | 0291 | 3.15 | $152.73 | $93.14 | $30.55
78704 | S | Imaging renogram | 0292 | 4.36 | $211.40 | $126.63 | $42.28
78707 | S | Kidney flow/function image | 0292 | 4.36 | $211.40 | $126.63 | $42.28
78708 | S | Kidney flow/function image | 0292 | 4.36 | $211.40 | $126.63 | $42.28
78709 | S | Kidney flow/function image | 0292 | 4.36 | $211.40 | $126.63 | $42.28
78710 | S | Kidney imaging (3D) | 0292 | 4.36 | $211.40 | $126.63 | $42.28
78715 | S | Renal vascular flow exam | 0291 | 3.15 | $152.73 | $93.14 | $30.55
78725 | S | Kidney function study | 0291 | 3.15 | $152.73 | $93.14 | $30.55
78730 | S | Urinary bladder retention | 0291 | 3.15 | $152.73 | $93.14 | $30.55
78740 | S | Ureteral reflux study | 0291 | 3.15 | $152.73 | $93.14 | $30.55
78760 | S | Testicular imaging | 0291 | 3.15 | $152.73 | $93.14 | $30.55
78761 | S | Testicular imaging/flow | 0291 | 3.15 | $152.73 | $93.14 | $30.55
78799 | S | Genitourinary nuclear exam | 0292 | 4.36 | $211.40 | $126.63 | $42.28
78800 | S | Tumor imaging, limited area | 0292 | 4.36 | $211.40 | $126.63 | $42.28
78801 | S | Tumor imaging, mult areas | 0292 | 4.36 | $211.40 | $126.63 | $42.28
78802 | S | Tumor imaging, whole body | 0292 | 4.36 | $211.40 | $126.63 | $42.28
78803 | S | Tumor imaging (3D) | 0292 | 4.36 | $211.40 | $126.63 | $42.28
78805 | S | Abscess imaging, ltd area | 0292 | 4.36 | $211.40 | $126.63 | $42.28
78806 | S | Abscess imaging, whole body | 0292 | 4.36 | $211.40 | $126.63 | $42.28
78807 | S | Nuclear localization/abscess | 0292 | 4.36 | $211.40 | $126.63 | $42.28
78810 | E | Tumor imaging (PET) |  |  |  |  |
78890 | N | Nuclear medicine data proc |  |  |  |  |
78891 | N | Nuclear med data proc |  |  |  |  |
78990 | N | Provide diag radionuclide(s) |  |  |  |  |
78999 | S | Nuclear diagnostic exam | 0291 | 3.15 | $152.73 | $93.14 | $30.55
79000 | S | Init hyperthyroid therapy | 0294 | 5.13 | $248.74 | $144.06 | $49.75
79001 | S | Repeat hyperthyroid therapy | 0294 | 5.13 | $248.74 | $144.06 | $49.75
79020 | S | Thyroid ablation | 0294 | 5.13 | $248.74 | $144.06 | $49.75
79030 | S | Thyroid ablation, carcinoma | 0294 | 5.13 | $248.74 | $144.06 | $49.75
79035 | S | Thyroid metastatic therapy | 0294 | 5.13 | $248.74 | $144.06 | $49.75
79100 | S | Hematopoetic nuclear therapy | 0294 | 5.13 | $248.74 | $144.06 | $49.75
79200 | S | Intracavitary nuclear trmt | 0295 | 19.85 | $962.47 | $609.17 | $192.49
79300 | S | Interstitial nuclear therapy | 0294 | 5.13 | $248.74 | $144.06 | $49.75
79400 | S | Nonhemato nuclear therapy | 0295 | 19.85 | $962.47 | $609.17 | $192.49
79420 | S | Intravascular nuclear ther | 0295 | 19.85 | $962.47 | $609.17 | $192.49
79440 | S | Nuclear joint therapy | 0294 | 5.13 | $248.74 | $144.06 | $49.75
79900 | N | Provide ther radiopharm(s) |  |  |  |  |
79999 | S | Nuclear medicine therapy | 0294 | 5.13 | $248.74 | $144.06 | $49.75
80048 | A | Basic metabolic panel |  |  |  |  |
80050 | A | General health panel |  |  |  |  |
80051 | A | Electrolyte panel |  |  |  |  |
80053 | A | Comprehen metabolic panel |  |  |  |  |
80055 | A | Obstetric panel |  |  |  |  |
80061 | A | Lipid panel |  |  |  |  |
80069 | A | Renal function panel |  |  |  |  |
80072 | A | Arthritis panel |  |  |  |  |
80074 | A | Acute hepatitis panel |  |  |  |  |
80076 | A | Hepatic function panel |  |  |  |  |
80090 | A | Torch antibody panel |  |  |  |  |
80100 | A | Drug screen |  |  |  |  |
80101 | A | Drug screen |  |  |  |  |
80102 | A | Drug confirmation |  |  |  |  |
80103 | N | Drug analysis, tissue prep |  |  |  |  |
80150 | A | Assay of amikacin |  |  |  |  |
80152 | A | Assay of amitriptyline |  |  |  |  |
80154 | A | Assay of benzodiazepines |  |  |  |  |
80156 | A | Assay of carbamazepine |  |  |  |  |
80158 | A | Assay of cyclosporine |  |  |  |  |
80160 | A | Assay of desipramine |  |  |  |  |
80162 | A | Assay of digoxin |  |  |  |  |
80164 | A | Assay, dipropylacetic acid |  |  |  |  |
80166 | A | Assay of doxepin |  |  |  |  |
80168 | A | Assay of ethosuximide |  |  |  |  |
80170 | A | Assay of gentamicin |  |  |  |  |
80172 | A | Assay of gold |  |  |  |  |
80174 | A | Assay of imipramine |  |  |  |  |
80176 | A | Assay of lidocaine |  |  |  |  |
80178 | A | Assay of lithium |  |  |  |  |
80182 | A | Assay of nortriptyline |  |  |  |  |
80184 | A | Assay of phenobarbital |  |  |  |  |
80185 | A | Assay of phenytoin, total |  |  |  |  |
80186 | A | Assay of phenytoin, free |  |  |  |  |
80188 | A | Assay of primidone |  |  |  |  |
80190 | A | Assay of procainamide |  |  |  |  |
80192 | A | Assay of procainamide |  |  |  |  |
80194 | A | Assay of quinidine |  |  |  |  |
80196 | A | Assay of salicylate |  |  |  |  |
80197 | A | Assay of tacrolimus |  |  |  |  |
80198 | A | Assay of theophylline |  |  |  |  |
80200 | A | Assay of tobramycin |  |  |  |  |
80201 | A | Assay of topiramate |  |  |  |  |
80202 | A | Assay of vancomycin |  |  |  |  |
80299 | A | Quantitative assay, drug |  |  |  |  |
80400 | A | Acth stimulation panel |  |  |  |  |
80402 | A | Acth stimulation panel |  |  |  |  |
80406 | A | Acth stimulation panel |  |  |  |  |
80408 | A | Aldosterone suppression eval |  |  |  |  |
80410 | A | Calcitonin stimul panel |  |  |  |  |
80412 | A | CRH stimulation panel |  |  |  |  |
80414 | A | Testosterone response |  |  |  |  |
80415 | A | Estradiol response panel |  |  |  |  |
80416 | A | Renin stimulation panel |  |  |  |  |
80417 | A | Renin stimulation panel |  |  |  |  |
80418 | A | Pituitary evaluation panel |  |  |  |  |
80420 | A | Dexamethasone panel |  |  |  |  |
80422 | A | Glucagon tolerance panel |  |  |  |  |
80424 | A | Glucagon tolerance panel |  |  |  |  |
80426 | A | Gonadotropin hormone panel |  |  |  |  |
80428 | A | Growth hormone panel |  |  |  |  |
80430 | A | Growth hormone panel |  |  |  |  |
80432 | A | Insulin suppression panel |  |  |  |  |
80434 | A | Insulin tolerance panel |  |  |  |  |
80435 | A | Insulin tolerance panel |  |  |  |  |
80436 | A | Metyrapone panel |  |  |  |  |
80438 | A | TRH stimulation panel |  |  |  |  |
80439 | A | TRH stimulation panel |  |  |  |  |
80440 | A | TRH stimulation panel |  |  |  |  |
80500 | X | Lab pathology consultation | 0343 | 0.45 | $21.82 | $12.16 | $4.36
80502 | X | Lab pathology consultation | 0343 | 0.45 | $21.82 | $12.16 | $4.36
81000 | A | Urinalysis, nonauto w/scope |  |  |  |  |
81001 | A | Urinalysis, auto w/scope |  |  |  |  |
81002 | A | Urinalysis nonauto w/o scope |  |  |  |  |
81003 | A | Urinalysis, auto, w/o scope |  |  |  |  |
81005 | A | Urinalysis |  |  |  |  |
81007 | A | Urine screen for bacteria |  |  |  |  |
81015 | A | Microscopic exam of urine |  |  |  |  |
81020 | A | Urinalysis, glass test |  |  |  |  |
81025 | A | Urine pregnancy test |  |  |  |  |
81050 | A | Urinalysis, volume measure |  |  |  |  |
81099 | A | Urinalysis test procedure |  |  |  |  |
82000 | A | Assay of blood acetaldehyde |  |  |  |  |
82003 | A | Assay of acetaminophen |  |  |  |  |
82009 | A | Test for acetone/ketones |  |  |  |  |
82010 | A | Acetone assay |  |  |  |  |
82013 | A | Acetylcholinesterase assay |  |  |  |  |
82016 | A | Acylcarnitines, qual |  |  |  |  |
82017 | A | Acylcarnitines, quant |  |  |  |  |
82024 | A | Assay of acth |  |  |  |  |
82030 | A | Assay of adp & amp |  |  |  |  |
82040 | A | Assay of serum albumin |  |  |  |  |
82042 | A | Assay of urine albumin |  |  |  |  |
82043 | A | Microalbumin, quantitative |  |  |  |  |
82044 | A | Microalbumin, semiquant |  |  |  |  |
82055 | A | Assay of ethanol |  |  |  |  |
82075 | A | Assay of breath ethanol |  |  |  |  |
82085 | A | Assay of aldolase |  |  |  |  |
82088 | A | Assay of aldosterone |  |  |  |  |
82101 | A | Assay of urine alkaloids |  |  |  |  |
82103 | A | Alpha-1-antitrypsin, total |  |  |  |  |
82104 | A | Alpha-1-antitrypsin, pheno |  |  |  |  |
82105 | A | Alpha-fetoprotein, serum |  |  |  |  |
82106 | A | Alpha-fetoprotein, amniotic |  |  |  |  |
82108 | A | Assay of aluminum |  |  |  |  |
82120 | A | Amines, vaginal fluid qual |  |  |  |  |
82127 | A | Amino acid, single qual |  |  |  |  |
82128 | A | Amino acids, mult qual |  |  |  |  |
82131 | A | Amino acids, single quant |  |  |  |  |
82135 | A | Assay, aminolevulinic acid |  |  |  |  |
82136 | A | Amino acids, quant, 2-5 |  |  |  |  |
82139 | A | Amino acids, quan, 6 or more |  |  |  |  |
82140 | A | Assay of ammonia |  |  |  |  |
82143 | A | Amniotic fluid scan |  |  |  |  |
82145 | A | Assay of amphetamines |  |  |  |  |
82150 | A | Assay of amylase |  |  |  |  |
82154 | A | Androstanediol glucuronide |  |  |  |  |
82157 | A | Assay of androstenedione |  |  |  |  |
82160 | A | Assay of androsterone |  |  |  |  |
82163 | A | Assay of angiotensin II |  |  |  |  |
82164 | A | Angiotensin I enzyme test |  |  |  |  |
82172 | A | Assay of apolipoprotein |  |  |  |  |
82175 | A | Assay of arsenic |  |  |  |  |
82180 | A | Assay of ascorbic acid |  |  |  |  |
82190 | A | Atomic absorption |  |  |  |  |
82205 | A | Assay of barbiturates |  |  |  |  |
82232 | A | Assay of beta-2 protein |  |  |  |  |
82239 | A | Bile acids, total |  |  |  |  |
82240 | A | Bile acids, cholylglycine |  |  |  |  |
82247 | A | Bilirubin, total |  |  |  |  |
82248 | A | Bilirubin, direct |  |  |  |  |
82251 | A | Assay of bilirubin |  |  |  |  |
82252 | A | Fecal bilirubin test |  |  |  |  |
82261 | A | Assay of biotinidase |  |  |  |  |
82270 | A | Test for blood, feces |  |  |  |  |
82273 | A | Test for blood, other source |  |  |  |  |
82286 | A | Assay of bradykinin |  |  |  |  |
82300 | A | Assay of cadmium |  |  |  |  |
82306 | A | Assay of vitamin D |  |  |  |  |
82307 | A | Assay of vitamin D |  |  |  |  |
82308 | A | Assay of calcitonin |  |  |  |  |
82310 | A | Assay of calcium |  |  |  |  |
82330 | A | Assay of calcium |  |  |  |  |
82331 | A | Calcium infusion test |  |  |  |  |
82340 | A | Assay of calcium in urine |  |  |  |  |
82355 | A | Calculus (stone) analysis |  |  |  |  |
82360 | A | Calculus (stone) assay |  |  |  |  |
82365 | A | Calculus (stone) assay |  |  |  |  |
82370 | A | X-ray assay, calculus |  |  |  |  |
82374 | A | Assay, blood carbon dioxide |  |  |  |  |
82375 | A | Assay, blood carbon monoxide |  |  |  |  |
82376 | A | Test for carbon monoxide |  |  |  |  |
82378 | A | Carcinoembryonic antigen |  |  |  |  |
82379 | A | Assay of carnitine |  |  |  |  |
82380 | A | Assay of carotene |  |  |  |  |
82382 | A | Assay, urine catecholamines |  |  |  |  |
82383 | A | Assay, blood catecholamines |  |  |  |  |
82384 | A | Assay, three catecholamines |  |  |  |  |
82387 | A | Assay of cathepsin-d |  |  |  |  |
82390 | A | Assay of ceruloplasmin |  |  |  |  |
82397 | A | Chemiluminescent assay |  |  |  |  |
82415 | A | Assay of chloramphenicol |  |  |  |  |
82435 | A | Assay of blood chloride |  |  |  |  |
82436 | A | Assay of urine chloride |  |  |  |  |
82438 | A | Assay, other fluid chlorides |  |  |  |  |
82441 | A | Test for chlorohydrocarbons |  |  |  |  |
82465 | A | Assay of serum cholesterol |  |  |  |  |
82480 | A | Assay, serum cholinesterase |  |  |  |  |
82482 | A | Assay, rbc cholinesterase |  |  |  |  |
82485 | A | Assay, chondroitin sulfate |  |  |  |  |
82486 | A | Gas/liquid chromatography |  |  |  |  |
82487 | A | Paper chromatography |  |  |  |  |
82488 | A | Paper chromatography |  |  |  |  |
82489 | A | Thin layer chromatography |  |  |  |  |
82491 | A | Chromotography, quant, sing |  |  |  |  |
82492 | A | Chromotography, quant, mult |  |  |  |  |
82495 | A | Assay of chromium |  |  |  |  |
82507 | A | Assay of citrate |  |  |  |  |
82520 | A | Assay of cocaine |  |  |  |  |
82523 | A | Collagen crosslinks |  |  |  |  |
82525 | A | Assay of copper |  |  |  |  |
82528 | A | Assay of corticosterone |  |  |  |  |
82530 | A | Cortisol, free |  |  |  |  |
82533 | A | Total cortisol |  |  |  |  |
82540 | A | Assay of creatine |  |  |  |  |
82541 | A | Column chromotography, qual |  |  |  |  |
82542 | A | Column chromotography, quant |  |  |  |  |
82543 | A | Column chromotograph/isotope |  |  |  |  |
82544 | A | Column chromotograph/isotope |  |  |  |  |
82550 | A | Assay of ck (cpk) |  |  |  |  |
82552 | A | Assay of cpk in blood |  |  |  |  |
82553 | A | Creatine, MB fraction |  |  |  |  |
82554 | A | Creatine, isoforms |  |  |  |  |
82565 | A | Assay of creatinine |  |  |  |  |
82570 | A | Assay of urine creatinine |  |  |  |  |
82575 | A | Creatinine clearance test |  |  |  |  |
82585 | A | Assay of cryofibrinogen |  |  |  |  |
82595 | A | Assay of cryoglobulin |  |  |  |  |
82600 | A | Assay of cyanide |  |  |  |  |
82607 | A | Vitamin B-12 |  |  |  |  |
82608 | A | B-12 binding capacity |  |  |  |  |
82615 | A | Test for urine cystines |  |  |  |  |
82626 | A | Dehydroepiandrosterone |  |  |  |  |
82627 | A | Dehydroepiandrosterone |  |  |  |  |
82633 | A | Desoxycorticosterone |  |  |  |  |
82634 | A | Deoxycortisol |  |  |  |  |
82638 | A | Assay of dibucaine number |  |  |  |  |
82646 | A | Assay of dihydrocodeinone |  |  |  |  |
82649 | A | Assay of dihydromorphinone |  |  |  |  |
82651 | A | Assay of dihydrotestosterone |  |  |  |  |
82652 | A | Assay of dihydroxyvitamin d |  |  |  |  |
82654 | A | Assay of dimethadione |  |  |  |  |
82657 | A | Enzyme cell activity |  |  |  |  |
82658 | A | Enzyme cell activity, ra |  |  |  |  |
82664 | A | Electrophoretic test |  |  |  |  |
82666 | A | Assay of epiandrosterone |  |  |  |  |
82668 | A | Assay of erythropoietin |  |  |  |  |
82670 | A | Assay of estradiol |  |  |  |  |
82671 | A | Assay of estrogens |  |  |  |  |
82672 | A | Assay of estrogen |  |  |  |  |
82677 | A | Assay of estriol |  |  |  |  |
82679 | A | Assay of estrone |  |  |  |  |
82690 | A | Assay of ethchlorvynol |  |  |  |  |
82693 | A | Assay of ethylene glycol |  |  |  |  |
82696 | A | Assay of etiocholanolone |  |  |  |  |
82705 | A | Fats/lipids, feces, qual |  |  |  |  |
82710 | A | Fats/lipids, feces, quant |  |  |  |  |
82715 | A | Assay of fecal fat |  |  |  |  |
82725 | A | Assay of blood fatty acids |  |  |  |  |
82726 | A | Long chain fatty acids |  |  |  |  |
82728 | A | Assay of ferritin |  |  |  |  |
82731 | A | Assay of fetal fibronectin |  |  |  |  |
82735 | A | Assay of fluoride |  |  |  |  |
82742 | A | Assay of flurazepam |  |  |  |  |
82746 | A | Blood folic acid serum |  |  |  |  |
82747 | A | Assay of folic acid, rbc |  |  |  |  |
82757 | A | Assay of semen fructose |  |  |  |  |
82759 | A | Assay of rbc galactokinase |  |  |  |  |
82760 | A | Assay of galactose |  |  |  |  |
82775 | A | Assay galactose transferase |  |  |  |  |
82776 | A | Galactose transferase test |  |  |  |  |
82784 | A | Assay of gammaglobulin igm |  |  |  |  |
82785 | A | Assay of gammaglobulin ige |  |  |  |  |
82787 | A | Igg 1, 2, 3 and 4 |  |  |  |  |
82800 | A | Blood pH |  |  |  |  |
82803 | A | Blood gases: pH, pO2 & pCO2 |  |  |  |  |
82805 | A | Blood gases W/02 saturation |  |  |  |  |
82810 | A | Blood gases, O2 sat only |  |  |  |  |
82820 | A | Hemoglobin-oxygen affinity |  |  |  |  |
82926 | A | Assay of gastric acid |  |  |  |  |
82928 | A | Assay of gastric acid |  |  |  |  |
82938 | A | Gastrin test |  |  |  |  |
82941 | A | Assay of gastrin |  |  |  |  |
82943 | A | Assay of glucagon |  |  |  |  |
82946 | A | Glucagon tolerance test |  |  |  |  |
82947 | A | Assay of glucose, quant |  |  |  |  |
82948 | A | Reagent strip/blood glucose |  |  |  |  |
82950 | A | Glucose test |  |  |  |  |
82951 | A | Glucose tolerance test (GTT) |  |  |  |  |
82952 | A | GTT-added samples |  |  |  |  |
82953 | A | Glucose-tolbutamide test |  |  |  |  |
82955 | A | Assay of g6pd enzyme |  |  |  |  |
82960 | A | Test for G6PD enzyme |  |  |  |  |
82962 | A | Glucose blood test |  |  |  |  |
82963 | A | Assay of glucosidase |  |  |  |  |
82965 | A | Assay of gdh enzyme |  |  |  |  |
82975 | A | Assay of glutamine |  |  |  |  |
82977 | A | Assay of GGT |  |  |  |  |
82978 | A | Assay of glutathione |  |  |  |  |
82979 | A | Assay, rbc glutathione |  |  |  |  |
82980 | A | Assay of glutethimide |  |  |  |  |
82985 | A | Glycated protein |  |  |  |  |
83001 | A | Gonadotropin (FSH) |  |  |  |  |
83002 | A | Gonadotropin (LH) |  |  |  |  |
83003 | A | Assay, growth hormone (hgh) |  |  |  |  |
83008 | A | Assay of guanosine |  |  |  |  |
83010 | A | Assay of haptoglobin, quant |  |  |  |  |
83012 | A | Assay of haptoglobins |  |  |  |  |
83013 | A | H pylori breath tst analysis |  |  |  |  |
83014 | A | H pylori drug admin/collect |  |  |  |  |
83015 | A | Heavy metal screen |  |  |  |  |
83018 | A | Quantitative screen, metals |  |  |  |  |
83020 | A | Hemoglobin electrophoresis |  |  |  |  |
83021 | A | Hemoglobin chromotography |  |  |  |  |
83026 | A | Hemoglobin, copper sulfate |  |  |  |  |
83030 | A | Fetal hemoglobin assay |  |  |  |  |
83033 | A | Fetal fecal hemoglobin assay |  |  |  |  |
83036 | A | Glycated hemoglobin test |  |  |  |  |
83045 | A | Blood methemoglobin test |  |  |  |  |
83050 | A | Blood methemoglobin assay |  |  |  |  |
83051 | A | Assay of plasma hemoglobin |  |  |  |  |
83055 | A | Blood sulfhemoglobin test |  |  |  |  |
83060 | A | Blood sulfhemoglobin assay |  |  |  |  |
83065 | A | Assay of hemoglobin heat |  |  |  |  |
83068 | A | Hemoglobin stability screen |  |  |  |  |
83069 | A | Assay of urine hemoglobin |  |  |  |  |
83070 | A | Assay of hemosiderin, qual |  |  |  |  |
83071 | A | Assay of hemosiderin, quant |  |  |  |  |
83080 | A | Assay of b hexosaminidase |  |  |  |  |
83088 | A | Assay of histamine |  |  |  |  |
83150 | A | Assay of for hva |  |  |  |  |
83491 | A | Assay of corticosteroids |  |  |  |  |
83497 | A | Assay of 5-hiaa |  |  |  |  |
83498 | A | Assay of progesterone |  |  |  |  |
83499 | A | Assay of progesterone |  |  |  |  |
83500 | A | Assay, free hydroxyproline |  |  |  |  |
83505 | A | Assay, total hydroxyproline |  |  |  |  |
83516 | A | Immunoassay, nonantibody |  |  |  |  |
83518 | A | Immunoassay, dipstick |  |  |  |  |
83519 | A | Immunoassay, nonantibody |  |  |  |  |
83520 | A | Immunoassay, RIA |  |  |  |  |
83525 | A | Assay of insulin |  |  |  |  |
83527 | A | Assay of insulin |  |  |  |  |
83528 | A | Assay of intrinsic factor |  |  |  |  |
83540 | A | Assay of iron |  |  |  |  |
83550 | A | Iron binding test |  |  |  |  |
83570 | A | Assay of idh enzyme |  |  |  |  |
83582 | A | Assay of ketogenic steroids |  |  |  |  |
83586 | A | Assay 17-ketosteroids |  |  |  |  |
83593 | A | Fractionation, ketosteroids |  |  |  |  |
83605 | A | Assay of lactic acid |  |  |  |  |
83615 | A | Lactate (LD) (LDH) enzyme |  |  |  |  |
83625 | A | Assay of ldh enzymes |  |  |  |  |
83632 | A | Placental lactogen |  |  |  |  |
83633 | A | Test urine for lactose |  |  |  |  |
83634 | A | Assay of urine for lactose |  |  |  |  |
83655 | A | Assay of lead |  |  |  |  |
83661 | A | Assay of l/s ratio |  |  |  |  |
83662 | A | L/S ratio, foam stability |  |  |  |  |
83670 | A | Assay of lap enzyme |  |  |  |  |
83690 | A | Assay of lipase |  |  |  |  |
83715 | A | Assay of blood lipoproteins |  |  |  |  |
83716 | A | Assay of blood lipoproteins |  |  |  |  |
83718 | A | Assay of lipoprotein |  |  |  |  |
83719 | A | Assay of blood lipoprotein |  |  |  |  |
83721 | A | Assay of blood lipoprotein |  |  |  |  |
83727 | A | Assay of lrh hormone |  |  |  |  |
83735 | A | Assay of magnesium |  |  |  |  |
83775 | A | Assay of md enzyme |  |  |  |  |
83785 | A | Assay of manganese |  |  |  |  |
83788 | A | Mass spectrometry qual |  |  |  |  |
83789 | A | Mass spectrometry quant |  |  |  |  |
83805 | A | Assay of meprobamate |  |  |  |  |
83825 | A | Assay of mercury |  |  |  |  |
83835 | A | Assay of metanephrines |  |  |  |  |
83840 | A | Assay of methadone |  |  |  |  |
83857 | A | Assay of methemalbumin |  |  |  |  |
83858 | A | Assay of methsuximide |  |  |  |  |
83864 | A | Mucopolysaccharides |  |  |  |  |
83866 | A | Mucopolysaccharides screen |  |  |  |  |
83872 | A | Assay synovial fluid mucin |  |  |  |  |
83873 | A | Assay of csf protein |  |  |  |  |
83874 | A | Assay of myoglobin |  |  |  |  |
83883 | A | Assay, nephelometry not spec |  |  |  |  |
83885 | A | Assay of nickel |  |  |  |  |
83887 | A | Assay of nicotine |  |  |  |  |
83890 | A | Molecule isolate |  |  |  |  |
83891 | A | Molecule isolate nucleic |  |  |  |  |
83892 | A | Molecular diagnostics |  |  |  |  |
83893 | A | Molecule dot/slot/blot |  |  |  |  |
83894 | A | Molecule gel electrophor |  |  |  |  |
83896 | A | Molecular diagnostics |  |  |  |  |
83897 | A | Molecule nucleic transfer |  |  |  |  |
83898 | A | Molecule nucleic ampli |  |  |  |  |
83901 | A | Molecule nucleic ampli |  |  |  |  |
83902 | A | Molecular diagnostics |  |  |  |  |
83903 | A | Molecule mutation scan |  |  |  |  |
83904 | A | Molecule mutation identify |  |  |  |  |
83905 | A | Molecule mutation identify |  |  |  |  |
83906 | A | Molecule mutation identify |  |  |  |  |
83912 | A | Genetic examination |  |  |  |  |
83915 | A | Assay of nucleotidase |  |  |  |  |
83916 | A | Oligoclonal bands |  |  |  |  |
83918 | A | Assay, organic acids quant |  |  |  |  |
83919 | A | Assay, organic acids qual |  |  |  |  |
83925 | A | Assay of opiates |  |  |  |  |
83930 | A | Assay of blood osmolality |  |  |  |  |
83935 | A | Assay of urine osmolality |  |  |  |  |
83937 | A | Assay of osteocalcin |  |  |  |  |
83945 | A | Assay of oxalate |  |  |  |  |
83970 | A | Assay of parathormone |  |  |  |  |
83986 | A | Assay of body fluid acidity |  |  |  |  |
83992 | A | Assay for phencyclidine |  |  |  |  |
84022 | A | Assay of phenothiazine |  |  |  |  |
84030 | A | Assay of blood pku |  |  |  |  |
84035 | A | Assay of phenylketones |  |  |  |  |
84060 | A | Assay acid phosphatase |  |  |  |  |
84061 | A | Phosphatase, forensic exam |  |  |  |  |
84066 | A | Assay prostate phosphatase |  |  |  |  |
84075 | A | Assay alkaline phosphatase |  |  |  |  |
84078 | A | Assay alkaline phosphatase |  |  |  |  |
84080 | A | Assay alkaline phosphatases |  |  |  |  |
84081 | A | Amniotic fluid enzyme test |  |  |  |  |
84085 | A | Assay of rbc pg6d enzyme |  |  |  |  |
84087 | A | Assay phosphohexose enzymes |  |  |  |  |
84100 | A | Assay of phosphorus |  |  |  |  |
84105 | A | Assay of urine phosphorus |  |  |  |  |
84106 | A | Test for porphobilinogen |  |  |  |  |
84110 | A | Assay of porphobilinogen |  |  |  |  |
84119 | A | Test urine for porphyrins |  |  |  |  |
84120 | A | Assay of urine porphyrins |  |  |  |  |
84126 | A | Assay of feces porphyrins |  |  |  |  |
84127 | A | Assay of feces porphyrins |  |  |  |  |
84132 | A | Assay of serum potassium |  |  |  |  |
84133 | A | Assay of urine potassium |  |  |  |  |
84134 | A | Assay of prealbumin |  |  |  |  |
84135 | A | Assay of pregnanediol |  |  |  |  |
84138 | A | Assay of pregnanetriol |  |  |  |  |
84140 | A | Assay of pregnenolone |  |  |  |  |
84143 | A | Assay of 17-hydroxypregneno |  |  |  |  |
84144 | A | Assay of progesterone |  |  |  |  |
84146 | A | Assay of prolactin |  |  |  |  |
84150 | A | Assay of prostaglandin |  |  |  |  |
84153 | A | Assay of psa, total |  |  |  |  |
84154 | A | Assay of psa, free |  |  |  |  |
84155 | A | Assay of protein |  |  |  |  |
84160 | A | Assay of serum protein |  |  |  |  |
84165 | A | Assay of serum proteins |  |  |  |  |
84181 | A | Western blot test |  |  |  |  |
84182 | A | Protein, western blot test |  |  |  |  |
84202 | A | Assay RBC protoporphyrin |  |  |  |  |
84203 | A | Test RBC protoporphyrin |  |  |  |  |
84206 | A | Assay of proinsulin |  |  |  |  |
84207 | A | Assay of vitamin b-6 |  |  |  |  |
84210 | A | Assay of pyruvate |  |  |  |  |
84220 | A | Assay of pyruvate kinase |  |  |  |  |
84228 | A | Assay of quinine |  |  |  |  |
84233 | A | Assay of estrogen |  |  |  |  |
84234 | A | Assay of progesterone |  |  |  |  |
84235 | A | Assay of endocrine hormone |  |  |  |  |
84238 | A | Assay, nonendocrine receptor |  |  |  |  |
84244 | A | Assay of renin |  |  |  |  |
84252 | A | Assay of vitamin b-2 |  |  |  |  |
84255 | A | Assay of selenium |  |  |  |  |
84260 | A | Assay of serotonin |  |  |  |  |
84270 | A | Assay of sex hormone globul |  |  |  |  |
84275 | A | Assay of sialic acid |  |  |  |  |
84285 | A | Assay of silica |  |  |  |  |
84295 | A | Assay of serum sodium |  |  |  |  |
84300 | A | Assay of urine sodium |  |  |  |  |
84305 | A | Assay of somatomedin |  |  |  |  |
84307 | A | Assay of somatostatin |  |  |  |  |
84311 | A | Spectrophotometry |  |  |  |  |
84315 | A | Body fluid specific gravity |  |  |  |  |
84375 | A | Chromatogram assay, sugars |  |  |  |  |
84376 | A | Sugars, single, qual |  |  |  |  |
84377 | A | Sugars, multiple, qual |  |  |  |  |
84378 | A | Sugars single quant |  |  |  |  |
84379 | A | Sugars multiple quant |  |  |  |  |
84392 | A | Assay of urine sulfate |  |  |  |  |
84402 | A | Assay of testosterone |  |  |  |  |
84403 | A | Assay of total testosterone |  |  |  |  |
84425 | A | Assay of vitamin b-1 |  |  |  |  |
84430 | A | Assay of thiocyanate |  |  |  |  |
84432 | A | Assay of thyroglobulin |  |  |  |  |
84436 | A | Assay of total thyroxine |  |  |  |  |
84437 | A | Assay of neonatal thyroxine |  |  |  |  |
84439 | A | Assay of free thyroxine |  |  |  |  |
84442 | A | Assay of thyroid activity |  |  |  |  |
84443 | A | Assay thyroid stim hormone |  |  |  |  |
84445 | A | Assay of tsi |  |  |  |  |
84446 | A | Assay of vitamin e |  |  |  |  |
84449 | A | Assay of transcortin |  |  |  |  |
84450 | A | Transferase (AST) (SGOT) |  |  |  |  |
84460 | A | Alanine amino (ALT) (SGPT) |  |  |  |  |
84466 | A | Assay of transferrin |  |  |  |  |
84478 | A | Assay of triglycerides |  |  |  |  |
84479 | A | Assay of thyroid (t3 or t4) |  |  |  |  |
84480 | A | Assay, triiodothyronine (t3) |  |  |  |  |
84481 | A | Free assay (FT-3) |  |  |  |  |
84482 | A | T3 reverse |  |  |  |  |
84484 | A | Assay of troponin, quant |  |  |  |  |
84485 | A | Assay duodenal fluid trypsin |  |  |  |  |
84488 | A | Test feces for trypsin |  |  |  |  |
84490 | A | Assay of feces for trypsin |  |  |  |  |
84510 | A | Assay of tyrosine |  |  |  |  |
84512 | A | Assay of troponin, qual |  |  |  |  |
84520 | A | Assay of urea nitrogen |  |  |  |  |
84525 | A | Urea nitrogen semi-quant |  |  |  |  |
84540 | A | Assay of urine/urea-n |  |  |  |  |
84545 | A | Urea-N clearance test |  |  |  |  |
84550 | A | Assay of blood/uric acid |  |  |  |  |
84560 | A | Assay of urine/uric acid |  |  |  |  |
84577 | A | Assay of feces/urobilinogen |  |  |  |  |
84578 | A | Test urine urobilinogen |  |  |  |  |
84580 | A | Assay of urine urobilinogen |  |  |  |  |
84583 | A | Assay of urine urobilinogen |  |  |  |  |
84585 | A | Assay of urine vma |  |  |  |  |
84586 | A | Assay of vip |  |  |  |  |
84588 | A | Assay of vasopressin |  |  |  |  |
84590 | A | Assay of vitamin a |  |  |  |  |
84597 | A | Assay of vitamin k |  |  |  |  |
84600 | A | Assay of volatiles |  |  |  |  |
84620 | A | Xylose tolerance test |  |  |  |  |
84630 | A | Assay of zinc |  |  |  |  |
84681 | A | Assay of c-peptide |  |  |  |  |
84702 | A | Chorionic gonadotropin test |  |  |  |  |
84703 | A | Chorionic gonadotropin assay |  |  |  |  |
84830 | A | Ovulation tests |  |  |  |  |
84999 | A | Clinical chemistry test |  |  |  |  |
85002 | A | Bleeding time test |  |  |  |  |
85007 | A | Differential WBC count |  |  |  |  |
85008 | A | Nondifferential WBC count |  |  |  |  |
85009 | A | Differential WBC count |  |  |  |  |
85013 | A | Hematocrit |  |  |  |  |
85014 | A | Hematocrit |  |  |  |  |
85018 | A | Hemoglobin |  |  |  |  |
85021 | A | Automated hemogram |  |  |  |  |
85022 | A | Automated hemogram |  |  |  |  |
85023 | A | Automated hemogram |  |  |  |  |
85024 | A | Automated hemogram |  |  |  |  |
85025 | A | Automated hemogram |  |  |  |  |
85027 | A | Automated hemogram |  |  |  |  |
85031 | A | Manual hemogram, cbc |  |  |  |  |
85041 | A | Red blood cell (RBC) count |  |  |  |  |
85044 | A | Reticulocyte count |  |  |  |  |
85045 | A | Reticulocyte count |  |  |  |  |
85046 | A | Reticyte/hgb concentrate |  |  |  |  |
85048 | A | White blood cell (WBC) count |  |  |  |  |
85060 | X | Blood smear interpretation | 0342 | 0.26 | $12.61 | $8.03 | $2.52
85095 | T | Bone marrow aspiration | 0003 | 0.98 | $47.52 | $27.99 | $9.50
85097 | X | Bone marrow interpretation | 0344 | 0.79 | $38.30 | $23.63 | $7.66
85102 | T | Bone marrow biopsy | 0003 | 0.98 | $47.52 | $27.99 | $9.50
85130 | A | Chromogenic substrate assay |  |  |  |  |
85170 | A | Blood clot retraction |  |  |  |  |
85175 | A | Blood clot lysis time |  |  |  |  |
85210 | A | Blood clot factor II test |  |  |  |  |
85220 | A | Blood clot factor V test |  |  |  |  |
85230 | A | Blood clot factor VII test |  |  |  |  |
85240 | A | Blood clot factor VIII test |  |  |  |  |
85244 | A | Blood clot factor VIII test |  |  |  |  |
85245 | A | Blood clot factor VIII test |  |  |  |  |
85246 | A | Blood clot factor VIII test |  |  |  |  |
85247 | A | Blood clot factor VIII test |  |  |  |  |
85250 | A | Blood clot factor IX test |  |  |  |  |
85260 | A | Blood clot factor X test |  |  |  |  |
85270 | A | Blood clot factor XI test |  |  |  |  |
85280 | A | Blood clot factor XII test |  |  |  |  |
85290 | A | Blood clot factor XIII test |  |  |  |  |
85291 | A | Blood clot factor XIII test |  |  |  |  |
85292 | A | Blood clot factor assay |  |  |  |  |
85293 | A | Blood clot factor assay |  |  |  |  |
85300 | A | Antithrombin III test |  |  |  |  |
85301 | A | Antithrombin III test |  |  |  |  |
85302 | A | Blood clot inhibitor antigen |  |  |  |  |
85303 | A | Blood clot inhibitor test |  |  |  |  |
85305 | A | Blood clot inhibitor assay |  |  |  |  |
85306 | A | Blood clot inhibitor test |  |  |  |  |
85335 | A | Factor inhibitor test |  |  |  |  |
85337 | A | Thrombomodulin |  |  |  |  |
85345 | A | Coagulation time |  |  |  |  |
85347 | A | Coagulation time |  |  |  |  |
85348 | A | Coagulation time |  |  |  |  |
85360 | A | Euglobulin lysis |  |  |  |  |
85362 | A | Fibrin degradation products |  |  |  |  |
85366 | A | Fibrinogen test |  |  |  |  |
85370 | A | Fibrinogen test |  |  |  |  |
85378 | A | Fibrin degradation |  |  |  |  |
85379 | A | Fibrin degradation |  |  |  |  |
85384 | A | Fibrinogen |  |  |  |  |
85385 | A | Fibrinogen |  |  |  |  |
85390 | A | Fibrinolysins screen |  |  |  |  |
85400 | A | Fibrinolytic plasmin |  |  |  |  |
85410 | A | Fibrinolytic antiplasmin |  |  |  |  |
85415 | A | Fibrinolytic plasminogen |  |  |  |  |
85420 | A | Fibrinolytic plasminogen |  |  |  |  |
85421 | A | Fibrinolytic plasminogen |  |  |  |  |
85441 | A | Heinz bodies, direct |  |  |  |  |
85445 | A | Heinz bodies, induced |  |  |  |  |
85460 | A | Hemoglobin, fetal |  |  |  |  |
85461 | A | Hemoglobin, fetal |  |  |  |  |
85475 | A | Hemolysin |  |  |  |  |
85520 | A | Heparin assay |  |  |  |  |
85525 | A | Heparin |  |  |  |  |
85530 | A | Heparin-protamine tolerance |  |  |  |  |
85535 | A | Iron stain, blood cells |  |  |  |  |
85540 | A | Wbc alkaline phosphatase |  |  |  |  |
85547 | A | RBC mechanical fragility |  |  |  |  |
85549 | A | Muramidase |  |  |  |  |
85555 | A | RBC osmotic fragility |  |  |  |  |
85557 | A | RBC osmotic fragility |  |  |  |  |
85576 | A | Blood platelet aggregation |  |  |  |  |
85585 | A | Blood platelet estimation |  |  |  |  |
85590 | A | Platelet count, manual |  |  |  |  |
85595 | A | Platelet count, automated |  |  |  |  |
85597 | A | Platelet neutralization |  |  |  |  |
85610 | A | Prothrombin time |  |  |  |  |
85611 | A | Prothrombin test |  |  |  |  |
85612 | A | Viper venom prothrombin time |  |  |  |  |
85613 | A | Russell viper venom, diluted |  |  |  |  |
85635 | A | Reptilase test |  |  |  |  |
85651 | A | Rbc sed rate, nonautomated |  |  |  |  |
85652 | A | Rbc sed rate, automated |  |  |  |  |
85660 | A | RBC sickle cell test |  |  |  |  |
85670 | A | Thrombin time, plasma |  |  |  |  |
85675 | A | Thrombin time, titer |  |  |  |  |
85705 | A | Thromboplastin inhibition |  |  |  |  |
85730 | A | Thromboplastin time, partial |  |  |  |  |
85732 | A | Thromboplastin time, partial |  |  |  |  |
85810 | A | Blood viscosity examination |  |  |  |  |
85999 | A | Hematology procedure |  |  |  |  |
86000 | A | Agglutinins, febrile |  |  |  |  |
86003 | A | Allergen specific IgE |  |  |  |  |
86005 | A | Allergen specific IgE |  |  |  |  |
86021 | A | WBC antibody identification |  |  |  |  |
86022 | A | Platelet antibodies |  |  |  |  |
86023 | A | Immunoglobulin assay |  |  |  |  |
86038 | A | Antinuclear antibodies |  |  |  |  |
86039 | A | Antinuclear antibodies (ANA) |  |  |  |  |
86060 | A | Antistreptolysin o, titer |  |  |  |  |
86063 | A | Antistreptolysin o, screen |  |  |  |  |
86077 | X | Physician blood bank service | 0343 | 0.45 | $21.82 | $12.16 | $4.36
86078 | X | Physician blood bank service | 0344 | 0.79 | $38.30 | $23.63 | $7.66
86079 | X | Physician blood bank service | 0344 | 0.79 | $38.30 | $23.63 | $7.66
86140 | A | C-reactive protein |  |  |  |  |
86147 | A | Cardiolipin antibody |  |  |  |  |
86148 | A | Phospholipid antibody |  |  |  |  |
86155 | A | Chemotaxis assay |  |  |  |  |
86156 | A | Cold agglutinin, screen |  |  |  |  |
86157 | A | Cold agglutinin, titer |  |  |  |  |
86160 | A | Complement, antigen |  |  |  |  |
86161 | A | Complement/function activity |  |  |  |  |
86162 | A | Complement, total (CH50) |  |  |  |  |
86171 | A | Complement fixation, each |  |  |  |  |
86185 | A | Counterimmunoelectrophoresis |  |  |  |  |
86215 | A | Deoxyribonuclease, antibody |  |  |  |  |
86225 | A | DNA antibody |  |  |  |  |
86226 | A | DNA antibody, single strand |  |  |  |  |
86235 | A | Nuclear antigen antibody |  |  |  |  |
86243 | A | Fc receptor |  |  |  |  |
86255 | A | Fluorescent antibody, screen |  |  |  |  |
86256 | A | Fluorescent antibody, titer |  |  |  |  |
86277 | A | Growth hormone antibody |  |  |  |  |
86280 | A | Hemagglutination inhibition |  |  |  |  |
86308 | A | Heterophile antibodies |  |  |  |  |
86309 | A | Heterophile antibodies |  |  |  |  |
86310 | A | Heterophile antibodies |  |  |  |  |
86316 | A | Immunoassay, tumor antigen |  |  |  |  |
86317 | A | Immunoassay, infectious agent |  |  |  |  |
86318 | A | Immunoassay, infectious agent |  |  |  |  |
86320 | A | Serum immunoelectrophoresis |  |  |  |  |
86325 | A | Other immunoelectrophoresis |  |  |  |  |
86327 | A | Immunoelectrophoresis assay |  |  |  |  |
86329 | A | Immunodiffusion |  |  |  |  |
86331 | A | Immunodiffusion ouchterlony |  |  |  |  |
86332 | A | Immune complex assay |  |  |  |  |
86334 | A | Immunofixation procedure |  |  |  |  |
86337 | A | Insulin antibodies |  |  |  |  |
86340 | A | Intrinsic factor antibody |  |  |  |  |
86341 | A | Islet cell antibody |  |  |  |  |
86343 | A | Leukocyte histamine release |  |  |  |  |
86344 | A | Leukocyte phagocytosis |  |  |  |  |
86353 | A | Lymphocyte transformation |  |  |  |  |
86359 | A | T cells, total count |  |  |  |  |
86360 | A | T cell, absolute count/ratio |  |  |  |  |
86361 | A | T cell, absolute count |  |  |  |  |
86376 | A | Microsomal antibody |  |  |  |  |
86378 | A | Migration inhibitory factor |  |  |  |  |
86382 | A | Neutralization test, viral |  |  |  |  |
86384 | A | Nitroblue tetrazolium dye |  |  |  |  |
86403 | A | Particle agglutination test |  |  |  |  |
86406 | A | Particle agglutination test |  |  |  |  |
86430 | A | Rheumatoid factor test |  |  |  |  |
86431 | A | Rheumatoid factor, quant |  |  |  |  |
86485 | X | Skin test, candida | 0341 | 0.13 | $6.30 | $3.67 | $1.26
86490 | X | Coccidioidomycosis skin test | 0341 | 0.13 | $6.30 | $3.67 | $1.26
86510 | X | Histoplasmosis skin test | 0341 | 0.13 | $6.30 | $3.67 | $1.26
86580 | X | TB intradermal test | 0341 | 0.13 | $6.30 | $3.67 | $1.26
86585 | X | TB tine test | 0341 | 0.13 | $6.30 | $3.67 | $1.26
86586 | X | Skin test, unlisted | 0341 | 0.13 | $6.30 | $3.67 | $1.26
86590 | A | Streptokinase, antibody |  |  |  |  |
86592 | A | Blood serology, qualitative |  |  |  |  |
86593 | A | Blood serology, quantitative |  |  |  |  |
86602 | A | Antinomyces antibody |  |  |  |  |
86603 | A | Adenovirus antibody |  |  |  |  |
86606 | A | Aspergillus antibody |  |  |  |  |
86609 | A | Bacterium antibody |  |  |  |  |
86612 | A | Blastomyces antibody |  |  |  |  |
86615 | A | Bordetella antibody |  |  |  |  |
86617 | A | Lyme disease antibody |  |  |  |  |
86618 | A | Lyme disease antibody |  |  |  |  |
86619 | A | Borrelia antibody |  |  |  |  |
86622 | A | Brucella antibody |  |  |  |  |
86625 | A | Campylobacter antibody |  |  |  |  |
86628 | A | Candida antibody |  |  |  |  |
86631 | A | Chlamydia antibody |  |  |  |  |
86632 | A | Chlamydia igm antibody |  |  |  |  |
86635 | A | Coccidioides antibody |  |  |  |  |
86638 | A | Q fever antibody |  |  |  |  |
86641 | A | Cryptococcus antibody |  |  |  |  |
86644 | A | CMV antibody |  |  |  |  |
86645 | A | CMV antibody, IgM |  |  |  |  |
86648 | A | Diphtheria antibody |  |  |  |  |
86651 | A | Encephalitis antibody |  |  |  |  |
86652 | A | Encephalitis antibody |  |  |  |  |
86653 | A | Encephalitis antibody |  |  |  |  |
86654 | A | Encephalitis antibody |  |  |  |  |
86658 | A | Enterovirus antibody |  |  |  |  |
86663 | A | Epstein-barr antibody |  |  |  |  |
86664 | A | Epstein-barr antibody |  |  |  |  |
86665 | A | Epstein-barr antibody |  |  |  |  |
86668 | A | Francisella tularensis |  |  |  |  |
86671 | A | Fungus antibody |  |  |  |  |
86674 | A | Giardia lamblia antibody |  |  |  |  |
86677 | A | Helicobacter pylori |  |  |  |  |
86682 | A | Helminth antibody |  |  |  |  |
86684 | A | Hemophilus influenza |  |  |  |  |
86687 | A | Htlv-i antibody |  |  |  |  |
86688 | A | Htlv-ii antibody |  |  |  |  |
86689 | A | HTLV/HIV confirmatory test |  |  |  |  |
86692 | A | Hepatitis, delta agent |  |  |  |  |
86694 | A | Herpes simplex test |  |  |  |  |
86695 | A | Herpes simplex test |  |  |  |  |
86698 | A | Histoplasma |  |  |  |  |
86701 | A | HIV-1 |  |  |  |  |
86702 | A | HIV-2 |  |  |  |  |
86703 | A | HIV-1/HIV-2, single assay |  |  |  |  |
86704 | A | Hep b core antibody, igg/igm |  |  |  |  |
86705 | A | Hep b core antibody, igm |  |  |  |  |
86706 | A | Hep b surface antibody |  |  |  |  |
86707 | A | Hep be antibody |  |  |  |  |
86708 | A | Hep a antibody, igg/igm |  |  |  |  |
86709 | A | Hep a antibody, igm |  |  |  |  |
86710 | A | Influenza virus antibody |  |  |  |  |
86713 | A | Legionella antibody |  |  |  |  |
86717 | A | Leishmania antibody |  |  |  |  |
86720 | A | Leptospira antibody |  |  |  |  |
86723 | A | Listeria monocytogenes ab |  |  |  |  |
86727 | A | Lymph choriomeningitis ab |  |  |  |  |
86729 | A | Lympho venereum antibody |  |  |  |  |
86732 | A | Mucormycosis antibody |  |  |  |  |
86735 | A | Mumps antibody |  |  |  |  |
86738 | A | Mycoplasma antibody |  |  |  |  |
86741 | A | Neisseria meningitidis |  |  |  |  |
86744 | A | Nocardia antibody |  |  |  |  |
86747 | A | Parvovirus antibody |  |  |  |  |
86750 | A | Malaria antibody |  |  |  |  |
86753 | A | Protozoa antibody nos |  |  |  |  |
86756 | A | Respiratory virus antibody |  |  |  |  |
86759 | A | Rotavirus antibody |  |  |  |  |
86762 | A | Rubella antibody |  |  |  |  |
86765 | A | Rubeola antibody |  |  |  |  |
86768 | A | Salmonella antibody |  |  |  |  |
86771 | A | Shigella antibody |  |  |  |  |
86774 | A | Tetanus antibody |  |  |  |  |
86777 | A | Toxoplasma antibody |  |  |  |  |
86778 | A | Toxoplasma antibody, igm |  |  |  |  |
86781 | A | Treponema pallidum, confirm |  |  |  |  |
86784 | A | Trichinella antibody |  |  |  |  |
86787 | A | Varicella-zoster antibody |  |  |  |  |
86790 | A | Virus antibody nos |  |  |  |  |
86793 | A | Yersinia antibody |  |  |  |  |
86800 | A | Thyroglobulin antibody |  |  |  |  |
86803 | A | Hepatitis c ab test |  |  |  |  |
86804 | A | Hep c ab test, confirm |  |  |  |  |
86805 | A | Lymphocytotoxicity assay |  |  |  |  |
86806 | A | Lymphocytotoxicity assay |  |  |  |  |
86807 | A | Cytotoxic antibody screening |  |  |  |  |
86808 | A | Cytotoxic antibody screening |  |  |  |  |
86812 | A | HLA typing, A, B, or C |  |  |  |  |
86813 | A | HLA typing, A, B, or C |  |  |  |  |
86816 | A | HLA typing, DR/DQ |  |  |  |  |
86817 | A | HLA typing, DR/DQ |  |  |  |  |
86821 | A | Lymphocyte culture, mixed |  |  |  |  |
86822 | A | Lymphocyte culture, primed |  |  |  |  |
86849 | A | Immunology procedure |  |  |  |  |
86850 | A | RBC antibody screen |  |  |  |  |
86860 | A | RBC antibody elution |  |  |  |  |
86870 | A | RBC antibody identification |  |  |  |  |
86880 | A | Coombs test |  |  |  |  |
86885 | A | Coombs test |  |  |  |  |
86886 | A | Coombs test |  |  |  |  |
86890 | A | Autologous blood process |  |  |  |  |
86891 | A | Autologous blood, op salvage |  |  |  |  |
86900 | A | Blood typing, ABO |  |  |  |  |
86901 | A | Blood typing, Rh (D) |  |  |  |  |
86903 | A | Blood typing, antigen screen |  |  |  |  |
86904 | A | Blood typing, patient serum |  |  |  |  |
86905 | A | Blood typing, RBC antigens |  |  |  |  |
86906 | A | Blood typing, Rh phenotype |  |  |  |  |
86910 | E | Blood typing, paternity test |  |  |  |  |
86911 | E | Blood typing, antigen system |  |  |  |  |
86915 | A | Bone marrow/stem cell prep |  |  |  |  |
86920 | A | Compatibility test |  |  |  |  |
86921 | A | Compatibility test |  |  |  |  |
86922 | A | Compatibility test |  |  |  |  |
86927 | A | Plasma, fresh frozen |  |  |  |  |
86930 | A | Frozen blood prep |  |  |  |  |
86931 | A | Frozen blood thaw |  |  |  |  |
86932 | A | Frozen blood freeze/thaw |  |  |  |  |
86940 | A | Hemolysins/agglutinins, auto |  |  |  |  |
86941 | A | Hemolysins/agglutinins |  |  |  |  |
86945 | A | Blood product/irradiation |  |  |  |  |
86950 | A | Leukacyte transfusion |  |  |  |  |
86965 | A | Pooling blood platelets |  |  |  |  |
86970 | A | RBC pretreatment |  |  |  |  |
86971 | A | RBC pretreatment |  |  |  |  |
86972 | A | RBC pretreatment |  |  |  |  |
86975 | A | RBC pretreatment, serum |  |  |  |  |
86976 | A | RBC pretreatment, serum |  |  |  |  |
86977 | A | RBC pretreatment, serum |  |  |  |  |
86978 | A | RBC pretreatment, serum |  |  |  |  |
86985 | A | Split blood or products |  |  |  |  |
86999 | A | Transfusion procedure |  |  |  |  |
87001 | A | Small animal inoculation |  |  |  |  |
87003 | A | Small animal inoculation |  |  |  |  |
87015 | A | Specimen concentration |  |  |  |  |
87040 | A | Blood culture for bacteria |  |  |  |  |
87045 | A | Stool culture for bacteria |  |  |  |  |
87060 | A | Nose/throat culture, bact |  |  |  |  |
87070 | A | Culture specimen, bacteria |  |  |  |  |
87072 | A | Culture of specimen by kit |  |  |  |  |
87075 | A | Culture specimen, bacteria |  |  |  |  |
87076 | A | Bacteria identification |  |  |  |  |
87081 | A | Bacteria culture screen |  |  |  |  |
87082 | A | Culture of specimen by kit |  |  |  |  |
87083 | A | Culture of specimen by kit |  |  |  |  |
87084 | A | Culture of specimen by kit |  |  |  |  |
87085 | A | Culture of specimen by kit |  |  |  |  |
87086 | A | Urine culture/colony count |  |  |  |  |
87087 | A | Urine bacteria culture |  |  |  |  |
87088 | A | Urine bacteria culture |  |  |  |  |
87101 | A | Skin fungus culture |  |  |  |  |
87102 | A | Fungus isolation culture |  |  |  |  |
87103 | A | Blood fungus culture |  |  |  |  |
87106 | A | Fungus identification |  |  |  |  |
87109 | A | Mycoplasma culture |  |  |  |  |
87110 | A | Culture, chlamydia |  |  |  |  |
87116 | A | Mycobacteria culture |  |  |  |  |
87117 | A | Mycobacteria culture |  |  |  |  |
87118 | A | Mycobacteria identification |  |  |  |  |
87140 | A | Culture typing, fluorescent |  |  |  |  |
87143 | A | Culture typing, GLC method |  |  |  |  |
87145 | A | Culture typing, phage method |  |  |  |  |
87147 | A | Culture typing, serologic |  |  |  |  |
87151 | A | Culture typing, serologic |  |  |  |  |
87155 | A | Culture typing, precipitin |  |  |  |  |
87158 | A | Culture typing, added method |  |  |  |  |
87163 | A | Special microbiology culture |  |  |  |  |
87164 | A | Dark field examination |  |  |  |  |
87166 | A | Dark field examination |  |  |  |  |
87174 | A | Endotoxin, bacterial |  |  |  |  |
87175 | A | Assay, endotoxin, bacterial |  |  |  |  |
87176 | A | Endotoxin, bacterial |  |  |  |  |
87177 | A | Ova and parasites smears |  |  |  |  |
87181 | A | Antibiotic sensitivity, each |  |  |  |  |
87184 | A | Antibiotic sensitivity, each |  |  |  |  |
87186 | A | Antibiotic sensitivity, MIC |  |  |  |  |
87187 | A | Antibiotic sensitivity, MBC |  |  |  |  |
87188 | A | Antibiotic sensitivity, each |  |  |  |  |
87190 | A | TB antibiotic sensitivity |  |  |  |  |
87192 | A | Antibiotic sensitivity, each |  |  |  |  |
87197 | A | Bactericidal level, serum |  |  |  |  |
87205 | A | Smear, stain & interpret |  |  |  |  |
87206 | A | Smear, stain & interpret |  |  |  |  |
87207 | A | Smear, stain & interpret |  |  |  |  |
87208 | A | Smear, stain & interpret |  |  |  |  |
87210 | A | Smear, stain & interpret |  |  |  |  |
87211 | A | Smear, stain & interpret |  |  |  |  |
87220 | A | Tissue exam for fungi |  |  |  |  |
87230 | A | Assay, toxin or antitoxin |  |  |  |  |
87250 | A | Virus inoculation for test |  |  |  |  |
87252 | A | Virus inoculation for test |  |  |  |  |
87253 | A | Virus inoculation for test |  |  |  |  |
87260 | A | Adenovirus ag, dfa |  |  |  |  |
87265 | A | Pertussis ag, dfa |  |  |  |  |
87270 | A | Chylmd trach ag, dfa |  |  |  |  |
87272 | A | Cryptosporidum ag, dfa |  |  |  |  |
87274 | A | Herpes simplex ag, dfa |  |  |  |  |
87276 | A | Influenza ag, dfa |  |  |  |  |
87278 | A | Legion pneumo ag, dfa |  |  |  |  |
87280 | A | Resp syncytial ag, dfa |  |  |  |  |
87285 | A | Trepon pallidum ag, dfa |  |  |  |  |
87290 | A | Varicella ag, dfa |  |  |  |  |
87299 | A | Ag detection nos, dfa |  |  |  |  |
87301 | A | Adenovirus ag, eia |  |  |  |  |
87320 | A | Chylmd trach ag, eia |  |  |  |  |
87324 | A | Clostridium ag, eia |  |  |  |  |
87328 | A | Cryptospor ag, eia |  |  |  |  |
87332 | A | Cytomegalovirus ag, eia |  |  |  |  |
87335 | A | E coli 0157 ag, eia |  |  |  |  |
87338 | A | Hpylori, stool, eia |  |  |  |  |
87340 | A | Hepatitis b surface ag, eia |  |  |  |  |
87350 | A | Hepatitis be ag, eia |  |  |  |  |
87380 | A | Hepatitis delta ag, eia |  |  |  |  |
87385 | A | Histoplasma capsul ag, eia |  |  |  |  |
87390 | A | Hiv-1 ag, eia |  |  |  |  |
87391 | A | Hiv-2 ag, eia |  |  |  |  |
87420 | A | Resp syncytial ag, eia |  |  |  |  |
87425 | A | Rotavirus ag, eia |  |  |  |  |
87430 | A | Strep a ag, eia |  |  |  |  |
87449 | A | Ag detect nos, eia, mult |  |  |  |  |
87450 | A | Ag detect nos, eia, single |  |  |  |  |
87470 | A | Bartonella, dna, dir probe |  |  |  |  |
87471 | A | Bartonella, dna, amp probe |  |  |  |  |
87472 | A | Bartonella, dna, quant |  |  |  |  |
87475 | A | Lyme dis, dna, dir probe |  |  |  |  |
87476 | A | Lyme dis, dna, amp probe |  |  |  |  |
87477 | A | Lyme dis, dna, quant |  |  |  |  |
87480 | A | Candida, dna, dir probe |  |  |  |  |
87481 | A | Candida, dna, amp probe |  |  |  |  |
87482 | A | Candida, dna, quant |  |  |  |  |
87485 | A | Chylmd pneum, dna, dir probe |  |  |  |  |
87486 | A | Chylmd pneum, dna, amp probe |  |  |  |  |
87487 | A | Chylmd pneum, dna, quant |  |  |  |  |
87490 | A | Chylmd trach, dna, dir probe |  |  |  |  |
87491 | A | Chylmd trach, dna, amp probe |  |  |  |  |
87492 | A | Chylmd trach, dna, quant |  |  |  |  |
87495 | A | Cytomeg, dna, dir probe |  |  |  |  |
87496 | A | Cytomeg, dna, amp probe |  |  |  |  |
87497 | A | Cytomeg, dna, quant |  |  |  |  |
87510 | A | Gardner vag, dna, dir probe |  |  |  |  |
87511 | A | Gardner vag, dna, amp probe |  |  |  |  |
87512 | A | Gardner vag, dna, quant |  |  |  |  |
87515 | A | Hepatitis b, dna, dir probe |  |  |  |  |
87516 | A | Hepatitis b, dna, amp probe |  |  |  |  |
87517 | A | Hepatitis b, dna, quant |  |  |  |  |
87520 | A | Hepatitis c, rna, dir probe |  |  |  |  |
87521 | A | Hepatitis c, rna, amp probe |  |  |  |  |
87522 | A | Hepatitis c, rna, quant |  |  |  |  |
87525 | A | Hepatitis g, dna, dir probe |  |  |  |  |
87526 | A | Hepatitis g, dna, amp probe |  |  |  |  |
87527 | A | Hepatitis g, dna, quant |  |  |  |  |
87528 | A | Hsv, dna, dir probe |  |  |  |  |
87529 | A | Hsv, dna, amp probe |  |  |  |  |
87530 | A | Hsv, dna, quant |  |  |  |  |
87531 | A | Hhv-6, dna, dir probe |  |  |  |  |
87532 | A | Hhv-6, dna, amp probe |  |  |  |  |
87533 | A | Hhv-6, dna, quant |  |  |  |  |
87534 | A | Hiv-1, dna, dir probe |  |  |  |  |
87535 | A | Hiv-1, dna, amp probe |  |  |  |  |
87536 | A | Hiv-1, dna, quant |  |  |  |  |
87537 | A | Hiv-2, dna, dir probe |  |  |  |  |
87538 | A | Hiv-2, dna, amp probe |  |  |  |  |
87539 | A | Hiv-2, dna, quant |  |  |  |  |
87540 | A | Legion pneumo, dna, dir prob |  |  |  |  |
87541 | A | Legion pneumo, dna, amp prob |  |  |  |  |
87542 | A | Legion pneumo, dna, quant |  |  |  |  |
87550 | A | Mycobacteria, dna, dir probe |  |  |  |  |
87551 | A | Mycobacteria, dna, amp probe |  |  |  |  |
87552 | A | Mycobacteria, dna, quant |  |  |  |  |
87555 | A | M.tuberculo, dna, dir probe |  |  |  |  |
87556 | A | M.tuberculo, dna, amp probe |  |  |  |  |
87557 | A | M.tuberculo, dna, quant |  |  |  |  |
87560 | A | M.avium-intra, dna, dir prob |  |  |  |  |
87561 | A | M.avium-intra, dna, amp prob |  |  |  |  |
87562 | A | M.avium-intra, dna, quant |  |  |  |  |
87580 | A | M.pneumon, dna, dir probe |  |  |  |  |
87581 | A | M.pneumon, dna, amp probe |  |  |  |  |
87582 | A | M.pneumon, dna, quant |  |  |  |  |
87590 | A | N.gonorrhoeae, dna, dir prob |  |  |  |  |
87591 | A | N.gonorrhoeae, dna, amp prob |  |  |  |  |
87592 | A | N.gonorrhoeae, dna, quant |  |  |  |  |
87620 | A | Hpv, dna, dir probe |  |  |  |  |
87621 | A | Hpv, dna, amp probe |  |  |  |  |
87622 | A | Hpv, dna, quant |  |  |  |  |
87650 | A | Strep a, dna, dir probe |  |  |  |  |
87651 | A | Strep a, dna, amp probe |  |  |  |  |
87652 | A | Strep a, dna, quant |  |  |  |  |
87797 | A | Detect agent nos, dna, dir |  |  |  |  |
87798 | A | Detect agent nos, dna, amp |  |  |  |  |
87799 | A | Detect agent nos, dna, quant |  |  |  |  |
87810 | A | Chylmd trach assay w/optic |  |  |  |  |
87850 | A | N. gonorrhoeae assay w/optic |  |  |  |  |
87880 | A | Strep a assay w/optic |  |  |  |  |
87899 | A | Agent nos assay w/optic |  |  |  |  |
87999 | A | Microbiology procedure |  |  |  |  |
88000 | E | Autopsy (necropsy), gross |  |  |  |  |
88005 | E | Autopsy (necropsy), gross |  |  |  |  |
88007 | E | Autopsy (necropsy), gross |  |  |  |  |
88012 | E | Autopsy (necropsy), gross |  |  |  |  |
88014 | E | Autopsy (necropsy), gross |  |  |  |  |
88016 | E | Autopsy (necropsy), gross |  |  |  |  |
88020 | E | Autopsy (necropsy), complete |  |  |  |  |
88025 | E | Autopsy (necropsy), complete |  |  |  |  |
88027 | E | Autopsy (necropsy), complete |  |  |  |  |
88028 | E | Autopsy (necropsy), complete |  |  |  |  |
88029 | E | Autopsy (necropsy), complete |  |  |  |  |
88036 | E | Limited autopsy |  |  |  |  |
88037 | E | Limited autopsy |  |  |  |  |
88040 | E | Forensic autopsy (necropsy) |  |  |  |  |
88045 | E | Coroner's autopsy (necropsy) |  |  |  |  |
88099 | E | Necropsy (autopsy) procedure |  |  |  |  |
88104 | X | Cytopathology, fluids | 0343 | 0.45 | $21.82 | $12.16 | $4.36
88106 | X | Cytopathology, fluids | 0343 | 0.45 | $21.82 | $12.16 | $4.36
88107 | X | Cytopathology, fluids | 0343 | 0.45 | $21.82 | $12.16 | $4.36
88108 | X | Cytopath, concentrate tech | 0343 | 0.45 | $21.82 | $12.16 | $4.36
88125 | X | Forensic cytopathology | 0343 | 0.45 | $21.82 | $12.16 | $4.36
88130 | A | Sex chromatin identification |  |  |  |  |
88140 | A | Sex chromatin identification |  |  |  |  |
88141 | N | Cytopath, c/v, interpret |  |  |  |  |
88142 | A | Cytopath, c/v, thin layer |  |  |  |  |
88143 | A | Cytopath c/v thin layer redo |  |  |  |  |
88144 | A | Cytopath, c/v thin lyr redo |  |  |  |  |
88145 | A | Cytopath, c/v thin lyr sel |  |  |  |  |
88147 | A | Cytopath, c/v, automated |  |  |  |  |
88148 | A | Cytopath, c/v, auto rescreen |  |  |  |  |
88150 | A | Cytopath, c/v, manual |  |  |  |  |
88152 | A | Cytopath, c/v, auto redo |  |  |  |  |
88153 | A | Cytopath, c/v, redo |  |  |  |  |
88154 | A | Cytopath, c/v, select |  |  |  |  |
88155 | A | Cytopath, c/v, index add-on |  |  |  |  |
88160 | X | Cytopath smear, other source | 0342 | 0.26 | $12.61 | $8.03 | $2.52
88161 | X | Cytopath smear, other source | 0343 | 0.45 | $21.82 | $12.16 | $4.36
88162 | X | Cytopath smear, other source | 0343 | 0.45 | $21.82 | $12.16 | $4.36
88164 | A | Cytopath tbs, c/v, manual |  |  |  |  |
88165 | A | Cytopath tbs, c/v, redo |  |  |  |  |
88166 | A | Cytopath tbs, c/v, auto redo |  |  |  |  |
88167 | A | Cytopath tbs, c/v, select |  |  |  |  |
88170 | T | Fine needle aspiration | 0002 | 0.62 | $30.06 | $17.66 | $6.01
88171 | T | Fine needle aspiration | 0002 | 0.62 | $30.06 | $17.66 | $6.01
88172 | X | Evaluation of smear | 0343 | 0.45 | $21.82 | $12.16 | $4.36
88173 | X | Interpretation of smear | 0343 | 0.45 | $21.82 | $12.16 | $4.36
88180 | X | Cell marker study | 0344 | 0.79 | $38.30 | $23.63 | $7.66
88182 | X | Cell marker study | 0344 | 0.79 | $38.30 | $23.63 | $7.66
88199 | X | Cytopathology procedure | 0342 | 0.26 | $12.61 | $8.03 | $2.52
88230 | A | Tissue culture, lymphocyte |  |  |  |  |
88233 | A | Tissue culture, skin/biopsy |  |  |  |  |
88235 | A | Tissue culture, placenta |  |  |  |  |
88237 | A | Tissue culture, bone marrow |  |  |  |  |
88239 | A | Tissue culture, tumor |  |  |  |  |
88240 | A | Cell cryopreserve/storage |  |  |  |  |
88241 | A | Frozen cell preparation |  |  |  |  |
88245 | A | Chromosome analysis, 20-25 |  |  |  |  |
88248 | A | Chromosome analysis, 50-100 |  |  |  |  |
88249 | A | Chromosome analysis, 100 |  |  |  |  |
88261 | A | Chromosome analysis, 5 |  |  |  |  |
88262 | A | Chromosome analysis, 15-20 |  |  |  |  |
88263 | A | Chromosome analysis, 45 |  |  |  |  |
88264 | A | Chromosome analysis, 20-25 |  |  |  |  |
88267 | A | Chromosome analys, placenta |  |  |  |  |
88269 | A | Chromosome analys, amniotic |  |  |  |  |
88271 | A | Cytogenetics, dna probe |  |  |  |  |
88272 | A | Cytogenetics, 3-5 |  |  |  |  |
88273 | A | Cytogenetics, 10-30 |  |  |  |  |
88274 | A | Cytogenetics, 25-99 |  |  |  |  |
88275 | A | Cytogenetics, 100-300 |  |  |  |  |
88280 | A | Chromosome karyotype study |  |  |  |  |
88283 | A | Chromosome banding study |  |  |  |  |
88285 | A | Chromosome count, additional |  |  |  |  |
88289 | A | Chromosome study, additional |  |  |  |  |
88291 | A | Cyto/molecular report |  |  |  |  |
88299 | A | Cytogenetic study |  |  |  |  |
88300 | X | Surgical path, gross | 0342 | 0.26 | $12.61 | $8.03 | $2.52
88302 | X | Tissue exam by pathologist | 0342 | 0.26 | $12.61 | $8.03 | $2.52
88304 | X | Tissue exam by pathologist | 0343 | 0.45 | $21.82 | $12.16 | $4.36
88305 | X | Tissue exam by pathologist | 0343 | 0.45 | $21.82 | $12.16 | $4.36
88307 | X | Tissue exam by pathologist | 0344 | 0.79 | $38.30 | $23.63 | $7.66
88309 | X | Tissue exam by pathologist | 0344 | 0.79 | $38.30 | $23.63 | $7.66
88311 | X | Decalcify tissue | 0342 | 0.26 | $12.61 | $8.03 | $2.52
88312 | X | Special stains | 0343 | 0.45 | $21.82 | $12.16 | $4.36
88313 | X | Special stains | 0342 | 0.26 | $12.61 | $8.03 | $2.52
88314 | X | Histochemical stain | 0343 | 0.45 | $21.82 | $12.16 | $4.36
88318 | X | Chemical histochemistry | 0343 | 0.45 | $21.82 | $12.16 | $4.36
88319 | X | Enzyme histochemistry | 0342 | 0.26 | $12.61 | $8.03 | $2.52
88321 | X | Microslide consultation | 0342 | 0.26 | $12.61 | $8.03 | $2.52
88323 | X | Microslide consultation | 0343 | 0.45 | $21.82 | $12.16 | $4.36
88325 | X | Comprehensive review of data | 0343 | 0.45 | $21.82 | $12.16 | $4.36
88329 | X | Pathology consult in surgery | 0343 | 0.45 | $21.82 | $12.16 | $4.36
88331 | X | Pathology consult in surgery | 0343 | 0.45 | $21.82 | $12.16 | $4.36
88332 | X | Pathology consult in surgery | 0343 | 0.45 | $21.82 | $12.16 | $4.36
88342 | X | Immunocytochemistry | 0344 | 0.79 | $38.30 | $23.63 | $7.66
88346 | X | Immunofluorescent study | 0343 | 0.45 | $21.82 | $12.16 | $4.36
88347 | X | Immunofluorescent study | 0344 | 0.79 | $38.30 | $23.63 | $7.66
88348 | X | Electron microscopy | 0344 | 0.79 | $38.30 | $23.63 | $7.66
88349 | X | Scanning electron microscopy | 0344 | 0.79 | $38.30 | $23.63 | $7.66
88355 | X | Analysis, skeletal muscle | 0344 | 0.79 | $38.30 | $23.63 | $7.66
88356 | X | Analysis, nerve | 0344 | 0.79 | $38.30 | $23.63 | $7.66
88358 | X | Analysis, tumor | 0344 | 0.79 | $38.30 | $23.63 | $7.66
88362 | X | Nerve teasing preparations | 0343 | 0.45 | $21.82 | $12.16 | $4.36
88365 | X | Tissue hybridization | 0344 | 0.79 | $38.30 | $23.63 | $7.66
88371 | A | Protein, western blot tissue |  |  |  |  |
88372 | A | Protein analysis w/probe |  |  |  |  |
88399 | X | Surgical pathology procedure | 0342 | 0.26 | $12.61 | $8.03 | $2.52
89050 | A | Body fluid cell count |  |  |  |  |
89051 | A | Body fluid cell count |  |  |  |  |
89060 | A | Exam, synovial fluid crystals |  |  |  |  |
89100 | X | Sample intestinal contents | 0361 | 3.53 | $171.16 | $88.09 | $34.23
89105 | X | Sample intestinal contents | 0360 | 1.38 | $66.91 | $34.75 | $13.38
89125 | A | Specimen fat stain |  |  |  |  |
89130 | X | Sample stomach contents | 0360 | 1.38 | $66.91 | $34.75 | $13.38
89132 | X | Sample stomach contents | 0360 | 1.38 | $66.91 | $34.75 | $13.38
89135 | X | Sample stomach contents | 0360 | 1.38 | $66.91 | $34.75 | $13.38
89136 | X | Sample stomach contents | 0360 | 1.38 | $66.91 | $34.75 | $13.38
89140 | X | Sample stomach contents | 0360 | 1.38 | $66.91 | $34.75 | $13.38
89141 | X | Sample stomach contents | 0361 | 3.53 | $171.16 | $88.09 | $34.23
89160 | A | Exam feces for meat fibers |  |  |  |  |
89190 | A | Nasal smear for eosinophils |  |  |  |  |
89250 | A | Fertilization of oocyte |  |  |  |  |
89251 | A | Culture oocyte w/embryos |  |  |  |  |
89252 | A | Assist oocyte fertilization |  |  |  |  |
89253 | A | Embryo hatching |  |  |  |  |
89254 | A | Oocyte identification |  |  |  |  |
89255 | A | Prepare embryo for transfer |  |  |  |  |
89256 | A | Prepare cryopreserved embryo |  |  |  |  |
89257 | A | Sperm identification |  |  |  |  |
89258 | A | Cryopreservation, embryo |  |  |  |  |
89259 | A | Cryopreservation, sperm |  |  |  |  |
89260 | A | Sperm isolation, simple |  |  |  |  |
89261 | A | Sperm isolation, complex |  |  |  |  |
89264 | A | Identify sperm tissue |  |  |  |  |
89300 | A | Semen analysis |  |  |  |  |
89310 | A | Semen analysis |  |  |  |  |
89320 | A | Semen analysis |  |  |  |  |
89325 | A | Sperm antibody test |  |  |  |  |
89329 | A | Sperm evaluation test |  |  |  |  |
89330 | A | Evaluation, cervical mucus |  |  |  |  |
89350 | X | Sputum specimen collection | 0344 | 0.79 | $38.30 | $23.63 | $7.66
89355 | A | Exam feces for starch |  |  |  |  |
89360 | X | Collect sweat for test | 0344 | 0.79 | $38.30 | $23.63 | $7.66
89365 | A | Water load test |  |  |  |  |
89399 | X | Pathology lab procedure | 0343 | 0.45 | $21.82 | $12.16 | $4.36
90281 | E | Human ig, im |  |  |  |  |
90283 | E | Human ig, iv |  |  |  |  |
90287 | X | Botulinum antitoxin | 0357 | 1.85 | $89.70 | $38.31 | $17.94
90288 | E | Botulism ig, iv |  |  |  |  |
90291 | E | Cmv ig, iv |  |  |  |  |
90296 | X | Diphtheria antitoxin | 0357 | 1.85 | $89.70 | $38.31 | $17.94
90371 | X | Hep b ig, im | 0356 | 0.36 | $17.46 | $4.82 | $3.49
90375 | X | Rabies ig, im/sc | 0357 | 1.85 | $89.70 | $38.31 | $17.94
90376 | X | Rabies ig, heat treated | 0357 | 1.85 | $89.70 | $38.31 | $17.94
90378 | X | Rsv ig, im | 0357 | 1.85 | $89.70 | $38.31 | $17.94
90379 | X | Rsv ig, iv | 0357 | 1.85 | $89.70 | $38.31 | $17.94
90384 | X | Rh ig, full-dose, im | 0357 | 1.85 | $89.70 | $38.31 | $17.94
90385 | X | Rh ig, minidose, im | 0357 | 1.85 | $89.70 | $38.31 | $17.94
90386 | X | Rh ig, iv | 0357 | 1.85 | $89.70 | $38.31 | $17.94
90389 | X | Tetanus ig, im | 0356 | 0.36 | $17.46 | $4.82 | $3.49
90393 | X | Vaccina ig, im | 0357 | 1.85 | $89.70 | $38.31 | $17.94
90396 | X | Varicella-zoster ig, im | 0356 | 0.36 | $17.46 | $4.82 | $3.49
90399 | E | Immune globulin |  |  |  |  |
90471 | N | Immunization admin |  |  |  |  |
90472 | N | Immunization admin, each add |  |  |  |  |
90476 | X | Adenovirus vaccine, type 4 | 0356 | 0.36 | $17.46 | $4.82 | $3.49
90477 | X | Adenovirus vaccine, type 7 | 0356 | 0.36 | $17.46 | $4.82 | $3.49
90581 | X | Anthrax vaccine, sc | 0357 | 1.85 | $89.70 | $38.31 | $17.94
90585 | X | Bcg vaccine, percut | 0356 | 0.36 | $17.46 | $4.82 | $3.49
90586 | X | Bcg vaccine, intravesical | 0356 | 0.36 | $17.46 | $4.82 | $3.49
90632 | X | Hep a vaccine, adult im | 0356 | 0.36 | $17.46 | $4.82 | $3.49
90633 | X | Hep a vacc, ped/adol, 2 dose | 0356 | 0.36 | $17.46 | $4.82 | $3.49
90634 | X | Hep a vacc, ped/adol, 3 dose | 0356 | 0.36 | $17.46 | $4.82 | $3.49
90636 | X | Hep a/hep b vacc, adult im | 0357 | 1.85 | $89.70 | $38.31 | $17.94
90645 | X | Hib vaccine, hboc, im | 0355 | 0.19 | $9.21 | $5.05 | $1.84
90646 | X | Hib vaccine, prp-d, im | 0355 | 0.19 | $9.21 | $5.05 | $1.84
90647 | X | Hib vaccine, prp-omp, im | 0355 | 0.19 | $9.21 | $5.05 | $1.84
90648 | X | Hib vaccine, prp-t, im | 0355 | 0.19 | $9.21 | $5.05 | $1.84
90657 | X | Flu vaccine, 6-35 mo, im | 0355 | 0.19 | $9.21 | $5.05 | $1.84
90658 | X | Flu vaccine, 3 yrs, im | 0355 | 0.19 | $9.21 | $5.05 | $1.84
90659 | X | Flu vaccine, whole, im | 0355 | 0.19 | $9.21 | $5.05 | $1.84
90660 | X | Flu vaccine, nasal | 0355 | 0.19 | $9.21 | $5.05 | $1.84
90665 | X | Lyme disease vaccine, im | 0357 | 1.85 | $89.70 | $38.31 | $17.94
90669 | X | Pneumococcal vaccine, ped | 0357 | 1.85 | $89.70 | $38.31 | $17.94
90675 | X | Rabies vaccine, im | 0357 | 1.85 | $89.70 | $38.31 | $17.94
90676 | X | Rabies vaccine, id | 0357 | 1.85 | $89.70 | $38.31 | $17.94
90680 | X | Rotovirus vaccine, oral | 0356 | 0.36 | $17.46 | $4.82 | $3.49
90690 | X | Typhoid vaccine, oral | 0356 | 0.36 | $17.46 | $4.82 | $3.49
90691 | X | Typhoid vaccine, im | 0356 | 0.36 | $17.46 | $4.82 | $3.49
90692 | X | Typhoid vaccine, h-p, sc/id | 0356 | 0.36 | $17.46 | $4.82 | $3.49
90693 | X | Typhoid vaccine, akd, sc | 0356 | 0.36 | $17.46 | $4.82 | $3.49
90700 | X | Dtap vaccine, im | 0355 | 0.19 | $9.21 | $5.05 | $1.84
90701 | X | Dtp vaccine, im | 0356 | 0.36 | $17.46 | $4.82 | $3.49
90702 | X | Dt vaccine, im | 0355 | 0.19 | $9.21 | $5.05 | $1.84
90703 | X | Tetanus vaccine, im | 0356 | 0.36 | $17.46 | $4.82 | $3.49
90704 | X | Mumps vaccine, sc | 0355 | 0.19 | $9.21 | $5.05 | $1.84
90705 | X | Measles vaccine, sc | 0357 | 1.85 | $89.70 | $38.31 | $17.94
90706 | X | Rubella vaccine, sc | 0358 | 6.98 | $338.44 | $126.74 | $67.69
90707 | X | Mmr vaccine, sc | 0356 | 0.36 | $17.46 | $4.82 | $3.49
90708 | X | Measles-rubella vaccine, sc | 0358 | 6.98 | $338.44 | $126.74 | $67.69
90709 | X | Rubella & mumps vaccine, sc | 0358 | 6.98 | $338.44 | $126.74 | $67.69
90710 | X | Mmrv vaccine, sc | 0356 | 0.36 | $17.46 | $4.82 | $3.49
90712 | X | Oral poliovirus vaccine | 0356 | 0.36 | $17.46 | $4.82 | $3.49
90713 | X | Poliovirus, ipv, sc | 0355 | 0.19 | $9.21 | $5.05 | $1.84
90716 | X | Chicken pox vaccine, sc | 0355 | 0.19 | $9.21 | $5.05 | $1.84
90717 | X | Yellow fever vaccine, sc | 0356 | 0.36 | $17.46 | $4.82 | $3.49
90718 | X | Td vaccine, im | 0356 | 0.36 | $17.46 | $4.82 | $3.49
90719 | X | Diphtheria vaccine, im | 0357 | 1.85 | $89.70 | $38.31 | $17.94
90720 | X | Dtp/hib vaccine, im | 0355 | 0.19 | $9.21 | $5.05 | $1.84
90721 | X | Dtap/hib vaccine, im | 0355 | 0.19 | $9.21 | $5.05 | $1.84
90725 | X | Cholera vaccine, injectable | 0358 | 6.98 | $338.44 | $126.74 | $67.69
90727 | X | Plague vaccine, im | 0355 | 0.19 | $9.21 | $5.05 | $1.84
90732 | X | Pneumococcal vaccine, adult | 0355 | 0.19 | $9.21 | $5.05 | $1.84
90733 | X | Meningococcal vaccine, sc | 0357 | 1.85 | $89.70 | $38.31 | $17.94
90735 | X | Encephalitis vaccine, sc | 0357 | 1.85 | $89.70 | $38.31 | $17.94
90744 | X | Hep b vaccine, ped/adol, im | 0356 | 0.36 | $17.46 | $4.82 | $3.49
90746 | X | Hep b vaccine, adult, im | 0356 | 0.36 | $17.46 | $4.82 | $3.49
90747 | X | Hep b vaccine, ill pat, im | 0356 | 0.36 | $17.46 | $4.82 | $3.49
90748 | X | Hep b/hib vaccine, im | 0358 | 6.98 | $338.44 | $126.74 | $67.69
90749 | X | Vaccine toxoid | 0355 | 0.19 | $9.21 | $5.05 | $1.84
90780 | E | IV infusion therapy, 1 hour |  |  |  |  |
90781 | E | IV infusion, additional hour |  |  |  |  |
90782 | X | Injection, sc/im | 0359 | 0.96 | $46.55 | $9.31 | $9.31
90783 | X | Injection, ia | 0359 | 0.96 | $46.55 | $9.31 | $9.31
90784 | X | Injection, iv | 0359 | 0.96 | $46.55 | $9.31 | $9.31
90788 | X | Injection of antibiotic | 0359 | 0.96 | $46.55 | $9.31 | $9.31
90799 | X | Ther/prophylactic/dx inject | 0359 | 0.96 | $46.55 | $9.31 | $9.31
90801 | S | Psy dx interview | 0323 | 1.85 | $89.70 | $22.48 | $17.94
90802 | S | Intac psy dx interview | 0323 | 1.85 | $89.70 | $22.48 | $17.94
90804 | S | Psytx, office, 20-30 min | 0322 | 1.32 | $64.00 | $14.22 | $12.80
90805 | S | Psytx, off, 20-30 min w/e&m | 0322 | 1.32 | $64.00 | $14.22 | $12.80
90806 | S | Psytx, off, 45-50 min | 0323 | 1.85 | $89.70 | $22.48 | $17.94
90807 | S | Psytx, off, 45-50 min w/e&m | 0323 | 1.85 | $89.70 | $22.48 | $17.94
90808 | S | Psytx, office, 75-80 min | 0323 | 1.85 | $89.70 | $22.48 | $17.94
90809 | S | Psytx, off, 75-80, w/e&m | 0323 | 1.85 | $89.70 | $22.48 | $17.94
90810 | S | Intac psytx, off, 20-30 min | 0322 | 1.32 | $64.00 | $14.22 | $12.80
90811 | S | Intac psytx, 20-30, w/e&m | 0322 | 1.32 | $64.00 | $14.22 | $12.80
90812 | S | Intac psytx, off, 45-50 min | 0323 | 1.85 | $89.70 | $22.48 | $17.94
90813 | S | Intac psytx, 45-50 min w/e&m | 0323 | 1.85 | $89.70 | $22.48 | $17.94
90814 | S | Intac psytx, off, 75-80 min | 0323 | 1.85 | $89.70 | $22.48 | $17.94
90815 | S | Intac psytx, 75-80 w/e&m | 0323 | 1.85 | $89.70 | $22.48 | $17.94
90816 | S | Psytx, hosp, 20-30 min | 0322 | 1.32 | $64.00 | $14.22 | $12.80
90817 | S | Psytx, hosp, 20-30 min w/e&m | 0322 | 1.32 | $64.00 | $14.22 | $12.80
90818 | S | Psytx, hosp, 45-50 min | 0323 | 1.85 | $89.70 | $22.48 | $17.94
90819 | S | Psytx, hosp, 45-50 min w/e&m | 0323 | 1.85 | $89.70 | $22.48 | $17.94
90821 | S | Psytx, hosp, 75-80 min | 0323 | 1.85 | $89.70 | $22.48 | $17.94
90822 | S | Psytx, hosp, 75-80 min w/e&m | 0323 | 1.85 | $89.70 | $22.48 | $17.94
90823 | S | Intac psytx, hosp, 20-30 min | 0322 | 1.32 | $64.00 | $14.22 | $12.80
90824 | S | Intac psytx, hsp 20-30 w/e&m | 0322 | 1.32 | $64.00 | $14.22 | $12.80
90826 | S | Intac psytx, hosp, 45-50 min | 0323 | 1.85 | $89.70 | $22.48 | $17.94
90827 | S | Intac psytx, hsp 45-50 w/e&m | 0323 | 1.85 | $89.70 | $22.48 | $17.94
90828 | S | Intac psytx, hosp, 75-80 min | 0323 | 1.85 | $89.70 | $22.48 | $17.94
90829 | S | Intac psytx, hsp 75-80 w/e&m | 0323 | 1.85 | $89.70 | $22.48 | $17.94
90845 | S | Psychoanalysis | 0323 | 1.85 | $89.70 | $22.48 | $17.94
90846 | S | Family psytx w/o patient | 0324 | 1.87 | $90.67 | $20.19 | $18.13
90847 | S | Family psytx w/patient | 0324 | 1.87 | $90.67 | $20.19 | $18.13
90849 | S | Multiple family group psytx | 0325 | 1.55 | $75.16 | $19.96 | $15.03
90853 | S | Group psychotherapy | 0325 | 1.55 | $75.16 | $19.96 | $15.03
90857 | S | Intac group psytx | 0325 | 1.55 | $75.16 | $19.96 | $15.03
90862 | X | Medication management | 0374 | 1.17 | $56.73 | $13.08 | $11.35
90865 | S | Narcosynthesis | 0323 | 1.85 | $89.70 | $22.48 | $17.94
90870 | S | Electroconvulsive therapy | 0320 | 3.68 | $178.43 | $80.06 | $35.69
90871 | S | Electroconvulsive therapy | 0320 | 3.68 | $178.43 | $80.06 | $35.69
90875 | E | Psychophysiological therapy |  |  |  |  |
90876 | E | Psychophysiological therapy |  |  |  |  |
90880 | S | Hypnotherapy | 0323 | 1.85 | $89.70 | $22.48 | $17.94
90882 | E | Environmental manipulation |  |  |  |  |
90885 | N | Psy evaluation of records |  |  |  |  |
90887 | N | Consultation with family |  |  |  |  |
90889 | N | Preparation of report |  |  |  |  |
90899 | S | Psychiatric service/therapy | 0322 | 1.32 | $64.00 | $14.22 | $12.80
90901 | S | Biofeedback train, any meth | 0321 | 1.26 | $61.09 | $29.25 | $12.22
90911 | S | Biofeedback peri/uro/rectal | 0321 | 1.26 | $61.09 | $29.25 | $12.22
90918 | A | ESRD related services, month |  |  |  |  |
90919 | A | ESRD related services, month |  |  |  |  |
90920 | A | ESRD related services, month |  |  |  |  |
90921 | A | ESRD related services, month |  |  |  |  |
90922 | A | ESRD related services, day |  |  |  |  |
90923 | A | Esrd related services, day |  |  |  |  |
90924 | A | Esrd related services, day |  |  |  |  |
90925 | A | Esrd related services, day |  |  |  |  |
90935 | S | Hemodialysis, one evaluation | 0170 | 6.68 | $323.89 | $72.26 | $64.78
90937 | E | Hemodialysis, repeated eval |  |  |  |  |
90945 | S | Dialysis, one evaluation | 0170 | 6.68 | $323.89 | $72.26 | $64.78
90947 | E | Dialysis, repeated eval |  |  |  |  |
90989 | E | Dialysis training, complete |  |  |  |  |
90993 | E | Dialysis training, incompl |  |  |  |  |
90997 | E | Hemoperfusion |  |  |  |  |
90999 | E | Dialysis procedure |  |  |  |  |
91000 | X | Esophageal intubation | 0361 | 3.53 | $171.16 | $88.09 | $34.23
91010 | X | Esophagus motility study | 0361 | 3.53 | $171.16 | $88.09 | $34.23
91011 | X | Esophagus motility study | 0361 | 3.53 | $171.16 | $88.09 | $34.23
91012 | X | Esophagus motility study | 0361 | 3.53 | $171.16 | $88.09 | $34.23
91020 | X | Gastric motility | 0361 | 3.53 | $171.16 | $88.09 | $34.23
91030 | X | Acid perfusion of esophagus | 0360 | 1.38 | $66.91 | $34.75 | $13.38
91032 | X | Esophagus, acid reflux test | 0361 | 3.53 | $171.16 | $88.09 | $34.23
91033 | X | Prolonged acid reflux test | 0361 | 3.53 | $171.16 | $88.09 | $34.23
91052 | X | Gastric analysis test | 0361 | 3.53 | $171.16 | $88.09 | $34.23
91055 | X | Gastric intubation for smear | 0360 | 1.38 | $66.91 | $34.75 | $13.38
91060 | X | Gastric saline load test | 0361 | 3.53 | $171.16 | $88.09 | $34.23
91065 | X | Breath hydrogen test | 0360 | 1.38 | $66.91 | $34.75 | $13.38
91100 | X | Pass intestine bleeding tube | 0360 | 1.38 | $66.91 | $34.75 | $13.38
91105 | X | Gastric intubation treatment | 0360 | 1.38 | $66.91 | $34.75 | $13.38
91122 | T | Anal pressure record | 0165 | 3.89 | $188.61 | $91.76 | $37.72
91299 | X | Gastroenterology procedure | 0360 | 1.38 | $66.91 | $34.75 | $13.38
92002 | V | Eye exam, new patient | 0601 | 1.00 | $48.49 | $9.70 | $9.70
92004 | V | Eye exam, new patient | 0602 | 1.66 | $80.49 | $16.29 | $16.10
92012 | V | Eye exam established pat | 0601 | 1.00 | $48.49 | $9.70 | $9.70
92014 | V | Eye exam & treatment | 0602 | 1.66 | $80.49 | $16.29 | $16.10
92015 | E | Refraction |  |  |  |  |
92018 | S | New eye exam & treatment | 0231 | 2.64 | $128.01 | $59.87 | $25.60
92019 | S | Eye exam & treatment | 0231 | 2.64 | $128.01 | $59.87 | $25.60
92020 | S | Special eye evaluation | 0230 | 0.98 | $47.52 | $22.48 | $9.50
92060 | S | Special eye evaluation | 0230 | 0.98 | $47.52 | $22.48 | $9.50
92065 | S | Orthoptic/pleoptic training | 0230 | 0.98 | $47.52 | $22.48 | $9.50
92070 | N | Fitting of contact lens |  |  |  |  |
92081 | S | Visual field examination(s) | 0230 | 0.98 | $47.52 | $22.48 | $9.50
92082 | S | Visual field examination(s) | 0230 | 0.98 | $47.52 | $22.48 | $9.50
92083 | S | Visual field examination(s) | 0230 | 0.98 | $47.52 | $22.48 | $9.50
92100 | N | Serial tonometry exam(s) |  |  |  |  |
92120 | S | Tonography & eye evaluation | 0230 | 0.98 | $47.52 | $22.48 | $9.50
92130 | S | Water provocation tonography | 0230 | 0.98 | $47.52 | $22.48 | $9.50
92135 | S | Opthalmic dx imaging | 0231 | 2.64 | $128.01 | $59.87 | $25.60
92140 | S | Glaucoma provocative tests | 0231 | 2.64 | $128.01 | $59.87 | $25.60
92225 | S | Special eye exam, initial | 0230 | 0.98 | $47.52 | $22.48 | $9.50
92226 | S | Special eye exam, subsequent | 0231 | 2.64 | $128.01 | $59.87 | $25.60
92230 | S | Eye exam with photos | 0231 | 2.64 | $128.01 | $59.87 | $25.60
92235 | S | Eye exam with photos | 0231 | 2.64 | $128.01 | $59.87 | $25.60
92240 | S | Icg angiography | 0231 | 2.64 | $128.01 | $59.87 | $25.60
92250 | S | Eye exam with photos | 0230 | 0.98 | $47.52 | $22.48 | $9.50
92260 | S | Ophthalmoscopy/dynamometry | 0230 | 0.98 | $47.52 | $22.48 | $9.50
92265 | S | Eye muscle evaluation | 0230 | 0.98 | $47.52 | $22.48 | $9.50
92270 | S | Electro-oculography | 0230 | 0.98 | $47.52 | $22.48 | $9.50
92275 | S | Electroretinography | 0216 | 2.87 | $139.16 | $64.69 | $27.83
92283 | S | Color vision examination | 0230 | 0.98 | $47.52 | $22.48 | $9.50
92284 | S | Dark adaptation eye exam | 0231 | 2.64 | $128.01 | $59.87 | $25.60
92285 | S | Eye photography | 0230 | 0.98 | $47.52 | $22.48 | $9.50
92286 | S | Internal eye photography | 0231 | 2.64 | $128.01 | $59.87 | $25.60
92287 | T | Internal eye photography | 0231 | 2.64 | $128.01 | $59.87 | $25.60
92310 | E | Contact lens fitting |  |  |  |  |
92311 | X | Contact lens fitting | 0362 | 0.51 | $24.73 | $9.63 | $4.95
92312 | X | Contact lens fitting | 0362 | 0.51 | $24.73 | $9.63 | $4.95
92313 | X | Contact lens fitting | 0362 | 0.51 | $24.73 | $9.63 | $4.95
92314 | E | Prescription of contact lens |  |  |  |  |
92315 | X | Prescription of contact lens | 0362 | 0.51 | $24.73 | $9.63 | $4.95
92316 | X | Prescription of contact lens | 0362 | 0.51 | $24.73 | $9.63 | $4.95
92317 | X | Prescription of contact lens | 0362 | 0.51 | $24.73 | $9.63 | $4.95
92325 | X | Modification of contact lens | 0362 | 0.51 | $24.73 | $9.63 | $4.95
92326 | X | Replacement of contact lens | 0362 | 0.51 | $24.73 | $9.63 | $4.95
92330 | S | Fitting of artificial eye | 0230 | 0.98 | $47.52 | $22.48 | $9.50
92335 | N | Fitting of artificial eye |  |  |  |  |
92340 | E | Fitting of spectacles |  |  |  |  |
92341 | E | Fitting of spectacles |  |  |  |  |
92342 | E | Fitting of spectacles |  |  |  |  |
92352 | X | Special spectacles fitting | 0362 | 0.51 | $24.73 | $9.63 | $4.95
92353 | X | Special spectacles fitting | 0362 | 0.51 | $24.73 | $9.63 | $4.95
92354 | X | Special spectacles fitting | 0362 | 0.51 | $24.73 | $9.63 | $4.95
92355 | X | Special spectacles fitting | 0362 | 0.51 | $24.73 | $9.63 | $4.95
92358 | X | Eye prosthesis service | 0362 | 0.51 | $24.73 | $9.63 | $4.95
92370 | E | Repair & adjust spectacles |  |  |  |  |
92371 | X | Repair & adjust spectacles | 0362 | 0.51 | $24.73 | $9.63 | $4.95
92390 | E | Supply of spectacles |  |  |  |  |
92391 | E | Supply of contact lenses |  |  |  |  |
92392 | E | Supply of low vision aids |  |  |  |  |
92393 | E | Supply of artificial eye |  |  |  |  |
92395 | E | Supply of spectacles |  |  |  |  |
92396 | E | Supply of contact lenses |  |  |  |  |
92499 | S | Eye service or procedure | 0230 | 0.98 | $47.52 | $22.48 | $9.50
92502 | T | Ear and throat examination | 0251 | 1.68 | $81.46 | $27.99 | $16.29
92504 | N | Ear microscopy examination |  |  |  |  |
92506 | A | Speech/hearing evaluation |  |  |  |  |
92507 | A | Speech/hearing therapy |  |  |  |  |
92508 | A | Speech/hearing therapy |  |  |  |  |
92510 | A | Rehab for ear implant |  |  |  |  |
92511 | T | Nasopharyngoscopy | 0071 | 0.55 | $26.67 | $14.22 | $5.33
92512 | X | Nasal function studies | 0363 | 2.83 | $137.22 | $53.22 | $27.44
92516 | X | Facial nerve function test | 0363 | 2.83 | $137.22 | $53.22 | $27.44
92520 | X | Laryngeal function studies | 0363 | 2.83 | $137.22 | $53.22 | $27.44
92525 | A | Oral function evaluation |  |  |  |  |
92526 | A | Oral function therapy |  |  |  |  |
92531 | N | Spontaneous nystagmus study |  |  |  |  |
92532 | N | Positional nystagmus study |  |  |  |  |
92533 | N | Caloric vestibular test |  |  |  |  |
92534 | N | Optokinetic nystagmus |  |  |  |  |
92541 | X | Spontaneous nystagmus test | 0363 | 2.83 | $137.22 | $53.22 | $27.44
92542 | X | Positional nystagmus test | 0363 | 2.83 | $137.22 | $53.22 | $27.44
92543 | X | Caloric vestibular test | 0363 | 2.83 | $137.22 | $53.22 | $27.44
92544 | X | Optokinetic nystagmus test | 0363 | 2.83 | $137.22 | $53.22 | $27.44
92545 | X | Oscillating tracking test | 0363 | 2.83 | $137.22 | $53.22 | $27.44
92546 | X | Sinusoidal rotational test | 0363 | 2.83 | $137.22 | $53.22 | $27.44
92547 | X | Supplemental electrical test | 0363 | 2.83 | $137.22 | $53.22 | $27.44
92548 | X | Posturography | 0363 | 2.83 | $137.22 | $53.22 | $27.44
92551 | E | Pure tone hearing test, air |  |  |  |  |
92552 | X | Pure tone audiometry, air | 0364 | 0.68 | $32.97 | $13.31 | $6.59
92553 | X | Audiometry, air & bone | 0364 | 0.68 | $32.97 | $13.31 | $6.59
92555 | X | Speech threshold audiometry | 0364 | 0.68 | $32.97 | $13.31 | $6.59
92556 | X | Speech audiometry, complete | 0364 | 0.68 | $32.97 | $13.31 | $6.59
92557 | X | Comprehensive hearing test | 0365 | 1.47 | $71.28 | $22.48 | $14.26
92559 | E | Group audiometric testing |  |  |  |  |
92560 | E | Bekesy audiometry, screen |  |  |  |  |
92561 | X | Bekesy audiometry, diagnosis | 0365 | 1.47 | $71.28 | $22.48 | $14.26
92562 | X | Loudness balance test | 0365 | 1.47 | $71.28 | $22.48 | $14.26
92563 | X | Tone decay hearing test | 0365 | 1.47 | $71.28 | $22.48 | $14.26
92564 | X | Sisi hearing test | 0365 | 1.47 | $71.28 | $22.48 | $14.26
92565 | X | Stenger test, pure tone | 0365 | 1.47 | $71.28 | $22.48 | $14.26
92567 | X | Tympanometry | 0364 | 0.68 | $32.97 | $13.31 | $6.59
92568 | X | Acoustic reflex testing | 0365 | 1.47 | $71.28 | $22.48 | $14.26
92569 | X | Acoustic reflex decay test | 0365 | 1.47 | $71.28 | $22.48 | $14.26
92571 | X | Filtered speech hearing test | 0365 | 1.47 | $71.28 | $22.48 | $14.26
92572 | X | Staggered spondaic word test | 0365 | 1.47 | $71.28 | $22.48 | $14.26
92573 | X | Lombard test | 0365 | 1.47 | $71.28 | $22.48 | $14.26
92575 | X | Sensorineural acuity test | 0365 | 1.47 | $71.28 | $22.48 | $14.26
92576 | X | Synthetic sentence test | 0365 | 1.47 | $71.28 | $22.48 | $14.26
92577 | X | Stenger test, speech | 0365 | 1.47 | $71.28 | $22.48 | $14.26
92579 | X | Visual audiometry (vra) | 0365 | 1.47 | $71.28 | $22.48 | $14.26
92582 | X | Conditioning play audiometry | 0365 | 1.47 | $71.28 | $22.48 | $14.26
92583 | X | Select picture audiometry | 0365 | 1.47 | $71.28 | $22.48 | $14.26
92584 | X | Electrocochleography | 0363 | 2.83 | $137.22 | $53.22 | $27.44
92585 | S | Auditory evoked potential | 0216 | 2.87 | $139.16 | $64.69 | $27.83
92587 | X | Evoked auditory test | 0363 | 2.83 | $137.22 | $53.22 | $27.44
92588 | X | Evoked auditory test | 0363 | 2.83 | $137.22 | $53.22 | $27.44
92589 | X | Auditory function test(s) | 0365 | 1.47 | $71.28 | $22.48 | $14.26
92590 | E | Hearing aid exam, one ear |  |  |  |  |
92591 | E | Hearing aid exam, both ears |  |  |  |  |
92592 | E | Hearing aid check, one ear |  |  |  |  |
92593 | E | Hearing aid check, both ears |  |  |  |  |
92594 | E | Electro hearng aid test, one |  |  |  |  |
92595 | E | Electro hearng aid tst, both |  |  |  |  |
92596 | X | Ear protector evaluation | 0365 | 1.47 | $71.28 | $22.48 | $14.26
92597 | A | Oral speech device eval |  |  |  |  |
92598 | A | Modify oral speech device |  |  |  |  |
92599 | X | ENT procedure/service | 0364 | 0.68 | $32.97 | $13.31 | $6.59
92950 | S | Heart/lung resuscitation cpr | 0094 | 4.51 | $218.68 | $105.29 | $43.74
92953 | S | Temporary external pacing | 0094 | 4.51 | $218.68 | $105.29 | $43.74
92960 | S | Cardioversion electric, ext | 0094 | 4.51 | $218.68 | $105.29 | $43.74
92961 | S | Cardioversion, electric, int | 0094 | 4.51 | $218.68 | $105.29 | $43.74
92970 | C | Cardioassist, internal |  |  |  |  |
92971 | C | Cardioassist, external |  |  |  |  |
92975 | C | Dissolve clot, heart vessel |  |  |  |  |
92977 | C | Dissolve clot, heart vessel |  |  |  |  |
92978 | C | Intravasc us, heart add-on |  |  |  |  |
92979 | C | Intravasc us, heart add-on |  |  |  |  |
92980 | T | Insert intracoronary stent | 0083 | 45.79 | $2,220.22 | $1,322.95 | $444.04
92981 | T | Insert intracoronary stent | 0083 | 45.79 | $2,220.22 | $1,322.95 | $444.04
92982 | T | Coronary artery dilation | 0083 | 45.79 | $2,220.22 | $1,322.95 | $444.04
92984 | T | Coronary artery dilation | 0083 | 45.79 | $2,220.22 | $1,322.95 | $444.04
92986 | C | Revision of aortic valve |  |  |  |  |
92987 | C | Revision of mitral valve |  |  |  |  |
92990 | C | Revision of pulmonary valve |  |  |  |  |
92992 | C | Revision of heart chamber |  |  |  |  |
92993 | C | Revision of heart chamber |  |  |  |  |
92995 | T | Coronary atherectomy | 0082 | 40.34 | $1,955.97 | $859.56 | $391.19
92996 | T | Coronary atherectomy add-on | 0082 | 40.34 | $1,955.97 | $859.56 | $391.19
92997 | C | Pul art balloon repr, percut |  |  |  |  |
92998 | C | Pul art balloon repr, percut |  |  |  |  |
93000 | E | Electrocardiogram, complete |  |  |  |  |
93005 | X | Electrocardiogram, tracing | 0366 | 0.38 | $18.43 | $15.60 | $3.69
93010 | E | Electrocardiogram report |  |  |  |  |
93012 | S | Transmission of ECG | 0099 | 0.38 | $18.43 | $14.68 | $3.69
93014 | E | Report on transmitted ECG |  |  |  |  |
93015 | E | Cardiovascular stress test |  |  |  |  |
93016 | E | Cardiovascular stress test |  |  |  |  |
93017 | S | Cardiovascular stress test | 0097 | 1.62 | $78.55 | $62.40 | $15.71
93018 | E | Cardiovascular stress test |  |  |  |  |
93024 | S | Cardiac drug stress test | 0097 | 1.62 | $78.55 | $62.40 | $15.71
93040 | E | Rhythm ECG with report |  |  |  |  |
93041 | X | Rhythm ECG, tracing | 0366 | 0.38 | $18.43 | $15.60 | $3.69
93042 | E | Rhythm ECG, report |  |  |  |  |
93224 | E | ECG monitor/report, 24 hrs |  |  |  |  |
93225 | S | ECG monitor/record, 24 hrs | 0100 | 1.70 | $82.43 | $71.57 | $16.49
93226 | S | ECG monitor/report, 24 hrs | 0100 | 1.70 | $82.43 | $71.57 | $16.49
93227 | E | ECG monitor/review, 24 hrs |  |  |  |  |
93230 | E | ECG monitor/report, 24 hrs |  |  |  |  |
93231 | S | ECG monitor/record, 24 hrs | 0100 | 1.70 | $82.43 | $71.57 | $16.49
93232 | S | ECG monitor/report, 24 hrs | 0100 | 1.70 | $82.43 | $71.57 | $16.49
93233 | E | ECG monitor/review, 24 hrs |  |  |  |  |
93235 | E | ECG monitor/report, 24 hrs |  |  |  |  |
93236 | S | ECG monitor/report, 24 hrs | 0100 | 1.70 | $82.43 | $71.57 | $16.49
93237 | E | ECG monitor/review, 24 hrs |  |  |  |  |
93268 | S | ECG record/review | 0100 | 1.70 | $82.43 | $71.57 | $16.49
93270 | S | ECG recording | 0099 | 0.38 | $18.43 | $14.68 | $3.69
93271 | S | ECG/monitoring and analysis | 0100 | 1.70 | $82.43 | $71.57 | $16.49
93272 | E | ECG/review, interpret only |  |  |  |  |
93278 | S | ECG/signal-averaged | 0099 | 0.38 | $18.43 | $14.68 | $3.69
93303 | S | Echo transthoracic | 0269 | 4.40 | $213.34 | $114.01 | $42.67
93304 | S | Echo transthoracic | 0269 | 4.40 | $213.34 | $114.01 | $42.67
93307 | S | Echo exam of heart | 0269 | 4.40 | $213.34 | $114.01 | $42.67
93308 | S | Echo exam of heart | 0269 | 4.40 | $213.34 | $114.01 | $42.67
93312 | S | Echo transesophageal | 0270 | 5.55 | $269.10 | $150.26 | $53.82
93313 | S | Echo transesophageal | 0270 | 5.55 | $269.10 | $150.26 | $53.82
93314 | N | Echo transesophageal |  |  |  |  |
93315 | S | Echo transesophageal | 0270 | 5.55 | $269.10 | $150.26 | $53.82
93316 | S | Echo transesophageal | 0270 | 5.55 | $269.10 | $150.26 | $53.82
93317 | N | Echo transesophageal |  |  |  |  |
93320 | S | Doppler echo exam, heart | 0269 | 4.40 | $213.34 | $114.01 | $42.67
93321 | S | Doppler echo exam, heart | 0269 | 4.40 | $213.34 | $114.01 | $42.67
93325 | S | Doppler color flow add-on | 0269 | 4.40 | $213.34 | $114.01 | $42.67
93350 | S | Echo transthoracic | 0269 | 4.40 | $213.34 | $114.01 | $42.67
93501 | T | Right heart catheterization | 0080 | 25.77 | $1,249.51 | $713.89 | $249.90
93503 | T | Insert/place heart catheter | 0080 | 25.77 | $1,249.51 | $713.89 | $249.90
93505 | T | Biopsy of heart lining | 0080 | 25.77 | $1,249.51 | $713.89 | $249.90
93508 | N | Cath placement, angiography |  |  |  |  |
93510 | T | Left heart catheterization | 0080 | 25.77 | $1,249.51 | $713.89 | $249.90
93511 | T | Left heart catheterization | 0080 | 25.77 | $1,249.51 | $713.89 | $249.90
93514 | T | Left heart catheterization | 0080 | 25.77 | $1,249.51 | $713.89 | $249.90
93524 | T | Left heart catheterization | 0080 | 25.77 | $1,249.51 | $713.89 | $249.90
93526 | T | Rt & Lt heart catheters | 0080 | 25.77 | $1,249.51 | $713.89 | $249.90
93527 | T | Rt & Lt heart catheters | 0080 | 25.77 | $1,249.51 | $713.89 | $249.90
93528 | T | Rt & Lt heart catheters | 0080 | 25.77 | $1,249.51 | $713.89 | $249.90
93529 | T | Rt, Lt heart catheterization | 0080 | 25.77 | $1,249.51 | $713.89 | $249.90
93530 | T | Rt heart cath, congenital | 0080 | 25.77 | $1,249.51 | $713.89 | $249.90
93531 | T | R & l heart cath, congenital | 0080 | 25.77 | $1,249.51 | $713.89 | $249.90
93532 | T | R & l heart cath, congenital | 0080 | 25.77 | $1,249.51 | $713.89 | $249.90
93533 | T | R & l heart cath, congenital | 0080 | 25.77 | $1,249.51 | $713.89 | $249.90
93536 | T | Insert circulation assi | 0080 | 25.77 | $1,249.51 | $713.89 | $249.90
93539 | N | Injection, cardiac cath |  |  |  |  |
93540 | N | Injection, cardiac cath |  |  |  |  |
93541 | N | Injection for lung angiogram |  |  |  |  |
93542 | N | Injection for heart x-rays |  |  |  |  |
93543 | N | Injection for heart x-rays |  |  |  |  |
93544 | N | Injection for aortography |  |  |  |  |
93545 | N | Inject for coronary x-rays |  |  |  |  |
93555 | N | Imaging, cardiac cath |  |  |  |  |
93556 | N | Imaging, cardiac cath |  |  |  |  |
93561 | N | Cardiac output measurement |  |  |  |  |
93562 | N | Cardiac output measurement |  |  |  |  |
93571 | N | Heart flow reserve measure |  |  |  |  |
93572 | N | Heart flow reserve measure |  |  |  |  |
93600 | S | Bundle of His recording | 0087 | 9.53 | $462.08 | $214.72 | $92.42
93602 | S | Intra-atrial recording | 0087 | 9.53 | $462.08 | $214.72 | $92.42
93603 | S | Right ventricular recording | 0087 | 9.53 | $462.08 | $214.72 | $92.42
93607 | S | Left ventricular recording | 0087 | 9.53 | $462.08 | $214.72 | $92.42
93609 | S | Mapping of tachycardia | 0087 | 9.53 | $462.08 | $214.72 | $92.42
93610 | S | Intra-atrial pacing | 0087 | 9.53 | $462.08 | $214.72 | $92.42
93612 | S | Intraventricular pacing | 0087 | 9.53 | $462.08 | $214.72 | $92.42
93615 | S | Esophageal recording | 0087 | 9.53 | $462.08 | $214.72 | $92.42
93616 | S | Esophageal recording | 0087 | 9.53 | $462.08 | $214.72 | $92.42
93618 | S | Heart rhythm pacing | 0087 | 9.53 | $462.08 | $214.72 | $92.42
93619 | S | Electrophysiology evaluation | 0085 | 27.06 | $1,312.06 | $654.48 | $262.41
93620 | S | Electrophysiology evaluation | 0085 | 27.06 | $1,312.06 | $654.48 | $262.41
93621 | S | Electrophysiology evaluation | 0085 | 27.06 | $1,312.06 | $654.48 | $262.41
93622 | S | Electrophysiology evaluation | 0085 | 27.06 | $1,312.06 | $654.48 | $262.41
93623 | S | Stimulation, pacing heart | 0087 | 9.53 | $462.08 | $214.72 | $92.42
93624 | S | Electrophysiologic study | 0087 | 9.53 | $462.08 | $214.72 | $92.42
93631 | S | Heart pacing, mapping | 0087 | 9.53 | $462.08 | $214.72 | $92.42
93640 | S | Evaluation heart device | 0084 | 10.70 | $518.81 | $177.79 | $103.76
93641 | S | Electrophysiology evaluation | 0084 | 10.70 | $518.81 | $177.79 | $103.76
93642 | S | Electrophysiology evaluation | 0084 | 10.70 | $518.81 | $177.79 | $103.76
93650 | S | Ablate heart dysrhythm focus | 0086 | 47.62 | $2,308.95 | $1,265.37 | $461.79
93651 | S | Ablate heart dysrhythm focus | 0086 | 47.62 | $2,308.95 | $1,265.37 | $461.79
93652 | S | Ablate heart dysrhythm focus | 0086 | 47.62 | $2,308.95 | $1,265.37 | $461.79
93660 | S | Tilt table evaluation | 0101 | 4.47 | $216.74 | $128.84 | $43.35
93720 | E | Total body plethysmography |  |  |  |  |
93721 | S | Plethysmography tracing | 0096 | 2.06 | $99.88 | $61.48 | $19.98
93722 | E | Plethysmography report |  |  |  |  |
93724 | S | Analyze pacemaker system | 0100 | 1.70 | $82.43 | $71.57 | $16.49
93727 | S | Analyze ilr system | 0102 | 0.45 | $21.82 | $12.62 | $4.36
93731 | S | Analyze pacemaker system | 0102 | 0.45 | $21.82 | $12.62 | $4.36
93732 | S | Analyze pacemaker system | 0102 | 0.45 | $21.82 | $12.62 | $4.36
93733 | S | Telephone analy, pacemaker | 0102 | 0.45 | $21.82 | $12.62 | $4.36
93734 | S | Analyze pacemaker system | 0102 | 0.45 | $21.82 | $12.62 | $4.36
93735 | S | Analyze pacemaker system | 0102 | 0.45 | $21.82 | $12.62 | $4.36
93736 | S | Telephone analy, pacemaker | 0102 | 0.45 | $21.82 | $12.62 | $4.36
93737 | S | Analyze cardio/defibrillator | 0102 | 0.45 | $21.82 | $12.62 | $4.36
93738 | S | Analyze cardio/defibrillator | 0102 | 0.45 | $21.82 | $12.62 | $4.36
93740 | S | Temperature gradient studies | 0096 | 2.06 | $99.88 | $61.48 | $19.98
93741 | S | Analyze ht pace device sngl | 0102 | 0.45 | $21.82 | $12.62 | $4.36
93742 | S | Analyze ht pace device sngl | 0102 | 0.45 | $21.82 | $12.62 | $4.36
93743 | S | Analyze ht pace device dual | 0102 | 0.45 | $21.82 | $12.62 | $4.36
93744 | S | Analyze ht pace device dual | 0102 | 0.45 | $21.82 | $12.62 | $4.36
93760 | E | Cephalic thermogram |  |  |  |  |
93762 | E | Peripheral thermogram |  |  |  |  |
93770 | N | Measure venous pressure |  |  |  |  |
93784 | E | Ambulatory BP monitoring |  |  |  |  |
93786 | E | Ambulatory BP recording |  |  |  |  |
93788 | E | Ambulatory BP analysis |  |  |  |  |
93790 | E | Review/report BP recording |  |  |  |  |
93797 | S | Cardiac rehab | 0095 | 0.64 | $31.03 | $16.98 | $6.21
93798 | S | Cardiac rehab/monitor | 0095 | 0.64 | $31.03 | $16.98 | $6.21
93799 | S | Cardiovascular procedure | 0096 | 2.06 | $99.88 | $61.48 | $19.98
93875 | S | Extracranial study | 0096 | 2.06 | $99.88 | $61.48 | $19.98
93880 | S | Extracranial study | 0267 | 2.72 | $131.88 | $80.06 | $26.38
93882 | S | Extracranial study | 0267 | 2.72 | $131.88 | $80.06 | $26.38
93886 | S | Intracranial study | 0267 | 2.72 | $131.88 | $80.06 | $26.38
93888 | S | Intracranial study | 0267 | 2.72 | $131.88 | $80.06 | $26.38
93922 | S | Extremity study | 0096 | 2.06 | $99.88 | $61.48 | $19.98
93923 | S | Extremity study | 0096 | 2.06 | $99.88 | $61.48 | $19.98
93924 | S | Extremity study | 0096 | 2.06 | $99.88 | $61.48 | $19.98
93925 | S | Lower extremity study | 0267 | 2.72 | $131.88 | $80.06 | $26.38
93926 | S | Lower extremity study | 0267 | 2.72 | $131.88 | $80.06 | $26.38
93930 | S | Upper extremity study | 0267 | 2.72 | $131.88 | $80.06 | $26.38
93931 | S | Upper extremity study | 0267 | 2.72 | $131.88 | $80.06 | $26.38
93965 | S | Extremity study | 0096 | 2.06 | $99.88 | $61.48 | $19.98
93970 | S | Extremity study | 0267 | 2.72 | $131.88 | $80.06 | $26.38
93971 | S | Extremity study | 0267 | 2.72 | $131.88 | $80.06 | $26.38
93975 | S | Vascular study | 0267 | 2.72 | $131.88 | $80.06 | $26.38
93976 | S | Vascular study | 0267 | 2.72 | $131.88 | $80.06 | $26.38
93978 | S | Vascular study | 0267 | 2.72 | $131.88 | $80.06 | $26.38
93979 | S | Vascular study | 0267 | 2.72 | $131.88 | $80.06 | $26.38
93980 | S | Penile vascular study | 0267 | 2.72 | $131.88 | $80.06 | $26.38
93981 | S | Penile vascular study | 0267 | 2.72 | $131.88 | $80.06 | $26.38
93990 | S | Doppler flow testing | 0267 | 2.72 | $131.88 | $80.06 | $26.38
94010 | X | Breathing capacity test | 0367 | 0.83 | $40.24 | $20.65 | $8.05
94014 | X | Patient recorded spirometry | 0369 | 2.34 | $113.46 | $58.50 | $22.69
94015 | X | Patient recorded spirometry | 0369 | 2.34 | $113.46 | $58.50 | $22.69
94016 | X | Review patient spirometry | 0369 | 2.34 | $113.46 | $58.50 | $22.69
94060 | X | Evaluation of wheezing | 0368 | 1.66 | $80.49 | $42.44 | $16.10
94070 | X | Evaluation of wheezing | 0369 | 2.34 | $113.46 | $58.50 | $22.69
94150 | N | Vital capacity test |  |  |  |  |
94200 | X | Lung function test (MBC/MVV) | 0367 | 0.83 | $40.24 | $20.65 | $8.05
94240 | X | Residual lung capacity | 0368 | 1.66 | $80.49 | $42.44 | $16.10
94250 | X | Expired gas collection | 0367 | 0.83 | $40.24 | $20.65 | $8.05
94260 | X | Thoracic gas volume | 0368 | 1.66 | $80.49 | $42.44 | $16.10
94350 | X | Lung nitrogen washout curve | 0368 | 1.66 | $80.49 | $42.44 | $16.10
94360 | X | Measure airflow resistance | 0368 | 1.66 | $80.49 | $42.44 | $16.10
94370 | X | Breath airway closing volume | 0368 | 1.66 | $80.49 | $42.44 | $16.10
94375 | X | Respiratory flow volume loop | 0367 | 0.83 | $40.24 | $20.65 | $8.05
94400 | X | CO2 breathing response curve | 0367 | 0.83 | $40.24 | $20.65 | $8.05
94450 | X | Hypoxia response curve | 0367 | 0.83 | $40.24 | $20.65 | $8.05
94620 | X | Pulmonary stress test/simple | 0368 | 1.66 | $80.49 | $42.44 | $16.10
94621 | X | Pulm stress test/complex | 0369 | 2.34 | $113.46 | $58.50 | $22.69
94640 | S | Airway inhalation treatment | 0077 | 0.43 | $20.85 | $12.62 | $4.17
94642 | S | Aerosol inhalation treatment | 0078 | 1.34 | $64.97 | $29.13 | $12.99
94650 | S | Pressure breathing (IPPB) | 0077 | 0.43 | $20.85 | $12.62 | $4.17
94651 | S | Pressure breathing (IPPB) | 0077 | 0.43 | $20.85 | $12.62 | $4.17
94652 | C | Pressure breathing (IPPB) |  |  |  |  |
94656 | S | Initial ventilator mgmt | 0079 | 3.18 | $154.19 | $107.70 | $30.84
94657 | S | Continued ventilator mgmt | 0079 | 3.18 | $154.19 | $107.70 | $30.84
94660 | S | Pos airway pressure, CPAP | 0079 | 3.18 | $154.19 | $107.70 | $30.84
94662 | S | Neg press ventilation, cnp | 0079 | 3.18 | $154.19 | $107.70 | $30.84
94664 | S | Aerosol or vapor inhalations | 0077 | 0.43 | $20.85 | $12.62 | $4.17
94665 | S | Aerosol or vapor inhalations | 0077 | 0.43 | $20.85 | $12.62 | $4.17
94667 | S | Chest wall manipulation | 0077 | 0.43 | $20.85 | $12.62 | $4.17
94668 | S | Chest wall manipulation | 0077 | 0.43 | $20.85 | $12.62 | $4.17
94680 | X | Exhaled air analysis, o2 | 0367 | 0.83 | $40.24 | $20.65 | $8.05
94681 | X | Exhaled air analysis, o2/co2 | 0368 | 1.66 | $80.49 | $42.44 | $16.10
94690 | X | Exhaled air analysis | 0367 | 0.83 | $40.24 | $20.65 | $8.05
94720 | X | Monoxide diffusing capacity | 0367 | 0.83 | $40.24 | $20.65 | $8.05
94725 | X | Membrane diffusion capacity | 0368 | 1.66 | $80.49 | $42.44 | $16.10
94750 | X | Pulmonary compliance study | 0368 | 1.66 | $80.49 | $42.44 | $16.10
94760 | N | Measure blood oxygen level |  |  |  |  |
94761 | N | Measure blood oxygen level |  |  |  |  |
94762 | C | Measure blood oxygen level |  |  |  |  |
94770 | X | Exhaled carbon dioxide test | 0367 | 0.83 | $40.24 | $20.65 | $8.05
94772 | X | Breath recording, infant | 0369 | 2.34 | $113.46 | $58.50 | $22.69
94799 | X | Pulmonary service/procedure | 0367 | 0.83 | $40.24 | $20.65 | $8.05
95004 | X | Allergy skin tests | 0370 | 0.57 | $27.64 | $11.81 | $5.53
95010 | X | Sensitivity skin tests | 0370 | 0.57 | $27.64 | $11.81 | $5.53
95015 | X | Sensitivity skin tests | 0370 | 0.57 | $27.64 | $11.81 | $5.53
95024 | X | Allergy skin tests | 0370 | 0.57 | $27.64 | $11.81 | $5.53
95027 | X | Skin end point titration | 0370 | 0.57 | $27.64 | $11.81 | $5.53
95028 | X | Allergy skin tests | 0370 | 0.57 | $27.64 | $11.81 | $5.53
95044 | X | Allergy patch tests | 0370 | 0.57 | $27.64 | $11.81 | $5.53
95052 | X | Photo patch test | 0370 | 0.57 | $27.64 | $11.81 | $5.53
95056 | X | Photosensitivity tests | 0370 | 0.57 | $27.64 | $11.81 | $5.53
95060 | X | Eye allergy tests | 0370 | 0.57 | $27.64 | $11.81 | $5.53
95065 | X | Nose allergy test | 0370 | 0.57 | $27.64 | $11.81 | $5.53
95070 | X | Bronchial allergy tests | 0369 | 2.34 | $113.46 | $58.50 | $22.69
95071 | X | Bronchial allergy tests | 0369 | 2.34 | $113.46 | $58.50 | $22.69
95075 | X | Ingestion challenge test | 0361 | 3.53 | $171.16 | $88.09 | $34.23
95078 | X | Provocative testing | 0370 | 0.57 | $27.64 | $11.81 | $5.53
95115 | X | Immunotherapy, one injection | 0371 | 0.32 | $15.52 | $3.67 | $3.10
95117 | X | Immunotherapy injections | 0371 | 0.32 | $15.52 | $3.67 | $3.10
95120 | E | Immunotherapy, one injection |  |  |  |  |
95125 | E | Immunotherapy, many antigens |  |  |  |  |
95130 | E | Immunotherapy, insect venom |  |  |  |  |
95131 | E | Immunotherapy, insect venoms |  |  |  |  |
95132 | E | Immunotherapy, insect venoms |  |  |  |  |
95133 | E | Immunotherapy, insect venoms |  |  |  |  |
95134 | E | Immunotherapy, insect venoms |  |  |  |  |
95144 | X | Antigen therapy services | 0371 | 0.32 | $15.52 | $3.67 | $3.10
95145 | X | Antigen therapy services | 0371 | 0.32 | $15.52 | $3.67 | $3.10
95146 | X | Antigen therapy services | 0371 | 0.32 | $15.52 | $3.67 | $3.10
95147 | X | Antigen therapy services | 0371 | 0.32 | $15.52 | $3.67 | $3.10
95148 | X | Antigen therapy services | 0371 | 0.32 | $15.52 | $3.67 | $3.10
95149 | X | Antigen therapy services | 0371 | 0.32 | $15.52 | $3.67 | $3.10
95165 | X | Antigen therapy services | 0371 | 0.32 | $15.52 | $3.67 | $3.10
95170 | X | Antigen therapy services | 0371 | 0.32 | $15.52 | $3.67 | $3.10
95180 | X | Rapid desensitization | 0370 | 0.57 | $27.64 | $11.81 | $5.53
95199 | X | Allergy immunology services | 0370 | 0.57 | $27.64 | $11.81 | $5.53
95805 | S | Multiple sleep latency test | 0213 | 11.15 | $540.63 | $290.42 | $108.13
95806 | S | Sleep study, unattended | 0213 | 11.15 | $540.63 | $290.42 | $108.13
95807 | S | Sleep study, attended | 0213 | 11.15 | $540.63 | $290.42 | $108.13
95808 | S | Polysomnography, 1-3 | 0213 | 11.15 | $540.63 | $290.42 | $108.13
95810 | S | Polysomnography, 4 or more | 0213 | 11.15 | $540.63 | $290.42 | $108.13
95811 | S | Polysomnography w/cpap | 0213 | 11.15 | $540.63 | $290.42 | $108.13
95812 | S | Electroencephalogram (EEG) | 0213 | 11.15 | $540.63 | $290.42 | $108.13
95813 | S | Electroencephalogram (EEG) | 0213 | 11.15 | $540.63 | $290.42 | $108.13
95816 | S | Electroencephalogram (EEG) | 0214 | 2.32 | $112.49 | $58.50 | $22.50
95819 | S | Electroencephalogram (EEG) | 0214 | 2.32 | $112.49 | $58.50 | $22.50
95822 | S | Sleep electroencephalogram | 0214 | 2.32 | $112.49 | $58.50 | $22.50
95824 | S | Electroencephalography | 0214 | 2.32 | $112.49 | $58.50 | $22.50
95827 | S | Night electroencephalogram | 0213 | 11.15 | $540.63 | $290.42 | $108.13
95829 | S | Surgery electrocorticogram | 0214 | 2.32 | $112.49 | $58.50 | $22.50
95830 | E | Insert electrodes for EEG |  |  |  |  |
95831 | N | Limb muscle testing, manual |  |  |  |  |
95832 | N | Hand muscle testing, manual |  |  |  |  |
95833 | N | Body muscle testing, manual |  |  |  |  |
95834 | N | Body muscle testing, manual |  |  |  |  |
95851 | N | Range of motion measurements |  |  |  |  |
95852 | N | Range of motion measurements |  |  |  |  |
95857 | S | Tensilon test | 0215 | 1.15 | $55.76 | $30.05 | $11.15
95858 | S | Tensilon test & myogram | 0215 | 1.15 | $55.76 | $30.05 | $11.15
95860 | S | Muscle test, one limb | 0215 | 1.15 | $55.76 | $30.05 | $11.15
95861 | S | Muscle test, two limbs | 0215 | 1.15 | $55.76 | $30.05 | $11.15
95863 | S | Muscle test, 3 limbs | 0216 | 2.87 | $139.16 | $64.69 | $27.83
95864 | S | Muscle test, 4 limbs | 0215 | 1.15 | $55.76 | $30.05 | $11.15
95867 | S | Muscle test, head or neck | 0216 | 2.87 | $139.16 | $64.69 | $27.83
95868 | S | Muscle test, head or neck | 0216 | 2.87 | $139.16 | $64.69 | $27.83
95869 | S | Muscle test, thor paraspinal | 0215 | 1.15 | $55.76 | $30.05 | $11.15
95870 | S | Muscle test, nonparaspinal | 0215 | 1.15 | $55.76 | $30.05 | $11.15
95872 | S | Muscle test, one fiber | 0215 | 1.15 | $55.76 | $30.05 | $11.15
95875 | S | Limb exercise test | 0217 | 5.87 | $284.62 | $156.68 | $56.92
95900 | S | Motor nerve conduction test | 0215 | 1.15 | $55.76 | $30.05 | $11.15
95903 | S | Motor nerve conduction test | 0215 | 1.15 | $55.76 | $30.05 | $11.15
95904 | S | Sense/mixed n conduction tst | 0215 | 1.15 | $55.76 | $30.05 | $11.15
95920 | C | Intraop nerve test add-on |  |  |  |  |
95921 | S | Autonomic nerv function test | 0216 | 2.87 | $139.16 | $64.69 | $27.83
95922 | S | Autonomic nerv function test | 0216 | 2.87 | $139.16 | $64.69 | $27.83
95923 | S | Autonomic nerv function test | 0216 | 2.87 | $139.16 | $64.69 | $27.83
95925 | S | Somatosensory testing | 0216 | 2.87 | $139.16 | $64.69 | $27.83
95926 | S | Somatosensory testing | 0216 | 2.87 | $139.16 | $64.69 | $27.83
95927 | S | Somatosensory testing | 0216 | 2.87 | $139.16 | $64.69 | $27.83
95930 | S | Visual evoked potential test | 0216 | 2.87 | $139.16 | $64.69 | $27.83
95933 | S | Blink reflex test | 0215 | 1.15 | $55.76 | $30.05 | $11.15
95934 | S | H-reflex test | 0215 | 1.15 | $55.76 | $30.05 | $11.15
95936 | S | H-reflex test | 0216 | 2.87 | $139.16 | $64.69 | $27.83
95937 | S | Neuromuscular junction test | 0215 | 1.15 | $55.76 | $30.05 | $11.15
95950 | S | Ambulatory eeg monitoring | 0217 | 5.87 | $284.62 | $156.68 | $56.92
95951 | S | EEG monitoring/videorecord | 0213 | 11.15 | $540.63 | $290.42 | $108.13
95953 | S | EEG monitoring/computer | 0213 | 11.15 | $540.63 | $290.42 | $108.13
95954 | S | EEG monitoring/giving drugs | 0213 | 11.15 | $540.63 | $290.42 | $108.13
95955 | S | EEG during surgery | 0214 | 2.32 | $112.49 | $58.50 | $22.50
95956 | N | Eeg monitoring, cable/radio |  |  |  |  |
95957 | N | EEG digital analysis |  |  |  |  |
95958 | S | EEG monitoring/function test | 0213 | 11.15 | $540.63 | $290.42 | $108.13
95961 | C | Electrode stimulation, brain |  |  |  |  |
95962 | C | Electrode stim, brain add-on |  |  |  |  |
95970 | S | Analyze neurostim, no prog | 0102 | 0.45 | $21.82 | $12.62 | $4.36
95971 | S | Analyze neurostim, simple | 0102 | 0.45 | $21.82 | $12.62 | $4.36
95972 | S | Analyze neurostim, complex | 0102 | 0.45 | $21.82 | $12.62 | $4.36
95973 | S | Analyze neurostim, complex | 0102 | 0.45 | $21.82 | $12.62 | $4.36
95974 | S | Cranial neurostim, complex | 0102 | 0.45 | $21.82 | $12.62 | $4.36
95975 | S | Cranial neurostim, complex | 0102 | 0.45 | $21.82 | $12.62 | $4.36
95999 | N | Neurological procedure |  |  |  |  |
96100 | X | Psychological testing | 0373 | 3.21 | $155.64 | $44.96 | $31.13
96105 | X | Assessment of aphasia | 0373 | 3.21 | $155.64 | $44.96 | $31.13
96110 | X | Developmental test, lim | 0373 | 3.21 | $155.64 | $44.96 | $31.13
96111 | X | Developmental test, extend | 0373 | 3.21 | $155.64 | $44.96 | $31.13
96115 | X | Neurobehavior status exam | 0373 | 3.21 | $155.64 | $44.96 | $31.13
96117 | X | Neuropsych test battery | 0373 | 3.21 | $155.64 | $44.96 | $31.13
96400 | E | Chemotherapy, sc/im |  |  |  |  |
96405 | E | Intralesional chemo admin |  |  |  |  |
96406 | E | Intralesional chemo admin |  |  |  |  |
96408 | E | Chemotherapy, push technique |  |  |  |  |
96410 | E | Chemotherapy, infusion method |  |  |  |  |
96412 | E | Chemo, infuse method add-on |  |  |  |  |
96414 | E | Chemo, infuse method add-on |  |  |  |  |
96420 | E | Chemotherapy, push technique |  |  |  |  |
96422 | E | Chemotherapy, infusion method |  |  |  |  |
96423 | E | Chemo, infuse method add-on |  |  |  |  |
96425 | E | Chemotherapy, infusion method |  |  |  |  |
96440 | E | Chemotherapy, intracavitary |  |  |  |  |
96445 | E | Chemotherapy, intracavitary |  |  |  |  |
96450 | E | Chemotherapy, into CNS |  |  |  |  |
96520 | E | Pump refilling, maintenance |  |  |  |  |
96530 | E | Pump refilling, maintenance |  |  |  |  |
96542 | E | Chemotherapy injection |  |  |  |  |
96545 | E | Provide chemotherapy agent |  |  |  |  |
96549 | E | Chemotherapy, unspecified |  |  |  |  |
96570 | T | Photodynamic tx, 30 min | 0075 | 18.55 | $899.44 | $467.29 | $179.89
96571 | T | Photodynamic tx, addl 15 min | 0075 | 18.55 | $899.44 | $467.29 | $179.89
96900 | S | Ultraviolet light therapy | 0001 | 0.47 | $22.79 | $8.49 | $4.56
96902 | N | Trichogram |  |  |  |  |
96910 | S | Photochemotherapy with UV-B | 0001 | 0.47 | $22.79 | $8.49 | $4.56
96912 | S | Photochemotherapy with UV-A | 0001 | 0.47 | $22.79 | $8.49 | $4.56
96913 | S | Photochemotherapy, UV-A or B | 0001 | 0.47 | $22.79 | $8.49 | $4.56
96999 | S | Dermatological procedure | 0001 | 0.47 | $22.79 | $8.49 | $4.56
97001 | A | Pt evaluation |  |  |  |  |
97002 | A | Pt re-evaluation |  |  |  |  |
97003 | A | Ot evaluation |  |  |  |  |
97004 | A | Ot re-evaluation |  |  |  |  |
97010 | A | Hot or cold packs therapy |  |  |  |  |
97012 | A | Mechanical traction therapy |  |  |  |  |
97014 | A | Electric stimulation therapy |  |  |  |  |
97016 | A | Vasopneumatic device therapy |  |  |  |  |
97018 | A | Paraffin bath therapy |  |  |  |  |
97020 | A | Microwave therapy |  |  |  |  |
97022 | A | Whirlpool therapy |  |  |  |  |
97024 | A | Diathermy treatment |  |  |  |  |
97026 | A | Infrared therapy |  |  |  |  |
97028 | A | Ultraviolet therapy |  |  |  |  |
97032 | A | Electrical stimulation |  |  |  |  |
97033 | A | Electric current therapy |  |  |  |  |
97034 | A | Contrast bath therapy |  |  |  |  |
97035 | A | Ultrasound therapy |  |  |  |  |
97036 | A | Hydrotherapy |  |  |  |  |
97039 | A | Physical therapy treatment |  |  |  |  |
97110 | A | Therapeutic exercises |  |  |  |  |
97112 | A | Neuromuscular reeducation |  |  |  |  |
97113 | A | Aquatic therapy/exercises |  |  |  |  |
97116 | A | Gait training therapy |  |  |  |  |
97124 | A | Massage therapy |  |  |  |  |
97139 | A | Physical medicine procedure |  |  |  |  |
97140 | A | Manual therapy |  |  |  |  |
97150 | A | Group therapeutic procedures |  |  |  |  |
97504 | A | Orthotic training |  |  |  |  |
97520 | A | Prosthetic training |  |  |  |  |
97530 | A | Therapeutic activities |  |  |  |  |
97535 | A | Self care mngment training |  |  |  |  |
97537 | A | Community/work reintegration |  |  |  |  |
97542 | A | Wheelchair mngment training |  |  |  |  |
97545 | A | Work hardening |  |  |  |  |
97546 | A | Work hardening add-on |  |  |  |  |
97703 | A | Prosthetic checkout |  |  |  |  |
97750 | A | Physical performance test |  |  |  |  |
97770 | A | Cognitive skills development |  |  |  |  |
97780 | E | Acupuncture w/o stimul |  |  |  |  |
97781 | E | Acupuncture w/stimul |  |  |  |  |
97799 | A | Physical medicine procedure |  |  |  |  |
98925 | S | Osteopathic manipulation | 0060 | 0.77 | $37.34 | $7.80 | $7.47
98926 | S | Osteopathic manipulation | 0060 | 0.77 | $37.34 | $7.80 | $7.47
98927 | S | Osteopathic manipulation | 0060 | 0.77 | $37.34 | $7.80 | $7.47
98928 | S | Osteopathic manipulation | 0060 | 0.77 | $37.34 | $7.80 | $7.47
98929 | S | Osteopathic manipulation | 0060 | 0.77 | $37.34 | $7.80 | $7.47
98940 | S | Chiropractic manipulation | 0060 | 0.77 | $37.34 | $7.80 | $7.47
98941 | S | Chiropractic manipulation | 0060 | 0.77 | $37.34 | $7.80 | $7.47
98942 | S | Chiropractic manipulation | 0060 | 0.77 | $37.34 | $7.80 | $7.47
98943 | E | Chiropractic manipulation |  |  |  |  |
99000 | E | Specimen handling |  |  |  |  |
99001 | E | Specimen handling |  |  |  |  |
99002 | E | Device handling |  |  |  |  |
99024 | E | Postop follow-up visit |  |  |  |  |
99025 | E | Initial surgical evaluation |  |  |  |  |
99050 | E | Medical services after hrs |  |  |  |  |
99052 | E | Medical services at night |  |  |  |  |
99054 | E | Medical servcs, unusual hrs |  |  |  |  |
99056 | E | Non-office medical services |  |  |  |  |
99058 | E | Office emergency care |  |  |  |  |
99070 | E | Special supplies |  |  |  |  |
99071 | E | Patient education materials |  |  |  |  |
99075 | E | Medical testimony |  |  |  |  |
99078 | E | Group health education |  |  |  |  |
99080 | E | Special reports or forms |  |  |  |  |
99082 | E | Unusual physician travel |  |  |  |  |
99090 | E | Computer data analysis |  |  |  |  |
99100 | E | Special anesthesia service |  |  |  |  |
99116 | E | Anesthesia with hypothermia |  |  |  |  |
99135 | E | Special anesthesia procedure |  |  |  |  |
99140 | E | Emergency anesthesia |  |  |  |  |
99141 | N | Sedation, iv/im or inhalant |  |  |  |  |
99142 | N | Sedation, oral/rectal/nasal |  |  |  |  |
99170 | T | Anogenital exam, child | 0192 | 2.38 | $115.40 | $35.33 | $23.08
99173 | N | Visual screening test |  |  |  |  |
99175 | N | Induction of vomiting |  |  |  |  |
99183 | S | Hyperbaric oxygen therapy | 0031 | 3.00 | $145.46 | $140.85 | $29.09
99185 | N | Regional hypothermia |  |  |  |  |
99186 | N | Total body hypothermia |  |  |  |  |
99190 | C | Special pump services |  |  |  |  |
99191 | C | Special pump services |  |  |  |  |
99192 | C | Special pump services |  |  |  |  |
99195 | X | Phlebotomy | 0372 | 0.43 | $20.85 | $10.09 | $4.17
99199 | E | Special service/proc/report |  |  |  |  |
99201 | V | Office/outpatient visit, new | 0600 | 0.98 | $47.52 | $9.50 | $9.50
99202 | V | Office/outpatient visit, new | 0600 | 0.98 | $47.52 | $9.50 | $9.50
99203 | V | Office/outpatient visit, new | 0601 | 1.00 | $48.49 | $9.70 | $9.70
99204 | V | Office/outpatient visit, new | 0602 | 1.66 | $80.49 | $16.29 | $16.10
99205 | V | Office/outpatient visit, new | 0602 | 1.66 | $80.49 | $16.29 | $16.10
99211 | V | Office/outpatient visit, est | 0600 | 0.98 | $47.52 | $9.50 | $9.50
99212 | V | Office/outpatient visit, est | 0600 | 0.98 | $47.52 | $9.50 | $9.50
99213 | V | Office/outpatient visit, est | 0601 | 1.00 | $48.49 | $9.70 | $9.70
99214 | V | Office/outpatient visit, est | 0602 | 1.66 | $80.49 | $16.29 | $16.10
99215 | V | Office/outpatient visit, est | 0602 | 1.66 | $80.49 | $16.29 | $16.10
99217 | N | Observation care discharge |  |  |  |  |
99218 | N | Observation care |  |  |  |  |
99219 | N | Observation care |  |  |  |  |
99220 | N | Observation care |  |  |  |  |
99221 | E | Initial hospital care |  |  |  |  |
99222 | E | Initial hospital care |  |  |  |  |
99223 | E | Initial hospital care |  |  |  |  |
99231 | E | Subsequent hospital care |  |  |  |  |
99232 | E | Subsequent hospital care |  |  |  |  |
99233 | E | Subsequent hospital care |  |  |  |  |
99234 | C | Observ/hosp same date |  |  |  |  |
99235 | C | Observ/hosp same date |  |  |  |  |
99236 | C | Observ/hosp same date |  |  |  |  |
99238 | E | Hospital discharge day |  |  |  |  |
99239 | E | Hospital discharge day |  |  |  |  |
99241 | V | Office consultation | 0600 | 0.98 | $47.52 | $9.50 | $9.50
99242 | V | Office consultation | 0600 | 0.98 | $47.52 | $9.50 | $9.50
99243 | V | Office consultation | 0601 | 1.00 | $48.49 | $9.70 | $9.70
99244 | V | Office consultation | 0602 | 1.66 | $80.49 | $16.29 | $16.10
99245 | V | Office consultation | 0602 | 1.66 | $80.49 | $16.29 | $16.10
99251 | C | Initial inpatient consult |  |  |  |  |
99252 | C | Initial inpatient consult |  |  |  |  |
99253 | C | Initial inpatient consult |  |  |  |  |
99254 | C | Initial inpatient consult |  |  |  |  |
99255 | C | Initial inpatient consult |  |  |  |  |
99261 | C | Follow-up inpatient consult |  |  |  |  |
99262 | C | Follow-up inpatient consult |  |  |  |  |
99263 | C | Follow-up inpatient consult |  |  |  |  |
99271 | V | Confirmatory consultation | 0600 | 0.98 | $47.52 | $9.50 | $9.50
99272 | V | Confirmatory consultation | 0600 | 0.98 | $47.52 | $9.50 | $9.50
99273 | V | Confirmatory consultation | 0601 | 1.00 | $48.49 | $9.70 | $9.70
99274 | V | Confirmatory consultation | 0602 | 1.66 | $80.49 | $16.29 | $16.10
99275 | V | Confirmatory consultation | 0602 | 1.66 | $80.49 | $16.29 | $16.10
99281 | V | Emergency dept visit | 0610 | 1.34 | $64.97 | $20.65 | $12.99
99282 | V | Emergency dept visit | 0610 | 1.34 | $64.97 | $20.65 | $12.99
99283 | V | Emergency dept visit | 0611 | 2.11 | $102.31 | $36.47 | $20.46
99284 | V | Emergency dept visit | 0612 | 3.19 | $154.67 | $54.14 | $30.93
99285 | V | Emergency dept visit | 0612 | 3.19 | $154.67 | $54.14 | $30.93
99288 | E | Direct advanced life support |  |  |  |  |
99291 | S | Critical care, first hour | 0620 | 8.60 | $416.99 | $152.78 | $83.40
99292 | N | Critical care, addl 30 min |  |  |  |  |
99295 | C | Neonatal critical care |  |  |  |  |
99296 | C | Neonatal critical care |  |  |  |  |
99297 | C | Neonatal critical care |  |  |  |  |
99298 | C | Neonatal critical care |  |  |  |  |
99301 | E | Nursing facility care |  |  |  |  |
99302 | E | Nursing facility care |  |  |  |  |
99303 | E | Nursing facility care |  |  |  |  |
99311 | E | Nursing fac care, subseq |  |  |  |  |
99312 | E | Nursing fac care, subseq |  |  |  |  |
99313 | E | Nursing fac care, subseq |  |  |  |  |
99315 | E | Nursing fac discharge day |  |  |  |  |
99316 | E | Nursing fac discharge day |  |  |  |  |
99321 | E | Rest home visit, new patient |  |  |  |  |
99322 | E | Rest home visit, new patient |  |  |  |  |
99323 | E | Rest home visit, new patient |  |  |  |  |
99331 | E | Rest home visit, est pat |  |  |  |  |
99332 | E | Rest home visit, est pat |  |  |  |  |
99333 | E | Rest home visit, est pat |  |  |  |  |
99341 | E | Home visit, new patient |  |  |  |  |
99342 | E | Home visit, new patient |  |  |  |  |
99343 | E | Home visit, new patient |  |  |  |  |
99344 | E | Home visit, new patient |  |  |  |  |
99345 | E | Home visit, new patient |  |  |  |  |
99347 | E | Home visit, est patient |  |  |  |  |
99348 | E | Home visit, est patient |  |  |  |  |
99349 | E | Home visit, est patient |  |  |  |  |
99350 | E | Home visit, est patient |  |  |  |  |
99354 | N | Prolonged service, office |  |  |  |  |
99355 | N | Prolonged service, office |  |  |  |  |
99356 | C | Prolonged service, inpatient |  |  |  |  |
99357 | C | Prolonged service, inpatient |  |  |  |  |
99358 | N | Prolonged serv, w/o contact |  |  |  |  |
99359 | N | Prolonged serv, w/o contact |  |  |  |  |
99360 | E | Physician standby services |  |  |  |  |
99361 | E | Physician/team conference |  |  |  |  |
99362 | E | Physician/team conference |  |  |  |  |
99371 | E | Physician phone consultation |  |  |  |  |
99372 | E | Physician phone consultation |  |  |  |  |
99373 | E | Physician phone consultation |  |  |  |  |
99374 | E | Home health care supervision |  |  |  |  |
99375 | E | Home health care supervision |  |  |  |  |
99377 | E | Hospice care supervision |  |  |  |  |
99378 | E | Hospice care supervision |  |  |  |  |
99379 | E | Nursing fac care supervision |  |  |  |  |
99380 | E | Nursing fac care supervision |  |  |  |  |
99381 | E | Prev visit, new, infant |  |  |  |  |
99382 | E | Prev visit, new, age 1-4 |  |  |  |  |
99383 | E | Prev visit, new, age 5-11 |  |  |  |  |
99384 | E | Prev visit, new, age 12-17 |  |  |  |  |
99385 | E | Prev visit, new, age 18-39 |  |  |  |  |
99386 | E | Prev visit, new, age 40-64 |  |  |  |  |
99387 | E | Prev visit, new, 65 & over |  |  |  |  |
99391 | E | Prev visit, est, infant |  |  |  |  |
99392 | E | Prev visit, est, age 1-4 |  |  |  |  |
99393 | E | Prev visit, est, age 5-11 |  |  |  |  |
99394 | E | Prev visit, est, age 12-17 |  |  |  |  |
99395 | E | Prev visit, est, age 18-39 |  |  |  |  |
99396 | E | Prev visit, est, age 40-64 |  |  |  |  |
99397 | E | Prev visit, est, 65 & over |  |  |  |  |
99401 | E | Preventive counseling, indiv |  |  |  |  |
99402 | E | Preventive counseling, indiv |  |  |  |  |
99403 | E | Preventive counseling, indiv |  |  |  |  |
99404 | E | Preventive counseling, indiv |  |  |  |  |
99411 | E | Preventive counseling, group |  |  |  |  |
99412 | E | Preventive counseling, group |  |  |  |  |
99420 | E | Health risk assessment test |  |  |  |  |
99429 | E | Unlisted preventive service |  |  |  |  |
99431 | N | Initial care, normal newborn |  |  |  |  |
99432 | N | Newborn care, not in hosp |  |  |  |  |
99433 | C | Normal newborn care/hospital |  |  |  |  |
99435 | E | Newborn discharge day hosp |  |  |  |  |
99436 | N | Attendance, birth |  |  |  |  |
99440 | S | Newborn resuscitation | 0094 | 4.51 | $218.68 | $105.29 | $43.74
99450 | E | Life/disability evaluation |  |  |  |  |
99455 | E | Disability examination |  |  |  |  |
99456 | E | Disability examination |  |  |  |  |
99499 | E | Unlisted e&m service |  |  |  |  |
A0021 | E | Outside state ambulance serv |  |  |  |  |
A0030 | A | Air ambulance service |  |  |  |  |
A0040 | A | Helicopter ambulance service |  |  |  |  |
A0050 | A | Water amb service emergency |  |  |  |  |
A0080 | E | Noninterest escort in non er |  |  |  |  |
A0090 | E | Interest escort in non er |  |  |  |  |
A0100 | E | Nonemergency transport taxi |  |  |  |  |
A0110 | E | Nonemergency transport bus |  |  |  |  |
A0120 | E | Noner transport mini-bus |  |  |  |  |
A0130 | E | Noner transport wheelch van |  |  |  |  |
A0140 | E | Nonemergency transport air |  |  |  |  |
A0160 | E | Noner transport case worker |  |  |  |  |
A0170 | E | Noner transport parking fees |  |  |  |  |
A0180 | E | Noner transport lodgng recip |  |  |  |  |
A0190 | E | Noner transport meals recip |  |  |  |  |
A0200 | E | Noner transport lodgng escrt |  |  |  |  |
A0210 | E | Noner transport meals escort |  |  |  |  |
A0225 | A | Neonatal emergency transport |  |  |  |  |
A0300 | A | Ambulance basic non-emer all |  |  |  |  |
A0302 | A | Ambulance basic emergeny all |  |  |  |  |
A0304 | A | Amb adv non-er no serv all |  |  |  |  |
A0306 | A | Amb adv non-er spec serv all |  |  |  |  |
A0308 | A | Amb adv er no spec serv all |  |  |  |  |
A0310 | A | Amb adv er spec serv all |  |  |  |  |
A0320 | A | Amb basic non-er + supplies |  |  |  |  |
A0322 | A | Amb basic emerg + supplies |  |  |  |  |
A0324 | A | Adv non-er serv sep mileage |  |  |  |  |
A0326 | A | Adv non-er no serv sep mile |  |  |  |  |
A0328 | A | Adv er no serv sep mileage |  |  |  |  |
A0330 | A | Adv er spec serv sep mile |  |  |  |  |
A0340 | A | Amb basic non-er + mileage |  |  |  |  |
A0342 | A | Ambul basic emer + mileage |  |  |  |  |
A0344 | A | Amb adv non-er no serv +mile |  |  |  |  |
A0346 | A | Amb adv non-er serv + mile |  |  |  |  |
A0348 | A | Adv emer no spec serv + mile |  |  |  |  |
A0350 | A | Adv emer spec serv + mileage |  |  |  |  |
A0360 | A | Basic non-er sep mile & supp |  |  |  |  |
A0362 | A | Basic emer sep mile & supply |  |  |  |  |
A0364 | A | Adv non-er no serv sep mi&su |  |  |  |  |
A0366 | A | Adv non-er serv sep mil&supp |  |  |  |  |
A0368 | A | Adv er no serv sep mile&supp |  |  |  |  |
A0370 | A | Adv er spec serv sep mi&supp |  |  |  |  |
A0380 | A | Basic life support mileage |  |  |  |  |
A0382 | A | Basic support routine suppls |  |  |  |  |
A0384 | A | Bls defibrillation supplies |  |  |  |  |
A0390 | A | Advanced life support mileag |  |  |  |  |
A0392 | A | Als defibrillation supplies |  |  |  |  |
A0394 | A | Als IV drug therapy supplies |  |  |  |  |
A0396 | A | Als esophageal intub suppls |  |  |  |  |
A0398 | A | Als routine disposble suppls |  |  |  |  |
A0420 | A | Ambulance waiting 1/2 hr |  |  |  |  |
A0422 | A | Ambulance 02 life sustaining |  |  |  |  |
A0424 | A | Extra ambulance attendant |  |  |  |  |
A0888 | E | Noncovered ambulance mileage |  |  |  |  |
A0999 | A | Unlisted ambulance service |  |  |  |  |
A4206 | A | 1 CC sterile syringe & needle |  |  |  |  |
A4207 | A | 2 CC sterile syringe & needle |  |  |  |  |
A4208 | A | 3 CC sterile syringe & needle |  |  |  |  |
A4209 | A | 5+ CC sterile syringe & needle |  |  |  |  |
A4210 | E | Nonneedle injection device |  |  |  |  |
A4211 | A | Supp for self-adm injections |  |  |  |  |
A4212 | A | Non coring needle or stylet |  |  |  |  |
A4213 | A | 20+ CC syringe only |  |  |  |  |
A4214 | A | 30 CC sterile water/saline |  |  |  |  |
A4215 | A | Sterile needle |  |  |  |  |
A4220 | A | Infusion pump refill kit |  |  |  |  |
A4221 | A | Maint drug infus cath per wk |  |  |  |  |
A4222 | A | Drug infusion pump supplies |  |  |  |  |
A4230 | E | Infus insulin pump non needl |  |  |  |  |
A4231 | E | Infusion insulin pump needle |  |  |  |  |
A4232 | E | Syringe w/needle insulin 3cc |  |  |  |  |
A4244 | A | Alcohol or peroxide per pint |  |  |  |  |
A4245 | A | Alcohol wipes per box |  |  |  |  |
A4246 | A | Betadine/phisohex solution |  |  |  |  |
A4247 | A | Betadine/iodine swabs/wipes |  |  |  |  |
A4250 | E | Urine reagent strips/tablets |  |  |  |  |
A4253 | A | Blood glucose/reagent strips |  |  |  |  |
A4254 | A | Battery for glucose monitor |  |  |  |  |
A4255 | A | Glucose monitor platforms |  |  |  |  |
A4256 | A | Calibrator solution/chips |  |  |  |  |
A4258 | A | Lancet device each |  |  |  |  |
A4259 | A | Lancets per box |  |  |  |  |
A4260 | E | Levonorgestrel implant |  |  |  |  |
A4261 | E | Cervical cap contraceptive |  |  |  |  |
A4262 | N | Temporary tear duct plug |  |  |  |  |
A4263 | A | Permanent tear duct plug |  |  |  |  |
A4265 | A | Paraffin |  |  |  |  |
A4270 | A | Disposable endoscope sheath |  |  |  |  |
A4280 | A | Brst prsths adhsv attchmnt |  |  |  |  |
A4300 | A | Cath impl vasc access portal |  |  |  |  |
A4301 | A | Implantable access syst perc |  |  |  |  |
A4305 | A | Drug delivery system >=50 ML |  |  |  |  |
A4306 | A | Drug delivery system <=5 ML |  |  |  |  |
A4310 | A | Insert tray w/o bag/cath |  |  |  |  |
A4311 | A | Catheter w/o bag 2-way latex |  |  |  |  |
A4312 | A | Cath w/o bag 2-way silicone |  |  |  |  |
A4313 | A | Catheter w/bag 3-way |  |  |  |  |
A4314 | A | Cath w/drainage 2-way latex |  |  |  |  |
A4315 | A | Cath w/drainage 2-way silcne |  |  |  |  |
A4316 | A | Cath w/drainage 3-way |  |  |  |  |
A4320 | A | Irrigation tray |  |  |  |  |
A4321 | A | Cath therapeutic irrig agent |  |  |  |  |
A4322 | A | Irrigation syringe |  |  |  |  |
A4323 | A | Saline irrigation solution |  |  |  |  |
A4326 | A | Male external catheter |  |  |  |  |
A4327 | A | Fem urinary collect dev cup |  |  |  |  |
A4328 | A | Fem urinary collect pouch |  |  |  |  |
A4329 | A | External catheter start set |  |  |  |  |
A4330 | A | Stool collection pouch |  |  |  |  |
A4335 | A | Incontinence supply |  |  |  |  |
A4338 | A | Indwelling catheter latex |  |  |  |  |
A4340 | A | Indwelling catheter special |  |  |  |  |
A4344 | A | Cath indw foley 2 way silicn |  |  |  |  |
A4346 | A | Cath indw foley 3 way |  |  |  |  |
A4347 | A | Male external catheter |  |  |  |  |
A4351 | A | Straight tip urine catheter |  |  |  |  |
A4352 | A | Coude tip urinary catheter |  |  |  |  |
A4353 | A | Intermittent urinary cath |  |  |  |  |
A4354 | A | Cath insertion tray w/bag |  |  |  |  |
A4355 | A | Bladder irrigation tubing |  |  |  |  |
A4356 | A | Ext ureth clmp or compr dvc |  |  |  |  |
A4357 | A | Bedside drainage bag |  |  |  |  |
A4358 | A | Urinary leg bag |  |  |  |  |
A4359 | A | Urinary suspensory w/o leg b |  |  |  |  |
A4361 | A | Ostomy face plate |  |  |  |  |
A4362 | A | Solid skin barrier |  |  |  |  |
A4364 | A | Ostomy/cath adhesive |  |  |  |  |
A4365 | A | Ostomy adhesive remover wipe |  |  |  |  |
A4367 | A | Ostomy belt |  |  |  |  |
A4368 | A | Ostomy filter |  |  |  |  |
A4369 | A | Skin barrier liquid per oz |  |  |  |  |
A4370 | A | Skin barrier paste per oz |  |  |  |  |
A4371 | A | Skin barrier powder per oz |  |  |  |  |
A4372 | A | Skin barrier solid 4x4 equiv |  |  |  |  |
A4373 | A | Skin barrier with flange |  |  |  |  |
A4374 | A | Skin barrier extended wear |  |  |  |  |
A4375 | A | Drainable plastic pch w fcpl |  |  |  |  |
A4376 | A | Drainable rubber pch w fcplt |  |  |  |  |
A4377 | A | Drainable plstic pch w/o fp |  |  |  |  |
A4378 | A | Drainable rubber pch w/o fp |  |  |  |  |
A4379 | A | Urinary plastic pouch w fcpl |  |  |  |  |
A4380 | A | Urinary rubber pouch w fcplt |  |  |  |  |
A4381 | A | Urinary plastic pouch w/o fp |  |  |  |  |
A4382 | A | Urinary hvy plstc pch w/o fp |  |  |  |  |
A4383 | A | Urinary rubber pouch w/o fp |  |  |  |  |
A4384 | A | Ostomy faceplt/silicone ring |  |  |  |  |
A4385 | A | Ost skn barrier sld ext wear |  |  |  |  |
A4386 | A | Ost skn barrier w flng ex wr |  |  |  |  |
A4387 | A | Ost clsd pouch w att st barr |  |  |  |  |
A4388 | A | Drainable pch w ex wear barr |  |  |  |  |
A4389 | A | Drainable pch w st wear barr |  |  |  |  |
A4390 | A | Drainable pch ex wear convex |  |  |  |  |
A4391 | A | Urinary pouch w ex wear barr |  |  |  |  |
A4392 | A | Urinary pouch w st wear barr |  |  |  |  |
A4393 | A | Urine pch w ex wear bar conv |  |  |  |  |
A4394 | A | Ostomy pouch liq deodorant |  |  |  |  |
A4395 | A | Ostomy pouch solid deodorant |  |  |  |  |
A4397 | A | Irrigation supply sleeve |  |  |  |  |
A4398 | A | Ostomy irrigation bag |  |  |  |  |
A4399 | A | Ostomy irrig cone/cath w brs |  |  |  |  |
A4400 | A | Ostomy irrigation set |  |  |  |  |
A4402 | A | Lubricant per ounce |  |  |  |  |
A4404 | A | Ostomy ring each |  |  |  |  |
A4421 | A | Ostomy supply misc |  |  |  |  |
A4454 | A | Tape all types all sizes |  |  |  |  |
A4455 | A | Adhesive remover per ounce |  |  |  |  |
A4460 | A | Elastic compression bandage |  |  |  |  |
A4462 | A | Abdmnl drssng holder/binder |  |  |  |  |
A4465 | A | Non-elastic extremity binder |  |  |  |  |
A4470 | A | Gravlee jet washer |  |  |  |  |
A4480 | A | Vabra aspirator |  |  |  |  |
A4481 | A | Tracheostoma filter |  |  |  |  |
A4483 | A | Moisture exchanger |  |  |  |  |
A4490 | E | Above knee surgical stocking |  |  |  |  |
A4495 | E | Thigh length surg stocking |  |  |  |  |
A4500 | E | Below knee surgical stocking |  |  |  |  |
A4510 | E | Full length surg stocking |  |  |  |  |
A4550 | E | Surgical trays |  |  |  |  |
A4554 | E | Disposable underpads |  |  |  |  |
A4556 | A | Electrodes, pair |  |  |  |  |
A4557 | A | Lead wires, pair |  |  |  |  |
A4558 | A | Conductive paste or gel |  |  |  |  |
A4560 | A | Pessary |  |  |  |  |
A4565 | A | Slings |  |  |  |  |
A4570 | A | Splint |  |  |  |  |
A4572 | A | Rib belt |  |  |  |  |
A4575 | E | Hyperbaric o2 chamber disps |  |  |  |  |
A4580 | A | Cast supplies (plaster) |  |  |  |  |
A4590 | A | Special casting material |  |  |  |  |
A4595 | A | TENS suppl 2 lead per month |  |  |  |  |
A4611 | A | Heavy duty battery |  |  |  |  |
A4612 | A | Battery cables |  |  |  |  |
A4613 | A | Battery charger |  |  |  |  |
A4614 | A | Hand-held PEFR meter |  |  |  |  |
A4615 | A | Cannula nasal |  |  |  |  |
A4616 | A | Tubing (oxygen) per foot |  |  |  |  |
A4617 | A | Mouth piece |  |  |  |  |
A4618 | A | Breathing circuits |  |  |  |  |
A4619 | A | Face tent |  |  |  |  |
A4620 | A | Variable concentration mask |  |  |  |  |
A4621 | A | Tracheotomy mask or collar |  |  |  |  |
A4622 | A | Tracheostomy or larngectomy |  |  |  |  |
A4623 | A | Tracheostomy inner cannula |  |  |  |  |
A4624 | A | Tracheal suction tube |  |  |  |  |
A4625 | A | Trach care kit for new trach |  |  |  |  |
A4626 | A | Tracheostomy cleaning brush |  |  |  |  |
A4627 | E | Spacer bag/reservoir |  |  |  |  |
A4628 | A | Oropharyngeal suction cath |  |  |  |  |
A4629 | A | Tracheostomy care kit |  |  |  |  |
A4630 | A | Repl bat t.e.n.s. own by pt |  |  |  |  |
A4631 | A | Wheelchair battery |  |  |  |  |
A4635 | A | Underarm crutch pad |  |  |  |  |
A4636 | A | Handgrip for cane etc |  |  |  |  |
A4637 | A | Repl tip cane/crutch/walker |  |  |  |  |
A4640 | A | Alternating pressure pad |  |  |  |  |
A4641 | N | Diagnostic imaging agent |  |  |  |  |
³ A4642 | X | Satumomab pendetide per dose | 0704 |  |  |  | $63.13
A4643 | N | High dose contrast MRI |  |  |  |  |
A4644 | N | Contrast 100-199 MGs iodine |  |  |  |  |
A4645 | N | Contrast 200-299 MGs iodine |  |  |  |  |
A4646 | N | Contrast 300-399 MGs iodine |  |  |  |  |
A4647 | N | Supp-paramagnetic contr mat |  |  |  |  |
A4649 | A | Surgical supplies |  |  |  |  |
A4650 | A | Supp esrd centrifuge |  |  |  |  |
A4655 | A | Esrd syringe/needle |  |  |  |  |
A4660 | A | Esrd blood pressure device |  |  |  |  |
A4663 | A | Esrd blood pressure cuff |  |  |  |  |
A4670 | E | Auto blood pressure monitor |  |  |  |  |
A4680 | A | Activated carbon filters |  |  |  |  |
A4690 | A | Dialyzers |  |  |  |  |
A4700 | A | Standard dialysate solution |  |  |  |  |
A4705 | A | Bicarb dialysate solution |  |  |  |  |
A4712 | A | Sterile water |  |  |  |  |
A4714 | A | Treated water for dialysis |  |  |  |  |
A4730 | A | Fistula cannulation set dial |  |  |  |  |
A4735 | A | Local/topical anesthetics |  |  |  |  |
A4740 | A | Esrd shunt accessory |  |  |  |  |
A4750 | A | Arterial or venous tubing |  |  |  |  |
A4755 | A | Arterial and venous tubing |  |  |  |  |
A4760 | A | Standard testing solution |  |  |  |  |
A4765 | A | Dialysate concentrate |  |  |  |  |
A4770 | A | Blood testing supplies |  |  |  |  |
A4771 | A | Blood clotting time tube |  |  |  |  |
A4772 | A | Dextrostick/glucose strips |  |  |  |  |
A4773 | A | Hemostix |  |  |  |  |
A4774 | A | Ammonia test paper |  |  |  |  |
A4780 | A | Esrd sterilizing agent |  |  |  |  |
A4790 | A | Esrd cleansing agents |  |  |  |  |
A4800 | A | Heparin/antidote dialysis |  |  |  |  |
A4820 | A | Supplies hemodialysis kit |  |  |  |  |
A4850 | A | Rubber tipped hemostats |  |  |  |  |
A4860 | A | Disposable catheter caps |  |  |  |  |
A4870 | A | Plumbing/electrical work |  |  |  |  |
A4880 | A | Water storage tanks |  |  |  |  |
A4890 | A | Contracts/repair/maintenance |  |  |  |  |
A4900 | A | Capd supply kit |  |  |  |  |
A4901 | A | Ccpd supply kit |  |  |  |  |
A4905 | A | Ipd supply kit |  |  |  |  |
A4910 | A | Esrd nonmedical supplies |  |  |  |  |
A4912 | A | Gomco drain bottle |  |  |  |  |
A4913 | A | Esrd supply |  |  |  |  |
A4914 | A | Preparation kit |  |  |  |  |
A4918 | A | Venous pressure clamp |  |  |  |  |
A4919 | A | Supp dialysis dialyzer holde |  |  |  |  |
A4920 | A | Harvard pressure clamp |  |  |  |  |
A4921 | A | Measuring cylinder |  |  |  |  |
A4927 | A | Gloves |  |  |  |  |
A5051 | A | Pouch clsd w barr attached |  |  |  |  |
A5052 | A | Clsd ostomy pouch w/o barr |  |  |  |  |
A5053 | A | Clsd ostomy pouch faceplate |  |  |  |  |
A5054 | A | Clsd ostomy pouch w/flange |  |  |  |  |
A5055 | A | Stoma cap |  |  |  |  |
A5061 | A | Pouch drainable w barrier at |  |  |  |  |
A5062 | A | Drnble ostomy pouch w/o barr |  |  |  |  |
A5063 | A | Drain ostomy pouch w/flange |  |  |  |  |
A5064 | E | Drain ostomy pouch w/fceplte |  |  |  |  |
A5065 | E | Drain ostomy pouch on fcplte |  |  |  |  |
A5071 | A | Urinary pouch w/barrier |  |  |  |  |
A5072 | A | Urinary pouch w/o barrier |  |  |  |  |
A5073 | A | Urinary pouch on barr w/flng |  |  |  |  |
A5074 | E | Urinary pouch w/faceplate |  |  |  |  |
A5075 | E | Urinary pouch on faceplate |  |  |  |  |
A5081 | A | Continent stoma plug |  |  |  |  |
A5082 | A | Continent stoma catheter |  |  |  |  |
A5093 | A | Ostomy accessory convex inse |  |  |  |  |
A5102 | A | Bedside drain btl w/wo tube |  |  |  |  |
A5105 | A | Urinary suspensory |  |  |  |  |
A5112 | A | Urinary leg bag |  |  |  |  |
A5113 | A | Latex leg strap |  |  |  |  |
A5114 | A | Foam/fabric leg strap |  |  |  |  |
A5119 | A | Skin barrier wipes box pr 50 |  |  |  |  |
A5121 | A | Solid skin barrier 6x6 |  |  |  |  |
A5122 | A | Solid skin barrier 8x8 |  |  |  |  |
A5123 | A | Skin barrier with flange |  |  |  |  |
A5126 | A | Disk/foam pad +or- adhesive |  |  |  |  |
A5131 | A | Appliance cleaner |  |  |  |  |
A5149 | A | Incontinence/ostomy supply |  |  |  |  |
A5200 | A | Percutaneous catheter anchor |  |  |  |  |
A5500 | A | Diab shoe for density insert |  |  |  |  |
A5501 | A | Diabetic custom molded shoe |  |  |  |  |
A5502 | A | Diabetic shoe density insert |  |  |  |  |
A5503 | A | Diabetic shoe w/roller/rockr |  |  |  |  |
A5504 | A | Diabetic shoe with wedge |  |  |  |  |
A5505 | A | Diab shoe w/metatarsal bar |  |  |  |  |
A5506 | A | Diabetic shoe w/off set heel |  |  |  |  |
A5507 | A | Modification diabetic shoe |  |  |  |  |
A5508 | A | Diabetic deluxe shoe |  |  |  |  |
A6020 | A | Collagen wound dressing |  |  |  |  |
A6025 | E | Silicone gel sheet, each |  |  |  |  |
A6154 | A | Wound pouch each |  |  |  |  |
A6196 | A | Alginate dressing <=16 sq in |  |  |  |  |
A6197 | A | Alginate drsg >16 <=48 sq in |  |  |  |  |
A6198 | A | alginate dressing > 48 sq in |  |  |  |  |
A6199 | A | Alginate drsg wound filler |  |  |  |  |
A6200 | A | Compos drsg <=16 no border |  |  |  |  |
A6201 | A | Compos drsg >16<=48 no bdr |  |  |  |  |
A6202 | A | Compos drsg >48 no border |  |  |  |  |
A6203 | A | Composite drsg <= 16 sq in |  |  |  |  |
A6204 | A | Composite drsg >16<=48 sq in |  |  |  |  |
A6205 | A | Composite drsg > 48 sq in |  |  |  |  |
A6206 | A | Contact layer <= 16 sq in |  |  |  |  |
A6207 | A | Contact layer >16<= 48 sq in |  |  |  |  |
A6208 | A | Contact layer > 48 sq in |  |  |  |  |
A6209 | A | Foam drsg <=16 sq in w/o bdr |  |  |  |  |
A6210 | A | Foam drg >16<=48 sq in w/o b |  |  |  |  |
A6211 | A | Foam drg > 48 sq in w/o brdr |  |  |  |  |
A6212 | A | Foam drg <=16 sq in w/border |  |  |  |  |
A6213 | A | Foam drg >16<=48 sq in w/bdr |  |  |  |  |
A6214 | A | Foam drg > 48 sq in w/border |  |  |  |  |
A6215 | A | Foam dressing wound filler |  |  |  |  |
A6216 | A | Non-sterile gauze<=16 sq in |  |  |  |  |
A6217 | A | Non-sterile gauze>16<=48 sq |  |  |  |  |
A6218 | A | Non-sterile gauze > 48 sq in |  |  |  |  |
A6219 | A | Gauze <= 16 sq in w/border |  |  |  |  |
A6220 | A | Gauze >16 <=48 sq in w/bordr |  |  |  |  |
A6221 | A | Gauze > 48 sq in w/border |  |  |  |  |
A6222 | A | Gauze <=16 in no w/sal w/o b |  |  |  |  |
A6223 | A | Gauze >16<=48 no w/sal w/o b |  |  |  |  |
A6224 | A | Gauze > 48 in no w/sal w/o b |  |  |  |  |
A6228 | A | Gauze <= 16 sq in water/sal |  |  |  |  |
A6229 | A | Gauze >16<=48 sq in watr/sal |  |  |  |  |
A6230 | A | Gauze > 48 sq in water/salne |  |  |  |  |
A6234 | A | Hydrocolld drg <=16 w/o bdr |  |  |  |  |
A6235 | A | Hydrocolld drg >16<=48 w/o b |  |  |  |  |
A6236 | A | Hydrocolld drg > 48 in w/o b |  |  |  |  |
A6237 | A | Hydrocolld drg <=16 in w/bdr |  |  |  |  |
A6238 | A | Hydrocolld drg >16<=48 w/bdr |  |  |  |  |
A6239 | A | Hydrocolld drg > 48 in w/bdr |  |  |  |  |
A6240 | A | Hydrocolld drg filler paste |  |  |  |  |
A6241 | A | Hydrocolloid drg filler dry |  |  |  |  |
A6242 | A | Hydrogel drg <=16 in w/o bdr |  |  |  |  |
A6243 | A | Hydrogel drg >16<=48 w/o bdr |  |  |  |  |
A6244 | A | Hydrogel drg >48 in w/o bdr |  |  |  |  |
A6245 | A | Hydrogel drg <= 16 in w/bdr |  |  |  |  |
A6246 | A | Hydrogel drg >16<=48 in w/b |  |  |  |  |
A6247 | A | Hydrogel drg > 48 sq in w/b |  |  |  |  |
A6248 | A | Hydrogel drsg gel filler |  |  |  |  |
A6250 | A | Skin seal protect moisturizr |  |  |  |  |
A6251 | A | Absorpt drg <=16 sq in w/o b |  |  |  |  |
A6252 | A | Absorpt drg >16 <=48 w/o bdr |  |  |  |  |
A6253 | A | Absorpt drg > 48 sq in w/o b |  |  |  |  |
A6254 | A | Absorpt drg <=16 sq in w/bdr |  |  |  |  |
A6255 | A | Absorpt drg >16<=48 in w/bdr |  |  |  |  |
A6256 | A | Absorpt drg > 48 sq in w/bdr |  |  |  |  |
A6257 | A | Transparent film <= 16 sq in |  |  |  |  |
A6258 | A | Transparent film >16<=48 in |  |  |  |  |
A6259 | A | Transparent film > 48 sq in |  |  |  |  |
A6260 | A | Wound cleanser any type/size |  |  |  |  |
A6261 | A | Wound filler gel/paste/oz |  |  |  |  |
A6262 | A | Wound filler dry form/gram |  |  |  |  |
A6263 | A | Non-sterile elastic gauze/yd |  |  |  |  |
A6264 | A | Non-sterile no elastic gauze |  |  |  |  |
A6265 | A | Tape per 18 sq inches |  |  |  |  |
A6266 | A | Impreg gauze no h20/sal/yard |  |  |  |  |
A6402 | A | Sterile gauze <= 16 sq in |  |  |  |  |
A6403 | A | Sterile gauze>16 <= 48 sq in |  |  |  |  |
A6404 | A | Sterile gauze > 48 sq in |  |  |  |  |
A6405 | A | Sterile elastic gauze/yd |  |  |  |  |
A6406 | A | Sterile non-elastic gauze/yd |  |  |  |  |
A7000 | A | Disposable canister for pump |  |  |  |  |
A7001 | A | Nondisposable pump canister |  |  |  |  |
A7002 | A | Tubing used w suction pump |  |  |  |  |
A7003 | A | Nebulizer administration set |  |  |  |  |
A7004 | A | Disposable nebulizer sml vol |  |  |  |  |
A7005 | A | Nondisposable nebulizer set |  |  |  |  |
A7006 | A | Filtered nebulizer admin set |  |  |  |  |
A7007 | A | Lg vol nebulizer disposable |  |  |  |  |
A7008 | A | Disposable nebulizer prefill |  |  |  |  |
A7009 | A | Nebulizer reservoir bottle |  |  |  |  |
A7010 | A | Disposable corrugated tubing |  |  |  |  |
A7011 | A | Nondispos corrugated tubing |  |  |  |  |
A7012 | A | Nebulizer water collec devic |  |  |  |  |
A7013 | A | Disposable compressor filter |  |  |  |  |
A7014 | A | Compressor nondispos filter |  |  |  |  |
A7015 | A | Aerosol mask used w nebulize |  |  |  |  |
A7016 | A | Nebulizer dome & mouthpiece |  |  |  |  |
A7017 | A | Nebulizer not used w oxygen |  |  |  |  |
A9150 | E | Misc/exper non-prescript dru |  |  |  |  |
A9160 | E | Podiatrist non-covered servi |  |  |  |  |
A9170 | E | Chiropractor non-covered ser |  |  |  |  |
A9190 | E | Misc/expe personal comfort i |  |  |  |  |
A9270 | E | Non-covered item or service |  |  |  |  |
A9300 | E | Exercise equipment |  |  |  |  |
A9500 | N | Technetium TC 99m sestamibi |  |  |  |  |
³ A9502 | X | Technetium TC99M tetrofosmin | 0705 |  |  |  | $71.08
A9503 | N | Technetium TC 99m medronate |  |  |  |  |
A9504 | N | Technetium tc 99m apcitide |  |  |  |  |
A9505 | N | Thallous chloride TL 201/mci |  |  |  |  |
A9507 | N | Indium/111 capromab pendetid |  |  |  |  |
³ A9600 | X | Strontium-89 chloride | 0701 |  |  |  | $84.76
³ A9605 | X | Samarium sm153 lexidronamm | 0702 |  |  |  | $139.06
A9900 | E | Supply/accessory/service |  |  |  |  |
A9901 | E | Delivery/set up/dispensing |  |  |  |  |
B4034 | A | Enter feed supkit syr by day |  |  |  |  |
B4035 | A | Enteral feed supp pump per d |  |  |  |  |
B4036 | A | Enteral feed sup kit grav by |  |  |  |  |
B4081 | A | Enteral ng tubing w/stylet |  |  |  |  |
B4082 | A | Enteral ng tubing w/o stylet |  |  |  |  |
B4083 | A | Enteral stomach tube levine |  |  |  |  |
B4084 | A | Gastrostomy/jejunostomy tubi |  |  |  |  |
B4085 | A | Gastrostomy tube w/ring each |  |  |  |  |
B4150 | A | Enteral formulae category i |  |  |  |  |
B4151 | A | Enteral formulae category i- |  |  |  |  |
B4152 | A | Enteral formulae category ii |  |  |  |  |
B4153 | A | Enteral formulae category ii |  |  |  |  |
B4154 | A | Enteral formulae category IV |  |  |  |  |
B4155 | A | Enteral formulae category v |  |  |  |  |
B4156 | A | Enteral formulae category vi |  |  |  |  |
B4164 | A | Parenteral 50% dextrose solu |  |  |  |  |
B4168 | A | Parenteral sol amino acid 3. |  |  |  |  |
B4172 | A | Parenteral sol amino acid 5. |  |  |  |  |
B4176 | A | Parenteral sol amino acid 7- |  |  |  |  |
B4178 | A | Parenteral sol amino acid > |  |  |  |  |
B4180 | A | Parenteral sol carb > 50% |  |  |  |  |
B4184 | A | Parenteral sol lipids 10% |  |  |  |  |
B4186 | A | Parenteral sol lipids 20% |  |  |  |  |
B4189 | A | Parenteral sol amino acid & |  |  |  |  |
B4193 | A | Parenteral sol 52-73 gm prot |  |  |  |  |
B4197 | A | Parenteral sol 74-100 gm pro |  |  |  |  |
B4199 | A | Parenteral sol > 100gm prote |  |  |  |  |
B4216 | A | Parenteral nutrition additiv |  |  |  |  |
B4220 | A | Parenteral supply kit premix |  |  |  |  |
B4222 | A | Parenteral supply kit homemi |  |  |  |  |
B4224 | A | Parenteral administration ki |  |  |  |  |
B5000 | A | Parenteral sol renal-amirosy |  |  |  |  |
B5100 | A | Parenteral sol hepatic-fream |  |  |  |  |
B5200 | A | Parenteral sol stres-brnch c |  |  |  |  |
B9000 | A | Enter infusion pump w/o alrm |  |  |  |  |
B9002 | A | Enteral infusion pump w/ala |  |  |  |  |
B9004 | A | Parenteral infus pump portab |  |  |  |  |
B9006 | A | Parenteral infus pump statio |  |  |  |  |
B9998 | A | Enteral supp not otherwise c |  |  |  |  |
B9999 | A | Parenteral supp not othrws c |  |  |  |  |
D0120 | E | Periodic oral evaluation |  |  |  |  |
D0140 | E | Limit oral eval problm focus |  |  |  |  |
D0150 | S | Comprehensve oral evaluation | 0330 | 1.51 | $73.22 | $14.64 | $14.64
D0160 | E | Extensv oral eval prob focus |  |  |  |  |
D0170 | E | Re-eval, est pt, problem focus |  |  |  |  |
D0210 | E | Intraor complete film series |  |  |  |  |
D0220 | E | Intraoral periapical first f |  |  |  |  |
D0230 | E | Intraoral periapical ea add |  |  |  |  |
D0240 | S | Intraoral occlusal film | 0330 | 1.51 | $73.22 | $14.64 | $14.64
D0250 | S | Extraoral first film | 0330 | 1.51 | $73.22 | $14.64 | $14.64
D0260 | S | Extraoral ea additional film | 0330 | 1.51 | $73.22 | $14.64 | $14.64
D0270 | S | Dental bitewing single film | 0330 | 1.51 | $73.22 | $14.64 | $14.64
D0272 | S | Dental bitewings two films | 0330 | 1.51 | $73.22 | $14.64 | $14.64
D0274 | S | Dental bitewings four films | 0330 | 1.51 | $73.22 | $14.64 | $14.64
D0277 | E | Vert bitewings-sev to eight |  |  |  |  |
D0290 | E | Dental film skull/facial bon |  |  |  |  |
D0310 | E | Dental saliography |  |  |  |  |
D0320 | E | Dental tmj arthrogram incl i |  |  |  |  |
D0321 | E | Dental other tmj films |  |  |  |  |
D0322 | E | Dental tomographic survey |  |  |  |  |
D0330 | E | Dental panoramic film |  |  |  |  |
D0340 | E | Dental cephalometric film |  |  |  |  |
D0350 | E | Oral/facial images |  |  |  |  |
D0415 | E | Bacteriologic study |  |  |  |  |
D0425 | E | Caries susceptibility test |  |  |  |  |
D0460 | S | Pulp vitality test | 0330 | 1.51 | $73.22 | $14.64 | $14.64
D0470 | E | Diagnostic casts |  |  |  |  |
D0472 | E | Gross exam, prep & report |  |  |  |  |
D0473 | E | Micro exam, prep & report |  |  |  |  |
D0474 | E | Micro w exam of surg margins |  |  |  |  |
D0480 | E | Cytopath smear prep & report |  |  |  |  |
D0501 | S | Histopathologic examinations | 0330 | 1.51 | $73.22 | $14.64 | $14.64
D0502 | S | Other oral pathology procedu | 0330 | 1.51 | $73.22 | $14.64 | $14.64
D0999 | S | Unspecified diagnostic proce | 0330 | 1.51 | $73.22 | $14.64 | $14.64
D1110 | E | Dental prophylaxis adult |  |  |  |  |
D1120 | E | Dental prophylaxis child |  |  |  |  |
D1201 | E | Topical fluor w prophy child |  |  |  |  |
D1203 | E | Topical fluor w/o prophy chi |  |  |  |  |
D1204 | E | Topical fluor w/o prophy adu |  |  |  |  |
D1205 | E | Topical fluoride w/prophy a |  |  |  |  |
D1310 | E | Nutri counsel-control caries |  |  |  |  |
D1320 | E | Tobacco counseling |  |  |  |  |
D1330 | E | Oral hygiene instruction |  |  |  |  |
D1351 | E | Dental sealant per tooth |  |  |  |  |
D1510 | S | Space maintainer fxd unilat | 0330 | 1.51 | $73.22 | $14.64 | $14.64
D1515 | S | Fixed bilat space maintainer | 0330 | 1.51 | $73.22 | $14.64 | $14.64
D1520 | S | Remove unilat space maintain | 0330 | 1.51 | $73.22 | $14.64 | $14.64
D1525 | S | Remove bilat space maintain | 0330 | 1.51 | $73.22 | $14.64 | $14.64
D1550 | S | Recement space maintainer | 0330 | 1.51 | $73.22 | $14.64 | $14.64
D2110 | E | Amalgam one surface primary |  |  |  |  |
D2120 | E | Amalgam two surfaces primary |  |  |  |  |
D2130 | E | Amalgam three surfaces prima |  |  |  |  |
D2131 | E | Amalgam four/more surf prima |  |  |  |  |
D2140 | E | Amalgam one surface permanen |  |  |  |  |
D2150 | E | Amalgam two surfaces permane |  |  |  |  |
D2160 | E | Amalgam three surfaces perma |  |  |  |  |
D2161 | E | Amalgam 4 or > surfaces perm |  |  |  |  |
D2330 | E | Resin one surface-anterior |  |  |  |  |
D2331 | E | Resin two surfaces-anterior |  |  |  |  |
D2332 | E | Resin three surfaces-anterio |  |  |  |  |
D2335 | E | Resin 4/> surf or w incis an |  |  |  |  |
D2336 | E | Composite resin crown |  |  |  |  |
D2337 | E | Compo resin crown ant-perm |  |  |  |  |
D2380 | E | Resin one surf poster primar |  |  |  |  |
D2381 | E | Resin two surf poster primar |  |  |  |  |
D2382 | E | Resin three/more surf post p |  |  |  |  |
D2385 | E | Resin one surf poster perman |  |  |  |  |
D2386 | E | Resin two surf poster perman |  |  |  |  |
D2387 | E | Resin three/more surf post p |  |  |  |  |
D2388 | E | Resin four/more, post perm |  |  |  |  |
D2410 | E | Dental gold foil one surface |  |  |  |  |
D2420 | E | Dental gold foil two surface |  |  |  |  |
D2430 | E | Dental gold foil three surfa |  |  |  |  |
D2510 | E | Dental inlay metalic 1 surf |  |  |  |  |
D2520 | E | Dental inlay metallic 2 surf |  |  |  |  |
D2530 | E | Dental inlay metl 3/more sur |  |  |  |  |
D2542 | E | Dental onlay metallic 2 surf |  |  |  |  |
D2543 | E | Dental onlay metallic 3 surf |  |  |  |  |
D2544 | E | Dental onlay metl 4/more sur |  |  |  |  |
D2610 | E | Inlay porcelain/ceramic 1 su |  |  |  |  |
D2620 | E | Inlay porcelain/ceramic 2 su |  |  |  |  |
D2630 | E | Dental onlay porc 3/more sur |  |  |  |  |
D2642 | E | Dental onlay porcelin 2 surf |  |  |  |  |
D2643 | E | Dental onlay porcelin 3 surf |  |  |  |  |
D2644 | E | Dental onlay porc 4/more sur |  |  |  |  |
D2650 | E | Inlay composite/resin one su |  |  |  |  |
D2651 | E | Inlay composite/resin two su |  |  |  |  |
D2652 | E | Dental inlay resin 3/mre sur |  |  |  |  |
D2662 | E | Dental onlay resin 2 surface |  |  |  |  |
D2663 | E | Dental onlay resin 3 surface |  |  |  |  |
D2664 | E | Dental onlay resin 4/mre sur |  |  |  |  |
D2710 | E | Crown resin laboratory |  |  |  |  |
D2720 | E | Crown resin w/high noble me |  |  |  |  |
D2721 | E | Crown resin w/base metal |  |  |  |  |
D2722 | E | Crown resin w/noble metal |  |  |  |  |
D2740 | E | Crown porcelain/ceramic subs |  |  |  |  |
D2750 | E | Crown porcelain w/h noble m |  |  |  |  |
D2751 | E | Crown porcelain fused base m |  |  |  |  |
D2752 | E | Crown porcelain w/noble met |  |  |  |  |
D2780 | E | Crown 3/4 cast hi noble met |  |  |  |  |
D2781 | E | Crown 3/4 cast base metal |  |  |  |  |
D2782 | E | Crown 3/4 cast noble metal |  |  |  |  |
D2783 | E | Crown 3/4 porcelain/ceramic |  |  |  |  |
D2790 | E | Crown full cast high noble m |  |  |  |  |
D2791 | E | Crown full cast base metal |  |  |  |  |
D2792 | E | Crown full cast noble metal |  |  |  |  |
D2799 | E | Provisional crown |  |  |  |  |
D2910 | E | Dental recement inlay |  |  |  |  |
D2920 | E | Dental recement crown |  |  |  |  |
D2930 | E | Prefab stnlss steel crwn pri |  |  |  |  |
D2931 | E | Prefab stnlss steel crown pe |  |  |  |  |
D2932 | E | Prefabricated resin crown |  |  |  |  |
D2933 | E | Prefab stainless steel crown |  |  |  |  |
D2940 | E | Dental sedative filling |  |  |  |  |
D2950 | E | Core build-up incl any pins |  |  |  |  |
D2951 | E | Tooth pin retention |  |  |  |  |
D2952 | E | Post and core cast + crown |  |  |  |  |
D2953 | E | Each addtnl cast post |  |  |  |  |
D2954 | E | Prefab post/core + crown |  |  |  |  |
D2955 | E | Post removal |  |  |  |  |
D2957 | E | Each addtnl prefab post |  |  |  |  |
D2960 | E | Laminate labial veneer |  |  |  |  |
D2961 | E | Lab labial veneer resin |  |  |  |  |
D2962 | E | Lab labial veneer porcelain |  |  |  |  |
D2970 | S | Temporary-fractured tooth | 0330 | 1.51 | $73.22 | $14.64 | $14.64
D2980 | E | Crown repair |  |  |  |  |
D2999 | S | Dental unspec restorative pr | 0330 | 1.51 | $73.22 | $14.64 | $14.64
D3110 | E | Pulp cap direct |  |  |  |  |
D3120 | E | Pulp cap indirect |  |  |  |  |
D3220 | E | Therapeutic pulpotomy |  |  |  |  |
D3221 | E | Gross pulpal debridement |  |  |  |  |
D3230 | E | Pulpal therapy anterior prim |  |  |  |  |
D3240 | E | Pulpal therapy posterior pri |  |  |  |  |
D3310 | E | Anterior |  |  |  |  |
D3320 | E | Root canal therapy 2 canals |  |  |  |  |
D3330 | E | Root canal therapy 3 canals |  |  |  |  |
D3331 | E | Non-surg tx root canal obs |  |  |  |  |
D3332 | E | Incomplete endodontic tx |  |  |  |  |
D3333 | E | Internal root repair |  |  |  |  |
D3346 | E | Retreat root canal anterior |  |  |  |  |
D3347 | E | Retreat root canal bicuspid |  |  |  |  |
D3348 | E | Retreat root canal molar |  |  |  |  |
D3351 | E | Apexification/recalc initial |  |  |  |  |
D3352 | E | Apexification/recalc interim |  |  |  |  |
D3353 | E | Apexification/recalc final |  |  |  |  |
D3410 | E | Apicoect/perirad surg anter |  |  |  |  |
D3421 | E | Root surgery bicuspid |  |  |  |  |
D3425 | E | Root surgery molar |  |  |  |  |
D3426 | E | Root surgery ea add root |  |  |  |  |
D3430 | E | Retrograde filling |  |  |  |  |
D3450 | E | Root amputation |  |  |  |  |
D3460 | S | Endodontic endosseous implan | 0330 | 1.51 | $73.22 | $14.64 | $14.64
D3470 | E | Intentional replantation |  |  |  |  |
D3910 | E | Isolation-tooth w rubb dam |  |  |  |  |
D3920 | E | Tooth splitting |  |  |  |  |
D3950 | E | Canal prep/fitting of dowel |  |  |  |  |
D3999 | S | Endodontic procedure | 0330 | 1.51 | $73.22 | $14.64 | $14.64
D4210 | E | Gingivectomy/plasty per quad |  |  |  |  |
D4211 | E | Gingivectomy/plasty per toot |  |  |  |  |
D4220 | E | Gingival curettage per quadr |  |  |  |  |
D4240 | E | Gingival flap proc w/planin |  |  |  |  |
D4245 | E | Apically positioned flap |  |  |  |  |
D4249 | E | Crown lengthen hard tissue |  |  |  |  |
D4260 | S | Osseous surgery per quadrant | 0330 | 1.51 | $73.22 | $14.64 | $14.64
D4263 | S | Bone replce graft first site | 0330 | 1.51 | $73.22 | $14.64 | $14.64
D4264 | S | Bone replce graft each add | 0330 | 1.51 | $73.22 | $14.64 | $14.64
D4266 | E | Guided tiss regen resorble |  |  |  |  |
D4267 | E | Guided tiss regen nonresorb |  |  |  |  |
D4268 | E | Surgical revision procedure |  |  |  |  |
D4270 | S | Pedicle soft tissue graft pr | 0330 | 1.51 | $73.22 | $14.64 | $14.64
D4271 | S | Free soft tissue graft proc | 0330 | 1.51 | $73.22 | $14.64 | $14.64
D4273 | S | Subepithelial tissue graft | 0330 | 1.51 | $73.22 | $14.64 | $14.64
D4274 | E | Distal/proximal wedge proc |  |  |  |  |
D4320 | E | Provision splnt intracoronal |  |  |  |  |
D4321 | E | Provisional splint extracoro |  |  |  |  |
D4341 | E | Periodontal scaling & root |  |  |  |  |
D4355 | S | Full mouth debridement | 0330 | 1.51 | $73.22 | $14.64 | $14.64
D4381 | S | Localized chemo delivery | 0330 | 1.51 | $73.22 | $14.64 | $14.64
D4910 | E | Periodontal maint procedures |  |  |  |  |
D4920 | E | Unscheduled dressing change |  |  |  |  |
D4999 | E | Unspecified periodontal proc |  |  |  |  |
D5110 | E | Dentures complete maxillary |  |  |  |  |
D5120 | E | Dentures complete mandible |  |  |  |  |
D5130 | E | Dentures immediat maxillary |  |  |  |  |
D5140 | E | Dentures immediat mandible |  |  |  |  |
D5211 | E | Dentures maxill part resin |  |  |  |  |
D5212 | E | Dentures mand part resin |  |  |  |  |
D5213 | E | Dentures maxill part metal |  |  |  |  |
D5214 | E | Dentures mandibl part metal |  |  |  |  |
D5281 | E | Removable partial denture |  |  |  |  |
D5410 | E | Dentures adjust cmplt maxil |  |  |  |  |
D5411 | E | Dentures adjust cmplt mand |  |  |  |  |
D5421 | E | Dentures adjust part maxill |  |  |  |  |
D5422 | E | Dentures adjust part mandbl |  |  |  |  |
D5510 | E | Dentur repr broken compl bas |  |  |  |  |
D5520 | E | Replace denture teeth complt |  |  |  |  |
D5610 | E | Dentures repair resin base |  |  |  |  |
D5620 | E | Rep part denture cast frame |  |  |  |  |
D5630 | E | Rep partial denture clasp |  |  |  |  |
D5640 | E | Replace part denture teeth |  |  |  |  |
D5650 | E | Add tooth to partial denture |  |  |  |  |
D5660 | E | Add clasp to partial denture |  |  |  |  |
D5710 | E | Dentures rebase cmplt maxil |  |  |  |  |
D5711 | E | Dentures rebase cmplt mand |  |  |  |  |
D5720 | E | Dentures rebase part maxill |  |  |  |  |
D5721 | E | Dentures rebase part mandbl |  |  |  |  |
D5730 | E | Denture reln cmplt maxil ch |  |  |  |  |
D5731 | E | Denture reln cmplt mand chr |  |  |  |  |
D5740 | E | Denture reln part maxil chr |  |  |  |  |
D5741 | E | Denture reln part mand chr |  |  |  |  |
D5750 | E | Denture reln cmplt max lab |  |  |  |  |
D5751 | E | Denture reln cmplt mand lab |  |  |  |  |
D5760 | E | Denture reln part maxil lab |  |  |  |  |
D5761 | E | Denture reln part mand lab |  |  |  |  |
D5810 | E | Denture interm cmplt maxill |  |  |  |  |
D5811 | E | Denture interm cmplt mandbl |  |  |  |  |
D5820 | E | Denture interm part maxill |  |  |  |  |
D5821 | E | Denture interm part mandbl |  |  |  |  |
D5850 | E | Denture tiss conditn maxill |  |  |  |  |
D5851 | E | Denture tiss condtin mandbl |  |  |  |  |
D5860 | E | Overdenture complete |  |  |  |  |
D5861 | E | Overdenture partial |  |  |  |  |
D5862 | E | Precision attachment |  |  |  |  |
D5867 | E | Replacement of precision att |  |  |  |  |
D5875 | E | Prosthesis modification |  |  |  |  |
D5899 | E | Removable prosthodontic proc |  |  |  |  |
D5911 | S | Facial moulage sectional | 0330 | 1.51 | $73.22 | $14.64 | $14.64
D5912 | S | Facial moulage complete | 0330 | 1.51 | $73.22 | $14.64 | $14.64
D5913 | E | Nasal prosthesis |  |  |  |  |
D5914 | E | Auricular prosthesis |  |  |  |  |
D5915 | E | Orbital prosthesis |  |  |  |  |
D5916 | E | Ocular prosthesis |  |  |  |  |
D5919 | E | Facial prosthesis |  |  |  |  |
D5922 | E | Nasal septal prosthesis |  |  |  |  |
D5923 | E | Ocular prosthesis interim |  |  |  |  |
D5924 | E | Cranial prosthesis |  |  |  |  |
D5925 | E | Facial augmentation implant |  |  |  |  |
D5926 | E | Replacement nasal prosthesis |  |  |  |  |
D5927 | E | Auricular replacement |  |  |  |  |
D5928 | E | Orbital replacement |  |  |  |  |
D5929 | E | Facial replacement |  |  |  |  |
D5931 | E | Surgical obturator |  |  |  |  |
D5932 | E | Postsurgical obturator |  |  |  |  |
D5933 | E | Refitting of obturator |  |  |  |  |
D5934 | E | Mandibular flange prosthesis |  |  |  |  |
D5935 | E | Mandibular denture prosth |  |  |  |  |
D5936 | E | Temp obturator prosthesis |  |  |  |  |
D5937 | E | Trismus appliance |  |  |  |  |
D5951 | E | Feeding aid |  |  |  |  |
D5952 | E | Pediatric speech aid |  |  |  |  |
D5953 | E | Adult speech aid |  |  |  |  |
D5954 | E | Superimposed prosthesis |  |  |  |  |
D5955 | E | Palatal lift prosthesis |  |  |  |  |
D5958 | E | Intraoral con def inter plt |  |  |  |  |
D5959 | E | Intraoral con def mod palat |  |  |  |  |
D5960 | E | Modify speech aid prosthesis |  |  |  |  |
D5982 | E | Surgical stent |  |  |  |  |
D5983 | S | Radiation applicator | 0330 | 1.51 | $73.22 | $14.64 | $14.64
D5984 | S | Radiation shield | 0330 | 1.51 | $73.22 | $14.64 | $14.64
D5985 | S | Radiation cone locator | 0330 | 1.51 | $73.22 | $14.64 | $14.64
D5986 | E | Fluoride applicator |  |  |  |  |
D5987 | S | Commissure splint | 0330 | 1.51 | $73.22 | $14.64 | $14.64
D5988 | E | Surgical splint |  |  |  |  |
D5999 | E | Maxillofacial prosthesis |  |  |  |  |
D6010 | E | Odontics endosteal implant |  |  |  |  |
D6020 | E | Odontics abutment placement |  |  |  |  |
D6040 | E | Odontics eposteal implant |  |  |  |  |
D6050 | E | Odontics transosteal implnt |  |  |  |  |
D6055 | E | Implant connecting bar |  |  |  |  |
D6056 | E | Prefabricated abutment |  |  |  |  |
D6057 | E | Custom abutment |  |  |  |  |
D6058 | E | Abutment supported crown |  |  |  |  |
D6059 | E | Abutment supported mtl crown |  |  |  |  |
D6060 | E | Abutment supported mtl crown |  |  |  |  |
D6061 | E | Abutment supported mtl crown |  |  |  |  |
D6062 | E | Abutment supported mtl crown |  |  |  |  |
D6063 | E | Abutment supported mtl crown |  |  |  |  |
D6064 | E | Abutment supported mtl crown |  |  |  |  |
D6065 | E | Implant supported crown |  |  |  |  |
D6066 | E | Implant supported mtl crown |  |  |  |  |
D6067 | E | Implant supported mtl crown |  |  |  |  |
D6068 | E | Abutment supported retainer |  |  |  |  |
D6069 | E | Abutment supported retainer |  |  |  |  |
D6070 | E | Abutment supported retainer |  |  |  |  |
D6071 | E | Abutment supported retainer |  |  |  |  |
D6072 | E | Abutment supported retainer |  |  |  |  |
D6073 | E | Abutment supported retainer |  |  |  |  |
D6074 | E | Abutment supported retainer |  |  |  |  |
D6075 | E | Implant supported retainer |  |  |  |  |
D6076 | E | Implant supported retainer |  |  |  |  |
D6077 | E | Implant supported retainer |  |  |  |  |
D6078 | E | Implnt/abut suprtd fixd dent |  |  |  |  |
D6079 | E | Implnt/abut suprtd fixd dent |  |  |  |  |
D6080 | E | Implant maintenance |  |  |  |  |
D6090 | E | Repair implant |  |  |  |  |
D6095 | E | Odontics repr abutment |  |  |  |  |
D6100 | E | Removal of implant |  |  |  |  |
D6199 | E | Implant procedure |  |  |  |  |
D6210 | E | Prosthodont high noble metal |  |  |  |  |
D6211 | E | Bridge base metal cast |  |  |  |  |
D6212 | E | Bridge noble metal cast |  |  |  |  |
D6240 | E | Bridge porcelain high noble |  |  |  |  |
D6241 | E | Bridge porcelain base metal |  |  |  |  |
D6242 | E | Bridge porcelain nobel metal |  |  |  |  |
D6245 | E | Bridge porcelain/ceramic |  |  |  |  |
D6250 | E | Bridge resin w/high noble |  |  |  |  |
D6251 | E | Bridge resin base metal |  |  |  |  |
D6252 | E | Bridge resin w/noble metal |  |  |  |  |
D6519 | E | Inlay/onlay porce/ceramic |  |  |  |  |
D6520 | E | Dental retainer two surfaces |  |  |  |  |
D6530 | E | Retainer metallic 3+ surface |  |  |  |  |
D6543 | E | Dental retainr onlay 3 surf |  |  |  |  |
D6544 | E | Dental retainr onlay 4/more |  |  |  |  |
D6545 | E | Dental retainr cast metl |  |  |  |  |
D6548 | E | Porcelain/ceramic retainer |  |  |  |  |
D6720 | E | Retain crown resin w hi nble |  |  |  |  |
D6721 | E | Crown resin w/base metal |  |  |  |  |
D6722 | E | Crown resin w/noble metal |  |  |  |  |
D6740 | E | Crown porcelain/ceramic |  |  |  |  |
D6750 | E | Crown porcelain high noble |  |  |  |  |
D6751 | E | Crown porcelain base metal |  |  |  |  |
D6752 | E | Crown porcelain noble metal |  |  |  |  |
D6780 | E | Crown 3/4 high noble metal |  |  |  |  |
D6781 | E | Crown 3/4 cast based metal |  |  |  |  |
D6782 | E | Crown 3/4 cast noble metal |  |  |  |  |
D6783 | E | Crown 3/4 porcelain/ceramic |  |  |  |  |
D6790 | E | Crown full high noble metal |  |  |  |  |
D6791 | E | Crown full base metal cast |  |  |  |  |
D6792 | E | Crown full noble metal cast |  |  |  |  |
D6920 | S | Dental connector bar | 0330 | 1.51 | $73.22 | $14.64 | $14.64
D6930 | E | Dental recement bridge |  |  |  |  |
D6940 | E | Stress breaker |  |  |  |  |
D6950 | E | Precision attachment |  |  |  |  |
D6970 | E | Post & core plus retainer |  |  |  |  |
D6971 | E | Cast post bridge retainer |  |  |  |  |
D6972 | E | Prefab post & core plus reta |  |  |  |  |
D6973 | E | Core build up for retainer |  |  |  |  |
D6975 | E | Coping metal |  |  |  |  |
D6976 | E | Each addtnl cast post |  |  |  |  |
D6977 | E | Each addtl prefab post |  |  |  |  |
D6980 | E | Bridge repair |  |  |  |  |
D6999 | E | Fixed prosthodontic proc |  |  |  |  |
D7110 | S | Oral surgery single tooth | 0330 | 1.51 | $73.22 | $14.64 | $14.64
D7120 | S | Each add tooth extraction | 0330 | 1.51 | $73.22 | $14.64 | $14.64
D7130 | S | Tooth root removal | 0330 | 1.51 | $73.22 | $14.64 | $14.64
D7210 | S | Rem imp tooth w mucoper flp | 0330 | 1.51 | $73.22 | $14.64 | $14.64
D7220 | S | Impact tooth remov soft tiss | 0330 | 1.51 | $73.22 | $14.64 | $14.64
D7230 | S | Impact tooth remov part bony | 0330 | 1.51 | $73.22 | $14.64 | $14.64
D7240 | S | Impact tooth remov comp bony | 0330 | 1.51 | $73.22 | $14.64 | $14.64
D7241 | S | Impact tooth rem bony w/comp | 0330 | 1.51 | $73.22 | $14.64 | $14.64
D7250 | S | Tooth root removal | 0330 | 1.51 | $73.22 | $14.64 | $14.64
D7260 | S | Oral antral fistula closure | 0330 | 1.51 | $73.22 | $14.64 | $14.64
D7270 | E | Tooth reimplantation |  |  |  |  |
D7272 | E | Tooth transplantation |  |  |  |  |
D7280 | E | Exposure impact tooth orthod |  |  |  |  |
D7281 | E | Exposure tooth aid eruption |  |  |  |  |
D7285 | E | Biopsy of oral tissue hard |  |  |  |  |
D7286 | E | Biopsy of oral tissue soft |  |  |  |  |
D7290 | E | Repositioning of teeth |  |  |  |  |
D7291 | S | Transseptal fiberotomy | 0330 | 1.51 | $73.22 | $14.64 | $14.64
D7310 | E | Alveoplasty w/extraction |  |  |  |  |
D7320 | E | Alveoplasty w/o extraction |  |  |  |  |
D7340 | E | Vestibuloplasty ridge extens |  |  |  |  |
D7350 | E | Vestibuloplasty exten graft |  |  |  |  |
D7410 | E | Rad exc lesion up to 1.25 cm |  |  |  |  |
D7420 | E | Lesion > 1.25 cm |  |  |  |  |
D7430 | E | Exc benign tumor to 1.25 cm |  |  |  |  |
D7431 | E | Benign tumor exc > 1.25 cm |  |  |  |  |
D7440 | E | Malig tumor exc to 1.25 cm |  |  |  |  |
D7441 | E | Malig tumor > 1.25 cm |  |  |  |  |
D7450 | E | Rem odontogen cyst to 1.25cm |  |  |  |  |
D7451 | E | Rem odontogen cyst > 1.25 cm |  |  |  |  |
D7460 | E | Rem nonodonto cyst to 1.25cm |  |  |  |  |
D7461 | E | Rem nonodonto cyst > 1.25 cm |  |  |  |  |
D7465 | E | Lesion destruction |  |  |  |  |
D7471 | E | Rem exostosis any site |  |  |  |  |
D7480 | E | Partial ostectomy |  |  |  |  |
D7490 | E | Mandible resection |  |  |  |  |
D7510 | E | I&d absc intraoral soft tiss |  |  |  |  |
D7520 | E | I&d abscess extraoral |  |  |  |  |
D7530 | E | Removal fb skin/areolar tiss |  |  |  |  |
D7540 | E | Removal of fb reaction |  |  |  |  |
D7550 | E | Removal of sloughed off bone |  |  |  |  |
D7560 | E | Maxillary sinusotomy |  |  |  |  |
D7610 | E | Maxilla open reduct simple |  |  |  |  |
D7620 | E | Clsd reduct simpl maxilla fx |  |  |  |  |
D7630 | E | Open red simpl mandible fx |  |  |  |  |
D7640 | E | Clsd red simpl mandible fx |  |  |  |  |
D7650 | E | Open red simp malar/zygom fx |  |  |  |  |
D7660 | E | Clsd red simp malar/zygom fx |  |  |  |  |
D7670 | E | Closd rductn splint alveolus |  |  |  |  |
D7680 | E | Reduct simple facial bone fx |  |  |  |  |
D7710 | E | Maxilla open reduct compound |  |  |  |  |
D7720 | E | Clsd reduct compd maxilla fx |  |  |  |  |
D7730 | E | Open reduct compd mandble fx |  |  |  |  |
D7740 | E | Clsd reduct compd mandble fx |  |  |  |  |
D7750 | E | Open red comp malar/zygma fx |  |  |  |  |
D7760 | E | Clsd red comp malar/zygma fx |  |  |  |  |
D7770 | E | Open reduc compd alveolus fx |  |  |  |  |
D7780 | E | Reduct compnd facial bone fx |  |  |  |  |
D7810 | E | Tmj open reduct-dislocation |  |  |  |  |
D7820 | E | Closed tmp manipulation |  |  |  |  |
D7830 | E | Tmj manipulation under anest |  |  |  |  |
D7840 | E | Removal of tmj condyle |  |  |  |  |
D7850 | E | Tmj meniscectomy |  |  |  |  |
D7852 | E | Tmj repair of joint disc |  |  |  |  |
D7854 | E | Tmj excisn of joint membrane |  |  |  |  |
D7856 | E | Tmj cutting of a muscle |  |  |  |  |
D7858 | E | Tmj reconstruction |  |  |  |  |
D7860 | E | Tmj cutting into joint |  |  |  |  |
D7865 | E | Tmj reshaping components |  |  |  |  |
D7870 | E | Tmj aspiration joint fluid |  |  |  |  |
D7871 | E | Lysis + lavage w catheters |  |  |  |  |
D7872 | E | Tmj diagnostic arthroscopy |  |  |  |  |
D7873 | E | Tmj arthroscopy lysis adhesn |  |  |  |  |
D7874 | E | Tmj arthroscopy disc reposit |  |  |  |  |
D7875 | E | Tmj arthroscopy synovectomy |  |  |  |  |
D7876 | E | Tmj arthroscopy discectomy |  |  |  |  |
D7877 | E | Tmj arthroscopy debridement |  |  |  |  |
D7880 | E | Occlusal orthotic appliance |  |  |  |  |
D7899 | E | Tmj unspecified therapy |  |  |  |  |
D7910 | E | Dent sutur recent wnd to 5cm |  |  |  |  |
D7911 | E | Dental suture wound to 5 cm |  |  |  |  |
D7912 | E | Suture complicate wnd > 5 cm |  |  |  |  |
D7920 | E | Dental skin graft |  |  |  |  |
D7940 | S | Reshaping bone orthognathic | 0330 | 1.51 | $73.22 | $14.64 | $14.64
D7941 | E | Bone cutting ramus closed |  |  |  |  |
D7943 | E | Cutting ramus open w/graft |  |  |  |  |
D7944 | E | Bone cutting segmented |  |  |  |  |
D7945 | E | Bone cutting body mandible |  |  |  |  |
D7946 | E | Reconstruction maxilla total |  |  |  |  |
D7947 | E | Reconstruct maxilla segment |  |  |  |  |
D7948 | E | Reconstruct midface no graft |  |  |  |  |
D7949 | E | Reconstruct midface w/graft |  |  |  |  |
D7950 | E | Mandible graft |  |  |  |  |
D7955 | E | Repair maxillofacial defects |  |  |  |  |
D7960 | E | Frenulectomy/frenulotomy |  |  |  |  |
D7970 | E | Excision hyperplastic tissue |  |  |  |  |
D7971 | E | Excision pericoronal gingiva |  |  |  |  |
D7980 | E | Sialolithotomy |  |  |  |  |
D7981 | E | Excision of salivary gland |  |  |  |  |
D7982 | E | Sialodochoplasty |  |  |  |  |
D7983 | E | Closure of salivary fistula |  |  |  |  |
D7990 | E | Emergency tracheotomy |  |  |  |  |
D7991 | E | Dental coronoidectomy |  |  |  |  |
D7995 | E | Synthetic graft facial bones |  |  |  |  |
D7996 | E | Implant mandible for augment |  |  |  |  |
D7997 | E | Appliance removal |  |  |  |  |
D7999 | E | Oral surgery procedure |  |  |  |  |
D8010 | E | Limited dental tx primary |  |  |  |  |
D8020 | E | Limited dental tx transition |  |  |  |  |
D8030 | E | Limited dental tx adolescent |  |  |  |  |
D8040 | E | Limited dental tx adult |  |  |  |  |
D8050 | E | Intercep dental tx primary |  |  |  |  |
D8060 | E | Intercep dental tx transitn |  |  |  |  |
D8070 | E | Compre dental tx transition |  |  |  |  |
D8080 | E | Compre dental tx adolescent |  |  |  |  |
D8090 | E | Compre dental tx adult |  |  |  |  |
D8210 | E | Orthodontic rem appliance tx |  |  |  |  |
D8220 | E | Fixed appliance therapy habt |  |  |  |  |
D8660 | E | Preorthodontic tx visit |  |  |  |  |
D8670 | E | Periodic orthodontc tx visit |  |  |  |  |
D8680 | E | Orthodontic retention |  |  |  |  |
D8690 | E | Orthodontic treatment |  |  |  |  |
D8691 | E | Repair ortho appliance |  |  |  |  |
D8692 | E | Replacement retainer |  |  |  |  |
D8999 | E | Orthodontic procedure |  |  |  |  |
D9110 | N | Tx dental pain minor proc |  |  |  |  |
D9210 | E | Dent anesthesia w/o surgery |  |  |  |  |
D9211 | E | Regional block anesthesia |  |  |  |  |
D9212 | E | Trigeminal block anesthesia |  |  |  |  |
D9215 | E | Local anesthesia |  |  |  |  |
D9220 | E | General anesthesia |  |  |  |  |
D9221 | E | General anesthesia ea ad 15m |  |  |  |  |
D9230 | N | Analgesia |  |  |  |  |
D9241 | E | Intravenous sedation |  |  |  |  |
D9242 | E | IV sedation ea ad 30 m |  |  |  |  |
D9248 | E | Sedation (non-iv) |  |  |  |  |
D9310 | E | Dental consultation |  |  |  |  |
D9410 | E | Dental house call |  |  |  |  |
D9420 | E | Hospital call |  |  |  |  |
D9430 | E | Office visit during hours |  |  |  |  |
D9440 | E | Office visit after hours |  |  |  |  |
D9610 | E | Dent therapeutic drug inject |  |  |  |  |
D9630 | S | Other drugs/medicaments | 0330 | 1.51 | $73.22 | $14.64 | $14.64
D9910 | E | Dent appl desensitizing med |  |  |  |  |
D9911 | E | Appl desensitizing resin |  |  |  |  |
D9920 | E | Behavior management |  |  |  |  |
D9930 | S | Treatment of complications | 0330 | 1.51 | $73.22 | $14.64 | $14.64
D9940 | S | Dental occlusal guard | 0330 | 1.51 | $73.22 | $14.64 | $14.64
D9941 | E | Fabrication athletic guard |  |  |  |  |
D9950 | S | Occlusion analysis | 0330 | 1.51 | $73.22 | $14.64 | $14.64
D9951 | S | Limited occlusal adjustment | 0330 | 1.51 | $73.22 | $14.64 | $14.64
D9952 | S | Complete occlusal adjustment | 0330 | 1.51 | $73.22 | $14.64 | $14.64
D9970 | E | Enamel microabrasion |  |  |  |  |
D9971 | E | Odontoplasty 1-2 teeth |  |  |  |  |
D9972 | E | Extrnl bleaching per arch |  |  |  |  |
D9973 | E | Extrnl bleaching per tooth |  |  |  |  |
D9974 | E | Intrnl bleaching per tooth |  |  |  |  |
D9999 | E | Adjunctive procedure |  |  |  |  |
E0100 | A | Cane adjust/fixed with tip |  |  |  |  |
E0105 | A | Cane adjust/fixed quad/3 pro |  |  |  |  |
E0110 | A | Crutch forearm pair |  |  |  |  |
E0111 | A | Crutch forearm each |  |  |  |  |
E0112 | A | Crutch underarm pair wood |  |  |  |  |
E0113 | A | Crutch underarm each wood |  |  |  |  |
E0114 | A | Crutch underarm pair no wood |  |  |  |  |
E0116 | A | Crutch underarm each no wood |  |  |  |  |
E0130 | A | Walker rigid adjust/fixed ht |  |  |  |  |
E0135 | A | Walker folding adjust/fixed |  |  |  |  |
E0141 | A | Rigid walker wheeled wo seat |  |  |  |  |
E0142 | A | Walker rigid wheeled with se |  |  |  |  |
E0143 | A | Walker folding wheeled w/o s |  |  |  |  |
E0144 | A | Enclosed walker w rear seat |  |  |  |  |
E0145 | A | Walker whled seat/crutch att |  |  |  |  |
E0146 | A | Folding walker wheels w seat |  |  |  |  |
E0147 | A | Walker variable wheel resist |  |  |  |  |
E0153 | A | Forearm crutch platform atta |  |  |  |  |
E0154 | A | Walker platform attachment |  |  |  |  |
E0155 | A | Walker wheel attachment, pair |  |  |  |  |
E0156 | A | Walker seat attachment |  |  |  |  |
E0157 | A | Walker crutch attachment |  |  |  |  |
E0158 | A | Walker leg extenders set of4 |  |  |  |  |
E0159 | A | Brake for wheeled walker |  |  |  |  |
E0160 | A | Sitz type bath or equipment |  |  |  |  |
E0161 | A | Sitz bath/equipment w/faucet |  |  |  |  |
E0162 | A | Sitz bath chair |  |  |  |  |
E0163 | A | Commode chair stationry fxd |  |  |  |  |
E0164 | A | Commode chair mobile fixed a |  |  |  |  |
E0165 | A | Commode chair stationry det |  |  |  |  |
E0166 | A | Commode chair mobile detach |  |  |  |  |
E0167 | A | Commode chair pail or pan |  |  |  |  |
E0175 | A | Commode chair foot rest |  |  |  |  |
E0176 | A | Air pressre pad/cushion nonp |  |  |  |  |
E0177 | A | Water press pad/cushion nonp |  |  |  |  |
E0178 | A | Gel pressre pad/cushion nonp |  |  |  |  |
E0179 | A | Dry pressre pad/cushion nonp |  |  |  |  |
E0180 | A | Press pad alternating w pump |  |  |  |  |
E0181 | A | Press pad alternating w/pum |  |  |  |  |
E0182 | A | Pressure pad alternating pum |  |  |  |  |
E0184 | A | Dry pressure mattress |  |  |  |  |
E0185 | A | Gel pressure mattress pad |  |  |  |  |
E0186 | A | Air pressure mattress |  |  |  |  |
E0187 | A | Water pressure mattress |  |  |  |  |
E0188 | E | Synthetic sheepskin pad |  |  |  |  |
E0189 | E | Lambswool sheepskin pad |  |  |  |  |
E0191 | A | Protector heel or elbow |  |  |  |  |
E0192 | A | Pad wheelchr low press/posit |  |  |  |  |
E0193 | A | Powered air flotation bed |  |  |  |  |
E0194 | A | Air fluidized bed |  |  |  |  |
E0196 | A | Gel pressure mattress |  |  |  |  |
E0197 | A | Air pressure pad for mattres |  |  |  |  |
E0198 | A | Water pressure pad for mattr |  |  |  |  |
E0199 | A | Dry pressure pad for mattres |  |  |  |  |
E0200 | A | Heat lamp without stand |  |  |  |  |
E0202 | A | Phototherapy light w/photom |  |  |  |  |
E0205 | A | Heat lamp with stand |  |  |  |  |
E0210 | A | Electric heat pad standard |  |  |  |  |
E0215 | A | Electric heat pad moist |  |  |  |  |
E0217 | A | Water circ heat pad w pump |  |  |  |  |
E0218 | A | Water circ cold pad w pump |  |  |  |  |
E0220 | A | Hot water bottle |  |  |  |  |
E0225 | A | Hydrocollator unit |  |  |  |  |
E0230 | A | Ice cap or collar |  |  |  |  |
E0235 | A | Paraffin bath unit portable |  |  |  |  |
E0236 | A | Pump for water circulating p |  |  |  |  |
E0238 | A | Heat pad non-electric moist |  |  |  |  |
E0239 | A | Hydrocollator unit portable |  |  |  |  |
E0241 | E | Bath tub wall rail |  |  |  |  |
E0242 | E | Bath tub rail floor |  |  |  |  |
E0243 | E | Toilet rail |  |  |  |  |
E0244 | E | Toilet seat raised |  |  |  |  |
E0245 | E | Tub stool or bench |  |  |  |  |
E0246 | A | Transfer tub rail attachment |  |  |  |  |
E0249 | A | Pad water circulating heat u |  |  |  |  |
E0250 | A | Hosp bed fixed ht w/mattres |  |  |  |  |
E0251 | A | Hosp bed fixd ht w/o mattres |  |  |  |  |
E0255 | A | Hospital bed var ht w/mattr |  |  |  |  |
E0256 | A | Hospital bed var ht w/o matt |  |  |  |  |
E0260 | A | Hosp bed semi-electr w/matt |  |  |  |  |
E0261 | A | Hosp bed semi-electr w/o mat |  |  |  |  |
E0265 | A | Hosp bed total electr w/mat |  |  |  |  |
E0266 | A | Hosp bed total elec w/o matt |  |  |  |  |
E0270 | A | Hospital bed institutional t |  |  |  |  |
E0271 | A | Mattress innerspring |  |  |  |  |
E0272 | A | Mattress foam rubber |  |  |  |  |
E0273 | A | Bed board |  |  |  |  |
E0274 | A | Over-bed table |  |  |  |  |
E0275 | A | Bed pan standard |  |  |  |  |
E0276 | A | Bed pan fracture |  |  |  |  |
E0277 | A | Powered pres-redu air mattrs |  |  |  |  |
E0280 | A | Bed cradle |  |  |  |  |
E0290 | A | Hosp bed fx ht w/o rails w/m |  |  |  |  |
E0291 | A | Hosp bed fx ht w/o rail w/o |  |  |  |  |
E0292 | A | Hosp bed var ht w/o rail w/o |  |  |  |  |
E0293 | A | Hosp bed var ht w/o rail w/ |  |  |  |  |
E0294 | A | Hosp bed semi-elect w/mattr |  |  |  |  |
E0295 | A | Hosp bed semi-elect w/o matt |  |  |  |  |
E0296 | A | Hosp bed total elect w/matt |  |  |  |  |
E0297 | A | Hosp bed total elect w/o mat |  |  |  |  |
E0305 | A | Rails bed side half length |  |  |  |  |
E0310 | A | Rails bed side full length |  |  |  |  |
E0315 | A | Bed accessory brd/tbl/supprt |  |  |  |  |
E0325 | A | Urinal male jug-type |  |  |  |  |
E0326 | A | Urinal female jug-type |  |  |  |  |
E0350 | A | Control unit bowel system |  |  |  |  |
E0352 | A | Disposable pack w/bowel syst |  |  |  |  |
E0370 | A | Air elevator for heel |  |  |  |  |
E0371 | A | Nonpower mattress overlay |  |  |  |  |
E0372 | A | Powered air mattress overlay |  |  |  |  |
E0373 | A | Nonpowered pressure mattress |  |  |  |  |
E0424 | A | Stationary compressed gas 02 |  |  |  |  |
E0425 | A | Gas system stationary compre |  |  |  |  |
E0430 | A | Oxygen system gas portable |  |  |  |  |
E0431 | A | Portable gaseous 02 |  |  |  |  |
E0434 | A | Portable liquid 02 |  |  |  |  |
E0435 | A | Oxygen system liquid portabl |  |  |  |  |
E0439 | A | Stationary liquid 02 |  |  |  |  |
E0440 | A | Oxygen system liquid station |  |  |  |  |
E0441 | A | Oxygen contents gas per/unit |  |  |  |  |
E0442 | A | Oxygen contents liq per/unit |  |  |  |  |
E0443 | A | Port 02 contents gas/unit |  |  |  |  |
E0444 | A | Port 02 contents liq/unit |  |  |  |  |
E0450 | A | Volume vent stationary/porta |  |  |  |  |
E0455 | A | Oxygen tent excl croup/ped t |  |  |  |  |
E0457 | A | Chest shell |  |  |  |  |
E0459 | A | Chest wrap |  |  |  |  |
E0460 | A | Neg press vent portabl/statn |  |  |  |  |
E0462 | A | Rocking bed w/ or w/o side r |  |  |  |  |
E0480 | A | Percussor elect/pneum home m |  |  |  |  |
E0500 | A | Ippb all types |  |  |  |  |
E0550 | A | Humidif extens supple w ippb |  |  |  |  |
E0555 | A | Humidifier for use w/regula |  |  |  |  |
E0560 | A | Humidifier supplemental w/i |  |  |  |  |
E0565 | A | Compressor air power source |  |  |  |  |
E0570 | A | Nebulizer with compression |  |  |  |  |
E0575 | A | Nebulizer ultrasonic |  |  |  |  |
E0580 | A | Nebulizer for use w/regulat |  |  |  |  |
E0585 | A | Nebulizer w/compressor & he |  |  |  |  |
E0590 | A | Dispensing fee dme neb drug |  |  |  |  |
E0600 | A | Suction pump portab hom modl |  |  |  |  |
E0601 | A | Cont airway pressure device |  |  |  |  |
E0602 | A | Breast pump |  |  |  |  |
E0605 | A | Vaporizer room type |  |  |  |  |
E0606 | A | Drainage board postural |  |  |  |  |
E0607 | A | Blood glucose monitor home |  |  |  |  |
E0608 | A | Apnea monitor |  |  |  |  |
E0609 | A | Blood gluc mon w/special fea |  |  |  |  |
E0610 | A | Pacemaker monitr audible/vis |  |  |  |  |
E0615 | A | Pacemaker monitr digital/vis |  |  |  |  |
E0616 | A | Cardiac event recorder |  |  |  |  |
E0621 | A | Patient lift sling or seat |  |  |  |  |
E0625 | A | Patient lift bathroom or toi |  |  |  |  |
E0627 | A | Seat lift incorp lift-chair |  |  |  |  |
E0628 | A | Seat lift for pt furn-electr |  |  |  |  |
E0629 | A | Seat lift for pt furn-non-el |  |  |  |  |
E0630 | A | Patient lift hydraulic |  |  |  |  |
E0635 | A | Patient lift electric |  |  |  |  |
E0650 | A | Pneuma compresor non-segment |  |  |  |  |
E0651 | A | Pneum compressor segmental |  |  |  |  |
E0652 | A | Pneum compres w/cal pressure |  |  |  |  |
E0655 | A | Pneumatic appliance half arm |  |  |  |  |
E0660 | A | Pneumatic appliance full leg |  |  |  |  |
E0665 | A | Pneumatic appliance full arm |  |  |  |  |
E0666 | A | Pneumatic appliance half leg |  |  |  |  |
E0667 | A | Seg pneumatic appl full leg |  |  |  |  |
E0668 | A | Seg pneumatic appl full arm |  |  |  |  |
E0669 | A | Seg pneumatic appli half leg |  |  |  |  |
E0671 | A | Pressure pneum appl full leg |  |  |  |  |
E0672 | A | Pressure pneum appl full arm |  |  |  |  |
E0673 | A | Pressure pneum appl half leg |  |  |  |  |
E0690 | A | Ultraviolet cabinet |  |  |  |  |
E0700 | A | Safety equipment |  |  |  |  |
E0710 | A | Restraints any type |  |  |  |  |
E0720 | A | Tens two lead |  |  |  |  |
E0730 | A | Tens four lead |  |  |  |  |
E0731 | A | Conductive garment for tens/ |  |  |  |  |
E0740 | A | Incontinence treatment systm |  |  |  |  |
E0744 | A | Neuromuscular stim for scoli |  |  |  |  |
E0745 | A | Neuromuscular stim for shock |  |  |  |  |
E0746 | A | Electromyograph biofeedback |  |  |  |  |
E0747 | A | Elec osteogen stim not spine |  |  |  |  |
E0748 | A | Elec osteogen stim spinal |  |  |  |  |
E0749 | A | Elec osteogen stim implanted |  |  |  |  |
E0751 | A | Pulse generator or receiver |  |  |  |  |
E0753 | A | Neurostimulator electrodes |  |  |  |  |
E0755 | A | Electronic salivary reflex s |  |  |  |  |
E0760 | A | Osteogen ultrasound stimltor |  |  |  |  |
E0776 | A | Iv pole |  |  |  |  |
E0779 | A | Amb infusion pump mechanical |  |  |  |  |
E0780 | A | Mech amb infusion pump <8hrs |  |  |  |  |
E0781 | A | External ambulatory infus pu |  |  |  |  |
E0782 | A | Non-programble infusion pump |  |  |  |  |
E0783 | A | Programmable infusion pump |  |  |  |  |
E0784 | A | Ext amb infusn pump insulin |  |  |  |  |
E0785 | A | Replacement impl pump cathet |  |  |  |  |
E0791 | A | Parenteral infusion pump sta |  |  |  |  |
E0840 | A | Tract frame attach headboard |  |  |  |  |
E0850 | A | Traction stand free standing |  |  |  |  |
E0855 | A | Cervical traction equipment |  |  |  |  |
E0860 | A | Tract equip cervical tract |  |  |  |  |
E0870 | A | Tract frame attach footboard |  |  |  |  |
E0880 | A | Trac stand free stand extrem |  |  |  |  |
E0890 | A | Traction frame attach pelvic |  |  |  |  |
E0900 | A | Trac stand free stand pelvic |  |  |  |  |
E0910 | A | Trapeze bar attached to bed |  |  |  |  |
E0920 | A | Fracture frame attached to b |  |  |  |  |
E0930 | A | Fracture frame free standing |  |  |  |  |
E0935 | A | Exercise device passive moti |  |  |  |  |
E0940 | A | Trapeze bar free standing |  |  |  |  |
E0941 | A | Gravity assisted traction de |  |  |  |  |
E0942 | A | Cervical head harness/halter |  |  |  |  |
E0943 | A | Cervical pillow |  |  |  |  |
E0944 | A | Pelvic belt/harness/boot |  |  |  |  |
E0945 | A | Belt/harness extremity |  |  |  |  |
E0946 | A | Fracture frame dual w cross |  |  |  |  |
E0947 | A | Fracture frame attachmnts pe |  |  |  |  |
E0948 | A | Fracture frame attachmnts ce |  |  |  |  |
E0950 | A | Tray |  |  |  |  |
E0951 | A | Loop heel |  |  |  |  |
E0952 | A | Loop tie |  |  |  |  |
E0953 | A | Pneumatic tire |  |  |  |  |
E0954 | A | Wheelchair semi-pneumatic ca |  |  |  |  |
E0958 | A | Whlchr att-conv 1 arm drive |  |  |  |  |
E0959 | A | Amputee adapter |  |  |  |  |
E0961 | A | Wheelchair brake extension |  |  |  |  |
E0962 | A | Wheelchair 1 inch cushion |  |  |  |  |
E0963 | A | Wheelchair 2 inch cushion |  |  |  |  |
E0964 | A | Wheelchair 3 inch cushion |  |  |  |  |
E0965 | A | Wheelchair 4 inch cushion |  |  |  |  |
E0966 | A | Wheelchair head rest extensi |  |  |  |  |
E0967 | A | Wheelchair hand rims |  |  |  |  |
E0968 | A | Wheelchair commode seat |  |  |  |  |
E0969 | A | Wheelchair narrowing device |  |  |  |  |
E0970 | A | Wheelchair no. 2 footplates |  |  |  |  |
E0971 | A | Wheelchair anti-tipping devi |  |  |  |  |
E0972 | A | Transfer board or device |  |  |  |  |
E0973 | A | Wheelchair adjustabl height |  |  |  |  |
E0974 | A | Wheelchair grade-aid |  |  |  |  |
E0975 | A | Wheelchair reinforced seat u |  |  |  |  |
E0976 | A | Wheelchair reinforced back u |  |  |  |  |
E0977 | A | Wheelchair wedge cushion |  |  |  |  |
E0978 | A | Wheelchair belt w/airplane b |  |  |  |  |
E0979 | A | Wheelchair belt with velcro |  |  |  |  |
E0980 | A | Wheelchair safety vest |  |  |  |  |
E0990 | A | Whellchair elevating leg res |  |  |  |  |
E0991 | A | Wheelchair upholstry seat |  |  |  |  |
E0992 | A | Wheelchair solid seat insert |  |  |  |  |
E0993 | A | Wheelchair back upholstery |  |  |  |  |
E0994 | A | Wheelchair arm rest |  |  |  |  |
E0995 | A | Wheelchair calf rest |  |  |  |  |
E0996 | A | Wheelchair tire solid |  |  |  |  |
E0997 | A | Wheelchair caster w/a fork |  |  |  |  |
E0998 | A | Wheelchair caster w/o a fork |  |  |  |  |
E0999 | A | Wheelchr pneumatic tire w/wh |  |  |  |  |
E1000 | A | Wheelchair tire pneumatic ca |  |  |  |  |
E1001 | A | Wheelchair wheel |  |  |  |  |
E1031 | A | Rollabout chair with casters |  |  |  |  |
E1050 | A | Whelchr fxd full length arms |  |  |  |  |
E1060 | A | Wheelchair detachable arms |  |  |  |  |
E1065 | A | Wheelchair power attachment |  |  |  |  |
E1066 | A | Wheelchair battery charger |  |  |  |  |
E1069 | A | Wheelchair deep cycle batter |  |  |  |  |
E1070 | A | Wheelchair detachable foot r |  |  |  |  |
E1083 | A | Hemi-wheelchair fixed arms |  |  |  |  |
E1084 | A | Hemi-wheelchair detachable a |  |  |  |  |
E1085 | A | Hemi-wheelchair fixed arms |  |  |  |  |
E1086 | A | Hemi-wheelchair detachable a |  |  |  |  |
E1087 | A | Wheelchair lightwt fixed arm |  |  |  |  |
E1088 | A | Wheelchair lightweight det a |  |  |  |  |
E1089 | A | Wheelchair lightwt fixed arm |  |  |  |  |
E1090 | A | Wheelchair lightweight det a |  |  |  |  |
E1091 | A | Wheelchair youth |  |  |  |  |
E1092 | A | Wheelchair wide w/leg rests |  |  |  |  |
E1093 | A | Wheelchair wide w/foot rest |  |  |  |  |
E1100 | A | Whchr s-recl fxd arm leg res |  |  |  |  |
E1110 | A | Wheelchair semi-recl detach |  |  |  |  |
E1130 | A | Whlchr stand fxd arm ft rest |  |  |  |  |
E1140 | A | Wheelchair standard detach a |  |  |  |  |
E1150 | A | Wheelchair standard w/leg r |  |  |  |  |
E1160 | A | Wheelchair fixed arms |  |  |  |  |
E1170 | A | Whlchr ampu fxd arm leg rest |  |  |  |  |
E1171 | A | Wheelchair amputee w/o leg r |  |  |  |  |
E1172 | A | Wheelchair amputee detach ar |  |  |  |  |
E1180 | A | Wheelchair amputee w/foot r |  |  |  |  |
E1190 | A | Wheelchair amputee w/leg re |  |  |  |  |
E1195 | A | Wheelchair amputee heavy dut |  |  |  |  |
E1200 | A | Wheelchair amputee fixed arm |  |  |  |  |
E1210 | A | Whlchr moto ful arm leg rest |  |  |  |  |
E1211 | A | Wheelchair motorized w/det |  |  |  |  |
E1212 | A | Wheelchair motorized w full |  |  |  |  |
E1213 | A | Wheelchair motorized w/det |  |  |  |  |
E1220 | A | Whlchr special size/constrc |  |  |  |  |
E1221 | A | Wheelchair spec size w foot |  |  |  |  |
E1222 | A | Wheelchair spec size w/leg |  |  |  |  |
E1223 | A | Wheelchair spec size w foot |  |  |  |  |
E1224 | A | Wheelchair spec size w/leg |  |  |  |  |
E1225 | A | Wheelchair spec sz semi-recl |  |  |  |  |
E1226 | A | Wheelchair spec sz full-recl |  |  |  |  |
E1227 | A | Wheelchair spec sz spec ht a |  |  |  |  |
E1228 | A | Wheelchair spec sz spec ht b |  |  |  |  |
E1230 | A | Power operated vehicle |  |  |  |  |
E1240 | A | Whchr litwt det arm leg rest |  |  |  |  |
E1250 | A | Wheelchair lightwt fixed arm |  |  |  |  |
E1260 | A | Wheelchair lightwt foot rest |  |  |  |  |
E1270 | A | Wheelchair lightweight leg r |  |  |  |  |
E1280 | A | Whchr h-duty det arm leg res |  |  |  |  |
E1285 | A | Wheelchair heavy duty fixed |  |  |  |  |
E1290 | A | Wheelchair hvy duty detach a |  |  |  |  |
E1295 | A | Wheelchair heavy duty fixed |  |  |  |  |
E1296 | A | Wheelchair special seat heig |  |  |  |  |
E1297 | A | Wheelchair special seat dept |  |  |  |  |
E1298 | A | Wheelchair spec seat depth/w |  |  |  |  |
E1300 | A | Whirlpool portable |  |  |  |  |
E1310 | A | Whirlpool non-portable |  |  |  |  |
E1340 | A | Repair for DME, per 15 min |  |  |  |  |
E1353 | A | Oxygen supplies regulator |  |  |  |  |
E1355 | A | Oxygen supplies stand/rack |  |  |  |  |
E1372 | A | Oxy suppl heater for nebuliz |  |  |  |  |
E1375 | A | Oxygen suppl nebulizer porta |  |  |  |  |
E1377 | A | Oxygen concentrator to 244 c |  |  |  |  |
E1378 | A | Oxygen concentrator to 488 c |  |  |  |  |
E1379 | A | Oxygen concentrator to 732 c |  |  |  |  |
E1380 | A | Oxygen concentrator to 976 c |  |  |  |  |
E1381 | A | Oxygen concentrat to 1220 cu |  |  |  |  |
E1382 | A | Oxygen concentrat to 1464 cu |  |  |  |  |
E1383 | A | Oxygen concentrat to 1708 cu |  |  |  |  |
E1384 | A | Oxygen concentrat to 1952 cu |  |  |  |  |
E1385 | A | Oxygen concentrator > 1952 c |  |  |  |  |
E1390 | A | Oxygen concentrator |  |  |  |  |
E1399 | A | Durable medical equipment mi |  |  |  |  |
E1405 | A | O2/water vapor enrich w/heat |  |  |  |  |
E1406 | A | O2/water vapor enrich w/o he |  |  |  |  |
E1510 | A | Kidney dialysate delivry sys |  |  |  |  |
E1520 | A | Heparin infusion pump for di |  |  |  |  |
E1530 | A | Air bubble detector for dial |  |  |  |  |
E1540 | A | Pressure alarm for dialysis |  |  |  |  |
E1550 | A | Bath conductivity meter |  |  |  |  |
E1560 | A | Blood leak detector for dial |  |  |  |  |
E1570 | A | Adjustable chair for esrd pt |  |  |  |  |
E1575 | A | Transducer protector/fluid b |  |  |  |  |
E1580 | A | Unipuncture control system |  |  |  |  |
E1590 | A | Hemodialysis machine |  |  |  |  |
E1592 | A | Auto interm peritoneal dialy |  |  |  |  |
E1594 | A | Cycler dialysis machine |  |  |  |  |
E1600 | A | Deliv/install equip for dial |  |  |  |  |
E1610 | A | Reverse osmosis water purifi |  |  |  |  |
E1615 | A | Deionizer water purification |  |  |  |  |
E1620 | A | Blood pump for dialysis |  |  |  |  |
E1625 | A | Water softening system |  |  |  |  |
E1630 | A | Reciprocating peritoneal dia |  |  |  |  |
E1632 | A | Wearable artificial kidney |  |  |  |  |
E1635 | A | Compact travel hemodialyzer |  |  |  |  |
E1636 | A | Sorbent cartridges for dialy |  |  |  |  |
E1640 | A | Replacement components for d |  |  |  |  |
E1699 | A | Dialysis equipment unspecifi |  |  |  |  |
E1700 | A | Jaw motion rehab system |  |  |  |  |
E1701 | A | Repl cushions for jaw motion |  |  |  |  |
E1702 | A | Repl measr scales jaw motion |  |  |  |  |
E1800 | A | Adjust elbow ext/flex device |  |  |  |  |
E1805 | A | Adjust wrist ext/flex device |  |  |  |  |
E1810 | A | Adjust knee ext/flex device |  |  |  |  |
E1815 | A | Adjust ankle ext/flex device |  |  |  |  |
E1820 | A | Soft interface material |  |  |  |  |
E1825 | A | Adjust finger ext/flex devc |  |  |  |  |
E1830 | A | Adjust toe ext/flex device |  |  |  |  |
E1900 | A | Speech communication device |  |  |  |  |
G0001 | A | Drawing blood for specimen |  |  |  |  |
G0002 | N | Temporary urinary catheter |  |  |  |  |
G0004 | S | ECG transm phys review & int | 0100 | 1.70 | $82.43 | $71.57 | $16.49
G0005 | S | ECG 24 hour recording | 0099 | 0.38 | $18.43 | $14.68 | $3.69
G0006 | S | ECG transmission & analysis | 0100 | 1.70 | $82.43 | $71.57 | $16.49
G0007 | N | ECG phy review & interpret |  |  |  |  |
² G0008 | X | Admin influenza virus vac | 0354 | 0.13 | $6.19 |  |
G0009 | N | Admin pneumococcal vaccine |  |  |  |  |
G0010 | N | Admin hepatitis b vaccine |  |  |  |  |
G0015 | S | Post symptom ECG tracing | 0099 | 0.38 | $18.43 | $14.68 | $3.69
G0016 | N | Post symptom ECG md review |  |  |  |  |
G0025 | X | Collagen skin test kit | 0343 | 0.45 | $21.82 | $12.16 | $4.36
G0026 | A | Fecal leukocyte examination |  |  |  |  |
G0027 | A | Semen analysis |  |  |  |  |
G0030 | S | PET imaging prev PET single | 0285 | 15.06 | $730.22 | $415.21 | $146.04
G0031 | S | PET imaging prev PET multple | 0285 | 15.06 | $730.22 | $415.21 | $146.04
G0032 | S | PET follow SPECT 78464 singl | 0285 | 15.06 | $730.22 | $415.21 | $146.04
G0033 | S | PET follow SPECT 78464 mult | 0285 | 15.06 | $730.22 | $415.21 | $146.04
G0034 | S | PET follow SPECT 76865 singl | 0285 | 15.06 | $730.22 | $415.21 | $146.04
G0035 | S | PET follow SPECT 78465 mult | 0285 | 15.06 | $730.22 | $415.21 | $146.04
G0036 | S | PET follow cornry angio sing | 0285 | 15.06 | $730.22 | $415.21 | $146.04
G0037 | S | PET follow cornry angio mult | 0285 | 15.06 | $730.22 | $415.21 | $146.04
G0038 | S | PET follow myocard perf sing | 0285 | 15.06 | $730.22 | $415.21 | $146.04
G0039 | S | PET follow myocard perf mult | 0285 | 15.06 | $730.22 | $415.21 | $146.04
G0040 | S | PET follow stress echo singl | 0285 | 15.06 | $730.22 | $415.21 | $146.04
G0041 | S | PET follow stress echo mult | 0285 | 15.06 | $730.22 | $415.21 | $146.04
G0042 | S | PET follow ventriculogm sing | 0285 | 15.06 | $730.22 | $415.21 | $146.04
G0043 | S | PET follow ventriculogm mult | 0285 | 15.06 | $730.22 | $415.21 | $146.04
G0044 | S | PET following rest ECG singl | 0285 | 15.06 | $730.22 | $415.21 | $146.04
G0045 | S | PET following rest ECG mult | 0285 | 15.06 | $730.22 | $415.21 | $146.04
G0046 | S | PET follow stress ECG singl | 0285 | 15.06 | $730.22 | $415.21 | $146.04
G0047 | S | PET follow stress ECG mult | 0285 | 15.06 | $730.22 | $415.21 | $146.04
G0050 | S | Residual urine by ultrasound | 0265 | 1.17 | $56.73 | $38.08 | $11.35
G0101 | V | CA screen; pelvic/breast exam | 0601 | 1.00 | $48.49 | $9.70 | $9.70
G0102 | E | Prostate ca screening; dre |  |  |  |  |
G0103 | E | Psa, total screening |  |  |  |  |
¹ G0104 | S | CA screen; flexi sigmoidscope | 0158 | 7.98 | $386.93 |  | $96.73
¹ G0105 | S | Colorectal scrn; hi risk ind | 0159 | 2.83 | $137.22 |  | $34.31
² G0106 | S | Colon CA screen; barium enema | 0157 | 1.79 | $86.79 |  | $17.36
G0107 | A | CA screen; fecal blood test |  |  |  |  |
G0108 | A | Diab manage trn per indiv |  |  |  |  |
G0109 | A | Diab manage trn ind/group |  |  |  |  |
G0110 | A | Nett pulm-rehab educ; ind |  |  |  |  |
G0111 | A | Nett pulm-rehab educ; group |  |  |  |  |
G0112 | A | Nett; nutrition guid, initial |  |  |  |  |
G0113 | A | Nett; nutrition guid, subseqnt |  |  |  |  |
G0114 | A | Nett; psychosocial consult |  |  |  |  |
G0115 | A | Nett; psychological testing |  |  |  |  |
G0116 | A | Nett; psychosocial counsel |  |  |  |  |
² G0120 | S | Colon ca scrn; barium enema | 0157 | 1.79 | $86.79 |  | $17.36
G0121 | E | Colon ca scrn not hi rsk ind |  |  |  |  |
G0122 | E | Colon ca scrn; barium enema |  |  |  |  |
G0123 | E | Screen cerv/vag thin layer |  |  |  |  |
G0124 | E | Screen c/v thin layer by MD |  |  |  |  |
² G0125 | T | Lung image (PET) | 0980 | 38.67 | $1,875.00 |  | $375.00
² G0126 | T | Lung image (PET) staging | 0980 | 38.67 | $1,875.00 |  | $375.00
G0127 | T | Trim nail(s) | 0009 | 0.74 | $35.88 | $9.63 | $7.18
G0128 | E | CORF skilled nursing service |  |  |  |  |
G0129 | P | Partial hosp prog service | 0033 | 4.17 | $202.19 | $48.17 | $40.44
G0130 | X | Single energy x-ray study | 0261 | 1.38 | $66.91 | $38.77 | $13.38
G0131 | X | CT scan, bone density study | 0261 | 1.38 | $66.91 | $38.77 | $13.38
G0132 | X | CT scan, bone density study | 0261 | 1.38 | $66.91 | $38.77 | $13.38
G0141 | E | Scr c/v cyto, autosys and md |  |  |  |  |
G0143 | E | Scr c/v cyto, thinlayer, rescr |  |  |  |  |
G0144 | E | Scr c/v cyto, thinlayer, rescr |  |  |  |  |
G0145 | E | Scr c/v cyto, thinlayer, rescr |  |  |  |  |
G0147 | E | Scr c/v cyto, automated sys |  |  |  |  |
G0148 | E | Scr c/v cyto, autosys, rescr |  |  |  |  |
G0151 | E | HHCP-serv of pt, ea 15 min |  |  |  |  |
G0152 | E | HHCP-serv of ot, ea 15 min |  |  |  |  |
G0153 | E | HHCP-svs of s/l path, ea 15mn |  |  |  |  |
G0154 | E | HHCP-svs of rn, ea 15 min |  |  |  |  |
G0155 | E | HHCP-svs of csw, ea 15 min |  |  |  |  |
G0156 | E | HHCP-svs of aide, ea 15 min |  |  |  |  |
G0159 | T | Perc declot dialysis graft | 0088 | 26.49 | $1,284.42 | $678.68 | $256.88
G0160 | C | Cryo. ablation, prostate |  |  |  |  |
G0161 | X | Echo guide for cryo probes | 0268 | 2.23 | $108.13 | $69.51 | $21.63
² G0163 | T | Pet for rec of colorectal ca | 0980 | 38.67 | $1,875.00 |  | $375.00
² G0164 | T | Pet for lymphoma staging | 0980 | 38.67 | $1,875.00 |  | $375.00
² G0165 | T | Pet, rec of melanoma/met ca | 0980 | 38.67 | $1,875.00 |  | $375.00
² G0166 | T | Extrnl counterpulse, per tx | 0972 | 3.09 | $149.83 |  | $29.97
G0167 | S | Hyperbaric oz tx; no md reqrd | 0031 | 3.00 | $145.46 | $140.85 | $29.09
G0168 | T | Wound closure by adhesive | 0026 | 12.11 | $587.18 | $277.92 | $117.44
G0169 | T | Removal tissue; no anesthsia | 0026 | 12.11 | $587.18 | $277.92 | $117.44
G0170 | T | Skin biograft | 0026 | 12.11 | $587.18 | $277.92 | $117.44
G0171 | T | Skin biograft add-on | 0026 | 12.11 | $587.18 | $277.92 | $117.44
G0172 | P | Partial hosp prog service | 0033 | 4.17 | $202.19 | $48.17 | $40.44
G0173 | S | Stereotactic, one session | 0302 | 8.21 | $398.08 | $216.55 | $79.62
G0174 | S | Stereotactic, mult session | 0302 | 8.21 | $398.08 | $216.55 | $79.62
G0175 | V | Multidisciplinary team visit | 0603 | 1.66 | $80.49 | $16.29 | $16.10
J0120 | N | Tetracyclin injection |  |  |  |  |
J0130 | N | Abciximab injection |  |  |  |  |
² J0150 | X | Injection adenosine 6 MG | 0917 | 0.36 | $17.46 |  | $3.49
J0151 | E | Adenosine injection |  |  |  |  |
J0170 | N | Adrenalin epinephrin inject |  |  |  |  |
J0190 | N | Inj biperiden lactate/5 mg |  |  |  |  |
J0200 | N | Alatrofloxacin mesylate |  |  |  |  |
³ J0205 | X | Alglucerase injection | 0900 |  |  |  | $5.14
³ J0207 | X | Amifostine | 7000 |  |  |  | $41.99
J0210 | N | Methyldopate hcl injection |  |  |  |  |
³ J0256 | X | Alpha 1 proteinase inhibitor | 0901 |  |  |  | $15.22
J0270 | E | Alprostadil for injection |  |  |  |  |
J0275 | E | Alprostadil urethral suppos |  |  |  |  |
J0280 | N | Aminophyllin 250 MG inj |  |  |  |  |
J0285 | N | Amphotericin B |  |  |  |  |
³ J0286 | X | Amphotericin B lipid complex | 7001 |  |  |  | $12.12
J0290 | N | Ampicillin 500 MG inj |  |  |  |  |
J0295 | N | Ampicillin sodium per 1.5 gm |  |  |  |  |
J0300 | N | Amobarbital 125 MG inj |  |  |  |  |
J0330 | N | Succinycholine chloride inj |  |  |  |  |
J0340 | N | Nandrolon phenpropionate inj |  |  |  |  |
J0350 | N | Injection anistreplase 30 u |  |  |  |  |
J0360 | N | Hydralazine hcl injection |  |  |  |  |
J0380 | N | Inj metaraminol bitartrate |  |  |  |  |
J0390 | N | Chloroquine injection |  |  |  |  |
J0395 | N | Arbutamine HCl injection |  |  |  |  |
J0400 | N | Inj trimethaphan camsylate |  |  |  |  |
J0456 | N | Azithromycin |  |  |  |  |
J0460 | N | Atropine sulfate injection |  |  |  |  |
J0470 | N | Dimecaprol injection |  |  |  |  |
J0475 | N | Baclofen 10 MG injection |  |  |  |  |
³ J0476 | X | Baclofen intrathecal trial | 7021 |  |  |  | $.10
J0500 | N | Dicyclomine injection |  |  |  |  |
J0510 | N | Benzquinamide injection |  |  |  |  |
J0515 | N | Inj benztropine mesylate |  |  |  |  |
J0520 | N | Bethanechol chloride inject |  |  |  |  |
J0530 | N | Penicillin g benzathine inj |  |  |  |  |
J0540 | N | Penicillin g benzathine inj |  |  |  |  |
J0550 | N | Penicillin g benzathine inj |  |  |  |  |
J0560 | N | Penicillin g benzathine inj |  |  |  |  |
J0570 | N | Penicillin g benzathine inj |  |  |  |  |
J0580 | N | Penicillin g benzathine inj |  |  |  |  |
³ J0585 | X | Botulinum toxin a per unit | 0902 |  |  |  | $56.05
J0590 | N | Ethylnorepinephrine hcl inj |  |  |  |  |
J0600 | N | Edetate calcium disodium inj |  |  |  |  |
J0610 | N | Calcium gluconate injection |  |  |  |  |
J0620 | N | Calcium glycer & lact/10 ML |  |  |  |  |
J0630 | N | Calcitonin salmon injection |  |  |  |  |
J0635 | N | Calcitriol injection |  |  |  |  |
³ J0640 | X | Leucovorin calcium injection | 0725 |  |  |  | $1.07
J0670 | N | Inj mepivacaine HCL/10 ml |  |  |  |  |
J0690 | N | Cefazolin sodium injection |  |  |  |  |
J0694 | N | Cefoxitin sodium injection |  |  |  |  |
J0695 | N | Cefonocid sodium injection |  |  |  |  |
J0696 | N | Ceftriaxone sodium injection |  |  |  |  |
J0697 | N | Sterile cefuroxime injection |  |  |  |  |
J0698 | N | Cefotaxime sodium injection |  |  |  |  |
J0702 | N | Betamethasone acet & sod phosp |  |  |  |  |
J0704 | N | Betamethasone sod phosp/4 MG |  |  |  |  |
J0710 | N | Cephapirin sodium injection |  |  |  |  |
J0713 | N | Inj ceftazidime per 500 mg |  |  |  |  |
J0715 | N | Ceftizoxime sodium/500 MG |  |  |  |  |
J0720 | N | Chloramphenicol sodium injec |  |  |  |  |
J0725 | N | Chorionic gonadotropin/1000u |  |  |  |  |
J0730 | N | Chlorpheniramin maleate inj |  |  |  |  |
³ J0735 | X | Clonidine hydrochloride | 7002 |  |  |  | $4.17
J0740 | N | Cidofovir injection |  |  |  |  |
J0743 | N | Cilastatin sodium injection |  |  |  |  |
J0745 | N | Inj codeine phosphate/30 MG |  |  |  |  |
J0760 | N | Colchicine injection |  |  |  |  |
J0770 | N | Colistimethate sodium inj |  |  |  |  |
J0780 | N | Prochlorperazine injection |  |  |  |  |
J0800 | N | Corticotropin injection |  |  |  |  |
J0810 | N | Cortisone injection |  |  |  |  |
J0835 | N | Inj cosyntropin per 0.25 MG |  |  |  |  |
³ J0850 | X | Cytomegalovirus imm IV/vial | 0903 |  |  |  | $54.11
J0895 | N | Deferoxamine mesylate inj |  |  |  |  |
J0900 | N | Testosterone enanthate inj |  |  |  |  |
J0945 | N | Brompheniramine maleate inj |  |  |  |  |
J0970 | N | Estradiol valerate injection |  |  |  |  |
J1000 | N | Depo-estradiol cypionate inj |  |  |  |  |
J1020 | N | Methylprednisolone 20 MG inj |  |  |  |  |
J1030 | N | Methylprednisolone 40 MG inj |  |  |  |  |
J1040 | N | Methylprednisolone 80 MG inj |  |  |  |  |
J1050 | N | Medroxyprogesterone inj |  |  |  |  |
J1055 | E | Medrxyprogester acetate inj |  |  |  |  |
J1060 | N | Testosterone cypionate 1 ML |  |  |  |  |
J1070 | N | Testosterone cypionat 100 MG |  |  |  |  |
J1080 | N | Testosterone cypionat 200 MG |  |  |  |  |
J1090 | N | Testosterone cypionate 50 MG |  |  |  |  |
J1095 | N | Inj dexamethasone acetate |  |  |  |  |
J1100 | N | Dexamethasone sodium phos |  |  |  |  |
J1110 | N | Inj dihydroergotamine mesylt |  |  |  |  |
J1120 | N | Acetazolamid sodium injectio |  |  |  |  |
J1160 | N | Digoxin injection |  |  |  |  |
J1165 | N | Phenytoin sodium injection |  |  |  |  |
J1170 | N | Hydromorphone injection |  |  |  |  |
J1180 | N | Dyphylline injection |  |  |  |  |
³ J1190 | X | Dexrazoxane HCl injection | 0726 |  |  |  | $18.81
J1200 | N | Diphenhydramine hcl injectio |  |  |  |  |
J1205 | N | Chlorothiazide sodium inj |  |  |  |  |
J1212 | N | Dimethyl sulfoxide 50% 50 ML |  |  |  |  |
J1230 | N | Methadone injection |  |  |  |  |
J1240 | N | Dimenhydrinate injection |  |  |  |  |
² J1245 | X | Dipyridamole injection | 0917 | 0.36 | $17.46 |  | $3.49
J1250 | N | Inj dobutamine HCL/250 mg |  |  |  |  |
³ J1260 | X | Dolasetron mesylate | 0750 |  |  |  | $1.94
J1320 | N | Amitriptyline injection |  |  |  |  |
³ J1325 | X | Epoprostenol injection | 7003 |  |  |  | $2.23
J1327 | N | Eptifibatide injection |  |  |  |  |
J1330 | N | Ergonovine maleate injection |  |  |  |  |
J1362 | N | Erythromycin glucep/250 MG |  |  |  |  |
J1364 | N | Erythro lactobionate/500 MG |  |  |  |  |
J1380 | N | Estradiol valerate 10 MG inj |  |  |  |  |
J1390 | N | Estradiol valerate 20 MG inj |  |  |  |  |
J1410 | N | Inj estrogen conjugate 25 MG |  |  |  |  |
J1435 | N | Injection estrone per 1 MG |  |  |  |  |
J1436 | X | Etidronate disodium inj | 0727 |  |  |  | $9.31
J1438 | N | Etanercept injection |  |  |  |  |
³ J1440 | X | Filgrastim 300 mcg injeciton | 0728 |  |  |  | $25.21
J1441 | E | Filgrastim 480 mcg injection |  |  |  |  |
J1450 | N | Fluconazole |  |  |  |  |
J1455 | N | Foscarnet sodium injection |  |  |  |  |
J1460 | N | Gamma globulin 1 CC inj |  |  |  |  |
J1470 | E | Gamma globulin 2 CC inj |  |  |  |  |
J1480 | E | Gamma globulin 3 CC inj |  |  |  |  |
J1490 | E | Gamma globulin 4 CC inj |  |  |  |  |
J1500 | E | Gamma globulin 5 CC inj |  |  |  |  |
J1510 | E | Gamma globulin 6 CC inj |  |  |  |  |
J1520 | E | Gamma globulin 7 CC inj |  |  |  |  |
J1530 | E | Gamma globulin 8 CC inj |  |  |  |  |
J1540 | E | Gamma globulin 9 CC inj |  |  |  |  |
J1550 | E | Gamma globulin 10 CC inj |  |  |  |  |
J1560 | E | Gamma globulin > 10 CC inj |  |  |  |  |
³ J1561 | X | Immune globulin 500 mg | 0905 |  |  |  | $6.40
³ J1562 | X | Immune globulin 5 gms | 7004 |  |  |  | $45.48
³ J1565 | X | RSV-ivig | 0906 |  |  |  | $85.53
² J1570 | X | Ganciclovir sodium injection | 0907 | 0.51 | $24.73 |  | $4.95
J1580 | N | Garamycin gentamicin inj |  |  |  |  |
J1600 | N | Gold sodium thiomaleate inj |  |  |  |  |
J1610 | N | Glucagon hydrochloride/1 MG |  |  |  |  |
³ J1620 | X | Gonadorelin hydroch/100 mcg | 7005 |  |  |  | $9.12
³ J1626 | X | Granisetron HCl injection | 0764 |  |  |  | $2.33
J1630 | N | Haloperidol injection |  |  |  |  |
J1631 | N | Haloperidol decanoate inj |  |  |  |  |
J1642 | N | Inj heparin sodium per 10 u |  |  |  |  |
J1644 | N | Inj heparin sodium per 1000u |  |  |  |  |
J1645 | N | Dalteparin sodium |  |  |  |  |
J1650 | N | Inj enoxaparin sodium |  |  |  |  |
² J1670 | X | Tetanus immune globulin inj | 0908 | 0.90 | $43.64 |  | $8.73
J1690 | N | Prednisolone tebutate inj |  |  |  |  |
J1700 | N | Hydrocortisone acetate inj |  |  |  |  |
J1710 | N | Hydrocortisone sodium ph inj |  |  |  |  |
J1720 | N | Hydrocortisone sodium succ i |  |  |  |  |
J1730 | N | Diazoxide injection |  |  |  |  |
J1739 | N | Hydroxyprogesterone cap 125 |  |  |  |  |
J1741 | N | Hydroxyprogesterone cap 250 |  |  |  |  |
J1742 | N | Ibutilide fumarate injection |  |  |  |  |
³ J1745 | X | Infliximab injection | 7043 |  |  |  | $6.89
J1750 | N | Iron dextran |  |  |  |  |
³ J1785 | X | Injection imiglucerase/unit | 0916 |  |  |  | $.58
J1790 | N | Droperidol injection |  |  |  |  |
J1800 | N | Propranolol injection |  |  |  |  |
J1810 | N | Droperidol/fentanyl inj |  |  |  |  |
J1820 | N | Insulin injection |  |  |  |  |
³ J1825 | X | Interferon beta-1a | 0909 |  |  |  | $28.70
³ J1830 | X | Interferon beta-1b/.25 MG | 0910 |  |  |  | $8.44
J1840 | N | Kanamycin sulfate 500 MG inj |  |  |  |  |
J1850 | N | Kanamycin sulfate 75 MG inj |  |  |  |  |
J1885 | N | Ketorolac tromethamine inj |  |  |  |  |
J1890 | N | Cephalothin sodium injection |  |  |  |  |
J1910 | N | Kutapressin injection |  |  |  |  |
J1930 | N | Propiomazine injection |  |  |  |  |
J1940 | N | Furosemide injection |  |  |  |  |
³ J1950 | X | Leuprolide acetate/3.75 MG | 0800 |  |  |  | $68.56
J1955 | E | Inj levocarnitine per 1 gm |  |  |  |  |
J1956 | N | Levofloxacin injection |  |  |  |  |
J1960 | N | Levorphanol tartrate inj |  |  |  |  |
J1970 | N | Methotrimeprazine injection |  |  |  |  |
J1980 | N | Hyoscyamine sulfate inj |  |  |  |  |
J1990 | N | Chlordiazepoxide injection |  |  |  |  |
J2000 | N | Lidocaine injection |  |  |  |  |
J2010 | N | Lincomycin injection |  |  |  |  |
J2060 | N | Lorazepam injection |  |  |  |  |
J2150 | N | Mannitol injection |  |  |  |  |
J2175 | N | Meperidine hydrochl/100 MG |  |  |  |  |
J2180 | N | Meperidine/promethazine inj |  |  |  |  |
J2210 | N | Methylergonovin maleate inj |  |  |  |  |
J2240 | N | Metocurine iodide injection |  |  |  |  |
J2250 | N | Inj midazolam hydrochloride |  |  |  |  |
² J2260 | X | Inj milrinone lactate/5 ML | 7007 | 0.47 | $22.79 |  | $4.56
J2270 | N | Morphine sulfate injection |  |  |  |  |
J2271 | N | Morphine so4 injection 100mg |  |  |  |  |
³ J2275 | X | Morphine sulfate injection | 7010 |  |  |  | $.68
J2300 | N | Inj nalbuphine hydrochloride |  |  |  |  |
J2310 | N | Inj naloxone hydrochloride |  |  |  |  |
J2320 | N | Nandrolone decanoate 50 MG |  |  |  |  |
J2321 | N | Nandrolone decanoate 100 MG |  |  |  |  |
J2322 | N | Nandrolone decanoate 200 MG |  |  |  |  |
J2330 | N | Thiothixene injection |  |  |  |  |
J2350 | N | Niacinamide/niacin injection |  |  |  |  |
³ J2352 | N | Octreotide acetate injection | 7031 |  |  |  | $5.43
³ J2355 | X | Oprelvekin injection | 7011 |  |  |  | $30.35
J2360 | N | Orphenadrine injection |  |  |  |  |
J2370 | N | Phenylephrine hcl injection |  |  |  |  |
J2400 | N | Chloroprocaine hcl injection |  |  |  |  |
³ J2405 | X | Ondansetron hcl injection | 0768 |  |  |  | $.87
J2410 | N | Oxymorphone hcl injection |  |  |  |  |
³ J2430 | X | Pamidronate disodium/30 MG | 0730 |  |  |  | $30.93
J2440 | N | Papaverin hcl injection |  |  |  |  |
J2460 | N | Oxytetracycline injection |  |  |  |  |
J2480 | N | Hydrochlorides of opium inj |  |  |  |  |
J2500 | N | Paricalcitol |  |  |  |  |
J2510 | N | Penicillin g procaine inj |  |  |  |  |
J2512 | N | Inj pentagastrin per 2 ML |  |  |  |  |
J2515 | N | Pentobarbital sodium inj |  |  |  |  |
J2540 | N | Penicillin g potassium inj |  |  |  |  |
J2543 | N | Piperacillin/tazobactam |  |  |  |  |
³ J2545 | X | Pentamidine isethionte/300mg | 7012 |  |  |  | $8.73
J2550 | N | Promethazine hcl injection |  |  |  |  |
J2560 | N | Phenobarbital sodium inj |  |  |  |  |
J2590 | N | Oxytocin injection |  |  |  |  |
J2597 | E | Inj desmopressin acetate |  |  |  |  |
J2640 | N | Prednisolone sodium ph inj |  |  |  |  |
J2650 | N | Prednisolone acetate inj |  |  |  |  |
J2670 | N | Totazoline hcl injection |  |  |  |  |
J2675 | N | Inj progesterone per 50 MG |  |  |  |  |
J2680 | N | Fluphenazine decanoate 25 MG |  |  |  |  |
J2690 | N | Procainamide hcl injection |  |  |  |  |
J2700 | N | Oxacillin sodium injeciton |  |  |  |  |
J2710 | N | Neostigmine methylslfte inj |  |  |  |  |
J2720 | N | Inj protamine sulfate/10 MG |  |  |  |  |
J2725 | N | Inj protirelin per 250 mcg |  |  |  |  |
J2730 | N | Pralidoxime chloride inj |  |  |  |  |
J2760 | N | Phentolaine mesylate inj |  |  |  |  |
³ J2765 | X | Metoclopramide hcl injection | 0754 |  |  |  | $.19
J2780 | N | Ranitidine hydrochloride inj |  |  |  |  |
³ J2790 | X | Rho d immune globulin inj | 0884 |  |  |  | $3.78
J2792 | N | Rho(D) immune globulin h, sd |  |  |  |  |
J2800 | N | Methocarbamol injection |  |  |  |  |
J2810 | N | Inj theophylline per 40 MG |  |  |  |  |
³ J2820 | X | Sargramostim injection | 0731 |  |  |  | $16.97
J2860 | N | Secobarbital sodium inj |  |  |  |  |
J2910 | N | Aurothioglucose injeciton |  |  |  |  |
J2912 | N | Sodium chloride injection |  |  |  |  |
J2920 | N | Methylprednisolone injection |  |  |  |  |
J2930 | N | Methylprednisolone injection |  |  |  |  |
J2950 | N | Promazine hcl injeciton |  |  |  |  |
J2970 | N | Methicillin sodium injection |  |  |  |  |
² J2994 | X | Reteplase double bolus | 0914 | 38.20 | $1,852.21 |  | $370.44
² J2995 | X | Inj streptokinase/250000 IU | 0911 | 1.64 | $79.69 |  | $15.94
² J2996 | X | Alteplase recombinant inj | 0915 | 5.85 | $283.70 |  | $56.74
J3000 | N | Streptomycin injection |  |  |  |  |
³ J3010 | X | Fentanyl citrate injeciton | 7014 |  |  |  | $.19
J3030 | N | Sumatriptan succinate/6 MG |  |  |  |  |
J3070 | N | Pentazocine hcl injeciton |  |  |  |  |
J3080 | N | Chlorprothixene injection |  |  |  |  |
J3105 | N | Terbutaline sulfate inj |  |  |  |  |
J3120 | N | Testosterone enanthate inj |  |  |  |  |
J3130 | N | Testosterone enanthate inj |  |  |  |  |
J3140 | N | Testosterone suspension inj |  |  |  |  |
J3150 | N | Testosteron propionate inj |  |  |  |  |
J3230 | N | Chlorpromazine hcl injection |  |  |  |  |
J3240 | N | Thyrotropin injection |  |  |  |  |
² J3245 | X | Tirofiban hydrochloride | 7041 | 0.02 | $.97 |  | $.19
J3250 | N | Trimethobenzamide hcl inj |  |  |  |  |
J3260 | N | Tobramycin sulfate injection |  |  |  |  |
J3265 | N | Injection torsemide 10 mg/ml |  |  |  |  |
J3270 | N | Imipramine hcl injection |  |  |  |  |
³ J3280 | X | Thiethylperazine maleate inj | 0755 |  |  |  | $.68
J3301 | N | Triamcinolone acetonide inj |  |  |  |  |
J3302 | N | Triamcinolone diacetate inj |  |  |  |  |
J3303 | N | Triamcinolone hexacetonl inj |  |  |  |  |
³ J3305 | X | Inj trimetrexate glucoronate | 7045 |  |  |  | $8.15
J3310 | N | Perphenazine injeciton |  |  |  |  |
J3320 | N | Spectinomycn di-hcl inj |  |  |  |  |
J3350 | N | Urea injection |  |  |  |  |
J3360 | N | Diazepam injection |  |  |  |  |
J3364 | N | Urokinase 5000 IU injection |  |  |  |  |
² J3365 | X | Urokinase 250,000 IU inj | 7036 | 0.73 | $35.40 |  | $7.08
J3370 | N | Vancomycin hcl injeciton |  |  |  |  |
J3390 | N | Methoxamine injection |  |  |  |  |
J3400 | N | Triflupromazine hcl inj |  |  |  |  |
J3410 | N | Hydroxyzine hcl injeciton |  |  |  |  |
J3420 | N | Vitamin b12 injection |  |  |  |  |
J3430 | N | Vitamin k phytonadione inj |  |  |  |  |
J3450 | N | Mephentermine sulfate inj |  |  |  |  |
J3470 | N | Hyaluronidase injection |  |  |  |  |
J3475 | N | Inj magnesium sulfate |  |  |  |  |
J3480 | N | Inj potassium chloride |  |  |  |  |
J3490 | N | Drugs unclassified injection |  |  |  |  |
J3520 | E | Edetate disodium per 150 mg |  |  |  |  |
J3530 | N | Nasal vaccine inhalation |  |  |  |  |
J3535 | E | Metered dose inhaler drug |  |  |  |  |
J3570 | E | Laetrile amygdalin vit B17 |  |  |  |  |
J7030 | N | Normal saline solution infus |  |  |  |  |
J7040 | N | Normal saline solution infus |  |  |  |  |
J7042 | N | 5% dextrose/normal saline |  |  |  |  |
J7050 | N | Normal saline solution infus |  |  |  |  |
J7051 | N | Sterile saline/water |  |  |  |  |
J7060 | N | 5% dextrose/water |  |  |  |  |
J7070 | N | D5w infusion |  |  |  |  |
J7100 | N | Dextran 40 infusion |  |  |  |  |
J7110 | N | Dextran 75 infusion |  |  |  |  |
J7120 | N | Ringers lactate infusion |  |  |  |  |
J7130 | N | Hypertonic saline solution |  |  |  |  |
³ J7190 | X | Factor viii | 0925 |  |  |  | $.19
³ J7191 | X | Factor VIII (porcine) | 0926 |  |  |  | $.19
³ J7192 | X | Factor viii recombinant | 0927 |  |  |  | $.19
³ J7194 | X | Factor ix complex | 0928 |  |  |  | $.08
³ J7197 | X | Antithrombin iii injection | 0930 |  |  |  | $.19
³ J7198 | X | Anti-inhibitor | 0929 |  |  |  | $.27
J7199 | E | Hemophilia clot factor noc |  |  |  |  |
J7300 | E | Intraut copper contraceptive |  |  |  |  |
³ J7310 | X | Ganciclovir long act implant | 0913 |  |  |  | $701.51
J7315 | N | Sodium hyaluronate injection |  |  |  |  |
J7320 | N | Hylan G-F 20 injection |  |  |  |  |
² J7500 | X | Azathioprine oral 50mg | 0886 | 0.02 | $.97 |  | $.19
² J7501 | X | Azathioprine parenteral | 0887 | 1.40 | $67.88 |  | $13.58
² J7502 | X | Cyclosporine oral 100 mg | 0888 | 0.08 | $3.88 |  | $.78
² J7504 | X | Lymphocyte immune globulin | 0890 | 3.79 | $183.77 |  | $36.75
³ J7505 | E | Monoclonal antibodies | 7038 |  |  |  | $89.60
J7506 | N | Prednisone oral |  |  |  |  |
² J7507 | X | Tacrolimus oral per 1 MG | 0891 | 3.15 | $152.73 |  | $30.55
J7508 | E | Tacrolimus oral per 5 MG |  |  |  |  |
J7509 | N | Methylprednisolone oral |  |  |  |  |
J7510 | N | Prednisolone oral per 5 mg |  |  |  |  |
J7513 | X | Daclizumab, parenteral |  |  |  |  |
J7515 | N | Cyclosporine oral 25 mg |  |  |  |  |
² J7516 | X | Cyclosporin parenteral 250mg | 0889 | 0.36 | $17.46 |  | $3.49
J7517 | N | Mycophenolate mofetil oral |  |  |  |  |
J7599 | E | Immunosuppressive drug noc |  |  |  |  |
J7608 | A | Acetylcysteine inh sol u d |  |  |  |  |
J7610 | A | Acetylcysteine 10% injection |  |  |  |  |
J7615 | A | Acetylcysteine 20% injection |  |  |  |  |
J7618 | A | Albuterol inh sol con |  |  |  |  |
J7619 | A | Albuterol inh sol u d |  |  |  |  |
J7620 | A | Albuterol sulfate .083%/ml |  |  |  |  |
J7625 | A | Albuterol sulfate .5% inj |  |  |  |  |
J7627 | A | Bitolterolmesylate inhal sol |  |  |  |  |
J7628 | A | Bitolterol mes inhal sol con |  |  |  |  |
J7629 | A | Bitolterol mes inh sol u d |  |  |  |  |
J7630 | A | Cromolyn sodium injeciton |  |  |  |  |
J7631 | A | Cromolyn sodium inh sol u d |  |  |  |  |
J7635 | A | Atropine inhal sol con |  |  |  |  |
J7636 | A | Atropine inhal sol unit dose |  |  |  |  |
J7637 | A | Dexamethasone inhal sol con |  |  |  |  |
J7638 | A | Dexamethasone inhal sol u d |  |  |  |  |
J7639 | A | Dornase alpha inhal sol u d |  |  |  |  |
J7640 | A | Epinephrine injection |  |  |  |  |
J7642 | A | Glycopyrrolate inhal sol con |  |  |  |  |
J7643 | A | Glycopyrrolate inhal sol u d |  |  |  |  |
J7644 | A | Ipratropium brom inh sol u d |  |  |  |  |
J7645 | A | Ipratropium bromide .02%/ml |  |  |  |  |
J7648 | A | Isoetharine hcl inh sol con |  |  |  |  |
J7649 | A | Isoetharine hcl inh sol u d |  |  |  |  |
J7650 | A | Isoetharine hcl .1% inj |  |  |  |  |
J7651 | A | Isoetharine hcl .125% inj |  |  |  |  |
J7652 | A | Isoetharine hcl .167% inj |  |  |  |  |
J7653 | A | Isoetharine hcl .2%/inj |  |  |  |  |
J7654 | A | Isoetharine hcl .25% inj |  |  |  |  |
J7655 | A | Isoetharine hcl 1% inj |  |  |  |  |
J7658 | A | Isoproterenolhcl inh sol con |  |  |  |  |
J7659 | A | Isoproterenol hcl inh sol ud |  |  |  |  |
J7660 | A | Isoproterenol hcl .5% inj |  |  |  |  |
J7665 | A | Isoproterenol hcl 1% inj |  |  |  |  |
J7668 | A | Metaproterenol inh sol con |  |  |  |  |
J7669 | A | Metaproterenol inh sol u d |  |  |  |  |
J7670 | A | Metaproterenol sulfate .4% |  |  |  |  |
J7672 | A | Metaproterenol sulfate .6% |  |  |  |  |
J7675 | A | Metaproterenol sulfate 5% |  |  |  |  |
J7680 | A | Terbutaline so4 inh sol con |  |  |  |  |
J7681 | A | Terbutaline so4 inh sol u d |  |  |  |  |
J7682 | A | Tobramycin inhalation sol |  |  |  |  |
J7683 | A | Triamcinolone inh sol con |  |  |  |  |
J7684 | A | Triamcinolone inh sol u d |  |  |  |  |
J7699 | A | Inhalation solution for DME |  |  |  |  |
J7799 | A | Non-inhalation drug for DME |  |  |  |  |
³ J7913 | X | Daclizumab, Parenteral, 25 m | 0892 |  |  |  | $54.11
J8499 | E | Oral prescrip drug non chemo |  |  |  |  |
³ J8510 | X | Oral busulfan | 7015 |  |  |  | $.19
³ J8520 | X | Capecitabine, oral, 150 mg | 7042 |  |  |  | $.19
J8521 | N | Capecitabine, oral, 500 mg |  |  |  |  |
³ J8530 | X | Cyclophosphamide oral 25 MG | 0801 |  |  |  | $.19
³ J8560 | X | Etoposide oral 50 MG | 0802 |  |  |  | $3.10
³ J8600 | X | Melphalan oral 2 MG | 0803 |  |  |  | $.19
³ J8610 | X | Methotrexate oral 2.5 MG | 0826 |  |  |  | $.29
J8999 | E | Oral prescription drug chemo |  |  |  |  |
³ J9000 | X | Doxorubic hcl 10 MG vl chemo | 0847 |  |  |  | $2.81
³ J9001 | X | Doxorubicin hcl liposome inj | 7046 |  |  |  | $39.18
³ J9015 | X | Aldesleukin/single use vial | 0807 |  |  |  | $65.07
³ J9020 | X | Asparaginase injection | 0814 |  |  |  | $8.34
³ J9031 | X | Bcg live intravesical vac | 0809 |  |  |  | $19.78
³ J9040 | X | Bleomycin sulfate injection | 0857 |  |  |  | $48.29
³ J9045 | X | Carboplatin injection | 0811 |  |  |  | $13.96
³ J9050 | X | Carmus bischl nitro inj | 0812 |  |  |  | $10.57
³ J9060 | X | Cisplatin 10 MG injeciton | 0813 |  |  |  | $4.56
J9062 | E | Cisplatin 50 MG injeciton |  |  |  |  |
³ J9065 | X | Inj cladribine per 1 MG | 0858 |  |  |  | $8.24
³ J9070 | X | Cyclophosphamide 100 MG inj | 0815 |  |  |  | $.48
J9080 | E | Cyclophosphamide 200 MG inj |  |  |  |  |
J9090 | E | Cyclophosphamide 500 MG inj |  |  |  |  |
J9091 | E | Cyclophosphamide 1.0 grm inj |  |  |  |  |
J9092 | E | Cyclophosphamide 2.0 grm inj |  |  |  |  |
³ J9093 | X | Cyclophosphamide lyophilized | 0816 |  |  |  | $1.16
J9094 | E | Cyclophosphamide lyophilized |  |  |  |  |
J9095 | E | Cyclophosphamide lyophilized |  |  |  |  |
J9096 | E | Cyclophosphamide lyophilized |  |  |  |  |
J9097 | E | Cyclophosphamide lyophilized |  |  |  |  |
³ J9100 | X | Cytarabine hcl 100 MG inj | 0817 |  |  |  | $.68
J9110 | E | Cytarabine hcl 500 MG inj |  |  |  |  |
³ J9120 | X | Dactinomycin actinomycin d | 0818 |  |  |  | $1.75
³ J9130 | X | Dacarbazine 10 MG inj | 0819 |  |  |  | $1.26
J9140 | E | Dacarbazine 200 MG inj |  |  |  |  |
³ J9150 | X | Daunorubicin | 0820 |  |  |  | $11.64
³ J9151 | X | Daunorubicin citrate liposom | 0821 |  |  |  | $7.76
³ J9165 | X | Diethylstilbestrol injection | 0822 |  |  |  | $2.13
³ J9170 | X | Docetaxel | 0823 |  |  |  | $34.72
³ J9181 | X | Etoposide 10 MG inj | 0824 |  |  |  | $.58
J9182 | E | Etoposide 100 MG inj |  |  |  |  |
³ J9185 | X | Fludarabine phosphate inj | 0842 |  |  |  | $30.84
³ J9190 | X | Fluorouracil injection | 0859 |  |  |  | $.19
³ J9200 | X | Floxuridine injection | 0827 |  |  |  | $18.81
³ J9201 | X | Gemcitabine HCl | 0828 |  |  |  | $9.31
³ J9202 | X | Goserelin acetate implant | 0810 |  |  |  | $59.74
³ J9206 | X | Irinotecan injection | 0830 |  |  |  | $14.16
³ J9208 | X | Ifosfomide injection | 0831 |  |  |  | $13.58
³ J9209 | X | Mesna injection | 0732 |  |  |  | $2.42
³ J9211 | X | Idarubicin hcl injeciton | 0832 |  |  |  | $46.45
³ J9212 | X | Interferon alfacon-1 | 0833 |  |  |  | $.19
³ J9213 | X | Interferon alfa-2a inj | 0834 |  |  |  | $3.20
³ J9214 | X | Interferon alfa-2b inj | 0836 |  |  |  | $1.36
³ J9215 | X | Interferon alfa-n3 inj | 0865 |  |  |  | $1.07
³ J9216 | X | Interferon gamma 1-b inj | 0838 |  |  |  | $22.79
J9217 | E | Leuprolide acetate suspnsion |  |  |  |  |
³ J9218 | X | Leuprolide acetate injeciton | 0861 |  |  |  | $19.39
³ J9230 | X | Mechlorethamine hcl inj | 0839 |  |  |  | $1.65
³ J9245 | X | Inj melphalan hydrochl 50 MG | 0840 |  |  |  | $44.71
³ J9250 | X | Methotrexate sodium inj | 0841 |  |  |  | $.10
J9260 | E | Methotrexate sodium inj |  |  |  |  |
³ J9265 | X | Paclitaxel injection | 0863 |  |  |  | $30.16
³ J9266 | X | Pegaspargase/singl dose vial | 0843 |  |  |  | $178.72
³ J9268 | X | Pentostatin injection | 0844 |  |  |  | $133.73
³ J9270 | X | Plicamycin (mithramycin) inj | 0860 |  |  |  | $1.36
³ J9280 | X | Mitomycin 5 MG inj | 0862 |  |  |  | $19.88
J9290 | E | Mitomycin 20 MG inj |  |  |  |  |
J9291 | E | Mitomycin 40 MG inj |  |  |  |  |
³ J9293 | X | Mitoxantrone hydrochl/5 MG | 0864 |  |  |  | $25.80
³ J9310 | X | Rituximab cancer treatment | 0849 |  |  |  | $51.40
³ J9320 | X | Streptozocin injection | 0850 |  |  |  | $14.64
³ J9340 | X | Thiotepa injection | 0851 |  |  |  | $9.50
³ J9350 | X | Topotecan | 0852 |  |  |  | $73.22
J9355 | N | Trastuzumab |  |  |  |  |
J9357 | N | Valrubicin, 200 mg |  |  |  |  |
³ J9360 | X | Vinblastine sulfate inj | 0853 |  |  |  | $.39
³ J9370 | X | Vincristine sulfate 1 MG inj | 0854 |  |  |  | $2.23
J9375 | E | Vincristine sulfate 2 MG inj |  |  |  |  |
J9380 | E | Vincristine sulfate 5 MG inj |  |  |  |  |
³ J9390 | X | Vinorelbine tartrate/10 mg | 0855 |  |  |  | $9.60
³ J9600 | X | Porfimer sodium | 0856 |  |  |  | $34.62
J9999 | E | Chemotherapy drug |  |  |  |  |
K0001 | A | Standard wheelchair |  |  |  |  |
K0002 | A | Stnd hemi (low seat) whlchr |  |  |  |  |
K0003 | A | Lightweight wheelchair |  |  |  |  |
K0004 | A | High strength ltwt whlchr |  |  |  |  |
K0005 | A | Ultralightweight wheelchair |  |  |  |  |
K0006 | A | Heavy duty wheelchair |  |  |  |  |
K0007 | A | Extra heavy duty wheelchair |  |  |  |  |
K0008 | A | Cstm manual wheelchair/base |  |  |  |  |
K0009 | A | Other manual wheelchair/base |  |  |  |  |
K0010 | A | Stnd wt frame power whlchr |  |  |  |  |
K0011 | A | Stnd wt pwr whlchr w control |  |  |  |  |
K0012 | A | Ltwt portbl power whlchr |  |  |  |  |
K0013 | A | Custom power whlchr base |  |  |  |  |
K0014 | A | Other power whlchr base |  |  |  |  |
K0015 | A | Detach non-adjus hght armrst |  |  |  |  |
K0016 | A | Detach adjust armrst cmplete |  |  |  |  |
K0017 | A | Detach adjust armrest base |  |  |  |  |
K0018 | A | Detach adjust armrst upper |  |  |  |  |
K0019 | A | Arm pad each |  |  |  |  |
K0020 | A | Fixed adjust armrest pair |  |  |  |  |
K0021 | A | Anti-tipping device each |  |  |  |  |
K0022 | A | Reinforced back upholstery |  |  |  |  |
K0023 | A | Planr back insrt foam w/strp |  |  |  |  |
K0024 | A | Plnr back insrt foam w/hrdwr |  |  |  |  |
K0025 | A | Hook-on headrest extension |  |  |  |  |
K0026 | A | Back upholst lgtwt whlchr |  |  |  |  |
K0027 | A | Back upholst other whlchr |  |  |  |  |
K0028 | A | Manual fully reclining back |  |  |  |  |
K0029 | A | Reinforced seat upholstery |  |  |  |  |
K0030 | A | Solid plnr seat sngl dnsfoam |  |  |  |  |
K0031 | A | Safety belt/pelvic strap |  |  |  |  |
K0032 | A | Seat uphols lgtwt whlchr |  |  |  |  |
K0033 | A | Seat upholstery other whlchr |  |  |  |  |
K0034 | A | Heel loop each |  |  |  |  |
K0035 | A | Heel loop with ankle strap |  |  |  |  |
K0036 | A | Toe loop each |  |  |  |  |
K0037 | A | High mount flip-up footrest |  |  |  |  |
K0038 | A | Leg strap each |  |  |  |  |
K0039 | A | Leg strap h style each |  |  |  |  |
K0040 | A | Adjustable angle footplate |  |  |  |  |
K0041 | A | Large size footplate each |  |  |  |  |
K0042 | A | Standard size footplate each |  |  |  |  |
K0043 | A | Ftrst lower extension tube |  |  |  |  |
K0044 | A | Ftrst upper hanger bracket |  |  |  |  |
K0045 | A | Footrest complete assembly |  |  |  |  |
K0046 | A | Elevat legrst low extension |  |  |  |  |
K0047 | A | Elevat legrst up hangr brack |  |  |  |  |
K0048 | A | Elevate legrest complete |  |  |  |  |
K0049 | A | Calf pad each |  |  |  |  |
K0050 | A | Ratchet assembly |  |  |  |  |
K0051 | A | Cam relese assem ftrst/lgrst |  |  |  |  |
K0052 | A | Swingaway detach footrest |  |  |  |  |
K0053 | A | Elevate footrest articulate |  |  |  |  |
K0054 | A | Seat wdth 10-12/15/17/20 wc |  |  |  |  |
K0055 | A | Seat dpth 15/17/18 ltwt wc |  |  |  |  |
K0056 | A | Seat ht <17 or >=21 ltwt wc |  |  |  |  |
K0057 | A | Seat wdth 19/20 hvy dty wc |  |  |  |  |
K0058 | A | Seat dpth 17/18 power wc |  |  |  |  |
K0059 | A | Plastic coated handrim each |  |  |  |  |
K0060 | A | Steel handrim each |  |  |  |  |
K0061 | A | Aluminum handrim each |  |  |  |  |
K0062 | A | Handrim 8-10 vert/obliq proj |  |  |  |  |
K0063 | A | Hndrm 12-16 vert/obliq proj |  |  |  |  |
K0064 | A | Zero pressure tube flat free |  |  |  |  |
K0065 | A | Spoke protectors |  |  |  |  |
K0066 | A | Solid tire any size each |  |  |  |  |
K0067 | A | Pneumatic tire any size each |  |  |  |  |
K0068 | A | Pneumatic tire tube each |  |  |  |  |
K0069 | A | Rear whl complete solid tire |  |  |  |  |
K0070 | A | Rear whl compl pneum tire |  |  |  |  |
K0071 | A | Front castr compl pneum tire |  |  |  |  |
K0072 | A | Frnt cstr cmpl sem-pneum tir |  |  |  |  |
K0073 | A | Caster pin lock each |  |  |  |  |
K0074 | A | Pneumatic caster tire each |  |  |  |  |
K0075 | A | Semi-pneumatic caster tire |  |  |  |  |
K0076 | A | Solid caster tire each |  |  |  |  |
K0077 | A | Front caster assem complete |  |  |  |  |
K0078 | A | Pneumatic caster tire tube |  |  |  |  |
K0079 | A | Wheel lock extension pair |  |  |  |  |
K0080 | A | Anti-rollback device pair |  |  |  |  |
K0081 | A | Wheel lock assembly complete |  |  |  |  |
K0082 | A | 22 nf deep cycl acid battery |  |  |  |  |
K0083 | A | 22 nf gel cell battery each |  |  |  |  |
K0084 | A | Grp 24 deep cycl acid battry |  |  |  |  |
K0085 | A | Group 24 gel cell battery |  |  |  |  |
K0086 | A | U-1 lead acid battery each |  |  |  |  |
K0087 | A | U-1 gel cell battery each |  |  |  |  |
K0088 | A | Battry chrgr acid/gel cell |  |  |  |  |
K0089 | A | Battery charger dual mode |  |  |  |  |
K0090 | A | Rear tire power wheelchair |  |  |  |  |
K0091 | A | Rear tire tube power whlchr |  |  |  |  |
K0092 | A | Rear assem cmplt powr whlchr |  |  |  |  |
K0093 | A | Rear zero pressure tire tube |  |  |  |  |
K0094 | A | Wheel tire for power base |  |  |  |  |
K0095 | A | Wheel tire tube each base |  |  |  |  |
K0096 | A | Wheel assem powr base complt |  |  |  |  |
K0097 | A | Wheel zero presure tire tube |  |  |  |  |
K0098 | A | Drive belt power wheelchair |  |  |  |  |
K0099 | A | Pwr wheelchair front caster |  |  |  |  |
K0100 | A | Amputee adapter pair |  |  |  |  |
K0101 | A | One-arm drive attachment |  |  |  |  |
K0102 | A | Crutch and cane holder |  |  |  |  |
K0103 | A | Transfer board < 25″ |  |  |  |  |
K0104 | A | Cylinder tank carrier |  |  |  |  |
K0105 | A | Iv hanger |  |  |  |  |
K0106 | A | Arm trough each |  |  |  |  |
K0107 | A | Wheelchair tray |  |  |  |  |
K0108 | A | W/c component-accessory NOS |  |  |  |  |
K0112 | A | Trunk vest supprt innr frame |  |  |  |  |
K0113 | A | Trunk vest suprt w/o inr frm |  |  |  |  |
K0114 | A | Whlchr back suprt inr frame |  |  |  |  |
K0115 | A | Back module orthotic system |  |  |  |  |
K0116 | A | Back & seat modul orthot sys |  |  |  |  |
K0182 | A | Water distilled w/nebulizer |  |  |  |  |
K0183 | A | Nasal application device |  |  |  |  |
K0184 | A | Nasal pillows/seals pair |  |  |  |  |
K0185 | A | Pos airway pressure headgear |  |  |  |  |
K0186 | A | Pos airway prssure chinstrap |  |  |  |  |
K0187 | A | Pos airway pressure tubing |  |  |  |  |
K0188 | A | Pos airway pressure filter |  |  |  |  |
K0189 | A | Filter nondisposable w PAP |  |  |  |  |
K0195 | A | Elevating whlchair leg rests |  |  |  |  |
K0268 | A | Humidifier nonheated w PAP |  |  |  |  |
K0269 | A | Aerosol compressor cpap dev |  |  |  |  |
K0270 | A | Ultrasonic generator w nebul |  |  |  |  |
K0280 | A | Extension drainage tubing |  |  |  |  |
K0281 | A | Lubricant catheter insertion |  |  |  |  |
K0283 | A | Saline solution dispenser |  |  |  |  |
K0407 | A | Urinary cath skin attachment |  |  |  |  |
K0408 | A | Urinary cath leg strap |  |  |  |  |
K0409 | A | Sterile H2O irrigation solut |  |  |  |  |
K0410 | A | Male ext cath w/adh coating |  |  |  |  |
K0411 | A | Male ext cath w/adh strip |  |  |  |  |
K0415 | E | RX antiemetic drg, oral NOS |  |  |  |  |
K0416 | E | Rx antiemetic drg, rectal NOS |  |  |  |  |
K0440 | A | Nasal prosthesis |  |  |  |  |
K0441 | A | Midfacial prosthesis |  |  |  |  |
K0442 | A | Orbital prosthesis |  |  |  |  |
K0443 | A | Upper facial prosthesis |  |  |  |  |
K0444 | A | Hemi-facial prosthesis |  |  |  |  |
K0445 | A | Auricular prosthesis |  |  |  |  |
K0446 | A | Partial facial prosthesis |  |  |  |  |
K0447 | A | Nasal septal prosthesis |  |  |  |  |
K0448 | A | Unspec maxillofacial prosth |  |  |  |  |
K0449 | A | Repair maxillofacial prosth |  |  |  |  |
K0450 | A | Liq adhes for facial prosth |  |  |  |  |
K0451 | A | Adhesive remover wipes |  |  |  |  |
K0452 | A | Wheelchair bearings |  |  |  |  |
K0455 | A | Pump uninterrupted infusion |  |  |  |  |
K0456 | A | Heavyduty/xtra wide hosp bed |  |  |  |  |
K0457 | A | Heavyduty/wide commode chair |  |  |  |  |
K0458 | A | Heavyduty walker no wheels |  |  |  |  |
K0459 | A | Heavy duty wheeled walker |  |  |  |  |
K0460 | A | WC power add-on joystick |  |  |  |  |
K0461 | A | WC power add-on tiller cntrl |  |  |  |  |
K0462 | A | Temporary replacement eqpmnt |  |  |  |  |
K0501 | A | Aerosol compressor for svneb |  |  |  |  |
K0529 | A | Sterile H20 or nss w lv neb |  |  |  |  |
K0531 | A | Heated humidifier used w pap |  |  |  |  |
K0532 | A | Noninvasive assist wo backup |  |  |  |  |
K0533 | A | Noninvasive assist w backup |  |  |  |  |
K0534 | A | Invasive assist w backup |  |  |  |  |
L0100 | A | Cerv craniosten helmet mold |  |  |  |  |
L0110 | A | Cerv craniostenosis hel non- |  |  |  |  |
L0120 | A | Cerv flexible non-adjustable |  |  |  |  |
L0130 | A | Flex thermoplastic collar mo |  |  |  |  |
L0140 | A | Cervical semi-rigid adjustab |  |  |  |  |
L0150 | A | Cerv semi-rig adj molded chn |  |  |  |  |
L0160 | A | Cerv semi-rig wire occ/mand |  |  |  |  |
L0170 | A | Cervical collar molded to pt |  |  |  |  |
L0172 | A | Cerv col thermplas foam 2 pi |  |  |  |  |
L0174 | A | Cerv col foam 2 piece w thor |  |  |  |  |
L0180 | A | Cer post col occ/man sup adj |  |  |  |  |
L0190 | A | Cerv collar supp adj cerv ba |  |  |  |  |
L0200 | A | Cerv col supp adj bar & thor |  |  |  |  |
L0210 | A | Thoracic rib belt |  |  |  |  |
L0220 | A | Thor rib belt custom fabrica |  |  |  |  |
L0300 | A | TLSO flex surgical support |  |  |  |  |
L0310 | A | Tlso flexible custom fabrica |  |  |  |  |
L0315 | A | Tlso flex elas rigid post pa |  |  |  |  |
L0317 | A | Tlso flex hypext elas post p |  |  |  |  |
L0320 | A | Tlso a-p contrl w apron frnt |  |  |  |  |
L0330 | A | Tlso ant-pos-lateral control |  |  |  |  |
L0340 | A | Tlso a-p-l-rotary with apron |  |  |  |  |
L0350 | A | Tlso flex compress jacket cu |  |  |  |  |
L0360 | A | Tlso flex compress jacket mo |  |  |  |  |
L0370 | A | Tlso a-p-l-rotary hyperexten |  |  |  |  |
L0380 | A | Tlso a-p-l-rot w/pos extens |  |  |  |  |
L0390 | A | Tlso a-p-l control molded |  |  |  |  |
L0400 | A | Tlso a-p-l w interface mater |  |  |  |  |
L0410 | A | Tlso a-p-l two piece constr |  |  |  |  |
L0420 | A | Tlso a-p-l 2 piece w interfa |  |  |  |  |
L0430 | A | Tlso a-p-l w interface custm |  |  |  |  |
L0440 | A | Tlso a-p-l overlap frnt cust |  |  |  |  |
L0500 | A | Lso flex surgical support |  |  |  |  |
L0510 | A | Lso flexible custom fabricat |  |  |  |  |
L0515 | A | Lso flex elas w/rig post pa |  |  |  |  |
L0520 | A | Lso a-p-l control with apron |  |  |  |  |
L0530 | A | Lso ant-pos control w apron |  |  |  |  |
L0540 | A | Lso lumbar flexion a-p-l |  |  |  |  |
L0550 | A | Lso a-p-l control molded |  |  |  |  |
L0560 | A | Lso a-p-l w interface |  |  |  |  |
L0565 | A | Lso a-p-l control custom |  |  |  |  |
L0600 | A | Sacroiliac flex surg support |  |  |  |  |
L0610 | A | Sacroiliac flexible custm fa |  |  |  |  |
L0620 | A | Sacroiliac semi-rig w apron |  |  |  |  |
L0700 | A | Ctlso a-p-l control molded |  |  |  |  |
L0710 | A | Ctlso a-p-l control w/inter |  |  |  |  |
L0810 | A | Halo cervical into jckt vest |  |  |  |  |
L0820 | A | Halo cervical into body jack |  |  |  |  |
L0830 | A | Halo cerv into milwaukee typ |  |  |  |  |
L0860 | A | Magnetic resonanc image comp |  |  |  |  |
L0900 | A | Torso/ptosis support |  |  |  |  |
L0910 | A | Torso & ptosis supp custm fa |  |  |  |  |
L0920 | A | Torso/pendulous abd support |  |  |  |  |
L0930 | A | Pendulous abdomen supp custm |  |  |  |  |
L0940 | A | Torso/postsurgical support |  |  |  |  |
L0950 | A | Post surg support custom fab |  |  |  |  |
L0960 | A | Post surgical support pads |  |  |  |  |
L0970 | A | Tlso corset front |  |  |  |  |
L0972 | A | Lso corset front |  |  |  |  |
L0974 | A | Tlso full corset |  |  |  |  |
L0976 | A | Lso full corset |  |  |  |  |
L0978 | A | Axillary crutch extension |  |  |  |  |
L0980 | A | Peroneal straps pair |  |  |  |  |
L0982 | A | Stocking supp grips set of f |  |  |  |  |
L0984 | A | Protective body sock each |  |  |  |  |
L0999 | A | Add to spinal orthosis NOS |  |  |  |  |
L1000 | A | Ctlso milwauke initial model |  |  |  |  |
L1010 | A | Ctlso axilla sling |  |  |  |  |
L1020 | A | Kyphosis pad |  |  |  |  |
L1025 | A | Kyphosis pad floating |  |  |  |  |
L1030 | A | Lumbar bolster pad |  |  |  |  |
L1040 | A | Lumbar or lumbar rib pad |  |  |  |  |
L1050 | A | Sternal pad |  |  |  |  |
L1060 | A | Thoracic pad |  |  |  |  |
L1070 | A | Trapezius sling |  |  |  |  |
L1080 | A | Outrigger |  |  |  |  |
L1085 | A | Outrigger bil w/vert extens |  |  |  |  |
L1090 | A | Lumbar sling |  |  |  |  |
L1100 | A | Ring flange plastic/leather |  |  |  |  |
L1110 | A | Ring flange plas/leather mol |  |  |  |  |
L1120 | A | Covers for upright each |  |  |  |  |
L1200 | A | Furnsh initial orthosis only |  |  |  |  |
L1210 | A | Lateral thoracic extension |  |  |  |  |
L1220 | A | Anterior thoracic extension |  |  |  |  |
L1230 | A | Milwaukee type superstructur |  |  |  |  |
L1240 | A | Lumbar derotation pad |  |  |  |  |
L1250 | A | Anterior asis pad |  |  |  |  |
L1260 | A | Anterior thoracic derotation |  |  |  |  |
L1270 | A | Abdominal pad |  |  |  |  |
L1280 | A | Rib gusset (elastic) each |  |  |  |  |
L1290 | A | Lateral trochanteric pad |  |  |  |  |
L1300 | A | Body jacket mold to patient |  |  |  |  |
L1310 | A | Post-operative body jacket |  |  |  |  |
L1499 | A | Spinal orthosis NOS |  |  |  |  |
L1500 | A | Thkao mobility frame |  |  |  |  |
L1510 | A | Thkao standing frame |  |  |  |  |
L1520 | A | Thkao swivel walker |  |  |  |  |
L1600 | A | Abduct hip flex frejka w cvr |  |  |  |  |
L1610 | A | Abduct hip flex frejka covr |  |  |  |  |
L1620 | A | Abduct hip flex pavlik harne |  |  |  |  |
L1630 | A | Abduct control hip semi-flex |  |  |  |  |
L1640 | A | Pelv band/spread bar thigh c |  |  |  |  |
L1650 | A | HO abduction hip adjustable |  |  |  |  |
L1660 | A | HO abduction static plastic |  |  |  |  |
L1680 | A | Pelvic & hip control thigh c |  |  |  |  |
L1685 | A | Post-op hip abduct custom fa |  |  |  |  |
L1686 | A | HO post-op hip abduction |  |  |  |  |
L1690 | A | Combination bilateral HO |  |  |  |  |
L1700 | A | Leg perthes orth toronto typ |  |  |  |  |
L1710 | A | Legg perthes orth newington |  |  |  |  |
L1720 | A | Legg perthes orthosis trilat |  |  |  |  |
L1730 | A | Legg perthes orth scottish r |  |  |  |  |
L1750 | A | Legg perthes sling |  |  |  |  |
L1755 | A | Legg perthes patten bottom t |  |  |  |  |
L1800 | A | Knee orthoses elas w stays |  |  |  |  |
L1810 | A | Ko elastic with joints |  |  |  |  |
L1815 | A | Elastic with condylar pads |  |  |  |  |
L1820 | A | Ko elas w/condyle pads & jo |  |  |  |  |
L1825 | A | Ko elastic knee cap |  |  |  |  |
L1830 | A | Ko immobilizer canvas longit |  |  |  |  |
L1832 | A | KO adj jnt pos rigid support |  |  |  |  |
L1834 | A | Ko w/0 joint rigid molded to |  |  |  |  |
L1840 | A | Ko derot ant cruciate custom |  |  |  |  |
L1843 | A | KO single upright custom fit |  |  |  |  |
L1844 | A | Ko w/adj jt rot cntrl molded |  |  |  |  |
L1845 | A | Ko w/adj flex/ext rotat cus |  |  |  |  |
L1846 | A | Ko w adj flex/ext rotat mold |  |  |  |  |
L1847 | A | KO adjustable w air chambers |  |  |  |  |
L1850 | A | Ko swedish type |  |  |  |  |
L1855 | A | Ko plas doub upright jnt mol |  |  |  |  |
L1858 | A | Ko polycentric pneumatic pad |  |  |  |  |
L1860 | A | Ko supracondylar socket mold |  |  |  |  |
L1870 | A | Ko doub upright lacers molde |  |  |  |  |
L1880 | A | Ko doub upright cuffs/lacers |  |  |  |  |
L1885 | A | Knee upright w/resistance |  |  |  |  |
L1900 | A | Afo sprng wir drsflx calf bd |  |  |  |  |
L1902 | A | Afo ankle gauntlet |  |  |  |  |
L1904 | A | Afo molded ankle gauntlet |  |  |  |  |
L1906 | A | Afo multiligamentus ankle su |  |  |  |  |
L1910 | A | Afo sing bar clasp attach sh |  |  |  |  |
L1920 | A | Afo sing upright w/adjust s |  |  |  |  |
L1930 | A | Afo plastic |  |  |  |  |
L1940 | A | Afo molded to patient plasti |  |  |  |  |
L1945 | A | Afo molded plas rig ant tib |  |  |  |  |
L1950 | A | Afo spiral molded to pt plas |  |  |  |  |
L1960 | A | Afo pos solid ank plastic mo |  |  |  |  |
L1970 | A | Afo plastic molded w/ankle j |  |  |  |  |
L1980 | A | Afo sing solid stirrup calf |  |  |  |  |
L1990 | A | Afo doub solid stirrup calf |  |  |  |  |
L2000 | A | Kafo sing fre stirr thi/calf |  |  |  |  |
L2010 | A | Kafo sng solid stirrup w/o j |  |  |  |  |
L2020 | A | Kafo dbl solid stirrup band/ |  |  |  |  |
L2030 | A | Kafo dbl solid stirrup w/o j |  |  |  |  |
L2035 | A | KAFO plastic pediatric size |  |  |  |  |
L2036 | A | Kafo plas doub free knee mol |  |  |  |  |
L2037 | A | Kafo plas sing free knee mol |  |  |  |  |
L2038 | A | Kafo w/o joint multi-axis an |  |  |  |  |
L2039 | A | KAFO, plstic, medlat rotat con |  |  |  |  |
L2040 | A | Hkafo torsion bil rot straps |  |  |  |  |
L2050 | A | Hkafo torsion cable hip pelv |  |  |  |  |
L2060 | A | Hkafo torsion ball bearing j |  |  |  |  |
L2070 | A | Hkafo torsion unilat rot str |  |  |  |  |
L2080 | A | Hkafo unilat torsion cable |  |  |  |  |
L2090 | A | Hkafo unilat torsion ball br |  |  |  |  |
L2102 | A | Afo tibial fx cast plstr mol |  |  |  |  |
L2104 | A | Afo tib fx cast synthetic mo |  |  |  |  |
L2106 | A | Afo tib fx cast plaster mold |  |  |  |  |
L2108 | A | Afo tib fx cast molded to pt |  |  |  |  |
L2112 | A | Afo tibial fracture soft |  |  |  |  |
L2114 | A | Afo tib fx semi-rigid |  |  |  |  |
L2116 | A | Afo tibial fracture rigid |  |  |  |  |
L2122 | A | Kafo fem fx cast plaster mol |  |  |  |  |
L2124 | A | Kafo fem fx cast synthet mol |  |  |  |  |
L2126 | A | Kafo fem fx cast thermoplas |  |  |  |  |
L2128 | A | Kafo fem fx cast molded to p |  |  |  |  |
L2132 | A | Kafo femoral fx cast soft |  |  |  |  |
L2134 | A | Kafo fem fx cast semi-rigid |  |  |  |  |
L2136 | A | Kafo femoral fx cast rigid |  |  |  |  |
L2180 | A | Plas shoe insert w ank joint |  |  |  |  |
L2182 | A | Drop lock knee |  |  |  |  |
L2184 | A | Limited motion knee joint |  |  |  |  |
L2186 | A | Adj motion knee jnt lerman t |  |  |  |  |
L2188 | A | Quadrilateral brim |  |  |  |  |
L2190 | A | Waist belt |  |  |  |  |
L2192 | A | Pelvic band & belt thigh fla |  |  |  |  |
L2200 | A | Limited ankle motion ea jnt |  |  |  |  |
L2210 | A | Dorsiflexion assist each joi |  |  |  |  |
L2220 | A | Dorsi & plantar flex ass/res |  |  |  |  |
L2230 | A | Split flat caliper stirr & p |  |  |  |  |
L2240 | A | Round caliper and plate atta |  |  |  |  |
L2250 | A | Foot plate molded stirrup at |  |  |  |  |
L2260 | A | Reinforced solid stirrup |  |  |  |  |
L2265 | A | Long tongue stirrup |  |  |  |  |
L2270 | A | Varus/valgus strap padded/li |  |  |  |  |
L2275 | A | Plastic mod low ext pad/line |  |  |  |  |
L2280 | A | Molded inner boot |  |  |  |  |
L2300 | A | Abduction bar jointed adjust |  |  |  |  |
L2310 | A | Abduction bar-straight |  |  |  |  |
L2320 | A | Non-molded lacer |  |  |  |  |
L2330 | A | Lacer molded to patient mode |  |  |  |  |
L2335 | A | Anterior swing band |  |  |  |  |
L2340 | A | Pre-tibial shell molded to p |  |  |  |  |
L2350 | A | Prosthetic type socket molde |  |  |  |  |
L2360 | A | Extended steel shank |  |  |  |  |
L2370 | A | Patten bottom |  |  |  |  |
L2375 | A | Torsion ank & half solid sti |  |  |  |  |
L2380 | A | Torsion straight knee joint |  |  |  |  |
L2385 | A | Straight knee joint heavy du |  |  |  |  |
L2390 | A | Offset knee joint each |  |  |  |  |
L2395 | A | Offset knee joint heavy duty |  |  |  |  |
L2397 | A | Suspension sleeve lower ext |  |  |  |  |
L2405 | A | Knee joint drop lock ea jnt |  |  |  |  |
L2415 | A | Knee joint cam lock each joi |  |  |  |  |
L2425 | A | Knee disc/dial lock/adj flex |  |  |  |  |
L2430 | A | Knee jnt ratchet lock ea jnt |  |  |  |  |
L2435 | A | Knee joint polycentric joint |  |  |  |  |
L2492 | A | Knee lift loop drop lock rin |  |  |  |  |
L2500 | A | Thi/glut/ischia wgt bearing |  |  |  |  |
L2510 | A | Th/wght bear quad-lat brim m |  |  |  |  |
L2520 | A | Th/wght bear quad-lat brim c |  |  |  |  |
L2525 | A | Th/wght bear nar m-l brim mo |  |  |  |  |
L2526 | A | Th/wght bear nar m-l brim cu |  |  |  |  |
L2530 | A | Thigh/wght bear lacer non-mo |  |  |  |  |
L2540 | A | Thigh/wght bear lacer molded |  |  |  |  |
L2550 | A | Thigh/wght bear high roll cu |  |  |  |  |
L2570 | A | Hip clevis type 2 posit jnt |  |  |  |  |
L2580 | A | Pelvic control pelvic sling |  |  |  |  |
L2600 | A | Hip clevis/thrust bearing fr |  |  |  |  |
L2610 | A | Hip clevis/thrust bearing lo |  |  |  |  |
L2620 | A | Pelvic control hip heavy dut |  |  |  |  |
L2622 | A | Hip joint adjustable flexion |  |  |  |  |
L2624 | A | Hip adj flex ext abduct cont |  |  |  |  |
L2627 | A | Plastic mold recipro hip & c |  |  |  |  |
L2628 | A | Metal frame recipro hip & ca |  |  |  |  |
L2630 | A | Pelvic control band & belt u |  |  |  |  |
L2640 | A | Pelvic control band & belt b |  |  |  |  |
L2650 | A | Pelv & thor control gluteal |  |  |  |  |
L2660 | A | Thoracic control thoracic ba |  |  |  |  |
L2670 | A | Thorac cont paraspinal uprig |  |  |  |  |
L2680 | A | Thorac cont lat support upri |  |  |  |  |
L2750 | A | Plating chrome/nickel pr bar |  |  |  |  |
L2755 | A | Carbon graphite lamination |  |  |  |  |
L2760 | A | Extension per extension per |  |  |  |  |
L2770 | A | Low ext orthosis per bar/jnt |  |  |  |  |
L2780 | A | Non-corrosive finish |  |  |  |  |
L2785 | A | Drop lock retainer each |  |  |  |  |
L2795 | A | Knee control full kneecap |  |  |  |  |
L2800 | A | Knee cap medial or lateral p |  |  |  |  |
L2810 | A | Knee control condylar pad |  |  |  |  |
L2820 | A | Soft interface below knee se |  |  |  |  |
L2830 | A | Soft interface above knee se |  |  |  |  |
L2840 | A | Tibial length sock fx or equ |  |  |  |  |
L2850 | A | Femoral lgth sock fx or equa |  |  |  |  |
L2860 | A | Torsion mechanism knee/ankle |  |  |  |  |
L2999 | A | Lower extremity orthosis NOS |  |  |  |  |
L3000 | A | Ft insert ucb berkeley shell |  |  |  |  |
L3001 | A | Foot insert remov molded spe |  |  |  |  |
L3002 | A | Foot insert plastazote or eq |  |  |  |  |
L3003 | A | Foot insert silicone gel eac |  |  |  |  |
L3010 | A | Foot longitudinal arch suppo |  |  |  |  |
L3020 | A | Foot longitud/metatarsal sup |  |  |  |  |
L3030 | A | Foot arch support remov prem |  |  |  |  |
L3040 | A | Ft arch suprt premold longit |  |  |  |  |
L3050 | A | Foot arch supp premold metat |  |  |  |  |
L3060 | A | Foot arch supp longitud/meta |  |  |  |  |
L3070 | A | Arch suprt att to sho longit |  |  |  |  |
L3080 | A | Arch supp att to shoe metata |  |  |  |  |
L3090 | A | Arch supp att to shoe long/m |  |  |  |  |
L3100 | A | Hallus-valgus nght dynamic s |  |  |  |  |
L3140 | A | Abduction rotation bar shoe |  |  |  |  |
L3150 | A | Abduct rotation bar w/o shoe |  |  |  |  |
L3160 | A | Shoe styled positioning dev |  |  |  |  |
L3170 | A | Foot plastic heel stabilizer |  |  |  |  |
L3201 | A | Oxford w supinat/pronat inf |  |  |  |  |
L3202 | A | Oxford w/supinat/pronator c |  |  |  |  |
L3203 | A | Oxford w/supinator/pronator |  |  |  |  |
L3204 | A | Hightop w/supp/pronator inf |  |  |  |  |
L3206 | A | Hightop w/supp/pronator chi |  |  |  |  |
L3207 | A | Hightop w/supp/pronator jun |  |  |  |  |
L3208 | A | Surgical boot each infant |  |  |  |  |
L3209 | A | Surgical boot each child |  |  |  |  |
L3211 | A | Surgical boot each junior |  |  |  |  |
L3212 | A | Benesch boot pair infant |  |  |  |  |
L3213 | A | Benesch boot pair child |  |  |  |  |
L3214 | A | Benesch boot pair junior |  |  |  |  |
L3215 | A | Orthopedic ftwear ladies oxf |  |  |  |  |
L3216 | A | Orthoped ladies shoes dpth i |  |  |  |  |
L3217 | A | Ladies shoes hightop depth i |  |  |  |  |
L3218 | A | Ladies surgical boot each |  |  |  |  |
L3219 | A | Orthopedic mens shoes oxford |  |  |  |  |
L3221 | A | Orthopedic mens shoes dpth i |  |  |  |  |
L3222 | A | Mens shoes hightop depth inl |  |  |  |  |
L3223 | A | Mens surgical boot each |  |  |  |  |
L3224 | A | Woman's shoe oxford brace |  |  |  |  |
L3225 | A | Man's shoe oxford brace |  |  |  |  |
L3230 | A | Custom shoes depth inlay |  |  |  |  |
L3250 | A | Custom mold shoe remov prost |  |  |  |  |
L3251 | A | Shoe molded to pt silicone s |  |  |  |  |
L3252 | A | Shoe molded plastazote cust |  |  |  |  |
L3253 | A | Shoe molded plastazote cust |  |  |  |  |
L3254 | A | Orth foot non-stndard size/w |  |  |  |  |
L3255 | A | Orth foot non-standard size/ |  |  |  |  |
L3257 | A | Orth foot add charge split s |  |  |  |  |
L3260 | A | Ambulatory surgical boot eac |  |  |  |  |
L3265 | A | Plastazote sandal each |  |  |  |  |
L3300 | A | Sho lift taper to metatarsal |  |  |  |  |
L3310 | A | Shoe lift elev heel/sole neo |  |  |  |  |
L3320 | A | Shoe lift elev heel/sole cor |  |  |  |  |
L3330 | A | Lifts elevation metal extens |  |  |  |  |
L3332 | A | Shoe lifts tapered to one-ha |  |  |  |  |
L3334 | A | Shoe lifts elevation heel/i |  |  |  |  |
L3340 | A | Shoe wedge sach |  |  |  |  |
L3350 | A | Shoe heel wedge |  |  |  |  |
L3360 | A | Shoe sole wedge outside sole |  |  |  |  |
L3370 | A | Shoe sole wedge between sole |  |  |  |  |
L3380 | A | Shoe clubfoot wedge |  |  |  |  |
L3390 | A | Shoe outflare wedge |  |  |  |  |
L3400 | A | Shoe metatarsal bar wedge ro |  |  |  |  |
L3410 | A | Shoe metatarsal bar between |  |  |  |  |
L3420 | A | Full sole/heel wedge btween |  |  |  |  |
L3430 | A | Sho heel count plast reinfor |  |  |  |  |
L3440 | A | Heel leather reinforced |  |  |  |  |
L3450 | A | Shoe heel sach cushion type |  |  |  |  |
L3455 | A | Shoe heel new leather standa |  |  |  |  |
L3460 | A | Shoe heel new rubber standar |  |  |  |  |
L3465 | A | Shoe heel thomas with wedge |  |  |  |  |
L3470 | A | Shoe heel thomas extend to b |  |  |  |  |
L3480 | A | Shoe heel pad & depress for |  |  |  |  |
L3485 | A | Shoe heel pad removable for |  |  |  |  |
L3500 | A | Ortho shoe add leather insol |  |  |  |  |
L3510 | A | Orthopedic shoe add rub insl |  |  |  |  |
L3520 | A | O shoe add felt w leath insl |  |  |  |  |
L3530 | A | Ortho shoe add half sole |  |  |  |  |
L3540 | A | Ortho shoe add full sole |  |  |  |  |
L3550 | A | O shoe add standard toe tap |  |  |  |  |
L3560 | A | O shoe add horseshoe toe tap |  |  |  |  |
L3570 | A | O shoe add instep extension |  |  |  |  |
L3580 | A | O shoe add instep velcro clo |  |  |  |  |
L3590 | A | O shoe convert to sof counte |  |  |  |  |
L3595 | A | Ortho shoe add march bar |  |  |  |  |
L3600 | A | Trans shoe calip plate exist |  |  |  |  |
L3610 | A | Trans shoe caliper plate new |  |  |  |  |
L3620 | A | Trans shoe solid stirrup exi |  |  |  |  |
L3630 | A | Trans shoe solid stirrup new |  |  |  |  |
L3640 | A | Shoe dennis browne splint bo |  |  |  |  |
L3649 | A | Orthopedic shoe modifica NOS |  |  |  |  |
L3650 | A | Shlder fig 8 abduct restrain |  |  |  |  |
L3660 | A | Abduct restrainer canvas & web |  |  |  |  |
L3670 | A | Acromio/clavicular canvas & we |  |  |  |  |
L3675 | A | Canvas vest SO |  |  |  |  |
L3700 | A | Elbow orthoses elas w stays |  |  |  |  |
L3710 | A | Elbow elastic with metal joi |  |  |  |  |
L3720 | A | Forearm/arm cuffs free motio |  |  |  |  |
L3730 | A | Forearm/arm cuffs ext/flex a |  |  |  |  |
L3740 | A | Cuffs adj lock w/active con |  |  |  |  |
L3800 | A | Whfo short opponen no attach |  |  |  |  |
L3805 | A | Whfo long opponens no attach |  |  |  |  |
L3807 | A | Whfo w inflatable airchamber |  |  |  |  |
L3810 | A | Whfo thumb abduction bar |  |  |  |  |
L3815 | A | Whfo second m.p. abduction a |  |  |  |  |
L3820 | A | Whfo ip ext asst w/mp ext s |  |  |  |  |
L3825 | A | Whfo m.p. extension stop |  |  |  |  |
L3830 | A | Whfo m.p. extension assist |  |  |  |  |
L3835 | A | Whfo m.p. spring extension a |  |  |  |  |
L3840 | A | Whfo spring swivel thumb |  |  |  |  |
L3845 | A | Whfo thumb ip ext ass w/mp |  |  |  |  |
L3850 | A | Action wrist w/dorsiflex as |  |  |  |  |
L3855 | A | Whfo adj m.p. flexion contro |  |  |  |  |
L3860 | A | Whfo adj m.p. flex ctrl & i. |  |  |  |  |
L3890 | A | Torsion mechanism wrist/elbo |  |  |  |  |
L3900 | A | Hinge extension/flex wrist/f |  |  |  |  |
L3901 | A | Hinge ext/flex wrist finger |  |  |  |  |
L3902 | A | Whfo ext power compress gas |  |  |  |  |
L3904 | A | Whfo electric custom fitted |  |  |  |  |
L3906 | A | Wrist gauntlet molded to pt |  |  |  |  |
L3907 | A | Whfo wrst gauntlt thmb spica |  |  |  |  |
L3908 | A | Wrist cock-up non-molded |  |  |  |  |
L3910 | A | Whfo swanson design |  |  |  |  |
L3912 | A | Flex glove w/elastic finger |  |  |  |  |
L3914 | A | WHO wrist extension cock-up |  |  |  |  |
L3916 | A | Whfo wrist extens w/outrigg |  |  |  |  |
L3918 | A | HFO knuckle bender |  |  |  |  |
L3920 | A | Knuckle bender with outrigge |  |  |  |  |
L3922 | A | Knuckle bend 2 seg to flex j |  |  |  |  |
L3924 | A | Oppenheimer |  |  |  |  |
L3926 | A | Thomas suspension |  |  |  |  |
L3928 | A | Finger extension w/clock sp |  |  |  |  |
L3930 | A | Finger extension with wrist |  |  |  |  |
L3932 | A | Safety pin spring wire |  |  |  |  |
L3934 | A | Safety pin modified |  |  |  |  |
L3936 | A | Palmer |  |  |  |  |
L3938 | A | Dorsal wrist |  |  |  |  |
L3940 | A | Dorsal wrist w/outrigger at |  |  |  |  |
L3942 | A | Reverse knuckle bender |  |  |  |  |
L3944 | A | Reverse knuckle bend w/outr |  |  |  |  |
L3946 | A | HFO composite elastic |  |  |  |  |
L3948 | A | Finger knuckle bender |  |  |  |  |
L3950 | A | Oppenheimer w/knuckle bend |  |  |  |  |
L3952 | A | Oppenheimer w/rev knuckle 2 |  |  |  |  |
L3954 | A | Spreading hand |  |  |  |  |
L3956 | A | Add joint upper ext orthosis |  |  |  |  |
L3960 | A | Sewho airplan desig abdu pos |  |  |  |  |
L3962 | A | Sewho erbs palsey design abd |  |  |  |  |
L3963 | A | Molded w/articulating elbow |  |  |  |  |
L3964 | A | Seo mobile arm sup att to wc |  |  |  |  |
L3965 | A | Arm supp att to wc rancho ty |  |  |  |  |
L3966 | A | Mobile arm supports reclinin |  |  |  |  |
L3968 | A | Friction dampening arm supp |  |  |  |  |
L3969 | A | Monosuspension arm/hand supp |  |  |  |  |
L3970 | A | Elevat proximal arm support |  |  |  |  |
L3972 | A | Offset/lat rocker arm w/ela |  |  |  |  |
L3974 | A | Mobile arm support supinator |  |  |  |  |
L3980 | A | Upp ext fx orthosis humeral |  |  |  |  |
L3982 | A | Upper ext fx orthosis rad/ul |  |  |  |  |
L3984 | A | Upper ext fx orthosis wrist |  |  |  |  |
L3985 | A | Forearm hand fx orth w/wr h |  |  |  |  |
L3986 | A | Humeral rad/ulna wrist fx or |  |  |  |  |
L3995 | A | Sock fracture or equal each |  |  |  |  |
L3999 | A | Upper limb orthosis NOS |  |  |  |  |
L4000 | A | Repl girdle milwaukee orth |  |  |  |  |
L4010 | A | Replace trilateral socket br |  |  |  |  |
L4020 | A | Replace quadlat socket brim |  |  |  |  |
L4030 | A | Replace socket brim cust fit |  |  |  |  |
L4040 | A | Replace molded thigh lacer |  |  |  |  |
L4045 | A | Replace non-molded thigh lac |  |  |  |  |
L4050 | A | Replace molded calf lacer |  |  |  |  |
L4055 | A | Replace non-molded calf lace |  |  |  |  |
L4060 | A | Replace high roll cuff |  |  |  |  |
L4070 | A | Replace prox & dist upright |  |  |  |  |
L4080 | A | Repl met band kafo-afo prox |  |  |  |  |
L4090 | A | Repl met band kafo-afo calf/ |  |  |  |  |
L4100 | A | Repl leath cuff kafo prox th |  |  |  |  |
L4110 | A | Repl leath cuff kafo-afo cal |  |  |  |  |
L4130 | A | Replace pretibial shell |  |  |  |  |
L4205 | A | Ortho dvc repair per 15 min |  |  |  |  |
L4210 | A | Orth dev repair/repl minor p |  |  |  |  |
L4350 | A | Pneumatic ankle cntrl splint |  |  |  |  |
L4360 | A | Pneumatic walking splint |  |  |  |  |
L4370 | A | Pneumatic full leg splint |  |  |  |  |
L4380 | A | Pneumatic knee splint |  |  |  |  |
L4392 | A | Replace AFO soft interface |  |  |  |  |
L4394 | A | Replace foot drop spint |  |  |  |  |
L4396 | A | Static AFO |  |  |  |  |
L4398 | A | Foot drop splint recumbent |  |  |  |  |
L5000 | A | Sho insert w arch toe filler |  |  |  |  |
L5010 | A | Mold socket ank hgt w/toe f |  |  |  |  |
L5020 | A | Tibial tubercle hgt w/toe f |  |  |  |  |
L5050 | A | Ank symes mold sckt sach ft |  |  |  |  |
L5060 | A | Symes met fr leath socket ar |  |  |  |  |
L5100 | A | Molded socket shin sach foot |  |  |  |  |
L5105 | A | Plast socket jts/thgh lacer |  |  |  |  |
L5150 | A | Mold sckt ext knee shin sach |  |  |  |  |
L5160 | A | Mold socket bent knee shin s |  |  |  |  |
L5200 | A | Kne sing axis fric shin sach |  |  |  |  |
L5210 | A | No knee/ankle joints w/ft b |  |  |  |  |
L5220 | A | No knee joint with artic ali |  |  |  |  |
L5230 | A | Fem focal defic constant fri |  |  |  |  |
L5250 | A | Hip canad sing axi cons fric |  |  |  |  |
L5270 | A | Tilt table locking hip sing |  |  |  |  |
L5280 | A | Hemipelvect canad sing axis |  |  |  |  |
L5300 | A | Bk sach soft cover & finish |  |  |  |  |
L5310 | A | Knee disart sach soft cv/fin |  |  |  |  |
L5320 | A | Ak open end sach soft cv/fin |  |  |  |  |
L5330 | A | Hip canadian sach sft cv/fin |  |  |  |  |
L5340 | A | Hemipelvectomy canad cv/fin |  |  |  |  |
L5400 | A | Postop dress & 1 cast chg bk |  |  |  |  |
L5410 | A | Postop dsg bk ea add cast ch |  |  |  |  |
L5420 | A | Postop dsg & 1 cast chg ak/d |  |  |  |  |
L5430 | A | Postop dsg ak ea add cast ch |  |  |  |  |
L5450 | A | Postop app non-wgt bear dsg |  |  |  |  |
L5460 | A | Postop app non-wgt bear dsg |  |  |  |  |
L5500 | A | Init bk ptb plaster direct |  |  |  |  |
L5505 | A | Init ak ischal plstr direct |  |  |  |  |
L5510 | A | Prep BK ptb plaster molded |  |  |  |  |
L5520 | A | Perp BK ptb thermopls direct |  |  |  |  |
L5530 | A | Prep BK ptb thermopls molded |  |  |  |  |
L5535 | A | Prep BK ptb open end socket |  |  |  |  |
L5540 | A | Prep BK ptb laminated socket |  |  |  |  |
L5560 | A | Prep AK ischial plast molded |  |  |  |  |
L5570 | A | Prep AK ischial direct form |  |  |  |  |
L5580 | A | Prep AK ischial thermo mold |  |  |  |  |
L5585 | A | Prep AK ischial open end |  |  |  |  |
L5590 | A | Prep AK ischial laminated |  |  |  |  |
L5595 | A | Hip disartic sach thermopls |  |  |  |  |
L5600 | A | Hip disart sach laminat mold |  |  |  |  |
L5610 | A | Above knee hydracadence |  |  |  |  |
L5611 | A | Ak 4 bar link w/fric swing |  |  |  |  |
L5613 | A | Ak 4 bar ling w/hydraul swig |  |  |  |  |
L5614 | A | 4-bar link above knee w/swng |  |  |  |  |
L5616 | A | Ak univ multiplex sys frict |  |  |  |  |
L5617 | A | AK/BK self-aligning unit ea |  |  |  |  |
L5618 | A | Test socket symes |  |  |  |  |
L5620 | A | Test socket below knee |  |  |  |  |
L5622 | A | Test socket knee disarticula |  |  |  |  |
L5624 | A | Test socket above knee |  |  |  |  |
L5626 | A | Test socket hip disarticulat |  |  |  |  |
L5628 | A | Test socket hemipelvectomy |  |  |  |  |
L5629 | A | Below knee acrylic socket |  |  |  |  |
L5630 | A | Syme typ expandabl wall sckt |  |  |  |  |
L5631 | A | Ak/knee disartic acrylic soc |  |  |  |  |
L5632 | A | Symes type ptb brim design s |  |  |  |  |
L5634 | A | Symes type poster opening so |  |  |  |  |
L5636 | A | Symes type medial opening so |  |  |  |  |
L5637 | A | Below knee total contact |  |  |  |  |
L5638 | A | Below knee leather socket |  |  |  |  |
L5639 | A | Below knee wood socket |  |  |  |  |
L5640 | A | Knee disarticulat leather so |  |  |  |  |
L5642 | A | Above knee leather socket |  |  |  |  |
L5643 | A | Hip flex inner socket ext fr |  |  |  |  |
L5644 | A | Above knee wood socket |  |  |  |  |
L5645 | A | Ak flexibl inner socket ext |  |  |  |  |
L5646 | A | Below knee air cushion socke |  |  |  |  |
L5647 | A | Below knee suction socket |  |  |  |  |
L5648 | A | Above knee air cushion socke |  |  |  |  |
L5649 | A | Isch containmt/narrow m-l so |  |  |  |  |
L5650 | A | Tot contact ak/knee disart s |  |  |  |  |
L5651 | A | Ak flex inner socket ext fra |  |  |  |  |
L5652 | A | Suction susp ak/knee disart |  |  |  |  |
L5653 | A | Knee disart expand wall sock |  |  |  |  |
L5654 | A | Socket insert symes |  |  |  |  |
L5655 | A | Socket insert below knee |  |  |  |  |
L5656 | A | Socket insert knee articulat |  |  |  |  |
L5658 | A | Socket insert above knee |  |  |  |  |
L5660 | A | Sock insrt syme silicone gel |  |  |  |  |
L5661 | A | Multi-durometer symes |  |  |  |  |
L5662 | A | Socket insert bk silicone ge |  |  |  |  |
L5663 | A | Sock knee disartic silicone |  |  |  |  |
L5664 | A | Socket insert ak silicone ge |  |  |  |  |
L5665 | A | Multi-durometer below knee |  |  |  |  |
L5666 | A | Below knee cuff suspension |  |  |  |  |
L5667 | A | Socket insert w lock lower |  |  |  |  |
L5668 | A | Socket insert w/o lock lower |  |  |  |  |
L5669 | A | Below knee socket w/o lock |  |  |  |  |
L5670 | A | Bk molded supracondylar susp |  |  |  |  |
L5672 | A | Bk removable medial brim sus |  |  |  |  |
L5674 | A | Bk latex sleeve suspension/e |  |  |  |  |
L5675 | A | Bk latex sleeve susp/eq hvy |  |  |  |  |
L5676 | A | Bk knee joints single axis p |  |  |  |  |
L5677 | A | Bk knee joints polycentric p |  |  |  |  |
L5678 | A | Bk joint covers pair |  |  |  |  |
L5680 | A | Bk thigh lacer non-molded |  |  |  |  |
L5682 | A | Bk thigh lacer glut/ischia m |  |  |  |  |
L5684 | A | Bk fork strap |  |  |  |  |
L5686 | A | Bk back check |  |  |  |  |
L5688 | A | Bk waist belt webbing |  |  |  |  |
L5690 | A | Bk waist belt padded and lin |  |  |  |  |
L5692 | A | Ak pelvic control belt light |  |  |  |  |
L5694 | A | Ak pelvic control belt pad/l |  |  |  |  |
L5695 | A | Ak sleeve susp neoprene/equa |  |  |  |  |
L5696 | A | Ak/knee disartic pelvic join |  |  |  |  |
L5697 | A | Ak/knee disartic pelvic band |  |  |  |  |
L5698 | A | Ak/knee disartic silesian ba |  |  |  |  |
L5699 | A | Shoulder harness |  |  |  |  |
L5700 | A | Replace socket below knee |  |  |  |  |
L5701 | A | Replace socket above knee |  |  |  |  |
L5702 | A | Replace socket hip |  |  |  |  |
L5704 | A | Custom shape covr below knee |  |  |  |  |
L5705 | A | Custm shape cover above knee |  |  |  |  |
L5706 | A | Custm shape cvr knee disart |  |  |  |  |
L5707 | A | Custm shape cover hip disart |  |  |  |  |
L5710 | A | Kne-shin exo sng axi mnl loc |  |  |  |  |
L5711 | A | Knee-shin exo mnl lock ultra |  |  |  |  |
L5712 | A | Knee-shin exo frict swg & st |  |  |  |  |
L5714 | A | Knee-shin exo variable frict |  |  |  |  |
L5716 | A | Knee-shin exo mech stance ph |  |  |  |  |
L5718 | A | Knee-shin exo frct swg & sta |  |  |  |  |
L5722 | A | Knee-shin pneum swg frct exo |  |  |  |  |
L5724 | A | Knee-shin exo fluid swing ph |  |  |  |  |
L5726 | A | Knee-shin ext jnts fld swg e |  |  |  |  |
L5728 | A | Knee-shin fluid swg & stance |  |  |  |  |
L5780 | A | Knee-shin pneum/hydra pneum |  |  |  |  |
L5785 | A | Exoskeletal bk ultralt mater |  |  |  |  |
L5790 | A | Exoskeletal ak ultra-light m |  |  |  |  |
L5795 | A | Exoskel hip ultra-light mate |  |  |  |  |
L5810 | A | Endoskel knee-shin mnl lock |  |  |  |  |
L5811 | A | Endo knee-shin mnl lck ultra |  |  |  |  |
L5812 | A | Endo knee-shin frct swg & st |  |  |  |  |
L5814 | A | Endo knee-shin hydral swg ph |  |  |  |  |
L5816 | A | Endo knee-shin polyc mch sta |  |  |  |  |
L5818 | A | Endo knee-shin frct swg & st |  |  |  |  |
L5822 | A | Endo knee-shin pneum swg frc |  |  |  |  |
L5824 | A | Endo knee-shin fluid swing p |  |  |  |  |
L5826 | A | Miniature knee joint |  |  |  |  |
L5828 | A | Endo knee-shin fluid swg/sta |  |  |  |  |
L5830 | A | Endo knee-shin pneum/swg pha |  |  |  |  |
L5840 | A | Multi-axial knee/shin system |  |  |  |  |
L5845 | A | Knee-shin sys stance flexion |  |  |  |  |
L5846 | A | Knee-shin sys microprocessor |  |  |  |  |
L5850 | A | Endo ak/hip knee extens assi |  |  |  |  |
L5855 | A | Mech hip extension assist |  |  |  |  |
L5910 | A | Endo below knee alignable sy |  |  |  |  |
L5920 | A | Endo ak/hip alignable system |  |  |  |  |
L5925 | A | Above knee manual lock |  |  |  |  |
L5930 | A | High activity knee frame |  |  |  |  |
L5940 | A | Endo bk ultra-light material |  |  |  |  |
L5950 | A | Endo ak ultra-light material |  |  |  |  |
L5960 | A | Endo hip ultra-light materia |  |  |  |  |
L5962 | A | Below knee flex cover system |  |  |  |  |
L5964 | A | Above knee flex cover system |  |  |  |  |
L5966 | A | Hip flexible cover system |  |  |  |  |
L5968 | A | Multiaxial ankle w dorsiflex |  |  |  |  |
L5970 | A | Foot external keel sach foot |  |  |  |  |
L5972 | A | Flexible keel foot |  |  |  |  |
L5974 | A | Foot single axis ankle/foot |  |  |  |  |
L5975 | A | Combo ankle/foot prosthesis |  |  |  |  |
L5976 | A | Energy storing foot |  |  |  |  |
L5978 | A | Ft prosth multiaxial ankl/ft |  |  |  |  |
L5979 | A | Multi-axial ankle/ft prosth |  |  |  |  |
L5980 | A | Flex foot system |  |  |  |  |
L5981 | A | Flex-walk sys low ext prosth |  |  |  |  |
L5982 | A | Exoskeletal axial rotation u |  |  |  |  |
L5984 | A | Endoskeletal axial rotation |  |  |  |  |
L5985 | A | Lwr ext dynamic prosth pylon |  |  |  |  |
L5986 | A | Multi-axial rotation unit |  |  |  |  |
L5987 | A | Shank ft w vert load pylon |  |  |  |  |
L5988 | A | Vertical shock reducing pylo |  |  |  |  |
L5999 | A | Lowr extremity prosthes NOS |  |  |  |  |
L6000 | A | Par hand robin-aids thum rem |  |  |  |  |
L6010 | A | Hand robin-aids little/ring |  |  |  |  |
L6020 | A | Part hand robin-aids no fing |  |  |  |  |
L6050 | A | Wrst MLd sck flx hng tri pad |  |  |  |  |
L6055 | A | Wrst mold sock w/exp interfa |  |  |  |  |
L6100 | A | Elb mold sock flex hinge pad |  |  |  |  |
L6110 | A | Elbow mold sock suspension t |  |  |  |  |
L6120 | A | Elbow mold doub splt soc ste |  |  |  |  |
L6130 | A | Elbow stump activated lock h |  |  |  |  |
L6200 | A | Elbow mold outsid lock hinge |  |  |  |  |
L6205 | A | Elbow molded w/expand inter |  |  |  |  |
L6250 | A | Elbow inter loc elbow forarm |  |  |  |  |
L6300 | A | Shlder disart int lock elbow |  |  |  |  |
L6310 | A | Shoulder passive restor comp |  |  |  |  |
L6320 | A | Shoulder passive restor cap |  |  |  |  |
L6350 | A | Thoracic intern lock elbow |  |  |  |  |
L6360 | A | Thoracic passive restor comp |  |  |  |  |
L6370 | A | Thoracic passive restor cap |  |  |  |  |
L6380 | A | Postop dsg cast chg wrst/elb |  |  |  |  |
L6382 | A | Postop dsg cast chg elb dis/ |  |  |  |  |
L6384 | A | Postop dsg cast chg shlder/t |  |  |  |  |
L6386 | A | Postop ea cast chg & realign |  |  |  |  |
L6388 | A | Postop applicat rigid dsg on |  |  |  |  |
L6400 | A | Below elbow prosth tiss shap |  |  |  |  |
L6450 | A | Elb disart prosth tiss shap |  |  |  |  |
L6500 | A | Above elbow prosth tiss shap |  |  |  |  |
L6550 | A | Shldr disar prosth tiss shap |  |  |  |  |
L6570 | A | Scap thorac prosth tiss shap |  |  |  |  |
L6580 | A | Wrist/elbow bowden cable mol |  |  |  |  |
L6582 | A | Wrist/elbow bowden cbl dir f |  |  |  |  |
L6584 | A | Elbow fair lead cable molded |  |  |  |  |
L6586 | A | Elbow fair lead cable dir fo |  |  |  |  |
L6588 | A | Shdr fair lead cable molded |  |  |  |  |
L6590 | A | Shdr fair lead cable direct |  |  |  |  |
L6600 | A | Polycentric hinge pair |  |  |  |  |
L6605 | A | Single pivot hinge pair |  |  |  |  |
L6610 | A | Flexible metal hinge pair |  |  |  |  |
L6615 | A | Disconnect locking wrist uni |  |  |  |  |
L6616 | A | Disconnect insert locking wr |  |  |  |  |
L6620 | A | Flexion-friction wrist unit |  |  |  |  |
L6623 | A | Spring-ass rot wrst w/latch |  |  |  |  |
L6625 | A | Rotation wrst w/cable lock |  |  |  |  |
L6628 | A | Quick disconn hook adapter o |  |  |  |  |
L6629 | A | Lamination collar w/couplin |  |  |  |  |
L6630 | A | Stainless steel any wrist |  |  |  |  |
L6632 | A | Latex suspension sleeve each |  |  |  |  |
L6635 | A | Lift assist for elbow |  |  |  |  |
L6637 | A | Nudge control elbow lock |  |  |  |  |
L6640 | A | Shoulder abduction joint pai |  |  |  |  |
L6641 | A | Excursion amplifier pulley t |  |  |  |  |
L6642 | A | Excursion amplifier lever ty |  |  |  |  |
L6645 | A | Shoulder flexion-abduction j |  |  |  |  |
L6650 | A | Shoulder universal joint |  |  |  |  |
L6655 | A | Standard control cable extra |  |  |  |  |
L6660 | A | Heavy duty control cable |  |  |  |  |
L6665 | A | Teflon or equal cable lining |  |  |  |  |
L6670 | A | Hook to hand cable adapter |  |  |  |  |
L6672 | A | Harness chest/shlder saddle |  |  |  |  |
L6675 | A | Harness figure of 8 sing con |  |  |  |  |
L6676 | A | Harness figure of 8 dual con |  |  |  |  |
L6680 | A | Test sock wrist disart/bel e |  |  |  |  |
L6682 | A | Test sock elbw disart/above |  |  |  |  |
L6684 | A | Test socket shldr disart/tho |  |  |  |  |
L6686 | A | Suction socket |  |  |  |  |
L6687 | A | Frame typ socket bel elbow/w |  |  |  |  |
L6688 | A | Frame typ sock above elb/dis |  |  |  |  |
L6689 | A | Frame typ socket shoulder di |  |  |  |  |
L6690 | A | Frame typ sock interscap-tho |  |  |  |  |
L6691 | A | Removable insert each |  |  |  |  |
L6692 | A | Silicone gel insert or equal |  |  |  |  |
L6693 | A | Lockingelbow forearm cntrbal |  |  |  |  |
L6700 | A | Terminal device model #3 |  |  |  |  |
L6705 | A | Terminal device model #5 |  |  |  |  |
L6710 | A | Terminal device model #5x |  |  |  |  |
L6715 | A | Terminal device model #5xa |  |  |  |  |
L6720 | A | Terminal device model #6 |  |  |  |  |
L6725 | A | Terminal device model #7 |  |  |  |  |
L6730 | A | Terminal device model #7lo |  |  |  |  |
L6735 | A | Terminal device model #8 |  |  |  |  |
L6740 | A | Terminal device model #8x |  |  |  |  |
L6745 | A | Terminal device model #88x |  |  |  |  |
L6750 | A | Terminal device model #10p |  |  |  |  |
L6755 | A | Terminal device model #10x |  |  |  |  |
L6765 | A | Terminal device model #12p |  |  |  |  |
L6770 | A | Terminal device model #99x |  |  |  |  |
L6775 | A | Terminal device model #555 |  |  |  |  |
L6780 | A | Terminal device model #ss555 |  |  |  |  |
L6790 | A | Hooks-accu hook or equal |  |  |  |  |
L6795 | A | Hooks-2 load or equal |  |  |  |  |
L6800 | A | Hooks-aprl vc or equal |  |  |  |  |
L6805 | A | Modifier wrist flexion unit |  |  |  |  |
L6806 | A | Trs grip vc or equal |  |  |  |  |
L6807 | A | Term device grip 1/2 or equal |  |  |  |  |
L6808 | A | Term device infant or child |  |  |  |  |
L6809 | A | Trs super sport passive |  |  |  |  |
L6810 | A | Pincher tool otto bock or eq |  |  |  |  |
L6825 | A | Hands dorrance vo |  |  |  |  |
L6830 | A | Hand aprl vc |  |  |  |  |
L6835 | A | Hand sierra vo |  |  |  |  |
L6840 | A | Hand becker imperial |  |  |  |  |
L6845 | A | Hand becker lock grip |  |  |  |  |
L6850 | A | Term dvc-hand becker plylite |  |  |  |  |
L6855 | A | Hand robin-aids vo |  |  |  |  |
L6860 | A | Hand robin-aids vo soft |  |  |  |  |
L6865 | A | Hand passive hand |  |  |  |  |
L6867 | A | Hand detroit infant hand |  |  |  |  |
L6868 | A | Passive inf hand steeper/hos |  |  |  |  |
L6870 | A | Hand child mitt |  |  |  |  |
L6872 | A | Hand nyu child hand |  |  |  |  |
L6873 | A | Hand mech inf steeper or equ |  |  |  |  |
L6875 | A | Hand bock vc |  |  |  |  |
L6880 | A | Hand bock vo |  |  |  |  |
L6890 | A | Production glove |  |  |  |  |
L6895 | A | Custom glove |  |  |  |  |
L6900 | A | Hand restorat thumb/1 finger |  |  |  |  |
L6905 | A | Hand restoration multiple fi |  |  |  |  |
L6910 | A | Hand restoration no fingers |  |  |  |  |
L6915 | A | Hand restoration replacmnt g |  |  |  |  |
L6920 | A | Wrist disarticul switch ctrl |  |  |  |  |
L6925 | A | Wrist disart myoelectronic c |  |  |  |  |
L6930 | A | Below elbow switch control |  |  |  |  |
L6935 | A | Below elbow myoelectronic ct |  |  |  |  |
L6940 | A | Elbow disarticulation switch |  |  |  |  |
L6945 | A | Elbow disart myoelectronic c |  |  |  |  |
L6950 | A | Above elbow switch control |  |  |  |  |
L6955 | A | Above elbow myoelectronic ct |  |  |  |  |
L6960 | A | Shldr disartic switch contro |  |  |  |  |
L6965 | A | Shldr disartic myoelectronic |  |  |  |  |
L6970 | A | Interscapular-thor switch ct |  |  |  |  |
L6975 | A | Interscap-thor myoelectronic |  |  |  |  |
L7010 | A | Hand otto back steeper/eq sw |  |  |  |  |
L7015 | A | Hand sys teknik village swit |  |  |  |  |
L7020 | A | Electronic greifer switch ct |  |  |  |  |
L7025 | A | Electron hand myoelectronic |  |  |  |  |
L7030 | A | Hand sys teknik vill myoelec |  |  |  |  |
L7035 | A | Electron greifer myoelectro |  |  |  |  |
L7040 | A | Prehensile actuator hosmer s |  |  |  |  |
L7045 | A | Electron hook child michigan |  |  |  |  |
L7170 | A | Electronic elbow hosmer swit |  |  |  |  |
L7180 | A | Electronic elbow utah myoele |  |  |  |  |
L7185 | A | Electron elbow adolescent sw |  |  |  |  |
L7186 | A | Electron elbow child switch |  |  |  |  |
L7190 | A | Elbow adolescent myoelectron |  |  |  |  |
L7191 | A | Elbow child myoelectronic ct |  |  |  |  |
L7260 | A | Electron wrist rotator otto |  |  |  |  |
L7261 | A | Electron wrist rotator utah |  |  |  |  |
L7266 | A | Servo control steeper or equ |  |  |  |  |
L7272 | A | Analogue control unb or equa |  |  |  |  |
L7274 | A | Proportional ctl 12 volt uta |  |  |  |  |
L7360 | A | Six volt bat otto bock/eq ea |  |  |  |  |
L7362 | A | Battery chrgr six volt otto |  |  |  |  |
L7364 | A | Twelve volt battery utah/equ |  |  |  |  |
L7366 | A | Battery chrgr 12 volt utah/e |  |  |  |  |
L7499 | A | Upper extremity prosthes NOS |  |  |  |  |
L7500 | A | Prosthetic dvc repair hourly |  |  |  |  |
L7510 | A | Prosthetic device repair rep |  |  |  |  |
L7520 | A | Repair prosthesis per 15 min |  |  |  |  |
L7900 | A | Vacuum erection system |  |  |  |  |
L8000 | A | Mastectomy bra |  |  |  |  |
L8010 | A | Mastectomy sleeve |  |  |  |  |
L8015 | A | Ext breastprosthesis garment |  |  |  |  |
L8020 | A | Mastectomy form |  |  |  |  |
L8030 | A | Breast prosthesis silicone/e |  |  |  |  |
L8035 | A | Custom breast prosthesis |  |  |  |  |
L8039 | A | Breast prosthesis NOS |  |  |  |  |
L8100 | A | Compression stocking BK18-30 |  |  |  |  |
L8110 | A | Compression stocking BK30-40 |  |  |  |  |
L8120 | A | Compression stocking BK40-50 |  |  |  |  |
L8130 | A | Gc stocking thighlngth 18-30 |  |  |  |  |
L8140 | A | Gc stocking thighlngth 30-40 |  |  |  |  |
L8150 | A | Gc stocking thighlngth 40-50 |  |  |  |  |
L8160 | A | Gc stocking full lngth 18-30 |  |  |  |  |
L8170 | A | Gc stocking full lngth 30-40 |  |  |  |  |
L8180 | A | Gc stocking full lngth 40-50 |  |  |  |  |
L8190 | A | Gc stocking waistlngth 18-30 |  |  |  |  |
L8195 | A | Gc stocking waistlngth 30-40 |  |  |  |  |
L8200 | A | Gc stocking waistlngth 40-50 |  |  |  |  |
L8210 | A | Gc stocking custom made |  |  |  |  |
L8220 | A | Gc stocking lymphedema |  |  |  |  |
L8230 | A | Gc stocking garter belt |  |  |  |  |
L8239 | A | G compression stocking NOS |  |  |  |  |
L8300 | A | Truss single w/standard pad |  |  |  |  |
L8310 | A | Truss double w/standard pad |  |  |  |  |
L8320 | A | Truss addition to std pad wa |  |  |  |  |
L8330 | A | Truss add to std pad scrotal |  |  |  |  |
L8400 | A | Sheath below knee |  |  |  |  |
L8410 | A | Sheath above knee |  |  |  |  |
L8415 | A | Sheath upper limb |  |  |  |  |
L8417 | A | Pros sheath/sock w gel cushn |  |  |  |  |
L8420 | A | Prosthetic sock multi ply BK |  |  |  |  |
L8430 | A | Prosthetic sock multi ply AK |  |  |  |  |
L8435 | A | Pros sock multi ply upper lm |  |  |  |  |
L8440 | A | Shrinker below knee |  |  |  |  |
L8460 | A | Shrinker above knee |  |  |  |  |
L8465 | A | Shrinker upper limb |  |  |  |  |
L8470 | A | Pros sock single ply BK |  |  |  |  |
L8480 | A | Pros sock single ply AK |  |  |  |  |
L8485 | A | Pros sock single ply upper l |  |  |  |  |
L8490 | A | Air seal suction reten systm |  |  |  |  |
L8499 | A | Unlisted misc prosthetic ser |  |  |  |  |
L8500 | A | Artificial larynx |  |  |  |  |
L8501 | A | Tracheostomy speaking valve |  |  |  |  |
L8600 | A | Implant breast silicone/eq |  |  |  |  |
L8603 | A | Collagen imp urinary 2.5 CC |  |  |  |  |
L8610 | A | Ocular implant |  |  |  |  |
L8612 | A | Aqueous shunt prosthesis |  |  |  |  |
L8613 | A | Ossicular implant |  |  |  |  |
L8614 | A | Cochlear device/system |  |  |  |  |
L8619 | A | Replace cochlear processor |  |  |  |  |
L8630 | A | Metacarpophalangeal implant |  |  |  |  |
L8641 | A | Metatarsal joint implant |  |  |  |  |
L8642 | A | Hallux implant |  |  |  |  |
L8658 | A | Interphalangeal joint implnt |  |  |  |  |
L8670 | A | Vascular graft, synthetic |  |  |  |  |
L8699 | A | Prosthetic implant NOS |  |  |  |  |
L9900 | A | O&P supply/accessory/service |  |  |  |  |
M0064 | X | Visit for drug monitoring | 0374 | 1.17 | $56.73 | $13.08 | $11.35
M0075 | E | Cellular therapy |  |  |  |  |
M0076 | E | Prolotherapy |  |  |  |  |
M0100 | E | Intragastric hypothermia |  |  |  |  |
M0300 | E | IV chelationtherapy |  |  |  |  |
M0301 | E | Fabric wrapping of aneurysm |  |  |  |  |
M0302 | E | Assessment of cardiac output |  |  |  |  |
P2028 | A | Cephalin floculation test |  |  |  |  |
P2029 | A | Congo red blood test |  |  |  |  |
P2031 | E | Hair analysis |  |  |  |  |
P2033 | A | Blood thymol turbidity |  |  |  |  |
P2038 | A | Blood mucoprotein |  |  |  |  |
P3000 | A | Screen pap by tech w md supv |  |  |  |  |
P3001 | E | Screening pap smear by phys |  |  |  |  |
P7001 | E | Culture bacterial urine |  |  |  |  |
² P9010 | S | Whole blood for transfusion | 0950 | 2.08 | $101.02 |  | $20.20
P9011 | S | Blood split unit |  |  |  |  |
² P9012 | S | Cryoprecipitate each unit | 0952 | 0.70 | $33.92 |  | $6.78
² P9013 | S | Unit/s blood fibrinogen | 0953 | 0.48 | $23.27 |  | $4.65
² P9016 | S | Leukocyte poor blood, unit | 0954 | 2.83 | $137.21 |  | $27.44
² P9017 | S | One donor fresh frozn plasma | 0955 | 2.26 | $109.35 |  | $21.87
² P9018 | S | Plasma protein fract, unit | 0956 | 1.26 | $61.09 |  | $12.22
² P9019 | S | Platelet concentrate unit | 0957 | 0.98 | $47.46 |  | $9.49
² P9020 | S | Platelet rich plasma unit | 0958 | 1.16 | $56.25 |  | $11.25
² P9021 | S | Red blood cells unit | 0959 | 2.04 | $99.04 |  | $19.81
² P9022 | S | Washed red blood cells unit | 0960 | 3.81 | $184.53 |  | $36.91
² P9023 | S | Frozen plasma, pooled, sd | 0949 | 3.49 | $169.22 |  | $33.84
P9603 | A | One-way allow prorated miles |  |  |  |  |
P9604 | A | One-way allow prorated trip |  |  |  |  |
P9612 | N | Catheterize for urine spec |  |  |  |  |
P9615 | N | Urine specimen collect mult |  |  |  |  |
² 0034 | X | Admin of influenza vaccine | 0354 | 0.13 | $6.19 |  |
Q0035 | X | Cardiokymography | 0366 | 0.38 | $18.43 | $15.60 | $3.69
Q0081 | S | Infusion ther other than che | 0120 | 1.66 | $80.49 | $42.67 | $16.10
Q0082 | P | Activity therapy w/partial h | 0033 | 4.17 | $202.19 | $48.17 | $40.44
Q0083 | S | Chemo by other than infusion | 0116 | 2.34 | $113.46 | $22.69 | $22.69
Q0084 | S | Chemotherapy by infusion | 0117 | 1.84 | $89.22 | $71.80 | $17.84
Q0085 | S | Chemo by both infusion and o | 0118 | 2.90 | $140.61 | $72.03 | $28.12
Q0086 | A | Physical therapy evaluation/ |  |  |  |  |
Q0091 | T | Obtaining screen pap smear | 0191 | 1.19 | $57.70 | $17.43 | $11.54
Q0092 | N | Set up port x-ray equipment |  |  |  |  |
Q0111 | A | Wet mounts/w preparations |  |  |  |  |
Q0112 | A | Potassium hydroxide preps |  |  |  |  |
Q0113 | A | Pinworm examinations |  |  |  |  |
Q0114 | A | Fern test |  |  |  |  |
Q0115 | A | Post-coital mucous exam |  |  |  |  |
³ Q0136 | X | Non esrd epoetin alpha inj | 0733 |  |  |  | $1.75
Q0144 | E | Azithromycin dihydrate, oral |  |  |  |  |
² Q0156 | X | Human albumin 5% | 0961 | 2.77 | $134.31 |  | $26.86
² Q0157 | X | Human albumin 25% | 0962 | 1.38 | $66.91 |  | $13.38
³ Q0160 | X | Factor IX non-recombinant | 0931 |  |  |  | $.04
³ Q0161 | X | Factor IX recombinant | 0932 |  |  |  | $.10
³ Q0163 | X | Diphenhydramine HCl 50mg | 0761 |  |  |  | $.10
³ Q0164 | X | Prochlorperazine maleate 5mg | 0761 |  |  |  | $.10
Q0165 | E | Prochlorperazine maleate10mg |  |  |  |  |
³ Q0166 | X | Granisetron HCl 1 mg oral | 0765 |  |  |  | $3.20
³ Q0167 | X | Dronabinol 2.5mg oral | 0762 |  |  |  | $.48
Q0168 | E | Dronabinol 5mg oral |  |  |  |  |
³ Q0169 | X | Promethazine HCl 12.5mg oral | 0761 |  |  |  | $.10
Q0170 | E | Promethazine HCl 25 mg oral |  |  |  |  |
³ Q0171 | X | Chlorpromazine HCl 10mg oral | 0761 |  |  |  | $.10
Q0172 | E | Chlorpromazine HCl 25mg oral |  |  |  |  |
³ Q0173 | X | Trimethobenzamide HCl 250mg | 0761 |  |  |  | $.10
³ Q0174 | X | Thiethylperazine maleate10mg | 0761 |  |  |  | $.10
³ Q0175 | X | Perphenazine 4mg oral | 0761 |  |  |  | $.10
Q0176 | E | Perphenazine 8mg oral |  |  |  |  |
³ Q0177 | X | Hydroxyzine pamoate 25mg | 0761 |  |  |  | $.10
Q0178 | E | Hydroxyzine pamoate 50mg |  |  |  |  |
³ Q0179 | X | Ondansetron HCl 8mg oral | 0769 |  |  |  | $2.62
³ Q0180 | X | Dolasetron mesylate oral | 0763 |  |  |  | $8.53
Q0181 | E | Unspecified oral anti-emetic |  |  |  |  |
Q0183 | N | Nonmetabolic active tissue |  |  |  |  |
Q0184 | N | Metabolically active tissue |  |  |  |  |
Q0185 | N | Metabolic active D/E tissue |  |  |  |  |
Q0186 | E | Paramedic intercept, rural |  |  |  |  |
³ Q0187 | X | Factor viia recombinant | 0929 |  |  |  | $.27
Q1001 | E | Ntiol category 1 |  |  |  |  |
Q1002 | E | Ntiol category 2 |  |  |  |  |
Q1003 | E | Ntiol category 3 |  |  |  |  |
Q1004 | E | Ntiol category 4 |  |  |  |  |
Q1005 | E | Ntiol category 5 |  |  |  |  |
Q2001 | E | Cabergoline, 0.5 mg, oral |  |  |  |  |
³ Q2002 | X | Elliot's B solution | 7022 |  |  |  | $19.20
³ Q2003 | X | Aprotinin, 10,000 kiu | 7019 |  |  |  | $2.42
³ Q2004 | X | Treatment for bladder calcul | 7023 |  |  |  | $4.46
³ Q2005 | X | Corticorelin ovine triflutat | 7024 |  |  |  | $45.77
³ Q2006 | X | Digoxin immune FAB (Ovine), | 7025 |  |  |  | $14.06
³ Q2007 | X | Ethanolamine oleate, 1000 ml | 7026 |  |  |  | $2.13
³ Q2008 | X | Fomepizole, 1.5 G | 7027 |  |  |  | $141.29
³ Q2009 | X | Fosphenytoin, 50 mg | 7028 |  |  |  | $.78
³ Q2010 | X | Glatiramer acetate, 25 mgeny | 7029 |  |  |  | $3.59
³ Q2011 | X | Hemin, 1 mg | 7030 |  |  |  | $.10
³ Q2012 | X | Pegademase bovine inj 25 I.U | 7039 |  |  |  | $1.16
³ Q2013 | X | Pentastarch 10% inj, 100 ml | 7040 |  |  |  | $2.04
³ Q2014 | X | Sermorelin acetate, 0.5 mg | 7032 |  |  |  | $53.34
³ Q2015 | X | Somatrem, 5 mg | 7033 |  |  |  | $28.03
³ Q2016 | X | Somatropin, 1 mg | 7034 |  |  |  | $5.04
³ Q2017 | X | Teniposide, 50 mg | 7035 |  |  |  | $20.85
³ Q2018 | X | Urofollitropin, 75 I.U. | 7037 |  |  |  | $8.24
³ Q3001 | S | Brachytherapy Seeds | 0918 |  |  |  | $9.99
Q9920 | A | Epoetin with hct <= 20 |  |  |  |  |
Q9921 | A | Epoetin with hct = 21 |  |  |  |  |
Q9922 | A | Epoetin with hct = 22 |  |  |  |  |
Q9923 | A | Epoetin with hct = 23 |  |  |  |  |
Q9924 | A | Epoetin with hct = 24 |  |  |  |  |
Q9925 | A | Epoetin with hct = 25 |  |  |  |  |
Q9926 | A | Epoetin with hct = 26 |  |  |  |  |
Q9927 | A | Epoetin with hct = 27 |  |  |  |  |
Q9928 | A | Epoetin with hct = 28 |  |  |  |  |
Q9929 | A | Epoetin with hct = 29 |  |  |  |  |
Q9930 | A | Epoetin with hct = 30 |  |  |  |  |
Q9931 | A | Epoetin with hct = 31 |  |  |  |  |
Q9932 | A | Epoetin with hct = 32 |  |  |  |  |
Q9933 | A | Epoetin with hct = 33 |  |  |  |  |
Q9934 | A | Epoetin with hct = 34 |  |  |  |  |
Q9935 | A | Epoetin with hct = 35 |  |  |  |  |
Q9936 | A | Epoetin with hct = 36 |  |  |  |  |
Q9937 | A | Epoetin with hct = 37 |  |  |  |  |
Q9938 | A | Epoetin with hct = 38 |  |  |  |  |
Q9939 | A | Epoetin with hct = 39 |  |  |  |  |
Q9940 | A | Epoetin with hct >= 40 |  |  |  |  |
R0070 | N | Transport portable x-ray |  |  |  |  |
R0075 | N | Transport port x-ray multipl |  |  |  |  |
R0076 | N | Transport portable EKG |  |  |  |  |
V2020 | A | Vision svcs frames purchases |  |  |  |  |
V2025 | E | Eyeglasses delux frames |  |  |  |  |
V2100 | A | Lens spher single plano 4.00 |  |  |  |  |
V2101 | A | Single visn sphere 4.12-7.00 |  |  |  |  |
V2102 | A | Singl visn sphere 7.12-20.00 |  |  |  |  |
V2103 | A | Spherocylindr 4.00d/12-2.00d |  |  |  |  |
V2104 | A | Spherocylindr 4.00d/2.12-4d |  |  |  |  |
V2105 | A | Spherocylinder 4.00d/4.25-6d |  |  |  |  |
V2106 | A | Spherocylinder 4.00d/>6.00d |  |  |  |  |
V2107 | A | Spherocylinder 4.25d/12-2d |  |  |  |  |
V2108 | A | Spherocylinder 4.25d/2.12-4d |  |  |  |  |
V2109 | A | Spherocylinder 4.25d/4.25-6d |  |  |  |  |
V2110 | A | Spherocylinder 4.25d/over 6d |  |  |  |  |
V2111 | A | Spherocylindr 7.25d/.25-2.25 |  |  |  |  |
V2112 | A | Spherocylindr 7.25d/2.25-4d |  |  |  |  |
V2113 | A | Spherocylindr 7.25d/4.25-6d |  |  |  |  |
V2114 | A | Spherocylinder over 12.00d |  |  |  |  |
V2115 | A | Lens lenticular bifocal |  |  |  |  |
V2116 | A | Nonaspheric lens bifocal |  |  |  |  |
V2117 | A | Aspheric lens bifocal |  |  |  |  |
V2118 | A | Lens aniseikonic single |  |  |  |  |
V2199 | A | Lens single vision not oth c |  |  |  |  |
V2200 | A | Lens spher bifoc plano 4.00d |  |  |  |  |
V2201 | A | Lens sphere bifocal 4.12-7.0 |  |  |  |  |
V2202 | A | Lens sphere bifocal 7.12-20. |  |  |  |  |
V2203 | A | Lens sphcyl bifocal 4.00d/.1 |  |  |  |  |
V2204 | A | Lens sphcy bifocal 4.00d/2.1 |  |  |  |  |
V2205 | A | Lens sphcy bifocal 4.00d/4.2 |  |  |  |  |
V2206 | A | Lens sphcy bifocal 4.00d/ove |  |  |  |  |
V2207 | A | Lens sphcy bifocal 4.25-7d/. |  |  |  |  |
V2208 | A | Lens sphcy bifocal 4.25-7/2. |  |  |  |  |
V2209 | A | Lens sphcy bifocal 4.25-7/4. |  |  |  |  |
V2210 | A | Lens sphcy bifocal 4.25-7/ov |  |  |  |  |
V2211 | A | Lens sphcy bifo 7.25-12/.25- |  |  |  |  |
V2212 | A | Lens sphcyl bifo 7.25-12/2.2 |  |  |  |  |
V2213 | A | Lens sphcyl bifo 7.25-12/4.2 |  |  |  |  |
V2214 | A | Lens sphcyl bifocal over 12. |  |  |  |  |
V2215 | A | Lens lenticular bifocal |  |  |  |  |
V2216 | A | Lens lenticular nonaspheric |  |  |  |  |
V2217 | A | Lens lenticular aspheric bif |  |  |  |  |
V2218 | A | Lens aniseikonic bifocal |  |  |  |  |
V2219 | A | Lens bifocal seg width over |  |  |  |  |
V2220 | A | Lens bifocal add over 3.25d |  |  |  |  |
V2299 | A | Lens bifocal speciality |  |  |  |  |
V2300 | A | Lens sphere trifocal 4.00d |  |  |  |  |
V2301 | A | Lens sphere trifocal 4.12-7. |  |  |  |  |
V2302 | A | Lens sphere trifocal 7.12-20 |  |  |  |  |
V2303 | A | Lens sphcy trifocal 4.0/.12- |  |  |  |  |
V2304 | A | Lens sphcy trifocal 4.0/2.25 |  |  |  |  |
V2305 | A | Lens sphcy trifocal 4.0/4.25 |  |  |  |  |
V2306 | A | Lens sphcyl trifocal 4.00/>6 |  |  |  |  |
V2307 | A | Lens sphcy trifocal 4.25-7/. |  |  |  |  |
V2308 | A | Lens sphc trifocal 4.25-7/2. |  |  |  |  |
V2309 | A | Lens sphc trifocal 4.25-7/4. |  |  |  |  |
V2310 | A | Lens sphc trifocal 4.25-7/>6 |  |  |  |  |
V2311 | A | Lens sphc trifo 7.25-12/.25- |  |  |  |  |
V2312 | A | Lens sphc trifo 7.25-12/2.25 |  |  |  |  |
V2313 | A | Lens sphc trifo 7.25-12/4.25 |  |  |  |  |
V2314 | A | Lens sphcyl trifocal over 12 |  |  |  |  |
V2315 | A | Lens lenticular trifocal |  |  |  |  |
V2316 | A | Lens lenticular nonaspheric |  |  |  |  |
V2317 | A | Lens lenticular aspheric tri |  |  |  |  |
V2318 | A | Lens aniseikonic trifocal |  |  |  |  |
V2319 | A | Lens trifocal seg width > 28 |  |  |  |  |
V2320 | A | Lens trifocal add over 3.25d |  |  |  |  |
V2399 | A | Lens trifocal speciality |  |  |  |  |
V2410 | A | Lens variab asphericity sing |  |  |  |  |
V2430 | A | Lens variable asphericity bi |  |  |  |  |
V2499 | A | Variable asphericity lens |  |  |  |  |
V2500 | A | Contact lens pmma spherical |  |  |  |  |
V2501 | A | Cntct lens pmma-toric/prism |  |  |  |  |
V2502 | A | Contact lens pmma bifocal |  |  |  |  |
V2503 | A | Cntct lens pmma color vision |  |  |  |  |
V2510 | A | Cntct gas permeable sphericl |  |  |  |  |
V2511 | A | Cntct toric prism ballast |  |  |  |  |
V2512 | A | Cntct lens gas permbl bifocl |  |  |  |  |
V2513 | A | Contact lens extended wear |  |  |  |  |
V2520 | A | Contact lens hydrophilic |  |  |  |  |
V2521 | A | Cntct lens hydrophilic toric |  |  |  |  |
V2522 | A | Cntct lens hydrophil bifocl |  |  |  |  |
V2523 | A | Cntct lens hydrophil extend |  |  |  |  |
V2530 | A | Contact lens gas impermeable |  |  |  |  |
V2531 | A | Contact lens gas permeable |  |  |  |  |
V2599 | A | Contact lens/es other type |  |  |  |  |
V2600 | A | Hand held low vision aids |  |  |  |  |
V2610 | A | Single lens spectacle mount |  |  |  |  |
V2615 | A | Telescop/othr compound lens |  |  |  |  |
V2623 | A | Plastic eye prosth custom |  |  |  |  |
V2624 | A | Polishing artifical eye |  |  |  |  |
V2625 | A | Enlargemnt of eye prosthesis |  |  |  |  |
V2626 | A | Reduction of eye prosthesis |  |  |  |  |
V2627 | A | Scleral cover shell |  |  |  |  |
V2628 | A | Fabrication & fitting |  |  |  |  |
V2629 | A | Prosthetic eye other type |  |  |  |  |
V2630 | N | Anter chamber intraocul lens |  |  |  |  |
V2631 | N | Iris support intraoclr lens |  |  |  |  |
V2632 | N | Post chmbr intraocular lens |  |  |  |  |
V2700 | A | Balance lens |  |  |  |  |
V2710 | A | Glass/plastic slab off prism |  |  |  |  |
V2715 | A | Prism lens/es |  |  |  |  |
V2718 | A | Fresnell prism press-on lens |  |  |  |  |
V2730 | A | Special base curve |  |  |  |  |
V2740 | A | Rose tint plastic |  |  |  |  |
V2741 | A | Non-rose tint plastic |  |  |  |  |
V2742 | A | Rose tint glass |  |  |  |  |
V2743 | A | Non-rose tint glass |  |  |  |  |
V2744 | A | Tint photochromatic lens/es |  |  |  |  |
V2750 | A | Anti-reflective coating |  |  |  |  |
V2755 | A | UV lens/es |  |  |  |  |
V2760 | A | Scratch resistant coating |  |  |  |  |
V2770 | A | Occluder lens/es |  |  |  |  |
V2780 | A | Oversize lens/es |  |  |  |  |
V2781 | A | Progressive lens per lens |  |  |  |  |
V2785 | A | Corneal tissue processing |  |  |  |  |
V2799 | A | Miscellaneous vision service |  |  |  |  |
V5008 | E | Hearing screening |  |  |  |  |
V5010 | E | Assessment for hearing aid |  |  |  |  |
V5011 | E | Hearing aid fitting/checking |  |  |  |  |
V5014 | E | Hearing aid repair/modifying |  |  |  |  |
V5020 | E | Conformity evaluation |  |  |  |  |
V5030 | E | Body-worn hearing aid air |  |  |  |  |
V5040 | E | Body-worn hearing aid bone |  |  |  |  |
V5050 | E | Body-worn hearing aid in ear |  |  |  |  |
V5060 | E | Behind ear hearing aid |  |  |  |  |
V5070 | E | Glasses air conduction |  |  |  |  |
V5080 | E | Glasses bone conduction |  |  |  |  |
V5090 | E | Hearing aid dispensing fee |  |  |  |  |
V5100 | E | Body-worn bilat hearing aid |  |  |  |  |
V5110 | E | Hearing aid dispensing fee |  |  |  |  |
V5120 | E | Body-worn binaur hearing aid |  |  |  |  |
V5130 | E | In ear binaural hearing aid |  |  |  |  |
V5140 | E | Behind ear binaur hearing ai |  |  |  |  |
V5150 | E | Glasses binaural hearing aid |  |  |  |  |
V5160 | E | Dispensing fee binaural |  |  |  |  |
V5170 | E | Within ear cros hearing aid |  |  |  |  |
V5180 | E | Behind ear cros hearing aid |  |  |  |  |
V5190 | E | Glasses cros hearing aid |  |  |  |  |
V5200 | E | Cros hearing aid dispens fee |  |  |  |  |
V5210 | E | In ear bicros hearing aid |  |  |  |  |
V5220 | E | Behind ear bicros hearing ai |  |  |  |  |
V5230 | E | Glasses bicros hearing aid |  |  |  |  |
V5240 | E | Dispensing fee bicros |  |  |  |  |
V5299 | A | Hearing service |  |  |  |  |
V5336 | E | Repair communication device |  |  |  |  |
V5362 | A | Speech screening |  |  |  |  |
V5363 | A | Language screening |  |  |  |  |
V5364 | A | Dysphagia screening |  |  |  |  |

——————————

CPT codes and descriptions only are copyright American Medical Association. All Rights Reserved. Applicable FARS/DFARS Apply.

Copyright American Dental Association. All rights reserved.

¹ Not subject to national coinsurance. Minimum unadjusted coinsurance is 25% of the payment rate. The payment rate is the lower of the HOPD payment rate or the Ambulatory Surgical Center payment.

² Not subject to national coinsurance.

³ Eligible for pass-through payments. See Preamble for payment rate determination. See Addendum K for complete list of pass-through codes.

Addendum C.—Proposed Hospital Outpatient Department (HOPD) Payment for Procedures by APC
APC | CPT/ HCPCS | HCPCS Description | Status Indicator | Relative Weight | Payment Rate | National Unadjusted Coinsurance | Minimum Unadjusted Coinsurance
0001 | Photochemotherapy |  | S | 0.47 | $22.79 | $8.49 | $4.56
| 96900 | Ultraviolet light therapy
| 96910 | Photochemotherapy with UV-B
| 96912 | Photochemotherapy with UV-A
| 96913 | Photochemotherapy, UV-A or B
| 96999 | Dermatological procedure
0002 | Fine needle Biopsy/Aspiration |  | T | 0.62 | $30.06 | $17.66 | $6.01
| 60001 | Aspirate/inject thyriod cyst
| 88170 | Fine needle aspiration
| 88171 | Fine needle aspiration
0003 | Bone Marrow Biopsy/Aspiration |  | T | 0.98 | $47.52 | $27.99 | $9.50
| 85095 | Bone marrow aspiration
| 85102 | Bone marrow biopsy
0004 | Level I Needle Biopsy/Aspiration Except Bone Marrow |  | T | 1.84 | $89.22 | $32.57 | $17.84
| 17999 | Skin tissue procedure
| 19000 | Drainage of breast lesion
| 19001 | Drain breast lesion add-on
| 20615 | Treatment of bone cyst
| 42400 | Biopsy of salivary gland
| 54800 | Biopsy of epididymis
| 55000 | Drainage of hydrocele
| 60100 | Biopsy of thyroid
| 60699 | Endocrine surgery procedure
0005 | Level II Needle Biopsy/Aspiration Except Bone Marrow |  | T | 5.41 | $262.32 | $119.75 | $52.46
| 19100 | Biopsy of breast
| 20206 | Needle biopsy, muscle
| 32400 | Needle biopsy chest lining
| 32405 | Biopsy, lung or mediastinum
| 38505 | Needle biopsy, lymph nodes
| 47000 | Needle biopsy of liver
| 47399 | Liver surgery procedure
| 48102 | Needle biopsy, pancreas
| 48999 | Pancreas surgery procedure
| 49180 | Biopsy, abdominal mass
| 50200 | Biopsy of kidney
| 50390 | Drainage of kidney lesion
| 54500 | Biopsy of testis
| 62269 | Needle biopsy, spinal cord
0006 | Level I Incision & Drainage |  | T | 2.00 | $96.97 | $33.95 | $19.39
| 10040 | Acne surgery of skin abscess
| 10060 | Drainage of skin abscess
| 10061 | Drainage of skin abscess
| 10080 | Drainage of pilonidal cyst
| 10120 | Remove foreign body
| 10160 | Puncture drainage of lesion
| 20000 | Incision of abscess
| 26010 | Drainage of finger abscess
| 69000 | Drain external ear lesion
| 69020 | Drain outer ear canal lesion
0007 | Level II Incision & Drainage |  | T | 3.68 | $178.43 | $72.03 | $35.69
| 10081 | Drainage of pilonidal cyst
| 10140 | Drainage of hematoma/fluid
| 10180 | Complex drainage, wound
| 26011 | Drainage of finger abscess
| 69005 | Drain external ear lesion
0008 | Level III Incision & Drainage |  | T | 6.15 | $298.20 | $113.67 | $59.64
| 19020 | Incision of breast lesion
| 20950 | Fluid pressure, muscle
| 21501 | Drain neck/chest lesion
| 21700 | Revision of neck muscle
| 21720 | Revision of neck muscle
| 21725 | Revision of neck muscle
| 23030 | Drain shoulder lesion
| 23031 | Drain shoulder bursa
| 23930 | Drainage of arm lesion
| 23931 | Drainage of arm bursa
| 27301 | Drain thigh/knee lesion
| 27603 | Drain lower leg lesion
| 28001 | Drainage of bursa of foot
| 38300 | Drainage, lymph node lesion
| 38305 | Drainage, lymph node lesion
| 38999 | Blood/lymph system procedure
| 51080 | Drainage of bladder abscess
| 54015 | Drain penis lesion
| 54115 | Treatment of penis lesion
| 55100 | Drainage of scrotum abscess
0009 | Nail Procedures |  | T | 0.74 | $35.88 | $9.63 | $7.18
| 11719 | Trim nail(s)
| 11720 | Debride nail, 1-5
| 11721 | Debride nail, 6 or more
| 11740 | Drain blood from under nail
| G0127 | Trim nail(s)
0010 | Level I Destruction of Lesion |  | T | 0.55 | $26.67 | $9.86 | $5.33
| 17000 | Destroy benign/premal lesion
| 17003 | Destroy lesions, 2-14
| 17110 | Destruct lesion, 1-14
0011 | Level II Destruction of Lesion |  | T | 2.72 | $131.88 | $50.01 | $26.38
| 17004 | Destroy lesions, 15 or more
| 17106 | Destruction of skin lesions
| 17107 | Destruction of skin lesions
| 17108 | Destruction of skin lesions
| 17111 | Destruct lesion, 15 or more
0012 | Level I Debridement & Destruction |  | T | 0.53 | $25.70 | $9.18 | $5.14
| 11732 | Remove nail plate, add-on
| 11900 | Injection into skin lesions
| 15852 | Dressing change, not for burn
| 17340 | Cryotherapy of skin
| 69220 | Clean out mastoid cavity
0013 | Level II Debridement & Destruction |  | T | 0.91 | $44.12 | $17.66 | $8.82
| 11300 | Shave skin lesion
| 11301 | Shave skin lesion
| 11305 | Shave skin lesion
| 11306 | Shave skin lesion
| 11310 | Shave skin lesion
| 11311 | Shave skin lesion
| 11730 | Removal of nail plate
| 11901 | Added skin lesions injection
| 15786 | Abrasion, lesion, single
| 15788 | Chemical peel, face, epiderm
| 15850 | Removal of sutures
| 15851 | Removal of sutures
| 17260 | Destruction of skin lesions
| 17261 | Destruction of skin lesions
| 17262 | Destruction of skin lesions
| 17263 | Destruction of skin lesions
| 17271 | Destruction of skin lesions
| 17272 | Destruction of skin lesions
| 54050 | Destruction, penis lesion(s)
| 54056 | Cryosurgery, penis lesion(s)
0014 | Level III Debridement & Destruction |  | T | 1.50 | $72.73 | $24.55 | $14.55
| 11302 | Shave skin lesion
| 11307 | Shave skin lesion
| 16025 | Treatment of burn(s)
| 17250 | Chemical cautery, tissue
| 46917 | Laser surgery, anal lesions
0015 | Level IV Debridement & Destruction |  | T | 1.77 | $85.82 | $31.20 | $17.16
| 11000 | Debride infected skin
| 11001 | Debride infected skin add-on
| 11040 | Debride skin, partial
| 11041 | Debride skin, full
| 11055 | Trim skin lesion
| 11056 | Trim skin lesions, 2 to 4
| 11057 | Trim skin lesions, over 4
| 11200 | Removal of skin tags
| 11201 | Remove skin tags add-on
| 11303 | Shave skin lesion
| 11308 | Shave skin lesion
| 11312 | Shave skin lesion
| 11765 | Excision of nail fold, toe
| 15783 | Abrasion treatment of skin
| 15789 | Chemical peel, face, dermal
| 16000 | Initial treatment of burn(s)
| 16010 | Treatment of burn(s)
| 16020 | Treatment of burn(s)
| 16030 | Treatment of burn(s)
| 17264 | Destruction of skin lesions
| 17270 | Destruction of skin lesions
| 17273 | Destruction of skin lesions
| 17274 | Destruction of skin lesions
| 17276 | Destruction of skin lesions
| 17280 | Destruction of skin lesions
| 17281 | Destruction of skin lesions
| 17282 | Destruction of skin lesions
| 17283 | Destruction of skin lesions
0016 | Level V Debridement & Destruction |  | T | 3.53 | $171.16 | $74.67 | $34.23
| 11042 | Debride skin/tissue
| 11043 | Debride tissue/muscle
| 11313 | Shave skin lesion
| 15787 | Abrasion, lesions, add-on
| 15792 | Chemical peel, nonfacial
| 15793 | Chemical peel, nonfacial
| 15810 | Salabrasion
| 17266 | Destruction of skin lesions
| 17284 | Destruction of skin lesions
| 17286 | Destruction of skin lesions
| 17360 | Skin peel therapy
| 17380 | Hair removal by electrolysis
| 46900 | Destruction, anal lesion(s)
| 46910 | Destruction, anal lesion(s)
| 46916 | Cryosurgery, anal lesion(s)
| 54055 | Destruction, penis lesion(s)
| 56501 | Destruction, vulva lesion(s)
0017 | Level VI Debridement & Destruction |  | T | 12.45 | $603.66 | $289.16 | $120.73
| 11044 | Debride tissue/muscle/bone
| 16015 | Treatment of burn(s)
| 46922 | Excision of anal lesion(s)
| 46924 | Destruction, anal lesion(s)
| 54057 | Laser surg, penis lesion(s)
| 54060 | Excision of penis lesion(s)
| 54065 | Destruction, penis lesion(s)
| 56515 | Destruction, vulva lesion(s)
0018 | Biopsy Skin, Subcutaneous Tissue or Mucous Membrane |  | T | 0.94 | $45.58 | $17.66 | $9.12
| 11100 | Biopsy of skin lesion
| 11101 | Biopsy, skin add-on
0019 | Level I Excision/Biopsy |  | T | 4.00 | $193.95 | $78.91 | $38.79
| 11400 | Removal of skin lesion
| 11401 | Removal of skin lesion
| 11402 | Removal of skin lesion
| 11420 | Removal of skin lesion
| 11421 | Removal of skin lesion
| 11422 | Removal of skin lesion
| 11440 | Removal of skin lesion
| 11441 | Removal of skin lesion
| 11442 | Removal of skin lesion
| 11600 | Removal of skin lesion
| 11601 | Removal of skin lesion
| 11602 | Removal of skin lesion
| 11620 | Removal of skin lesion
| 11621 | Removal of skin lesion
| 11622 | Removal of skin lesion
| 11640 | Removal of skin lesion
| 11641 | Removal of skin lesion
| 11642 | Removal of skin lesion
| 11750 | Removal of nail bed
| 11755 | Biopsy, nail unit
| 11976 | Removal of contraceptive cap
| 20220 | Bone biopsy, trocar/needle
| 20520 | Removal of foreign body
| 21550 | Biopsy of neck/chest
| 23330 | Remove shoulder foreign body
| 24200 | Removal of arm foreign body
| 27086 | Remove hip foreign body
| 28190 | Removal of foot foreign body
| 56605 | Biopsy of vulva/perineum
| 56606 | Biopsy of vulva/perineum
| 58999 | Genital surgery procedure
| 69100 | Biopsy of external ear
0020 | Level II Excision/Biopsy |  | T | 6.51 | $315.65 | $130.53 | $63.13
| 10121 | Remove foreign body
| 11403 | Removal of skin lesion
| 11404 | Removal of skin lesion
| 11406 | Removal of skin lesion
| 11423 | Removal of skin lesion
| 11424 | Removal of skin lesion
| 11443 | Removal of skin lesion
| 11444 | Removal of skin lesion
| 11603 | Removal of skin lesion
| 11604 | Removal of skin lesion
| 11623 | Removal of skin lesion
| 11624 | Removal of skin lesion
| 11643 | Removal of skin lesion
| 11644 | Removal of skin lesion
| 16035 | Incision of burn scab
| 17304 | Chemosurgery of skin lesion
| 17305 | 2nd stage chemosurgery
| 17306 | 3rd stage chemosurgery
| 17307 | Followup skin lesion therapy
| 17310 | Extensive skin chemosurgery
| 20200 | Muscle biopsy
| 20225 | Bone biopsy, trocar/needle
| 21920 | Biopsy soft tissue of back
| 24065 | Biopsy arm/elbow soft tissue
| 24066 | Biopsy arm/elbow soft tissue
| 25065 | Biopsy forearm soft tissues
| 25075 | Removal of forearm lesion
| 26320 | Removal of implant from hand
| 27613 | Biopsy lower leg soft tissue
| 28193 | Removal of foot foreign body
| 37609 | Temporal artery procedure
| 37799 | Vascular surgery procedure
| 54100 | Biopsy of penis
| 69110 | Remove external ear, partial
| 69145 | Remove ear canal lesion(s)
0021 | Level III Excision/Biopsy |  | T | 10.49 | $508.63 | $236.51 | $101.73
| 11606 | Removal of skin lesion
| 11770 | Removal of pilonidal lesion
| 20205 | Deep muscle biopsy
| 20670 | Removal of support implant
| 23000 | Removal of calcium deposits
| 23065 | Biopsy shoulder tissues
| 23075 | Removal of shoulder lesion
| 24075 | Remove arm/elbow lesion
| 24201 | Removal of arm foreign body
| 27040 | Biopsy of soft tissues
| 27323 | Biopsy, thigh soft tissues
| 27618 | Remove lower leg lesion
| 28043 | Excision of foot lesion
| 28192 | Removal of foot foreign body
| 54105 | Biopsy of penis
0022 | Level IV Excision/Biopsy |  | T | 12.49 | $605.60 | $292.94 | $121.12
| 11010 | Debride skin, fx
| 11011 | Debride skin/muscle, fx
| 11012 | Debride skin/muscle/bone, fx
| 11426 | Removal of skin lesion
| 11446 | Removal of skin lesion
| 11450 | Removal, sweat gland lesion
| 11451 | Removal, sweat gland lesion
| 11462 | Removal, sweat gland lesion
| 11463 | Removal, sweat gland lesion
| 11470 | Removal, sweat gland lesion
| 11471 | Removal, sweat gland lesion
| 11626 | Removal of skin lesion
| 11646 | Removal of skin lesion
| 11752 | Remove nail bed/finger tip
| 11771 | Removal of pilonidal lesion
| 11772 | Removal of pilonidal lesion
| 11971 | Remove tissue expander(s)
| 15780 | Abrasion treatment of skin
| 15781 | Abrasion treatment of skin
| 15782 | Abrasion treatment of skin
| 15811 | Salabrasion
| 15838 | Excise excessive skin tissue
| 15920 | Removal of tail bone ulcer
| 15931 | Remove sacrum pressure sore
| 15933 | Remove sacrum pressure sore
| 15940 | Remove hip pressure sore
| 15941 | Remove hip pressure sore
| 15950 | Remove thigh pressure sore
| 15951 | Remove thigh pressure sore
| 15999 | Removal of pressure sore
| 20240 | Bone biopsy, excisional
| 20245 | Bone biopsy, excisional
| 20525 | Removal of foreign body
| 20680 | Removal of support implant
| 21555 | Remove lesion, neck/chest
| 21556 | Remove lesion, neck/chest
| 21925 | Biopsy soft tissue of back
| 21930 | Remove lesion, back or flank
| 21935 | Remove tumor, back
| 22900 | Remove abdominal wall lesion
| 22999 | Abdomen surgery procedure
| 23066 | Biopsy shoulder tissues
| 23076 | Removal of shoulder lesion
| 23077 | Remove tumor of shoulder
| 23331 | Remove shoulder foreign body
| 24076 | Remove arm/elbow lesion
| 24077 | Remove tumor of arm/elbow
| 25066 | Biopsy forearm soft tissues
| 25076 | Removal of forearm lesion
| 25077 | Remove tumor, forearm/wrist
| 26115 | Removal of hand lesion
| 26116 | Removal of hand lesion
| 26117 | Remove tumor, hand/finger
| 27041 | Biopsy of soft tissues
| 27047 | Remove hip/pelvis lesion
| 27048 | Remove hip/pelvis lesion
| 27049 | Remove tumor, hip/pelvis
| 27324 | Biopsy, thigh soft tissues
| 27327 | Removal of thigh lesion
| 27328 | Removal of thigh lesion
| 27329 | Remove tumor, thigh/knee
| 27372 | Removal of foreign body
| 27614 | Biopsy lower leg soft tissue
| 27619 | Remove lower leg lesion
| 69205 | Clear outer ear canal
0023 | Exploration Penetrating Wound |  | T | 1.98 | $96.00 | $40.37 | $19.20
| 20100 | Explore wound, neck
| 20103 | Explore wound, extremity
0024 | Level I Skin Repair |  | T | 2.43 | $117.82 | $44.50 | $23.56
| 11760 | Repair of nail bed
| 11762 | Reconstruction of nail bed
| 11920 | Correct skin color defects
| 11921 | Correct skin color defects
| 11922 | Correct skin color defects
| 11950 | Therapy for contour defects
| 11951 | Therapy for contour defects
| 11952 | Therapy for contour defects
| 11954 | Therapy for contour defects
| 12001 | Repair superficial wound(s)
| 12002 | Repair superficial wound(s)
| 12004 | Repair superficial wound(s)
| 12005 | Repair superficial wound(s)
| 12006 | Repair superficial wound(s)
| 12007 | Repair superficial wound(s)
| 12011 | Repair superficial wound(s)
| 12013 | Repair superficial wound(s)
| 12014 | Repair superficial wound(s)
| 12015 | Repair superficial wound(s)
| 12016 | Repair superficial wound(s)
| 12017 | Repair superficial wound(s)
| 12018 | Repair superficial wound(s)
| 12020 | Closure of split wound
| 12021 | Closure of split wound
| 12031 | Layer closure of wound(s)
| 12032 | Layer closure of wound(s)
| 12034 | Layer closure of wound(s)
| 12035 | Layer closure of wound(s)
| 12036 | Layer closure of wound(s)
| 12041 | Layer closure of wound(s)
| 12042 | Layer closure of wound(s)
| 12044 | Layer closure of wound(s)
| 12045 | Layer closure of wound(s)
| 12046 | Layer closure of wound(s)
| 12051 | Layer closure of wound(s)
| 12052 | Layer closure of wound(s)
| 12053 | Layer closure of wound(s)
| 12054 | Layer closure of wound(s)
| 12055 | Layer closure of wound(s)
| 12056 | Layer closure of wound(s)
0025 | Level II Skin Repair |  | T | 3.74 | $181.34 | $70.66 | $36.27
| 13100 | Repair of wound or lesion
| 13101 | Repair of wound or lesion
| 13102 | Repair wound/lesion add-on
| 13120 | Repair of wound or lesion
| 13121 | Repair of wound or lesion
| 13122 | Repair wound/lesion add-on
| 13131 | Repair of wound or lesion
| 13132 | Repair of wound or lesion
| 13133 | Repair wound/lesion add-on
| 13151 | Repair of wound or lesion
| 13152 | Repair of wound or lesion
| 13153 | Repair wound/lesion add-on
| 43870 | Repair stomach opening
0026 | Level III Skin Repair |  | T | 12.11 | $587.18 | $277.92 | $117.44
| 11960 | Insert tissue expander(s)
| 11970 | Replace tissue expander
| 12037 | Layer closure of wound(s)
| 12047 | Layer closure of wound(s)
| 12057 | Layer closure of wound(s)
| 13150 | Repair of wound or lesion
| 13160 | Late closure of wound
| 14000 | Skin tissue rearrangement
| 14001 | Skin tissue rearrangement
| 14020 | Skin tissue rearrangement
| 14021 | Skin tissue rearrangement
| 14040 | Skin tissue rearrangement
| 14041 | Skin tissue rearrangement
| 14060 | Skin tissue rearrangement
| 14061 | Skin tissue rearrangement
| 14300 | Skin tissue rearrangement
| 14350 | Skin tissue rearrangement
| 15000 | Skin graft
| 15001 | Skin graft add-on
| 15050 | Skin pinch graft
| 15100 | Skin split graft
| 15101 | Skin split graft add-on
| 15120 | Skin split graft
| 15121 | Skin split graft add-on
| 15200 | Skin full graft
| 15201 | Skin full graft add-on
| 15220 | Skin full graft
| 15221 | Skin full graft add-on
| 15240 | Skin full graft
| 15241 | Skin full graft add-on
| 15260 | Skin full graft
| 15261 | Skin full graft add-on
| 15350 | Skin homograft
| 15351 | Skin homograft add-on
| 15400 | Skin heterograft
| 15401 | Skin heterograft add-on
| 15570 | Form skin pedicle flap
| 15572 | Form skin pedicle flap
| 15574 | Form skin pedicle flap
| 15576 | Form skin pedicle flap
| 15600 | Skin graft
| 15610 | Skin graft
| 15620 | Skin graft
| 15630 | Skin graft
| 15650 | Transfer skin pedicle flap
| 15775 | Hair transplant punch grafts
| 15776 | Hair transplant punch grafts
| 15819 | Plastic surgery, neck
| 15820 | Revision of lower eyelid
| 15821 | Revision of lower eyelid
| 15822 | Revision of upper eyelid
| 15823 | Revision of upper eyelid
| 15825 | Removal of neck wrinkles
| 15829 | Removal of skin wrinkles
| 15835 | Excise excessive skin tissue
| 20101 | Explore wound, chest
| 20102 | Explore wound, abdomen
| 20910 | Remove cartilage for graft
| 20912 | Remove cartilage for graft
| 20920 | Removal of fascia for graft
| 20922 | Removal of fascia for graft
| 20926 | Removal of tissue for graft
| 23921 | Amputation follow-up surgery
| 25929 | Amputation follow-up surgery
| 33222 | Revise pocket, pacemaker
| 33223 | Revise pocket, pacing-defib
| 44312 | Revision of ileostomy
| 44340 | Revision of colostomy
| G0168 | Wound closure by adhesive
| G0169 | Removal tissue; no anesthsia
| G0170 | Skin biograft
| G0171 | Skin biograft add-on
0027 | Level IV Skin Repair |  | T | 15.80 | $766.10 | $383.10 | $153.22
| 15732 | Muscle-skin graft, head/neck
| 15734 | Muscle-skin graft, trunk
| 15736 | Muscle-skin graft, arm
| 15738 | Muscle-skin graft, leg
| 15740 | Island pedicle flap graft
| 15750 | Neurovascular pedicle graft
| 15760 | Composite skin graft
| 15770 | Derma-fat-fascia graft
| 15824 | Removal of forehead wrinkles
| 15826 | Removal of brow wrinkles
| 15828 | Removal of face wrinkles
| 15831 | Excise excessive skin tissue
| 15832 | Excise excessive skin tissue
| 15833 | Excise excessive skin tissue
| 15834 | Excise excessive skin tissue
| 15836 | Excise excessive skin tissue
| 15837 | Excise excessive skin tissue
| 15839 | Excise excessive skin tissue
| 15840 | Graft for face nerve palsy
| 15841 | Graft for face nerve palsy
| 15842 | Graft for face nerve palsy
| 15845 | Skin and muscle repair, face
| 15876 | Suction assisted lipectomy
| 15877 | Suction assisted lipectomy
| 15878 | Suction assisted lipectomy
| 15879 | Suction assisted lipectomy
| 15922 | Removal of tail bone ulcer
| 15934 | Remove sacrum pressure sore
| 15935 | Remove sacrum pressure sore
| 15936 | Remove sacrum pressure sore
| 15937 | Remove sacrum pressure sore
| 15944 | Remove hip pressure sore
| 15945 | Remove hip pressure sore
| 15946 | Remove hip pressure sore
| 15952 | Remove thigh pressure sore
| 15953 | Remove thigh pressure sore
| 15956 | Remove thigh pressure sore
| 15958 | Remove thigh pressure sore
0029 | Incision/Excision Breast |  | T | 12.85 | $623.06 | $303.50 | $124.61
| 19101 | Biopsy of breast
| 19110 | Nipple exploration
| 19112 | Excise breast duct fistula
| 19120 | Removal of breast lesion
| 19125 | Excision, breast lesion
| 19126 | Excision, addl breast lesion
| 19140 | Removal of breast tissue
| 19290 | Place needle wire, breast
| 19291 | Place needle wire, breast
| 19396 | Design custom breast implant
| 19499 | Breast surgery procedure
0030 | Breast Reconstruction/Mastectomy |  | T | 20.19 | $978.95 | $523.95 | $195.79
| 19160 | Removal of breast tissue
| 19162 | Remove breast tissue, nodes
| 19180 | Removal of breast
| 19182 | Removal of breast
| 19316 | Suspension of breast
| 19318 | Reduction of large breast
| 19324 | Enlarge breast
| 19325 | Enlarge breast with implant
| 19328 | Removal of breast implant
| 19330 | Removal of implant material
| 19340 | Immediate breast prosthesis
| 19342 | Delayed breast prosthesis
| 19350 | Breast reconstruction
| 19355 | Correct inverted nipple(s)
| 19357 | Breast reconstruction
| 19366 | Breast reconstruction
| 19370 | Surgery of breast capsule
| 19371 | Removal of breast capsule
| 19380 | Revise breast reconstruction
0031 | Hyperbaric Oxygen |  | S | 3.00 | $145.46 | $140.85 | $29.09
| 99183 | Hyperbaric oxygen therapy
| G0167 | Hyperbaric oz tx; no md reqrd
0032 | Placement Transvenous Catheters/Arterial Cutdown |  | T | 5.40 | $261.83 | $119.52 | $52.37
| 36420 | Establish access to vein
| 36425 | Establish access to vein
| 36488 | Insertion of catheter, vein
| 36489 | Insertion of catheter, vein
| 36490 | Insertion of catheter, vein
| 36491 | Insertion of catheter, vein
| 36493 | Repositioning of cvc
| 36640 | Insertion catheter, artery
0033 | Partial Hospitalization |  | P | 4.17 | $202.19 | $48.17 | $40.44
| G0129 | Partial hosp prog service
| G0172 | Partial hosp prog service
| Q0082 | Activity therapy w/partial h
0040 | Arthrocentesis & Ligament/Tendon Injection |  | T | 2.11 | $102.31 | $40.60 | $20.46
| 20550 | Inject tendon/ligament/cyst
| 20600 | Drain/inject, joint/bursa
| 20605 | Drain/inject, joint/bursa
| 20610 | Drain/inject, joint/bursa
0041 | Arthroscopy |  | T | 24.57 | $1,191.33 | $592.08 | $238.27
| 29800 | Jaw arthroscopy/surgery
| 29804 | Jaw arthroscopy/surgery
| 29815 | Shoulder arthroscopy
| 29819 | Shoulder arthroscopy/surgery
| 29820 | Shoulder arthroscopy/surgery
| 29821 | Shoulder arthroscopy/surgery
| 29822 | Shoulder arthroscopy/surgery
| 29823 | Shoulder arthroscopy/surgery
| 29825 | Shoulder arthroscopy/surgery
| 29826 | Shoulder arthroscopy/surgery
| 29830 | Elbow arthroscopy
| 29834 | Elbow arthroscopy/surgery
| 29835 | Elbow arthroscopy/surgery
| 29836 | Elbow arthroscopy/surgery
| 29837 | Elbow arthroscopy/surgery
| 29838 | Elbow arthroscopy/surgery
| 29840 | Wrist arthroscopy
| 29843 | Wrist arthroscopy/surgery
| 29844 | Wrist arthroscopy/surgery
| 29845 | Wrist arthroscopy/surgery
| 29846 | Wrist arthroscopy/surgery
| 29847 | Wrist arthroscopy/surgery
| 29848 | Wrist endoscopy/surgery
| 29860 | Hip arthroscopy, dx
| 29861 | Hip arthroscopy/surgery
| 29862 | Hip arthroscopy/surgery
| 29863 | Hip arthroscopy/surgery
| 29870 | Knee arthroscopy, dx
| 29871 | Knee arthroscopy/drainage
| 29874 | Knee arthroscopy/surgery
| 29875 | Knee arthroscopy/surgery
| 29876 | Knee arthroscopy/surgery
| 29877 | Knee arthroscopy/surgery
| 29879 | Knee arthroscopy/surgery
| 29880 | Knee arthroscopy/surgery
| 29881 | Knee arthroscopy/surgery
| 29882 | Knee arthroscopy/surgery
| 29883 | Knee arthroscopy/surgery
| 29884 | Knee arthroscopy/surgery
| 29886 | Knee arthroscopy/surgery
| 29887 | Knee arthroscopy/surgery
| 29891 | Ankle arthroscopy/surgery
| 29894 | Ankle arthroscopy/surgery
| 29895 | Ankle arthroscopy/surgery
| 29897 | Ankle arthroscopy/surgery
| 29898 | Ankle arthroscopy/surgery
| 29909 | Arthroscopy of joint
0042 | Arthroscopically-Aided Procedures |  | T | 29.22 | $1,416.79 | $804.74 | $283.36
| 29850 | Knee arthroscopy/surgery
| 29851 | Knee arthroscopy/surgery
| 29855 | Tibial arthroscopy/surgery
| 29856 | Tibial arthroscopy/surgery
| 29885 | Knee arthroscopy/surgery
| 29888 | Knee arthroscopy/surgery
| 29889 | Knee arthroscopy/surgery
| 29892 | Ankle arthroscopy/surgery
0043 | Closed Treatment Fracture Finger/Toe/Trunk |  | T | 1.64 | $79.52 | $25.46 | $15.90
| 21800 | Treatment of rib fracture
| 21820 | Treat sternum fracture
| 22305 | Treat spine process fracture
| 22310 | Treat spine fracture
| 22315 | Treat spine fracture
| 22899 | Spine surgery procedure
| 23500 | Treat clavicle fracture
| 23505 | Treat clavicle fracture
| 23520 | Treat clavicle dislocation
| 23525 | Treat clavicle dislocation
| 23540 | Treat clavicle dislocation
| 23545 | Treat clavicle dislocation
| 23570 | Treat shoulder blade fx
| 23575 | Treat shoulder blade fx
| 23650 | Treat shoulder dislocation
| 23929 | Shoulder surgery procedure
| 26700 | Treat knuckle dislocation
| 26720 | Treat finger fracture, each
| 26725 | Treat finger fracture, each
| 26740 | Treat finger fracture, each
| 26750 | Treat finger fracture, each
| 26755 | Treat finger fracture, each
| 26770 | Treat finger dislocation
| 26989 | Hand/finger surgery
| 27200 | Treat tail bone fracture
| 27299 | Pelvis/hip joint surgery
| 28490 | Treat big toe fracture
| 28495 | Treat big toe fracture
| 28510 | Treatment of toe fracture
| 28515 | Treatment of toe fracture
| 28630 | Treat toe dislocation
| 28660 | Treat toe dislocation
| 28899 | Foot/toes surgery procedure
0044 | Closed Treatment Fracture/Dislocation Except Finger/Toe/Trunk |  | T | 2.17 | $105.22 | $38.08 | $21.04
| 23600 | Treat humerus fracture
| 23605 | Treat humerus fracture
| 23620 | Treat humerus fracture
| 23625 | Treat humerus fracture
| 23665 | Treat dislocation/fracture
| 23675 | Treat dislocation/fracture
| 24500 | Treat humerus fracture
| 24505 | Treat humerus fracture
| 24530 | Treat humerus fracture
| 24535 | Treat humerus fracture
| 24560 | Treat humerus fracture
| 24565 | Treat humerus fracture
| 24576 | Treat humerus fracture
| 24577 | Treat humerus fracture
| 24600 | Treat elbow dislocation
| 24620 | Treat elbow fracture
| 24640 | Treat elbow dislocation
| 24650 | Treat radius fracture
| 24655 | Treat radius fracture
| 24670 | Treat ulnar fracture
| 24675 | Treat ulnar fracture
| 24999 | Upper arm/elbow surgery
| 25500 | Treat fracture of radius
| 25505 | Treat fracture of radius
| 25520 | Treat fracture of radius
| 25530 | Treat fracture of ulna
| 25535 | Treat fracture of ulna
| 25560 | Treat fracture radius & ulna
| 25565 | Treat fracture radius & ulna
| 25600 | Treat fracture radius/ulna
| 25605 | Treat fracture radius/ulna
| 25622 | Treat wrist bone fracture
| 25624 | Treat wrist bone fracture
| 25630 | Treat wrist bone fracture
| 25635 | Treat wrist bone fracture
| 25650 | Treat wrist bone fracture
| 25660 | Treat wrist dislocation
| 25675 | Treat wrist dislocation
| 25680 | Treat wrist fracture
| 25690 | Treat wrist dislocation
| 25999 | Forearm or wrist surgery
| 26600 | Treat metacarpal fracture
| 26605 | Treat metacarpal fracture
| 26607 | Treat metacarpal fracture
| 26641 | Treat thumb dislocation
| 26645 | Treat thumb fracture
| 26670 | Treat hand dislocation
| 26706 | Pin knuckle dislocation
| 26742 | Treat finger fracture, each
| 27193 | Treat pelvic ring fracture
| 27220 | Treat hip socket fracture
| 27230 | Treat thigh fracture
| 27238 | Treat thigh fracture
| 27246 | Treat thigh fracture
| 27250 | Treat hip dislocation
| 27256 | Treat hip dislocation
| 27265 | Treat hip dislocation
| 27500 | Treatment of thigh fracture
| 27501 | Treatment of thigh fracture
| 27502 | Treatment of thigh fracture
| 27503 | Treatment of thigh fracture
| 27508 | Treatment of thigh fracture
| 27510 | Treatment of thigh fracture
| 27516 | Treat thigh fx growth plate
| 27517 | Treat thigh fx growth plate
| 27520 | Treat kneecap fracture
| 27530 | Treat knee fracture
| 27532 | Treat knee fracture
| 27538 | Treat knee fracture(s)
| 27550 | Treat knee dislocation
| 27560 | Treat kneecap dislocation
| 27599 | Leg surgery procedure
| 27750 | Treatment of tibia fracture
| 27752 | Treatment of tibia fracture
| 27760 | Treatment of ankle fracture
| 27762 | Treatment of ankle fracture
| 27780 | Treatment of fibula fracture
| 27781 | Treatment of fibula fracture
| 27786 | Treatment of ankle fracture
| 27788 | Treatment of ankle fracture
| 27808 | Treatment of ankle fracture
| 27810 | Treatment of ankle fracture
| 27816 | Treatment of ankle fracture
| 27818 | Treatment of ankle fracture
| 27824 | Treat lower leg fracture
| 27825 | Treat lower leg fracture
| 27830 | Treat lower leg dislocation
| 27840 | Treat ankle dislocation
| 27899 | Leg/ankle surgery procedure
| 28400 | Treatment of heel fracture
| 28405 | Treatment of heel fracture
| 28430 | Treatment of ankle fracture
| 28435 | Treatment of ankle fracture
| 28450 | Treat midfoot fracture, each
| 28455 | Treat midfoot fracture, each
| 28470 | Treat metatarsal fracture
| 28475 | Treat metatarsal fracture
| 28530 | Treat sesamoid bone fracture
| 28540 | Treat foot dislocation
| 28570 | Treat foot dislocation
| 28600 | Treat foot dislocation
0045 | Bone/Joint Manipulation Under Anesthesia |  | T | 11.02 | $534.33 | $277.12 | $106.87
| 22505 | Manipulation of spine
| 23655 | Treat shoulder dislocation
| 23700 | Fixation of shoulder
| 24605 | Treat elbow dislocation
| 26675 | Treat hand dislocation
| 26705 | Treat knuckle dislocation
| 26775 | Treat finger dislocation
| 27194 | Treat pelvic ring fracture
| 27252 | Treat hip dislocation
| 27257 | Treat hip dislocation
| 27275 | Manipulation of hip joint
| 27552 | Treat knee dislocation
| 27562 | Treat kneecap dislocation
| 27570 | Fixation of knee joint
| 27831 | Treat lower leg dislocation
| 27842 | Treat ankle dislocation
| 27860 | Fixation of ankle joint
| 28545 | Treat foot dislocation
| 28575 | Treat foot dislocation
| 28605 | Treat foot dislocation
| 28635 | Treat toe dislocation
| 28665 | Treat toe dislocation
0046 | Open/Percutaneous Treatment Fracture or Dislocation |  | T | 22.29 | $1,080.78 | $535.76 | $216.16
| 21336 | Treat nasal septal fracture
| 21805 | Treatment of rib fracture
| 23515 | Treat clavicle fracture
| 23530 | Treat clavicle dislocation
| 23532 | Treat clavicle dislocation
| 23550 | Treat clavicle dislocation
| 23552 | Treat clavicle dislocation
| 23585 | Treat scapula fracture
| 23615 | Treat humerus fracture
| 23616 | Treat humerus fracture
| 23630 | Treat humerus fracture
| 23660 | Treat shoulder dislocation
| 23670 | Treat dislocation/fracture
| 23680 | Treat dislocation/fracture
| 24515 | Treat humerus fracture
| 24516 | Treat humerus fracture
| 24538 | Treat humerus fracture
| 24545 | Treat humerus fracture
| 24546 | Treat humerus fracture
| 24566 | Treat humerus fracture
| 24575 | Treat humerus fracture
| 24579 | Treat humerus fracture
| 24582 | Treat humerus fracture
| 24586 | Treat elbow fracture
| 24587 | Treat elbow fracture
| 24615 | Treat elbow dislocation
| 24635 | Treat elbow fracture
| 24665 | Treat radius fracture
| 24666 | Treat radius fracture
| 24685 | Treat ulnar fracture
| 25515 | Treat fracture of radius
| 25525 | Treat fracture of radius
| 25526 | Treat fracture of radius
| 25545 | Treat fracture of ulna
| 25574 | Treat fracture radius & ulna
| 25575 | Treat fracture radius/ulna
| 25611 | Treat fracture radius/ulna
| 25620 | Treat fracture radius/ulna
| 25628 | Treat wrist bone fracture
| 25645 | Treat wrist bone fracture
| 25670 | Treat wrist dislocation
| 25676 | Treat wrist dislocation
| 25685 | Treat wrist fracture
| 25695 | Treat wrist dislocation
| 26608 | Treat metacarpal fracture
| 26615 | Treat metacarpal fracture
| 26650 | Treat thumb fracture
| 26665 | Treat thumb fracture
| 26676 | Pin hand dislocation
| 26685 | Treat hand dislocation
| 26686 | Treat hand dislocation
| 26715 | Treat knuckle dislocation
| 26727 | Treat finger fracture, each
| 26735 | Treat finger fracture, each
| 26746 | Treat finger fracture, each
| 26756 | Pin finger fracture, each
| 26765 | Treat finger fracture, each
| 26776 | Pin finger dislocation
| 26785 | Treat finger dislocation
| 27202 | Treat tail bone fracture
| 27509 | Treatment of thigh fracture
| 27556 | Treat knee dislocation
| 27566 | Treat kneecap dislocation
| 27615 | Remove tumor, lower leg
| 27756 | Treatment of tibia fracture
| 27758 | Treatment of tibia fracture
| 27759 | Treatment of tibia fracture
| 27766 | Treatment of ankle fracture
| 27784 | Treatment of fibula fracture
| 27792 | Treatment of ankle fracture
| 27814 | Treatment of ankle fracture
| 27822 | Treatment of ankle fracture
| 27823 | Treatment of ankle fracture
| 27826 | Treat lower leg fracture
| 27827 | Treat lower leg fracture
| 27828 | Treat lower leg fracture
| 27829 | Treat lower leg joint
| 27832 | Treat lower leg dislocation
| 27846 | Treat ankle dislocation
| 27848 | Treat ankle dislocation
| 28406 | Treatment of heel fracture
| 28415 | Treat heel fracture
| 28420 | Treat/graft heel fracture
| 28436 | Treatment of ankle fracture
| 28445 | Treat ankle fracture
| 28456 | Treat midfoot fracture
| 28465 | Treat midfoot fracture, each
| 28476 | Treat metatarsal fracture
| 28485 | Treat metatarsal fracture
| 28496 | Treat big toe fracture
| 28505 | Treat big toe fracture
| 28525 | Treat toe fracture
| 28531 | Treat sesamoid bone fracture
| 28546 | Treat foot dislocation
| 28555 | Repair foot dislocation
| 28576 | Treat foot dislocation
| 28585 | Repair foot dislocation
| 28606 | Treat foot dislocation
| 28615 | Repair foot dislocation
| 28636 | Treat toe dislocation
| 28645 | Repair toe dislocation
| 28666 | Treat toe dislocation
| 28675 | Repair of toe dislocation
0047 | Arthroplasty without Prosthesis |  | T | 22.09 | $1,071.08 | $537.03 | $214.22
| 24360 | Reconstruct elbow joint
| 24365 | Reconstruct head of radius
| 25332 | Revise wrist joint
| 25447 | Repair wrist joint(s)
| 25449 | Remove wrist joint implant
| 26530 | Revise knuckle joint
| 26535 | Revise finger joint
| 27266 | Treat hip dislocation
| 27437 | Revise kneecap
| 27440 | Revision of knee joint
| 27441 | Revision of knee joint
| 27442 | Revision of knee joint
| 27443 | Revision of knee joint
| 27700 | Revision of ankle joint
0048 | Arthroplasty with Prosthesis |  | T | 29.06 | $1,409.03 | $725.94 | $281.81
| 24361 | Reconstruct elbow joint
| 24362 | Reconstruct elbow joint
| 24363 | Replace elbow joint
| 24366 | Reconstruct head of radius
| 25441 | Reconstruct wrist joint
| 25442 | Reconstruct wrist joint
| 25443 | Reconstruct wrist joint
| 25444 | Reconstruct wrist joint
| 25445 | Reconstruct wrist joint
| 25446 | Wrist replacement
| 26531 | Revise knuckle with implant
| 26536 | Revise/implant finger joint
| 27438 | Revise kneecap with implant
0049 | Level I Musculoskeletal Procedures Except Hand and Foot |  | T | 15.04 | $729.25 | $356.95 | $145.85
| 20005 | Incision of deep abscess
| 20250 | Open bone biopsy
| 20251 | Open bone biopsy
| 20650 | Insert and remove bone pin
| 20693 | Adjust bone fixation device
| 20694 | Remove bone fixation device
| 20975 | Electrical bone stimulation
| 20979 | Us bone stimulation
| 23100 | Biopsy of shoulder joint
| 23140 | Removal of bone lesion
| 23935 | Drain arm/elbow bone lesion
| 24100 | Biopsy elbow joint lining
| 24105 | Removal of elbow bursa
| 24110 | Remove humerus lesion
| 24120 | Remove elbow lesion
| 24310 | Revision of arm tendon
| 24925 | Amputation follow-up surgery
| 25000 | Incision of tendon sheath
| 25020 | Decompression of forearm
| 25028 | Drainage of forearm lesion
| 25031 | Drainage of forearm bursa
| 25035 | Treat forearm bone lesion
| 25085 | Incision of wrist capsule
| 25100 | Biopsy of wrist joint
| 25110 | Remove wrist tendon lesion
| 25115 | Remove wrist/forearm lesion
| 25116 | Remove wrist/forearm lesion
| 25248 | Remove forearm foreign body
| 25295 | Release wrist/forearm tendon
| 25907 | Amputation follow-up surgery
| 25922 | Amputate hand at wrist
| 26990 | Drainage of pelvis lesion
| 26991 | Drainage of pelvis bursa
| 27000 | Incision of hip tendon
| 27050 | Biopsy of sacroiliac joint
| 27052 | Biopsy of hip joint
| 27060 | Removal of ischial bursa
| 27062 | Remove femur lesion/bursa
| 27065 | Removal of hip bone lesion
| 27087 | Remove hip foreign body
| 27305 | Incise thigh tendon & fascia
| 27306 | Incision of thigh tendon
| 27307 | Incision of thigh tendons
| 27340 | Removal of kneecap bursa
| 27345 | Removal of knee cyst
| 27347 | Remove knee cyst
| 27380 | Repair of kneecap tendon
| 27381 | Repair/graft kneecap tendon
| 27385 | Repair of thigh muscle
| 27386 | Repair/graft of thigh muscle
| 27390 | Incision of thigh tendon
| 27391 | Incision of thigh tendons
| 27392 | Incision of thigh tendons
| 27496 | Decompression of thigh/knee
| 27497 | Decompression of thigh/knee
| 27498 | Decompression of thigh/knee
| 27499 | Decompression of thigh/knee
| 27594 | Amputation follow-up surgery
| 27600 | Decompression of lower leg
| 27601 | Decompression of lower leg
| 27602 | Decompression of lower leg
| 27604 | Drain lower leg bursa
| 27606 | Incision of achilles tendon
| 27607 | Treat lower leg bone lesion
| 27630 | Removal of tendon lesion
| 27656 | Repair leg fascia defect
| 27658 | Repair of leg tendon, each
| 27659 | Repair of leg tendon, each
| 27664 | Repair of leg tendon, each
| 27675 | Repair lower leg tendons
| 27704 | Removal of ankle implant
| 27707 | Incision of fibula
| 27884 | Amputation follow-up surgery
| 27892 | Decompression of leg
| 27893 | Decompression of leg
| 27894 | Decompression of leg
| 28002 | Treatment of foot infection
| 28003 | Treatment of foot infection
0050 | Level II Musculoskeletal Procedures Except Hand and Foot |  | T | 21.13 | $1,024.53 | $513.86 | $204.91
| 20690 | Apply bone fixation device
| 20692 | Apply bone fixation device
| 20900 | Removal of bone for graft
| 20902 | Removal of bone for graft
| 20924 | Removal of tendon for graft
| 21502 | Drain chest lesion
| 21600 | Partial removal of rib
| 21610 | Partial removal of rib
| 23040 | Exploratory shoulder surgery
| 23044 | Exploratory shoulder surgery
| 23101 | Shoulder joint surgery
| 23105 | Remove shoulder joint lining
| 23106 | Incision of collarbone joint
| 23107 | Explore treat shoulder joint
| 23145 | Removal of bone lesion
| 23146 | Removal of bone lesion
| 23150 | Removal of humerus lesion
| 23155 | Removal of humerus lesion
| 23156 | Removal of humerus lesion
| 23170 | Remove collar bone lesion
| 23172 | Remove shoulder blade lesion
| 23174 | Remove humerus lesion
| 23180 | Remove collar bone lesion
| 23182 | Remove shoulder blade lesion
| 23184 | Remove humerus lesion
| 23190 | Partial removal of scapula
| 23405 | Incision of tendon & muscle
| 23406 | Incise tendon(s) & muscle(s)
| 24000 | Exploratory elbow surgery
| 24006 | Release elbow joint
| 24101 | Explore/treat elbow joint
| 24102 | Remove elbow joint lining
| 24115 | Remove/graft bone lesion
| 24116 | Remove/graft bone lesion
| 24125 | Remove/graft bone lesion
| 24126 | Remove/graft bone lesion
| 24130 | Removal of head of radius
| 24134 | Removal of arm bone lesion
| 24136 | Remove radius bone lesion
| 24138 | Remove elbow bone lesion
| 24140 | Partial removal of arm bone
| 24145 | Partial removal of radius
| 24147 | Partial removal of elbow
| 24160 | Remove elbow joint implant
| 24164 | Remove radius head implant
| 24301 | Muscle/tendon transfer
| 24305 | Arm tendon lengthening
| 24350 | Repair of tennis elbow
| 24351 | Repair of tennis elbow
| 24352 | Repair of tennis elbow
| 24354 | Repair of tennis elbow
| 24356 | Revision of tennis elbow
| 24400 | Revision of humerus
| 24410 | Revision of humerus
| 24495 | Decompression of forearm
| 25023 | Decompression of forearm
| 25040 | Explore/treat wrist joint
| 25101 | Explore/treat wrist joint
| 25105 | Remove wrist joint lining
| 25107 | Remove wrist joint cartilage
| 25118 | Excise wrist tendon sheath
| 25119 | Partial removal of ulna
| 25120 | Removal of forearm lesion
| 25125 | Remove/graft forearm lesion
| 25126 | Remove/graft forearm lesion
| 25130 | Removal of wrist lesion
| 25135 | Remove & graft wrist lesion
| 25136 | Remove & graft wrist lesion
| 25145 | Remove forearm bone lesion
| 25150 | Partial removal of ulna
| 25151 | Partial removal of radius
| 25230 | Partial removal of radius
| 25240 | Partial removal of ulna
| 25250 | Removal of wrist prosthesis
| 25251 | Removal of wrist prosthesis
| 25260 | Repair forearm tendon/muscle
| 25263 | Repair forearm tendon/muscle
| 25265 | Repair forearm tendon/muscle
| 25270 | Repair forearm tendon/muscle
| 25272 | Repair forearm tendon/muscle
| 25274 | Repair forearm tendon/muscle
| 25280 | Revise wrist/forearm tendon
| 25290 | Incise wrist/forearm tendon
| 25300 | Fusion of tendons at wrist
| 25301 | Fusion of tendons at wrist
| 25360 | Revision of ulna
| 25365 | Revise radius & ulna
| 25400 | Repair radius or ulna
| 25415 | Repair radius & ulna
| 27001 | Incision of hip tendon
| 27003 | Incision of hip tendon
| 27066 | Removal of hip bone lesion
| 27067 | Remove/graft hip bone lesion
| 27080 | Removal of tail bone
| 27097 | Revision of hip tendon
| 27098 | Transfer tendon to pelvis
| 27310 | Exploration of knee joint
| 27330 | Biopsy, knee joint lining
| 27331 | Explore/treat knee joint
| 27332 | Removal of knee cartilage
| 27333 | Removal of knee cartilage
| 27334 | Remove knee joint lining
| 27335 | Remove knee joint lining
| 27350 | Removal of kneecap
| 27355 | Remove femur lesion
| 27356 | Remove femur lesion/graft
| 27357 | Remove femur lesion/graft
| 27358 | Remove femur lesion/fixation
| 27360 | Partial removal, leg bone(s)
| 27393 | Lengthening of thigh tendon
| 27394 | Lengthening of thigh tendons
| 27396 | Transplant of thigh tendon
| 27403 | Repair of knee cartilage
| 27425 | Lateral retinacular release
| 27610 | Explore/treat ankle joint
| 27612 | Exploration of ankle joint
| 27620 | Explore/treat ankle joint
| 27625 | Remove ankle joint lining
| 27626 | Remove ankle joint lining
| 27635 | Remove lower leg bone lesion
| 27637 | Remove/graft leg bone lesion
| 27638 | Remove/graft leg bone lesion
| 27641 | Partial removal of fibula
| 27665 | Repair of leg tendon, each
| 27676 | Repair lower leg tendons
| 27680 | Release of lower leg tendon
| 27681 | Release of lower leg tendons
| 27685 | Revision of lower leg tendon
| 27686 | Revise lower leg tendons
| 27687 | Revision of calf tendon
| 27695 | Repair of ankle ligament
| 27696 | Repair of ankle ligaments
| 27698 | Repair of ankle ligament
| 27709 | Incision of tibia & fibula
| 27730 | Repair of tibia epiphysis
| 27732 | Repair of fibula epiphysis
| 27734 | Repair lower leg epiphyses
| 27740 | Repair of leg epiphyses
| 27889 | Amputation of foot at ankle
0051 | Level III Musculoskeletal Procedures Except Hand and Foot |  | T | 27.76 | $1,346.00 | $675.24 | $269.20
| 20150 | Excise epiphyseal bar
| 23020 | Release shoulder joint
| 23120 | Partial removal, collar bone
| 23130 | Remove shoulder bone, part
| 23415 | Release of shoulder ligament
| 23480 | Revision of collar bone
| 23485 | Revision of collar bone
| 23490 | Reinforce clavicle
| 23491 | Reinforce shoulder bones
| 23800 | Fusion of shoulder joint
| 23802 | Fusion of shoulder joint
| 24155 | Removal of elbow joint
| 24320 | Repair of arm tendon
| 24330 | Revision of arm muscles
| 24331 | Revision of arm muscles
| 24340 | Repair of biceps tendon
| 24341 | Repair arm tendon/muscle
| 24342 | Repair of ruptured tendon
| 24420 | Revision of humerus
| 24430 | Repair of humerus
| 24435 | Repair humerus with graft
| 24470 | Revision of elbow joint
| 24498 | Reinforce humerus
| 24800 | Fusion of elbow joint
| 24802 | Fusion/graft of elbow joint
| 25310 | Transplant forearm tendon
| 25312 | Transplant forearm tendon
| 25315 | Revise palsy hand tendon(s)
| 25316 | Revise palsy hand tendon(s)
| 25320 | Repair/revise wrist joint
| 25335 | Realignment of hand
| 25337 | Reconstruct ulna/radioulnar
| 25350 | Revision of radius
| 25355 | Revision of radius
| 25370 | Revise radius or ulna
| 25375 | Revise radius & ulna
| 25425 | Repair/graft radius or ulna
| 25426 | Repair/graft radius & ulna
| 25440 | Repair/graft wrist bone
| 25450 | Revision of wrist joint
| 25455 | Revision of wrist joint
| 25490 | Reinforce radius
| 25491 | Reinforce ulna
| 25492 | Reinforce radius and ulna
| 25800 | Fusion of wrist joint
| 25805 | Fusion/graft of wrist joint
| 25810 | Fusion/graft of wrist joint
| 25830 | Fusion, radioulnar jnt/ulna
| 27033 | Exploration of hip joint
| 27100 | Transfer of abdominal muscle
| 27105 | Transfer of spinal muscle
| 27110 | Transfer of iliopsoas muscle
| 27111 | Transfer of iliopsoas muscle
| 27395 | Lengthening of thigh tendons
| 27397 | Transplants of thigh tendons
| 27400 | Revise thigh muscles/tendons
| 27405 | Repair of knee ligament
| 27407 | Repair of knee ligament
| 27409 | Repair of knee ligaments
| 27418 | Repair degenerated kneecap
| 27420 | Revision of unstable kneecap
| 27422 | Revision of unstable kneecap
| 27424 | Revision/removal of kneecap
| 27430 | Revision of thigh muscles
| 27435 | Incision of knee joint
| 27640 | Partial removal of tibia
| 27647 | Extensive ankle/heel surgery
| 27650 | Repair achilles tendon
| 27652 | Repair/graft achilles tendon
| 27654 | Repair of achilles tendon
| 27690 | Revise lower leg tendon
| 27691 | Revise lower leg tendon
| 27692 | Revise additional leg tendon
| 27705 | Incision of tibia
| 27742 | Repair of leg epiphyses
| 27745 | Reinforce tibia
| 27870 | Fusion of ankle joint
| 27871 | Fusion of tibiofibular joint
0052 | Level IV Musculoskeletal Procedures Except Hand and Foot |  | T | 36.16 | $1,753.29 | $930.91 | $350.66
| 23410 | Repair of tendon(s)
| 23412 | Repair of tendon(s)
| 23420 | Repair of shoulder
| 23430 | Repair biceps tendon
| 23450 | Repair shoulder capsule
| 23455 | Repair shoulder capsule
| 23460 | Repair shoulder capsule
| 23462 | Repair shoulder capsule
| 23465 | Repair shoulder capsule
| 23466 | Repair shoulder capsule
| 24935 | Revision of amputation
| 27427 | Reconstruction, knee
| 27428 | Reconstruction, knee
| 27429 | Reconstruction, knee
0053 | Level I Hand Musculoskeletal Procedures |  | T | 11.32 | $548.87 | $253.49 | $109.77
| 25111 | Remove wrist tendon lesion
| 25112 | Reremove wrist tendon lesion
| 25820 | Fusion of hand bones
| 26020 | Drain hand tendon sheath
| 26025 | Drainage of palm bursa
| 26030 | Drainage of palm bursa(s)
| 26034 | Treat hand bone lesion
| 26035 | Decompress fingers/hand
| 26037 | Decompress fingers/hand
| 26055 | Incise finger tendon sheath
| 26060 | Incision of finger tendon
| 26070 | Explore/treat hand joint
| 26075 | Explore/treat finger joint
| 26080 | Explore/treat finger joint
| 26100 | Biopsy hand joint lining
| 26105 | Biopsy finger joint lining
| 26110 | Biopsy finger joint lining
| 26130 | Remove wrist joint lining
| 26140 | Revise finger joint, each
| 26145 | Tendon excision, palm/finger
| 26160 | Remove tendon sheath lesion
| 26170 | Removal of palm tendon, each
| 26180 | Removal of finger tendon
| 26185 | Remove finger bone
| 26200 | Remove hand bone lesion
| 26210 | Removal of finger lesion
| 26215 | Remove/graft finger lesion
| 26230 | Partial removal of hand bone
| 26235 | Partial removal, finger bone
| 26236 | Partial removal, finger bone
| 26250 | Extensive hand surgery
| 26260 | Extensive finger surgery
| 26261 | Extensive finger surgery
| 26262 | Partial removal of finger
| 26410 | Repair hand tendon
| 26418 | Repair finger tendon
| 26432 | Repair finger tendon
| 26433 | Repair finger tendon
| 26437 | Realignment of tendons
| 26440 | Release palm/finger tendon
| 26445 | Release hand/finger tendon
| 26450 | Incision of palm tendon
| 26455 | Incision of finger tendon
| 26460 | Incise hand/finger tendon
| 26471 | Fusion of finger tendons
| 26474 | Fusion of finger tendons
| 26476 | Tendon lengthening
| 26477 | Tendon shortening
| 26478 | Lengthening of hand tendon
| 26479 | Shortening of hand tendon
| 26500 | Hand tendon reconstruction
| 26508 | Release thumb contracture
| 26520 | Release knuckle contracture
| 26525 | Release finger contracture
| 26540 | Repair hand joint
| 26542 | Repair hand joint with graft
| 26560 | Repair of web finger
| 26587 | Reconstruct extra finger
| 26593 | Release muscles of hand
| 26951 | Amputation of finger/thumb
| 26952 | Amputation of finger/thumb
0054 | Level II Hand Musculoskeletal Procedures |  | T | 19.66 | $953.26 | $472.33 | $190.65
| 25210 | Removal of wrist bone
| 25215 | Removal of wrist bones
| 25825 | Fuse hand bones with graft
| 26040 | Release palm contracture
| 26045 | Release palm contracture
| 26121 | Release palm contracture
| 26123 | Release palm contracture
| 26125 | Release palm contracture
| 26135 | Revise finger joint, each
| 26205 | Remove/graft bone lesion
| 26255 | Extensive hand surgery
| 26350 | Repair finger/hand tendon
| 26352 | Repair/graft hand tendon
| 26356 | Repair finger/hand tendon
| 26357 | Repair finger/hand tendon
| 26358 | Repair/graft hand tendon
| 26370 | Repair finger/hand tendon
| 26372 | Repair/graft hand tendon
| 26373 | Repair finger/hand tendon
| 26390 | Revise hand/finger tendon
| 26392 | Repair/graft hand tendon
| 26412 | Repair/graft hand tendon
| 26415 | Excision, hand/finger tendon
| 26416 | Graft hand or finger tendon
| 26420 | Repair/graft finger tendon
| 26426 | Repair finger/hand tendon
| 26428 | Repair/graft finger tendon
| 26434 | Repair/graft finger tendon
| 26442 | Release palm & finger tendon
| 26449 | Release forearm/hand tendon
| 26480 | Transplant hand tendon
| 26483 | Transplant/graft hand tendon
| 26485 | Transplant palm tendon
| 26489 | Transplant/graft palm tendon
| 26490 | Revise thumb tendon
| 26492 | Tendon transfer with graft
| 26494 | Hand tendon/muscle transfer
| 26496 | Revise thumb tendon
| 26497 | Finger tendon transfer
| 26498 | Finger tendon transfer
| 26499 | Revision of finger
| 26502 | Hand tendon reconstruction
| 26504 | Hand tendon reconstruction
| 26510 | Thumb tendon transfer
| 26516 | Fusion of knuckle joint
| 26517 | Fusion of knuckle joints
| 26518 | Fusion of knuckle joints
| 26541 | Repair hand joint with graft
| 26545 | Reconstruct finger joint
| 26546 | Repair nonunion hand
| 26548 | Reconstruct finger joint
| 26550 | Construct thumb replacement
| 26555 | Positional change of finger
| 26561 | Repair of web finger
| 26562 | Repair of web finger
| 26565 | Correct metacarpal flaw
| 26567 | Correct finger deformity
| 26568 | Lengthen metacarpal/finger
| 26580 | Repair hand deformity
| 26585 | Repair finger deformity
| 26590 | Repair finger deformity
| 26591 | Repair muscles of hand
| 26596 | Excision constricting tissue
| 26597 | Release of scar contracture
| 26820 | Thumb fusion with graft
| 26841 | Fusion of thumb
| 26842 | Thumb fusion with graft
| 26843 | Fusion of hand joint
| 26844 | Fusion/graft of hand joint
| 26850 | Fusion of knuckle
| 26852 | Fusion of knuckle with graft
| 26860 | Fusion of finger joint
| 26861 | Fusion of finger jnt, add-on
| 26862 | Fusion/graft of finger joint
| 26863 | Fuse/graft added joint
| 26910 | Amputate metacarpal bone
0055 | Level I Foot Musculoskeletal Procedures |  | T | 15.47 | $750.10 | $355.34 | $150.02
| 27605 | Incision of achilles tendon
| 28005 | Treat foot bone lesion
| 28008 | Incision of foot fascia
| 28010 | Incision of toe tendon
| 28011 | Incision of toe tendons
| 28020 | Exploration of foot joint
| 28022 | Exploration of foot joint
| 28024 | Exploration of toe joint
| 28045 | Excision of foot lesion
| 28046 | Resection of tumor, foot
| 28050 | Biopsy of foot joint lining
| 28052 | Biopsy of foot joint lining
| 28054 | Biopsy of toe joint lining
| 28080 | Removal of foot lesion
| 28086 | Excise foot tendon sheath
| 28088 | Excise foot tendon sheath
| 28090 | Removal of foot lesion
| 28092 | Removal of toe lesions
| 28100 | Removal of ankle/heel lesion
| 28104 | Removal of foot lesion
| 28108 | Removal of toe lesions
| 28111 | Part removal of metatarsal
| 28112 | Part removal of metatarsal
| 28113 | Part removal of metatarsal
| 28114 | Removal of metatarsal heads
| 28116 | Revision of foot
| 28118 | Removal of heel bone
| 28119 | Removal of heel spur
| 28120 | Part removal of ankle/heel
| 28122 | Partial removal of foot bone
| 28124 | Partial removal of toe
| 28126 | Partial removal of toe
| 28130 | Removal of ankle bone
| 28140 | Removal of metatarsal
| 28150 | Removal of toe
| 28153 | Partial removal of toe
| 28160 | Partial removal of toe
| 28171 | Extensive foot surgery
| 28173 | Extensive foot surgery
| 28175 | Extensive foot surgery
| 28200 | Repair of foot tendon
| 28208 | Repair of foot tendon
| 28210 | Repair/graft of foot tendon
| 28220 | Release of foot tendon
| 28222 | Release of foot tendons
| 28225 | Release of foot tendon
| 28226 | Release of foot tendons
| 28230 | Incision of foot tendon(s)
| 28232 | Incision of toe tendon
| 28234 | Incision of foot tendon
| 28240 | Release of big toe
| 28270 | Release of foot contracture
| 28272 | Release of toe joint, each
| 28280 | Fusion of toes
| 28285 | Repair of hammertoe
| 28286 | Repair of hammertoe
| 28310 | Revision of big toe
| 28312 | Revision of toe
| 28313 | Repair deformity of toe
| 28315 | Removal of sesamoid bone
| 28340 | Resect enlarged toe tissue
| 28341 | Resect enlarged toe
| 28737 | Revision of foot bones
| 28750 | Fusion of big toe joint
| 28755 | Fusion of big toe joint
| 28810 | Amputation toe & metatarsal
| 28820 | Amputation of toe
| 28825 | Partial amputation of toe
| 29893 | Scope, plantar fasciotomy
0056 | Level II Foot Musculoskeletal Procedures |  | T | 17.30 | $838.83 | $405.81 | $167.77
| 28060 | Partial removal, foot fascia
| 28062 | Removal of foot fascia
| 28070 | Removal of foot joint lining
| 28072 | Removal of foot joint lining
| 28102 | Remove/graft foot lesion
| 28103 | Remove/graft foot lesion
| 28106 | Remove/graft foot lesion
| 28107 | Remove/graft foot lesion
| 28202 | Repair/graft of foot tendon
| 28238 | Revision of foot tendon
| 28250 | Revision of foot fascia
| 28260 | Release of midfoot joint
| 28261 | Revision of foot tendon
| 28262 | Revision of foot and ankle
| 28264 | Release of midfoot joint
| 28288 | Partial removal of foot bone
| 28289 | Repair hallux rigidus
| 28300 | Incision of heel bone
| 28302 | Incision of ankle bone
| 28304 | Incision of midfoot bones
| 28305 | Incise/graft midfoot bones
| 28306 | Incision of metatarsal
| 28307 | Incision of metatarsal
| 28308 | Incision of metatarsal
| 28309 | Incision of metatarsals
| 28320 | Repair of foot bones
| 28322 | Repair of metatarsals
| 28344 | Repair extra toe(s)
| 28345 | Repair webbed toe(s)
| 28360 | Reconstruct cleft foot
| 28705 | Fusion of foot bones
| 28715 | Fusion of foot bones
| 28725 | Fusion of foot bones
| 28730 | Fusion of foot bones
| 28735 | Fusion of foot bones
| 28740 | Fusion of foot bones
| 28760 | Fusion of big toe joint
0057 | Bunion Procedures |  | T | 21.00 | $1,018.23 | $496.65 | $203.65
| 28110 | Part removal of metatarsal
| 28290 | Correction of bunion
| 28292 | Correction of bunion
| 28293 | Correction of bunion
| 28294 | Correction of bunion
| 28296 | Correction of bunion
| 28297 | Correction of bunion
| 28298 | Correction of bunion
| 28299 | Correction of bunion
0058 | Level I Strapping and Cast Application |  | S | 1.09 | $52.85 | $19.27 | $10.57
| 29505 | Application, long leg splint
| 29515 | Application lower leg splint
| 29520 | Strapping of hip
| 29530 | Strapping of knee
| 29540 | Strapping of ankle
| 29550 | Strapping of toes
| 29580 | Application of paste boot
| 29590 | Application of foot splint
| 29700 | Removal/revision of cast
| 29705 | Removal/revision of cast
| 29710 | Removal/revision of cast
| 29715 | Removal/revision of cast
| 29720 | Repair of body cast
| 29730 | Windowing of cast
| 29740 | Wedging of cast
| 29750 | Wedging of clubfoot cast
| 29799 | Casting/strapping procedure
0059 | Level II Strapping and Cast Application |  | S | 1.74 | $84.37 | $29.59 | $16.87
| 29000 | Application of body cast
| 29010 | Application of body cast
| 29015 | Application of body cast
| 29020 | Application of body cast
| 29025 | Application of body cast
| 29035 | Application of body cast
| 29040 | Application of body cast
| 29044 | Application of body cast
| 29046 | Application of body cast
| 29049 | Application of figure eight
| 29055 | Application of shoulder cast
| 29058 | Application of shoulder cast
| 29065 | Application of long arm cast
| 29075 | Application of forearm cast
| 29085 | Apply hand/wrist cast
| 29105 | Apply long arm splint
| 29125 | Apply forearm splint
| 29126 | Apply forearm splint
| 29130 | Application of finger splint
| 29131 | Application of finger splint
| 29200 | Strapping of chest
| 29220 | Strapping of low back
| 29240 | Strapping of shoulder
| 29260 | Strapping of elbow or wrist
| 29280 | Strapping of hand or finger
| 29305 | Application of hip cast
| 29325 | Application of hip casts
| 29345 | Application of long leg cast
| 29355 | Application of long leg cast
| 29358 | Apply long leg cast brace
| 29365 | Application of long leg cast
| 29405 | Apply short leg cast
| 29425 | Apply short leg cast
| 29435 | Apply short leg cast
| 29440 | Addition of walker to cast
| 29445 | Apply rigid leg cast
| 29450 | Application of leg cast
0060 | Manipulation Therapy |  | S | 0.77 | $37.34 | $7.80 | $7.47
| 98925 | Osteopathic manipulation
| 98926 | Osteopathic manipulation
| 98927 | Osteopathic manipulation
| 98928 | Osteopathic manipulation
| 98929 | Osteopathic manipulation
| 98940 | Chiropractic manipulation
| 98941 | Chiropractic manipulation
| 98942 | Chiropractic manipulation
0070 | Thoracentesis/Lavage Procedures |  | T | 3.64 | $176.49 | $79.60 | $35.30
| 32000 | Drainage of chest
| 32002 | Treatment of collapsed lung
| 32005 | Treat lung lining chemically
| 32020 | Insertion of chest tube
| 32420 | Puncture/clear lung
| 32960 | Therapeutic pneumothorax
| 32999 | Chest surgery procedure
| 33010 | Drainage of heart sac
| 33011 | Repeat drainage of heart sac
| 33999 | Cardiac surgery procedure
| 49080 | Puncture, peritoneal cavity
| 49081 | Removal of abdominal fluid
0071 | Level I Endoscopy Upper Airway |  | T | 0.55 | $26.67 | $14.22 | $5.33
| 31231 | Nasal endoscopy, dx
| 31575 | Diagnostic laryngoscopy
| 92511 | Nasopharyngoscopy
0072 | Level II Endoscopy Upper Airway |  | T | 1.26 | $61.09 | $41.52 | $12.22
| 31233 | Nasal/sinus endoscopy, dx
| 31505 | Diagnostic laryngoscopy
| 31511 | Remove foreign body, larynx
| 31520 | Diagnostic laryngoscopy
| 31700 | Insertion of airway catheter
| 31720 | Clearance of airways
0073 | Level III Endoscopy Upper Airway |  | T | 4.11 | $199.28 | $91.07 | $39.86
| 31513 | Injection into vocal cord
| 31577 | Remove foreign body, larynx
| 31579 | Diagnostic laryngoscopy
| 31717 | Bronchial brush biopsy
| 31730 | Intro, windpipe wire/tube
0074 | Level IV Endoscopy Upper Airway |  | T | 13.61 | $659.91 | $347.54 | $131.98
| 31235 | Nasal/sinus endoscopy, dx
| 31237 | Nasal/sinus endoscopy, surg
| 31238 | Nasal/sinus endoscopy, surg
| 31240 | Nasal/sinus endoscopy, surg
| 31510 | Laryngoscopy with biopsy
| 31512 | Removal of larynx lesion
| 31515 | Laryngoscopy for aspiration
| 31525 | Diagnostic laryngoscopy
| 31526 | Diagnostic laryngoscopy
| 31528 | Laryngoscopy and dilatation
| 31529 | Laryngoscopy and dilatation
| 31576 | Laryngoscopy with biopsy
| 31578 | Removal of larynx lesion
0075 | Level V Endoscopy Upper Airway |  | T | 18.55 | $899.44 | $467.29 | $179.89
| 31239 | Nasal/sinus endoscopy, surg
| 31254 | Revision of ethmoid sinus
| 31255 | Removal of ethmoid sinus
| 31256 | Exploration maxillary sinus
| 31267 | Endoscopy, maxillary sinus
| 31276 | Sinus endoscopy, surgical
| 31287 | Nasal/sinus endoscopy, surg
| 31288 | Nasal/sinus endoscopy, surg
| 31527 | Laryngoscopy for treatment
| 31530 | Operative laryngoscopy
| 31531 | Operative laryngoscopy
| 31535 | Operative laryngoscopy
| 31536 | Operative laryngoscopy
| 31540 | Operative laryngoscopy
| 31541 | Operative laryngoscopy
| 31560 | Operative laryngoscopy
| 31561 | Operative laryngoscopy
| 31570 | Laryngoscopy with injection
| 31571 | Laryngoscopy with injection
| 96570 | Photodynamic tx, 30 min
| 96571 | Photodynamic tx, addl 15 min
0076 | Endoscopy Lower Airway |  | T | 8.06 | $390.81 | $197.05 | $78.16
| 31615 | Visualization of windpipe
| 31622 | Dx bronchoscope/wash
| 31623 | Dx bronchoscope/brush
| 31624 | Dx bronchoscope/lavage
| 31625 | Bronchoscopy with biopsy
| 31628 | Bronchoscopy with biopsy
| 31629 | Bronchoscopy with biopsy
| 31630 | Bronchoscopy with repair
| 31631 | Bronchoscopy with dilation
| 31635 | Remove foreign body, airway
| 31640 | Bronchoscopy & remove lesion
| 31641 | Bronchoscopy, treat blockage
| 31643 | Diag bronchoscope/catheter
| 31645 | Bronchoscopy, clear airways
| 31646 | Bronchoscopy, reclear airway
| 31656 | Bronchoscopy, inj for x-ray
| 31899 | Airways surgical procedure
| 32601 | Thoracoscopy, diagnostic
| 32602 | Thoracoscopy, diagnostic
| 32603 | Thoracoscopy, diagnostic
| 32604 | Thoracoscopy, diagnostic
| 32605 | Thoracoscopy, diagnostic
| 32606 | Thoracoscopy, diagnostic
| 39400 | Visualization of chest
0077 | Level I Pulmonary Treatment |  | S | 0.43 | $20.85 | $12.62 | $4.17
| 94640 | Airway inhalation treatment
| 94650 | Pressure breathing (IPPB)
| 94651 | Pressure breathing (IPPB)
| 94664 | Aerosol or vapor inhalations
| 94665 | Aerosol or vapor inhalations
| 94667 | Chest wall manipulation
| 94668 | Chest wall manipulation
0078 | Level II Pulmonary Treatment |  | S | 1.34 | $64.97 | $29.13 | $12.99
| 94642 | Aerosol inhalation treatment
0079 | Ventilation Initiation and Management |  | S | 3.18 | $154.19 | $107.70 | $30.84
| 94656 | Initial ventilator mgmt
| 94657 | Continued ventilator mgmt
| 94660 | Pos airway pressure, CPAP
| 94662 | Neg press ventilation, cnp
0080 | Diagnostic Cardiac Catheterization |  | T | 25.77 | $1,249.51 | $713.89 | $249.90
| 93501 | Right heart catheterization
| 93503 | Insert/place heart catheter
| 93505 | Biopsy of heart lining
| 93510 | Left heart catheterization
| 93511 | Left heart catheterization
| 93514 | Left heart catheterization
| 93524 | Left heart catheterization
| 93526 | Rt & Lt heart catheters
| 93527 | Rt & Lt heart catheters
| 93528 | Rt & Lt heart catheters
| 93529 | Rt, Lt heart catheterization
| 93530 | Rt heart cath, congenital
| 93531 | R & l heart cath, congenital
| 93532 | R & l heart cath, congenital
| 93533 | R & l heart cath, congenital
| 93536 | Insert circulation assi
0081 | Non-Coronary Angioplasty or Atherectomy |  | T | 19.36 | $938.71 | $434.25 | $187.74
| 35180 | Repair blood vessel lesion
| 35184 | Repair blood vessel lesion
| 35190 | Repair blood vessel lesion
| 35201 | Repair blood vessel lesion
| 35206 | Repair blood vessel lesion
| 35226 | Repair blood vessel lesion
| 35231 | Repair blood vessel lesion
| 35236 | Repair blood vessel lesion
| 35256 | Repair blood vessel lesion
| 35261 | Repair blood vessel lesion
| 35266 | Repair blood vessel lesion
| 35286 | Repair blood vessel lesion
| 35321 | Rechanneling of artery
| 35459 | Repair arterial blockage
| 35460 | Repair venous blockage
| 35470 | Repair arterial blockage
| 35471 | Repair arterial blockage
| 35472 | Repair arterial blockage
| 35473 | Repair arterial blockage
| 35474 | Repair arterial blockage
| 35475 | Repair arterial blockage
| 35476 | Repair venous blockage
| 35484 | Atherectomy, open
| 35485 | Atherectomy, open
| 35490 | Atherectomy, percutaneous
| 35491 | Atherectomy, percutaneous
| 35492 | Atherectomy, percutaneous
| 35493 | Atherectomy, percutaneous
| 35494 | Atherectomy, percutaneous
| 35495 | Atherectomy, percutaneous
| 35500 | Harvest vein for bypass
| 37204 | Transcatheter occlusion
| 37205 | Transcatheter stent
| 37206 | Transcatheter stent add-on
| 37207 | Transcatheter stent
| 37208 | Transcatheter stent add-on
| 37209 | Exchange arterial catheter
| 37250 | Iv us first vessel add-on
| 37251 | Iv us each add vessel add-on
| 37565 | Ligation of neck vein
| 37600 | Ligation of neck artery
0082 | Coronary Atherectomy |  | T | 40.34 | $1,955.97 | $859.56 | $391.19
| 92995 | Coronary atherectomy
| 92996 | Coronary atherectomy add-on
0083 | Coronary Angiosplasty |  | T | 45.79 | $2,220.22 | $1,322.95 | $444.04
| 92980 | Insert intracoronary stent
| 92981 | Insert intracoronary stent
| 92982 | Coronary artery dilation
| 92984 | Coronary artery dilation
0084 | Level I Electrophysiologic Evaluation |  | S | 10.70 | $518.81 | $177.79 | $103.76
| 93640 | Evaluation heart device
| 93641 | Electrophysiology evaluation
| 93642 | Electrophysiology evaluation
0085 | Level II Electrophysiologic Evaluation |  | S | 27.06 | $1,312.06 | $654.48 | $262.41
| 93619 | Electrophysiology evaluation
| 93620 | Electrophysiology evaluation
| 93621 | Electrophysiology evaluation
| 93622 | Electrophysiology evaluation
0086 | Ablate Heart Dysrhythm Focus |  | S | 47.62 | $2,308.95 | $1,265.37 | $461.79
| 93650 | Ablate heart dysrhythm focus
| 93651 | Ablate heart dysrhythm focus
| 93652 | Ablate heart dysrhythm focus
0087 | Cardiac Electrophysiologic Recording/Mapping |  | S | 9.53 | $462.08 | $214.72 | $92.42
| 93600 | Bundle of His recording
| 93602 | Intra-atrial recording
| 93603 | Right ventricular recording
| 93607 | Left ventricular recording
| 93609 | Mapping of tachycardia
| 93610 | Intra-atrial pacing
| 93612 | Intraventricular pacing
| 93615 | Esophageal recording
| 93616 | Esophageal recording
| 93618 | Heart rhythm pacing
| 93623 | Stimulation, pacing heart
| 93624 | Electrophysiologic study
| 93631 | Heart pacing, mapping
0088 | Thrombectomy |  | T | 26.49 | $1,284.42 | $678.68 | $256.88
| 34101 | Removal of artery clot
| 34111 | Removal of arm artery clot
| 34201 | Removal of artery clot
| 34203 | Removal of leg artery clot
| 34471 | Removal of vein clot
| 34490 | Removal of vein clot
| 34501 | Repair valve, femoral vein
| 34510 | Transposition of vein valve
| 34520 | Cross-over vein graft
| 34530 | Leg vein fusion
| 35188 | Repair blood vessel lesion
| 35207 | Repair blood vessel lesion
| 35875 | Removal of clot in graft
| 35876 | Removal of clot in graft
| 35879 | Revise graft w/vein
| 35881 | Revise graft w/vein
| 36821 | Av fusion direct any site
| 36825 | Artery-vein graft
| 36830 | Artery-vein graft
| 36831 | Av fistula excision
| 36832 | Av fistula revision
| 36833 | Av fistula revision
| G0159 | Perc declot dialysis graft
0089 | Level I Implantation/Removal/Revision of Pacemaker, AICD or Vascular Device |  | T | 6.49 | $314.68 | $130.07 | $62.94
| 33210 | Insertion of heart electrode
| 33211 | Insertion of heart electrode
| 33220 | Revise eltrd pacing-defib
| 33241 | Remove pulse generator
| 36261 | Revision of infusion pump
| 36262 | Removal of infusion pump
| 36299 | Vessel injection procedure
| 36531 | Revision of infusion pump
| 36532 | Removal of infusion pump
| 36534 | Revision of access device
| 36535 | Removal of access device
| 37203 | Transcatheter retrieval
0090 | Level II Implantation/Removal/Revision of Pacemaker, AICD or Vascular Device |  | T | 20.96 | $1,016.29 | $573.04 | $203.26
| 33206 | Insertion of heart pacemaker
| 33207 | Insertion of heart pacemaker
| 33208 | Insertion of heart pacemaker
| 33212 | Insertion of pulse generator
| 33213 | Insertion of pulse generator
| 33214 | Upgrade of pacemaker system
| 33216 | Revise eltrd pacing-defib
| 33217 | Revise eltrd pacing-defib
| 33218 | Revise eltrd pacing-defib
| 33233 | Removal of pacemaker system
| 33234 | Removal of pacemaker system
| 33235 | Removal pacemaker electrode
| 33240 | Insert pulse generator
| 33244 | Remove eltrd, transven
| 33249 | Eltrd/insert pace-defib
| 36860 | External cannula declotting
| 36861 | Cannula declotting
0091 | Level I Vascular Ligation |  | T | 14.79 | $717.12 | $348.23 | $143.42
| 30915 | Ligation, nasal sinus artery
| 37605 | Ligation of neck artery
| 37606 | Ligation of neck artery
| 37615 | Ligation of neck artery
| 37650 | Revision of major vein
| 37700 | Revise leg vein
| 37760 | Revision of leg veins
| 37780 | Revision of leg vein
| 37785 | Revise secondary varicosity
0092 | Level II Vascular Ligation |  | T | 20.21 | $979.92 | $505.37 | $195.98
| 30920 | Ligation, upper jaw artery
| 37607 | Ligation of a-v fistula
| 37720 | Removal of leg vein
| 37730 | Removal of leg veins
| 37735 | Removal of leg veins/lesion
0093 | Vascular Repair/Fistula Construction |  | T | 17.95 | $870.34 | $422.33 | $174.07
| 36260 | Insertion of infusion pump
| 36530 | Insertion of infusion pump
| 36533 | Insertion of access device
| 36800 | Insertion of cannula
| 36810 | Insertion of cannula
| 36815 | Insertion of cannula
| 36819 | Av fusion by basilic vein
| 36835 | Artery to vein shunt
0094 | Resuscitation and Cardioversion |  | S | 4.51 | $218.68 | $105.29 | $43.74
| 31500 | Insert emergency airway
| 92950 | Heart/lung resuscitation cpr
| 92953 | Temporary external pacing
| 92960 | Cardioversion electric, ext
| 92961 | Cardioversion, electric, int
| 99440 | Newborn resuscitation
0095 | Cardiac Rehabilitation |  | S | 0.64 | $31.03 | $16.98 | $6.21
| 93797 | Cardiac rehab
| 93798 | Cardiac rehab/monitor
0096 | Non-Invasive Vascular Studies |  | S | 2.06 | $99.88 | $61.48 | $19.98
| 93721 | Plethysmography tracing
| 93740 | Temperature gradient studies
| 93799 | Cardiovascular procedure
| 93875 | Extracranial study
| 93922 | Extremity study
| 93923 | Extremity study
| 93924 | Extremity study
| 93965 | Extremity study
0097 | Cardiovascular Stress Test |  | S | 1.62 | $78.55 | $62.40 | $15.71
| 93017 | Cardiovascular stress test
| 93024 | Cardiac drug stress test
0098 | Injection of Sclerosing Solution |  | T | 1.19 | $57.70 | $20.88 | $11.54
| 36468 | Injection(s), spider veins
| 36469 | Injection(s), spider veins
| 36470 | Injection therapy of vein
| 36471 | Injection therapy of veins
| 45520 | Treatment of rectal prolapse
0099 | Continuous Cardiac Monitoring |  | S | 0.38 | $18.43 | $14.68 | $3.69
| 93012 | Transmission of ecg
| 93270 | ECG recording
| 93278 | ECG/signal-averaged
| G0005 | ECG 24 hour recording
| G0015 | Post symptom ECG tracing
0100 | Continuous ECG |  | S | 1.70 | $82.43 | $71.57 | $16.49
| 93225 | ECG monitor/record, 24 hrs
| 93226 | ECG monitor/report, 24 hrs
| 93231 | Ecg monitor/record, 24 hrs
| 93232 | ECG monitor/report, 24 hrs
| 93236 | ECG monitor/report, 24 hrs
| 93268 | ECG record/review
| 93271 | Ecg/monitoring and analysis
| 93724 | Analyze pacemaker system
| G0004 | ECG transm phys review & int
| G0006 | ECG transmission & analysis
0101 | Tilt Table Evaluation |  | S | 4.47 | $216.74 | $128.84 | $43.35
| 93660 | Tilt table evaluation
0102 | Electronic Analysis of Pacemakers/other Devices |  | S | 0.45 | $21.82 | $12.62 | $4.36
| 62367 | Analyze spine infusion pump
| 62368 | Analyze spine infusion pump
| 93727 | Analyze ilr system
| 93731 | Analyze pacemaker system
| 93732 | Analyze pacemaker system
| 93733 | Telephone analy, pacemaker
| 93734 | Analyze pacemaker system
| 93735 | Analyze pacemaker system
| 93736 | Telephone analy, pacemaker
| 93737 | Analyze cardio/defibrillator
| 93738 | Analyze cardio/defibrillator
| 93741 | Analyze ht pace device sngl
| 93742 | Analyze ht pace device sngl
| 93743 | Analyze ht pace device dual
| 93744 | Analyze ht pace device dual
| 95970 | Analyze neurostim, no prog
| 95971 | Analyze neurostim, simple
| 95972 | Analyze neurostim, complex
| 95973 | Analyze neurostim, complex
| 95974 | Cranial neurostim, complex
| 95975 | Cranial neurostim, complex
0109 | Bone Marrow Harvesting and Bone Marrow/Stem Cell Transplant |  | S | 4.13 | $200.25 | $40.05 | $40.05
| 38230 | Bone marrow collection
| 38240 | Bone marrow/stem transplant
| 38241 | Bone marrow/stem transplant
0110 | Transfusion |  | S | 5.83 | $282.68 | $122.73 | $56.54
| 36430 | Blood transfusion service
| 36440 | Blood transfusion service
| 36450 | Exchange transfusion service
| 36455 | Exchange transfusion service
| 36460 | Transfusion service, fetal
0111 | Blood Product Exchange |  | S | 14.17 | $687.06 | $300.74 | $137.41
| 36520 | Plasma and/or cell exchange
| 36521 | Apheresis w/adsorp/reinfuse
| 38231 | Stem cell collection
0112 | Extracorporeal Photopheresis |  | S | 39.60 | $1,920.09 | $663.65 | $384.02
| 36522 | Photopheresis
0113 | Excision Lymphatic System |  | T | 13.89 | $673.49 | $326.55 | $134.70
| 38308 | Incision of lymph channels
| 38500 | Biopsy/removal, lymph nodes
| 38510 | Biopsy/removal, lymph nodes
| 38520 | Biopsy/removal, lymph nodes
| 38525 | Biopsy/removal, lymph nodes
| 38530 | Biopsy/removal, lymph nodes
| 38550 | Removal, neck/armpit lesion
0114 | Thyroid/Lymphadenectomy Procedures |  | T | 19.56 | $948.41 | $493.78 | $189.68
| 38542 | Explore deep node(s), neck
| 38555 | Removal, neck/armpit lesion
| 38720 | Removal of lymph nodes, neck
| 38740 | Remove armpit lymph nodes
| 38745 | Remove armpit lymph nodes
| 38760 | Remove groin lymph nodes
| 60200 | Remove thyroid lesion
| 60210 | Partial thyroid excision
| 60220 | Partial removal of thyroid
| 60225 | Partial removal of thyroid
| 60240 | Removal of thyroid
| 60280 | Remove thyroid duct lesion
| 60281 | Remove thyroid duct lesion
0116 | Chemotherapy Administration by Other Technique Except Infusion |  | S | 2.34 | $113.46 | $22.69 | $22.69
| Q0083 | Chemo by other than infusion
0117 | Chemotherapy Administration by Infusion Only |  | S | 1.84 | $89.22 | $71.80 | $17.84
| Q0084 | Chemotherapy by infusion
0118 | Chemotherapy Administration by Both Infusion and Other Technique |  | S | 2.90 | $140.61 | $72.03 | $28.12
| Q0085 | Chemo by both infusion and o
0120 | Infusion Therapy Except Chemotherapy |  | S | 1.66 | $80.49 | $42.67 | $16.10
| 36680 | Insert needle, bone cavity
| Q0081 | Infusion ther other than che
0121 | Level I Tube changes and Repositioning |  | T | 2.36 | $114.43 | $52.53 | $22.89
| 31502 | Change of windpipe airway
| 43760 | Change gastrostomy tube
| 43761 | Reposition gastrostomy tube
| 43999 | Stomach surgery procedure
| 47530 | Revise/reinsert bile tube
| 47999 | Bile tract surgery procedure
| 49999 | Abdomen surgery procedure
| 50688 | Change of ureter tube
| 51705 | Change of bladder tube
| 51710 | Change of bladder tube
| 62194 | Replace/irrigate catheter
| 62225 | Replace/irrigate catheter
0122 | Level II Tube changes and Repositioning |  | T | 5.04 | $244.37 | $114.93 | $48.88
| 47525 | Change bile duct catheter
| 50398 | Change kidney tube
0123 | Level III Tube changes and Repositioning |  | T | 13.89 | $673.49 | $350.75 | $134.70
| 49422 | Remove perm cannula/catheter
| 49429 | Removal of shunt
0130 | Level I Laparoscopy |  | T | 25.36 | $1,229.63 | $659.53 | $245.93
| 38129 | Laparoscope proc, spleen
| 38589 | Laparoscope proc, lymphatic
| 43289 | Laparoscope proc, esoph
| 43659 | Laparoscope proc, stom
| 44209 | Laparoscope proc, intestine
| 44970 | Laparoscopy, appendectomy
| 44979 | Laparoscope proc, app
| 47560 | Laparoscopy w/cholangio
| 47561 | Laparo w/cholangio/biopsy
| 47579 | Laparoscope proc, biliary
| 49320 | Diag laparo separate proc
| 49321 | Laparoscopy, biopsy
| 49322 | Laparoscopy, aspiration
| 49323 | Laparo drain lymphocele
| 49329 | Laparo proc, abdm/per/oment
| 50549 | Laparoscope proc, renal
| 54699 | Laparoscope proc, testis
| 55559 | Laparo proc, spermatic cord
| 58679 | Laparo proc, oviduct-ovary
| 59898 | Laparo proc, ob care/deliver
| 60659 | Laparo proc, endocrine
0131 | Level II Laparoscopy |  | T | 41.81 | $2,027.24 | $1,089.88 | $405.45
| 38120 | Laparoscopy, splenectomy
| 38570 | Laparoscopy, lymph node biop
| 38572 | Laparoscopy, lymphadenectomy
| 43653 | Laparoscopy, gastrostomy
| 44200 | Laparoscopy, enterolysis
| 44201 | Laparoscopy, jejunostomy
| 47562 | Laparoscopic cholecystectomy
| 47563 | Laparo cholecystectomy/graph
| 47564 | Laparo cholecystectomy/explr
| 47570 | Laparo cholecystoenterostomy
| 49650 | Laparo hernia repair initial
| 49651 | Laparo hernia repair recur
| 49659 | Laparo proc, hernia repair
| 50541 | Laparo ablate renal cyst
| 50544 | Laparoscopy, pyeloplasty
| 50945 | Laparoscopy ureterolithotomy
| 51990 | Laparo urethral suspension
| 54690 | Laparoscopy, orchiectomy
| 55550 | Laparo ligate spermatic vein
| 58551 | Laparoscopy, remove myoma
| 58660 | Laparoscopy, lysis
| 58661 | Laparoscopy, remove adnexa
| 58662 | Laparoscopy, excise lesions
| 58670 | Laparoscopy, tubal cautery
| 58671 | Laparoscopy, tubal block
| 58672 | Laparoscopy, fimbrioplasty
| 58673 | Laparoscopy, salpingostomy
| 59150 | Treat ectopic pregnancy
| 59151 | Treat ectopic pregnancy
0132 | Level III Laparoscopy |  | T | 48.91 | $2,371.50 | $1,239.22 | $474.30
| 38571 | Laparoscopy, lymphadenectomy
| 43280 | Laparoscopy, fundoplasty
| 43651 | Laparoscopy, vagus nerve
| 43652 | Laparoscopy, vagus nerve
| 50548 | Laparo-asst remove k/ureter
| 51992 | Laparo sling operation
| 54692 | Laparoscopy, orchiopexy
| 58550 | Laparo-asst vag hysterectomy
0140 | Esophageal Dilation without Endoscopy |  | T | 4.74 | $229.83 | $107.24 | $45.97
| 43450 | Dilate esophagus
| 43453 | Dilate esophagus
| 43456 | Dilate esophagus
| 43458 | Dilate esophagus
| 43499 | Esophagus surgery procedure
0141 | Upper GI Procedures |  | T | 7.15 | $346.68 | $184.67 | $69.34
| 43200 | Esophagus endoscopy
| 43202 | Esophagus endoscopy, biopsy
| 43204 | Esophagus endoscopy & inject
| 43205 | Esophagus endoscopy/ligation
| 43215 | Esophagus endoscopy
| 43216 | Esophagus endoscopy/lesion
| 43217 | Esophagus endoscopy
| 43219 | Esophagus endoscopy
| 43220 | Esoph endoscopy, dilation
| 43226 | Esoph endoscopy, dilation
| 43227 | Esoph endoscopy, repair
| 43228 | Esoph endoscopy, ablation
| 43234 | Upper GI endoscopy, exam
| 43235 | Uppr gi endoscopy, diagnosis
| 43239 | Upper GI endoscopy, biopsy
| 43241 | Upper GI endoscopy with tube
| 43243 | Upper gi endoscopy & inject
| 43244 | Upper GI endoscopy/ligation
| 43245 | Operative upper GI endoscopy
| 43246 | Place gastrostomy tube
| 43247 | Operative upper GI endoscopy
| 43248 | Uppr gi endoscopy/guide wire
| 43249 | Esoph endoscopy, dilation
| 43250 | Upper GI endoscopy/tumor
| 43251 | Operative upper GI endoscopy
| 43255 | Operative upper GI endoscopy
| 43258 | Operative upper GI endoscopy
| 43259 | Endoscopic ultrasound exam
| 43600 | Biopsy of stomach
| 43750 | Place gastrostomy tube
| 43830 | Place gastrostomy tube
| 43831 | Place gastrostomy tube
| 44100 | Biopsy of bowel
0142 | Small Intestine Endoscopy |  | T | 7.45 | $361.23 | $162.42 | $72.25
| 44360 | Small bowel endoscopy
| 44361 | Small bowel endoscopy/biopsy
| 44363 | Small bowel endoscopy
| 44364 | Small bowel endoscopy
| 44365 | Small bowel endoscopy
| 44366 | Small bowel endoscopy
| 44369 | Small bowel endoscopy
| 44372 | Small bowel endoscopy
| 44373 | Small bowel endoscopy
| 44376 | Small bowel endoscopy
| 44377 | Small bowel endoscopy/biopsy
| 44378 | Small bowel endoscopy
| 44380 | Small bowel endoscopy
| 44382 | Small bowel endoscopy
| 44799 | Intestine surgery procedure
0143 | Lower GI Endoscopy |  | T | 7.98 | $386.93 | $199.12 | $77.39
| 44385 | Endoscopy of bowel pouch
| 44386 | Endoscopy, bowel pouch/biop
| 44388 | Colon endoscopy
| 44389 | Colonoscopy with biopsy
| 44390 | Colonoscopy for foreign body
| 44391 | Colonoscopy for bleeding
| 44392 | Colonoscopy & polypectomy
| 44393 | Colonoscopy, lesion removal
| 44394 | Colonoscopy w/snare
| 45355 | Surgical colonoscopy
| 45378 | Diagnostic colonoscopy
| 45379 | Colonoscopy
| 45380 | Colonoscopy and biopsy
| 45382 | Colonoscopy/control bleeding
| 45383 | Lesion removal colonoscopy
| 45384 | Colonoscopy
| 45385 | Lesion removal colonoscopy
0144 | Diagnostic Anoscopy |  | T | 2.23 | $108.13 | $49.32 | $21.63
| 46604 | Anoscopy and dilation
| 46608 | Anoscopy/remove for body
0145 | Therapeutic Anoscopy |  | T | 7.46 | $361.71 | $179.39 | $72.34
| 46606 | Anoscopy and biopsy
| 46610 | Anoscopy/remove lesion
| 46611 | Anoscopy
| 46612 | Anoscopy/remove lesions
| 46614 | Anoscopy/control bleeding
| 46615 | Anoscopy
0146 | Level I Sigmoidoscopy |  | T | 2.83 | $137.22 | $65.15 | $27.44
| 45300 | Proctosigmoidoscopy
| 45303 | Proctosigmoidoscopy
| 45305 | Proctosigmoidoscopy & biopsy
| 45307 | Proctosigmoidoscopy
| 45317 | Proctosigmoidoscopy
| 45330 | Diagnostic sigmoidoscopy
| 45331 | Sigmoidoscopy and biopsy
| 45332 | Sigmoidoscopy
0147 | Level II Sigmoidoscopy |  | T | 6.26 | $303.53 | $149.11 | $60.71
| 45308 | Proctosigmoidoscopy
| 45309 | Proctosigmoidoscopy
| 45315 | Proctosigmoidoscopy
| 45320 | Proctosigmoidoscopy
| 45321 | Proctosigmoidoscopy
| 45333 | Sigmoidoscopy & polypectomy
| 45334 | Sigmoidoscopy for bleeding
| 45337 | Sigmoidoscopy & decompress
| 45338 | Sigmoidoscopy
| 45339 | Sigmoidoscopy
0148 | Level I Anal/Rectal Procedure |  | T | 2.34 | $113.46 | $43.59 | $22.69
| 45005 | Drainage of rectal abscess
| 45900 | Reduction of rectal prolapse
| 45915 | Remove rectal obstruction
| 45999 | Rectum surgery procedure
| 46040 | Incision of rectal abscess
| 46050 | Incision of anal abscess
| 46070 | Incision of anal septum
| 46083 | Incise external hemorrhoid
| 46221 | Ligation of hemorrhoid(s)
| 46320 | Removal of hemorrhoid clot
| 46500 | Injection into hemorrhoids
| 46934 | Destruction of hemorrhoids
| 46935 | Destruction of hemorrhoids
| 46945 | Ligation of hemorrhoids
| 46946 | Ligation of hemorrhoids
0149 | Level II Anal/Rectal Procedure |  | T | 12.86 | $623.54 | $293.06 | $124.71
| 45000 | Drainage of pelvic abscess
| 45020 | Drainage of rectal abscess
| 45100 | Biopsy of rectum
| 45905 | Dilation of anal sphincter
| 45910 | Dilation of rectal narrowing
| 46030 | Removal of rectal marker
| 46080 | Incision of anal sphincter
| 46210 | Removal of anal crypt
| 46220 | Removal of anal tab
| 46230 | Removal of anal tabs
| 46754 | Removal of suture from anus
| 46936 | Destruction of hemorrhoids
| 46940 | Treatment of anal fissure
| 46942 | Treatment of anal fissure
| 46999 | Anus surgery procedure
0150 | Level III Anal/Rectal Procedure |  | T | 17.68 | $857.25 | $437.12 | $171.45
| 45108 | Removal of anorectal lesion
| 45150 | Excision of rectal stricture
| 45160 | Excision of rectal lesion
| 45170 | Excision of rectal lesion
| 45190 | Destruction, rectal tumor
| 45500 | Repair of rectum
| 45505 | Repair of rectum
| 45560 | Repair of rectocele
| 46045 | Incision of rectal abscess
| 46060 | Incision of rectal abscess
| 46200 | Removal of anal fissure
| 46211 | Removal of anal crypts
| 46250 | Hemorrhoidectomy
| 46255 | Hemorrhoidectomy
| 46257 | Remove hemorrhoids & fissure
| 46258 | Remove hemorrhoids & fistula
| 46260 | Hemorrhoidectomy
| 46261 | Remove hemorrhoids & fissure
| 46262 | Remove hemorrhoids & fistula
| 46270 | Removal of anal fistula
| 46275 | Removal of anal fistula
| 46280 | Removal of anal fistula
| 46285 | Removal of anal fistula
| 46288 | Repair anal fistula
| 46700 | Repair of anal stricture
| 46750 | Repair of anal sphincter
| 46753 | Reconstruction of anus
| 46760 | Repair of anal sphincter
| 46761 | Repair of anal sphincter
| 46762 | Implant artificial sphincter
| 46937 | Cryotherapy of rectal lesion
| 46938 | Cryotherapy of rectal lesion
0151 | Endoscopic Retrograde Cholangio-Pancreatography (ERCP) |  | T | 10.53 | $510.57 | $245.46 | $102.11
| 43260 | Endo cholangiopancreatograph
| 43261 | Endo cholangiopancreatograph
| 43262 | Endo cholangiopancreatograph
| 43263 | Endo cholangiopancreatograph
| 43264 | Endo cholangiopancreatograph
| 43265 | Endo cholangiopancreatograph
| 43267 | Endo cholangiopancreatograph
| 43268 | Endo cholangiopancreatograph
| 43269 | Endo cholangiopancreatograph
| 43271 | Endo cholangiopancreatograph
| 43272 | Endo cholangiopancreatograph
0152 | Percutaneous Biliary Endoscopic Procedures |  | T | 8.22 | $398.56 | $207.38 | $79.71
| 47510 | Insert catheter, bile duct
| 47511 | Insert bile duct drain
| 47552 | Biliary endoscopy thru skin
| 47553 | Biliary endoscopy thru skin
| 47554 | Biliary endoscopy thru skin
| 47555 | Biliary endoscopy thru skin
| 47556 | Biliary endoscopy thru skin
| 47630 | Remove bile duct stone
0153 | Peritoneal and Abdominal Procedures |  | T | 19.62 | $951.32 | $496.31 | $190.26
| 49085 | Remove abdomen foreign body
| 49250 | Excision of umbilicus
| 49420 | Insert abdominal drain
| 49421 | Insert abdominal drain
| 49423 | Exchange drainage catheter
| 49426 | Revise abdomen-venous shunt
0154 | Hernia/Hydrocele Procedures |  | T | 22.43 | $1,087.57 | $556.98 | $217.51
| 49495 | Repair inguinal hernia, init
| 49496 | Repair inguinal hernia, init
| 49500 | Repair inguinal hernia
| 49501 | Repair inguinal hernia, init
| 49505 | Repair inguinal hernia
| 49507 | Repair inguinal hernia
| 49520 | Rerepair inguinal hernia
| 49521 | Repair inguinal hernia, rec
| 49525 | Repair inguinal hernia
| 49540 | Repair lumbar hernia
| 49550 | Repair femoral hernia
| 49553 | Repair femoral hernia, init
| 49555 | Repair femoral hernia
| 49557 | Repair femoral hernia, recur
| 49560 | Repair abdominal hernia
| 49561 | Repair incisional hernia
| 49565 | Rerepair abdominal hernia
| 49566 | Repair incisional hernia
| 49568 | Hernia repair w/mesh
| 49570 | Repair epigastric hernia
| 49572 | Repair epigastric hernia
| 49580 | Repair umbilical hernia
| 49582 | Repair umbilical hernia
| 49585 | Repair umbilical hernia
| 49587 | Repair umbilical hernia
| 49590 | Repair abdominal hernia
| 49600 | Repair umbilical lesion
| 51500 | Removal of bladder cyst
| 54530 | Removal of testis
| 54550 | Exploration for testis
| 54640 | Suspension of testis
| 55040 | Removal of hydrocele
| 55041 | Removal of hydroceles
| 55535 | Revise spermatic cord veins
| 55540 | Revise hernia & sperm veins
² 0157 | Colorectal Cancer Screening: Barium Enema |  | S | 1.79 | $86.79 |  | $17.36
| G0106 | Colon CA screen; barium enema
| G0120 | Colon ca scrn; barium enema
¹ 0158 | Colorectal Cancer Screening: Colonoscopy |  | S | 7.98 | $386.93 |  | $96.73
| G0104 | CA screen; flexi sigmoidscope
¹ 0159 | Colorectal Cancer Screening: Flexible Sigmoidoscopy |  | S | 7.98 | $137.22 |  | $34.31
| G0105 | Colorectal scrn; hi risk ind
0160 | Level I Cystourethroscopy and other Genitourinary Procedures |  | T | 5.43 | $263.28 | $110.11 | $52.66
| 50392 | Insert kidney drain
| 50393 | Insert ureteral tube
| 50395 | Create passage to kidney
| 52000 | Cystoscopy
| 52265 | Cystoscopy and treatment
0161 | Level II Cystourethroscopy and other Genitourinary Procedures |  | T | 10.94 | $530.45 | $249.36 | $106.09
| 50551 | Kidney endoscopy
| 50553 | Kidney endoscopy
| 50555 | Kidney endoscopy & biopsy
| 50557 | Kidney endoscopy & treatment
| 50559 | Renal endoscopy/radiotracer
| 50561 | Kidney endoscopy & treatment
| 52005 | Cystoscopy & ureter catheter
| 52007 | Cystoscopy and biopsy
| 52010 | Cystoscopy & duct catheter
| 52204 | Cystoscopy
| 52214 | Cystoscopy and treatment
| 52224 | Cystoscopy and treatment
| 52260 | Cystoscopy and treatment
| 52270 | Cystoscopy & revise urethra
| 52275 | Cystoscopy & revise urethra
| 52276 | Cystoscopy and treatment
| 52281 | Cystoscopy and treatment
| 52283 | Cystoscopy and treatment
| 52285 | Cystoscopy and treatment
| 52290 | Cystoscopy and treatment
| 52300 | Cystoscopy and treatment
| 52301 | Cystoscopy and treatment
| 52305 | Cystoscopy and treatment
| 52310 | Cystoscopy and treatment
| 52315 | Cystoscopy and treatment
| 52327 | Cystoscopy, inject material
| 52510 | Dilation prostatic urethra
| 53605 | Dilate urethra stricture
0162 | Level III Cystourethroscopy and other Genitourinary Procedures |  | T | 17.49 | $848.04 | $427.49 | $169.61
| 50951 | Endoscopy of ureter
| 50953 | Endoscopy of ureter
| 50955 | Ureter endoscopy & biopsy
| 50957 | Ureter endoscopy & treatment
| 50959 | Ureter endoscopy & tracer
| 50961 | Ureter endoscopy & treatment
| 51020 | Incise & treat bladder
| 51030 | Incise & treat bladder
| 51040 | Incise & drain bladder
| 51045 | Incise bladder/drain ureter
| 51050 | Removal of bladder stone
| 51065 | Removal of ureter stone
| 51520 | Removal of bladder lesion
| 51880 | Repair of bladder opening
| 52234 | Cystoscopy and treatment
| 52235 | Cystoscopy and treatment
| 52250 | Cystoscopy and radiotracer
| 52277 | Cystoscopy and treatment
| 52282 | Cystoscopy, implant stent
| 52317 | Remove bladder stone
| 52318 | Remove bladder stone
| 52320 | Cystoscopy and treatment
| 52325 | Cystoscopy, stone removal
| 52330 | Cystoscopy and treatment
| 52332 | Cystoscopy and treatment
| 52334 | Create passage to kidney
| 52335 | Endoscopy of urinary tract
| 52336 | Cystoscopy, stone removal
| 52337 | Cystoscopy, stone removal
| 52338 | Cystoscopy and treatment
| 52339 | Cystoscopy and treatment
| 52340 | Cystoscopy and treatment
| 52450 | Incision of prostate
| 52500 | Revision of bladder neck
| 52606 | Control postop bleeding
| 52640 | Relieve bladder contracture
| 52700 | Drainage of prostate abscess
| 55720 | Drainage of prostate abscess
| 55725 | Drainage of prostate abscess
| 55859 | Percut/needle insert, pros
0163 | Level IV Cystourethroscopy and other Genitourinary Procedures |  | T | 28.98 | $1,405.16 | $792.58 | $281.03
| 50080 | Removal of kidney stone
| 50081 | Removal of kidney stone
| 52240 | Cystoscopy and treatment
| 52601 | Prostatectomy (TURP)
| 52612 | Prostatectomy, first stage
| 52614 | Prostatectomy, second stage
| 52620 | Remove residual prostate
| 52630 | Remove prostate regrowth
| 52647 | Laser surgery of prostate
| 52648 | Laser surgery of prostate
0164 | Level I Urinary and Anal Procedures |  | T | 2.17 | $105.23 | $33.03 | $21.05
| 51005 | Drainage of bladder
| 51700 | Irrigation of bladder
| 51736 | Urine flow measurement
| 51741 | Electro-uroflowmetry, first
| 51784 | Anal/urinary muscle study
| 51785 | Anal/urinary muscle study
| 51795 | Urine voiding pressure study
| 51797 | Intraabdominal pressure test
| 53600 | Dilate urethra stricture
| 53601 | Dilate urethra stricture
| 53621 | Dilate urethra stricture
| 53660 | Dilation of urethra
| 53661 | Dilation of urethra
| 53675 | Insert urinary catheter
| 54235 | Penile injection
| 54240 | Penis study
| 55899 | Genital surgery procedure
0165 | Level II Urinary and Anal Procedures |  | T | 3.89 | $188.61 | $91.76 | $37.72
| 50396 | Measure kidney pressure
| 50686 | Measure ureter pressure
| 51000 | Drainage of bladder
| 51010 | Drainage of bladder
| 51720 | Treatment of bladder lesion
| 51725 | Simple cystometrogram
| 51726 | Complex cystometrogram
| 51772 | Urethra pressure profile
| 51792 | Urinary reflex study
| 53620 | Dilate urethra stricture
| 53899 | Urology surgery procedure
| 54200 | Treatment of penis lesion
| 54220 | Treatment of penis lesion
| 54231 | Dynamic cavernosometry
| 54250 | Penis study
| 54450 | Preputial stretching
| 91122 | Anal pressure record
0166 | Level I Urethral Procedures |  | T | 10.17 | $493.11 | $218.73 | $98.62
| 53000 | Incision of urethra
| 53010 | Incision of urethra
| 53020 | Incision of urethra
| 53025 | Incision of urethra
| 53040 | Drainage of urethra abscess
| 53060 | Drainage of urethra abscess
| 53080 | Drainage of urinary leakage
| 53200 | Biopsy of urethra
| 53250 | Removal of urethra gland
| 53260 | Treatment of urethra lesion
| 53265 | Treatment of urethra lesion
| 53275 | Repair of urethra defect
| 53442 | Remove perineal prosthesis
| 53502 | Repair of urethra injury
| 53510 | Repair of urethra injury
| 53665 | Dilation of urethra
| 54000 | Slitting of prepuce
| 54001 | Slitting of prepuce
0167 | Level II Urethral Procedures |  | T | 21.06 | $1,021.14 | $555.84 | $204.23
| 51715 | Endoscopic injection/implant
| 53270 | Removal of urethra gland
| 53505 | Repair of urethra injury
0168 | Level III Urethral Procedures |  | T | 24.94 | $1,209.27 | $536.11 | $241.85
| 53210 | Removal of urethra
| 53215 | Removal of urethra
| 53220 | Treatment of urethra lesion
| 53230 | Removal of urethra lesion
| 53235 | Removal of urethra lesion
| 53240 | Surgery for urethra pouch
| 53400 | Revise urethra, stage 1
| 53405 | Revise urethra, stage 2
| 53410 | Reconstruction of urethra
| 53420 | Reconstruct urethra, stage 1
| 53425 | Reconstruct urethra, stage 2
| 53430 | Reconstruction of urethra
| 53447 | Remove artificial sphincter
| 53449 | Correct artificial sphincter
| 53450 | Revision of urethra
| 53460 | Revision of urethra
| 53515 | Repair of urethra injury
| 53520 | Repair of urethra defect
0169 | Lithotripsy |  | T | 46.72 | $2,265.32 | $1,384.20 | $453.06
| 50590 | Fragmenting of kidney stone
0170 | Dialysis for Other Than ESRD Patients |  | S | 6.68 | $323.89 | $72.26 | $64.78
| 90935 | Hemodialysis, one evaluation
| 90945 | Dialysis, one evaluation
0180 | Circumcision |  | T | 13.62 | $660.39 | $304.87 | $132.08
| 54150 | Circumcision
| 54152 | Circumcision
| 54160 | Circumcision
| 54161 | Circumcision
0181 | Penile Procedures |  | T | 32.37 | $1,569.53 | $906.36 | $313.91
| 37790 | Penile venous occlusion
| 54110 | Treatment of penis lesion
| 54111 | Treat penis lesion, graft
| 54112 | Treat penis lesion, graft
| 54120 | Partial removal of penis
| 54205 | Treatment of penis lesion
| 54300 | Revision of penis
| 54304 | Revision of penis
| 54308 | Reconstruction of urethra
| 54312 | Reconstruction of urethra
| 54316 | Reconstruction of urethra
| 54318 | Reconstruction of urethra
| 54322 | Reconstruction of urethra
| 54324 | Reconstruction of urethra
| 54326 | Reconstruction of urethra
| 54328 | Revise penis/urethra
| 54340 | Secondary urethral surgery
| 54344 | Secondary urethral surgery
| 54348 | Secondary urethral surgery
| 54352 | Reconstruct urethra/penis
| 54360 | Penis plastic surgery
| 54380 | Repair penis
| 54385 | Repair penis
| 54402 | Remove penis prosthesis
| 54407 | Remove multi-comp prosthesis
| 54409 | Revise penis prosthesis
| 54420 | Revision of penis
| 54435 | Revision of penis
| 54440 | Repair of penis
0182 | Insertion of Penile Prosthesis |  | T | 52.11 | $2,526.66 | $1,525.05 | $505.33
| 53440 | Correct bladder function
| 53445 | Correct urine flow control
| 54400 | Insert semi-rigid prosthesis
| 54401 | Insert self-contd prosthesis
| 54405 | Insert multi-comp prosthesis
0183 | Testes/Epididymis Procedures |  | T | 18.26 | $885.37 | $448.94 | $177.07
| 54505 | Biopsy of testis
| 54510 | Removal of testis lesion
| 54520 | Removal of testis
| 54600 | Reduce testis torsion
| 54620 | Suspension of testis
| 54660 | Revision of testis
| 54670 | Repair testis injury
| 54680 | Relocation of testis(es)
| 54700 | Drainage of scrotum
| 54820 | Exploration of epididymis
| 54830 | Remove epididymis lesion
| 54840 | Remove epididymis lesion
| 54860 | Removal of epididymis
| 54861 | Removal of epididymis
| 54900 | Fusion of spermatic ducts
| 54901 | Fusion of spermatic ducts
| 55060 | Repair of hydrocele
| 55110 | Explore scrotum
| 55120 | Removal of scrotum lesion
| 55150 | Removal of scrotum
| 55175 | Revision of scrotum
| 55180 | Revision of scrotum
| 55200 | Incision of sperm duct
| 55250 | Removal of sperm duct(s)
| 55400 | Repair of sperm duct
| 55450 | Ligation of sperm duct
| 55500 | Removal of hydrocele
| 55520 | Removal of sperm cord lesion
| 55530 | Revise spermatic cord veins
| 55680 | Remove sperm pouch lesion
0184 | Prostate Biopsy |  | T | 4.94 | $239.53 | $122.96 | $47.91
| 55700 | Biopsy of prostate
| 55705 | Biopsy of prostate
0190 | Surgical Hysteroscopy |  | T | 17.85 | $865.49 | $443.89 | $173.10
| 58558 | Hysteroscopy, biopsy
| 58559 | Hysteroscopy, lysis
| 58560 | Hysteroscopy, resect septum
| 58561 | Hysteroscopy, remove myoma
| 58562 | Hysteroscopy, remove fb
| 58563 | Hysteroscopy, ablation
| 58578 | Laparo proc, uterus
| 58579 | Hysteroscope procedure
0191 | Level I Female Reproductive Procedures |  | T | 1.19 | $57.70 | $17.43 | $11.54
| 57160 | Insert pessary/other device
| 57170 | Fitting of diaphragm/cap
| 57452 | Examination of vagina
| 58100 | Biopsy of uterus lining
| 58301 | Remove intrauterine device
| 58555 | Hysteroscopy, dx, sep proc
| 59200 | Insert cervical dilator
| Q0091 | Obtaining screen pap smear
0192 | Level II Female Reproductive Procedures |  | T | 2.38 | $115.40 | $35.33 | $23.08
| 56405 | I & D of vulva/perineum
| 56420 | Drainage of gland abscess
| 57100 | Biopsy of vagina
| 57150 | Treat vagina infection
| 57180 | Treat vaginal bleeding
| 57454 | Vagina examination & biopsy
| 57505 | Endocervical curettage
| 57511 | Cryocautery of cervix
| 99170 | Anogenital exam, child
0193 | Level III Female Reproductive Procedures |  | T | 8.93 | $432.99 | $171.13 | $86.60
| 56441 | Lysis of labial lesion(s)
| 56720 | Incision of hymen
| 57020 | Drainage of pelvic fluid
| 57460 | Cervix excision
| 57500 | Biopsy of cervix
| 57510 | Cauterization of cervix
| 57513 | Laser surgery of cervix
| 57800 | Dilation of cervical canal
0194 | Level IV Female Reproductive Procedures |  | T | 16.21 | $785.98 | $395.94 | $157.20
| 56440 | Surgery for vulva lesion
| 56700 | Partial removal of hymen
| 56740 | Remove vagina gland lesion
| 56800 | Repair of vagina
| 56810 | Repair of perineum
| 57000 | Exploration of vagina
| 57010 | Drainage of pelvic abscess
| 57061 | Destruction vagina lesion(s)
| 57065 | Destruction vagina lesion(s)
| 57105 | Biopsy of vagina
| 57106 | Remove vagina wall, partial
| 57107 | Remove vagina tissue, part
| 57109 | Vaginectomy partial w/nodes
| 57130 | Remove vagina lesion
| 57135 | Remove vagina lesion
| 57200 | Repair of vagina
| 57210 | Repair vagina/perineum
| 57230 | Repair of urethral lesion
| 57400 | Dilation of vagina
| 57410 | Pelvic examination
| 57415 | Remove vaginal foreign body
| 57520 | Conization of cervix
| 57700 | Revision of cervix
| 57720 | Revision of cervix
| 58345 | Reopen fallopian tube
| 58350 | Reopen fallopian tube
| 58970 | Retrieval of oocyte
| 59300 | Episiotomy or vaginal repair
| 59320 | Revision of cervix
| 59871 | Remove cerclage suture
0195 | Level V Female Reproductive Procedures |  | T | 18.68 | $905.74 | $483.80 | $181.15
| 56620 | Partial removal of vulva
| 56625 | Complete removal of vulva
| 57220 | Revision of urethra
| 57240 | Repair bladder & vagina
| 57250 | Repair rectum & vagina
| 57260 | Repair of vagina
| 57265 | Extensive repair of vagina
| 57268 | Repair of bowel bulge
| 57284 | Repair paravaginal defect
| 57288 | Repair bladder defect
| 57289 | Repair bladder & vagina
| 57291 | Construction of vagina
| 57300 | Repair rectum-vagina fistula
| 57522 | Conization of cervix
| 57530 | Removal of cervix
| 57550 | Removal of residual cervix
| 57555 | Remove cervix/repair vagina
| 57556 | Remove cervix, repair bowel
| 58145 | Removal of uterus lesion
| 58800 | Drainage of ovarian cyst(s)
| 58820 | Drain ovary abscess, open
| 58900 | Biopsy of ovary(s)
| 58920 | Partial removal of ovary(s)
| 58925 | Removal of ovarian cyst(s)
0196 | Dilatation & Curettage |  | T | 14.47 | $701.61 | $357.98 | $140.32
| 57820 | D & c of residual cervix
| 58120 | Dilation and curettage
| 59160 | D & c after delivery
0197 | Infertility Procedures |  | T | 2.40 | $116.37 | $49.55 | $23.27
| 55870 | Electroejaculation
| 58321 | Artificial insemination
| 58322 | Artificial insemination
| 58323 | Sperm washing
| 58974 | Transfer of embryo
| 58976 | Transfer of embryo
0198 | Pregnancy and Neonatal Care Procedures |  | T | 1.34 | $64.97 | $33.03 | $12.99
| 59000 | Amniocentesis
| 59012 | Fetal cord puncture, prenatal
| 59015 | Chorion biopsy
| 59020 | Fetal contract stress test
| 59025 | Fetal non-stress test
| 59030 | Fetal scalp blood sample
| 59050 | Fetal monitor w/report
| 59899 | Maternity care procedure
0199 | Vaginal Delivery |  | T | 11.20 | $543.06 | $157.83 | $108.61
| 59409 | Obstetrical care
| 59412 | Antepartum manipulation
| 59414 | Deliver placenta
| 59612 | Vbac delivery only
0200 | Therapeutic Abortion |  | T | 13.89 | $673.49 | $373.23 | $134.70
| 59840 | Abortion
| 59841 | Abortion
0201 | Spontaneous Abortion |  | T | 13.00 | $630.33 | $329.65 | $126.07
| 59812 | Treatment of miscarriage
| 59820 | Care of miscarriage
| 59821 | Treatment of miscarriage
| 59870 | Evacuate mole of uterus
0210 | Spinal Tap |  | T | 3.00 | $145.46 | $62.40 | $29.09
| 62270 | Spinal fluid tap, diagnostic
| 62272 | Drain spinal fluid
0211 | Level I Nervous System Injections |  | T | 3.32 | $160.98 | $74.78 | $32.20
| 64400 | Injection for nerve block
| 64402 | Injection for nerve block
| 64405 | Injection for nerve block
| 64408 | Injection for nerve block
| 64410 | Injection for nerve block
| 64412 | Injection for nerve block
| 64413 | Injection for nerve block
| 64415 | Injection for nerve block
| 64417 | Injection for nerve block
| 64418 | Injection for nerve block
| 64420 | Injection for nerve block
| 64421 | Injection for nerve block
| 64425 | Injection for nerve block
| 64430 | Injection for nerve block
| 64435 | Injection for nerve block
| 64445 | Injection for nerve block
| 64450 | Injection for nerve block
| 64470 | Inj paravertebral c/t
| 64472 | Inj paravertebral c/t add-on
| 64475 | Inj paravertebral l/s
| 64476 | Inj paravertebral l/s add-on
| 64479 | Inj foramen epidural c/t
| 64480 | Inj foramen epidural add-on
| 64483 | Inj foramen epidural l/s
| 64484 | Inj foramen epidural add-on
| 64505 | Injection for nerve block
| 64508 | Injection for nerve block
| 64510 | Injection for nerve block
| 64520 | Injection for nerve block
| 64530 | Injection for nerve block
| 64600 | Injection treatment of nerve
| 64605 | Injection treatment of nerve
| 64610 | Injection treatment of nerve
| 64612 | Destroy nerve, face muscle
| 64613 | Destroy nerve, spine muscle
| 64620 | Injection treatment of nerve
| 64622 | Destr paravertebrl nerve l/s
| 64623 | Destr paravertebral n add-on
| 64626 | Destr paravertebrl nerve c/t
| 64627 | Destr paravertebral n add-on
| 64630 | Injection treatment of nerve
| 64640 | Injection treatment of nerve
| 64680 | Injection treatment of nerve
| 64999 | Nervous system surgery
0212 | Level II Nervous System Injections |  | T | 3.64 | $176.49 | $88.78 | $35.30
| 61000 | Remove cranial cavity fluid
| 61001 | Remove cranial cavity fluid
| 61020 | Remove brain cavity fluid
| 61026 | Injection into brain canal
| 61050 | Remove brain canal fluid
| 61055 | Injection into brain canal
| 61070 | Brain canal shunt procedure
| 62263 | Lysis epidural adhesions
| 62268 | Drain spinal cord cyst
| 62273 | Treat epidural spine lesion
| 62280 | Treat spinal cord lesion
| 62281 | Treat spinal cord lesion
| 62282 | Treat spinal canal lesion
| 62292 | Injection into disk lesion
| 62294 | Injection into spinal artery
| 62310 | Inject spine c/t
| 62311 | Inject spine l/s (cd)
| 62318 | Inject spine w/cath, c/t
| 62319 | Inject spine w/cath l/s (cd)
0213 | Extended EEG Studies and Sleep Studies |  | S | 11.15 | $540.63 | $290.42 | $108.13
| 95805 | Multiple sleep latency test
| 95806 | Sleep study, unattended
| 95807 | Sleep study, attended
| 95808 | Polysomnography, 1-3
| 95810 | Polysomnography, 4 or more
| 95811 | Polysomnography w/cpap
| 95812 | Electroencephalogram (EEG)
| 95813 | Electroencephalogram (EEG)
| 95827 | Night electroencephalogram
| 95951 | EEG monitoring/videorecord
| 95953 | EEG monitoring/computer
| 95954 | EEG monitoring/giving drugs
| 95958 | EEG monitoring/function test
0214 | Electroencephalogram |  | S | 2.32 | $112.49 | $58.50 | $22.50
| 95816 | Electroencephalogram (EEG)
| 95819 | Electroencephalogram (EEG)
| 95822 | Sleep electroencephalogram
| 95824 | Electroencephalography
| 95829 | Surgery electrocorticogram
| 95955 | EEG during surgery
0215 | Level I Nerve and Muscle Tests |  | S | 1.15 | $55.76 | $30.05 | $11.15
| 95857 | Tensilon test
| 95858 | Tensilon test & myogram
| 95860 | Muscle test, one limb
| 95861 | Muscle test, two limbs
| 95864 | Muscle test, 4 limbs
| 95869 | Muscle test, thor paraspinal
| 95870 | Muscle test, nonparaspinal
| 95872 | Muscle test, one fiber
| 95900 | Motor nerve conduction test
| 95903 | Motor nerve conduction test
| 95904 | Sense/mixed n conduction tst
| 95933 | Blink reflex test
| 95934 | H-reflex test
| 95937 | Neuromuscular junction test
0216 | Level II Nerve and Muscle Tests |  | S | 2.87 | $139.16 | $64.69 | $27.83
| 92275 | Electroretinography
| 92585 | Auditory evoked potential
| 95863 | Muscle test, 3 limbs
| 95867 | Muscle test, head or neck
| 95868 | Muscle test, head or neck
| 95921 | Autonomic nerv function test
| 95922 | Autonomic nerv function test
| 95923 | Autonomic nerv function test
| 95925 | Somatosensory testing
| 95926 | Somatosensory testing
| 95927 | Somatosensory testing
| 95930 | Visual evoked potential test
| 95936 | H-reflex test
0217 | Level III Nerve and Muscle Tests |  | S | 5.87 | $284.62 | $156.68 | $56.92
| 95875 | Limb exercise test
| 95950 | Ambulatory eeg monitoring
0220 | Level I Nerve Procedures |  | T | 13.96 | $676.88 | $326.21 | $135.38
| 27315 | Partial removal, thigh nerve
| 27320 | Partial removal, thigh nerve
| 28030 | Removal of foot nerve
| 28035 | Decompression of tibia nerve
| 61790 | Treat trigeminal nerve
| 62287 | Percutaneous diskectomy
| 63600 | Remove spinal cord lesion
| 63610 | Stimulation of spinal cord
| 63615 | Remove lesion of spinal cord
| 64702 | Revise finger/toe nerve
| 64704 | Revise hand/foot nerve
| 64708 | Revise arm/leg nerve
| 64712 | Revision of sciatic nerve
| 64713 | Revision of arm nerve(s)
| 64714 | Revise low back nerve(s)
| 64716 | Revision of cranial nerve
| 64718 | Revise ulnar nerve at elbow
| 64719 | Revise ulnar nerve at wrist
| 64721 | Carpal tunnel surgery
| 64722 | Relieve pressure on nerve(s)
| 64726 | Release foot/toe nerve
| 64727 | Internal nerve revision
| 64732 | Incision of brow nerve
| 64734 | Incision of cheek nerve
| 64736 | Incision of chin nerve
| 64738 | Incision of jaw nerve
| 64740 | Incision of tongue nerve
| 64742 | Incision of facial nerve
| 64744 | Incise nerve, back of head
| 64746 | Incise diaphragm nerve
| 64761 | Incision of pelvis nerve
| 64771 | Sever cranial nerve
| 64772 | Incision of spinal nerve
| 64774 | Remove skin nerve lesion
| 64776 | Remove digit nerve lesion
| 64778 | Digit nerve surgery add-on
| 64782 | Remove limb nerve lesion
| 64783 | Limb nerve surgery add-on
| 64784 | Remove nerve lesion
| 64787 | Implant nerve end
| 64788 | Remove skin nerve lesion
| 64790 | Removal of nerve lesion
| 64795 | Biopsy of nerve
0221 | Level II Nerve Procedures |  | T | 18.36 | $890.22 | $463.62 | $178.04
| 64786 | Remove sciatic nerve lesion
| 64792 | Removal of nerve lesion
| 64831 | Repair of digit nerve
| 64832 | Repair nerve add-on
| 64834 | Repair of hand or foot nerve
| 64835 | Repair of hand or foot nerve
| 64836 | Repair of hand or foot nerve
| 64837 | Repair nerve add-on
| 64840 | Repair of leg nerve
| 64856 | Repair/transpose nerve
| 64857 | Repair arm/leg nerve
| 64858 | Repair sciatic nerve
| 64859 | Nerve surgery
| 64861 | Repair of arm nerves
| 64862 | Repair of low back nerves
| 64864 | Repair of facial nerve
| 64865 | Repair of facial nerve
| 64870 | Fusion of facial/other nerve
| 64872 | Subsequent repair of nerve
| 64874 | Repair & revise nerve add-on
| 64876 | Repair nerve/shorten bone
| 64885 | Nerve graft, head or neck
| 64886 | Nerve graft, head or neck
| 64890 | Nerve graft, hand or foot
| 64891 | Nerve graft, hand or foot
| 64892 | Nerve graft, arm or leg
| 64893 | Nerve graft, arm or leg
| 64895 | Nerve graft, hand or foot
| 64896 | Nerve graft, hand or foot
| 64897 | Nerve graft, arm or leg
| 64898 | Nerve graft, arm or leg
| 64901 | Nerve graft add-on
| 64902 | Nerve graft add-on
| 64905 | Nerve pedicle transfer
| 64907 | Nerve pedicle transfer
0222 | Implantation of Neurological Device |  | T | 25.48 | $1,235.45 | $780.07 | $247.09
| 61215 | Insert brain-fluid device
| 61885 | Implant neurostim one array
| 62360 | Insert spine infusion device
| 62361 | Implant spine infusion pump
| 62362 | Implant spine infusion pump
| 63685 | Implant neuroreceiver
| 64590 | Implant neuroreceiver
0223 | Level I Revision/Removal Neurological Device |  | T | 6.34 | $307.41 | $153.24 | $61.48
| 62350 | Implant spinal canal cath
| 62355 | Remove spinal canal catheter
| 63746 | Removal of spinal shunt
0224 | Level II Revision/Removal Neurological Device |  | T | 15.94 | $772.88 | $374.61 | $154.58
| 62230 | Replace/revise brain shunt
| 62365 | Remove spine infusion device
| 63650 | Implant neuroelectrodes
| 63660 | Revise/remove neuroelectrode
| 63688 | Revise/remove neuroreceiver
| 63744 | Revision of spinal shunt
0225 | Implantation of Neurostimulator Electrodes |  | T | 3.43 | $166.31 | $64.46 | $33.26
| 64553 | Implant neuroelectrodes
| 64555 | Implant neuroelectrodes
| 64560 | Implant neuroelectrodes
| 64565 | Implant neuroelectrodes
| 64573 | Implant neuroelectrodes
| 64575 | Implant neuroelectrodes
| 64577 | Implant neuroelectrodes
| 64580 | Implant neuroelectrodes
| 64585 | Revise/remove neuroelectrode
| 64595 | Revise/remove neuroreceiver
0230 | Level I Eye Tests |  | S | 0.98 | $47.52 | $22.48 | $9.50
| 68200 | Treat eyelid by injection
| 92020 | Special eye evaluation
| 92060 | Special eye evaluation
| 92065 | Orthoptic/pleoptic training
| 92081 | Visual field examination(s)
| 92082 | Visual field examination(s)
| 92083 | Visual field examination(s)
| 92120 | Tonography & eye evaluation
| 92130 | Water provocation tonography
| 92225 | Special eye exam, initial
| 92250 | Eye exam with photos
| 92260 | Ophthalmoscopy/dynamometry
| 92265 | Eye muscle evaluation
| 92270 | Electro-oculography
| 92283 | Color vision examination
| 92285 | Eye photography
| 92330 | Fitting of artificial eye
| 92499 | Eye service or procedure
0231 | Level II Eye Tests |  | S | 2.64 | $128.01 | $59.87 | $25.60
| 65205 | Remove foreign body from eye
| 65210 | Remove foreign body from eye
| 65220 | Remove foreign body from eye
| 65222 | Remove foreign body from eye
| 65430 | Corneal smear
| 67350 | Biopsy eye muscle
| 67500 | Inject/treat eye socket
| 68110 | Remove eyelid lining lesion
| 68761 | Close tear duct opening
| 68801 | Dilate tear duct opening
| 68810 | Probe nasolacrimal duct
| 68840 | Explore/irrigate tear ducts
| 68899 | Tear duct system surgery
| 92018 | New eye exam & treatment
| 92019 | Eye exam & treatment
| 92135 | Opthalmic dx imaging
| 92140 | Glaucoma provocative tests
| 92226 | Special eye exam, subsequent
| 92230 | Eye exam with photos
| 92235 | Eye exam with photos
| 92240 | Icg angiography
| 92284 | Dark adaptation eye exam
| 92286 | Internal eye photography
| 92287 | Internal eye photography
0232 | Level I Anterior Segment Eye |  | T | 6.04 | $292.86 | $134.66 | $58.57
| 65235 | Remove foreign body from eye
| 65272 | Repair of eye wound
| 65286 | Repair of eye wound
| 65400 | Removal of eye lesion
| 65436 | Curette/treat cornea
| 65450 | Treatment of corneal lesion
| 65772 | Correction of astigmatism
| 65800 | Drainage of eye
| 65820 | Relieve inner eye pressure
| 65880 | Incise inner eye adhesions
| 65900 | Remove eye lesion
| 66020 | Injection treatment of eye
| 66030 | Injection treatment of eye
| 66500 | Incision of iris
| 66505 | Incision of iris
| 66625 | Removal of iris
| 66700 | Destruction, ciliary body
| 66710 | Destruction, ciliary body
| 66720 | Destruction, ciliary body
| 66820 | Incision, secondary cataract
| 66830 | Removal of lens lesion
| 67880 | Revision of eyelid
| 68100 | Biopsy of eyelid lining
0233 | Level II Anterior Segment Eye |  | T | 13.79 | $668.64 | $331.60 | $133.73
| 65275 | Repair of eye wound
| 65280 | Repair of eye wound
| 65410 | Biopsy of cornea
| 65420 | Removal of eye lesion
| 65426 | Removal of eye lesion
| 65775 | Correction of astigmatism
| 65805 | Drainage of eye
| 65810 | Drainage of eye
| 65815 | Drainage of eye
| 65865 | Incise inner eye adhesions
| 65870 | Incise inner eye adhesions
| 65875 | Incise inner eye adhesions
| 65920 | Remove implant from eye
| 65930 | Remove blood clot from eye
| 66130 | Remove eye lesion
| 66150 | Glaucoma surgery
| 66250 | Follow-up surgery of eye
| 66600 | Remove iris and lesion
| 66605 | Removal of iris
| 66630 | Removal of iris
| 66635 | Removal of iris
| 66680 | Repair iris & ciliary body
| 66682 | Repair iris & ciliary body
| 66740 | Destruction, ciliary body
| 66825 | Reposition intraocular lens
| 68130 | Remove eyelid lining lesion
| 68330 | Revise eyelid lining
0234 | Level III Anterior Segment Eye Procedures |  | T | 20.64 | $1,000.77 | $502.16 | $200.15
| 65285 | Repair of eye wound
| 65850 | Incision of eye
| 66155 | Glaucoma surgery
| 66160 | Glaucoma surgery
| 66165 | Glaucoma surgery
| 66170 | Glaucoma surgery
| 66172 | Incision of eye
| 66180 | Implant eye shunt
| 66185 | Revise eye shunt
| 66225 | Repair/graft eye lesion
| 68360 | Revise eyelid lining
| 68362 | Revise eyelid lining
0235 | Level I Posterior Segment Eye Procedures |  | T | 2.94 | $142.55 | $78.91 | $28.51
| 67141 | Treatment of retina
| 67208 | Treatment of retinal lesion
| 67227 | Treatment of retinal lesion
0236 | Level II Posterior Segment Eye Procedures |  | T | 6.70 | $324.86 | $147.96 | $64.97
| 66220 | Repair eye lesion
| 67028 | Injection eye drug
| 67030 | Incise inner eye strands
| 67101 | Repair detached retina
| 67110 | Repair detached retina
| 67115 | Release encircling material
| 67120 | Remove eye implant material
0237 | Level III Posterior Segment Eye Procedures |  | T | 33.96 | $1,646.62 | $852.68 | $329.32
| 65260 | Remove foreign body from eye
| 65265 | Remove foreign body from eye
| 67005 | Partial removal of eye fluid
| 67010 | Partial removal of eye fluid
| 67015 | Release of eye fluid
| 67025 | Replace eye fluid
| 67027 | Implant eye drug system
| 67036 | Removal of inner eye fluid
| 67038 | Strip retinal membrane
| 67039 | Laser treatment of retina
| 67040 | Laser treatment of retina
| 67107 | Repair detached retina
| 67108 | Repair detached retina
| 67112 | Rerepair detached retina
| 67121 | Remove eye implant material
| 67218 | Treatment of retinal lesion
| 67220 | Treatment of choroid lesion
| 67255 | Reinforce/graft eye wall
0238 | Level I Repair and Plastic Eye Procedures |  | T | 2.80 | $135.76 | $58.96 | $27.15
| 67345 | Destroy nerve of eye muscle
| 67505 | Inject/treat eye socket
| 67700 | Drainage of eyelid abscess
| 67800 | Remove eyelid lesion
| 67805 | Remove eyelid lesions
| 67810 | Biopsy of eyelid
| 67820 | Revise eyelashes
| 67825 | Revise eyelashes
| 67938 | Remove eyelid foreign body
| 68400 | Incise/drain tear gland
| 68440 | Incise tear duct opening
| 68705 | Revise tear duct opening
| 68760 | Close tear duct opening
0239 | Level II Repair and Plastic Eye Procedures |  | T | 6.26 | $303.53 | $123.42 | $60.71
| 65435 | Curette/treat cornea
| 67415 | Aspiration, orbital contents
| 67515 | Inject/treat eye socket
| 67599 | Orbit surgery procedure
| 67710 | Incision of eyelid
| 67801 | Remove eyelid lesions
| 67830 | Revise eyelashes
| 67840 | Remove eyelid lesion
| 67850 | Treat eyelid lesion
| 67875 | Closure of eyelid by suture
| 67915 | Repair eyelid defect
| 67922 | Repair eyelid defect
| 68040 | Treatment of eyelid lesions
| 68115 | Remove eyelid lining lesion
| 68135 | Remove eyelid lining lesion
| 68399 | Eyelid lining surgery
0240 | Level III Repair and Plastic Eye Procedures |  | T | 13.47 | $653.12 | $315.31 | $130.62
| 65125 | Revise ocular implant
| 65175 | Removal of ocular implant
| 65270 | Repair of eye wound
| 65600 | Revision of cornea
| 67250 | Reinforce eye wall
| 67715 | Incision of eyelid fold
| 67808 | Remove eyelid lesion(s)
| 67835 | Revise eyelashes
| 67882 | Revision of eyelid
| 67900 | Repair brow defect
| 67901 | Repair eyelid defect
| 67902 | Repair eyelid defect
| 67903 | Repair eyelid defect
| 67904 | Repair eyelid defect
| 67906 | Repair eyelid defect
| 67908 | Repair eyelid defect
| 67909 | Revise eyelid defect
| 67911 | Revise eyelid defect
| 67914 | Repair eyelid defect
| 67916 | Repair eyelid defect
| 67917 | Repair eyelid defect
| 67921 | Repair eyelid defect
| 67923 | Repair eyelid defect
| 67924 | Repair eyelid defect
| 67930 | Repair eyelid wound
| 67935 | Repair eyelid wound
| 67950 | Revision of eyelid
| 67961 | Revision of eyelid
| 67966 | Revision of eyelid
| 67975 | Reconstruction of eyelid
| 67999 | Revision of eyelid
| 68020 | Incise/drain eyelid lining
| 68320 | Revise/graft eyelid lining
| 68340 | Separate eyelid adhesions
| 68420 | Incise/drain tear sac
| 68510 | Biopsy of tear gland
| 68525 | Biopsy of tear sac
| 68530 | Clearance of tear duct
| 68770 | Close tear system fistula
| 68811 | Probe nasolacrimal duct
| 68815 | Probe nasolacrimal duct
0241 | Level IV Repair and Plastic Eye Procedures |  | T | 16.60 | $804.89 | $384.47 | $160.98
| 65093 | Revise eye with implant
| 65130 | Insert ocular implant
| 65135 | Insert ocular implant
| 65150 | Revise ocular implant
| 67400 | Explore/biopsy eye socket
| 67405 | Explore/drain eye socket
| 67412 | Explore/treat eye socket
| 67413 | Explore/treat eye socket
| 67560 | Revise eye socket implant
| 67971 | Reconstruction of eyelid
| 67973 | Reconstruction of eyelid
| 67974 | Reconstruction of eyelid
| 68326 | Revise/graft eyelid lining
| 68328 | Revise/graft eyelid lining
| 68335 | Revise/graft eyelid lining
| 68500 | Removal of tear gland
| 68505 | Partial removal, tear gland
| 68520 | Removal of tear sac
| 68540 | Remove tear gland lesion
| 68700 | Repair tear ducts
| 68745 | Create tear duct drain
0242 | Level V Repair and Plastic Eye Procedures |  | T | 23.70 | $1,149.14 | $597.36 | $229.83
| 65091 | Revise eye
| 65101 | Removal of eye
| 65103 | Remove eye/insert implant
| 65105 | Remove eye/attach implant
| 65110 | Removal of eye
| 65112 | Remove eye/revise socket
| 65114 | Remove eye/revise socket
| 65140 | Attach ocular implant
| 65155 | Reinsert ocular implant
| 67414 | Explr/decompress eye socket
| 67420 | Explore/treat eye socket
| 67430 | Explore/treat eye socket
| 67440 | Explore/drain eye socket
| 67445 | Explr/decompress eye socket
| 67450 | Explore/biopsy eye socket
| 67550 | Insert eye socket implant
| 67570 | Decompress optic nerve
| 68325 | Revise/graft eyelid lining
| 68550 | Remove tear gland lesion
| 68720 | Create tear sac drain
| 68750 | Create tear duct drain
0243 | Strabismus/Muscle Procedures |  | T | 17.99 | $872.28 | $431.39 | $174.46
| 65290 | Repair of eye socket wound
| 67311 | Revise eye muscle
| 67312 | Revise two eye muscles
| 67314 | Revise eye muscle
| 67316 | Revise two eye muscles
| 67318 | Revise eye muscle(s)
| 67320 | Revise eye muscle(s) add-on
| 67331 | Eye surgery follow-up add-on
| 67332 | Rerevise eye muscles add-on
| 67334 | Revise eye muscle w/suture
| 67335 | Eye suture during surgery
| 67340 | Revise eye muscle add-on
| 67343 | Release eye tissue
| 67399 | Eye muscle surgery procedure
0244 | Corneal Transplant |  | T | 32.88 | $1,594.26 | $851.42 | $318.85
| 65710 | Corneal transplant
| 65730 | Corneal transplant
| 65750 | Corneal transplant
| 65755 | Corneal transplant
| 65770 | Revise cornea with implant
0245 | Cataract Procedures without IOL Insert |  | T | 26.55 | $1,287.33 | $623.85 | $257.47
| 66840 | Removal of lens material
| 66850 | Removal of lens material
| 66852 | Removal of lens material
| 66920 | Extraction of lens
| 66930 | Extraction of lens
| 66940 | Extraction of lens
0246 | Cataract Procedures with IOL Insert |  | T | 26.55 | $1,287.33 | $623.85 | $257.47
| 66983 | Remove cataract/insert lens
| 66984 | Remove cataract/insert lens
| 66985 | Insert lens prosthesis
| 66986 | Exchange lens prosthesis
0247 | Laser Eye Procedures Except Retinal |  | T | 4.89 | $237.10 | $112.86 | $47.42
| 65855 | Laser surgery of eye
| 65860 | Incise inner eye adhesions
| 66761 | Revision of iris
| 66762 | Revision of iris
| 66770 | Removal of inner eye lesion
| 66821 | After cataract laser surgery
| 66999 | Eye surgery procedure
| 67031 | Laser surgery, eye strands
0248 | Laser Retinal Procedures |  | T | 4.19 | $203.16 | $94.05 | $40.63
| 67105 | Repair detached retina
| 67145 | Treatment of retina
| 67210 | Treatment of retinal lesion
| 67228 | Treatment of retinal lesion
| 67299 | Eye surgery procedure
0250 | Nasal Cauterization/Packing |  | T | 2.21 | $107.16 | $38.54 | $21.43
| 30901 | Control of nosebleed
| 30903 | Control of nosebleed
| 30905 | Control of nosebleed
| 30906 | Repeat control of nosebleed
| 42960 | Control throat bleeding
| 42970 | Control nose/throat bleeding
0251 | Level I ENT Procedures |  | T | 1.68 | $81.46 | $27.99 | $16.29
| 21450 | Treat lower jaw fracture
| 21480 | Reset dislocated jaw
| 30000 | Drainage of nose lesion
| 30020 | Drainage of nose lesion
| 30300 | Remove nasal foreign body
| 30560 | Release of nasal adhesions
| 30999 | Nasal surgery procedure
| 31000 | Irrigation, maxillary sinus
| 40800 | Drainage of mouth lesion
| 40804 | Removal, foreign body, mouth
| 40806 | Incision of lip fold
| 40808 | Biopsy of mouth lesion
| 40818 | Excise oral mucosa for graft
| 40830 | Repair mouth laceration
| 41005 | Drainage of mouth lesion
| 41009 | Drainage of mouth lesion
| 41250 | Repair tongue laceration
| 41599 | Tongue and mouth surgery
| 41800 | Drainage of gum lesion
| 42000 | Drainage mouth roof lesion
| 42180 | Repair palate
| 42280 | Preparation, palate mold
| 42299 | Palate/uvula surgery
| 42310 | Drainage of salivary gland
| 42320 | Drainage of salivary gland
| 42700 | Drainage of tonsil abscess
| 42809 | Remove pharynx foreign body
| 69400 | Inflate middle ear canal
| 92502 | Ear and throat examination
0252 | Level II ENT Procedures |  | T | 5.18 | $251.16 | $114.24 | $50.23
| 20500 | Injection of sinus tract
| 21400 | Treat eye socket fracture
| 21493 | Treat hyoid bone fracture
| 21494 | Treat hyoid bone fracture
| 21899 | Neck/chest surgery procedure
| 30100 | Intranasal biopsy
| 30124 | Removal of nose lesion
| 30210 | Nasal sinus therapy
| 30220 | Insert nasal septal button
| 30801 | Cauterization, inner nose
| 31002 | Irrigation, sphenoid sinus
| 31299 | Sinus surgery procedure
| 40490 | Biopsy of lip
| 40801 | Drainage of mouth lesion
| 40805 | Removal, foreign body, mouth
| 40812 | Excise/repair mouth lesion
| 40819 | Excise lip or cheek fold
| 40899 | Mouth surgery procedure
| 41015 | Drainage of mouth lesion
| 41100 | Biopsy of tongue
| 41108 | Biopsy of floor of mouth
| 41820 | Excision, gum, each quadrant
| 41821 | Excision of gum flap
| 42100 | Biopsy roof of mouth
| 42140 | Excision of uvula
| 42325 | Create salivary cyst drain
| 42326 | Create salivary cyst drain
| 42330 | Removal of salivary stone
| 42650 | Dilation of salivary duct
| 42660 | Dilation of salivary duct
| 42800 | Biopsy of throat
| 42999 | Throat surgery procedure
| 69399 | Outer ear surgery procedure
| 69405 | Catheterize middle ear canal
| 69410 | Inset middle ear (baffle)
| 69420 | Incision of eardrum
| 69424 | Remove ventilating tube
| 69433 | Create eardrum opening
| 69979 | Temporal bone surgery
0253 | Level III ENT Procedures |  | T | 12.02 | $582.81 | $284.00 | $116.56
| 21031 | Remove exostosis, mandible
| 21032 | Remove exostosis, maxilla
| 21040 | Removal of jaw bone lesion
| 21085 | Prepare face/oral prosthesis
| 21089 | Prepare face/oral prosthesis
| 21282 | Revision of eyelid
| 21295 | Revision of jaw muscle/bone
| 21299 | Cranio/maxillofacial surgery
| 21300 | Treatment of skull fracture
| 21310 | Treatment of nose fracture
| 21315 | Treatment of nose fracture
| 21320 | Treatment of nose fracture
| 21325 | Treatment of nose fracture
| 21337 | Treat nasal septal fracture
| 21401 | Treat eye socket fracture
| 21440 | Treat dental ridge fracture
| 21452 | Treat lower jaw fracture
| 21485 | Reset dislocated jaw
| 21497 | Interdental wiring
| 21499 | Head surgery procedure
| 30110 | Removal of nose polyp(s)
| 30115 | Removal of nose polyp(s)
| 30117 | Removal of intranasal lesion
| 30120 | Revision of nose
| 30130 | Removal of turbinate bones
| 30140 | Removal of turbinate bones
| 30200 | Injection treatment of nose
| 30310 | Remove nasal foreign body
| 30320 | Remove nasal foreign body
| 30802 | Cauterization, inner nose
| 30930 | Therapy, fracture of nose
| 31020 | Exploration, maxillary sinus
| 31585 | Treat larynx fracture
| 31599 | Larynx surgery procedure
| 31612 | Puncture/clear windpipe
| 31820 | Closure of windpipe lesion
| 40500 | Partial excision of lip
| 40520 | Partial excision of lip
| 40650 | Repair lip
| 40652 | Repair lip
| 40799 | Lip surgery procedure
| 40810 | Excision of mouth lesion
| 40814 | Excise/repair mouth lesion
| 40816 | Excision of mouth lesion
| 40820 | Treatment of mouth lesion
| 40831 | Repair mouth laceration
| 41000 | Drainage of mouth lesion
| 41006 | Drainage of mouth lesion
| 41007 | Drainage of mouth lesion
| 41008 | Drainage of mouth lesion
| 41010 | Incision of tongue fold
| 41016 | Drainage of mouth lesion
| 41017 | Drainage of mouth lesion
| 41018 | Drainage of mouth lesion
| 41105 | Biopsy of tongue
| 41110 | Excision of tongue lesion
| 41112 | Excision of tongue lesion
| 41113 | Excision of tongue lesion
| 41115 | Excision of tongue fold
| 41116 | Excision of mouth lesion
| 41251 | Repair tongue laceration
| 41252 | Repair tongue laceration
| 41500 | Fixation of tongue
| 41510 | Tongue to lip surgery
| 41520 | Reconstruction, tongue fold
| 41805 | Removal foreign body, gum
| 41806 | Removal foreign body, jawbone
| 41822 | Excision of gum lesion
| 41823 | Excision of gum lesion
| 41825 | Excision of gum lesion
| 41826 | Excision of gum lesion
| 41827 | Excision of gum lesion
| 41828 | Excision of gum lesion
| 41830 | Removal of gum tissue
| 41850 | Treatment of gum lesion
| 41870 | Gum graft
| 41872 | Repair gum
| 41874 | Repair tooth socket
| 41899 | Dental surgery procedure
| 42104 | Excision lesion, mouth roof
| 42106 | Excision lesion, mouth roof
| 42160 | Treatment mouth roof lesion
| 42260 | Repair nose to lip fistula
| 42281 | Insertion, palate prosthesis
| 42300 | Drainage of salivary gland
| 42305 | Drainage of salivary gland
| 42335 | Removal of salivary stone
| 42340 | Removal of salivary stone
| 42405 | Biopsy of salivary gland
| 42408 | Excision of salivary cyst
| 42409 | Drainage of salivary cyst
| 42450 | Excise sublingual gland
| 42600 | Closure of salivary fistula
| 42665 | Ligation of salivary duct
| 42699 | Salivary surgery procedure
| 42720 | Drainage of throat abscess
| 42802 | Biopsy of throat
| 42804 | Biopsy of upper nose/throat
| 42806 | Biopsy of upper nose/throat
| 42808 | Excise pharynx lesion
| 42810 | Excision of neck cyst
| 42900 | Repair throat wound
| 42972 | Control nose/throat bleeding
| 60000 | Drain thyroid/tongue cyst
| 69105 | Biopsy of external ear canal
| 69120 | Removal of external ear
| 69222 | Clean out mastoid cavity
| 69421 | Incision of eardrum
| 69436 | Create eardrum opening
| 69440 | Exploration of middle ear
| 69540 | Remove ear lesion
| 69610 | Repair of eardrum
| 69620 | Repair of eardrum
| 69799 | Middle ear surgery procedure
| 69949 | Inner ear surgery procedure
0254 | Level IV ENT Procedures |  | T | 12.45 | $603.66 | $272.41 | $120.73
| 21010 | Incision of jaw joint
| 21015 | Resection of facial tumor
| 21030 | Removal of face bone lesion
| 21076 | Prepare face/oral prosthesis
| 21110 | Interdental fixation
| 21120 | Reconstruction of chin
| 21121 | Reconstruction of chin
| 21122 | Reconstruction of chin
| 21123 | Reconstruction of chin
| 21125 | Augmentation, lower jaw bone
| 21137 | Reduction of forehead
| 21181 | Contour cranial bone lesion
| 21235 | Ear cartilage graft
| 21296 | Revision of jaw muscle/bone
| 21330 | Treatment of nose fracture
| 21335 | Treatment of nose fracture
| 21338 | Treat nasoethmoid fracture
| 21339 | Treat nasoethmoid fracture
| 21345 | Treat nose/jaw fracture
| 21421 | Treat mouth roof fracture
| 21445 | Treat dental ridge fracture
| 21451 | Treat lower jaw fracture
| 21454 | Treat lower jaw fracture
| 30118 | Removal of intranasal lesion
| 30430 | Revision of nose
| 30630 | Repair nasal septum defect
| 31040 | Exploration behind upper jaw
| 31070 | Exploration of frontal sinus
| 31600 | Incision of windpipe
| 31601 | Incision of windpipe
| 31603 | Incision of windpipe
| 31605 | Incision of windpipe
| 31610 | Incision of windpipe
| 31611 | Surgery/speech prosthesis
| 31613 | Repair windpipe opening
| 31825 | Repair of windpipe defect
| 31830 | Revise windpipe scar
| 40510 | Partial excision of lip
| 40525 | Reconstruct lip with flap
| 40527 | Reconstruct lip with flap
| 40530 | Partial removal of lip
| 40654 | Repair lip
| 40840 | Reconstruction of mouth
| 40842 | Reconstruction of mouth
| 40843 | Reconstruction of mouth
| 41114 | Excision of tongue lesion
| 42107 | Excision lesion, mouth roof
| 42145 | Repair palate, pharynx/uvula
| 42235 | Repair palate
| 42500 | Repair salivary duct
| 42950 | Reconstruction of throat
| 42955 | Surgical opening of throat
| 43020 | Incision of esophagus
| 69140 | Remove ear canal lesion(s)
| 69300 | Revise external ear
| 69650 | Release middle ear bone
0256 | Level V ENT Procedures |  | T | 25.40 | $1,231.57 | $623.05 | $246.31
| 21025 | Excision of bone, lower jaw
| 21026 | Excision of facial bone(s)
| 21029 | Contour of face bone lesion
| 21034 | Removal of face bone lesion
| 21041 | Removal of jaw bone lesion
| 21044 | Removal of jaw bone lesion
| 21050 | Removal of jaw joint
| 21060 | Remove jaw joint cartilage
| 21070 | Remove coronoid process
| 21077 | Prepare face/oral prosthesis
| 21079 | Prepare face/oral prosthesis
| 21080 | Prepare face/oral prosthesis
| 21081 | Prepare face/oral prosthesis
| 21082 | Prepare face/oral prosthesis
| 21083 | Prepare face/oral prosthesis
| 21084 | Prepare face/oral prosthesis
| 21086 | Prepare face/oral prosthesis
| 21087 | Prepare face/oral prosthesis
| 21088 | Prepare face/oral prosthesis
| 21100 | Maxillofacial fixation
| 21127 | Augmentation, lower jaw bone
| 21138 | Reduction of forehead
| 21139 | Reduction of forehead
| 21198 | Reconstruct lower jaw bone
| 21206 | Reconstruct upper jaw bone
| 21208 | Augmentation of facial bones
| 21209 | Reduction of facial bones
| 21210 | Face bone graft
| 21215 | Lower jaw bone graft
| 21230 | Rib cartilage graft
| 21240 | Reconstruction of jaw joint
| 21242 | Reconstruction of jaw joint
| 21243 | Reconstruction of jaw joint
| 21244 | Reconstruction of lower jaw
| 21245 | Reconstruction of jaw
| 21246 | Reconstruction of jaw
| 21248 | Reconstruction of jaw
| 21249 | Reconstruction of jaw
| 21260 | Revise eye sockets
| 21261 | Revise eye sockets
| 21263 | Revise eye sockets
| 21267 | Revise eye sockets
| 21270 | Augmentation, cheek bone
| 21275 | Revision, orbitofacial bones
| 21280 | Revision of eyelid
| 21340 | Treatment of nose fracture
| 21355 | Treat cheek bone fracture
| 21406 | Treat eye socket fracture
| 21407 | Treat eye socket fracture
| 21453 | Treat lower jaw fracture
| 21461 | Treat lower jaw fracture
| 21462 | Treat lower jaw fracture
| 21465 | Treat lower jaw fracture
| 21470 | Treat lower jaw fracture
| 21490 | Repair dislocated jaw
| 30125 | Removal of nose lesion
| 30150 | Partial removal of nose
| 30160 | Removal of nose
| 30400 | Reconstruction of nose
| 30410 | Reconstruction of nose
| 30420 | Reconstruction of nose
| 30435 | Revision of nose
| 30450 | Revision of nose
| 30460 | Revision of nose
| 30462 | Revision of nose
| 30520 | Repair of nasal septum
| 30540 | Repair nasal defect
| 30545 | Repair nasal defect
| 30580 | Repair upper jaw fistula
| 30600 | Repair mouth/nose fistula
| 30620 | Intranasal reconstruction
| 31030 | Exploration, maxillary sinus
| 31032 | Explore sinus, remove polyps
| 31050 | Exploration, sphenoid sinus
| 31051 | Sphenoid sinus surgery
| 31075 | Exploration of frontal sinus
| 31080 | Removal of frontal sinus
| 31081 | Removal of frontal sinus
| 31084 | Removal of frontal sinus
| 31085 | Removal of frontal sinus
| 31086 | Removal of frontal sinus
| 31087 | Removal of frontal sinus
| 31090 | Exploration of sinuses
| 31200 | Removal of ethmoid sinus
| 31201 | Removal of ethmoid sinus
| 31205 | Removal of ethmoid sinus
| 31300 | Removal of larynx lesion
| 31320 | Diagnostic incision, larynx
| 31375 | Partial removal of larynx
| 31400 | Revision of larynx
| 31420 | Removal of epiglottis
| 31580 | Revision of larynx
| 31586 | Treat larynx fracture
| 31588 | Revision of larynx
| 31590 | Reinnervate larynx
| 31595 | Larynx nerve surgery
| 31614 | Repair windpipe opening
| 31750 | Repair of windpipe
| 31755 | Repair of windpipe
| 40700 | Repair cleft lip/nasal
| 40701 | Repair cleft lip/nasal
| 40702 | Repair cleft lip/nasal
| 40720 | Repair cleft lip/nasal
| 40761 | Repair cleft lip/nasal
| 40844 | Reconstruction of mouth
| 40845 | Reconstruction of mouth
| 41120 | Partial removal of tongue
| 42120 | Remove palate/lesion
| 42182 | Repair palate
| 42200 | Reconstruct cleft palate
| 42205 | Reconstruct cleft palate
| 42210 | Reconstruct cleft palate
| 42215 | Reconstruct cleft palate
| 42220 | Reconstruct cleft palate
| 42225 | Reconstruct cleft palate
| 42226 | Lengthening of palate
| 42227 | Lengthening of palate
| 42410 | Excise parotid gland/lesion
| 42415 | Excise parotid gland/lesion
| 42420 | Excise parotid gland/lesion
| 42425 | Excise parotid gland/lesion
| 42440 | Excise submaxillary gland
| 42505 | Repair salivary duct
| 42507 | Parotid duct diversion
| 42508 | Parotid duct diversion
| 42509 | Parotid duct diversion
| 42510 | Parotid duct diversion
| 42725 | Drainage of throat abscess
| 42815 | Excision of neck cyst
| 42844 | Extensive surgery of throat
| 42890 | Partial removal of pharynx
| 42892 | Revision of pharyngeal walls
| 42962 | Control throat bleeding
| 60500 | Explore parathyroid glands
| 61330 | Decompress eye socket
| 69310 | Rebuild outer ear canal
| 69320 | Rebuild outer ear canal
| 69450 | Eardrum revision
| 69501 | Mastoidectomy
| 69505 | Remove mastoid structures
| 69511 | Extensive mastoid surgery
| 69530 | Extensive mastoid surgery
| 69550 | Remove ear lesion
| 69552 | Remove ear lesion
| 69601 | Mastoid surgery revision
| 69602 | Mastoid surgery revision
| 69603 | Mastoid surgery revision
| 69604 | Mastoid surgery revision
| 69605 | Mastoid surgery revision
| 69631 | Repair eardrum structures
| 69632 | Rebuild eardrum structures
| 69633 | Rebuild eardrum structures
| 69635 | Repair eardrum structures
| 69636 | Rebuild eardrum structures
| 69637 | Rebuild eardrum structures
| 69641 | Revise middle ear & mastoid
| 69642 | Revise middle ear & mastoid
| 69643 | Revise middle ear & mastoid
| 69644 | Revise middle ear & mastoid
| 69645 | Revise middle ear & mastoid
| 69646 | Revise middle ear & mastoid
| 69660 | Revise middle ear bone
| 69661 | Revise middle ear bone
| 69662 | Revise middle ear bone
| 69666 | Repair middle ear structures
| 69667 | Repair middle ear structures
| 69670 | Remove mastoid air cells
| 69676 | Remove middle ear nerve
| 69700 | Close mastoid fistula
| 69711 | Remove/repair hearing aid
| 69720 | Release facial nerve
| 69725 | Release facial nerve
| 69740 | Repair facial nerve
| 69745 | Repair facial nerve
| 69801 | Incise inner ear
| 69802 | Incise inner ear
| 69805 | Explore inner ear
| 69806 | Explore inner ear
| 69820 | Establish inner ear window
| 69840 | Revise inner ear window
| 69905 | Remove inner ear
| 69910 | Remove inner ear & mastoid
| 69915 | Incise inner ear nerve
| 69955 | Release facial nerve
| 69960 | Release inner ear canal
0257 | Implantation of Cochlear Device |  | T | 115.31 | $5,591.04 | $3,498.58 | $1,118.21
| 69930 | Implant cochlear device
0258 | Tonsil and Adenoid Procedures |  | T | 18.62 | $902.83 | $462.81 | $180.57
| 42820 | Remove tonsils and adenoids
| 42821 | Remove tonsils and adenoids
| 42825 | Removal of tonsils
| 42826 | Removal of tonsils
| 42830 | Removal of adenoids
| 42831 | Removal of adenoids
| 42835 | Removal of adenoids
| 42836 | Removal of adenoids
| 42860 | Excision of tonsil tags
| 42870 | Excision of lingual tonsil
0260 | Level I Plain Film Except Teeth |  | X | 0.79 | $38.30 | $22.02 | $7.66
| 70030 | X-ray eye for foreign body
| 70100 | X-ray exam of jaw
| 70110 | X-ray exam of jaw
| 70120 | X-ray exam of mastoids
| 70130 | X-ray exam of mastoids
| 70140 | X-ray exam of facial bones
| 70150 | X-ray exam of facial bones
| 70160 | X-ray exam of nasal bones
| 70190 | X-ray exam of eye sockets
| 70200 | X-ray exam of eye sockets
| 70210 | X-ray exam of sinuses
| 70220 | X-ray exam of sinuses
| 70240 | X-ray exam, pituitary saddle
| 70250 | X-ray exam of skull
| 70328 | X-ray exam of jaw joint
| 70330 | X-ray exam of jaw joints
| 70350 | X-ray head for orthodontia
| 70355 | Panoramic x-ray of jaws
| 70360 | X-ray exam of neck
| 70380 | X-ray exam of salivary gland
| 71010 | Chest x-ray
| 71015 | Chest x-ray
| 71020 | Chest x-ray
| 71021 | Chest x-ray
| 71022 | Chest x-ray
| 71030 | Chest x-ray
| 71035 | Chest x-ray
| 71100 | X-ray exam of ribs
| 71101 | X-ray exam of ribs/chest
| 71110 | X-ray exam of ribs
| 71120 | X-ray exam of breastbone
| 71130 | X-ray exam of breastbone
| 72020 | X-ray exam of spine
| 72040 | X-ray exam of neck spine
| 72069 | X-ray exam of trunk spine
| 72070 | X-ray exam of thoracic spine
| 72072 | X-ray exam of thoracic spine
| 72074 | X-ray exam of thoracic spine
| 72080 | X-ray exam of trunk spine
| 72090 | X-ray exam of trunk spine
| 72100 | X-ray exam of lower spine
| 72120 | X-ray exam of lower spine
| 72170 | X-ray exam of pelvis
| 72190 | X-ray exam of pelvis
| 72200 | X-ray exam sacroiliac joints
| 72202 | X-ray exam sacroiliac joints
| 72220 | X-ray exam of tailbone
| 73000 | X-ray exam of collar bone
| 73010 | X-ray exam of shoulder blade
| 73020 | X-ray exam of shoulder
| 73030 | X-ray exam of shoulder
| 73050 | X-ray exam of shoulders
| 73060 | X-ray exam of humerus
| 73070 | X-ray exam of elbow
| 73080 | X-ray exam of elbow
| 73090 | X-ray exam of forearm
| 73092 | X-ray exam of arm, infant
| 73100 | X-ray exam of wrist
| 73110 | X-ray exam of wrist
| 73120 | X-ray exam of hand
| 73130 | X-ray exam of hand
| 73140 | X-ray exam of finger(s)
| 73500 | X-ray exam of hip
| 73510 | X-ray exam of hip
| 73520 | X-ray exam of hips
| 73540 | X-ray exam of pelvis & hips
| 73550 | X-ray exam of thigh
| 73560 | X-ray exam of knee, 1 or 2
| 73562 | X-ray exam of knee, 3
| 73564 | X-ray exam, knee, 4 or more
| 73565 | X-ray exam of knees
| 73590 | X-ray exam of lower leg
| 73600 | X-ray exam of ankle
| 73610 | X-ray exam of ankle
| 73620 | X-ray exam of foot
| 73630 | X-ray exam of foot
| 73650 | X-ray exam of heel
| 73660 | X-ray exam of toe(s)
| 74000 | X-ray exam of abdomen
| 74010 | X-ray exam of abdomen
| 74020 | X-ray exam of abdomen
| 74710 | X-ray measurement of pelvis
| 76010 | X-ray, nose to rectum
| 76040 | X-rays, bone evaluation
| 76066 | Joint(s) survey, single film
| 76098 | X-ray exam, breast specimen
| 76150 | X-ray exam, dry process
| 76499 | Radiographic procedure
| 77417 | Radiology port film(s)
0261 | Level II Plain Film Except Teeth Including Bone Density Measurement |  | X | 1.38 | $66.91 | $38.77 | $13.38
| 70134 | X-ray exam of middle ear
| 70260 | X-ray exam of skull
| 71111 | X-ray exam of ribs/chest
| 72010 | X-ray exam of spine
| 72050 | X-ray exam of neck spine
| 72052 | X-ray exam of neck spine
| 72110 | X-ray exam of lower spine
| 72114 | X-ray exam of lower spine
| 73530 | X-ray exam of hip
| 73592 | X-ray exam of leg, infant
| 74022 | X-ray exam series, abdomen
| 76006 | X-ray stress view
| 76020 | X-rays for bone age
| 76061 | X-rays, bone survey
| 76062 | X-rays, bone survey
| 76065 | X-rays, bone evaluation
| 76075 | Dual energy x-ray study
| 76076 | Dual energy x-ray study
| 76078 | Photodensitometry
| 76100 | X-ray exam of body section
| 76120 | Cinematic x-rays
| 76125 | Cinematic x-rays add-on
| 78350 | Bone mineral, single photon
| G0130 | Single energy x-ray study
| G0131 | CT scan, bone density study
| G0132 | CT scan, bone density study
0262 | Plain Film of Teeth |  | X | 0.40 | $19.39 | $10.90 | $3.88
| 70300 | X-ray exam of teeth
| 70310 | X-ray exam of teeth
| 70320 | Full mouth x-ray of teeth
0263 | Level I Miscellaneous Radiology Procedures |  | X | 1.68 | $81.46 | $45.88 | $16.29
| 70170 | X-ray exam of tear duct
| 70373 | Contrast x-ray of larynx
| 70390 | X-ray exam of salivary duct
| 71040 | Contrast x-ray of bronchi
| 71060 | Contrast x-ray of bronchi
| 74190 | X-ray exam of peritoneum
| 74305 | X-ray bile ducts/pancreas
| 76080 | X-ray exam of fistula
| 76086 | X-ray of mammary duct
| 76088 | X-ray of mammary ducts
| 76096 | X-ray of needle wire, breast
| 76101 | Complex body section x-ray
0264 | Level II Miscellaneous Radiology Procedures |  | X | 3.83 | $185.71 | $108.97 | $37.14
| 74320 | Contrast x-ray of bile ducts
| 74328 | X-ray bile duct endoscopy
| 74329 | X-ray for pancreas endoscopy
| 74330 | X-ray bile/panc endoscopy
| 74350 | X-ray guide, stomach tube
| 74355 | X-ray guide, intestinal tube
| 74470 | X-ray exam of kidney lesion
| 74740 | X-ray, female genital tract
| 74742 | X-ray, fallopian tube
| 75801 | Lymph vessel x-ray, arm/leg
| 75803 | Lymph vessel x-ray, arms/legs
| 75805 | Lymph vessel x-ray, trunk
| 75807 | Lymph vessel x-ray, trunk
| 75809 | Nonvascular shunt, x-ray
| 75898 | Follow-up angiogram
| 76095 | Stereotactic breast biopsy
| 76102 | Complex body section x-rays
0265 | Level I Diagnostic Ultrasound Except Vascular |  | S | 1.17 | $56.73 | $38.08 | $11.35
| 76513 | Echo exam of eye, water bath
| 76529 | Echo exam of eye
| 76536 | Echo exam of head and neck
| 76645 | Echo exam of breast(s)
| 76810 | Echo exam of pregnant uterus
| 76815 | Echo exam of pregnant uterus
| 76816 | Echo exam follow-up/repeat
| 76857 | Echo exam of pelvis
| 76970 | Ultrasound exam follow-up
| 76977 | Us bone density measure
| G0050 | Residual urine by ultrasound
0266 | Level II Diagnostic Ultrasound Except Vascular |  | S | 1.79 | $86.79 | $57.35 | $17.36
| 76506 | Echo exam of head
| 76511 | Echo exam of eye
| 76512 | Echo exam of eye
| 76516 | Echo exam of eye
| 76519 | Echo exam of eye
| 76604 | Echo exam of chest
| 76700 | Echo exam of abdomen
| 76705 | Echo exam of abdomen
| 76770 | Echo exam abdomen back wall
| 76775 | Echo exam abdomen back wall
| 76778 | Echo exam kidney transplant
| 76800 | Echo exam spinal canal
| 76805 | Echo exam of pregnant uterus
| 76818 | Fetal biophysical profile
| 76830 | Echo exam, transvaginal
| 76831 | Echo exam, uterus
| 76856 | Echo exam of pelvis
| 76870 | Echo exam of scrotum
| 76872 | Echo exam, transrectal
| 76873 | Echograp trans r, pros study
| 76880 | Echo exam of extremity
| 76885 | Echo exam, infant hips
| 76886 | Echo exam, infant hips
| 76975 | GI endoscopic ultrasound
| 76986 | Echo exam at surgery
| 76999 | Echo examination procedure
0267 | Vascular Ultrasound |  | S | 2.72 | $131.88 | $80.06 | $26.38
| 93880 | Extracranial study
| 93882 | Extracranial study
| 93886 | Intracranial study
| 93888 | Intracranial study
| 93925 | Lower extremity study
| 93926 | Lower extremity study
| 93930 | Upper extremity study
| 93931 | Upper extremity study
| 93970 | Extremity study
| 93971 | Extremity study
| 93975 | Vascular study
| 93976 | Vascular study
| 93978 | Vascular study
| 93979 | Vascular study
| 93980 | Penile vascular study
| 93981 | Penile vascular study
| 93990 | Doppler flow testing
0268 | Guidance Under Ultrasound |  | X | 2.23 | $108.13 | $69.51 | $21.63
| 76930 | Echo guide for heart sac tap
| 76932 | Echo guide for heart biopsy
| 76934 | Echo guide for chest tap
| 76936 | Echo guide for artery repair
| 76938 | Echo exam for drainage
| 76941 | Echo guide for transfusion
| 76942 | Echo guide for biopsy
| 76945 | Echo guide, villus sampling
| 76946 | Echo guide for amniocentesis
| 76948 | Echo guide, ova aspiration
| 76950 | Echo guidance radiotherapy
| 76960 | Echo guidance radiotherapy
| 76965 | Echo guidance radiotherapy
| G0161 | Echo guide for cryo probes
0269 | Echocardiogram Except Transesophageal |  | S | 4.40 | $213.34 | $114.01 | $42.67
| 76825 | Echo exam of fetal heart
| 76826 | Echo exam of fetal heart
| 76827 | Echo exam of fetal heart
| 76828 | Echo exam of fetal heart
| 93303 | Echo transthoracic
| 93304 | Echo transthoracic
| 93307 | Echo exam of heart
| 93308 | Echo exam of heart
| 93320 | Doppler echo exam, heart
| 93321 | Doppler echo exam, heart
| 93325 | Doppler color flow add-on
| 93350 | Echo transthoracic
0270 | Transesophageal Echocardiogram |  | S | 5.55 | $269.10 | $150.26 | $53.82
| 93312 | Echo transesophageal
| 93313 | Echo transesophageal
| 93315 | Echo transesophageal
| 93316 | Echo transesophageal
0271 | Mammography |  | S | 0.70 | $33.94 | $19.50 | $6.79
| 76090 | Mammogram, one breast
| 76091 | Mammogram, both breasts
0272 | Level I Fluoroscopy |  | X | 1.40 | $67.88 | $39.00 | $13.58
| 70371 | Speech evaluation, complex
| 71023 | Chest x-ray and fluoroscopy
| 71034 | Chest x-ray and fluoroscopy
| 74340 | X-ray guide for GI tube
| 76000 | Fluoroscope examination
| 76003 | Needle localization by x-ray
0273 | Level II Fluoroscopy |  | X | 2.49 | $120.73 | $61.02 | $24.15
| 70370 | Throat x-ray & fluoroscopy
| 71036 | X-ray guidance for biopsy
| 71090 | X-ray & pacemaker insertion
| 75989 | Abscess drainage under x-ray
| 76001 | Fluoroscope exam, extensive
| 76005 | Fluoroguide for spine inject
0274 | Myelography |  | S | 4.83 | $234.19 | $128.12 | $46.84
| 70010 | Contrast x-ray of brain
| 70015 | Contrast x-ray of brain
| 72240 | Contrast x-ray of neck spine
| 72255 | Contrast x-ray, thorax spine
| 72265 | Contrast x-ray, lower spine
| 72270 | Contrast x-ray of spine
| 72275 | Epidurography
| 72285 | X-ray c/t spine disk
| 72295 | X-ray of lower spine disk
0275 | Arthrography |  | S | 2.74 | $132.85 | $72.26 | $26.57
| 70332 | X-ray exam of jaw joint
| 73040 | Contrast x-ray of shoulder
| 73085 | Contrast x-ray of elbow
| 73115 | Contrast x-ray of wrist
| 73525 | Contrast x-ray of hip
| 73542 | X-ray exam, sacroiliac joint
| 73580 | Contrast x-ray of knee joint
| 73615 | Contrast x-ray of ankle
0276 | Level I Digestive Radiology |  | S | 1.79 | $86.79 | $49.78 | $17.36
| 74210 | Contrst x-ray exam of throat
| 74220 | Contrast x-ray, esophagus
| 74230 | Cinema x-ray, throat/esoph
| 74240 | X-ray exam, upper gi tract
| 74241 | X-ray exam, upper gi tract
| 74246 | Contrst x-ray uppr gi tract
| 74247 | Contrst x-ray uppr gi tract
| 74250 | X-ray exam of small bowel
| 74270 | Contrast x-ray exam of colon
| 74283 | Contrast x-ray exam of colon
| 74290 | Contrast x-ray, gallbladder
| 74291 | Contrast x-rays, gallbladder
0277 | Level II Digestive Radiology |  | S | 2.47 | $119.76 | $69.28 | $23.95
| 74245 | X-ray exam, upper gi tract
| 74249 | Contrst x-ray uppr gi tract
| 74251 | X-ray exam of small bowel
| 74260 | X-ray exam of small bowel
| 74280 | Contrast x-ray exam of colon
0278 | Diagnostic Urography |  | S | 2.85 | $138.19 | $81.67 | $27.64
| 74400 | Contrst x-ray, urinary tract
| 74410 | Contrst x-ray, urinary tract
| 74415 | Contrst x-ray, urinary tract
| 74420 | Contrst x-ray, urinary tract
| 74425 | Contrst x-ray, urinary tract
| 74430 | Contrast x-ray, bladder
| 74440 | X-ray, male genital tract
| 74445 | X-ray exam of penis
| 74450 | X-ray, urethra/bladder
| 74455 | X-ray, urethra/bladder
| 74775 | X-ray exam of perineum
0279 | Level I Diagnostic Angiography and Venography Except Extremity |  | S | 6.30 | $305.47 | $174.57 | $61.09
| 75660 | Artery x-rays, head & neck
| 75662 | Artery x-rays, head & neck
| 75685 | Artery x-rays, spine
| 75705 | Artery x-rays, spine
| 75741 | Artery x-rays, lung
| 75746 | Artery x-rays, lung
| 75756 | Artery x-rays, chest
| 75810 | Vein x-ray, spleen/liver
| 75825 | Vein x-ray, trunk
| 75827 | Vein x-ray, chest
| 75831 | Vein x-ray, kidney
| 75833 | Vein x-ray, kidneys
| 75840 | Vein x-ray, adrenal gland
| 75842 | Vein x-ray, adrenal glands
| 75860 | Vein x-ray, neck
| 75870 | Vein x-ray, skull
| 75872 | Vein x-ray, skull
| 75880 | Vein x-ray, eye socket
| 75885 | Vein x-ray, liver
| 75889 | Vein x-ray, liver
| 75891 | Vein x-ray, liver
0280 | Level II Diagnostic Angiography and Venography Except Extremity |  | S | 14.98 | $726.34 | $380.12 | $145.27
| 75600 | Contrast x-ray exam of aorta
| 75605 | Contrast x-ray exam of aorta
| 75625 | Contrast x-ray exam of aorta
| 75630 | X-ray aorta, leg arteries
| 75650 | Artery x-rays, head & neck
| 75658 | Artery x-rays, arm
| 75665 | Artery x-rays, head & neck
| 75671 | Artery x-rays, head & neck
| 75676 | Artery x-rays, neck
| 75680 | Artery x-rays, neck
| 75710 | Artery x-rays, arm/leg
| 75716 | Artery x-rays, arms/legs
| 75722 | Artery x-rays, kidney
| 75724 | Artery x-rays, kidneys
| 75726 | Artery x-rays, abdomen
| 75731 | Artery x-rays, adrenal gland
| 75733 | Artery x-rays, adrenals
| 75736 | Artery x-rays, pelvis
| 75743 | Artery x-rays, lungs
| 75774 | Artery x-ray, each vessel
| 75887 | Vein x-ray, liver
0281 | Venography of Extremity |  | S | 4.40 | $213.34 | $115.16 | $42.67
| 75790 | Visualize A-V shunt
| 75820 | Vein x-ray, arm/leg
| 75822 | Vein x-ray, arms/legs
0282 | Level I Computerized Axial Tomography |  | S | 2.38 | $115.40 | $94.51 | $23.08
| 70486 | Cat scan of face/jaw
| 76370 | CAT scan for therapy guide
| 76375 | 3d/holograph reconstr add-on
| 76380 | CAT scan follow-up study
0283 | Level II Computerized Axial Tomography |  | S | 4.89 | $237.10 | $179.39 | $47.42
| 70450 | CAT scan of head or brain
| 70460 | Contrast CAT scan of head
| 70470 | Contrast CAT scans of head
| 70480 | CAT scan of skull
| 70481 | Contrast CAT scan of skull
| 70482 | Contrast CAT scans of skull
| 70487 | Contrast CAT scan, face/jaw
| 70488 | Contrast cat scans, face/jaw
| 70490 | CAT scan of neck tissue
| 70491 | Contrast CAT of neck tissue
| 70492 | Contrast CAT of neck tissue
| 71250 | Cat scan of chest
| 71260 | Contrast CAT scan of chest
| 71270 | Contrast CAT scans of chest
| 72125 | CAT scan of neck spine
| 72126 | Contrast CAT scan of neck
| 72127 | Contrast CAT scans of neck
| 72128 | CAT scan of thorax spine
| 72129 | Contrast CAT scan of thorax
| 72130 | Contrast CAT scans of thorax
| 72131 | CAT scan of lower spine
| 72132 | Contrast CAT of lower spine
| 72133 | Contrst cat scans, low spine
| 72192 | CAT scan of pelvis
| 72193 | Contrast CAT scan of pelvis
| 72194 | Contrast CAT scans of pelvis
| 73200 | CAT scan of arm
| 73201 | Contrast CAT scan of arm
| 73202 | Contrast CAT scans of arm
| 73700 | CAT scan of leg
| 73701 | Contrast CAT scan of leg
| 73702 | Contrast CAT scans of leg
| 74150 | CAT scan of abdomen
| 74160 | Contrast CAT scan of abdomen
| 74170 | Contrast CAT scans, abdomen
| 76355 | CAT scan for localization
| 76360 | CAT scan for needle biopsy
| 76365 | CAT scan for cyst aspiration
0284 | Magnetic Resonance Imaging |  | S | 8.02 | $388.87 | $257.39 | $77.77
| 70336 | Magnetic image, jaw joint
| 70540 | Magnetic image, face/neck
| 70541 | Magnetic image, head (MRA)
| 70551 | Magnetic image, brain (MRI)
| 70552 | Magnetic image, brain (MRI)
| 70553 | Magnetic image, brain (mri)
| 71550 | Magnetic image, chest (mri)
| 72141 | Magnetic image, neck spine
| 72142 | Magnetic image, neck spine
| 72146 | Magnetic image, chest spine
| 72147 | Magnetic image, chest spine
| 72148 | Magnetic image, lumbar spine
| 72149 | Magnetic image, lumbar spine
| 72156 | Magnetic image, neck spine
| 72157 | Magnetic image, chest spine
| 72158 | Magnetic image, lumbar spine
| 72196 | Magnetic image, pelvis
| 73220 | Magnetic image, arm/hand
| 73221 | Magnetic image, joint of arm
| 73720 | Magnetic image, leg/foot
| 73721 | Magnetic image, joint of leg
| 74181 | Magnetic image/abdomen (mri)
| 75552 | Magnetic image, myocardium
| 75553 | Magnetic image, myocardium
| 75554 | Cardiac MRI/function
| 75555 | Cardiac MRI/limited study
| 76093 | Magnetic image, breast
| 76094 | Magnetic image, both breasts
| 76390 | Mr spectroscopy
| 76400 | Magnetic image, bone marrow
0285 | Positron Emission Tomography (PET) |  | S | 15.06 | $730.22 | $415.21 | $146.04
| G0030 | PET imaging prev PET single
| G0031 | PET imaging prev PET multple
| G0032 | PET follow SPECT 78464 singl
| G0033 | PET follow SPECT 78464 mult
| G0034 | PET follow SPECT 76865 singl
| G0035 | PET follow SPECT 78465 mult
| G0036 | PET follow cornry angio sing
| G0037 | PET follow cornry angio mult
| G0038 | PET follow myocard perf sing
| G0039 | PET follow myocard perf mult
| G0040 | PET follow stress echo singl
| G0041 | PET follow stress echo mult
| G0042 | PET follow ventriculogm sing
| G0043 | PET follow ventriculogm mult
| G0044 | PET following rest ECG singl
| G0045 | PET following rest ECG mult
| G0046 | PET follow stress ECG singl
| G0047 | PET follow stress ECG mult
0286 | Myocardial Scans |  | S | 7.28 | $352.99 | $200.04 | $70.60
| 78460 | Heart muscle blood, single
| 78461 | Heart muscle blood, multiple
| 78464 | Heart image (3d), single
| 78465 | Heart image (3d), multiple
| 78472 | Gated heart, planar, single
| 78473 | Gated heart, multiple
| 78478 | Heart wall motion add-on
| 78480 | Heart function add-on
| 78481 | Heart first pass, single
| 78483 | Heart first pass, multiple
0290 | Standard Non-Imaging Nuclear Medicine |  | S | 1.94 | $94.06 | $55.51 | $18.81
| 78000 | Thyroid, single uptake
| 78001 | Thyroid, multiple uptakes
| 78003 | Thyroid suppress/stimul
| 78010 | Thyroid imaging
| 78011 | Thyroid imaging with flow
| 78099 | Endocrine nuclear procedure
| 78199 | Blood/lymph nuclear exam
| 78270 | Vit B-12 absorption exam
| 78271 | Vit B-12 absorp exam, IF
| 78282 | GI protein loss exam
| 78299 | GI nuclear procedure
| 78399 | Musculoskeletal nuclear exam
0291 | Level I Diagnostic Nuclear Medicine Excluding Myocardial Scans |  | S | 3.15 | $152.73 | $93.14 | $30.55
| 78006 | Thyroid imaging with uptake
| 78007 | Thyroid image, mult uptakes
| 78015 | Thyroid met imaging
| 78102 | Bone marrow imaging, ltd
| 78110 | Plasma volume, single
| 78111 | Plasma volume, multiple
| 78120 | Red cell mass, single
| 78121 | Red cell mass, multiple
| 78185 | Spleen imaging
| 78190 | Platelet survival, kinetics
| 78191 | Platelet survival
| 78201 | Liver imaging
| 78202 | Liver imaging with flow
| 78215 | Liver and spleen imaging
| 78216 | Liver & spleen image/flow
| 78230 | Salivary gland imaging
| 78231 | Serial salivary imaging
| 78232 | Salivary gland function exam
| 78258 | Esophageal motility study
| 78261 | Gastric mucosa imaging
| 78262 | Gastroesophageal reflux exam
| 78272 | Vit B-12 absorp, combined
| 78290 | Meckel's divert exam
| 78300 | Bone imaging, limited area
| 78445 | Vascular flow imaging
| 78455 | Venous thrombosis study
| 78456 | Acute venous thrombus image
| 78457 | Venous thrombosis imaging
| 78458 | Ven thrombosis images, bilat
| 78580 | Lung perfusion imaging
| 78591 | Vent image, 1 breath, 1 proj
| 78599 | Respiratory nuclear exam
| 78605 | Brain imaging, complete
| 78610 | Brain flow imaging only
| 78660 | Nuclear exam of tear flow
| 78700 | Kidney imaging, static
| 78701 | Kidney imaging with flow
| 78715 | Renal vascular flow exam
| 78725 | Kidney function study
| 78730 | Urinary bladder retention
| 78740 | Ureteral reflux study
| 78760 | Testicular imaging
| 78761 | Testicular imaging/flow
| 78999 | Nuclear diagnostic exam
0292 | Level II Diagnostic Nuclear Medicine Excluding Myocardial Scans |  | S | 4.36 | $211.40 | $126.63 | $42.28
| 78016 | Thyroid met imaging/studies
| 78018 | Thyroid met imaging, body
| 78020 | Thyroid met uptake
| 78070 | Parathyroid nuclear imaging
| 78075 | Adrenal nuclear imaging
| 78103 | Bone marrow imaging, mult
| 78104 | Bone marrow imaging, body
| 78122 | Blood volume
| 78130 | Red cell survival study
| 78135 | Red cell survival kinetics
| 78140 | Red cell sequestration
| 78160 | Plasma iron turnover
| 78162 | Iron absorption exam
| 78170 | Red cell iron utilization
| 78172 | Total body iron estimation
| 78195 | Lymph system imaging
| 78205 | Liver imaging (3D)
| 78206 | Liver image (3d) w/flow
| 78220 | Liver function study
| 78223 | Hepatobiliary imaging
| 78264 | Gastric emptying study
| 78278 | Acute GI blood loss imaging
| 78291 | Leveen/shunt patency exam
| 78305 | Bone imaging, multiple areas
| 78306 | Bone imaging, whole body
| 78315 | Bone imaging, 3 phase
| 78320 | Bone imaging (3D)
| 78414 | Non-imaging heart function
| 78428 | Cardiac shunt imaging
| 78466 | Heart infarct image
| 78468 | Heart infarct image (ef)
| 78469 | Heart infarct image (3D)
| 78499 | Cardiovascular nuclear exam
| 78584 | Lung V/Q image single breath
| 78585 | Lung V/Q imaging
| 78586 | Aerosol lung image, single
| 78587 | Aerosol lung image, multiple
| 78588 | Perfusion lung image
| 78593 | Vent image, 1 proj, gas
| 78594 | Vent image, mult proj, gas
| 78596 | Lung differential function
| 78600 | Brain imaging, ltd static
| 78601 | Brain imaging, ltd w/flow
| 78606 | Brain imaging, compl w/flow
| 78607 | Brain imaging (3D)
| 78615 | Cerebral blood flow imaging
| 78630 | Cerebrospinal fluid scan
| 78635 | CSF ventriculography
| 78645 | CSF shunt evaluation
| 78647 | Cerebrospinal fluid scan
| 78650 | CSF leakage imaging
| 78699 | Nervous system nuclear exam
| 78704 | Imaging renogram
| 78707 | Kidney flow/function image
| 78708 | Kidney flow/function image
| 78709 | Kidney flow/function image
| 78710 | Kidney imaging (3D)
| 78799 | Genitourinary nuclear exam
| 78800 | Tumor imaging, limited area
| 78801 | Tumor imaging, mult areas
| 78802 | Tumor imaging, whole body
| 78803 | Tumor imaging (3D)
| 78805 | Abscess imaging, ltd area
| 78806 | Abscess imaging, whole body
| 78807 | Nuclear localization/abscess
0294 | Level I Therapeutic Nuclear Medicine |  | S | 5.13 | $248.74 | $144.06 | $49.75
| 79000 | Init hyperthyroid therapy
| 79001 | Repeat hyperthyroid therapy
| 79020 | Thyroid ablation
| 79030 | Thyroid ablation, carcinoma
| 79035 | Thyroid metastatic therapy
| 79100 | Hematopoetic nuclear therapy
| 79300 | Interstitial nuclear therapy
| 79440 | Nuclear joint therapy
| 79999 | Nuclear medicine therapy
0295 | Level II Therapeutic Nuclear Medicine |  | S | 19.85 | $962.47 | $609.17 | $192.49
| 79200 | Intracavitary nuclear trmt
| 79400 | Nonhemato nuclear therapy
| 79420 | Intravascular nuclear ther
0296 | Level I Therapeutic Radiologic Procedures |  | S | 3.57 | $173.10 | $100.25 | $34.62
| 74235 | Remove esophagus obstruction
| 74327 | X-ray bile stone removal
| 74360 | X-ray guide, GI dilation
| 74485 | X-ray guide, GU dilation
| 75984 | X-ray control catheter change
| 78494 | Heart image, spect
| 78496 | Heart first pass add-on
0297 | Level II Therapeutic Radiologic Procedures |  | S | 6.13 | $297.23 | $172.51 | $59.45
| 74363 | X-ray, bile duct dilation
| 74475 | X-ray control, cath insert
| 74480 | X-ray control, cath insert
| 75894 | X-rays, transcath therapy
| 75896 | X-rays, transcath therapy
| 75980 | Contrast x-ray exam bile duct
| 75982 | Contrast x-ray exam bile duct
0300 | Level I Radiation Therapy |  | S | 1.98 | $96.00 | $47.72 | $19.20
| 77401 | Radiation treatment delivery
| 77402 | Radiation treatment delivery
| 77403 | Radiation treatment delivery
| 77404 | Radiation treatment delivery
| 77406 | Radiation treatment delivery
| 77407 | Radiation treatment delivery
| 77408 | Radiation treatment delivery
| 77409 | Radiation treatment delivery
| 77414 | Radiation treatment delivery
| 77789 | Radioelement application
0301 | Level II Radiation Therapy |  | S | 2.21 | $107.16 | $52.53 | $21.43
| 77411 | Radiation treatment delivery
| 77412 | Radiation treatment delivery
| 77413 | Radiation treatment delivery
| 77416 | Radiation treatment delivery
| 77520 | Proton beam delivery
| 77523 | Proton beam delivery
| 77750 | Infuse radioactive materials
0302 | Level III Radiation Therapy |  | S | 8.21 | $398.08 | $216.55 | $79.62
| 77470 | Special radiation treatment
| G0173 | Stereotactic, one session
| G0174 | Stereotactic, mult session
0303 | Treatment Device Construction |  | X | 2.83 | $137.22 | $69.28 | $27.44
| 77332 | Radiation treatment aid(s)
| 77333 | Radiation treatment aid(s)
| 77334 | Radiation treatment aid(s)
0304 | Level I Therapeutic Radiation Treatment Preparation |  | X | 1.49 | $72.25 | $41.52 | $14.45
| 77280 | Set radiation therapy field
| 77300 | Radiation therapy dose plan
| 77305 | Radiation therapy dose plan
| 77310 | Radiation therapy dose plan
| 77331 | Special radiation dosimetry
0305 | Level II Therapeutic Radiation Treatment Preparation |  | X | 4.06 | $196.86 | $97.50 | $39.37
| 77285 | Set radiation therapy field
| 77290 | Set radiation therapy field
| 77315 | Radiation therapy dose plan
| 77321 | Radiation therapy port plan
| 77326 | Radiation therapy dose plan
| 77327 | Radiation therapy dose plan
| 77328 | Radiation therapy dose plan
0310 | Level III Therapeutic Radiation Treatment Preparation |  | X | 13.98 | $677.85 | $339.05 | $135.57
| 77295 | Set radiation therapy field
0311 | Radiation Physics Services |  | X | 1.32 | $64.00 | $31.66 | $12.80
| 77336 | Radiation physics consult
| 77370 | Radiation physics consult
| 77399 | External radiation dosimetry
0312 | Radioelement Applications |  | S | 4.09 | $198.31 | $109.65 | $39.66
| 77761 | Radioelement application
| 77762 | Radioelement application
| 77763 | Radioelement application
| 77776 | Radioelement application
| 77777 | Radioelement application
| 77778 | Radioelement application
0313 | Brachytherapy |  | S | 7.89 | $382.56 | $164.02 | $76.51
| 77781 | High intensity brachytherapy
| 77782 | High intensity brachytherapy
| 77783 | High intensity brachytherapy
| 77784 | High intensity brachytherapy
| 77799 | Radium/radioisotope therapy
0314 | Hyperthermic Therapies |  | S | 5.88 | $285.10 | $150.95 | $57.02
| 77600 | Hyperthermia treatment
| 77605 | Hyperthermia treatment
| 77610 | Hyperthermia treatment
| 77615 | Hyperthermia treatment
| 77620 | Hyperthermia treatment
0320 | Electroconvulsive Therapy |  | S | 3.68 | $178.43 | $80.06 | $35.69
| 90870 | Electroconvulsive therapy
| 90871 | Electroconvulsive therapy
0321 | Biofeedback and Other Training |  | S | 1.26 | $61.09 | $29.25 | $12.22
| 90901 | Biofeedback train, any meth
| 90911 | Biofeedback peri/uro/rectal
0322 | Brief Individual Psychotherapy |  | S | 1.32 | $64.00 | $14.22 | $12.80
| 90804 | Psytx, office, 20-30 min
| 90805 | Psytx, off, 20-30 min w/e&m
| 90810 | Intac psytx, off, 20-30 min
| 90811 | Intac psytx, 20-30, w/e&m
| 90816 | Psytx, hosp, 20-30 min
| 90817 | Psytx, hosp, 20-30 min w/e&m
| 90823 | Intac psytx, hosp, 20-30 min
| 90824 | Intac psytx, hsp 20-30 w/e&m
| 90899 | Psychiatric service/therapy
0323 | Extended Individual Psychotherapy |  | S | 1.85 | $89.70 | $22.48 | $17.94
| 90801 | Psy dx interview
| 90802 | Intac psy dx interview
| 90806 | Psytx, off, 45-50 min
| 90807 | Psytx, off, 45-50 min w/e&m
| 90808 | Psytx, office, 75-80 min
| 90809 | Psytx, off, 75-80, w/e&m
| 90812 | Intac psytx, off, 45-50 min
| 90813 | Intac psytx, 45-50 min w/e&m
| 90814 | Intac psytx, off, 75-80 min
| 90815 | Intac psytx, 75-80 w/e&m
| 90818 | Psytx, hosp, 45-50 min
| 90819 | Psytx, hosp, 45-50 min w/e&m
| 90821 | Psytx, hosp, 75-80 min
| 90822 | Psytx, hosp, 75-80 min w/e&m
| 90826 | Intac psytx, hosp, 45-50 min
| 90827 | Intac psytx, hsp 45-50 w/e&m
| 90828 | Intac psytx, hosp, 75-80 min
| 90829 | Intac psytx, hsp 75-80 w/e&m
| 90845 | Psychoanalysis
| 90865 | Narcosynthesis
| 90880 | Hypnotherapy
0324 | Family Psychotherapy |  | S | 1.87 | $90.67 | $20.19 | $18.13
| 90846 | Family psytx w/o patient
| 90847 | Family psytx w/patient
0325 | Group Psychotherapy |  | S | 1.55 | $75.16 | $19.96 | $15.03
| 90849 | Multiple family group psytx
| 90853 | Group psychotherapy
| 90857 | Intac group psytx
0330 | Dental Procedures |  | S | 1.51 | $73.22 | $14.64 | $14.64
| D0150 | Comprehensve oral evaluation
| D0240 | Intraoral occlusal film
| D0250 | Extraoral first film
| D0260 | Extraoral ea additional film
| D0270 | Dental bitewing single film
| D0272 | Dental bitewings two films
| D0274 | Dental bitewings four films
| D0460 | Pulp vitality test
| D0501 | Histopathologic examinations
| D0502 | Other oral pathology procedu
| D0999 | Unspecified diagnostic proce
| D1510 | Space maintainer fxd unilat
| D1515 | Fixed bilat space maintainer
| D1520 | Remove unilat space maintain
| D1525 | Remove bilat space maintain
| D1550 | Recement space maintainer
| D2970 | Temporary-fractured tooth
| D2999 | Dental unspec restorative pr
| D3460 | Endodontic endosseous implan
| D3999 | Endodontic procedure
| D4260 | Osseous surgery per quadrant
| D4263 | Bone replce graft first site
| D4264 | Bone replce graft each add
| D4270 | Pedicle soft tissue graft pr
| D4271 | Free soft tissue graft proc
| D4273 | Subepithelial tissue graft
| D4355 | Full mouth debridement
| D4381 | Localized chemo delivery
| D5911 | Facial moulage sectional
| D5912 | Facial moulage complete
| D5983 | Radiation applicator
| D5984 | Radiation shield
| D5985 | Radiation cone locator
| D5987 | Commissure splint
| D6920 | Dental connector bar
| D7110 | Oral surgery single tooth
| D7120 | Each add tooth extraction
| D7130 | Tooth root removal
| D7210 | Rem imp tooth w mucoper flp
| D7220 | Impact tooth remov soft tiss
| D7230 | Impact tooth remov part bony
| D7240 | Impact tooth remov comp bony
| D7241 | Impact tooth rem bony w/comp
| D7250 | Tooth root removal
| D7260 | Oral antral fistula closure
| D7291 | Transseptal fiberotomy
| D7940 | Reshaping bone orthognathic
| D9630 | Other drugs/medicaments
| D9930 | Treatment of complications
| D9940 | Dental occlusal guard
| D9950 | Occlusion analysis
| D9951 | Limited occlusal adjustment
| D9952 | Complete occlusal adjustment
0340 | Minor Ancillary Procedures |  | X | 1.04 | $50.43 | $12.85 | $10.09
| 69200 | Clear outer ear canal
| 69210 | Remove impacted ear wax
0341 | Immunology Tests |  | X | 0.13 | $6.30 | $3.67 | $1.26
| 86485 | Skin test, candida
| 86490 | Coccidioidomycosis skin test
| 86510 | Histoplasmosis skin test
| 86580 | TB intradermal test
| 86585 | TB tine test
| 86586 | Skin test, unlisted
0342 | Level I Pathology |  | X | 0.26 | $12.61 | $8.03 | $2.52
| 85060 | Blood smear interpretation
| 88160 | Cytopath smear, other source
| 88199 | Cytopathology procedure
| 88300 | Surgical path, gross
| 88302 | Tissue exam by pathologist
| 88311 | Decalcify tissue
| 88313 | Special stains
| 88319 | Enzyme histochemistry
| 88321 | Microslide consultation
| 88399 | Surgical pathology procedure
0343 | Level II Pathology |  | X | 0.45 | $21.82 | $12.16 | $4.36
| 80500 | Lab pathology consultation
| 80502 | Lab pathology consultation
| 86077 | Physician blood bank service
| 88104 | Cytopathology, fluids
| 88106 | Cytopathology, fluids
| 88107 | Cytopathology, fluids
| 88108 | Cytopath, concentrate tech
| 88125 | Forensic cytopathology
| 88161 | Cytopath smear, other source
| 88162 | Cytopath smear, other source
| 88172 | Evaluation of smear
| 88173 | Interpretation of smear
| 88304 | Tissue exam by pathologist
| 88305 | Tissue exam by pathologist
| 88312 | Special stains
| 88314 | Histochemical stain
| 88318 | Chemical histochemistry
| 88323 | Microslide consultation
| 88325 | Comprehensive review of data
| 88329 | Pathology consult in surgery
| 88331 | Pathology consult in surgery
| 88332 | Pathology consult in surgery
| 88346 | Immunofluorescent study
| 88362 | Nerve teasing preparations
| 89399 | Pathology lab procedure
| G0025 | Collagen skin test kit
0344 | Level III Pathology |  | X | 0.79 | $38.30 | $23.63 | $7.66
| 85097 | Bone marrow interpretation
| 86078 | Physician blood bank service
| 86079 | Physician blood bank service
| 88180 | Cell marker study
| 88182 | Cell marker study
| 88307 | Tissue exam by pathologist
| 88309 | Tissue exam by pathologist
| 88342 | Immunocytochemistry
| 88347 | Immunofluorescent study
| 88348 | Electron microscopy
| 88349 | Scanning electron microscopy
| 88355 | Analysis, skeletal muscle
| 88356 | Analysis, nerve
| 88358 | Analysis, tumor
| 88365 | Tissue hybridization
| 89350 | Sputum specimen collection
| 89360 | Collect sweat for test
² 0354 | Administration of Influenza Vaccine |  | X | 0.13 | $6.19 |  |
| G0008 | Admin influenza virus vac
| Q0034 | Admin of influenza vaccine
0355 | Level I Immunizations |  | X | 0.19 | $9.21 | $5.05 | $1.84
| 90645 | Hib vaccine, hboc, im
| 90646 | Hib vaccine, prp-d, im
| 90647 | Hib vaccine, prp-omp, im
| 90648 | Hib vaccine, prp-t, im
| 90657 | Flu vaccine, 6-35 mo, im
| 90658 | Flu vaccine, 3 yrs, im
| 90659 | Flu vaccine, whole, im
| 90660 | Flu vaccine, nasal
| 90700 | Dtap vaccine, im
| 90702 | Dt vaccine, im
| 90704 | Mumps vaccine, sc
| 90713 | Poliovirus, ipv, sc
| 90716 | Chicken pox vaccine, sc
| 90720 | Dtp/hib vaccine, im
| 90721 | Dtap/hib vaccine, im
| 90727 | Plague vaccine, im
| 90732 | Pneumococcal vaccine, adult
| 90749 | Vaccine toxoid
0356 | Level II Immunizations |  | X | 0.36 | $17.46 | $4.82 | $3.49
| 90371 | Hep b ig, im
| 90389 | Tetanus ig, im
| 90396 | Varicella-zoster ig, im
| 90476 | Adenovirus vaccine, type 4
| 90477 | Adenovirus vaccine, type 7
| 90585 | Bcg vaccine, percut
| 90586 | Bcg vaccine, intravesical
| 90632 | Hep a vaccine, adult im
| 90633 | Hep a vacc, ped/adol, 2 dose
| 90634 | Hep a vacc, ped/adol, 3 dose
| 90680 | Rotovirus vaccine, oral
| 90690 | Typhoid vaccine, oral
| 90691 | Typhoid vaccine, im
| 90692 | Typhoid vaccine, h-p, sc/id
| 90693 | Typhoid vaccine, akd, sc
| 90701 | Dtp vaccine, im
| 90703 | Tetanus vaccine, im
| 90707 | Mmr vaccine, sc
| 90710 | Mmrv vaccine, sc
| 90712 | Oral poliovirus vaccine
| 90717 | Yellow fever vaccine, sc
| 90718 | Td vaccine, im
| 90744 | Hep b vaccine, ped/adol, im
| 90746 | Hep b vaccine, adult, im
| 90747 | Hep b vaccine, ill pat, im
0357 | Level III Immunizations |  | X | 1.85 | $89.70 | $38.31 | $17.94
| 90287 | Botulinum antitoxin
| 90296 | Diphtheria antitoxin
| 90375 | Rabies ig, im/sc
| 90376 | Rabies ig, heat treated
| 90378 | Rsv ig, im
| 90379 | Rsv ig, iv
| 90384 | Rh ig, full-dose, im
| 90385 | Rh ig, minidose, im
| 90386 | Rh ig, iv
| 90393 | Vaccina ig, im
| 90581 | Anthrax vaccine, sc
| 90636 | Hep a/hep b vacc, adult im
| 90665 | Lyme disease vaccine, im
| 90669 | Pneumococcal vaccine, ped
| 90675 | Rabies vaccine, im
| 90676 | Rabies vaccine, id
| 90705 | Measles vaccine, sc
| 90719 | Diphtheria vaccine, im
| 90733 | Meningococcal vaccine, sc
| 90735 | Encephalitis vaccine, sc
0358 | Level IV Immunizations |  | X | 6.98 | $338.44 | $126.74 | $67.69
| 90706 | Rubella vaccine, sc
| 90708 | Measles-rubella vaccine, sc
| 90709 | Rubella & mumps vaccine, sc
| 90725 | Cholera vaccine, injectable
| 90748 | Hep b/hib vaccine, im
0359 | Injections |  | X | 0.96 | $46.55 | $9.31 | $9.31
| 90782 | Injection, sc/im
| 90783 | Injection, ia
| 90784 | Injection, iv
| 90788 | Injection of antibiotic
| 90799 | Ther/prophylactic/dx inject
0360 | Level I Alimentary Tests |  | X | 1.38 | $66.91 | $34.75 | $13.38
| 89105 | Sample intestinal contents
| 89130 | Sample stomach contents
| 89132 | Sample stomach contents
| 89135 | Sample stomach contents
| 89136 | Sample stomach contents
| 89140 | Sample stomach contents
| 91030 | Acid perfusion of esophagus
| 91055 | Gastric intubation for smear
| 91065 | Breath hydrogen test
| 91100 | Pass intestine bleeding tube
| 91105 | Gastric intubation treatment
| 91299 | Gastroenterology procedure
0361 | Level II Alimentary Tests |  | X | 3.53 | $171.16 | $88.09 | $34.23
| 89100 | Sample intestinal contents
| 89141 | Sample stomach contents
| 91000 | Esophageal intubation
| 91010 | Esophagus motility study
| 91011 | Esophagus motility study
| 91012 | Esophagus motility study
| 91020 | Gastric motility
| 91032 | Esophagus, acid reflux test
| 91033 | Prolonged acid reflux test
| 91052 | Gastric analysis test
| 91060 | Gastric saline load test
| 95075 | Ingestion challenge test
0362 | Fitting of Vision Aids |  | X | 0.51 | $24.73 | $9.63 | $4.95
| 92311 | Contact lens fitting
| 92312 | Contact lens fitting
| 92313 | Contact lens fitting
| 92315 | Prescription of contact lens
| 92316 | Prescription of contact lens
| 92317 | Prescription of contact lens
| 92325 | Modification of contact lens
| 92326 | Replacement of contact lens
| 92352 | Special spectacles fitting
| 92353 | Special spectacles fitting
| 92354 | Special spectacles fitting
| 92355 | Special spectacles fitting
| 92358 | Eye prosthesis service
| 92371 | Repair & adjust spectacles
0363 | Otorhinolaryngologic Function Tests |  | X | 2.83 | $137.22 | $53.22 | $27.44
| 92512 | Nasal function studies
| 92516 | Facial nerve function test
| 92520 | Laryngeal function studies
| 92541 | Spontaneous nystagmus test
| 92542 | Positional nystagmus test
| 92543 | Caloric vestibular test
| 92544 | Optokinetic nystagmus test
| 92545 | Oscillating tracking test
| 92546 | Sinusoidal rotational test
| 92547 | Supplemental electrical test
| 92548 | Posturography
| 92584 | Electrocochleography
| 92587 | Evoked auditory test
| 92588 | Evoked auditory test
0364 | Level I Audiometry |  | X | 0.68 | $32.97 | $13.31 | $6.59
| 92552 | Pure tone audiometry, air
| 92553 | Audiometry, air & bone
| 92555 | Speech threshold audiometry
| 92556 | Speech audiometry, complete
| 92567 | Tympanometry
| 92599 | ENT procedure/service
0365 | Level II Audiometry |  | X | 1.47 | $71.28 | $22.48 | $14.26
| 92557 | Comprehensive hearing test
| 92561 | Bekesy audiometry, diagnosis
| 92562 | Loudness balance test
| 92563 | Tone decay hearing test
| 92564 | Sisi hearing test
| 92565 | Stenger test, pure tone
| 92568 | Acoustic reflex testing
| 92569 | Acoustic reflex decay test
| 92571 | Filtered speech hearing test
| 92572 | Staggered spondaic word test
| 92573 | Lombard test
| 92575 | Sensorineural acuity test
| 92576 | Synthetic sentence test
| 92577 | Stenger test, speech
| 92579 | Visual audiometry (vra)
| 92582 | Conditioning play audiometry
| 92583 | Select picture audiometry
| 92589 | Auditory function test(s)
| 92596 | Ear protector evaluation
0366 | Electrocardiogram (ECG) |  | X | 0.38 | $18.43 | $15.60 | $3.69
| 93005 | Electrocardiogram, tracing
| 93041 | Rhythm ECG, tracing
| Q0035 | Cardiokymography
0367 | Level I Pulmonary Test |  | X | 0.83 | $40.24 | $20.65 | $8.05
| 94010 | Breathing capacity test
| 94200 | Lung function test (MBC/MVV)
| 94250 | Expired gas collection
| 94375 | Respiratory flow volume loop
| 94400 | CO2 breathing response curve
| 94450 | Hypoxia response curve
| 94680 | Exhaled air analysis, o2
| 94690 | Exhaled air analysis
| 94720 | Monoxide diffusing capacity
| 94770 | Exhaled carbon dioxide test
| 94799 | Pulmonary service/procedure
0368 | Level II Pulmonary Tests |  | X | 1.66 | $80.49 | $42.44 | $16.10
| 94060 | Evaluation of wheezing
| 94240 | Residual lung capacity
| 94260 | Thoracic gas volume
| 94350 | Lung nitrogen washout curve
| 94360 | Measure airflow resistance
| 94370 | Breath airway closing volume
| 94620 | Pulmonary stress test/simple
| 94681 | Exhaled air analysis, o2/co2
| 94725 | Membrane diffusion capacity
| 94750 | Pulmonary compliance study
0369 | Level III Pulmonary Tests |  | X | 2.34 | $113.46 | $58.50 | $22.69
| 94014 | Patient recorded spirometry
| 94015 | Patient recorded spirometry
| 94016 | Review patient spirometry
| 94070 | Evaluation of wheezing
| 94621 | Pulm stress test/complex
| 94772 | Breath recording, infant
| 95070 | Bronchial allergy tests
| 95071 | Bronchial allergy tests
0370 | Allergy Tests |  | X | 0.57 | $27.64 | $11.81 | $5.53
| 95004 | Allergy skin tests
| 95010 | Sensitivity skin tests
| 95015 | Sensitivity skin tests
| 95024 | Allergy skin tests
| 95027 | Skin end point titration
| 95028 | Allergy skin tests
| 95044 | Allergy patch tests
| 95052 | Photo patch test
| 95056 | Photosensitivity tests
| 95060 | Eye allergy tests
| 95065 | Nose allergy test
| 95078 | Provocative testing
| 95180 | Rapid desensitization
| 95199 | Allergy immunology services
0371 | Allergy Injections |  | X | 0.32 | $15.52 | $3.67 | $3.10
| 95115 | Immunotherapy, one injection
| 95117 | Immunotherapy injections
| 95144 | Antigen therapy services
| 95145 | Antigen therapy services
| 95146 | Antigen therapy services
| 95147 | Antigen therapy services
| 95148 | Antigen therapy services
| 95149 | Antigen therapy services
| 95165 | Antigen therapy services
| 95170 | Antigen therapy services
0372 | Therapeutic Phlebotomy |  | X | 0.43 | $20.85 | $10.09 | $4.17
| 99195 | Phlebotomy
0373 | Neuropsychological Testing |  | X | 3.21 | $155.64 | $44.96 | $31.13
| 96100 | Psychological testing
| 96105 | Assessment of aphasia
| 96110 | Developmental test, lim
| 96111 | Developmental test, extend
| 96115 | Neurobehavior status exam
| 96117 | Neuropsych test battery
0374 | Monitoring Psychiatric Drugs |  | X | 1.17 | $56.73 | $13.08 | $11.35
| 90862 | Medication management
| M0064 | Visit for drug monitoring
0600 | Low Level Clinic Visits |  | V | 0.98 | $47.52 | $9.50 | $9.50
| 99201 | Office/outpatient visit, new
| 99202 | Office/outpatient visit, new
| 99211 | Office/outpatient visit, est
| 99212 | Office/outpatient visit, est
| 99241 | Office consultation
| 99242 | Office consultation
| 99271 | Confirmatory consultation
| 99272 | Confirmatory consultation
0601 | Mid Level Clinic Visits |  | V | 1.00 | $48.49 | $9.70 | $9.70
| 92002 | Eye exam, new patient
| 92012 | Eye exam established pat
| 99203 | Office/outpatient visit, new
| 99213 | Office/outpatient visit, est
| 99243 | Office consultation
| 99273 | Confirmatory consultation
| G0101 | CA screen; pelvic/breast exam
0602 | High Level Clinic Visits |  | V | 1.66 | $80.49 | $16.29 | $16.10
| 92004 | Eye exam, new patient
| 92014 | Eye exam & treatment
| 99204 | Office/outpatient visit, new
| 99205 | Office/outpatient visit, new
| 99214 | Office/outpatient visit, est
| 99215 | Office/outpatient visit, est
| 99244 | Office consultation
| 99245 | Office consultation
| 99274 | Confirmatory consultation
| 99275 | Confirmatory consultation
0603 | Interdisciplinary Team Conference |  | V | 1.66 | $80.49 | $16.29 | $16.10
G0175 | Multidisciplinary team visit
0610 | Low Level Emergency Visits |  | V | 1.34 | $64.97 | $20.65 | $12.99
| 99281 | Emergency dept visit
| 99282 | Emergency dept visit
0611 | Mid Level Emergency Visits |  | V | 2.11 | $102.31 | $36.47 | $20.46
| 99283 | Emergency dept visit
0612 | High Level Emergency Visits |  | V | 3.19 | $154.67 | $54.14 | $30.93
| 99284 | Emergency dept visit
| 99285 | Emergency dept visit
0620 | Critical Care |  | S | 8.60 | $416.99 | $152.78 | $83.40
| 99291 | Critical care, first hour
³ 0701 | Strontium |  | X |  |  |  | $84.76
| A9600 | Strontium-89 chloride
³ 0702 | Samariam |  | X |  |  |  | $139.06
| A9605 | Samarium sm153 lexidronamm
³ 0704 | Satumomab Pendetide |  | X |  |  |  | $63.13
| A4642 | Satumomab pendetide per dose
³ 0705 | Tc99 Tetrofosmin |  | X |  |  |  | $71.08
| A9502 | Technetium TC99M tetrofosmin
³ 0725 | Leucovorin Calcium |  | X |  |  |  | $1.07
| J0640 | Leucovorin calcium injection
³ 0726 | Dexrazoxane Hydrochloride |  | X |  |  |  | $18.81
| J1190 | Dexrazoxane HCl injection
³ 0727 | Injection, Etidronate Disodium |  | X |  |  |  | $9.31
| J1436 | Etidronate disodium inj
³ 0728 | Filgrastim (G-CSF) |  | X |  |  |  | $25.21
| J1440 | Filgrastim 300 mcg injection
³ 0730 | Pamidronate Disodium |  | X |  |  |  | $30.93
| J2430 | Pamidronate disodium/30 MG
³ 0731 | Sargramostim (GM-CSF) |  | X |  |  |  | $16.97
| J2820 | Sargramostim injection
³ 0732 | Mesna |  | X |  |  |  | $2.42
| J9209 | Mesna injection
³ 0733 | Epoetin Alpha |  | X |  |  |  | $1.75
| Q0136 | Non esrd epoetin alpha inj
³ 0750 | Dolasetron Mesylate 10 mg |  | X |  |  |  | $1.94
| J1260 | Dolasetron mesylate
³ 0754 | Metoclopramide HCL |  | X |  |  |  | $0.19
| J2765 | Metoclopramide hcl injection
³ 0755 | Thiethylperazine Maleate |  | X |  |  |  | $0.68
| J3280 | Thiethylperazine maleate inj
³ 0761 | Oral Substitute for IV Antiemtic |  | X |  |  |  | $0.10
| Q0163 | Diphenhydramine HCl 50mg
| Q0164 | Prochlorperazine maleate 5mg
| Q0169 | Promethazine HCl 12.5mg oral
| Q0171 | Chlorpromazine HCl 10mg oral
| Q0173 | Trimethobenzamide HCl 250mg
| Q0174 | Thiethylperazine maleate10mg
| Q0175 | Perphenazine 4mg oral
| Q0177 | Hydroxyzine pamoate 25mg
³ 0762 | Dronabinol |  | X |  |  |  | $0.48
| Q0167 | Dronabinol 2.5mg oral
³ 0763 | Dolasetron Mesylate 100 mg Oral |  | X |  |  |  | $8.53
| Q0180 | Dolasetron mesylate oral
³ 0764 | Granisetron HCL, 100 mcg |  | X |  |  |  | $2.33
| J1626 | Granisetron HCl injection
³ 0765 | Granisetron HCL, 1mg Oral |  | X |  |  |  | $3.20
| Q0166 | Granisetron HCl 1 mg oral
³ 0768 | Ondansetron Hydrochloride per 1 mg Injection |  | X |  |  |  | $0.87
| J2405 | Ondansetron hcl injection
³ 0769 | Ondansetron Hydrochloride 8 mg oral |  | X |  |  |  | $2.62
| Q0179 | Ondansetron HCl 8mg oral
³ 0800 | Leuprolide Acetate per 3.75 mg |  | X |  |  |  | $68.56
| J1950 | Leuprolide acetate/3.75 MG
³ 0801 | Cyclophosphamide |  | X |  |  |  | $.19
| J8530 | Cyclophosphamide oral 25 MG
³ 0802 | Etoposide |  | X |  |  |  | $3.10
| J8560 | Etoposide oral 50 MG
³ 0803 | Melphalan |  | X |  |  |  | $0.19
| J8600 | Melphalan oral 2 MG
³ 0807 | Aldesleukin single use vial |  | X |  |  |  | $65.07
| J9015 | Aldesleukin/single use vial
³ 0809 | BCG (Intravesical) one vial |  | X |  |  |  | $19.78
| J9031 | Bcg live intravesical vac
³ 0810 | Goserelin Acetate Implant, per 3.6 mg |  | X |  |  |  | $59.74
| J9202 | Goserelin acetate implant
³ 0811 | Carboplatin 50 mg |  | X |  |  |  | $13.96
| J9045 | Carboplatin injection
³ 0812 | Carmustine 100 mg |  | X |  |  |  | $10.57
| J9050 | Carmus bischl nitro inj
³ 0813 | Cisplatin 10 mg |  | X |  |  |  | $4.56
| J9060 | Cisplatin 10 MG injeciton
³ 0814 | Asparaginase, 10,000 units |  | X |  |  |  | $8.34
| J9020 | Asparaginase injection
³ 0815 | Cyclophosphamide 100 mg |  | X |  |  |  | $0.48
| J9070 | Cyclophosphamide 100 MG inj
³ 0816 | Cyclophosphamide, Lyophilized 100 mg |  | X |  |  |  | $1.16
| J9093 | Cyclophosphamide lyophilized
³ 0817 | Cytrabine 100 mg |  | X |  |  |  | $0.68
| J9100 | Cytarabine hcl 100 MG inj
³ 0818 | Dactinomycin 0.5 mg |  | X |  |  |  | $1.75
| J9120 | Dactinomycin actinomycin d
³ 0819 | Dacarbazine 100 mg |  | X |  |  |  | $1.26
| J9130 | Dacarbazine 10 MG inj
³ 0820 | Daunorubicin HCI 10 mg |  | X |  |  |  | $11.64
| J9150 | Daunorubicin
³ 0821 | Daunorubicin Citrate, Liposomal Formulation, 10 mg |  | X |  |  |  | $7.76
| J9151 | Daunorubicin citrate liposom
³ 0822 | Diethylstibestrol Diphosphate 250 mg |  | X |  |  |  | $2.13
| J9165 | Diethylstilbestrol injection
³ 0823 | Docetaxel 20 mg |  | X |  |  |  | $34.72
| J9170 | Docetaxel
³ 0824 | Etoposide 10 mg |  | X |  |  |  | $.58
| J9181 | Etoposide 10 MG inj
³ 0826 | Methotrexate Oral 2.5 mg |  | X |  |  |  | $.29
| J8610 | Methotrexate oral 2.5 MG
³ 0827 | Floxuridine 500 mg |  | X |  |  |  | $18.81
| J9200 | Floxuridine injection
³ 0828 | Gemcitabine HCL 200 mg |  | X |  |  |  | $9.31
| J9201 | Gemcitabine HCl
³ 0830 | Irinotecan 20 mg |  | X |  |  |  | $14.16
| J9206 | Irinotecan injection
³ 0831 | Ifosfamide per 1 gram |  | X |  |  |  | $13.58
| J9208 | Ifosfomide injection
³ 0832 | Idarubicin Hydrochloride 5 mg |  | X |  |  |  | $46.45
| J9211 | Idarubicin hcl injeciton
³ 0833 | Interferon Alfacon-1, Recombinant, 1 mcg |  | X |  |  |  | $0.19
| J9212 | Interferon alfacon-1
³ 0834 | Interferon, Alfa-2A, Recombinant 3 million units |  | X |  |  |  | $3.20
| J9213 | Interferon alfa-2a inj
³ 0836 | Interferon, Alfa-2B, Recombinant, 1 million units |  | X |  |  |  | $1.36
| J9214 | Interferon alfa-2b inj
³ 0838 | Interferon, Gamma 1-B, 3 million units |  | X |  |  |  | $22.79
| J9216 | Interferon gamma 1-b inj
³ 0839 | Mechlorethamine HCI 10 mg |  | X |  |  |  | $1.65
| J9230 | Mechlorethamine hcl inj
³ 0840 | Melphalan HCI 50 mg |  | X |  |  |  | $44.71
| J9245 | Inj melphalan hydrochl 50 MG
³ 0841 | Methotrexate Sodium 5 mg |  | X |  |  |  | $.10
| J9250 | Methotrexate sodium inj
³ 0842 | Fludarabine Phosphate 50 mg |  | X |  |  |  | $30.84
| J9185 | Fludarabine phosphate inj
³ 0843 | Pegaspargase per single dose vial |  | X |  |  |  | $178.72
| J9266 | Pegaspargase/singl dose vial
³ 0844 | Pentostatin 10 mg |  | X |  |  |  | $133.73
| J9268 | Pentostatin injection
³ 0847 | Doxorubicin HCL 10 mg |  | X |  |  |  | $2.81
| J9000 | Doxorubic hcl 10 MG vl chemo
³ 0849 | Rituximab, 100 mg |  | X |  |  |  | $51.40
| J9310 | Rituximab cancer treatment
³ 0850 | Streptozocin 1 gm |  | X |  |  |  | $14.64
| J9320 | Streptozocin injection
³ 0851 | Thiotepa 15 mg |  | X |  |  |  | $9.50
| J9340 | Thiotepa injection
³ 0852 | Topotecan 4 mg |  | X |  |  |  | $73.22
| J9350 | Topotecan
³ 0853 | Vinblastine Sulfate 1 mg |  | X |  |  |  | $.39
| J9360 | Vinblastine sulfate inj
³ 0854 | Vincristine Sulfate 1 mg |  | X |  |  |  | $2.23
| J9370 | Vincristine sulfate 1 MG inj
³ 0855 | Vinorelbine Tartrate per 10 mg |  | X |  |  |  | $9.60
| J9390 | Vinorelbine tartrate/10 mg
³ 0856 | Porfimer Sodium 75 mg |  | X |  |  |  | $34.62
| J9600 | Porfimer sodium
³ 0857 | Bleomycin Sulfate 15 units |  | X |  |  |  | $48.29
| J9040 | Bleomycin sulfate injection
³ 0858 | Cladribine, 1mg |  | X |  |  |  | $8.24
| J9065 | Inj cladribine per 1 MG
³ 0859 | Fluorouracil |  | X |  |  |  | $0.19
| J9190 | Fluorouracil injection
³ 0860 | Plicamycin 2.5 mg |  | X |  |  |  | $1.36
| J9270 | Plicamycin (mithramycin) inj
³ 0861 | Leuprolide Acetate 1 mg |  | X |  |  |  | $19.39
| J9218 | Leuprolide acetate injeciton
³ 0862 | Mitomycin, 5mg |  | X |  |  |  | $19.88
| J9280 | Mitomycin 5 MG inj
³ 0863 | Paclitaxel, 30mg |  | X |  |  |  | $30.16
| J9265 | Paclitaxel injection
³ 0864 | Mitoxantrone HCl, per 5mg |  | X |  |  |  | $25.80
| J9293 | Mitoxantrone hydrochl/5 MG
³ 0865 | Interferon alfa-N3, 250,000 IU |  | X |  |  |  | $1.07
| J9215 | Interferon alfa-n3 inj
³ 0884 | Rho (D) Immune Globulin, Human one dose pack |  | X |  |  |  | $3.78
| J2790 | Rho d immune globulin inj
² 0886 | Azathioprine, 50 mg oral |  | X | 0.02 | $.97 |  | $0.19
| J7500 | Azathioprine oral 50mg
² 0887 | Azathioprine, Parenteral 100 mg, 20 ml each injection |  | X | 1.40 | $67.88 |  | $13.58
| J7501 | Azathioprine parenteral
² 0888 | Cyclosporine, Oral 100 mg |  | X | 0.08 | $3.88 |  | $0.78
| J7502 | Cyclosporine oral 100 mg
² 0889 | Cyclosporine, Parenteral |  | X | 0.36 | $17.46 |  | $3.49
| J7516 | Cyclosporin parenteral 250mg
² 0890 | Lymphocyte Immune Globulin 50 mg/ml, 5 ml each |  | X | 3.79 | $183.77 |  | $36.75
| J7504 | Lymphocyte immune globulin
² 0891 | Tacrolimus per 1 mg oral |  | X | 3.15 | $152.73 |  | $30.55
| J7507 | Tacrolimus oral per 1 MG
³ 0892 | Daclizumab, Parenteral, 25 mg |  | X |  |  |  | $54.11
| J7913 | Daclizumab, Parenteral, 25 m
³ 0900 | Injection, Alglucerase per 10 units |  | X |  |  |  | $5.14
| J0205 | Alglucerase injection
³ 0901 | Alpha I, Proteinase Inhibitor, Human per 10mg |  | X |  |  |  | $15.22
| J0256 | Alpha 1 proteinase inhibitor
³ 0902 | Botulinum Toxin, Type A per unit |  | X |  |  |  | $56.05
| J0585 | Botulinum toxin a per unit
³ 0903 | CMV Immune Globulin |  | X |  |  |  | $54.11
| J0850 | Cytomegalovirus imm IV/vial
³ 0905 | Immune Globulin per 500 mg |  | X |  |  |  | $6.40
| J1561 | Immune globulin 500 mg
³ 0906 | RSV Immune Globulin |  | X |  |  |  | $85.53
| J1565 | RSV-ivig
² 0907 | Ganciclovir Sodium 500 mg injection |  | X | 0.51 | $24.73 |  | $4.95
| J1570 | Ganciclovir sodium injection
² 0908 | Tetanus Immune Globulin, Human, up to 250 units |  | X | 0.90 | $43.64 |  | $8.73
| J1670 | Tetanus immune globulin inj
³ 0909 | Interferon Beta-1a 33 mcg |  | X |  |  |  | $28.70
| J1825 | Interferon beta-1a
³ 0910 | Interferon Beta-1b 0.25 mg |  | X |  |  |  | $8.44
| J1830 | Interferon beta-1b/.25 MG
² 0911 | Streptokinase per 250,000 iu |  | X | 1.64 | $79.69 |  | $15.94
| J2995 | Inj streptokinase/250000 IU
³ 0913 | Ganciclovir 4.5 mg, Implant |  | X |  |  |  | $701.51
| J7310 | Ganciclovir long act implant
² 0914 | Reteplase, 37.6 mg (Two Single Use Vials) |  | X | 38.20 | $1,852.21 |  | $370.44
| J2994 | Reteplase double bolus
² 0915 | Alteplase recombinant, 10mg |  | X | 5.85 | $283.70 |  | $56.74
| J2996 | Alteplase recombinant inj
³ 0916 | Imiglucerase per unit |  | X |  |  |  | $0.58
| J1785 | Injection imiglucerase/unit
² 0917 | Dipyridamole, 10 mg/Adenosine 6MG |  | X | 0.36 | $17.46 |  | $3.49
| J0150 | Injection adenosine 6 MG
| J1245 | Dipyridamole injection
³ 0918 | Brachytherapy Seeds, Any type, Each |  | S |  |  |  | $9.99
| Q3001 | Brachytherapy Seeds
³ 0925 | Factor VIII (Antihemophilic Factor, Human) per iu |  | X |  |  |  | $0.19
| J7190 | Factor viii
³ 0926 | Factor VIII (Antihemophilic Factor, Porcine) per iu |  | X |  |  |  | $0.19
| J7191 | Factor VIII (porcine)
³ 0927 | Factor VIII (Antihemophilic Factor, Recombinant) per iu |  | X |  |  |  | $0.19
| J7192 | Factor viii recombinant
³ 0928 | Factor IX, Complex |  | X |  |  |  | $0.08
| J7194 | Factor ix complex
³ 0929 | Other Hemophilia Clotting Factors per iu |  | X |  |  |  | $0.27
| J7198 | Anti-inhibitor
| Q0187 | Factor viia recombinant
³ 0930 | Antithrombin III (Human) per iu |  | X |  |  |  | $0.19
| J7197 | Antithrombin iii injection
³ 0931 | Factor IX (Antihemophilic Factor, Purified, Non-Recombinant) |  | X |  |  |  | $0.04
| Q0160 | Factor IX non-recombinant
³ 0932 | Factor IX (Antihemophilic Factor, Recombinant) |  | X |  |  |  | $0.10
| Q0161 | Factor IX recombinant
² 0949 | Plasma, Pooled Multiple Donor, Solvent/Detergent Treated, Frozen |  | S | 3.49 | $169.22 |  | $33.84
| P9023 | Frozen plasma, pooled, sd
² 0950 | Blood (Whole) For Transfusion |  | S | 2.08 | $101.02 |  | $20.20
| P9010 | Whole blood for transfusion
² 0952 | Cryoprecipitate |  | S | 0.70 | $33.92 |  | $6.78
| P9012 | Cryoprecipitate each unit
² 0953 | Fibrinogen Unit |  | S | 0.48 | $23.27 |  | $4.65
| P9013 | Unit/s blood fibrinogen
² 0954 | Leukocyte Poor Blood |  | S | 2.83 | $137.21 |  | $27.44
| P9016 | Leukocyte poor blood, unit
² 0955 | Plasma, Fresh Frozen |  | S | 2.26 | $109.35 |  | $21.87
| P9017 | One donor fresh frozn plasma
² 0956 | Plasma Protein Fraction |  | S | 1.26 | $61.09 |  | $12.22
| P9018 | Plasma protein fract, unit
² 0957 | Platelet Concentrate |  | S | 0.98 | $47.46 |  | $9.49
| P9019 | Platelet concentrate unit
² 0958 | Platelet Rich Plasma |  | S | 1.16 | $56.25 |  | $11.25
| P9020 | Platelet rich plasma unit
² 0959 | Red Blood Cells |  | S | 2.04 | $99.04 |  | $19.81
| P9021 | Red blood cells unit
² 0960 | Washed Red Blood Cells |  | S | 3.81 | $184.53 |  | $36.91
| P9022 | Washed red blood cells unit
² 0961 | Infusion, Albumin (Human) 5%, 500 ml |  | X | 2.77 | $134.31 |  | $26.86
| Q0156 | Human albumin 5%
² 0962 | Infusion, Albumin (Human) 25%, 50 ml |  | X | 1.38 | $66.91 |  | $13.38
| Q0157 | Human albumin 25%
² 0970 | New Technology - Level I ($0-$50) |  | T | 0.52 | $25.21 |  | $5.04
| 78268 | Breath test analysis, c-14
² 0971 | New Technology - Level II ($50-$100) |  | S | 1.55 | $75.16 |  | $15.03
| 78267 | Breath tst attain/anal c-14
² 0972 | New Technology - Level III ($100-$200) |  | T | 3.09 | $149.83 |  | $29.97
| G0166 | Extrnl counterpulse, per tx
² 0980 | New Technology - Level XI ($1750-$2000) |  | S | 38.67 | $1,875.00 |  | $375.00
| 53850 | Prostatic microwave thermotx
| 53852 | Prostatic rf thermotx
| G0125 | Lung image (PET)
| G0126 | Lung image (PET) staging
| G0163 | Pet for rec of colorectal ca
| G0164 | Pet for lymphoma staging
| G0165 | Pet, rec of melanoma/met ca
³ 7000 | Amifostine, 500 mg |  | X |  |  |  | $41.99
| J0207 | Amifostine
³ 7001 | Amphotericin B lipid complex, 50 mg, Inj |  | X |  |  |  | $12.12
| J0286 | Amphotericin B lipid complex
³ 7002 | Clonidine, HCl, 1 MG |  | X |  |  |  | $4.17
| J0735 | Clonidine hydrochloride
³ 7003 | Epoprostenol, 0.5 MG, inj |  | X |  |  |  | $2.23
| J1325 | Epoprostenol injection
³ 7004 | Immune globulin intravenous human 5g, inj |  | X |  |  |  | $45.48
| J1562 | Immune globulin 5 gms
³ 7005 | Gonadorelin hcI, 100 mcg |  | X |  |  |  | $9.12
| J1620 | Gonadorelin hydroch/100 mcg
² 7007 | Milrinone lacetate, per 5 ml, inj |  | X | 0.47 | $22.79 |  | $4.56
| J2260 | Inj milrinone lactate/5 ML
³ 7010 | Morphine sulfate concentrate (preservative free) per 10 mg |  | X |  |  |  | $.68
| J2275 | Morphine sulfate injection
³ 7011 | Oprelevekin, inj, 5 mg |  | X |  |  |  | $30.35
| J2355 | Oprelvekin injection
³ 7012 | Pentamidine isethionate, 300 mg |  | X |  |  |  | $8.73
| J2545 | Pentamidine isethionte/300mg
³ 7014 | Fentanyl citrate, inj, up to 2 ml |  | X |  |  |  | $.19
| J3010 | Fentanyl citrate injeciton
³ 7015 | Busulfan, oral 2 mg |  | X |  |  |  | $0.19
| J8510 | Oral busulfan
³ 7019 | Aprotinin, 10,000 kiu |  | X |  |  |  | $2.42
| Q2003 | Aprotinin, 10,000 kiu
³ 7021 | Baclofen, intrathecal, 50 mcg |  | X |  |  |  | $0.10
| J0476 | Baclofen intrathecal trial
³ 7022 | Elliotts B Solution, per ml |  | X |  |  |  | $19.20
| Q2002 | Elliot's B solution
³ 7023 | Treatment for bladder calculi, I.e. Renacidin per 500 ml |  | X |  |  |  | $4.46
| Q2004 | Treatment for bladder calcul
³ 7024 | Corticorelin ovine triflutate, 0.1 mg |  | X |  |  |  | $45.77
| Q2005 | Corticorelin ovine triflutat
³ 7025 | Digoxin immune FAB (Ovine), 10 mg |  | X |  |  |  | $14.06
| Q2006 | Digoxin immune FAB (Ovine),
³ 7026 | Ethanolamine oleate, 1000 ml |  | X |  |  |  | $2.13
| Q2007 | Ethanolamine oleate, 1000 ml
³ 7027 | Fomepizole, 1.5 G |  | X |  |  |  | $141.29
| Q2008 | Fomepizole, 1.5 G
³ 7028 | Fosphenytoin, 50 mg |  | X |  |  |  | $0.78
| Q2009 | Fosphenytoin, 50 mg
³ 7029 | Glatiramer acetate, 25 mg |  | X |  |  |  | $3.59
| Q2010 | Glatiramer acetate, 25 mgeny
³ 7030 | Hemin, 1 mg |  | X |  |  |  | $0.10
| Q2011 | Hemin, 1 mg
³ 7031 | Octreotide Acetate, 500 mcg |  | X |  |  |  | $5.43
| J2352 | Octreotide acetate injection
³ 7032 | Sermorelin acetate, 0.5 mg |  | X |  |  |  | $53.34
| Q2014 | Sermorelin acetate, 0.5 mg
³ 7033 | Somatrem, 5 mg |  | X |  |  |  | $28.03
| Q2015 | Somatrem, 5 mg
³ 7034 | Somatropin, 1 mg |  | X |  |  |  | $5.04
| Q2016 | Somatropin, 1 mg
³ 7035 | Teniposide, 50 mg |  | X |  |  |  | $20.85
| Q2017 | Teniposide, 50 mg
² 7036 | Urokinase, inj, IV, 250,000 I.U. |  | X | 0.73 | $35.40 |  | $7.08
| J3365 | Urokinase 250,000 IU inj
³ 7037 | Urofollitropin, 75 I.U. |  | X |  |  |  | $8.24
| Q2018 | Urofollitropin, 75 I.U.
³ 7038 | Muromonab-CD3, 5 mg |  | X |  |  |  | $89.60
| J7505 | Monoclonal antibodies
³ 7039 | Pegademase bovine inj 25 I.U. |  | X |  |  |  | $1.16
| Q2012 | Pegademase bovine inj 25 I.U
³ 7040 | Pentastarch 10% inj, 100 ml |  | X |  |  |  | $2.04
| Q2013 | Pentastarch 10% inj, 100 ml
² 7041 | Tirofiban HCL, 0.5 mg |  | X | 0.02 | $.97 |  | $0.19
| J3245 | Tirofiban hydrochloride
³ 7042 | Capecitabine, oral 150 mg |  | X |  |  |  | $0.19
| J8520 | Capecitabine, oral, 150 mg
³ 7043 | Infliximab, 10 MG |  | X |  |  |  | $6.89
| J1745 | Infliximab injection
³ 7045 | Trimetrexate Glucoronate |  | X |  |  |  | $8.15
| J3305 | Inj trimetrexate glucoronate
³ 7046 | Doxorubicin Hcl Liposome |  | X |  |  |  | $39.18
| J9001 | Doxorubicin hcl liposome inj

——————————

CPT codes and descriptions only are copyright American Medical Association. All Rights Reserved. Applicable FARS/DFARS Apply.

Copyright American Dental Association. All rights reserved.

Addendum D.—1996 HCPC Codes Used To Calculate Pay
CPT/HCPCS | Termination Date
00420 | 12/31/1999
01000 | 12/31/1999
01110 | 12/31/1999
01240 | 12/31/1999
01300 | 12/31/1999
01460 | 12/31/1999
01600 | 12/31/1999
01700 | 12/31/1999
01800 | 12/31/1999
01900 | 12/31/1999
01902 | 12/31/1999
11050 | 12/31/1997
11051 | 12/31/1997
11052 | 12/31/1997
11700 | 12/31/1996
11701 | 12/31/1996
11710 | 12/31/1996
11711 | 12/31/1996
11731 | 12/31/1998
13300 | 12/31/1999
15580 | 12/31/1999
15625 | 12/31/1999
15755 | 12/31/1996
16040 | 12/31/1998
16041 | 12/31/1998
16042 | 12/31/1998
17001 | 12/31/1997
17002 | 12/31/1997
17010 | 12/31/1997
17100 | 12/31/1997
17101 | 12/31/1997
17102 | 12/31/1997
17104 | 12/31/1997
17105 | 12/31/1997
17200 | 12/31/1997
17201 | 12/31/1997
20960 | 12/31/1996
20971 | 12/31/1996
25330 | 12/31/1996
25331 | 12/31/1996
26552 | 12/31/1996
26557 | 12/31/1996
26558 | 12/31/1996
26559 | 12/31/1996
32001 | 12/31/1999
33242 | 12/31/1999
33247 | 12/31/1999
42880 | 12/31/1996
53640 | 12/31/1996
56300 | 12/31/1999
56301 | 12/31/1999
56302 | 12/31/1999
56303 | 12/31/1999
56304 | 12/31/1999
56305 | 12/31/1999
56306 | 12/31/1999
56307 | 12/31/1999
56308 | 12/31/1999
56309 | 12/31/1999
56310 | 12/31/1999
56311 | 12/31/1999
56312 | 12/31/1999
56313 | 12/31/1999
56314 | 12/31/1999
56315 | 12/31/1999
56316 | 12/31/1999
56317 | 12/31/1999
56318 | 12/31/1999
56320 | 12/31/1999
56321 | 12/31/1999
56322 | 12/31/1999
56323 | 12/31/1999
56324 | 12/31/1999
56340 | 12/31/1999
56341 | 12/31/1999
56342 | 12/31/1999
56343 | 12/31/1999
56344 | 12/31/1999
56345 | 12/31/1999
56346 | 12/31/1999
56347 | 12/31/1999
56348 | 12/31/1999
56349 | 12/31/1999
56350 | 12/31/1999
56351 | 12/31/1999
56352 | 12/31/1999
56353 | 12/31/1999
56354 | 12/31/1999
56355 | 12/31/1999
56356 | 12/31/1999
56360 | 12/31/1996
56361 | 12/31/1996
56362 | 12/31/1999
56363 | 12/31/1999
56399 | 12/31/1999
57108 | 12/31/1998
61106 | 12/31/1998
61130 | 12/31/1998
61712 | 12/31/1998
61855 | 12/31/1999
61865 | 12/31/1999
62274 | 12/31/1999
62275 | 12/31/1999
62276 | 12/31/1999
62277 | 12/31/1999
62278 | 12/31/1999
62279 | 12/31/1999
62288 | 12/31/1999
62289 | 12/31/1999
62298 | 12/31/1999
63690 | 12/31/1998
63691 | 12/31/1998
64440 | 12/31/1999
64441 | 12/31/1999
64442 | 12/31/1999
64443 | 12/31/1999
64830 | 12/31/1998
68800 | 12/31/1996
68820 | 12/31/1996
68825 | 12/31/1996
68830 | 12/31/1996
71038 | 12/31/1998
74405 | 12/31/1998
77380 | 12/31/1999
77381 | 12/31/1999
77419 | 12/31/1999
77420 | 12/31/1999
77425 | 12/31/1999
77430 | 12/31/1999
78017 | 12/31/1998
78726 | 12/31/1997
78727 | 12/31/1997
80002 | 12/31/1997
80003 | 12/31/1997
80004 | 12/31/1997
80005 | 12/31/1997
80006 | 12/31/1997
80007 | 12/31/1997
80008 | 12/31/1997
80009 | 12/31/1997
80010 | 12/31/1997
80011 | 12/31/1997
80012 | 12/31/1997
80016 | 12/31/1997
80018 | 12/31/1997
80019 | 12/31/1997
80049 | 12/31/1999
80054 | 12/31/1999
80058 | 12/31/1999
80059 | 12/31/1999
80091 | 12/31/1999
80092 | 12/31/1999
82130 | 12/31/1998
82250 | 12/31/1998
83019 | 12/31/1998
83717 | 12/31/1998
85029 | 12/31/1998
85030 | 12/31/1998
86287 | 12/31/1997
86289 | 12/31/1997
86290 | 12/31/1997
86291 | 12/31/1997
86293 | 12/31/1997
86295 | 12/31/1997
86296 | 12/31/1997
86299 | 12/31/1997
86302 | 12/31/1997
86303 | 12/31/1997
86306 | 12/31/1997
86311 | 12/31/1997
86313 | 12/31/1997
86315 | 12/31/1997
86588 | 12/31/1999
87178 | 12/31/1997
87179 | 12/31/1997
88151 | 12/31/1997
88156 | 12/31/1998
88157 | 12/31/1997
88158 | 12/31/1998
88250 | 12/31/1998
88260 | 12/31/1998
90592 | 12/31/1999
90711 | 12/31/1998
90714 | 12/31/1998
90724 | 12/31/1998
90726 | 12/31/1998
90728 | 12/31/1998
90730 | 12/31/1998
90737 | 12/31/1998
90741 | 12/31/1998
90742 | 12/31/1998
90745 | 12/31/1999
90820 | 12/31/1997
90825 | 12/31/1997
90835 | 12/31/1997
90841 | 12/31/1997
90842 | 12/31/1997
90843 | 12/31/1997
90844 | 12/31/1997
90855 | 12/31/1997
90900 | 12/31/1996
90902 | 12/31/1996
90904 | 12/31/1996
90906 | 12/31/1996
90908 | 12/31/1996
90910 | 12/31/1996
90915 | 12/31/1996
93201 | 12/31/1996
93202 | 12/31/1996
93204 | 12/31/1996
93205 | 12/31/1996
93208 | 12/31/1996
93209 | 12/31/1996
93210 | 12/31/1996
93220 | 12/31/1996
93221 | 12/31/1996
93222 | 12/31/1996
94160 | 12/31/1996
97122 | 12/31/1998
97250 | 12/31/1998
97260 | 12/31/1998
97261 | 12/31/1998
97265 | 12/31/1998
97500 | 12/31/1996
97501 | 12/31/1996
97521 | 12/31/1996
99351 | 12/31/1997
99352 | 12/31/1997
99353 | 12/31/1997
99376 | 12/31/1997
A2000 | 12/31/1997
A4190 | 12/31/1996
A4200 | 12/31/1996
A4202 | 12/31/1996
A4203 | 12/31/1996
A4204 | 12/31/1996
A4205 | 12/31/1996
A4363 | 12/31/1999
A4581 | 12/31/1996
A4610 | 12/31/1996
D0471 | 12/31/1999
D2210 | 12/31/1999
D2810 | 12/31/1999
D3960 | 12/31/1999
D4250 | 12/31/1999
D7470 | 12/31/1999
D7942 | 12/31/1999
D9240 | 12/31/1999
E0237 | 12/31/1996
E0452 | 12/31/1999
E0453 | 12/31/1999
E1350 | 12/31/1996
E1400 | 12/31/1999
E1401 | 12/31/1999
E1402 | 12/31/1999
E1403 | 12/31/1999
E1404 | 12/31/1999
G0051 | 12/31/1997
G0052 | 12/31/1997
G0053 | 12/31/1997
G0054 | 09/30/1996
G0055 | 09/30/1996
G0056 | 09/30/1996
G0057 | 09/30/1996
G0058 | 12/31/1997
G0059 | 12/31/1997
G0060 | 12/31/1997
G0061 | 12/31/1996
G0062 | 12/31/1997
G0063 | 12/31/1997
G0064 | 12/31/1997
G0065 | 12/31/1997
G0066 | 12/31/1997
G0071 | 12/31/1997
G0072 | 12/31/1997
G0073 | 12/31/1997
G0074 | 12/31/1997
G0075 | 12/31/1997
G0076 | 12/31/1997
G0077 | 12/31/1997
G0078 | 12/31/1997
G0079 | 12/31/1997
G0080 | 12/31/1997
G0081 | 12/31/1997
G0082 | 12/31/1997
G0083 | 12/31/1997
G0084 | 12/31/1997
G0085 | 12/31/1997
G0086 | 12/31/1997
G0087 | 12/31/1997
G0088 | 12/31/1997
G0089 | 12/31/1997
G0090 | 12/31/1997
G0091 | 12/31/1997
G0092 | 12/31/1997
G0093 | 12/31/1997
G0094 | 12/31/1997
G0095 | 12/31/1997
G0096 | 12/31/1997
G0097 | 12/31/1997
G0098 | 12/31/1997
G0100 | 12/31/1997
G0133 | 12/31/1998
H5300 | 12/31/1997
J1625 | 12/31/1997
J1760 | 12/31/1999
J1770 | 12/31/1999
J1780 | 12/31/1999
J2050 | 12/31/1996
J3005 | 12/31/1997
J7140 | 12/31/1996
J7150 | 12/31/1996
J7196 | 12/31/1999
J7503 | 12/31/1999
J9010 | 12/31/1996
K0109 | 09/30/1999
K0110 | 12/31/1996
K0111 | 12/31/1996
K0119 | 12/31/1999
K0120 | 12/31/1999
K0121 | 12/31/1999
K0122 | 12/31/1999
K0123 | 12/31/1999
K0124 | 12/31/1996
K0125 | 12/31/1996
K0126 | 12/31/1996
K0127 | 12/31/1996
K0128 | 12/31/1996
K0129 | 12/31/1996
K0130 | 12/31/1996
K0137 | 12/31/1999
K0138 | 12/31/1999
K0139 | 12/31/1999
K0140 | 03/31/1997
K0141 | 03/31/1997
K0142 | 03/31/1997
K0143 | 03/31/1997
K0144 | 03/31/1997
K0145 | 03/31/1997
K0146 | 03/31/1997
K0152 | 12/31/1996
K0154 | 12/31/1996
K0163 | 12/31/1996
K0168 | 12/31/1999
K0169 | 12/31/1999
K0170 | 12/31/1999
K0171 | 12/31/1999
K0172 | 12/31/1999
K0173 | 12/31/1999
K0174 | 12/31/1999
K0175 | 12/31/1999
K0176 | 12/31/1999
K0177 | 12/31/1999
K0178 | 12/31/1999
K0179 | 12/31/1999
K0180 | 12/31/1999
K0181 | 12/31/1999
K0190 | 12/31/1999
K0191 | 12/31/1999
K0192 | 12/31/1999
K0193 | 09/30/1999
K0194 | 09/30/1999
K0196 | 12/31/1996
K0197 | 12/31/1996
K0198 | 12/31/1996
K0199 | 12/31/1996
K0203 | 12/31/1996
K0204 | 12/31/1996
K0205 | 12/31/1996
K0206 | 12/31/1996
K0207 | 12/31/1996
K0208 | 12/31/1996
K0209 | 12/31/1996
K0210 | 12/31/1996
K0211 | 12/31/1996
K0212 | 12/31/1996
K0213 | 12/31/1996
K0214 | 12/31/1996
K0215 | 12/31/1996
K0216 | 12/31/1996
K0217 | 12/31/1996
K0218 | 12/31/1996
K0219 | 12/31/1996
K0220 | 12/31/1996
K0221 | 12/31/1996
K0222 | 12/31/1996
K0223 | 12/31/1996
K0224 | 12/31/1996
K0228 | 12/31/1996
K0229 | 12/31/1996
K0230 | 12/31/1996
K0234 | 12/31/1996
K0235 | 12/31/1996
K0236 | 12/31/1996
K0237 | 12/31/1996
K0238 | 12/31/1996
K0239 | 12/31/1996
K0240 | 12/31/1996
K0241 | 12/31/1996
K0242 | 12/31/1996
K0243 | 12/31/1996
K0244 | 12/31/1996
K0245 | 12/31/1996
K0246 | 12/31/1996
K0247 | 12/31/1996
K0248 | 12/31/1996
K0249 | 12/31/1996
K0250 | 12/31/1996
K0251 | 12/31/1996
K0252 | 12/31/1996
K0253 | 12/31/1996
K0254 | 12/31/1996
K0255 | 12/31/1996
K0256 | 12/31/1996
K0257 | 12/31/1996
K0258 | 12/31/1996
K0259 | 12/31/1996
K0260 | 12/31/1996
K0261 | 12/31/1996
K0262 | 12/31/1996
K0263 | 12/31/1996
K0264 | 12/31/1996
K0265 | 12/31/1996
K0266 | 12/31/1996
K0271 | 06/30/1996
K0272 | 06/30/1996
K0273 | 06/30/1996
K0274 | 06/30/1996
K0275 | 06/30/1996
K0276 | 06/30/1996
K0277 | 12/31/1999
K0278 | 12/31/1999
K0279 | 12/31/1999
K0284 | 12/31/1999
K0285 | 12/31/1996
K0400 | 12/31/1999
K0401 | 12/31/1999
K0402 | 12/31/1996
K0403 | 12/31/1996
K0404 | 12/31/1996
K0405 | 12/31/1996
K0406 | 12/31/1996
K0412 | 12/31/1999
K0413 | 12/31/1997
K0414 | 12/31/1997
K0417 | 12/31/1999
K0418 | 12/31/1999
K0419 | 12/31/1999
K0420 | 12/31/1999
K0421 | 12/31/1999
K0422 | 12/31/1999
K0423 | 12/31/1999
K0424 | 12/31/1999
K0425 | 12/31/1999
K0426 | 12/31/1999
K0427 | 12/31/1999
K0428 | 12/31/1999
K0429 | 12/31/1999
K0430 | 12/31/1999
K0431 | 12/31/1999
K0432 | 12/31/1999
K0433 | 12/31/1999
K0434 | 12/31/1999
K0435 | 12/31/1999
K0436 | 12/31/1999
K0437 | 12/31/1999
K0438 | 12/31/1999
K0439 | 12/31/1999
K0453 | 12/31/1998
K0454 | 12/31/1997
K0503 | 12/31/1999
K0504 | 12/31/1999
K0505 | 12/31/1999
K0506 | 12/31/1999
K0507 | 12/31/1999
K0508 | 12/31/1999
K0509 | 12/31/1999
K0511 | 12/31/1999
K0512 | 12/31/1999
K0513 | 12/31/1999
K0514 | 12/31/1999
K0515 | 12/31/1999
K0516 | 12/31/1999
K0518 | 12/31/1999
K0519 | 12/31/1999
K0520 | 12/31/1999
K0521 | 12/31/1999
K0522 | 12/31/1999
K0523 | 12/31/1999
K0524 | 12/31/1999
K0525 | 12/31/1999
K0526 | 12/31/1999
K0527 | 12/31/1999
K0528 | 12/31/1999
K0530 | 12/31/1999
L4200 | 12/31/1996
L4310 | 12/31/1998
L4320 | 12/31/1998
L4390 | 12/31/1998
L7160 | 12/31/1996
L7165 | 12/31/1996
L8605 | 12/31/1997
L8611 | 12/31/1997
L8615 | 12/31/1997
L8616 | 12/31/1997
L8617 | 12/31/1997
L8618 | 12/31/1997
L8620 | 12/31/1997
L8621 | 12/31/1997
L8622 | 12/31/1997
L8623 | 12/31/1997
L8624 | 12/31/1997
L8625 | 12/31/1997
L8626 | 12/31/1997
L8627 | 12/31/1997
L8628 | 12/31/1997
L8629 | 12/31/1997
L8640 | 12/31/1997
L8655 | 12/31/1997
L8656 | 12/31/1997
L8657 | 12/31/1997
L8680 | 12/31/1997
L8690 | 12/31/1997
L9999 | 12/31/1996
M0005 | 12/31/1997
M0006 | 12/31/1997
M0007 | 12/31/1997
M0008 | 12/31/1997
M0101 | 12/31/1998
P9014 | 12/31/1998
P9015 | 12/31/1998
P9610 | 12/31/1998
Q0068 | 12/31/1999
Q0103 | 12/31/1997
Q0104 | 12/31/1997
Q0109 | 12/31/1997
Q0110 | 12/31/1997
Q0116 | 09/30/1996
Q0132 | 12/31/1999
Q0158 | 12/31/1997
Q0159 | 12/31/1998
Q0162 | 12/31/1998
Q0182 | 12/31/1998

——————————

CPT codes and descriptions only are copyright American Medical Association. All Rights Reserved. Applicable FARS/DFARS Apply.

Copyright American Dental Association. All rights reserved.

Addendum E.—CPT Codes Which Would Be Paid Only As Inpatient Procedures
CPT/HCPCS | HOPD Status Indicator | Description
00174 | C | Anesth, pharyngeal surgery
00176 | C | Anesth, pharyngeal surgery
00192 | C | Anesth, facial bone surgery
00214 | C | Anesth, skull drainage
00215 | C | Anesth, skull fracture
00404 | C | Anesth, surgery of breast
00406 | C | Anesth, surgery of breast
00452 | C | Anesth, surgery of shoulder
00474 | C | Anesth, surgery of rib(s)
00524 | C | Anesth, chest drainage
00530 | C | Anesth, pacemaker insertion
00540 | C | Anesth, chest surgery
00542 | C | Anesth, release of lung
00544 | C | Anesth, chest lining removal
00546 | C | Anesth, lung, chest wall surg
00560 | C | Anesth, open heart surgery
00562 | C | Anesth, open heart surgery
00580 | C | Anesth heart/lung transplant
00604 | C | Anesth, surgery of vertebra
00622 | C | Anesth, removal of nerves
00632 | C | Anesth, removal of nerves
00634 | C | Anesth for chemonucleolysis
00670 | C | Anesth, spine, cord surgery
00792 | C | Anesth, part liver removal
00794 | C | Anesth, pancreas removal
00796 | C | Anesth, for liver transplant
00802 | C | Anesth, fat layer removal
00844 | C | Anesth, pelvis surgery
00846 | C | Anesth, hysterectomy
00848 | C | Anesth, pelvic organ surg
00850 | C | Anesth, cesarean section
00855 | C | Anesth, hysterectomy
00857 | C | Analgesia, labor & c-section
00864 | C | Anesth, removal of bladder
00865 | C | Anesth, removal of prostate
00866 | C | Anesth, removal of adrenal
00868 | C | Anesth, kidney transplant
00882 | C | Anesth, major vein ligation
00884 | C | Anesth, major vein revision
00904 | C | Anesth, perineal surgery
00908 | C | Anesth, removal of prostate
00928 | C | Anesth, removal of testis
00932 | C | Anesth, amputation of penis
00934 | C | Anesth, penis, nodes removal
00936 | C | Anesth, penis, nodes removal
00944 | C | Anesth, vaginal hysterectomy
00955 | C | Analgesia, vaginal delivery
01140 | C | Anesth, amputation at pelvis
01150 | C | Anesth, pelvic tumor surgery
01190 | C | Anesth, pelvis nerve removal
01212 | C | Anesth, hip disarticulation
01214 | C | Anesth, replacement of hip
01232 | C | Anesth, amputation of femur
01234 | C | Anesth, radical femur surg
01272 | C | Anesth, femoral artery surg
01274 | C | Anesth, femoral embolectomy
01402 | C | Anesth, replacement of knee
01404 | C | Anesth, amputation at knee
01442 | C | Anesth, knee artery surg
01444 | C | Anesth, knee artery repair
01486 | C | Anesth, ankle replacement
01502 | C | Anesth, lwr leg embolectomy
01632 | C | Anesth, surgery of shoulder
01634 | C | Anesth, shoulder joint amput
01636 | C | Anesth, forequarter amput
01638 | C | Anesth, shoulder replacement
01652 | C | Anesth, shoulder vessel surg
01654 | C | Anesth, shoulder vessel surg
01656 | C | Anesth, arm-leg vessel surg
01756 | C | Anesth, radical humerus surg
01772 | C | Anesth, uppr arm embolectomy
01782 | C | Anesth, uppr arm vein repair
01842 | C | Anesth, lwr arm embolectomy
01852 | C | Anesth, lwr arm vein repair
01904 | C | Anesth, skull x-ray inject
01990 | C | Support for organ donor
15756 | C | Free muscle flap, microvasc
15757 | C | Free skin flap, microvasc
15758 | C | Free fascial flap, microvasc
19200 | C | Removal of breast
19220 | C | Removal of breast
19240 | C | Removal of breast
19260 | C | Removal of chest wall lesion
19271 | C | Revision of chest wall
19272 | C | Extensive chest wall surgery
19361 | C | Breast reconstruction
19364 | C | Breast reconstruction
19367 | C | Breast reconstruction
19368 | C | Breast reconstruction
19369 | C | Breast reconstruction
20660 | C | Apply, remove fixation device
20661 | C | Application of head brace
20662 | C | Application of pelvis brace
20663 | C | Application of thigh brace
20664 | C | Halo brace application
20802 | C | Replantation, arm, complete
20805 | C | Replant, forearm, complete
20808 | C | Replantation hand, complete
20816 | C | Replantation digit, complete
20822 | C | Replantation digit, complete
20824 | C | Replantation thumb, complete
20827 | C | Replantation thumb, complete
20838 | C | Replantation foot, complete
20930 | C | Spinal bone allograft
20931 | C | Spinal bone allograft
20936 | C | Spinal bone autograft
20937 | C | Spinal bone autograft
20938 | C | Spinal bone autograft
20955 | C | Fibula bone graft, microvasc
20956 | C | Iliac bone graft, microvasc
20957 | C | Mt bone graft, microvasc
20962 | C | Other bone graft, microvasc
20969 | C | Bone/skin graft, microvasc
20970 | C | Bone/skin graft, iliac crest
20972 | C | Bone/skin graft, metatarsal
20973 | C | Bone/skin graft, great toe
21045 | C | Extensive jaw surgery
21141 | C | Reconstruct midface, lefort
21142 | C | Reconstruct midface, lefort
21143 | C | Reconstruct midface, lefort
21145 | C | Reconstruct midface, lefort
21146 | C | Reconstruct midface, lefort
21147 | C | Reconstruct midface, lefort
21150 | C | Reconstruct midface, lefort
21151 | C | Reconstruct midface, lefort
21154 | C | Reconstruct midface, lefort
21155 | C | Reconstruct midface, lefort
21159 | C | Reconstruct midface, lefort
21160 | C | Reconstruct midface, lefort
21172 | C | Reconstruct orbit/forehead
21175 | C | Reconstruct orbit/forehead
21179 | C | Reconstruct entire forehead
21180 | C | Reconstruct entire forehead
21182 | C | Reconstruct cranial bone
21183 | C | Reconstruct cranial bone
21184 | C | Reconstruct cranial bone
21188 | C | Reconstruction of midface
21193 | C | Reconstruct lower jaw bone
21194 | C | Reconstruct lower jaw bone
21195 | C | Reconstruct lower jaw bone
21196 | C | Reconstruct lower jaw bone
21247 | C | Reconstruct lower jaw bone
21255 | C | Reconstruct lower jaw bone
21256 | C | Reconstruction of orbit
21268 | C | Revise eye sockets
21343 | C | Treatment of sinus fracture
21344 | C | Treatment of sinus fracture
21346 | C | Treat nose/jaw fracture
21347 | C | Treat nose/jaw fracture
21348 | C | Treat nose/jaw fracture
21356 | C | Treat cheek bone fracture
21360 | C | Treat cheek bone fracture
21365 | C | Treat cheek bone fracture
21366 | C | Treat cheek bone fracture
21385 | C | Treat eye socket fracture
21386 | C | Treat eye socket fracture
21387 | C | Treat eye socket fracture
21390 | C | Treat eye socket fracture
21395 | C | Treat eye socket fracture
21408 | C | Treat eye socket fracture
21422 | C | Treat mouth roof fracture
21423 | C | Treat mouth roof fracture
21431 | C | Treat craniofacial fracture
21432 | C | Treat craniofacial fracture
21433 | C | Treat craniofacial fracture
21435 | C | Treat craniofacial fracture
21436 | C | Treat craniofacial fracture
21495 | C | Treat hyoid bone fracture
21510 | C | Drainage of bone lesion
21557 | C | Remove tumor, neck/chest
21615 | C | Removal of rib
21616 | C | Removal of rib and nerves
21620 | C | Partial removal of sternum
21627 | C | Sternal debridement
21630 | C | Extensive sternum surgery
21632 | C | Extensive sternum surgery
21705 | C | Revision of neck muscle/rib
21740 | C | Reconstruction of sternum
21750 | C | Repair of sternum separation
21810 | C | Treatment of rib fracture(s)
21825 | C | Treat sternum fracture
22100 | C | Remove part of neck vertebra
22101 | C | Remove part, thorax vertebra
22102 | C | Remove part, lumbar vertebra
22103 | C | Remove extra spine segment
22110 | C | Remove part of neck vertebra
22112 | C | Remove part, thorax vertebra
22114 | C | Remove part, lumbar vertebra
22116 | C | Remove extra spine segment
22210 | C | Revision of neck spine
22212 | C | Revision of thorax spine
22214 | C | Revision of lumbar spine
22216 | C | Revise, extra spine segment
22220 | C | Revision of neck spine
22222 | C | Revision of thorax spine
22224 | C | Revision of lumbar spine
22226 | C | Revise, extra spine segment
22318 | C | Treat odontoid fx w/o graft
22319 | C | Treat odontoid fx w/graft
22325 | C | Treat spine fracture
22326 | C | Treat neck spine fracture
22327 | C | Treat thorax spine fracture
22328 | C | Treat each add spine fx
22548 | C | Neck spine fusion
22554 | C | Neck spine fusion
22556 | C | Thorax spine fusion
22558 | C | Lumbar spine fusion
22585 | C | Additional spinal fusion
22590 | C | Spine & skull spinal fusion
22595 | C | Neck spinal fusion
22600 | C | Neck spine fusion
22610 | C | Thorax spine fusion
22612 | C | Lumbar spine fusion
22614 | C | Spine fusion, extra segment
22630 | C | Lumbar spine fusion
22632 | C | Spine fusion, extra segment
22800 | C | Fusion of spine
22802 | C | Fusion of spine
22804 | C | Fusion of spine
22808 | C | Fusion of spine
22810 | C | Fusion of spine
22812 | C | Fusion of spine
22818 | C | Kyphectomy, 1-2 segments
22819 | C | Kyphectomy, 3 or more
22830 | C | Exploration of spinal fusion
22840 | C | Insert spine fixation device
22841 | C | Insert spine fixation device
22842 | C | Insert spine fixation device
22843 | C | Insert spine fixation device
22844 | C | Insert spine fixation device
22845 | C | Insert spine fixation device
22846 | C | Insert spine fixation device
22847 | C | Insert spine fixation device
22848 | C | Insert pelv fixation device
22849 | C | Reinsert spinal fixation
22850 | C | Remove spine fixation device
22851 | C | Apply spine prosth device
22852 | C | Remove spine fixation device
22855 | C | Remove spine fixation device
23035 | C | Drain shoulder bone lesion
23125 | C | Removal of collar bone
23195 | C | Removal of head of humerus
23200 | C | Removal of collar bone
23210 | C | Removal of shoulder blade
23220 | C | Partial removal of humerus
23221 | C | Partial removal of humerus
23222 | C | Partial removal of humerus
23332 | C | Remove shoulder foreign body
23395 | C | Muscle transfer, shoulder/arm
23397 | C | Muscle transfers
23400 | C | Fixation of shoulder blade
23440 | C | Remove/transplant tendon
23470 | C | Reconstruct shoulder joint
23472 | C | Reconstruct shoulder joint
23900 | C | Amputation of arm & girdle
23920 | C | Amputation at shoulder joint
24149 | C | Radical resection of elbow
24150 | C | Extensive humerus surgery
24151 | C | Extensive humerus surgery
24152 | C | Extensive radius surgery
24153 | C | Extensive radius surgery
24900 | C | Amputation of upper arm
24920 | C | Amputation of upper arm
24930 | C | Amputation follow-up surgery
24931 | C | Amputate upper arm & implant
24940 | C | Revision of upper arm
25170 | C | Extensive forearm surgery
25390 | C | Shorten radius or ulna
25391 | C | Lengthen radius or ulna
25392 | C | Shorten radius & ulna
25393 | C | Lengthen radius & ulna
25405 | C | Repair/graft radius or ulna
25420 | C | Repair/graft radius & ulna
25900 | C | Amputation of forearm
25905 | C | Amputation of forearm
25909 | C | Amputation follow-up surgery
25915 | C | Amputation of forearm
25920 | C | Amputate hand at wrist
25924 | C | Amputation follow-up surgery
25927 | C | Amputation of hand
25931 | C | Amputation follow-up surgery
26551 | C | Great toe-hand transfer
26553 | C | Single transfer, toe-hand
26554 | C | Double transfer, toe-hand
26556 | C | Toe joint transfer
26992 | C | Drainage of bone lesion
27005 | C | Incision of hip tendon
27006 | C | Incision of hip tendons
27025 | C | Incision of hip/thigh fascia
27030 | C | Drainage of hip joint
27035 | C | Denervation of hip joint
27036 | C | Excision of hip joint/muscle
27054 | C | Removal of hip joint lining
27070 | C | Partial removal of hip bone
27071 | C | Partial removal of hip bone
27075 | C | Extensive hip surgery
27076 | C | Extensive hip surgery
27077 | C | Extensive hip surgery
27078 | C | Extensive hip surgery
27079 | C | Extensive hip surgery
27090 | C | Removal of hip prosthesis
27091 | C | Removal of hip prosthesis
27120 | C | Reconstruction of hip socket
27122 | C | Reconstruction of hip socket
27125 | C | Partial hip replacement
27130 | C | Total hip replacement
27132 | C | Total hip replacement
27134 | C | Revise hip joint replacement
27137 | C | Revise hip joint replacement
27138 | C | Revise hip joint replacement
27140 | C | Transplant femur ridge
27146 | C | Incision of hip bone
27147 | C | Revision of hip bone
27151 | C | Incision of hip bones
27156 | C | Revision of hip bones
27158 | C | Revision of pelvis
27161 | C | Incision of neck of femur
27165 | C | Incision/fixation of femur
27170 | C | Repair/graft femur head/neck
27175 | C | Treat slipped epiphysis
27176 | C | Treat slipped epiphysis
27177 | C | Treat slipped epiphysis
27178 | C | Treat slipped epiphysis
27179 | C | Revise head/neck of femur
27181 | C | Treat slipped epiphysis
27185 | C | Revision of femur epiphysis
27187 | C | Reinforce hip bones
27215 | C | Treat pelvic fracture(s)
27216 | C | Treat pelvic ring fracture
27217 | C | Treat pelvic ring fracture
27218 | C | Treat pelvic ring fracture
27222 | C | Treat hip socket fracture
27226 | C | Treat hip wall fracture
27227 | C | Treat hip fracture(s)
27228 | C | Treat hip fracture(s)
27232 | C | Treat thigh fracture
27235 | C | Treat thigh fracture
27236 | C | Treat thigh fracture
27240 | C | Treat thigh fracture
27244 | C | Treat thigh fracture
27245 | C | Treat thigh fracture
27248 | C | Treat thigh fracture
27253 | C | Treat hip dislocation
27254 | C | Treat hip dislocation
27258 | C | Treat hip dislocation
27259 | C | Treat hip dislocation
27280 | C | Fusion of sacroiliac joint
27282 | C | Fusion of pubic bones
27284 | C | Fusion of hip joint
27286 | C | Fusion of hip joint
27290 | C | Amputation of leg at hip
27295 | C | Amputation of leg at hip
27303 | C | Drainage of bone lesion
27365 | C | Extensive leg surgery
27445 | C | Revision of knee joint
27446 | C | Revision of knee joint
27447 | C | Total knee replacement
27448 | C | Incision of thigh
27450 | C | Incision of thigh
27454 | C | Realignment of thigh bone
27455 | C | Realignment of knee
27457 | C | Realignment of knee
27465 | C | Shortening of thigh bone
27466 | C | Lengthening of thigh bone
27468 | C | Shorten/lengthen thighs
27470 | C | Repair of thigh
27472 | C | Repair/graft of thigh
27475 | C | Surgery to stop leg growth
27477 | C | Surgery to stop leg growth
27479 | C | Surgery to stop leg growth
27485 | C | Surgery to stop leg growth
27486 | C | Revise/replace knee joint
27487 | C | Revise/replace knee joint
27488 | C | Removal of knee prosthesis
27495 | C | Reinforce thigh
27506 | C | Treatment of thigh fracture
27507 | C | Treatment of thigh fracture
27511 | C | Treatment of thigh fracture
27513 | C | Treatment of thigh fracture
27514 | C | Treatment of thigh fracture
27519 | C | Treat thigh fx growth plate
27524 | C | Treat kneecap fracture
27535 | C | Treat knee fracture
27536 | C | Treat knee fracture
27540 | C | Treat knee fracture
27557 | C | Treat knee dislocation
27558 | C | Treat knee dislocation
27580 | C | Fusion of knee
27590 | C | Amputate leg at thigh
27591 | C | Amputate leg at thigh
27592 | C | Amputate leg at thigh
27596 | C | Amputation follow-up surgery
27598 | C | Amputate lower leg at knee
27645 | C | Extensive lower leg surgery
27646 | C | Extensive lower leg surgery
27702 | C | Reconstruct ankle joint
27703 | C | Reconstruction, ankle joint
27712 | C | Realignment of lower leg
27715 | C | Revision of lower leg
27720 | C | Repair of tibia
27722 | C | Repair/graft of tibia
27724 | C | Repair/graft of tibia
27725 | C | Repair of lower leg
27727 | C | Repair of lower leg
27880 | C | Amputation of lower leg
27881 | C | Amputation of lower leg
27882 | C | Amputation of lower leg
27886 | C | Amputation follow-up surgery
27888 | C | Amputation of foot at ankle
28800 | C | Amputation of midfoot
28805 | C | Amputation thru metatarsal
31225 | C | Removal of upper jaw
31230 | C | Removal of upper jaw
31290 | C | Nasal/sinus endoscopy, surg
31291 | C | Nasal/sinus endoscopy, surg
31292 | C | Nasal/sinus endoscopy, surg
31293 | C | Nasal/sinus endoscopy, surg
31294 | C | Nasal/sinus endoscopy, surg
31360 | C | Removal of larynx
31365 | C | Removal of larynx
31367 | C | Partial removal of larynx
31368 | C | Partial removal of larynx
31370 | C | Partial removal of larynx
31380 | C | Partial removal of larynx
31382 | C | Partial removal of larynx
31390 | C | Removal of larynx & pharynx
31395 | C | Reconstruct larynx & pharynx
31582 | C | Revision of larynx
31584 | C | Treat larynx fracture
31587 | C | Revision of larynx
31725 | C | Clearance of airways
31760 | C | Repair of windpipe
31766 | C | Reconstruction of windpipe
31770 | C | Repair/graft of bronchus
31775 | C | Reconstruct bronchus
31780 | C | Reconstruct windpipe
31781 | C | Reconstruct windpipe
31785 | C | Remove windpipe lesion
31786 | C | Remove windpipe lesion
31800 | C | Repair of windpipe injury
31805 | C | Repair of windpipe injury
32035 | C | Exploration of chest
32036 | C | Exploration of chest
32095 | C | Biopsy through chest wall
32100 | C | Exploration/biopsy of chest
32110 | C | Explore/repair chest
32120 | C | Re-exploration of chest
32124 | C | Explore chest free adhesions
32140 | C | Removal of lung lesion(s)
32141 | C | Remove/treat lung lesions
32150 | C | Removal of lung lesion(s)
32151 | C | Remove lung foreign body
32160 | C | Open chest heart massage
32200 | C | Drain, open, lung lesion
32201 | C | Drain, percut, lung lesion
32215 | C | Treat chest lining
32220 | C | Release of lung
32225 | C | Partial release of lung
32310 | C | Removal of chest lining
32320 | C | Free/remove chest lining
32402 | C | Open biopsy chest lining
32440 | C | Removal of lung
32442 | C | Sleeve pneumonectomy
32445 | C | Removal of lung
32480 | C | Partial removal of lung
32482 | C | Bilobectomy
32484 | C | Segmentectomy
32486 | C | Sleeve lobectomy
32488 | C | Completion pneumonectomy
32491 | C | Lung volume reduction
32500 | C | Partial removal of lung
32501 | C | Repair bronchus add-on
32520 | C | Remove lung & revise chest
32522 | C | Remove lung & revise chest
32525 | C | Remove lung & revise chest
32540 | C | Removal of lung lesion
32650 | C | Thoracoscopy, surgical
32651 | C | Thoracoscopy, surgical
32652 | C | Thoracoscopy, surgical
32653 | C | Thoracoscopy, surgical
32654 | C | Thoracoscopy, surgical
32655 | C | Thoracoscopy, surgical
32656 | C | Thoracoscopy, surgical
32657 | C | Thoracoscopy, surgical
32658 | C | Thoracoscopy, surgical
32659 | C | Thoracoscopy, surgical
32660 | C | Thoracoscopy, surgical
32661 | C | Thoracoscopy, surgical
32662 | C | Thoracoscopy, surgical
32663 | C | Thoracoscopy, surgical
32664 | C | Thoracoscopy, surgical
32665 | C | Thoracoscopy, surgical
32800 | C | Repair lung hernia
32810 | C | Close chest after drainage
32815 | C | Close bronchial fistula
32820 | C | Reconstruct injured chest
32850 | C | Donor pneumonectomy
32851 | C | Lung transplant, single
32852 | C | Lung transplant with bypass
32853 | C | Lung transplant, double
32854 | C | Lung transplant with bypass
32900 | C | Removal of rib(s)
32905 | C | Revise & repair chest wall
32906 | C | Revise & repair chest wall
32940 | C | Revision of lung
32997 | C | Total lung lavage
33015 | C | Incision of heart sac
33020 | C | Incision of heart sac
33025 | C | Incision of heart sac
33030 | C | Partial removal of heart sac
33031 | C | Partial removal of heart sac
33050 | C | Removal of heart sac lesion
33120 | C | Removal of heart lesion
33130 | C | Removal of heart lesion
33140 | C | Heart revascularize (tmr)
33200 | C | Insertion of heart pacemaker
33201 | C | Insertion of heart pacemaker
33236 | C | Remove electrode/thoracotomy
33237 | C | Remove electrode/thoracotomy
33238 | C | Remove electrode/thoracotomy
33243 | C | Remove eltrd/thoracotomy
33245 | C | Insert epic eltrd pace-defib
33246 | C | Insert epic eltrd/generator
33250 | C | Ablate heart dysrhythm focus
33251 | C | Ablate heart dysrhythm focus
33253 | C | Reconstruct atria
33261 | C | Ablate heart dysrhythm focus
33282 | C | Implant pat-active ht record
33284 | C | Remove pat-active ht record
33300 | C | Repair of heart wound
33305 | C | Repair of heart wound
33310 | C | Exploratory heart surgery
33315 | C | Exploratory heart surgery
33320 | C | Repair major blood vessel(s)
33321 | C | Repair major vessel
33322 | C | Repair major blood vessel(s)
33330 | C | Insert major vessel graft
33332 | C | Insert major vessel graft
33335 | C | Insert major vessel graft
33400 | C | Repair of aortic valve
33401 | C | Valvuloplasty, open
33403 | C | Valvuloplasty, w/cp bypass
33404 | C | Prepare heart-aorta conduit
33405 | C | Replacement of aortic valve
33406 | C | Replacement of aortic valve
33410 | C | Replacement of aortic valve
33411 | C | Replacement of aortic valve
33412 | C | Replacement of aortic valve
33413 | C | Replacement of aortic valve
33414 | C | Repair of aortic valve
33415 | C | Revision, subvalvular tissue
33416 | C | Revise ventricle muscle
33417 | C | Repair of aortic valve
33420 | C | Revision of mitral valve
33422 | C | Revision of mitral valve
33425 | C | Repair of mitral valve
33426 | C | Repair of mitral valve
33427 | C | Repair of mitral valve
33430 | C | Replacement of mitral valve
33460 | C | Revision of tricuspid valve
33463 | C | Valvuloplasty, tricuspid
33464 | C | Valvuloplasty, tricuspid
33465 | C | Replace tricuspid valve
33468 | C | Revision of tricuspid valve
33470 | C | Revision of pulmonary valve
33471 | C | Valvotomy, pulmonary valve
33472 | C | Revision of pulmonary valve
33474 | C | Revision of pulmonary valve
33475 | C | Replacement, pulmonary valve
33476 | C | Revision of heart chamber
33478 | C | Revision of heart chamber
33496 | C | Repair, prosth valve clot
33500 | C | Repair heart vessel fistula
33501 | C | Repair heart vessel fistula
33502 | C | Coronary artery correction
33503 | C | Coronary artery graft
33504 | C | Coronary artery graft
33505 | C | Repair artery w/tunnel
33506 | C | Repair artery, translocation
33510 | C | CABG, vein, single
33511 | C | CABG, vein, two
33512 | C | CABG, vein, three
33513 | C | CABG, vein, four
33514 | C | CABG, vein, five
33516 | C | Cabg, vein, six or more
33517 | C | CABG, artery-vein, single
33518 | C | CABG, artery-vein, two
33519 | C | CABG, artery-vein, three
33521 | C | CABG, artery-vein, four
33522 | C | CABG, artery-vein, five
33523 | C | Cabg, art-vein, six or more
33530 | C | Coronary artery, bypass/reop
33533 | C | CABG, arterial, single
33534 | C | CABG, arterial, two
33535 | C | CABG, arterial, three
33536 | C | Cabg, arterial, four or more
33542 | C | Removal of heart lesion
33545 | C | Repair of heart damage
33572 | C | Open coronary endarterectomy
33600 | C | Closure of valve
33602 | C | Closure of valve
33606 | C | Anastomosis/artery-aorta
33608 | C | Repair anomaly w/conduit
33610 | C | Repair by enlargement
33611 | C | Repair double ventricle
33612 | C | Repair double ventricle
33615 | C | Repair, simple fontan
33617 | C | Repair, modified fontan
33619 | C | Repair single ventricle
33641 | C | Repair heart septum defect
33645 | C | Revision of heart veins
33647 | C | Repair heart septum defects
33660 | C | Repair of heart defects
33665 | C | Repair of heart defects
33670 | C | Repair of heart chambers
33681 | C | Repair heart septum defect
33684 | C | Repair heart septum defect
33688 | C | Repair heart septum defect
33690 | C | Reinforce pulmonary artery
33692 | C | Repair of heart defects
33694 | C | Repair of heart defects
33697 | C | Repair of heart defects
33702 | C | Repair of heart defects
33710 | C | Repair of heart defects
33720 | C | Repair of heart defect
33722 | C | Repair of heart defect
33730 | C | Repair heart-vein defect(s)
33732 | C | Repair heart-vein defect
33735 | C | Revision of heart chamber
33736 | C | Revision of heart chamber
33737 | C | Revision of heart chamber
33750 | C | Major vessel shunt
33755 | C | Major vessel shunt
33762 | C | Major vessel shunt
33764 | C | Major vessel shunt & graft
33766 | C | Major vessel shunt
33767 | C | Major vessel shunt
33770 | C | Repair great vessels defect
33771 | C | Repair great vessels defect
33774 | C | Repair great vessels defect
33775 | C | Repair great vessels defect
33776 | C | Repair great vessels defect
33777 | C | Repair great vessels defect
33778 | C | Repair great vessels defect
33779 | C | Repair great vessels defect
33780 | C | Repair great vessels defect
33781 | C | Repair great vessels defect
33786 | C | Repair arterial trunk
33788 | C | Revision of pulmonary artery
33800 | C | Aortic suspension
33802 | C | Repair vessel defect
33803 | C | Repair vessel defect
33813 | C | Repair septal defect
33814 | C | Repair septal defect
33820 | C | Revise major vessel
33822 | C | Revise major vessel
33824 | C | Revise major vessel
33840 | C | Remove aorta constriction
33845 | C | Remove aorta constriction
33851 | C | Remove aorta constriction
33852 | C | Repair septal defect
33853 | C | Repair septal defect
33860 | C | Ascending aortic graft
33861 | C | Ascending aortic graft
33863 | C | Ascending aortic graft
33870 | C | Transverse aortic arch graft
33875 | C | Thoracic aortic graft
33877 | C | Thoracoabdominal graft
33910 | C | Remove lung artery emboli
33915 | C | Remove lung artery emboli
33916 | C | Surgery of great vessel
33917 | C | Repair pulmonary artery
33918 | C | Repair pulmonary atresia
33919 | C | Repair pulmonary atresia
33920 | C | Repair pulmonary atresia
33922 | C | Transect pulmonary artery
33924 | C | Remove pulmonary shunt
33930 | C | Removal of donor heart/lung
33935 | C | Transplantation, heart/lung
33940 | C | Removal of donor heart
33945 | C | Transplantation of heart
33960 | C | External circulation assist
33961 | C | External circulation assist
33968 | C | Remove aortic assist device
33970 | C | Aortic circulation assist
33971 | C | Aortic circulation assist
33973 | C | Insert balloon device
33974 | C | Remove intra-aortic balloon
33975 | C | Implant ventricular device
33976 | C | Implant ventricular device
33977 | C | Remove ventricular device
33978 | C | Remove ventricular device
34001 | C | Removal of artery clot
34051 | C | Removal of artery clot
34151 | C | Removal of artery clot
34401 | C | Removal of vein clot
34421 | C | Removal of vein clot
34451 | C | Removal of vein clot
34502 | C | Reconstruct vena cava
35001 | C | Repair defect of artery
35002 | C | Repair artery rupture, neck
35005 | C | Repair defect of artery
35011 | C | Repair defect of artery
35013 | C | Repair artery rupture, arm
35021 | C | Repair defect of artery
35022 | C | Repair artery rupture, chest
35045 | C | Repair defect of arm artery
35081 | C | Repair defect of artery
35082 | C | Repair artery rupture, aorta
35091 | C | Repair defect of artery
35092 | C | Repair artery rupture, aorta
35102 | C | Repair defect of artery
35103 | C | Repair artery rupture, groin
35111 | C | Repair defect of artery
35112 | C | Repair artery rupture, spleen
35121 | C | Repair defect of artery
35122 | C | Repair artery rupture, belly
35131 | C | Repair defect of artery
35132 | C | Repair artery rupture, groin
35141 | C | Repair defect of artery
35142 | C | Repair artery rupture, thigh
35151 | C | Repair defect of artery
35152 | C | Repair artery rupture, knee
35161 | C | Repair defect of artery
35162 | C | Repair artery rupture
35182 | C | Repair blood vessel lesion
35189 | C | Repair blood vessel lesion
35211 | C | Repair blood vessel lesion
35216 | C | Repair blood vessel lesion
35221 | C | Repair blood vessel lesion
35241 | C | Repair blood vessel lesion
35246 | C | Repair blood vessel lesion
35251 | C | Repair blood vessel lesion
35271 | C | Repair blood vessel lesion
35276 | C | Repair blood vessel lesion
35281 | C | Repair blood vessel lesion
35301 | C | Rechanneling of artery
35311 | C | Rechanneling of artery
35331 | C | Rechanneling of artery
35341 | C | Rechanneling of artery
35351 | C | Rechanneling of artery
35355 | C | Rechanneling of artery
35361 | C | Rechanneling of artery
35363 | C | Rechanneling of artery
35371 | C | Rechanneling of artery
35372 | C | Rechanneling of artery
35381 | C | Rechanneling of artery
35390 | C | Reoperation, carotid add-on
35400 | C | Angioscopy
35450 | C | Repair arterial blockage
35452 | C | Repair arterial blockage
35454 | C | Repair arterial blockage
35456 | C | Repair arterial blockage
35458 | C | Repair arterial blockage
35480 | C | Atherectomy, open
35481 | C | Atherectomy, open
35482 | C | Atherectomy, open
35483 | C | Atherectomy, open
35501 | C | Artery bypass graft
35506 | C | Artery bypass graft
35507 | C | Artery bypass graft
35508 | C | Artery bypass graft
35509 | C | Artery bypass graft
35511 | C | Artery bypass graft
35515 | C | Artery bypass graft
35516 | C | Artery bypass graft
35518 | C | Artery bypass graft
35521 | C | Artery bypass graft
35526 | C | Artery bypass graft
35531 | C | Artery bypass graft
35533 | C | Artery bypass graft
35536 | C | Artery bypass graft
35541 | C | Artery bypass graft
35546 | C | Artery bypass graft
35548 | C | Artery bypass graft
35549 | C | Artery bypass graft
35551 | C | Artery bypass graft
35556 | C | Artery bypass graft
35558 | C | Artery bypass graft
35560 | C | Artery bypass graft
35563 | C | Artery bypass graft
35565 | C | Artery bypass graft
35566 | C | Artery bypass graft
35571 | C | Artery bypass graft
35582 | C | Vein bypass graft
35583 | C | Vein bypass graft
35585 | C | Vein bypass graft
35587 | C | Vein bypass graft
35601 | C | Artery bypass graft
35606 | C | Artery bypass graft
35612 | C | Artery bypass graft
35616 | C | Artery bypass graft
35621 | C | Artery bypass graft
35623 | C | Bypass graft, not vein
35626 | C | Artery bypass graft
35631 | C | Artery bypass graft
35636 | C | Artery bypass graft
35641 | C | Artery bypass graft
35642 | C | Artery bypass graft
35645 | C | Artery bypass graft
35646 | C | Artery bypass graft
35650 | C | Artery bypass graft
35651 | C | Artery bypass graft
35654 | C | Artery bypass graft
35656 | C | Artery bypass graft
35661 | C | Artery bypass graft
35663 | C | Artery bypass graft
35665 | C | Artery bypass graft
35666 | C | Artery bypass graft
35671 | C | Artery bypass graft
35681 | C | Composite bypass graft
35682 | C | Composite bypass graft
35683 | C | Composite bypass graft
35691 | C | Arterial transposition
35693 | C | Arterial transposition
35694 | C | Arterial transposition
35695 | C | Arterial transposition
35700 | C | Reoperation, bypass graft
35701 | C | Exploration, carotid artery
35721 | C | Exploration, femoral artery
35741 | C | Exploration popliteal artery
35761 | C | Exploration of artery/vein
35800 | C | Explore neck vessels
35820 | C | Explore chest vessels
35840 | C | Explore abdominal vessels
35860 | C | Explore limb vessels
35870 | C | Repair vessel graft defect
35901 | C | Excision, graft, neck
35903 | C | Excision, graft, extremity
35905 | C | Excision, graft, thorax
35907 | C | Excision, graft, abdomen
36510 | C | Insertion of catheter, vein
36550 | C | Declot vascular device
36660 | C | Insertion catheter, artery
36822 | C | Insertion of cannula(s)
36823 | C | Insertion of cannula(s)
36834 | C | Repair A-V aneurysm
37140 | C | Revision of circulation
37145 | C | Revision of circulation
37160 | C | Revision of circulation
37180 | C | Revision of circulation
37181 | C | Splice spleen/kidney veins
37195 | C | Thrombolytic therapy, stroke
37200 | C | Transcatheter biopsy
37201 | C | Transcatheter therapy infuse
37202 | C | Transcatheter therapy infuse
37616 | C | Ligation of chest artery
37617 | C | Ligation of abdomen artery
37620 | C | Revision of major vein
37660 | C | Revision of major vein
37788 | C | Revascularization, penis
38100 | C | Removal of spleen, total
38101 | C | Removal of spleen, partial
38102 | C | Removal of spleen, total
38115 | C | Repair of ruptured spleen
38380 | C | Thoracic duct procedure
38381 | C | Thoracic duct procedure
38382 | C | Thoracic duct procedure
38562 | C | Removal, pelvic lymph nodes
38564 | C | Removal, abdomen lymph nodes
38700 | C | Removal of lymph nodes, neck
38724 | C | Removal of lymph nodes, neck
38746 | C | Remove thoracic lymph nodes
38747 | C | Remove abdominal lymph nodes
38765 | C | Remove groin lymph nodes
38770 | C | Remove pelvis lymph nodes
38780 | C | Remove abdomen lymph nodes
39000 | C | Exploration of chest
39010 | C | Exploration of chest
39200 | C | Removal chest lesion
39220 | C | Removal chest lesion
39499 | C | Chest procedure
39501 | C | Repair diaphragm laceration
39502 | C | Repair paraesophageal hernia
39503 | C | Repair of diaphragm hernia
39520 | C | Repair of diaphragm hernia
39530 | C | Repair of diaphragm hernia
39531 | C | Repair of diaphragm hernia
39540 | C | Repair of diaphragm hernia
39541 | C | Repair of diaphragm hernia
39545 | C | Revision of diaphragm
39560 | C | Resect diaphragm, simple
39561 | C | Resect diaphragm, complex
39599 | C | Diaphragm surgery procedure
41130 | C | Partial removal of tongue
41135 | C | Tongue and neck surgery
41140 | C | Removal of tongue
41145 | C | Tongue removal, neck surgery
41150 | C | Tongue, mouth, jaw surgery
41153 | C | Tongue, mouth, neck surgery
41155 | C | Tongue, jaw, & neck surgery
42426 | C | Excise parotid gland/lesion
42842 | C | Extensive surgery of throat
42845 | C | Extensive surgery of throat
42894 | C | Revision of pharyngeal walls
42953 | C | Repair throat, esophagus
42961 | C | Control throat bleeding
42971 | C | Control nose/throat bleeding
43030 | C | Throat muscle surgery
43045 | C | Incision of esophagus
43100 | C | Excision of esophagus lesion
43101 | C | Excision of esophagus lesion
43107 | C | Removal of esophagus
43108 | C | Removal of esophagus
43112 | C | Removal of esophagus
43113 | C | Removal of esophagus
43116 | C | Partial removal of esophagus
43117 | C | Partial removal of esophagus
43118 | C | Partial removal of esophagus
43121 | C | Partial removal of esophagus
43122 | C | Parital removal of esophagus
43123 | C | Partial removal of esophagus
43124 | C | Removal of esophagus
43130 | C | Removal of esophagus pouch
43135 | C | Removal of esophagus pouch
43300 | C | Repair of esophagus
43305 | C | Repair esophagus and fistula
43310 | C | Repair of esophagus
43312 | C | Repair esophagus and fistula
43320 | C | Fuse esophagus & stomach
43324 | C | Revise esophagus & stomach
43325 | C | Revise esophagus & stomach
43326 | C | Revise esophagus & stomach
43330 | C | Repair of esophagus
43331 | C | Repair of esophagus
43340 | C | Fuse esophagus & intestine
43341 | C | Fuse esophagus & intestine
43350 | C | Surgical opening, esophagus
43351 | C | Surgical opening, esophagus
43352 | C | Surgical opening, esophagus
43360 | C | Gastrointestinal repair
43361 | C | Gastrointestinal repair
43400 | C | Ligate esophagus veins
43401 | C | Esophagus surgery for veins
43405 | C | Ligate/staple esophagus
43410 | C | Repair esophagus wound
43415 | C | Repair esophagus wound
43420 | C | Repair esophagus opening
43425 | C | Repair esophagus opening
43460 | C | Pressure treatment esophagus
43496 | C | Free jejunum flap, microvasc
43500 | C | Surgical opening of stomach
43501 | C | Surgical repair of stomach
43502 | C | Surgical repair of stomach
43510 | C | Surgical opening of stomach
43520 | C | Incision of pyloric muscle
43605 | C | Biopsy of stomach
43610 | C | Excision of stomach lesion
43611 | C | Excision of stomach lesion
43620 | C | Removal of stomach
43621 | C | Removal of stomach
43622 | C | Removal of stomach
43631 | C | Removal of stomach, partial
43632 | C | Removal of stomach, partial
43633 | C | Removal of stomach, partial
43634 | C | Removal of stomach, partial
43635 | C | Removal of stomach, partial
43638 | C | Removal of stomach, partial
43639 | C | Removal of stomach, partial
43640 | C | Vagotomy & pylorus repair
43641 | C | Vagotomy & pylorus repair
43800 | C | Reconstruction of pylorus
43810 | C | Fusion of stomach and bowel
43820 | C | Fusion of stomach and bowel
43825 | C | Fusion of stomach and bowel
43832 | C | Place gastrostomy tube
43840 | C | Repair of stomach lesion
43842 | C | Gastroplasty for obesity
43843 | C | Gastroplasty for obesity
43846 | C | Gastric bypass for obesity
43847 | C | Gastric bypass for obesity
43848 | C | Revision gastroplasty
43850 | C | Revise stomach-bowel fusion
43855 | C | Revise stomach-bowel fusion
43860 | C | Revise stomach-bowel fusion
43865 | C | Revise stomach-bowel fusion
43880 | C | Repair stomach-bowel fistula
44005 | C | Freeing of bowel adhesion
44010 | C | Incision of small bowel
44015 | C | Insert needle cath bowel
44020 | C | Exploration of small bowel
44021 | C | Decompress small bowel
44025 | C | Incision of large bowel
44050 | C | Reduce bowel obstruction
44055 | C | Correct malrotation of bowel
44110 | C | Excision of bowel lesion(s)
44111 | C | Excision of bowel lesion(s)
44120 | C | Removal of small intestine
44121 | C | Removal of small intestine
44125 | C | Removal of small intestine
44130 | C | Bowel to bowel fusion
44139 | C | Mobilization of colon
44140 | C | Partial removal of colon
44141 | C | Partial removal of colon
44143 | C | Partial removal of colon
44144 | C | Partial removal of colon
44145 | C | Partial removal of colon
44146 | C | Partial removal of colon
44147 | C | Partial removal of colon
44150 | C | Removal of colon
44151 | C | Removal of colon/ileostomy
44152 | C | Removal of colon/ileostomy
44153 | C | Removal of colon/ileostomy
44155 | C | Removal of colon/ileostomy
44156 | C | Removal of colon/ileostomy
44160 | C | Removal of colon
44202 | C | Laparo, resect intestine
44300 | C | Open bowel to skin
44310 | C | Ileostomy/jejunostomy
44314 | C | Revision of ileostomy
44316 | C | Devise bowel pouch
44320 | C | Colostomy
44322 | C | Colostomy with biopsies
44345 | C | Revision of colostomy
44346 | C | Revision of colostomy
44500 | C | Intro, gastrointestinal tube
44602 | C | Suture, small intestine
44603 | C | Suture, small intestine
44604 | C | Suture, large intestine
44605 | C | Repair of bowel lesion
44615 | C | Intestinal stricturoplasty
44620 | C | Repair bowel opening
44625 | C | Repair bowel opening
44626 | C | Repair bowel opening
44640 | C | Repair bowel-skin fistula
44650 | C | Repair bowel fistula
44660 | C | Repair bowel-bladder fistula
44661 | C | Repair bowel-bladder fistula
44680 | C | Surgical revision, intestine
44700 | C | Suspend bowel w/prosthesis
44800 | C | Excision of bowel pouch
44820 | C | Excision of mesentery lesion
44850 | C | Repair of mesentery
44899 | C | Bowel surgery procedure
44900 | C | Drain app abscess, open
44901 | C | Drain app abscess, percut
44950 | C | Appendectomy
44955 | C | Appendectomy add-on
44960 | C | Appendectomy
45110 | C | Removal of rectum
45111 | C | Partial removal of rectum
45112 | C | Removal of rectum
45113 | C | Partial proctectomy
45114 | C | Partial removal of rectum
45116 | C | Partial removal of rectum
45119 | C | Remove rectum w/reservoir
45120 | C | Removal of rectum
45121 | C | Removal of rectum and colon
45123 | C | Partial proctectomy
45126 | C | Pelvic exenteration
45130 | C | Excision of rectal prolapse
45135 | C | Excision of rectal prolapse
45540 | C | Correct rectal prolapse
45541 | C | Correct rectal prolapse
45550 | C | Repair rectum/remove sigmoid
45562 | C | Exploration/repair of rectum
45563 | C | Exploration/repair of rectum
45800 | C | Repair rect/bladder fistula
45805 | C | Repair fistula w/colostomy
45820 | C | Repair rectourethral fistula
45825 | C | Repair fistula w/colostomy
46705 | C | Repair of anal stricture
46715 | C | Repair of anovaginal fistula
46716 | C | Repair of anovaginal fistula
46730 | C | Construction of absent anus
46735 | C | Construction of absent anus
46740 | C | Construction of absent anus
46742 | C | Repair of imperforated anus
46744 | C | Repair of cloacal anomaly
46746 | C | Repair of cloacal anomaly
46748 | C | Repair of cloacal anomaly
46751 | C | Repair of anal sphincter
47001 | C | Needle biopsy, liver add-on
47010 | C | Open drainage, liver lesion
47011 | C | Percut drain, liver lesion
47015 | C | Inject/aspirate liver cyst
47100 | C | Wedge biopsy of liver
47120 | C | Partial removal of liver
47122 | C | Extensive removal of liver
47125 | C | Partial removal of liver
47130 | C | Partial removal of liver
47133 | C | Removal of donor liver
47134 | C | Partial removal, donor liver
47135 | C | Transplantation of liver
47136 | C | Transplantation of liver
47300 | C | Surgery for liver lesion
47350 | C | Repair liver wound
47360 | C | Repair liver wound
47361 | C | Repair liver wound
47362 | C | Repair liver wound
47400 | C | Incision of liver duct
47420 | C | Incision of bile duct
47425 | C | Incision of bile duct
47460 | C | Incise bile duct sphincter
47480 | C | Incision of gallbladder
47490 | C | Incision of gallbladder
47550 | C | Bile duct endoscopy add-on
47600 | C | Removal of gallbladder
47605 | C | Removal of gallbladder
47610 | C | Removal of gallbladder
47612 | C | Removal of gallbladder
47620 | C | Removal of gallbladder
47700 | C | Exploration of bile ducts
47701 | C | Bile duct revision
47711 | C | Excision of bile duct tumor
47712 | C | Excision of bile duct tumor
47715 | C | Excision of bile duct cyst
47716 | C | Fusion of bile duct cyst
47720 | C | Fuse gallbladder & bowel
47721 | C | Fuse upper gi structures
47740 | C | Fuse gallbladder & bowel
47741 | C | Fuse gallbladder & bowel
47760 | C | Fuse bile ducts and bowel
47765 | C | Fuse liver ducts & bowel
47780 | C | Fuse bile ducts and bowel
47785 | C | Fuse bile ducts and bowel
47800 | C | Reconstruction of bile ducts
47801 | C | Placement, bile duct support
47802 | C | Fuse liver duct & intestine
47900 | C | Suture bile duct injury
48000 | C | Drainage of abdomen
48001 | C | Placement of drain, pancreas
48005 | C | Resect/debride pancreas
48020 | C | Removal of pancreatic stone
48100 | C | Biopsy of pancreas
48120 | C | Removal of pancreas lesion
48140 | C | Partial removal of pancreas
48145 | C | Partial removal of pancreas
48146 | C | Pancreatectomy
48148 | C | Removal of pancreatic duct
48150 | C | Partial removal of pancreas
48152 | C | Pancreatectomy
48153 | C | Pancreatectomy
48154 | C | Pancreatectomy
48155 | C | Removal of pancreas
48180 | C | Fuse pancreas and bowel
48400 | C | Injection, intraop add-on
48500 | C | Surgery of pancreas cyst
48510 | C | Drain pancreatic pseudocyst
48511 | C | Drain pancreatic pseudocyst
48520 | C | Fuse pancreas cyst and bowel
48540 | C | Fuse pancreas cyst and bowel
48545 | C | Pancreatorrhaphy
48547 | C | Duodenal exclusion
48556 | C | Removal, allograft pancreas
49000 | C | Exploration of abdomen
49002 | C | Reopening of abdomen
49010 | C | Exploration behind abdomen
49020 | C | Drain abdominal abscess
49021 | C | Drain abdominal abscess
49040 | C | Drain, open, abdom abscess
49041 | C | Drain, percut, abdom abscess
49060 | C | Drain, open, retrop abscess
49061 | C | Drain, percut, retroper absc
49062 | C | Drain to peritoneal cavity
49200 | C | Removal of abdominal lesion
49201 | C | Removal of abdominal lesion
49215 | C | Excise sacral spine tumor
49220 | C | Multiple surgery, abdomen
49255 | C | Removal of omentum
49425 | C | Insert abdomen-venous drain
49428 | C | Ligation of shunt
49605 | C | Repair umbilical lesion
49606 | C | Repair umbilical lesion
49610 | C | Repair umbilical lesion
49611 | C | Repair umbilical lesion
49900 | C | Repair of abdominal wall
49905 | C | Omental flap
49906 | C | Free omental flap, microvasc
50010 | C | Exploration of kidney
50020 | C | Renal abscess, open drain
50021 | C | Renal abscess, percut drain
50040 | C | Drainage of kidney
50045 | C | Exploration of kidney
50060 | C | Removal of kidney stone
50065 | C | Incision of kidney
50070 | C | Incision of kidney
50075 | C | Removal of kidney stone
50100 | C | Revise kidney blood vessels
50120 | C | Exploration of kidney
50125 | C | Explore and drain kidney
50130 | C | Removal of kidney stone
50135 | C | Exploration of kidney
50205 | C | Biopsy of kidney
50220 | C | Removal of kidney
50225 | C | Removal of kidney
50230 | C | Removal of kidney
50234 | C | Removal of kidney & ureter
50236 | C | Removal of kidney & ureter
50240 | C | Partial removal of kidney
50280 | C | Removal of kidney lesion
50290 | C | Removal of kidney lesion
50300 | C | Removal of donor kidney
50320 | C | Removal of donor kidney
50340 | C | Removal of kidney
50360 | C | Transplantation of kidney
50365 | C | Transplantation of kidney
50370 | C | Remove transplanted kidney
50380 | C | Reimplantation of kidney
50400 | C | Revision of kidney/ureter
50405 | C | Revision of kidney/ureter
50500 | C | Repair of kidney wound
50520 | C | Close kidney-skin fistula
50525 | C | Repair renal-abdomen fistula
50526 | C | Repair renal-abdomen fistula
50540 | C | Revision of horseshoe kidney
50546 | C | Laparoscopic nephrectomy
50547 | C | Laparo removal donor kidney
50570 | C | Kidney endoscopy
50572 | C | Kidney endoscopy
50574 | C | Kidney endoscopy & biopsy
50575 | C | Kidney endoscopy
50576 | C | Kidney endoscopy & treatment
50578 | C | Renal endoscopy/radiotracer
50580 | C | Kidney endoscopy & treatment
50600 | C | Exploration of ureter
50605 | C | Insert ureteral support
50610 | C | Removal of ureter stone
50620 | C | Removal of ureter stone
50630 | C | Removal of ureter stone
50650 | C | Removal of ureter
50660 | C | Removal of ureter
50700 | C | Revision of ureter
50715 | C | Release of ureter
50722 | C | Release of ureter
50725 | C | Release/revise ureter
50727 | C | Revise ureter
50728 | C | Revise ureter
50740 | C | Fusion of ureter & kidney
50750 | C | Fusion of ureter & kidney
50760 | C | Fusion of ureters
50770 | C | Splicing of ureters
50780 | C | Reimplant ureter in bladder
50782 | C | Reimplant ureter in bladder
50783 | C | Reimplant ureter in bladder
50785 | C | Reimplant ureter in bladder
50800 | C | Implant ureter in bowel
50810 | C | Fusion of ureter & bowel
50815 | C | Urine shunt to bowel
50820 | C | Construct bowel bladder
50825 | C | Construct bowel bladder
50830 | C | Revise urine flow
50840 | C | Replace ureter by bowel
50845 | C | Appendico-vesicostomy
50860 | C | Transplant ureter to skin
50900 | C | Repair of ureter
50920 | C | Closure ureter/skin fistula
50930 | C | Closure ureter/bowel fistula
50940 | C | Release of ureter
50970 | C | Ureter endoscopy
50972 | C | Ureter endoscopy & catheter
50974 | C | Ureter endoscopy & biopsy
50976 | C | Ureter endoscopy & treatment
50978 | C | Ureter endoscopy & tracer
50980 | C | Ureter endoscopy & treatment
51060 | C | Removal of ureter stone
51525 | C | Removal of bladder lesion
51530 | C | Removal of bladder lesion
51535 | C | Repair of ureter lesion
51550 | C | Partial removal of bladder
51555 | C | Partial removal of bladder
51565 | C | Revise bladder & ureter(s)
51570 | C | Removal of bladder
51575 | C | Removal of bladder & nodes
51580 | C | Remove bladder/revise tract
51585 | C | Removal of bladder & nodes
51590 | C | Remove bladder/revise tract
51595 | C | Remove bladder/revise tract
51596 | C | Remove bladder/create pouch
51597 | C | Removal of pelvic structures
51800 | C | Revision of bladder/urethra
51820 | C | Revision of urinary tract
51840 | C | Attach bladder/urethra
51841 | C | Attach bladder/urethra
51845 | C | Repair bladder neck
51860 | C | Repair of bladder wound
51865 | C | Repair of bladder wound
51900 | C | Repair bladder/vagina lesion
51920 | C | Close bladder-uterus fistula
51925 | C | Hysterectomy/bladder repair
51940 | C | Correction of bladder defect
51960 | C | Revision of bladder & bowel
51980 | C | Construct bladder opening
53085 | C | Drainage of urinary leakage
53415 | C | Reconstruction of urethra
53443 | C | Reconstruction of urethra
54125 | C | Removal of penis
54130 | C | Remove penis & nodes
54135 | C | Remove penis & nodes
54332 | C | Revise penis/urethra
54336 | C | Revise penis/urethra
54390 | C | Repair penis and bladder
54430 | C | Revision of penis
54535 | C | Extensive testis surgery
54560 | C | Exploration for testis
54650 | C | Orchiopexy (Fowler-Stephens)
55600 | C | Incise sperm duct pouch
55605 | C | Incise sperm duct pouch
55650 | C | Remove sperm duct pouch
55801 | C | Removal of prostate
55810 | C | Extensive prostate surgery
55812 | C | Extensive prostate surgery
55815 | C | Extensive prostate surgery
55821 | C | Removal of prostate
55831 | C | Removal of prostate
55840 | C | Extensive prostate surgery
55842 | C | Extensive prostate surgery
55845 | C | Extensive prostate surgery
55860 | C | Surgical exposure, prostate
55862 | C | Extensive prostate surgery
55865 | C | Extensive prostate surgery
56630 | C | Extensive vulva surgery
56631 | C | Extensive vulva surgery
56632 | C | Extensive vulva surgery
56633 | C | Extensive vulva surgery
56634 | C | Extensive vulva surgery
56637 | C | Extensive vulva surgery
56640 | C | Extensive vulva surgery
56805 | C | Repair clitoris
57110 | C | Remove vagina wall, complete
57111 | C | Remove vagina tissue, compl
57112 | C | Vaginectomy w/nodes, compl
57120 | C | Closure of vagina
57270 | C | Repair of bowel pouch
57280 | C | Suspension of vagina
57282 | C | Repair of vaginal prolapse
57292 | C | Construct vagina with graft
57305 | C | Repair rectum-vagina fistula
57307 | C | Fistula repair & colostomy
57308 | C | Fistula repair, transperine
57310 | C | Repair urethrovaginal lesion
57311 | C | Repair urethrovaginal lesion
57320 | C | Repair bladder-vagina lesion
57330 | C | Repair bladder-vagina lesion
57335 | C | Repair vagina
57531 | C | Removal of cervix, radical
57540 | C | Removal of residual cervix
57545 | C | Remove cervix/repair pelvis
58140 | C | Removal of uterus lesion
58150 | C | Total hysterectomy
58152 | C | Total hysterectomy
58180 | C | Partial hysterectomy
58200 | C | Extensive hysterectomy
58210 | C | Extensive hysterectomy
58240 | C | Removal of pelvis contents
58260 | C | Vaginal hysterectomy
58262 | C | Vaginal hysterectomy
58263 | C | Vaginal hysterectomy
58267 | C | Hysterectomy & vagina repair
58270 | C | Hysterectomy & vagina repair
58275 | C | Hysterectomy/revise vagina
58280 | C | Hysterectomy/revise vagina
58285 | C | Extensive hysterectomy
58400 | C | Suspension of uterus
58410 | C | Suspension of uterus
58520 | C | Repair of ruptured uterus
58540 | C | Revision of uterus
58600 | C | Division of fallopian tube
58605 | C | Division of fallopian tube
58611 | C | Ligate oviduct(s) add-on
58615 | C | Occlude fallopian tube(s)
58700 | C | Removal of fallopian tube
58720 | C | Removal of ovary/tube(s)
58740 | C | Revise fallopian tube(s)
58750 | C | Repair oviduct
58752 | C | Revise ovarian tube(s)
58760 | C | Remove tubal obstruction
58770 | C | Create new tubal opening
58805 | C | Drainage of ovarian cyst(s)
58822 | C | Drain ovary abscess, percut
58823 | C | Drain pelvic abscess, percut
58825 | C | Transposition, ovary(s)
58940 | C | Removal of ovary(s)
58943 | C | Removal of ovary(s)
58950 | C | Resect ovarian malignancy
58951 | C | Resect ovarian malignancy
58952 | C | Resect ovarian malignancy
58960 | C | Exploration of abdomen
59100 | C | Remove uterus lesion
59120 | C | Treat ectopic pregnancy
59121 | C | Treat ectopic pregnancy
59130 | C | Treat ectopic pregnancy
59135 | C | Treat ectopic pregnancy
59136 | C | Treat ectopic pregnancy
59140 | C | Treat ectopic pregnancy
59325 | C | Revision of cervix
59350 | C | Repair of uterus
59514 | C | Cesarean delivery only
59525 | C | Remove uterus after cesarean
59620 | C | Attempted vbac delivery only
59830 | C | Treat uterus infection
59850 | C | Abortion
59851 | C | Abortion
59852 | C | Abortion
59855 | C | Abortion
59856 | C | Abortion
59857 | C | Abortion
59866 | C | Abortion (mpr)
60212 | C | Parital thyroid excision
60252 | C | Removal of thyroid
60254 | C | Extensive thyroid surgery
60260 | C | Repeat thyroid surgery
60270 | C | Removal of thyroid
60271 | C | Removal of thyroid
60502 | C | Re-explore parathyroids
60505 | C | Explore parathyroid glands
60512 | C | Autotransplant parathyroid
60520 | C | Removal of thymus gland
60521 | C | Removal of thymus gland
60522 | C | Removal of thymus gland
60540 | C | Explore adrenal gland
60545 | C | Explore adrenal gland
60600 | C | Remove carotid body lesion
60605 | C | Remove carotid body lesion
60650 | C | Laparoscopy adrenalectomy
61105 | C | Twist drill hole
61107 | C | Drill skull for implantation
61108 | C | Drill skull for drainage
61120 | C | Burr hole for puncture
61140 | C | Pierce skull for biopsy
61150 | C | Pierce skull for drainage
61151 | C | Pierce skull for drainage
61154 | C | Pierce skull & remove clot
61156 | C | Pierce skull for drainage
61210 | C | Pierce skull, implant device
61250 | C | Pierce skull & explore
61253 | C | Pierce skull & explore
61304 | C | Open skull for exploration
61305 | C | Open skull for exploration
61312 | C | Open skull for drainage
61313 | C | Open skull for drainage
61314 | C | Open skull for drainage
61315 | C | Open skull for drainage
61320 | C | Open skull for drainage
61321 | C | Open skull for drainage
61332 | C | Explore/biopsy eye socket
61333 | C | Explore orbit/remove lesion
61334 | C | Explore orbit/remove object
61340 | C | Relieve cranial pressure
61343 | C | Incise skull (press relief)
61345 | C | Relieve cranial pressure
61440 | C | Incise skull for surgery
61450 | C | Incise skull for surgery
61458 | C | Incise skull for brain wound
61460 | C | Incise skull for surgery
61470 | C | Incise skull for surgery
61480 | C | Incise skull for surgery
61490 | C | Incise skull for surgery
61500 | C | Removal of skull lesion
61501 | C | Remove infected skull bone
61510 | C | Removal of brain lesion
61512 | C | Remove brain lining lesion
61514 | C | Removal of brain abscess
61516 | C | Removal of brain lesion
61518 | C | Removal of brain lesion
61519 | C | Remove brain lining lesion
61520 | C | Removal of brain lesion
61521 | C | Removal of brain lesion
61522 | C | Removal of brain abscess
61524 | C | Removal of brain lesion
61526 | C | Removal of brain lesion
61530 | C | Removal of brain lesion
61531 | C | Implant brain electrodes
61533 | C | Implant brain electrodes
61534 | C | Removal of brain lesion
61535 | C | Remove brain electrodes
61536 | C | Removal of brain lesion
61538 | C | Removal of brain tissue
61539 | C | Removal of brain tissue
61541 | C | Incision of brain tissue
61542 | C | Removal of brain tissue
61543 | C | Removal of brain tissue
61544 | C | Remove & treat brain lesion
61545 | C | Excision of brain tumor
61546 | C | Removal of pituitary gland
61548 | C | Removal of pituitary gland
61550 | C | Release of skull seams
61552 | C | Release of skull seams
61556 | C | Incise skull/sutures
61557 | C | Incise skull/sutures
61558 | C | Excision of skull/sutures
61559 | C | Excision of skull/sutures
61563 | C | Excision of skull tumor
61564 | C | Excision of skull tumor
61570 | C | Remove foreign body, brain
61571 | C | Incise skull for brain wound
61575 | C | Skull base/brainstem surgery
61576 | C | Skull base/brainstem surgery
61580 | C | Craniofacial approach, skull
61581 | C | Craniofacial approach, skull
61582 | C | Craniofacial approach, skull
61583 | C | Craniofacial approach, skull
61584 | C | Orbitocranial approach/skull
61585 | C | Orbitocranial approach/skull
61586 | C | Resect nasopharynx, skull
61590 | C | Infratemporal approach/skull
61591 | C | Infratemporal approach/skull
61592 | C | Orbitocranial approach/skull
61595 | C | Transtemporal approach/skull
61596 | C | Transcochlear approach/skull
61597 | C | Transcondylar approach/skull
61598 | C | Transpetrosal approach/skull
61600 | C | Resect/excise cranial lesion
61601 | C | Resect/excise cranial lesion
61605 | C | Resect/excise cranial lesion
61606 | C | Resect/excise cranial lesion
61607 | C | Resect/excise cranial lesion
61608 | C | Resect/excise cranial lesion
61609 | C | Transect artery, sinus
61610 | C | Transect artery, sinus
61611 | C | Transect artery, sinus
61612 | C | Transect artery, sinus
61613 | C | Remove aneurysm, sinus
61615 | C | Resect/excise lesion, skull
61616 | C | Resect/excise lesion, skull
61618 | C | Repair dura
61619 | C | Repair dura
61624 | C | Occlusion/embolization cath
61626 | C | Occlusion/embolization cath
61680 | C | Intracranial vessel surgery
61682 | C | Intracranial vessel surgery
61684 | C | Intracranial vessel surgery
61686 | C | Intracranial vessel surgery
61690 | C | Intracranial vessel surgery
61692 | C | Intracranial vessel surgery
61700 | C | Inner skull vessel surgery
61702 | C | Inner skull vessel surgery
61703 | C | Clamp neck artery
61705 | C | Revise circulation to head
61708 | C | Revise circulation to head
61710 | C | Revise circulation to head
61711 | C | Fusion of skull arteries
61720 | C | Incise skull/brain surgery
61735 | C | Incise skull/brain surgery
61750 | C | Incise skull/brain biopsy
61751 | C | Brain biopsy w/ct/mr guide
61760 | C | Implant brain electrodes
61770 | C | Incise skull for treatment
61791 | C | Treat trigeminal tract
61795 | C | Brain surgery using computer
61850 | C | Implant neuroelectrodes
61860 | C | Implant neuroelectrodes
61862 | C | Implant neurostimul, subcort
61870 | C | Implant neuroelectrodes
61875 | C | Implant neuroelectrodes
61880 | C | Revise/remove neuroelectrode
61886 | C | Implant neurostim arrays
61888 | C | Revise/remove neuroreceiver
62000 | C | Treat skull fracture
62005 | C | Treat skull fracture
62010 | C | Treatment of head injury
62100 | C | Repair brain fluid leakage
62115 | C | Reduction of skull defect
62116 | C | Reduction of skull defect
62117 | C | Reduction of skull defect
62120 | C | Repair skull cavity lesion
62121 | C | Incise skull repair
62140 | C | Repair of skull defect
62141 | C | Repair of skull defect
62142 | C | Remove skull plate/flap
62143 | C | Replace skull plate/flap
62145 | C | Repair of skull & brain
62146 | C | Repair of skull with graft
62147 | C | Repair of skull with graft
62180 | C | Establish brain cavity shunt
62190 | C | Establish brain cavity shunt
62192 | C | Establish brain cavity shunt
62200 | C | Establish brain cavity shunt
62201 | C | Establish brain cavity shunt
62220 | C | Establish brain cavity shunt
62223 | C | Establish brain cavity shunt
62256 | C | Remove brain cavity shunt
62258 | C | Replace brain cavity shunt
62351 | C | Implant spinal canal cath
63001 | C | Removal of spinal lamina
63003 | C | Removal of spinal lamina
63005 | C | Removal of spinal lamina
63011 | C | Removal of spinal lamina
63012 | C | Removal of spinal lamina
63015 | C | Removal of spinal lamina
63016 | C | Removal of spinal lamina
63017 | C | Removal of spinal lamina
63020 | C | Neck spine disk surgery
63030 | C | Low back disk surgery
63035 | C | Spinal disk surgery add-on
63040 | C | Neck spine disk surgery
63042 | C | Low back disk surgery
63045 | C | Removal of spinal lamina
63046 | C | Removal of spinal lamina
63047 | C | Removal of spinal lamina
63048 | C | Remove spinal lamina add-on
63055 | C | Decompress spinal cord
63056 | C | Decompress spinal cord
63057 | C | Decompress spine cord add-on
63064 | C | Decompress spinal cord
63066 | C | Decompress spine cord add-on
63075 | C | Neck spine disk surgery
63076 | C | Neck spine disk surgery
63077 | C | Spine disk surgery, thorax
63078 | C | Spine disk surgery, thorax
63081 | C | Removal of vertebral body
63082 | C | Remove vertebral body add-on
63085 | C | Removal of vertebral body
63086 | C | Remove vertebral body add-on
63087 | C | Removal of vertebral body
63088 | C | Remove vertebral body add-on
63090 | C | Removal of vertebral body
63091 | C | Remove vertebral body add-on
63170 | C | Incise spinal cord tract(s)
63172 | C | Drainage of spinal cyst
63173 | C | Drainage of spinal cyst
63180 | C | Revise spinal cord ligaments
63182 | C | Revise spinal cord ligaments
63185 | C | Incise spinal column/nerves
63190 | C | Incise spinal column/nerves
63191 | C | Incise spinal column/nerves
63194 | C | Incise spinal column & cord
63195 | C | Incise spinal column & cord
63196 | C | Incise spinal column & cord
63197 | C | Incise spinal column & cord
63198 | C | Incise spinal column & cord
63199 | C | Incise spinal column & cord
63200 | C | Release of spinal cord
63250 | C | Revise spinal cord vessels
63251 | C | Revise spinal cord vessels
63252 | C | Revise spinal cord vessels
63265 | C | Excise intraspinal lesion
63266 | C | Excise intraspinal lesion
63267 | C | Excise intraspinal lesion
63268 | C | Excise intraspinal lesion
63270 | C | Excise intraspinal lesion
63271 | C | Excise intraspinal lesion
63272 | C | Excise intraspinal lesion
63273 | C | Excise intraspinal lesion
63275 | C | Biopsy/excise spinal tumor
63276 | C | Biopsy/excise spinal tumor
63277 | C | Biopsy/excise spinal tumor
63278 | C | Biopsy/excise spinal tumor
63280 | C | Biopsy/excise spinal tumor
63281 | C | Biopsy/excise spinal tumor
63282 | C | Biopsy/excise spinal tumor
63283 | C | Biopsy/excise spinal tumor
63285 | C | Biopsy/excise spinal tumor
63286 | C | Biopsy/excise spinal tumor
63287 | C | Biopsy/excise spinal tumor
63290 | C | Biopsy/excise spinal tumor
63300 | C | Removal of vertebral body
63301 | C | Removal of vertebral body
63302 | C | Removal of vertebral body
63303 | C | Removal of vertebral body
63304 | C | Removal of vertebral body
63305 | C | Removal of vertebral body
63306 | C | Removal of vertebral body
63307 | C | Removal of vertebral body
63308 | C | Remove vertebral body add-on
63655 | C | Implant neuroelectrodes
63700 | C | Repair of spinal herniation
63702 | C | Repair of spinal herniation
63704 | C | Repair of spinal herniation
63706 | C | Repair of spinal herniation
63707 | C | Repair spinal fluid leakage
63709 | C | Repair spinal fluid leakage
63710 | C | Graft repair of spine defect
63740 | C | Install spinal shunt
63741 | C | Install spinal shunt
64752 | C | Incision of vagus nerve
64755 | C | Incision of stomach nerves
64760 | C | Incision of vagus nerve
64763 | C | Incise hip/thigh nerve
64766 | C | Incise hip/thigh nerve
64802 | C | Remove sympathetic nerves
64804 | C | Remove sympathetic nerves
64809 | C | Remove sympathetic nerves
64818 | C | Remove sympathetic nerves
64820 | C | Remove sympathetic nerves
64866 | C | Fusion of facial/other nerve
64868 | C | Fusion of facial/other nerve
65273 | C | Repair of eye wound
69150 | C | Extensive ear canal surgery
69155 | C | Extensive ear/neck surgery
69502 | C | Mastoidectomy
69535 | C | Remove part of temporal bone
69554 | C | Remove ear lesion
69950 | C | Incise inner ear nerve
69970 | C | Remove inner ear lesion
74300 | C | X-ray bile ducts/pancreas
74301 | C | X-rays at surgery add-on
75900 | C | Arterial catheter exchange
75940 | C | X-ray placement, vein filter
75945 | C | Intravascular us
75946 | C | Intravascular us add-on
75960 | C | Transcatheter intro, stent
75961 | C | Retrieval, broken catheter
75962 | C | Repair arterial blockage
75964 | C | Repair artery blockage, each
75966 | C | Repair arterial blockage
75968 | C | Repair artery blockage, each
75970 | C | Vascular biopsy
75978 | C | Repair venous blockage
75992 | C | Atherectomy, x-ray exam
75993 | C | Atherectomy, x-ray exam
75994 | C | Atherectomy, x-ray exam
75995 | C | Atherectomy, x-ray exam
75996 | C | Atherectomy, x-ray exam
92970 | C | Cardioassist, internal
92971 | C | Cardioassist, external
92975 | C | Dissolve clot, heart vessel
92977 | C | Dissolve clot, heart vessel
92978 | C | Intravasc us, heart add-on
92979 | C | Intravasc us, heart add-on
92986 | C | Revision of aortic valve
92987 | C | Revision of mitral valve
92990 | C | Revision of pulmonary valve
92992 | C | Revision of heart chamber
92993 | C | Revision of heart chamber
92997 | C | Pul art balloon repr, percut
92998 | C | Pul art balloon repr, percut
94652 | C | Pressure breathing (IPPB)
94762 | C | Measure blood oxygen level
95920 | C | Intraop nerve test add-on
95961 | C | Electrode stimulation, brain
95962 | C | Electrode stim, brain add-on
99190 | C | Special pump services
99191 | C | Special pump services
99192 | C | Special pump services
99234 | C | Observ/hosp same date
99235 | C | Observ/hosp same date
99236 | C | Observ/hosp same date
99251 | C | Initial inpatient consult
99252 | C | Initial inpatient consult
99253 | C | Initial inpatient consult
99254 | C | Initial inpatient consult
99255 | C | Initial inpatient consult
99261 | C | Follow-up inpatient consult
99262 | C | Follow-up inpatient consult
99263 | C | Follow-up inpatient consult
99295 | C | Neonatal critical care
99296 | C | Neonatal critical care
99297 | C | Neonatal critical care
99298 | C | Neonatal critical care
99356 | C | Prolonged service, inpatient
99357 | C | Prolonged service, inpatient
99433 | C | Normal newborn care/hospital
G0160 | C | Cryo. ablation, prostate

Addendum F.—Status Indicators: How Various Services Are Treated Under Outpatient PPS
Indicator | Service | Status
A | Pulmonary Rehabilitation Clinical Trial | Not Paid Under PPS
C | Inpatient Procedures | Admit Patient; Bill as Inpatient
A | Durable Medical Equipment, Prosthetics and | DMEPOS Fee Schedule
E | Non-Covered Items and Services | Non-paid
A | Physical, Occupational and SpeechTherapy | Rehabilitation Fee Schedule
A | Ambulance | Ambulance Fee Schedule
A | EPO for ESRD Patients | National Rate
A | Clinical Diagnostic Laboratory Services | Laboratory Fee Schedule
A | Physican Services for ESRD Patients | Not Paid Under PPS
A | Screening Mammography | National Rate
N | Incidental Services, packaged into APC Rat | Packaged
P | Partial Hospitalization | Paid Per Diem APC
S | Significant Procedure, Not Discounted When | Paid
T | Procedure, Multiple When Discount Applies | Paid
V | Visit to Clinic or Emergency Department | Paid
X | Ancillary Service | Paid

Addendum G.—Service Mix Indices by Hospital
Hospital | SMI
010001 | 3.13
010004 | 1.77
010005 | 2.17
010006 | 3.08
010007 | 1.70
010008 | 1.86
010009 | 1.69
010010 | 2.44
010011 | 2.56
010012 | 2.21
010015 | 2.29
010016 | 2.55
010018 | 6.45
010019 | 2.41
010021 | 1.74
010022 | 2.02
010023 | 2.85
010024 | 2.88
010025 | 2.14
010027 | 1.10
010029 | 3.22
010031 | 2.04
010032 | 1.28
010033 | 1.53
010034 | 2.69
010035 | 3.05
010036 | 2.72
010038 | 4.48
010039 | 2.19
010040 | 2.62
010043 | 2.32
010044 | 2.21
010045 | 2.00
010046 | 2.09
010047 | 1.67
010049 | 3.06
010050 | 1.93
010051 | 1.60
010052 | 1.60
010053 | 2.00
010054 | 1.88
010055 | 2.86
010056 | 2.70
010058 | 1.25
010059 | 1.90
010061 | 2.62
010062 | 1.81
010064 | 3.43
010065 | 2.41
010066 | 1.42
010068 | 1.39
010069 | 2.34
010072 | 2.61
010073 | 2.61
010078 | 2.55
010079 | 2.52
010080 | 1.08
010083 | 2.25
010084 | 4.17
010087 | 2.71
010089 | 2.61
010090 | 2.43
010091 | 1.63
010092 | 2.55
010094 | 2.50
010095 | 1.50
010097 | 2.07
010098 | 1.75
010099 | 2.14
010100 | 2.79
010101 | 2.38
010102 | 1.32
010103 | 2.38
010104 | 2.66
010108 | 1.95
010109 | 2.24
010110 | 1.20
010112 | 1.87
010113 | 2.85
010114 | 2.48
010115 | 1.47
010118 | 2.56
010119 | 2.13
010120 | 2.04
010123 | 3.11
010124 | 3.42
010125 | 1.44
010126 | 2.11
010127 | 3.32
010128 | 1.40
010129 | 1.84
010130 | 1.67
010131 | 2.80
010134 | 1.56
010137 | 1.57
010138 | 1.32
010139 | 2.72
010143 | 2.02
010144 | 2.70
010145 | 1.61
010146 | 3.10
010148 | 1.94
010149 | 2.84
010150 | 2.15
010152 | 2.14
010155 | 1.63
013025 | 1.64
013027 | 1.11
013028 | 0.93
013300 | 1.48
014002 | 1.41
020001 | 2.78
020002 | 2.30
020004 | 1.92
020005 | 1.07
020006 | 2.04
020007 | 0.87
020008 | 2.33
020009 | 1.05
020010 | 0.58
020011 | 1.02
020012 | 3.41
020013 | 1.89
020014 | 1.78
020017 | 3.41
020024 | 1.84
020025 | 1.06
024001 | 1.65
030001 | 2.73
030002 | 2.64
030003 | 2.15
030004 | 0.86
030006 | 2.79
030007 | 2.55
030009 | 1.43
030010 | 2.87
030011 | 3.75
030012 | 1.90
030013 | 2.56
030014 | 3.09
030016 | 1.86
030017 | 2.92
030018 | 3.33
030019 | 2.49
030022 | 1.73
030023 | 2.74
030024 | 3.70
030025 | 1.79
030027 | 1.63
030030 | 3.06
030033 | 2.60
030034 | 1.39
030035 | 3.18
030036 | 2.49
030037 | 4.59
030038 | 3.33
030040 | 1.99
030041 | 1.30
030043 | 2.57
030044 | 2.07
030047 | 1.68
030049 | 0.78
030054 | 0.83
030055 | 2.47
030059 | 2.66
030060 | 2.25
030061 | 2.09
030062 | 2.47
030064 | 2.59
030065 | 3.18
030067 | 1.59
030068 | 2.56
030069 | 3.02
030080 | 2.74
030083 | 2.58
030085 | 2.55
030086 | 2.27
030087 | 3.66
030088 | 2.22
030089 | 2.78
030092 | 2.94
030093 | 1.63
030094 | 2.11
030095 | 3.28
030099 | 2.09
033025 | 1.82
033026 | 2.18
033028 | 1.64
034004 | 1.58
034008 | 3.05
034009 | 1.55
034010 | 1.55
034013 | 1.57
034019 | 1.52
040001 | 2.42
040002 | 2.24
040003 | 1.98
040004 | 3.62
040005 | 2.05
040007 | 4.24
040008 | 1.31
040010 | 3.21
040011 | 2.11
040014 | 2.81
040015 | 1.77
040016 | 2.02
040017 | 2.57
040018 | 2.87
040019 | 2.10
040020 | 3.01
040021 | 3.28
040022 | 2.43
040024 | 1.80
040025 | 1.76
040026 | 2.63
040027 | 3.19
040028 | 2.17
040029 | 3.57
040030 | 1.37
040032 | 0.92
040035 | 1.17
040036 | 3.29
040037 | 2.01
040039 | 2.51
040040 | 1.35
040041 | 3.36
040042 | 2.13
040044 | 1.40
040045 | 1.65
040047 | 1.77
040048 | 2.46
040050 | 2.88
040051 | 2.07
040053 | 1.60
040054 | 3.26
040055 | 2.81
040058 | 2.42
040060 | 1.45
040062 | 2.58
040064 | 1.41
040066 | 3.53
040067 | 1.19
040070 | 1.77
040072 | 2.31
040074 | 2.91
040075 | 1.74
040076 | 1.79
040077 | 1.77
040078 | 2.74
040080 | 1.87
040081 | 0.93
040082 | 1.77
040084 | 3.12
040085 | 1.90
040088 | 3.29
040090 | 1.43
040091 | 1.73
040093 | 1.37
040100 | 2.39
040105 | 1.29
040106 | 2.06
040107 | 1.59
040109 | 2.02
040114 | 5.13
040116 | 2.93
040118 | 2.82
040119 | 3.14
040124 | 2.53
040126 | 1.95
040132 | 0.96
043026 | 1.30
043027 | 0.85
043028 | 1.17
043029 | 1.86
043031 | 0.82
043032 | 3.76
043300 | 1.57
044004 | 1.54
044005 | 1.57
044006 | 1.64
044010 | 1.65
044012 | 1.59
050002 | 2.06
050006 | 2.44
050007 | 2.29
050009 | 2.97
050013 | 3.22
050014 | 2.86
050015 | 2.38
050016 | 2.13
050017 | 5.03
050018 | 2.55
050021 | 2.26
050022 | 2.85
050024 | 2.28
050025 | 2.34
050026 | 2.34
050028 | 2.52
050029 | 2.32
050030 | 1.88
050032 | 3.20
050033 | 2.24
050036 | 2.67
050038 | 1.49
050039 | 2.85
050042 | 3.26
050043 | 2.85
050045 | 3.17
050046 | 2.32
050047 | 3.05
050051 | 1.60
050054 | 1.75
050055 | 1.93
050056 | 3.46
050057 | 3.51
050058 | 2.74
050060 | 2.11
050061 | 5.22
050063 | 2.75
050065 | 2.53
050066 | 2.43
050067 | 1.93
050068 | 2.71
050069 | 2.78
050077 | 3.23
050078 | 2.67
050079 | 2.20
050080 | 2.13
050081 | 1.14
050082 | 2.90
050084 | 2.44
050088 | 1.44
050089 | 2.10
050090 | 2.52
050091 | 2.57
050092 | 1.87
050093 | 3.76
050095 | 3.98
050096 | 3.94
050097 | 3.79
050099 | 2.27
050100 | 2.75
050101 | 2.80
050102 | 2.14
050103 | 3.29
050104 | 2.27
050107 | 2.69
050108 | 2.76
050109 | 2.26
050110 | 3.28
050111 | 5.30
050112 | 2.67
050113 | 1.35
050114 | 2.76
050115 | 2.18
050116 | 2.99
050117 | 3.02
050118 | 2.63
050121 | 3.26
050122 | 2.54
050124 | 2.32
050125 | 3.20
050126 | 2.94
050127 | 2.04
050128 | 2.45
050129 | 2.73
050131 | 2.45
050132 | 2.98
050133 | 2.08
050135 | 1.59
050136 | 2.67
050144 | 2.46
050145 | 2.76
050146 | 1.41
050148 | 2.31
050149 | 2.40
050150 | 2.44
050152 | 2.31
050153 | 2.58
050155 | 2.14
050158 | 3.58
050159 | 1.48
050167 | 1.42
050168 | 3.40
050169 | 2.78
050170 | 2.83
050172 | 1.89
050173 | 2.82
050174 | 3.38
050175 | 3.37
050177 | 1.89
050179 | 2.63
050180 | 2.32
050183 | 1.30
050186 | 1.96
050188 | 3.77
050189 | 2.48
050191 | 2.69
050192 | 1.60
050193 | 1.89
050194 | 2.70
050195 | 2.38
050196 | 2.39
050197 | 2.76
050204 | 3.22
050205 | 2.35
050207 | 3.48
050208 | 2.09
050211 | 2.71
050213 | 1.28
050214 | 2.05
050215 | 3.07
050217 | 2.15
050219 | 1.98
050222 | 2.61
050224 | 2.71
050225 | 2.28
050226 | 2.85
050228 | 1.17
050230 | 2.91
050231 | 3.44
050232 | 2.92
050233 | 3.37
050234 | 1.67
050235 | 2.64
050236 | 2.17
050238 | 2.14
050239 | 2.64
050240 | 2.66
050241 | 2.55
050242 | 2.23
050243 | 2.05
050245 | 1.24
050248 | 1.49
050251 | 2.23
050253 | 2.29
050254 | 3.23
050256 | 1.39
050257 | 1.90
050260 | 1.38
050261 | 2.11
050262 | 2.22
050264 | 2.24
050267 | 2.80
050270 | 2.61
050272 | 2.14
050274 | 1.56
050276 | 1.32
050277 | 2.59
050278 | 2.70
050279 | 1.93
050280 | 2.70
050281 | 3.99
050282 | 2.17
050283 | 1.16
050286 | 1.02
050289 | 2.76
050290 | 2.40
050291 | 1.73
050292 | 1.41
050293 | 1.42
050295 | 2.63
050296 | 2.45
050298 | 2.08
050299 | 3.08
050300 | 2.95
050301 | 2.95
050302 | 2.87
050305 | 2.12
050307 | 3.67
050308 | 2.42
050309 | 3.00
050310 | 2.96
050312 | 2.71
050313 | 3.15
050315 | 1.20
050317 | 1.84
050320 | 1.26
050324 | 3.46
050325 | 1.73
050327 | 2.36
050328 | 2.69
050329 | 1.93
050331 | 2.12
050333 | 1.10
050334 | 3.36
050335 | 1.34
050336 | 2.48
050337 | 1.78
050342 | 2.84
050343 | 3.36
050348 | 1.87
050349 | 1.17
050350 | 2.25
050351 | 3.35
050352 | 2.05
050353 | 2.61
050355 | 0.98
050357 | 2.47
050359 | 3.58
050360 | 3.42
050366 | 2.09
050367 | 1.90
050369 | 2.41
050377 | 0.95
050378 | 2.89
050379 | 1.56
050380 | 3.91
050382 | 2.62
050388 | 1.03
050390 | 2.90
050391 | 2.02
050392 | 1.48
050393 | 2.93
050394 | 3.37
050396 | 4.28
050397 | 1.44
050401 | 2.30
050404 | 1.55
050406 | 1.36
050407 | 2.93
050410 | 1.05
050414 | 2.65
050417 | 3.03
050418 | 1.29
050419 | 2.69
050420 | 2.12
050421 | 2.38
050423 | 2.49
050424 | 2.95
050426 | 2.60
050427 | 0.76
050430 | 1.38
050431 | 3.90
050432 | 2.60
050433 | 1.55
050434 | 1.37
050435 | 2.38
050436 | 1.58
050438 | 2.65
050440 | 1.53
050441 | 2.19
050443 | 1.62
050444 | 2.31
050446 | 1.43
050447 | 1.60
050448 | 3.14
050454 | 1.78
050455 | 3.70
050456 | 5.49
050457 | 2.23
050459 | 2.44
050468 | 1.71
050469 | 1.68
050470 | 2.22
050471 | 3.14
050476 | 2.73
050477 | 4.61
050478 | 1.57
050481 | 2.80
050482 | 1.06
050483 | 3.44
050485 | 3.44
050486 | 2.39
050488 | 2.21
050491 | 2.52
050492 | 2.39
050494 | 3.25
050496 | 2.55
050497 | 1.04
050498 | 2.58
050502 | 3.66
050503 | 3.44
050506 | 2.44
050516 | 3.39
050517 | 2.78
050522 | 2.46
050523 | 2.22
050526 | 2.04
050528 | 2.12
050531 | 3.41
050534 | 2.45
050535 | 2.86
050537 | 2.76
050539 | 2.31
050542 | 2.06
050543 | 3.65
050545 | 0.99
050546 | 0.94
050547 | 1.12
050548 | 0.81
050549 | 2.87
050550 | 2.38
050551 | 2.61
050552 | 1.32
050557 | 2.30
050559 | 2.89
050560 | 2.10
050564 | 2.61
050565 | 2.02
050566 | 1.55
050567 | 2.31
050568 | 2.82
050569 | 2.55
050570 | 3.36
050571 | 3.32
050573 | 2.43
050577 | 4.54
050579 | 2.39
050580 | 2.36
050581 | 2.45
050583 | 3.40
050584 | 2.20
050585 | 2.85
050586 | 3.12
050588 | 2.72
050589 | 3.13
050590 | 3.28
050591 | 2.53
050592 | 3.06
050593 | 1.95
050594 | 3.76
050597 | 2.92
050599 | 1.65
050601 | 2.91
050607 | 1.80
050608 | 1.91
050613 | 0.75
050615 | 2.77
050616 | 2.60
050618 | 1.32
050624 | 2.96
050625 | 2.60
050630 | 2.33
050633 | 2.71
050636 | 3.18
050638 | 1.47
050641 | 2.70
050644 | 2.58
050660 | 1.47
050661 | 1.54
050662 | 1.05
050663 | 2.23
050667 | 1.07
050668 | 1.18
050676 | 0.91
050678 | 3.03
050680 | 1.56
050682 | 1.29
050684 | 2.07
050685 | 2.62
050688 | 1.75
050689 | 2.53
050693 | 2.19
050694 | 2.25
050695 | 1.71
050696 | 3.37
050697 | 4.88
050699 | 2.68
050700 | 2.52
050701 | 2.18
050702 | 0.93
050704 | 2.10
050709 | 2.93
050713 | 3.24
052031 | 1.13
053026 | 1.62
053027 | 1.03
053028 | 1.25
053029 | 1.40
053030 | 0.97
053031 | 1.25
053032 | 0.83
053033 | 1.14
053034 | 1.85
053035 | 1.41
053036 | 1.39
053037 | 1.42
053300 | 1.47
053301 | 2.09
053302 | 1.70
053305 | 1.00
054001 | 1.55
054003 | 2.23
054009 | 1.56
054012 | 1.60
054032 | 1.55
054050 | 1.85
054053 | 1.66
054055 | 1.32
054060 | 1.55
054064 | 1.32
054065 | 1.53
054069 | 1.55
054074 | 1.55
054078 | 2.06
054085 | 1.55
054087 | 1.55
054091 | 1.82
054093 | 2.49
054094 | 1.59
054095 | 1.55
054096 | 1.58
054097 | 1.57
054098 | 1.32
054099 | 1.69
054104 | 2.67
054105 | 1.55
054106 | 1.56
054108 | 1.45
054110 | 1.55
054111 | 1.55
054113 | 1.55
054115 | 1.55
054116 | 1.57
054119 | 1.55
054122 | 1.05
054123 | 1.58
054125 | 1.83
054126 | 1.55
054130 | 1.61
054131 | 1.85
054133 | 0.72
060001 | 3.12
060003 | 3.01
060004 | 1.51
060006 | 2.24
060007 | 1.59
060008 | 2.16
060009 | 2.35
060010 | 2.53
060011 | 1.32
060012 | 1.94
060013 | 1.91
060014 | 2.56
060015 | 1.84
060016 | 2.15
060018 | 2.30
060020 | 2.29
060022 | 1.85
060023 | 2.62
060024 | 1.62
060027 | 2.23
060028 | 2.77
060029 | 1.10
060030 | 2.93
060031 | 2.37
060032 | 2.92
060033 | 1.69
060034 | 2.06
060036 | 1.88
060037 | 1.48
060038 | 1.46
060041 | 0.99
060042 | 1.65
060043 | 1.29
060044 | 2.43
060046 | 3.04
060047 | 0.95
060049 | 2.79
060050 | 2.00
060052 | 1.79
060053 | 1.78
060054 | 2.64
060056 | 1.10
060057 | 2.11
060058 | 1.34
060060 | 1.27
060062 | 1.52
060063 | 0.78
060064 | 3.29
060065 | 2.34
060068 | 1.25
060070 | 1.32
060071 | 2.19
060073 | 1.33
060075 | 2.68
060076 | 1.96
060085 | 1.17
060087 | 2.10
060088 | 1.53
060090 | 1.60
060096 | 2.09
060100 | 2.06
060103 | 4.46
060104 | 2.40
060107 | 1.34
062009 | 0.80
062011 | 2.22
063026 | 1.58
063027 | 1.58
063030 | 2.31
063301 | 1.51
063302 | 1.41
064007 | 1.55
064009 | 1.39
064010 | 1.61
064012 | 1.52
064016 | 2.18
064020 | 1.55
070001 | 2.88
070002 | 2.63
070003 | 2.19
070004 | 2.36
070005 | 2.09
070006 | 2.48
070007 | 2.92
070008 | 2.12
070009 | 2.79
070010 | 2.68
070011 | 2.12
070012 | 2.27
070015 | 2.25
070016 | 2.15
070017 | 2.56
070018 | 2.28
070019 | 2.96
070020 | 2.24
070021 | 2.61
070022 | 2.69
070024 | 2.52
070025 | 3.27
070026 | 2.20
070027 | 2.35
070028 | 2.28
070029 | 2.48
070030 | 2.60
070031 | 2.23
070033 | 2.12
070035 | 2.48
070036 | 2.07
070039 | 1.17
072003 | 1.05
072004 | 0.87
072008 | 1.85
073025 | 1.16
074000 | 1.50
074007 | 1.55
074008 | 1.78
080001 | 3.31
080002 | 2.32
080003 | 2.90
080004 | 2.55
080005 | 2.95
080006 | 2.52
080007 | 2.26
083300 | 3.78
084002 | 1.67
090001 | 3.61
090002 | 1.92
090003 | 1.81
090004 | 2.59
090006 | 2.60
090007 | 1.28
090008 | 2.52
090010 | 2.06
090011 | 2.49
090015 | 0.75
092002 | 0.80
093025 | 1.08
093300 | 2.05
094004 | 1.33
100001 | 1.62
100002 | 2.75
100004 | 1.94
100006 | 2.43
100007 | 3.08
100008 | 3.40
100009 | 2.57
100010 | 2.79
100012 | 3.06
100014 | 2.68
100015 | 2.69
100017 | 2.75
100018 | 2.01
100019 | 3.36
100020 | 3.14
100022 | 1.43
100023 | 2.70
100024 | 3.07
100025 | 2.33
100026 | 2.86
100027 | 1.58
100028 | 2.94
100029 | 2.61
100030 | 3.15
100032 | 2.22
100034 | 2.49
100035 | 2.62
100038 | 2.39
100039 | 2.94
100040 | 3.26
100043 | 2.46
100044 | 2.58
100045 | 2.36
100046 | 2.41
100047 | 2.06
100048 | 1.71
100049 | 2.76
100050 | 2.35
100051 | 2.67
100052 | 4.07
100053 | 2.62
100054 | 2.09
100055 | 2.32
100056 | 3.65
100057 | 3.13
100060 | 2.58
100061 | 2.80
100062 | 3.23
100063 | 2.34
100067 | 2.59
100068 | 2.16
100069 | 2.65
100070 | 2.58
100071 | 2.27
100072 | 2.44
100073 | 2.03
100075 | 2.32
100076 | 2.55
100077 | 3.36
100078 | 1.17
100079 | 1.77
100080 | 2.43
100081 | 1.91
100082 | 2.40
100084 | 2.18
100085 | 2.40
100086 | 2.52
100087 | 4.08
100088 | 3.46
100090 | 2.89
100093 | 2.95
100098 | 1.56
100099 | 2.99
100102 | 2.09
100103 | 1.25
100105 | 2.85
100106 | 2.89
100107 | 2.72
100108 | 2.15
100109 | 2.87
100110 | 2.33
100112 | 1.04
100113 | 2.91
100114 | 2.71
100117 | 3.23
100118 | 1.99
100121 | 2.91
100122 | 2.77
100124 | 1.97
100125 | 2.46
100126 | 2.26
100127 | 2.97
100128 | 2.50
100129 | 3.40
100130 | 2.33
100131 | 3.08
100132 | 2.39
100134 | 1.61
100135 | 4.27
100137 | 2.28
100138 | 1.27
100139 | 1.51
100140 | 2.57
100142 | 2.03
100144 | 2.86
100145 | 2.34
100146 | 2.04
100147 | 1.85
100150 | 2.63
100151 | 4.07
100154 | 3.38
100156 | 2.44
100157 | 3.67
100159 | 1.51
100160 | 2.03
100161 | 2.32
100162 | 2.24
100165 | 2.22
100167 | 4.26
100168 | 2.54
100169 | 2.75
100170 | 2.92
100172 | 2.44
100173 | 3.21
100174 | 2.18
100175 | 1.94
100176 | 1.96
100177 | 2.98
100179 | 3.31
100180 | 2.10
100181 | 4.55
100183 | 2.80
100187 | 2.46
100189 | 2.75
100191 | 2.47
100199 | 3.39
100200 | 4.10
100203 | 2.22
100204 | 2.51
100206 | 2.51
100208 | 2.24
100209 | 2.61
100210 | 2.68
100211 | 2.02
100212 | 2.45
100213 | 1.93
100217 | 3.59
100220 | 3.22
100221 | 2.58
100222 | 1.66
100223 | 2.21
100224 | 2.34
100225 | 2.65
100226 | 1.90
100228 | 2.19
100229 | 2.01
100230 | 1.87
100231 | 2.31
100232 | 2.67
100234 | 2.30
100235 | 2.21
100236 | 2.19
100237 | 2.92
100238 | 3.13
100240 | 5.17
100241 | 2.57
100242 | 3.00
100243 | 2.12
100244 | 2.54
100246 | 3.15
100248 | 1.94
100249 | 2.45
100252 | 2.42
100253 | 2.76
100254 | 2.22
100255 | 2.31
100256 | 2.25
100258 | 2.48
100259 | 2.80
100260 | 3.68
100262 | 3.20
100263 | 2.45
100264 | 2.11
100265 | 2.41
100266 | 2.85
100267 | 2.70
100268 | 2.33
100269 | 2.74
100270 | 1.21
100271 | 1.86
100275 | 2.38
100276 | 3.07
100277 | 0.95
100279 | 2.11
100280 | 1.90
100281 | 2.17
100282 | 1.72
102009 | 0.94
102013 | 3.59
103026 | 0.50
103027 | 1.15
103028 | 1.41
103030 | 0.81
103031 | 1.52
103032 | 1.73
103034 | 1.36
103300 | 7.02
103301 | 2.56
104008 | 1.72
104015 | 1.55
104016 | 1.53
104017 | 1.55
104024 | 1.75
104026 | 1.55
104029 | 1.55
104034 | 1.56
104036 | 1.58
104037 | 1.55
104038 | 1.68
104041 | 1.81
104045 | 1.69
104046 | 1.55
104047 | 1.55
104052 | 1.56
104054 | 1.57
104056 | 1.54
104060 | 1.43
110001 | 2.73
110002 | 1.75
110003 | 2.69
110004 | 2.62
110005 | 2.65
110006 | 3.33
110007 | 2.64
110008 | 2.44
110009 | 1.15
110010 | 3.09
110011 | 2.39
110013 | 1.55
110014 | 1.70
110015 | 1.76
110016 | 3.17
110017 | 1.28
110018 | 2.22
110020 | 3.19
110023 | 2.44
110024 | 3.80
110025 | 2.85
110026 | 1.76
110027 | 1.62
110028 | 2.89
110029 | 2.10
110030 | 3.04
110031 | 2.55
110032 | 2.72
110033 | 2.97
110034 | 1.43
110035 | 2.93
110036 | 2.93
110037 | 1.63
110038 | 2.20
110039 | 2.96
110040 | 2.05
110041 | 2.04
110042 | 3.56
110043 | 3.18
110044 | 2.66
110045 | 2.47
110046 | 2.26
110048 | 1.63
110049 | 1.30
110050 | 1.78
110051 | 1.91
110052 | 1.04
110054 | 2.16
110056 | 1.26
110059 | 2.38
110061 | 1.25
110062 | 0.97
110063 | 1.50
110064 | 2.05
110065 | 1.13
110066 | 2.56
110069 | 2.55
110070 | 1.84
110071 | 1.29
110072 | 1.55
110073 | 2.16
110074 | 2.78
110075 | 2.39
110076 | 2.79
110078 | 2.95
110079 | 1.23
110080 | 1.97
110082 | 3.62
110083 | 3.30
110086 | 1.97
110087 | 2.75
110088 | 0.94
110089 | 2.39
110091 | 3.09
110092 | 1.71
110093 | 1.48
110094 | 1.01
110095 | 2.97
110096 | 1.48
110097 | 1.32
110098 | 1.77
110100 | 1.27
110101 | 1.56
110103 | 1.28
110104 | 2.20
110105 | 2.49
110107 | 2.05
110108 | 0.81
110109 | 1.61
110111 | 1.68
110112 | 1.52
110113 | 1.41
110114 | 1.60
110115 | 2.62
110118 | 0.76
110120 | 1.15
110121 | 4.84
110122 | 2.79
110124 | 2.19
110125 | 3.21
110127 | 1.59
110128 | 2.41
110129 | 2.94
110130 | 1.82
110132 | 2.04
110134 | 1.23
110135 | 4.68
110140 | 2.41
110141 | 1.22
110142 | 1.50
110143 | 3.07
110144 | 1.92
110146 | 1.72
110149 | 1.57
110150 | 2.56
110152 | 1.77
110153 | 2.02
110155 | 1.35
110156 | 1.52
110161 | 3.52
110163 | 3.22
110164 | 2.47
110165 | 2.62
110166 | 2.82
110168 | 2.47
110169 | 7.21
110171 | 2.37
110172 | 3.25
110174 | 1.87
110176 | 2.69
110177 | 2.47
110178 | 8.34
110179 | 2.22
110181 | 1.14
110183 | 2.32
110184 | 2.16
110185 | 1.45
110186 | 3.32
110187 | 2.45
110188 | 2.91
110189 | 1.99
110190 | 1.73
110191 | 3.54
110192 | 2.42
110193 | 3.14
110194 | 1.47
110195 | 1.20
110198 | 2.98
110200 | 4.48
110201 | 2.34
110203 | 1.35
110205 | 1.77
110207 | 1.28
110208 | 1.59
110211 | 1.00
110212 | 1.99
112000 | 1.04
112003 | 1.69
112004 | 0.79
113026 | 1.40
113027 | 0.40
113300 | 2.36
114000 | 1.55
114003 | 1.55
114008 | 1.55
114010 | 1.67
114016 | 1.54
114017 | 1.61
114022 | 1.55
114023 | 1.59
114024 | 1.57
114027 | 1.55
114030 | 1.67
114032 | 1.55
114033 | 1.54
114034 | 1.55
120001 | 2.95
120002 | 2.93
120003 | 2.15
120004 | 2.18
120005 | 3.21
120006 | 2.09
120007 | 3.17
120009 | 1.26
120010 | 2.69
120012 | 1.32
120014 | 2.83
120018 | 0.71
120019 | 2.58
120022 | 1.31
120024 | 0.86
120025 | 0.77
120026 | 3.08
120027 | 1.96
120028 | 3.33
123025 | 1.65
123300 | 1.76
124001 | 1.53
130001 | 1.60
130002 | 3.18
130003 | 3.14
130005 | 3.43
130006 | 2.12
130007 | 3.65
130008 | 1.94
130009 | 2.56
130010 | 0.93
130011 | 2.46
130012 | 1.61
130013 | 2.69
130014 | 3.03
130015 | 1.20
130016 | 2.06
130017 | 1.93
130018 | 3.31
130019 | 1.83
130021 | 1.09
130022 | 2.48
130024 | 2.89
130025 | 1.91
130026 | 3.68
130027 | 1.60
130028 | 2.30
130029 | 2.10
130030 | 0.89
130031 | 2.34
130034 | 1.61
130035 | 2.08
130036 | 3.90
130037 | 1.90
130043 | 1.68
130044 | 1.57
130045 | 1.65
130048 | 1.30
130049 | 2.59
130054 | 0.71
130056 | 0.76
130060 | 2.73
130061 | 1.55
133025 | 1.47
134002 | 1.55
134009 | 1.60
140001 | 2.21
140002 | 2.35
140003 | 1.61
140005 | 1.45
140007 | 2.57
140008 | 2.49
140010 | 2.35
140011 | 1.78
140012 | 2.22
140013 | 2.76
140014 | 2.41
140015 | 2.82
140016 | 1.95
140018 | 1.94
140019 | 1.65
140024 | 1.81
140025 | 1.53
140026 | 2.30
140027 | 1.84
140029 | 2.17
140030 | 2.97
140031 | 1.64
140032 | 3.04
140033 | 2.61
140034 | 2.39
140035 | 1.66
140036 | 2.69
140037 | 1.44
140038 | 1.59
140040 | 2.32
140041 | 2.20
140042 | 1.64
140043 | 2.70
140045 | 1.65
140046 | 2.43
140047 | 1.40
140048 | 2.18
140049 | 2.02
140051 | 2.56
140052 | 2.79
140053 | 3.25
140054 | 2.63
140055 | 1.58
140058 | 2.30
140059 | 2.50
140061 | 1.71
140062 | 2.16
140063 | 2.29
140064 | 3.76
140065 | 2.44
140066 | 2.17
140067 | 2.63
140068 | 1.77
140069 | 1.89
140070 | 2.00
140074 | 1.21
140075 | 2.41
140077 | 1.66
140079 | 2.44
140080 | 2.19
140081 | 1.66
140082 | 1.94
140083 | 1.45
140084 | 2.94
140086 | 2.09
140087 | 2.41
140088 | 1.65
140089 | 2.96
140090 | 2.57
140091 | 5.51
140093 | 2.71
140094 | 2.24
140095 | 1.93
140097 | 1.37
140100 | 2.74
140101 | 2.02
140102 | 1.99
140103 | 1.62
140105 | 2.70
140107 | 1.67
140108 | 2.82
140109 | 1.69
140110 | 2.28
140112 | 1.85
140113 | 2.49
140114 | 2.42
140115 | 2.07
140116 | 2.63
140117 | 2.67
140118 | 2.83
140119 | 2.96
140120 | 2.46
140121 | 2.64
140122 | 2.48
140125 | 2.18
140127 | 4.46
140128 | 1.79
140129 | 2.14
140130 | 2.50
140132 | 2.85
140133 | 2.17
140135 | 2.78
140137 | 1.67
140138 | 2.05
140139 | 1.69
140140 | 1.76
140141 | 2.22
140143 | 2.24
140144 | 1.68
140145 | 2.04
140146 | 1.62
140147 | 2.31
140148 | 2.95
140150 | 1.61
140151 | 1.34
140155 | 2.43
140158 | 1.73
140160 | 3.21
140161 | 2.48
140162 | 2.30
140164 | 2.77
140165 | 2.25
140166 | 1.91
140167 | 2.59
140168 | 1.97
140170 | 1.62
140171 | 1.37
140172 | 1.61
140173 | 1.23
140174 | 2.18
140176 | 2.67
140177 | 2.11
140179 | 2.60
140180 | 2.01
140181 | 1.95
140182 | 2.00
140184 | 1.93
140185 | 2.35
140186 | 2.10
140187 | 2.10
140188 | 1.37
140189 | 2.21
140190 | 1.82
140191 | 2.08
140193 | 2.51
140197 | 1.99
140199 | 1.78
140200 | 1.94
140202 | 2.55
140203 | 2.43
140205 | 4.24
140206 | 2.22
140207 | 2.12
140208 | 2.47
140209 | 2.71
140210 | 2.15
140211 | 2.35
140212 | 1.38
140213 | 2.63
140215 | 1.32
140217 | 2.32
140218 | 1.94
140220 | 1.82
140223 | 2.80
140224 | 2.33
140228 | 2.34
140230 | 1.15
140231 | 2.40
140233 | 2.59
140234 | 2.40
140236 | 1.38
140239 | 2.79
140240 | 2.09
140242 | 2.83
140245 | 1.83
140246 | 1.75
140250 | 1.98
140251 | 3.00
140252 | 2.01
140253 | 3.53
140258 | 2.37
140271 | 2.10
140275 | 2.53
140276 | 2.47
140280 | 2.60
140281 | 2.61
140285 | 2.21
140286 | 2.15
140288 | 2.00
140289 | 2.39
140290 | 3.26
140291 | 2.60
140292 | 2.47
140294 | 2.57
140297 | 1.61
140300 | 1.25
142006 | 1.37
143025 | 1.33
143026 | 1.34
143027 | 1.50
143300 | 1.82
143301 | 3.19
144005 | 1.64
144025 | 1.55
144026 | 1.55
144031 | 2.28
144033 | 1.55
144034 | 1.54
144036 | 1.57
150001 | 2.13
150002 | 2.14
150003 | 2.39
150004 | 2.20
150005 | 2.41
150006 | 2.80
150007 | 2.44
150008 | 2.61
150009 | 2.79
150011 | 1.92
150012 | 2.78
150013 | 2.18
150014 | 2.23
150015 | 2.76
150018 | 3.00
150019 | 2.19
150020 | 2.70
150022 | 2.63
150023 | 2.63
150024 | 1.31
150026 | 2.75
150027 | 1.74
150029 | 3.77
150030 | 2.56
150031 | 1.68
150033 | 2.41
150034 | 2.79
150036 | 1.92
150037 | 2.58
150038 | 1.73
150039 | 2.16
150042 | 2.75
150043 | 1.93
150044 | 2.38
150045 | 1.67
150046 | 2.72
150047 | 1.89
150049 | 1.94
150050 | 1.76
150051 | 2.17
150052 | 2.37
150053 | 1.99
150054 | 1.72
150057 | 2.23
150058 | 3.07
150059 | 1.88
150060 | 1.65
150061 | 2.02
150062 | 2.18
150063 | 1.49
150064 | 2.03
150065 | 2.37
150066 | 1.54
150067 | 2.12
150069 | 2.68
150070 | 1.93
150071 | 1.58
150072 | 1.97
150073 | 1.99
150074 | 2.46
150075 | 2.12
150076 | 2.07
150078 | 1.80
150079 | 1.71
150084 | 3.60
150086 | 2.32
150089 | 2.57
150090 | 1.89
150091 | 1.90
150092 | 1.54
150094 | 2.25
150095 | 2.28
150096 | 2.12
150097 | 2.03
150098 | 1.75
150099 | 2.46
150100 | 2.70
150101 | 2.03
150102 | 1.68
150103 | 1.32
150104 | 2.03
150105 | 1.94
150106 | 1.93
150109 | 3.35
150110 | 1.52
150111 | 1.74
150112 | 2.58
150114 | 1.61
150115 | 2.82
150122 | 2.07
150123 | 1.29
150125 | 2.42
150126 | 2.68
150127 | 1.22
150128 | 2.62
150129 | 2.02
150130 | 1.39
150132 | 2.65
150133 | 2.30
150134 | 1.80
150136 | 2.61
152007 | 0.59
152009 | 0.55
153025 | 2.03
153027 | 2.31
153029 | 1.35
153030 | 1.78
154009 | 1.69
154011 | 1.85
154013 | 1.51
154014 | 1.44
154026 | 1.65
154027 | 1.73
154028 | 1.37
154031 | 1.62
154032 | 1.79
154035 | 1.59
154036 | 1.53
154037 | 1.66
154038 | 1.71
154042 | 1.66
160001 | 3.30
160002 | 2.13
160003 | 1.84
160005 | 2.00
160007 | 1.19
160008 | 2.28
160009 | 2.03
160012 | 1.62
160013 | 3.05
160014 | 1.71
160016 | 3.06
160018 | 1.55
160020 | 1.65
160021 | 2.56
160023 | 1.68
160024 | 2.78
160026 | 1.91
160027 | 1.96
160028 | 2.46
160029 | 3.39
160030 | 3.47
160031 | 1.59
160032 | 2.35
160033 | 3.02
160034 | 2.31
160035 | 0.98
160036 | 2.10
160037 | 2.01
160039 | 1.65
160040 | 3.64
160041 | 1.49
160043 | 1.68
160044 | 2.29
160045 | 2.87
160046 | 2.22
160047 | 2.33
160048 | 1.72
160049 | 1.08
160050 | 2.49
160051 | 1.84
160052 | 1.95
160054 | 1.97
160055 | 2.09
160056 | 1.68
160057 | 2.59
160058 | 1.63
160060 | 1.89
160061 | 2.10
160062 | 1.74
160063 | 1.61
160064 | 3.14
160065 | 2.01
160066 | 2.40
160067 | 2.42
160068 | 1.88
160069 | 3.27
160070 | 1.70
160072 | 2.23
160073 | 1.35
160074 | 1.46
160075 | 1.79
160076 | 2.64
160077 | 1.83
160079 | 3.44
160080 | 2.72
160081 | 1.92
160082 | 3.36
160083 | 2.89
160085 | 1.61
160086 | 1.33
160088 | 1.65
160089 | 2.80
160090 | 1.59
160091 | 1.75
160092 | 1.82
160093 | 1.40
160094 | 2.93
160095 | 1.16
160097 | 2.12
160098 | 1.38
160099 | 1.74
160101 | 1.22
160102 | 2.85
160103 | 1.30
160104 | 2.24
160106 | 3.18
160107 | 1.49
160108 | 2.35
160109 | 1.62
160110 | 2.28
160111 | 1.64
160112 | 2.48
160113 | 1.34
160114 | 2.75
160115 | 2.45
160116 | 1.98
160117 | 2.86
160118 | 1.80
160120 | 0.95
160122 | 2.30
160124 | 2.14
160126 | 1.82
160129 | 2.98
160130 | 1.42
160131 | 1.61
160134 | 1.13
160135 | 1.78
160138 | 1.34
160140 | 1.69
160142 | 1.41
160143 | 1.92
160145 | 1.64
160146 | 2.96
160147 | 1.66
160151 | 1.39
160152 | 1.41
160153 | 2.76
164002 | 4.09
170001 | 3.29
170004 | 1.61
170006 | 2.01
170008 | 2.18
170009 | 2.47
170010 | 2.83
170012 | 3.18
170013 | 3.53
170014 | 1.86
170015 | 2.47
170016 | 2.73
170017 | 2.59
170018 | 1.74
170019 | 3.41
170020 | 3.81
170022 | 2.57
170023 | 5.62
170024 | 2.36
170025 | 2.06
170026 | 3.15
170027 | 3.18
170030 | 1.56
170031 | 2.04
170032 | 1.63
170033 | 2.67
170034 | 1.90
170035 | 1.52
170036 | 1.04
170037 | 3.34
170038 | 1.02
170039 | 1.64
170041 | 1.43
170043 | 1.17
170044 | 1.58
170045 | 1.74
170049 | 3.00
170051 | 1.06
170052 | 1.53
170053 | 1.02
170054 | 1.71
170055 | 1.80
170056 | 1.04
170057 | 1.62
170060 | 2.49
170061 | 2.07
170063 | 1.28
170064 | 1.61
170066 | 1.17
170067 | 2.08
170068 | 3.51
170070 | 2.26
170072 | 1.32
170073 | 1.38
170074 | 2.26
170075 | 1.03
170076 | 2.02
170077 | 1.94
170080 | 1.59
170081 | 1.39
170082 | 2.08
170084 | 1.79
170085 | 1.62
170086 | 3.38
170088 | 1.48
170089 | 1.28
170090 | 1.26
170092 | 1.36
170093 | 1.58
170094 | 2.00
170095 | 2.90
170097 | 1.89
170098 | 2.58
170099 | 2.27
170100 | 0.80
170101 | 1.45
170102 | 1.80
170103 | 4.48
170104 | 3.66
170105 | 2.02
170106 | 1.20
170109 | 1.99
170110 | 1.70
170112 | 1.48
170113 | 2.29
170114 | 2.46
170115 | 1.89
170116 | 2.91
170117 | 0.91
170119 | 1.37
170120 | 3.12
170122 | 2.74
170123 | 3.90
170124 | 2.13
170126 | 1.20
170128 | 1.96
170131 | 1.93
170133 | 3.64
170134 | 1.84
170137 | 2.80
170139 | 0.72
170142 | 3.08
170143 | 3.11
170144 | 3.09
170145 | 2.18
170146 | 3.03
170147 | 1.44
170148 | 2.58
170150 | 3.35
170151 | 1.95
170152 | 1.46
170160 | 1.49
170164 | 1.69
170166 | 1.42
170171 | 1.39
170175 | 4.34
170176 | 2.71
170182 | 3.37
170183 | 9.35
171304 | 0.79
171305 | 0.38
171310 | 0.32
172004 | 0.68
173025 | 1.55
173027 | 2.17
173028 | 1.16
174003 | 1.35
174006 | 0.83
174012 | 1.55
174014 | 1.79
174016 | 1.46
174018 | 1.56
180001 | 2.22
180004 | 1.97
180005 | 2.23
180006 | 1.20
180007 | 2.91
180009 | 2.80
180010 | 2.69
180011 | 2.33
180012 | 2.60
180013 | 2.86
180014 | 3.17
180015 | 1.74
180016 | 2.32
180017 | 2.53
180018 | 2.71
180019 | 2.90
180021 | 1.92
180023 | 1.82
180024 | 2.06
180025 | 2.13
180026 | 2.07
180027 | 3.08
180030 | 1.42
180031 | 1.58
180032 | 1.34
180033 | 1.83
180034 | 1.97
180035 | 2.67
180036 | 2.73
180037 | 2.60
180038 | 2.25
180040 | 3.61
180041 | 2.44
180042 | 1.92
180043 | 1.43
180044 | 2.50
180045 | 2.60
180046 | 2.24
180047 | 1.66
180048 | 2.39
180049 | 3.18
180051 | 2.98
180054 | 2.22
180055 | 1.99
180056 | 2.49
180058 | 1.42
180059 | 1.54
180060 | 0.81
180063 | 1.48
180064 | 2.22
180065 | 1.37
180066 | 2.49
180067 | 2.63
180070 | 1.79
180072 | 1.70
180075 | 1.82
180078 | 2.22
180079 | 1.77
180080 | 3.22
180087 | 2.94
180088 | 3.54
180092 | 2.19
180093 | 2.72
180094 | 1.54
180095 | 1.97
180099 | 1.75
180101 | 1.73
180102 | 2.84
180103 | 2.88
180104 | 2.58
180105 | 1.70
180106 | 1.50
180108 | 1.47
180115 | 1.63
180116 | 2.41
180117 | 2.43
180118 | 1.53
180120 | 1.55
180121 | 2.48
180122 | 1.68
180123 | 2.77
180124 | 3.14
180126 | 1.44
180127 | 2.80
180128 | 1.97
180129 | 1.25
180130 | 2.83
180132 | 2.66
180133 | 2.33
180134 | 1.92
180136 | 4.43
180137 | 1.76
180138 | 2.11
180139 | 1.47
180140 | 1.19
180141 | 2.02
182001 | 2.05
183027 | 1.32
183028 | 1.51
184000 | 1.97
184002 | 0.78
184007 | 1.55
184008 | 1.66
184009 | 1.64
184011 | 1.81
184015 | 0.87
190003 | 2.15
190004 | 2.45
190007 | 1.87
190008 | 2.74
190013 | 1.83
190014 | 2.81
190015 | 2.42
190017 | 2.18
190018 | 2.35
190019 | 1.89
190020 | 2.64
190025 | 2.15
190026 | 2.24
190027 | 2.06
190029 | 2.05
190033 | 1.17
190034 | 2.07
190036 | 2.73
190037 | 1.00
190039 | 2.12
190040 | 2.44
190041 | 2.55
190043 | 1.14
190044 | 2.08
190045 | 2.22
190046 | 1.93
190048 | 2.14
190049 | 2.69
190050 | 2.08
190053 | 1.57
190054 | 2.26
190059 | 1.78
190060 | 2.85
190064 | 4.30
190065 | 2.35
190071 | 1.49
190077 | 0.88
190078 | 3.17
190079 | 2.06
190081 | 1.07
190083 | 1.30
190086 | 2.84
190088 | 2.36
190089 | 1.77
190090 | 1.77
190092 | 1.88
190095 | 2.00
190098 | 1.55
190099 | 1.42
190102 | 3.14
190103 | 0.98
190106 | 1.71
190109 | 2.29
190110 | 1.51
190111 | 3.47
190112 | 2.78
190113 | 3.09
190114 | 1.72
190115 | 4.85
190116 | 2.27
190118 | 1.80
190120 | 1.57
190124 | 2.30
190125 | 2.21
190128 | 2.36
190130 | 1.76
190131 | 1.51
190133 | 1.54
190134 | 1.16
190135 | 2.45
190136 | 1.05
190138 | 7.09
190140 | 1.77
190142 | 1.06
190144 | 2.68
190145 | 1.54
190146 | 1.99
190147 | 1.98
190148 | 1.16
190149 | 1.71
190151 | 1.90
190152 | 2.85
190155 | 1.50
190156 | 0.90
190158 | 2.36
190160 | 2.76
190162 | 1.68
190164 | 2.43
190167 | 1.96
190170 | 1.02
190173 | 2.12
190175 | 2.53
190176 | 1.64
190177 | 2.46
190178 | 1.25
190182 | 2.24
190184 | 1.12
190185 | 2.75
190186 | 1.25
190189 | 0.98
190190 | 1.48
190191 | 2.21
190196 | 2.45
190197 | 2.63
190200 | 2.63
190201 | 2.19
190202 | 1.98
190203 | 2.82
190204 | 2.44
190205 | 2.47
190206 | 2.06
190207 | 3.10
190208 | 1.18
190218 | 2.41
190231 | 4.55
190236 | 3.56
192004 | 1.30
192006 | 1.78
192016 | 3.50
192020 | 0.79
193027 | 1.77
193028 | 1.84
193034 | 1.22
193038 | 1.62
193041 | 0.89
193044 | 2.62
193300 | 1.52
194000 | 3.15
194004 | 1.32
194014 | 1.53
194019 | 1.57
194022 | 1.32
194023 | 1.52
194024 | 1.40
194027 | 1.56
194031 | 1.63
194036 | 1.47
194044 | 1.54
194058 | 1.55
200001 | 2.71
200002 | 2.25
200003 | 1.96
200006 | 1.43
200007 | 1.64
200008 | 2.14
200009 | 2.23
200012 | 1.69
200013 | 2.05
200015 | 2.19
200016 | 1.92
200017 | 2.72
200018 | 2.23
200019 | 2.23
200020 | 2.32
200021 | 2.52
200023 | 1.08
200024 | 2.50
200025 | 2.47
200026 | 1.83
200027 | 1.77
200028 | 1.83
200031 | 1.84
200032 | 1.99
200033 | 2.24
200034 | 2.74
200037 | 1.95
200038 | 2.48
200039 | 2.55
200040 | 2.89
200041 | 2.42
200043 | 1.29
200050 | 2.80
200051 | 2.73
200052 | 1.79
200055 | 1.47
200062 | 1.46
200063 | 2.52
200066 | 2.16
204005 | 1.68
204006 | 1.54
220001 | 2.29
220003 | 2.21
220004 | 2.30
220006 | 2.26
220008 | 2.19
220010 | 2.68
220011 | 1.67
220015 | 2.19
220016 | 2.31
220017 | 2.13
220019 | 2.43
220020 | 1.82
220021 | 2.13
220023 | 2.01
220024 | 2.35
220025 | 1.85
220028 | 2.02
220029 | 2.15
220030 | 1.57
220031 | 1.87
220033 | 2.15
220035 | 2.37
220038 | 2.07
220041 | 2.29
220042 | 2.16
220046 | 2.57
220049 | 2.46
220050 | 2.20
220051 | 2.52
220052 | 2.08
220053 | 2.05
220055 | 2.53
220057 | 2.30
220058 | 2.07
220060 | 2.36
220062 | 1.78
220063 | 2.16
220064 | 2.33
220065 | 1.92
220066 | 2.62
220067 | 2.39
220068 | 1.42
220070 | 2.08
220071 | 1.88
220073 | 2.06
220074 | 2.06
220075 | 2.83
220076 | 1.93
220077 | 2.11
220079 | 1.89
220080 | 2.09
220081 | 1.92
220082 | 2.28
220083 | 1.87
220084 | 2.57
220086 | 1.93
220088 | 2.06
220089 | 2.12
220090 | 2.05
220092 | 2.22
220094 | 2.04
220095 | 1.92
220098 | 2.29
220100 | 1.96
220101 | 2.23
220104 | 1.44
220105 | 2.21
220106 | 2.17
220107 | 2.34
220108 | 2.11
220111 | 2.34
220116 | 1.72
220119 | 1.92
220123 | 1.81
220126 | 2.32
220128 | 1.99
220135 | 2.20
220162 | 1.56
220163 | 1.59
220171 | 1.62
222000 | 1.54
222002 | 1.04
222006 | 1.10
222008 | 0.98
222024 | 2.57
222026 | 1.01
222027 | 1.01
222029 | 1.24
222035 | 1.30
222041 | 0.45
222043 | 1.10
222044 | 1.10
223026 | 1.14
223027 | 1.49
223028 | 1.62
223029 | 1.05
223030 | 1.52
223032 | 1.26
223302 | 1.99
224007 | 1.75
224018 | 1.64
224021 | 1.54
224022 | 2.67
224034 | 1.57
224035 | 1.31
230001 | 1.98
230002 | 3.04
230003 | 1.99
230004 | 2.85
230005 | 2.32
230006 | 2.20
230007 | 2.85
230012 | 1.22
230013 | 2.28
230015 | 2.20
230017 | 2.90
230019 | 3.09
230020 | 3.32
230021 | 3.02
230022 | 2.25
230024 | 2.94
230027 | 1.97
230029 | 2.37
230030 | 2.80
230031 | 2.57
230032 | 3.42
230034 | 2.13
230035 | 2.21
230036 | 2.62
230037 | 2.46
230038 | 2.97
230040 | 2.66
230041 | 2.56
230042 | 2.04
230046 | 2.04
230047 | 3.03
230053 | 1.46
230054 | 2.58
230055 | 2.07
230056 | 1.77
230058 | 2.77
230059 | 3.12
230060 | 2.39
230062 | 1.78
230063 | 2.18
230065 | 2.69
230066 | 2.62
230068 | 2.96
230069 | 2.29
230070 | 3.47
230071 | 13.46
230072 | 2.32
230075 | 2.74
230076 | 4.83
230077 | 3.51
230078 | 2.17
230080 | 3.55
230081 | 2.66
230082 | 2.17
230085 | 2.65
230086 | 1.79
230087 | 2.14
230089 | 2.65
230092 | 2.76
230093 | 2.99
230095 | 2.79
230096 | 2.47
230097 | 3.23
230099 | 2.22
230100 | 1.66
230101 | 2.22
230103 | 2.22
230104 | 2.53
230105 | 3.58
230106 | 1.97
230107 | 1.39
230108 | 2.30
230110 | 2.55
230111 | 1.83
230113 | 1.20
230114 | 7.32
230115 | 1.87
230116 | 2.04
230117 | 2.64
230118 | 2.16
230119 | 2.20
230120 | 2.77
230121 | 2.57
230122 | 3.37
230124 | 2.26
230125 | 1.91
230128 | 3.39
230130 | 2.88
230132 | 2.37
230133 | 2.44
230134 | 2.45
230135 | 2.66
230137 | 2.40
230141 | 2.47
230142 | 2.53
230143 | 2.75
230144 | 2.44
230145 | 2.35
230146 | 2.11
230147 | 1.91
230149 | 1.62
230151 | 2.11
230153 | 2.20
230154 | 1.52
230155 | 1.61
230156 | 2.46
230157 | 2.73
230159 | 2.74
230162 | 1.04
230165 | 3.20
230167 | 2.97
230169 | 2.72
230171 | 1.61
230172 | 1.86
230174 | 2.13
230175 | 1.55
230176 | 2.96
230178 | 1.91
230180 | 2.02
230184 | 5.45
230186 | 1.92
230188 | 2.38
230189 | 1.41
230190 | 1.28
230191 | 2.01
230193 | 2.22
230194 | 1.22
230195 | 2.84
230197 | 3.63
230199 | 2.25
230201 | 2.58
230204 | 2.72
230205 | 2.62
230207 | 2.22
230208 | 2.41
230211 | 0.91
230212 | 2.15
230213 | 1.35
230216 | 2.08
230217 | 2.66
230219 | 2.46
230221 | 2.13
230222 | 2.66
230223 | 2.86
230227 | 2.69
230230 | 2.88
230232 | 1.16
230235 | 2.24
230236 | 2.79
230239 | 2.40
230241 | 2.58
230244 | 2.53
230253 | 2.64
230254 | 2.61
230257 | 5.56
230259 | 2.83
230264 | 3.02
230269 | 2.85
230270 | 3.10
230273 | 1.95
230275 | 1.90
230276 | 1.34
230277 | 2.81
230278 | 1.84
230279 | 1.59
230280 | 2.00
233025 | 1.26
233026 | 1.09
233027 | 1.24
233300 | 3.39
234006 | 1.63
234011 | 1.71
234029 | 1.46
234030 | 1.64
240001 | 3.26
240002 | 2.84
240004 | 1.30
240005 | 1.12
240006 | 2.89
240007 | 2.92
240008 | 2.88
240009 | 1.53
240010 | 3.69
240011 | 2.58
240013 | 2.49
240014 | 2.65
240016 | 3.00
240017 | 3.88
240018 | 3.20
240019 | 2.95
240020 | 2.08
240021 | 1.94
240022 | 2.29
240023 | 2.46
240025 | 2.01
240027 | 2.68
240028 | 2.16
240029 | 2.97
240030 | 3.11
240031 | 2.26
240036 | 2.44
240037 | 1.93
240038 | 3.13
240040 | 2.51
240041 | 2.49
240043 | 3.30
240044 | 2.56
240045 | 2.04
240047 | 3.16
240048 | 3.81
240049 | 1.87
240050 | 3.12
240051 | 1.95
240052 | 2.17
240053 | 3.27
240056 | 3.03
240057 | 2.35
240058 | 1.44
240059 | 3.44
240061 | 4.55
240063 | 2.66
240064 | 3.06
240065 | 1.73
240066 | 4.22
240069 | 3.56
240071 | 2.37
240072 | 2.79
240073 | 1.65
240075 | 2.45
240076 | 2.75
240077 | 2.34
240078 | 3.66
240079 | 1.91
240080 | 2.09
240082 | 1.86
240083 | 2.36
240084 | 2.83
240085 | 1.53
240086 | 2.09
240087 | 2.23
240088 | 1.90
240089 | 1.37
240090 | 3.29
240093 | 2.68
240094 | 1.66
240096 | 1.46
240097 | 6.54
240098 | 2.05
240099 | 1.53
240100 | 2.83
240101 | 2.00
240102 | 1.70
240103 | 1.87
240104 | 2.68
240105 | 1.33
240106 | 1.44
240107 | 1.69
240108 | 2.55
240109 | 1.82
240110 | 2.39
240111 | 2.28
240112 | 1.98
240114 | 1.84
240115 | 3.13
240116 | 1.61
240117 | 1.29
240119 | 1.19
240121 | 1.94
240122 | 1.45
240123 | 2.37
240124 | 2.36
240125 | 1.91
240127 | 2.25
240128 | 2.55
240129 | 2.38
240130 | 3.06
240132 | 2.75
240133 | 3.45
240137 | 3.54
240138 | 1.42
240139 | 2.01
240141 | 2.49
240142 | 1.80
240143 | 1.54
240144 | 2.78
240145 | 1.37
240146 | 2.11
240148 | 1.64
240152 | 2.60
240153 | 1.82
240154 | 1.44
240155 | 2.59
240157 | 2.46
240160 | 2.58
240161 | 1.77
240162 | 2.16
240163 | 1.89
240166 | 3.66
240169 | 2.39
240170 | 1.83
240171 | 2.87
240172 | 2.01
240173 | 2.63
240179 | 1.84
240184 | 1.71
240187 | 3.42
240193 | 2.12
240200 | 0.91
240207 | 2.75
240210 | 2.78
240211 | 1.04
242004 | 1.59
243300 | 1.41
243301 | 1.45
243302 | 6.10
244009 | 3.31
250001 | 2.17
250002 | 1.57
250003 | 1.07
250004 | 2.27
250005 | 0.94
250006 | 2.22
250007 | 1.98
250008 | 1.07
250009 | 2.99
250010 | 1.62
250012 | 1.46
250015 | 2.25
250017 | 1.36
250018 | 0.66
250019 | 2.28
250020 | 1.40
250021 | 0.75
250023 | 0.70
250024 | 0.90
250025 | 2.05
250027 | 1.72
250029 | 1.62
250030 | 1.06
250031 | 2.52
250032 | 1.96
250033 | 1.70
250034 | 3.67
250035 | 1.84
250036 | 1.88
250037 | 1.50
250038 | 1.35
250039 | 1.02
250040 | 2.53
250042 | 2.37
250043 | 1.84
250044 | 1.99
250045 | 1.77
250048 | 3.17
250049 | 1.44
250050 | 2.13
250051 | 1.22
250057 | 2.41
250058 | 2.59
250059 | 1.87
250060 | 1.04
250061 | 1.51
250063 | 1.43
250065 | 1.46
250066 | 1.13
250067 | 1.45
250068 | 1.54
250069 | 3.53
250071 | 1.19
250072 | 2.38
250076 | 0.67
250077 | 1.38
250078 | 2.73
250079 | 1.17
250081 | 3.27
250082 | 2.32
250083 | 1.27
250084 | 2.89
250085 | 1.35
250088 | 1.99
250089 | 1.70
250093 | 1.88
250094 | 3.86
250095 | 2.03
250096 | 1.97
250097 | 2.14
250098 | 1.33
250099 | 3.06
250100 | 2.80
250101 | 1.10
250102 | 2.82
250104 | 3.29
250105 | 1.35
250107 | 1.21
250109 | 1.25
250112 | 1.25
250117 | 1.42
250119 | 1.66
250120 | 2.27
250122 | 2.74
250123 | 3.13
250124 | 1.39
250125 | 2.27
250126 | 1.23
250128 | 1.77
250131 | 1.65
250136 | 2.92
250138 | 3.33
250141 | 2.99
250145 | 1.32
250146 | 1.31
250148 | 2.33
250149 | 1.26
252003 | 0.50
253025 | 1.93
254001 | 1.55
254002 | 1.50
260001 | 2.41
260002 | 2.38
260003 | 1.52
260004 | 1.40
260005 | 2.56
260006 | 2.13
260008 | 1.17
260009 | 2.66
260011 | 2.37
260012 | 1.48
260013 | 2.16
260014 | 2.52
260015 | 2.36
260017 | 2.87
260018 | 1.11
260019 | 1.77
260020 | 2.41
260021 | 2.14
260022 | 2.47
260023 | 2.33
260024 | 1.73
260025 | 3.53
260027 | 2.51
260029 | 2.18
260030 | 1.38
260031 | 2.62
260032 | 2.44
260034 | 1.35
260035 | 1.51
260036 | 1.87
260039 | 1.61
260040 | 2.57
260044 | 1.97
260047 | 2.11
260048 | 1.99
260050 | 2.60
260052 | 2.22
260053 | 1.82
260054 | 2.34
260055 | 1.72
260057 | 1.70
260059 | 2.45
260061 | 2.72
260062 | 2.48
260063 | 2.01
260064 | 2.46
260065 | 2.51
260066 | 1.99
260067 | 1.26
260068 | 2.91
260070 | 1.31
260073 | 1.81
260074 | 1.74
260077 | 2.60
260078 | 2.61
260079 | 1.56
260080 | 2.08
260081 | 2.08
260082 | 1.60
260085 | 2.75
260086 | 1.77
260091 | 2.98
260094 | 2.39
260095 | 2.22
260096 | 3.19
260097 | 3.14
260100 | 1.86
260102 | 1.11
260103 | 1.96
260104 | 2.36
260105 | 2.69
260107 | 3.54
260108 | 2.38
260109 | 2.03
260110 | 2.51
260113 | 2.30
260115 | 1.73
260116 | 2.40
260119 | 2.68
260120 | 2.17
260122 | 2.04
260123 | 1.31
260127 | 1.90
260128 | 1.42
260129 | 2.18
260131 | 2.05
260134 | 2.38
260137 | 3.09
260138 | 2.50
260141 | 2.03
260142 | 2.64
260143 | 1.28
260147 | 1.76
260148 | 1.29
260158 | 1.69
260159 | 2.08
260160 | 1.74
260162 | 2.75
260163 | 1.89
260164 | 1.69
260166 | 2.33
260172 | 2.00
260173 | 1.31
260175 | 2.92
260176 | 2.60
260177 | 3.33
260178 | 3.53
260179 | 2.42
260180 | 2.28
260183 | 2.77
260186 | 2.66
260188 | 2.21
260189 | 0.89
260190 | 2.65
260191 | 2.69
260193 | 2.34
260195 | 2.21
260197 | 2.35
260198 | 2.50
260200 | 1.98
262001 | 1.00
262011 | 0.81
263025 | 1.49
263026 | 2.37
263300 | 1.85
263301 | 1.61
263302 | 1.62
264004 | 0.98
264005 | 0.98
264008 | 0.98
264011 | 1.51
264016 | 2.48
264017 | 1.84
264021 | 1.55
264024 | 1.55
270002 | 2.36
270003 | 2.63
270004 | 3.29
270006 | 0.62
270007 | 1.03
270009 | 1.65
270011 | 2.64
270012 | 3.44
270013 | 2.67
270014 | 3.11
270016 | 1.15
270017 | 2.02
270019 | 1.17
270021 | 1.95
270023 | 2.88
270024 | 1.06
270026 | 1.72
270027 | 1.40
270028 | 2.43
270029 | 1.91
270032 | 2.61
270033 | 0.91
270035 | 1.65
270036 | 1.13
270039 | 1.94
270040 | 1.88
270041 | 1.49
270044 | 2.58
270046 | 1.26
270048 | 1.91
270049 | 1.88
270050 | 1.95
270051 | 2.84
270052 | 1.06
270053 | 0.98
270057 | 2.29
270058 | 1.70
270059 | 0.71
270060 | 1.01
270063 | 1.17
270068 | 2.25
270072 | 0.64
270073 | 1.28
270079 | 1.52
270080 | 2.01
270081 | 1.07
270082 | 1.01
270083 | 1.36
270084 | 1.59
271225 | 0.72
271226 | 1.06
271228 | 0.89
271229 | 1.04
271231 | 1.00
271232 | 0.94
271233 | 1.00
271234 | 1.56
280001 | 2.04
280005 | 2.57
280009 | 3.52
280010 | 1.15
280011 | 1.53
280012 | 2.09
280013 | 2.00
280014 | 1.81
280015 | 2.04
280017 | 1.92
280018 | 1.67
280020 | 2.38
280021 | 2.74
280022 | 1.21
280023 | 2.78
280024 | 1.53
280025 | 1.09
280026 | 1.69
280028 | 2.26
280029 | 1.49
280030 | 2.19
280031 | 1.42
280032 | 3.03
280033 | 1.60
280034 | 2.54
280035 | 1.59
280037 | 1.21
280038 | 2.20
280039 | 2.21
280040 | 3.15
280041 | 1.34
280042 | 1.26
280043 | 1.87
280045 | 1.87
280046 | 1.56
280047 | 2.12
280048 | 1.58
280049 | 1.41
280050 | 2.15
280051 | 2.61
280052 | 2.53
280054 | 2.00
280055 | 1.75
280056 | 1.45
280057 | 1.69
280058 | 1.89
280060 | 2.26
280061 | 3.72
280062 | 1.90
280064 | 2.28
280065 | 2.36
280066 | 1.67
280068 | 1.42
280070 | 2.01
280073 | 1.79
280074 | 1.63
280075 | 2.76
280076 | 1.80
280077 | 2.61
280079 | 1.19
280080 | 1.52
280081 | 2.64
280082 | 1.53
280083 | 1.88
280084 | 1.69
280085 | 2.61
280088 | 3.10
280089 | 1.91
280090 | 1.24
280091 | 2.42
280092 | 1.65
280094 | 1.80
280097 | 1.57
280098 | 1.09
280101 | 1.12
280102 | 1.60
280104 | 1.97
280105 | 2.63
280106 | 2.20
280107 | 2.17
280108 | 3.91
280109 | 1.20
280110 | 2.61
280111 | 2.00
280114 | 1.49
280115 | 2.04
280117 | 2.23
280118 | 1.79
280125 | 2.66
283025 | 1.13
283301 | 2.09
284007 | 3.05
290001 | 2.20
290002 | 0.80
290003 | 2.93
290005 | 3.18
290006 | 1.70
290007 | 1.48
290008 | 2.80
290009 | 2.15
290010 | 2.20
290011 | 1.11
290012 | 2.61
290013 | 1.04
290014 | 2.15
290015 | 1.38
290016 | 2.15
290019 | 2.42
290020 | 0.94
290021 | 2.36
290022 | 2.77
290027 | 1.27
290032 | 2.34
290038 | 1.70
290039 | 2.60
292002 | 1.01
293027 | 2.09
294003 | 1.57
294004 | 1.56
294005 | 2.31
300001 | 2.65
300003 | 1.80
300005 | 2.43
300006 | 1.57
300007 | 2.44
300008 | 2.59
300009 | 2.10
300010 | 1.75
300011 | 2.21
300013 | 1.65
300014 | 2.30
300015 | 2.49
300016 | 2.08
300017 | 1.97
300018 | 2.48
300019 | 2.25
300021 | 1.87
300022 | 2.33
300023 | 1.99
300024 | 2.11
300028 | 1.65
300029 | 2.86
300033 | 1.52
303026 | 1.85
303027 | 0.47
304001 | 11.15
304003 | 1.55
310001 | 1.98
310002 | 2.01
310005 | 2.33
310006 | 2.74
310008 | 2.88
310009 | 2.59
310010 | 1.99
310011 | 2.95
310013 | 2.30
310015 | 2.26
310016 | 2.52
310017 | 2.70
310018 | 2.16
310019 | 2.49
310020 | 2.39
310021 | 2.29
310022 | 2.52
310024 | 2.45
310025 | 2.33
310026 | 2.09
310027 | 2.40
310028 | 2.05
310029 | 3.53
310031 | 2.24
310032 | 2.20
310034 | 2.75
310036 | 1.93
310037 | 2.32
310039 | 2.77
310041 | 2.33
310042 | 2.58
310043 | 2.81
310044 | 2.19
310045 | 2.63
310047 | 2.62
310048 | 2.55
310050 | 1.91
310051 | 2.79
310052 | 2.08
310054 | 2.34
310056 | 1.89
310057 | 2.44
310058 | 1.31
310060 | 3.24
310061 | 2.89
310063 | 2.27
310064 | 2.39
310067 | 2.57
310069 | 2.66
310070 | 2.43
310072 | 2.98
310073 | 1.92
310074 | 1.47
310076 | 2.40
310077 | 2.66
310078 | 2.28
310081 | 2.40
310083 | 1.69
310084 | 2.17
310086 | 2.33
310088 | 1.84
310090 | 2.29
310091 | 2.73
310092 | 2.38
310093 | 2.56
310096 | 2.69
310105 | 1.47
310111 | 2.02
310112 | 2.37
310113 | 2.47
310115 | 2.02
310116 | 2.54
310118 | 2.36
310120 | 1.73
312014 | 0.98
313025 | 1.23
313026 | 1.19
313027 | 1.24
313029 | 1.64
313030 | 1.05
313032 | 0.90
314001 | 1.71
314010 | 1.72
314011 | 1.56
314012 | 2.07
314021 | 1.70
314022 | 1.53
320001 | 1.50
320002 | 1.78
320003 | 2.47
320004 | 2.43
320005 | 2.98
320006 | 2.87
320009 | 2.44
320011 | 1.76
320012 | 2.54
320013 | 2.15
320014 | 1.79
320016 | 2.94
320017 | 2.03
320018 | 2.95
320019 | 1.21
320021 | 1.80
320022 | 3.20
320023 | 1.33
320030 | 2.00
320031 | 1.27
320032 | 1.44
320033 | 2.26
320035 | 1.18
320037 | 2.32
320038 | 2.61
320046 | 2.17
320048 | 1.53
320063 | 2.36
320065 | 2.27
320067 | 1.21
320068 | 2.33
320069 | 1.96
320074 | 2.12
320079 | 2.29
322002 | 3.05
322003 | 0.68
323027 | 0.58
323028 | 1.76
323029 | 1.43
324003 | 1.56
324004 | 1.59
324007 | 1.68
324010 | 1.85
330001 | 2.13
330002 | 2.29
330003 | 2.40
330004 | 2.49
330005 | 2.32
330006 | 2.27
330007 | 2.26
330008 | 2.47
330010 | 2.17
330011 | 1.70
330012 | 2.20
330013 | 2.59
330014 | 1.92
330016 | 1.90
330023 | 2.50
330024 | 2.41
330025 | 1.87
330027 | 0.92
330028 | 2.00
330029 | 1.55
330030 | 2.54
330033 | 1.59
330034 | 1.09
330036 | 2.29
330037 | 2.61
330038 | 1.88
330039 | 1.19
330041 | 3.15
330043 | 1.95
330044 | 2.25
330045 | 2.79
330046 | 2.01
330047 | 2.35
330048 | 2.82
330049 | 2.37
330053 | 1.93
330055 | 2.49
330056 | 1.96
330057 | 2.38
330058 | 1.81
330059 | 2.21
330061 | 2.74
330062 | 1.41
330064 | 2.38
330065 | 2.46
330066 | 2.06
330067 | 2.40
330072 | 1.95
330073 | 1.90
330074 | 2.96
330075 | 2.05
330078 | 2.35
330079 | 2.09
330084 | 2.26
330085 | 1.75
330086 | 1.96
330088 | 1.68
330090 | 2.37
330091 | 2.31
330092 | 1.22
330094 | 2.09
330095 | 2.49
330096 | 2.30
330097 | 1.80
330100 | 5.13
330101 | 2.50
330102 | 2.92
330103 | 2.74
330104 | 2.04
330106 | 2.65
330107 | 2.39
330108 | 2.31
330111 | 1.94
330114 | 0.90
330115 | 2.41
330116 | 2.02
330118 | 2.57
330119 | 2.61
330121 | 1.33
330122 | 2.87
330125 | 1.89
330126 | 2.28
330132 | 1.47
330133 | 2.88
330135 | 2.39
330136 | 1.25
330140 | 2.32
330141 | 2.43
330144 | 2.39
330148 | 1.69
330151 | 2.05
330152 | 2.43
330153 | 2.23
330154 | 2.17
330157 | 1.99
330158 | 2.47
330159 | 2.38
330160 | 2.09
330161 | 1.35
330162 | 3.96
330163 | 2.58
330164 | 1.88
330166 | 2.04
330167 | 3.17
330169 | 2.19
330171 | 2.56
330175 | 2.10
330177 | 1.91
330179 | 1.23
330180 | 1.95
330181 | 2.22
330182 | 3.70
330183 | 2.02
330184 | 2.37
330185 | 1.70
330186 | 0.62
330188 | 2.57
330189 | 7.27
330191 | 2.18
330193 | 2.64
330194 | 2.22
330195 | 2.31
330197 | 2.05
330198 | 2.35
330203 | 4.09
330205 | 2.12
330208 | 2.09
330209 | 2.27
330211 | 2.07
330212 | 2.39
330213 | 1.69
330214 | 2.42
330215 | 2.59
330218 | 1.87
330219 | 1.90
330221 | 2.14
330222 | 2.72
330223 | 1.98
330224 | 2.49
330225 | 2.34
330226 | 2.40
330229 | 2.03
330230 | 2.36
330232 | 2.08
330235 | 2.81
330236 | 2.04
330238 | 2.25
330239 | 2.16
330241 | 2.09
330245 | 2.24
330246 | 2.60
330249 | 2.04
330250 | 2.32
330252 | 1.16
330254 | 2.10
330258 | 1.48
330259 | 2.37
330261 | 2.47
330263 | 2.78
330264 | 2.34
330265 | 1.66
330267 | 2.16
330268 | 1.40
330270 | 1.94
330273 | 2.53
330275 | 1.99
330276 | 1.77
330277 | 2.31
330279 | 2.75
330285 | 2.09
330286 | 2.29
330288 | 1.01
330290 | 1.96
330293 | 1.61
330304 | 2.62
330306 | 1.92
330307 | 2.53
330308 | 2.77
330314 | 2.63
330316 | 3.26
330327 | 1.71
330331 | 2.29
330332 | 3.39
330333 | 3.09
330336 | 2.09
330338 | 2.72
330339 | 2.11
330340 | 2.53
330350 | 2.13
330353 | 2.88
330354 | 1.74
330357 | 2.06
330359 | 0.95
330372 | 2.87
330381 | 2.05
330386 | 1.99
330389 | 1.74
330390 | 1.39
330393 | 2.43
330394 | 2.50
330395 | 2.27
330397 | 1.48
330398 | 2.93
330399 | 1.38
331300 | 0.79
332012 | 1.34
332022 | 1.08
333025 | 1.23
333027 | 1.19
333028 | 0.89
333300 | 1.87
334002 | 1.55
334048 | 2.24
334055 | 1.59
340001 | 1.76
340002 | 3.52
340003 | 2.17
340004 | 2.78
340005 | 2.27
340006 | 1.85
340007 | 1.89
340008 | 2.17
340010 | 2.97
340011 | 1.80
340012 | 2.23
340013 | 1.88
340014 | 1.55
340015 | 2.89
340016 | 3.02
340017 | 2.73
340018 | 2.38
340019 | 1.73
340020 | 2.03
340021 | 2.55
340022 | 2.01
340023 | 1.95
340024 | 2.16
340025 | 2.66
340027 | 2.93
340028 | 2.42
340030 | 2.25
340031 | 2.08
340032 | 2.37
340035 | 2.22
340036 | 1.70
340037 | 1.77
340038 | 3.18
340039 | 2.57
340040 | 2.88
340041 | 1.93
340042 | 2.35
340044 | 1.73
340045 | 1.26
340047 | 2.39
340049 | 7.04
340050 | 2.41
340051 | 2.60
340052 | 1.84
340053 | 3.14
340054 | 2.59
340055 | 1.98
340060 | 2.27
340061 | 1.97
340063 | 1.40
340064 | 2.13
340065 | 2.01
340067 | 2.52
340068 | 2.46
340069 | 2.33
340070 | 2.66
340071 | 2.02
340072 | 2.29
340073 | 3.16
340075 | 2.12
340080 | 1.71
340084 | 1.83
340085 | 2.18
340087 | 2.01
340088 | 3.10
340089 | 1.58
340090 | 2.03
340091 | 2.88
340093 | 1.99
340094 | 3.53
340096 | 2.50
340097 | 2.52
340098 | 2.42
340099 | 2.05
340101 | 2.58
340104 | 1.67
340105 | 3.75
340106 | 1.71
340107 | 2.92
340109 | 3.44
340111 | 2.10
340112 | 1.77
340113 | 2.38
340114 | 2.00
340115 | 2.50
340116 | 2.78
340119 | 2.31
340120 | 1.91
340121 | 2.15
340123 | 2.13
340125 | 3.76
340126 | 2.61
340127 | 1.99
340129 | 2.51
340130 | 2.48
340131 | 2.69
340132 | 2.04
340133 | 1.57
340141 | 2.73
340142 | 2.13
340143 | 2.77
340144 | 2.72
340145 | 2.45
340146 | 1.90
340147 | 3.03
340148 | 4.19
340151 | 2.44
340153 | 3.95
340155 | 2.38
340158 | 2.82
340159 | 1.51
340160 | 2.47
340164 | 2.00
340166 | 2.10
340171 | 2.70
340173 | 2.50
341302 | 1.46
342003 | 1.39
342012 | 0.79
343025 | 1.71
344005 | 1.55
344006 | 1.55
344014 | 0.79
344015 | 1.55
344019 | 1.55
344020 | 1.55
350001 | 1.09
350002 | 3.66
350003 | 2.36
350004 | 3.95
350005 | 2.06
350006 | 1.99
350007 | 2.75
350008 | 1.73
350009 | 3.26
350010 | 3.09
350011 | 3.23
350012 | 2.13
350013 | 1.93
350014 | 2.06
350015 | 3.37
350016 | 1.18
350017 | 2.65
350018 | 2.58
350019 | 3.33
350020 | 1.45
350021 | 2.55
350023 | 2.01
350024 | 2.03
350025 | 1.13
350027 | 1.30
350029 | 1.36
350030 | 2.77
350033 | 2.00
350034 | 1.89
350035 | 0.85
350038 | 2.02
350039 | 2.08
350041 | 1.51
350042 | 3.25
350043 | 3.06
350044 | 1.70
350047 | 1.95
350049 | 2.14
350050 | 1.55
350051 | 1.58
350053 | 1.33
350055 | 1.22
350056 | 1.96
350058 | 1.71
350060 | 0.79
350061 | 2.56
360001 | 2.87
360002 | 2.52
360003 | 1.95
360006 | 3.15
360007 | 1.98
360008 | 2.28
360009 | 2.47
360010 | 2.48
360011 | 2.00
360012 | 2.85
360013 | 2.27
360014 | 2.61
360016 | 1.93
360017 | 3.43
360018 | 2.52
360019 | 2.10
360020 | 2.20
360021 | 5.55
360024 | 2.41
360025 | 2.09
360026 | 1.80
360027 | 2.46
360028 | 4.56
360029 | 2.63
360030 | 2.31
360031 | 2.13
360032 | 2.59
360034 | 1.96
360035 | 2.10
360036 | 2.35
360037 | 2.27
360039 | 2.26
360040 | 2.08
360041 | 2.24
360042 | 2.23
360044 | 2.19
360045 | 1.93
360046 | 2.34
360047 | 1.60
360048 | 2.31
360049 | 2.78
360050 | 1.54
360051 | 3.04
360052 | 2.41
360054 | 2.70
360055 | 2.55
360056 | 2.63
360057 | 1.74
360058 | 2.16
360059 | 1.67
360062 | 2.77
360063 | 1.73
360064 | 2.65
360065 | 2.22
360066 | 2.59
360067 | 1.77
360068 | 2.50
360069 | 1.86
360070 | 2.00
360071 | 2.46
360074 | 2.21
360075 | 2.27
360076 | 2.58
360077 | 2.38
360078 | 2.63
360079 | 2.90
360080 | 2.18
360081 | 2.32
360082 | 2.84
360083 | 2.23
360084 | 2.47
360085 | 2.81
360086 | 2.46
360087 | 2.34
360088 | 1.96
360089 | 2.20
360090 | 3.47
360091 | 2.34
360092 | 1.84
360093 | 3.05
360094 | 2.00
360095 | 2.72
360096 | 2.37
360098 | 3.04
360099 | 2.32
360100 | 2.58
360101 | 3.13
360102 | 2.70
360103 | 2.15
360106 | 1.68
360107 | 2.19
360108 | 1.72
360109 | 2.35
360112 | 2.63
360113 | 2.64
360114 | 2.18
360115 | 2.16
360116 | 1.88
360118 | 2.26
360121 | 2.88
360123 | 2.22
360125 | 1.75
360126 | 1.92
360127 | 2.27
360128 | 1.65
360129 | 1.77
360130 | 2.00
360131 | 2.25
360132 | 2.43
360133 | 2.66
360134 | 2.53
360136 | 1.62
360137 | 2.29
360140 | 1.73
360141 | 2.77
360142 | 1.99
360143 | 2.23
360144 | 2.68
360145 | 2.60
360147 | 2.27
360148 | 2.21
360149 | 2.65
360150 | 3.15
360151 | 2.60
360152 | 2.65
360153 | 1.88
360154 | 1.61
360155 | 2.64
360156 | 2.36
360159 | 2.16
360161 | 2.35
360162 | 1.75
360163 | 2.90
360164 | 1.72
360165 | 1.84
360166 | 1.67
360170 | 2.09
360172 | 2.93
360174 | 2.57
360175 | 2.58
360176 | 1.80
360177 | 1.52
360178 | 2.58
360179 | 2.31
360180 | 2.68
360184 | 1.65
360185 | 1.85
360186 | 1.54
360187 | 2.58
360188 | 1.82
360189 | 2.44
360192 | 2.28
360193 | 2.49
360194 | 2.25
360195 | 2.67
360197 | 1.98
360200 | 1.78
360203 | 2.43
360204 | 1.94
360210 | 2.67
360211 | 2.20
360212 | 2.03
360213 | 2.01
360218 | 2.40
360230 | 2.88
360231 | 1.46
360234 | 2.16
360236 | 2.41
360239 | 2.61
360241 | 1.27
360242 | 1.72
360243 | 1.55
360244 | 1.55
360245 | 1.58
362004 | 1.97
362007 | 0.47
362009 | 1.59
362014 | 7.33
362015 | 1.48
363300 | 1.97
363303 | 2.62
363305 | 1.94
363306 | 1.34
364003 | 1.64
364017 | 1.97
364029 | 1.64
364038 | 1.85
370001 | 3.25
370002 | 2.74
370004 | 2.77
370005 | 1.46
370006 | 2.59
370007 | 1.79
370008 | 2.75
370011 | 1.95
370012 | 1.29
370013 | 2.96
370014 | 2.86
370015 | 1.85
370016 | 2.53
370017 | 1.88
370018 | 3.22
370019 | 2.37
370020 | 2.21
370021 | 1.40
370022 | 2.97
370023 | 2.42
370025 | 2.44
370026 | 3.08
370028 | 3.11
370029 | 2.34
370030 | 1.95
370032 | 3.62
370033 | 2.56
370034 | 2.57
370035 | 1.78
370036 | 0.76
370037 | 3.69
370038 | 1.47
370039 | 1.91
370040 | 3.03
370041 | 1.70
370042 | 1.40
370043 | 1.12
370045 | 1.56
370046 | 2.02
370047 | 2.41
370048 | 1.96
370049 | 2.95
370051 | 1.31
370054 | 2.51
370056 | 2.70
370057 | 1.98
370059 | 1.02
370060 | 2.17
370063 | 1.38
370064 | 1.45
370065 | 2.50
370071 | 1.48
370072 | 1.33
370076 | 2.46
370077 | 1.96
370078 | 3.60
370079 | 1.78
370080 | 1.83
370082 | 1.29
370083 | 2.31
370084 | 1.53
370085 | 1.79
370086 | 2.26
370089 | 2.25
370091 | 3.07
370092 | 2.21
370093 | 4.35
370094 | 3.00
370095 | 1.37
370097 | 2.07
370099 | 2.06
370100 | 1.27
370103 | 1.60
370105 | 3.08
370106 | 4.05
370108 | 1.62
370112 | 1.52
370113 | 2.06
370114 | 3.04
370121 | 2.51
370122 | 0.92
370123 | 2.45
370125 | 1.86
370126 | 1.38
370131 | 1.27
370133 | 1.83
370138 | 2.30
370139 | 1.62
370140 | 1.92
370141 | 1.89
370146 | 2.19
370148 | 2.26
370149 | 2.90
370153 | 2.47
370154 | 2.61
370156 | 2.47
370158 | 1.66
370159 | 2.44
370163 | 1.25
370166 | 1.99
370169 | 1.88
370176 | 2.14
370177 | 1.53
370178 | 2.10
370179 | 1.49
370183 | 2.08
370186 | 2.55
370190 | 2.49
370192 | 2.87
372004 | 0.74
373025 | 0.87
373026 | 1.03
374008 | 1.84
374012 | 1.50
374013 | 1.36
374020 | 1.63
380001 | 2.80
380002 | 3.93
380004 | 3.63
380005 | 5.17
380006 | 2.75
380007 | 3.08
380008 | 1.66
380009 | 2.18
380010 | 1.76
380011 | 2.28
380013 | 1.59
380014 | 2.69
380017 | 3.80
380018 | 2.58
380019 | 1.83
380020 | 3.61
380021 | 2.54
380022 | 2.71
380023 | 2.43
380025 | 2.73
380026 | 2.33
380027 | 1.96
380029 | 2.14
380031 | 1.63
380033 | 3.16
380035 | 2.96
380036 | 2.44
380037 | 2.28
380038 | 2.93
380039 | 1.89
380040 | 2.17
380042 | 1.87
380047 | 3.63
380048 | 2.14
380050 | 2.51
380051 | 3.02
380052 | 2.57
380056 | 1.51
380060 | 2.44
380061 | 2.63
380062 | 0.92
380063 | 1.81
380064 | 1.96
380065 | 1.84
380066 | 2.92
380068 | 1.49
380069 | 1.80
380070 | 1.93
380071 | 3.34
380072 | 1.77
380075 | 3.14
380078 | 1.85
380081 | 0.99
380082 | 2.58
380083 | 2.44
380084 | 2.05
380087 | 2.42
380088 | 2.32
380089 | 2.73
380090 | 3.04
384006 | 1.63
390001 | 2.47
390002 | 2.56
390003 | 1.74
390004 | 2.56
390005 | 2.28
390006 | 1.65
390007 | 3.19
390008 | 1.94
390009 | 2.49
390010 | 2.64
390011 | 2.41
390012 | 2.54
390013 | 2.84
390015 | 1.97
390016 | 2.16
390017 | 2.14
390018 | 2.79
390019 | 2.23
390022 | 2.76
390023 | 1.75
390024 | 3.14
390025 | 1.03
390026 | 1.96
390028 | 3.01
390029 | 2.74
390030 | 2.19
390031 | 2.12
390032 | 2.28
390035 | 2.56
390036 | 2.57
390037 | 2.74
390039 | 2.41
390040 | 1.90
390041 | 2.86
390042 | 2.29
390043 | 3.02
390044 | 2.65
390045 | 2.41
390046 | 1.97
390047 | 2.50
390048 | 2.31
390049 | 2.71
390050 | 3.05
390051 | 2.65
390054 | 1.97
390055 | 2.73
390056 | 2.07
390057 | 2.39
390058 | 3.14
390060 | 1.70
390061 | 2.26
390062 | 2.85
390063 | 3.48
390065 | 2.31
390066 | 2.15
390067 | 2.55
390068 | 1.83
390069 | 2.13
390070 | 3.25
390071 | 2.72
390072 | 2.25
390073 | 2.60
390074 | 2.69
390075 | 3.05
390076 | 2.58
390078 | 2.98
390079 | 3.00
390080 | 2.35
390083 | 1.81
390084 | 1.68
390086 | 2.21
390088 | 2.14
390090 | 2.91
390091 | 2.29
390093 | 1.95
390095 | 2.40
390096 | 1.84
390097 | 2.39
390100 | 2.55
390101 | 1.69
390102 | 2.83
390103 | 2.11
390104 | 1.97
390106 | 2.06
390107 | 2.54
390108 | 2.53
390109 | 1.55
390110 | 2.16
390111 | 1.93
390112 | 2.21
390113 | 2.49
390114 | 2.33
390115 | 2.35
390116 | 2.31
390118 | 2.79
390119 | 2.51
390121 | 2.47
390122 | 2.04
390123 | 2.99
390125 | 2.33
390127 | 2.58
390128 | 2.85
390130 | 2.18
390131 | 2.60
390132 | 2.08
390133 | 2.68
390135 | 2.13
390136 | 3.85
390137 | 2.44
390138 | 2.22
390139 | 2.58
390142 | 1.93
390145 | 2.38
390146 | 2.04
390147 | 2.44
390150 | 1.94
390151 | 2.55
390153 | 1.96
390154 | 2.36
390155 | 1.31
390156 | 2.51
390157 | 2.50
390158 | 2.42
390160 | 2.91
390161 | 2.26
390162 | 2.25
390163 | 2.38
390164 | 2.12
390166 | 1.76
390167 | 2.18
390168 | 2.13
390169 | 3.11
390173 | 2.08
390174 | 2.42
390176 | 2.22
390178 | 2.55
390179 | 2.33
390180 | 2.38
390181 | 2.39
390183 | 2.61
390184 | 1.63
390185 | 2.85
390189 | 2.30
390191 | 3.17
390192 | 2.03
390193 | 2.60
390194 | 2.57
390195 | 2.89
390196 | 2.16
390197 | 3.10
390198 | 1.87
390199 | 1.79
390200 | 1.50
390201 | 2.23
390203 | 2.59
390204 | 2.50
390205 | 2.42
390206 | 2.05
390209 | 2.00
390211 | 2.74
390213 | 1.07
390215 | 2.28
390217 | 2.20
390219 | 1.91
390222 | 2.84
390223 | 2.25
390224 | 1.69
390225 | 2.31
390226 | 2.31
390228 | 2.24
390231 | 2.19
390233 | 2.03
390235 | 1.87
390236 | 2.15
390237 | 2.25
390238 | 2.43
390242 | 2.48
390244 | 1.01
390245 | 2.18
390246 | 2.44
390247 | 1.13
390249 | 1.13
390256 | 1.87
390258 | 2.45
390260 | 3.75
390262 | 2.73
390263 | 3.02
390265 | 1.57
390266 | 3.04
390267 | 2.67
390268 | 2.66
390270 | 2.58
390277 | 1.31
390279 | 2.40
392024 | 1.64
392025 | 1.76
392026 | 1.18
393025 | 1.38
393026 | 1.77
393027 | 1.99
393031 | 1.67
393032 | 0.55
393035 | 0.94
393037 | 1.55
393038 | 1.90
393039 | 1.10
393040 | 3.59
393041 | 2.26
393042 | 1.77
393043 | 0.98
393301 | 1.73
393302 | 1.58
394006 | 1.55
394007 | 1.84
394008 | 3.26
394020 | 1.36
394023 | 1.57
394027 | 1.48
394034 | 1.56
394040 | 1.32
394041 | 1.32
400001 | 1.65
400002 | 3.95
400003 | 1.58
400004 | 2.04
400005 | 1.76
400006 | 2.56
400007 | 1.11
400009 | 1.87
400011 | 2.39
400012 | 1.22
400013 | 1.42
400014 | 4.78
400016 | 1.87
400017 | 2.13
400018 | 1.39
400019 | 3.28
400021 | 1.94
400022 | 1.95
400027 | 0.88
400028 | 1.61
400029 | 1.12
400032 | 1.18
400094 | 1.13
400098 | 1.40
400102 | 2.07
400106 | 1.60
400109 | 2.06
400111 | 1.37
400113 | 1.87
400114 | 1.46
400115 | 1.22
400117 | 2.22
400118 | 1.89
400120 | 2.38
400122 | 0.96
400123 | 3.95
400124 | 7.82
404002 | 2.72
410001 | 2.29
410004 | 2.02
410005 | 2.79
410006 | 2.27
410007 | 2.55
410008 | 2.54
410009 | 3.00
410010 | 1.89
410011 | 2.36
410012 | 2.67
410013 | 2.56
413025 | 1.27
414000 | 2.21
420002 | 2.54
420004 | 1.95
420005 | 2.12
420006 | 1.29
420007 | 2.64
420009 | 2.81
420010 | 2.45
420011 | 1.83
420014 | 1.46
420015 | 2.47
420016 | 1.79
420018 | 1.96
420019 | 1.99
420020 | 2.50
420023 | 3.02
420026 | 3.87
420027 | 2.27
420030 | 2.23
420031 | 1.44
420033 | 1.98
420036 | 2.60
420037 | 1.83
420038 | 1.72
420039 | 1.93
420042 | 1.80
420043 | 2.20
420048 | 2.30
420049 | 2.77
420051 | 2.47
420053 | 2.35
420054 | 1.72
420055 | 1.70
420056 | 2.74
420057 | 1.84
420059 | 1.59
420061 | 1.94
420062 | 2.34
420064 | 1.64
420065 | 2.89
420066 | 2.05
420067 | 3.28
420068 | 2.98
420069 | 1.67
420070 | 2.46
420071 | 2.61
420072 | 1.34
420073 | 2.64
420074 | 1.17
420075 | 1.89
420078 | 2.77
420079 | 1.83
420080 | 2.73
420082 | 2.46
420083 | 3.56
420085 | 2.11
420086 | 2.53
420087 | 2.67
420088 | 2.69
420089 | 2.78
420091 | 2.90
420093 | 1.72
423025 | 2.87
423026 | 1.85
424006 | 1.55
424008 | 1.55
424010 | 1.72
430004 | 1.93
430005 | 2.85
430007 | 2.59
430008 | 2.76
430010 | 2.44
430011 | 3.17
430012 | 3.67
430013 | 3.09
430014 | 2.74
430015 | 3.04
430016 | 2.68
430018 | 1.52
430022 | 1.19
430023 | 1.38
430024 | 1.09
430026 | 1.24
430027 | 3.97
430028 | 2.58
430029 | 1.96
430031 | 1.74
430033 | 1.72
430034 | 1.42
430036 | 2.00
430037 | 1.34
430038 | 2.55
430040 | 2.03
430041 | 1.71
430043 | 2.19
430044 | 1.45
430047 | 1.89
430048 | 2.33
430049 | 1.38
430051 | 1.03
430054 | 1.91
430056 | 1.34
430057 | 1.61
430060 | 1.05
430062 | 1.79
430064 | 1.98
430065 | 1.41
430066 | 1.16
430073 | 1.69
430076 | 1.05
430077 | 3.25
430079 | 1.00
430087 | 1.15
434004 | 1.77
440001 | 1.78
440002 | 3.88
440003 | 2.91
440006 | 3.43
440007 | 1.27
440008 | 2.51
440009 | 3.09
440010 | 1.83
440011 | 2.47
440012 | 1.94
440014 | 1.65
440015 | 3.03
440016 | 2.08
440017 | 2.53
440018 | 1.62
440019 | 2.59
440020 | 2.08
440023 | 1.65
440024 | 3.03
440025 | 2.28
440026 | 0.96
440029 | 3.02
440030 | 3.03
440031 | 2.41
440032 | 1.55
440033 | 1.95
440034 | 2.66
440035 | 2.55
440039 | 2.24
440040 | 1.63
440041 | 1.78
440046 | 2.60
440047 | 1.87
440048 | 3.27
440049 | 2.65
440050 | 2.49
440051 | 1.73
440052 | 1.62
440053 | 3.01
440054 | 2.09
440056 | 1.86
440057 | 1.98
440058 | 3.01
440059 | 2.48
440060 | 1.61
440061 | 2.13
440063 | 2.77
440064 | 1.83
440065 | 2.45
440067 | 2.80
440068 | 2.52
440070 | 1.77
440071 | 2.56
440072 | 2.79
440073 | 2.64
440078 | 1.68
440081 | 2.03
440082 | 2.82
440083 | 1.67
440084 | 1.44
440090 | 1.66
440091 | 3.29
440100 | 1.89
440102 | 1.95
440103 | 2.48
440104 | 2.70
440105 | 6.65
440109 | 2.02
440110 | 2.05
440111 | 1.34
440114 | 1.96
440115 | 1.91
440120 | 3.52
440125 | 2.79
440130 | 2.95
440131 | 2.77
440132 | 2.22
440133 | 3.04
440135 | 2.23
440137 | 2.14
440141 | 1.11
440142 | 1.45
440143 | 1.64
440144 | 3.94
440145 | 1.38
440147 | 7.20
440148 | 2.45
440149 | 1.54
440150 | 3.46
440151 | 1.93
440152 | 1.65
440153 | 2.05
440156 | 3.10
440157 | 1.61
440159 | 2.28
440161 | 3.68
440162 | 1.33
440166 | 2.69
440168 | 2.48
440173 | 4.08
440174 | 2.07
440175 | 2.60
440176 | 3.06
440178 | 2.28
440180 | 1.76
440181 | 1.99
440182 | 2.30
440183 | 3.34
440184 | 3.08
440185 | 2.49
440186 | 2.23
440187 | 1.94
440189 | 3.47
440192 | 1.80
440193 | 3.20
440194 | 2.14
440197 | 2.76
440200 | 2.02
440203 | 1.96
440205 | 1.46
440206 | 1.95
440211 | 1.50
442007 | 0.93
443025 | 1.69
443026 | 1.27
443029 | 3.28
444003 | 1.36
444004 | 1.56
444006 | 1.50
444010 | 1.47
444011 | 1.70
444012 | 1.48
450002 | 2.42
450004 | 1.82
450005 | 2.10
450007 | 2.96
450008 | 1.81
450010 | 2.54
450011 | 2.92
450014 | 1.79
450015 | 1.30
450016 | 3.15
450018 | 1.54
450020 | 2.19
450021 | 1.91
450023 | 2.67
450024 | 1.59
450025 | 2.88
450028 | 2.44
450029 | 2.05
450031 | 2.15
450032 | 1.58
450033 | 2.00
450034 | 2.20
450037 | 2.45
450039 | 1.15
450040 | 2.06
450042 | 2.28
450044 | 2.42
450046 | 2.83
450047 | 2.39
450050 | 1.32
450051 | 1.88
450052 | 1.52
450053 | 2.39
450054 | 3.44
450055 | 1.76
450056 | 3.27
450058 | 3.45
450059 | 2.75
450063 | 0.93
450064 | 2.96
450065 | 1.66
450068 | 2.03
450072 | 2.31
450073 | 1.43
450076 | 1.74
450078 | 1.20
450079 | 2.85
450080 | 3.06
450081 | 1.93
450082 | 1.66
450083 | 3.49
450085 | 1.74
450087 | 1.92
450090 | 2.50
450092 | 1.92
450094 | 2.64
450096 | 1.90
450097 | 3.26
450098 | 1.14
450099 | 2.07
450101 | 2.56
450102 | 3.28
450104 | 2.89
450107 | 2.09
450108 | 1.34
450109 | 1.62
450111 | 2.55
450112 | 2.73
450113 | 2.75
450118 | 3.27
450119 | 2.49
450121 | 2.67
450123 | 1.81
450124 | 2.19
450126 | 1.79
450128 | 1.96
450130 | 3.66
450131 | 1.87
450132 | 2.27
450133 | 2.37
450135 | 2.53
450137 | 2.28
450140 | 1.45
450142 | 2.07
450143 | 1.77
450144 | 1.72
450145 | 1.28
450146 | 0.96
450147 | 1.94
450148 | 2.31
450149 | 2.01
450150 | 1.68
450151 | 1.53
450152 | 2.31
450153 | 2.31
450154 | 1.65
450155 | 1.62
450157 | 1.35
450160 | 1.92
450162 | 2.04
450163 | 1.73
450164 | 1.25
450165 | 1.80
450166 | 0.89
450170 | 1.58
450176 | 2.39
450177 | 2.15
450178 | 1.45
450181 | 1.30
450184 | 3.00
450185 | 1.48
450187 | 2.15
450188 | 1.85
450190 | 2.93
450191 | 2.63
450192 | 1.73
450193 | 3.90
450194 | 2.36
450196 | 2.70
450200 | 2.44
450201 | 2.12
450203 | 1.91
450209 | 1.87
450210 | 1.70
450211 | 2.35
450213 | 1.41
450214 | 2.68
450217 | 1.03
450219 | 2.18
450221 | 1.26
450222 | 2.43
450224 | 1.98
450229 | 2.67
450231 | 2.88
450234 | 1.46
450235 | 2.06
450236 | 2.65
450237 | 1.91
450239 | 1.44
450241 | 1.30
450243 | 1.51
450246 | 1.41
450249 | 1.26
450250 | 1.24
450253 | 2.53
450258 | 1.10
450259 | 2.23
450264 | 0.95
450269 | 1.27
450270 | 1.51
450271 | 1.29
450272 | 2.97
450276 | 1.49
450278 | 1.31
450280 | 1.89
450283 | 1.44
450286 | 1.18
450288 | 1.62
450289 | 1.10
450292 | 1.86
450293 | 1.74
450296 | 2.21
450299 | 2.38
450303 | 1.01
450306 | 3.74
450307 | 0.96
450309 | 1.55
450315 | 2.78
450320 | 1.95
450321 | 1.19
450322 | 0.95
450324 | 2.31
450327 | 0.99
450330 | 1.72
450334 | 1.11
450337 | 1.43
450340 | 2.59
450341 | 1.92
450346 | 2.03
450347 | 2.42
450348 | 1.19
450351 | 4.30
450352 | 2.28
450353 | 1.76
450355 | 1.19
450358 | 2.70
450362 | 2.54
450369 | 1.65
450370 | 4.89
450371 | 2.14
450372 | 2.85
450373 | 1.30
450374 | 1.01
450376 | 2.42
450378 | 1.88
450379 | 2.51
450388 | 2.86
450389 | 1.82
450393 | 1.90
450395 | 1.59
450399 | 1.01
450400 | 1.84
450403 | 1.86
450411 | 1.60
450417 | 1.87
450419 | 1.63
450423 | 2.53
450424 | 2.48
450429 | 0.92
450431 | 3.06
450438 | 2.81
450446 | 1.56
450447 | 3.17
450451 | 2.28
450457 | 3.06
450460 | 1.80
450462 | 2.18
450464 | 1.52
450465 | 3.29
450467 | 1.51
450469 | 2.86
450473 | 1.18
450475 | 2.34
450484 | 2.35
450488 | 1.99
450489 | 1.16
450497 | 1.87
450498 | 2.36
450508 | 1.98
450514 | 2.23
450517 | 1.38
450518 | 2.21
450523 | 2.86
450530 | 2.51
450534 | 1.19
450535 | 2.43
450537 | 1.99
450538 | 1.73
450539 | 2.51
450544 | 2.04
450545 | 3.67
450547 | 1.58
450550 | 2.14
450551 | 2.35
450558 | 2.15
450559 | 1.17
450561 | 2.38
450563 | 2.67
450565 | 2.26
450570 | 1.54
450571 | 2.72
450573 | 1.71
450574 | 0.86
450575 | 1.23
450578 | 0.99
450580 | 2.31
450583 | 1.05
450584 | 1.81
450586 | 1.68
450587 | 2.02
450591 | 2.79
450596 | 2.40
450597 | 1.62
450603 | 1.13
450604 | 2.50
450605 | 2.09
450609 | 1.13
450610 | 2.61
450614 | 1.50
450615 | 2.10
450617 | 2.32
450620 | 1.54
450623 | 1.90
450626 | 1.25
450628 | 1.23
450630 | 2.13
450631 | 2.35
450632 | 0.82
450633 | 2.66
450634 | 2.74
450638 | 3.03
450639 | 2.56
450641 | 1.78
450643 | 2.22
450644 | 2.61
450646 | 2.30
450647 | 3.16
450648 | 1.81
450649 | 1.41
450651 | 2.23
450652 | 1.56
450653 | 2.45
450654 | 1.13
450656 | 2.67
450658 | 1.99
450659 | 2.45
450661 | 3.17
450662 | 1.88
450665 | 1.72
450666 | 2.05
450668 | 2.88
450669 | 2.34
450670 | 2.50
450672 | 2.85
450673 | 1.27
450675 | 2.26
450677 | 2.45
450678 | 2.78
450683 | 2.31
450684 | 1.97
450686 | 2.30
450688 | 2.14
450690 | 1.61
450694 | 2.52
450696 | 10.88
450697 | 2.05
450698 | 0.96
450700 | 1.29
450702 | 2.40
450703 | 1.31
450704 | 2.26
450706 | 2.28
450709 | 3.05
450711 | 2.54
450712 | 1.58
450713 | 2.33
450715 | 1.66
450716 | 2.68
450717 | 2.11
450718 | 2.38
450723 | 1.91
450724 | 3.75
450725 | 1.74
450727 | 1.83
450730 | 2.19
450733 | 2.48
450735 | 0.61
450742 | 2.28
450743 | 2.99
450746 | 1.40
450747 | 2.66
450749 | 1.10
450750 | 1.49
450754 | 1.70
450755 | 1.77
450757 | 1.05
450758 | 2.25
450760 | 2.56
450761 | 1.23
450763 | 1.79
450766 | 5.91
450769 | 1.09
450770 | 1.31
450771 | 2.19
450774 | 5.04
450775 | 2.38
450776 | 1.42
450777 | 1.59
450779 | 2.04
450780 | 6.29
450788 | 1.88
450795 | 0.95
450797 | 9.66
450798 | 0.52
450801 | 2.59
450802 | 3.03
450803 | 1.09
450804 | 6.10
450809 | 2.33
450811 | 4.24
450813 | 0.96
452013 | 0.96
452019 | 2.02
452022 | 0.50
452033 | 0.99
452036 | 0.68
452038 | 1.47
452039 | 2.99
452043 | 0.99
453025 | 1.24
453028 | 0.80
453029 | 1.16
453031 | 1.67
453033 | 0.76
453034 | 1.11
453035 | 2.14
453036 | 1.94
453037 | 1.55
453038 | 1.38
453040 | 1.31
453041 | 0.98
453042 | 1.12
453044 | 2.33
453047 | 1.22
453048 | 1.07
453052 | 1.56
453053 | 1.56
453054 | 1.70
453055 | 1.15
453056 | 1.64
453057 | 1.41
453059 | 0.79
453065 | 3.51
453070 | 1.94
453071 | 1.31
453072 | 0.83
453074 | 1.48
453300 | 1.36
453302 | 1.48
453304 | 1.75
453305 | 1.03
454012 | 1.55
454018 | 1.55
454026 | 1.50
454028 | 1.56
454029 | 2.26
454030 | 1.55
454031 | 1.46
454032 | 1.41
454034 | 1.19
454038 | 1.55
454042 | 1.54
454043 | 1.55
454045 | 1.61
454046 | 1.55
454050 | 1.55
454051 | 1.55
454056 | 1.85
454057 | 1.59
454058 | 1.55
454063 | 1.43
454064 | 1.55
454065 | 1.60
454066 | 1.57
454069 | 3.09
454072 | 1.55
454073 | 2.07
454078 | 1.55
454086 | 1.64
454089 | 1.59
460001 | 3.01
460003 | 3.25
460004 | 2.54
460005 | 2.52
460006 | 3.82
460007 | 2.96
460008 | 2.63
460010 | 2.49
460011 | 2.23
460013 | 2.78
460014 | 1.34
460015 | 2.90
460016 | 1.45
460017 | 3.22
460018 | 1.64
460019 | 2.15
460020 | 1.91
460021 | 2.21
460022 | 1.38
460023 | 3.19
460024 | 1.13
460026 | 2.02
460027 | 1.60
460029 | 1.95
460030 | 1.97
460033 | 1.71
460035 | 1.25
460036 | 2.22
460037 | 2.00
460039 | 1.74
460041 | 2.92
460042 | 2.75
460044 | 2.19
460047 | 1.87
460050 | 2.05
463025 | 1.62
463301 | 2.49
464003 | 1.55
464010 | 1.49
470001 | 2.03
470003 | 2.64
470004 | 1.61
470005 | 2.36
470006 | 2.57
470008 | 1.91
470010 | 1.97
470011 | 2.35
470012 | 2.92
470015 | 2.00
470018 | 2.08
470020 | 1.21
470023 | 2.58
470024 | 2.14
474001 | 1.00
480001 | 1.71
480002 | 2.28
490001 | 1.65
490002 | 1.67
490004 | 2.35
490005 | 2.56
490006 | 2.26
490007 | 2.58
490009 | 1.92
490011 | 2.79
490012 | 1.55
490013 | 2.66
490014 | 1.99
490015 | 3.19
490017 | 2.89
490018 | 2.98
490019 | 2.31
490020 | 2.71
490021 | 4.47
490022 | 2.51
490023 | 2.38
490024 | 2.41
490027 | 1.99
490030 | 2.72
490031 | 1.99
490032 | 1.79
490033 | 1.86
490035 | 2.24
490037 | 2.53
490038 | 2.45
490040 | 3.17
490041 | 3.49
490042 | 2.44
490043 | 2.05
490044 | 2.36
490045 | 2.18
490046 | 3.14
490047 | 1.54
490048 | 2.50
490050 | 2.83
490052 | 2.52
490053 | 3.03
490054 | 1.53
490057 | 2.55
490059 | 3.37
490060 | 2.50
490063 | 3.91
490066 | 2.69
490067 | 2.92
490069 | 1.47
490071 | 3.11
490073 | 3.88
490074 | 4.12
490075 | 2.71
490077 | 2.70
490079 | 2.29
490084 | 2.34
490085 | 2.06
490088 | 2.76
490089 | 1.66
490090 | 2.56
490091 | 2.51
490092 | 2.40
490093 | 2.47
490094 | 1.80
490095 | 2.26
490097 | 2.14
490098 | 2.23
490099 | 1.15
490100 | 3.77
490101 | 2.60
490107 | 3.12
490110 | 3.44
490111 | 2.35
490112 | 2.51
490113 | 2.59
490114 | 1.71
490115 | 2.14
490116 | 2.10
490117 | 1.36
490118 | 2.66
490119 | 2.87
490120 | 2.67
490122 | 2.96
490123 | 2.48
490124 | 2.04
490126 | 2.43
490127 | 1.71
490130 | 2.18
490131 | 1.76
490132 | 1.35
492001 | 0.79
493025 | 1.33
493026 | 0.95
493027 | 2.22
493301 | 1.92
494001 | 1.55
494002 | 2.09
494011 | 1.32
494012 | 1.32
494016 | 1.61
494018 | 1.58
494020 | 1.55
494022 | 1.54
494023 | 1.49
494025 | 1.51
494026 | 1.56
494028 | 1.55
500001 | 2.76
500002 | 2.28
500003 | 2.52
500005 | 2.36
500007 | 3.32
500008 | 1.76
500011 | 2.06
500012 | 2.89
500014 | 2.81
500015 | 2.18
500016 | 2.18
500019 | 2.86
500021 | 2.40
500023 | 2.26
500024 | 4.42
500025 | 3.38
500026 | 2.35
500027 | 3.25
500028 | 1.40
500029 | 1.05
500030 | 2.75
500031 | 2.22
500033 | 2.86
500036 | 2.81
500037 | 1.78
500039 | 3.11
500041 | 2.44
500042 | 3.48
500043 | 1.89
500044 | 2.71
500045 | 2.58
500048 | 1.78
500049 | 3.44
500050 | 2.66
500051 | 2.50
500053 | 2.46
500054 | 2.75
500055 | 1.92
500057 | 2.86
500058 | 2.71
500059 | 2.44
500060 | 2.27
500061 | 1.20
500062 | 1.05
500064 | 1.39
500065 | 2.77
500068 | 1.20
500069 | 1.37
500071 | 3.26
500072 | 2.47
500073 | 1.53
500074 | 2.55
500077 | 2.36
500079 | 1.88
500080 | 1.24
500084 | 2.51
500085 | 1.80
500086 | 2.16
500088 | 3.09
500089 | 1.95
500090 | 0.72
500092 | 1.86
500094 | 0.90
500096 | 1.92
500097 | 1.37
500098 | 1.55
500101 | 1.28
500102 | 1.87
500104 | 2.26
500106 | 0.74
500107 | 1.59
500108 | 2.82
500110 | 3.07
500118 | 2.65
500119 | 1.90
500122 | 2.64
500123 | 0.91
500124 | 2.31
500125 | 1.49
500129 | 2.22
500132 | 1.55
500138 | 1.18
500139 | 2.80
500141 | 3.36
500146 | 2.38
502002 | 3.92
503025 | 0.98
503300 | 2.92
504002 | 2.30
510001 | 2.30
510002 | 2.52
510004 | 1.11
510005 | 1.58
510006 | 3.16
510007 | 2.23
510008 | 2.53
510012 | 2.16
510013 | 1.65
510015 | 1.20
510016 | 1.25
510018 | 1.83
510020 | 1.28
510022 | 2.50
510023 | 2.47
510024 | 3.34
510026 | 1.65
510027 | 1.74
510028 | 1.53
510029 | 2.69
510030 | 2.36
510031 | 3.42
510033 | 2.25
510038 | 1.72
510039 | 2.54
510043 | 1.04
510046 | 2.15
510047 | 2.69
510048 | 1.50
510050 | 2.35
510053 | 1.65
510055 | 2.34
510058 | 2.55
510059 | 8.87
510060 | 1.67
510063 | 1.27
510065 | 1.25
510066 | 2.08
510067 | 2.57
510068 | 2.41
510070 | 3.32
510071 | 2.27
510072 | 1.53
510077 | 2.18
510081 | 1.38
510082 | 1.71
510084 | 1.51
510085 | 1.82
510086 | 1.23
511300 | 1.44
511302 | 1.06
511303 | 0.83
511304 | 0.76
513026 | 0.85
513027 | 1.46
513028 | 1.85
513030 | 1.62
514001 | 3.01
514007 | 6.63
514008 | 2.21
520002 | 2.77
520003 | 2.36
520004 | 2.74
520006 | 2.33
520007 | 1.68
520008 | 2.45
520009 | 2.18
520010 | 2.42
520011 | 3.20
520013 | 2.03
520014 | 2.43
520015 | 2.52
520016 | 1.89
520017 | 2.13
520018 | 2.14
520019 | 2.31
520021 | 2.83
520024 | 1.93
520025 | 2.07
520026 | 2.20
520028 | 3.51
520029 | 1.40
520030 | 3.48
520031 | 4.15
520032 | 1.98
520033 | 2.12
520034 | 2.48
520035 | 3.09
520037 | 2.90
520038 | 3.33
520039 | 1.83
520040 | 2.06
520041 | 2.05
520042 | 2.08
520044 | 3.29
520045 | 2.41
520047 | 2.14
520048 | 2.38
520049 | 3.14
520053 | 1.79
520054 | 1.65
520057 | 3.07
520058 | 2.94
520059 | 2.95
520060 | 1.75
520062 | 2.61
520063 | 3.04
520064 | 1.94
520066 | 3.17
520068 | 1.77
520069 | 2.12
520070 | 2.50
520074 | 1.63
520075 | 2.66
520076 | 2.70
520077 | 1.23
520078 | 2.04
520082 | 2.99
520083 | 1.84
520084 | 2.26
520087 | 1.35
520088 | 2.57
520089 | 3.53
520090 | 2.03
520091 | 3.78
520092 | 2.09
520094 | 2.16
520095 | 2.78
520096 | 2.59
520097 | 2.39
520098 | 1.53
520100 | 2.57
520101 | 1.56
520102 | 2.55
520103 | 2.61
520107 | 1.94
520109 | 2.11
520110 | 1.80
520111 | 2.23
520112 | 3.43
520113 | 2.74
520114 | 2.15
520115 | 2.08
520116 | 2.63
520117 | 1.88
520118 | 1.11
520120 | 1.09
520121 | 1.82
520122 | 1.47
520123 | 1.74
520124 | 1.94
520130 | 2.26
520131 | 2.07
520132 | 2.57
520134 | 1.61
520135 | 1.93
520136 | 2.43
520138 | 2.56
520139 | 2.66
520140 | 2.57
520141 | 2.06
520142 | 1.24
520144 | 2.29
520145 | 1.66
520146 | 2.38
520148 | 1.87
520149 | 1.20
520151 | 2.64
520152 | 2.15
520153 | 1.47
520154 | 2.30
520156 | 3.30
520157 | 1.65
520159 | 1.39
520160 | 2.79
520161 | 2.36
520170 | 3.01
520171 | 1.86
520173 | 2.91
520177 | 2.45
520178 | 2.40
523025 | 1.73
523026 | 1.64
523300 | 2.75
524000 | 1.64
524003 | 1.42
524017 | 0.47
524034 | 1.54
524038 | 1.80
524040 | 1.66
530002 | 2.28
530003 | 1.36
530004 | 1.89
530005 | 1.75
530006 | 2.21
530007 | 2.02
530008 | 2.57
530009 | 2.04
530010 | 2.43
530011 | 2.24
530012 | 2.33
530014 | 2.79
530015 | 2.27
530016 | 2.03
530017 | 2.10
530018 | 1.65
530019 | 1.56
530022 | 2.09
530023 | 1.65
530025 | 2.01
530026 | 1.52
530027 | 1.58
530029 | 1.01
530031 | 1.02
530032 | 2.22
534003 | 1.56
650001 | 2.01

——————————

¹ Large Urban Area

² Hospitals geographically located in the area are assigned the statewide rural wage index for FY 2000.

Addendum H.—Wage Index for Urban Areas
Urban Code | Urban Area (Constituent Counties) | Wage Index
0040 | Abilene, TX Taylor, TX | 0.8179
0060 | ² Aguadilla, PR Aguada, PR Aguadilla, PR Moca, PR | 0.4249
0080 | Akron, OH Portage, OH Summit, OH | 1.0163
0120 | Albany, GA Dougherty, GA Lee, GA | 1.0372
0160 | Albany-Schenectady-Troy, NY Albany, NY Montgomery, NY Rensselaer, NY Saratoga, NY Schenectady, NY Schoharie, NY | 0.8754
0200 | Albuquerque, NM Bernalillo, NM Sandoval, NM Valencia, NM | 0.8499
0220 | Alexandria, LA Rapides, LA | 0.7910
0240 | Allentown-Bethlehem-Easton, PA Carbon, PA Lehigh, PA Northampton, PA | 0.9550
0280 | Altoona, PA Blair, PA | 0.9342
0320 | Amarillo, TX Potter, TX Randall, TX | 0.8435
0380 | Anchorage, AK Anchorage, AK | 1.3009
0440 | Ann Arbor, MI Lenawee, MI Livingston, MI Washtenaw, MI | 1.1483
0450 | Anniston, AL Calhoun, AL | 0.8462
0460 | Appleton-Oshkosh-Neenah, WI Calumet, WI Outagamie, WI Winnebago, WI | 0.8913
0470 | Arecibo, PR Arecibo, PR Camuy, PR Hatillo, PR | 0.4815
0480 | Asheville, NC Buncombe, NC Madison, NC | 0.8884
0500 | Athens, GA Clarke, GA Madison, GA Oconee, GA | 0.9800
0520 | ¹ Atlanta, GA Barrow, GA Bartow, GA Carroll, GA Cherokee, GA Clayton, GA Cobb, GA Coweta, GA DeKalb, GA Douglas, GA Fayette, GA Forsyth, GA Fulton, GA Gwinnett, GA Henry, GA Newton, GA Paulding, GA Pickens, GA Rockdale, GA Spalding, GA Walton | 1.0050
0560 | Atlantic-Cape May, NJ Atlantic, NJ Cape May, NJ | 1.1050
0580 | Auburn-Opelika, AL Lee, AL | 0.7748
0600 | Augusta-Aiken, GA-SC Columbia, GA McDuffie, GA Richmond, GA Aiken, SC Edgefield, SC | 0.9013
0640 | ¹ Austin-San Marcos, TX Bastrop, TX Caldwell, TX Hays, TX Travis, TX Williamson, TX | 0.9081
0680 | ² Bakersfield, CA Kern, CA | 0.9951
0720 | ¹ Baltimore, MD Anne Arundel, MD Baltimore, MD Baltimore City, MD Carroll, MD Harford, MD Howard, MD Queen Anne's, MD | 0.9891
0733 | Bangor, ME Penobscot, ME | 0.9609
0743 | Barnstable-Yarmouth, MA Barnstable, MA | 1.3302
0760 | Baton Rouge, LA Ascension, LA East Baton Rouge, LA Livingston, LA West Baton Rouge, LA | 0.8707
0840 | Beaumont-Port Arthur, TX Hardin, TX Jefferson, TX Orange, TX | 0.8624
0860 | Bellingham, WA Whatcom, WA | 1.1394
0870 | ² Benton Harbor, MI Berrien, MI | 0.8831
0875 | ¹ Bergen-Passaic, NJ Bergen, NJ Passaic, NJ | 1.1833
0880 | Billings, MT Yellowstone, MT | 1.0038
0920 | Biloxi-Gulfport-Pascagoula, MS Hancock, MS Harrison, MS Jackson, MS | 0.7949
0960 | Binghamton, NY Broome, NY Tioga, NY | 0.8750
1000 | Birmingham, AL Blount, AL Jefferson, AL St. Clair, AL Shelby, AL | 0.8994
1010 | Bismarck, ND Burleigh, ND Morton, ND | 0.7893
1020 | Bloomington, IN Monroe, IN | 0.8593
1040 | Bloomington-Normal, IL McLean, IL | 0.8993
1080 | Boise City, ID Ada, ID Canyon, ID | 0.9086
1123 | ¹ ² Boston-Worcester-Lawrence-Lowell-Brockton, MA-NH (MA Hospitals) Bristol, MA Essex, MA Middlesex, MA Norfolk, MA Plymouth, MA Suffolk, MA Worcester, MA Hillsborough, NH Merrimack, NH Rockingham, NH Strafford, NH | 1.1369
1123 | ¹ Boston-Worcester-Lawrence-Lowell-Brockton, MA-NH (NH Hospitals) Bristol, MA Essex, MA Middlesex, MA Norfolk, MA Plymouth, MA Suffolk, MA Worcester, MA Hillsborough, NH Merrimack, NH Rockingham, NH Strafford, NH | 1.1358
1125 | Boulder-Longmont, CO Boulder, CO | 0.9944
1145 | Brazoria, TX Brazoria, TX | 0.8516
1150 | Bremerton, WA Kitsap, WA | 1.1011
1240 | Brownsville-Harlingen-San Benito, TX Cameron, TX | 0.9212
1260 | Bryan-College Station, TX Brazos, TX | 0.8501
1280 | ¹ Buffalo-Niagara Falls, NY Erie, NY Niagara, NY | 0.9604
1303 | Burlington, VT Chittenden, VT Franklin, VT Grand Isle, VT | 1.0558
1310 | Caguas, PR Caguas, PR Cayey, PR Cidra, PR Gurabo, PR San Lorenzo, PR | 0.4561
1320 | ² Canton-Massillon, OH Carroll, OH Stark, OH | 0.8649
1350 | Casper, WY Natrona, WY | 0.9199
1360 | Cedar Rapids, IA Linn, IA | 0.9018
1400 | Champaign-Urbana, IL Champaign, IL | 0.9163
1440 | Charleston-North Charleston, SC Berkeley, SC Charleston, SC Dorchester, SC | 0.8988
1480 | Charleston, WV Kanawha, WV Putnam, WV | 0.9095
1520 | ¹ Charlotte-Gastonia-Rock Hill, NC-SC Cabarrus, NC Gaston, NC Lincoln, NC Mecklenburg, NC Rowan, NC Stanly, NC Union, NC York, SC | 0.9433
1540 | Charlottesville, VA Albemarle, VA Charlottesville City, VA Fluvanna, VA Greene, VA | 1.0573
1560 | Chattanooga, TN-GA Catoosa, GA Dade, GA Walker, GA Hamilton, TN Marion, TN | 0.9731
1580 | ² Cheyenne, WY Laramie, WY | 0.8859
1600 | ¹ Chicago, IL Cook, IL DeKalb, IL DuPage, IL Grundy, IL Kane, IL Kendall, IL Lake, IL McHenry, IL Will, IL | 1.0872
1620 | Chico-Paradise, CA Butte, CA | 1.0390
1640 | ¹ Cincinnati, OH-KY-IN Dearborn, IN Ohio, IN Boone, KY Campbell, KY Gallatin, KY Grant, KY Kenton, KY Pendleton, KY Brown, OH Clermont, OH Hamilton, OH Warren, OH | 0.9434
1660 | Clarksville-Hopkinsville, TN-KY Christian, KY Montgomery, TN | 0.8283
1680 | ¹ Cleveland-Lorain-Elyria, OH Ashtabula, OH Cuyahoga, OH Geauga, OH Lake, OH Lorain, OH Medina, OH | 0.9688
1720 | Colorado Springs, CO El Paso, CO | 0.9218
1740 | Columbia, MO Boone, MO | 0.8904
1760 | Columbia, SC Lexington, SC Richland, SC | 0.9357
1800 | Columbus, GA-AL Russell, AL Chattahoochee, GA Harris, GA Muscogee, GA | 0.8510
1840 | ¹ Columbus, OH Delaware, OH Fairfield, OH Franklin, OH Licking, OH Madison, OH Pickaway, OH | 0.9907
1880 | Corpus Christi, TX Nueces, TX San Patricio, TX | 0.8702
1890 | Corvallis, OR Benton, OR | 1.1087
1900 | Cumberland, MD-WV (Maryland Hospitals) Allegany, MD Mineral, WV | 0.8801
1920 | ¹ Dallas, TX Collin, TX Dallas, TX Denton, TX Ellis, TX Henderson, TX Hunt, TX Kaufman, TX Rockwall, TX | 0.9589
1950 | Danville, VA Danville City, VA Pittsylvania, VA | 0.9061
1960 | Davenport-Moline-Rock Island, IA-IL Scott, IA Henry, IL Rock Island, IL | 0.8706
2000 | Dayton-Springfield, OH Clark, OH Greene, OH Miami, OH Montgomery, OH | 0.9336
2020 | ² Daytona Beach, FL Flagler, FL Volusia, FL | 0.8986
2030 | Decatur, AL Lawrence, AL Morgan, AL | 0.8679
2040 | Decatur, IL Macon, IL | 0.8321
2080 | ¹ Denver, CO Adams, CO Arapahoe, CO Denver, CO Douglas, CO Jefferson, CO | 1.0197
2120 | Des Moines, IA Dallas, IA Polk, IA Warren, IA | 0.8754
2160 | ¹ Detroit, MI Lapeer, MI Macomb, MI Monroe, MI Oakland, MI St. Clair, MI Wayne, MI | 1.0421
2180 | Dothan, AL Dale, AL Houston, AL | 0.7836
2190 | Dover, DE Kent, DE | 0.9335
2200 | Dubuque, IA Dubuque, IA | 0.8520
2240 | Duluth-Superior, MN-WI St. Louis, MN Douglas, WI | 1.0165
2281 | Dutchess County, NY Dutchess, NY | 0.9872
2290 | Eau Claire, WI Chippewa, WI Eau Claire, WI | 0.8957
2320 | El Paso, TX El Paso, TX | 0.8947
2330 | Elkhart-Goshen, IN Elkhart, IN | 0.9379
2335 | ² Elmira, NY Chemung, NY | 0.8636
2340 | Enid, OK Garfield, OK | 0.7953
2360 | Erie, PA Erie, PA | 0.9023
2400 | Eugene-Springfield, OR Lane, OR | 1.0765
2440 | ² Evansville-Henderson, IN-KY (IN Hospitals) Posey, IN Vanderburgh, IN Warrick, IN Henderson, KY | 0.8396
2440 | Evansville-Henderson, IN-KY (KY Hospitals) Posey, IN Vanderburgh, IN Warrick, IN Henderson, KY | 0.8303
2520 | Fargo-Moorhead, ND-MN Clay, MN Cass, ND | 0.8620
2560 | Fayetteville, NC Cumberland, NC | 0.8494
2580 | Fayetteville-Springdale-Rogers, AR Benton, AR Washington, AR | 0.7773
2620 | Flagstaff, AZ-UT Coconino, AZ Kane, UT | 1.0348
2640 | Flint, MI Genesee, MI | 1.1020
2650 | Florence, AL Colbert, AL Lauderdale, AL | 0.7927
2655 | Florence, SC Florence, SC | 0.8618
2670 | Fort Collins-Loveland, CO Larimer, CO | 1.0302
2680 | ¹ Ft. Lauderdale, FL Broward, FL | 1.0172
2700 | ² Fort Myers-Cape Coral, FL Lee, FL | 0.8986
2710 | Fort Pierce-Port St. Lucie, FL Martin, FL St. Lucie, FL | 1.0109
2720 | Fort Smith, AR-OK Crawford, AR Sebastian, AR Sequoyah, OK | 0.7844
2750 | ² Fort Walton Beach, FL Okaloosa, FL | 0.8986
2760 | Fort Wayne, IN Adams, IN Allen, IN De Kalb, IN Huntington, IN Wells, IN Whitley, IN | 0.9096
2800 | ¹ Forth Worth-Arlington, TX Hood, TX Johnson, TX Parker, TX Tarrant, TX | 0.9835
2840 | Fresno, CA Fresno, CA Madera, CA | 1.0262
2880 | Gadsden, AL Etowah, AL | 0.8754
2900 | Gainesville, FL Alachua, FL | 1.0102
2920 | Galveston-Texas City, TX Galveston, TX | 0.9732
2960 | Gary, IN Lake, IN Porter, IN | 0.9369
2975 | ² Glens Falls, NY Warren, NY Washington, NY | 0.8636
2980 | Goldsboro, NC Wayne, NC | 0.8333
2985 | Grand Forks, ND-MN Polk, MN Grand Forks, ND | 0.9097
2995 | Grand Junction, CO Mesa, CO | 0.9188
3000 | ¹ Grand Rapids-Muskegon-Holland, MI Allegan, MI Kent, MI Muskegon, MI Ottawa, MI | 1.0135
3040 | Great Falls, MT Cascade, MT | 1.0459
3060 | Greeley, CO Weld, CO | 0.9722
3080 | Green Bay, WI Brown, WI | 0.9215
3120 | ¹ Greensboro-Winston-Salem-High Point, NC Alamance, NC Davidson, NC Davie, NC Forsyth, NC Guilford, NC Randolph, NC Stokes, NC Yadkin, NC | 0.9037
3150 | Greenville, NC Pitt, NC | 0.9500
3160 | Greenville-Spartanburg-Anderson, SC Anderson, SC Cherokee, SC Greenville, SC Pickens, SC Spartanburg, SC | 0.9188
3180 | Hagerstown, MD Washington, MD | 0.8853
3200 | Hamilton-Middletown, OH Butler, OH | 0.8989
3240 | Harrisburg-Lebanon-Carlisle, PA Cumberland, PA Dauphin, PA Lebanon, PA Perry, PA | 0.9917
3283 | ¹ ² Hartford, CT Hartford, CT Litchfield, CT Middlesex, CT Tolland, CT | 1.2413
3285 | ² Hattiesburg, MS Forrest, MS Lamar, MS | 0.7306
3290 | Hickory-Morganton-Lenoir, NC Alexander, NC Burke, NC Caldwell, NC Catawba, NC | 0.9148
3320 | Honolulu, HI Honolulu, HI | 1.1479
3350 | Houma, LA Lafourche, LA Terrebonne, LA | 0.7837
3360 | ¹ Houston, TX Chambers, TX Fort Bend, TX Harris, TX Liberty, TX Montgomery, TX Waller, TX | 0.9387
3400 | Huntington-Ashland, WV-KY-OH Boyd, KY Carter, KY Greenup, KY Lawrence, OH Cabell, WV Wayne, WV | 0.9757
3440 | Huntsville, AL Limestone, AL Madison, AL | 0.8822
3480 | ¹ Indianapolis, IN Boone, IN Hamilton, IN Hancock, IN Hendricks, IN Johnson, IN Madison, IN Marion, IN Morgan, IN Shelby, IN | 0.9792
3500 | Iowa City, IA Johnson, IA | 0.9607
3520 | Jackson, MI Jackson, MI | 0.8840
3560 | Jackson, MS Hinds, MS Madison, MS Rankin, MS | 0.8387
3580 | Jackson, TN Madison, TN Chester, TN | 0.8600
3600 | ¹ ² Jacksonville, FL Clay, FL Duval, FL Nassau, FL St. Johns, FL | 0.8986
3605 | ² Jacksonville, NC Onslow, NC | 0.8290
3610 | ² Jamestown, NY Chautauqua, NY | 0.8636
3620 | Janesville-Beloit, WI Rock, WI | 0.9656
3640 | Jersey City, NJ Hudson, NJ | 1.1674
3660 | Johnson City-Kingsport-Bristol, TN-VA Carter, TN Hawkins, TN Sullivan, TN Unicoi, TN Washington, TN Bristol City, VA Scott, VA Washington, VA | 0.8894
3680 | ² Johnstown, PA Cambria, PA Somerset, PA | 0.8524
3700 | Jonesboro, AR Craighead, AR | 0.7251
3710 | ² Joplin, MO Jasper, MO Newton, MO | 0.7723
3720 | Kalamazoo-Battlecreek, MI Calhoun, MI Kalamazoo, MI Van Buren, MI | 0.9981
3740 | Kankakee, IL Kankakee, IL | 0.8598
3760 | ¹ Kansas City, KS-MO Johnson, KS Leavenworth, KS Miami, KS Wyandotte, KS Cass, MO Clay, MO Clinton, MO Jackson, MO Lafayette, MO Platte, MO Ray, MO | 0.9322
3800 | Kenosha, WI Kenosha, WI | 0.9033
3810 | Killeen-Temple, TX Bell, TX Coryell, TX | 0.9932
3840 | Knoxville, TN Anderson, TN Blount, TN Knox, TN Loudon, TN Sevier, TN Union, TN | 0.9199
3850 | Kokomo, IN Howard, IN Tipton, IN | 0.8984
3870 | La Crosse, WI-MN Houston, MN La Crosse, WI | 0.8933
3880 | Lafayette, LA Acadia, LA Lafayette, LA St. Landry, LA St. Martin, LA | 0.8397
3920 | Lafayette, IN Clinton, IN Tippecanoe, IN | 0.8809
3960 | Lake Charles, LA Calcasieu, LA | 0.7966
3980 | ² Lakeland-Winter Haven, FL Polk, FL | 0.8986
4000 | Lancaster, PA Lancaster, PA | 0.9255
4040 | Lansing-East Lansing, MI Clinton, MI Eaton, MI Ingham, MI | 0.9977
4080 | Laredo, TX Webb, TX | 0.8323
4100 | Las Cruces, NM Dona Ana, NM | 0.8590
4120 | ¹ Las Vegas, NV-AZ Mohave, AZ Clark, NV Nye, NV | 1.1258
4150 | Lawrence, KS Douglas, KS | 0.8222
4200 | Lawton, OK Comanche, OK | 0.9532
4243 | Lewiston-Auburn, ME Androscoggin, ME | 0.8899
4280 | Lexington, KY Bourbon, KY Clark, KY Fayette, KY Jessamine, KY Madison, KY Scott, KY Woodford, KY | 0.8552
4320 | Lima, OH Allen, OH Auglaize, OH | 0.9108
4360 | Lincoln, NE Lancaster, NE | 0.9670
4400 | Little Rock-North Little Rock, AR Faulkner, AR Lonoke, AR Pulaski, AR Saline, AR | 0.8614
4420 | Longview-Marshall, TX Gregg, TX Harrison, TX Upshur, TX | 0.8738
4480 | ¹ Los Angeles-Long Beach, CA Los Angeles, CA | 1.2085
4520 | Louisville, KY-IN Clark, IN Floyd, IN Harrison, IN Scott, IN Bullitt, KY Jefferson, KY Oldham, KY | 0.9381
4600 | Lubbock, TX Lubbock, TX | 0.8411
4640 | Lynchburg, VA Amherst, VA Bedford, VA Bedford City, VA Campbell, VA Lynchburg City, VA | 0.8814
4680 | Macon, GA Bibb, GA Houston, GA Jones, GA Peach, GA Twiggs, GA | 0.8530
4720 | Madison, WI Dane, WI | 0.9729
4800 | ² Mansfield, OH Crawford, OH Richland, OH | 0.8649
4840 | Mayaguez, PR Anasco, PR Cabo Rojo, PR Hormigueros, PR Mayaguez, PR Sabana Grande, PR San German, PR | 0.4674
4880 | McAllen-Edinburg-Mission, TX Hidalgo, TX | 0.8120
4890 | Medford-Ashland, OR Jackson, OR | 1.0492
4900 | Melbourne-Titusville-Palm Bay, FL Brevard, Fl | 0.9296
4920 | ¹ Memphis, TN-AR-MS Crittenden, AR DeSoto, MS Fayette, TN Shelby, TN Tipton, TN | 0.8244
4940 | Merced, CA Merced, CA | 1.0509
5000 | ¹ Miami, FL Dade, FL | 1.0233
5015 | ¹ Middlesex-Somerset-Hunterdon, NJ Hunterdon, NJ Middlesex, NJ Somerset, NJ | 1.0876
5080 | ¹ Milwaukee-Waukesha, WI Milwaukee, WI Ozaukee, WI Washington, WI Waukesha, WI | 0.9845
5120 | ¹ Minneapolis-St. Paul, MN-WI Anoka, MN Carver, MN Chisago, MN Dakota, MN Hennepin, MN Isanti, MN Ramsey, MN Scott, MN Sherburne, MN Washington, MN Wright, MN Pierce, WI St. Croix, WI | 1.0929
5140 | Missoula, MT Missoula, MT | 0.9085
5160 | Mobile, AL Baldwin, AL Mobile, AL | 0.8267
5170 | Modesto, CA Stanislaus, CA | 1.0111
5190 | ¹ Monmouth-Ocean, NJ Monmouth, NJ Ocean, NJ | 1.1258
5200 | Monroe, LA Ouachita, LA | 0.8221
5240 | Montgomery, AL Autauga, AL Elmore, AL Montgomery, AL | 0.7724
5280 | Muncie, IN Delaware, IN | 1.0834
5330 | Myrtle Beach, SC Horry, SC | 0.8529
5345 | Naples, FL Collier, FL | 0.9839
5360 | ¹ Nashville, TN Cheatham, TN Davidson, TN Dickson, TN Robertson, TN Rutherford TN Sumner, TN Williamson, TN Wilson, TN | 0.9449
5380 | ¹ Nassau-Suffolk, NY Nassau, NY Suffolk, NY | 1.4074
5483 | ¹ New Haven-Bridgeport-Stamford-Waterbury-Danbury, CT Fairfield, CT New Haven, CT | 1.2417
5523 | New London-Norwich, CT New London, CT | 1.2428
5560 | ¹ New Orleans, LA Jefferson, LA Orleans, LA Plaquemines, LA St. Bernard, LA St. Charles, LA St. James, LA St. John The Baptist, LA St. Tammany, LA | 0.9089
5600 | ¹ New York, NY Bronx, NY Kings, NY New York, NY Putnam, NY Queens, NY Richmond, NY Rockland, NY Westchester, NY | 1.4517
5640 | ¹ Newark, NJ Essex, NJ Morris, NJ Sussex, NJ Union, NJ Warren, NJ | 1.0772
5660 | Newburgh, NY-PA Orange, NY Pike, PA | 1.0908
5720 | ¹ Norfolk-Virginia Beach-Newport News, VA-NC Currituck, NC Chesapeake City, VA Gloucester, VA Hampton City, VA Isle of Wight, VA James City, VA Mathews, VA Newport News City, VA Norfolk City, VA Poquoson City, VA Portsmouth City, VA Suffolk C | 0.8442
5775 | ¹ Oakland, CA Alameda, CA Contra Costa, CA | 1.5095
5790 | Ocala, FL Marion, FL | 0.9615
5800 | Odessa-Midland, TX Ector, TX Midland, TX | 0.8873
5880 | ¹ Oklahoma City, OK Canadian, OK Cleveland, OK Logan, OK McClain, OK Oklahoma, OK Pottawatomie, OK | 0.8589
5910 | Olympia, WA Thurston, WA | 1.0932
5920 | Omaha, NE-IA Pottawattamie, IA Cass, NE Douglas, NE Sarpy, NE Washington, NE | 1.0455
5945 | ¹ Orange County, CA Orange, CA | 1.1592
5960 | ¹ Orlando, FL Lake, FL Orange, FL Osceola, FL Seminole, FL | 0.9806
5990 | Owensboro, KY Daviess, KY | 0.8104
6015 | Panama City, FL Bay, FL | 0.9169
6020 | Parkersburg-Marietta, WV-OH (WV Hospitals) Washington, OH Wood, WV | 0.8414
6020 | ² Parkersburg-Marietta, WV-OH (OH Hospitals) Washington, OH Wood, WV | 0.8649
6080 | ² Pensacola, FL Escambia, FL Santa Rosa, FL | 0.8986
6120 | Peoria-Pekin, IL Peoria, IL Tazewell, IL Woodford, IL | 0.8399
6160 | ¹ Philadelphia, PA-NJ Burlington, NJ Camden, NJ Gloucester, NJ Salem, NJ Bucks, PA Chester, PA Delaware, PA Montgomery, PA Philadelphia, PA | 1.1186
6200 | ¹ Phoenix-Mesa, AZ Maricopa, AZ Pinal, AZ | 0.9464
6240 | Pine Bluff, AR Jefferson, AR | 0.7697
6280 | ¹ Pittsburgh, PA Allegheny, PA Beaver, PA Butler, PA Fayette, PA Washington, PA Westmoreland, PA | 0.9634
6323 | ² Pittsfield, MA Berkshire, MA | 1.1369
6340 | Pocatello, ID Bannock, ID | 0.8973
6360 | Ponce, PR Guayanilla, PR Juana Diaz, PR Penuelas, PR Ponce, PR Villalba, PR Yauco, PR | 0.4971
6403 | Portland, ME Cumberland, ME Sagadahoc, ME York, ME | 0.9487
6440 | ¹ Portland-Vancouver, OR-WA Clackamas, OR Columbia, OR Multnomah, OR Washington, OR Yamhill, OR Clark, WA | 1.0996
6483 | ¹ Providence-Warwick-Pawtucket, RI Bristol, RI Kent, RI Newport, RI Providence, RI Washington, RI | 1.0690
6520 | Provo-Orem, UT Utah, UT | 0.9818
6560 | Pueblo, CO Pueblo, CO | 0.8853
6580 | Punta Gorda, FL Charlotte, FL | 0.9508
6600 | Racine, WI Racine, WI | 0.9216
6640 | ¹ Raleigh-Durham-Chapel Hill, NC Chatham, NC Durham, NC Franklin, NC Johnston, NC Orange, NC Wake, NC | 0.9544
6660 | Rapid City, SD Pennington, SD | 0.8363
6680 | Reading, PA Berks, PA | 0.9436
6690 | Redding, CA Shasta, CA | 1.1263
6720 | Reno, NV Washoe, NV | 1.0655
6740 | Richland-Kennewick-Pasco, WA Benton, WA Franklin, WA | 1.1224
6760 | Richmond-Petersburg, VA Charles City County, VA Chesterfield, VA Colonial Heights City, VA Dinwiddie, VA Goochland, VA Hanover, VA Henrico, VA Hopewell City, VA New Kent, VA Petersburg City, VA Powhatan, VA Prince George, VA Richmond City, V | 0.9545
6780 | ¹ Riverside-San Bernardino, CA Riverside, CA San Bernardino, CA | 1.1061
6800 | Roanoke, VA Botetourt, VA Roanoke, VA Roanoke City, VA Salem City, VA | 0.8142
6820 | Rochester, MN Olmsted, MN | 1.1429
6840 | ¹ Rochester, NY Genesee, NY Livingston, NY Monroe, NY Ontario, NY Orleans, NY Wayne, NY | 0.9184
6880 | Rockford, IL Boone, IL Ogle, IL Winnebago, IL | 0.8783
6895 | Rocky Mount, NC Edgecombe, NC Nash, NC | 0.8735
6920 | ¹ Sacramento, CA El Dorado, CA Placer, CA Sacramento, CA | 1.2284
6960 | Saginaw-Bay City-Midland, MI Bay, MI Midland, MI Saginaw, MI | 0.9294
6980 | St. Cloud, MN Benton, MN Stearns, MN | 0.9608
7000 | St. Joseph, MO Andrew, MO Buchanan, MO | 0.8943
7040 | ¹ St. Louis, MO-IL Clinton, IL Jersey, IL Madison, IL Monroe, IL St. Clair, IL Franklin, MO Jefferson, MO Lincoln, MO St. Charles, MO St. Louis, MO St. Louis City, MO Warren, MO | 0.9052
7080 | Salem, OR Marion, OR Polk, OR | 0.9949
7120 | Salinas, CA Monterey, CA | 1.4710
7160 | ¹ Salt Lake City-Ogden, UT Davis, UT Salt Lake, UT Weber, UT | 0.9854
7200 | San Angelo, TX Tom Green, TX | 0.7845
7240 | ¹ San Antonio, TX Bexar, TX Comal, TX Guadalupe, TX Wilson, TX | 0.8318
7320 | ¹ San Diego, CA San Diego, CA | 1.1955
7360 | ¹ San Francisco, CA Marin, CA San Francisco, CA San Mateo, CA | 1.3784
7400 | ¹ San Jose, CA Santa Clara, CA | 1.3492
7440 | ¹ San Juan-Bayamon, PR Aguas Buenas, PR Barceloneta, PR Bayamon, PR Canovanas, PR Carolina, PR Catano, PR Ceiba, PR Comerio, PR Corozal, PR Dorado, PR Fajardo, PR Florida, PR Guaynabo, PR Humacao, PR Juncos, PR Los Piedras, PR Loiza, PR Lug | 0.4657
7460 | San Luis Obispo-Atascadero-Paso Robles, CA San Luis Obispo, CA | 1.0470
7480 | Santa Barbara-Santa Maria-Lompoc, CA Santa Barbara, CA | 1.0819
7485 | Santa Cruz-Watsonville, CA Santa Cruz, CA | 1.3927
7490 | Santa Fe, NM Los Alamos, NM Santa Fe, NM | 1.0437
7500 | Santa Rosa, CA Sonoma, CA | 1.3000
7510 | Sarasota-Bradenton, FL Manatee, FL Sarasota, FL | 0.9905
7520 | Savannah, GA Bryan, GA Chatham, GA Effingham, GA | 0.9953
7560 | ² Scranton—Wilkes-Barre—Hazleton, PA Columbia, PA Lackawanna, PA Luzerne, PA Wyoming, PA | 0.8524
7600 | ¹ Seattle-Bellevue-Everett, WA Island, WA King, WA Snohomish, WA | 1.1289
7610 | ² Sharon, PA Mercer, PA | 0.8524
7620 | ² Sheboygan, WI Sheboygan, WI | 0.8759
7640 | Sherman-Denison, TX Grayson, TX | 0.9329
7680 | Shreveport-Bossier City, LA Bossier, LA Caddo, LA Webster, LA | 0.9049
7720 | Sioux City, IA-NE Woodbury, IA Dakota, NE | 0.8549
7760 | Sioux Falls, SD Lincoln, SD Minnehaha, SD | 0.8776
7800 | South Bend, IN St. Joseph, IN | 0.9793
7840 | Spokane, WA Spokane, WA | 1.0799
7880 | Springfield, IL Menard, IL Sangamon, IL | 0.8684
7920 | Springfield, MO Christian, MO Greene, MO Webster, MO | 0.7991
8003 | ² Springfield, MA Hampden, MA Hampshire, MA | 1.1369
8050 | State College, PA Centre, PA | 0.9138
8080 | ² Steubenville-Weirton, OH-WV (OH Hospitals) Jefferson, OH Brooke, WV Hancock, WV | 0.8649
8080 | Steubenville-Weirton, OH-WV (WV Hospitals) Jefferson, OH Brooke, WV Hancock, WV | 0.8614
8120 | Stockton-Lodi, CA San Joaquin, CA | 1.0518
8140 | ² Sumter, SC Sumter, SC | 0.8264
8160 | Syracuse, NY Cayuga, NY Madison, NY Onondaga, NY Oswego, NY | 0.9441
8200 | Tacoma, WA Pierce, WA | 1.1631
8240 | ² Tallahassee, FL Gadsden, FL Leon, FL | 0.8986
8280 | ¹ Tampa-St. Petersburg-Clearwater, FL Hernando, FL Hillsborough, FL Pasco, FL Pinellas, FL | 0.9119
8320 | Terre Haute, IN Clay, IN Vermillion, IN Vigo, IN | 0.8570
8360 | Texarkana, AR-Texarkana, TX Miller, AR Bowie, TX | 0.8174
8400 | Toledo, OH Fulton, OH Lucas, OH Wood, OH | 0.9593
8440 | Topeka, KS Shawnee, KS | 0.9326
8480 | Trenton, NJ Mercer, NJ | 0.9955
8520 | Tucson, AZ Pima, AZ | 0.8742
8560 | Tulsa, OK Creek, OK Osage, OK Rogers, OK Tulsa, OK Wagoner, OK | 0.8086
8600 | Tuscaloosa, AL Tuscaloosa, AL | 0.8064
8640 | Tyler, TX Smith, TX | 0.9369
8680 | ² Utica-Rome, NY Herkimer, NY Oneida, NY | 0.8636
8720 | Vallejo-Fairfield-Napa, CA Napa, CA Solano, CA | 1.2655
8735 | Ventura, CA Ventura, CA | 1.0952
8750 | Victoria, TX Victoria, TX | 0.8378
8760 | Vineland-Millville-Bridgeton, NJ Cumberland, NJ | 1.0517
8780 | Visalia-Tulare-Porterville, CA Tulare, CA | 1.0411
8800 | Waco, TX McLennan, TX | 0.8075
8840 | ¹ Washington, DC-MD-VA-WV District of Columbia, DC Calvert, MD Charles, MD Frederick, MD Montgomery, MD Prince Georges, MD Alexandria City, VA Arlington, VA Clarke, VA Culpeper, VA Fairfax, VA Fairfax City, VA Falls Church City, VA Fauquier,
8920 | Waterloo-Cedar Falls, IA Black Hawk, IA | 0.8841
8940 | Wausau, WI Marathon, WI | 0.9445
8960 | ¹ West Palm Beach-Boca Raton, FL Palm Beach, FL | 0.9909
9000 | ² Wheeling, WV-OH (WV Hospitals) Belmont, OH Marshall, WV Ohio, WV | 0.8068
9000 | ² Wheeling, WV-OH (OH Hospitals) Belmont, OH Marshall, WV Ohio, WV | 0.8649
9040 | Wichita, KS Butler, KS Harvey, KS Sedgwick, KS | 0.9421
9080 | Wichita Falls, TX Archer, TX Wichita, TX | 0.7652
9140 | ² Williamsport, PA Lycoming, PA | 0.8524
9160 | Wilmington-Newark, DE-MD New Castle, DE Cecil, MD | 1.1274
9200 | Wilmington, NC New Hanover, NC Brunswick, NC | 0.9707
9260 | ² Yakima, WA Yakima, WA | 1.0446
9270 | Yolo, CA Yolo, CA | 1.0485
9280 | York, PA York, PA | 0.9309
9320 | Youngstown-Warren, OH Columbiana, OH Mahoning, OH Trumbull, OH | 0.9996
9340 | Yuba City, CA Sutter, CA Yuba, CA | 1.0662
9360 | Yuma, AZ Yuma, AZ | 0.9924

——————————

¹ All counties within state are classified as urban.

Addendum I.—Wage Index for Rural Areas
Nonurban Area | Wage Index
Alabama | 0.7390
Alaska | 1.2057
Arizona | 0.8544
Arkansas | 0.7236
California | 0.9951
Colorado | 0.8813
Connecticut | 1.2413
Delaware | 0.9166
Florida | 0.8986
Georgia | 0.8094
Hawaii | 1.0726
Idaho | 0.8651
Illinois | 0.8047
Indiana | 0.8396
Iowa | 0.7926
Kansas | 0.7460
Kentucky | 0.8043
Louisiana | 0.7486
Maine | 0.8639
Maryland | 0.8631
Massachusetts | 1.1369
Michigan | 0.8831
Minnesota | 0.8669
Mississippi | 0.7306
Missouri | 0.7723
Montana | 0.8398
Nebraska | 0.8007
Nevada | 0.9097
New Hampshire | 0.9905
¹ New Jersey |
New Mexico | 0.8378
New York | 0.8636
North Carolina | 0.8290
North Dakota | 0.7647
Ohio | 0.8649
Oklahoma | 0.7255
Oregon | 0.9873
Pennsylvania | 0.8524
Puerto Rico | 0.4249
¹ Rhode Island |
South Carolina | 0.8264
South Dakota | 0.7576
Tennessee | 0.7650
Texas | 0.7471
Utah | 0.8906
Vermont | 0.9427
Virginia | 0.7916
Washington | 1.0446
West Virginia | 0.8068
Wisconsin | 0.8759
Wyoming | 0.8859

Addendum J.—Wage Index for Hospitals That Are Reclassified
Area | Wage Index
Abilene, TX | 0.8179
Akron, OH | 0.9981
Albany, GA | 0.9544
Alexandria, LA | 0.7910
Amarillo, TX | 0.8435
Anchorage, AK | 1.3009
Ann Arbor, MI | 1.1343
Atlanta, GA | 1.0050
Austin-San Marcos, TX | 0.9081
Baltimore, MD | 0.9891
Baton Rouge, LA | 0.8707
Beaumont-Port Arthur, TX | 0.8624
Benton Harbor, MI | 0.8831
Bergen-Passaic, NJ | 1.1833
Billings, MT | 1.0038
Biloxi-Gulfport-Pascagoula, MS | 0.7949
Binghamton, NY | 0.8750
Birmingham, AL | 0.8994
Bismarck, ND | 0.7893
Boise City, ID | 0.9086
Boston-Worcester-Lawrence-Lowell-Brockton, MA-NH | 1.1358
Burlington, VT | 1.0122
Caguas, PR | 0.4561
Champaign-Urbana, IL | 0.9163
Charleston-North Charleston, SC | 0.8988
Charleston, WV | 0.8861
Charlotte-Gastonia-Rock Hill, NC-SC | 0.9433
Chattanooga, TN-GA | 0.9453
Chicago, IL | 1.0872
Cincinnati, OH-KY-IN | 0.9434
Clarksville-Hopkinsville, TN-KY | 0.8283
Cleveland-Lorain-Elyria, OH | 0.9688
Columbia, MO | 0.8736
Columbia, SC | 0.9215
Columbus, GA-AL | 0.8318
Columbus, OH | 0.9728
Corpus Christi, TX | 0.8599
Dallas, TX | 0.9589
Danville, VA | 0.8706
Davenport-Moline-Rock Island, IA-IL | 0.8606
Dayton-Springfield, OH | 0.9231
Denver, CO | 1.0197
Des Moines, IA | 0.8754
Dothan, AL | 0.7836
Dover, DE | 1.0511
Duluth-Superior, MN-WI | 1.0165
Elkhart-Goshen, IN | 0.9379
Eugene-Springfield, OR | 1.0765
Evansville-Henderson, IN-KY | 0.8396
Fargo-Moorhead, ND-MN (ND and SD Hospitals) | 0.8620
Fargo-Moorhead, ND-MN (MN Hospital) | 0.8669
Fayetteville, NC | 0.8494
Flagstaff, AZ-UT | 0.9860
Flint, MI | 1.0918
Fort Collins-Loveland, CO | 1.0197
Fort Pierce-Port St. Lucie, FL | 1.0109
Fort Smith, AR-OK | 0.7696
Fort Walton Beach, FL | 0.8713
Forth Worth-Arlington, TX | 0.9835
Fresno, CA | 1.0262
Gadsden, AL | 0.8754
Gainesville, FL | 0.9963
Goldsboro, NC | 0.8333
Grand Forks, ND-MN | 0.9097
Grand Rapids-Muskegon-Holland, MI | 1.0017
Great Falls, MT | 1.0459
Greeley, CO | 0.9449
Green Bay, WI | 0.9215
Greensboro-Winston-Salem-High Point, NC | 0.9037
Greenville, NC | 0.9237
Greenville-Spartanburg-Anderson, SC | 0.9188
Hagerstown, MD | 0.8853
Harrisburg-Lebanon-Carlisle, PA | 0.9793
Hartford, CT | 1.1715
Hickory-Morganton-Lenoir, NC | 0.9148
Honolulu, HI | 1.1479
Houston, TX | 0.9387
Huntington-Ashland, WV-KY-OH | 0.9436
Huntsville, AL | 0.8608
Indianapolis, IN | 0.9792
Iowa City, IA | 0.9460
Jackson, MS | 0.8268
Jackson, TN | 0.8447
Jacksonville, FL | 0.8957
Johnson City-Kingsport-Bristol, TN-VA | 0.8894
Jonesboro, AR | 0.7251
Joplin, MO | 0.7678
Kalamazoo-Battlecreek, MI | 0.9981
Kansas City, KS-MO | 0.9322
Knoxville, TN | 0.9199
Kokomo, IN | 0.8984
Lafayette, LA | 0.8397
Lansing-East Lansing, MI | 0.9834
Las Vegas, NV-AZ | 1.1258
Lexington, KY | 0.8552
Lima, OH | 0.9108
Lincoln, NE | 0.9451
Little Rock-North Little Rock, AR | 0.8432
Longview-Marshall, TX | 0.8541
Los Angeles-Long Beach, CA | 1.2085
Louisville, KY-IN | 0.9381
Macon, GA | 0.8530
Madison, WI | 0.9729
Mansfield, OH | 0.8649
Memphis, TN-AR-MS | 0.8244
Merced, CA | 1.0509
Milwaukee-Waukesha, WI | 0.9845
Minneapolis-St. Paul, MN-WI | 1.0929
Missoula, MT | 0.9085
Monmouth-Ocean, NJ | 1.1258
Monroe, LA | 0.8062
Montgomery, AL | 0.7724
Myrtle Beach, SC | 0.8357
Nashville, TN | 0.9254
New Haven-Bridgeport-Stamford-Waterbury-Danbury, CT | 1.2417
New London-Norwich, CT | 1.2328
New Orleans, LA | 0.9089
New York, NY | 1.4399
Newark, NJ | 1.0772
Newburgh, NY-PA | 1.0837
Norfolk-Virginia Beach-Newport News, VA-NC | 0.8442
Oakland, CA | 1.5095
Oklahoma City, OK | 0.8589
Omaha, NE-IA | 1.0455
Orange County, CA | 1.1592
Orlando, FL | 0.9806
Peoria-Pekin, IL | 0.8399
Philadelphia, PA-NJ | 1.1186
Phoenix-Mesa, AZ | 0.9464
Pittsburgh, PA | 0.9496
Pocatello, ID | 0.8651
Portland, ME | 0.9487
Portland-Vancouver, OR-WA | 1.0996
Provo-Orem, UT | 0.9818
Raleigh-Durham-Chapel Hill, NC | 0.9544
Roanoke, VA | 0.8142
Rockford, IL | 0.8783
Sacramento, CA | 1.2284
Saginaw-Bay City-Midland, MI | 0.9294
St. Cloud, MN | 0.9608
St. Louis, MO-IL | 0.9052
Salt Lake City-Ogden, UT | 0.9854
San Diego, CA | 1.1955
Santa Fe, NM | 0.9911
Santa Rosa, CA | 1.3000
Seattle-Bellevue-Everett, WA | 1.1289
Sharon, PA | 0.8524
Sherman-Denison, TX | 0.8833
Sioux City, IA-NE | 0.8549
South Bend, IN | 0.9692
Springfield, IL | 0.8684
Springfield, MO | 0.7991
Syracuse, NY | 0.9441
Tallahassee, FL | 0.8274
Tampa-St. Petersburg-Clearwater, FL | 0.9119
Texarkana, AR-Texarkana, TX | 0.8174
Toledo, OH | 0.9593
Topeka, KS | 0.9326
Tulsa, OK | 0.7931
Tuscaloosa, AL | 0.8064
Tyler, TX | 0.9199
Vallejo-Fairfield-Napa, CA | 1.2167
Victoria, TX | 0.8378
Waco, TX | 0.8075
Washington, DC-MD-VA-WV | 1.1053
Waterloo-Cedar Falls, IA | 0.8841
Wausau, WI | 0.9445
Wichita, KS | 0.9082
Rural Colorado | 0.8813
Rural Florida | 0.8986
Rural Illinois | 0.8047
Rural Louisiana | 0.7486
Rural Michigan | 0.8831
Rural Minnesota | 0.8669
Rural Missouri | 0.7723
Rural Montana | 0.8398
Rural Oregon | 0.9873
Rural Tennessee | 0.7650
Rural Texas | 0.7471
Rural Virginia (KY Hospital) | 0.8043
Rural Washington | 1.0333
Rural Wyoming | 0.8859

——————————

CPT codes and descriptions only are copyright American Medical Association. All Rights Reserved. Applicable FARS/DFARS Apply.

Copyright American Dental Association. All rights reserved.

Addendum K.—Codes Eligible for Pass-Through Payment
CPT/ HCPCS | Description
A4642 | Satumomab pendetide per dose
A9502 | Technetium TC99M tetrofosmin
A9600 | Strontium-89 chloride
A9605 | Samarium sm153 lexidronamm
J0205 | Alglucerase injection
J0207 | Amifostine
J0256 | Alpha 1 proteinase inhibitor
J0286 | Amphotericin B lipid complex
J0476 | Baclofen intrathecal trial
J0585 | Botulinum toxin a per unit
J0640 | Leucovorin calcium injection
J0735 | Clonidine hydrochloride
J0850 | Cytomegalovirus imm IV/vial
J1190 | Dexrazoxane HCl injection
J1260 | Dolasetron mesylate
J1325 | Epoprostenol injection
J1436 | Etidronate disodium inj
J1440 | Filgrastim 300 mcg injeciton
J1561 | Immune globulin 500 mg
J1562 | Immune globulin 5 gms
J1565 | RSV-ivig
J1620 | Gonadorelin hydroch/100 mcg
J1626 | Granisetron HCl injection
J1745 | Infliximab injection
J1785 | Injection imiglucerase/unit
J1825 | Interferon beta-1a
J1830 | Interferon beta-1b/.25 MG
J1950 | Leuprolide acetate/3.75 MG
J2275 | Morphine sulfate injection
J2352 | Octreotide acetate injection
J2355 | Oprelvekin injection
J2405 | Ondansetron hcl injection
J2430 | Pamidronate disodium/30 MG
J2545 | Pentamidine isethionte/300mg
J2765 | Metoclopramide hcl injection
J2790 | Rho d immune globulin inj
J2820 | Sargramostim injection
J3010 | Fentanyl citrate injeciton
J3280 | Thiethylperazine maleate inj
J3305 | Inj trimetrexate glucoronate
J7190 | Factor viii
J7191 | Factor VIII (porcine)
J7192 | Factor viii recombinant
J7194 | Factor ix complex
J7197 | Antithrombin iii injection
J7198 | Anti-inhibitor
J7310 | Ganciclovir long act implant
J7505 | Monoclonal antibodies
J7913 | Daclizumab, Parenteral, 25 m
J8510 | Oral busulfan
J8520 | Capecitabine, oral, 150 mg
J8530 | Cyclophosphamide oral 25 MG
J8560 | Etoposide oral 50 MG
J8600 | Melphalan oral 2 MG
J8610 | Methotrexate oral 2.5 MG
J9000 | Doxorubic hcl 10 MG vl chemo
J9001 | Doxorubicin hcl liposome inj
J9015 | Aldesleukin/single use vial
J9020 | Asparaginase injection
J9031 | Bcg live intravesical vac
J9040 | Bleomycin sulfate injection
J9045 | Carboplatin injection
J9050 | Carmus bischl nitro inj
J9060 | Cisplatin 10 MG injeciton
J9065 | Inj cladribine per 1 MG
J9070 | Cyclophosphamide 100 MG inj
J9093 | Cyclophosphamide lyophilized
J9100 | Cytarabine hcl 100 MG inj
J9120 | Dactinomycin actinomycin d
J9130 | Dacarbazine 10 MG inj
J9150 | Daunorubicin
J9151 | Daunorubicin citrate liposom
J9165 | Diethylstilbestrol injection
J9170 | Docetaxel
J9181 | Etoposide 10 MG inj
J9185 | Fludarabine phosphate inj
J9190 | Fluorouracil injection
J9200 | Floxuridine injection
J9201 | Gemcitabine HCl
J9202 | Goserelin acetate implant
J9206 | Irinotecan injection
J9208 | Ifosfomide injection
J9209 | Mesna injection
J9211 | Idarubicin hcl injeciton
J9212 | Interferon alfacon-1
J9213 | Interferon alfa-2a inj
J9214 | Interferon alfa-2b inj
J9215 | Interferon alfa-n3 inj
J9216 | Interferon gamma 1-b inj
J9218 | Leuprolide acetate injeciton
J9230 | Mechlorethamine hcl inj
J9245 | Inj melphalan hydrochl 50 MG
J9250 | Methotrexate sodium inj
J9265 | Paclitaxel injection
J9266 | Pegaspargase/singl dose vial
J9268 | Pentostatin injection
J9270 | Plicamycin (mithramycin) inj
J9280 | Mitomycin 5 MG inj
J9293 | Mitoxantrone hydrochl/5 MG
J9310 | Rituximab cancer treatment
J9320 | Streptozocin injection
J9340 | Thiotepa injection
J9350 | Topotecan
J9360 | Vinblastine sulfate inj
J9370 | Vincristine sulfate 1 MG inj
J9390 | Vinorelbine tartrate/10 mg
J9600 | Porfimer sodium
Q0136 | Non esrd epoetin alpha inj
Q0160 | Factor IX non-recombinant
Q0161 | Factor IX recombinant
Q0163 | Diphenhydramine HCl 50mg
Q0164 | Prochlorperazine maleate 5mg
Q0166 | Granisetron HCl 1 mg oral
Q0167 | Dronabinol 2.5mg oral
Q0169 | Promethazine HCl 12.5mg oral
Q0171 | Chlorpromazine HCl 10mg oral
Q0173 | Trimethobenzamide HCl 250mg
Q0174 | Thiethylperazine maleate10mg
Q0175 | Perphenazine 4mg oral
Q0177 | Hydroxyzine pamoate 25mg
Q0179 | Ondansetron HCl 8mg oral
Q0180 | Dolasetron mesylate oral
Q0187 | Factor viia recombinant
Q2002 | Elliot's B solution
Q2003 | Aprotinin, 10,000 kiu
Q2004 | Treatment for bladder calcul
Q2005 | Corticorelin ovine triflutat
Q2006 | Digoxin immune FAB (Ovine),
Q2007 | Ethanolamine oleate, 1000 ml
Q2008 | Fomepizole, 1.5 G
Q2009 | Fosphenytoin, 50 mg
Q2010 | Glatiramer acetate, 25 mgeny
Q2011 | Hemin, 1 mg
Q2012 | Pegademase bovine inj 25 I.U
Q2013 | Pentastarch 10% inj, 100 ml
Q2014 | Sermorelin acetate, 0.5 mg
Q2015 | Somatrem, 5 mg
Q2016 | Somatropin, 1 mg
Q2017 | Teniposide, 50 mg
Q2018 | Urofollitropin, 75 I.U.
Q3001 | Brachytherapy Seeds

[FR Doc. 00-8215 Filed 3-31-00 11:00 am]

BILLING CODE 4120-01-P